DEPARTMENT OF HEALTH AND HUMAN SERVICES

Centers for Medicare & Medicaid Services

[CMS-1512-PN]

RIN 0938-AO22

Medicare Program; Five-Year Review of Work Relative Value Units Under the Physician Fee Schedule and Proposed Changes to the Practice Expense Methodology

AGENCY: Centers for Medicare & Medicaid Services (CMS), HHS.

ACTION: Proposed notice.

SUMMARY: This proposed notice sets forth proposed revisions to work relative value units (RVUs) affecting payment for physicians' services. The statute requires that we review RVUs no less often than every 5 years. This is our third review of work RVUs since we implemented the physician fee schedule (PFS) on January 1, 1992. These revisions to work RVUs are proposed to be effective for services furnished beginning January 1, 2007. These revisions reflect changes in medical practice, coding changes, new data on relative value components, and the addition of new procedures that affect the relative amount of physician work required to perform each service as required by the statute. In addition, we are proposing revisions to our methodology for calculating practice expense (PE) RVUs, including changes based on supplemental survey data for PE. This revised methodology would be used to establish payment for services beginning January 1, 2007.

DATES: To be assured consideration, comments must be received at one of the addresses provided below, no later than 5 p.m. on Monday, August 21, 2006.

ADDRESSES: In commenting, please refer to file code CMS-1512-PN. Because of staff and resource limitations, we cannot accept comments by facsimile (FAX) transmission.

You may submit comments in one of four ways (no duplicates, please):

1. Electronically. You may submit electronic comments on specific issues in this regulation to http://www.cms.hhs.gov/eRulemaking. Click on the link “Submit electronic comments on CMS regulations with an open comment period.” (Attachments should be in Microsoft Word, WordPerfect, or Excel; however, we prefer Microsoft Word.)

2. By regular mail. You may mail written comments (one original and two copies) to the following address ONLY:

Centers for Medicare & Medicaid Services, Department of Health and Human Services, Attention: CMS-1512-PN, P.O. Box 8014, Baltimore, MD 21244-8014.

Please allow sufficient time for mailed comments to be received before the close of the comment period.

3. By express or overnight mail. You may send written comments (one original and two copies) to the following address ONLY:

Centers for Medicare & Medicaid Services, Department of Health and Human Services, Attention: CMS-1512-PN, Mail Stop C4-26-05, 7500 Security Boulevard, Baltimore, MD 21244-1850.

4. By hand or courier. If you prefer, you may deliver (by hand or courier) your written comments (one original and two copies) before the close of the comment period to one of the following addresses. If you intend to deliver your comments to the Baltimore address, please call telephone number (410) 786-7195 in advance to schedule your arrival with one of our staff members.

Room 445-G, Hubert H. Humphrey Building, 200 Independence Avenue, SW., Washington, DC 20201; or 7500 Security Boulevard, Baltimore, MD 21244-1850.

(Because access to the interior of the HHH Building is not readily available to persons without Federal Government identification, commenters are encouraged to leave their comments in the CMS drop slots located in the main lobby of the building. A stamp-in clock is available for persons wishing to retain a proof of filing by stamping in and retaining an extra copy of the comments being filed.)

Comments mailed to the addresses indicated as appropriate for hand or courier delivery may be delayed and received after the comment period.

For information on viewing public comments, see the beginning of the SUPPLEMENTARY INFORMATION section.

FOR FURTHER INFORMATION CONTACT: Diane Milstead, (410) 786-3355, or Gaysha Brooks, (410) 786-9649

SUPPLEMENTARY INFORMATION: Submitting Comments: We welcome comments from the public on the proposed work RVUs set forth in Addendum C, the proposed practice expense methodology, and other issues set forth in this proposed notice to assist us in fully considering issues and developing policies. You can assist us by referencing the file code CMS-1512-PN and the specific “issue identifier” that precedes the section on which you choose to comment.

Inspection of Public Comments: All comments received before the close of the comment period are available for viewing by the public, including any personally identifiable or confidential business information that is included in a comment. We post all comments received before the close of the comment period on the following Web site as soon as possible after they are received: http://www.cms.hhs.gov/eRulemaking. Click on the link “Electronic Comments on CMS Regulations” on that Web site to view public comments.

Comments received timely will be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, phone 1-800-743-3951.

Information on the PFS can be found on the CMS homepage. You can access this data by using the following directions:

1. Go to the following Web site http://www.cms.hhs.gov/PhysicianFeeSched/.

2. Select “Physician Fee Schedule Federal Regulation Notices.”

To assist readers in referencing sections contained in this preamble, we are providing the following table of contents.

Table of Contents

I. Background

A. Legislative History

B. Published Changes to the Physician Fee Schedule

C. Current Proposed Notice

D. The 5-Year Review Process

II. Discussion of Comments and Decisions

A. Review of Comments

B. Discussion of Comments by Clinical Area

1. Dermatology and Plastic Surgery

2. Orthopedic Surgery

3. Gynecology, Urology, Pain Medicine, and Neurosurgery

4. Radiology, Pathology, and Other Miscellaneous Services

5. Evaluation and Management Services

6. Cardiothoracic Surgery

7. General, Colorectal and Vascular Surgery

8. Otolaryngology and Ophthalmology

9. HCPAC Codes

C. Other Issues Under the 5-Year Review

1. Anesthesia Services

2. Discussion of Post-Operative Visits Included in the Global Surgical Packages

3. Codes Referred to CPT Editorial Panel from Five-Year Review of Work Relative Value Units

4. Budget Neutrality

5. Effect on Practice Expense Inputs Stemming From the 5-Year Review

6. Nature and Format of Comments on Work RVUs

D. Resource-Based Practice Expense (PE) RVUs

1. Current Methodology

2. PE Proposed Methodology for CY 2006

3. Modifications to PE Proposals

III. Collection of Information Requirements

IV. Response to Comments

V. Regulatory Impact Analysis

Addendum A: Explanation and Use of Addendum B

Addendum B: Relative Value Units and Related Information

Addendum C: Codes With Work RVUs Subject to Comment

In addition, because of the many organizations and terms to which we refer by acronym in this proposed notice, we are listing these acronyms and their corresponding terms in alphabetical order below:

AAD American Academy of Dermatology

AAN American Academy of Neurology

AANEM American Association of Neuromuscular and Electrodiagnostic Medicine

AAFP American Academy of Family Physicians

AAGP American Association for Geriatric Psychiatry

AAHCP American Academy of Home Care Physicians

AANS American Association of Neurological Surgeons

AAO American Academy of Ophthalmology

AAO-HNS American Academy of Otolaryngology-Head and Neck Surgery

AAOA American Academy of Otolaryngic Allergy

AAOS American Academy of Orthopaedic Surgeons

AAP American Academy of Pediatrics

AAPM American Academy of Pain Medicine

AAPMR American Academy of Physical Medicine and Rehabilitation

AATS American Association for Thoracic Surgery

ACC American College of Cardiology

ACG American College of Gastroenterology

ACNS American Clinical Neurophysiology Society

ACOG American College of Obstetricians and Gynecologists

ACR American College of Radiology

ACS American College of Surgeons

AFROC Association of Freestanding Radiation Oncology Centers

AGA American Gastroenterological Association

AGS American Geriatric Society

AK Actinic keratoses

AMA American Medical Association

AMDA American Medical Directors Association

AOA American Optometric Association

ASA American Society of Anesthesiologists

ASC Ambulatory surgical center

ASCRS American Society of Colon and Rectal Surgeons

ASGE American Society of Gastrointestinal Endoscopy

ASHA American Speech-Language-Hearing Association

ASPS American Society of Plastic Surgeons

ASSH American Society for Surgery of the Hand

ASTRO American Society for Therapeutic Radiology and Oncology

AUA American Urological Association

BBA 97 Balanced Budget Act of 1997 (Pub. L. 105-33)

BBRA [Medicare, Medicaid and State Child Health Insurance Program] Balanced Budget Refinement Act of 1999 (Pub. L. 106-113)

BNF Budget neutrality factor

CAPU Coalition for the Advancement of Prosthetic Urology

CF Conversion factor

CNS Congress of Neurological Surgeons

CPEP Clinical Practice Expert Panels

CPT Current Procedural Terminology

CY Calendar year

DRG Diagnosis-Related Group

E/M Evaluation and management

FR Federal Register

HCPAC Health Care Professionals Advisory Committee

HCPCS Healthcare Common Procedure Coding System

HHS Health and Human Services

ICU Intensive care unit

IDTF Independent diagnostic testing facility

IWPUT Intra-service work per unit of time

JCAAI Joint Council of Allergy, Asthma, and Immunology

MMA Medicare Prescription Drug, Improvement, and Modernization Act of 2003 (Pub. L. 108-173)

MMSV Minimum multi-specialty visit

MPC [the RUC's] Multi-Specialty Points of Comparison

NCQDIS National Coalition of Quality Diagnostic Imaging Services

NPWP Non-physician work pool

NSQIP National Surgical Quality Improvement Program

PC Professional component

PE Practice Expense

PE/HR Practice expense per hour

PEAC Practice Expense Advisory Committee

PERC Practice Expense Review Committee

PFS Physician fee schedule

RFA Regulatory Flexibility Act

RIA Regulatory impact analysis

RN Registered nurse

RUC [AMA's Specialty Society] Relative [Value] Update Committee

RVU Relative value unit

SMS [AMA's] Socioeconomic Monitoring System

SNF Skilled nursing facility

STS Society of Thoracic Surgeons

SVS Society for Vascular Surgery

TC Technical component

VA [Department of] Veterans Affairs

I. Background

[If you choose to comment on issues in this section, please include the caption “BACKGROUND” at the beginning of your comments.]

A. Legislative History

Since January 1, 1992, Medicare has paid for physicians' services under section 1848 of the Social Security Act (the Act), “Payment for Physicians' Services.” Section 1848 of the Act contains three major elements: (1) A fee schedule for the payment of physicians' services; (2) a sustainable growth rate for the rates of increase in Medicare expenditures for physicians' services; and (3) limits on the amounts that nonparticipating physicians can charge beneficiaries. The Act requires that payments under the fee schedule be based on national uniform relative value units (RVUs) based on the resources used in furnishing a service. Section 1848(c) of the Act requires that national RVUs be established for physician work, practice expense (PE), and malpractice expense.

Section 1848(c)(2)(B)(ii)(II) of the Act provides that adjustments in RVUs may not cause total physician fee schedule (PFS) payments for the year to differ by more than $20 million from the amount that would have been paid had the adjustments not been made. If this tolerance is exceeded, we must make adjustments to the conversion factors (CFs) to preserve budget neutrality.

B. Published Changes to the Physician Fee Schedule

On an annual basis, we publish regulations relating to updates to the RVUs and revisions to the payment policies under the PFS. In the Calendar Year (CY) 2006 Physician Fee Schedule final rule with comment period that appeared in the Federal Register on November 21, 2005 (70 FR 70116) (hereinafter referred to as the CY 2006 PFS final rule with comment period), we finalized the CY 2005 interim physician work RVUs, issued new interim work RVUs for new and revised codes for CY 2006, and finalized several other payment policies related to the PFS. This final rule with comment also discussed the status of the third 5-Year Review of work RVUs.

C. Current Proposed Notice

This proposed notice sets forth proposed revisions to work RVUs affecting payment for physicians' services. Section 1848(c)(2)(B)(i) of the Act requires that we review RVUs no less often than every 5 years. We implemented the PFS effective for services furnished beginning January 1, 1992. The first 5-Year Review of work was initiated in December 1994 and was effective for services furnished beginning January 1, 1997. The second 5-Year Review of work was initiated in November 1999 and was effective for services furnished beginning January 1 2002. The third 5-Year Review of work was initiated in November 2004. Revisions of physician work RVUs proposed in this proposed notice are subject to a 60-day public comment period. We will review public comments, make adjustments to our proposals in response to comments, as appropriate, and include revised values in our CY 2007 Physician Fee Schedule final rule with comment period, effective for services furnished beginning January 1, 2007.

D. The 5-Year Review Process

We initiated the third 5-Year Review by soliciting public comments on potentially misvalued work RVUs for all services in the CY 2005 Physician Fee Schedule final rule with comment period that appeared in the Federal Register on November 15, 2004 (69 FR 66370) and provided a 60-day comment period.

We received comments from approximately 35 specialty groups, organizations, and individuals involving over 500 Current Procedural Terminology (CPT) and Healthcare Common Procedure Coding System (HCPCS) codes. As explained in the CY 2006 PFS final rule with comment period (70 FR 70283), we shared these comments with the American Medical Association (AMA) Specialty Society Relative Value Update Committee (RUC). The RUC was formed in November 1991 and grew out of a series of discussions between the AMA and major national medical specialty societies. The work of the RUC is supported by the RUC Advisory Committee, which is made up of representatives of 100 specialty societies in the AMA's House of Delegates.

The RUC currently makes annual recommendations to us on RVUs for new and revised CPT codes. The RUC also provided recommendations on changes to the work RVUs for existing codes during the previous 5-Year Reviews. We believe that the RUC's participation was beneficial because the RUC is experienced in recommending RVUs for the codes that have been added to or revised by the CPT Editorial Panel since we implemented the PFS in 1992. By virtue of its multispecialty membership and consultation with specialty societies, the RUC involves the medical community in formulating its recommendations. For codes used primarily by nonphysician practitioners, the Health Care Professionals Advisory Committee (HCPAC), a companion to the RUC, has made recommendations to us.

As we stated in the previous 5-Year Reviews, we retain the responsibility for analyzing any comments and recommendations received, developing the proposed rule, evaluating the comments on the proposed rule, and deciding whether and how to revise the work RVUs for any given service.

After we sent the RUC the comments we received on potentially misvalued services, as well as a list of approximately 160 services that we had identified as being potentially misvalued, the RUC identified the specialty societies that expressed interest in making presentations concerning those services. To prepare for presentations to the RUC, most specialty societies compiled data using a standard survey instrument whereby respondents compared the surveyed service with similar “reference” services that have established, agreed upon work values. Respondents were asked to estimate: the work for the survey code; the time to perform the “pre-”, “intra-”, and “post-” service activities; and the technical skill, risk, and judgment involved with performing the service. Post-service activities were broken down into hospital and office visits and were assigned an appropriate evaluation and management (E/M) code by the respondent. Each specialty society selected the physician sample that was surveyed. A minimum of 30 responses was required by the RUC for the survey to be considered adequate.

For this 5-Year Review, the RUC permitted a specialty society to use a “minisurvey” for some codes if the number of codes a specialty society was reviewing was extremely high. These minisurveys required less information from the respondent, but were similar in design. In addition, the RUC approved the use of information from the National Surgical Quality Improvement Program (NSQIP) database and the Society of Thoracic Surgeons (STS) national database in the valuation of some services.

The NSQIP was started by the Department of Veterans Affairs (VA) for quality improvement purposes in 1991 with 128 VA medical centers, but now includes a large volume of surgical procedures from non-VA medical centers as well. The total number of cases for VA and non-VA medical centers is greater than one million. The NSQIP database contains pre-, intra-, and post-operative data, including intra-service times and length of stay data.

The STS National database is a voluntary reporting system for the collection of outcomes data related to thoracic surgical services. This database currently contains over two million patient records collected from more than 450 practices (from 1995 through 2004). Over 70 percent of the hospitals currently performing heart surgeries in the U.S. reportedly participate in this database.

Some specialty societies used a “building-block” approach to validate the survey results for surgical services. In constructing the building blocks, a service is divided into pre-, intra-, and post-service components. The pre-service component consists of all services furnished before the physician makes the skin incision (for example, pre-operative evaluation and scrubbing); the intra-service component consists of the “skin-to-skin” time; and the post-service component includes immediate post-surgery services and subsequent hospital and office visits. Each component (or building block) is then assigned work RVUs. Pre-service and intra-service work RVUs are based on time and the intensity of the activities, and post-service work is based on the specified E/M service for each post-operative visit. These three values are then summed to compute “building-block” work RVUs.

The results of the surveys were reviewed and organized by the specialty societies and then presented to the RUC. The RUC used eight workgroups, comprised of RUC members, to evaluate a series of clinically related codes based on the survey results and additional discussion. The workgroups also evaluated the relative work (time and intensity) for each service compared to other services on the fee schedule. The workgroups submitted their recommendations to the full RUC, which then considered the workgroup reports and then sent the final RUC recommendations to us.

II. Discussion of Comments and Decisions

A. Review of Comments

As previously stated, we sent the RUC a list of codes for review. The RUC submitted work RVU recommendations for these codes, with the exception of the codes that were withdrawn or referred to the CPT Editorial Panel for further review or action, and one CPT code (32020) for which no specialty society expressed an interest in conducting a survey. In the future, we will consider an alternative method to re-evaluate codes when no specialties express an interest in conducting a survey and we would appreciate suggestions from commenters on what alternative methods could be used.

We analyzed all of the RUC recommendations by evaluating the methodology used by each workgroup to develop the recommendations, the recommended work RVUs, and the rationale for the recommendations. When appropriate and feasible, if we had concerns about the application of a particular methodology, we assessed whether the recommended work RVUs were appropriate by using alternative methodologies.

In conducting our review of the RUC recommendations we considered whether: (1) The code was part of a completed survey process; (2) the methodology used by the specialty society followed the standard RUC process; (3) the survey respondents stated the work had or had not changed in the past 5 years; (4) databases (for example, STS, NSQIP, and Medicare diagnosis-related group (DRG)) were used in lieu of the standard RUC methodology or as a supplement to the standard methodology; and (5) the intra-service work per unit of time (IWPUT) calculation was used to determine work RVUs in lieu of the standard RUC process. (The IWPUT is derived from components of the “building-block” approach, described above, and is used as a measure of service intensity.) Although CMS recognizes that the work values of codes may change over time, it is the responsibility of the specialty society to present compelling evidence that a code is misvalued.

We have some concerns that many of the codes that were reviewed in the second 5-Year Review have been brought back again for further consideration. The main purpose of the 5-Year Review is to identify those services that need to be revalued because the work involved in performing the service has changed. Since there have been three opportunities for specialties to have services that are believed to be undervalued reviewed, we expect that, for the most part, only those services where there is compelling evidence of a change in the work will be considered for further review. However, because there has been little incentive for specialties to bring codes that may be overvalued for review, such services will still need to be identified for the next 5-Year Review.

Table 1, Five-Year Review of Work Relative Value Units, lists the codes reviewed during the 5-Year Review. This table includes the following information:

• CPT/HCPCS Code. This is the CPT or alphanumeric HCPCS code for a service.

• Modifier. A modifier -26 is shown if the work RVUs represent the professional component of the service.

• Description. This is an abbreviated version of the narrative description of the code.

• 2005 Work RVU. The work RVUs that appeared in the CY 2005 Physician Fee Schedule final rule with comment period are shown for each reviewed code.

• Requested Work RVU. This column identifies the work RVUs requested by the commenting specialty society or individual commenter. If we received more than one comment on a code, the code is listed more than once with the recommended RVUs. If the commenters did not recommend specific RVUs, we indicate this by “N/A”. A “WD” (withdrawal) indicates that the commenter withdrew the request for review of a code and chose not to pursue review of the code under the 5-Year Review and that no RUC recommendation was received.

• RUC Recommendation. This column identifies the work RVUs recommended by the RUC. “CPT” indicates that the RUC referred this code to the AMA CPT Editorial Panel for review and clarification and recommended maintaining the current work RVUs. An “(a)” indicates the commenting specialty society withdrew the proposal, and therefore, the RUC recommends maintaining the current work RVUs. A “(b)” in this column indicates there was no RUC recommendation.

HCPAC Recommendation. This column identifies the work RVUs recommended by the HCPAC. An “(a)” indicates that the commenting specialty society withdrew the proposal; therefore, the HCPAC recommends maintaining the current work RVUs. A “(b)” in this column indicates there was no HCPAC recommendation.

• CMS Proposal. This column indicates whether we agreed with the RUC recommendation (“Agree”); we are instead proposing to maintain the present work RVUs (“Disagree”); we are proposing work RVUs higher than the RUC recommendation (“Disagree/+”); or we are proposing work RVUs that are less than the RUC recommendation (“Disagree/-”). Codes for which we did not accept the RUC recommendation are discussed in greater detail following Table 1. A “(c)” in this column indicates that in the absence of a RUC/HCPAC recommendation we are proposing to maintain the present work RVUs.

• Proposed base work RVU. This column contains the 2007 proposed work RVUs. The proposed work RVUs for surgical services with a 10- or 90-day global period do not include the application of the RUC-recommended work values for E/M services. However, the additional work value attributed to the increase for E/M services included as part of the global period is reflected in the work RVUs contained in Addenda B and C of this proposed rule. (Note: ** denotes codes that were deleted for 2006.)

The following is a summary of our response to the RUC-recommended work RVUs for the 5-Year Review of work. We sent the RUC approximately 709 codes to review. The RUC referred 136 codes to the CPT Editorial Panel for review and 151 codes were withdrawn by the specialty societies. We accepted the RUC's recommended work RVUs for 299 of the services reviewed and disagreed with the RUC's recommended work RVUs for 123 of the services reviewed. Of the 123 services for which we did not accept the RUC's recommended work RVUs, we increased the work RVUs for 3 services, recommended maintaining the current work RVUs for 48 services, and decreased the work RVUs for 72 services. (Note: 12 CPT codes for nursing facility and rest home services that were referred to the AMA CPT Editorial Panel were deleted for 2007.)

Additionally, the HCPAC reviewed a total of 7 services as part of the 5-Year Review. Of the 7 services reviewed by the HCPAC, we accepted the HCPAC recommendations for 1 service, recommended maintaining the current work RVU for 1 service, decreased the work RVUs for 4 services, and 1 code was withdrawn by the specialty society.

BILLING CODE 4120-01-P

BILLING CODE 4120-01-C

B. Discussion of Comments by Clinical Area

1. Dermatology and Plastic Surgery

[If you choose to comment on issues in this section, please include the caption “DISCUSSION OF COMMENTS-DERMATOLOGY AND PLASTIC SURGERY” at the beginning of your comments.]

a. Hidradenitis

The American Society of Plastic Surgeons (ASPS) submitted the hidradenitis services (CPT codes 11450, 11451, 11462, 11463, 11470 and 11471) as undervalued but, based on the very low response rate to the survey they conducted the ASPS withdrew these codes from the 5-Year Review.

b. Craniofacial Surgery

The ASPS originally requested that 10 craniofacial reconstruction and fracture codes be reviewed. ASPS conducted a standard RUC survey for these services and, based on the low survey response rate, withdrew the following six CPT codes from the 5-Year Review: 21365, 21366, 21432, 21435, 21436, and 21470. ASPS presented survey data for the remaining four CPT codes listed in Table 2 to the RUC indicating there is compelling evidence that these codes had been valued based on an incorrect assumption regarding the value of the bone graft portion of each service.

Table 2
CPT code | Descriptor
21145 | Reconstruction midface, LeFort I; single piece, segment movement in any direction, requiring bone grafts (includes obtaining autografts).
21146 | Reconstruction midface, LeFort I; two pieces, segment movement in any direction, requiring bone grafts (includes obtaining autografts) (e.g., ungrafted unilateral alveolar cleft).
21147 | Reconstruction midface, LeFort I; three or more pieces, segment movement in any direction, requiring bone grafts (includes obtaining autografts) (e.g., ungrafted bilateral alveolar cleft or multiple osteotomies).
21395 | Open treatment of orbital floor blowout fracture; periorbital approach with bone graft (includes obtaining graft).

RUC Recommendations

The RUC agreed that the appropriate increment of work for the bone graft should be 50 percent of CPT code 20902, Bone graft, any donor area; major or large (7.54 work RVUs × 50 percent = 3.77 work RVUs). The RUC recommended that this increment of 3.77 be used and added to the base code for each of these services.

The RUC-recommended work RVUs for these CPT codes are as follows: 21145 = 21.84 work RVUs; 21146 = 22.55 work RVUs, 21147 = 23.32 work RVUs; and 21395 = 13.88 work RVUs.

CMS Proposed Valuation

We agree with the RUC recommendations for craniofacial surgery services.

c. Other Plastic Surgery Services

ASPS initially submitted five additional services for review (see Table 3). However, the specialty society was unable to obtain an adequate survey response rate for these codes and withdrew them from the RUC review. In addition, the RUC recommended that CPT code 15831 should be referred to the CPT Editorial Panel for review to capture the new population of patients using this service.

Table 3
CPT code | Descriptor
11960 | Insertion of tissue expander(s) for other than breast, including subsequent expansion.
15831 | Excision, excessive skin and subcutaneous tissue (including lipectomy); abdomen (abdominoplasty).
19361 | Breast reconstruction with latissimus dorsi flap, with or without prosthetic implant.
43496 | Free jejunum transfer with microvascular anastomosis.
49906 | Free omental flap with microvascular anastomosis.

We submitted four plastic surgery services for the 5-Year Review as services that had never been reviewed by the RUC (see Table 4). In addition, CPT code 15732 was submitted as it had been valued as an inpatient service and it is now performed as an outpatient service.

Table 4
CPT code | Descriptor
15100 | Split-thickness autograft, trunk, arms, legs; first 100 sq cm or less, or one percent of body area of infants and children (except 15050).
15240 | Full thickness graft, free, including direct closure of donor site, forehead, cheeks, chin, mouth, neck, axillae, genitalia, hands, and/or feet; 20 sq cm or less.
15732 | Muscle, myocutaneous, or fasciocutaneous flap; head and neck (e.g., temporalis, masseter muscle, sternocleidomastoid, levator scapulae).
15734 | Muscle, myocutaneous, or fasciocutaneous flap; trunk.

RUC Recommendations

The RUC was convinced that the survey data validated the current valuation of CPT codes 15100, 15240, and 15734. The RUC recommended that the current work RVUs be maintained for these CPT codes as follows: 15100 = 9.04 work RVUs; 15240 = 9.03 work RVUs; and 15734 = 17.76 work RVUs. The RUC reviewed and discussed the issue concerning the change in setting from inpatient to outpatient for CPT code 15732 and determined that this code describes two disparate procedures; therefore, the RUC recommended that this CPT code be forwarded to the CPT Editorial Panel for review.

CMS Proposed Valuation

We agree with the RUC recommendations for these plastic surgery services.

d. Other Dermatology Services

The American Academy of Dermatology (AAD) and a pharmaceutical company submitted CPT code 96567, Photodynamic therapy by external application of light to destroy premalignant and/or malignant lesions of the skin and adjacent mucosa (e.g., lip) by activation of photosensitive drug(s), each phototherapy exposure session, for the 5-Year Review but, subsequent to discussions with the RUC regarding the need for potential CPT revisions, withdrew the code from the 5-Year Review.

We submitted the CPT codes for integumentary services in Table 5 for review because they had never been previously reviewed by the RUC.

Table 5
CPT code | Descriptor
11100 | Biopsy of skin, subcutaneous tissue and/or mucous membrane (including simple closure), unless otherwise listed; single lesion.
12052 | Layer closure of wounds of face, ears, eyelids, nose, lips and/or mucous membranes; 2.6 cm to 5.0 cm.
13121 | Repair, complex, scalp, arms, and/or legs; 2.6 cm to 7.5 cm.
14040 | Adjacent tissue transfer or rearrangement, forehead, cheeks, chin, mouth, neck, axillae, genitalia, hands and/or feet; defect 10 sq cm or less.
14060 | Adjacent tissue transfer or rearrangement, eyelids, nose, ears and/or lips; defect 10 sq cm or less.
17003 | Destruction (e.g., laser surgery, electrosurgery, cryosurgery, chemosurgery, surgical curettement), all benign or premalignant lesions (e.g., actinic keratoses) other than skin tags or cutaneous vascular proliferative lesions; second through 14 lesions, each (List separately in addition to code for first lesion).
17262 | Destruction, malignant lesion (e.g., laser surgery, electrosurgery, cryosurgery, chemosurgery, surgical curettement), trunk, arms or legs; lesion diameter 1.1 to 2.0 cm.
17281 | Destruction, malignant lesion (e.g., laser surgery, electrosurgery, cryosurgery, chemosurgery, surgical curettement), face, ears, eyelids, nose, lips, mucous membrane; lesion diameter 0.6 to 1.0 cm.

We requested that CPT code 17003 be reviewed because we believe that advances in technology have likely resulted in a modification to the physician work required to accomplish the procedure. In discussions at the RUC meeting, we noted that new Medicare coverage policies related to actinic keratoses (AK) have increased the reporting of this service to describe cryosurgical destruction of AK. Standard RUC surveys were conducted for all of these services.

RUC Recommendations

Based on a review of the survey data, the RUC was convinced that the survey data validated the current valuation of the following services and recommended the work RVUs for these CPT codes be maintained as follows: 11100 = 0.81 work RVUs; 12052 = 2.77 work RVUs; 13121 = 4.32 work RVUs; 14040 = 7.86 work RVUs; 14060 = 8.49 work RVUs; 17262 = 1.58 work RVUs; and 17281 = 1.72 work RVUs.

For CPT code 17003, the RUC reviewed previous and current survey data and agreed that the application of cryosurgery to each lesion requires no more than two minutes of physician time. Therefore, the RUC recommended a work RVU of 0.07 for CPT code 17003. The RUC determined that the revision to the work RVUs for CPT code 17003 created a rank order anomaly in this family of codes. In addition to referring codes in this family to the CPT Editorial Panel to clarify the code descriptors, the RUC in February 2006 also recommended a change to the work RVUs for CPT code 17004, Destruction (e.g., laser surgery, electrosurgery, cryosurgery, chemosurgery, surgical curettement), all benign or premalignant lesions (e.g., actinic keratoses) other than skin tags or cutaneous vascular proliferative lesions; 15 or more lesions. This was based on the understanding that when rank order anomalies were identified, the specialty could bring these additional codes forward for consideration for re-evaluation under the 5-Year Review at the next RUC meeting (that is, February 2006).

A standard RUC survey was conducted for this code and based on the survey responses, the specialty society recommended a change in the intra-service work descriptions to reflect a greater time based on their belief that the destruction of premalignant lesions requires more time than benign lesions. Thus, the intra-service period for CPT code 17004 was changed to 20 minutes which is twice as much as the time associated with the destruction of benign lesion in CPT code 17111, Destruction (e.g., laser surgery, electrosurgery, cryosurgery, chemosurgery, surgical curettement), of flat warts, molluscum contagiosum, or milia; 15 or more lesions, of 10 minutes. The RUC agreed to this time change and recommended work RVUs of 1.80 for CPT code 17004.

CMS Proposed Valuation

We are in agreement with the RUC-recommended work RVUs for these services with the exception of CPT code 17004. For CPT code 17004, we believe that the work associated with benign and premalignant lesions is comparable and, therefore, the work RVUs for CPT code 17004 should be more similar to that of CPT code 17111, which is 0.92. Based on our proposed valuation of 17003 (the code used for 2-14 lesions), of 0.07 work RVUs, the 14th lesion would equal 0.91 work RVUs (0.07 × 13 lesions) plus 0.6 work RVUs for the initial lesion, that is, base code CPT code 17000, which is billed once in conjunction with 17003. We are proposing to value CPT code 17004, for 15 or more lesions, at 1.58 work RVUs by adding the 0.07 work RVU increment of 17003 and the 0.6 work RVUs for the base code, CPT code 17000, which is not billed in conjunction with CPT code 17004.

e. Mohs Surgery

We referred the Mohs surgery codes for review because this family of services has never been surveyed and reviewed by the RUC (see Table 6).

Table 6
CPT code | Descriptor
17304 | Chemosurgery (Mohs micrographic technique), including removal of all gross tumor, surgical excision of tissue specimens, mapping, color coding of specimens, microscopic examination of specimens by the surgeon, and complete histopathologic preparation including the first routine stain (e.g., hematoxylin and eosin, toluidine blue); first stage, fresh tissue technique, up to 5 specimens.
17305 | Chemosurgery (Mohs micrographic technique), including removal of all gross tumor, surgical excision of tissue specimens, mapping, color coding of specimens, microscopic examination of specimens by the surgeon, and complete histopathologic preparation including the first routine stain (e.g., hematoxylin and eosin, toluidine blue); second stage, fixed or fresh tissue, up to 5 specimens).

The specialty society conducted surveys to collect data for these two codes. The workgroup then reviewed the history of these services, including the fact that the nomenclature for these services is not consistent with other integumentary coding conventions in CPT and that the RUC had previously indicated that the specialty society should work with the CPT Editorial Panel to redefine these services.

RUC Recommendations

The RUC recommended that these CPT codes be referred to the CPT Editorial Panel.

CMS Proposed Valuation

We will maintain the current valuation for these services pending the results of the review of the CPT Editorial Panel.

f. Excision of Lesions

We submitted all of the excision of lesion codes for review, noting that these services should be surveyed and reviewed by the RUC (see Table 7—benign: CPT codes 11400 through 11446, and malignant: CPT codes 11600 through 11646).

The work RVUs for the codes predominantly performed by the surgical specialties (CPT codes representing services to excise larger lesions) were all valued, with the exception of two CPT codes, by acceptable RUC surveys. However, there were no acceptable RUC surveys for the 18 services predominantly performed by the dermatologists (CPT codes representing services to excise smaller lesions) due to incomplete surveys and low response rates.

RUC Recommendations

The RUC agreed that the primary difference in the work between the family of codes for excision of benign lesions versus those codes for excision of malignant lesions (see Table 7) is in the pre-evaluation time (that is, additional planning, and discussions with the patient), the intensity of the intra-service time, and the level of post-operative visit.

The workgroup used the RUC surveys to determine the work RVUs for those services performed by the surgeons and then applied the building-block approach using the IWPUT values of the codes primarily performed by the surgical specialties to derive IWPUT values and corresponding work RVUs for the CPT codes primarily performed by dermatology. (The IWPUT is derived by dividing the intra-service work by the intra-service time, and is used to measure the relative intensity of the work between services.)

As a result of the application of the building-block methodology to the codes without RUC acceptable surveys, the RUC recommended that 24 codes retain their current work RVUs, 5 codes have decreased work RVUs, and 7 codes have increased work RVUs. The specific RUC recommendations for these CPT codes are presented in Table 7.

BILLING CODE 4120-01-C

CMS Proposed Valuation

We are in agreement with the RUC recommendations for the excision of lesions services.

2. Orthopedic Surgery

[If you choose to comment on issues in this section, please include the caption “DISCUSSION OF COMMENTS—ORTHOPEDIC SURGERY” at the beginning of your comments.]

a. Tumor Procedures

The American Academy of Orthopaedic Surgeons (AAOS) submitted CPT codes in the following three families of tumor procedures for review. (See Table 8, Table 9, and Table 10.)

Table 8.—Family 1—Excision of Deep Soft Tissue Mass
CPT code | Description
21556 | Excision tumor, soft tissue of neck or thorax; deep, subfascial, intramuscular
23076 | Excision, soft tissue tumor, shoulder area; deep, subfascial, or intramuscular.
24076 | Excision, tumor, soft tissue of upper arm or elbow area; deep (subfascial or intramuscular).
25076 | Excision, tumor, soft tissue of forearm and/or wrist area; deep (subfascial or intramuscular).
27048 | Excision, tumor, pelvis and hip area; deep, subfascial, intramuscular.
27328 | Excision, tumor, thigh or knee area, deep, subfascial, or intramuscular.
27619 | Excision, tumor, leg or ankle area; deep (subfascial or intramuscular).
28045 | Excision, tumor, foot; deep, subfascial, intramuscular.

Table 9.—Family 2—Radical Resection of Soft Tissue Sarcoma
CPT code | Description
24077 | Radical resection of tumor (e.g., malignant neoplasm), soft tissue of upper arm or elbow area.
25077 | Radical resection of tumor (e.g., malignant neoplasm), soft tissue of forearm and/or wrist area.
27049 | Radical resection of tumor, soft tissue of pelvis and hip area (e.g., malignant neoplasm).
27329 | Radical resection of tumor (e.g., malignant neoplasm), soft tissue of thigh or knee area.
27615 | Radical resection of tumor (e.g., malignant neoplasm), soft tissue of leg or ankle area).

Table 10.—Family 3—Radical Resection of Bone Sarcoma
CPT code | Description
21935 | Radical resection of tumor (e.g., malignant neoplasm), soft tissue of back or flank.
23200 | Radical resection for tumor; clavicle.
23210 | Radical resection for tumor; scapula.
23220 | Radical resection of bone tumor, proximal humerus.
24150 | Radical resection for tumor, shaft or distal humerus.
24151 | Radical resection for tumor, shaft or distal humerus; with autograft (includes obtaining graft).
24152 | Radical resection for tumor, radial head or neck.
24153 | Radical resection for tumor, radial head or neck; with autograft (includes obtaining graft).
25170 | Radical resection for tumor, radius or ulna.
27076 | Radical resection of tumor or infection; ilium, including acetabulum, both pubic rami, or ischium and acetabulum.
27078 | Radical resection of tumor or infection; ischial tuberosity and greater trochanter of femur.
27365 | Radical resection of tumor, bone, femur or knee.
27645 | Radical resection of tumor, bone; tibia.
27646 | Radical resection of tumor, bone; fibula.
27647 | Radical resection of tumor; talus or calcaneus.

The specialty subsequently withdrew CPT codes 21935, 24151, and 24153 from the 5-Year Review. A minisurvey methodology was used for all three families of codes.

RUC Recommendations

Based on a review of the survey results for the codes in Families 1 and 2, the RUC recommended referring these codes to the CPT Editorial Panel for clarification. The RUC indicated that the survey data from the specialty society described a hospitalized patient as the typical patient. However, our data indicates that the typical patient is not hospitalized and that this inconsistency could be the result of ambiguous CPT descriptors.

For the services in Family 3, the RUC discussion focused on the issue of whether there may also be different patient populations covered by each of these codes.

The RUC also recommended referring the codes in Family 3 to the CPT Editorial Panel for clarification.

CMS Proposed Valuation

We will maintain the current valuation for these services pending the results of the review by the CPT Editorial Panel.

b. Trauma Procedures

The AAOS submitted the following trauma procedure codes for review (see Table 11). Standard RUC surveys of these services were conducted.

Table 11
CPT code | Description
20680 | Removal of implant; deep (e.g., buried wire, pin, screw, metal band, nail, rod or plate).
20692 | Application of a multiplane (pins or wires in more than one plane), unilateral, external fixation system (e.g., Ilizarov, Monticelli type).
24430 | Repair of nonunion or malunion, humerus; without graft (e.g., compression technique).
27465 | Osteoplasty, femur; shortening (excluding 64876).
27470 | Repair, nonunion or malunion, femur, distal to head and neck; without graft (e.g., compression technique).
27472 | Repair, nonunion or malunion, femur, distal to head and neck; with iliac or other autogeneous bone graft (includes obtaining graft).
27709 | Osteotomy; tibia and fibula.
27720 | Repair of nonunion or malunion, tibia; without graft, (e.g., compression technique).

RUC Recommendations

Based on a review of the compelling evidence, the RUC made the following recommendations.

For CPT code 20680, the RUC agreed that the intra-operative time for this code is misvalued based on the significant changes in physician work for the removal of deep implants due to changes in technology. Using the survey's 25th percentile value for the work RVUs along with the 25th percentile value for intra-service time, and adjusting for the fact that this procedure is typically performed in an outpatient setting, the RUC recommended a work RVU of 5.86 for this service.

For CPT code 24430, the workgroup did not believe that the current work value for CPT code 24430 accounts for all the work typically involved with this service. This is based on the survey's physician time and visit data and a comparison to CPT code 24515, Open treatment of humeral shaft fracture with plate/screws, with or without cerclage, which is a less complex procedure than CPT code 24430. The RUC recommended a work RVU of 14.00 and an intra-service time of 102 minutes for this service, which was the 25th percentile for work of the survey data.

Based on a comparison to CPT code 27506, Open treatment of femoral shaft fracture, with or without external fixation, with insertion of intramedullary implant, with or without and/or locking screws, the workgroup determined that the current work RVUs for CPT code 27465, do not fully account for the work typically involved in shortening the femur because it typically includes the insertion of an intermedullary nail. However, the workgroup believed that CPT code 27465 should be valued lower than the reference service code, CPT code 27454, Osteotomy, multiple, with realignment on intramedullary rod, femoral shaft (e.g., Sofield type procedure), which has a work RVU of 17.53, and is a greater intensity procedure. The RUC-recommended work RVU for CPT code 27645 was 17.50, based on the median of the survey data.

Based on a review of the survey data, the workgroup did not believe that there was compelling evidence to change the work RVU for CPT code 27470. Therefore, the RUC recommended that the current work RVU of 16.05 be maintained for this service. However, the workgroup also recommended using the new survey times as they believed the Harvard times from the original Harvard relative value study, which was used to establish RVUs at the outset of the Medicare PFS, are inflated.

For CPT code 27709, Osteotomy; tibia and fibula, the RUC reviewed the survey time and compared this service to CPT code 27705, Osteomy, tibia, which has a work RVU of 10.36. The RUC recommended a work RVU of 16.50 for CPT code 27709 which would place the code in proper rank order with CPT code 27705.

The RUC recommended the referral of CPT codes 20692, 27472, and 27720 to the CPT Editorial Panel to clarify whether these 90-day global period codes should be exempt from modifier 51. (Modifier 51 denotes that a multiple procedure was performed.) The RUC was concerned that attempting to value these codes would lead to double counting some of the work.

The RUC-recommended valuation for these CPT codes was as follows: 20680 = 5.86 work RVUs; 24430 = 14.00 work RVUs; 27465 = 17.50 work RVUs; 27470 = 16.05 work RVUs; and 27709 = 16.50 work RVUs.

CMS Proposed Valuation

We are in agreement with the RUC-recommended work values for these trauma services.

c. Total Elbow and General Procedures

AAOS submitted the following elbow athroplasty service for review (see Table 12).

Table 12
CPT code | Description
24363 | Arthroplasty, elbow; with distal humerus and proximal ulnar prosthetic replacement (e.g., total elbow).

In addition, we submitted the following CPT codes, in Table 13, for review.

Table 13
CPT code | Description
20600 | Arthrocentesis, aspiration and/or injection; small joint or bursa (e.g., fingers, toes).
20610 | Arthrocentesis, aspiration and/or injection; major joint or bursa (e.g., shoulder, hip, knee joint, subacromial bursa).
29075 | Application, cast; elbow to finger (short arm).

Standard RUC surveys of these services were conducted.

RUC Recommendations

The RUC recommended maintaining the current work RVUs for CPT codes 20600, 20610, and 29075 because of the low response rate for the surveys and the lack of compelling evidence for changing the work value.

Based on a review of the survey data and information provided by the presenting specialty societies, AAOS and the American Society of Shoulder and Elbow Surgeons, the RUC concluded that the CPT code 24363 should be valued the same as CPT code 23472, Arthroplasty, glenohumeral joint; total shoulder (glenoid and proximal humeral replacement (e.g., total shoulder), and recommended a work RVU of 21.07 to maintain appropriate rank-order alignment with this family of codes. The RUC-recommended valuation for these CPT codes was as follows: 20600 = 0.66 work RVUs; 20610 = 0.79 work RVUs; 24363 = 21.07 work RVUs; and 29075 = 0.77 work RVUs.

CMS Proposed Valuation

We agree with the RUC-recommended work RVUs for these elbow and general procedure services.

d. Wrist, Hand and Finger

We submitted the CPT codes in Table 14 for review.

Table 14
CPT code | Description
25447 | Arthroplasty, interposition, intercarpal or carpometacarpal joints.
26055 | Tendon sheath incision (e.g., for trigger finger).
26160 | Excision of lesion of tendon sheath or joint capsule (e.g., cyst, mucous cyst, or ganglion), hand or finger.
26600 | Closed treatment of metacarpal fracture, single; without manipulation, each bone.
26951 | Amputation, finger or thumb, primary or secondary, any joint or phalanx, single, including neurectomies; with direct closure.
64721 | Neuroplasty and/or transposition; median nerve at carpal tunnel.

CPT code 64702, Neuroplasty; digital, one or both, same digit, was submitted by the American Society for Surgery of the Hand (ASSH) with the rationale that this code is based on inaccurate Harvard physician times that are low compared to other hand surgery codes. Standard RUC surveys of these services were conducted.

RUC Recommendations

Based on a review of the survey data, the RUC recommended that the current work RVUs be maintained for CPT codes 25447, 26055, 26160, and 64721.

For CPT code 26600, the workgroup examined the survey data presented by the specialty society and agreed that the current work value of 1.96 RVUs may not fully reflect the value of all post-operative visits that are the current standard of care and that the CPT code most frequently cited as a reference code (CPT code 26720, Closed treatment of phalangeal shaft fracture, proximal or middle phalanx, finger or thumb; without manipulation, each), also understates the number of post-operative visits. The workgroup validated the survey median value of 2.40 work RVUs by performing a building-block calculation that added the value of an additional post-operative visit (CPT code 99212 at 0.43 work RVUs) to the current work value for CPT code 26600 of 1.96 for a total of 2.39 work RVUs. Since this value was almost identical to the median survey value of 2.40, the RUC recommended accepting this median value for the work RVUs for CPT code 26600.

For CPT code 26951, the RUC workgroup agreed that the current value of 4.58 work RVUs for this code creates a rank order anomaly when compared to the reference code (CPT code 26185, Sesamoidectomy, thumb or finger (separate procedure)), which has a work RVU of 5.24. Based on a review of survey data, the RUC recommended that CPT code 26951 should be assigned work RVUs of 5.25 (the 25th percentile survey value) but that the survey median intra-service time of 45 minutes should be used since that is equal to the reference code.

For CPT code 64702, the RUC workgroup agreed that the current value for this service of 4.22 work RVUs does not include the number of post-operative days typically associated with this procedure. The workgroup believed that adding the work RVUs (1.3 work RVUs) associated with two additional outpatient visits, represented by CPT code 99213, produces an appropriate work RVU for this service and also places CPT code 64702 in the proper rank order with the reference service. The RUC recommended 5.52 work RVUs for CPT code 64702.

The RUC-recommended work RVUs for these CPT codes are as follows: 25447 = 10.35 work RVUs; 26055 = 2.69 work RVUs; 26160 = 3.15 work RVUs; 26600 = 2.40 work RVUs; 26951 = 5.25 work RVUs; 64702 = 5.52 work RVUs; and 64721 = 4.28 work RVUs.

CMS Proposed Valuation

We are in agreement with the RUC-recommended work values for wrist, hand and finger services.

e. Total Joint and Hip Fracture

We submitted three CPT codes for review (see Table 15).

Table 15
CPT code | Description
27130 | Arthroplasty, acetabular and proximal femoral prosthetic replacement (total hip arthroplasty), with or without autograft or allograft.
27236 | Open treatment of femoral fracture, proximal end, neck, internal fixation or prosthetic replacement.
27447 | Arthroplasty, knee, condyle and plateau; medial AND lateral compartments with or without patella resurfacing (total knee arthroplasty).

The specialty society did not submit surveys for these codes, which is the accepted RUC method, for the RUC's consideration of changes to current work RVUs. Instead the specialty society developed proposed values for these services based on data obtained from the VA NSQIP database and the Medicare DRG database. The specialty society did survey its membership to obtain the data, but did not provide the workgroup or the RUC with this information, stating the vignettes did not describe a typical patient for this series of codes. Thus, the survey data for these codes was not available for the RUC workgroup to review at its August 2005 meeting.

The RUC requested that the specialty society survey its members on these three codes so that survey data could be used to evaluate the codes at the September 2005 RUC meeting. The specialty society used survey data, as well as NSQIP data and Medicare DRG data, to evaluate pre-service and intra-service times for these codes. The workgroup, as well as the RUC, was uncomfortable with mixing data from three separate sources in lieu of the established and accepted methodology of the RUC. The specialty society maintained the NSQIP data was more accurate than the survey data.

RUC Recommendations

The RUC did not find any compelling evidence to change the current work RVUs assigned to these services. Based on a review of the data, the RUC recommended maintaining the current work RVUs of 20.09 for CPT code 27130, 15.58 for CPT code 27236 and 21.45 for CPT code 27447, but also recommended using the new physician time data for each of these services.

CMS Proposed Valuation

For these three CPT codes (27130, 27236,and 27447), the specialty society used NSQIP and Medicare DRG data instead of the standard RUC survey methodology to create an intra-service time. Medicare DRG data has not been used by CMS or the RUC to evaluate new or existing CPT codes. CPT code 27130 has never been reviewed by the RUC. It currently has 20.09 work RVUs which is based on the following Harvard time data: pre-service time of 68 minutes, intra-service time of 128 minutes, post-service time of 36 minutes and eight hospital days. We believe that this service can be compared to CPT codes 43641, Vagotomy including pyloroplasty, with or without gastrostomy; parietal cell (highly selective), and 60260, Thyroidectomy, removal of all remaining thyroid tissue following previous removal of a portion of thyroid. Both codes were reviewed by the RUC during the second 5-Year Review. CPT code 43641 has 60 minutes pre-service time, 150 minutes intra-service time, 30 minutes post-service time, and 6 hospital days, resulting in work RVUs of 17.24. CPT code 60260 has 60 minutes pre-service time, 145 minutes intra-service time and 30 minutes post-service time with 2 hospital days, resulting in work RVUs of 17.44. We believe CPT code 27130 is similar in work and intensity to CPT code 43641, and if one removes 2 hospital days (code 99231), this would result in a work RVU of 15.96. Therefore, we recommend a work RVU of 15.96 for CPT code 27130.

CPT code 27236 has never been reviewed by the RUC. It has a pre-service time of 74 minutes, an intra-service time of 89 minutes, a post-service time of 27 minutes, 100 minutes for hospital days, and 57 minutes for office visits for a total time of 347 minutes based on the Harvard time data, resulting in work RVUs of 15.58. We believe CPT codes 34421, Thrombectomy, direct or with catheter; vena cava, iliac, femoropopliteal vein, by leg incision, and 47600, Cholecystectomy, which were included in the second 5-Year Review, are similar in work intensity and time to CPT code 27236. CPT code 34421 has a pre-service time of 70 minutes, an intra-service time of 95 minutes, a post-service time of 221 minutes, and total time of 386 minutes, resulting in work RVUs of 11.98. CPT code 47600 has a pre-service time of 75 minutes, an intra-service time of 80 minutes, and a post-service time of 194 minutes for a total time of 349 minutes, resulting in work RVUs of 13.56. We propose a work RVU of 12.77 for CPT code 27236, which is the median value for these two codes and maintains relativity within this family of codes.

CPT Code 27447 has never been reviewed by the RUC. It has 21.45 work RVUs, which is based on the following Harvard time data: pre-service time of 60 minutes, intra-service time 139 minutes, post-service time of 37 minutes, 118 minutes for hospital days, and 54 minutes for office visits for a total time of 408 minutes. We believe this service is comparable to CPT code 35671, Bypass graft, with other than vein; popliteal-tibial or -peroneal artery, which was reviewed during the second 5-Year Review. This service has a pre-service time of 70 minutes, an intra-service time of 135 minutes, and a post-service time of 206 minutes for a total time of 411 minutes, resulting in work RVUs of 19.30. We believe CPT code 27447 is similar in work intensity and time to CPT code 35671 and propose work RVUs of 19.30 for CPT code 27447.

f. Additional Fracture Codes

The AAOS also submitted the following CPT codes listed in Table 16 and the ASSH submitted CPT code 25620. However, the specialty societies believed clarification was needed for the CPT descriptor for these services, as there was a question whether the current valuation for these codes includes the application of internal and external fixation to a fracture site.

Table 16
CPT code | Description
23515 | Open treatment of clavicle fracture, with or without internal or external fixation.
23585 | Open treatment of scapular fracture (body, glenoid or acromion) with or without internal fixation.
23615 | Open treatment of proximal humeral (surgical or anatomical neck) fracture, with or without internal or external fixation, with or without repair of tuberosity(s).
23616 | Open treatment of proximal humeral (surgical or anatomical neck) fracture, with or without internal or external fixation, with or without repair of tuberosity(s); with proximal humeral prosthetic replacement.
23630 | Open treatment of greater humeral tuberosity fracture, with or without internal or external fixation.
23670 | Open treatment of shoulder dislocation, with fracture of greater humeral tuberosity, with or without internal or external fixation.
23680 | Open treatment of shoulder dislocation, with surgical or anatomical neck fracture, with or without internal or external fixation.
24545 | Open treatment of humeral supracondylar or transcondylar fracture, with or without internal or external fixation; without intercondylar extension.
24546 | Open treatment of humeral supracondylar or transcondylar fracture, with or without internal or external fixation; with intercondylar extension.
24575 | Open treatment of humeral epicondylar fracture, medial of lateral, with or without internal or external fixation.
24579 | Open treatment of humeral condylar fracture, medial or lateral, with or without internal or external fixation.
24635 | Open treatment of Monteggia type of fracture dislocation at elbow (fracture proximal end of ulna with dislocation of radial head), with or without internal or external fixation.
24665 | Open treatment of radial head or neck fracture, with or without internal fixation or radial head excision.
24685 | Open treatment of ulnar fracture proximal end (olecranon process), with or without internal or external fixation.
25515 | Open treatment of radial shaft fracture, with or without internal or external fixation.
25526 | Open treatment of radial shaft fracture, with internal and/or external fixation and open treatment, with or without internal or external fixation of distal radioulnar joint (Galeazzi fracture/dislocation), includes repair of triangular fibrocartilage complex.
25545 | Open treatment of ulnar shaft fracture, with or without internal or external fixation.
25574 | Open treatment of radial AND ulnar shaft fractures, with internal or external fixation; of radius OR ulna.
25575 | Open treatment of radial AND ulnar shaft fractures, with internal or external fixation; of radius AND ulna.
25620 | Open treatment of distal radial fracture (e.g., Colles or Smith type) or epiphyseal separation, with or without fracture of ulnar styloid, with or without internal or external fixation.
25628 | Open treatment of carpal scaphoid (navicular) fracture, with or without internal or external fixation.
26615 | Open treatment of metacarpal fracture, single, with or without internal or external fixation, each bone.
26665 | Open treatment of carpometacarpal fracture dislocation, thumb (Bennett fracture), with or without internal or external fixation.
26685 | Open treatment of carpometacarpal dislocation, other than thumb, with or without internal or external fixation, each joint.
26715 | Open treatment of metacarpophalangeal dislocation, single, with or without internal or external fixation.
26735 | Open treatment of phalangeal shaft fracture, proximal or middle phalanx, finger or thumb, with or without internal or external fixation, each.
26746 | Open treatment of articular fracture, involving metacarpophalangeal or interphalangeal joint, with or without internal or external fixation, each.
26765 | Open treatment of distal phalangeal fracture, finger or thumb, with or without internal or external fixation, each.
26785 | Open treatment of interphalangeal joint dislocation, with or without internal or external fixation, single.
27248 | Open treatment of greater trochanteric fracture, with or without internal of external fixation.
27511 | Open treatment of femoral supracondylar or transcondylar fracture without intercondylar extension, with or without internal or external fixation.
27513 | Open treatment of femoral supracondylar or transcondylar fracture with intercondylar extension, with or without internal or external fixation.
27514 | Open treatment of femoral fracture, distal end, medial of lateral condyle, with or without internal or external fixation.
27519 | Open treatment of distal femoral epiphyseal separation, with or without internal or external fixation.
27535 | Open treatment of tibial fracture, proximal (plateau); unicondylar, with or without internal of external fixation.
27540 | Open treatment of intercondylar spine(s) and/or tuberosity fracture(s) of the knee, with or without internal or external fixation.
27556 | Open treatment of knee dislocation, with or without internal or external fixation; without primary ligamentous repair of augmentation/reconstruction.
27766 | Open treatment of medial malleolus fracture, with or without internal or external fixation.
27784 | Open treatment of proximal fibula or shaft fracture, with or without internal or external fixation.
27792 | Open treatment of distal fibular fracture (lateral malleolus), with or without internal or external fixation.
27814 | Open treatment of bimalleolar ankle fracture, with or without internal or external fixation.
27822 | Open treatment of trimalleolar ankle fracture, with or without internal or external fixation, medial and/or lateral malleolus; without fixation of posterior lip.
27826 | Open treatment of fracture of weight bearing articular surface/portion of distal tibia (e.g., pilon or tibial plafond), with internal or external fixation; of fibula only.
27827 | Open treatment of fracture of weight bearing articular surface/portion of distal tibia (e.g., pilon or tibial plafond), with internal or external fixation; of tibia only.
27828 | Open treatment of fracture of weight bearing articular surface/portion of distal tibia (e.g., pilon or tibial plafond), with internal or external fixation; of both tibia and fibula.
27829 | Open treatment of distal tibiofibular joint (syndesmosis) disruption, with or without internal or external fixation.
27832 | Open treatment of proximal tibiofibular joint dislocation, with or without internal or external fixation, or with excision of proximal fibula.
28415 | Open treatment of calcaneal fracture, with or without internal or external fixation.
28445 | Open treatment of talus fracture, with or without internal or external fixation.
28465 | Open treatment of tarsal bone fracture (except talus and calcaneus), with or without internal or external fixation, each.
28485 | Open treatment of metatarsal fracture, with or without internal or external fixation, each.
28505 | Open treatment of fracture of great toe, phalanx or phalanges, with or without internal or external fixation.
28525 | Open treatment of fracture, phalanx or phalanges, other than great toe, with or without internal or external fixation, each.
28555 | Open treatment of tarsal bone dislocation, with or without internal or external fixation.
28585 | Open treatment of talotarsal joint dislocation, with or without internal or external fixation.
28615 | Open treatment of tarsometatarsal joint dislocation, with or without internal or external fixation.
28645 | Open treatment of metatarsophalangeal joint dislocation, with or without internal or external fixation.
28675 | Open treatment of interphalangeal joint dislocation, with or without internal or external fixation.

RUC Recommendations

The RUC recommended that these CPT codes be referred to the CPT Editorial Panel for review and clarification.

CMS Proposed Valuation

We will maintain the current valuation for these services pending the results of the review by the CPT Editorial Panel.

3. Gynecology, Urology, Pain Medicine, and Neurosurgery

[If you choose to comment on issues in this section, please include the caption “DISCUSSION OF COMMENTS—GYNECOLOGY, UROLOGY, PAIN MEDICINE, AND NEUROSURGERY” at the beginning of your comments.]

a. Obstetrics and Gynecology

The American College of Obstetricians and Gynecologists (ACOG) submitted the CPT codes in Table 17 for review.

Table 17
CPT code | Description
49200 | Excision or destruction, open, intra-abdominal or retroperitoneal tumors or cysts or endometriomas.
49201 | Excision or destruction, open, intra-abdominal or retroperitoneal tumors or cysts or endometriomas; extensive.
56631 | Vulvectomy, radical, partial; with unilateral inguinofemoral lymphadenectomy.
56632 | Vulvectomy, radical, partial; with bilateral inguinofemoral lymphadenectomy.
56634 | Vulvectomy, radical, complete; with unilateral inguinofemoral lymphadenectomy.
56637 | Vulvectomy, radical, complete; with bilateral inguinofemoral lymphadenectomy.
56640 | Vulvectomy, radical, complete, with inguinofemoral, iliac, and pelvic lymphadenectomy.
57160 | Fitting and insertion of pessary or other intravaginal support device.
57240 | Anterior colporrhaphy, repair of cystocele with or without repair of urethrocele.
57250 | Posterior colporrhaphy, repair of rectocele with or without perineorrhaphy.
57260 | Combined anteroposterior colporrhaphy.
57265 | Combined anteroposterior colporrhaphy; with enterocele repair.
57550 | Excision of cervical stump, vaginal approach.
57555 | Excision of cervical stump, vaginal approach; with anterior and/or posterior repair.
57556 | Excision of cervical stump, vaginal approach; with repair of enterocele.

However, the specialty society subsequently withdrew the following CPT codes: 49200, 49201, 56631, 56632, 56634, 56637, 56640, 57550, 57555, and 57556.

We identified five CPT codes for review but withdrew one code, CPT code 58260 (see Table 18).

Table 18
CPT code | Description
57500 | Biopsy, single or multiple, or local excision of lesion, with or without fulguration (separate procedure).
58120 | Dilation and curettage, diagnostic and/or therapeutic (nonobstetrical).
58150 | Total abdominal hysterectomy (corpus and cervix), with or without removal of tube(s), with or without removal of ovary(s).
58260 | Vaginal hysterectomy, for uterus 250 grams or less.
58720 | Salpingo-oophorectomy, complete or partial, unilateral or bilateral (separate procedure).

A standard RUC survey with over 30 responses was used for these codes.

RUC Recommendations

The RUC recommended maintaining the existing RVUs for CPT codes 57160, 58120 and 58720. The RUC believed there was no compelling evidence presented to indicate that there had been a change in work for CPT code 57160. The RUC also agreed with the specialty society that the survey data collected validated the existing times and existing RVUs for CPT codes 58120 and 58720.

The RUC recommended increasing the work value for the remaining CPT codes. The RUC agreed with the specialty society that these procedures were currently undervalued because of rank-order anomalies, changes in patient population or incorrect assumptions made in the previous valuation of the service. However, the RUC-recommended work values for each service were below the level presented by the specialty society. The RUC recommended the use of the surveys' 25th percentile work RVUs for four of the services, CPT codes 57240, 57250, 57500 and 58150, and the 75th percentile for CPT codes 57260 and 57265. The 75th percentile was used because the workgroup believed that otherwise there would be a rank order anomaly between the more complex vagina repair services, CPT codes 57280 and 57265, and the simpler procedures, CPT codes 57240 and 57250.

The RUC-recommended work values for these services are as follows: 57160 = 0.89 work RVUs; 57240 = 10.56 work RVUs; 57250 = 10.56 work RVUs; 57260 = 13.50 work RVUs; 57265 = 15.00 work RVUs; 57500 = 1.20 work RVUs; 58120 = 3.27 work RVUs; 58150 = 15.98 work RVUs; and 58720 = 11.34 work RVUs.

CMS Proposed Valuation

We propose to accept the RUC recommendations for these obstetrics and gynecology services. We initially had concerns with the use of the surveys' 75th percentile for the recommendation of work RVUs for CPT codes 57260 and 57265, but in comparison with similar services, we believe that the RUC recommendations for these services create the correct rank order, both within the family of codes and with other similar services.

b. Urology

The American Urological Association (AUA) and the Coalition for the Advancement of Prosthetic Urology (CAPU) submitted five CPT codes for review (see Table 19). However, the specialty society subsequently withdrew four CPT codes (53445, 54400, 54405, and 54411).

Table 19
CPT code | Description
51798 | Measurement of post-voiding residual urine and/or bladder capacity by ultrasound, non-imaging.
53445 | Insertion of inflatable urethral/bladder neck sphincter, including placement of pump, reservoir, and cuff.
54400 | Insertion of penile prosthesis; non-inflatable (semi-rigid).
54405 | Insertion of multi-component, inflatable penile prosthesis, including placement of pump, cylinders, and reservoir.
54411 | Removal and replacement of all components of a multi-component inflatable penile prosthesis through an infected field at the same operative session, including irrigation and debridement of infected tissue.

In addition, we identified seven CPT codes for review because of possible changes in technology or because the service had never been reviewed by the RUC (see Table 20). A standard RUC survey with over 30 responses was used for the following codes.

Table 20
CPT code | Description
50590 | Lithotripsy, extracorporeal shock wave.
51720 | Bladder instillation of anticarcinogenic agent (including detention time).
52000 | Cystourethroscopy (separate procedure).
52204 | Cystourethroscopy, with biopsy.
52601 | Transurethral electrosurgical resection of prostate, including control of postoperative bleeding, complete (vasectomy, meatotomy, cystourethroscopy, urethral calibration and/or dilation, and internal urethrotomy are included).
55700 | Biopsy, prostate; needle or punch, single or multiple, any approach.
57288 | Sling operation for stress incontinence (e.g., fascia or synthetic).

RUC Recommendations

Of the eight codes presented with survey data, the RUC recommended maintaining the existing work RVUs for two codes. For CPT code 57288, the RUC believed that the survey median supported the specialty society's contention that the work currently associated with the code is accurate. For CPT code 50590, the RUC believed that the current work value more accurately reflected the work involved in the service than did the survey, which increased the work RVUs while decreasing the physician intra-time substantially.

The RUC recommended decreasing the current work RVUs for CPT code 51720 to reflect the median work RVU from the survey.

The RUC agreed with the specialty society's recommendations for an increase to the existing RVUs for CPT code 51798. This procedure was originally reviewed by the RUC in April 2002 with a recommendation 0.38 work RVUs to reflect the physician work believed to be typically associated with this procedure. However, in the CY 2002 Physician Fee Schedule final rule with comment period (66 FR 55246), we contended that there was no physician work associated with this service and assigned work RVUs of 0.00. This decision was upheld by the refinement process that is used to address comments received on the valuation of new and revised CPT codes and that was discussed in the CY 2004 Physician Fee Schedule final rule with comment period (67 FR 63227). However, the RUC agreed with the specialty society that this procedure is performed by physicians and reaffirmed its previous recommendation of 0.38 work RVUs for this procedure.

The RUC recommended increasing the work RVUs for four codes, but below the level requested by the specialty society (that is, recommending work RVUs equal to the surveys' 25th percentile for CPT codes 52000 and 55700, equal to the median for CPT code 52601 and less than the 25th percentile for CPT code 52204). The RUC agreed with the specialty society that these procedures were currently undervalued due to changes in technology, changes in patient populations and incorrect assumptions that were made in the previous valuation of the service.

The RUC-recommended work values for these CPT codes for urology services are as follows: 50590 = 9.08 work RVUs; 51720 = 1.50 work RVUs; 51798 = 0.38 work RVUs; 52000 = 2.23 work RVUs; 52204 = 2.59 work RVUs; 52601 = 14.00 work RVUs; 55700 = 2.58 work RVUs; and 57288 = 13.00 work RVUs.

CMS Proposed Valuation

We accept the RUC recommendations for these urology services except for CPT code 51798. The RUC recommendation for bladder ultrasound was based on CPT code 79857 (the pelvic ultrasound (nonobstetric) procedure) as the reference code. (CPT code 76857 should be used if the urinary bladder alone is imaged, whereas CPT code 51798 should be utilized if a bladder volume or post-void residual measurement is obtained without imaging the bladder.) We disagree that this is an appropriate reference code because the pelvic ultrasound procedure is very different from a bladder ultrasound procedure. The bladder ultrasound procedure only results in a “numerical reading” of milliliters of residual urine in the bladder and does not produce an image on a screen for a physician to interpret like many other ultrasound procedures (for example, the pelvic ultrasound). Therefore, we disagree with the RUC recommendation to use the 0.38 physician work RVUs for the professional component of code 76857 as the work RVUs for CPT code 51798 because we do not believe this procedure involves physician work since the machine only produces a numerical reading.

c. Spine Surgery

We identified the CPT codes in Table 21 for the 5-Year Review.

Table 21
CPT code | Description
22520 | Percutaneous vertbroplasty, one vertebral body, unilateral or bilateral, injection; thoracic.
22554 | Arthrodesis, anterior interbody technique, including minimal diskectomy to prepare interspace (other than for decompression); cervical below C2.
22612 | Arthrodesis, posterior or posterolateral technique, single level; lumbar (with or without lateral transverse technique).
22840 | Posterior non-segmental instrumentation (e.g., Harrington rod technique, pedicle fixation across one interspace, atlantoaxial transarticular screw fixation, sublaminar wiring at C1, facet screw fixation).
63047 | Laminectomy, facetectomy and foraminotomy (unilateral or bilateral with decompression of spinal cord, cauda equina and/or nerve root(s), (e.g., spinal or lateral recess stenosis)), single vertebral segment; lumbar.
63048 | Laminectomy, facetectomy and foraminotomy (unilateral or bilateral with decompression of spinal cord, cauda equina and/or nerve root(s), (e.g., spinal or lateral recess stenosis)), single vertebral segment; each additional segment, cervical, thoracic, or lumbar (List separately in addition to code for primary procedure).
63075 | Diskectomy, anterior, with decompression of spinal cord and/or nerve root(s), including osteophytectomy; cervical, single interspace.

With approval of the RUC, the specialty society used a modified RUC survey that included surveys of time (pre-service, intra-service, immediate post-service), post-operative visits and estimates of total work. Two reference codes were used to survey the estimates of intensity and complexity. There were well over 100 responses to each survey.

RUC Recommendations

The RUC accepted the specialty society's recommendations to decrease the existing work RVUs for three procedures: CPT codes 22554, 63047 and 63075. The RUC agreed that these procedures were overvalued due to decreases in the length of stay and physician time. The RUC also accepted the specialty society's recommendation to maintain the work associated with CPT codes 22520 and 22840. The RUC agreed with the specialty society that the survey data collected validated the existing work RVUs associated with these codes. For CPT codes 22612 and 63048, the RUC recommended increases in the work RVUs, but less than the increases requested by the specialty society. The RUC agreed that these procedures were undervalued due to increases in length of stay and the incorrect assumptions made in the previous valuation of the service.

The specific RUC-recommended work RVUs were as follows: 22520 = 8.90 work RVUs; 22554 = 16.40 work RVUs; 22612 = 22.00 work RVUs; 22840 = 12.52 work RVUs; 63047 = 14.08 work RVUs; 63048 = 3.55 work RVUs; and 63075 = 18.58 work RVUs.

CMS Proposed Valuation

We accept the work RVUs recommended by the RUC for CPT codes 22520, 22554, 22840, 63047 and 63075. However, we have technical concerns with the recommendations for CPT codes 22612 and 63048.

The workgroup recommended the survey's 25th percentile for CPT code 22612 to keep the appropriate rank order with the reference service, CPT code 22595, which is a more complex procedure. However, there was a typographical error in the information presented by the specialty society that listed the work RVUs for the reference code as 23.36, rather than the correct value of 19.36 work RVUs. Therefore, the recommended work value of 22.00 RVUs is clearly inappropriate and we are proposing to maintain the current work RVUs of 20.97 for this service.

There is an additional typographical error in the specialty society survey data for CPT code 63048. The summary information lists the reference code as also being CPT code 63048. Therefore, there is no information given that compares the respondents' estimates of complexity and intensity between CPT code 63048 and the reference code. Because we do not have sufficient information to decide if the recommended work RVUs are appropriate, we are proposing to maintain the current work RVUs of 3.26 for CPT code 63048.

d. Spinal Pump Infusion and Stimulators

The American Academy of Pain Medicine (AAPM) and the American Society of Anesthesiologists (ASA) initially submitted several CPT codes that were subsequently withdrawn from the 5-Year Review (see Table 22).

Table 22
CPT code | Description
62350 | Implantation, revision or repositioning of tunneled intrathecal or epidural catheter, for long-term medication administration via an external pump or implantable reservoir/infusion pump; without laminectomy.
62351 | Implantation, revision or repositioning of tunneled intrathecal or epidural catheter, for long-term medication administration via an external pump or implantable reservoir/infusion pump; with laminectomy.
62355 | Removal of previously implanted intrathecal or epidural catheter.
62360 | Implantation or replacement of device for intrathecal or epidural drug infusion; subcutaneous reservoir.
62361 | Implantation or replacement of device for intrathecal or epidural drug infusion; non-programmable pump.
62362 | Implantation or replacement of device for intrathecal or epidural drug infusion; programmable pump, including preparation of pump, with or without programming.
62365 | Removal of subcutaneous reservoir or pump, previously implanted for intrathecal or epidural infusion.
63650 | Percutaneous implantation of neurostimulator electrode array, epidural.
63655 | Laminectomy for implantation of neurostimulator electrodes, plate/paddle, epidural.
63660 | Revision or removal of spinal neurostimulator electrode percutaneous array(s) or plate/paddle(s).
63685 | Insertion or replacement of spinal neurostimulator pulse generator or receiver, direct or inductive coupling.
63688 | Revision or removal of implanted spinal neurostimulator pulse generator or receiver.
64550 | Application of surface (transcutaneous) neurostimulator.
64553 | Percutaneous implantation of neurostimulator electrodes; cranial nerve.
64555 | Percutaneous implantation of neurostimulator electrodes; peripheral nerve (excludes sacral nerve).
64560 | Percutaneous implantation of neurostimulator electrodes; autonomic nerve.
64561 | Percutaneous implantation of neurostimulator electrodes; sacral nerve (transforaminal placement).
64565 | Percutaneous implantation of neurostimulator electrodes; neuromuscular.
64573 | Incision for implantation of neurostimulator electrodes; cranial nerve.
64575 | Incision for implantation of neurostimulator electrodes; peripheral nerve (excludes sacral nerve).
64577 | Incision for implantation of neurostimulator electrodes; autonomic nerve.
64580 | Incision for implantation of neurostimulator electrodes; neuromuscular.
64581 | Incision for implantation of neurostimulator electrodes; sacral nerve (transforaminal placement).
64585 | Revision or removal of peripheral neurostimulator electrodes.
64590 | Insertion or replacement of peripheral neurostimulator pulse generator or receiver, direct or inductive coupling.
64595 | Revision or removal of peripheral neurostimulator pulse generator or receiver.

e. Aneurysm, Epilepsy and Skull Procedures

The American Association of Neurological Surgeons (AANS) and Congress of Neurological Surgeons (CNS) submitted six CPT codes for review (see Table 23).

Table 23
CPT code | Description
61537 | Craniotomy with elevation of bone flap; for lobectomy, temporal lobe, without electrocorticography during surgery.
61538 | Craniotomy with elevation of bone flap; for lobectomy, temporal lobe, with electrocorticography during surgery.
61697 | Surgery of complex intracranial aneurysm, intracranial approach; carotid circulation.
61698 | Surgery of complex intracranial aneurysm, intracranial approach; vertebrobasilar circulation.
61700 | Surgery of simple intracranial aneurysm, intracranial approach; carotid circulation.
61702 | Surgery of simple intracranial aneurysm, intracranial approach; vertebrobasilar circulation).

We submitted two CPT codes for review (see Table 24).

Table 24
CPT code | Description
61154 | Burr hole(s) with evacuation and/or drainage of hematoma, extradural or subdural.
61312 | Craniectomy or craniotomy for evacuation of hematoma, supratentorial; extradural or subdural.

A standard RUC survey with over 30 responses was used for six of the codes. The surveys for CPT codes 61537 and 61538 had only 12 and 14 responses, respectively.

RUC Recommendations

The RUC agreed with the specialty society that the existing RVUs for CPT code 61154 should be maintained because there was no compelling evidence that the work currently associated with this procedure has changed. The RUC accepted the specialty society's requested increase to the existing work RVUs, as reflected by the survey median, for CPT code 61312, agreeing with the specialty society that the increased use of anticoagulants by these patients has increased the intensity of the intra-service work. The RUC recommended increasing the work RVUs for CPT codes 61697, 61698, 61700 and 61702, but at or below the surveys' 25th percentile.

While the workgroup recommended maintaining the current work RVUs for CPT codes 61537 and 61538, at the subsequent RUC meeting, the specialty society extracted these codes for discussion and the RUC recommended the 25th percentile from the surveys for the work RVU.

The RUC-recommended work RVUs for these CPT codes are as follows: 61154 = 14.97 work RVUs; 61312 = 27.00 work RVUs; 61537 = 35.00 work RVUs; 61538 = 38.00 work RVUs; 61697 = 57.31 work RVUs; 61698 = 64.03 work RVUs; 61700 = 46.01 work RVUs; and 61702 = 54.28 work RVUs.

CMS Proposed Valuation

We accept the RUC-recommended work RVUs for these neurosurgery services.

4. Radiology, Pathology, and Other Miscellaneous Services

[If you choose to comment on issues in this section, please include the caption “DISCUSSION OF COMMENTS-RADIOLOGY, PATHOLOGY, and OTHER MISC. SERVICES” at the beginning of your comments.]

a. Pathology

The College of American Pathologists submitted four CPT codes for review using the rationale that there have been changes in cancer protocols and the content of work (see Table 25). The specialty society conducted a full RUC survey for these codes.

Table 25
CPT code | Description
88309 | Level VI—Surgical pathology, gross and microscopic examination; Bone Resection; Breast, Mastectomy—with Regional Lymph Nodes; Colon, Segmental Resection for Tumor; Colon, Total Resection; Esophagus, Partial/Total Resection; Extremity, Disarticulation; Fetus, with Dissection; Larynx, Partial/Total Resection—with Regional Lymph Nodes; Lung—Total/Lobe/Segment Resection; Pancreas, Total/Subtotal Resection; Prostate, Radical Resection; Small Intestine, Resection for Tumor; Soft Tissue Tumor, Extensive Resection; Stomach—Subtotal/Total Resection for Tumor; Testis, Tumor; Tongue/Tonsil—Resection for Tumor; Urinary Bladder, Partial/Total Resection; Uterus, with or without Tubes and Ovaries, Neoplastic; Vulva, Total/Subtotal Resection.
88321 | Consultation and report on referred slides prepared elsewhere.
88323 | Consultation and report on referred material requiring preparation of slides.
88325 | Consultation, comprehensive, with review of records and specimens, with report on referred material.

RUC Recommendations

The RUC reviewed the specialty's survey results for each code and believed the specialty society had presented compelling evidence to change the relative work value for each code because all were undervalued for the increased physician work now involved in the services. The RUC believed that the change in work was due to the increased number and type of slides undergoing review in the typical case, and, in particular, the number of immunohistochemical slides that must undergo review. Based on recent literature, the RUC also believed that the clinical practice of these pathology consultations had changed. In addition, the RUC agreed with the specialty society that the survey's 25th percentile reflected the true physician work for each of the codes.

The RUC-recommended work RVUs for these CPT codes are as follows: 88309 = 2.80 work RVUs, 88321 = 1.63 work RVUs, 88323 = 1.83 work RVUs, and 88325 = 2.50 work RVUs.

CMS Proposed Valuation

We are in agreement with all of these RUC-recommended work RVUs for pathology services.

b. Radiation Oncology

We submitted the radiation oncology CPT codes in Table 26 for review.

Table 26
CPT code | Description
77263 | Therapeutic radiology treatment planning; complex.
77280 | Therapeutic radiology simulation-aided field setting; simple.
77290 | Therapeutic radiology simulation-aided field setting; complex.
77300 | Basic radiation dosimetry calculation, central axis depth dose calculation, TDF, NSD, gap calculation, off axis factor, tissue inhomogeneity factors, calculation of non-ionizing radiation surface and depth dose, as required during course of treatment, only when prescribed by the treating physician.
77315 | Teletherapy, isodose plan (whether hand or computer calculated); complex (mantle or inverted Y, tangential ports, the use of wedges, compensators, complex blocking, rotational beam, or special beam considerations).
77331 | Special dosimetry (e.g., TLD, microdosimetry) (specify), only when prescribed by the treating physician.
77334 | Treatment devices, design and construction; complex (irregular blocks, special shields, compensators, wedges, molds or casts).
77470 | Special treatment procedure (e.g., total body irradiation, hemibody radiation, per oral, endocavitary or intraoperative cone irradiation).

Standard RUC surveys were conducted for these services. The survey results indicated that the work RVUs for each code should be maintained at their current level, and the specialty society, the American Society for Therapeutic Radiology and Oncology (ASTRO), recommended no change in the work RVU.

RUC Recommendations

The RUC agreed with the survey results and supported the specialty society's recommendation to maintain the work RVUs. The RUC found no compelling evidence to change the work RVUs for these CPT codes, and therefore, recommended maintaining the current work values for these CPT codes as follows: 77263 = 3.14 work RVUs; 77280 = 0.70 work RVUs; 77290 = 1.56 work RVUs; 77300 = 0.62 work RVUs; 77315 = 1.56 work RVUs; 77331 = 0.87 work RVUs; 77334 = 1.24 work RVUs; and 77470 = 2.09 work RVUs.

CMS Proposed Valuation

We are in agreement with all of these RUC-recommended work RVUs for radiology oncology.

c. Radiology

We requested that the CPT codes for radiology services in Table 27 be reviewed.

Table 27
CPT code | Description
70355 | Orthopantogram.
71010 | Radiologic examination, chest; single view, frontal.
71020 | Radiologic examination, chest, two views, frontal and lateral.
71260 | Computed tomography, thorax; with contrast material(s).
72192 | Computed tomography, pelvis; without contrast material.
72193 | Computed tomography, pelvis; with contrast material(s).
73100 | Radiologic examination, wrist; two views.
73110 | Radiologic examination, wrist; complete, minimum of three views.
73120 | Radiologic examination, hand; two views.
73130 | Radiologic examination, hand; minimum of three views.
73140 | Radiologic examination, finger(s), minimum of two views.
74000 | Radiologic examination, abdomen; single anteroposterior view.
74020 | Radiologic examination, abdomen; complete, including decubitus and/or erect views.
74022 | Radiologic examination, abdomen; complete acute abdomen series, including supine, erect, and/or decubitus views, single view chest.
74150 | Computed tomography, abdomen; without contrast material.
74160 | Computed tomography, abdomen; with contrast material(s).
76075 | Dual energy x-ray absorptiometry (DXA), bone density study, one or more sites; axial skeleton (e.g., hips, pelvis, spine).
76700 | Ultrasound, abdominal, B-scan and/or real time with image documentation; complete.
76830 | Ultrasound, transvaginal.
78306 | Bone and/or joint imaging; whole body.
78315 | Bone and/or joint imaging; three phase study.
78465 | Myocardial perfusion imaging; tomographic (SPECT), multiple studies (including attenuation correction when performed), at rest and/or stress (exercise and/or pharmacologic) and redistribution and/or rest injection, with or without quantification.
78478 | Myocardial perfusion study with wall motion, qualitative or quantitative study (List separately in addition to code for primary procedure).
78480 | Myocardial perfusion study with ejection fraction (List separately in addition to code for primary procedure).

In addition, the American College of Cardiology (ACC) and American College of Radiology (ACR) recommended four cardiac imaging codes be sent to the CPT Editorial Panel for review and clarification so that they may reflect current practice patterns (see Table 28). The RUC agreed with this recommendation.

Table 28
CPT code | Description
75552 | Cardiac magnetic resonance imaging for morphology; without contrast material.
75553 | Cardiac magnetic resonance imaging for morphology; with contrast material.
75554 | Cardiac magnetic resonance imaging for function, with or without morphology; complete study.
75555 | Cardiac magnetic resonance imaging for function, with or without morphology; limited study).

The specialty societies conducted standard RUC surveys for the remaining services.

RUC Recommendations

The RUC agreed with the survey results and found there was no compelling evidence to change the work RVUs for CPT codes 70355, 71010, 71020, 71260, 72192, 72193, 73100, 73110, 73120, 73130, 73140, 74000, 74020, 74022, 74150, 74160, 76700, 76830, 78306, 78315, and 78465.

The RUC recommended a reduction in the work RVU for the DXA service, CPT code 76075, because the workgroup believed that the actual work is less intense and more mechanical than the specialty society's description of the work. In addition, the RUC believed that the survey results provided insufficient evidence to support the current work RVU associated with CPT code 78478 and also believed that the physician time was overestimated. The RUC also recommended a reduction in the work RVUs for CPT code 78480 because it was not in the correct rank order and was therefore overvalued.

The RUC-recommended work RVUs for these CPT codes are as follows: 70355 = 0.20 work RVUs; 71010 = 0.18 work RVUs; 71020 = 0.22 work RVUs; 71260 = 1.24 work RVUs; 72192 = 1.09 work RVUs; 72193 = 1.16 work RVUs; 73100 = 0.16 work RVUs; 73110 = 0.17 work RVUs; 73120 = 0.16 work RVUs; 73130 = 0.17 work RVUs; 73140 = 0.13 work RVUs; 74000 = 0.18 work RVUs; 74020 = 0.27 work RVUs; 74022 = 0.32 work RVUs; 74150 = 1.19 work RVUs; 74160 = 1.27 work RVUs; 76075 = 0.20 work RVUs; 76700 = 0.81 work RVUs; 76830 = 0.69 work RVUs; 78306 = 0.86 work RVUs; 78315 = 1.02 work RVUs; 78465 = 1.46 work RVUs; 78478 = 0.50 work RVUs; and 78480 = 0.30 work RVUs.

CMS Proposed Valuation

We are in agreement with all of these RUC-recommended work RVUs for radiology services.

d. Endoscopy Procedures

We requested the RUC to review five endoscopy CPT codes because they had never been reviewed by the RUC (see Table 29). Standard RUC surveys were conducted.

Table 29
CPT code | Description
43235 | Upper gastrointestinal endoscopy including esophagus, stomach, and either the duodenum and/or jejunum as appropriate; diagnostic, with or without collection of specimen(s) by brushing or washing (separate procedure).
43246 | Upper gastrointestinal endoscopy including esophagus, stomach, and either the duodenum and/or jejunum as appropriate; with directed placement of percutaneous gastrostomy tube.
43750 | Percutaneous placement of gastrostomy tube.
45330 | Sigmoidoscopy, flexible; diagnostic, with or without collection of specimen(s) by brushing or washing (separate procedure).
45378 | Colonoscopy, flexible, proximal to splenic flexure; diagnostic, with or without collection of specimen(s) by brushing or washing, with or without colon decompression (separate procedure).

RUC Recommendations

The RUC agreed with the survey results and found no compelling evidence to change the work RVUs for any of these services. Therefore, the RUC recommended the work values for these CPT codes be maintained as follows: 43235 = 2.39 work RVUs; 43246 = 4.32 work RVUs; 43750 = 4.48 work RVUs; 45330 = 0.96 work RVUs; and 45378 = 3.69 work RVUs.

CMS Proposed Valuation

We are in agreement with the RUC-recommended work RVUs for endoscopic procedure codes.

e. Neurology, Neuromuscular, and Nervous System

The American Academy of Neurology (AAN), American Clinical Neurophysiology Society (ACNS), American Association of Neuromuscular and Electrodiagnostic Medicine (AANEM), and the American Academy of Physical Medicine and Rehabilitation (AAPMR) submitted five neurology and neuromuscular CPT codes for this 5-Year Review and AAN and the American Academy of Pediatrics (AAP) jointly submitted CPT code 62270 (see Table 30).

Table 30
CPT code | Description
62270 | Spinal puncture, lumbar, diagnostic.
95872 | Needle electromyography using single fiber electrode, with quantitative measurement of jitter, blocking and/or fiber density, any/all sites of each muscle studied.
95925 | Short-latency somatosensory evoked potential study, stimulation of any/all peripheral nerves or skin sites, recording from the central nervous system; in upper limbs.
95926 | Short-latency somatosensory evoked potential study, stimulation of any/all peripheral nerves or skin sites, recording from the central nervous system; in lower limbs.
95927 | Short-latency somatosensory evoked potential study, stimulation of any/all peripheral nerves or skin sites, recording from the central nervous system; in the trunk or head.
95953 | Monitoring for localization of cerebral seizure focus by computerized portable 16 or more channel EEG, electroencephalographic (EEG) recording and interpretation, each 24 hours.

In addition, we requested the RUC to review five neurological CPT codes (see Table 31).

Table 31
CPT code | Description
95816 | Electroencephalogram (EEG); including recording awake and drowsy.
95819 | Electroencephalogram (EEG); including recording awake and asleep.
95861 | Needle electromyography; two extremities with or without related paraspinal areas.
95900 | Nerve conduction, amplitude and latency/velocity study, each nerve; motor, without F-wave study.
95904 | Nerve conduction, amplitude and latency/velocity study, each nerve; sensory.

Standard RUC surveys were conducted for these services. The specialty societies believed the survey results indicated that the current work RVUs were either correctly valued or undervalued.

RUC Recommendations

The RUC found no compelling evidence to change the work RVUs for CPT codes 95816, 95819, 95861, 95900, 95904, 95925, 95926, and 95927. However, the RUC agreed that there was compelling evidence that CPT codes 95872 and 95953 were undervalued and recommended increasing their existing RVUs.

The RUC-recommended work RVUs for these services are as follows: 95816 = 1.08 work RVUs; 95819 = 1.08 work RVUs; 95861 = 1.54 work RVUs; 95872 = 3.00 work RVUs; 95900 = 0.42 work RVUs; 95904 = 0.34 work RVUs; 95925 = 0.54 work RVUs; 95926 = 0.54 work RVUs; 95927 = 0.54 work RVUs; and 95953 = 3.30 work RVUs.

For CPT code 62270, the RUC believed that there is a bimodal distribution of physician work associated with the code because there are two different typical patient types, infants and young children. The RUC and the specialty societies believed that the infant population requires less work than in the young child population. The RUC suggested that it may be reasonable for the specialty societies to eventually consider splitting the code into the two typical patient types to capture any differences in physician work. However, for the current CPT code 62270, the RUC recommended that it should be valued higher and recommended a work RVU of 1.37.

CMS Proposed Valuation

We are in agreement with all of the RUC-recommended work RVUs for neurology, neuromuscular and nervous system services except for the recommendation for CPT code 95872. We have concerns that the work recommendation for this service, which was based on the survey's 75th percentile for work, is not the correct valuation and is inappropriate for this service. We calculated the pre-service and post-service work RVU using the surveyed physician time data. Then, we subtracted the surveyed intra-service time from the current time. Next, we multiplied this difference in time by the calculated IWPUT using the specialty recommended total work RVUs to determine an intra-service work RVU. Adding the calculated work RVUs resulted in a work RVU of slightly less than 2.0, which is close to the same value as the survey median work RVU. In accordance with this analysis and the survey median, we are recommending a work RVU of 2.00.

f. Pulmonary Medicine

We requested the RUC to review three pulmonary medicine CPT codes (see Table 32).

Table 32
CPT code | Description
31622 | Bronchoscopy, rigid or flexible, with or without fluoroscopic guidance; diagnostic, with or without cell washing (separate procedure).
94010 | Spirometry, including graphic record, total and timed vital capacity, expiratory flow rate measurement(s), with or without maximal voluntary ventilation.
94657 | Ventilation assist and management, initiation of pressure or volume preset ventilators for assisted or controlled breathing; subsequent days.

Standard RUC surveys were conducted. The specialty societies believed the survey results indicated that the current work RVUs were either correctly valued or undervalued.

RUC Recommendations

The RUC reviewed the survey results and recommendations from the specialty society for CPT codes 31622 and 94010 and found no compelling reason to change the work RVUs for these codes. However, the RUC agreed with the specialty society that the time data elements from the survey results reflected the typical patient encounter.

The RUC did find compelling evidence to support the specialty society's recommendation and survey work value results for CPT code 94657. However, the RUC determined that a rank order anomaly would be created with CPT code 94656 if the recommended value for CPT code 94657 was adopted. Therefore, the RUC recommended that this code be referred to the CPT Editorial Panel.

The RUC-recommended work RVUs for these codes are as follows: 31622 = 2.78 work RVUs and 94010 = 0.17 work RVUs.

CMS Proposed Valuation

We are in agreement with these RUC-recommended work RVUs for pulmonary medicine services.

g. Miscellaneous Services

(i) Anesthesia

The ASA requested that the RUC review code 00797, Anesthesia for intraperitoneal procedures in upper abdomen including laparoscopy; gastric restrictive procedure for morbid obesity. The ASA believed that the results of the standard RUC survey conducted by the specialty society indicated the physician work was undervalued for this code.

RUC Recommendations

The RUC reviewed the survey results and specialty society recommendation and agreed with its recommended median base unit value and physician time for the code. The RUC recommended base unit valuation for this service was 11.00.

CMS Proposed Valuation

We are in agreement with the RUC recommendation for CPT code 00797.

(ii) Allergy and Immunology

The Joint Council of Allergy, Asthma, and Immunology (JCAAI) and the American Academy of Otolaryngic Allergy (AAOA) submitted five codes without work relative values for this 5-Year Review based on the rationale that physician work was inherent in the service (see Table 33). The specialties subsequently withdrew CPT codes 95115 and 95117 from consideration.

Table 33
CPT code | Description
95004 | Percutaneous tests (scratch, puncture, prick) with allergenic extracts, immediate type reaction, specify number of tests.
95024 | Intracutaneous (intradermal) tests with allergenic extracts, immediate type reaction, specify number of tests.
95027 | Intracutaneous (intradermal) tests, sequential and incremental, with allergenic extracts for airborne allergens, immediate type reaction, specify number of tests.
95115 | Professional services for allergen immunotherapy not including provision of allergenic extracts; single injection.
95117 | Professional services for allergen immunotherapy not including provision of allergenic extracts; two or more injections.

In addition, we requested the RUC to review the immunotherapy CPT codes in Table 34 because they had never been reviewed by the RUC. Standard RUC surveys were conducted.

Table 34
CPT code | Description
95144 | Professional services for the supervision of preparation and provision of antigens for allergen immunotherapy, single dose vial(s) (specify number of vials).
95165 | Professional services for the supervision of preparation and provision of antigens for allergen immunotherapy; single or multiple antigens (specify number of doses).

RUC Recommendations

The RUC reviewed the specialty society recommendations, and survey results recommended that CPT codes 95004, 95024, and 95027 be referred to the CPT Editorial Panel for clarification and possible revision. The RUC recommended that the current work RVUs be maintained for CPT codes 95144 and 95165, because there was no compelling evidence for a change. The RUC-recommended work RVUs for these CPT codes are: 95144 = 0.06 work RVUs; and 95165 = 0.06 work RVUs.

CMS Proposed Valuation

We are in agreement with these RUC-recommended work RVUs for allergy and immunology services.

(iii) Pediatric codes

The AAP requested that the RUC review eight pediatric-related CPT codes for this 5-Year Review (see Table 35). However, two of these CPT codes (90473 and 90474) were subsequently withdrawn by AAP. The remaining six codes were referred to the CPT Editorial Panel for review.

Table 35
CPT code | Descriptor
54150 | Circumcision, using clamp or other device; newborn.
54152 | Circumcision, using clamp or other device; except newborn.
90465 | Immunization administration under 8 years of age (includes percutaneous, intradermal, subcutaneous, or intramuscular injections) when the physician counsels the patient/family; first injection (single or combination vaccine/toxoid), per day.
90466 | Immunization administration under 8 years of age (includes percutaneous, intradermal, subcutaneous, or intramuscular injections) when the physician counsels the patient/family; each additional injection (single or combination vaccine/toxoid), per day (List separately in addition to code for primary procedure).
90467 | Immunization administration under age 8 years (includes intranasal or oral routes of administration) when the physician counsels the patient/family; first administration (single or combination vaccine/toxoid), per day.
90468 | Immunization administration under age 8 years (includes intranasal or oral routes of administration) when the physician counsels the patient/family; each additional administration (single or combination vaccine/toxoid), per day (List separately in addition to code for primary procedure).
90473 | Immunization administration by intranasal or oral route; one vaccine (single or combination vaccine/toxoid).
90474 | Immunization administration by intranasal or oral route; each additional vaccine (single or combination vaccine/toxoid) (List separately in addition to code for primary procedure).

(iv) Cardiology-Related Services

We requested that the RUC review five cardiology-related CPT codes (see Table 36). The specialty societies believed that the standard RUC survey results indicated that the work RVUs for each code should be either maintained or decreased from their current level.

Table 36
CPT code | Description
33208 | Insertion or replacement of permanent pacemaker with transvenous electrode(s); atrial and ventricular.
93010 | Electrocardiogram, routine ECG with at least 12 leads; interpretation and report only.
93015 | Cardiovascular stress test using maximal or submaximal treadmill or bicycle exercise, continuous electrocardiographic monitoring, and/or pharmacological stress; with physician supervision, with interpretation and report.
93018 | Cardiovascular stress test using maximal or submaximal treadmill or bicycle exercise, continuous electrocardiographic monitoring, and/or pharmacological stress; interpretation and report only.
93325 | Doppler echocardiography color flow velocity mapping (List separately in addition to codes for echocardiography).

RUC Recommendations

The RUC reviewed the survey results and found no compelling evidence to change the work RVUs for CPT codes 33208, 93010, 93015, and 93018. However, CPT code 93325 was referred to the CPT Editorial Panel by the RUC with the recommendation that this service be bundled with CPT code 93307, Echocardiography, transthoracic, real-time with image documentation (2D) with or without M-mode recording; complete.

The RUC-recommended work RVUs for these CPT codes are as follows: 33208 = 8.12 work RVUs; 93010 = 0.17 work RVUs; 93015 = 0.75 work RVUs; and 93018 = 0.30 work RVUs.

CMS Proposed Valuation

We are in agreement with these RUC-recommended work RVUs for cardiology related services.

5. Evaluation and Management (E/M) Services

[If you choose to comment on issues in this section, please include the caption “DISCUSSION OF COMMENTS—EVALUATION AND MANAGEMENT SERVICES” at the beginning of your comments.]

A consortium of 27 organizations submitted a consensus comment letter stating that the work of E/M services has changed significantly since the E/M codes were reviewed during the first 5-Year Review and requested that the E/M codes be reviewed (see Table 37).

In addition, the following specialty societies submitted requests that individual E/M CPT codes be reviewed: The American Academy of Family Physicians (AAFP), the American Medical Directors Association (AMDA), the American Geriatric Society (AGS), the American Association for Geriatric Psychiatry (AAGP), the ASA, and the American Academy of Home Care Physicians (AAHCP).

BILLING CODE 4120-01-C

Standard RUC surveys of the E/M services were conducted by a coalition of medical specialty societies. Recommendations of the coalition, as well as comments from the coalition of surgical specialties, were considered by the RUC workgroup.

RUC Recommendations

The RUC E/M workgroup conferred via conference call throughout the summer of 2005 and reviewed previous studies and methodologies used to evaluate the physician work related to the E/M services. At the first meeting in August of 2005, the workgroup considered the recommendations of the coalition of medical specialty societies, as well as the comments of the coalition of surgical specialties that countered the arguments presented regarding increased physician work. After extensive discussion, the workgroup agreed that there was evidence that incorrect assumptions were made in the previous valuation of these services. The workgroup reviewed each E/M code extensively, reviewing the survey from the coalition of medical specialties, comparing the codes to reference codes and considering comments from the surgical coalition and other meeting attendees.

At the RUC meeting in October 2005, the RUC agreed that there was compelling evidence to review the E/M services because of evidence that incorrect assumptions were made in the previous valuation of the services. The RUC approved final recommendations for 26 of these codes, interim recommendations for six codes (CPT codes 99222, 99223, 99232, 99233, 99291, and 99292) and postponed the review of three codes (CPT codes 99213, 99214, and 99215) to the February 2006 meeting.

At the February 2006 meeting, the RUC reached consensus on the recommended work values for all the outstanding E/M codes. As an example of the RUC review process, we are including the RUC notes on the rationale used to recommend a revised work value for CPT code 99213, the mid-level office visit, which is also the most frequently billed code in the PFS:

“The RUC agreed that the compelling evidence to review CPT code 99213 is that incorrect assumptions were made in the previous valuation of CPT code 99213 (that is, the assumptions made by Harvard and CMS are flawed). The RUC extensively discussed CPT code 99213 (physician time: pre- = 3, intra- = 15, and post- = 5) and agreed that this code is slightly more work than CPT code 99202 (recommended work RVU = 0.88; physician time: pre- = 2, intra- = 15, and post- = 5). It was noted the content for CPT code 99213 represents a higher level of intensity as the medical decision making is “low” for CPT code 99213, versus “straightforward” for CPT code 99202. CMS also provided utilization data that indicated that diagnosis and number of diagnosis were more significant for CPT code 99213 than CPT code 99202. Finally, the survey respondents agreed with this relationship, as the survey median work RVU for “all” survey respondents was 1.10 for CPT code 99213 and 1.05 for CPT code 99202. Utilizing this relationship and the recommended work RVU of 0.88 for CPT code 99202, the RUC determined that a work RVU of 0.92 for CPT code 99213 is appropriate. In addition, the RUC agreed that CPT code 99213 is similar in work to CPT code 93307 Echocardiography, transthoracic, real-time with image documentation (2D) with or without M-mode recording; complete (work RVU = 0.92, physician time: pre- = 5, intra- = 18, and post- = 5), which is a code included on the RUC's Multi-Specialty Points of Comparison (MPC). It was also noted that the 25th percentile of the ‘all’ survey respondent, weighted survey data was 0.95 RVUs. The RUC recommends a work RVU of 0.92 for CPT code 99213 (physician time: pre- = 3, intra- = 15, and post- = 5).”

The RUC also recommended that the full increase for these codes be incorporated into the surgical global periods for each CPT code with a global period of 010 and 090.

Based on a review of the survey information, the RUC recommended that the work RVUs for the following CPT codes be maintained: 99201 = 0.45 work RVUs; 99202 = 0.88 work RVUs; 99203 = 1.34 work RVUs; 99211 = 0.17 work RVUs; 99212 = 0.45 work RVUs; 99238 = 1.28 work RVUs; and 99241 = 0.64 work RVUs.

The RUC also recommended that the work RVUs for the following CPT codes be increased: 99204 = 2.30 work RVUs; 99205 = 3.00 work RVUs; 99213 = 0.92 work RVUs; 99214 = 1.42 work RVUs; 99215 = 2.00 work RVUs; 99221 = 1.88 work RVUs; 99222 = 2.56 work RVUs; 99223 = 3.78 work RVUs; 99231 = 0.76 work RVUs; 99232 = 1.39 work RVUs; 99233 = 2.00 work RVUs; 99239 = 1.90 work RVUs; 99242 = 1.34 work RVUs; 99243 = 1.88 work RVUs; 99244 = 3.02 work RVUs; 99245 = 3.77 work RVUs; 99251 = 1.00 work RVUs; 99252 = 1.50 work RVUs; 99253 = 2.27 work RVUs; 99254 = 3.29 work RVUs; 99255 = 4.00 work RVUs; 99281 = 0.45 work RVUs; 99282 = 0.88 work RVUs; 99283 = 1.34 work RVUs; 99284 = 2.56 work RVUs; 99285 = 3.80 work RVUs; 99291 = 4.50 work RVUs; and 99292 = 2.25 work RVUs.

The RUC also noted that twelve E/M codes (nursing facility and domiciliary care) originally submitted had been deleted by CPT and replaced by new CPT codes that were reviewed by the RUC last year. These new CPT codes were included in the CY 2006 PFS final rule with comment period (70 FR 70116) and the associated RVUs were considered interim and subject to comment. Therefore, these new CPT codes were not included as part of the 5-Year Review.

CMS Proposed Valuation

We are in agreement with these RUC recommended work RVUs for E/M services. We also agree with the recommendation that the full increase for these codes should be incorporated into the surgical global periods for each CPT code with a global period of 010 and 090.

6. Cardiothoracic Surgery

[If you choose to comment on issues in this section, please include the caption “DISCUSSION OF COMMENTS—CARDIOTHORACIC SURGERY” at the beginning of your comments.]

a. Congenital Codes

The STS/ American Association for Thoracic Surgery (AATS) submitted the congenital cardiac surgical CPT codes for review (see Table 38).

Table 38
CPT code | Descriptor
33414 | Repair of left ventricular outflow tract obstruction by patch enlargement of the outflow tract.
33416 | Ventriculomyotomy (-myectomy) for idiopathic hypertrophic subaortic stenosis (e.g., asymmetric septal hypertrophy).
33505 | Repair of anomalous coronary artery from pulmonary artery origin; with construction of intrapulmonary artery tunnel (Takeuchi procedure).
33665 | Repair of intermediate or transitional atrioventricular canal, with or without atrioventricular valve repair.
33684 | Closure of ventricular septal defect, with or without patch; with pulmonary valvotomy or infundibular resection (acyanotic).
33688 | Closure of ventricular septal defect, with or without patch; with removal of pulmonary artery band, with or without gusset.
33771 | Repair of transposition of the great arteries with ventricular septal defect and subpulmonary stenosis; with surgical enlargement of ventricular septal defect.
33779 | Repair of transposition of the great arteries, aortic pulmonary artery reconstruction (e.g., Jatene type); with removal of pulmonary band.
33781 | Repair of transposition of the great arteries, aortic pulmonary artery reconstruction (e.g., Jatene type); with repair of subpulmonic obstruction.

The commenters stated that at the second 5-Year Review, many of the more common congenital cardiac surgical codes were reviewed, and the values were adjusted. However, at that time, these much less commonly performed congenital cardiac surgical codes were not surveyed due to resource and time constraints. The commenter believed that this has created rank order anomalies within these families of codes.

Standard RUC surveys were conducted for the services in Table 38. However, there was a low response rate that was attributable to these procedures being infrequently performed by a small number of surgeons.

RUC Recommendations

The RUC believed that the current work RVUs for the codes presented created rank order anomalies in terms of the physician work relative value, but, during the review, the RUC agreed that a number of the reference procedures had inaccurate physician times. When the reference code times were compared with the surveyed times for the codes under review, the RUC noted inconsistencies in all time segments, including intra-service time. The RUC reviewed the survey data and the data for the reference codes, and made recommendations for work RVUs to place the surveyed codes in proper rank order. Recommendations for work RVUs reflected the survey's 25th percentile, the median survey value, or the time-adjusted survey data, which was based on time adjustments for certain portions of the service when compared to the reference codes. Due to concern about the accuracy of time for some of the reference codes, the RUC also recommended that the specialty society conduct future surveys for physician time only for CPT codes 33660, 33670, 33506, 33770, and 33780. However, the RUC agreed that the new 5-Year Review values and times could not be used to justify changes in the relative values of the reference services.

The RUC-recommended work RVUs for these CPT codes are as follows: 33414 = 36.52 work RVUs; 33416 = 34.25 work RVUs; 33505 = 36.00 work RVUs; 33665 = 32.98 work RVUs; 33684 = 32.50 work RVUs; 33688 = 32.88 work RVUs; 33771 = 38.50 work RVUs; 33779 = 41.00 work RVUs; and 33781 = 41.00 work RVUs.

b. Adult Cardiac and General Thoracic Codes

The STS/ATTS submitted 46 adult cardiac CPT codes for review and 27 general thoracic CPT codes for review but subsequently withdrew two CPT codes (32095 and 35600). The specialty believed many of these CPT codes needed to be reviewed due to the rank order anomalies that exist in these families of CPT codes (see Table 39).

We submitted two CPT codes for review, 32020 and 39400; however, no specialty expressed an interest in conducting a survey for CPT code 32020 so there was no RUC recommendation forwarded for this service. (See Table 39 for all codes submitted.)

BILLING CODE 4120-01-P

BILLING CODE 4120-01-C

The RUC had previously approved a building-block methodology based on the STS database, which would provide a mean intra-service time for the adult cardiac and general thoracic codes, as well as the procedure-specific length of stay. Two intensity surveys were also conducted and the final recommended intensity was an average of the two survey results. The remaining pre-service and post-service inputs were derived through a panel of cardiac surgeons.

The add-on CPT codes (33141, 33517 through 33523 and 33530) were evaluated by subtracting the time data for the base code from the time data for the combined base and add-on codes, with the results weighted for frequency of occurrence.

RUC Recommendations

The RUC workgroup reviewed the data elements for each code on a code-by-code basis. Most of the discussion focused on the number and level of post-operative visits, as well as the pre-service time. For the adult cardiac and general thoracic codes, the RUC agreed that the pre-service time was overstated and needed to reflect previously approved RUC pre-service times. Also, the RUC questioned the total times allocated to the codes when compared to a normal surgical work week. The workgroup developed a pre-service time standard that was used for a majority of the codes. This standard consisted of 60 minutes for evaluation, 15 minutes for positioning, and 20 minutes for scrub dress and wait time. For emergent procedures, the pre-service times were set at 10 minutes for evaluation, 12 minutes for positioning, and 15 minutes for scrub dress and wait time. The immediate post-service time was examined in conjunction with other visits on the same day of surgery. For most of the codes, the immediate post-service time was standardized at 40 minutes.

The intra-service times were derived from the STS database with mean times used for the adult cardiac codes and median times for the general thoracic codes. Because the general thoracic codes have a much lower number of cases in the database, the STS believed that the median was more appropriate. The RUC agreed with the specialty society that critical care visits should be used in the STS building-block methodology for all of the adult cardiac codes and for 13 of the general thoracic codes.

The assignment of the level of critical care services was recommended for each code based on the STS panel's knowledge and experience in caring for these patients, within the framework of the duration of mechanical ventilation and the length of intensive care unit (ICU) stay provided by appropriate data in the STS database. The RUC also made changes to the hospital visits on a line-by-line basis, but used the STS length of stay data as a guide. Generally, the level of hospital visits was reduced so that the total number of visits equaled the length of stay. On the day of discharge, the RUC assigned a discharge day management code as the only service provided on that day.

During the review of various cardiothoracic surgery procedures, the RUC determined that several of the reference service codes used in the analysis of surveyed codes (specifically, CPT codes 33506, 33660, 33670, 33770 and 33780) had inaccurate physician times associated with them. The RUC instructed the specialty society to conduct a survey of time for these reference codes; however, these times could not be used to justify new relative values.

The RUC recommended work RVUs for these CPT codes were as follows:

General Thoracic codes: 32141 = 23.90 work RVUs; 32442 = 51.45 work RVUs; 32445 = 57.74 work RVUs; 32484= 23.25 work RVUs; 32486 = 39.44 work RVUs; 32488 = 38.95 work RVUs; 32540 = 26.42 work RVUs; 32651 = 16.64 work RVUs; 32652 = 26.35 work RVUs; 32653 = 16.24 work RVUs; 32654 = 17.73 work RVUs; 32655 = 14.69 work RVUs; 32657 = 11.90 work RVUs; 32662 = 14.29 work RVUs; 32663 = 23.00 work RVUs; 32665 = 19.56 work RVUs; 32815 = 42.94 work RVUs; 39220 = 18.40 work RVUs; 39400 = 7.61 work RVUs; 43108 = 76.55 work RVUs; 43113 = 73.23 work RVUs; 43116 = 87.16 work RVUs; 43118 = 61.08 work RVUs; 43121 = 46.59 work RVUs; 43123 = 76.14 work RVUs; 43124 = 60.61 work RVUs; 43135 = 24.20 work RVUs. As noted above in this section, there was no RUC recommendation forwarded for CPT code 32020.

Adult Cardiac codes: 33140 = 25.49 work RVUs; 33141 = 2.43 work RVUs; 33300 = 40.03 work RVUs; 33305 = 70.21 work RVUs; 33400 = 38.33 work RVUs; 33405 = 37.82 work RVUs; 33406 = 49.18 work RVUs; 33410 = 42.91 work RVUs; 33411 = 56.91 work RVUs; 33413 = 56.19 work RVUs; 33415 = 34.58 work RVUs; 33425 = 45.97 work RVUs; 33426 = 39.78 work RVUs; 33427 = 41.82 work RVUs; 33430 = 46.45 work RVUs; 33460 = 40.19 work RVUs; 33463 = 50.93 work RVUs; 33464 = 40.30 work RVUs; 33465 = 45.72 work RVUs; 33474 = 36.39 work RVUs; 33475 = 39.39 work RVUs; 33510 = 31.75 work RVUs; 33511 = 35.22 work RVUs; 33512 = 40.26 work RVUs; 33513 = 41.65 work RVUs; 33514 = 44.36 work RVUs; 33516 = 46.04 work RVUs; 33517 = 3.36 work RVUs; 33518 = 7.41 work RVUs; 33519 = 9.91 work RVUs; 33521 = 12.01 work RVUs; 33522 = 13.53 work RVUs; 33523 = 15.39 work RVUs; 33530 = 9.78 work RVUs; 33533 = 30.85 work RVUs; 33534 = 36.98 work RVUs; 33535 = 41.85 work RVUs; 33536 = 45.53 work RVUs; 33542 = 44.20 work RVUs; 33545 = 52.49 work RVUs; 33641 = 27.71 work RVUs; 33860 = 55.45 work RVUs; 33863 = 55.10 work RVUs; 33945 = 80.84 work RVUs; and 35820 = 32.24 work RVUs.

CMS Proposed Valuation

We are in agreement with the RUC-recommended work RVUs for the congenital cardiac surgery services.

As mentioned above, the general thoracic and adult cardiac surgery codes submitted to the RUC for review did not undergo the standard RUC survey methodology. Rather, the data pertaining to these codes were derived from the STS database, a voluntary registry developed by the STS that has reportedly captured data on approximately 70 percent of all cardiac surgical procedures in the United States.

We believe that the STS database, which also captures outcomes data, is a significant tool in the effort to improve the quality of patient care and we hope that this kind of data collection will be emulated by other specialties. We also believe that the time and visit data contained in this database could be a useful adjunct to the RUC's validation of the standard RUC survey results. However, we have significant concerns with its use as a tool to derive work RVUs without reference to a standard RUC survey. We have questions regarding the representativeness of the data in the STS database because it is unclear what percentage of the patients in the database is derived from academic medical centers versus community hospitals or whether the cases are selectively reported (for example, does the case mix contain a disproportionate number of complex cases?) We also would like information regarding the type of hospitals that chose not to participate in the database. Additionally, while we recognize this database has collected large numbers of cases for cardiac services, the database was not robust for the non-cardiac thoracic service.

In addition, we would also want to know the median values, as well as the mean values, for the intra-service time for the adult cardiac services because the RUC's standard methodology is based on median values. Therefore, we are concerned about maintaining the relativity between these services and those where the median values were used to recommend the work RVUs. We also believe the median is a better estimate of central tendency when more extreme cases occur in either direction.

However, our main concern is not with the time data itself, but rather with how these data were translated into work RVUs because work RVUs are not calculated solely on the basis of the time it takes to perform a given procedure. The other equally important variable is the intensity of the procedure, which is a measure of the technical skill, mental effort, and psychological stress involved in performing the procedure. The standard RUC survey captures these data by comparisons to the key reference procedure, asking the responders to rate both the surveyed and reference codes on the specific intensity measures, using a scale of one to five.

The presenting specialties used an entirely different methodology to arrive at their intensity measures by estimating the IWPUT of each service. The presenters stated that the IWPUT was estimated using two methods: IWPUT magnitude estimation and RASCH paired analysis for each code. According to the presenters, the IWPUT magnitude estimation produced direct IWPUT values and the RASCH analysis produced arbitrary scalar values as estimates of CPT code intensity rank and dispersion. These values were converted to IWPUT values by regression of the results to obtain slope, and offset of the results was based on the median value of the magnitude estimation survey. Each RASCH scalar was then converted to IWPUT with the formula y = mx + b where m is the slope and b is the y-intercept.

Though we appreciate the effort that went into such a method, we have several concerns with this approach: (1) We do not believe that the RASCH paired analysis methodology has been approved by the RUC, and has certainly not yet been accepted by CMS as a method for calculating the intensity of a service; (2) we also would want to know more about the surveys themselves, as well as the instructions to the surveyees, before agreeing to any work RVUs based on this method; and (3) we are concerned that the relativity of the fee schedule could be compromised by using such a different method to determine the work relative values of a small number of codes because current work RVUs for other services are not based on this methodology. In addition, we have a further concern regarding the appropriate relativity of the RUC recommendations for these thoracic and cardiac procedures. If we assume the times in the STS database are accurate, by comparing the intra-service times in the STS database to the median times from the surveys done in 2000 for these codes, it appears that surgeons might often underestimate the time spent in the intra-service period. If this is actually the case here, then this could also be true for other services that would not have the benefit of this database. The acceptance of the work RVUs derived by this methodology could then produce rank order anomalies with codes done by other specialties and the relativity of the fee schedule could be compromised by the selective use of this database.

We would not want to see the RUC abandon its survey methodology, unless a better approach can be found that can be applied to all services. We understand that the standard RUC survey process is not perfect, but it does provide an even playing field for all specialties and we would be concerned if each specialty was allowed to develop its own unique method for estimating work RVUs. Therefore, we would recommend that the RUC review this issue again to determine the appropriate use of data sources other than the RUC survey.

It is our responsibility to assure all medical specialties that we will review and evaluate their services using an approach that is accepted by the AMA and CMS. However, we do not know how to use this STS data to compare the relativity of these thoracic and cardiac surgery services to services of similar intensity in other clinical areas. Therefore, we are proposing not to accept the RUC work RVU recommendations for these codes. Because the RUC did approve the use of the STS database and the specialty societies put forth a substantial effort to present their data to the RUC, based on that approval, we also do not think it would be appropriate to propose maintaining the current values.

We believe the standard RUC survey process used to evaluate the cardiac surgery codes during the second 5-Year Review had the correct incremental increase in work RVUs between codes, as well as the appropriate intensity for each code. We have calculated the IWPUT for the current values for all of the cardiac codes submitted for review (excluding the add-on codes discussed below) and multiplied the IWPUT of each code with the time proposed for that code to yield a new RVU for that service. We also calculated an IWPUT for the thoracic codes using the current values. Because we do not have survey data, we believe this is a fair way to value the proposed codes while maintaining the incremental increase between codes. We look forward to comments on this issue and would be willing to consider future RUC recommendations if the specialty societies wish to submit standard RUC surveys for these codes.

CPT codes 33517, 33518, 33519, 33521, 33522, and 33523 are coronary surgery bypass codes using venous grafts and arterial grafts. These are add-on codes used in conjunction with the primary code, a coronary arterial graft. Add-on codes reflect the additional intra-service time required to perform the additional venous anastomoses. These codes do not contain post-service time, critical care time, or hospital care. When presented to the RUC, this series of codes had critical care time and inpatient hospital care time added to the total value of the code. We will maintain the current RVU valuation for CPT codes 33517, 33518, 33519, 33521, 33522, and 33523.

Therefore, the proposed work RVUs for these CPT codes are as follows: 32141 = 13.98 work RVUs; 32442 = 32.86 work RVUs; 32445 = 34.95 work RVUs; 32484 = 20.66 work RVUs; 32486 = 28.40 work RVUs; 32488 = 28.87 work RVUs; 32540 = 19.94 work RVUs; 32651 = 14.26 work RVUs; 32652 = 20.75 work RVUs; 32653 = 18.05 work RVUs; 32654 = 15.82 work RVUs; 32655 = 13.59 work RVUs; 32657 = 13.63 work RVUs; 32662 = 16.42 work RVUs; 32663 = 18.44 work RVUs; 32665 = 15.52 work RVUs; 32815 = 31.17 work RVUs; 33140 = 19.97 work RVUs; 33141 = 4.83 work RVUs; 33300 = 25.09 work RVUs; 33305 = 27.05 work RVUs; 33400 = 36.23 work RVUs; 33405 = 36.64 work RVUs; 33406 = 45.54 work RVUs; 33410 = 35.36 work RVUs; 33411 = 52.12 work RVUs; 33413 = 51.76 work RVUs; 33414 = 36.52 work RVUs; 33415 = 27.11 work RVUs; 33416 = 34.25 work RVUs; 33425 = 34.55 work RVUs; 33426 = 37.95 work RVUs; 33427 = 39.94 work RVUs; 33430 = 45.57 work RVUs; 33460 = 23.56 work RVUs; 33463 = 36.59 work RVUs; 33464 = 26.78 work RVUs; 33465 = 28.75 work RVUs; 33474 = 23.01 work RVUs; 33475 = 41.97 work RVUs; 33505 = 36.00 work RVUs; 33510 = 30.37 work RVUs; 33511 = 31.51 work RVUs; 33512 = 35.16 work RVUs; 33513 = 36.12 work RVUs; 33514 = 36.93 work RVUs; 33516 = 38.39 work RVUs; 33517 = 2.57 work RVUs; 33518 = 4.84 work RVUs; 33519 = 7.11 work RVUs; 33521 = 9.39 work RVUs; 33522 = 11.65 work RVUs; 33523 = 13.93 work RVUs; 33530 = 5.85 work RVUs; 33533 = 34.63 work RVUs; 33534 = 36.06 work RVUs; 33535 = 38.73 work RVUs; 33536 = 38.04 work RVUs; 33542 = 28.81 work RVUs; 33545 = 36.72 work RVUs; 33641 = 26.70 work RVUs; 33665 = 32.98 work RVUs; 33684 = 32.50 work RVUs; 33688 = 32.88 work RVUs; 33771 = 38.50 work RVUs; 33779 = 41.00 work RVUs; 33781 = 41.00 work RVUs; 33860= 39.29 work RVUs; 33863 = 44.93 work RVUs; 33945 = 42.04 work RVUs; 35820 = 25.53 work RVUs; 39220 = 17.39 work RVUs; 39400 = 5.60 work RVUs; 43108 = 57.20 work RVUs; 43113 = 40.41 work RVUs; 43116 = 65.85 work RVUs; 43118 = 46.37 work RVUs; 43121 = 41.80 work RVUs; 43123 = 57.14 work RVUs; 43124 = 56.51 work RVUs; and 43135 = 20.52 work RVUs.

For CPT code 32020, Tube thoracostomy with or without water seal (e.g., for abscess, hemothorax, empyema)(separate procedure), although there was no RUC recommendation provided due to the lack of a level interest for surveying this code, we continue to believe that this service is misvalued. This code was presented to the RUC during the two previous 5-Year Reviews. Based on a lack of compelling evidence, the RUC recommended maintaining the work RVUs, and we accepted this recommendation. However, we believe that since valuation of this CPT code continues to be based on Harvard time data, changes in practice and technology have not been incorporated, leading to an overvaluation of this service. The Harvard time data for this service includes: Pre-service time of 46 minutes, intra-service time of 24 minutes, post-service time of 25 minutes, 9 minutes for ICU time, 15 minutes for hospital days, and 2 minutes for office visits for a total time of 121 minutes. We believe that CPT code 32020 is comparable to CPT code 38300, Drainage of lymph node abscess or lymphadenitis; simple, or CPT code 38500, Biopsy or excision of lymph node(s); open, superficial. Both of these CPT codes were reviewed by the RUC during the second 5-Year Review. The RUC times for CPT code 38500 are: pre-service time of 35 minutes, intra-service time of 30 minutes and post-service time of 15 minutes, for a total time of 80 minutes, this includes one outpatient visit resulting in a work RVU of 3.74. If the value of the outpatient visit is removed from CPT code 38500, this results in an RVU of 3.29. We believe CPT code 32020 compares favorably to 38500 and propose a work RVU of 3.29 for CPT code 32020.

7. General, Colorectal and Vascular Surgery

[If you choose to comment on issues in this section, please include the caption “DISCUSSION OF COMMENTS—GENERAL, COLORECTAL AND VASCULAR SURGERY” at the beginning of your comments.]

a. General Surgery

The American College of Surgeons (ACS) submitted the following CPT codes in Table 40 for review.

Table 40
CPT code | Descriptor
38100 | Splenectomy; total (separate procedure).
38101 | Splenectomy; partial (separate procedure).
38115 | Repair of ruptured spleen (splenorrhaphy) with or without partial splenectomy.
43620 | Gastrectomy, total; with esophagoenterostomy.
43621 | Gastrectomy, total; with Roux-en-Y reconstruction.
43622 | Gastrectomy, total; with formation of intestinal pouch, any type.
43632 | Gastrectomy, partial, distal; with gastrojejunostomy.
43633 | Gastrectomy, partial, distal; with Roux-en-Y reconstruction.
43634 | Gastrectomy, partial, distal; with formation of intestinal pouch.
43820 | Gastrojejunostomy; without vagotomy.
43840 | Gastrorrhaphy, suture of perforated duodenal or gastric ulcer, wound, or injury.
44120 | Enterectomy, resection of small intestine; single resection and anastomosis.
44130 | Enteroenterostomy, anastomosis of intestine, with or without cutaneous enterostomy (separate procedure).
44143 | Colectomy, partial; with end colostomy and closure of distal segment (Hartmann type procedure).
44602 | Suture of small intestine (enterorrhaphy) for perforated ulcer, diverticulum, wound, injury or rupture; single perforation.
44603 | Suture of small intestine (enterorrhaphy) for perforated ulcer, diverticulum, wound, injury or rupture; multiple perforations.
44604 | Suture of large intestine (colorrhaphy) for perforated ulcer, diverticulum, wound, injury or rupture (single or multiple perforations); without colostomy.
44605 | Suture of large intestine (colorrhaphy) for perforated ulcer, diverticulum, wound, injury or rupture (single or multiple perforations); with colostomy.
47480 | Cholecystotomy or cholecystostomy with exploration, drainage, or removal of calculus (separate procedure).
47490 | Percutaneous cholecystostomy.
47510 | Introduction of percutaneous transhepatic catheter for biliary drainage.
47511 | Introduction of percutaneous transhepatic stent for internal and external biliary drainage.
47525 | Change of percutaneous biliary drainage catheter.
47530 | Revision and/or reinsertion of transhepatic tube.
47760 | Anastomosis, of extrahepatic biliary ducts and gastrointestinal tract.
47765 | Anastomosis, of intrahepatic ducts and gastrointestinal tract.
47780 | Anastomosis, Roux-en-Y, of extrahepatic biliary ducts and gastrointestinal tract.
47785 | Anastomosis, Roux-en-Y, of intrahepatic biliary ducts and gastrointestinal tract.
49000 | Exploratory laparotomy, exploratory celiotomy with or without biopsy(s) (separate procedure).
49002 | Reopening of recent laparotomy.
49010 | Exploration, retroperitoneal area with or without biopsy(s) (separate procedure).

In addition, the American Society of Colon and Rectal Surgeons (ASCRS) submitted six CPT codes for review (see Table 41).

Table 41
CPT code | Descriptor
44150 | Colectomy, total, abdominal, without proctectomy; with ileostomy or ileoproctostomy.
44151 | Colectomy, total, abdominal, without proctectomy; with continent ileostomy.
44152 | Colectomy, total, abdominal, without proctectomy; with rectal mucosectomy, ileoanal anastomosis, with or without loop ileostomy.
44153 | Colectomy, total, abdominal, without proctectomy; with rectal mucosectomy, ileoanal anastomosis, creation of ileal reservoir (S or J), with or without loop ileostomy.
44155 | Colectomy, total, abdominal, with proctectomy; with ileostomy.
44156 | Colectomy, total, abdominal, with proctectomy; with continent ileostomy.

We submitted the CPT codes in Table 42 for review.

Table 42
CPT code | Descriptor
19180 | Mastectomy, simple, complete.
44140 | Colectomy, partial; with anastomosis.
47562 | Laparoscopy, surgical; cholecystectomy.
49505 | Repair initial inguinal hernia, age 5 years or over; reducible.
47600 | Cholecystectomy.

However, the following CPT codes were subsequently withdrawn from the 5-Year Review: 44604, 44605, 47480, 47490, 47510, 47511, 47525 and 47530. ASCRS also withdrew CPT codes 44152 and 44153, and is referring them to the CPT Editorial Panel.

For most codes, a standard RUC survey with over 30 responses was used. However, the surveys for CPT code 43622 had 29 responses and CPT code 43634 had 26 responses. Minisurveys, with over 30 responses, were used for CPT codes 44151 and 44156. Where NSQIP data was available, the specialty society also used an alternative methodology based on a building-block approach that used intra-service times and length of stay data from the NSQIP database to develop the recommendations. A specialty society consensus panel then assigned pre-service times, immediate post-service times, as well as IWPUT estimates, with the number and level of office visits determined based on comparisons to codes requiring similar physician work.

RUC Recommendations

The RUC recommended maintaining the existing RVUs for CPT codes 44140 and 49505 because the RUC believed there was a lack of compelling evidence that the work had changed.

For those services without NSQIP data, where only survey data was used as a basis for review, the RUC recommended the survey median for CPT codes 38100, 38101, 38115, 43620, 43632, 43634, 44156, 47765. For CPT code 49010, the RUC recommended use of the survey's 25th percentile because the RUC recommended deleting one hospital visit. For CPT code 47760, the RUC recommended the 25th percentile because the RUC believed that the 25th percentile was closer to the reference code. The RUC recommended use of the surveyed 75th percentile (25 work RVUs) for: CPT code 44603, which represents the suturing of multiple small intestinal perforations, to keep the correct rank order with CPT code 44602 (22.00 recommended work RVUs) that is used for the repair of a single perforation; CPT code 43622 because the RUC believed that the use of the median value would create a rank order anomaly; and CPT code 44151 because the RUC believed that the survey underestimated the physician time required for the service.

For CPT codes 47780 and 47785, the RUC used a building-block method to arrive at a recommendation which added 4.00 work RVUs to the recommended work RVUs for the respective base CPT codes 47760 and 47765 to account for the Roux-en-Y procedure. This resulted in recommended RVUs that were lower than the survey median for CPT code 47780 and higher for CPT code 47785.

For services for which NSQIP data were presented along with survey data, the RUC recommended the use of the surveys 25th percentile for CPT codes 19180, 47562, and 49002. The RUC used the NSQIP data to validate the recommendation to use the surveyed median work RVUs for CPT codes 43632, 43633, 43820, 43840, 44143, 44150, 44155 and 44602. Other RUC recommendations used the NSQIP data to increase the work RVUs above the survey median and, in one instance, beyond the survey's 75th percentile. For CPT codes 44120, 44130 and 47600, the RUC believed the physicians responding to the survey underestimated their intra-service time. Therefore, the RUC applied what was believed to be an appropriate IWPUT to the additional NSQIP time and added the resulting work RVUs to the survey median.

The RUC recommended that CPT code 49000 be referred to the CPT Editorial Panel because this code is currently used for two distinct patient populations and needs to be separated into two codes to be appropriately valued.

The 5-Year Review process allows specialty societies to request that the RUC review the work RVUs of additional codes where a rank order anomaly might have been caused by a RUC 5-Year Review recommendation for codes in the same family. Upon reviewing the workgroup recommendations for the partial colectomy procedures, CPT codes 44140 and 44143, the RUC determined that other codes in the family, CPT codes 44141, 44144, 44145, 44146 and 44147, needed to be reviewed to avoid rank order anomalies.

The RUC considered these CPT codes at their February 2006 meeting. The specialty society presented standard RUC surveys for all these services. For CPT codes 44141, 44144, 44146 and 44147, the RUC recommended the survey median. However, for CPT code 44145, the RUC recommended to maintain the current value of 26.38 work RVUs because the post-operative work is slightly less than the CPT code 44144 for which 27.00 work RVUs are recommended.

The RUC-recommended work RVUs for these CPT codes were as follows: 19180 = 14.67 work RVUs; 38100 = 18.00 work RVUs; 38101 = 18.00 work RVUs; 38115 = 20.00 work RVUs; 43620 = 31.00 work RVUs; 43621 = 36.00 work RVUs; 43622 = 36.50 work RVUs; 43632 = 32.00 work RVUs; 43633 = 30.00 work RVUs; 43634 = 33.50 work RVUs; 43820 = 20.00 work RVUs; 43840 = 20.00 work RVUs; 44120 = 20.11 work RVUs; 44130 = 20.87 work RVUs; 44140 = 20.97 work RVUs; 44141 = 27.00 work RVUs; 44143 = 25.00 work RVUs; 44144 = 27.00 work RVUs; 44145 = 26.38 work RVUs; 44146 = 33.00 work RVUs; 44147 = 31.00 work RVUs; 44150 = 27.50 work RVUs; 44151 = 32.00 work RVUs; 44155 = 31.50 work RVUs; 44156 = 34.50 work RVUs; 44602 = 22.00 work RVUs; 44603 = 25.00 work RVUs; 47562 = 11.07 work RVUs; 47600 = 15.88 work RVUs; 47760 = 34.75 work RVUs; 47765 = 48.50 work RVUs; 47780 = 38.75 work RVUs; 47785 = 52.50 work RVUs; 49002 = 15.75 work RVUs; 49010 = 15.00 work RVUs; and 49505 = 7.59 work RVUs.

CMS Proposed Valuation

We agree with the RUC-recommended work RVUs for CPT codes 19180, 38100, 38101, 38115, 43620, 43621, 43622, 43632, 43633, 43634, 43820, 43840, 44140, 44141, 44143, 44144, 44145, 44146, 44147, 44150, 44151, 44155, 44156, 44602, 44603, 47562, 47760, 47765, 47780, 47785, 49002, 49010 and 49505.

We have concerns with the RUC recommendations to use the NSQIP data to increase the work RVUs for CPT codes 44120, 44130 and 47600 above the median, and, for 47600 above the 75th percentile, from the survey. While we support the use of such a database as validation for survey results, we believe that the application of the NSQIP IWPUT to the 25-minute difference in intra-time between the survey and NSQIP is questionable. First, it is still not clear whether the NSQIP data is truly representative. Second, the IWPUT applied to the additional 25 minutes is higher than the IWPUT for the rest of the intra-time. Third, such a methodology assumes, without evidence, that there is a linear relationship between the survey respondents' estimate of time and estimate of work RVUs; however, even if the survey time estimates had matched the NSQIP data, it is not clear whether or by how much the respondents would have increased their work value estimate. Fourth, until we have available valid and representative data such as the NSQIP for all procedures, there is the risk that applying the data randomly could distort the relativity between services. Therefore, we are proposing to use the median survey values of 18.00, 20.00 and 14.00 as the work RVUs for CPT codes 44120, 44130 and 47600, respectively.

b. Colon and Rectal Surgery

The ASCRS submitted several colorectal surgery CPT codes (see Table 43).

Table 43
CPT code | Descriptor
45020 | Incision and drainage of deep supralevator, pelvirectal, or retrorectal abscess.
45300 | Proctosigmoidoscopy, rigid; diagnostic, with or without collection of specimen(s) by brushing or washing (separate procedure).
45303 | Proctosigmoidoscopy, rigid; with dilation (e.g., balloon, guide wire, bougie).
45305 | Proctosigmoidoscopy, rigid; with biopsy, single or multiple.
45307 | Proctosigmoidoscopy, rigid; with removal of foreign body.
45308 | Proctosigmoidoscopy, rigid; with removal of single tumor, polyp, or other lesion by hot biopsy forceps or bipolar cautery.
45309 | Proctosigmoidoscopy, rigid; with removal of single tumor, polyp, or other lesion by snare technique.
45315 | Proctosigmoidoscopy, rigid; with removal of multiple tumors, polyps, or other lesions by hot biopsy forceps, bipolar cautery or snare technique.
45317 | Proctosigmoidoscopy, rigid; with control of bleeding (e.g., injection, bipolar cautery, unipolar cautery, laser, heater probe, stapler, plasma coagulator).
45320 | Proctosigmoidoscopy, rigid; with ablation of tumor(s), polyp(s), or other lesion(s) not amenable to removal by hot biopsy forceps, bipolar cautery or snare technique (e.g., laser).
45321 | Proctosigmoidoscopy, rigid; with decompression of volvulus.
45327 | Proctosigmoidoscopy, rigid; with transendoscopic stent placement (includes predilation).
46040 | Incision and drainage of ischiorectal and/or perirectal abscess (separate procedure).
46045 | Incision and drainage of intramural, intramuscular, or submucosal abscess, transanal, under anesthesia.
46060 | Incision and drainage of ischiorectal or intramural abscess, with fistulectomy or fistulotomy, submuscular, with or without placement of seton.
46270 | Surgical treatment of anal fistula (fistulectomy/fistulotomy); subcutaneous.
46275 | Surgical treatment of anal fistula (fistulectomy/fistulotomy); submuscular.
46280 | Surgical treatment of anal fistula (fistulectomy/fistulotomy); complex or multiple, with or without placement of seton.
46285 | Surgical treatment of anal fistula (fistulectomy/fistulotomy); second stage.
46600 | Anoscopy; diagnostic, with or without collection of specimen(s) by brushing or washing (separate procedure).
46604 | Anoscopy; with dilation (e.g., balloon, guide wire, bougie).
46606 | Anoscopy; with biopsy, single or multiple.
46608 | Anoscopy; with removal of foreign body.
46610 | Anoscopy; with removal of single tumor, polyp, or other lesion by hot biopsy forceps or bipolar cautery.
46611 | Anoscopy; with removal of single tumor, polyp, or other lesion by snare technique.
46612 | Anoscopy; with removal of multiple tumors, polyps, or other lesions by hot biopsy forceps, bipolar cautery or snare technique.
46614 | Anoscopy; with control of bleeding (e.g., injection, bipolar cautery, unipolar cautery, laser, heater probe, stapler, plasma coagulator).
46615 | Anoscopy; with ablation of tumor(s), polyp(s), or other lesion(s) not amenable to removal by hot biopsy forceps, bipolar cautery or snare technique.
46760 | Sphincteroplasty, anal, for incontinence, adult; muscle transplant.
46761 | Sphincteroplasty, anal, for incontinence, adult; levator muscle imbrication (Park posterior anal repair).
46762 | Sphincteroplasty, anal, for incontinence, adult; implantation artificial sphincter.

ASCRS subsequently withdrew CPT codes 46760, 46761 and 46762 from the 5-Year Review.

For most codes, a standard RUC survey with over 30 responses was used. A minisurvey was used for a few codes.

RUC Recommendations

The RUC agreed with the specialty society's recommendations to maintain the current work RVUs for CPT codes 46040, 46060 and 46280 because the survey data supported the existing work associated with the code.

The RUC recommended the increased work RVUs at the surveys' median work values, as requested by the specialty society, for CPT codes 45020, 46045, 46270, 46275 and 46285.

For the proctoscopy-anoscopy family of codes, the RUC agreed that the surveyed median work RVUs, and often even the 25th percentile, were inconsistent with the reference code. Therefore, the RUC did not reference the surveyed RVUs in arriving at the recommendations. Rather, the RUC used the surveyed times for each service and applied what the workgroup considered an appropriate IWPUT to these times to arrive at the recommended work RVUs for this family.

The specific RUC work RVU recommendations for these colon and rectal surgery CPT codes were as follows: 45020 = 7.75 work RVUs; 45300 = 0.91 work RVUs; 45303 = 2.22 work RVUs; 45305 = 2.01 work RVUs; 45307 = 2.22 work RVUs; 45308 = 2.01 work RVUs; 45309 = 2.22 work RVUs; 45315 = 2.22 work RVUs; 45317 = 1.08 work RVUs; 45320 = 2.43 work RVUs; 45321 = 2.76 work RVUs; 45327 = 3.63 work RVUs; 46040 = 4.95 work RVUs; 46045 = 5.50 work RVUs; 46060 = 5.68 work RVUs; 46270 = 4.50 work RVUs; 46275 = 5.00 work RVUs; 46280 = 5.97 work RVUs; 46285 = 5.00 work RVUs; 46600 = 0.49 work RVUs; 46604 = 1.08 work RVUs; 46606 = 1.76 work RVUs; 46608 = 1.95 work RVUs; 46610 = 1.95 work RVUs; 46611 = 1.08 work RVUs; 46612 = 2.14 work RVUs; 46614 = 1.08 work RVUs; and 46615 = 1.18 work RVUs.

CMS Proposed Valuation

We agree with the RUC-recommended work RVUs for CPT codes 45020, 46040, 46045, 46060, 46270, 46275, 46280, and 46285.

We are proposing not to accept the RUC recommendations for all the presented codes in the proctoscopy-anoscopy family. We are proposing to maintain the current work RVUs for CPT codes 45300, 45303, 45305, 45307, 45308, 45309, 45315, 45317, 45320, 45321, 45327, 46600, 46604, 46606, 46608, 46610, 46611, 46612, 46614 and 46615.

We believe that the method used by the RUC to obtain work values for these services was flawed. The calculation of the recommended work RVUs depended solely on applying a workgroup-derived IWPUT to the surveyed physician time from surveys that were considered otherwise unusable. We do not believe that the use of IWPUT, in the absence of other supporting data, has been previously accepted by the RUC. We believe the RUC has established rules that state that IWPUT cannot be the sole rationale for valuation and it appears that this workgroup might not have adhered to that standard. We believe that this use of IWPUT differs from that used by workgroup one, as described above. There were acceptable surveys that were used as anchors to create the correct rank order for the dermatology codes without adequate surveys. In addition, for the dermatology codes, the calculation was generally used to validate the current or lower work RVUs for the services, while for these scope codes, the calculation was not used to validate but to support significant increases for many of the services. However, if the specialty society wishes to resurvey these codes and the RUC submits work RVU recommendations to CMS, we would certainly be willing to consider them.

c. Vascular Surgery

The Society for Vascular Surgery (SVS) submitted the CPT codes in Table 44 for review. However, the specialty society subsequently withdrew CPT codes 27603, 35612 and 35642 from review.

Table 44
CPT code | Descriptor
27603 | Incision and drainage, leg or ankle; deep abscess or hematoma.
27880 | Amputation, leg, through tibia and fibula.
28805 | Amputation, foot; transmetatarsal.
33877 | Repair of thoracoabdominal aortic aneurysm with graft, with or without cardiopulmonary bypass.
34001 | Embolectomy or thrombectomy, with or without catheter; carotid, subclavian or innominate artery, by neck incision.
34201 | Embolectomy or thrombectomy, with or without catheter; femoropopliteal, aortoiliac artery, by leg incision.
34471 | Thrombectomy, direct or with catheter; subclavian vein, by neck incision.
35081 | Direct repair of aneurysm, pseudoaneurysm, or excision (partial or total) and graft insertion, with or without patch graft; for aneurysm, pseudoaneurysm, and associated occlusive disease, abdominal aorta.
35102 | Direct repair of aneurysm, pseudoaneurysm, or excision (partial or total) and graft insertion, with or without patch graft; for aneurysm, pseudoaneurysm, and associated occlusive disease, abdominal aorta involving iliac vessels (common, hypogastric, external).
35216 | Repair blood vessel, direct; intrathoracic, without bypass.
35381 | Thromboendarterectomy, with or without patch graft; femoral and/or popliteal, and/or tibioperoneal.
35501 | Bypass graft, with vein; carotid.
35506 | Bypass graft, with vein; carotid-subclavian.
35507 | Bypass graft, with vein; subclavian-carotid.
35508 | Bypass graft, with vein; carotid-vertebral.
35509 | Bypass graft, with vein; carotid-carotid.
35515 | Bypass graft, with vein; subclavian-vertebral.
35516 | Bypass graft, with vein; subclavian-axillary.
35541 | Bypass graft, with vein; aortoiliac or bi-iliac.
35546 | Bypass graft, with vein; aortofemoral or bifemoral.
35556 | Bypass graft, with vein; femoral-popliteal.
35566 | Bypass graft, with vein; femoral-anterior tibial, posterior tibial, peroneal artery or other distal vessels.
35583 | In-situ vein bypass; femoral-popliteal.
35585 | In-situ vein bypass; femoral-anterior tibial, posterior tibial,or peroneal artery.
35601 | Bypass graft, with other than vein; carotid.
35606 | Bypass graft, with other than vein; carotid-subclavian.
35612 | Bypass graft, with other than vein; subclavian-subclavian.
35616 | Bypass graft, with other than vein; subclavian-axillary.
35641 | Bypass graft, with other than vein; aortoiliac or bi-iliac.
35642 | Bypass graft, with other than vein; carotid-vertebral.
37720 | Ligation and division and complete stripping of long or short saphenous veins.
60600 | Excision of carotid body tumor; without excision of carotid artery.
60605 | Excision of carotid body tumor; with excision of carotid artery.

For all codes, a standard RUC survey was used. All but the following CPT codes had 30 or more responses: 34471 (28 responses), 35508 (23 responses), 35515 (18 responses), 35516 (29 responses), 35616 (29 responses), 60600 (19 responses). The specialty society also used the intra-service times and length of stay data from the NSQIP database to develop some of its recommendations. A specialty society consensus panel then assigned pre-service times, and immediate post-service times, as well as IWPUT estimates.

RUC Recommendations

The RUC agreed with the specialty society that the following CPT codes cannot undergo the RUC evaluation process before having their descriptors revised and recommended referring these CPT codes to the CPT Editorial panel: 35381, 35501, 35507, 35509, 35541, 35546, 35601, 35641 and 37720. (Note that CPT code 37720 was subsequently deleted by CPT for CY 2006.) For the remaining codes, the RUC reviewed both the survey data and the NSQIP data, where provided, for each procedure. In many instances, where the NSQIP time and length of stay data were available, the RUC believed that the physicians responding to the survey underestimated their intra-service time and that the NSQIP data more accurately reflected the actual intra-service times for these procedures.

The RUC accepted the specialty society's requested increase in work RVUs for 12 CPT codes, agreeing with the specialty society that these procedures were undervalued due to compelling evidence such as changes in length of stay, changes in patient populations, and incorrect assumptions made in the previous valuation of the service. For CPT codes 27880, 28805, 34001, 34471, 35506, 35508, 35515, 35516, 35606, 60600 and 60605, the RUC-recommended work RVUs were at the survey median or lower. However, for CPT code 33877, the RUC accepted a work value greater than the survey's 75th percentile that was derived from a building-block approach using the NSQIP data for the service. The RUC increased the work RVUs for nine codes. For eight of the codes, the increases were at levels below those requested by the specialty society, and for one code the increase was slightly higher than the requested work RVUs. For CPT codes 35081, 35216, 35583 and 35616, the recommended increase was no higher than the surveyed median work RVUs. For CPT codes 34201, 35102, 35556, 35566, and 35585, the RUC accepted work values greater than the survey's median percentile that were derived from a building-block approach using the NSQIP data for the service.

The specific RUC-recommended work RVUs for these CPT codes are as follows: 27880 = 13.75 work RVUs; 28805 = 11.25 work RVUs; 33877 = 64.04 work RVUs; 34001 = 16.25 work RVUs; 34201 = 18.31 work RVUs; 34471 = 20.00 work RVUs; 35081 = 31.00 work RVUs; 35102 = 36.28 work RVUs; 35216 = 34.00 work RVUs; 35506 = 23.75 work RVUs; 35508 = 25.00 work RVUs; 35515 = 25.00 work RVUs; 35516 = 23.00 work RVUs; 35556 = 27.25 work RVUs; 35566 = 32.00 work RVUs; 35583 = 26.00 work RVUs; 35585 = 32.00 work RVUs; 35606 = 21.00 work RVUs; 35616 = 21.00 work RVUs; 60600 = 24.00 work RVUs; and 60605 = 30.50 work RVUs.

CMS Proposed Valuation

We accept the RUC-recommended work RVUs for CPT codes 27880, 28805, 34001, 34471, 35216, 35506, 35508, 35515, 35516, 35606, 60600, 60605, 35081, 35583, and 35616.

We disagree with the RUC recommendations for CPT codes 33877, 34201, 35102, 35556, 35566, and 35585. For these services, the RUC used the NSQIP time data to increase the work values above the survey median, and even for above several codes the 75th percentile. For the reasons discussed above, we reject such a use of the NSQIP data at this time. Therefore, we are proposing to use the survey median work RVUs for these CPT codes: 33877 = 53.00 work RVUs; 34201 = 17.00 work RVUs; 35102 = 34.00 work RVUs; 35556 = 25.00 work RVUs; 35566 = 30.00 work RVUs; and 35585 = 30.00 work RVUs.

8. Otolaryngology and Ophthalmology

[If you choose to comment on issues in this section, please include the caption “DISCUSSION OF COMMENTS-OTOLARYNGOLOGY AND OPTHALMOLOGY” at the beginning of your comments.]

a. Otolaryngology Procedures

The American Academy of Otolaryngology—Head and Neck Surgery (AAO-HNS) submitted the CPT codes in Table 45 for review.

Table 45
CPT code | Descriptor
31225 | Maxillectomy; without orbital extenteration.
31230 | Maxillectomy; with orbital exenteration (en bloc).
31360 | Laryngectomy; total, without radical neck dissection.
31365 | Laryngectomy; total, with radical neck dissection.
31367 | Laryngectomy; subtotal supraglottic, without radical neck dissection.
31368 | Laryngectomy; subtotal supraglottic, with radical neck dissection.
31370 | Partial laryngectomy (hemilaryngectomy); horizontal.
31375 | Partial laryngectomy (hemilaryngectomy); laterovertical.
31380 | Partial laryngectomy (hemilaryngectomy); anterovertical.
31382 | Partial laryngectomy (hemilaryngectomy); antero-latero-vertical.
31390 | Pharyngolaryngectomy, with radical neck dissection; without reconstruction.
31395 | Pharyngolaryngectomy, with radical neck dissection; with reconstruction.
38700 | Suprahyoid lymphadenectomy.
38720 | Cervical lymphadenectomy (complete).
38724 | Cervical lymphadenectomy (modified radical neck dissection).
41120 | Glossectomy; less than one-half tongue.
41130 | Glossectomy; hemiglossectomy.
41135 | Glossectomy; partial, with unilateral radical neck dissection.
41140 | Glossectomy; complete or total, with or without tracheostomy, without radical neck dissection.
41145 | Glossectomy; complete or total, with or without tracheostomy, with unilateral radical neck dissection.
41150 | Glossectomy; composite procedure with resection floor of mouth and mandibular resection, without radical neck dissection.
41153 | Glossectomy; composite procedure with resection floor of mouth, with suprahyoid neck dissection.
41155 | Glossectomy; composite procedure with resection floor of mouth, mandibular resection, and radical neck dissection (Commando type).
42120 | Resection of palate or extensive resection of lesion.
42842 | Radical resection of tonsil, tonsillar pillars, and/or retromolar trigone; without closure.
42844 | Radical resection of tonsil, tonsillar pillars, and/or retromolar trigone; closure with local flap (e.g., tongue, buccal).
42845 | Radical resection of tonsil, tonsillar pillars, and/or retromolar trigone; closure with other flap.
42890 | Limited pharyngectomy.
42892 | Resection of lateral pharyngeal wall or pyriform sinus, direct closure by advancement of lateral and posterior pharyngeal walls.
42894 | Resection of pharyngeal wall requiring closure with myocutaneous flap.

We initially requested that the RUC review five CPT codes but then withdrew CPT code 31255 from the 5-Year Review (see Table 46).

Table 46
CPT code | Descriptor
30520 | Septoplasty or submucous resection, with or without cartilage scoring, contouring replacement with graft.
31255 | Nasal/sinus endoscopy, surgical; with ethmoidectomy, total (anterior and posterior).
31575 | Laryngoscopy, flexible fiberoptic; diagnostic.
31579 | Laryngoscopy, flexible or rigid fiberoptic, with stroboscopy.
41100 | Biopsy of tongue; anterior two-thirds.
69210 | Removal impacted cerumen (separate procedure), one or both ears.

RUC Recommendations

For one CPT code 42120, palate resection procedure, the RUC, based on the data presented by the specialty society, agreed that there was increased work and intensity involved in comparison to other codes with similar intensity. The RUC believed the survey results reflected the complexity of the patient, physician time and work necessary in performing this procedure, and recommended work RVUs of 11.00 for CPT code 42120.

The specialty society presented data on two maxillectomy procedures, CPT codes 31225 and 31230, which the RUC also viewed as undervalued. The RUC believed that the re-evaluation of these two codes corrects rank order anomalies and accounts for the appropriate intensity for each procedure. The RUC recommended work RVUs of 24.00 for CPT code 31225 and 28.00 for CPT code 31230.

For three lymphadendectomy procedures, CPT codes 38700, 38720, and 38724, the specialty society presented data with the rationale that the previous valuation was flawed because the procedures were not evaluated by otolaryngologists. The RUC believed that the survey results reflected the appropriate complexity of the patient, physician time and work necessary in performing the procedure, and justified an increase in physician work. The RUC-recommended work RVUs for these CPT codes are as follows: 38700 = 12.00 work RVUs; 38720 = 20.00 work RVUs; and 38724 = 22.00 work RVUs.

The specialty society presented survey data on three pharyngectomy procedures, CPT codes 42890, 42892, and 42894, which had never been reviewed by the RUC. The RUC agreed that there was a change in the patient population and that the increased intensity involved in these procedures was comparable to other codes with similar intensity. The RUC recommended the increase demonstrated by the survey median which was 17.00 work RVUs for CPT code 42890, 23.09 work RVUs for CPT code 42892, and 30.00 work RVUs for CPT code 42894.

The specialty society presented survey data on three tonsillectomy procedures, CPT codes 42842, 42844, and 42845, which the RUC agreed were undervalued due to a previous flawed methodology. The RUC believed that the survey results reflected the appropriate physician work and time necessary in performing this procedure and recommended the following work RVUs for these CPT codes: 42842 = 11.00 work RVUs; 42844 = 16.10 work RVUs; and 42845 = 32.00 work RVUs.

For the partial glossectomy procedures, CPT codes 41120, 41130, and 41135, the RUC believed that there was not compelling evidence to increase the work for CPT code 41120, and, therefore, recommended maintaining the current value for this service. The RUC also agreed that increasing the values for the two remaining procedures would correct the existing rank order anomalies and that these increases were justified by survey results. The recommendation for the work RVUs for these CPT codes is as follows: 41120 = 9.76 work RVUs; 41130 = 14.00 work RVUs; and 41135 = 27.00 work RVUs.

For complete glossectomy procedures, CPT codes 41140 and 41145, the specialty society presented survey data on these procedures and suggested decreasing the work RVU of CPT code 41140. The RUC believed that the survey results did not justify decreasing the work RVUs for this service, particularly because over half of the survey respondents indicated that the work of performing CPT code 41140 has not changed in the past 5 years. Therefore, the RUC recommended maintaining the value for this code. The RUC believed that the flawed methodology previously used for valuing CPT code 41145 caused this procedure to be misvalued and that an increase in work was validated by the survey median results. The RUC recommended the following work RVUs for these CPT codes: 41140 = 25.46 work RVUs; and 41145 = 34.00 work RVUs.

For the composite glossectomy procedures, CPT codes 41150, 41153, and 41155, the specialty society presented survey data on each of these procedures, noting that the current work RVUs for each of these services create a rank order anomaly. The RUC agreed that increasing the RVUs would correct these rank order anomalies and that these increases were justified by the survey results. The RUC-recommended work RVUs for these CPT codes are as follows: 41150 = 26.50 work RVUs; 41153 = 34.00 work RVUs; and 41155 = 40.00 work RVUs.

For the laryngopharyngectomy procedures, CPT codes 31360, 31365, 31390 and 31395, the specialty society presented as compelling evidence the rationale that the current work RVUs create rank order anomalies, and that there also has been a change in the patient population. The RUC agreed that increasing the RVUs of these procedures by accepting the 75th percentile of survey results corrected the specific rank order anomalies and also accounted for the change in the patient population. The RUC-recommended work RVUs for these CPT codes are as follows: 31360 = 28.00 work RVUs; 31365 = 37.00 work RVUs; 31390 = 40.00 work RVUs; and 31395 = 44.00 work RVUs.

For the laryngectomy procedures, CPT codes 31367, 31368, 31370, 31375, 31380 and 31382, the specialty society presented survey data with the rationale that the current work values are based on a flawed methodology that creates rank order anomalies, and that there also has been a change in patient population. The RUC agreed with the specialty society and recommended increasing the work RVUs for these services to maintain rank order between the codes in the family and to establish the correct intensity of the procedure based on the change in patient population. The RUC-recommended work RVUs for these CPT codes are: 31367 = 27.36 work RVUs; 31368 = 36.00 work RVUs; 31370 = 25.00 work RVUs; 31375 = 25.00 work RVUs; 31380 = 25.00 work RVUs; and 31382 = 28.00 work RVUs.

For CPT code 30520, based on the increase in physician time in the current survey data, the RUC believed that the service was misvalued and that there was additional work involved which was not previously captured. Using the building-block methodology, the RUC recommended a work RVU of 6.27 for CPT code 30520.

For CPT codes 31575 and 31579, the RUC agreed with the specialty society that the surveys validate the current values. The RUC also believed that the survey validated the current work value for CPT code 41100, particularly because 98 percent of survey respondents indicated that the work in performing this service has not changed in the past 5 years. The RUC recommended maintaining the original work values of 1.10 work RVUs for CPT code 31575, 2.26 work RVUs for CPT code 31579, and 1.63 work RVUs for CPT code 41100.

The specialty society provided survey data for CPT code 69210 using the rationale that the patient population had become more complex. The RUC did not agree with the specialty society that the patient population had changed because 94 percent of the survey respondents indicated that the work in performing this service has not changed in the past 5 years. The RUC recommended maintaining the current work value of 0.61 for this service.

CMS Proposed Valuation

We are in agreement with the RUC-recommended work RVUs for the following otolaryngology CPT codes: 38700, 38720, 38724, 41120, 41130, 41135, 41140, 41145, 42120, 42890, 42892, and 42894.

For the tonsillectomy procedures, CPT codes 42842, 42844, and 42845, the number of hospital days decreased by at least two days (including critical care visits for one code), but the outpatient post-operative visits increased by one. The median values for intra-service times were accepted by the RUC for these services, which is an indication that a value other than the 75th percentile for work also may be appropriate. CPT codes 42842 and 42844 were valued at the median work RVU obtained from the surveys. However, CPT code 42845 was valued by the RUC at the 75th percentile for work. Therefore, we are accepting the median recommended work values for CPT codes 42842 of 11.00 work RVUs and 42844 of 16.10 work RVUs and, consistent with use of the median, proposing work RVUs for CPT code 42845 of 29.00.

For the composite glossectomy procedures, CPT codes 41150, 41153, and 41155, the number of hospital days decreased by at least 2 days (including, in some instances, critical care visits). CPT codes 41153 and 41155 were valued by the RUC at the 75th percentile for work, but CPT code 41150 was valued based on the median work value. The median values for intra-service times were accepted by the RUC for these services, which is an indication that a value other than the 75th percentile for work also may be appropriate. Therefore, we are accepting the RUC-recommended work RVUs of 26.50 for CPT code 41150 which were based on the median work value, and consistent with use of the median proposing work RVUs of 30.00 for CPT code 41153 and 36.00 for CPT code 41155.

For the laryngopharyngectomy procedures, CPT codes 31360, 31365, 31367, 31368, 31370, 31375, 31380, 31382, 31390 and 31395, the number of hospital days decreased by at least two days and the post-operative outpatient visits increased by one day. However, in one instance the number of outpatient visits decreased (CPT code 31395). The median values for intra-service times were accepted by the RUC for these services, which is an indication that a value other than the 75th percentile for work also may be appropriate. Therefore, we are proposing using median values for these services resulting in the following work RVUs for these CPT codes: 31360 = 24.00 work RVUs; 31365 = 31.50 work RVUs; 31367 = 24.00 work RVUs; 31368 = 30.50 work RVUs; 31370 = 24.00 work RVUs; 31375 = 22.50 work RVUs; 31380 = 22.00 work RVUs; 31382 = 25.00 work RVUs; 31390 = 35.00 work RVUs; and 31395 = 39.50 work RVUs.

For CPT codes 30520, 31575, 31579, 41100 and 69210, we are in agreement with the RUC-recommended work RVUs for these services, except for CPT code 41100. The RUC recommended maintaining the current work RVUs of 1.63 for this service, which is even greater than the 75th percentile for work, which is what the specialty society had recommended. We believe the more appropriate work RVUs for this service is represented by the median, which is 1.37, and, therefore, we are recommending 1.37 work RVUs for CPT code 41100.

We would note that although we accepted the RUC's recommendation of a work RVU of 0.61 for CPT code 69210, we are concerned with this valuation for the use of this code for routine removal of ear wax during a physical examination of a patient. This code is listed with a “separate procedure” designation in the CPT code book, meaning that it is billed most properly when it is the only service provided for a particular date of service. However, Medicare data used for evaluation of codes in the current 5-Year Review indicate that CPT code 69210 was billed with an E/M service 63 percent of the time. It is our understanding that CPT code 69210 is to be used when there is a substantial amount of cerumen in the external ear canal that is very difficult to remove and that impairs the patient's auditory function. We will continue to monitor the use of this code for the appropriate circumstances.

b. Ophthalmology Services

The American Academy of Ophthalmology (AAO), the American Optometric Association (AOA) and the American Society of Cataract and Refractive Surgery submitted 15 codes for the 5-Year Review (see Table 47). However, the specialty societies subsequently withdrew five of these codes (CPT codes 65420, 65900, 67917, 67924 and 68750) from the 5-Year Review.

Table 47
CPT code | Descriptor
65420 | Excision or transposition of pterygium; without graft.
65426 | Excision or transposition of pterygium; with graft.
65850 | Trabeculotomy ab externo.
65900 | Removal of epithelial downgrowth, anterior chamber of eye.
67414 | Orbitotomy without bone flap (frontal or transconjunctival approach); with removal of bone for decompression.
67445 | Orbitotomy with bone flap or window, lateral approach (e.g., Kroenlein); with removal of bone for decompression.
67500 | Retrobulbar injection; medication (separate procedure, does not include supply of medication).
67505 | Retrobulbar injection; alcohol.
67515 | Injection of medication or other substance into Tenon's capsule.
67904 | Repair of blepharoptosis; (tarso) levator resection or advancement, external approach.
67911 | Correction of lid retraction.
67917 | Repair of ectropion; extensive (e.g., tarsal strip operations).
67924 | Repair of entropion; extensive (e.g., tarsal strip or capsulopalpebral fascia repairs operation).
67966 | Excision and repair of eyelid, involving lid margin, tarsus, conjunctiva, canthus, or full thickness, may include preparation for skin graft or pedicle flap with adjacent tissue transfer or rearrangement; over one-fourth of lid margin.
68750 | Conjunctivorhinostomy (fistulization of conjunctiva to nasal cavity); with insertion of tube or stent .

We submitted the following ophthalmology CPT codes for review (see Table 48).

Table 48
CPT code | Descriptor
66761 | Iridotomy/iridectomy by laser surgery (e.g., for glaucoma) (one or more sessions).
66821 | Discission of secondary membranous cataract (opacified posterior lens capsule and/or anterior hyaloid); laser surgery (e.g., YAG laser) (one or more stages).
66984 | Extracapsular cataract removal with insertion of intraocular lens prosthesis (one stage procedure), manual or mechanical technique (e.g., irrigation and aspiration or phacoemulsification).
67038 | Vitrectomy, mechanical, pars plana approach; with epiretinal membrane stripping.
67221 | Destruction of localized lesion of choroid (e.g., choroidal neovascularization); photodynamic therapy (includes intravenous infusion).
67228 | Destruction of extensive or progressive retinopathy (e.g., diabetic retinopathy), one or more sessions; photocoagulation (laser or xenon arc).
67820 | Correction of trichiasis; epilation, by forceps only.
67840 | Excision of lesion of eyelid (except chalazion) without closure or with simple direct closure.
68840 | Probing of lacrimal canaliculi, with or without irrigation.
76519 | Ophthalmic biometry by ultrasound echography, A-scan; with intraocular lens power calculation.
92083 | Visual field examination, unilateral or bilateral, with interpretation and report; extended examination (e.g., Goldmann visual fields with at least 3 isopters plotted and static determination within the central 30°, or quantitative, automated threshold perimetry, Octopus program G-1, 32 or 42, Humphrey visual field analyzer full threshold programs 30-2, 24-2 or 30/60-2.
92226 | Ophthalmoscopy, extended, with retinal drawing (e.g., for retinal detachment, melanoma), with interpretation and report; subsequent.
92235 | Fluorescein angiography (includes multiframe imaging) with interpretation and report.
92250 | Fundus photography with interpretation and report.

RUC Recommendations

The RUC questioned the survey results for CPT codes 67038 and 67228 and indicated that the survey data may be flawed because respondents may have based their answers on a different number of membranes stripped or sessions conducted. The RUC recommended that these two CPT codes be referred to the CPT Editorial Panel for clarification.

Based on a review of the survey data, the RUC agreed with the specialty society that the survey results demonstrated that the work had not changed and, thus, that the current work RVUs should be retained for the following CPT codes: 66761 = 4.06 work RVUs; 67840 = 2.04 work RVUs; 68840 = 1.25 work RVUs; 76519 = 0.54 work RVUs; 92226 = 0.33 work RVUs; 92235 = 0.81 work RVUs; and 92250 = 0.44 work RVUs. In addition, the RUC recommended retaining the work RVU of 0.50 for CPT code 92083 because the specialty society had not presented compelling evidence that the physician work had changed.

For CPT codes 67221, 67820, and 66984, the RUC recommended reductions in the work RVUs. The RUC used a building-block approach based on the work RVU of 3.24 for the reference CPT code 67141, Prophylaxis of retinal detachment (e.g., retinal break, lattice degeneration) without drainage, one or more sessions; cryotherapy, diathermy, and the work RVUs of 0.21 for the infusion code G0347, which contain comparable work. The RUC recommended work RVUs of 3.45 for CPT code 67221.

The RUC supported the specialty society's recommendation to decrease the work value for CPT code 67820 based on evidence that the previous Harvard survey data was flawed. The RUC agreed with assigning work RVUs of 0.71 to CPT code 67820 based on a comparison/crosswalk to the key reference service, CPT code 65205, Removal of foreign body, external eye; conjunctival superficial, which has work RVUs of 0.71.

For CPT code 66984, the RUC did not agree with the specialty society recommendation that the current work RVU of 10.21 should be maintained, because changes in technology and technique in the last 10 years have led to increased efficiencies. The RUC concluded that these efficiencies resulted in a lower overall time for the procedure. The RUC used the previous survey pre-service time of 44 minutes and subtracted the current survey pre-service time of 25 minutes for a difference of 19 minutes. These 19 minutes were then multiplied by an IWPUT of 0.0224, resulting in an RVU of 0.43, which was subtracted from the current value. The RUC agreed that although the intra-service physician time has decreased from the historical 50 minutes to the current survey time of 30 minutes as indicated by the survey respondents, the decrease in time reflects a decrease of only low intensity work (that is, suturing) and no further decrease in work RVUs was recommended. Therefore, the RUC recommended work RVUs of 9.78 for CPT code 66984.

The RUC agreed with the specialty society that there was compelling evidence to support the increases for CPT codes 67414, 67445, 67500, 67515, 67904, 67911, and 67966, either because the current work RVUs caused rank order anomalies, the previous Harvard survey data was misvalued when compared to codes with similar values, or there was a change in the technique of performing the procedures (specifically for CPT codes 67911 and 67966, in which skin-grafting is bundled into these codes). However, for two CPT codes, 65426 and 65850, while the RUC recognized that there was compelling evidence to support increases, the RUC did not agree with the specific increases recommended by the specialty society.

For CPT code 65426, the RUC believed that evidence suggested a change in technique for this procedure, and believed that a value close to the survey's 25th percentile was justified by using a building-block approach. For CPT code 65850, the RUC agreed that there is a rank order anomaly between CPT codes 65850 and 66170, Fistualization of sclera for glaucoma; trabeculectomy ab externo in absence of previous surgery, as well as a change in the patient population. The RUC believed an increase in value was justified by using a building-block approach. The RUC recommended 5.85 work RVUs for CPT code 65426 and 11.14 work RVUs for CPT code 65850.

For CPT code 66821, the RUC agreed that the intensity of this procedure was misvalued and that an increase in the relative value would be appropriate. The RUC disagreed with our previous intensity crosswalk to CPT code 66984, Extracapsular cataract removal with insertion of intraocular lens prosthesis (one stage procedure), manual or mechanical technique (e.g., irrigation and aspiration or phacoemulsification), specified in the Five-Year Review of Work Relative Value Units Under the Physician Fee Schedule proposed notice (May 3, 1996; 61 FR 20027). The RUC believed that the previous survey from 1995 should stand on its own as an acceptable survey due to the inappropriate selection by HCFA in 1995 of intensity for this code. The RUC-recommended work RVU for this service is 2.78, the same value recommended by the RUC in 1995.

CMS Proposed Valuation

We are in agreement with the RUC recommended work values for these ophthalmology services.

c. Additional Codes

The American Speech-Language-Hearing Association (ASHA) submitted the following speech and audiology CPT codes (see Table 49) but subsequently withdrew them from the 5-Year Review.

Table 49
CPT code | Descriptor
92506 | Evaluation of speech, language, voice, communication, and/or auditory processing.
92507 | Treatment of speech, language, voice, communication, and/or auditory processing disorder; individual.
92508 | Treatment of speech, language, voice, communication, and/or auditory processing disorder; group, two or more individuals.
92510 | Aural rehabilitation following cochlear implant (includes evaluation of aural rehabilitation status and hearing, therapeutic services) with or without speech processor programming
92516 | Facial nerve function studies (e.g., electroneuronography).
92520 | Laryngeal function studies (ie, aerodynamic testing and acoustic testing).
92526 | Treatment of swallowing dysfunction and/or oral function for feeding.
92541 | Spontaneous nystagmus test, including gaze and fixation nystagmus, with recording.
92542 | Positional nystagmus test, minimum of 4 positions, with recording.
92543 | Caloric vestibular test, each irrigation (binaural, bithermal stimulation constitutes four tests), with recording.
92544 | Optokinetic nystagmus test, bidirectional, foveal or peripheral stimulation, with recording.
92545 | Oscillating tracking test, with recording.
92546 | Sinusoidal vertical axis rotational testing.
92547 | Use of vertical electrodes (List separately in addition to code for primary procedure).
92548 | Computerized dynamic posturography.
92551 | Screening test, pure tone, air only.
92552 | Pure tone audiometry (threshold); air only.
92553 | Pure tone audiometry (threshold); air and bone.
92555 | Speech audiometry threshold.
92556 | Speech audiometry threshold; with speech recognition.
92557 | Comprehensive audiometry threshold evaluation and speech recognition (92553 and 92556 combined).
92559 | Audiometric testing of groups.
92560 | Bekesy audiometry; screening.
92561 | Bekesy audiometry; diagnostic.
92562 | Loudness balance test, alternate binaural or monaural.
92563 | Tone decay test.
92564 | Short increment sensitivity index (SISI).
92565 | Stenger test, pure tone.
92567 | Tympanometry (impedance testing).
92568 | Acoustic reflex testing; threshold.
92569 | Acoustic reflex testing; decay.
92571 | Filtered speech test.
92572 | Staggered spondaic word test.
92573 | Lombard test.
92575 | Sensorineural acuity level test.
92576 | Synthetic sentence identification test.
92579 | Visual reinforcement audiometry (VRA)
92582 | Conditioning play audiometry.
92583 | Select picture audiometry.
92584 | Electrocochleography.
92585 | Auditory evoked potentials for evoked response audiometry and/or testing of the central nervous system; comprehensive.
92586 | Auditory evoked potentials for evoked response audiometry and/or testing of the central nervous system; limited.
92587 | Evoked otoacoustic emissions; limited (single stimulus level, either transient or distortion products).
92588 | Evoked otoacoustic emissions; comprehensive or diagnostic evaluation (comparison of transient and/or distortion product otoacoustic emissions at multiple levels and frequencies).
92596 | Ear protector attenuation measurements.
92597 | Evaluation for use and/or fitting of voice prosthetic device to supplement oral speech.
92601 | Diagnostic analysis of cochlear implant, patient under 7 years of age; with programming.
92602 | Diagnostic analysis of cochlear implant, patient under 7 years of age; subsequent reprogramming.
92603 | Diagnostic analysis of cochlear implant, age 7 years or older; with programming.
92604 | Diagnostic analysis of cochlear implant, age 7 years or older; subsequent reprogramming.
92605 | Evaluation for prescription of non-speech-generating augmentative and alternative communication device.
92606 | Therapeutic service(s) for the use of non-speech-generating device, including programming and modification.
92607 | Evaluation for prescription for speech-generating augmentative and alternative communication device, face-to-face with the patient; first hour.
92608 | Evaluation for prescription for speech-generating augmentative and alternative communication device, face-to-face with the patient; each additional 30 minutes (List separately in addition to code for primary procedure).
92609 | Therapeutic services for the use of speech-generating device, including programming and modification
92610 | Evaluation of oral and pharyngeal swallowing function.
92611 | Motion fluoroscopic evaluation of swallowing function by cine or video recording.
92612 | Flexible fiberoptic endoscopic evaluation of swallowing by cine or video recording.
92614 | Flexible fiberoptic endoscopic evaluation, laryngeal sensory testing by cine or video recording.
92616 | Flexible fiberoptic endoscopic evaluation of swallowing and laryngeal sensory testing by cine or video recording.
92620 | Evaluation of central auditory function, with report; initial 60 minutes.
92621 | Evaluation of central auditory function, with report; each additional 15 minutes.
92625 | Assessment of tinnitus (includes pitch, loudness matching, and masking).

9. HCPAC Codes

a. Podiatric Services

[If you choose to comment on issues in this section, please include the caption “DISCUSSION OF COMMENTS—HCPAC CODES” at the beginning of your comments.]

We submitted the podiatric services in Table 50 for review.

Table 50
CPT code | Descriptor
10060 | Incision and drainage of abscess (e.g., carbuncle, suppurative hidradenitis, cutaneous or subcutaneous abscess, cyst, furuncle, or paronychia); simple or single.
11040 | Debridement; skin, partial thickness.
11041 | Debridement; skin, full thickness.
11042 | Debridement; skin, and subcutaneous tissue.
11730 | Avulsion of nail plate, partial or complete, simple; single.
29580 | Strapping; Unna boot.

HCPAC Recommendation

The HCPAC agreed with the specialty society that there was compelling evidence that the valuation of these services was incorrect due to a flawed methodology used in the previous Harvard valuation for all six podiatric codes. Based on the survey data, the specialty society requested that the work RVU increase for four codes and decrease for two codes.

For CPT codes 10060 and 29580, the HCPAC supported an increase in the existing work values for these codes and recommended a work RVU of 1.50 for CPT code 10060 and 0.60 for CPT code 29580, which represent the survey median of the survey data for these services.

For CPT code 11040, the HCPAC did not support the work RVU increase recommended by the specialty society, but instead recommended a work RVU of 0.55, which represented the 25th percentile work RVU from the survey data.

For CPT codes 11041 and 11730, the HCPAC recommended a decrease in the work RVUs and, based on the median from the survey data, recommended a work RVU of 0.80 for CPT code 11041 and 1.10 for CPT code 11730.

For CPT code 11042, the HCPAC did not agree with the specialty society that the work RVU should be increased to 1.20 work RVUs. The HCPAC recommended maintaining the current work RVU of 1.12 for this CPT code, which was slightly higher than the survey's 25th percentile work value of 1.10 work RVUs.

The HCPAC-recommended work values for these services are as follows: 10060 = 1.50 work RVUs; 11040 = 0.55 work RVUs; 11041 = 0.80 work RVUs; 11042 = 1.12 work RVUs; 11730 = 1.10 work RVUs; and 29580 = 0.60 work RVUs.

CMS Proposed Valuation

For CPT code 10060, we compared the survey times them with the current Harvard-based times used to value this service. These times are comparable and, therefore, we are recommending maintaining the current work RVUs of 1.17 for this code.

For CPT code 29580, we compared the current Harvard-based times with the survey times. Due to the small reduction in time, the recommended increase in work RVUs is not supported. Therefore, we are proposing to assign 0.55 work RVUs to this service, which represents the 25th percentile of the survey and more accurately represents the time associated with this service.

For CPT code 11730, the current work RVUs are slightly more (0.03) than the recommended value and the survey time is approximately 30 percent greater than the current Harvard-based time. For these reasons, we agree with the HCPAC's recommendation of 1.10 work RVUs for 11730 which represents the median survey value.

For CPT codes 11040, 11041 and 11042, the survey times all reflect significant reductions from current Harvard-based times used to value these services. Based on this comparison which shows decreases in time ranging from 47 percent to 68 percent, we believe that the low values from the surveys more accurately represent the valuation of these services. Therefore, we are proposing to assign work RVUs as follows: 11040 = 0.48 work RVUs; 11041 = 0.60 work RVUs; and 11042 = 0.80 work RVUs. In addition, to ensure that the other codes in this family are properly valued, we recommend the RUC should review the valuation of CPT codes 11043 and 11044.

b. Other HCPAC Codes

The American Dietetic Association submitted five CPT and HCPCS codes related to medical nutrition services that were referred to the CPT Editorial Panel (see Table 51).

Table 51
CPT code | Descriptor
97802 | Medical nutrition therapy; initial assessment and intervention, individual, face-to-face with the patient, each 15 minutes.
97803 | Medical nutrition therapy; re-assessment and intervention, individual, face-to-face with the patient, each 15 minutes.
97804 | Medical nutrition therapy; group (2 or more individual(s)), each 30 minutes G0270 Medical nutrition therapy; reassessment and subsequent intervention(s) following second referral in same year for change in diagnosis, medical condition, or treatment regimen (including additional hours needed for renal disease), individual, face to face with the patient, each 15 minutes.
G0270 | Medical nutrition therapy; reassessment and subsequent intervention(s) following second referral in same year for change in diagnosis, medical condition, or treatment regimen (including additional hours needed for renal disease), individual, face to face with the patient, each 15 minutes.
G0271 | Medical nutrition therapy; reassessment and subsequent intervention(s) following second referral in same year for change in diagnosis, medical condition, or treatment regimen (including additional hours needed for renal disease), group (2 or more individuals), each 30 minutes.

Additionally, the ASHA submitted CPT code 96105, Assessment of aphasia (includes assessment of expressive and receptive speech and language function, language comprehension, speech production ability, reading, spelling, writing, e.g., by Boston Diagnostic Aphasia Examination) with interpretation and report, per hour, for review but subsequently withdrew this code.

C. Other Issues Under the 5-Year Review

[If you choose to comment on issues in this section, please include the caption “OTHER ISSUES” at the beginning of your comments.]

1. Anesthesia Services

Although anesthesia services are paid under the PFS, they are paid on the basis of an anesthesia code-specific base unit and time units that vary based on the anesthesia time of the case. Since anesthesia services do not have a work value per code as do other medical and surgical services, a work value must be imputed for each anesthesia code. For the last 5-Year Review, this imputed work value was compared to an actual work value determined by the RUC and the ASA through a building-block approach. Under the building-block approach, each anesthesia code was uniformly divided into five components: pre-anesthesia, equipment and supply preparation, induction period, post-induction anesthesia period, and post-anesthesia. The work was determined for each of the five components and summed to calculate total anesthesia work for the anesthesia code.

Although the ASA submitted one anesthesia code and several other codes for this 5-Year Review, they continue to believe the work of anesthesia services remain seriously undervalued. The last 5-Year Review of anesthesia services proved to be a very laborious and exhaustive process involving several different RUC workgroups. The valuation of anesthesia work is a very complex process as it involves relating components of anesthesia services to other medical and surgical services of similar time and work. The ASA was dissatisfied with the recommendations made by the RUC for the last 5-Year Review for anesthesia work. The major points of disagreement were the use and extent of extrapolation and the work value for the post-induction anesthesia period, which is the longest period of the anesthesia service.

For the last 5-Year Review, the ASA requested the RUC to extrapolate from 19 high volume anesthesia services, which were studied and accounted for over 50 percent of Medicare payments for anesthesia services, to all anesthesia services. The RUC thought that extrapolation should be limited. That is, an analysis of a single anesthesia code based on a single surgical code was insufficient when the anesthesia code covers a large number of surgical codes. For the last 5-Year Review, the building-block approach used a value of 0.025 for the IWPUT for the post-induction anesthesia period. This was a value that the RUC agreed to, which we approved, although the ASA thought it was too low.

As a result of its relationship with the RUC and the past recommendations, the ASA requested that we address the valuation of anesthesia services reported under CPT codes 00100 through 01999. The ASA furnished an analysis that builds on the methodology used in the last 5-Year Review for the valuation of work for anesthesia services.

Based on comparable physicians' services, the ASA believes that the more appropriate IWPUT for the post-induction period is 0.043. Using this IWPUT, the ASA calculated a scaling factor and used this to recalculate the post-induction work value and an adjusted total work RVU for each of the 19 codes. Based on an extrapolation from the 19 surveyed services used in the last 5-Year Review, the ASA proposed that the anesthesia work value should be increased by 37.5 percent. The extrapolation proposed by the ASA is more far reaching than the extrapolation used by the RUC in the last 5-Year Review. We do not favor using extrapolation other than on the limited basis it was used in the last 5-Year Review.

Since the ASA believes that the RUC process does not work well for their codes, they requested that we directly evaluate their recommendations independent of any RUC review of input. Although there may be some merit to the ASA approach, we believe this analysis is more appropriately done by a multispecialty workgroup within the RUC itself. Thus, we are recommending the valuation of anesthesia services, namely the proposed valuation of the post-induction time period, be referred to the RUC for their review and consideration. For example, the ASA and the RUC could review the IWPUT for post-induction time, as currently proposed by the ASA and compare this to the corresponding IWPUT recognized in the last 5-Year Review of anesthesia work for the 19 surveyed codes.

A second issue concerning anesthesia services pertains to the impact of the revised work values for E/M services and their relationship to the valuation of pre- and post-anesthesia services, components of the building-block approach. The pre- and post-anesthesia services derive their work values from the lower level E/M codes for new patients, the subsequent hospital care codes and the initial inpatient consultation codes. We are proposing to substitute the proposed revised work values for E/M codes where applicable and recompute the anesthesia work values and their impact on the increase in total anesthesia work. While this results in a very minor adjustment to anesthesia work (that is, less than 1 percent), we believe this approach provides for the consistent application of the proposed work RVUs changes.

2. Discussion of Post-Operative Visits Included in the Global Surgical Packages

We have established a national definition for a global surgical package so that payment is made consistently for the same set of services across all contractor jurisdictions. In constructing the RVUs for a global surgery service, all services that are believed to be typically included in the defined global period are built into the final resource-based RVUs and are not separately billable within the defined global period; this is reflected in the proposed work RVUs in Addenda B and C. This would include pre-surgery work, the intra-service time of actually performing the surgical procedure, and the post-operative (follow-up) visits associated with the monitoring and recovery of the patient.

As stated above in this section, we are proposing to apply the RUC-recommended new values for the E/M services to all surgical services with a 10 or 90-day global period. However, because of variations in the patient population and in practice patterns, there is some question whether the assumptions about the number and level of visits within the global period reflect the actual post-operative work performed. Some surgeons have commented to us that they perform more visits than are included in the global period for their services. It is also likely that some patients require fewer than the “typical” number of follow-up visits included in the global period.

Although we are not proposing any changes to our global policy at this time, we would be interested in receiving comments concerning our current policy of including these post-operative visits in the global surgical packages and what advantages or disadvantages might be associated with proposing a change to this policy in the future.

3. Codes Referred to CPT Editorial Panel From Five-Year Review of Work Relative Value Units

BILLING CODE 4120-01-C

4. Budget Neutrality

Section 1848(c)(2)(B)(ii) of the Act requires that increases or decreases in RVUs for a year may not cause the amount of expenditures for the year to differ by more than $20 million from what expenditures would have been in the absence of these changes. If this threshold is exceeded, we must make adjustments to preserve budget neutrality. This year, we expect that budget-neutrality adjustments will be required as a result of changes in RVUs resulting from the 5-Year Review. Revisions in payment policies, including the establishment of interim and final RVUs for coding changes that will be announced later this year, may result in additional budget-neutrality adjustments.

We considered making the statutorily required budget-neutrality adjustments (under section 1848(c)(2)(B)(ii) of the Act) to account for the 5-Year Review of physician work by reducing all work RVUs. We currently estimate that all work RVUs would have to be reduced by 10 percent under this option. Alternatively, we considered making an adjustment to the PFS CF to meet the provisions of section 1848(c)(2)(B)(ii). This option would require an estimated 5 percent reduction in the CF. We note that the application of the budget neutrality adjustment to the CF would negatively impact all PFS services; whereas the application of the budget neutrality adjustment to the work RVUs would impact only those services that have physician work RVUs. Because the need for a budget neutrality adjustment would be largely due to changes proposed as a result of the 5-Year Review of work RVUs, we believe it is more equitable to apply the adjustment across services that have work RVUs. For this third 5-Year Review, we are proposing to establish a budget neutrality adjustor that would reduce all work RVUs by an estimated 10 percent to meet the budget neutrality provisions of section 1848(c)(2)(B)(ii).

As we noted in the CY 2005 Physician Fee Schedule final rule with comment period (69 FR 66371), PE and malpractice expense RVUs were not subject to comment and will not be recalculated (other than changes to PE RVUs that result from changes in PE inputs due to changes in physician time or in the number of post procedure visits as part of the 5-Year Review of work RVUs).

5. Effect on Practice Expense Inputs Stemming From the 5-Year Review

The proposed changes for work RVUs reflect, in part, the physician's time needed to perform each service, as well as the number and level of assumed post-operative visits. To the extent that the RUC recommended changes in the times associated with the intra-service portion of the procedure, we are also proposing to adjust the clinical labor time assigned for assisting the physician in the nonfacility setting. In addition, if an accepted new work RVU reflects a change in the number or level of post-operative visits, we are proposing to modify the clinical staff time to reflect the change. This adjusted time is also applied to the equipment used in the post-operative visits. Where the number of post-operative visits has changed, the number of minimum multi-specialty visit (MMSV) packs will also be adjusted accordingly. A MMSV pack consists of the following supplies: exam table paper, 2 pairs of non-sterile gloves, a patient gown, a pillow case, and a thermometer probe cover. These changes in clinical labor and equipment time and in the quantity of supplies will have a minimal impact on the PE component.

6. Nature and Format of Comments on Work RVUs

We will accept comments on the proposed work RVUs for the codes identified in the Addendum C of this notice. We will also accept comments on the anesthesia code, CPT code 00797. Comments should discuss how the work associated with a given CPT or HCPCS code is analogous to the work in other services, or discuss the rationale for agreeing or disagreeing with the proposed work RVU. We are especially interested in information or discussions that were not presented in earlier comments.

D. Resource-Based Practice Expense (PE) RVUs

[If you choose to comment on issues in this section, please include the caption “PRACTICE EXPENSE” at the beginning of your comments.]

Based on section 1848(c)(1)(B) of the Act, practice expense (PE) is the portion of the resources used in furnishing the service that reflects the general categories of physician and practitioner expenses, such as office rent and wages of personnel, but excluding malpractice expenses.

Section 121 of the Social Security Amendments of 1994 (Pub. L. 103-432), enacted on October 31, 1994, required CMS to develop a methodology for a resource-based system for determining PE RVUs for each physician's service. Until that time, physicians' PEs were based on historical allowed charges. This legislation stated that the revised PE methodology must consider the staff, equipment, and supplies used in the provision of various medical and surgical services in various settings beginning in 1998. The Secretary has interpreted this to mean that Medicare payments for each service would be based on the relative PE resources typically involved with performing the service.

The initial implementation of resource-based PE RVUs was delayed from January 1, 1998, until January 1, 1999, by section 4505(a) of the Balanced Budget Act of 1997 (BBA 97) (Pub. L. 105-33). In addition, section 4505(b) of the BBA 97 required that the new payment methodology be phased-in over 4 years, effective for services furnished in CY 1999, and fully effective in CY 2002. The first step toward implementation of the statute was to adjust the PE values for certain services for CY 1998. Section 4505(d) of BBA 97 required that, in developing the resource-based PE RVUs, the Secretary must:

• Use, to the maximum extent possible, generally accepted cost accounting principles that recognize all staff, equipment, supplies, and expenses, not solely those that can be linked to specific procedures.

• Develop a refinement method to be used during the transition.

• Consider, in the course of notice and comment rulemaking, impact projections that compare new proposed payment amounts to data on actual physician PEs.

Beginning in CY 1999, we began the four year transition to resource-based PE RVUs. In CY 2002, the resource-based PE RVUs were fully transitioned.

1. Current Methodology

The following sections discuss the current PE methodology.

a. Data Sources

There are two primary data sources used to calculate PE. The AMA's Socioeconomic Monitoring System (SMS) survey data are used to develop the PE per hour (PE/HR) for each specialty. The second source of data used to calculate PE was originally developed by the Clinical Practice Expert Panels (CPEP). The CPEP data include the supplies, equipment and staff times specific to each procedure.

The AMA developed the SMS survey in 1981 and discontinued it in 1999. Beginning in 2002, we incorporated the 1999 SMS survey data into our calculation of the PE RVUs, using a 5-year average of SMS survey data. (See Revisions to Payment Policies and Five-Year Review of and Adjustments to the Relative Value Units Under the Physician Fee Schedule for CY 2002 final rule, published November 1, 2001 (66 FR 55246).) The SMS PE survey data are adjusted to a common year, 1995. The SMS data provide the following six categories of PE costs:

• Clinical payroll expenses, which are payroll expenses (including fringe benefits) for nonphysician personnel.

• Administrative payroll expenses, which are payroll expenses (including fringe benefits) for nonphysician personnel involved in administrative, secretarial or clerical activities.

• Office expenses, which include expenses for rent, mortgage interest, depreciation on medical buildings, utilities and telephones.

• Medical material and supply expenses, which include expenses for drugs, x-ray films, and disposable medical products.

• Medical equipment expenses, which include expenses depreciation, leases, and rent of medical equipment used in the diagnosis or treatment of patients.

• All other expenses, which include expenses for legal services, accounting, office management, professional association memberships, and any professional expenses not mentioned above.

In accordance with section 212 of the Medicare, Medicaid and State Child Health Insurance Program Balanced Budget Refinement Act of 1999 (BBRA) (Pub. L. 106-113), we established a process to supplement the SMS data for a specialty with data collected by entities and organizations other than the AMA (that is, the specialty itself). (See the Criteria for Submitting Supplemental Practice Expense Survey Data interim final rule with comment period, published on May 3, 2000 (65 FR 25664).) Originally, the deadline to submit supplementary survey data was through August 1, 2001. In the Revisions to Payment Policies and Five-Year Review of and Adjustments to the Relative Value Units Under the Physician Fee Schedule for CY 2002 final rule (November 1, 2001; 66 FR 55246), the deadline was extended through August 1, 2003. To ensure maximum opportunity for specialties to submit supplementary survey data, we extended the deadline to submit surveys until March 1, 2005 in the Revisions to Payment Policies Under the Physician Fee Schedule for CY 2004 final rule, (November 7, 2003; 68 FR 63196) (hereinafter referred to as CY 2004 PFS final rule).

The CPEPs consisted of panels of physicians, practice administrators, and nonphysicians (registered nurses (RNs), for example) who were nominated by physician specialty societies and other groups. There were 15 CPEPs consisting of 180 members from more than 61 specialties and subspecialties. Approximately 50 percent of the panelists were physicians.

The CPEPs identified specific inputs involved in each physician service provided in an office or facility setting. The inputs identified were the quantity and type of nonphysician labor, medical supplies, and medical equipment.

In 1999, the AMA's RUC established the Practice Expense Advisory Committee (PEAC). Since 1999, and until March 2004, the PEAC, a multi-specialty committee, reviewed the original CPEP inputs and provided us with recommendations for refining these direct PE inputs for existing CPT codes. Through its last meeting in March 2004, the PEAC provided recommendations, which we have reviewed and accepted, for over 7,600 codes. As a result, the current CPEP inputs differ markedly from those originally recommended by the CPEPs. The PEAC has now been replaced by the Practice Expense Review Committee (PERC), which acts to assist the RUC in recommending PE inputs.

b. Allocation of PEs to Services

To establish PE RVUs for specific services, it is necessary to establish the direct and indirect PE associated with each service. Our current approach allocates aggregate specialty practice costs to specific procedures and, thus, is often referred to as a “top-down” approach. The specialty PEs are derived from the AMA's SMS survey and supplementary survey data. The PEs for a given specialty are allocated to the services performed by that specialty on the basis of the CPEP data and work RVUs assigned to each CPT code. The specific process is detailed as follows:

Step 1—Calculation of the SMS Cost Pool for Each Specialty

The six SMS cost categories can be described as either direct or indirect expenses. The three direct expense categories include clinical labor, medical supplies and medical equipment. Indirect expenses include administrative labor, office expense, and all other expenses. We combine these indirect expenses into a single category. The SMS cost pool for each specialty is calculated as follows:

• The specialty PE/HR for each of the three direct and one indirect cost categories from the SMS is calculated by dividing the aggregate PE per specialty by the specialty's total hours spent in patient care activities (also determined by the SMS survey). The PE/HR is divided by 60 to obtain the PE per minute (PE/MIN).

• Each specialty's PE pools (for each of the three direct and one indirect cost categories) are created by multiplying the PE/MIN for the specialty by the total time the specialty spent treating Medicare patients for all procedures (determined using Medicare utilization data). Physician time on a procedure-specific level is available through RUC surveys of new or revised codes and through surveys conducted as part of the 5-Year Review process. For codes that the RUC has not yet reviewed, the original data from the Harvard resource-based RVU system survey are used. Physician time includes time spent on the case prior to, during, and after the procedure. The physician procedure time is multiplied by the frequency that each procedure is performed on Medicare patients by the specialty.

• The total specialty-specific SMS PE for each cost category is the sum, for each direct and indirect cost category, of all of the procedure-specific total PEs.

Step 2—Calculation of CPEP Cost Pool

CPEP data provide expenditure amounts for the direct expense categories (clinical labor, supplies and equipment cost) at the procedure level. Multiplying the CPEP procedure-level PEs for each of these three categories by the number of times the specialty provided the procedure, produces a total category cost, per procedure, for that specialty. The sum of the total expenses from each procedure results in the total CPEP category cost for the specialty.

Step 3—Calculation and Application of Scaling Factors

This step ensures that the total of the CPEP costs across all procedures performed by the specialty equates with the total direct costs for the specialty as reflected by the SMS data. To accomplish this, the CPEP data are scaled to SMS data by a scaling factor so that the total CPEP costs for each specialty equals the total SMS cost for the specialty. (The scaling factor is calculated by dividing the specialty's SMS pool by the specialty's CPEP pool.)

The unscaled CPEP cost per procedure value, at the direct cost level, is then multiplied by the respective specialty scalar to yield the scaled CPEP procedure value. The sum of the scaled CPEP direct cost pool expenditures equals the total scaled direct expense for the specific procedure at the specialty level.

Step 4—Calculation of Indirect Expenses

Indirect PEs cannot be directly attributed to a specific service because they are incurred by the practice as a whole. Indirect costs include rent, utilities, office equipment and supplies, and accounting and legal fees. There is not a single, universally accepted approach for allocating indirect practice costs to individual procedure codes. Rather allocation involves judgment in identifying the base or bases that are the best measures of a practice's indirect costs.

To allocate the indirect PEs to a specific service, we use the following methodology:

• The scaled direct expenses and the converted work RVU (the work RVU for the service is multiplied by $34.5030, the 1995 CF) are added together, and then multiplied by the number of services provided by the specialty to Medicare patients;

• The total indirect PEs per specialty are calculated by summing the indirect expenses for all other procedures provided by that specialty.

Step 5—Calculation and Application of Indirect Scaling Factors

Similar to the direct costs, the indirect costs are scaled to ensure that the total across all procedures performed by the specialty equates with the total indirect costs for the specialty as reflected by the SMS data. To accomplish this, the indirect costs calculated in Step 4 are scaled to SMS data. The calculation of the indirect scaling factors is as follows:

• The specialty's total SMS indirect expense pool is divided by the specialty's total indirect expense pool calculated in Step 4, to yield the indirect expense scaling factor.

• The unscaled indirect expense amount, at the procedure level, is multiplied by the specialty's scaling factor to calculate the procedure's scaled indirect expenses.

• The sum of the scaled indirect expense amount and the procedure's direct expenses yields the total PEs for the specialty for this procedure.

Step 6—Weighted Average of RVUs for Procedures Performed by More Than One Specialty

For codes that are performed by more than one specialty, a weighted average PE is calculated based on Medicare frequency data of all specialties performing the procedure.

Step 7—Budget Neutrality and Final RVU Calculation

Section 1848(c)(2)(B)(ii)(II) of the Act provides that adjustments in RVUs may not cause total PFS payments to differ by more than $20 million from what they would have been if the adjustments were not made. If the aggregate adjustments to PE RVUs would cause PFS expenditures to exceed the $20 million threshold, the total scaled direct and indirect inputs are then adjusted by a budget neutrality factor (BNF) to calculate RVUs. Budget neutrality for the upcoming year is determined relative to the sum of PE RVUs for the current year. Although the PE RVUs for any particular code may vary from year-to-year, the sum of PE RVUs across all codes is set equal to the current year. The BNF is equal to the sum of the current year's PE RVUs, divided by the sum of the direct and indirect inputs across all codes for the upcoming year. The BNF is applied to (multiplied by) the scaled direct and indirect expenses for each code to set the PE RVU for the upcoming year.

c. Other Methodological Issues: Non-Physician Work Pool (NPWP)

As an interim measure, until we could further analyze the effect of the top-down methodology on the Medicare payment for services with no physician work (including the technical components (TCs) of radiation oncology, radiology and other diagnostic tests), we created a separate PE pool for these services. However, any specialty society could request that its services be removed from the non-physician work pool (NPWP). We will remove services from the NPWP if we find that the requesting specialty provides the service the majority of the time.

NPWP Step 1—Calculation of the SMS Cost Pool for Each Specialty

This step parallels the calculations described above for the standard “top-down” PE allocation methodology. For codes in the NPWP, the direct and indirect SMS costs are set equal to the weighted average of the PE/HR for the specialties that provide the services in the pool. Clinical staff time is substituted for physician time in the calculation. The clinical staff time for the code is from CPEP data. Otherwise, the calculation is similar to the method described previously for codes with physician time.

NPWP Step 2—Calculation of Charge-based PE RVU Cost Pool

The NPWP calculation uses the 1998 (charge-based) PE RVU value for the code, multiplied by the 1995 CF (25.74 × $34.503 = $888.11). The percentage of clinical labor, supplies and equipment are the percentage that each PE category represents for all physicians relative to the total PE for all physicians (calculated from the SMS data).

NPWP Step 3—Calculation and Application of Scaling Factors

After the total cost pools for each specialty and code performed by the specialty are calculated, the steps to ensure the total costs for all of the procedures performed by a specialty do not exceed the total costs for the specialty (scaling) are the same as those described previously for codes with physician work.

NPWP Step 4—Calculation of Indirect Expenses

Because codes in the NPWP do not have work RVUs, indirect expenses are set equal to direct expenses (for codes with physician work, indirect expenses equal the sum of the scaled direct expenses and the converted work RVU). This amount is then multiplied by the number of times the procedure is performed.

NPWP Step 5—Calculation and Application of Indirect Scaling Factors

Similar to the direct costs, the indirect costs are scaled to ensure that the total of the charge-based PE RVU costs across all procedures equates with the total indirect costs as reflected by the SMS data for the NPWP. To accomplish this, the charge-based data are scaled to SMS data so the total charge-based costs equal the total SMS costs.

NPWP Step 6—Budget Neutrality and Final RVU Calculation

Similar to the calculation for codes with physician work, when a budget neutrality adjustment is necessary, the BNF is applied to (multiplied by) the scaled direct and indirect expenses for each code to set the PE RVU for the upcoming year.

d. Facility/Non-facility Costs

Procedures that can be performed in a physician's office, as well as in a hospital have two PE RVUs: Facility and non-facility. The non-facility setting includes physicians' offices, patients' homes, freestanding imaging centers, and independent pathology labs. Facility settings include hospitals, ambulatory surgical centers (ASCs), and skilled nursing facilities (SNFs). The methodology for calculating the PE RVU is the same for both facility and non-facility RVUs, but is applied independently to yield two separate PE RVUs. Because the PEs for services provided in a facility setting are generally included in the payment to the facility (rather than the payment to the physician under the fee schedule), the PE RVUs are generally lower for services provided in the facility setting.

2. PE Proposals Methodology for CY 2006

The following discussions outline the specific PE related proposals for CY 2007.

We have three major goals for our resource-based PE methodology:

• To ensure that the PE portion of PFS payments reflect, to the greatest extent possible, the relative resources required for each of the services on the PFS. This could only be accomplished by using the best available data to calculate the PE RVUs.

• To develop a payment system for PE that is understandable and at least somewhat intuitive, so that specialties could better predict the impacts of changes in the PE data.

• To stabilize the PE portion of PFS payments so that changes in PE RVUs do not produce large fluctuations in the payment for given procedures from year-to-year.

These goals have also been supported in numerous comments we have received from the medical community.

In the CY 2006 PFS proposed rule (70 FR 45764), we proposed the following changes to the PE methodology that we believed would help in achieving our three major goals (stated above in this section):

• Using the PE/HR data from seven specialty-specific supplementary surveys.

• Calculating the direct PE using a bottom-up methodology.

• Eliminating the NPWP.

We also proposed an indirect PE methodology that was to assign to each service the higher of the current indirect PE RVUs or the indirect PE RVUs calculated using the supplementary survey data.

In the CY 2006 PFS final rule with comment period (70 FR 70116), we withdrew these proposals primarily because a programming error for the indirect PE RVU calculation had led to the publication of inaccurate proposed PE RVUs. On February 15, 2006, we sponsored a PE Town Hall Meeting and invited the public, including all specialty representatives to attend. At this meeting, we supplied a detailed description of the bottom-up approach to the calculation of resource-based PE RVUs. Three examples were examined in detail that illustrated the impact of the various assumptions that could be used under a bottom-up approach. We specifically requested input from all interested parties on possible changes to our PE methodology, including the move to a bottom-up approach and the various methods of calculating indirect PE.

We have reviewed the approximately 35 comments that we received in response to our solicitation. Many of the comments were combined efforts from related specialty organizations. Additionally, the AMA RUC also supplied a letter that captured the comments of nearly 30 specialty organizations. The following is a summary of some of the comments we received.

• Delaying Implementation of Changes to the Current PE Methodology: There were mixed opinions from commenters on whether we should proceed with a proposal to use a bottom-up approach. Some commenters emphasized that the CPEP data has been refined and is now the best available source of data, and asserted that it should be used for the calculation of resource-based PE RVUs. Other comments suggested a delay in changing to a bottom-up approach because of the other issues that are affecting PFS payments this year (such as, the effect of imaging payment provisions in the Deficit Reduction Act (DRA), the impact of the negative update, and the uncertainty regarding the impact of the 5-Year Review of work RVUs).

• Transition to a Bottom-Up Approach: The majority of commenters requested a minimum one-year transition to a maximum 3-year transition period to fully implement any change to a bottom-up approach. All of the commenters supported a transition period whether or not they supported the implementation of a bottom-up approach.

• Use of Supplemental Survey Data: A large number of commenters stated that, irrespective of what we propose for 2007, the supplemental survey data that has already been accepted should be used. Other commenters believed that the supplemental survey data grossly overstated PEs and should not be utilized in the development of resource based PE RVUs.

• Multi-Specialty PE Survey: The majority of commenters supported the construction and use of a multi-specialty survey to collect PE data. Commenters believed that the supplemental survey data is inflated and that the SMS survey data are outdated.

• Review Equipment Utilization Assumptions and Interest Rates: Many commenters supported the review and revision of both the current utilization assumptions and the interest rates associated with high cost equipment. Commenters had mixed reactions as to whether the utilization rates should be higher or lower, and some suggested that we review the possibility of equipment-specific utilization assumptions for the future. Most commenters believed that the current 11 percent interest rate is significantly higher then the actual interest rates and many commenters suggested a rate of approximately prime plus 2 percent.

• Proxy Work RVUs for No Physician Work Services: Commenters were divided on the assignment of a proxy work RVU to services that contain no physician work. Some commenters believed that no physician work services are unfairly penalized under any bottom-up approach, while other comments stated that the inclusion of a proxy work RVU would double count the clinical labor associated with the no physician work services.

After considering the comments we received on the CY 2006 PFS proposed rule (70 FR 45764) and in response to comments received during and following the Town Hall meeting, we believe that the use of a bottom-up methodology for direct costs, use of the supplementary survey data and elimination of the NPWP would assist us in meeting our goal of a PE methodology that is equitable, understandable and stable. Therefore, we are again proposing these changes to our PE methodology. We are also proposing a change in the methodology used to calculate the indirect PE for each service that is different than previously proposed. The following is a summary of our proposals.

a. Use a Bottom-Up Method to Calculate the Direct PEs

We believe that we have consistently made a good faith effort to ensure fairness in our PE RVU-setting system by using the best data available at any one time. The reason we did not adopt the bottom-up methodology originally proposed in 1997 and instead adopted the top-down methodology finalized in 1998 was because we recognized the concerns among the physician community that the resource input data developed in 1995 by the CPEP were less reliable than the aggregate specialty cost data derived from the SMS process.

However, the situation has now changed. The PEAC/PERC/RUC has completed the refinement of the original CPEP data and we believe that the refined PE inputs now, in general, accurately capture the relative direct costs of performing PFS services. Conversely, although we have now accepted supplementary survey data from 13 specialties, we have not received updated aggregate cost data from most specialties. Thus, we believe that, in the aggregate, the refined CPEP data represent more reliably the relative direct cost PE inputs for physicians' services.

Therefore, instead of using the top-down approach to calculate the direct PE RVUs, where the aggregate CPEP/RUC costs for each specialty are scaled to match the aggregate SMS costs, we propose to adopt a bottom-up method of determining the relative direct costs for each service. Under this method, the direct costs would be determined by adding the costs of the resources (that is, the clinical staff, equipment and supplies) typically required to provide the service. The costs of the resources, in turn, would be calculated from the refined CPEP/RUC inputs in our PE database.

We believe that this proposed change, which was welcomed by most commenters in the CY 2006 PFS proposed rule, will lead to greater stability and accuracy in the PE portion of our payment system. Currently, under the top-down methodology, the need to scale the CPEP costs to equal the SMS costs meant that any changes in the direct PE inputs for one service often leads to unexpected results for other services where the inputs had not been altered. In addition, the current PE RVUs for a procedure do not necessarily change proportionately with changes in the direct inputs, creating possible anomalous values. We believe that our proposed bottom-up methodology would resolve these issues, so that changes in the PE RVUs would be more intuitive and would result in fewer surprises.

b. Use the PE/HR Data From the Seven Surveys We Have Previously Accepted and, in Addition, Use the PE/HR Data From the Survey Submitted by the National Coalition of Quality Diagnostic Imaging Services (NCQDIS)

As explained in the CY 2005 PFS final rule with comment period (69 FR 66242), we received surveys from the ACC, the ACR, and the ASTRO by March 1, 2004. The data submitted by the ACC and the ACR met our criteria. However, as requested by the ACC and the ACR, we deferred using their data until issues related to the NPWP could be addressed. (The survey data from ASTRO did not meet the precision criteria established for supplemental surveys; therefore, we did not accept or use it in the calculation of PE RVUs for 2005.)

In March 2005, we also received surveys from the Association of Freestanding Radiation Oncology Centers (AFROC), the AUA, the AAD, the JCAAI, the NCQDIS, and a joint survey from the American Gastroenterological Association (AGA), the American Society of Gastrointestinal Endoscopy (ASGE) and the American College of Gastroenterology (ACG).

All the surveys, with the exception of the survey from NCQDIS, met our criteria. Therefore, we proposed in the CY 2006 PFS proposed rule (70 FR 45775) to use the survey data from all the surveys meeting our criteria in the calculation of PE RVUs for 2006; but, as discussed in the CY 2006 PFS final rule with comment period (70 FR 70116) and above in this section, this proposal was not finalized.

We contracted with the Lewin Group (Lewin) to evaluate whether the supplemental survey data that were submitted met our criteria and to make recommendations to us regarding their suitability for use in calculating PE RVUs. As described in the CY 2006 PFS proposed rule (70 FR 45775), Lewin recommended blending the radiation oncology data from the AFROC survey data with the ASTRO survey data submitted in 2004 to calculate the PE/HR. According to Lewin, the goal of the AFROC survey was to represent the population of freestanding radiation oncology centers only. To develop an overall average for the radiation oncology PE pool, the Lewin Group recommended we use the AFROC survey for freestanding radiation oncology centers, and the hospital-based subset of last year's ASTRO survey. We agreed that this blending of the AFROC and ASTRO data was a reasonable way to calculate an average PE/HR that fully reflects the practice of radiation oncology in all settings. Blending the survey data overcame the initial problem that the ASTRO data do not meet the precision criteria as discussed in the CY 2005 PFS final rule (69 FR 66242). In addition, as discussed in the CY 2006 PFS proposed rule (70 FR 45776), blending of the data allowed for a broader base of radiation oncology providers to be represented.

Also, as discussed in the CY 2006 PFS proposed rule (70 FR 45764), Lewin indicated that the survey data submitted by the NCQDIS on independent diagnostic testing facilities (IDTFs) did not meet our precision criterion. However, upon further analysis, Lewin agreed with NCQDIS' determination that the inclusion of one inaccurate record skewed the findings outside the acceptable precision range. Lewin recalculated the precision level at 8.1 percent of the mean PE/HR (weighted by the number of physicians in the practice). Lewin indicated that the level of precision for the total PE/HR satisfies the level of precision requirement, and recommended acceptance of the survey.

We are now proposing to use the PE/HR data from all of the above surveys, including the NCQDIS survey, in the calculation of the PE RVUs for 2007. We are again proposing for radiation oncology to use the new PE/HR derived from combining the AFROC and ASTRO survey data, as recommended by Lewin.

We propose to use the PE per physician hour figures in Table 52. It should be noted that the relatively high PE per physician hour values for IDTFs result from the fact that there are far fewer hours for this specialty than most others. IDTFs use relatively few physician hours, so the same practice expenses in the numerator divided by the smaller denominator results in considerably higher values for practice expenses per hour. Although these values of PE/HR appear to be outliers, they actually contribute little to the overall value for practice expenses per hour, because the volume of each of the services performed by the IDTFs represents a relatively small percentage of the total services.

Table 52.—Practice Expense Per Physician Hour Figures
Specialty | Clinical labor | Supplies | Equipment | Administrative expense | Office expense | Other expense
Allergy/Immunology | 65.9 | 22.5 | 6.3 | 56.3 | 65.9 | 31.1
Cardiology | 59.6 | 25.9 | 18.6 | 53.3 | 52.7 | 25
Dermatology | 40.6 | 15.4 | 11 | 51.5 | 78.8 | 28.2
Gastro-enterology | 30.2 | 8.2 | 5.9 | 39.6 | 48.4 | 13.3
IDTF | 111.6 | 55 | 302.5 | 155.5 | 121.2 | 189.5
Radiology | 29.1 | 11.3 | 27.3 | 37.8 | 23.9 | 44.8
Radiation Oncology | 49.7 | 4.8 | 27.6 | 26 | 39.7 | 28.1
Urology | 27.9 | 14.4 | 11.2 | 42.3 | 53.8 | 23.4

Section 303(a)(1)(B) of the Medicare Prescription Drug, Improvement, and Modernization Act of 2003 (MMA) (Pub. L. 108-173) added section 1848(c)(2)(I) of the Act to require CMS to use survey data submitted by a specialty group where at least 40 percent of the specialty's payments for Part B services are attributable to the administration of drugs in 2002 to adjust PE RVUs for drug administration services. The statute applies to surveys that include expenses for the administration of drugs and biologicals, and were received by March 1, 2005 for determining the CY 2006 PE RVUs. Section 303(a)(1)(A)(ii) of the MMA also added section 1848(c)(2)(B)(iv)(II) of the Act to provide an exemption from budget neutrality in 2005 and 2006 for any additional expenditures resulting from the use of these surveys. In the Changes to Medicare Payment for Drugs and Physician Fee Schedule Payments for CY 2004 interim final rule published January 7, 2004 (69 FR 1084), we stated that the specialties of urology, gynecology, and rheumatology meet the above criteria. As described in the CY 2006 PFS final rule with comment period (70 FR 70116), we accepted for the purposes of calculating the 2006 PE RVUs for drug administration services the new survey data from the AUA and exempted from the budget neutrality adjustment any impacts of accepting these data for purposes of calculating PE RVUs for drug administration services. (Note: Rheumatology and gynecology did not submit supplemental survey data.)

c. Eliminate the NPWP and Calculate the PE RVUs for All Services Using the Same Methodology

Primarily because of the lack of representative SMS data or accurate direct cost inputs for specialties such as radiology and radiation oncology, the adoption of the top-down approach necessitated the creation of the NPWP. This separate work pool was created to allocate PE RVUs for TC codes and codes that are not performed by physicians and, thus, have no work RVUs. In the CY 2000 Physician Fee Schedule; Payment Policies and Relative Value Unit Adjustment final rule, we indicated that “the purpose of this pool was only to protect the (TC) services from the substantial decreases” caused by inaccurate CPEP data and the lack of physician work RVU in the allocation of the indirect costs (64 FR 59406). Unfortunately, the services priced by the NPWP methodology have proven to be especially vulnerable to any change in the work pool's composition. This has led to significant fluctuations from year to year in the PE RVUs calculated for these services.

The major specialties comprising the NPWP (radiology, radiation oncology and cardiology) have now submitted supplemental survey data that we have accepted and are proposing to use in their PE calculations. (See the discussion on supplementary surveys above in this section.) Now that we have representative aggregate PE data for these specialties, and with the completion of the refinement of the direct cost inputs, the continued necessity and equity of treating these technical services outside the PE methodology applied to other services is questionable.

Therefore, we are proposing to eliminate the NPWP and to calculate the PE RVUs for the services currently in the work pool by the same methodology used for all other services. This would also allow the use of the refined CPEP/RUC data to price the direct costs of individual services, rather than utilizing the pre-1998 charge-based PE RVUs. In addition, this proposal would lead to greater stability for the PE RVUs for these services and would lead to more intuitive results than have occurred with the NPWP methodology.

d. Modify the Current Indirect PE RVUs Methodology

As described previously, the SMS and supplementary survey data are the source for the specialty-specific aggregate indirect costs used in our PE calculations. We then allocate the indirect costs to particular codes on the basis of the direct costs allocated to a code and the work RVUs. In the CY 2006 PFS proposed rule (70 FR 45764), we stated that we had no information that would indicate that the current indirect PE methodology is inaccurate. At that time, we also were not aware of any alternative approaches or data sources that we could use to calculate more appropriately the indirect PE, other than the new supplementary survey data, which we propose to incorporate into our PE calculations. Therefore, we proposed to use the current indirect PEs in our calculation, incorporating the new survey data into the codes performed by the specialties submitting the surveys. We also indicated in that same proposed rule that we would welcome any suggestions that would assist us in further refinement of this indirect PE methodology. For example, we were considering whether we should continue to accept supplementary survey data or whether it would be preferable and feasible to have an SMS-type survey of only indirect costs for all specialties, or whether a more formula-based methodology independent of the SMS data should be adopted, perhaps using the specialty-specific indirect-to-total cost percentage as a basis of the calculation. For a prior discussion of many of the issues associated with allocating indirect costs, please refer to the CY 2000 Physician Fee Schedule; Payment Policies and Relative Value Unit Adjustment proposed rule (63 FR 30823).

3. Modifications to PE Proposals

As a result of collaboration with the PFS community and public comments on this issue, we are now in a position to propose modifications to the indirect PE methodology.

a. Indirect Percentage Factor: Use of the Specialty-Specific Percentage That Indirect PEs Represent of Total PEs Based on the Survey Data

We currently allocate indirect expenses on the sum of the direct expenses and the work RVUs (converted to dollars by multiplying by the CF). We are proposing to allocate indirect expenses by applying a specialty-specific indirect percentage factor to the direct expenses in order to recognize the varying proportion that indirect costs represent of total costs by specialty. This would have the effect of relatively increasing the indirect expense allocation for services that are on average performed by specialties with higher indirect PE percentages, and relatively decreasing the indirect expense allocation for services that are performed by specialties with lower indirect PE percentages. For a given service, the specific indirect percentage factor to apply to the direct costs for the purpose of the indirect allocation would be calculated as the weighted average of the ratio of the indirect to direct costs (based on the survey data) for the specialties that perform the code. For example, if a service is performed by a single specialty with indirect PEs that were 75 percent of total PEs, the indirect percentage factor to apply to the direct costs for the purposes of the indirect allocation would be (0.75/0.25) = 3.0.

b. Continued Use of the Specialty-Specific Indirect Scaling Factors

As described earlier, we incorporate the indirect PE/HR surveys into the methodology through the use of specialty-specific indirect scaling factors. We would continue to use the specialty-specific indirect scaling factors; however, to apply them in a simpler manner we propose to create an index. This index would reflect the relationship between each specialty's indirect scaling factor and the overall indirect scaling factor for the entire PFS. For example, if a specialty had an indirect practice cost index of 2.00, this specialty would have an indirect scaling factor that was twice the overall average indirect scaling factor. If a specialty had an indirect practice cost index of 0.50, this specialty would have an indirect scaling factor that was half the overall average indirect scaling factor. The calculation and application of the indirect practice cost index is described in more detail below in this section.

c. Use of the Clinical Labor Costs in the Indirect Allocation for a Service When the Clinical Labor Costs are Greater Than the Physician Work RVU

We have received numerous comments that services with little or no physician work RVUs are disadvantaged under our current indirect allocation methodology based on the direct costs and the work RVUs. In response to these comments, when the clinical labor portion of the direct PE RVU is greater than the physician work RVU for a particular service, we are proposing to allocate on the direct costs and the clinical labor costs. For example, if a service has no physician work, the direct PE RVU is 1.10 and the clinical labor portion of the direct PE RVU is 0.65 RVUs, we would use the 1.10 direct PE RVUs and the 0.65 clinical labor portion of the direct PE RVUs for the indirect PE allocation for that service. As another example, if the physician work RVUs for a service are 0.25, the direct PE RVU is 1.10 and the clinical labor portion of the direct PE RVU is 0.65 RVUs, we would use the 1.10 direct PE RVUs and the 0.65 clinical labor RVUs for the indirect allocation for that service. We would not use the 0.25 physician work RVUs for the indirect PE allocation since the 0.65 clinical labor RVUs are greater than the 0.25 physician work RVUs.

d. Use of 2005 Utilization Data in the Indirect PE RVU Calculation

Under the current PE methodology, we predominately use the 1997-2000 utilization data in the calculation of the indirect PE RVUs when the service existed during 1997-2000 or the first year of utilization data if the service did not exist during that time period. We used those years of utilization data primarily to increase the year to year stability of the PE RVUs. With the changes we are proposing to make to PE RVUs, in particular the elimination of the NPWP, we will increase the year-to-year stability of the PE RVUs. We believe it is now appropriate to use updated utilization data in the calculation of the indirect PEs. We believe the other proposed changes in the PE methodology will help obtain the year-to-year stability we were attempting to achieve by continuing to use the older utilization data. Additionally, the use of more current utilization data would reflect the more current practice patterns. We are proposing to use the 2005 utilization data in the calculation of the 2007 indirect PE RVUs. We are also seeking comments on whether the utilization data should be updated yearly, which would increase the accuracy of the PE calculations, or less often, which would increase the stability of the PE RVUs.

e. Elimination of the Special Methodologies for Services With Technical and Professional Components

Under the PFS, when services have technical, professional, and global components that can be billed separately, the payment for the global component equals the sum of the payment for the technical and professional components. Under the current PE methodology, the different mix of specialties that perform the global, technical and professional components can cause the PE RVUs, otherwise created by the methodology, to fail to add together properly; that is, the global component does not equal the sum of the professional and technical components. The global component might exceed the sum of the technical and professional components or it might be less than the sum of the technical and professional components. We ensure that the technical and professional components add to the global component in one of two ways. For services in the NPWP, we set the PE RVUs for the global component equal to the sum of the professional component PE RVU and the technical component PE RVU. For services outside the NPWP, we set the PE RVUs for the technical component equal to the difference between the global PE RVUs and the professional component RVUs.

With our proposed change to a bottom-up methodology for the direct PEs, there would be no weighted averaging of the direct costs inputs necessary to create the direct PE RVUs and, therefore, the direct PE RVUs for the professional and technical components would sum to the global component. Under the current methodology, as a result of the process used to ensure the professional and technical components sum to the global, RVUs for a service with a global component can be either more or less than the RVUs that would have been calculated for the service if the professional and technical components did not have to sum to the global.

Given the proposed change to bottom-up methodology and the elimination of the NPWP, we believe it is inappropriate to have codes for which the global, and the technical and professional components are assigned RVUs that are either less than or greater than the methodology would otherwise produce, and thus, are paid at a rate that is either less than or greater than the methodology would otherwise specify. (See section II.D.1. of this proposed notice for the discussion of the current methodology.) Therefore, we are proposing that in the calculation of the indirect percentage factor described earlier in section II.D.3.a., we would use a weighted average of the ratio of indirect to direct costs across all the specialties that perform the global, technical, and professional components; that is, we would apply the same weighted average indirect percentage factor to allocate indirect expenses to the global, professional, and technical components for a service. We also propose to utilize a similar weighted averaging approach across all the specialties that perform the components when calculating the indirect PE scaling factor. Because the direct PE RVUs for the technical and professional components sum to the global under the bottom-up methodology, and we are proposing to calculate the indirect percentage factor and the indirect scaling factor so that they do not vary between the technical, professional, and global components, our proposed methodology would create technical and professional components that sum to the global, and no other special methodology would need to be employed.

(i) Proposed PE RVU Methodology

Below is a description of the proposed PE RVU methodology.

(a) Setup File

First, we create a setup file for the PE methodology. The setup file contains the direct cost inputs, the utilization for each procedure code at the specialty and facility/nonfacility place of service level, and the specialty-specific survey PE per physician hour data. Information specific to the creation of the setup file can be found at the end of section II.D.

(b) Calculate the Direct Cost PE RVUs

Sum the costs of each direct input.

Step 1: Sum the direct costs of the inputs for each service. The direct costs consist of the costs of the direct inputs for clinical labor, medical supplies, and medical equipment. The clinical labor cost is the sum of the cost of all the staff types associated with the service; it is the product of the time for each staff type and the wage rate for that staff type. The medical supplies cost is the sum of the supplies associated with the service; it is the product of the quantity of each supply and the cost of the supply. The medical equipment cost is the sum of the cost of the equipment associated with the service; it is the product of the number of minutes each piece of equipment is used in the service and the equipment cost per minute. The equipment cost per minute is calculated as described at the end of this section.

Apply a budget neutrality adjustment to the direct inputs.

Step 2: Calculate the current aggregate pool of direct PE costs. To do this, multiply the current aggregate pool of total direct and indirect PE costs (that is, the current aggregate PE RVUs multiplied by the CF) by the average direct PE percentage from the SMS and supplementary specialty survey data.

Step 3: Calculate the aggregate pool of proposed direct costs. To do this, for all PFS services, sum the product of the direct costs for each service from Step 1 and the utilization data for that service.

Step 4: Using the results of Step 2 and Step 3 calculate a direct PE budget neutrality adjustment so that the proposed aggregate direct cost pool does not exceed the current aggregate direct cost pool and apply it to the direct costs from Step 1 for each service.

Step 5: Convert the results of Step 4 to an RVU scale for each service. To do this, divide the results of Step 4 by the Medicare PFS CF.

(c) Create the Indirect PE RVUs

Create indirect allocators.

Step 6: Based on the SMS and supplementary specialty survey data, calculate direct and indirect PE percentages for each physician specialty.

Step 7: Calculate direct and indirect PE percentages at the service level by taking a weighted average of the results of Step 6 for the specialties that perform the service. Note that for services with technical and professional components we are calculating the direct and indirect percentages across the global, professional and technical components. That is, the direct and indirect percentages for a given service (for example, echocardiogram) do not vary by the professional, technical and global components.

Step 8: Calculate the service level allocators for the indirect PEs based on the percentages calculated in Step 7. The indirect PEs are allocated based on the three components: the direct PE RVU, the clinical PE RVU and the work RVU. (Note that the work RVU used in the calculation includes the separate work budget neutrality adjustment from the 5-Year Review of the work RVUs discussed elsewhere in this proposed notice.)

For most services the indirect allocator is: Indirect percentage * (direct PE RVU/direct percentage) + work RVU.

There are two situations where this formula is modified:

• If the service is a global service (that is, a service with global, professional and technical components), then the indirect allocator is: indirect percentage * (direct PERVU/direct percentage) + clinical PE RVU + work RVU.

• If the clinical labor PE RVU exceeds the work RVU (and the service is not a global service), then the indirect allocator is: indirect percentage * (direct PERVU/direct percentage) + clinical PE RVU.

Note that for global services the indirect allocator is based on both the work RVU and the clinical labor PE RVU. We do this to recognize that, for the professional service, indirect PEs will be allocated using the work RVUs, and for the technical component service, indirect PEs will be allocated using the direct PE RVU and the clinical labor PE RVU. This also allows the global component RVUs to equal the sum of the professional and technical component RVUs.)

For presentation purposes in the examples in the Table 53, the formulas are divided into two parts for each service. The first part does not vary by service and is the indirect percentage * (direct PE RVU/direct percentage). The second part is either the work RVU, clinical PE RVU, or both depending on whether the service is a global service and whether the clinical PE RVU exceeds the work RVU (as described earlier in this step.)

Apply a budget neutrality adjustment to the indirect allocators.

Step 9: Calculate the current aggregate pool of indirect PE RVUs by multiplying the current aggregate pool of PE RVUs by the average indirect PE percentage from the physician specialty survey data. This is similar to the Step 2 calculation for the direct PE RVUs.

Step 10: Calculate an aggregate pool of proposed indirect PE RVUs for all PFS services by adding the product of the indirect PE allocators for a service from Step 8 and the utilization data for that service. This is similar to the Step 3 calculation for the direct PE RVUs.

Step 11: Using the results of Step 9 and Step 10, calculate an indirect PE adjustment so that the proposed aggregate indirect allocation does not exceed the available aggregate indirect PE RVUs and apply it to indirect allocators calculated in Step 8. This is similar to the Step 4 calculation for the direct PE RVUs.

Calculate the Indirect Practice Cost Index.

Step 12: Using the results of Step 11, calculate aggregate pools of specialty-specific adjusted indirect PE allocators for all PFS services for a specialty by adding the product of the adjusted indirect PE allocator for each service and the utilization data for that service.

Step 13: Using the specialty-specific indirect PE/HR data, calculate specialty-specific aggregate pools of indirect PE for all PFS services for that specialty by adding the product of the indirect PE/HR for the specialty, the physician time for the service, and the specialty's utilization for the service.

Step 14: Using the results of Step 12 and Step 13, calculate the specialty-specific indirect PE scaling factors as under the current methodology.

Step 15: Using the results of Step 14, calculate an indirect practice cost index at the specialty level by dividing each specialty-specific indirect scaling factor by the average indirect scaling factor for the entire PFS.

Step 16: Calculate the indirect practice cost index at the service level to ensure the capture of all indirect costs. Calculate a weighted average of the practice cost index values for the specialties that perform the service. Note that for services with technical and professional components, we calculate the indirect practice cost index across the global, professional and technical components. Under this method, the indirect practice cost index for a given service (for example, echocardiogram) does not vary by the professional, technical and global components.

Step 17: Apply the service level indirect practice cost index calculated in Step 16 to the service level adjusted indirect allocators calculated in Step 11 to get the indirect PE RVU.

(d) Calculate the Final PE RVUs

Step 18: Add the direct PE RVUs from Step 6 to the indirect PE RVUs from Step 17.

Step 19: Calculate and apply the final PE budget neutrality adjustment by comparing the results of Step 18 to the current pool of PE RVUs. This final budget neutrality adjustment is primarily required because certain specialties are excluded from the PE RVU calculation for ratesetting purposes, but all specialties are included for purposes of calculating the final budget neutrality adjustment. (See “Specialties excluded from rate-setting calculation” below in this section.)

(e) Setup File Information

• Specialties excluded from rate-setting calculation: For the purposes of calculating the PE RVUs, we exclude certain specialties such as midlevel practitioners paid at a percentage of the PFS, audiology, and low volume specialties from the calculation. This is the same approach used under the current methodology. These specialties are included for the purposes of calculating the budget neutrality adjustment.

• Crosswalk certain low volume physician specialties: Crosswalk the utilization of certain specialties with relatively low PFS utilization to the associated specialties. This is the same approach used under the current methodology.

• Physical therapy utilization: Crosswalk physical therapy utilization to the specialty of physical therapy. This is the same approach used under the current methodology.

• Identify professional and technical services not identified under the usual TC and 26 modifier: Flag the services that are professional and technical component services, but do not use TC and 26 modifiers (for example, electrocardiograms). This flag associates the professional and technical component with the associated global code for use in creating the indirect PE RVU. For example, the professional service code 93010 is associated with the global code 93000.

• Payment modifiers: Payment modifiers are accounted for in the creation of the file. For example, services billed with the assistant at surgery modifier are paid 16 percent of the PFS amount for that service; therefore, the utilization file is modified to only account for 16 percent of any service that contains the assistant at surgery modifier.

• Proposed work RVUs from the 5-Year Review: The setup file contains the proposed work RVUs from the 5-Year Review.

The equipment cost per minute is calculated as:

(f) Equipment Cost Per Minute =

(1/(minutes per year * usage)) * price * ((interest rate/(1−(1/((1 + interest rate) * life of equipment))) + maintenance)

Where:

Minutes per year = maximum minutes per year if usage were continuous (that is, usage = 1); 150,000 minutes.

Usage = equipment utilization assumption; 0.5.

Price = price of the particular piece of equipment.

Interest rate = 0.11.

Life of equipment = useful life of the particular piece of equipment.

Maintenance = factor for maintenance; 0.05.

BILLING CODE 4120-01-C

(ii) Transition the Resulting Revised PE RVUs over a Four-Year Period

A complete analysis of the impacts of these changes is contained in the impact analysis in section V. of this proposed rule. We are concerned that, when combined with a proposed negative update factor for CY 2007 and the proposed changes to the work RVUs under the 5-Year Review, the shifts in some of the PE RVUs resulting from the immediate implementation of our proposals could potentially cause some disruption for medical practices. Therefore, we are proposing to transition the proposed PE changes over a 4-year period. This would also give ample opportunity for us, as well as the medical specialties and the RUC, to identify any anomalies in the PE data, to make any further appropriate revisions, and to collect additional data as needed prior to the full implementation of the proposed PE changes.

During the transition period, the PE RVUs would be calculated on the basis of a blend of RVUs calculated using our proposed methodology described above (weighted by 25 percent during CY 2007, 50 percent during CY 2008, 75 percent during CY 2009, and 100 percent thereinafter), and the current CY 2006 PE RVUs for each existing code. PE RVUs for codes that are new during this period would be calculated using only the proposed methodology, and paid at the fully transitioned rate. We believe that implementing all of these proposed changes would further our goal of producing a more accurate, more intuitive and more stable PE methodology.

For example, as stated above in this section, now that the direct PE inputs have been refined, we believe that the proposed CPEP/RUC direct input data are superior to the specialty-specific SMS PE/HR data for the purposes of determining the typical direct PE resources required to perform each service on the PFS. First, we have received recommendations on the procedure-specific inputs from the multi-specialty PEAC that were based on presentations from the relevant specialties, after the inputs were closely scrutinized by the PEAC using standards and packages that were agreed upon by all involved specialties. Second, the refined CPEP/RUC data are more current than the aggregate specialty-specific data for the majority of specialties. Third, for direct costs, we believe that it is reasonable to assume that the costs of the clinical staff, supplies and equipment are the same for a given service, regardless of the specialty that is performing it. This does not happen under the top-down direct cost methodology, where the specialty-specific scaling factors can create differing direct costs for the same service.

We also believe the proposed methodology is less confusing and more intuitive than the current approach. First, the NPWP would be eliminated and all services would be priced using one methodology, eliminating the complicated calculations needed to price NPWP services. Second, any revisions made to the direct inputs for one or more services would now have predictable results. Changes in the direct practice inputs for a service would proportionately change the PE RVUs for that service without significantly affecting the PE RVUs for unrelated services (except, of course, to the extent that a budget neutrality adjustment is required to be applied by the statute).

The proposed methodology would also create a system that would be significantly more stable from year-to-year than the current approach. Specialties should no longer experience the wide fluctuations in payment for a given service due to an aberrant direct cost scaling factor. Direct PEs should only change for a service if the service is further refined or when prices are updated, while indirect PEs should change only when there are changes in the mix of specialties furnishing the service or if any future new survey data for indirect costs are utilized.

We recognize that there may be some outstanding issues that need further consideration, and we welcome input from the medical community regarding those issues. We also believe the proposed transition period would give us the opportunity to work with the affected specialties to collect any needed data or to determine whether further revisions to our PE methodology are needed before payment is based entirely on the proposed methodology. As we gain experience with the new methodology, we will reexamine this policy beginning next year and propose necessary revisions through future rulemaking.

Therefore, we welcome all comments on these proposed changes, particularly those concerning additional modifications to the indirect PE methodology that might help us further our intended goals.

III. Collection of Information Requirements

This document does not impose information collection and recordkeeping requirements. Consequently, it need not be reviewed by the Office of Management and Budget under the authority of the Paperwork Reduction Act of 1995 (44 U.S.C. 3501 et seq.)

IV. Response to Comments

Because of the large number of public comments we normally receive on Federal Register documents, we are not able to acknowledge or respond to them individually. We will consider all comments received by the date and time specified in the DATES section of this preamble, and, we will respond to the comments in the CY 2007 Physician Fee Schedule final rule with comment period.

V. Regulatory Impact Analysis

[If you choose to comment on issues in this section, please include the caption “REGULATORY IMPACT ANALYSIS” at the beginning of your comments.]

A. Overall Impact

We have examined the impacts of this proposed notice as required by Executive Order 12866 (September 1993, Regulatory Planning and Review), the Regulatory Flexibility Act (RFA) (September 19, 1980, Pub. L. 96-354), section 1102(b) of the Social Security Act, the Unfunded Mandates Reform Act of 1995 (Pub. L. 104-4), and Executive Order 13132.

Executive Order 12866 (as amended by Executive Order 13258, which merely reassigns responsibilities of duties) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year). As indicated in more detail below, we estimate that the PFS work RVU provisions included in this proposed notice will redistribute more than $100 million in one year. We are considering this proposed notice to be economically significant because its provisions are estimated to result in an increase, decrease or aggregate redistribution of Medicare spending that will exceed $100 million. Therefore, this proposed notice is a major rule and we have prepared a regulatory impact analysis.

The RFA requires agencies to analyze options for regulatory relief of small businesses. For purposes of the RFA, small entities include small businesses, nonprofit organizations, and small governmental jurisdictions. Most hospitals and most other providers and suppliers are small entities, either by nonprofit status or by having revenues of $6 million to $29 million in any one year. We prepare a regulatory flexibility analysis unless we certify that a rule would not have a significant economic impact on a substantial number of small entities. The analysis must include a justification concerning the reason action is being taken, the kinds and number of small entities the rule affects, and an explanation of any meaningful options that achieve the objectives with less significant adverse economic impact on the small entities.

Section 1102(b) of the Act requires us to prepare a regulatory impact analysis if a rule may have a significant impact on the operations of a substantial number of small rural hospitals. This analysis must conform to the provisions of section 603 of the RFA. For purposes of section 1102(b) of the Act, we define a small rural hospital as a hospital that is located outside a Metropolitan Statistical Area and has fewer than 100 beds. For purposes of the RFA, physicians, nonphysician practitioners, and suppliers are considered small businesses if they generate revenues of $6 million or less. Approximately 95 percent of physicians are considered to be small entities. There are over 980,000 physicians, other practitioners and medical suppliers that receive Medicare payment under the PFS. The analysis and discussion provided in this section, as well as elsewhere in this proposed notice, complies with the RFA requirements.

Section 202 of the Unfunded Mandates Reform Act of 1995 also requires that agencies assess anticipated costs and benefits before issuing any rule whose mandates require spending in any one year of $100 million in 1995 dollars, updated annually for inflation. That threshold level is currently approximately $120 million. Medicare beneficiaries are considered to be part of the private sector for this purpose. A discussion concerning the impact of this proposed notice on beneficiaries is found later in this section.

Executive Order 13132 establishes certain requirements that an agency must meet when it issues a proposed rule (and subsequent final rule) that imposes substantial direct requirement costs on State and local governments, preempts State law, or otherwise has Federalism implications.

We have examined this proposed notice in accordance with Executive Order 13132 and have determined that this regulation would not have any significant impact on the rights, roles, or responsibilities of State, local, or tribal governments. A discussion concerning the impact of this proposed notice on beneficiaries is found later in this section.

B. Anticipated Effects

We have prepared the following analysis, which, together with the information provided in the rest of this preamble, meets all assessment requirements. It explains the rationale for and purposes of the proposed notice; details the costs and benefits of the rule; analyzes alternatives; and presents the measures we propose to use to minimize the burden on small entities.

Section 1848(c)(2)(B)(ii) of the Act requires that increases or decreases in RVUs may not cause the amount of expenditures for the year to differ by more than $20 million from what expenditures would have been in the absence of these changes. If this threshold is exceeded, we make adjustments to preserve budget neutrality. This year, the estimated $4 billion impact of proposed changes in work RVUs resulting from the 5-year refinement will require that a budget-neutrality adjustment be made. Revisions in payment policies, including the establishment of interim and final RVUs for coding changes that will be announced later this year, may result in additional budget-neutrality adjustments.

We considered making the statutorily required budget-neutrality adjustment to account for the 5-Year Review of physician work by reducing all work RVUs. We estimate that all work RVUs would have to be reduced by 10 percent under this option. Alternatively, we considered making the budget neutrality adjustment to the PFS CF. This option would require an estimated 5 percent reduction in the CF and would also affect services that do not have work RVUs, and were thus not part of the 5-Year Review. Therefore, to confine the impact to services that have physician work RVUs, we are proposing to establish a budget neutrality adjustor that would reduce the work RVUs by an estimated 10 percent to meet the provisions of section 1848(c)(2)(B)(ii) of the Act.

Table 54 shows the specialty-level impact on payment of the work and PE changes discussed in this proposed notice for the CY 2007 Medicare PFS, including the effect of the separate work budget neutrality adjustor discussed above. Because we have proposed a four-year transition for the new PE changes, we also show the impact of the fully implemented PE changes in 2010. Our estimates of changes in Medicare revenues for PFS services compare payment rates for 2006 with proposed payment rates for 2007 and 2010 using 2005 Medicare utilization for all years. These impacts do not include estimates of the annual updates to the Medicare PFS CF for 2007 through 2010. We are using 2005 Medicare claims processed and paid through March 30, 2005, that we estimate are 98 percent complete. Using a single year of utilization, as opposed to multiple years, limits the estimated changes to the proposed work and PE. This approach is consistent with the methodology outlined in section II.D.3.d. of this proposed notice, “Use of 2005 utilization data in the indirect PE RVU calculation.” To the extent that there are year-to-year changes in the volume and mix of services provided by physicians, the actual impact on total Medicare revenues will be different than those shown here. The payment impacts reflect averages for each specialty based on Medicare utilization. The payment impact for an individual physician would be different from the average, based on the mix of services the physician provides. The average change in total revenues would be less than the impact displayed here because physicians furnish services to both Medicare and non-Medicare patients and specialties may receive substantial Medicare revenues for services that are not paid under the PFS. For instance, independent laboratories receive approximately 80 percent of their Medicare revenues from clinical laboratory services that are not paid under the PFS.

Table 54 shows only the payment impact on PFS services. The following is an explanation of the information represented in Table 54:

• Specialty: The physician specialty or type of practitioner/supplier.

• Allowed Charges: Allowed charges are the Medicare Fee Schedule amounts for covered services and include co-payments and deductibles (which are the financial responsibility of the beneficiary). These amounts have been summed across all services provided by physicians, practitioners or suppliers with a specialty to arrive at the total allowed charges for the specialty.

• Impact of Work RVU Changes: The percentage increase or decrease in allowed charges attributed to changes in the valuation of physician/clinical work for the given specialty.

• Impact of PE RVU Changes: The percentage increase or decrease in allowed charges attributed to changes in the valuation of practice expense for the services provided by physicians, practitioners or suppliers within each specialty (shown in the first year of phase-in (2007) and at full implementation (2010)).

• Combined impact of Work and PE RVU changes: The percentage increase or decrease in allowed charges attributed to the sum of changes to the valuation of physician/clinical work and the valuation of practice expense for services provided by physicians, practitioners or suppliers within each specialty (shown in the first year of phase-in of PE changes (2007) and at full implementation of PE changes (2010)).

BILLING CODE 4120-01-P

This is the third 5-Year Review of physician work RVUs. The first 5-Year Review occurred as part of the 1996 regulatory process and was effective for services furnished on or after January 1, 1997. The second 5-Year Review of physician work RVUs occurred as part of the 2001 regulatory process and was effective for services furnished on or after January 1, 2002. Table 55 compares some basic data points from the three 5-Year Reviews.

BILLING CODE 4120-01-C

We are currently developing the CY 2007 PFS proposed rule that will contain our estimate of all other proposed policies and changes that will affect payment for PFS services in CY 2007. We will show the combined impact of all policy and other changes affecting PFS payments in the final CY 2007 PFS rule.

C. Alternatives Considered

This proposed notice discusses the proposed revisions to the work RVUs under the PFS. The preamble provides descriptions of the statutory provisions that are addressed, identifies those areas when discretion has been exercised, presents rationale for our decisions and, where relevant, alternatives that were considered.

D. Impact on Beneficiaries

Overall, we believe these changes would improve beneficiary access to reasonable and necessary services since services would now be more appropriately valued. The payment changes would also affect beneficiary liability. Any changes in aggregate beneficiary liability from a particular work RVU change will be a function of the coinsurance (20 percent if applicable for the particular service after the beneficiary has met the deductible) and the effect of the aggregate impact of the work RVU changes on the calculation of the Medicare Part B premium rate (generally, 25 percent of the aggregate payment change).

E. Accounting Statement

As required by OMB Circular A-4 (available at http://www.whitehouse.gov/omb/circulars/a004/a-4.pdf), in Table 56, we have prepared an accounting statement showing the classification of the expenditures associated with the provisions of this proposed notice.

Expenditures are classified as transfers between Medicare providers/suppliers (that is physicians, other practitioners medical suppliers, and providers that receive payment under or based on the PFS) and the Federal government. The −$40 million shown in Table 56 represents the net impact of an increase in FY 2007 payments for mammography and a decrease in FY 2007 payments for physical therapy.

Table 56.—Accounting Statement—Classification of Estimated Expenditures, from FY 2006 to FY 2007 (in millions)
Category | Transfers
Annualized Monetized Transfers | −$40
From Whom To Whom? | Providers of physical therapy and mammography services that are paid based on Medicare Physician Fee Schedule to the Federal government.

In accordance with the provisions of Executive Order 12866, this proposed notice was reviewed by the Office of Management and Budget.

(Catalog of Federal Domestic Assistance Program No. 93.773, Medicare—Hospital Insurance; and Program No. 93.774, Medicare—Supplementary Medical Insurance Program)

Dated: May 4, 2006.
Mark B. McClellan,
Administrator, Centers for Medicare & Medicaid Services.

Approved: June 9, 2006.
Michael O. Leavitt,
Secretary.

Note: These addenda will not appear in the Code of Federal Regulations.

Addendum A: Explanation and Use of Addenda B

The addenda on the following pages provide various data pertaining to the Medicare fee schedule for physicians' services furnished in 2007. Addendum B contains the RVUs for work, non-facility PE, facility PE, and malpractice expense, and other information for all services included in the PFS.

In previous years, we have listed many services in Addendum B that are not paid under the PFS. To avoid publishing as many pages of codes for these services, we are not including clinical laboratory codes and most alphanumeric codes (Healthcare Common Procedure Coding System (HCPCS) codes not included in CPT) in Addendum B.

Addendum B—2007 Relative Value Units and Related Information Used in Determining Medicare Payments for 2007

This addendum contains the following information for each CPT code and alphanumeric HCPCS code, except for: alphanumeric codes beginning with B (enteral and parenteral therapy), E (durable medical equipment), K (temporary codes for nonphysicians' services or items), or L (orthotics); and codes for anesthesiology. The Addendum B included in this proposed notice does not include codes which are carrier priced since the RVUs for these services are set at 0.00.

Please also note the following:

• An “NA” in the “Non-facility PE RVUs” column of Addendum B means that CMS has not developed a PE RVU in the non-facility setting for the service because it is typically performed in the hospital (for example, an open heart surgery is generally performed in the hospital setting and not a physician's office).

• Services that have an “NA” in the “Facility PE RVUs” column of Addendum B are typically not paid using the PFS when provided in a facility setting. These services (which include “incident to” services and the technical portion of diagnostic tests) are generally paid under either the outpatient hospital prospective payment system or bundled into the hospital inpatient prospective payment system payment.

1. CPT/HCPCS code. This is the CPT or alphanumeric HCPCS number for the service. Alphanumeric HCPCS codes are included at the end of this addendum.

2. Modifier. A modifier is shown if there is a technical component (modifier TC) and a professional component (PC) (modifier -26) for the service. If there is a PC and a TC for the service, Addendum B contains three entries for the code. A code for: the global values (both professional and technical); modifier -26 (PC); and, modifier TC. The global service is not designated by a modifier, and physicians must bill using the code without a modifier if the physician furnishes both the PC and the TC of the service.

Modifier-53 is shown for a discontinued procedure. There will be RVUs for the code (CPT code 45378) with this modifier.

3. Status indicator. This indicator shows whether the CPT/HCPCS code is in the PFS and whether it is separately payable if the service is covered.

A = Active code. These codes are separately payable under the PFS if covered. There will be RVUs for codes with this status. The presence of an “A” indicator does not mean that Medicare has made a national coverage determination regarding the service. Carriers remain responsible for coverage decisions in the absence of a national Medicare policy.

B = Bundled code. Payments for covered services are always bundled into payment for other services not specified. If RVUs are shown, they are not used for Medicare payment. If these services are covered, payment for them is subsumed by the payment for the services to which they are incident (an example is a telephone call from a hospital nurse regarding care of a patient).

C = Carrier-priced code. Carriers will establish RVUs and payment amounts for these services, generally on an individual case basis following review of documentation, such as an operative report.

D = Deleted/discontinued code. These codes are deleted effective with the beginning of the CY and are always subject to a 90-day grace period.

E = Excluded from the PFS by regulation. These codes are for items and services that CMS excludes from payment under the PFS by regulation. No RVUs are shown, and no payment may be made under the PFS for these codes. Payment for them, when covered, continues under reasonable charge procedures.

F = Deleted/discontinued codes. (Code not subject to a 90-day grace period.) These codes are deleted effective with the beginning of the CY and are never subject to a grace period. This indicator is no longer effective as of January 1, 2006.

G = Code not valid for Medicare purposes. Medicare does not recognize codes assigned this status. Medicare uses another code for reporting of, and payment for, these services. (Codes subject to a 90-day grace period.) This indicator is no longer effective with the 2006 PFS as of January 1, 2006.

H = Deleted modifier. For 2000 and later years, either the TC or PC component shown for the code has been deleted or the deleted component is shown in the database with the H status indicator.

I = Not valid for Medicare purposes. Medicare uses another code for the reporting of, and the payment for these services. (Codes not subject to a 90-day grace period.)

N = Noncovered service. These codes are noncovered services. Medicare payment may not be made for these codes. If RVUs are shown, they are not used for Medicare payment.

P = Bundled or excluded code. There are no RVUs for these services. No separate payment is made for them under the PFS.

—If the item or service is covered as incident to a physician's service and is furnished on the same day as a physician's service, payment for it is bundled into the payment for the physician's service to which it is incident (an example is an elastic bandage furnished by a physician incident to a physician's service).

—If the item or service is covered as other than incident to a physician's service, it is excluded from the PFS (for example, colostomy supplies) and is paid under the other payment provisions of the Act.

R = Restricted coverage. Special coverage instructions apply. If the service is covered and no RVUs are shown, it is carrier-priced.

T = There are RVUs for these services, but they are only paid if there are no other services payable under the PFS billed on the same date by the same provider. If any other services payable under the PFS are billed on the same date by the same provider, these services are bundled into the service(s) for which payment is made.

X = Exclusion by law. These codes represent an item or service that is not within the definition of “physicians’ services” for PFS payment purposes. No RVUs are shown for these codes, and no payment may be made under the PFS. (Examples are ambulance services and clinical diagnostic laboratory services.)

4. Description of code. This is an abbreviated version of the narrative description of the code.

5. Physician work RVUs. These are the RVUs for the physician work for this service in 2007. The RVUs for codes with a 10- or 90-day global period reflect the application of the RUC-recommended values for the E/M services that are included as part of the global period for the service. Codes that are not used for Medicare payment are identified with a “+.” Note: The separate budget neutrality adjustor is not reflected in these physician work RVUs.

6. Fully implemented non-facility practice expense RVUs. These are the fully implemented resource-based PE RVUs for non-facility settings.

7. Transitional Non-facility practice expense RVUs. These are the 2007 resource-based PE RVUs for non-facility settings.

8. Fully implemented facility practice expense RVUs. These are the fully implemented resource-based PE RVUs for facility settings.

9. Transitional facility practice expense RVUs. These are the 2007 resource-based PE RVUs for facility settings.

10. Malpractice expense RVUs. These are the RVUs for the malpractice expense for the service for 2006.

11. Non-facility total. This is the sum of the work, fully implemented non-facility PE, and malpractice expense RVUs.

12. Transitional non-facility total. This is the sum of the work, 2007 transitional non-facility PE, and malpractice expense RVUs.

13. Facility total. This is the sum of the work, fully implemented facility PE, and malpractice expense RVUs.

14. Transitional facility total. This is the sum of the work, 2007 transitional facility PE, and malpractice expense RVUs.

15. Global period. This indicator shows the number of days in the global period for the code (0, 10, or 90 days). An explanation of the alpha codes follows:

MMM = Code describes a service furnished in uncomplicated maternity cases including antepartum care, delivery, and postpartum care. The usual global surgical concept does not apply. See the 1999 Physicians' CPT for specific definitions.

XXX = The global concept does not apply.

YYY = The global period is to be set by the carrier (for example, unlisted surgery codes).

ZZZ = Code related to another service that is always included in the global period of the other service. (Note: Physician work and PE are associated with intra service time and in some instances the post service time.)

Addendum B.—Relative Value Units (RVUs) and Related Information Used In Determining Medicare Payments for 2007
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
0073T |  | A | Radiation tx delivery, imrt | 0.00 | 13.15 | 16.84 | NA | NA | 0.13 | 13.28 | 16.97 | NA | NA | XXX
10021 |  | A | Fna w/o image | 1.27 | 2.11 | 2.15 | 0.35 | 0.49 | 0.10 | 3.48 | 3.52 | 1.72 | 1.86 | XXX
10022 |  | A | Fna w/image | 1.27 | 2.21 | 2.47 | 0.40 | 0.42 | 0.08 | 3.56 | 3.82 | 1.75 | 1.77 | XXX
10040 |  | A | Acne surgery | 1.18 | 1.28 | 1.08 | 0.95 | 0.83 | 0.05 | 2.51 | 2.31 | 2.18 | 2.06 | 010
10060 |  | A | Drainage of skin abscess | 1.17 | 1.49 | 1.28 | 1.07 | 0.97 | 0.12 | 2.78 | 2.57 | 2.36 | 2.26 | 010
10061 |  | A | Drainage of skin abscess | 2.40 | 2.05 | 1.89 | 1.49 | 1.50 | 0.26 | 4.71 | 4.55 | 4.15 | 4.16 | 010
10080 |  | A | Drainage of pilonidal cyst | 1.17 | 2.63 | 2.99 | 1.08 | 1.10 | 0.11 | 3.91 | 4.27 | 2.36 | 2.38 | 010
10081 |  | A | Drainage of pilonidal cyst | 2.45 | 3.46 | 3.93 | 1.42 | 1.48 | 0.24 | 6.15 | 6.62 | 4.11 | 4.17 | 010
10120 |  | A | Remove foreign body | 1.22 | 2.09 | 2.16 | 0.93 | 0.96 | 0.12 | 3.43 | 3.50 | 2.27 | 2.30 | 010
10121 |  | A | Remove foreign body | 2.69 | 3.49 | 3.51 | 1.62 | 1.75 | 0.33 | 6.51 | 6.53 | 4.64 | 4.77 | 010
10140 |  | A | Drainage of hematoma/fluid | 1.53 | 2.25 | 1.90 | 1.28 | 1.29 | 0.19 | 3.97 | 3.62 | 3.00 | 3.01 | 010
10160 |  | A | Puncture drainage of lesion | 1.20 | 1.85 | 1.66 | 1.07 | 1.08 | 0.14 | 3.19 | 3.00 | 2.41 | 2.42 | 010
10180 |  | A | Complex drainage, wound | 2.25 | 3.28 | 3.06 | 1.81 | 1.95 | 0.35 | 5.88 | 5.66 | 4.41 | 4.55 | 010
11000 |  | A | Debride infected skin | 0.60 | 0.72 | 0.62 | 0.16 | 0.21 | 0.07 | 1.39 | 1.29 | 0.83 | 0.88 | 000
11001 |  | A | Debride infected skin add-on | 0.30 | 0.23 | 0.23 | 0.08 | 0.10 | 0.04 | 0.57 | 0.57 | 0.42 | 0.44 | ZZZ
11004 |  | A | Debride genitalia & perineum | 10.31 | NA | NA | 3.00 | 3.68 | 0.67 | NA | NA | 13.98 | 14.66 | 000
11005 |  | A | Debride abdom wall | 13.75 | NA | NA | 3.98 | 5.18 | 0.96 | NA | NA | 18.69 | 19.89 | 000
11006 |  | A | Debride genit/per/abdom wall | 12.61 | NA | NA | 3.55 | 4.53 | 1.28 | NA | NA | 17.44 | 18.42 | 000
11008 |  | A | Remove mesh from abd wall | 5.00 | NA | NA | 1.33 | 1.86 | 0.61 | NA | NA | 6.94 | 7.47 | ZZZ
11010 |  | A | Debride skin, fx | 4.19 | 6.71 | 6.85 | 2.29 | 2.55 | 0.66 | 11.56 | 11.70 | 7.14 | 7.40 | 010
11011 |  | A | Debride skin/muscle, fx | 4.94 | 7.04 | 7.90 | 2.01 | 2.27 | 0.74 | 12.72 | 13.58 | 7.69 | 7.95 | 000
11012 |  | A | Debride skin/muscle/bone, fx | 6.87 | 8.91 | 11.33 | 3.05 | 3.65 | 1.16 | 16.94 | 19.36 | 11.08 | 11.68 | 000
11040 |  | A | Debride skin, partial | 0.50 | 0.68 | 0.56 | 0.16 | 0.20 | 0.06 | 1.24 | 1.12 | 0.72 | 0.76 | 000
11041 |  | A | Debride skin, full | 0.82 | 0.77 | 0.69 | 0.24 | 0.31 | 0.10 | 1.69 | 1.61 | 1.16 | 1.23 | 000
11042 |  | A | Debride skin/tissue | 1.12 | 1.04 | 0.99 | 0.33 | 0.41 | 0.13 | 2.29 | 2.24 | 1.58 | 1.66 | 000
11043 |  | A | Debride tissue/muscle | 3.00 | 3.61 | 3.45 | 2.68 | 2.62 | 0.32 | 6.93 | 6.77 | 6.00 | 5.94 | 010
11044 |  | A | Debride tissue/muscle/bone | 4.05 | 4.91 | 4.57 | 3.64 | 3.73 | 0.43 | 9.39 | 9.05 | 8.12 | 8.21 | 010
11055 |  | R | Trim skin lesion | 0.43 | 0.81 | 0.62 | 0.11 | 0.16 | 0.05 | 1.29 | 1.10 | 0.59 | 0.64 | 000
11056 |  | R | Trim skin lesions, 2 to 4 | 0.61 | 0.88 | 0.70 | 0.15 | 0.21 | 0.07 | 1.56 | 1.38 | 0.83 | 0.89 | 000
11057 |  | R | Trim skin lesions, over 4 | 0.79 | 0.99 | 0.80 | 0.20 | 0.28 | 0.10 | 1.88 | 1.69 | 1.09 | 1.17 | 000
11100 |  | A | Biopsy, skin lesion | 0.81 | 1.86 | 1.40 | 0.38 | 0.37 | 0.03 | 2.70 | 2.24 | 1.22 | 1.21 | 000
11101 |  | A | Biopsy, skin add-on | 0.41 | 0.40 | 0.35 | 0.19 | 0.19 | 0.02 | 0.83 | 0.78 | 0.62 | 0.62 | ZZZ
11200 |  | A | Removal of skin tags | 0.77 | 1.21 | 1.08 | 0.88 | 0.79 | 0.04 | 2.02 | 1.89 | 1.69 | 1.60 | 010
11201 |  | A | Remove skin tags add-on | 0.29 | 0.16 | 0.16 | 0.11 | 0.12 | 0.02 | 0.47 | 0.47 | 0.42 | 0.43 | ZZZ
11300 |  | A | Shave skin lesion | 0.51 | 1.18 | 1.04 | 0.20 | 0.21 | 0.03 | 1.72 | 1.58 | 0.74 | 0.75 | 000
11301 |  | A | Shave skin lesion | 0.85 | 1.48 | 1.20 | 0.37 | 0.38 | 0.04 | 2.37 | 2.09 | 1.26 | 1.27 | 000
11302 |  | A | Shave skin lesion | 1.05 | 1.75 | 1.41 | 0.47 | 0.46 | 0.05 | 2.85 | 2.51 | 1.57 | 1.56 | 000
11303 |  | A | Shave skin lesion | 1.24 | 1.99 | 1.68 | 0.53 | 0.52 | 0.07 | 3.30 | 2.99 | 1.84 | 1.83 | 000
11305 |  | A | Shave skin lesion | 0.67 | 1.05 | 0.90 | 0.20 | 0.25 | 0.07 | 1.79 | 1.64 | 0.94 | 0.99 | 000
11306 |  | A | Shave skin lesion | 0.99 | 1.40 | 1.18 | 0.37 | 0.41 | 0.07 | 2.46 | 2.24 | 1.43 | 1.47 | 000
11307 |  | A | Shave skin lesion | 1.14 | 1.68 | 1.39 | 0.46 | 0.48 | 0.07 | 2.89 | 2.60 | 1.67 | 1.69 | 000
11308 |  | A | Shave skin lesion | 1.41 | 1.72 | 1.52 | 0.50 | 0.57 | 0.13 | 3.26 | 3.06 | 2.04 | 2.11 | 000
11310 |  | A | Shave skin lesion | 0.73 | 1.37 | 1.18 | 0.31 | 0.32 | 0.04 | 2.14 | 1.95 | 1.08 | 1.09 | 000
11311 |  | A | Shave skin lesion | 1.05 | 1.62 | 1.33 | 0.47 | 0.49 | 0.05 | 2.72 | 2.43 | 1.57 | 1.59 | 000
11312 |  | A | Shave skin lesion | 1.20 | 1.89 | 1.54 | 0.55 | 0.55 | 0.06 | 3.15 | 2.80 | 1.81 | 1.81 | 000
11313 |  | A | Shave skin lesion | 1.62 | 2.15 | 1.90 | 0.71 | 0.72 | 0.10 | 3.87 | 3.62 | 2.43 | 2.44 | 000
11400 |  | A | Exc tr-ext b9+marg 0.5 < cm | 0.85 | 1.86 | 1.97 | 0.92 | 0.89 | 0.06 | 2.77 | 2.88 | 1.83 | 1.80 | 010
11401 |  | A | Exc tr-ext b9+marg 0.6-1 cm | 1.23 | 2.15 | 2.08 | 1.12 | 1.05 | 0.10 | 3.48 | 3.41 | 2.45 | 2.38 | 010
11402 |  | A | Exc tr-ext b9+marg 1.1-2 cm | 1.40 | 2.35 | 2.26 | 1.18 | 1.11 | 0.13 | 3.88 | 3.79 | 2.71 | 2.64 | 010
11403 |  | A | Exc tr-ext b9+marg 2.1-3 cm | 1.79 | 2.52 | 2.43 | 1.54 | 1.38 | 0.17 | 4.48 | 4.39 | 3.50 | 3.34 | 010
11404 |  | A | Exc tr-ext b9+marg 3.1-4 cm | 2.06 | 2.83 | 2.74 | 1.61 | 1.45 | 0.21 | 5.10 | 5.01 | 3.88 | 3.72 | 010
11406 |  | A | Exc tr-ext b9+marg > 4.0 cm | 3.45 | 3.37 | 3.15 | 1.94 | 1.72 | 0.32 | 7.14 | 6.92 | 5.71 | 5.49 | 010
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
11420 |  | A | Exc h-f-nk-sp b9+marg 0.5 < | 0.98 | 1.81 | 1.78 | 0.92 | 0.93 | 0.09 | 2.88 | 2.85 | 1.99 | 2.00 | 010
11421 |  | A | Exc h-f-nk-sp b9+marg 0.6-1 | 1.42 | 2.18 | 2.10 | 1.14 | 1.12 | 0.13 | 3.73 | 3.65 | 2.69 | 2.67 | 010
11422 |  | A | Exc h-f-nk-sp b9+marg 1.1-2 | 1.63 | 2.38 | 2.29 | 1.49 | 1.37 | 0.16 | 4.17 | 4.08 | 3.28 | 3.16 | 010
11423 |  | A | Exc h-f-nk-sp b9+marg 2.1-3 | 2.01 | 2.62 | 2.60 | 1.62 | 1.49 | 0.20 | 4.83 | 4.81 | 3.83 | 3.70 | 010
11424 |  | A | Exc h-f-nk-sp b9+marg 3.1-4 | 2.43 | 2.93 | 2.84 | 1.74 | 1.64 | 0.25 | 5.61 | 5.52 | 4.42 | 4.32 | 010
11426 |  | A | Exc h-f-nk-sp b9+marg > 4 cm | 4.02 | 3.55 | 3.51 | 2.14 | 2.12 | 0.44 | 8.01 | 7.97 | 6.60 | 6.58 | 010
11440 |  | A | Exc face-mm b9+marg 0.5 < cm | 1.00 | 1.98 | 2.15 | 1.29 | 1.31 | 0.08 | 3.06 | 3.23 | 2.37 | 2.39 | 010
11441 |  | A | Exc face-mm b9+marg 0.6-1 cm | 1.48 | 2.34 | 2.34 | 1.52 | 1.50 | 0.13 | 3.95 | 3.95 | 3.13 | 3.11 | 010
11442 |  | A | Exc face-mm b9+marg 1.1-2 cm | 1.72 | 2.58 | 2.56 | 1.61 | 1.58 | 0.16 | 4.46 | 4.44 | 3.49 | 3.46 | 010
11443 |  | A | Exc face-mm b9+marg 2.1-3 cm | 2.29 | 2.81 | 2.89 | 1.79 | 1.81 | 0.22 | 5.32 | 5.40 | 4.30 | 4.32 | 010
11444 |  | A | Exc face-mm b9+marg 3.1-4 cm | 3.14 | 3.21 | 3.41 | 2.03 | 2.15 | 0.30 | 6.65 | 6.85 | 5.47 | 5.59 | 010
11446 |  | A | Exc face-mm b9+marg > 4 cm | 4.73 | 3.86 | 4.00 | 2.47 | 2.70 | 0.43 | 9.02 | 9.16 | 7.63 | 7.86 | 010
11450 |  | A | Removal, sweat gland lesion | 3.10 | 5.15 | 5.07 | 2.41 | 2.13 | 0.34 | 8.59 | 8.51 | 5.85 | 5.57 | 090
11451 |  | A | Removal, sweat gland lesion | 4.31 | 6.14 | 6.50 | 2.77 | 2.61 | 0.53 | 10.98 | 11.34 | 7.61 | 7.45 | 090
11462 |  | A | Removal, sweat gland lesion | 2.88 | 5.31 | 5.17 | 2.45 | 2.13 | 0.32 | 8.51 | 8.37 | 5.65 | 5.33 | 090
11463 |  | A | Removal, sweat gland lesion | 4.31 | 6.58 | 6.78 | 2.94 | 2.75 | 0.54 | 11.43 | 11.63 | 7.79 | 7.60 | 090
11470 |  | A | Removal, sweat gland lesion | 3.62 | 5.57 | 5.20 | 2.67 | 2.37 | 0.40 | 9.59 | 9.22 | 6.69 | 6.39 | 090
11471 |  | A | Removal, sweat gland lesion | 4.77 | 6.42 | 6.65 | 2.95 | 2.82 | 0.58 | 11.77 | 12.00 | 8.30 | 8.17 | 090
11600 |  | A | Exc tr-ext mlg+marg 0.5 < cm | 1.56 | 2.61 | 2.63 | 1.01 | 0.98 | 0.10 | 4.27 | 4.29 | 2.67 | 2.64 | 010
11601 |  | A | Exc tr-ext mlg+marg 0.6-1 cm | 2.00 | 3.27 | 2.85 | 1.35 | 1.25 | 0.12 | 5.39 | 4.97 | 3.47 | 3.37 | 010
11602 |  | A | Exc tr-ext mlg+marg 1.1-2 cm | 2.20 | 3.65 | 3.04 | 1.52 | 1.33 | 0.12 | 5.97 | 5.36 | 3.84 | 3.65 | 010
11603 |  | A | Exc tr-ext mlg+marg 2.1-3 cm | 2.75 | 3.85 | 3.27 | 1.69 | 1.42 | 0.16 | 6.76 | 6.18 | 4.60 | 4.33 | 010
11604 |  | A | Exc tr-ext mlg+marg 3.1-4 cm | 3.10 | 4.15 | 3.57 | 1.76 | 1.48 | 0.20 | 7.45 | 6.87 | 5.06 | 4.78 | 010
11606 |  | A | Exc tr-ext mlg+marg > 4 cm | 4.95 | 5.28 | 4.37 | 2.27 | 1.87 | 0.36 | 10.59 | 9.68 | 7.58 | 7.18 | 010
11620 |  | A | Exc h-f-nk-sp mlg+marg 0.5 < | 1.57 | 2.70 | 2.63 | 1.05 | 0.98 | 0.09 | 4.36 | 4.29 | 2.71 | 2.64 | 010
11621 |  | A | Exc h-f-nk-sp mlg+marg 0.6-1 | 2.01 | 3.32 | 2.86 | 1.38 | 1.28 | 0.12 | 5.45 | 4.99 | 3.51 | 3.41 | 010
11622 |  | A | Exc h-f-nk-sp mlg+marg 1.1-2 | 2.34 | 3.70 | 3.15 | 1.57 | 1.44 | 0.14 | 6.18 | 5.63 | 4.05 | 3.92 | 010
11623 |  | A | Exc h-f-nk-sp mlg+marg 2.1-3 | 3.04 | 3.92 | 3.49 | 1.78 | 1.63 | 0.20 | 7.16 | 6.73 | 5.02 | 4.87 | 010
11624 |  | A | Exc h-f-nk-sp *mlg+marg 3.1-4 | 3.55 | 4.23 | 3.87 | 1.90 | 1.81 | 0.27 | 8.05 | 7.69 | 5.72 | 5.63 | 010
11626 |  | A | Exc h-f-nk-sp mlg+mar > 4 cm | 4.54 | 4.88 | 4.70 | 2.26 | 2.37 | 0.45 | 9.87 | 9.69 | 7.25 | 7.36 | 010
11640 |  | A | Exc face-mm malig+marg 0.5 < | 1.60 | 2.89 | 2.72 | 1.14 | 1.12 | 0.11 | 4.60 | 4.43 | 2.85 | 2.83 | 010
11641 |  | A | Exc face-mm malig+marg 0.6-1 | 2.10 | 3.44 | 3.13 | 1.44 | 1.51 | 0.16 | 5.70 | 5.39 | 3.70 | 3.77 | 010
11642 |  | A | Exc face-mm malig+marg 1.1-2 | 2.55 | 3.82 | 3.51 | 1.66 | 1.70 | 0.19 | 6.56 | 6.25 | 4.40 | 4.44 | 010
11643 |  | A | Exc face-mm malig+marg 2.1-3 | 3.35 | 4.06 | 3.87 | 1.92 | 1.96 | 0.26 | 7.67 | 7.48 | 5.53 | 5.57 | 010
11644 |  | A | Exc face-mm malig+marg 3.1-4 | 4.27 | 4.82 | 4.72 | 2.25 | 2.41 | 0.37 | 9.46 | 9.36 | 6.89 | 7.05 | 010
11646 |  | A | Exc face-mm mlg+marg > 4 cm | 6.19 | 5.73 | 5.76 | 3.01 | 3.36 | 0.61 | 12.53 | 12.56 | 9.81 | 10.16 | 010
11719 |  | R | Trim nail(s) | 0.17 | 0.38 | 0.28 | 0.04 | 0.06 | 0.02 | 0.57 | 0.47 | 0.23 | 0.25 | 000
11720 |  | A | Debride nail, 1-5 | 0.32 | 0.47 | 0.37 | 0.08 | 0.11 | 0.04 | 0.83 | 0.73 | 0.44 | 0.47 | 000
11721 |  | A | Debride nail, 6 or more | 0.54 | 0.54 | 0.47 | 0.14 | 0.19 | 0.07 | 1.15 | 1.08 | 0.75 | 0.80 | 000
11730 |  | A | Removal of nail plate | 1.13 | 1.34 | 1.11 | 0.29 | 0.40 | 0.14 | 2.61 | 2.38 | 1.56 | 1.67 | 000
11732 |  | A | Remove nail plate, add-on | 0.57 | 0.54 | 0.47 | 0.14 | 0.20 | 0.07 | 1.18 | 1.11 | 0.78 | 0.84 | ZZZ
11740 |  | A | Drain blood from under nail | 0.37 | 0.80 | 0.61 | 0.43 | 0.37 | 0.04 | 1.21 | 1.02 | 0.84 | 0.78 | 000
11750 |  | A | Removal of nail bed | 2.36 | 2.94 | 2.36 | 1.86 | 1.79 | 0.22 | 5.52 | 4.94 | 4.44 | 4.37 | 010
11752 |  | A | Remove nail bed/finger tip | 3.42 | 4.07 | 3.27 | 2.77 | 2.94 | 0.35 | 7.84 | 7.04 | 6.54 | 6.71 | 010
11755 |  | A | Biopsy, nail unit | 1.31 | 2.01 | 1.68 | 0.75 | 0.77 | 0.14 | 3.46 | 3.13 | 2.20 | 2.22 | 000
11760 |  | A | Repair of nail bed | 1.58 | 3.41 | 2.83 | 1.42 | 1.70 | 0.21 | 5.20 | 4.62 | 3.21 | 3.49 | 010
11762 |  | A | Reconstruction of nail bed | 2.89 | 3.67 | 3.09 | 1.66 | 2.18 | 0.36 | 6.92 | 6.34 | 4.91 | 5.43 | 010
11765 |  | A | Excision of nail fold, toe | 0.69 | 2.67 | 2.01 | 1.00 | 0.82 | 0.08 | 3.44 | 2.78 | 1.77 | 1.59 | 010
11770 |  | A | Removal of pilonidal lesion | 2.61 | 3.47 | 3.49 | 1.52 | 1.51 | 0.33 | 6.41 | 6.43 | 4.46 | 4.45 | 010
11771 |  | A | Removal of pilonidal lesion | 5.91 | 6.67 | 5.91 | 3.70 | 3.42 | 0.74 | 13.32 | 12.56 | 10.35 | 10.07 | 090
11772 |  | A | Removal of pilonidal lesion | 7.15 | 8.00 | 7.64 | 5.51 | 5.19 | 0.89 | 16.04 | 15.68 | 13.55 | 13.23 | 090
11900 |  | A | Injection into skin lesions | 0.52 | 0.90 | 0.71 | 0.24 | 0.22 | 0.02 | 1.44 | 1.25 | 0.78 | 0.76 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
11901 |  | A | Added skin lesions injection | 0.80 | 1.00 | 0.75 | 0.38 | 0.36 | 0.03 | 1.83 | 1.58 | 1.21 | 1.19 | 000
11920 |  | R | Correct skin color defects | 1.61 | 2.37 | 3.38 | 1.10 | 1.09 | 0.24 | 4.22 | 5.23 | 2.95 | 2.94 | 000
11921 |  | R | Correct skin color defects | 1.93 | 2.63 | 3.64 | 1.24 | 1.26 | 0.29 | 4.85 | 5.86 | 3.46 | 3.48 | 000
11922 |  | R | Correct skin color defects | 0.49 | 0.92 | 1.09 | 0.22 | 0.24 | 0.07 | 1.48 | 1.65 | 0.78 | 0.80 | ZZZ
11950 |  | R | Therapy for contour defects | 0.84 | 0.86 | 1.07 | 0.35 | 0.38 | 0.06 | 1.76 | 1.97 | 1.25 | 1.28 | 000
11951 |  | R | Therapy for contour defects | 1.19 | 1.17 | 1.41 | 0.52 | 0.51 | 0.11 | 2.47 | 2.71 | 1.82 | 1.81 | 000
11952 |  | R | Therapy for contour defects | 1.69 | 1.69 | 1.82 | 0.79 | 0.71 | 0.16 | 3.54 | 3.67 | 2.64 | 2.56 | 000
11954 |  | R | Therapy for contour defects | 1.85 | 1.78 | 2.28 | 0.77 | 0.87 | 0.25 | 3.88 | 4.38 | 2.87 | 2.97 | 000
11960 |  | A | Insert tissue expander(s) | 10.85 | NA | NA | 10.40 | 10.42 | 1.31 | NA | NA | 22.56 | 22.58 | 090
11970 |  | A | Replace tissue expander | 7.80 | NA | NA | 5.94 | 6.10 | 1.05 | NA | NA | 14.79 | 14.95 | 090
11971 |  | A | Remove tissue expander(s) | 3.13 | 7.33 | 8.69 | 3.95 | 3.84 | 0.32 | 10.78 | 12.14 | 7.40 | 7.29 | 090
11975 |  | N | Insert contraceptive cap | 1.48 | 1.53 | 1.45 | 0.33 | 0.51 | 0.17 | 3.18 | 3.10 | 1.98 | 2.16 | XXX
11976 |  | R | Removal of contraceptive cap | 1.78 | 1.68 | 1.71 | 0.45 | 0.62 | 0.21 | 3.67 | 3.70 | 2.44 | 2.61 | 000
11977 |  | N | Removal/reinsert contra cap | 3.30 | 1.96 | 2.20 | 0.74 | 1.13 | 0.37 | 5.63 | 5.87 | 4.41 | 4.80 | XXX
11980 |  | A | Implant hormone pellet(s) | 1.48 | 1.17 | 1.10 | 0.55 | 0.54 | 0.13 | 2.78 | 2.71 | 2.16 | 2.15 | 000
11981 |  | A | Insert drug implant device | 1.48 | 1.96 | 1.77 | 0.61 | 0.66 | 0.12 | 3.56 | 3.37 | 2.21 | 2.26 | XXX
11982 |  | A | Remove drug implant device | 1.78 | 2.09 | 1.99 | 0.73 | 0.81 | 0.17 | 4.04 | 3.94 | 2.68 | 2.76 | XXX
11983 |  | A | Remove/insert drug implant | 3.30 | 2.74 | 2.40 | 1.38 | 1.45 | 0.23 | 6.27 | 5.93 | 4.91 | 4.98 | XXX
12001 |  | A | Repair superficial wound(s) | 1.70 | 1.71 | 1.92 | 0.71 | 0.76 | 0.15 | 3.56 | 3.77 | 2.56 | 2.61 | 010
12002 |  | A | Repair superficial wound(s) | 1.86 | 1.77 | 1.98 | 0.82 | 0.88 | 0.17 | 3.80 | 4.01 | 2.85 | 2.91 | 010
12004 |  | A | Repair superficial wound(s) | 2.24 | 2.05 | 2.26 | 0.90 | 0.98 | 0.21 | 4.50 | 4.71 | 3.35 | 3.43 | 010
12005 |  | A | Repair superficial wound(s) | 2.86 | 2.50 | 2.75 | 1.05 | 1.16 | 0.27 | 5.63 | 5.88 | 4.18 | 4.29 | 010
12006 |  | A | Repair superficial wound(s) | 3.66 | 3.00 | 3.30 | 1.27 | 1.45 | 0.35 | 7.01 | 7.31 | 5.28 | 5.46 | 010
12007 |  | A | Repair superficial wound(s) | 4.11 | 3.37 | 3.72 | 1.46 | 1.73 | 0.45 | 7.93 | 8.28 | 6.02 | 6.29 | 010
12011 |  | A | Repair superficial wound(s) | 1.76 | 1.88 | 2.08 | 0.74 | 0.77 | 0.16 | 3.80 | 4.00 | 2.66 | 2.69 | 010
12013 |  | A | Repair superficial wound(s) | 1.99 | 2.03 | 2.22 | 0.87 | 0.92 | 0.18 | 4.20 | 4.39 | 3.04 | 3.09 | 010
12014 |  | A | Repair superficial wound(s) | 2.46 | 2.25 | 2.50 | 0.96 | 1.04 | 0.23 | 4.94 | 5.19 | 3.65 | 3.73 | 010
12015 |  | A | Repair superficial wound(s) | 3.19 | 2.73 | 3.04 | 1.09 | 1.21 | 0.29 | 6.21 | 6.52 | 4.57 | 4.69 | 010
12016 |  | A | Repair superficial wound(s) | 3.92 | 3.12 | 3.45 | 1.26 | 1.46 | 0.37 | 7.41 | 7.74 | 5.55 | 5.75 | 010
12017 |  | A | Repair superficial wound(s) | 4.70 | NA | NA | 1.45 | 1.79 | 0.47 | NA | NA | 6.62 | 6.96 | 010
12018 |  | A | Repair superficial wound(s) | 5.52 | NA | NA | 1.94 | 2.18 | 0.64 | NA | NA | 8.10 | 8.34 | 010
12020 |  | A | Closure of split wound | 2.62 | 3.73 | 3.81 | 1.76 | 1.89 | 0.30 | 6.65 | 6.73 | 4.68 | 4.81 | 010
12021 |  | A | Closure of split wound | 1.84 | 1.84 | 1.83 | 1.32 | 1.39 | 0.24 | 3.92 | 3.91 | 3.40 | 3.47 | 010
12031 |  | A | Layer closure of wound(s) | 2.15 | 3.84 | 2.68 | 1.74 | 1.16 | 0.17 | 6.16 | 5.00 | 4.06 | 3.48 | 010
12032 |  | A | Layer closure of wound(s) | 2.47 | 5.13 | 4.17 | 2.23 | 1.91 | 0.16 | 7.76 | 6.80 | 4.86 | 4.54 | 010
12034 |  | A | Layer closure of wound(s) | 2.92 | 4.52 | 3.53 | 1.94 | 1.57 | 0.25 | 7.69 | 6.70 | 5.11 | 4.74 | 010
12035 |  | A | Layer closure of wound(s) | 3.42 | 5.23 | 5.22 | 2.07 | 2.14 | 0.39 | 9.04 | 9.03 | 5.88 | 5.95 | 010
12036 |  | A | Layer closure of wound(s) | 4.04 | 5.35 | 5.52 | 2.20 | 2.46 | 0.55 | 9.94 | 10.11 | 6.79 | 7.05 | 010
12037 |  | A | Layer closure of wound(s) | 4.66 | 5.90 | 6.06 | 2.57 | 2.87 | 0.66 | 11.22 | 11.38 | 7.89 | 8.19 | 010
12041 |  | A | Layer closure of wound(s) | 2.37 | 3.78 | 2.86 | 1.72 | 1.28 | 0.19 | 6.34 | 5.42 | 4.28 | 3.84 | 010
12042 |  | A | Layer closure of wound(s) | 2.74 | 4.40 | 3.55 | 2.06 | 1.61 | 0.17 | 7.31 | 6.46 | 4.97 | 4.52 | 010
12044 |  | A | Layer closure of wound(s) | 3.14 | 5.27 | 3.73 | 1.88 | 1.67 | 0.27 | 8.68 | 7.14 | 5.29 | 5.08 | 010
12045 |  | A | Layer closure of wound(s) | 3.63 | 5.04 | 5.22 | 2.04 | 2.23 | 0.41 | 9.08 | 9.26 | 6.08 | 6.27 | 010
12046 |  | A | Layer closure of wound(s) | 4.24 | 5.60 | 6.29 | 2.24 | 2.63 | 0.54 | 10.38 | 11.07 | 7.02 | 7.41 | 010
12047 |  | A | Layer closure of wound(s) | 4.64 | 6.11 | 6.30 | 2.47 | 2.94 | 0.58 | 11.33 | 11.52 | 7.69 | 8.16 | 010
12051 |  | A | Layer closure of wound(s) | 2.47 | 4.03 | 3.47 | 1.87 | 1.56 | 0.20 | 6.70 | 6.14 | 4.54 | 4.23 | 010
12052 |  | A | Layer closure of wound(s) | 2.77 | 4.34 | 3.51 | 2.06 | 1.59 | 0.17 | 7.28 | 6.45 | 5.00 | 4.53 | 010
12053 |  | A | Layer closure of wound(s) | 3.12 | 5.26 | 3.75 | 2.06 | 1.66 | 0.23 | 8.61 | 7.10 | 5.41 | 5.01 | 010
12054 |  | A | Layer closure of wound(s) | 3.45 | 5.31 | 4.01 | 2.00 | 1.72 | 0.30 | 9.06 | 7.76 | 5.75 | 5.47 | 010
12055 |  | A | Layer closure of wound(s) | 4.42 | 5.98 | 4.86 | 2.08 | 2.12 | 0.45 | 10.85 | 9.73 | 6.95 | 6.99 | 010
12056 |  | A | Layer closure of wound(s) | 5.23 | 6.15 | 6.62 | 2.34 | 2.88 | 0.59 | 11.97 | 12.44 | 8.16 | 8.70 | 010
12057 |  | A | Layer closure of wound(s) | 5.95 | 7.34 | 6.45 | 2.74 | 3.51 | 0.56 | 13.85 | 12.96 | 9.25 | 10.02 | 010
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
13100 |  | A | Repair of wound or lesion | 3.12 | 4.34 | 4.13 | 2.40 | 2.33 | 0.26 | 7.72 | 7.51 | 5.78 | 5.71 | 010
13101 |  | A | Repair of wound or lesion | 3.91 | 5.85 | 4.97 | 2.91 | 2.75 | 0.26 | 10.02 | 9.14 | 7.08 | 6.92 | 010
13102 |  | A | Repair wound/lesion add-on | 1.24 | 1.33 | 1.21 | 0.52 | 0.56 | 0.13 | 2.70 | 2.58 | 1.89 | 1.93 | ZZZ
13120 |  | A | Repair of wound or lesion | 3.30 | 4.48 | 4.23 | 2.51 | 2.39 | 0.26 | 8.04 | 7.79 | 6.07 | 5.95 | 010
13121 |  | A | Repair of wound or lesion | 4.32 | 6.13 | 5.18 | 3.10 | 2.88 | 0.25 | 10.70 | 9.75 | 7.67 | 7.45 | 010
13122 |  | A | Repair wound/lesion add-on | 1.44 | 1.36 | 1.47 | 0.57 | 0.62 | 0.15 | 2.95 | 3.06 | 2.16 | 2.21 | ZZZ
13131 |  | A | Repair of wound or lesion | 3.78 | 4.90 | 4.50 | 2.80 | 2.72 | 0.26 | 8.94 | 8.54 | 6.84 | 6.76 | 010
13132 |  | A | Repair of wound or lesion | 6.44 | 7.73 | 6.37 | 4.83 | 4.34 | 0.32 | 14.49 | 13.13 | 11.59 | 11.10 | 010
13133 |  | A | Repair wound/lesion add-on | 2.19 | 1.82 | 1.70 | 0.94 | 1.01 | 0.18 | 4.19 | 4.07 | 3.31 | 3.38 | ZZZ
13150 |  | A | Repair of wound or lesion | 3.80 | 4.60 | 4.81 | 2.63 | 2.74 | 0.34 | 8.74 | 8.95 | 6.77 | 6.88 | 010
13151 |  | A | Repair of wound or lesion | 4.44 | 5.39 | 4.96 | 3.13 | 3.15 | 0.31 | 10.14 | 9.71 | 7.88 | 7.90 | 010
13152 |  | A | Repair of wound or lesion | 6.32 | 7.38 | 6.38 | 3.80 | 3.99 | 0.40 | 14.10 | 13.10 | 10.52 | 10.71 | 010
13153 |  | A | Repair wound/lesion add-on | 2.38 | 1.96 | 1.95 | 0.97 | 1.10 | 0.24 | 4.58 | 4.57 | 3.59 | 3.72 | ZZZ
13160 |  | A | Late closure of wound | 11.76 | NA | NA | 6.98 | 7.13 | 1.54 | NA | NA | 20.28 | 20.43 | 090
14000 |  | A | Skin tissue rearrangement | 6.75 | 8.78 | 8.10 | 5.91 | 5.59 | 0.59 | 16.12 | 15.44 | 13.25 | 12.93 | 090
14001 |  | A | Skin tissue rearrangement | 9.52 | 10.90 | 9.81 | 7.40 | 7.17 | 0.82 | 21.24 | 20.15 | 17.74 | 17.51 | 090
14020 |  | A | Skin tissue rearrangement | 7.58 | 9.80 | 8.92 | 6.70 | 6.59 | 0.64 | 18.02 | 17.14 | 14.92 | 14.81 | 090
14021 |  | A | Skin tissue rearrangement | 11.10 | 12.18 | 10.55 | 8.43 | 8.33 | 0.81 | 24.09 | 22.46 | 20.34 | 20.24 | 090
14040 |  | A | Skin tissue rearrangement | 8.36 | 10.23 | 9.18 | 7.06 | 7.18 | 0.62 | 19.21 | 18.16 | 16.04 | 16.16 | 090
14041 |  | A | Skin tissue rearrangement | 12.59 | 13.27 | 11.28 | 9.10 | 8.80 | 0.73 | 26.59 | 24.60 | 22.42 | 22.12 | 090
14060 |  | A | Skin tissue rearrangement | 8.99 | 9.94 | 9.09 | 7.47 | 7.46 | 0.68 | 19.61 | 18.76 | 17.14 | 17.13 | 090
14061 |  | A | Skin tissue rearrangement | 13.57 | 14.52 | 12.35 | 9.92 | 9.63 | 0.76 | 28.85 | 26.68 | 24.25 | 23.96 | 090
14300 |  | A | Skin tissue rearrangement | 13.16 | 13.25 | 11.68 | 9.22 | 9.21 | 1.16 | 27.57 | 26.00 | 23.54 | 23.53 | 090
14350 |  | A | Skin tissue rearrangement | 10.72 | NA | NA | 6.78 | 7.07 | 1.34 | NA | NA | 18.84 | 19.13 | 090
15000 |  | A | Wound prep, 1st 100 sq cm | 3.99 | 4.19 | 3.90 | 1.70 | 2.07 | 0.54 | 8.72 | 8.43 | 6.23 | 6.60 | 000
15001 |  | A | Wound prep, addl 100 sq cm | 1.00 | 0.55 | 1.15 | 0.34 | 0.39 | 0.14 | 1.69 | 2.29 | 1.48 | 1.53 | ZZZ
15040 |  | A | Harvest cultured skin graft | 2.00 | 3.82 | 4.38 | 1.01 | 1.10 | 0.24 | 6.06 | 6.62 | 3.25 | 3.34 | 000
15050 |  | A | Skin pinch graft | 5.29 | 7.58 | 7.09 | 4.97 | 5.08 | 0.57 | 13.44 | 12.95 | 10.83 | 10.94 | 090
15100 |  | A | Skin splt grft, trnk/arm/leg | 9.66 | 10.25 | 12.03 | 7.16 | 7.67 | 1.28 | 21.19 | 22.97 | 18.10 | 18.61 | 090
15101 |  | A | Skin splt grft t/a/l, add-on | 1.72 | 2.48 | 3.43 | 0.85 | 1.09 | 0.24 | 4.44 | 5.39 | 2.81 | 3.05 | ZZZ
15110 |  | A | Epidrm autogrft trnk/arm/leg | 10.82 | 8.81 | 10.23 | 6.40 | 6.87 | 1.31 | 20.94 | 22.36 | 18.53 | 19.00 | 090
15111 |  | A | Epidrm autogrft t/a/l add-on | 1.85 | 0.87 | 1.19 | 0.63 | 0.75 | 0.26 | 2.98 | 3.30 | 2.74 | 2.86 | ZZZ
15115 |  | A | Epidrm a-grft face/nck/hf/g | 11.13 | 9.05 | 9.20 | 6.58 | 7.17 | 1.15 | 21.33 | 21.48 | 18.86 | 19.45 | 090
15116 |  | A | Epidrm a-grft f/n/hf/g addl | 2.50 | 1.20 | 1.49 | 0.86 | 1.06 | 0.33 | 4.03 | 4.32 | 3.69 | 3.89 | ZZZ
15120 |  | A | Skn splt a-grft fac/nck/hf/g | 10.88 | 11.06 | 10.83 | 7.22 | 7.66 | 1.16 | 23.10 | 22.87 | 19.26 | 19.70 | 090
15121 |  | A | Skn splt a-grft f/n/hf/g add | 2.67 | 3.42 | 4.24 | 1.30 | 1.71 | 0.36 | 6.45 | 7.27 | 4.33 | 4.74 | ZZZ
15130 |  | A | Derm autograft, trnk/arm/leg | 7.33 | 7.94 | 9.40 | 5.56 | 6.16 | 0.97 | 16.24 | 17.70 | 13.86 | 14.46 | 090
15131 |  | A | Derm autograft t/a/l add-on | 1.50 | 0.68 | 0.97 | 0.51 | 0.61 | 0.21 | 2.39 | 2.68 | 2.22 | 2.32 | ZZZ
15135 |  | A | Derm autograft face/nck/hf/g | 10.83 | 9.30 | 9.75 | 6.89 | 7.84 | 1.23 | 21.36 | 21.81 | 18.95 | 19.90 | 090
15136 |  | A | Derm autograft, f/n/hf/g add | 1.50 | 0.66 | 0.83 | 0.52 | 0.63 | 0.20 | 2.36 | 2.53 | 2.22 | 2.33 | ZZZ
15150 |  | A | Cult epiderm grft t/arm/leg | 9.24 | 7.12 | 8.14 | 5.83 | 6.30 | 1.14 | 17.50 | 18.52 | 16.21 | 16.68 | 090
15151 |  | A | Cult epiderm grft t/a/l addl | 2.00 | 0.88 | 1.20 | 0.68 | 0.81 | 0.28 | 3.16 | 3.48 | 2.96 | 3.09 | ZZZ
15152 |  | A | Cult epiderm graft t/a/l +% | 2.50 | 1.05 | 1.43 | 0.85 | 1.01 | 0.35 | 3.90 | 4.28 | 3.70 | 3.86 | ZZZ
15155 |  | A | Cult epiderm graft, f/n/hf/g | 9.99 | 7.51 | 7.76 | 6.17 | 6.78 | 1.05 | 18.55 | 18.80 | 17.21 | 17.82 | 090
15156 |  | A | Cult epidrm grft f/n/hfg add | 2.75 | 1.16 | 1.46 | 0.95 | 1.17 | 0.36 | 4.27 | 4.57 | 4.06 | 4.28 | ZZZ
15157 |  | A | Cult epiderm grft f/n/hfg +% | 3.00 | 1.34 | 1.67 | 1.04 | 1.27 | 0.39 | 4.73 | 5.06 | 4.43 | 4.66 | ZZZ
15170 |  | A | Acell graft trunk/arms/legs | 5.99 | 3.60 | 3.78 | 2.31 | 2.36 | 0.55 | 10.14 | 10.32 | 8.85 | 8.90 | 090
15171 |  | A | Acell graft t/arm/leg add-on | 1.55 | 0.63 | 0.67 | 0.50 | 0.59 | 0.19 | 2.37 | 2.41 | 2.24 | 2.33 | ZZZ
15175 |  | A | Acellular graft, f/n/hf/g | 7.99 | 5.17 | 5.37 | 3.68 | 3.93 | 0.82 | 13.98 | 14.18 | 12.49 | 12.74 | 090
15176 |  | A | Acell graft, f/n/hf/g add-on | 2.45 | 1.05 | 1.10 | 0.79 | 0.94 | 0.29 | 3.79 | 3.84 | 3.53 | 3.68 | ZZZ
15200 |  | A | Skin full graft, trunk | 8.89 | 9.76 | 9.51 | 6.22 | 6.22 | 0.98 | 19.63 | 19.38 | 16.09 | 16.09 | 090
15201 |  | A | Skin full graft trunk add-on | 1.32 | 2.08 | 2.45 | 0.55 | 0.60 | 0.19 | 3.59 | 3.96 | 2.06 | 2.11 | ZZZ
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
15220 |  | A | Skin full graft sclp/arm/leg | 7.86 | 10.19 | 9.46 | 6.48 | 6.65 | 0.84 | 18.89 | 18.16 | 15.18 | 15.35 | 090
15221 |  | A | Skin full graft add-on | 1.19 | 1.99 | 2.25 | 0.49 | 0.54 | 0.16 | 3.34 | 3.60 | 1.84 | 1.89 | ZZZ
15240 |  | A | Skin full grft face/genit/hf | 10.03 | 11.05 | 10.44 | 7.96 | 7.97 | 0.92 | 22.00 | 21.39 | 18.91 | 18.92 | 090
15241 |  | A | Skin full graft add-on | 1.86 | 2.48 | 2.46 | 0.78 | 0.88 | 0.23 | 4.57 | 4.55 | 2.87 | 2.97 | ZZZ
15260 |  | A | Skin full graft een & lips | 11.29 | 12.67 | 10.85 | 9.05 | 8.71 | 0.69 | 24.65 | 22.83 | 21.03 | 20.69 | 090
15261 |  | A | Skin full graft add-on | 2.23 | 2.89 | 2.75 | 1.11 | 1.33 | 0.21 | 5.33 | 5.19 | 3.55 | 3.77 | ZZZ
15300 |  | A | Apply skinallogrft, t/arm/lg | 4.65 | 3.31 | 3.24 | 2.06 | 2.20 | 0.49 | 8.45 | 8.38 | 7.20 | 7.34 | 090
15301 |  | A | Apply sknallogrft t/a/l addl | 1.00 | 0.47 | 0.47 | 0.33 | 0.38 | 0.14 | 1.61 | 1.61 | 1.47 | 1.52 | ZZZ
15320 |  | A | Apply skin allogrft f/n/hf/g | 5.36 | 3.69 | 3.65 | 2.27 | 2.47 | 0.58 | 9.63 | 9.59 | 8.21 | 8.41 | 090
15321 |  | A | Aply sknallogrft f/n/hfg add | 1.50 | 0.67 | 0.69 | 0.49 | 0.57 | 0.21 | 2.38 | 2.40 | 2.20 | 2.28 | ZZZ
15330 |  | A | Aply acell alogrft t/arm/leg | 3.99 | 3.10 | 3.18 | 1.86 | 2.14 | 0.49 | 7.58 | 7.66 | 6.34 | 6.62 | 090
15331 |  | A | Aply acell grft t/a/l add-on | 1.00 | 0.45 | 0.46 | 0.33 | 0.38 | 0.14 | 1.59 | 1.60 | 1.47 | 1.52 | ZZZ
15335 |  | A | Apply acell graft, f/n/hf/g | 4.50 | 3.35 | 3.45 | 2.02 | 2.34 | 0.55 | 8.40 | 8.50 | 7.07 | 7.39 | 090
15336 |  | A | Aply acell grft f/n/hf/g add | 1.43 | 0.70 | 0.69 | 0.47 | 0.55 | 0.20 | 2.33 | 2.32 | 2.10 | 2.18 | ZZZ
15340 |  | A | Apply cult skin substitute | 3.72 | 3.74 | 3.94 | 2.68 | 2.74 | 0.41 | 7.87 | 8.07 | 6.81 | 6.87 | 010
15341 |  | A | Apply cult skin sub add-on | 0.50 | 0.72 | 0.64 | 0.16 | 0.19 | 0.06 | 1.28 | 1.20 | 0.72 | 0.75 | ZZZ
15360 |  | A | Apply cult derm sub, t/a/l | 3.87 | 4.26 | 4.43 | 3.07 | 3.09 | 0.43 | 8.56 | 8.73 | 7.37 | 7.39 | 090
15361 |  | A | Aply cult derm sub t/a/l add | 1.15 | 0.56 | 0.58 | 0.37 | 0.44 | 0.14 | 1.85 | 1.87 | 1.66 | 1.73 | ZZZ
15365 |  | A | Apply cult derm sub f/n/hf/g | 4.15 | 4.30 | 4.50 | 3.14 | 3.19 | 0.46 | 8.91 | 9.11 | 7.75 | 7.80 | 090
15366 |  | A | Apply cult derm f/hf/g add | 1.45 | 0.67 | 0.69 | 0.47 | 0.55 | 0.17 | 2.29 | 2.31 | 2.09 | 2.17 | ZZZ
15400 |  | A | Apply skin xenograft, t/a/l | 4.32 | 4.87 | 4.23 | 3.66 | 3.93 | 0.47 | 9.66 | 9.02 | 8.45 | 8.72 | 090
15401 |  | A | Apply skn xenogrft t/a/l add | 1.00 | 1.01 | 1.68 | 0.33 | 0.41 | 0.14 | 2.15 | 2.82 | 1.47 | 1.55 | ZZZ
15420 |  | A | Apply skin xgraft, f/n/hf/g | 4.83 | 5.01 | 4.85 | 3.82 | 3.81 | 0.52 | 10.36 | 10.20 | 9.17 | 9.16 | 090
15421 |  | A | Apply skn xgrft f/n/hf/g add | 1.50 | 1.18 | 1.29 | 0.50 | 0.59 | 0.21 | 2.89 | 3.00 | 2.21 | 2.30 | ZZZ
15430 |  | A | Apply acellular xenograft | 5.75 | 6.95 | 6.93 | 6.37 | 6.57 | 0.66 | 13.36 | 13.34 | 12.78 | 12.98 | 090
15570 |  | A | Form skin pedicle flap | 9.94 | 10.21 | 11.05 | 6.35 | 6.67 | 1.34 | 21.49 | 22.33 | 17.63 | 17.95 | 090
15572 |  | A | Form skin pedicle flap | 9.88 | 9.61 | 9.54 | 6.51 | 6.48 | 1.20 | 20.69 | 20.62 | 17.59 | 17.56 | 090
15574 |  | A | Form skin pedicle flap | 10.48 | 10.26 | 10.60 | 6.81 | 7.56 | 1.20 | 21.94 | 22.28 | 18.49 | 19.24 | 090
15576 |  | A | Form skin pedicle flap | 9.18 | 9.42 | 9.69 | 6.32 | 6.76 | 0.87 | 19.47 | 19.74 | 16.37 | 16.81 | 090
15600 |  | A | Skin graft | 1.91 | 5.21 | 7.02 | 2.67 | 2.97 | 0.27 | 7.39 | 9.20 | 4.85 | 5.15 | 090
15610 |  | A | Skin graft | 2.42 | 5.49 | 4.90 | 2.99 | 3.32 | 0.35 | 8.26 | 7.67 | 5.76 | 6.09 | 090
15620 |  | A | Skin graft | 3.56 | 6.26 | 7.42 | 3.74 | 3.85 | 0.35 | 10.17 | 11.33 | 7.65 | 7.76 | 090
15630 |  | A | Skin graft | 3.89 | 6.86 | 7.01 | 4.16 | 4.16 | 0.34 | 11.09 | 11.24 | 8.39 | 8.39 | 090
15650 |  | A | Transfer skin pedicle flap | 4.58 | 7.00 | 7.12 | 4.19 | 4.21 | 0.42 | 12.00 | 12.12 | 9.19 | 9.21 | 090
15732 |  | A | Muscle-skin graft, head/neck | 19.62 | 14.42 | 17.17 | 10.88 | 11.91 | 1.99 | 36.03 | 38.78 | 32.49 | 33.52 | 090
15734 |  | A | Muscle-skin graft, trunk | 19.52 | 14.95 | 17.36 | 11.12 | 12.09 | 2.61 | 37.08 | 39.49 | 33.25 | 34.22 | 090
15736 |  | A | Muscle-skin graft, arm | 16.86 | 13.54 | 17.10 | 9.75 | 10.88 | 2.45 | 32.85 | 36.41 | 29.06 | 30.19 | 090
15738 |  | A | Muscle-skin graft, leg | 18.86 | 13.82 | 16.97 | 10.22 | 11.37 | 2.65 | 35.33 | 38.48 | 31.73 | 32.88 | 090
15740 |  | A | Island pedicle flap graft | 11.47 | 13.20 | 10.92 | 9.13 | 8.49 | 0.63 | 25.30 | 23.02 | 21.23 | 20.59 | 090
15750 |  | A | Neurovascular pedicle graft | 12.63 | NA | NA | 8.53 | 8.94 | 1.42 | NA | NA | 22.58 | 22.99 | 090
15756 |  | A | Free myo/skin flap microvasc | 36.64 | NA | NA | 17.98 | 19.96 | 4.61 | NA | NA | 59.23 | 61.21 | 090
15757 |  | A | Free skin flap, microvasc | 36.85 | NA | NA | 16.45 | 20.35 | 3.89 | NA | NA | 57.19 | 61.09 | 090
15758 |  | A | Free fascial flap, microvasc | 36.60 | NA | NA | 16.06 | 20.24 | 4.23 | NA | NA | 56.89 | 61.07 | 090
15760 |  | A | Composite skin graft | 9.60 | 10.03 | 10.05 | 6.74 | 7.15 | 0.85 | 20.48 | 20.50 | 17.19 | 17.60 | 090
15770 |  | A | Derma-fat-fascia graft | 8.63 | NA | NA | 6.43 | 6.63 | 1.05 | NA | NA | 16.11 | 16.31 | 090
15775 |  | R | Hair transplant punch grafts | 3.95 | 3.51 | 4.06 | 1.70 | 1.40 | 0.52 | 7.98 | 8.53 | 6.17 | 5.87 | 000
15776 |  | R | Hair transplant punch grafts | 5.53 | 3.91 | 5.01 | 1.56 | 2.50 | 0.72 | 10.16 | 11.26 | 7.81 | 8.75 | 000
15780 |  | A | Abrasion treatment of skin | 8.40 | 11.63 | 11.57 | 6.71 | 7.88 | 0.67 | 20.70 | 20.64 | 15.78 | 16.95 | 090
15781 |  | A | Abrasion treatment of skin | 4.84 | 8.47 | 7.32 | 5.49 | 5.41 | 0.34 | 13.65 | 12.50 | 10.67 | 10.59 | 090
15782 |  | A | Abrasion treatment of skin | 4.31 | 9.52 | 9.79 | 5.47 | 6.30 | 0.34 | 14.17 | 14.44 | 10.12 | 10.95 | 090
15783 |  | A | Abrasion treatment of skin | 4.28 | 7.95 | 7.16 | 4.97 | 4.39 | 0.28 | 12.51 | 11.72 | 9.53 | 8.95 | 090
15786 |  | A | Abrasion, lesion, single | 2.03 | 3.77 | 3.46 | 1.22 | 1.30 | 0.11 | 5.91 | 5.60 | 3.36 | 3.44 | 010
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
15787 |  | A | Abrasion, lesions, add-on | 0.33 | 0.82 | 1.02 | 0.10 | 0.15 | 0.04 | 1.19 | 1.39 | 0.47 | 0.52 | ZZZ
15788 |  | R | Chemical peel, face, epiderm | 2.09 | 8.47 | 7.17 | 3.67 | 3.24 | 0.11 | 10.67 | 9.37 | 5.87 | 5.44 | 090
15789 |  | R | Chemical peel, face, dermal | 4.91 | 9.11 | 8.36 | 5.63 | 5.02 | 0.20 | 14.22 | 13.47 | 10.74 | 10.13 | 090
15792 |  | R | Chemical peel, nonfacial | 1.86 | 6.78 | 7.03 | 3.43 | 4.20 | 0.13 | 8.77 | 9.02 | 5.42 | 6.19 | 090
15793 |  | A | Chemical peel, nonfacial | 3.73 | 5.47 | 6.09 | 3.22 | 4.10 | 0.19 | 9.39 | 10.01 | 7.14 | 8.02 | 090
15819 |  | A | Plastic surgery, neck | 10.37 | NA | NA | 6.54 | 7.04 | 0.97 | NA | NA | 17.88 | 18.38 | 090
15820 |  | A | Revision of lower eyelid | 6.01 | 6.09 | 6.77 | 4.94 | 5.42 | 0.40 | 12.50 | 13.18 | 11.35 | 11.83 | 090
15821 |  | A | Revision of lower eyelid | 6.58 | 6.32 | 7.11 | 5.08 | 5.57 | 0.45 | 13.35 | 14.14 | 12.11 | 12.60 | 090
15822 |  | A | Revision of upper eyelid | 4.44 | 4.97 | 5.63 | 3.88 | 4.35 | 0.37 | 9.78 | 10.44 | 8.69 | 9.16 | 090
15823 |  | A | Revision of upper eyelid | 8.04 | 7.14 | 7.69 | 5.91 | 6.32 | 0.50 | 15.68 | 16.23 | 14.45 | 14.86 | 090
15831 |  | A | Excise excessive skin tissue | 13.56 | NA | NA | 8.57 | 8.28 | 1.75 | NA | NA | 23.88 | 23.59 | 090
15832 |  | A | Excise excessive skin tissue | 12.57 | NA | NA | 8.11 | 8.30 | 1.66 | NA | NA | 22.34 | 22.53 | 090
15833 |  | A | Excise excessive skin tissue | 11.62 | NA | NA | 7.11 | 7.95 | 1.49 | NA | NA | 20.22 | 21.06 | 090
15834 |  | A | Excise excessive skin tissue | 11.89 | NA | NA | 7.63 | 7.69 | 1.61 | NA | NA | 21.13 | 21.19 | 090
15835 |  | A | Excise excessive skin tissue | 12.71 | NA | NA | 7.67 | 7.59 | 1.60 | NA | NA | 21.98 | 21.90 | 090
15836 |  | A | Excise excessive skin tissue | 10.33 | NA | NA | 6.78 | 6.80 | 1.34 | NA | NA | 18.45 | 18.47 | 090
15837 |  | A | Excise excessive skin tissue | 9.29 | 8.63 | 8.59 | 5.65 | 6.96 | 1.18 | 19.10 | 19.06 | 16.12 | 17.43 | 090
15838 |  | A | Excise excessive skin tissue | 7.99 | NA | NA | 4.79 | 5.76 | 0.58 | NA | NA | 13.36 | 14.33 | 090
15839 |  | A | Excise excessive skin tissue | 10.24 | 9.21 | 8.94 | 6.05 | 6.32 | 1.22 | 20.67 | 20.40 | 17.51 | 17.78 | 090
15840 |  | A | Graft for face nerve palsy | 14.66 | NA | NA | 8.37 | 9.59 | 1.32 | NA | NA | 24.35 | 25.57 | 090
15841 |  | A | Graft for face nerve palsy | 25.57 | NA | NA | 12.70 | 14.45 | 2.54 | NA | NA | 40.81 | 42.56 | 090
15842 |  | A | Flap for face nerve palsy | 40.54 | NA | NA | 20.48 | 22.36 | 4.93 | NA | NA | 65.95 | 67.83 | 090
15845 |  | A | Skin and muscle repair, face | 13.92 | NA | NA | 8.43 | 9.11 | 0.81 | NA | NA | 23.16 | 23.84 | 090
15850 |  | B | Removal of sutures | 0.78 | 1.20 | 1.47 | 0.18 | 0.27 | 0.05 | 2.03 | 2.30 | 1.01 | 1.10 | XXX
15851 |  | A | Removal of sutures | 0.86 | 1.32 | 1.59 | 0.23 | 0.29 | 0.06 | 2.24 | 2.51 | 1.15 | 1.21 | 000
15852 |  | A | Dressing change not for burn | 0.86 | 1.61 | 1.79 | 0.25 | 0.31 | 0.09 | 2.56 | 2.74 | 1.20 | 1.26 | 000
15860 |  | A | Test for blood flow in graft | 1.95 | 0.68 | 0.79 | 0.68 | 0.76 | 0.27 | 2.90 | 3.01 | 2.90 | 2.98 | 000
15920 |  | A | Removal of tail bone ulcer | 8.06 | NA | NA | 5.74 | 5.61 | 1.04 | NA | NA | 14.84 | 14.71 | 090
15922 |  | A | Removal of tail bone ulcer | 10.13 | NA | NA | 6.89 | 7.15 | 1.42 | NA | NA | 18.44 | 18.70 | 090
15931 |  | A | Remove sacrum pressure sore | 9.89 | NA | NA | 5.50 | 5.65 | 1.25 | NA | NA | 16.64 | 16.79 | 090
15933 |  | A | Remove sacrum pressure sore | 11.49 | NA | NA | 7.27 | 7.72 | 1.52 | NA | NA | 20.28 | 20.73 | 090
15934 |  | A | Remove sacrum pressure sore | 13.45 | NA | NA | 7.50 | 7.92 | 1.78 | NA | NA | 22.73 | 23.15 | 090
15935 |  | A | Remove sacrum pressure sore | 15.45 | NA | NA | 9.93 | 10.25 | 2.09 | NA | NA | 27.47 | 27.79 | 090
15936 |  | A | Remove sacrum pressure sore | 12.96 | NA | NA | 7.38 | 8.03 | 1.76 | NA | NA | 22.10 | 22.75 | 090
15937 |  | A | Remove sacrum pressure sore | 14.91 | NA | NA | 8.81 | 9.59 | 2.06 | NA | NA | 25.78 | 26.56 | 090
15940 |  | A | Remove hip pressure sore | 10.05 | NA | NA | 5.76 | 6.08 | 1.31 | NA | NA | 17.12 | 17.44 | 090
15941 |  | A | Remove hip pressure sore | 12.13 | NA | NA | 8.37 | 9.20 | 1.66 | NA | NA | 22.16 | 22.99 | 090
15944 |  | A | Remove hip pressure sore | 12.16 | NA | NA | 8.10 | 8.49 | 1.65 | NA | NA | 21.91 | 22.30 | 090
15945 |  | A | Remove hip pressure sore | 13.45 | NA | NA | 8.99 | 9.50 | 1.84 | NA | NA | 24.28 | 24.79 | 090
15946 |  | A | Remove hip pressure sore | 23.72 | NA | NA | 13.66 | 14.22 | 3.16 | NA | NA | 40.54 | 41.10 | 090
15950 |  | A | Remove thigh pressure sore | 7.83 | NA | NA | 5.33 | 5.41 | 1.04 | NA | NA | 14.20 | 14.28 | 090
15951 |  | A | Remove thigh pressure sore | 11.30 | NA | NA | 7.84 | 7.87 | 1.49 | NA | NA | 20.63 | 20.66 | 090
15952 |  | A | Remove thigh pressure sore | 12.03 | NA | NA | 7.66 | 7.74 | 1.60 | NA | NA | 21.29 | 21.37 | 090
15953 |  | A | Remove thigh pressure sore | 13.27 | NA | NA | 8.91 | 8.99 | 1.79 | NA | NA | 23.97 | 24.05 | 090
15956 |  | A | Remove thigh pressure sore | 16.46 | NA | NA | 9.51 | 10.48 | 2.21 | NA | NA | 28.18 | 29.15 | 090
15958 |  | A | Remove thigh pressure sore | 16.42 | NA | NA | 10.13 | 10.84 | 2.25 | NA | NA | 28.80 | 29.51 | 090
16000 |  | A | Initial treatment of burn(s) | 0.89 | 0.72 | 0.83 | 0.23 | 0.25 | 0.08 | 1.69 | 1.80 | 1.20 | 1.22 | 000
16020 |  | A | Dress/debrid p-thick burn, s | 0.80 | 1.10 | 1.24 | 0.55 | 0.57 | 0.08 | 1.98 | 2.12 | 1.43 | 1.45 | 000
16025 |  | A | Dress/debrid p-thick burn, m | 1.85 | 1.59 | 1.73 | 0.87 | 0.94 | 0.19 | 3.63 | 3.77 | 2.91 | 2.98 | 000
16030 |  | A | Dress/debrid p-thick burn, l | 2.08 | 1.95 | 2.12 | 0.94 | 1.08 | 0.24 | 4.27 | 4.44 | 3.26 | 3.40 | 000
16035 |  | A | Incision of burn scab, initi | 3.74 | NA | NA | 1.23 | 1.49 | 0.46 | NA | NA | 5.43 | 5.69 | 090
16036 |  | A | Escharotomy; addIl incision | 1.50 | NA | NA | 0.47 | 0.57 | 0.20 | NA | NA | 2.17 | 2.27 | ZZZ
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
17000 |  | A | Destroy benign/premlg lesion | 0.60 | 1.38 | 1.07 | 0.72 | 0.59 | 0.03 | 2.01 | 1.70 | 1.35 | 1.22 | 010
17003 |  | A | Destroy lesions, 2-14 | 0.07 | 0.10 | 0.11 | 0.03 | 0.06 | 0.01 | 0.18 | 0.19 | 0.11 | 0.14 | ZZZ
17004 |  | A | Destroy lesions, 15 or more | 1.58 | 1.94 | 2.22 | 1.32 | 1.52 | 0.11 | 3.63 | 3.91 | 3.01 | 3.21 | 010
17106 |  | A | Destruction of skin lesions | 4.58 | 4.58 | 4.60 | 3.19 | 3.30 | 0.35 | 9.51 | 9.53 | 8.12 | 8.23 | 090
17107 |  | A | Destruction of skin lesions | 9.15 | 7.14 | 7.20 | 5.05 | 5.37 | 0.63 | 16.92 | 16.98 | 14.83 | 15.15 | 090
17108 |  | A | Destruction of skin lesions | 13.18 | 9.25 | 9.28 | 6.69 | 7.43 | 0.54 | 22.97 | 23.00 | 20.41 | 21.15 | 090
17110 |  | A | Destruct lesion, 1-14 | 0.65 | 1.74 | 1.65 | 0.85 | 0.74 | 0.05 | 2.44 | 2.35 | 1.55 | 1.44 | 010
17111 |  | A | Destruct lesion, 15 or more | 0.92 | 2.25 | 1.82 | 1.10 | 0.88 | 0.05 | 3.22 | 2.79 | 2.07 | 1.85 | 010
17250 |  | A | Chemical cautery, tissue | 0.50 | 1.31 | 1.24 | 0.38 | 0.35 | 0.06 | 1.87 | 1.80 | 0.94 | 0.91 | 000
17260 |  | A | Destruction of skin lesions | 0.91 | 1.39 | 1.31 | 0.69 | 0.68 | 0.04 | 2.34 | 2.26 | 1.64 | 1.63 | 010
17261 |  | A | Destruction of skin lesions | 1.17 | 2.45 | 1.82 | 1.04 | 0.88 | 0.05 | 3.67 | 3.04 | 2.26 | 2.10 | 010
17262 |  | A | Destruction of skin lesions | 1.58 | 2.79 | 2.12 | 1.24 | 1.08 | 0.06 | 4.43 | 3.76 | 2.88 | 2.72 | 010
17263 |  | A | Destruction of skin lesions | 1.79 | 3.01 | 2.30 | 1.33 | 1.15 | 0.07 | 4.87 | 4.16 | 3.19 | 3.01 | 010
17264 |  | A | Destruction of skin lesions | 1.94 | 3.22 | 2.48 | 1.40 | 1.19 | 0.08 | 5.24 | 4.50 | 3.42 | 3.21 | 010
17266 |  | A | Destruction of skin lesions | 2.34 | 3.47 | 2.75 | 1.56 | 1.31 | 0.09 | 5.90 | 5.18 | 3.99 | 3.74 | 010
17270 |  | A | Destruction of skin lesions | 1.32 | 2.40 | 1.88 | 1.07 | 0.92 | 0.05 | 3.77 | 3.25 | 2.44 | 2.29 | 010
17271 |  | A | Destruction of skin lesions | 1.49 | 2.62 | 1.99 | 1.19 | 1.03 | 0.06 | 4.17 | 3.54 | 2.74 | 2.58 | 010
17272 |  | A | Destruction of skin lesions | 1.77 | 2.92 | 2.23 | 1.33 | 1.17 | 0.07 | 4.76 | 4.07 | 3.17 | 3.01 | 010
17273 |  | A | Destruction of skin lesions | 2.05 | 3.16 | 2.45 | 1.46 | 1.27 | 0.08 | 5.29 | 4.58 | 3.59 | 3.40 | 010
17274 |  | A | Destruction of skin lesions | 2.59 | 3.56 | 2.82 | 1.71 | 1.51 | 0.10 | 6.25 | 5.51 | 4.40 | 4.20 | 010
17276 |  | A | Destruction of skin lesions | 3.20 | 3.83 | 3.17 | 1.94 | 1.75 | 0.16 | 7.19 | 6.53 | 5.30 | 5.11 | 010
17280 |  | A | Destruction of skin lesions | 1.17 | 2.32 | 1.79 | 1.01 | 0.86 | 0.05 | 3.54 | 3.01 | 2.23 | 2.08 | 010
17281 |  | A | Destruction of skin lesions | 1.72 | 2.69 | 2.11 | 1.30 | 1.14 | 0.07 | 4.48 | 3.90 | 3.09 | 2.93 | 010
17282 |  | A | Destruction of skin lesions | 2.04 | 3.09 | 2.39 | 1.46 | 1.30 | 0.08 | 5.21 | 4.51 | 3.58 | 3.42 | 010
17283 |  | A | Destruction of skin lesions | 2.64 | 3.50 | 2.79 | 1.73 | 1.55 | 0.11 | 6.25 | 5.54 | 4.48 | 4.30 | 010
17284 |  | A | Destruction of skin lesions | 3.21 | 3.92 | 3.18 | 1.99 | 1.82 | 0.13 | 7.26 | 6.52 | 5.33 | 5.16 | 010
17286 |  | A | Destruction of skin lesions | 4.43 | 4.31 | 3.84 | 2.40 | 2.44 | 0.23 | 8.97 | 8.50 | 7.06 | 7.10 | 010
17304 |  | A | 1 stage mohs, up to 5 spec | 7.59 | 11.81 | 9.15 | 3.65 | 3.59 | 0.30 | 19.70 | 17.04 | 11.54 | 11.48 | 000
17305 |  | A | 2 stage mohs, up to 5 spec | 2.85 | 6.85 | 4.64 | 1.37 | 1.35 | 0.11 | 9.81 | 7.60 | 4.33 | 4.31 | 000
17306 |  | A | 3 stage mohs, up to 5 spec | 2.85 | 7.09 | 4.71 | 1.36 | 1.35 | 0.11 | 10.05 | 7.67 | 4.32 | 4.31 | 000
17307 |  | A | Mohs addl stage up to 5 spec | 2.85 | 6.84 | 4.39 | 1.37 | 1.36 | 0.11 | 9.80 | 7.35 | 4.33 | 4.32 | 000
17310 |  | A | Mohs any stage > 5 spec each | 0.95 | 1.97 | 1.71 | 0.46 | 0.46 | 0.03 | 2.95 | 2.69 | 1.44 | 1.44 | ZZZ
17340 |  | A | Cryotherapy of skin | 0.76 | 0.32 | 0.36 | 0.36 | 0.36 | 0.05 | 1.13 | 1.17 | 1.17 | 1.17 | 010
17360 |  | A | Skin peel therapy | 1.43 | 1.40 | 1.43 | 0.97 | 0.90 | 0.06 | 2.89 | 2.92 | 2.46 | 2.39 | 010
19000 |  | A | Drainage of breast lesion | 0.84 | 1.96 | 1.98 | 0.26 | 0.30 | 0.08 | 2.88 | 2.90 | 1.18 | 1.22 | 000
19001 |  | A | Drain breast lesion add-on | 0.42 | 0.26 | 0.25 | 0.13 | 0.14 | 0.04 | 0.72 | 0.71 | 0.59 | 0.60 | ZZZ
19020 |  | A | Incision of breast lesion | 3.68 | 6.64 | 6.42 | 3.02 | 2.77 | 0.45 | 10.77 | 10.55 | 7.15 | 6.90 | 090
19030 |  | A | Injection for breast x-ray | 1.53 | 2.76 | 2.84 | 0.53 | 0.51 | 0.09 | 4.38 | 4.46 | 2.15 | 2.13 | 000
19100 |  | A | Bx breast percut w/o image | 1.27 | 2.09 | 2.09 | 0.33 | 0.40 | 0.16 | 3.52 | 3.52 | 1.76 | 1.83 | 000
19101 |  | A | Biopsy of breast, open | 3.18 | 4.34 | 4.47 | 1.76 | 1.88 | 0.39 | 7.91 | 8.04 | 5.33 | 5.45 | 010
19102 |  | A | Bx breast percut w/image | 2.00 | 3.58 | 3.78 | 0.66 | 0.66 | 0.14 | 5.72 | 5.92 | 2.80 | 2.80 | 000
19103 |  | A | Bx breast percut w/device | 3.69 | 10.42 | 11.25 | 1.17 | 1.22 | 0.30 | 14.41 | 15.24 | 5.16 | 5.21 | 000
19110 |  | A | Nipple exploration | 4.29 | 6.41 | 5.96 | 3.25 | 2.97 | 0.57 | 11.27 | 10.82 | 8.11 | 7.83 | 090
19112 |  | A | Excise breast duct fistula | 3.66 | 6.26 | 6.13 | 3.14 | 2.80 | 0.48 | 10.40 | 10.27 | 7.28 | 6.94 | 090
19120 |  | A | Removal of breast lesion | 5.80 | 5.08 | 4.68 | 3.35 | 3.14 | 0.73 | 11.61 | 11.21 | 9.88 | 9.67 | 090
19125 |  | A | Excision, breast lesion | 6.55 | 5.55 | 4.98 | 3.64 | 3.38 | 0.80 | 12.90 | 12.33 | 10.99 | 10.73 | 090
19126 |  | A | Excision, addl breast lesion | 2.93 | NA | NA | 0.74 | 0.94 | 0.38 | NA | NA | 4.05 | 4.25 | ZZZ
19140 |  | A | Removal of breast tissue | 5.13 | 8.01 | 7.37 | 3.81 | 3.50 | 0.69 | 13.83 | 13.19 | 9.63 | 9.32 | 090
19160 |  | A | Partial mastectomy | 5.98 | NA | NA | 3.60 | 3.47 | 0.79 | NA | NA | 10.37 | 10.24 | 090
19162 |  | A | P-mastectomy w/ln removal | 13.81 | NA | NA | 6.08 | 6.28 | 1.79 | NA | NA | 21.68 | 21.88 | 090
19180 |  | A | Removal of breast | 15.61 | NA | NA | 7.01 | 5.53 | 1.18 | NA | NA | 23.80 | 22.32 | 090
19182 |  | A | Removal of breast | 7.72 | NA | NA | 4.97 | 4.81 | 1.04 | NA | NA | 13.73 | 13.57 | 090
19200 |  | A | Removal of breast | 17.13 | NA | NA | 8.11 | 8.01 | 1.92 | NA | NA | 27.16 | 27.06 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
19220 |  | A | Removal of breast | 17.73 | NA | NA | 8.58 | 8.33 | 2.07 | NA | NA | 28.38 | 28.13 | 090
19240 |  | A | Removal of breast | 17.83 | NA | NA | 8.74 | 8.35 | 2.12 | NA | NA | 28.69 | 28.30 | 090
19260 |  | A | Removal of chest wall lesion | 17.52 | NA | NA | 10.28 | 10.96 | 2.13 | NA | NA | 29.93 | 30.61 | 090
19271 |  | A | Revision of chest wall | 21.72 | NA | NA | 16.08 | 17.52 | 2.62 | NA | NA | 40.42 | 41.86 | 090
19272 |  | A | Extensive chest wall surgery | 24.68 | NA | NA | 17.30 | 18.56 | 2.99 | NA | NA | 44.97 | 46.23 | 090
19290 |  | A | Place needle wire, breast | 1.27 | 3.00 | 2.90 | 0.44 | 0.43 | 0.07 | 4.34 | 4.24 | 1.78 | 1.77 | 000
19291 |  | A | Place needle wire, breast | 0.63 | 1.18 | 1.20 | 0.22 | 0.21 | 0.04 | 1.85 | 1.87 | 0.89 | 0.88 | ZZZ
19295 |  | A | Place breast clip, percut | 0.00 | 2.38 | 2.62 | NA | NA | 0.01 | 2.39 | 2.63 | NA | NA | ZZZ
19296 |  | A | Place po breast cath for rad | 3.63 | 85.16 | 115.6 | 1.19 | 1.45 | 0.36 | 89.15 | 119.6 | 5.18 | 5.44 | 000
19297 |  | A | Place breast cath for rad | 1.72 | NA | NA | 0.46 | 0.60 | 0.17 | NA | NA | 2.35 | 2.49 | ZZZ
19298 |  | A | Place breast rad tube/caths | 6.00 | 23.02 | 37.47 | 1.94 | 2.30 | 0.43 | 29.45 | 43.90 | 8.37 | 8.73 | 000
19316 |  | A | Suspension of breast | 10.92 | NA | NA | 6.94 | 7.38 | 1.64 | NA | NA | 19.50 | 19.94 | 090
19318 |  | A | Reduction of large breast | 15.85 | NA | NA | 9.75 | 10.84 | 2.92 | NA | NA | 28.52 | 29.61 | 090
19324 |  | A | Enlarge breast | 6.59 | NA | NA | 4.56 | 4.82 | 0.84 | NA | NA | 11.99 | 12.25 | 090
19325 |  | A | Enlarge breast with implant | 8.44 | NA | NA | 6.33 | 6.49 | 1.33 | NA | NA | 16.10 | 16.26 | 090
19328 |  | A | Removal of breast implant | 6.29 | NA | NA | 4.94 | 5.01 | 0.91 | NA | NA | 12.14 | 12.21 | 090
19330 |  | A | Removal of implant material | 8.33 | NA | NA | 5.96 | 6.03 | 1.26 | NA | NA | 15.55 | 15.62 | 090
19340 |  | A | Immediate breast prosthesis | 6.32 | NA | NA | 2.78 | 3.04 | 1.06 | NA | NA | 10.16 | 10.42 | ZZZ
19342 |  | A | Delayed breast prosthesis | 12.30 | NA | NA | 8.68 | 8.88 | 1.83 | NA | NA | 22.81 | 23.01 | 090
19350 |  | A | Breast reconstruction | 8.91 | 9.75 | 12.85 | 6.46 | 7.01 | 1.41 | 20.07 | 23.17 | 16.78 | 17.33 | 090
19355 |  | A | Correct inverted nipple(s) | 8.31 | 7.67 | 9.63 | 4.84 | 4.74 | 0.92 | 16.90 | 18.86 | 14.07 | 13.97 | 090
19357 |  | A | Breast reconstruction | 20.33 | NA | NA | 15.17 | 15.54 | 2.93 | NA | NA | 38.43 | 38.80 | 090
19361 |  | A | Breast reconstruction | 20.63 | NA | NA | 12.06 | 12.37 | 2.92 | NA | NA | 35.61 | 35.92 | 090
19364 |  | A | Breast reconstruction | 42.30 | NA | NA | 22.32 | 23.29 | 6.22 | NA | NA | 70.84 | 71.81 | 090
19366 |  | A | Breast reconstruction | 21.62 | NA | NA | 9.92 | 11.19 | 3.24 | NA | NA | 34.78 | 36.05 | 090
19367 |  | A | Breast reconstruction | 26.51 | NA | NA | 14.97 | 16.30 | 4.03 | NA | NA | 45.51 | 46.84 | 090
19368 |  | A | Breast reconstruction | 33.51 | NA | NA | 17.75 | 18.67 | 5.52 | NA | NA | 56.78 | 57.70 | 090
19369 |  | A | Breast reconstruction | 30.92 | NA | NA | 15.55 | 17.73 | 4.50 | NA | NA | 50.97 | 53.15 | 090
19370 |  | A | Surgery of breast capsule | 8.91 | NA | NA | 6.71 | 6.87 | 1.29 | NA | NA | 16.91 | 17.07 | 090
19371 |  | A | Removal of breast capsule | 10.34 | NA | NA | 7.57 | 7.77 | 1.62 | NA | NA | 19.53 | 19.73 | 090
19380 |  | A | Revise breast reconstruction | 10.13 | NA | NA | 7.50 | 7.67 | 1.44 | NA | NA | 19.07 | 19.24 | 090
19396 |  | A | Design custom breast implant | 2.17 | 4.46 | 1.93 | 1.21 | 1.05 | 0.30 | 6.93 | 4.40 | 3.68 | 3.52 | 000
20000 |  | A | Incision of abscess | 2.12 | 2.77 | 2.72 | 1.51 | 1.68 | 0.25 | 5.14 | 5.09 | 3.88 | 4.05 | 010
20005 |  | A | Incision of deep abscess | 3.53 | 3.70 | 3.55 | 2.02 | 2.20 | 0.46 | 7.69 | 7.54 | 6.01 | 6.19 | 010
20100 |  | A | Explore wound, neck | 10.31 | NA | NA | 3.56 | 4.24 | 1.21 | NA | NA | 15.08 | 15.76 | 010
20101 |  | A | Explore wound, chest | 3.22 | 6.46 | 6.07 | 1.50 | 1.59 | 0.44 | 10.12 | 9.73 | 5.16 | 5.25 | 010
20102 |  | A | Explore wound, abdomen | 3.93 | 6.95 | 7.35 | 1.83 | 1.89 | 0.49 | 11.37 | 11.77 | 6.25 | 6.31 | 010
20103 |  | A | Explore wound, extremity | 5.29 | 7.63 | 8.36 | 2.68 | 3.22 | 0.75 | 13.67 | 14.40 | 8.72 | 9.26 | 010
20150 |  | A | Excise epiphyseal bar | 14.54 | NA | NA | 7.57 | 7.18 | 2.03 | NA | NA | 24.14 | 23.75 | 090
20200 |  | A | Muscle biopsy | 1.46 | 3.16 | 3.07 | 0.70 | 0.74 | 0.23 | 4.85 | 4.76 | 2.39 | 2.43 | 000
20205 |  | A | Deep muscle biopsy | 2.35 | 3.83 | 3.88 | 1.09 | 1.17 | 0.33 | 6.51 | 6.56 | 3.77 | 3.85 | 000
20206 |  | A | Needle biopsy, muscle | 0.99 | 5.45 | 6.25 | 0.57 | 0.62 | 0.07 | 6.51 | 7.31 | 1.63 | 1.68 | 000
20220 |  | A | Bone biopsy, trocar/needle | 1.27 | 2.81 | 4.13 | 0.68 | 0.76 | 0.08 | 4.16 | 5.48 | 2.03 | 2.11 | 000
20225 |  | A | Bone biopsy, trocar/needle | 1.87 | 13.50 | 21.77 | 1.07 | 1.12 | 0.22 | 15.59 | 23.86 | 3.16 | 3.21 | 000
20240 |  | A | Bone biopsy, excisional | 3.23 | NA | NA | 2.06 | 2.44 | 0.44 | NA | NA | 5.73 | 6.11 | 010
20245 |  | A | Bone biopsy, excisional | 8.71 | NA | NA | 5.70 | 6.37 | 1.31 | NA | NA | 15.72 | 16.39 | 010
20250 |  | A | Open bone biopsy | 5.14 | NA | NA | 3.67 | 3.55 | 1.02 | NA | NA | 9.83 | 9.71 | 010
20251 |  | A | Open bone biopsy | 5.67 | NA | NA | 3.84 | 4.09 | 1.15 | NA | NA | 10.66 | 10.91 | 010
20500 |  | A | Injection of sinus tract | 1.23 | 1.33 | 2.04 | 0.87 | 1.37 | 0.12 | 2.68 | 3.39 | 2.22 | 2.72 | 010
20501 |  | A | Inject sinus tract for x-ray | 0.76 | 2.47 | 2.81 | 0.27 | 0.26 | 0.04 | 3.27 | 3.61 | 1.07 | 1.06 | 000
20520 |  | A | Removal of foreign body | 1.85 | 2.57 | 2.83 | 1.42 | 1.68 | 0.21 | 4.63 | 4.89 | 3.48 | 3.74 | 010
20525 |  | A | Removal of foreign body | 3.49 | 7.02 | 8.63 | 2.16 | 2.51 | 0.51 | 11.02 | 12.63 | 6.16 | 6.51 | 010
20526 |  | A | Ther injection, carp tunnel | 0.94 | 0.80 | 0.93 | 0.40 | 0.49 | 0.13 | 1.87 | 2.00 | 1.47 | 1.56 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
20550 |  | A | Inj tendon sheath/ligament | 0.75 | 0.62 | 0.69 | 0.28 | 0.24 | 0.09 | 1.46 | 1.53 | 1.12 | 1.08 | 000
20551 |  | A | Inj tendon origin/insertion | 0.75 | 0.63 | 0.67 | 0.28 | 0.32 | 0.08 | 1.46 | 1.50 | 1.11 | 1.15 | 000
20552 |  | A | Inj trigger point, 1/2 muscl | 0.66 | 0.58 | 0.69 | 0.24 | 0.21 | 0.05 | 1.29 | 1.40 | 0.95 | 0.92 | 000
20553 |  | A | Inject trigger points, =/> 3 | 0.75 | 0.64 | 0.78 | 0.26 | 0.23 | 0.04 | 1.43 | 1.57 | 1.05 | 1.02 | 000
20600 |  | A | Drain/inject, joint/bursa | 0.66 | 0.66 | 0.65 | 0.31 | 0.34 | 0.08 | 1.40 | 1.39 | 1.05 | 1.08 | 000
20605 |  | A | Drain/inject, joint/bursa | 0.68 | 0.73 | 0.75 | 0.32 | 0.35 | 0.08 | 1.49 | 1.51 | 1.08 | 1.11 | 000
20610 |  | A | Drain/inject, joint/bursa | 0.79 | 1.06 | 0.98 | 0.39 | 0.41 | 0.11 | 1.96 | 1.88 | 1.29 | 1.31 | 000
20612 |  | A | Aspirate/inj ganglion cyst | 0.70 | 0.69 | 0.71 | 0.31 | 0.35 | 0.10 | 1.49 | 1.51 | 1.11 | 1.15 | 000
20615 |  | A | Treatment of bone cyst | 2.28 | 2.69 | 3.31 | 1.39 | 1.74 | 0.20 | 5.17 | 5.79 | 3.87 | 4.22 | 010
20650 |  | A | Insert and remove bone pin | 2.23 | 2.47 | 2.40 | 1.45 | 1.53 | 0.31 | 5.01 | 4.94 | 3.99 | 4.07 | 010
20660 |  | A | Apply, rem fixation device | 2.51 | 3.33 | 3.13 | 1.46 | 1.57 | 0.59 | 6.43 | 6.23 | 4.56 | 4.67 | 000
20661 |  | A | Application of head brace | 5.06 | NA | NA | 5.87 | 5.16 | 1.14 | NA | NA | 12.07 | 11.36 | 090
20662 |  | A | Application of pelvis brace | 6.18 | NA | NA | 4.96 | 5.40 | 0.56 | NA | NA | 11.70 | 12.14 | 090
20663 |  | A | Application of thigh brace | 5.54 | NA | NA | 5.04 | 4.89 | 0.94 | NA | NA | 11.52 | 11.37 | 090
20664 |  | A | Halo brace application | 9.78 | NA | NA | 7.92 | 7.28 | 1.74 | NA | NA | 19.44 | 18.80 | 090
20665 |  | A | Removal of fixation device | 1.31 | 1.40 | 1.97 | 0.98 | 1.26 | 0.19 | 2.90 | 3.47 | 2.48 | 2.76 | 010
20670 |  | A | Removal of support implant | 1.74 | 6.63 | 10.34 | 1.66 | 2.00 | 0.28 | 8.65 | 12.36 | 3.68 | 4.02 | 010
20680 |  | A | Removal of support implant | 5.86 | 8.09 | 8.63 | 4.02 | 3.80 | 0.56 | 14.51 | 15.05 | 10.44 | 10.22 | 090
20690 |  | A | Apply bone fixation device | 3.63 | NA | NA | 2.22 | 2.45 | 0.59 | NA | NA | 6.44 | 6.67 | 090
20692 |  | A | Apply bone fixation device | 6.40 | NA | NA | 3.20 | 3.64 | 1.05 | NA | NA | 10.65 | 11.09 | 090
20693 |  | A | Adjust bone fixation device | 5.91 | NA | NA | 4.45 | 5.21 | 0.98 | NA | NA | 11.34 | 12.10 | 090
20694 |  | A | Remove bone fixation device | 4.15 | 5.29 | 6.69 | 3.50 | 3.91 | 0.71 | 10.15 | 11.55 | 8.36 | 8.77 | 090
20802 |  | A | Replantation, arm, complete | 42.16 | NA | NA | 12.96 | 19.00 | 3.81 | NA | NA | 58.93 | 64.97 | 090
20805 |  | A | Replant forearm, complete | 51.00 | NA | NA | 23.26 | 31.62 | 4.84 | NA | NA | 79.10 | 87.46 | 090
20808 |  | A | Replantation hand, complete | 62.63 | NA | NA | 37.95 | 41.24 | 6.86 | NA | NA | 107.4 | 110.7 | 090
20816 |  | A | Replantation digit, complete | 31.64 | NA | NA | 24.04 | 34.44 | 4.52 | NA | NA | 60.20 | 70.60 | 090
20822 |  | A | Replantation digit, complete | 26.30 | NA | NA | 21.95 | 31.51 | 4.18 | NA | NA | 52.43 | 61.99 | 090
20824 |  | A | Replantation thumb, complete | 31.64 | NA | NA | 25.31 | 33.82 | 4.61 | NA | NA | 61.56 | 70.07 | 090
20827 |  | A | Replantation thumb, complete | 27.12 | NA | NA | 23.48 | 33.31 | 3.66 | NA | NA | 54.26 | 64.09 | 090
20838 |  | A | Replantation foot, complete | 42.42 | NA | NA | 13.13 | 20.04 | 1.12 | NA | NA | 56.67 | 63.58 | 090
20900 |  | A | Removal of bone for graft | 5.69 | 9.21 | 8.64 | 4.87 | 5.49 | 0.94 | 15.84 | 15.27 | 11.50 | 12.12 | 090
20902 |  | A | Removal of bone for graft | 7.90 | NA | NA | 5.74 | 6.61 | 1.30 | NA | NA | 14.94 | 15.81 | 090
20910 |  | A | Remove cartilage for graft | 5.33 | NA | NA | 4.54 | 5.04 | 0.71 | NA | NA | 10.58 | 11.08 | 090
20912 |  | A | Remove cartilage for graft | 6.34 | NA | NA | 4.58 | 5.50 | 0.69 | NA | NA | 11.61 | 12.53 | 090
20920 |  | A | Removal of fascia for graft | 5.36 | NA | NA | 4.33 | 4.26 | 0.66 | NA | NA | 10.35 | 10.28 | 090
20922 |  | A | Removal of fascia for graft | 6.78 | 7.54 | 7.56 | 4.97 | 4.90 | 0.70 | 15.02 | 15.04 | 12.45 | 12.38 | 090
20924 |  | A | Removal of tendon for graft | 6.53 | NA | NA | 4.91 | 5.65 | 1.04 | NA | NA | 12.48 | 13.22 | 090
20926 |  | A | Removal of tissue for graft | 5.64 | NA | NA | 4.33 | 4.65 | 0.87 | NA | NA | 10.84 | 11.16 | 090
20931 |  | A | Spinal bone allograft | 1.81 | NA | NA | 0.67 | 0.87 | 0.43 | NA | NA | 2.91 | 3.11 | ZZZ
20937 |  | A | Spinal bone autograft | 2.79 | NA | NA | 1.06 | 1.35 | 0.54 | NA | NA | 4.39 | 4.68 | ZZZ
20938 |  | A | Spinal bone autograft | 3.02 | NA | NA | 1.13 | 1.45 | 0.64 | NA | NA | 4.79 | 5.11 | ZZZ
20950 |  | A | Fluid pressure, muscle | 1.26 | 4.14 | 6.18 | 0.87 | 0.96 | 0.20 | 5.60 | 7.64 | 2.33 | 2.42 | 000
20955 |  | A | Fibula bone graft, microvasc | 39.90 | NA | NA | 17.66 | 22.67 | 4.89 | NA | NA | 62.45 | 67.46 | 090
20956 |  | A | Iliac bone graft, microvasc | 40.79 | NA | NA | 20.30 | 23.68 | 7.01 | NA | NA | 68.10 | 71.48 | 090
20957 |  | A | Mt bone graft, microvasc | 42.17 | NA | NA | 18.97 | 18.99 | 7.05 | NA | NA | 68.19 | 68.21 | 090
20962 |  | A | Other bone graft, microvasc | 39.21 | NA | NA | 20.73 | 25.13 | 6.55 | NA | NA | 66.49 | 70.89 | 090
20969 |  | A | Bone/skin graft, microvasc | 44.99 | NA | NA | 19.75 | 24.97 | 4.79 | NA | NA | 69.53 | 74.75 | 090
20970 |  | A | Bone/skin graft, iliac crest | 44.14 | NA | NA | 19.85 | 24.05 | 6.60 | NA | NA | 70.59 | 74.79 | 090
20972 |  | A | Bone/skin graft, metatarsal | 44.07 | NA | NA | 17.15 | 19.77 | 5.30 | NA | NA | 66.52 | 69.14 | 090
20973 |  | A | Bone/skin graft, great toe | 46.83 | NA | NA | 14.61 | 22.58 | 5.54 | NA | NA | 66.98 | 74.95 | 090
20974 |  | A | Electrical bone stimulation | 0.62 | 1.00 | 0.77 | 0.49 | 0.53 | 0.11 | 1.73 | 1.50 | 1.22 | 1.26 | 000
20975 |  | A | Electrical bone stimulation | 2.60 | NA | NA | 1.45 | 1.65 | 0.51 | NA | NA | 4.56 | 4.76 | 000
20979 |  | A | Us bone stimulation | 0.62 | 0.61 | 0.75 | 0.20 | 0.31 | 0.09 | 1.32 | 1.46 | 0.91 | 1.02 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
20982 |  | A | Ablate, bone tumor(s) perq | 7.27 | 86.78 | 104.1 | 2.87 | 2.95 | 0.69 | 94.74 | 112.1 | 10.83 | 10.91 | 000
21010 |  | A | Incision of jaw joint | 10.82 | NA | NA | 6.35 | 6.92 | 1.11 | NA | NA | 18.28 | 18.85 | 090
21015 |  | A | Resection of facial tumor | 5.53 | NA | NA | 4.34 | 4.85 | 0.70 | NA | NA | 10.57 | 11.08 | 090
21025 |  | A | Excision of bone, lower jaw | 10.99 | 12.43 | 12.32 | 8.65 | 9.20 | 1.32 | 24.74 | 24.63 | 20.96 | 21.51 | 090
21026 |  | A | Excision of facial bone(s) | 5.46 | 8.65 | 8.07 | 5.79 | 6.20 | 0.60 | 14.71 | 14.13 | 11.85 | 12.26 | 090
21029 |  | A | Contour of face bone lesion | 8.20 | 9.15 | 9.34 | 6.18 | 6.82 | 0.94 | 18.29 | 18.48 | 15.32 | 15.96 | 090
21030 |  | A | Excise max/zygoma b9 tumor | 4.74 | 7.18 | 6.56 | 4.67 | 4.95 | 0.54 | 12.46 | 11.84 | 9.95 | 10.23 | 090
21031 |  | A | Remove exostosis, mandible | 3.24 | 5.99 | 5.38 | 3.51 | 3.60 | 0.48 | 9.71 | 9.10 | 7.23 | 7.32 | 090
21032 |  | A | Remove exostosis, maxilla | 3.24 | 6.08 | 5.54 | 3.38 | 3.49 | 0.47 | 9.79 | 9.25 | 7.09 | 7.20 | 090
21034 |  | A | Excise max/zygoma mlg tumor | 17.09 | 12.98 | 15.22 | 9.35 | 11.86 | 1.71 | 31.78 | 34.02 | 28.15 | 30.66 | 090
21040 |  | A | Excise mandible lesion | 4.74 | 7.26 | 6.62 | 4.67 | 4.72 | 0.54 | 12.54 | 11.90 | 9.95 | 10.00 | 090
21044 |  | A | Removal of jaw bone lesion | 12.53 | NA | NA | 7.38 | 8.90 | 1.12 | NA | NA | 21.03 | 22.55 | 090
21045 |  | A | Extensive jaw surgery | 18.03 | NA | NA | 9.84 | 11.75 | 1.52 | NA | NA | 29.39 | 31.30 | 090
21046 |  | A | Remove mandible cyst complex | 13.85 | NA | NA | 11.39 | 11.80 | 1.85 | NA | NA | 27.09 | 27.50 | 090
21047 |  | A | Excise lwr jaw cyst w/repair | 19.71 | NA | NA | 9.62 | 12.52 | 2.12 | NA | NA | 31.45 | 34.35 | 090
21048 |  | A | Remove maxilla cyst complex | 14.35 | NA | NA | 11.34 | 11.96 | 1.76 | NA | NA | 27.45 | 28.07 | 090
21049 |  | A | Excis uppr jaw cyst w/repair | 18.96 | NA | NA | 8.93 | 12.03 | 1.59 | NA | NA | 29.48 | 32.58 | 090
21050 |  | A | Removal of jaw joint | 11.44 | NA | NA | 8.10 | 9.13 | 1.47 | NA | NA | 21.01 | 22.04 | 090
21060 |  | A | Remove jaw joint cartilage | 10.83 | NA | NA | 7.48 | 8.34 | 1.38 | NA | NA | 19.69 | 20.55 | 090
21070 |  | A | Remove coronoid process | 8.44 | NA | NA | 6.09 | 6.86 | 1.27 | NA | NA | 15.80 | 16.57 | 090
21076 |  | A | Prepare face/oral prosthesis | 13.40 | 7.88 | 11.26 | 4.81 | 8.73 | 1.99 | 23.27 | 26.65 | 20.20 | 24.12 | 010
21077 |  | A | Prepare face/oral prosthesis | 33.70 | 18.22 | 28.12 | 12.26 | 22.63 | 4.55 | 56.47 | 66.37 | 50.51 | 60.88 | 090
21079 |  | A | Prepare face/oral prosthesis | 22.31 | 13.41 | 19.52 | 8.32 | 14.98 | 3.15 | 38.87 | 44.98 | 33.78 | 40.44 | 090
21080 |  | A | Prepare face/oral prosthesis | 25.06 | 15.49 | 22.29 | 9.25 | 16.88 | 3.74 | 44.29 | 51.09 | 38.05 | 45.68 | 090
21081 |  | A | Prepare face/oral prosthesis | 22.85 | 14.23 | 20.33 | 8.51 | 15.28 | 3.20 | 40.28 | 46.38 | 34.56 | 41.33 | 090
21082 |  | A | Prepare face/oral prosthesis | 20.84 | 14.20 | 18.10 | 8.46 | 13.95 | 3.11 | 38.15 | 42.05 | 32.41 | 37.90 | 090
21083 |  | A | Prepare face/oral prosthesis | 19.27 | 14.14 | 17.67 | 7.96 | 12.84 | 2.88 | 36.29 | 39.82 | 30.11 | 34.99 | 090
21084 |  | A | Prepare face/oral prosthesis | 22.48 | 15.59 | 20.77 | 8.82 | 15.52 | 2.18 | 40.25 | 45.43 | 33.48 | 40.18 | 090
21085 |  | A | Prepare face/oral prosthesis | 8.99 | 6.56 | 7.87 | 3.58 | 6.00 | 1.27 | 16.82 | 18.13 | 13.84 | 16.26 | 010
21086 |  | A | Prepare face/oral prosthesis | 24.88 | 12.72 | 21.04 | 8.70 | 16.79 | 3.71 | 41.31 | 49.63 | 37.29 | 45.38 | 090
21087 |  | A | Prepare face/oral prosthesis | 24.88 | 12.92 | 20.74 | 8.87 | 16.66 | 3.44 | 41.24 | 49.06 | 37.19 | 44.98 | 090
21100 |  | A | Maxillofacial fixation | 4.46 | 13.92 | 12.15 | 5.13 | 4.85 | 0.34 | 18.72 | 16.95 | 9.93 | 9.65 | 090
21110 |  | A | Interdental fixation | 5.70 | 13.34 | 10.53 | 9.95 | 8.77 | 0.72 | 19.76 | 16.95 | 16.37 | 15.19 | 090
21116 |  | A | Injection, jaw joint x-ray | 0.81 | 2.47 | 3.87 | 0.22 | 0.30 | 0.06 | 3.34 | 4.74 | 1.09 | 1.17 | 000
21120 |  | A | Reconstruction of chin | 4.92 | 10.08 | 10.48 | 6.95 | 7.37 | 0.60 | 15.60 | 16.00 | 12.47 | 12.89 | 090
21121 |  | A | Reconstruction of chin | 7.63 | 10.47 | 9.94 | 7.41 | 7.73 | 0.90 | 19.00 | 18.47 | 15.94 | 16.26 | 090
21122 |  | A | Reconstruction of chin | 8.51 | NA | NA | 7.54 | 8.37 | 1.07 | NA | NA | 17.12 | 17.95 | 090
21123 |  | A | Reconstruction of chin | 11.14 | NA | NA | 10.14 | 10.66 | 1.40 | NA | NA | 22.68 | 23.20 | 090
21125 |  | A | Augmentation, lower jaw bone | 10.60 | 68.82 | 58.74 | 7.01 | 8.01 | 0.79 | 80.21 | 70.13 | 18.40 | 19.40 | 090
21127 |  | A | Augmentation, lower jaw bone | 12.16 | 87.70 | 54.12 | 7.88 | 9.08 | 1.52 | 101.4 | 67.80 | 21.56 | 22.76 | 090
21137 |  | A | Reduction of forehead | 10.06 | NA | NA | 6.18 | 7.36 | 1.32 | NA | NA | 17.56 | 18.74 | 090
21138 |  | A | Reduction of forehead | 12.67 | NA | NA | 8.46 | 9.29 | 1.74 | NA | NA | 22.87 | 23.70 | 090
21139 |  | A | Reduction of forehead | 14.84 | NA | NA | 6.89 | 10.04 | 1.18 | NA | NA | 22.91 | 26.06 | 090
21141 |  | A | Reconstruct midface, lefort | 19.13 | NA | NA | 11.24 | 13.08 | 2.35 | NA | NA | 32.72 | 34.56 | 090
21142 |  | A | Reconstruct midface, lefort | 19.84 | NA | NA | 10.35 | 12.23 | 2.38 | NA | NA | 32.57 | 34.45 | 090
21143 |  | A | Reconstruct midface, lefort | 20.61 | NA | NA | 8.69 | 12.94 | 1.66 | NA | NA | 30.96 | 35.21 | 090
21145 |  | A | Reconstruct midface, lefort | 23.52 | NA | NA | 12.44 | 13.57 | 2.84 | NA | NA | 38.80 | 39.93 | 090
21146 |  | A | Reconstruct midface, lefort | 24.41 | NA | NA | 9.15 | 13.82 | 3.09 | NA | NA | 36.65 | 41.32 | 090
21147 |  | A | Reconstruct midface, lefort | 26.01 | NA | NA | 13.44 | 14.68 | 1.84 | NA | NA | 41.29 | 42.53 | 090
21150 |  | A | Reconstruct midface, lefort | 25.70 | NA | NA | 13.48 | 15.98 | 2.55 | NA | NA | 41.73 | 44.23 | 090
21151 |  | A | Reconstruct midface, lefort | 28.76 | NA | NA | 11.43 | 20.12 | 2.30 | NA | NA | 42.49 | 51.18 | 090
21154 |  | A | Reconstruct midface, lefort | 30.95 | NA | NA | 20.76 | 22.58 | 2.48 | NA | NA | 54.19 | 56.01 | 090
21155 |  | A | Reconstruct midface, lefort | 34.88 | NA | NA | 13.09 | 21.24 | 6.64 | NA | NA | 54.61 | 62.76 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
21159 |  | A | Reconstruct midface, lefort | 42.80 | NA | NA | 14.87 | 25.59 | 8.18 | NA | NA | 65.85 | 76.57 | 090
21160 |  | A | Reconstruct midface, lefort | 46.85 | NA | NA | 23.14 | 26.45 | 4.13 | NA | NA | 74.12 | 77.43 | 090
21172 |  | A | Reconstruct orbit/forehead | 28.01 | NA | NA | 12.81 | 13.55 | 3.55 | NA | NA | 44.37 | 45.11 | 090
21175 |  | A | Reconstruct orbit/forehead | 33.37 | NA | NA | 12.26 | 16.45 | 4.83 | NA | NA | 50.46 | 54.65 | 090
21179 |  | A | Reconstruct entire forehead | 22.47 | NA | NA | 10.75 | 13.32 | 2.80 | NA | NA | 36.02 | 38.59 | 090
21180 |  | A | Reconstruct entire forehead | 25.40 | NA | NA | 12.14 | 14.60 | 3.48 | NA | NA | 41.02 | 43.48 | 090
21181 |  | A | Contour cranial bone lesion | 10.14 | NA | NA | 6.63 | 7.27 | 1.32 | NA | NA | 18.09 | 18.73 | 090
21182 |  | A | Reconstruct cranial bone | 32.39 | NA | NA | 13.71 | 17.81 | 2.80 | NA | NA | 48.90 | 53.00 | 090
21183 |  | A | Reconstruct cranial bone | 35.51 | NA | NA | 15.01 | 19.42 | 4.47 | NA | NA | 54.99 | 59.40 | 090
21184 |  | A | Reconstruct cranial bone | 38.43 | NA | NA | 20.38 | 21.60 | 5.70 | NA | NA | 64.51 | 65.73 | 090
21188 |  | A | Reconstruction of midface | 22.91 | NA | NA | 14.49 | 17.81 | 1.69 | NA | NA | 39.09 | 42.41 | 090
21193 |  | A | Reconst lwr jaw w/o graft | 18.55 | NA | NA | 9.96 | 12.01 | 2.23 | NA | NA | 30.74 | 32.79 | 090
21194 |  | A | Reconst lwr jaw w/graft | 21.42 | NA | NA | 11.23 | 13.15 | 2.02 | NA | NA | 34.67 | 36.59 | 090
21195 |  | A | Reconst lwr jaw w/o fixation | 18.76 | NA | NA | 13.08 | 14.42 | 1.64 | NA | NA | 33.48 | 34.82 | 090
21196 |  | A | Reconst lwr jaw w/fixation | 20.43 | NA | NA | 13.01 | 15.06 | 2.07 | NA | NA | 35.51 | 37.56 | 090
21198 |  | A | Reconstr lwr jaw segment | 15.38 | NA | NA | 10.89 | 12.28 | 1.44 | NA | NA | 27.71 | 29.10 | 090
21199 |  | A | Reconstr lwr jaw w/advance | 16.56 | NA | NA | 6.65 | 8.52 | 1.39 | NA | NA | 24.60 | 26.47 | 090
21206 |  | A | Reconstruct upper jaw bone | 15.26 | NA | NA | 11.18 | 12.30 | 1.33 | NA | NA | 27.77 | 28.89 | 090
21208 |  | A | Augmentation of facial bones | 11.03 | 32.29 | 24.87 | 7.65 | 9.12 | 1.09 | 44.41 | 36.99 | 19.77 | 21.24 | 090
21209 |  | A | Reduction of facial bones | 7.46 | 12.20 | 11.17 | 7.33 | 7.90 | 0.90 | 20.56 | 19.53 | 15.69 | 16.26 | 090
21210 |  | A | Face bone graft | 11.28 | 44.00 | 29.71 | 7.72 | 8.97 | 1.30 | 56.58 | 42.29 | 20.30 | 21.55 | 090
21215 |  | A | Lower jaw bone graft | 11.82 | 86.93 | 53.23 | 8.01 | 9.05 | 1.53 | 100.3 | 66.58 | 21.36 | 22.40 | 090
21230 |  | A | Rib cartilage graft | 11.00 | NA | NA | 6.67 | 7.71 | 1.29 | NA | NA | 18.96 | 20.00 | 090
21235 |  | A | Ear cartilage graft | 7.21 | 9.63 | 9.81 | 5.83 | 6.28 | 0.61 | 17.45 | 17.63 | 13.65 | 14.10 | 090
21240 |  | A | Reconstruction of jaw joint | 15.65 | NA | NA | 10.97 | 11.80 | 2.24 | NA | NA | 28.86 | 29.69 | 090
21242 |  | A | Reconstruction of jaw joint | 14.20 | NA | NA | 10.36 | 11.25 | 1.78 | NA | NA | 26.34 | 27.23 | 090
21243 |  | A | Reconstruction of jaw joint | 23.83 | NA | NA | 15.37 | 16.95 | 3.25 | NA | NA | 42.45 | 44.03 | 090
21244 |  | A | Reconstruction of lower jaw | 13.23 | NA | NA | 10.80 | 11.80 | 1.25 | NA | NA | 25.28 | 26.28 | 090
21245 |  | A | Reconstruction of jaw | 12.78 | 13.18 | 14.13 | 7.85 | 9.37 | 1.19 | 27.15 | 28.10 | 21.82 | 23.34 | 090
21246 |  | A | Reconstruction of jaw | 12.70 | NA | NA | 6.58 | 8.45 | 1.35 | NA | NA | 20.63 | 22.50 | 090
21247 |  | A | Reconstruct lower jaw bone | 23.91 | NA | NA | 13.25 | 16.36 | 2.83 | NA | NA | 39.99 | 43.10 | 090
21248 |  | A | Reconstruction of jaw | 12.46 | 12.63 | 12.29 | 7.52 | 8.95 | 1.55 | 26.64 | 26.30 | 21.53 | 22.96 | 090
21249 |  | A | Reconstruction of jaw | 18.49 | 16.05 | 16.59 | 9.87 | 12.02 | 2.48 | 37.02 | 37.56 | 30.84 | 32.99 | 090
21255 |  | A | Reconstruct lower jaw bone | 18.00 | NA | NA | 13.24 | 15.45 | 2.38 | NA | NA | 33.62 | 35.83 | 090
21256 |  | A | Reconstruction of orbit | 17.32 | NA | NA | 9.67 | 11.31 | 1.50 | NA | NA | 28.49 | 30.13 | 090
21260 |  | A | Revise eye sockets | 17.66 | NA | NA | 9.32 | 11.93 | 0.97 | NA | NA | 27.95 | 30.56 | 090
21261 |  | A | Revise eye sockets | 33.66 | NA | NA | 14.53 | 21.86 | 3.42 | NA | NA | 51.61 | 58.94 | 090
21263 |  | A | Revise eye sockets | 30.60 | NA | NA | 13.85 | 17.81 | 2.62 | NA | NA | 47.07 | 51.03 | 090
21267 |  | A | Revise eye sockets | 20.35 | NA | NA | 15.78 | 18.82 | 1.70 | NA | NA | 37.83 | 40.87 | 090
21268 |  | A | Revise eye sockets | 26.66 | NA | NA | 15.47 | 19.07 | 3.65 | NA | NA | 45.78 | 49.38 | 090
21270 |  | A | Augmentation, cheek bone | 10.46 | 10.98 | 11.51 | 5.74 | 6.89 | 0.72 | 22.16 | 22.69 | 16.92 | 18.07 | 090
21275 |  | A | Revision, orbitofacial bones | 11.59 | NA | NA | 7.17 | 7.93 | 1.29 | NA | NA | 20.05 | 20.81 | 090
21280 |  | A | Revision of eyelid | 6.84 | NA | NA | 5.64 | 5.87 | 0.42 | NA | NA | 12.90 | 13.13 | 090
21282 |  | A | Revision of eyelid | 4.05 | NA | NA | 4.10 | 4.39 | 0.26 | NA | NA | 8.41 | 8.70 | 090
21295 |  | A | Revision of jaw muscle/bone | 1.78 | NA | NA | 2.58 | 2.55 | 0.16 | NA | NA | 4.52 | 4.49 | 090
21296 |  | A | Revision of jaw muscle/bone | 4.61 | NA | NA | 5.45 | 5.05 | 0.34 | NA | NA | 10.40 | 10.00 | 090
21300 |  | A | Treatment of skull fracture | 0.72 | 0.27 | 1.85 | 0.27 | 0.26 | 0.13 | 1.12 | 2.70 | 1.12 | 1.11 | 000
21310 |  | A | Treatment of nose fracture | 0.58 | 1.95 | 2.21 | 0.10 | 0.14 | 0.05 | 2.58 | 2.84 | 0.73 | 0.77 | 000
21315 |  | A | Treatment of nose fracture | 1.76 | 4.41 | 4.28 | 1.63 | 1.83 | 0.14 | 6.31 | 6.18 | 3.53 | 3.73 | 010
21320 |  | A | Treatment of nose fracture | 1.85 | 4.00 | 3.94 | 1.23 | 1.52 | 0.18 | 6.03 | 5.97 | 3.26 | 3.55 | 010
21325 |  | A | Treatment of nose fracture | 4.01 | NA | NA | 6.67 | 8.15 | 0.31 | NA | NA | 10.99 | 12.47 | 090
21330 |  | A | Treatment of nose fracture | 5.62 | NA | NA | 7.31 | 9.13 | 0.56 | NA | NA | 13.49 | 15.31 | 090
21335 |  | A | Treatment of nose fracture | 8.85 | NA | NA | 7.62 | 9.14 | 0.74 | NA | NA | 17.21 | 18.73 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
21336 |  | A | Treat nasal septal fracture | 6.46 | NA | NA | 8.03 | 9.24 | 0.55 | NA | NA | 15.04 | 16.25 | 090
21337 |  | A | Treat nasal septal fracture | 3.20 | 5.80 | 6.06 | 3.32 | 3.52 | 0.28 | 9.28 | 9.54 | 6.80 | 7.00 | 090
21338 |  | A | Treat nasoethmoid fracture | 6.70 | NA | NA | 9.58 | 12.94 | 0.82 | NA | NA | 17.10 | 20.46 | 090
21339 |  | A | Treat nasoethmoid fracture | 8.33 | NA | NA | 10.51 | 13.08 | 0.96 | NA | NA | 19.80 | 22.37 | 090
21340 |  | A | Treatment of nose fracture | 11.25 | NA | NA | 7.17 | 8.11 | 1.15 | NA | NA | 19.57 | 20.51 | 090
21343 |  | A | Treatment of sinus fracture | 14.01 | NA | NA | 12.29 | 14.71 | 1.47 | NA | NA | 27.77 | 30.19 | 090
21344 |  | A | Treatment of sinus fracture | 21.26 | NA | NA | 12.89 | 15.64 | 2.43 | NA | NA | 36.58 | 39.33 | 090
21345 |  | A | Treat nose/jaw fracture | 8.77 | 9.60 | 9.80 | 5.91 | 6.87 | 0.92 | 19.29 | 19.49 | 15.60 | 16.56 | 090
21346 |  | A | Treat nose/jaw fracture | 11.21 | NA | NA | 10.60 | 11.83 | 1.21 | NA | NA | 23.02 | 24.25 | 090
21347 |  | A | Treat nose/jaw fracture | 13.29 | NA | NA | 11.39 | 15.03 | 1.47 | NA | NA | 26.15 | 29.79 | 090
21348 |  | A | Treat nose/jaw fracture | 17.28 | NA | NA | 6.74 | 10.04 | 2.48 | NA | NA | 26.50 | 29.80 | 090
21355 |  | A | Treat cheek bone fracture | 4.26 | 5.55 | 6.08 | 2.96 | 3.36 | 0.34 | 10.15 | 10.68 | 7.56 | 7.96 | 010
21356 |  | A | Treat cheek bone fracture | 4.64 | 6.70 | 7.03 | 3.86 | 4.39 | 0.46 | 11.80 | 12.13 | 8.96 | 9.49 | 010
21360 |  | A | Treat cheek bone fracture | 6.95 | NA | NA | 5.17 | 5.76 | 0.74 | NA | NA | 12.86 | 13.45 | 090
21365 |  | A | Treat cheek bone fracture | 16.42 | NA | NA | 8.73 | 10.33 | 1.69 | NA | NA | 26.84 | 28.44 | 090
21366 |  | A | Treat cheek bone fracture | 18.36 | NA | NA | 10.04 | 11.03 | 2.49 | NA | NA | 30.89 | 31.88 | 090
21385 |  | A | Treat eye socket fracture | 9.40 | NA | NA | 6.77 | 7.92 | 0.97 | NA | NA | 17.14 | 18.29 | 090
21386 |  | A | Treat eye socket fracture | 9.40 | NA | NA | 5.62 | 6.72 | 0.97 | NA | NA | 15.99 | 17.09 | 090
21387 |  | A | Treat eye socket fracture | 9.94 | NA | NA | 7.14 | 8.52 | 1.08 | NA | NA | 18.16 | 19.54 | 090
21390 |  | A | Treat eye socket fracture | 11.01 | NA | NA | 6.64 | 7.53 | 0.90 | NA | NA | 18.55 | 19.44 | 090
21395 |  | A | Treat eye socket fracture | 14.58 | NA | NA | 7.77 | 8.73 | 1.44 | NA | NA | 23.79 | 24.75 | 090
21400 |  | A | Treat eye socket fracture | 1.40 | 2.68 | 2.64 | 1.94 | 1.90 | 0.15 | 4.23 | 4.19 | 3.49 | 3.45 | 090
21401 |  | A | Treat eye socket fracture | 3.51 | 7.07 | 7.78 | 3.02 | 3.38 | 0.38 | 10.96 | 11.67 | 6.91 | 7.27 | 090
21406 |  | A | Treat eye socket fracture | 7.25 | NA | NA | 4.91 | 5.80 | 0.73 | NA | NA | 12.89 | 13.78 | 090
21407 |  | A | Treat eye socket fracture | 8.85 | NA | NA | 5.68 | 6.58 | 0.94 | NA | NA | 15.47 | 16.37 | 090
21408 |  | A | Treat eye socket fracture | 12.61 | NA | NA | 7.66 | 8.60 | 1.44 | NA | NA | 21.71 | 22.65 | 090
21421 |  | A | Treat mouth roof fracture | 5.70 | 12.01 | 10.02 | 8.89 | 8.47 | 0.73 | 18.44 | 16.45 | 15.32 | 14.90 | 090
21422 |  | A | Treat mouth roof fracture | 8.56 | NA | NA | 6.72 | 7.76 | 0.99 | NA | NA | 16.27 | 17.31 | 090
21423 |  | A | Treat mouth roof fracture | 10.63 | NA | NA | 7.16 | 8.80 | 1.27 | NA | NA | 19.06 | 20.70 | 090
21431 |  | A | Treat craniofacial fracture | 7.66 | NA | NA | 9.33 | 9.50 | 0.70 | NA | NA | 17.69 | 17.86 | 090
21432 |  | A | Treat craniofacial fracture | 8.72 | NA | NA | 7.15 | 7.85 | 0.81 | NA | NA | 16.68 | 17.38 | 090
21433 |  | A | Treat craniofacial fracture | 26.05 | NA | NA | 12.22 | 15.39 | 2.78 | NA | NA | 41.05 | 44.22 | 090
21435 |  | A | Treat craniofacial fracture | 19.92 | NA | NA | 10.63 | 12.21 | 1.98 | NA | NA | 32.53 | 34.11 | 090
21436 |  | A | Treat craniofacial fracture | 29.89 | NA | NA | 14.95 | 17.44 | 3.09 | NA | NA | 47.93 | 50.42 | 090
21440 |  | A | Treat dental ridge fracture | 3.20 | 10.28 | 7.91 | 7.61 | 6.54 | 0.38 | 13.86 | 11.49 | 11.19 | 10.12 | 090
21445 |  | A | Treat dental ridge fracture | 5.94 | 12.42 | 10.44 | 8.55 | 8.43 | 0.78 | 19.14 | 17.16 | 15.27 | 15.15 | 090
21450 |  | A | Treat lower jaw fracture | 3.47 | 10.39 | 8.15 | 7.63 | 7.08 | 0.33 | 14.19 | 11.95 | 11.43 | 10.88 | 090
21451 |  | A | Treat lower jaw fracture | 5.36 | 12.91 | 10.26 | 9.62 | 8.72 | 0.63 | 18.90 | 16.25 | 15.61 | 14.71 | 090
21452 |  | A | Treat lower jaw fracture | 2.23 | 11.76 | 12.74 | 5.88 | 4.94 | 0.27 | 14.26 | 15.24 | 8.38 | 7.44 | 090
21453 |  | A | Treat lower jaw fracture | 6.28 | 14.68 | 11.75 | 11.54 | 10.96 | 0.74 | 21.70 | 18.77 | 18.56 | 17.98 | 090
21454 |  | A | Treat lower jaw fracture | 7.07 | NA | NA | 5.57 | 6.10 | 0.82 | NA | NA | 13.46 | 13.99 | 090
21461 |  | A | Treat lower jaw fracture | 8.95 | 41.00 | 28.65 | 12.50 | 12.65 | 0.98 | 50.93 | 38.58 | 22.43 | 22.58 | 090
21462 |  | A | Treat lower jaw fracture | 10.65 | 42.32 | 31.35 | 13.10 | 12.84 | 1.27 | 54.24 | 43.27 | 25.02 | 24.76 | 090
21465 |  | A | Treat lower jaw fracture | 12.76 | NA | NA | 8.12 | 9.41 | 1.50 | NA | NA | 22.38 | 23.67 | 090
21470 |  | A | Treat lower jaw fracture | 17.12 | NA | NA | 9.90 | 11.51 | 1.96 | NA | NA | 28.98 | 30.59 | 090
21480 |  | A | Reset dislocated jaw | 0.61 | 1.50 | 1.71 | 0.17 | 0.19 | 0.06 | 2.17 | 2.38 | 0.84 | 0.86 | 000
21485 |  | A | Reset dislocated jaw | 4.48 | 12.24 | 9.24 | 9.21 | 8.06 | 0.51 | 17.23 | 14.23 | 14.20 | 13.05 | 090
21490 |  | A | Repair dislocated jaw | 12.59 | NA | NA | 7.75 | 9.23 | 1.96 | NA | NA | 22.30 | 23.78 | 090
21495 |  | A | Treat hyoid bone fracture | 6.43 | NA | NA | 9.46 | 8.70 | 0.46 | NA | NA | 16.35 | 15.59 | 090
21497 |  | A | Interdental wiring | 4.35 | 11.91 | 9.33 | 9.09 | 8.02 | 0.50 | 16.76 | 14.18 | 13.94 | 12.87 | 090
21501 |  | A | Drain neck/chest lesion | 3.80 | 6.39 | 6.43 | 3.41 | 3.73 | 0.43 | 10.62 | 10.66 | 7.64 | 7.96 | 090
21502 |  | A | Drain chest lesion | 7.35 | NA | NA | 4.75 | 5.43 | 0.97 | NA | NA | 13.07 | 13.75 | 090
21510 |  | A | Drainage of bone lesion | 5.97 | NA | NA | 4.68 | 5.43 | 0.80 | NA | NA | 11.45 | 12.20 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
21550 |  | A | Biopsy of neck/chest | 2.06 | 4.36 | 3.78 | 1.76 | 1.73 | 0.16 | 6.58 | 6.00 | 3.98 | 3.95 | 010
21555 |  | A | Remove lesion, neck/chest | 4.34 | 5.72 | 5.58 | 3.37 | 3.24 | 0.56 | 10.62 | 10.48 | 8.27 | 8.14 | 090
21556 |  | A | Remove lesion, neck/chest | 5.56 | NA | NA | 3.87 | 4.05 | 0.65 | NA | NA | 10.08 | 10.26 | 090
21557 |  | A | Remove tumor, neck/chest | 8.87 | NA | NA | 4.35 | 5.12 | 1.08 | NA | NA | 14.30 | 15.07 | 090
21600 |  | A | Partial removal of rib | 7.06 | NA | NA | 5.72 | 5.74 | 0.99 | NA | NA | 13.77 | 13.79 | 090
21610 |  | A | Partial removal of rib | 15.70 | NA | NA | 8.03 | 8.68 | 3.07 | NA | NA | 26.80 | 27.45 | 090
21615 |  | A | Removal of rib | 10.22 | NA | NA | 5.52 | 6.41 | 1.45 | NA | NA | 17.19 | 18.08 | 090
21616 |  | A | Removal of rib and nerves | 12.44 | NA | NA | 7.22 | 7.84 | 1.86 | NA | NA | 21.52 | 22.14 | 090
21620 |  | A | Partial removal of sternum | 7.08 | NA | NA | 4.86 | 5.71 | 0.98 | NA | NA | 12.92 | 13.77 | 090
21627 |  | A | Sternal debridement | 7.10 | NA | NA | 5.63 | 6.15 | 1.02 | NA | NA | 13.75 | 14.27 | 090
21630 |  | A | Extensive sternum surgery | 18.89 | NA | NA | 10.40 | 11.50 | 2.58 | NA | NA | 31.87 | 32.97 | 090
21632 |  | A | Extensive sternum surgery | 19.40 | NA | NA | 9.70 | 10.78 | 2.65 | NA | NA | 31.75 | 32.83 | 090
21685 |  | A | Hyoid myotomy & suspension | 14.77 | NA | NA | 7.68 | 9.42 | 1.06 | NA | NA | 23.51 | 25.25 | 090
21700 |  | A | Revision of neck muscle | 6.18 | NA | NA | 3.98 | 4.33 | 0.32 | NA | NA | 10.48 | 10.83 | 090
21705 |  | A | Revision of neck muscle/rib | 9.77 | NA | NA | 4.86 | 5.42 | 1.43 | NA | NA | 16.06 | 16.62 | 090
21720 |  | A | Revision of neck muscle | 5.67 | 1.94 | 2.34 | 4.29 | 2.93 | 0.91 | 8.52 | 8.92 | 10.87 | 9.51 | 090
21725 |  | A | Revision of neck muscle | 7.04 | NA | NA | 4.52 | 5.23 | 1.21 | NA | NA | 12.77 | 13.48 | 090
21740 |  | A | Reconstruction of sternum | 17.43 | NA | NA | 8.70 | 8.58 | 2.36 | NA | NA | 28.49 | 28.37 | 090
21750 |  | A | Repair of sternum separation | 11.33 | NA | NA | 5.50 | 5.97 | 1.63 | NA | NA | 18.46 | 18.93 | 090
21800 |  | A | Treatment of rib fracture | 0.96 | NA | NA | 1.40 | 1.36 | 0.09 | NA | NA | 2.45 | 2.41 | 090
21805 |  | A | Treatment of rib fracture | 2.75 | NA | NA | 3.51 | 3.29 | 0.38 | NA | NA | 6.64 | 6.42 | 090
21810 |  | A | Treatment of rib fracture(s) | 6.85 | NA | NA | 5.28 | 5.06 | 0.94 | NA | NA | 13.07 | 12.85 | 090
21820 |  | A | Treat sternum fracture | 1.28 | 1.78 | 1.82 | 1.84 | 1.79 | 0.16 | 3.22 | 3.26 | 3.28 | 3.23 | 090
21825 |  | A | Treat sternum fracture | 7.58 | NA | NA | 5.46 | 6.17 | 1.11 | NA | NA | 14.15 | 14.86 | 090
21920 |  | A | Biopsy soft tissue of back | 2.06 | 4.36 | 3.56 | 1.83 | 1.56 | 0.14 | 6.56 | 5.76 | 4.03 | 3.76 | 010
21925 |  | A | Biopsy soft tissue of back | 4.48 | 5.47 | 5.25 | 3.43 | 3.30 | 0.60 | 10.55 | 10.33 | 8.51 | 8.38 | 090
21930 |  | A | Remove lesion, back or flank | 4.99 | 6.01 | 5.80 | 3.74 | 3.49 | 0.66 | 11.66 | 11.45 | 9.39 | 9.14 | 090
21935 |  | A | Remove tumor, back | 18.29 | NA | NA | 8.40 | 9.34 | 2.47 | NA | NA | 29.16 | 30.10 | 090
22010 |  | A | I&d, p-spine, c/t/cerv-thor | 12.49 | NA | NA | 8.06 | 8.70 | 1.73 | NA | NA | 22.28 | 22.92 | 090
22015 |  | A | I&d, p-spine, l/s/ls | 12.38 | NA | NA | 8.02 | 8.64 | 1.71 | NA | NA | 22.11 | 22.73 | 090
22100 |  | A | Remove part of neck vertebra | 10.72 | NA | NA | 7.85 | 7.63 | 2.13 | NA | NA | 20.70 | 20.48 | 090
22101 |  | A | Remove part, thorax vertebra | 10.80 | NA | NA | 7.79 | 7.78 | 1.90 | NA | NA | 20.49 | 20.48 | 090
22102 |  | A | Remove part, lumbar vertebra | 10.80 | NA | NA | 7.08 | 7.87 | 1.87 | NA | NA | 19.75 | 20.54 | 090
22103 |  | A | Remove extra spine segment | 2.34 | NA | NA | 0.86 | 1.12 | 0.44 | NA | NA | 3.64 | 3.90 | ZZZ
22110 |  | A | Remove part of neck vertebra | 13.72 | NA | NA | 8.88 | 9.11 | 2.76 | NA | NA | 25.36 | 25.59 | 090
22112 |  | A | Remove part, thorax vertebra | 13.79 | NA | NA | 8.76 | 9.17 | 2.52 | NA | NA | 25.07 | 25.48 | 090
22114 |  | A | Remove part, lumbar vertebra | 13.79 | NA | NA | 8.84 | 9.17 | 2.63 | NA | NA | 25.26 | 25.59 | 090
22116 |  | A | Remove extra spine segment | 2.32 | NA | NA | 0.84 | 1.09 | 0.50 | NA | NA | 3.66 | 3.91 | ZZZ
22210 |  | A | Revision of neck spine | 25.03 | NA | NA | 14.35 | 15.18 | 5.44 | NA | NA | 44.82 | 45.65 | 090
22212 |  | A | Revision of thorax spine | 20.64 | NA | NA | 12.20 | 13.03 | 3.90 | NA | NA | 36.74 | 37.57 | 090
22214 |  | A | Revision of lumbar spine | 20.67 | NA | NA | 12.30 | 13.46 | 3.91 | NA | NA | 36.88 | 38.04 | 090
22216 |  | A | Revise, extra spine segment | 6.03 | NA | NA | 2.30 | 2.93 | 1.29 | NA | NA | 9.62 | 10.25 | ZZZ
22220 |  | A | Revision of neck spine | 22.59 | NA | NA | 13.09 | 13.52 | 5.06 | NA | NA | 40.74 | 41.17 | 090
22222 |  | A | Revision of thorax spine | 22.74 | NA | NA | 12.03 | 11.38 | 4.12 | NA | NA | 38.89 | 38.24 | 090
22224 |  | A | Revision of lumbar spine | 22.74 | NA | NA | 12.88 | 13.92 | 4.18 | NA | NA | 39.80 | 40.84 | 090
22226 |  | A | Revise, extra spine segment | 6.03 | NA | NA | 2.08 | 2.85 | 1.29 | NA | NA | 9.40 | 10.17 | ZZZ
22305 |  | A | Treat spine process fracture | 2.05 | 2.12 | 2.27 | 1.77 | 1.89 | 0.39 | 4.56 | 4.71 | 4.21 | 4.33 | 090
22310 |  | A | Treat spine fracture | 3.61 | 2.94 | 2.84 | 2.45 | 2.38 | 0.50 | 7.05 | 6.95 | 6.56 | 6.49 | 090
22315 |  | A | Treat spine fracture | 9.83 | 9.62 | 9.69 | 7.24 | 7.32 | 1.85 | 21.30 | 21.37 | 18.92 | 19.00 | 090
22318 |  | A | Treat odontoid fx w/o graft | 22.46 | NA | NA | 12.88 | 13.29 | 5.28 | NA | NA | 40.62 | 41.03 | 090
22319 |  | A | Treat odontoid fx w/graft | 25.07 | NA | NA | 13.69 | 14.49 | 6.03 | NA | NA | 44.79 | 45.59 | 090
22325 |  | A | Treat spine fracture | 19.52 | NA | NA | 11.67 | 12.00 | 3.87 | NA | NA | 35.06 | 35.39 | 090
22326 |  | A | Treat neck spine fracture | 20.56 | NA | NA | 11.71 | 12.48 | 4.42 | NA | NA | 36.69 | 37.46 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
22327 |  | A | Treat thorax spine fracture | 20.42 | NA | NA | 11.94 | 12.29 | 3.98 | NA | NA | 36.34 | 36.69 | 090
22328 |  | A | Treat each add spine fx | 4.60 | NA | NA | 1.75 | 2.14 | 0.94 | NA | NA | 7.29 | 7.68 | ZZZ
22505 |  | A | Manipulation of spine | 1.87 | NA | NA | 1.04 | 0.97 | 0.36 | NA | NA | 3.27 | 3.20 | 010
22520 |  | A | Percut vertebroplasty thor | 9.15 | 46.33 | 57.96 | 4.66 | 5.00 | 1.71 | 57.19 | 68.82 | 15.52 | 15.86 | 010
22521 |  | A | Percut vertebroplasty lumb | 8.58 | 47.63 | 54.01 | 4.46 | 4.84 | 1.60 | 57.81 | 64.19 | 14.64 | 15.02 | 010
22522 |  | A | Percut vertebroplasty addIl | 4.30 | NA | NA | 1.51 | 1.64 | 0.82 | NA | NA | 6.63 | 6.76 | ZZZ
22523 |  | A | Percut kyphoplasty, thor | 9.19 | NA | NA | 4.74 | 5.63 | 1.71 | NA | NA | 15.64 | 16.53 | 010
22524 |  | A | Percut kyphoplasty, lumbar | 8.79 | NA | NA | 4.59 | 5.43 | 1.60 | NA | NA | 14.98 | 15.82 | 010
22525 |  | A | Percut kyphoplasty, add-on | 4.47 | NA | NA | 1.67 | 2.13 | 0.82 | NA | NA | 6.96 | 7.42 | ZZZ
22532 |  | A | Lat thorax spine fusion | 25.73 | NA | NA | 13.40 | 14.50 | 4.34 | NA | NA | 43.47 | 44.57 | 090
22533 |  | A | Lat lumbar spine fusion | 24.53 | NA | NA | 13.12 | 13.50 | 3.15 | NA | NA | 40.80 | 41.18 | 090
22534 |  | A | Lat thor/lumb, addIl seg | 5.99 | NA | NA | 2.25 | 2.84 | 1.25 | NA | NA | 9.49 | 10.08 | ZZZ
22548 |  | A | Neck spine fusion | 26.78 | NA | NA | 14.66 | 15.55 | 5.59 | NA | NA | 47.03 | 47.92 | 090
22554 |  | A | Neck spine fusion | 17.48 | NA | NA | 11.21 | 12.09 | 4.45 | NA | NA | 33.14 | 34.02 | 090
22556 |  | A | Thorax spine fusion | 24.42 | NA | NA | 12.78 | 14.27 | 4.34 | NA | NA | 41.54 | 43.03 | 090
22558 |  | A | Lumbar spine fusion | 23.25 | NA | NA | 11.36 | 12.84 | 3.15 | NA | NA | 37.76 | 39.24 | 090
22585 |  | A | Additional spinal fusion | 5.52 | NA | NA | 2.02 | 2.61 | 1.25 | NA | NA | 8.79 | 9.38 | ZZZ
22590 |  | A | Spine & skull spinal fusion | 21.48 | NA | NA | 12.77 | 13.21 | 4.78 | NA | NA | 39.03 | 39.47 | 090
22595 |  | A | Neck spinal fusion | 20.36 | NA | NA | 12.29 | 12.73 | 4.40 | NA | NA | 37.05 | 37.49 | 090
22600 |  | A | Neck spine fusion | 17.12 | NA | NA | 11.00 | 11.17 | 3.72 | NA | NA | 31.84 | 32.01 | 090
22610 |  | A | Thorax spine fusion | 17.00 | NA | NA | 10.63 | 11.24 | 3.52 | NA | NA | 31.15 | 31.76 | 090
22612 |  | A | Lumbar spine fusion | 22.50 | NA | NA | 12.61 | 13.83 | 4.46 | NA | NA | 39.57 | 40.79 | 090
22614 |  | A | Spine fusion, extra segment | 6.43 | NA | NA | 2.42 | 3.13 | 1.38 | NA | NA | 10.23 | 10.94 | ZZZ
22630 |  | A | Lumbar spine fusion | 21.81 | NA | NA | 12.31 | 13.31 | 4.72 | NA | NA | 38.84 | 39.84 | 090
22632 |  | A | Spine fusion, extra segment | 5.22 | NA | NA | 1.95 | 2.49 | 1.16 | NA | NA | 8.33 | 8.87 | ZZZ
22800 |  | A | Fusion of spine | 19.22 | NA | NA | 10.91 | 12.34 | 3.75 | NA | NA | 33.88 | 35.31 | 090
22802 |  | A | Fusion of spine | 31.83 | NA | NA | 15.80 | 18.69 | 6.15 | NA | NA | 53.78 | 56.67 | 090
22804 |  | A | Fusion of spine | 37.22 | NA | NA | 17.76 | 21.51 | 6.98 | NA | NA | 61.96 | 65.71 | 090
22808 |  | A | Fusion of spine | 27.23 | NA | NA | 13.54 | 15.65 | 4.92 | NA | NA | 45.69 | 47.80 | 090
22810 |  | A | Fusion of spine | 31.22 | NA | NA | 14.63 | 17.47 | 5.13 | NA | NA | 50.98 | 53.82 | 090
22812 |  | A | Fusion of spine | 33.90 | NA | NA | 16.45 | 19.20 | 5.28 | NA | NA | 55.63 | 58.38 | 090
22818 |  | A | Kyphectomy, 1-2 segments | 34.12 | NA | NA | 16.28 | 18.26 | 6.45 | NA | NA | 56.85 | 58.83 | 090
22819 |  | A | Kyphectomy, 3 or more | 39.10 | NA | NA | 18.97 | 19.83 | 7.65 | NA | NA | 65.72 | 66.58 | 090
22830 |  | A | Exploration of spinal fusion | 11.07 | NA | NA | 6.95 | 7.72 | 2.29 | NA | NA | 20.31 | 21.08 | 090
22840 |  | A | Insert spine fixation device | 12.52 | NA | NA | 4.70 | 6.06 | 2.78 | NA | NA | 20.00 | 21.36 | ZZZ
22842 |  | A | Insert spine fixation device | 12.56 | NA | NA | 4.72 | 6.07 | 2.74 | NA | NA | 20.02 | 21.37 | ZZZ
22843 |  | A | Insert spine fixation device | 13.44 | NA | NA | 5.11 | 6.24 | 2.85 | NA | NA | 21.40 | 22.53 | ZZZ
22844 |  | A | Insert spine fixation device | 16.42 | NA | NA | 6.29 | 8.16 | 3.18 | NA | NA | 25.89 | 27.76 | ZZZ
22845 |  | A | Insert spine fixation device | 11.94 | NA | NA | 4.40 | 5.67 | 2.85 | NA | NA | 19.19 | 20.46 | ZZZ
22846 |  | A | Insert spine fixation device | 12.40 | NA | NA | 4.57 | 5.91 | 2.95 | NA | NA | 19.92 | 21.26 | ZZZ
22847 |  | A | Insert spine fixation device | 13.78 | NA | NA | 5.17 | 6.57 | 2.99 | NA | NA | 21.94 | 23.34 | ZZZ
22848 |  | A | Insert pelv fixation device | 5.99 | NA | NA | 2.30 | 2.97 | 1.15 | NA | NA | 9.44 | 10.11 | ZZZ
22849 |  | A | Reinsert spinal fixation | 19.02 | NA | NA | 9.92 | 11.30 | 3.89 | NA | NA | 32.83 | 34.21 | 090
22850 |  | A | Remove spine fixation device | 9.69 | NA | NA | 6.26 | 6.82 | 2.04 | NA | NA | 17.99 | 18.55 | 090
22851 |  | A | Apply spine prosth device | 6.70 | NA | NA | 2.50 | 3.15 | 1.49 | NA | NA | 10.69 | 11.34 | ZZZ
22852 |  | A | Remove spine fixation device | 9.24 | NA | NA | 5.99 | 6.61 | 1.89 | NA | NA | 17.12 | 17.74 | 090
22855 |  | A | Remove spine fixation device | 15.71 | NA | NA | 8.93 | 9.50 | 3.51 | NA | NA | 28.15 | 28.72 | 090
22900 |  | A | Remove abdominal wall lesion | 6.09 | NA | NA | 3.47 | 3.29 | 0.76 | NA | NA | 10.32 | 10.14 | 090
23000 |  | A | Removal of calcium deposits | 4.35 | 7.75 | 8.35 | 3.63 | 4.23 | 0.68 | 12.78 | 13.38 | 8.66 | 9.26 | 090
23020 |  | A | Release shoulder joint | 9.16 | NA | NA | 6.37 | 7.28 | 1.54 | NA | NA | 17.07 | 17.98 | 090
23030 |  | A | Drain shoulder lesion | 3.42 | 6.26 | 7.12 | 2.38 | 2.78 | 0.57 | 10.25 | 11.11 | 6.37 | 6.77 | 010
23031 |  | A | Drain shoulder bursa | 2.74 | 6.44 | 7.52 | 2.19 | 2.60 | 0.46 | 9.64 | 10.72 | 5.39 | 5.80 | 010
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
23035 |  | A | Drain shoulder bone lesion | 8.96 | NA | NA | 6.91 | 7.95 | 1.47 | NA | NA | 17.34 | 18.38 | 090
23040 |  | A | Exploratory shoulder surgery | 9.55 | NA | NA | 6.65 | 7.57 | 1.60 | NA | NA | 17.80 | 18.72 | 090
23044 |  | A | Exploratory shoulder surgery | 7.41 | NA | NA | 5.48 | 6.21 | 1.24 | NA | NA | 14.13 | 14.86 | 090
23065 |  | A | Biopsy shoulder tissues | 2.27 | 2.93 | 2.60 | 1.71 | 1.64 | 0.20 | 5.40 | 5.07 | 4.18 | 4.11 | 010
23066 |  | A | Biopsy shoulder tissues | 4.15 | 7.67 | 7.69 | 3.56 | 3.88 | 0.63 | 12.45 | 12.47 | 8.34 | 8.66 | 090
23075 |  | A | Removal of shoulder lesion | 2.39 | 3.71 | 3.68 | 1.72 | 1.77 | 0.34 | 6.44 | 6.41 | 4.45 | 4.50 | 010
23076 |  | A | Removal of shoulder lesion | 7.68 | NA | NA | 5.25 | 5.49 | 1.13 | NA | NA | 14.06 | 14.30 | 090
23077 |  | A | Remove tumor of shoulder | 17.98 | NA | NA | 9.59 | 10.08 | 2.33 | NA | NA | 29.90 | 30.39 | 090
23100 |  | A | Biopsy of shoulder joint | 6.02 | NA | NA | 5.04 | 5.51 | 1.04 | NA | NA | 12.10 | 12.57 | 090
23101 |  | A | Shoulder joint surgery | 5.57 | NA | NA | 4.49 | 5.14 | 0.96 | NA | NA | 11.02 | 11.67 | 090
23105 |  | A | Remove shoulder joint lining | 8.28 | NA | NA | 5.99 | 6.85 | 1.42 | NA | NA | 15.69 | 16.55 | 090
23106 |  | A | Incision of collarbone joint | 5.95 | NA | NA | 4.55 | 5.43 | 0.99 | NA | NA | 11.49 | 12.37 | 090
23107 |  | A | Explore treat shoulder joint | 8.67 | NA | NA | 6.14 | 7.09 | 1.49 | NA | NA | 16.30 | 17.25 | 090
23120 |  | A | Partial removal, collar bone | 7.16 | NA | NA | 5.38 | 6.21 | 1.23 | NA | NA | 13.77 | 14.60 | 090
23125 |  | A | Removal of collar bone | 9.44 | NA | NA | 6.22 | 7.24 | 1.62 | NA | NA | 17.28 | 18.30 | 090
23130 |  | A | Remove shoulder bone, part | 7.54 | NA | NA | 5.98 | 6.86 | 1.30 | NA | NA | 14.82 | 15.70 | 090
23140 |  | A | Removal of bone lesion | 6.94 | NA | NA | 4.73 | 5.11 | 1.08 | NA | NA | 12.75 | 13.13 | 090
23145 |  | A | Removal of bone lesion | 9.20 | NA | NA | 5.70 | 7.02 | 1.49 | NA | NA | 16.39 | 17.71 | 090
23146 |  | A | Removal of bone lesion | 7.88 | NA | NA | 5.86 | 6.81 | 1.35 | NA | NA | 15.09 | 16.04 | 090
23150 |  | A | Removal of humerus lesion | 8.71 | NA | NA | 5.94 | 6.69 | 1.32 | NA | NA | 15.97 | 16.72 | 090
23155 |  | A | Removal of humerus lesion | 10.63 | NA | NA | 7.20 | 8.06 | 1.80 | NA | NA | 19.63 | 20.49 | 090
23156 |  | A | Removal of humerus lesion | 8.91 | NA | NA | 6.28 | 7.12 | 1.50 | NA | NA | 16.69 | 17.53 | 090
23170 |  | A | Remove collar bone lesion | 7.03 | NA | NA | 5.01 | 5.78 | 1.12 | NA | NA | 13.16 | 13.93 | 090
23172 |  | A | Remove shoulder blade lesion | 7.13 | NA | NA | 4.90 | 5.95 | 1.01 | NA | NA | 13.04 | 14.09 | 090
23174 |  | A | Remove humerus lesion | 9.80 | NA | NA | 7.15 | 8.07 | 1.65 | NA | NA | 18.60 | 19.52 | 090
23180 |  | A | Remove collar bone lesion | 8.76 | NA | NA | 6.96 | 8.51 | 1.47 | NA | NA | 17.19 | 18.74 | 090
23182 |  | A | Remove shoulder blade lesion | 8.38 | NA | NA | 6.80 | 8.13 | 1.37 | NA | NA | 16.55 | 17.88 | 090
23184 |  | A | Remove humerus lesion | 9.67 | NA | NA | 7.41 | 8.86 | 1.63 | NA | NA | 18.71 | 20.16 | 090
23190 |  | A | Partial removal of scapula | 7.29 | NA | NA | 5.32 | 5.97 | 1.17 | NA | NA | 13.78 | 14.43 | 090
23195 |  | A | Removal of head of humerus | 10.16 | NA | NA | 6.65 | 7.48 | 1.70 | NA | NA | 18.51 | 19.34 | 090
23200 |  | A | Removal of collar bone | 12.60 | NA | NA | 7.41 | 8.42 | 1.93 | NA | NA | 21.94 | 22.95 | 090
23210 |  | A | Removal of shoulder blade | 13.07 | NA | NA | 8.09 | 8.79 | 2.02 | NA | NA | 23.18 | 23.88 | 090
23220 |  | A | Partial removal of humerus | 15.26 | NA | NA | 8.92 | 10.37 | 2.48 | NA | NA | 26.66 | 28.11 | 090
23221 |  | A | Partial removal of humerus | 18.31 | NA | NA | 6.48 | 10.43 | 3.05 | NA | NA | 27.84 | 31.79 | 090
23222 |  | A | Partial removal of humerus | 25.36 | NA | NA | 13.27 | 15.19 | 3.94 | NA | NA | 42.57 | 44.49 | 090
23330 |  | A | Remove shoulder foreign body | 1.85 | 3.34 | 3.60 | 1.51 | 1.80 | 0.24 | 5.43 | 5.69 | 3.60 | 3.89 | 010
23331 |  | A | Remove shoulder foreign body | 7.43 | NA | NA | 5.77 | 6.55 | 1.27 | NA | NA | 14.47 | 15.25 | 090
23332 |  | A | Remove shoulder foreign body | 12.14 | NA | NA | 7.85 | 8.98 | 2.02 | NA | NA | 22.01 | 23.14 | 090
23350 |  | A | Injection for shoulder x-ray | 1.00 | 2.83 | 3.31 | 0.35 | 0.34 | 0.06 | 3.89 | 4.37 | 1.41 | 1.40 | 000
23395 |  | A | Muscle transfer,shoulder/arm | 18.19 | NA | NA | 11.02 | 12.43 | 2.93 | NA | NA | 32.14 | 33.55 | 090
23397 |  | A | Muscle transfers | 16.53 | NA | NA | 9.49 | 10.92 | 2.73 | NA | NA | 28.75 | 30.18 | 090
23400 |  | A | Fixation of shoulder blade | 13.64 | NA | NA | 8.38 | 9.67 | 2.29 | NA | NA | 24.31 | 25.60 | 090
23405 |  | A | Incision of tendon & muscle | 8.36 | NA | NA | 5.85 | 6.67 | 1.45 | NA | NA | 15.66 | 16.48 | 090
23406 |  | A | Incise tendon(s) & muscle(s) | 10.83 | NA | NA | 6.80 | 7.97 | 1.87 | NA | NA | 19.50 | 20.67 | 090
23410 |  | A | Repair rotator cuff, acute | 12.55 | NA | NA | 7.66 | 8.99 | 2.16 | NA | NA | 22.37 | 23.70 | 090
23412 |  | A | Repair rotator cuff, chronic | 13.47 | NA | NA | 8.04 | 9.45 | 2.31 | NA | NA | 23.82 | 25.23 | 090
23415 |  | A | Release of shoulder ligament | 10.02 | NA | NA | 6.48 | 7.63 | 1.73 | NA | NA | 18.23 | 19.38 | 090
23420 |  | A | Repair of shoulder | 14.65 | NA | NA | 9.58 | 10.55 | 2.31 | NA | NA | 26.54 | 27.51 | 090
23430 |  | A | Repair biceps tendon | 9.97 | NA | NA | 6.66 | 7.76 | 1.73 | NA | NA | 18.36 | 19.46 | 090
23440 |  | A | Remove/transplant tendon | 10.46 | NA | NA | 6.67 | 7.88 | 1.82 | NA | NA | 18.95 | 20.16 | 090
23450 |  | A | Repair shoulder capsule | 13.50 | NA | NA | 8.02 | 9.41 | 2.32 | NA | NA | 23.84 | 25.23 | 090
23455 |  | A | Repair shoulder capsule | 14.47 | NA | NA | 8.41 | 9.96 | 2.49 | NA | NA | 25.37 | 26.92 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
23460 |  | A | Repair shoulder capsule | 15.59 | NA | NA | 9.17 | 10.84 | 2.66 | NA | NA | 27.42 | 29.09 | 090
23462 |  | A | Repair shoulder capsule | 15.52 | NA | NA | 8.90 | 10.31 | 2.59 | NA | NA | 27.01 | 28.42 | 090
23465 |  | A | Repair shoulder capsule | 16.07 | NA | NA | 9.40 | 10.76 | 2.76 | NA | NA | 28.23 | 29.59 | 090
23466 |  | A | Repair shoulder capsule | 15.45 | NA | NA | 9.89 | 11.02 | 2.46 | NA | NA | 27.80 | 28.93 | 090
23470 |  | A | Reconstruct shoulder joint | 17.66 | NA | NA | 9.99 | 11.72 | 2.98 | NA | NA | 30.63 | 32.36 | 090
23472 |  | A | Reconstruct shoulder joint | 22.39 | NA | NA | 11.99 | 13.84 | 3.66 | NA | NA | 38.04 | 39.89 | 090
23480 |  | A | Revision of collar bone | 11.34 | NA | NA | 7.21 | 8.40 | 1.94 | NA | NA | 20.49 | 21.68 | 090
23485 |  | A | Revision of collar bone | 13.71 | NA | NA | 8.14 | 9.48 | 2.33 | NA | NA | 24.18 | 25.52 | 090
23490 |  | A | Reinforce clavicle | 11.96 | NA | NA | 6.76 | 8.23 | 1.47 | NA | NA | 20.19 | 21.66 | 090
23491 |  | A | Reinforce shoulder bones | 14.31 | NA | NA | 8.69 | 10.23 | 2.46 | NA | NA | 25.46 | 27.00 | 090
23500 |  | A | Treat clavicle fracture | 2.08 | 2.61 | 2.81 | 2.68 | 2.57 | 0.30 | 4.99 | 5.19 | 5.06 | 4.95 | 090
23505 |  | A | Treat clavicle fracture | 3.68 | 3.97 | 4.31 | 3.57 | 3.78 | 0.61 | 8.26 | 8.60 | 7.86 | 8.07 | 090
23515 |  | A | Treat clavicle fracture | 7.40 | NA | NA | 5.48 | 6.30 | 1.28 | NA | NA | 14.16 | 14.98 | 090
23520 |  | A | Treat clavicle dislocation | 2.16 | 2.60 | 2.80 | 2.67 | 2.73 | 0.34 | 5.10 | 5.30 | 5.17 | 5.23 | 090
23525 |  | A | Treat clavicle dislocation | 3.59 | 4.45 | 4.53 | 3.87 | 3.93 | 0.46 | 8.50 | 8.58 | 7.92 | 7.98 | 090
23530 |  | A | Treat clavicle dislocation | 7.30 | NA | NA | 5.18 | 5.76 | 1.20 | NA | NA | 13.68 | 14.26 | 090
23532 |  | A | Treat clavicle dislocation | 8.00 | NA | NA | 5.97 | 6.74 | 1.38 | NA | NA | 15.35 | 16.12 | 090
23540 |  | A | Treat clavicle dislocation | 2.23 | 2.59 | 2.80 | 2.66 | 2.44 | 0.29 | 5.11 | 5.32 | 5.18 | 4.96 | 090
23545 |  | A | Treat clavicle dislocation | 3.25 | 3.71 | 4.08 | 3.23 | 3.34 | 0.35 | 7.31 | 7.68 | 6.83 | 6.94 | 090
23550 |  | A | Treat clavicle dislocation | 7.41 | NA | NA | 5.43 | 6.15 | 1.25 | NA | NA | 14.09 | 14.81 | 090
23552 |  | A | Treat clavicle dislocation | 8.62 | NA | NA | 6.12 | 7.04 | 1.46 | NA | NA | 16.20 | 17.12 | 090
23570 |  | A | Treat shoulder blade fx | 2.23 | 2.76 | 2.96 | 2.90 | 2.90 | 0.36 | 5.35 | 5.55 | 5.49 | 5.49 | 090
23575 |  | A | Treat shoulder blade fx | 4.05 | 4.29 | 4.74 | 3.80 | 4.19 | 0.59 | 8.93 | 9.38 | 8.44 | 8.83 | 090
23585 |  | A | Treat scapula fracture | 9.07 | NA | NA | 6.38 | 7.34 | 1.54 | NA | NA | 16.99 | 17.95 | 090
23600 |  | A | Treat humerus fracture | 2.93 | 4.03 | 4.43 | 3.61 | 3.57 | 0.48 | 7.44 | 7.84 | 7.02 | 6.98 | 090
23605 |  | A | Treat humerus fracture | 4.86 | 5.34 | 5.96 | 4.55 | 4.98 | 0.84 | 11.04 | 11.66 | 10.25 | 10.68 | 090
23615 |  | A | Treat humerus fracture | 10.83 | NA | NA | 8.16 | 8.69 | 1.62 | NA | NA | 20.61 | 21.14 | 090
23616 |  | A | Treat humerus fracture | 21.60 | NA | NA | 11.29 | 13.46 | 3.69 | NA | NA | 36.58 | 38.75 | 090
23620 |  | A | Treat humerus fracture | 2.40 | 3.38 | 3.56 | 3.11 | 3.02 | 0.40 | 6.18 | 6.36 | 5.91 | 5.82 | 090
23625 |  | A | Treat humerus fracture | 3.92 | 4.37 | 4.81 | 3.85 | 4.18 | 0.67 | 8.96 | 9.40 | 8.44 | 8.77 | 090
23630 |  | A | Treat humerus fracture | 7.40 | NA | NA | 5.57 | 6.38 | 1.27 | NA | NA | 14.24 | 15.05 | 090
23650 |  | A | Treat shoulder dislocation | 3.38 | 3.24 | 3.65 | 2.77 | 2.77 | 0.30 | 6.92 | 7.33 | 6.45 | 6.45 | 090
23655 |  | A | Treat shoulder dislocation | 4.56 | NA | NA | 4.11 | 4.16 | 0.69 | NA | NA | 9.36 | 9.41 | 090
23660 |  | A | Treat shoulder dislocation | 7.48 | NA | NA | 5.52 | 6.18 | 1.29 | NA | NA | 14.29 | 14.95 | 090
23665 |  | A | Treat dislocation/fracture | 4.46 | 4.77 | 5.21 | 4.19 | 4.60 | 0.71 | 9.94 | 10.38 | 9.36 | 9.77 | 090
23670 |  | A | Treat dislocation/fracture | 7.95 | NA | NA | 5.75 | 6.58 | 1.36 | NA | NA | 15.06 | 15.89 | 090
23675 |  | A | Treat dislocation/fracture | 6.04 | 6.06 | 6.65 | 5.08 | 5.66 | 1.01 | 13.11 | 13.70 | 12.13 | 12.71 | 090
23680 |  | A | Treat dislocation/fracture | 10.22 | NA | NA | 6.87 | 7.82 | 1.75 | NA | NA | 18.84 | 19.79 | 090
23700 |  | A | Fixation of shoulder | 2.52 | NA | NA | 1.88 | 2.11 | 0.44 | NA | NA | 4.84 | 5.07 | 010
23800 |  | A | Fusion of shoulder joint | 14.50 | NA | NA | 7.41 | 9.68 | 2.35 | NA | NA | 24.26 | 26.53 | 090
23802 |  | A | Fusion of shoulder joint | 18.07 | NA | NA | 10.76 | 10.34 | 2.70 | NA | NA | 31.53 | 31.11 | 090
23900 |  | A | Amputation of arm & girdle | 20.47 | NA | NA | 10.49 | 11.43 | 3.18 | NA | NA | 34.14 | 35.08 | 090
23920 |  | A | Amputation at shoulder joint | 15.95 | NA | NA | 9.37 | 9.81 | 2.46 | NA | NA | 27.78 | 28.22 | 090
23921 |  | A | Amputation follow-up surgery | 5.54 | NA | NA | 4.80 | 5.02 | 0.78 | NA | NA | 11.12 | 11.34 | 090
23930 |  | A | Drainage of arm lesion | 2.94 | 4.97 | 6.00 | 1.97 | 2.23 | 0.43 | 8.34 | 9.37 | 5.34 | 5.60 | 010
23931 |  | A | Drainage of arm bursa | 1.79 | 4.30 | 5.52 | 1.72 | 2.07 | 0.28 | 6.37 | 7.59 | 3.79 | 4.14 | 010
23935 |  | A | Drain arm/elbow bone lesion | 6.20 | NA | NA | 5.04 | 5.71 | 1.05 | NA | NA | 12.29 | 12.96 | 090
24000 |  | A | Exploratory elbow surgery | 5.93 | NA | NA | 4.69 | 5.25 | 0.97 | NA | NA | 11.59 | 12.15 | 090
24006 |  | A | Release elbow joint | 9.54 | NA | NA | 6.53 | 7.46 | 1.50 | NA | NA | 17.57 | 18.50 | 090
24065 |  | A | Biopsy arm/elbow soft tissue | 2.08 | 4.12 | 3.45 | 1.89 | 1.79 | 0.17 | 6.37 | 5.70 | 4.14 | 4.04 | 010
24066 |  | A | Biopsy arm/elbow soft tissue | 5.20 | 8.25 | 8.78 | 3.89 | 4.08 | 0.80 | 14.25 | 14.78 | 9.89 | 10.08 | 090
24075 |  | A | Remove arm/elbow lesion | 3.91 | 7.16 | 7.32 | 3.24 | 3.37 | 0.56 | 11.63 | 11.79 | 7.71 | 7.84 | 090
24076 |  | A | Remove arm/elbow lesion | 6.29 | NA | NA | 4.51 | 4.78 | 0.95 | NA | NA | 11.75 | 12.02 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
24077 |  | A | Remove tumor of arm/elbow | 11.86 | NA | NA | 6.82 | 7.53 | 1.72 | NA | NA | 20.40 | 21.11 | 090
24100 |  | A | Biopsy elbow joint lining | 4.92 | NA | NA | 4.19 | 4.45 | 0.85 | NA | NA | 9.96 | 10.22 | 090
24101 |  | A | Explore/treat elbow joint | 6.12 | NA | NA | 4.98 | 5.71 | 1.03 | NA | NA | 12.13 | 12.86 | 090
24102 |  | A | Remove elbow joint lining | 8.08 | NA | NA | 5.69 | 6.58 | 1.33 | NA | NA | 15.10 | 15.99 | 090
24105 |  | A | Removal of elbow bursa | 3.60 | NA | NA | 3.96 | 4.29 | 0.61 | NA | NA | 8.17 | 8.50 | 090
24110 |  | A | Remove humerus lesion | 7.38 | NA | NA | 5.55 | 6.40 | 1.28 | NA | NA | 14.21 | 15.06 | 090
24115 |  | A | Remove/graft bone lesion | 9.92 | NA | NA | 6.68 | 7.09 | 1.67 | NA | NA | 18.27 | 18.68 | 090
24116 |  | A | Remove/graft bone lesion | 12.03 | NA | NA | 7.50 | 8.70 | 2.05 | NA | NA | 21.58 | 22.78 | 090
24120 |  | A | Remove elbow lesion | 6.64 | NA | NA | 5.12 | 5.74 | 1.10 | NA | NA | 12.86 | 13.48 | 090
24125 |  | A | Remove/graft bone lesion | 7.94 | NA | NA | 5.90 | 6.11 | 1.06 | NA | NA | 14.90 | 15.11 | 090
24126 |  | A | Remove/graft bone lesion | 8.42 | NA | NA | 6.09 | 6.80 | 1.16 | NA | NA | 15.67 | 16.38 | 090
24130 |  | A | Removal of head of radius | 6.24 | NA | NA | 5.02 | 5.79 | 1.04 | NA | NA | 12.30 | 13.07 | 090
24134 |  | A | Removal of arm bone lesion | 10.02 | NA | NA | 7.35 | 8.50 | 1.64 | NA | NA | 19.01 | 20.16 | 090
24136 |  | A | Remove radius bone lesion | 8.22 | NA | NA | 5.93 | 6.91 | 1.38 | NA | NA | 15.53 | 16.51 | 090
24138 |  | A | Remove elbow bone lesion | 8.22 | NA | NA | 6.58 | 7.50 | 1.34 | NA | NA | 16.14 | 17.06 | 090
24140 |  | A | Partial removal of arm bone | 9.35 | NA | NA | 7.07 | 8.62 | 1.51 | NA | NA | 17.93 | 19.48 | 090
24145 |  | A | Partial removal of radius | 7.63 | NA | NA | 6.19 | 7.61 | 1.25 | NA | NA | 15.07 | 16.49 | 090
24147 |  | A | Partial removal of elbow | 7.59 | NA | NA | 6.79 | 8.16 | 1.30 | NA | NA | 15.68 | 17.05 | 090
24149 |  | A | Radical resection of elbow | 15.80 | NA | NA | 10.66 | 11.40 | 2.34 | NA | NA | 28.80 | 29.54 | 090
24150 |  | A | Extensive humerus surgery | 13.61 | NA | NA | 8.37 | 9.61 | 2.32 | NA | NA | 24.30 | 25.54 | 090
24151 |  | A | Extensive humerus surgery | 15.98 | NA | NA | 9.58 | 11.05 | 2.59 | NA | NA | 28.15 | 29.62 | 090
24152 |  | A | Extensive radius surgery | 10.16 | NA | NA | 6.17 | 7.36 | 1.48 | NA | NA | 17.81 | 19.00 | 090
24153 |  | A | Extensive radius surgery | 11.64 | NA | NA | 6.32 | 5.77 | 0.74 | NA | NA | 18.70 | 18.15 | 090
24155 |  | A | Removal of elbow joint | 11.89 | NA | NA | 7.46 | 8.18 | 1.92 | NA | NA | 21.27 | 21.99 | 090
24160 |  | A | Remove elbow joint implant | 7.82 | NA | NA | 5.73 | 6.62 | 1.30 | NA | NA | 14.85 | 15.74 | 090
24164 |  | A | Remove radius head implant | 6.28 | NA | NA | 4.84 | 5.55 | 1.03 | NA | NA | 12.15 | 12.86 | 090
24200 |  | A | Removal of arm foreign body | 1.76 | 2.75 | 3.25 | 1.36 | 1.56 | 0.20 | 4.71 | 5.21 | 3.32 | 3.52 | 010
24201 |  | A | Removal of arm foreign body | 4.55 | 7.88 | 9.35 | 3.68 | 4.10 | 0.72 | 13.15 | 14.62 | 8.95 | 9.37 | 090
24220 |  | A | Injection for elbow x-ray | 1.31 | 2.73 | 3.41 | 0.45 | 0.44 | 0.08 | 4.12 | 4.80 | 1.84 | 1.83 | 000
24300 |  | A | Manipulate elbow w/anesth | 3.74 | NA | NA | 5.10 | 5.57 | 0.65 | NA | NA | 9.49 | 9.96 | 090
24301 |  | A | Muscle/tendon transfer | 10.18 | NA | NA | 6.72 | 7.83 | 1.66 | NA | NA | 18.56 | 19.67 | 090
24305 |  | A | Arm tendon lengthening | 7.44 | NA | NA | 5.56 | 6.44 | 1.15 | NA | NA | 14.15 | 15.03 | 090
24310 |  | A | Revision of arm tendon | 5.97 | NA | NA | 4.71 | 5.38 | 0.96 | NA | NA | 11.64 | 12.31 | 090
24320 |  | A | Repair of arm tendon | 10.66 | NA | NA | 6.97 | 7.41 | 1.73 | NA | NA | 19.36 | 19.80 | 090
24330 |  | A | Revision of arm muscles | 9.59 | NA | NA | 6.52 | 7.56 | 1.60 | NA | NA | 17.71 | 18.75 | 090
24331 |  | A | Revision of arm muscles | 10.75 | NA | NA | 6.40 | 8.13 | 1.77 | NA | NA | 18.92 | 20.65 | 090
24332 |  | A | Tenolysis, triceps | 7.69 | NA | NA | 5.69 | 6.52 | 1.23 | NA | NA | 14.61 | 15.44 | 090
24340 |  | A | Repair of biceps tendon | 7.88 | NA | NA | 5.89 | 6.72 | 1.36 | NA | NA | 15.13 | 15.96 | 090
24341 |  | A | Repair arm tendon/muscle | 9.14 | NA | NA | 7.40 | 7.81 | 1.36 | NA | NA | 17.90 | 18.31 | 090
24342 |  | A | Repair of ruptured tendon | 10.66 | NA | NA | 6.97 | 8.15 | 1.85 | NA | NA | 19.48 | 20.66 | 090
24343 |  | A | Repr elbow lat ligmnt w/tiss | 8.89 | NA | NA | 6.90 | 7.85 | 1.43 | NA | NA | 17.22 | 18.17 | 090
24344 |  | A | Reconstruct elbow lat ligmnt | 14.85 | NA | NA | 9.86 | 11.13 | 2.36 | NA | NA | 27.07 | 28.34 | 090
24345 |  | A | Repr elbw med ligmnt w/tissu | 8.89 | NA | NA | 6.85 | 7.74 | 1.44 | NA | NA | 17.18 | 18.07 | 090
24346 |  | A | Reconstruct elbow med ligmnt | 14.85 | NA | NA | 9.87 | 11.00 | 2.33 | NA | NA | 27.05 | 28.18 | 090
24350 |  | A | Repair of tennis elbow | 5.24 | NA | NA | 4.81 | 5.40 | 0.87 | NA | NA | 10.92 | 11.51 | 090
24351 |  | A | Repair of tennis elbow | 5.90 | NA | NA | 4.92 | 5.69 | 1.02 | NA | NA | 11.84 | 12.61 | 090
24352 |  | A | Repair of tennis elbow | 6.42 | NA | NA | 5.13 | 5.93 | 1.10 | NA | NA | 12.65 | 13.45 | 090
24354 |  | A | Repair of tennis elbow | 6.47 | NA | NA | 5.16 | 5.92 | 1.07 | NA | NA | 12.70 | 13.46 | 090
24356 |  | A | Revision of tennis elbow | 6.67 | NA | NA | 5.23 | 6.06 | 1.11 | NA | NA | 13.01 | 13.84 | 090
24360 |  | A | Reconstruct elbow joint | 12.44 | NA | NA | 7.82 | 9.08 | 2.05 | NA | NA | 22.31 | 23.57 | 090
24361 |  | A | Reconstruct elbow joint | 14.18 | NA | NA | 8.60 | 10.11 | 2.18 | NA | NA | 24.96 | 26.47 | 090
24362 |  | A | Reconstruct elbow joint | 15.09 | NA | NA | 9.11 | 9.83 | 2.60 | NA | NA | 26.80 | 27.52 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
24363 |  | A | Replace elbow joint | 22.39 | NA | NA | 12.69 | 13.49 | 3.01 | NA | NA | 38.09 | 38.89 | 090
24365 |  | A | Reconstruct head of radius | 8.44 | NA | NA | 5.83 | 6.87 | 1.41 | NA | NA | 15.68 | 16.72 | 090
24366 |  | A | Reconstruct head of radius | 9.18 | NA | NA | 6.19 | 7.22 | 1.52 | NA | NA | 16.89 | 17.92 | 090
24400 |  | A | Revision of humerus | 11.10 | NA | NA | 7.48 | 8.53 | 1.92 | NA | NA | 20.50 | 21.55 | 090
24410 |  | A | Revision of humerus | 14.86 | NA | NA | 9.14 | 10.04 | 2.57 | NA | NA | 26.57 | 27.47 | 090
24420 |  | A | Revision of humerus | 13.48 | NA | NA | 8.65 | 10.09 | 2.17 | NA | NA | 24.30 | 25.74 | 090
24430 |  | A | Repair of humerus | 14.99 | NA | NA | 8.73 | 9.51 | 2.21 | NA | NA | 25.93 | 26.71 | 090
24435 |  | A | Repair humerus with graft | 14.64 | NA | NA | 9.68 | 10.60 | 2.27 | NA | NA | 26.59 | 27.51 | 090
24470 |  | A | Revision of elbow joint | 8.73 | NA | NA | 6.31 | 7.38 | 1.48 | NA | NA | 16.52 | 17.59 | 090
24495 |  | A | Decompression of forearm | 8.23 | NA | NA | 6.68 | 8.25 | 1.18 | NA | NA | 16.09 | 17.66 | 090
24498 |  | A | Reinforce humerus | 12.08 | NA | NA | 7.59 | 8.87 | 2.06 | NA | NA | 21.73 | 23.01 | 090
24500 |  | A | Treat humerus fracture | 3.21 | 4.38 | 4.74 | 3.75 | 3.71 | 0.50 | 8.09 | 8.45 | 7.46 | 7.42 | 090
24505 |  | A | Treat humerus fracture | 5.16 | 5.78 | 6.41 | 4.82 | 5.26 | 0.89 | 11.83 | 12.46 | 10.87 | 11.31 | 090
24515 |  | A | Treat humerus fracture | 11.87 | NA | NA | 7.94 | 9.04 | 2.02 | NA | NA | 21.83 | 22.93 | 090
24516 |  | A | Treat humerus fracture | 11.99 | NA | NA | 7.56 | 8.75 | 2.02 | NA | NA | 21.57 | 22.76 | 090
24530 |  | A | Treat humerus fracture | 3.49 | 4.67 | 5.08 | 3.94 | 4.02 | 0.57 | 8.73 | 9.14 | 8.00 | 8.08 | 090
24535 |  | A | Treat humerus fracture | 6.86 | 6.73 | 7.58 | 5.77 | 6.42 | 1.18 | 14.77 | 15.62 | 13.81 | 14.46 | 090
24538 |  | A | Treat humerus fracture | 9.54 | NA | NA | 7.12 | 8.33 | 1.64 | NA | NA | 18.30 | 19.51 | 090
24545 |  | A | Treat humerus fracture | 10.80 | NA | NA | 7.10 | 8.13 | 1.82 | NA | NA | 19.72 | 20.75 | 090
24546 |  | A | Treat humerus fracture | 15.91 | NA | NA | 9.12 | 10.79 | 2.73 | NA | NA | 27.76 | 29.43 | 090
24560 |  | A | Treat humerus fracture | 2.80 | 4.00 | 4.37 | 3.33 | 3.23 | 0.44 | 7.24 | 7.61 | 6.57 | 6.47 | 090
24565 |  | A | Treat humerus fracture | 5.55 | 5.76 | 6.41 | 4.88 | 5.38 | 0.93 | 12.24 | 12.89 | 11.36 | 11.86 | 090
24566 |  | A | Treat humerus fracture | 8.78 | NA | NA | 6.86 | 7.85 | 1.30 | NA | NA | 16.94 | 17.93 | 090
24575 |  | A | Treat humerus fracture | 10.94 | NA | NA | 7.15 | 8.10 | 1.86 | NA | NA | 19.95 | 20.90 | 090
24576 |  | A | Treat humerus fracture | 2.86 | 4.38 | 4.67 | 3.68 | 3.71 | 0.46 | 7.70 | 7.99 | 7.00 | 7.03 | 090
24577 |  | A | Treat humerus fracture | 5.78 | 5.95 | 6.70 | 5.01 | 5.65 | 0.95 | 12.68 | 13.43 | 11.74 | 12.38 | 090
24579 |  | A | Treat humerus fracture | 11.88 | NA | NA | 7.53 | 8.53 | 2.02 | NA | NA | 21.43 | 22.43 | 090
24582 |  | A | Treat humerus fracture | 9.79 | NA | NA | 8.07 | 8.87 | 1.48 | NA | NA | 19.34 | 20.14 | 090
24586 |  | A | Treat elbow fracture | 15.55 | NA | NA | 9.18 | 10.74 | 2.64 | NA | NA | 27.37 | 28.93 | 090
24587 |  | A | Treat elbow fracture | 15.56 | NA | NA | 9.23 | 10.60 | 2.52 | NA | NA | 27.31 | 28.68 | 090
24600 |  | A | Treat elbow dislocation | 4.22 | 3.82 | 4.61 | 3.24 | 3.44 | 0.50 | 8.54 | 9.33 | 7.96 | 8.16 | 090
24605 |  | A | Treat elbow dislocation | 5.41 | NA | NA | 4.88 | 5.26 | 0.89 | NA | NA | 11.18 | 11.56 | 090
24615 |  | A | Treat elbow dislocation | 9.65 | NA | NA | 6.46 | 7.50 | 1.60 | NA | NA | 17.71 | 18.75 | 090
24620 |  | A | Treat elbow fracture | 6.97 | NA | NA | 5.38 | 6.05 | 1.07 | NA | NA | 13.42 | 14.09 | 090
24635 |  | A | Treat elbow fracture | 13.47 | NA | NA | 10.05 | 13.08 | 2.28 | NA | NA | 25.80 | 28.83 | 090
24640 |  | A | Treat elbow dislocation | 1.20 | 1.46 | 1.75 | 0.79 | 0.80 | 0.12 | 2.78 | 3.07 | 2.11 | 2.12 | 010
24650 |  | A | Treat radius fracture | 2.16 | 3.39 | 3.69 | 2.96 | 2.81 | 0.35 | 5.90 | 6.20 | 5.47 | 5.32 | 090
24655 |  | A | Treat radius fracture | 4.39 | 5.13 | 5.76 | 4.35 | 4.69 | 0.70 | 10.22 | 10.85 | 9.44 | 9.78 | 090
24665 |  | A | Treat radius fracture | 8.13 | NA | NA | 6.23 | 7.21 | 1.41 | NA | NA | 15.77 | 16.75 | 090
24666 |  | A | Treat radius fracture | 9.66 | NA | NA | 6.68 | 7.74 | 1.62 | NA | NA | 17.96 | 19.02 | 090
24670 |  | A | Treat ulnar fracture | 2.54 | 3.68 | 4.01 | 3.11 | 3.09 | 0.41 | 6.63 | 6.96 | 6.06 | 6.04 | 090
24675 |  | A | Treat ulnar fracture | 4.71 | 5.24 | 5.83 | 4.44 | 4.85 | 0.81 | 10.76 | 11.35 | 9.96 | 10.37 | 090
24685 |  | A | Treat ulnar fracture | 8.85 | NA | NA | 6.17 | 7.20 | 1.52 | NA | NA | 16.54 | 17.57 | 090
24800 |  | A | Fusion of elbow joint | 11.18 | NA | NA | 7.51 | 8.46 | 1.63 | NA | NA | 20.32 | 21.27 | 090
24802 |  | A | Fusion/graft of elbow joint | 14.09 | NA | NA | 8.42 | 9.91 | 2.37 | NA | NA | 24.88 | 26.37 | 090
24900 |  | A | Amputation of upper arm | 9.95 | NA | NA | 6.38 | 6.91 | 1.53 | NA | NA | 17.86 | 18.39 | 090
24920 |  | A | Amputation of upper arm | 9.95 | NA | NA | 6.28 | 6.79 | 1.61 | NA | NA | 17.84 | 18.35 | 090
24925 |  | A | Amputation follow-up surgery | 7.12 | NA | NA | 4.92 | 5.81 | 1.14 | NA | NA | 13.18 | 14.07 | 090
24930 |  | A | Amputation follow-up surgery | 10.65 | NA | NA | 5.88 | 6.92 | 1.67 | NA | NA | 18.20 | 19.24 | 090
24931 |  | A | Amputate upper arm & implant | 13.24 | NA | NA | 8.08 | 6.33 | 1.89 | NA | NA | 23.21 | 21.46 | 090
24935 |  | A | Revision of amputation | 16.20 | NA | NA | 7.29 | 7.85 | 2.13 | NA | NA | 25.62 | 26.18 | 090
25000 |  | A | Incision of tendon sheath | 3.37 | NA | NA | 4.99 | 6.42 | 0.55 | NA | NA | 8.91 | 10.34 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
25001 |  | A | Incise flexor carpi radialis | 3.62 | NA | NA | 3.79 | 4.13 | 0.55 | NA | NA | 7.96 | 8.30 | 090
25020 |  | A | Decompress forearm 1 space | 5.91 | NA | NA | 6.81 | 8.90 | 0.93 | NA | NA | 13.65 | 15.74 | 090
25023 |  | A | Decompress forearm 1 space | 13.60 | NA | NA | 11.31 | 14.06 | 2.03 | NA | NA | 26.94 | 29.69 | 090
25024 |  | A | Decompress forearm 2 spaces | 10.52 | NA | NA | 7.11 | 7.40 | 1.36 | NA | NA | 18.99 | 19.28 | 090
25025 |  | A | Decompress forearm 2 spaces | 17.67 | NA | NA | 8.92 | 9.73 | 1.82 | NA | NA | 28.41 | 29.22 | 090
25028 |  | A | Drainage of forearm lesion | 5.24 | NA | NA | 6.19 | 7.68 | 0.81 | NA | NA | 12.24 | 13.73 | 090
25031 |  | A | Drainage of forearm bursa | 4.13 | NA | NA | 5.40 | 7.31 | 0.63 | NA | NA | 10.16 | 12.07 | 090
25035 |  | A | Treat forearm bone lesion | 7.47 | NA | NA | 8.75 | 12.41 | 1.24 | NA | NA | 17.46 | 21.12 | 090
25040 |  | A | Explore/treat wrist joint | 7.35 | NA | NA | 5.80 | 6.94 | 1.15 | NA | NA | 14.30 | 15.44 | 090
25065 |  | A | Biopsy forearm soft tissues | 1.99 | 4.23 | 3.48 | 1.92 | 1.91 | 0.15 | 6.37 | 5.62 | 4.06 | 4.05 | 010
25066 |  | A | Biopsy forearm soft tissues | 4.12 | NA | NA | 5.39 | 6.66 | 0.64 | NA | NA | 10.15 | 11.42 | 090
25075 |  | A | Removal forearm lesion subcu | 3.73 | NA | NA | 4.86 | 5.65 | 0.55 | NA | NA | 9.14 | 9.93 | 090
25076 |  | A | Removal forearm lesion deep | 4.91 | NA | NA | 6.83 | 8.89 | 0.74 | NA | NA | 12.48 | 14.54 | 090
25077 |  | A | Remove tumor, forearm/wrist | 9.81 | NA | NA | 8.82 | 11.30 | 1.42 | NA | NA | 20.05 | 22.53 | 090
25085 |  | A | Incision of wrist capsule | 5.49 | NA | NA | 5.36 | 6.70 | 0.85 | NA | NA | 11.70 | 13.04 | 090
25100 |  | A | Biopsy of wrist joint | 3.89 | NA | NA | 4.21 | 5.02 | 0.59 | NA | NA | 8.69 | 9.50 | 090
25101 |  | A | Explore/treat wrist joint | 4.68 | NA | NA | 4.75 | 5.62 | 0.75 | NA | NA | 10.18 | 11.05 | 090
25105 |  | A | Remove wrist joint lining | 5.84 | NA | NA | 5.73 | 6.92 | 0.92 | NA | NA | 12.49 | 13.68 | 090
25107 |  | A | Remove wrist joint cartilage | 7.42 | NA | NA | 7.04 | 8.03 | 0.99 | NA | NA | 15.45 | 16.44 | 090
25110 |  | A | Remove wrist tendon lesion | 3.91 | NA | NA | 5.23 | 6.61 | 0.62 | NA | NA | 9.76 | 11.14 | 090
25111 |  | A | Remove wrist tendon lesion | 3.38 | NA | NA | 4.05 | 4.55 | 0.53 | NA | NA | 7.96 | 8.46 | 090
25112 |  | A | Reremove wrist tendon lesion | 4.52 | NA | NA | 4.47 | 5.07 | 0.70 | NA | NA | 9.69 | 10.29 | 090
25115 |  | A | Remove wrist/forearm lesion | 9.81 | NA | NA | 10.05 | 13.07 | 1.31 | NA | NA | 21.17 | 24.19 | 090
25116 |  | A | Remove wrist/forearm lesion | 7.28 | NA | NA | 8.95 | 12.12 | 1.11 | NA | NA | 17.34 | 20.51 | 090
25118 |  | A | Excise wrist tendon sheath | 4.36 | NA | NA | 4.56 | 5.46 | 0.68 | NA | NA | 9.60 | 10.50 | 090
25119 |  | A | Partial removal of ulna | 6.03 | NA | NA | 5.77 | 7.16 | 0.96 | NA | NA | 12.76 | 14.15 | 090
25120 |  | A | Removal of forearm lesion | 6.09 | NA | NA | 7.82 | 11.05 | 1.00 | NA | NA | 14.91 | 18.14 | 090
25125 |  | A | Remove/graft forearm lesion | 7.47 | NA | NA | 8.63 | 11.82 | 1.06 | NA | NA | 17.16 | 20.35 | 090
25126 |  | A | Remove/graft forearm lesion | 7.54 | NA | NA | 8.65 | 11.95 | 1.27 | NA | NA | 17.46 | 20.76 | 090
25130 |  | A | Removal of wrist lesion | 5.25 | NA | NA | 5.13 | 6.11 | 0.80 | NA | NA | 11.18 | 12.16 | 090
25135 |  | A | Remove & graft wrist lesion | 6.88 | NA | NA | 6.02 | 7.15 | 1.02 | NA | NA | 13.92 | 15.05 | 090
25136 |  | A | Remove & graft wrist lesion | 5.96 | NA | NA | 5.44 | 6.32 | 1.03 | NA | NA | 12.43 | 13.31 | 090
25145 |  | A | Remove forearm bone lesion | 6.36 | NA | NA | 8.00 | 11.07 | 1.01 | NA | NA | 15.37 | 18.44 | 090
25150 |  | A | Partial removal of ulna | 7.20 | NA | NA | 6.27 | 7.74 | 1.14 | NA | NA | 14.61 | 16.08 | 090
25151 |  | A | Partial removal of radius | 7.50 | NA | NA | 8.39 | 11.67 | 1.18 | NA | NA | 17.07 | 20.35 | 090
25170 |  | A | Extensive forearm surgery | 11.25 | NA | NA | 10.37 | 13.99 | 1.77 | NA | NA | 23.39 | 27.01 | 090
25210 |  | A | Removal of wrist bone | 5.94 | NA | NA | 5.44 | 6.47 | 0.88 | NA | NA | 12.26 | 13.29 | 090
25215 |  | A | Removal of wrist bones | 7.94 | NA | NA | 6.72 | 8.27 | 1.19 | NA | NA | 15.85 | 17.40 | 090
25230 |  | A | Partial removal of radius | 5.22 | NA | NA | 4.88 | 5.84 | 0.79 | NA | NA | 10.89 | 11.85 | 090
25240 |  | A | Partial removal of ulna | 5.16 | NA | NA | 5.19 | 6.53 | 0.81 | NA | NA | 11.16 | 12.50 | 090
25246 |  | A | Injection for wrist x-ray | 1.45 | 2.80 | 3.29 | 0.51 | 0.49 | 0.09 | 4.34 | 4.83 | 2.05 | 2.03 | 000
25248 |  | A | Remove forearm foreign body | 5.13 | NA | NA | 6.50 | 8.03 | 0.72 | NA | NA | 12.35 | 13.88 | 090
25250 |  | A | Removal of wrist prosthesis | 6.59 | NA | NA | 5.23 | 5.90 | 1.01 | NA | NA | 12.83 | 13.50 | 090
25251 |  | A | Removal of wrist prosthesis | 9.62 | NA | NA | 6.59 | 7.60 | 1.26 | NA | NA | 17.47 | 18.48 | 090
25259 |  | A | Manipulate wrist w/anesthes | 3.74 | NA | NA | 5.06 | 5.57 | 0.62 | NA | NA | 9.42 | 9.93 | 090
25260 |  | A | Repair forearm tendon/muscle | 7.79 | NA | NA | 9.08 | 12.28 | 1.19 | NA | NA | 18.06 | 21.26 | 090
25263 |  | A | Repair forearm tendon/muscle | 7.81 | NA | NA | 8.83 | 12.18 | 1.18 | NA | NA | 17.82 | 21.17 | 090
25265 |  | A | Repair forearm tendon/muscle | 9.87 | NA | NA | 9.85 | 13.23 | 1.47 | NA | NA | 21.19 | 24.57 | 090
25270 |  | A | Repair forearm tendon/muscle | 5.99 | NA | NA | 7.78 | 10.99 | 0.95 | NA | NA | 14.72 | 17.93 | 090
25272 |  | A | Repair forearm tendon/muscle | 7.03 | NA | NA | 8.25 | 11.69 | 1.11 | NA | NA | 16.39 | 19.83 | 090
25274 |  | A | Repair forearm tendon/muscle | 8.74 | NA | NA | 9.06 | 12.51 | 1.36 | NA | NA | 19.16 | 22.61 | 090
25275 |  | A | Repair forearm tendon sheath | 8.74 | NA | NA | 6.38 | 7.30 | 1.31 | NA | NA | 16.43 | 17.35 | 090
25280 |  | A | Revise wrist/forearm tendon | 7.21 | NA | NA | 8.33 | 11.59 | 1.08 | NA | NA | 16.62 | 19.88 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
25290 |  | A | Incise wrist/forearm tendon | 5.28 | NA | NA | 9.05 | 13.54 | 0.82 | NA | NA | 15.15 | 19.64 | 090
25295 |  | A | Release wrist/forearm tendon | 6.54 | NA | NA | 8.02 | 11.15 | 1.00 | NA | NA | 15.56 | 18.69 | 090
25300 |  | A | Fusion of tendons at wrist | 8.79 | NA | NA | 7.06 | 8.12 | 1.26 | NA | NA | 17.11 | 18.17 | 090
25301 |  | A | Fusion of tendons at wrist | 8.39 | NA | NA | 6.61 | 7.71 | 1.29 | NA | NA | 16.29 | 17.39 | 090
25310 |  | A | Transplant forearm tendon | 8.19 | NA | NA | 8.68 | 11.97 | 1.21 | NA | NA | 18.08 | 21.37 | 090
25312 |  | A | Transplant forearm tendon | 9.62 | NA | NA | 9.46 | 12.85 | 1.41 | NA | NA | 20.49 | 23.88 | 090
25315 |  | A | Revise palsy hand tendon(s) | 10.48 | NA | NA | 9.82 | 13.29 | 1.58 | NA | NA | 21.88 | 25.35 | 090
25316 |  | A | Revise palsy hand tendon(s) | 12.67 | NA | NA | 10.89 | 14.93 | 1.74 | NA | NA | 25.30 | 29.34 | 090
25320 |  | A | Repair/revise wrist joint | 12.28 | NA | NA | 10.20 | 11.12 | 1.61 | NA | NA | 24.09 | 25.01 | 090
25332 |  | A | Revise wrist joint | 11.51 | NA | NA | 7.59 | 8.80 | 1.83 | NA | NA | 20.93 | 22.14 | 090
25335 |  | A | Realignment of hand | 13.16 | NA | NA | 6.87 | 10.43 | 1.92 | NA | NA | 21.95 | 25.51 | 090
25337 |  | A | Reconstruct ulna/radioulnar | 11.36 | NA | NA | 9.24 | 10.64 | 1.61 | NA | NA | 22.21 | 23.61 | 090
25350 |  | A | Revision of radius | 8.89 | NA | NA | 9.12 | 12.79 | 1.46 | NA | NA | 19.47 | 23.14 | 090
25355 |  | A | Revision of radius | 10.33 | NA | NA | 9.86 | 13.45 | 1.73 | NA | NA | 21.92 | 25.51 | 090
25360 |  | A | Revision of ulna | 8.54 | NA | NA | 8.99 | 12.68 | 1.41 | NA | NA | 18.94 | 22.63 | 090
25365 |  | A | Revise radius & ulna | 12.68 | NA | NA | 10.88 | 14.49 | 2.15 | NA | NA | 25.71 | 29.32 | 090
25370 |  | A | Revise radius or ulna | 13.82 | NA | NA | 11.76 | 15.03 | 2.28 | NA | NA | 27.86 | 31.13 | 090
25375 |  | A | Revise radius & ulna | 13.32 | NA | NA | 11.14 | 15.14 | 2.26 | NA | NA | 26.72 | 30.72 | 090
25390 |  | A | Shorten radius or ulna | 10.50 | NA | NA | 9.78 | 13.41 | 1.65 | NA | NA | 21.93 | 25.56 | 090
25391 |  | A | Lengthen radius or ulna | 14.05 | NA | NA | 11.46 | 15.32 | 2.21 | NA | NA | 27.72 | 31.58 | 090
25392 |  | A | Shorten radius & ulna | 14.35 | NA | NA | 11.59 | 14.91 | 2.10 | NA | NA | 28.04 | 31.36 | 090
25393 |  | A | Lengthen radius & ulna | 16.33 | NA | NA | 12.90 | 16.45 | 2.76 | NA | NA | 31.99 | 35.54 | 090
25394 |  | A | Repair carpal bone, shorten | 10.63 | NA | NA | 6.67 | 7.73 | 1.59 | NA | NA | 18.89 | 19.95 | 090
25400 |  | A | Repair radius or ulna | 11.08 | NA | NA | 10.01 | 13.93 | 1.82 | NA | NA | 22.91 | 26.83 | 090
25405 |  | A | Repair/graft radius or ulna | 14.78 | NA | NA | 11.72 | 15.92 | 2.32 | NA | NA | 28.82 | 33.02 | 090
25415 |  | A | Repair radius & ulna | 13.57 | NA | NA | 10.81 | 15.12 | 2.17 | NA | NA | 26.55 | 30.86 | 090
25420 |  | A | Repair/graft radius & ulna | 16.79 | NA | NA | 12.55 | 16.88 | 2.61 | NA | NA | 31.95 | 36.28 | 090
25425 |  | A | Repair/graft radius or ulna | 13.49 | NA | NA | 13.91 | 19.57 | 2.08 | NA | NA | 29.48 | 35.14 | 090
25426 |  | A | Repair/graft radius & ulna | 16.22 | NA | NA | 12.27 | 15.52 | 2.54 | NA | NA | 31.03 | 34.28 | 090
25430 |  | A | Vasc graft into carpal bone | 9.49 | NA | NA | 6.67 | 7.19 | 1.27 | NA | NA | 17.43 | 17.95 | 090
25431 |  | A | Repair nonunion carpal bone | 10.67 | NA | NA | 7.13 | 8.10 | 1.90 | NA | NA | 19.70 | 20.67 | 090
25440 |  | A | Repair/graft wrist bone | 10.48 | NA | NA | 7.36 | 8.91 | 1.63 | NA | NA | 19.47 | 21.02 | 090
25441 |  | A | Reconstruct wrist joint | 13.06 | NA | NA | 8.32 | 9.60 | 2.07 | NA | NA | 23.45 | 24.73 | 090
25442 |  | A | Reconstruct wrist joint | 10.89 | NA | NA | 7.19 | 8.48 | 1.53 | NA | NA | 19.61 | 20.90 | 090
25443 |  | A | Reconstruct wrist joint | 10.43 | NA | NA | 6.54 | 8.24 | 1.37 | NA | NA | 18.34 | 20.04 | 090
25444 |  | A | Reconstruct wrist joint | 11.19 | NA | NA | 7.51 | 8.67 | 1.71 | NA | NA | 20.41 | 21.57 | 090
25445 |  | A | Reconstruct wrist joint | 9.68 | NA | NA | 6.59 | 7.66 | 1.55 | NA | NA | 17.82 | 18.89 | 090
25446 |  | A | Wrist replacement | 17.07 | NA | NA | 9.68 | 11.38 | 2.47 | NA | NA | 29.22 | 30.92 | 090
25447 |  | A | Repair wrist joint(s) | 10.85 | NA | NA | 7.30 | 8.34 | 1.61 | NA | NA | 19.76 | 20.80 | 090
25449 |  | A | Remove wrist joint implant | 14.71 | NA | NA | 8.87 | 10.24 | 2.21 | NA | NA | 25.79 | 27.16 | 090
25450 |  | A | Revision of wrist joint | 7.86 | NA | NA | 7.22 | 9.47 | 1.36 | NA | NA | 16.44 | 18.69 | 090
25455 |  | A | Revision of wrist joint | 9.48 | NA | NA | 6.38 | 9.76 | 0.96 | NA | NA | 16.82 | 20.20 | 090
25490 |  | A | Reinforce radius | 9.53 | NA | NA | 9.32 | 12.66 | 1.43 | NA | NA | 20.28 | 23.62 | 090
25491 |  | A | Reinforce ulna | 9.95 | NA | NA | 9.57 | 13.27 | 1.60 | NA | NA | 21.12 | 24.82 | 090
25492 |  | A | Reinforce radius and ulna | 12.43 | NA | NA | 10.42 | 14.11 | 2.14 | NA | NA | 24.99 | 28.68 | 090
25500 |  | A | Treat fracture of radius | 2.45 | 3.29 | 3.51 | 2.85 | 2.75 | 0.35 | 6.09 | 6.31 | 5.65 | 5.55 | 090
25505 |  | A | Treat fracture of radius | 5.20 | 5.78 | 6.37 | 4.93 | 5.31 | 0.90 | 11.88 | 12.47 | 11.03 | 11.41 | 090
25515 |  | A | Treat fracture of radius | 9.29 | NA | NA | 6.44 | 7.22 | 1.59 | NA | NA | 17.32 | 18.10 | 090
25520 |  | A | Treat fracture of radius | 6.25 | 5.89 | 6.63 | 5.31 | 5.89 | 1.08 | 13.22 | 13.96 | 12.64 | 13.22 | 090
25525 |  | A | Treat fracture of radius | 12.59 | NA | NA | 8.39 | 9.61 | 2.12 | NA | NA | 23.10 | 24.32 | 090
25526 |  | A | Treat fracture of radius | 13.33 | NA | NA | 10.05 | 12.67 | 2.19 | NA | NA | 25.57 | 28.19 | 090
25530 |  | A | Treat fracture of ulna | 2.09 | 3.43 | 3.69 | 2.92 | 2.88 | 0.34 | 5.86 | 6.12 | 5.35 | 5.31 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
25535 |  | A | Treat fracture of ulna | 5.13 | 5.60 | 5.92 | 4.85 | 5.20 | 0.89 | 11.62 | 11.94 | 10.87 | 11.22 | 090
25545 |  | A | Treat fracture of ulna | 9.01 | NA | NA | 6.33 | 7.34 | 1.53 | NA | NA | 16.87 | 17.88 | 090
25560 |  | A | Treat fracture radius & ulna | 2.44 | 3.34 | 3.61 | 2.83 | 2.67 | 0.35 | 6.13 | 6.40 | 5.62 | 5.46 | 090
25565 |  | A | Treat fracture radius & ulna | 5.62 | 5.88 | 6.51 | 4.90 | 5.31 | 0.93 | 12.43 | 13.06 | 11.45 | 11.86 | 090
25574 |  | A | Treat fracture radius & ulna | 7.37 | NA | NA | 6.34 | 7.00 | 1.21 | NA | NA | 14.92 | 15.58 | 090
25575 |  | A | Treat fracture radius/ulna | 11.92 | NA | NA | 8.65 | 9.32 | 1.81 | NA | NA | 22.38 | 23.05 | 090
25600 |  | A | Treat fracture radius/ulna | 2.63 | 3.64 | 3.99 | 3.13 | 3.02 | 0.42 | 6.69 | 7.04 | 6.18 | 6.07 | 090
25605 |  | A | Treat fracture radius/ulna | 6.92 | 6.80 | 7.14 | 6.08 | 6.20 | 1.00 | 14.72 | 15.06 | 14.00 | 14.12 | 090
25611 |  | A | Treat fracture radius/ulna | 9.13 | NA | NA | 8.01 | 8.75 | 1.34 | NA | NA | 18.48 | 19.22 | 090
25620 |  | A | Treat fracture radius/ulna | 8.54 | NA | NA | 5.98 | 6.96 | 1.42 | NA | NA | 15.94 | 16.92 | 090
25622 |  | A | Treat wrist bone fracture | 2.61 | 3.85 | 4.17 | 3.31 | 3.16 | 0.41 | 6.87 | 7.19 | 6.33 | 6.18 | 090
25624 |  | A | Treat wrist bone fracture | 4.52 | 5.52 | 6.12 | 4.67 | 4.98 | 0.76 | 10.80 | 11.40 | 9.95 | 10.26 | 090
25628 |  | A | Treat wrist bone fracture | 9.42 | NA | NA | 7.02 | 7.64 | 1.37 | NA | NA | 17.81 | 18.43 | 090
25630 |  | A | Treat wrist bone fracture | 2.88 | 3.71 | 4.07 | 3.20 | 3.01 | 0.45 | 7.04 | 7.40 | 6.53 | 6.34 | 090
25635 |  | A | Treat wrist bone fracture | 4.38 | 5.31 | 5.80 | 4.50 | 4.06 | 0.74 | 10.43 | 10.92 | 9.62 | 9.18 | 090
25645 |  | A | Treat wrist bone fracture | 7.24 | NA | NA | 5.52 | 6.37 | 1.20 | NA | NA | 13.96 | 14.81 | 090
25650 |  | A | Treat wrist bone fracture | 3.05 | 3.80 | 4.19 | 3.40 | 3.24 | 0.45 | 7.30 | 7.69 | 6.90 | 6.74 | 090
25651 |  | A | Pin ulnar styloid fracture | 5.60 | NA | NA | 5.04 | 5.39 | 0.86 | NA | NA | 11.50 | 11.85 | 090
25652 |  | A | Treat fracture ulnar styloid | 7.84 | NA | NA | 6.11 | 6.79 | 1.21 | NA | NA | 15.16 | 15.84 | 090
25660 |  | A | Treat wrist dislocation | 4.75 | NA | NA | 4.42 | 4.65 | 0.58 | NA | NA | 9.75 | 9.98 | 090
25670 |  | A | Treat wrist dislocation | 7.91 | NA | NA | 5.70 | 6.68 | 1.28 | NA | NA | 14.89 | 15.87 | 090
25671 |  | A | Pin radioulnar dislocation | 6.24 | NA | NA | 5.44 | 5.99 | 1.00 | NA | NA | 12.68 | 13.23 | 090
25675 |  | A | Treat wrist dislocation | 4.66 | 4.82 | 5.46 | 4.09 | 4.52 | 0.62 | 10.10 | 10.74 | 9.37 | 9.80 | 090
25676 |  | A | Treat wrist dislocation | 8.09 | NA | NA | 6.05 | 7.00 | 1.34 | NA | NA | 15.48 | 16.43 | 090
25680 |  | A | Treat wrist fracture | 5.98 | NA | NA | 4.29 | 4.64 | 0.78 | NA | NA | 11.05 | 11.40 | 090
25685 |  | A | Treat wrist fracture | 9.89 | NA | NA | 6.38 | 7.46 | 1.60 | NA | NA | 17.87 | 18.95 | 090
25690 |  | A | Treat wrist dislocation | 5.49 | NA | NA | 4.76 | 5.33 | 0.88 | NA | NA | 11.13 | 11.70 | 090
25695 |  | A | Treat wrist dislocation | 8.33 | NA | NA | 5.90 | 6.81 | 1.32 | NA | NA | 15.55 | 16.46 | 090
25800 |  | A | Fusion of wrist joint | 9.87 | NA | NA | 7.15 | 8.63 | 1.57 | NA | NA | 18.59 | 20.07 | 090
25805 |  | A | Fusion/graft of wrist joint | 11.50 | NA | NA | 8.02 | 9.72 | 1.80 | NA | NA | 21.32 | 23.02 | 090
25810 |  | A | Fusion/graft of wrist joint | 11.67 | NA | NA | 8.40 | 9.55 | 1.67 | NA | NA | 21.74 | 22.89 | 090
25820 |  | A | Fusion of hand bones | 7.44 | NA | NA | 6.18 | 7.45 | 1.22 | NA | NA | 14.84 | 16.11 | 090
25825 |  | A | Fuse hand bones with graft | 9.44 | NA | NA | 7.43 | 8.80 | 1.41 | NA | NA | 18.28 | 19.65 | 090
25830 |  | A | Fusion, radioulnar jnt/ulna | 10.61 | NA | NA | 10.30 | 13.41 | 1.55 | NA | NA | 22.46 | 25.57 | 090
25900 |  | A | Amputation of forearm | 9.36 | NA | NA | 9.16 | 11.74 | 1.30 | NA | NA | 19.82 | 22.40 | 090
25905 |  | A | Amputation of forearm | 9.41 | NA | NA | 8.39 | 11.35 | 1.40 | NA | NA | 19.20 | 22.16 | 090
25907 |  | A | Amputation follow-up surgery | 7.91 | NA | NA | 7.75 | 10.78 | 1.10 | NA | NA | 16.76 | 19.79 | 090
25909 |  | A | Amputation follow-up surgery | 9.13 | NA | NA | 8.90 | 11.46 | 1.44 | NA | NA | 19.47 | 22.03 | 090
25915 |  | A | Amputation of forearm | 17.30 | NA | NA | 8.05 | 16.21 | 2.93 | NA | NA | 28.28 | 36.44 | 090
25920 |  | A | Amputate hand at wrist | 8.85 | NA | NA | 6.61 | 7.56 | 1.35 | NA | NA | 16.81 | 17.76 | 090
25922 |  | A | Amputate hand at wrist | 7.47 | NA | NA | 6.27 | 6.87 | 1.12 | NA | NA | 14.86 | 15.46 | 090
25924 |  | A | Amputation follow-up surgery | 8.63 | NA | NA | 6.58 | 7.73 | 1.32 | NA | NA | 16.53 | 17.68 | 090
25927 |  | A | Amputation of hand | 8.91 | NA | NA | 8.51 | 10.91 | 1.27 | NA | NA | 18.69 | 21.09 | 090
25929 |  | A | Amputation follow-up surgery | 7.64 | NA | NA | 5.30 | 5.74 | 1.14 | NA | NA | 14.08 | 14.52 | 090
25931 |  | A | Amputation follow-up surgery | 7.86 | NA | NA | 8.38 | 10.71 | 1.15 | NA | NA | 17.39 | 19.72 | 090
26010 |  | A | Drainage of finger abscess | 1.54 | 3.98 | 5.18 | 1.49 | 1.60 | 0.18 | 5.70 | 6.90 | 3.21 | 3.32 | 010
26011 |  | A | Drainage of finger abscess | 2.19 | 6.22 | 8.19 | 1.95 | 2.24 | 0.33 | 8.74 | 10.71 | 4.47 | 4.76 | 010
26020 |  | A | Drain hand tendon sheath | 4.90 | NA | NA | 4.67 | 5.20 | 0.73 | NA | NA | 10.30 | 10.83 | 090
26025 |  | A | Drainage of palm bursa | 4.93 | NA | NA | 4.38 | 4.94 | 0.76 | NA | NA | 10.07 | 10.63 | 090
26030 |  | A | Drainage of palm bursa(s) | 6.10 | NA | NA | 4.90 | 5.53 | 0.92 | NA | NA | 11.92 | 12.55 | 090
26034 |  | A | Treat hand bone lesion | 6.40 | NA | NA | 5.46 | 6.14 | 1.01 | NA | NA | 12.87 | 13.55 | 090
26035 |  | A | Decompress fingers/hand | 11.04 | NA | NA | 7.85 | 7.88 | 1.47 | NA | NA | 20.36 | 20.39 | 090
26037 |  | A | Decompress fingers/hand | 7.42 | NA | NA | 5.41 | 6.11 | 1.13 | NA | NA | 13.96 | 14.66 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
26040 |  | A | Release palm contracture | 3.33 | NA | NA | 3.54 | 3.93 | 0.53 | NA | NA | 7.40 | 7.79 | 090
26045 |  | A | Release palm contracture | 5.55 | NA | NA | 4.80 | 5.45 | 0.93 | NA | NA | 11.28 | 11.93 | 090
26055 |  | A | Incise finger tendon sheath | 2.94 | 8.65 | 12.96 | 3.45 | 3.83 | 0.43 | 12.02 | 16.33 | 6.82 | 7.20 | 090
26060 |  | A | Incision of finger tendon | 2.81 | NA | NA | 3.00 | 3.39 | 0.45 | NA | NA | 6.26 | 6.65 | 090
26070 |  | A | Explore/treat hand joint | 3.68 | NA | NA | 2.99 | 3.28 | 0.48 | NA | NA | 7.15 | 7.44 | 090
26075 |  | A | Explore/treat finger joint | 3.78 | NA | NA | 3.36 | 3.68 | 0.53 | NA | NA | 7.67 | 7.99 | 090
26080 |  | A | Explore/treat finger joint | 4.29 | NA | NA | 4.27 | 4.71 | 0.66 | NA | NA | 9.22 | 9.66 | 090
26100 |  | A | Biopsy hand joint lining | 3.66 | NA | NA | 3.52 | 3.99 | 0.54 | NA | NA | 7.72 | 8.19 | 090
26105 |  | A | Biopsy finger joint lining | 3.70 | NA | NA | 3.68 | 4.10 | 0.59 | NA | NA | 7.97 | 8.39 | 090
26110 |  | A | Biopsy finger joint lining | 3.52 | NA | NA | 3.54 | 3.92 | 0.53 | NA | NA | 7.59 | 7.97 | 090
26115 |  | A | Removal hand lesion subcut | 3.85 | 9.73 | 12.28 | 4.16 | 4.63 | 0.59 | 14.17 | 16.72 | 8.60 | 9.07 | 090
26116 |  | A | Removal hand lesion, deep | 5.52 | NA | NA | 5.21 | 5.82 | 0.84 | NA | NA | 11.57 | 12.18 | 090
26117 |  | A | Remove tumor, hand/finger | 8.54 | NA | NA | 6.09 | 6.83 | 1.26 | NA | NA | 15.89 | 16.63 | 090
26121 |  | A | Release palm contracture | 7.53 | NA | NA | 5.83 | 6.69 | 1.17 | NA | NA | 14.53 | 15.39 | 090
26123 |  | A | Release palm contracture | 10.53 | NA | NA | 8.08 | 8.68 | 1.43 | NA | NA | 20.04 | 20.64 | 090
26125 |  | A | Release palm contracture | 4.60 | NA | NA | 1.85 | 2.30 | 0.70 | NA | NA | 7.15 | 7.60 | ZZZ
26130 |  | A | Remove wrist joint lining | 5.41 | NA | NA | 4.76 | 5.21 | 0.94 | NA | NA | 11.11 | 11.56 | 090
26135 |  | A | Revise finger joint, each | 6.95 | NA | NA | 5.39 | 6.21 | 1.07 | NA | NA | 13.41 | 14.23 | 090
26140 |  | A | Revise finger joint, each | 6.16 | NA | NA | 5.08 | 5.82 | 0.92 | NA | NA | 12.16 | 12.90 | 090
26145 |  | A | Tendon excision, palm/finger | 6.31 | NA | NA | 5.10 | 5.83 | 0.97 | NA | NA | 12.38 | 13.11 | 090
26160 |  | A | Remove tendon sheath lesion | 3.40 | 8.79 | 11.51 | 3.73 | 4.03 | 0.49 | 12.68 | 15.40 | 7.62 | 7.92 | 090
26170 |  | A | Removal of palm tendon, each | 4.76 | NA | NA | 4.29 | 4.79 | 0.69 | NA | NA | 9.74 | 10.24 | 090
26180 |  | A | Removal of finger tendon | 5.17 | NA | NA | 4.69 | 5.25 | 0.78 | NA | NA | 10.64 | 11.20 | 090
26185 |  | A | Remove finger bone | 6.24 | NA | NA | 5.72 | 5.97 | 0.81 | NA | NA | 12.77 | 13.02 | 090
26200 |  | A | Remove hand bone lesion | 5.50 | NA | NA | 4.51 | 5.16 | 0.88 | NA | NA | 10.89 | 11.54 | 090
26205 |  | A | Remove/graft bone lesion | 7.75 | NA | NA | 5.75 | 6.62 | 1.20 | NA | NA | 14.70 | 15.57 | 090
26210 |  | A | Removal of finger lesion | 5.14 | NA | NA | 4.67 | 5.25 | 0.79 | NA | NA | 10.60 | 11.18 | 090
26215 |  | A | Remove/graft finger lesion | 7.09 | NA | NA | 5.46 | 6.11 | 0.98 | NA | NA | 13.53 | 14.18 | 090
26230 |  | A | Partial removal of hand bone | 6.32 | NA | NA | 4.92 | 5.68 | 1.01 | NA | NA | 12.25 | 13.01 | 090
26235 |  | A | Partial removal, finger bone | 6.18 | NA | NA | 4.87 | 5.59 | 0.95 | NA | NA | 12.00 | 12.72 | 090
26236 |  | A | Partial removal, finger bone | 5.31 | NA | NA | 4.47 | 5.12 | 0.81 | NA | NA | 10.59 | 11.24 | 090
26250 |  | A | Extensive hand surgery | 7.54 | NA | NA | 5.14 | 6.12 | 1.07 | NA | NA | 13.75 | 14.73 | 090
26255 |  | A | Extensive hand surgery | 12.71 | NA | NA | 8.22 | 9.11 | 1.68 | NA | NA | 22.61 | 23.50 | 090
26260 |  | A | Extensive finger surgery | 7.02 | NA | NA | 5.27 | 5.97 | 1.01 | NA | NA | 13.30 | 14.00 | 090
26261 |  | A | Extensive finger surgery | 9.20 | NA | NA | 6.74 | 6.33 | 1.14 | NA | NA | 17.08 | 16.67 | 090
26262 |  | A | Partial removal of finger | 5.66 | NA | NA | 4.58 | 5.16 | 0.88 | NA | NA | 11.12 | 11.70 | 090
26320 |  | A | Removal of implant from hand | 3.97 | NA | NA | 3.71 | 4.17 | 0.59 | NA | NA | 8.27 | 8.73 | 090
26340 |  | A | Manipulate finger w/anesth | 2.50 | NA | NA | 4.54 | 4.80 | 0.39 | NA | NA | 7.43 | 7.69 | 090
26350 |  | A | Repair finger/hand tendon | 5.98 | NA | NA | 9.32 | 13.32 | 0.93 | NA | NA | 16.23 | 20.23 | 090
26352 |  | A | Repair/graft hand tendon | 7.67 | NA | NA | 9.89 | 14.02 | 1.13 | NA | NA | 18.69 | 22.82 | 090
26356 |  | A | Repair finger/hand tendon | 10.06 | NA | NA | 13.47 | 17.18 | 1.21 | NA | NA | 24.74 | 28.45 | 090
26357 |  | A | Repair finger/hand tendon | 8.57 | NA | NA | 10.13 | 14.29 | 1.33 | NA | NA | 20.03 | 24.19 | 090
26358 |  | A | Repair/graft hand tendon | 9.13 | NA | NA | 10.64 | 15.18 | 1.38 | NA | NA | 21.15 | 25.69 | 090
26370 |  | A | Repair finger/hand tendon | 7.10 | NA | NA | 9.36 | 13.70 | 1.12 | NA | NA | 17.58 | 21.92 | 090
26372 |  | A | Repair/graft hand tendon | 8.81 | NA | NA | 10.32 | 15.02 | 1.40 | NA | NA | 20.53 | 25.23 | 090
26373 |  | A | Repair finger/hand tendon | 8.21 | NA | NA | 10.01 | 14.57 | 1.23 | NA | NA | 19.45 | 24.01 | 090
26390 |  | A | Revise hand/finger tendon | 9.24 | NA | NA | 8.93 | 12.22 | 1.40 | NA | NA | 19.57 | 22.86 | 090
26392 |  | A | Repair/graft hand tendon | 10.30 | NA | NA | 10.84 | 15.29 | 1.57 | NA | NA | 22.71 | 27.16 | 090
26410 |  | A | Repair hand tendon | 4.62 | NA | NA | 7.46 | 10.84 | 0.73 | NA | NA | 12.81 | 16.19 | 090
26412 |  | A | Repair/graft hand tendon | 6.30 | NA | NA | 8.45 | 12.10 | 0.97 | NA | NA | 15.72 | 19.37 | 090
26415 |  | A | Excision, hand/finger tendon | 8.33 | NA | NA | 6.64 | 10.52 | 0.98 | NA | NA | 15.95 | 19.83 | 090
26416 |  | A | Graft hand or finger tendon | 9.36 | NA | NA | 8.62 | 13.13 | 0.79 | NA | NA | 18.77 | 23.28 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
26418 |  | A | Repair finger tendon | 4.24 | NA | NA | 7.97 | 11.26 | 0.67 | NA | NA | 12.88 | 16.17 | 090
26420 |  | A | Repair/graft finger tendon | 6.76 | NA | NA | 8.61 | 12.41 | 1.07 | NA | NA | 16.44 | 20.24 | 090
26426 |  | A | Repair finger/hand tendon | 6.14 | NA | NA | 8.40 | 12.00 | 0.95 | NA | NA | 15.49 | 19.09 | 090
26428 |  | A | Repair/graft finger tendon | 7.20 | NA | NA | 9.05 | 12.69 | 1.09 | NA | NA | 17.34 | 20.98 | 090
26432 |  | A | Repair finger tendon | 4.01 | NA | NA | 6.62 | 9.37 | 0.64 | NA | NA | 11.27 | 14.02 | 090
26433 |  | A | Repair finger tendon | 4.55 | NA | NA | 6.83 | 9.82 | 0.72 | NA | NA | 12.10 | 15.09 | 090
26434 |  | A | Repair/graft finger tendon | 6.08 | NA | NA | 7.75 | 10.62 | 0.93 | NA | NA | 14.76 | 17.63 | 090
26437 |  | A | Realignment of tendons | 5.81 | NA | NA | 7.61 | 10.60 | 0.89 | NA | NA | 14.31 | 17.30 | 090
26440 |  | A | Release palm/finger tendon | 5.01 | NA | NA | 8.32 | 12.18 | 0.75 | NA | NA | 14.08 | 17.94 | 090
26442 |  | A | Release palm & finger tendon | 9.40 | NA | NA | 11.44 | 14.85 | 1.20 | NA | NA | 22.04 | 25.45 | 090
26445 |  | A | Release hand/finger tendon | 4.30 | NA | NA | 8.00 | 11.89 | 0.65 | NA | NA | 12.95 | 16.84 | 090
26449 |  | A | Release forearm/hand tendon | 8.24 | NA | NA | 11.14 | 14.65 | 1.06 | NA | NA | 20.44 | 23.95 | 090
26450 |  | A | Incision of palm tendon | 3.66 | NA | NA | 5.04 | 6.77 | 0.59 | NA | NA | 9.29 | 11.02 | 090
26455 |  | A | Incision of finger tendon | 3.63 | NA | NA | 4.99 | 6.72 | 0.58 | NA | NA | 9.20 | 10.93 | 090
26460 |  | A | Incise hand/finger tendon | 3.45 | NA | NA | 4.94 | 6.61 | 0.55 | NA | NA | 8.94 | 10.61 | 090
26471 |  | A | Fusion of finger tendons | 5.72 | NA | NA | 7.55 | 10.34 | 0.88 | NA | NA | 14.15 | 16.94 | 090
26474 |  | A | Fusion of finger tendons | 5.31 | NA | NA | 7.38 | 10.41 | 0.76 | NA | NA | 13.45 | 16.48 | 090
26476 |  | A | Tendon lengthening | 5.17 | NA | NA | 7.29 | 10.04 | 0.79 | NA | NA | 13.25 | 16.00 | 090
26477 |  | A | Tendon shortening | 5.14 | NA | NA | 7.37 | 10.16 | 0.81 | NA | NA | 13.32 | 16.11 | 090
26478 |  | A | Lengthening of hand tendon | 5.79 | NA | NA | 7.56 | 10.79 | 0.90 | NA | NA | 14.25 | 17.48 | 090
26479 |  | A | Shortening of hand tendon | 5.73 | NA | NA | 7.54 | 10.58 | 0.92 | NA | NA | 14.19 | 17.23 | 090
26480 |  | A | Transplant hand tendon | 6.68 | NA | NA | 9.44 | 13.67 | 1.02 | NA | NA | 17.14 | 21.37 | 090
26483 |  | A | Transplant/graft hand tendon | 8.28 | NA | NA | 10.07 | 14.17 | 1.26 | NA | NA | 19.61 | 23.71 | 090
26485 |  | A | Transplant palm tendon | 7.69 | NA | NA | 9.79 | 14.00 | 1.15 | NA | NA | 18.63 | 22.84 | 090
26489 |  | A | Transplant/graft palm tendon | 9.66 | NA | NA | 10.13 | 11.60 | 1.26 | NA | NA | 21.05 | 22.52 | 090
26490 |  | A | Revise thumb tendon | 8.40 | NA | NA | 8.75 | 11.83 | 1.21 | NA | NA | 18.36 | 21.44 | 090
26492 |  | A | Tendon transfer with graft | 9.61 | NA | NA | 9.61 | 12.63 | 1.40 | NA | NA | 20.62 | 23.64 | 090
26494 |  | A | Hand tendon/muscle transfer | 8.46 | NA | NA | 8.87 | 11.98 | 1.28 | NA | NA | 18.61 | 21.72 | 090
26496 |  | A | Revise thumb tendon | 9.58 | NA | NA | 9.30 | 12.28 | 1.45 | NA | NA | 20.33 | 23.31 | 090
26497 |  | A | Finger tendon transfer | 9.56 | NA | NA | 9.27 | 12.53 | 1.41 | NA | NA | 20.24 | 23.50 | 090
26498 |  | A | Finger tendon transfer | 13.98 | NA | NA | 11.28 | 14.98 | 2.10 | NA | NA | 27.36 | 31.06 | 090
26499 |  | A | Revision of finger | 8.97 | NA | NA | 8.61 | 11.96 | 1.35 | NA | NA | 18.93 | 22.28 | 090
26500 |  | A | Hand tendon reconstruction | 5.95 | NA | NA | 7.62 | 10.51 | 0.90 | NA | NA | 14.47 | 17.36 | 090
26502 |  | A | Hand tendon reconstruction | 7.13 | NA | NA | 8.20 | 11.09 | 1.13 | NA | NA | 16.46 | 19.35 | 090
26504 |  | A | Hand tendon reconstruction | 7.46 | NA | NA | 8.46 | 11.58 | 1.24 | NA | NA | 17.16 | 20.28 | 090
26508 |  | A | Release thumb contracture | 6.00 | NA | NA | 7.64 | 10.69 | 0.98 | NA | NA | 14.62 | 17.67 | 090
26510 |  | A | Thumb tendon transfer | 5.42 | NA | NA | 7.46 | 10.39 | 0.79 | NA | NA | 13.67 | 16.60 | 090
26516 |  | A | Fusion of knuckle joint | 7.14 | NA | NA | 8.11 | 11.23 | 1.10 | NA | NA | 16.35 | 19.47 | 090
26517 |  | A | Fusion of knuckle joints | 8.88 | NA | NA | 9.07 | 12.42 | 1.41 | NA | NA | 19.36 | 22.71 | 090
26518 |  | A | Fusion of knuckle joints | 9.07 | NA | NA | 9.09 | 12.35 | 1.35 | NA | NA | 19.51 | 22.77 | 090
26520 |  | A | Release knuckle contracture | 5.29 | NA | NA | 8.69 | 12.62 | 0.80 | NA | NA | 14.78 | 18.71 | 090
26525 |  | A | Release finger contracture | 5.32 | NA | NA | 8.70 | 12.68 | 0.81 | NA | NA | 14.83 | 18.81 | 090
26530 |  | A | Revise knuckle joint | 6.68 | NA | NA | 5.33 | 5.95 | 1.04 | NA | NA | 13.05 | 13.67 | 090
26531 |  | A | Revise knuckle with implant | 7.90 | NA | NA | 6.05 | 6.87 | 1.17 | NA | NA | 15.12 | 15.94 | 090
26535 |  | A | Revise finger joint | 5.23 | NA | NA | 3.97 | 3.81 | 0.71 | NA | NA | 9.91 | 9.75 | 090
26536 |  | A | Revise/implant finger joint | 6.36 | NA | NA | 9.02 | 9.52 | 0.96 | NA | NA | 16.34 | 16.84 | 090
26540 |  | A | Repair hand joint | 6.42 | NA | NA | 7.86 | 10.89 | 0.99 | NA | NA | 15.27 | 18.30 | 090
26541 |  | A | Repair hand joint with graft | 8.61 | NA | NA | 8.90 | 12.30 | 1.28 | NA | NA | 18.79 | 22.19 | 090
26542 |  | A | Repair hand joint with graft | 6.77 | NA | NA | 8.01 | 11.05 | 1.02 | NA | NA | 15.80 | 18.84 | 090
26545 |  | A | Reconstruct finger joint | 6.91 | NA | NA | 8.19 | 11.18 | 1.05 | NA | NA | 16.15 | 19.14 | 090
26546 |  | A | Repair nonunion hand | 10.41 | NA | NA | 11.25 | 14.12 | 1.44 | NA | NA | 23.10 | 25.97 | 090
26548 |  | A | Reconstruct finger joint | 8.02 | NA | NA | 8.66 | 11.83 | 1.20 | NA | NA | 17.88 | 21.05 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
26550 |  | A | Construct thumb replacement | 21.46 | NA | NA | 15.12 | 17.00 | 2.45 | NA | NA | 39.03 | 40.91 | 090
26551 |  | A | Great toe-hand transfer | 48.09 | NA | NA | 21.34 | 29.73 | 7.96 | NA | NA | 77.39 | 85.78 | 090
26553 |  | A | Single transfer, toe-hand | 47.78 | NA | NA | 19.85 | 22.03 | 2.41 | NA | NA | 70.04 | 72.22 | 090
26554 |  | A | Double transfer, toe-hand | 56.57 | NA | NA | 19.02 | 32.99 | 9.41 | NA | NA | 85.00 | 98.97 | 090
26555 |  | A | Positional change of finger | 16.86 | NA | NA | 13.64 | 17.08 | 2.48 | NA | NA | 32.98 | 36.42 | 090
26556 |  | A | Toe joint transfer | 49.27 | NA | NA | 17.66 | 29.48 | 2.57 | NA | NA | 69.50 | 81.32 | 090
26560 |  | A | Repair of web finger | 5.37 | NA | NA | 7.00 | 9.12 | 0.85 | NA | NA | 13.22 | 15.34 | 090
26561 |  | A | Repair of web finger | 10.90 | NA | NA | 9.09 | 11.56 | 1.45 | NA | NA | 21.44 | 23.91 | 090
26562 |  | A | Repair of web finger | 16.30 | NA | NA | 13.61 | 16.30 | 2.23 | NA | NA | 32.14 | 34.83 | 090
26565 |  | A | Correct metacarpal flaw | 6.73 | NA | NA | 7.79 | 10.98 | 1.00 | NA | NA | 15.52 | 18.71 | 090
26567 |  | A | Correct finger deformity | 6.81 | NA | NA | 8.02 | 10.99 | 1.04 | NA | NA | 15.87 | 18.84 | 090
26568 |  | A | Lengthen metacarpal/finger | 9.07 | NA | NA | 9.99 | 14.10 | 1.49 | NA | NA | 20.55 | 24.66 | 090
26580 |  | A | Repair hand deformity | 19.40 | NA | NA | 11.48 | 13.13 | 2.28 | NA | NA | 33.16 | 34.81 | 090
26587 |  | A | Reconstruct extra finger | 14.28 | NA | NA | 8.28 | 9.00 | 1.53 | NA | NA | 24.09 | 24.81 | 090
26590 |  | A | Repair finger deformity | 18.43 | NA | NA | 10.51 | 13.11 | 2.77 | NA | NA | 31.71 | 34.31 | 090
26591 |  | A | Repair muscles of hand | 3.25 | NA | NA | 6.09 | 8.76 | 0.48 | NA | NA | 9.82 | 12.49 | 090
26593 |  | A | Release muscles of hand | 5.30 | NA | NA | 7.63 | 10.28 | 0.78 | NA | NA | 13.71 | 16.36 | 090
26596 |  | A | Excision constricting tissue | 8.94 | NA | NA | 7.35 | 8.48 | 1.43 | NA | NA | 17.72 | 18.85 | 090
26600 |  | A | Treat metacarpal fracture | 2.40 | 3.35 | 3.55 | 3.01 | 2.75 | 0.30 | 6.05 | 6.25 | 5.71 | 5.45 | 090
26605 |  | A | Treat metacarpal fracture | 2.85 | 4.03 | 4.44 | 3.45 | 3.61 | 0.49 | 7.37 | 7.78 | 6.79 | 6.95 | 090
26607 |  | A | Treat metacarpal fracture | 5.35 | NA | NA | 4.80 | 5.92 | 0.87 | NA | NA | 11.02 | 12.14 | 090
26608 |  | A | Treat metacarpal fracture | 5.35 | NA | NA | 5.16 | 5.99 | 0.88 | NA | NA | 11.39 | 12.22 | 090
26615 |  | A | Treat metacarpal fracture | 5.32 | NA | NA | 4.49 | 5.11 | 0.86 | NA | NA | 10.67 | 11.29 | 090
26641 |  | A | Treat thumb dislocation | 3.93 | 4.14 | 4.47 | 3.49 | 3.53 | 0.39 | 8.46 | 8.79 | 7.81 | 7.85 | 090
26645 |  | A | Treat thumb fracture | 4.40 | 4.56 | 5.03 | 3.87 | 4.12 | 0.67 | 9.63 | 10.10 | 8.94 | 9.19 | 090
26650 |  | A | Treat thumb fracture | 5.71 | NA | NA | 5.53 | 6.42 | 0.94 | NA | NA | 12.18 | 13.07 | 090
26665 |  | A | Treat thumb fracture | 7.65 | NA | NA | 5.59 | 6.37 | 0.90 | NA | NA | 14.14 | 14.92 | 090
26670 |  | A | Treat hand dislocation | 3.68 | 3.51 | 4.08 | 2.92 | 2.94 | 0.39 | 7.58 | 8.15 | 6.99 | 7.01 | 090
26675 |  | A | Treat hand dislocation | 4.63 | 4.79 | 5.32 | 4.10 | 4.39 | 0.77 | 10.19 | 10.72 | 9.50 | 9.79 | 090
26676 |  | A | Pin hand dislocation | 5.51 | NA | NA | 5.48 | 6.40 | 0.91 | NA | NA | 11.90 | 12.82 | 090
26685 |  | A | Treat hand dislocation | 7.03 | NA | NA | 5.16 | 5.91 | 1.09 | NA | NA | 13.28 | 14.03 | 090
26686 |  | A | Treat hand dislocation | 7.99 | NA | NA | 5.83 | 6.65 | 1.24 | NA | NA | 15.06 | 15.88 | 090
26700 |  | A | Treat knuckle dislocation | 3.68 | 3.29 | 3.65 | 2.92 | 2.88 | 0.35 | 7.32 | 7.68 | 6.95 | 6.91 | 090
26705 |  | A | Treat knuckle dislocation | 4.18 | 4.74 | 5.20 | 4.03 | 4.24 | 0.66 | 9.58 | 10.04 | 8.87 | 9.08 | 090
26706 |  | A | Pin knuckle dislocation | 5.11 | NA | NA | 4.62 | 4.98 | 0.81 | NA | NA | 10.54 | 10.90 | 090
26715 |  | A | Treat knuckle dislocation | 5.73 | NA | NA | 4.66 | 5.31 | 0.91 | NA | NA | 11.30 | 11.95 | 090
26720 |  | A | Treat finger fracture, each | 1.66 | 2.55 | 2.73 | 2.28 | 2.12 | 0.24 | 4.45 | 4.63 | 4.18 | 4.02 | 090
26725 |  | A | Treat finger fracture, each | 3.33 | 4.04 | 4.60 | 3.37 | 3.48 | 0.53 | 7.90 | 8.46 | 7.23 | 7.34 | 090
26727 |  | A | Treat finger fracture, each | 5.22 | NA | NA | 5.12 | 5.97 | 0.84 | NA | NA | 11.18 | 12.03 | 090
26735 |  | A | Treat finger fracture, each | 5.97 | NA | NA | 4.74 | 5.36 | 0.95 | NA | NA | 11.66 | 12.28 | 090
26740 |  | A | Treat finger fracture, each | 1.94 | 2.91 | 3.08 | 2.62 | 2.69 | 0.31 | 5.16 | 5.33 | 4.87 | 4.94 | 090
26742 |  | A | Treat finger fracture, each | 3.84 | 4.27 | 4.82 | 3.56 | 3.81 | 0.58 | 8.69 | 9.24 | 7.98 | 8.23 | 090
26746 |  | A | Treat finger fracture, each | 5.80 | NA | NA | 4.70 | 5.36 | 0.91 | NA | NA | 11.41 | 12.07 | 090
26750 |  | A | Treat finger fracture, each | 1.70 | 2.22 | 2.42 | 2.23 | 2.07 | 0.22 | 4.14 | 4.34 | 4.15 | 3.99 | 090
26755 |  | A | Treat finger fracture, each | 3.10 | 3.74 | 4.26 | 2.93 | 2.99 | 0.42 | 7.26 | 7.78 | 6.45 | 6.51 | 090
26756 |  | A | Pin finger fracture, each | 4.38 | NA | NA | 4.78 | 5.50 | 0.71 | NA | NA | 9.87 | 10.59 | 090
26765 |  | A | Treat finger fracture, each | 4.16 | NA | NA | 3.77 | 4.24 | 0.66 | NA | NA | 8.59 | 9.06 | 090
26770 |  | A | Treat finger dislocation | 3.02 | 2.88 | 3.30 | 2.50 | 2.44 | 0.27 | 6.17 | 6.59 | 5.79 | 5.73 | 090
26775 |  | A | Treat finger dislocation | 3.70 | 4.49 | 5.03 | 3.76 | 3.81 | 0.54 | 8.73 | 9.27 | 8.00 | 8.05 | 090
26776 |  | A | Pin finger dislocation | 4.79 | NA | NA | 4.94 | 5.75 | 0.77 | NA | NA | 10.50 | 11.31 | 090
26785 |  | A | Treat finger dislocation | 4.20 | NA | NA | 3.84 | 4.37 | 0.68 | NA | NA | 8.72 | 9.25 | 090
26820 |  | A | Thumb fusion with graft | 8.25 | NA | NA | 8.56 | 12.11 | 1.30 | NA | NA | 18.11 | 21.66 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
26841 |  | A | Fusion of thumb | 7.12 | NA | NA | 8.56 | 12.09 | 1.18 | NA | NA | 16.86 | 20.39 | 090
26842 |  | A | Thumb fusion with graft | 8.29 | NA | NA | 8.81 | 12.26 | 1.32 | NA | NA | 18.42 | 21.87 | 090
26843 |  | A | Fusion of hand joint | 7.60 | NA | NA | 8.05 | 11.31 | 1.15 | NA | NA | 16.80 | 20.06 | 090
26844 |  | A | Fusion/graft of hand joint | 8.78 | NA | NA | 9.00 | 12.30 | 1.33 | NA | NA | 19.11 | 22.41 | 090
26850 |  | A | Fusion of knuckle | 6.96 | NA | NA | 8.07 | 11.20 | 1.06 | NA | NA | 16.09 | 19.22 | 090
26852 |  | A | Fusion of knuckle with graft | 8.51 | NA | NA | 8.89 | 11.92 | 1.22 | NA | NA | 18.62 | 21.65 | 090
26860 |  | A | Fusion of finger joint | 4.68 | NA | NA | 7.34 | 10.25 | 0.73 | NA | NA | 12.75 | 15.66 | 090
26861 |  | A | Fusion of finger jnt, add-on | 1.74 | NA | NA | 0.69 | 0.87 | 0.27 | NA | NA | 2.70 | 2.88 | ZZZ
26862 |  | A | Fusion/graft of finger joint | 7.36 | NA | NA | 8.45 | 11.40 | 1.10 | NA | NA | 16.91 | 19.86 | 090
26863 |  | A | Fuse/graft added joint | 3.89 | NA | NA | 1.54 | 1.98 | 0.56 | NA | NA | 5.99 | 6.43 | ZZZ
26910 |  | A | Amputate metacarpal bone | 7.59 | NA | NA | 8.09 | 10.46 | 1.16 | NA | NA | 16.84 | 19.21 | 090
26951 |  | A | Amputation of finger/thumb | 5.75 | NA | NA | 7.34 | 9.47 | 0.71 | NA | NA | 13.80 | 15.93 | 090
26952 |  | A | Amputation of finger/thumb | 6.30 | NA | NA | 7.72 | 10.70 | 0.95 | NA | NA | 14.97 | 17.95 | 090
26990 |  | A | Drainage of pelvis lesion | 7.77 | NA | NA | 6.03 | 6.93 | 1.22 | NA | NA | 15.02 | 15.92 | 090
26991 |  | A | Drainage of pelvis bursa | 6.91 | 8.49 | 10.52 | 4.77 | 5.28 | 1.11 | 16.51 | 18.54 | 12.79 | 13.30 | 090
26992 |  | A | Drainage of bone lesion | 13.30 | NA | NA | 8.29 | 9.88 | 2.16 | NA | NA | 23.75 | 25.34 | 090
27000 |  | A | Incision of hip tendon | 5.61 | NA | NA | 4.46 | 5.09 | 0.98 | NA | NA | 11.05 | 11.68 | 090
27001 |  | A | Incision of hip tendon | 6.99 | NA | NA | 5.12 | 5.86 | 1.24 | NA | NA | 13.35 | 14.09 | 090
27003 |  | A | Incision of hip tendon | 7.63 | NA | NA | 5.70 | 6.30 | 1.12 | NA | NA | 14.45 | 15.05 | 090
27005 |  | A | Incision of hip tendon | 9.89 | NA | NA | 6.67 | 7.55 | 1.72 | NA | NA | 18.28 | 19.16 | 090
27006 |  | A | Incision of hip tendons | 9.91 | NA | NA | 6.69 | 7.67 | 1.69 | NA | NA | 18.29 | 19.27 | 090
27025 |  | A | Incision of hip/thigh fascia | 12.56 | NA | NA | 7.97 | 8.42 | 1.84 | NA | NA | 22.37 | 22.82 | 090
27030 |  | A | Drainage of hip joint | 13.47 | NA | NA | 7.92 | 9.23 | 2.26 | NA | NA | 23.65 | 24.96 | 090
27033 |  | A | Exploration of hip joint | 13.91 | NA | NA | 8.27 | 9.53 | 2.32 | NA | NA | 24.50 | 25.76 | 090
27035 |  | A | Denervation of hip joint | 17.14 | NA | NA | 9.30 | 10.77 | 2.15 | NA | NA | 28.59 | 30.06 | 090
27036 |  | A | Excision of hip joint/muscle | 14.10 | NA | NA | 8.84 | 9.73 | 2.26 | NA | NA | 25.20 | 26.09 | 090
27040 |  | A | Biopsy of soft tissues | 2.87 | 5.23 | 5.25 | 1.85 | 1.98 | 0.27 | 8.37 | 8.39 | 4.99 | 5.12 | 010
27041 |  | A | Biopsy of soft tissues | 10.00 | NA | NA | 5.81 | 6.45 | 1.35 | NA | NA | 17.16 | 17.80 | 090
27047 |  | A | Remove hip/pelvis lesion | 7.44 | 7.06 | 7.11 | 4.51 | 4.71 | 1.03 | 15.53 | 15.58 | 12.98 | 13.18 | 090
27048 |  | A | Remove hip/pelvis lesion | 6.36 | NA | NA | 4.57 | 4.75 | 0.92 | NA | NA | 11.85 | 12.03 | 090
27049 |  | A | Remove tumor, hip/pelvis | 15.12 | NA | NA | 8.10 | 8.34 | 2.06 | NA | NA | 25.28 | 25.52 | 090
27050 |  | A | Biopsy of sacroiliac joint | 4.59 | NA | NA | 3.81 | 4.28 | 0.60 | NA | NA | 9.00 | 9.47 | 090
27052 |  | A | Biopsy of hip joint | 7.21 | NA | NA | 5.57 | 5.82 | 1.08 | NA | NA | 13.86 | 14.11 | 090
27054 |  | A | Removal of hip joint lining | 9.01 | NA | NA | 6.35 | 7.11 | 1.47 | NA | NA | 16.83 | 17.59 | 090
27060 |  | A | Removal of ischial bursa | 5.72 | NA | NA | 4.31 | 4.36 | 0.80 | NA | NA | 10.83 | 10.88 | 090
27062 |  | A | Remove femur lesion/bursa | 5.60 | NA | NA | 4.53 | 5.04 | 0.93 | NA | NA | 11.06 | 11.57 | 090
27065 |  | A | Removal of hip bone lesion | 6.37 | NA | NA | 5.03 | 5.35 | 1.01 | NA | NA | 12.41 | 12.73 | 090
27066 |  | A | Removal of hip bone lesion | 10.97 | NA | NA | 7.30 | 8.17 | 1.79 | NA | NA | 20.06 | 20.93 | 090
27067 |  | A | Remove/graft hip bone lesion | 14.47 | NA | NA | 8.66 | 10.18 | 1.84 | NA | NA | 24.97 | 26.49 | 090
27070 |  | A | Partial removal of hip bone | 11.36 | NA | NA | 7.62 | 8.78 | 1.74 | NA | NA | 20.72 | 21.88 | 090
27071 |  | A | Partial removal of hip bone | 12.16 | NA | NA | 8.21 | 9.67 | 1.92 | NA | NA | 22.29 | 23.75 | 090
27075 |  | A | Extensive hip surgery | 36.71 | NA | NA | 16.24 | 18.51 | 5.64 | NA | NA | 58.59 | 60.86 | 090
27076 |  | A | Extensive hip surgery | 24.17 | NA | NA | 12.43 | 14.02 | 3.70 | NA | NA | 40.30 | 41.89 | 090
27077 |  | A | Extensive hip surgery | 42.48 | NA | NA | 19.47 | 21.92 | 6.12 | NA | NA | 68.07 | 70.52 | 090
27078 |  | A | Extensive hip surgery | 14.44 | NA | NA | 8.56 | 9.62 | 2.22 | NA | NA | 25.22 | 26.28 | 090
27079 |  | A | Extensive hip surgery | 14.81 | NA | NA | 7.40 | 9.03 | 1.94 | NA | NA | 24.15 | 25.78 | 090
27080 |  | A | Removal of tail bone | 6.74 | NA | NA | 4.64 | 4.79 | 0.93 | NA | NA | 12.31 | 12.46 | 090
27086 |  | A | Remove hip foreign body | 1.87 | 3.78 | 4.37 | 1.53 | 1.76 | 0.25 | 5.90 | 6.49 | 3.65 | 3.88 | 010
27087 |  | A | Remove hip foreign body | 8.65 | NA | NA | 5.56 | 6.40 | 1.35 | NA | NA | 15.56 | 16.40 | 090
27090 |  | A | Removal of hip prosthesis | 11.49 | NA | NA | 7.30 | 8.43 | 1.94 | NA | NA | 20.73 | 21.86 | 090
27091 |  | A | Removal of hip prosthesis | 24.07 | NA | NA | 12.76 | 13.71 | 3.84 | NA | NA | 40.67 | 41.62 | 090
27093 |  | A | Injection for hip x-ray | 1.30 | 3.15 | 4.14 | 0.46 | 0.48 | 0.13 | 4.58 | 5.57 | 1.89 | 1.91 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
27095 |  | A | Injection for hip x-ray | 1.50 | 3.78 | 5.25 | 0.51 | 0.52 | 0.14 | 5.42 | 6.89 | 2.15 | 2.16 | 000
27096 |  | A | Inject sacroiliac joint | 1.40 | 2.53 | 3.90 | 0.33 | 0.33 | 0.08 | 4.01 | 5.38 | 1.81 | 1.81 | 000
27097 |  | A | Revision of hip tendon | 9.09 | NA | NA | 6.23 | 6.38 | 1.57 | NA | NA | 16.89 | 17.04 | 090
27098 |  | A | Transfer tendon to pelvis | 9.12 | NA | NA | 4.73 | 6.46 | 0.95 | NA | NA | 14.80 | 16.53 | 090
27100 |  | A | Transfer of abdominal muscle | 11.12 | NA | NA | 7.24 | 8.33 | 1.85 | NA | NA | 20.21 | 21.30 | 090
27105 |  | A | Transfer of spinal muscle | 11.81 | NA | NA | 7.77 | 8.84 | 1.72 | NA | NA | 21.30 | 22.37 | 090
27110 |  | A | Transfer of iliopsoas muscle | 13.54 | NA | NA | 8.45 | 8.97 | 2.18 | NA | NA | 24.17 | 24.69 | 090
27111 |  | A | Transfer of iliopsoas muscle | 12.37 | NA | NA | 7.98 | 8.87 | 1.94 | NA | NA | 22.29 | 23.18 | 090
27120 |  | A | Reconstruction of hip socket | 19.00 | NA | NA | 10.57 | 11.55 | 3.08 | NA | NA | 32.65 | 33.63 | 090
27122 |  | A | Reconstruction of hip socket | 15.86 | NA | NA | 9.29 | 10.63 | 2.61 | NA | NA | 27.76 | 29.10 | 090
27125 |  | A | Partial hip replacement | 16.38 | NA | NA | 9.49 | 10.36 | 2.54 | NA | NA | 28.41 | 29.28 | 090
27130 |  | A | Total hip arthroplasty | 17.40 | NA | NA | 9.46 | 12.37 | 3.50 | NA | NA | 30.36 | 33.27 | 090
27132 |  | A | Total hip arthroplasty | 25.41 | NA | NA | 13.28 | 15.08 | 4.04 | NA | NA | 42.73 | 44.53 | 090
27134 |  | A | Revise hip joint replacement | 30.07 | NA | NA | 14.52 | 17.01 | 4.94 | NA | NA | 49.53 | 52.02 | 090
27137 |  | A | Revise hip joint replacement | 22.49 | NA | NA | 11.59 | 13.38 | 3.67 | NA | NA | 37.75 | 39.54 | 090
27138 |  | A | Revise hip joint replacement | 23.49 | NA | NA | 11.97 | 13.82 | 3.84 | NA | NA | 39.30 | 41.15 | 090
27140 |  | A | Transplant femur ridge | 12.58 | NA | NA | 7.67 | 9.00 | 2.11 | NA | NA | 22.36 | 23.69 | 090
27146 |  | A | Incision of hip bone | 18.64 | NA | NA | 10.51 | 11.76 | 2.96 | NA | NA | 32.11 | 33.36 | 090
27147 |  | A | Revision of hip bone | 21.79 | NA | NA | 11.73 | 12.90 | 3.57 | NA | NA | 37.09 | 38.26 | 090
27151 |  | A | Incision of hip bones | 23.84 | NA | NA | 12.10 | 9.00 | 3.91 | NA | NA | 39.85 | 36.75 | 090
27156 |  | A | Revision of hip bones | 25.95 | NA | NA | 13.23 | 15.39 | 4.21 | NA | NA | 43.39 | 45.55 | 090
27158 |  | A | Revision of pelvis | 20.79 | NA | NA | 6.99 | 10.00 | 3.16 | NA | NA | 30.94 | 33.95 | 090
27161 |  | A | Incision of neck of femur | 17.64 | NA | NA | 10.20 | 11.66 | 2.94 | NA | NA | 30.78 | 32.24 | 090
27165 |  | A | Incision/fixation of femur | 19.96 | NA | NA | 11.48 | 12.58 | 3.10 | NA | NA | 34.54 | 35.64 | 090
27170 |  | A | Repair/graft femur head/neck | 17.40 | NA | NA | 9.61 | 10.90 | 2.81 | NA | NA | 29.82 | 31.11 | 090
27175 |  | A | Treat slipped epiphysis | 9.23 | NA | NA | 5.69 | 6.44 | 1.46 | NA | NA | 16.38 | 17.13 | 090
27176 |  | A | Treat slipped epiphysis | 12.69 | NA | NA | 8.10 | 8.81 | 2.22 | NA | NA | 23.01 | 23.72 | 090
27177 |  | A | Treat slipped epiphysis | 15.84 | NA | NA | 9.50 | 10.57 | 2.61 | NA | NA | 27.95 | 29.02 | 090
27178 |  | A | Treat slipped epiphysis | 12.69 | NA | NA | 8.10 | 8.36 | 2.08 | NA | NA | 22.87 | 23.13 | 090
27179 |  | A | Revise head/neck of femur | 13.74 | NA | NA | 8.38 | 9.61 | 2.25 | NA | NA | 24.37 | 25.60 | 090
27181 |  | A | Treat slipped epiphysis | 15.90 | NA | NA | 9.63 | 10.08 | 1.57 | NA | NA | 27.10 | 27.55 | 090
27185 |  | A | Revision of femur epiphysis | 9.59 | NA | NA | 6.56 | 7.30 | 2.39 | NA | NA | 18.54 | 19.28 | 090
27187 |  | A | Reinforce hip bones | 14.00 | NA | NA | 8.55 | 9.90 | 2.37 | NA | NA | 24.92 | 26.27 | 090
27193 |  | A | Treat pelvic ring fracture | 5.92 | 4.56 | 4.97 | 4.70 | 5.00 | 0.96 | 11.44 | 11.85 | 11.58 | 11.88 | 090
27194 |  | A | Treat pelvic ring fracture | 10.00 | NA | NA | 6.48 | 7.37 | 1.65 | NA | NA | 18.13 | 19.02 | 090
27200 |  | A | Treat tail bone fracture | 1.84 | 2.05 | 2.19 | 2.20 | 2.17 | 0.28 | 4.17 | 4.31 | 4.32 | 4.29 | 090
27202 |  | A | Treat tail bone fracture | 7.21 | NA | NA | 11.31 | 15.51 | 1.06 | NA | NA | 19.58 | 23.78 | 090
27215 |  | A | Treat pelvic fracture(s) | 10.39 | NA | NA | 6.41 | 6.93 | 1.97 | NA | NA | 18.77 | 19.29 | 090
27216 |  | A | Treat pelvic ring fracture | 15.65 | NA | NA | 9.05 | 9.48 | 2.63 | NA | NA | 27.33 | 27.76 | 090
27217 |  | A | Treat pelvic ring fracture | 14.57 | NA | NA | 8.52 | 9.76 | 2.41 | NA | NA | 25.50 | 26.74 | 090
27218 |  | A | Treat pelvic ring fracture | 20.85 | NA | NA | 11.15 | 11.36 | 3.48 | NA | NA | 35.48 | 35.69 | 090
27220 |  | A | Treat hip socket fracture | 6.65 | 5.18 | 5.60 | 5.09 | 5.51 | 1.07 | 12.90 | 13.32 | 12.81 | 13.23 | 090
27222 |  | A | Treat hip socket fracture | 13.88 | NA | NA | 8.35 | 9.59 | 2.19 | NA | NA | 24.42 | 25.66 | 090
27226 |  | A | Treat hip wall fracture | 15.37 | NA | NA | 8.81 | 8.08 | 2.48 | NA | NA | 26.66 | 25.93 | 090
27227 |  | A | Treat hip fracture(s) | 25.13 | NA | NA | 13.14 | 14.87 | 4.05 | NA | NA | 42.32 | 44.05 | 090
27228 |  | A | Treat hip fracture(s) | 29.05 | NA | NA | 14.69 | 16.93 | 4.66 | NA | NA | 48.40 | 50.64 | 090
27230 |  | A | Treat thigh fracture | 5.61 | 4.90 | 5.37 | 4.83 | 5.04 | 0.95 | 11.46 | 11.93 | 11.39 | 11.60 | 090
27232 |  | A | Treat thigh fracture | 11.62 | NA | NA | 5.90 | 6.87 | 1.85 | NA | NA | 19.37 | 20.34 | 090
27235 |  | A | Treat thigh fracture | 12.80 | NA | NA | 7.89 | 9.08 | 2.11 | NA | NA | 22.80 | 23.99 | 090
27236 |  | A | Treat thigh fracture | 14.54 | NA | NA | 8.53 | 10.44 | 2.71 | NA | NA | 25.78 | 27.69 | 090
27238 |  | A | Treat thigh fracture | 5.57 | NA | NA | 4.61 | 5.02 | 0.89 | NA | NA | 11.07 | 11.48 | 090
27240 |  | A | Treat thigh fracture | 13.56 | NA | NA | 7.96 | 9.12 | 2.16 | NA | NA | 23.68 | 24.84 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
27244 |  | A | Treat thigh fracture | 17.00 | NA | NA | 9.50 | 10.87 | 2.77 | NA | NA | 29.27 | 30.64 | 090
27245 |  | A | Treat thigh fracture | 21.01 | NA | NA | 11.21 | 13.14 | 3.52 | NA | NA | 35.74 | 37.67 | 090
27246 |  | A | Treat thigh fracture | 4.70 | 3.87 | 4.32 | 3.90 | 4.30 | 0.81 | 9.38 | 9.83 | 9.41 | 9.81 | 090
27248 |  | A | Treat thigh fracture | 10.73 | NA | NA | 6.87 | 7.89 | 1.81 | NA | NA | 19.41 | 20.43 | 090
27250 |  | A | Treat hip dislocation | 7.12 | NA | NA | 4.22 | 4.53 | 0.62 | NA | NA | 11.96 | 12.27 | 090
27252 |  | A | Treat hip dislocation | 10.85 | NA | NA | 6.37 | 7.18 | 1.66 | NA | NA | 18.88 | 19.69 | 090
27253 |  | A | Treat hip dislocation | 13.38 | NA | NA | 7.71 | 9.29 | 2.24 | NA | NA | 23.33 | 24.91 | 090
27254 |  | A | Treat hip dislocation | 18.71 | NA | NA | 10.34 | 11.62 | 3.17 | NA | NA | 32.22 | 33.50 | 090
27256 |  | A | Treat hip dislocation | 4.23 | 2.40 | 3.25 | 1.38 | 1.91 | 0.46 | 7.09 | 7.94 | 6.07 | 6.60 | 010
27257 |  | A | Treat hip dislocation | 5.33 | NA | NA | 2.48 | 2.74 | 0.69 | NA | NA | 8.50 | 8.76 | 010
27258 |  | A | Treat hip dislocation | 15.95 | NA | NA | 9.26 | 10.49 | 2.64 | NA | NA | 27.85 | 29.08 | 090
27259 |  | A | Treat hip dislocation | 22.95 | NA | NA | 12.64 | 13.78 | 3.74 | NA | NA | 39.33 | 40.47 | 090
27265 |  | A | Treat hip dislocation | 5.04 | NA | NA | 3.93 | 4.58 | 0.63 | NA | NA | 9.60 | 10.25 | 090
27266 |  | A | Treat hip dislocation | 7.60 | NA | NA | 5.45 | 6.13 | 1.29 | NA | NA | 14.34 | 15.02 | 090
27275 |  | A | Manipulation of hip joint | 2.27 | NA | NA | 1.86 | 2.05 | 0.39 | NA | NA | 4.52 | 4.71 | 010
27280 |  | A | Fusion of sacroiliac joint | 14.39 | NA | NA | 8.87 | 9.94 | 2.53 | NA | NA | 25.79 | 26.86 | 090
27282 |  | A | Fusion of pubic bones | 11.62 | NA | NA | 7.69 | 7.94 | 1.86 | NA | NA | 21.17 | 21.42 | 090
27284 |  | A | Fusion of hip joint | 24.85 | NA | NA | 12.57 | 14.24 | 3.92 | NA | NA | 41.34 | 43.01 | 090
27286 |  | A | Fusion of hip joint | 24.89 | NA | NA | 13.18 | 15.18 | 3.12 | NA | NA | 41.19 | 43.19 | 090
27290 |  | A | Amputation of leg at hip | 24.27 | NA | NA | 12.25 | 13.64 | 3.43 | NA | NA | 39.95 | 41.34 | 090
27295 |  | A | Amputation of leg at hip | 19.46 | NA | NA | 9.61 | 10.91 | 2.95 | NA | NA | 32.02 | 33.32 | 090
27301 |  | A | Drain thigh/knee lesion | 6.60 | 8.17 | 9.62 | 4.61 | 5.02 | 1.04 | 15.81 | 17.26 | 12.25 | 12.66 | 090
27303 |  | A | Drainage of bone lesion | 8.45 | NA | NA | 5.96 | 6.74 | 1.43 | NA | NA | 15.84 | 16.62 | 090
27305 |  | A | Incise thigh tendon & fascia | 6.03 | NA | NA | 4.58 | 5.05 | 1.01 | NA | NA | 11.62 | 12.09 | 090
27306 |  | A | Incision of thigh tendon | 4.61 | NA | NA | 4.01 | 4.55 | 0.85 | NA | NA | 9.47 | 10.01 | 090
27307 |  | A | Incision of thigh tendons | 5.91 | NA | NA | 4.73 | 5.23 | 1.04 | NA | NA | 11.68 | 12.18 | 090
27310 |  | A | Exploration of knee joint | 9.80 | NA | NA | 6.59 | 7.35 | 1.61 | NA | NA | 18.00 | 18.76 | 090
27315 |  | A | Partial removal, thigh nerve | 7.02 | NA | NA | 5.20 | 5.02 | 1.09 | NA | NA | 13.31 | 13.13 | 090
27320 |  | A | Partial removal, thigh nerve | 6.29 | NA | NA | 4.54 | 5.07 | 1.06 | NA | NA | 11.89 | 12.42 | 090
27323 |  | A | Biopsy, thigh soft tissues | 2.28 | 4.11 | 3.67 | 1.88 | 1.89 | 0.24 | 6.63 | 6.19 | 4.40 | 4.41 | 010
27324 |  | A | Biopsy, thigh soft tissues | 4.89 | NA | NA | 3.79 | 4.09 | 0.75 | NA | NA | 9.43 | 9.73 | 090
27327 |  | A | Removal of thigh lesion | 4.46 | 6.04 | 6.02 | 3.57 | 3.69 | 0.64 | 11.14 | 11.12 | 8.67 | 8.79 | 090
27328 |  | A | Removal of thigh lesion | 5.56 | NA | NA | 4.00 | 4.29 | 0.84 | NA | NA | 10.40 | 10.69 | 090
27329 |  | A | Remove tumor, thigh/knee | 15.60 | NA | NA | 8.40 | 8.89 | 2.14 | NA | NA | 26.14 | 26.63 | 090
27330 |  | A | Biopsy, knee joint lining | 4.96 | NA | NA | 4.00 | 4.44 | 0.86 | NA | NA | 9.82 | 10.26 | 090
27331 |  | A | Explore/treat knee joint | 5.87 | NA | NA | 4.73 | 5.34 | 1.02 | NA | NA | 11.62 | 12.23 | 090
27332 |  | A | Removal of knee cartilage | 8.26 | NA | NA | 6.01 | 6.86 | 1.43 | NA | NA | 15.70 | 16.55 | 090
27333 |  | A | Removal of knee cartilage | 7.35 | NA | NA | 5.61 | 6.42 | 1.26 | NA | NA | 14.22 | 15.03 | 090
27334 |  | A | Remove knee joint lining | 8.99 | NA | NA | 6.34 | 7.16 | 1.51 | NA | NA | 16.84 | 17.66 | 090
27335 |  | A | Remove knee joint lining | 10.35 | NA | NA | 6.90 | 7.91 | 1.74 | NA | NA | 18.99 | 20.00 | 090
27340 |  | A | Removal of kneecap bursa | 4.17 | NA | NA | 3.96 | 4.42 | 0.72 | NA | NA | 8.85 | 9.31 | 090
27345 |  | A | Removal of knee cyst | 5.91 | NA | NA | 4.79 | 5.43 | 1.00 | NA | NA | 11.70 | 12.34 | 090
27347 |  | A | Remove knee cyst | 6.52 | NA | NA | 5.14 | 5.37 | 0.98 | NA | NA | 12.64 | 12.87 | 090
27350 |  | A | Removal of kneecap | 8.46 | NA | NA | 6.15 | 6.98 | 1.41 | NA | NA | 16.02 | 16.85 | 090
27355 |  | A | Remove femur lesion | 7.82 | NA | NA | 5.74 | 6.53 | 1.32 | NA | NA | 14.88 | 15.67 | 090
27356 |  | A | Remove femur lesion/graft | 9.89 | NA | NA | 6.71 | 7.58 | 1.65 | NA | NA | 18.25 | 19.12 | 090
27357 |  | A | Remove femur lesion/graft | 10.93 | NA | NA | 7.38 | 8.39 | 1.95 | NA | NA | 20.26 | 21.27 | 090
27358 |  | A | Remove femur lesion/fixation | 4.73 | NA | NA | 1.85 | 2.36 | 0.82 | NA | NA | 7.40 | 7.91 | ZZZ
27360 |  | A | Partial removal, leg bone(s) | 11.26 | NA | NA | 7.80 | 9.14 | 1.83 | NA | NA | 20.89 | 22.23 | 090
27365 |  | A | Extensive leg surgery | 17.85 | NA | NA | 10.27 | 11.35 | 2.79 | NA | NA | 30.91 | 31.99 | 090
27370 |  | A | Injection for knee x-ray | 0.96 | 2.85 | 3.51 | 0.33 | 0.32 | 0.08 | 3.89 | 4.55 | 1.37 | 1.36 | 000
27372 |  | A | Removal of foreign body | 5.06 | 8.27 | 9.63 | 4.00 | 4.53 | 0.84 | 14.17 | 15.53 | 9.90 | 10.43 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
27380 |  | A | Repair of kneecap tendon | 7.27 | NA | NA | 5.83 | 6.93 | 1.24 | NA | NA | 14.34 | 15.44 | 090
27381 |  | A | Repair/graft kneecap tendon | 10.56 | NA | NA | 7.28 | 8.66 | 1.79 | NA | NA | 19.63 | 21.01 | 090
27385 |  | A | Repair of thigh muscle | 7.93 | NA | NA | 6.10 | 7.26 | 1.36 | NA | NA | 15.39 | 16.55 | 090
27386 |  | A | Repair/graft of thigh muscle | 10.90 | NA | NA | 7.69 | 9.08 | 1.85 | NA | NA | 20.44 | 21.83 | 090
27390 |  | A | Incision of thigh tendon | 5.38 | NA | NA | 4.52 | 4.97 | 0.92 | NA | NA | 10.82 | 11.27 | 090
27391 |  | A | Incision of thigh tendons | 7.31 | NA | NA | 5.42 | 6.29 | 1.23 | NA | NA | 13.96 | 14.83 | 090
27392 |  | A | Incision of thigh tendons | 9.43 | NA | NA | 6.59 | 7.36 | 1.57 | NA | NA | 17.59 | 18.36 | 090
27393 |  | A | Lengthening of thigh tendon | 6.44 | NA | NA | 4.95 | 5.63 | 1.10 | NA | NA | 12.49 | 13.17 | 090
27394 |  | A | Lengthening of thigh tendons | 8.61 | NA | NA | 6.08 | 6.95 | 1.47 | NA | NA | 16.16 | 17.03 | 090
27395 |  | A | Lengthening of thigh tendons | 12.01 | NA | NA | 7.83 | 8.97 | 2.04 | NA | NA | 21.88 | 23.02 | 090
27396 |  | A | Transplant of thigh tendon | 7.97 | NA | NA | 5.82 | 6.72 | 1.34 | NA | NA | 15.13 | 16.03 | 090
27397 |  | A | Transplants of thigh tendons | 12.38 | NA | NA | 8.25 | 8.87 | 1.82 | NA | NA | 22.45 | 23.07 | 090
27400 |  | A | Revise thigh muscles/tendons | 9.13 | NA | NA | 6.10 | 6.98 | 1.31 | NA | NA | 16.54 | 17.42 | 090
27403 |  | A | Repair of knee cartilage | 8.44 | NA | NA | 5.97 | 6.89 | 1.44 | NA | NA | 15.85 | 16.77 | 090
27405 |  | A | Repair of knee ligament | 8.88 | NA | NA | 6.33 | 7.22 | 1.51 | NA | NA | 16.72 | 17.61 | 090
27407 |  | A | Repair of knee ligament | 10.62 | NA | NA | 6.55 | 7.89 | 1.78 | NA | NA | 18.95 | 20.29 | 090
27409 |  | A | Repair of knee ligaments | 13.48 | NA | NA | 8.27 | 9.55 | 2.24 | NA | NA | 23.99 | 25.27 | 090
27412 |  | A | Autochondrocyte implant knee | 24.43 | NA | NA | 13.45 | 14.49 | 4.35 | NA | NA | 42.23 | 43.27 | 090
27415 |  | A | Osteochondral knee allograft | 19.69 | NA | NA | 11.62 | 12.35 | 4.35 | NA | NA | 35.66 | 36.39 | 090
27418 |  | A | Repair degenerated kneecap | 11.37 | NA | NA | 7.46 | 8.56 | 1.88 | NA | NA | 20.71 | 21.81 | 090
27420 |  | A | Revision of unstable kneecap | 10.06 | NA | NA | 6.82 | 7.80 | 1.71 | NA | NA | 18.59 | 19.57 | 090
27422 |  | A | Revision of unstable kneecap | 10.01 | NA | NA | 6.78 | 7.80 | 1.70 | NA | NA | 18.49 | 19.51 | 090
27424 |  | A | Revision/removal of kneecap | 10.04 | NA | NA | 6.78 | 7.78 | 1.70 | NA | NA | 18.52 | 19.52 | 090
27425 |  | A | Lat retinacular release open | 5.21 | NA | NA | 4.63 | 5.31 | 0.90 | NA | NA | 10.74 | 11.42 | 090
27427 |  | A | Reconstruction, knee | 9.59 | NA | NA | 6.57 | 7.51 | 1.63 | NA | NA | 17.79 | 18.73 | 090
27428 |  | A | Reconstruction, knee | 15.23 | NA | NA | 9.93 | 10.94 | 2.42 | NA | NA | 27.58 | 28.59 | 090
27429 |  | A | Reconstruction, knee | 17.12 | NA | NA | 11.11 | 12.12 | 2.70 | NA | NA | 30.93 | 31.94 | 090
27430 |  | A | Revision of thigh muscles | 9.96 | NA | NA | 6.75 | 7.70 | 1.69 | NA | NA | 18.40 | 19.35 | 090
27435 |  | A | Incision of knee joint | 10.60 | NA | NA | 7.55 | 8.26 | 1.69 | NA | NA | 19.84 | 20.55 | 090
27437 |  | A | Revise kneecap | 8.75 | NA | NA | 6.12 | 6.98 | 1.49 | NA | NA | 16.36 | 17.22 | 090
27438 |  | A | Revise kneecap with implant | 11.69 | NA | NA | 7.42 | 8.28 | 1.95 | NA | NA | 21.06 | 21.92 | 090
27440 |  | A | Revision of knee joint | 10.89 | NA | NA | 7.03 | 6.27 | 1.81 | NA | NA | 19.73 | 18.97 | 090
27441 |  | A | Revision of knee joint | 11.34 | NA | NA | 7.35 | 6.89 | 1.88 | NA | NA | 20.57 | 20.11 | 090
27442 |  | A | Revision of knee joint | 12.17 | NA | NA | 7.63 | 8.61 | 2.09 | NA | NA | 21.89 | 22.87 | 090
27443 |  | A | Revision of knee joint | 11.21 | NA | NA | 7.26 | 8.38 | 1.90 | NA | NA | 20.37 | 21.49 | 090
27445 |  | A | Revision of knee joint | 18.43 | NA | NA | 10.31 | 11.87 | 3.08 | NA | NA | 31.82 | 33.38 | 090
27446 |  | A | Revision of knee joint | 16.18 | NA | NA | 9.18 | 10.77 | 2.80 | NA | NA | 28.16 | 29.75 | 090
27447 |  | A | Total knee arthroplasty | 20.81 | NA | NA | 11.48 | 13.85 | 3.79 | NA | NA | 36.08 | 38.45 | 090
27448 |  | A | Incision of thigh | 11.40 | NA | NA | 7.23 | 8.27 | 1.94 | NA | NA | 20.57 | 21.61 | 090
27450 |  | A | Incision of thigh | 14.38 | NA | NA | 8.64 | 10.12 | 2.42 | NA | NA | 25.44 | 26.92 | 090
27454 |  | A | Realignment of thigh bone | 18.89 | NA | NA | 10.53 | 12.04 | 3.12 | NA | NA | 32.54 | 34.05 | 090
27455 |  | A | Realignment of knee | 13.16 | NA | NA | 8.16 | 9.47 | 2.24 | NA | NA | 23.56 | 24.87 | 090
27457 |  | A | Realignment of knee | 13.85 | NA | NA | 8.09 | 9.49 | 2.34 | NA | NA | 24.28 | 25.68 | 090
27465 |  | A | Shortening of thigh bone | 18.36 | NA | NA | 10.09 | 10.21 | 2.47 | NA | NA | 30.92 | 31.04 | 090
27466 |  | A | Lengthening of thigh bone | 17.03 | NA | NA | 9.94 | 11.38 | 2.77 | NA | NA | 29.74 | 31.18 | 090
27468 |  | A | Shorten/lengthen thighs | 19.72 | NA | NA | 11.04 | 12.05 | 3.30 | NA | NA | 34.06 | 35.07 | 090
27470 |  | A | Repair of thigh | 16.87 | NA | NA | 9.88 | 11.34 | 2.79 | NA | NA | 29.54 | 31.00 | 090
27472 |  | A | Repair/graft of thigh | 18.47 | NA | NA | 10.50 | 12.17 | 3.07 | NA | NA | 32.04 | 33.71 | 090
27475 |  | A | Surgery to stop leg growth | 8.75 | NA | NA | 6.66 | 7.09 | 1.36 | NA | NA | 16.77 | 17.20 | 090
27477 |  | A | Surgery to stop leg growth | 9.96 | NA | NA | 6.52 | 7.44 | 1.73 | NA | NA | 18.21 | 19.13 | 090
27479 |  | A | Surgery to stop leg growth | 12.96 | NA | NA | 4.98 | 8.50 | 2.78 | NA | NA | 20.72 | 24.24 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
27485 |  | A | Surgery to stop leg growth | 8.95 | NA | NA | 6.12 | 7.10 | 1.53 | NA | NA | 16.60 | 17.58 | 090
27486 |  | A | Revise/replace knee joint | 20.84 | NA | NA | 11.49 | 13.02 | 3.36 | NA | NA | 35.69 | 37.22 | 090
27487 |  | A | Revise/replace knee joint | 26.83 | NA | NA | 13.83 | 15.91 | 4.39 | NA | NA | 45.05 | 47.13 | 090
27488 |  | A | Removal of knee prosthesis | 17.32 | NA | NA | 10.13 | 11.33 | 2.74 | NA | NA | 30.19 | 31.39 | 090
27495 |  | A | Reinforce thigh | 16.31 | NA | NA | 9.50 | 10.96 | 2.71 | NA | NA | 28.52 | 29.98 | 090
27496 |  | A | Decompression of thigh/knee | 6.58 | NA | NA | 4.98 | 5.46 | 0.99 | NA | NA | 12.55 | 13.03 | 090
27497 |  | A | Decompression of thigh/knee | 7.64 | NA | NA | 4.61 | 5.24 | 1.15 | NA | NA | 13.40 | 14.03 | 090
27498 |  | A | Decompression of thigh/knee | 8.46 | NA | NA | 5.36 | 5.82 | 1.24 | NA | NA | 15.06 | 15.52 | 090
27499 |  | A | Decompression of thigh/knee | 9.23 | NA | NA | 5.76 | 6.57 | 1.47 | NA | NA | 16.46 | 17.27 | 090
27500 |  | A | Treatment of thigh fracture | 6.15 | 5.35 | 5.94 | 4.57 | 4.89 | 1.02 | 12.52 | 13.11 | 11.74 | 12.06 | 090
27501 |  | A | Treatment of thigh fracture | 6.28 | 4.95 | 5.60 | 4.86 | 5.27 | 1.03 | 12.26 | 12.91 | 12.17 | 12.58 | 090
27502 |  | A | Treatment of thigh fracture | 11.16 | NA | NA | 6.79 | 7.80 | 1.78 | NA | NA | 19.73 | 20.74 | 090
27503 |  | A | Treatment of thigh fracture | 11.05 | NA | NA | 7.12 | 8.01 | 1.84 | NA | NA | 20.01 | 20.90 | 090
27506 |  | A | Treatment of thigh fracture | 19.32 | NA | NA | 10.98 | 12.36 | 3.03 | NA | NA | 33.33 | 34.71 | 090
27507 |  | A | Treatment of thigh fracture | 14.33 | NA | NA | 8.03 | 9.41 | 2.42 | NA | NA | 24.78 | 26.16 | 090
27508 |  | A | Treatment of thigh fracture | 6.00 | 5.62 | 6.27 | 4.99 | 5.37 | 0.97 | 12.59 | 13.24 | 11.96 | 12.34 | 090
27509 |  | A | Treatment of thigh fracture | 7.94 | NA | NA | 6.36 | 7.58 | 1.34 | NA | NA | 15.64 | 16.86 | 090
27510 |  | A | Treatment of thigh fracture | 9.60 | NA | NA | 6.22 | 7.07 | 1.53 | NA | NA | 17.35 | 18.20 | 090
27511 |  | A | Treatment of thigh fracture | 13.86 | NA | NA | 8.75 | 10.61 | 2.37 | NA | NA | 24.98 | 26.84 | 090
27513 |  | A | Treatment of thigh fracture | 19.37 | NA | NA | 11.43 | 13.30 | 3.12 | NA | NA | 33.92 | 35.79 | 090
27514 |  | A | Treatment of thigh fracture | 18.99 | NA | NA | 11.55 | 12.93 | 3.00 | NA | NA | 33.54 | 34.92 | 090
27516 |  | A | Treat thigh fx growth plate | 5.36 | 5.60 | 6.18 | 4.97 | 5.39 | 0.81 | 11.77 | 12.35 | 11.14 | 11.56 | 090
27517 |  | A | Treat thigh fx growth plate | 8.89 | NA | NA | 5.93 | 7.09 | 1.22 | NA | NA | 16.04 | 17.20 | 090
27519 |  | A | Treat thigh fx growth plate | 15.72 | NA | NA | 9.50 | 11.09 | 2.55 | NA | NA | 27.77 | 29.36 | 090
27520 |  | A | Treat kneecap fracture | 2.86 | 4.05 | 4.43 | 3.48 | 3.46 | 0.47 | 7.38 | 7.76 | 6.81 | 6.79 | 090
27524 |  | A | Treat kneecap fracture | 10.17 | NA | NA | 6.83 | 7.90 | 1.74 | NA | NA | 18.74 | 19.81 | 090
27530 |  | A | Treat knee fracture | 3.89 | 4.76 | 5.19 | 4.20 | 4.37 | 0.65 | 9.30 | 9.73 | 8.74 | 8.91 | 090
27532 |  | A | Treat knee fracture | 7.35 | 6.35 | 7.12 | 5.57 | 6.25 | 1.26 | 14.96 | 15.73 | 14.18 | 14.86 | 090
27535 |  | A | Treat knee fracture | 11.72 | NA | NA | 7.92 | 9.59 | 2.00 | NA | NA | 21.64 | 23.31 | 090
27536 |  | A | Treat knee fracture | 17.11 | NA | NA | 10.07 | 11.25 | 2.73 | NA | NA | 29.91 | 31.09 | 090
27538 |  | A | Treat knee fracture(s) | 4.86 | 5.46 | 5.98 | 4.84 | 5.12 | 0.84 | 11.16 | 11.68 | 10.54 | 10.82 | 090
27540 |  | A | Treat knee fracture | 13.38 | NA | NA | 7.84 | 9.12 | 2.27 | NA | NA | 23.49 | 24.77 | 090
27550 |  | A | Treat knee dislocation | 5.75 | 5.26 | 5.84 | 4.55 | 4.84 | 0.76 | 11.77 | 12.35 | 11.06 | 11.35 | 090
27552 |  | A | Treat knee dislocation | 7.95 | NA | NA | 6.01 | 6.73 | 1.36 | NA | NA | 15.32 | 16.04 | 090
27556 |  | A | Treat knee dislocation | 14.87 | NA | NA | 9.06 | 11.03 | 2.50 | NA | NA | 26.43 | 28.40 | 090
27557 |  | A | Treat knee dislocation | 17.22 | NA | NA | 10.31 | 12.45 | 2.97 | NA | NA | 30.50 | 32.64 | 090
27558 |  | A | Treat knee dislocation | 17.93 | NA | NA | 10.33 | 12.39 | 3.08 | NA | NA | 31.34 | 33.40 | 090
27560 |  | A | Treat kneecap dislocation | 3.81 | 3.89 | 4.61 | 3.37 | 3.24 | 0.40 | 8.10 | 8.82 | 7.58 | 7.45 | 090
27562 |  | A | Treat kneecap dislocation | 5.78 | NA | NA | 4.38 | 4.68 | 0.94 | NA | NA | 11.10 | 11.40 | 090
27566 |  | A | Treat kneecap dislocation | 12.51 | NA | NA | 7.68 | 8.93 | 2.12 | NA | NA | 22.31 | 23.56 | 090
27570 |  | A | Fixation of knee joint | 1.74 | NA | NA | 1.60 | 1.74 | 0.30 | NA | NA | 3.64 | 3.78 | 010
27580 |  | A | Fusion of knee | 20.82 | NA | NA | 12.03 | 14.14 | 3.37 | NA | NA | 36.22 | 38.33 | 090
27590 |  | A | Amputate leg at thigh | 13.27 | NA | NA | 6.15 | 6.56 | 1.74 | NA | NA | 21.16 | 21.57 | 090
27591 |  | A | Amputate leg at thigh | 13.74 | NA | NA | 7.30 | 8.33 | 2.02 | NA | NA | 23.06 | 24.09 | 090
27592 |  | A | Amputate leg at thigh | 10.78 | NA | NA | 5.51 | 6.02 | 1.45 | NA | NA | 17.74 | 18.25 | 090
27594 |  | A | Amputation follow-up surgery | 7.09 | NA | NA | 4.74 | 5.07 | 1.02 | NA | NA | 12.85 | 13.18 | 090
27596 |  | A | Amputation follow-up surgery | 11.06 | NA | NA | 6.03 | 6.63 | 1.57 | NA | NA | 18.66 | 19.26 | 090
27598 |  | A | Amputate lower leg at knee | 10.99 | NA | NA | 6.28 | 6.85 | 1.65 | NA | NA | 18.92 | 19.49 | 090
27600 |  | A | Decompression of lower leg | 5.88 | NA | NA | 3.86 | 4.37 | 0.86 | NA | NA | 10.60 | 11.11 | 090
27601 |  | A | Decompression of lower leg | 5.87 | NA | NA | 4.25 | 4.71 | 0.80 | NA | NA | 10.92 | 11.38 | 090
27602 |  | A | Decompression of lower leg | 7.64 | NA | NA | 4.43 | 4.96 | 1.10 | NA | NA | 13.17 | 13.70 | 090
27603 |  | A | Drain lower leg lesion | 5.05 | 7.01 | 7.39 | 3.86 | 4.09 | 0.74 | 12.80 | 13.18 | 9.65 | 9.88 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
27604 |  | A | Drain lower leg bursa | 4.46 | 6.41 | 6.18 | 3.37 | 3.82 | 0.69 | 11.56 | 11.33 | 8.52 | 8.97 | 090
27605 |  | A | Incision of achilles tendon | 2.87 | 5.24 | 7.09 | 1.76 | 2.19 | 0.41 | 8.52 | 10.37 | 5.04 | 5.47 | 010
27606 |  | A | Incision of achilles tendon | 4.13 | NA | NA | 2.62 | 3.18 | 0.69 | NA | NA | 7.44 | 8.00 | 010
27607 |  | A | Treat lower leg bone lesion | 8.44 | NA | NA | 5.64 | 6.05 | 1.31 | NA | NA | 15.39 | 15.80 | 090
27610 |  | A | Explore/treat ankle joint | 8.93 | NA | NA | 6.05 | 6.78 | 1.40 | NA | NA | 16.38 | 17.11 | 090
27612 |  | A | Exploration of ankle joint | 7.92 | NA | NA | 5.23 | 5.89 | 1.13 | NA | NA | 14.28 | 14.94 | 090
27613 |  | A | Biopsy lower leg soft tissue | 2.17 | 3.82 | 3.39 | 1.72 | 1.79 | 0.20 | 6.19 | 5.76 | 4.09 | 4.16 | 010
27614 |  | A | Biopsy lower leg soft tissue | 5.65 | 7.82 | 7.32 | 3.95 | 4.33 | 0.78 | 14.25 | 13.75 | 10.38 | 10.76 | 090
27615 |  | A | Remove tumor, lower leg | 12.84 | NA | NA | 7.90 | 9.04 | 1.83 | NA | NA | 22.57 | 23.71 | 090
27618 |  | A | Remove lower leg lesion | 5.08 | 6.35 | 6.11 | 3.74 | 3.94 | 0.72 | 12.15 | 11.91 | 9.54 | 9.74 | 090
27619 |  | A | Remove lower leg lesion | 8.39 | 9.97 | 9.65 | 5.21 | 5.78 | 1.25 | 19.61 | 19.29 | 14.85 | 15.42 | 090
27620 |  | A | Explore/treat ankle joint | 5.97 | NA | NA | 4.50 | 5.24 | 0.97 | NA | NA | 11.44 | 12.18 | 090
27625 |  | A | Remove ankle joint lining | 8.29 | NA | NA | 5.47 | 6.23 | 1.28 | NA | NA | 15.04 | 15.80 | 090
27626 |  | A | Remove ankle joint lining | 8.90 | NA | NA | 5.82 | 6.66 | 1.48 | NA | NA | 16.20 | 17.04 | 090
27630 |  | A | Removal of tendon lesion | 4.79 | 7.88 | 7.66 | 3.74 | 4.23 | 0.74 | 13.41 | 13.19 | 9.27 | 9.76 | 090
27635 |  | A | Remove lower leg bone lesion | 7.83 | NA | NA | 5.56 | 6.46 | 1.31 | NA | NA | 14.70 | 15.60 | 090
27637 |  | A | Remove/graft leg bone lesion | 10.08 | NA | NA | 7.07 | 8.00 | 1.66 | NA | NA | 18.81 | 19.74 | 090
27638 |  | A | Remove/graft leg bone lesion | 10.79 | NA | NA | 6.83 | 7.94 | 1.84 | NA | NA | 19.46 | 20.57 | 090
27640 |  | A | Partial removal of tibia | 12.01 | NA | NA | 8.04 | 9.77 | 1.88 | NA | NA | 21.93 | 23.66 | 090
27641 |  | A | Partial removal of fibula | 9.65 | NA | NA | 6.68 | 7.94 | 1.46 | NA | NA | 17.79 | 19.05 | 090
27645 |  | A | Extensive lower leg surgery | 14.69 | NA | NA | 9.36 | 11.40 | 2.41 | NA | NA | 26.46 | 28.50 | 090
27646 |  | A | Extensive lower leg surgery | 13.12 | NA | NA | 8.56 | 10.44 | 2.05 | NA | NA | 23.73 | 25.61 | 090
27647 |  | A | Extensive ankle/heel surgery | 12.76 | NA | NA | 6.48 | 7.34 | 1.75 | NA | NA | 20.99 | 21.85 | 090
27648 |  | A | Injection for ankle x-ray | 0.96 | 2.77 | 3.34 | 0.32 | 0.33 | 0.08 | 3.81 | 4.38 | 1.36 | 1.37 | 000
27650 |  | A | Repair achilles tendon | 9.86 | NA | NA | 6.16 | 7.19 | 1.59 | NA | NA | 17.61 | 18.64 | 090
27652 |  | A | Repair/graft achilles tendon | 10.55 | NA | NA | 6.30 | 7.61 | 1.71 | NA | NA | 18.56 | 19.87 | 090
27654 |  | A | Repair of achilles tendon | 10.24 | NA | NA | 5.84 | 6.83 | 1.58 | NA | NA | 17.66 | 18.65 | 090
27656 |  | A | Repair leg fascia defect | 4.56 | 8.10 | 8.44 | 3.67 | 3.75 | 0.69 | 13.35 | 13.69 | 8.92 | 9.00 | 090
27658 |  | A | Repair of leg tendon, each | 4.97 | NA | NA | 3.84 | 4.39 | 0.79 | NA | NA | 9.60 | 10.15 | 090
27659 |  | A | Repair of leg tendon, each | 6.92 | NA | NA | 4.79 | 5.44 | 1.09 | NA | NA | 12.80 | 13.45 | 090
27664 |  | A | Repair of leg tendon, each | 4.58 | NA | NA | 3.88 | 4.39 | 0.76 | NA | NA | 9.22 | 9.73 | 090
27665 |  | A | Repair of leg tendon, each | 5.39 | NA | NA | 4.40 | 4.84 | 0.89 | NA | NA | 10.68 | 11.12 | 090
27675 |  | A | Repair lower leg tendons | 7.17 | NA | NA | 4.64 | 5.47 | 1.11 | NA | NA | 12.92 | 13.75 | 090
27676 |  | A | Repair lower leg tendons | 8.53 | NA | NA | 5.64 | 6.49 | 1.37 | NA | NA | 15.54 | 16.39 | 090
27680 |  | A | Release of lower leg tendon | 5.73 | NA | NA | 4.28 | 4.91 | 0.93 | NA | NA | 10.94 | 11.57 | 090
27681 |  | A | Release of lower leg tendons | 6.87 | NA | NA | 4.67 | 5.62 | 1.15 | NA | NA | 12.69 | 13.64 | 090
27685 |  | A | Revision of lower leg tendon | 6.49 | 8.73 | 7.67 | 4.52 | 5.24 | 0.97 | 16.19 | 15.13 | 11.98 | 12.70 | 090
27686 |  | A | Revise lower leg tendons | 7.57 | NA | NA | 5.27 | 6.20 | 1.24 | NA | NA | 14.08 | 15.01 | 090
27687 |  | A | Revision of calf tendon | 6.23 | NA | NA | 4.42 | 5.10 | 1.00 | NA | NA | 11.65 | 12.33 | 090
27690 |  | A | Revise lower leg tendon | 8.88 | NA | NA | 5.34 | 6.11 | 1.33 | NA | NA | 15.55 | 16.32 | 090
27691 |  | A | Revise lower leg tendon | 10.19 | NA | NA | 6.57 | 7.48 | 1.64 | NA | NA | 18.40 | 19.31 | 090
27692 |  | A | Revise additional leg tendon | 1.87 | NA | NA | 0.71 | 0.88 | 0.32 | NA | NA | 2.90 | 3.07 | ZZZ
27695 |  | A | Repair of ankle ligament | 6.50 | NA | NA | 4.90 | 5.64 | 1.05 | NA | NA | 12.45 | 13.19 | 090
27696 |  | A | Repair of ankle ligaments | 8.38 | NA | NA | 5.29 | 6.16 | 1.28 | NA | NA | 14.95 | 15.82 | 090
27698 |  | A | Repair of ankle ligament | 9.41 | NA | NA | 5.78 | 6.67 | 1.47 | NA | NA | 16.66 | 17.55 | 090
27700 |  | A | Revision of ankle joint | 9.46 | NA | NA | 5.03 | 5.53 | 1.30 | NA | NA | 15.79 | 16.29 | 090
27702 |  | A | Reconstruct ankle joint | 14.19 | NA | NA | 8.56 | 10.01 | 2.37 | NA | NA | 25.12 | 26.57 | 090
27703 |  | A | Reconstruction, ankle joint | 16.69 | NA | NA | 9.69 | 10.87 | 2.76 | NA | NA | 29.14 | 30.32 | 090
27704 |  | A | Removal of ankle implant | 7.61 | NA | NA | 5.60 | 5.61 | 1.27 | NA | NA | 14.48 | 14.49 | 090
27705 |  | A | Incision of tibia | 10.66 | NA | NA | 6.78 | 7.84 | 1.80 | NA | NA | 19.24 | 20.30 | 090
27707 |  | A | Incision of fibula | 4.60 | NA | NA | 4.42 | 4.82 | 0.76 | NA | NA | 9.78 | 10.18 | 090
27709 |  | A | Incision of tibia & fibula | 17.24 | NA | NA | 9.47 | 8.48 | 1.73 | NA | NA | 28.44 | 27.45 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
27712 |  | A | Realignment of lower leg | 15.59 | NA | NA | 8.98 | 10.32 | 2.47 | NA | NA | 27.04 | 28.38 | 090
27715 |  | A | Revision of lower leg | 15.27 | NA | NA | 8.83 | 10.31 | 2.49 | NA | NA | 26.59 | 28.07 | 090
27720 |  | A | Repair of tibia | 12.13 | NA | NA | 7.81 | 9.03 | 2.04 | NA | NA | 21.98 | 23.20 | 090
27722 |  | A | Repair/graft of tibia | 12.22 | NA | NA | 7.90 | 8.85 | 2.05 | NA | NA | 22.17 | 23.12 | 090
27724 |  | A | Repair/graft of tibia | 19.12 | NA | NA | 10.10 | 11.83 | 3.16 | NA | NA | 32.38 | 34.11 | 090
27725 |  | A | Repair of lower leg | 17.07 | NA | NA | 10.41 | 11.56 | 2.71 | NA | NA | 30.19 | 31.34 | 090
27727 |  | A | Repair of lower leg | 14.59 | NA | NA | 8.40 | 9.88 | 2.43 | NA | NA | 25.42 | 26.90 | 090
27730 |  | A | Repair of tibia epiphysis | 7.52 | NA | NA | 5.21 | 6.13 | 1.72 | NA | NA | 14.45 | 15.37 | 090
27732 |  | A | Repair of fibula epiphysis | 5.31 | NA | NA | 4.60 | 4.86 | 0.77 | NA | NA | 10.68 | 10.94 | 090
27734 |  | A | Repair lower leg epiphyses | 8.65 | NA | NA | 6.08 | 6.25 | 1.35 | NA | NA | 16.08 | 16.25 | 090
27740 |  | A | Repair of leg epiphyses | 9.41 | NA | NA | 6.52 | 7.64 | 1.62 | NA | NA | 17.55 | 18.67 | 090
27742 |  | A | Repair of leg epiphyses | 10.40 | 3.04 | 4.95 | 5.19 | 5.48 | 1.79 | 15.23 | 17.14 | 17.38 | 17.67 | 090
27745 |  | A | Reinforce tibia | 10.29 | NA | NA | 6.87 | 7.86 | 1.75 | NA | NA | 18.91 | 19.90 | 090
27750 |  | A | Treatment of tibia fracture | 3.19 | 4.26 | 4.64 | 3.68 | 3.82 | 0.55 | 8.00 | 8.38 | 7.42 | 7.56 | 090
27752 |  | A | Treatment of tibia fracture | 6.07 | 5.89 | 6.48 | 5.05 | 5.53 | 1.01 | 12.97 | 13.56 | 12.13 | 12.61 | 090
27756 |  | A | Treatment of tibia fracture | 7.25 | NA | NA | 5.65 | 6.27 | 1.17 | NA | NA | 14.07 | 14.69 | 090
27758 |  | A | Treatment of tibia fracture | 12.31 | NA | NA | 7.90 | 8.88 | 2.03 | NA | NA | 22.24 | 23.22 | 090
27759 |  | A | Treatment of tibia fracture | 14.23 | NA | NA | 8.54 | 9.89 | 2.38 | NA | NA | 25.15 | 26.50 | 090
27760 |  | A | Treatment of ankle fracture | 3.01 | 4.23 | 4.58 | 3.63 | 3.61 | 0.48 | 7.72 | 8.07 | 7.12 | 7.10 | 090
27762 |  | A | Treatment of ankle fracture | 5.24 | 5.50 | 6.14 | 4.67 | 5.14 | 0.85 | 11.59 | 12.23 | 10.76 | 11.23 | 090
27766 |  | A | Treatment of ankle fracture | 8.65 | NA | NA | 6.16 | 6.97 | 1.44 | NA | NA | 16.25 | 17.06 | 090
27780 |  | A | Treatment of fibula fracture | 2.65 | 3.84 | 4.10 | 3.28 | 3.24 | 0.41 | 6.90 | 7.16 | 6.34 | 6.30 | 090
27781 |  | A | Treatment of fibula fracture | 4.39 | 4.89 | 5.36 | 4.27 | 4.56 | 0.73 | 10.01 | 10.48 | 9.39 | 9.68 | 090
27784 |  | A | Treatment of fibula fracture | 7.34 | NA | NA | 5.50 | 6.24 | 1.23 | NA | NA | 14.07 | 14.81 | 090
27786 |  | A | Treatment of ankle fracture | 2.84 | 4.01 | 4.36 | 3.39 | 3.35 | 0.46 | 7.31 | 7.66 | 6.69 | 6.65 | 090
27788 |  | A | Treatment of ankle fracture | 4.44 | 4.93 | 5.48 | 4.20 | 4.55 | 0.74 | 10.11 | 10.66 | 9.38 | 9.73 | 090
27792 |  | A | Treatment of ankle fracture | 7.83 | NA | NA | 5.83 | 6.69 | 1.32 | NA | NA | 14.98 | 15.84 | 090
27808 |  | A | Treatment of ankle fracture | 2.83 | 4.34 | 4.69 | 3.65 | 3.70 | 0.46 | 7.63 | 7.98 | 6.94 | 6.99 | 090
27810 |  | A | Treatment of ankle fracture | 5.12 | 5.38 | 6.04 | 4.53 | 5.00 | 0.82 | 11.32 | 11.98 | 10.47 | 10.94 | 090
27814 |  | A | Treatment of ankle fracture | 11.02 | NA | NA | 7.13 | 8.22 | 1.85 | NA | NA | 20.00 | 21.09 | 090
27816 |  | A | Treatment of ankle fracture | 2.89 | 3.98 | 4.29 | 3.31 | 3.39 | 0.43 | 7.30 | 7.61 | 6.63 | 6.71 | 090
27818 |  | A | Treatment of ankle fracture | 5.49 | 5.36 | 6.13 | 4.40 | 4.99 | 0.82 | 11.67 | 12.44 | 10.71 | 11.30 | 090
27822 |  | A | Treatment of ankle fracture | 12.04 | NA | NA | 8.71 | 10.19 | 1.91 | NA | NA | 22.66 | 24.14 | 090
27823 |  | A | Treatment of ankle fracture | 14.18 | NA | NA | 9.33 | 10.96 | 2.25 | NA | NA | 25.76 | 27.39 | 090
27824 |  | A | Treat lower leg fracture | 3.14 | 3.69 | 3.98 | 3.50 | 3.55 | 0.45 | 7.28 | 7.57 | 7.09 | 7.14 | 090
27825 |  | A | Treat lower leg fracture | 6.54 | 5.78 | 6.41 | 4.75 | 5.24 | 1.02 | 13.34 | 13.97 | 12.31 | 12.80 | 090
27826 |  | A | Treat lower leg fracture | 8.89 | NA | NA | 6.89 | 8.36 | 1.47 | NA | NA | 17.25 | 18.72 | 090
27827 |  | A | Treat lower leg fracture | 15.65 | NA | NA | 10.62 | 12.26 | 2.43 | NA | NA | 28.70 | 30.34 | 090
27828 |  | A | Treat lower leg fracture | 18.07 | NA | NA | 12.12 | 13.51 | 2.81 | NA | NA | 33.00 | 34.39 | 090
27829 |  | A | Treat lower leg joint | 5.60 | NA | NA | 5.44 | 6.46 | 0.95 | NA | NA | 11.99 | 13.01 | 090
27830 |  | A | Treat lower leg dislocation | 3.78 | 4.25 | 4.36 | 3.70 | 3.82 | 0.54 | 8.57 | 8.68 | 8.02 | 8.14 | 090
27831 |  | A | Treat lower leg dislocation | 4.55 | NA | NA | 3.94 | 4.34 | 0.73 | NA | NA | 9.22 | 9.62 | 090
27832 |  | A | Treat lower leg dislocation | 6.60 | NA | NA | 4.65 | 5.81 | 1.03 | NA | NA | 12.28 | 13.44 | 090
27840 |  | A | Treat ankle dislocation | 4.57 | NA | NA | 3.59 | 3.73 | 0.46 | NA | NA | 8.62 | 8.76 | 090
27842 |  | A | Treat ankle dislocation | 6.26 | NA | NA | 4.81 | 5.05 | 1.00 | NA | NA | 12.07 | 12.31 | 090
27846 |  | A | Treat ankle dislocation | 10.08 | NA | NA | 6.73 | 7.65 | 1.70 | NA | NA | 18.51 | 19.43 | 090
27848 |  | A | Treat ankle dislocation | 11.48 | NA | NA | 7.57 | 9.20 | 1.94 | NA | NA | 20.99 | 22.62 | 090
27860 |  | A | Fixation of ankle joint | 2.34 | NA | NA | 1.67 | 1.91 | 0.39 | NA | NA | 4.40 | 4.64 | 010
27870 |  | A | Fusion of ankle joint, open | 15.13 | NA | NA | 9.00 | 10.16 | 2.36 | NA | NA | 26.49 | 27.65 | 090
27871 |  | A | Fusion of tibiofibular joint | 9.34 | NA | NA | 6.40 | 7.30 | 1.59 | NA | NA | 17.33 | 18.23 | 090
27880 |  | A | Amputation of lower leg | 15.18 | NA | NA | 7.13 | 7.15 | 1.75 | NA | NA | 24.06 | 24.08 | 090
27881 |  | A | Amputation of lower leg | 13.22 | NA | NA | 7.42 | 8.51 | 1.98 | NA | NA | 22.62 | 23.71 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
27882 |  | A | Amputation of lower leg | 9.59 | NA | NA | 5.61 | 6.28 | 1.29 | NA | NA | 16.49 | 17.16 | 090
27884 |  | A | Amputation follow-up surgery | 8.56 | NA | NA | 5.09 | 5.60 | 1.22 | NA | NA | 14.87 | 15.38 | 090
27886 |  | A | Amputation follow-up surgery | 9.79 | NA | NA | 5.74 | 6.33 | 1.40 | NA | NA | 16.93 | 17.52 | 090
27888 |  | A | Amputation of foot at ankle | 10.14 | NA | NA | 6.19 | 7.19 | 1.51 | NA | NA | 17.84 | 18.84 | 090
27889 |  | A | Amputation of foot at ankle | 10.63 | NA | NA | 5.44 | 6.23 | 1.46 | NA | NA | 17.53 | 18.32 | 090
27892 |  | A | Decompression of leg | 7.74 | NA | NA | 4.86 | 5.42 | 1.10 | NA | NA | 13.70 | 14.26 | 090
27893 |  | A | Decompression of leg | 7.70 | NA | NA | 5.05 | 5.37 | 1.10 | NA | NA | 13.85 | 14.17 | 090
27894 |  | A | Decompression of leg | 12.32 | NA | NA | 7.30 | 7.67 | 1.65 | NA | NA | 21.27 | 21.64 | 090
28001 |  | A | Drainage of bursa of foot | 2.73 | 3.99 | 3.24 | 1.60 | 1.87 | 0.33 | 7.05 | 6.30 | 4.66 | 4.93 | 010
28002 |  | A | Treatment of foot infection | 5.72 | 6.69 | 5.42 | 3.56 | 3.73 | 0.61 | 13.02 | 11.75 | 9.89 | 10.06 | 010
28003 |  | A | Treatment of foot infection | 8.88 | 7.77 | 6.63 | 4.54 | 5.07 | 1.12 | 17.77 | 16.63 | 14.54 | 15.07 | 090
28005 |  | A | Treat foot bone lesion | 9.21 | NA | NA | 5.24 | 5.86 | 1.16 | NA | NA | 15.61 | 16.23 | 090
28008 |  | A | Incision of foot fascia | 4.44 | 6.15 | 4.96 | 2.97 | 3.15 | 0.57 | 11.16 | 9.97 | 7.98 | 8.16 | 090
28010 |  | A | Incision of toe tendon | 2.84 | 2.83 | 2.49 | 2.31 | 2.36 | 0.36 | 6.03 | 5.69 | 5.51 | 5.56 | 090
28011 |  | A | Incision of toe tendons | 4.13 | NA | NA | 3.00 | 3.23 | 0.59 | NA | NA | 7.72 | 7.95 | 090
28020 |  | A | Exploration of foot joint | 5.00 | 7.48 | 6.39 | 3.62 | 4.01 | 0.72 | 13.20 | 12.11 | 9.34 | 9.73 | 090
28022 |  | A | Exploration of foot joint | 4.66 | 6.85 | 5.62 | 3.27 | 3.71 | 0.62 | 12.13 | 10.90 | 8.55 | 8.99 | 090
28024 |  | A | Exploration of toe joint | 4.37 | 6.62 | 5.58 | 3.13 | 3.73 | 0.58 | 11.57 | 10.53 | 8.08 | 8.68 | 090
28030 |  | A | Removal of foot nerve | 6.14 | NA | NA | 3.30 | 3.57 | 0.74 | NA | NA | 10.18 | 10.45 | 090
28035 |  | A | Decompression of tibia nerve | 5.08 | 7.40 | 6.25 | 3.60 | 3.98 | 0.70 | 13.18 | 12.03 | 9.38 | 9.76 | 090
28043 |  | A | Excision of foot lesion | 3.53 | 4.78 | 4.06 | 2.72 | 3.07 | 0.46 | 8.77 | 8.05 | 6.71 | 7.06 | 090
28045 |  | A | Excision of foot lesion | 4.71 | 7.03 | 5.80 | 3.23 | 3.52 | 0.63 | 12.37 | 11.14 | 8.57 | 8.86 | 090
28046 |  | A | Resection of tumor, foot | 10.46 | 10.35 | 9.18 | 5.72 | 6.30 | 1.36 | 22.17 | 21.00 | 17.54 | 18.12 | 090
28050 |  | A | Biopsy of foot joint lining | 4.24 | 6.83 | 5.38 | 3.22 | 3.51 | 0.60 | 11.67 | 10.22 | 8.06 | 8.35 | 090
28052 |  | A | Biopsy of foot joint lining | 3.93 | 6.40 | 5.29 | 2.91 | 3.31 | 0.53 | 10.86 | 9.75 | 7.37 | 7.77 | 090
28054 |  | A | Biopsy of toe joint lining | 3.44 | 6.18 | 5.09 | 2.74 | 3.12 | 0.46 | 10.08 | 8.99 | 6.64 | 7.02 | 090
28060 |  | A | Partial removal, foot fascia | 5.22 | 7.09 | 5.89 | 3.53 | 3.79 | 0.70 | 13.01 | 11.81 | 9.45 | 9.71 | 090
28062 |  | A | Removal of foot fascia | 6.51 | 7.80 | 6.85 | 3.78 | 3.96 | 0.83 | 15.14 | 14.19 | 11.12 | 11.30 | 090
28070 |  | A | Removal of foot joint lining | 5.09 | 7.18 | 5.72 | 3.42 | 3.72 | 0.73 | 13.00 | 11.54 | 9.24 | 9.54 | 090
28072 |  | A | Removal of foot joint lining | 4.57 | 7.58 | 6.05 | 3.59 | 4.13 | 0.68 | 12.83 | 11.30 | 8.84 | 9.38 | 090
28080 |  | A | Removal of foot lesion | 4.57 | 7.63 | 5.75 | 4.16 | 3.81 | 0.47 | 12.67 | 10.79 | 9.20 | 8.85 | 090
28086 |  | A | Excise foot tendon sheath | 4.77 | 7.76 | 7.94 | 3.74 | 4.45 | 0.76 | 13.29 | 13.47 | 9.27 | 9.98 | 090
28088 |  | A | Excise foot tendon sheath | 3.85 | 6.94 | 6.06 | 3.14 | 3.71 | 0.61 | 11.40 | 10.52 | 7.60 | 8.17 | 090
28090 |  | A | Removal of foot lesion | 4.40 | 6.75 | 5.55 | 3.15 | 3.38 | 0.59 | 11.74 | 10.54 | 8.14 | 8.37 | 090
28092 |  | A | Removal of toe lesions | 3.63 | 6.46 | 5.54 | 2.97 | 3.39 | 0.49 | 10.58 | 9.66 | 7.09 | 7.51 | 090
28100 |  | A | Removal of ankle/heel lesion | 5.65 | 8.18 | 8.03 | 4.03 | 4.53 | 0.82 | 14.65 | 14.50 | 10.50 | 11.00 | 090
28102 |  | A | Remove/graft foot lesion | 7.72 | NA | NA | 4.87 | 5.69 | 1.14 | NA | NA | 13.73 | 14.55 | 090
28103 |  | A | Remove/graft foot lesion | 6.49 | NA | NA | 4.10 | 4.49 | 0.91 | NA | NA | 11.50 | 11.89 | 090
28104 |  | A | Removal of foot lesion | 5.11 | 7.20 | 5.93 | 3.43 | 3.81 | 0.70 | 13.01 | 11.74 | 9.24 | 9.62 | 090
28106 |  | A | Remove/graft foot lesion | 7.15 | NA | NA | 4.37 | 4.42 | 0.97 | NA | NA | 12.49 | 12.54 | 090
28107 |  | A | Remove/graft foot lesion | 5.55 | 7.82 | 6.86 | 3.70 | 4.08 | 0.74 | 14.11 | 13.15 | 9.99 | 10.37 | 090
28108 |  | A | Removal of toe lesions | 4.15 | 6.33 | 5.03 | 2.96 | 3.19 | 0.53 | 11.01 | 9.71 | 7.64 | 7.87 | 090
28110 |  | A | Part removal of metatarsal | 4.07 | 6.93 | 5.66 | 3.04 | 3.18 | 0.54 | 11.54 | 10.27 | 7.65 | 7.79 | 090
28111 |  | A | Part removal of metatarsal | 5.00 | 7.31 | 6.55 | 3.28 | 3.57 | 0.67 | 12.98 | 12.22 | 8.95 | 9.24 | 090
28112 |  | A | Part removal of metatarsal | 4.48 | 7.22 | 6.17 | 3.24 | 3.50 | 0.61 | 12.31 | 11.26 | 8.33 | 8.59 | 090
28113 |  | A | Part removal of metatarsal | 5.78 | 8.38 | 6.65 | 4.60 | 4.39 | 0.63 | 14.79 | 13.06 | 11.01 | 10.80 | 090
28114 |  | A | Removal of metatarsal heads | 11.49 | 13.21 | 12.04 | 8.15 | 8.33 | 1.42 | 26.12 | 24.95 | 21.06 | 21.24 | 090
28116 |  | A | Revision of foot | 8.86 | 9.42 | 7.46 | 5.30 | 5.21 | 1.03 | 19.31 | 17.35 | 15.19 | 15.10 | 090
28118 |  | A | Removal of heel bone | 5.95 | 7.89 | 6.67 | 3.98 | 4.26 | 0.84 | 14.68 | 13.46 | 10.77 | 11.05 | 090
28119 |  | A | Removal of heel spur | 5.38 | 7.18 | 5.88 | 3.54 | 3.68 | 0.70 | 13.26 | 11.96 | 9.62 | 9.76 | 090
28120 |  | A | Part removal of ankle/heel | 5.57 | 8.04 | 7.49 | 3.92 | 4.30 | 0.77 | 14.38 | 13.83 | 10.26 | 10.64 | 090
28122 |  | A | Partial removal of foot bone | 7.46 | 8.45 | 7.25 | 4.74 | 5.15 | 0.98 | 16.89 | 15.69 | 13.18 | 13.59 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
28124 |  | A | Partial removal of toe | 4.80 | 6.73 | 5.43 | 3.41 | 3.60 | 0.60 | 12.13 | 10.83 | 8.81 | 9.00 | 090
28126 |  | A | Partial removal of toe | 3.51 | 5.92 | 4.65 | 2.63 | 2.91 | 0.45 | 9.88 | 8.61 | 6.59 | 6.87 | 090
28130 |  | A | Removal of ankle bone | 9.22 | NA | NA | 5.78 | 6.49 | 1.26 | NA | NA | 16.26 | 16.97 | 090
28140 |  | A | Removal of metatarsal | 6.96 | 7.84 | 7.39 | 4.11 | 4.61 | 0.92 | 15.72 | 15.27 | 11.99 | 12.49 | 090
28150 |  | A | Removal of toe | 4.08 | 6.39 | 5.23 | 2.98 | 3.21 | 0.53 | 11.00 | 9.84 | 7.59 | 7.82 | 090
28153 |  | A | Partial removal of toe | 3.65 | 6.15 | 4.78 | 2.84 | 2.73 | 0.47 | 10.27 | 8.90 | 6.96 | 6.85 | 090
28160 |  | A | Partial removal of toe | 3.73 | 6.33 | 5.01 | 2.92 | 3.24 | 0.49 | 10.55 | 9.23 | 7.14 | 7.46 | 090
28171 |  | A | Extensive foot surgery | 9.77 | NA | NA | 5.10 | 5.36 | 1.33 | NA | NA | 16.20 | 16.46 | 090
28173 |  | A | Extensive foot surgery | 8.97 | 8.74 | 7.89 | 4.60 | 5.06 | 1.12 | 18.83 | 17.98 | 14.69 | 15.15 | 090
28175 |  | A | Extensive foot surgery | 6.10 | 7.08 | 6.06 | 3.57 | 3.68 | 0.73 | 13.91 | 12.89 | 10.40 | 10.51 | 090
28190 |  | A | Removal of foot foreign body | 1.96 | 4.00 | 3.55 | 1.32 | 1.44 | 0.22 | 6.18 | 5.73 | 3.50 | 3.62 | 010
28192 |  | A | Removal of foot foreign body | 4.63 | 6.71 | 5.80 | 3.17 | 3.53 | 0.61 | 11.95 | 11.04 | 8.41 | 8.77 | 090
28193 |  | A | Removal of foot foreign body | 5.72 | 7.29 | 6.04 | 3.58 | 3.84 | 0.73 | 13.74 | 12.49 | 10.03 | 10.29 | 090
28200 |  | A | Repair of foot tendon | 4.59 | 6.85 | 5.54 | 3.20 | 3.47 | 0.61 | 12.05 | 10.74 | 8.40 | 8.67 | 090
28202 |  | A | Repair/graft of foot tendon | 6.89 | 7.91 | 7.40 | 4.00 | 4.38 | 0.91 | 15.71 | 15.20 | 11.80 | 12.18 | 090
28208 |  | A | Repair of foot tendon | 4.36 | 6.64 | 5.28 | 3.14 | 3.27 | 0.58 | 11.58 | 10.22 | 8.08 | 8.21 | 090
28210 |  | A | Repair/graft of foot tendon | 6.34 | 7.50 | 6.55 | 3.84 | 3.98 | 0.81 | 14.65 | 13.70 | 10.99 | 11.13 | 090
28220 |  | A | Release of foot tendon | 4.52 | 6.37 | 5.10 | 3.03 | 3.33 | 0.57 | 11.46 | 10.19 | 8.12 | 8.42 | 090
28222 |  | A | Release of foot tendons | 5.61 | 6.84 | 5.65 | 3.27 | 3.92 | 0.69 | 13.14 | 11.95 | 9.57 | 10.22 | 090
28225 |  | A | Release of foot tendon | 3.65 | 5.99 | 4.72 | 2.69 | 2.86 | 0.46 | 10.10 | 8.83 | 6.80 | 6.97 | 090
28226 |  | A | Release of foot tendons | 4.52 | 6.94 | 5.34 | 3.27 | 3.63 | 0.58 | 12.04 | 10.44 | 8.37 | 8.73 | 090
28230 |  | A | Incision of foot tendon(s) | 4.23 | 6.26 | 5.08 | 2.85 | 3.47 | 0.55 | 11.04 | 9.86 | 7.63 | 8.25 | 090
28232 |  | A | Incision of toe tendon | 3.38 | 5.91 | 4.88 | 2.65 | 3.15 | 0.44 | 9.73 | 8.70 | 6.47 | 6.97 | 090
28234 |  | A | Incision of foot tendon | 3.36 | 6.25 | 5.07 | 3.01 | 3.27 | 0.44 | 10.05 | 8.87 | 6.81 | 7.07 | 090
28238 |  | A | Revision of foot tendon | 7.78 | 8.28 | 7.52 | 4.28 | 4.78 | 1.06 | 17.12 | 16.36 | 13.12 | 13.62 | 090
28240 |  | A | Release of big toe | 4.35 | 6.38 | 5.08 | 2.95 | 3.36 | 0.58 | 11.31 | 10.01 | 7.88 | 8.29 | 090
28250 |  | A | Revision of foot fascia | 5.91 | 7.37 | 6.07 | 3.70 | 4.03 | 0.82 | 14.10 | 12.80 | 10.43 | 10.76 | 090
28260 |  | A | Release of midfoot joint | 8.01 | 8.53 | 6.89 | 4.64 | 4.91 | 1.14 | 17.68 | 16.04 | 13.79 | 14.06 | 090
28261 |  | A | Revision of foot tendon | 12.83 | 10.60 | 9.12 | 6.26 | 7.06 | 1.57 | 25.00 | 23.52 | 20.66 | 21.46 | 090
28262 |  | A | Revision of foot and ankle | 16.93 | 15.42 | 14.05 | 9.62 | 10.61 | 2.59 | 34.94 | 33.57 | 29.14 | 30.13 | 090
28264 |  | A | Release of midfoot joint | 10.45 | 10.30 | 8.39 | 5.91 | 6.95 | 1.54 | 22.29 | 20.38 | 17.90 | 18.94 | 090
28270 |  | A | Release of foot contracture | 4.75 | 6.88 | 5.40 | 3.40 | 3.66 | 0.62 | 12.25 | 10.77 | 8.77 | 9.03 | 090
28272 |  | A | Release of toe joint, each | 3.79 | 5.80 | 4.59 | 2.62 | 2.80 | 0.46 | 10.05 | 8.84 | 6.87 | 7.05 | 090
28280 |  | A | Fusion of toes | 5.18 | 7.31 | 6.52 | 3.53 | 4.25 | 0.73 | 13.22 | 12.43 | 9.44 | 10.16 | 090
28285 |  | A | Repair of hammertoe | 4.58 | 6.67 | 5.32 | 3.31 | 3.40 | 0.59 | 11.84 | 10.49 | 8.48 | 8.57 | 090
28286 |  | A | Repair of hammertoe | 4.55 | 6.45 | 5.21 | 3.00 | 3.20 | 0.57 | 11.57 | 10.33 | 8.12 | 8.32 | 090
28288 |  | A | Partial removal of foot bone | 5.73 | 8.58 | 6.61 | 4.66 | 4.83 | 0.65 | 14.96 | 12.99 | 11.04 | 11.21 | 090
28289 |  | A | Repair hallux rigidus | 8.03 | 9.38 | 8.35 | 5.29 | 5.66 | 1.02 | 18.43 | 17.40 | 14.34 | 14.71 | 090
28290 |  | A | Correction of bunion | 5.65 | 8.13 | 6.74 | 3.91 | 4.53 | 0.82 | 14.60 | 13.21 | 10.38 | 11.00 | 090
28292 |  | A | Correction of bunion | 8.60 | 10.27 | 8.18 | 6.08 | 5.68 | 0.91 | 19.78 | 17.69 | 15.59 | 15.19 | 090
28293 |  | A | Correction of bunion | 10.96 | 14.40 | 11.68 | 6.84 | 6.30 | 1.13 | 26.49 | 23.77 | 18.93 | 18.39 | 090
28294 |  | A | Correction of bunion | 8.55 | 9.03 | 7.85 | 4.50 | 4.67 | 1.09 | 18.67 | 17.49 | 14.14 | 14.31 | 090
28296 |  | A | Correction of bunion | 9.23 | 9.51 | 8.51 | 4.73 | 5.26 | 1.19 | 19.93 | 18.93 | 15.15 | 15.68 | 090
28297 |  | A | Correction of bunion | 9.23 | 10.35 | 9.32 | 5.24 | 6.01 | 1.32 | 20.90 | 19.87 | 15.79 | 16.56 | 090
28298 |  | A | Correction of bunion | 7.93 | 9.16 | 7.71 | 4.49 | 4.88 | 1.05 | 18.14 | 16.69 | 13.47 | 13.86 | 090
28299 |  | A | Correction of bunion | 11.31 | 10.46 | 9.21 | 5.64 | 5.97 | 1.37 | 23.14 | 21.89 | 18.32 | 18.65 | 090
28300 |  | A | Incision of heel bone | 9.53 | NA | NA | 5.99 | 6.79 | 1.54 | NA | NA | 17.06 | 17.86 | 090
28302 |  | A | Incision of ankle bone | 9.54 | NA | NA | 5.64 | 6.59 | 1.42 | NA | NA | 16.60 | 17.55 | 090
28304 |  | A | Incision of midfoot bones | 9.21 | 9.46 | 8.34 | 5.00 | 5.56 | 1.27 | 19.94 | 18.82 | 15.48 | 16.04 | 090
28305 |  | A | Incise/graft midfoot bones | 10.54 | NA | NA | 5.48 | 6.43 | 1.27 | NA | NA | 17.29 | 18.24 | 090
28306 |  | A | Incision of metatarsal | 5.85 | 8.28 | 7.21 | 3.80 | 4.09 | 0.84 | 14.97 | 13.90 | 10.49 | 10.78 | 090
28307 |  | A | Incision of metatarsal | 6.32 | 9.45 | 10.65 | 4.40 | 5.08 | 0.90 | 16.67 | 17.87 | 11.62 | 12.30 | 090
28308 |  | A | Incision of metatarsal | 5.28 | 7.84 | 6.28 | 3.76 | 3.71 | 0.70 | 13.82 | 12.26 | 9.74 | 9.69 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
28309 |  | A | Incision of metatarsals | 13.88 | NA | NA | 7.63 | 7.89 | 2.04 | NA | NA | 23.55 | 23.81 | 090
28310 |  | A | Revision of big toe | 5.42 | 7.45 | 6.18 | 3.35 | 3.51 | 0.70 | 13.57 | 12.30 | 9.47 | 9.63 | 090
28312 |  | A | Revision of toe | 4.54 | 7.32 | 5.92 | 3.19 | 3.53 | 0.63 | 12.49 | 11.09 | 8.36 | 8.70 | 090
28313 |  | A | Repair deformity of toe | 5.00 | 7.31 | 5.80 | 3.61 | 4.53 | 0.73 | 13.04 | 11.53 | 9.34 | 10.26 | 090
28315 |  | A | Removal of sesamoid bone | 4.85 | 6.65 | 5.34 | 3.19 | 3.30 | 0.63 | 12.13 | 10.82 | 8.67 | 8.78 | 090
28320 |  | A | Repair of foot bones | 9.17 | NA | NA | 5.67 | 6.47 | 1.43 | NA | NA | 16.27 | 17.07 | 090
28322 |  | A | Repair of metatarsals | 8.33 | 9.92 | 9.38 | 5.39 | 6.11 | 1.27 | 19.52 | 18.98 | 14.99 | 15.71 | 090
28340 |  | A | Resect enlarged toe tissue | 6.97 | 7.96 | 6.84 | 3.99 | 4.19 | 0.84 | 15.77 | 14.65 | 11.80 | 12.00 | 090
28341 |  | A | Resect enlarged toe | 8.52 | 8.57 | 7.36 | 4.38 | 4.71 | 1.01 | 18.10 | 16.89 | 13.91 | 14.24 | 090
28344 |  | A | Repair extra toe(s) | 4.25 | 6.74 | 6.01 | 3.13 | 3.51 | 0.51 | 11.50 | 10.77 | 7.89 | 8.27 | 090
28345 |  | A | Repair webbed toe(s) | 5.91 | 7.72 | 6.59 | 3.82 | 4.47 | 0.80 | 14.43 | 13.30 | 10.53 | 11.18 | 090
28360 |  | A | Reconstruct cleft foot | 14.57 | NA | NA | 6.24 | 9.45 | 2.28 | NA | NA | 23.09 | 26.30 | 090
28400 |  | A | Treatment of heel fracture | 2.16 | 3.34 | 3.57 | 2.89 | 3.02 | 0.35 | 5.85 | 6.08 | 5.40 | 5.53 | 090
28405 |  | A | Treatment of heel fracture | 4.56 | 4.47 | 4.75 | 3.70 | 4.40 | 0.73 | 9.76 | 10.04 | 8.99 | 9.69 | 090
28406 |  | A | Treatment of heel fracture | 6.36 | NA | NA | 5.47 | 6.48 | 1.11 | NA | NA | 12.94 | 13.95 | 090
28415 |  | A | Treat heel fracture | 17.44 | NA | NA | 10.70 | 12.67 | 2.66 | NA | NA | 30.80 | 32.77 | 090
28420 |  | A | Treat/graft heel fracture | 16.98 | NA | NA | 9.98 | 12.21 | 2.80 | NA | NA | 29.76 | 31.99 | 090
28430 |  | A | Treatment of ankle fracture | 2.09 | 3.10 | 3.33 | 2.55 | 2.57 | 0.31 | 5.50 | 5.73 | 4.95 | 4.97 | 090
28435 |  | A | Treatment of ankle fracture | 3.39 | 3.72 | 3.85 | 3.04 | 3.57 | 0.55 | 7.66 | 7.79 | 6.98 | 7.51 | 090
28436 |  | A | Treatment of ankle fracture | 4.70 | NA | NA | 4.79 | 5.65 | 0.81 | NA | NA | 10.30 | 11.16 | 090
28445 |  | A | Treat ankle fracture | 16.99 | NA | NA | 9.53 | 10.68 | 2.58 | NA | NA | 29.10 | 30.25 | 090
28450 |  | A | Treat midfoot fracture, each | 1.90 | 2.90 | 3.07 | 2.40 | 2.46 | 0.28 | 5.08 | 5.25 | 4.58 | 4.64 | 090
28455 |  | A | Treat midfoot fracture, each | 3.09 | 3.47 | 3.44 | 2.84 | 3.28 | 0.44 | 7.00 | 6.97 | 6.37 | 6.81 | 090
28456 |  | A | Treat midfoot fracture | 2.68 | NA | NA | 3.46 | 3.99 | 0.44 | NA | NA | 6.58 | 7.11 | 090
28465 |  | A | Treat midfoot fracture, each | 7.06 | NA | NA | 4.98 | 5.99 | 1.10 | NA | NA | 13.14 | 14.15 | 090
28470 |  | A | Treat metatarsal fracture | 1.99 | 2.80 | 3.05 | 2.36 | 2.43 | 0.30 | 5.09 | 5.34 | 4.65 | 4.72 | 090
28475 |  | A | Treat metatarsal fracture | 2.97 | 3.14 | 3.29 | 2.52 | 3.05 | 0.44 | 6.55 | 6.70 | 5.93 | 6.46 | 090
28476 |  | A | Treat metatarsal fracture | 3.37 | NA | NA | 4.17 | 4.79 | 0.54 | NA | NA | 8.08 | 8.70 | 090
28485 |  | A | Treat metatarsal fracture | 5.70 | NA | NA | 4.49 | 5.22 | 0.83 | NA | NA | 11.02 | 11.75 | 090
28490 |  | A | Treat big toe fracture | 1.09 | 2.09 | 2.04 | 1.67 | 1.65 | 0.14 | 3.32 | 3.27 | 2.90 | 2.88 | 090
28495 |  | A | Treat big toe fracture | 1.58 | 2.45 | 2.25 | 1.85 | 2.02 | 0.20 | 4.23 | 4.03 | 3.63 | 3.80 | 090
28496 |  | A | Treat big toe fracture | 2.33 | 7.14 | 7.99 | 2.86 | 3.12 | 0.36 | 9.83 | 10.68 | 5.55 | 5.81 | 090
28505 |  | A | Treat big toe fracture | 3.80 | 7.43 | 7.95 | 3.23 | 3.74 | 0.56 | 11.79 | 12.31 | 7.59 | 8.10 | 090
28510 |  | A | Treatment of toe fracture | 1.09 | 1.66 | 1.56 | 1.59 | 1.55 | 0.14 | 2.89 | 2.79 | 2.82 | 2.78 | 090
28515 |  | A | Treatment of toe fracture | 1.46 | 2.22 | 1.98 | 1.82 | 1.88 | 0.18 | 3.86 | 3.62 | 3.46 | 3.52 | 090
28525 |  | A | Treat toe fracture | 3.32 | 6.84 | 7.36 | 2.87 | 3.30 | 0.49 | 10.65 | 11.17 | 6.68 | 7.11 | 090
28530 |  | A | Treat sesamoid bone fracture | 1.06 | 1.63 | 1.49 | 1.34 | 1.42 | 0.14 | 2.83 | 2.69 | 2.54 | 2.62 | 090
28531 |  | A | Treat sesamoid bone fracture | 2.47 | 5.77 | 6.90 | 2.09 | 2.08 | 0.34 | 8.58 | 9.71 | 4.90 | 4.89 | 090
28540 |  | A | Treat foot dislocation | 2.04 | 2.74 | 2.49 | 2.30 | 2.38 | 0.26 | 5.04 | 4.79 | 4.60 | 4.68 | 090
28545 |  | A | Treat foot dislocation | 2.45 | 3.28 | 2.58 | 2.68 | 2.43 | 0.37 | 6.10 | 5.40 | 5.50 | 5.25 | 090
28546 |  | A | Treat foot dislocation | 3.20 | 7.66 | 7.11 | 3.43 | 4.15 | 0.52 | 11.38 | 10.83 | 7.15 | 7.87 | 090
28555 |  | A | Repair foot dislocation | 6.35 | 9.73 | 9.88 | 4.89 | 5.49 | 1.04 | 17.12 | 17.27 | 12.28 | 12.88 | 090
28570 |  | A | Treat foot dislocation | 1.66 | 2.57 | 2.47 | 1.98 | 2.25 | 0.23 | 4.46 | 4.36 | 3.87 | 4.14 | 090
28575 |  | A | Treat foot dislocation | 3.31 | 4.32 | 3.88 | 3.63 | 3.71 | 0.56 | 8.19 | 7.75 | 7.50 | 7.58 | 090
28576 |  | A | Treat foot dislocation | 4.40 | NA | NA | 3.92 | 4.12 | 0.69 | NA | NA | 9.01 | 9.21 | 090
28585 |  | A | Repair foot dislocation | 8.10 | 9.83 | 7.96 | 5.19 | 5.69 | 1.25 | 19.18 | 17.31 | 14.54 | 15.04 | 090
28600 |  | A | Treat foot dislocation | 1.89 | 3.02 | 2.87 | 2.37 | 2.61 | 0.27 | 5.18 | 5.03 | 4.53 | 4.77 | 090
28605 |  | A | Treat foot dislocation | 2.71 | 3.69 | 3.27 | 3.10 | 3.12 | 0.40 | 6.80 | 6.38 | 6.21 | 6.23 | 090
28606 |  | A | Treat foot dislocation | 4.89 | NA | NA | 4.26 | 4.59 | 0.82 | NA | NA | 9.97 | 10.30 | 090
28615 |  | A | Repair foot dislocation | 8.88 | NA | NA | 6.88 | 7.77 | 1.30 | NA | NA | 17.06 | 17.95 | 090
28630 |  | A | Treat toe dislocation | 1.70 | 1.94 | 1.66 | 0.93 | 0.98 | 0.20 | 3.84 | 3.56 | 2.83 | 2.88 | 010
28635 |  | A | Treat toe dislocation | 1.91 | 2.24 | 2.08 | 1.31 | 1.48 | 0.26 | 4.41 | 4.25 | 3.48 | 3.65 | 010
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
28636 |  | A | Treat toe dislocation | 2.77 | 4.36 | 4.00 | 2.03 | 2.48 | 0.43 | 7.56 | 7.20 | 5.23 | 5.68 | 010
28645 |  | A | Repair toe dislocation | 4.21 | 6.79 | 5.42 | 3.14 | 3.25 | 0.57 | 11.57 | 10.20 | 7.92 | 8.03 | 090
28660 |  | A | Treat toe dislocation | 1.23 | 1.29 | 1.27 | 0.77 | 0.79 | 0.13 | 2.65 | 2.63 | 2.13 | 2.15 | 010
28665 |  | A | Treat toe dislocation | 1.92 | NA | NA | 1.32 | 1.40 | 0.26 | NA | NA | 3.50 | 3.58 | 010
28666 |  | A | Treat toe dislocation | 2.66 | 5.25 | 5.74 | 1.89 | 2.42 | 0.43 | 8.34 | 8.83 | 4.98 | 5.51 | 010
28675 |  | A | Repair of toe dislocation | 2.92 | 6.66 | 7.04 | 2.83 | 3.23 | 0.45 | 10.03 | 10.41 | 6.20 | 6.60 | 090
28705 |  | A | Fusion of foot bones | 20.04 | NA | NA | 10.54 | 11.99 | 3.08 | NA | NA | 33.66 | 35.11 | 090
28715 |  | A | Fusion of foot bones | 14.32 | NA | NA | 8.34 | 9.42 | 2.16 | NA | NA | 24.82 | 25.90 | 090
28725 |  | A | Fusion of foot bones | 11.89 | NA | NA | 6.79 | 7.89 | 1.86 | NA | NA | 20.54 | 21.64 | 090
28730 |  | A | Fusion of foot bones | 12.11 | NA | NA | 7.63 | 8.28 | 1.70 | NA | NA | 21.44 | 22.09 | 090
28735 |  | A | Fusion of foot bones | 11.95 | NA | NA | 6.81 | 7.58 | 1.68 | NA | NA | 20.44 | 21.21 | 090
28737 |  | A | Revision of foot bones | 10.75 | NA | NA | 5.97 | 6.61 | 1.47 | NA | NA | 18.19 | 18.83 | 090
28740 |  | A | Fusion of foot bones | 9.01 | 10.82 | 10.87 | 5.94 | 6.35 | 1.22 | 21.05 | 21.10 | 16.17 | 16.58 | 090
28750 |  | A | Fusion of big toe joint | 8.29 | 10.74 | 11.64 | 5.84 | 6.47 | 1.13 | 20.16 | 21.06 | 15.26 | 15.89 | 090
28755 |  | A | Fusion of big toe joint | 4.73 | 7.21 | 6.39 | 3.31 | 3.65 | 0.65 | 12.59 | 11.77 | 8.69 | 9.03 | 090
28760 |  | A | Fusion of big toe joint | 8.86 | 9.86 | 8.46 | 5.24 | 5.46 | 1.05 | 19.77 | 18.37 | 15.15 | 15.37 | 090
28800 |  | A | Amputation of midfoot | 8.56 | NA | NA | 5.05 | 5.62 | 1.15 | NA | NA | 14.76 | 15.33 | 090
28805 |  | A | Amputation thru metatarsal | 12.47 | NA | NA | 6.04 | 5.76 | 1.18 | NA | NA | 19.69 | 19.41 | 090
28810 |  | A | Amputation toe & metatarsal | 6.44 | NA | NA | 4.13 | 4.39 | 0.86 | NA | NA | 11.43 | 11.69 | 090
28820 |  | A | Amputation of toe | 4.82 | 7.74 | 7.61 | 3.58 | 3.74 | 0.61 | 13.17 | 13.04 | 9.01 | 9.17 | 090
28825 |  | A | Partial amputation of toe | 3.64 | 7.21 | 7.06 | 3.15 | 3.41 | 0.50 | 11.35 | 11.20 | 7.29 | 7.55 | 090
28890 |  | A | High energy eswt, plantar f | 3.30 | 4.59 | 5.45 | 2.27 | 2.14 | 0.41 | 8.30 | 9.16 | 5.98 | 5.85 | 090
29000 |  | A | Application of body cast | 2.25 | 4.67 | 3.40 | 1.81 | 1.76 | 0.41 | 7.33 | 6.06 | 4.47 | 4.42 | 000
29010 |  | A | Application of body cast | 2.06 | 3.33 | 3.30 | 1.30 | 1.66 | 0.45 | 5.84 | 5.81 | 3.81 | 4.17 | 000
29015 |  | A | Application of body cast | 2.41 | 3.32 | 3.07 | 1.44 | 1.56 | 0.28 | 6.01 | 5.76 | 4.13 | 4.25 | 000
29020 |  | A | Application of body cast | 2.11 | 3.74 | 3.33 | 1.46 | 1.42 | 0.28 | 6.13 | 5.72 | 3.85 | 3.81 | 000
29025 |  | A | Application of body cast | 2.40 | 3.58 | 3.26 | 1.56 | 1.79 | 0.44 | 6.42 | 6.10 | 4.40 | 4.63 | 000
29035 |  | A | Application of body cast | 1.77 | 3.66 | 3.63 | 1.46 | 1.55 | 0.28 | 5.71 | 5.68 | 3.51 | 3.60 | 000
29040 |  | A | Application of body cast | 2.22 | 3.59 | 2.75 | 1.47 | 1.50 | 0.36 | 6.17 | 5.33 | 4.05 | 4.08 | 000
29044 |  | A | Application of body cast | 2.12 | 3.93 | 3.97 | 1.63 | 1.84 | 0.35 | 6.40 | 6.44 | 4.10 | 4.31 | 000
29046 |  | A | Application of body cast | 2.41 | 4.16 | 3.47 | 1.77 | 2.02 | 0.42 | 6.99 | 6.30 | 4.60 | 4.85 | 000
29049 |  | A | Application of figure eight | 0.89 | 1.16 | 1.27 | 0.61 | 0.55 | 0.13 | 2.18 | 2.29 | 1.63 | 1.57 | 000
29055 |  | A | Application of shoulder cast | 1.78 | 2.88 | 2.96 | 1.29 | 1.43 | 0.30 | 4.96 | 5.04 | 3.37 | 3.51 | 000
29058 |  | A | Application of shoulder cast | 1.31 | 1.25 | 1.48 | 0.68 | 0.71 | 0.17 | 2.73 | 2.96 | 2.16 | 2.19 | 000
29065 |  | A | Application of long arm cast | 0.87 | 1.27 | 1.32 | 0.69 | 0.74 | 0.15 | 2.29 | 2.34 | 1.71 | 1.76 | 000
29075 |  | A | Application of forearm cast | 0.77 | 1.10 | 1.22 | 0.65 | 0.67 | 0.13 | 2.00 | 2.12 | 1.55 | 1.57 | 000
29085 |  | A | Apply hand/wrist cast | 0.87 | 1.25 | 1.27 | 0.68 | 0.64 | 0.14 | 2.26 | 2.28 | 1.69 | 1.65 | 000
29086 |  | A | Apply finger cast | 0.62 | 1.03 | 0.98 | 0.53 | 0.50 | 0.07 | 1.72 | 1.67 | 1.22 | 1.19 | 000
29105 |  | A | Apply long arm splint | 0.87 | 1.08 | 1.19 | 0.53 | 0.52 | 0.12 | 2.07 | 2.18 | 1.52 | 1.51 | 000
29125 |  | A | Apply forearm splint | 0.59 | 0.96 | 1.01 | 0.42 | 0.40 | 0.07 | 1.62 | 1.67 | 1.08 | 1.06 | 000
29126 |  | A | Apply forearm splint | 0.77 | 1.00 | 1.16 | 0.47 | 0.46 | 0.07 | 1.84 | 2.00 | 1.31 | 1.30 | 000
29130 |  | A | Application of finger splint | 0.50 | 0.43 | 0.46 | 0.18 | 0.17 | 0.06 | 0.99 | 1.02 | 0.74 | 0.73 | 000
29131 |  | A | Application of finger splint | 0.55 | 0.62 | 0.71 | 0.26 | 0.25 | 0.03 | 1.20 | 1.29 | 0.84 | 0.83 | 000
29200 |  | A | Strapping of chest | 0.65 | 0.61 | 0.69 | 0.35 | 0.34 | 0.04 | 1.30 | 1.38 | 1.04 | 1.03 | 000
29220 |  | A | Strapping of low back | 0.64 | 0.61 | 0.69 | 0.35 | 0.38 | 0.04 | 1.29 | 1.37 | 1.03 | 1.06 | 000
29240 |  | A | Strapping of shoulder | 0.71 | 0.67 | 0.81 | 0.38 | 0.37 | 0.06 | 1.44 | 1.58 | 1.15 | 1.14 | 000
29260 |  | A | Strapping of elbow or wrist | 0.55 | 0.65 | 0.72 | 0.36 | 0.33 | 0.05 | 1.25 | 1.32 | 0.96 | 0.93 | 000
29280 |  | A | Strapping of hand or finger | 0.51 | 0.66 | 0.77 | 0.37 | 0.33 | 0.03 | 1.20 | 1.31 | 0.91 | 0.87 | 000
29305 |  | A | Application of hip cast | 2.03 | 3.35 | 3.35 | 1.58 | 1.72 | 0.35 | 5.73 | 5.73 | 3.96 | 4.10 | 000
29325 |  | A | Application of hip casts | 2.32 | 3.66 | 3.57 | 1.73 | 1.90 | 0.40 | 6.38 | 6.29 | 4.45 | 4.62 | 000
29345 |  | A | Application of long leg cast | 1.40 | 1.65 | 1.74 | 0.93 | 1.03 | 0.24 | 3.29 | 3.38 | 2.57 | 2.67 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
29355 |  | A | Application of long leg cast | 1.53 | 1.61 | 1.69 | 0.93 | 1.07 | 0.26 | 3.40 | 3.48 | 2.72 | 2.86 | 000
29358 |  | A | Apply long leg cast brace | 1.43 | 2.03 | 2.06 | 0.92 | 1.05 | 0.25 | 3.71 | 3.74 | 2.60 | 2.73 | 000
29365 |  | A | Application of long leg cast | 1.18 | 1.56 | 1.64 | 0.84 | 0.92 | 0.20 | 2.94 | 3.02 | 2.22 | 2.30 | 000
29405 |  | A | Apply short leg cast | 0.86 | 1.19 | 1.21 | 0.65 | 0.70 | 0.14 | 2.19 | 2.21 | 1.65 | 1.70 | 000
29425 |  | A | Apply short leg cast | 1.01 | 1.22 | 1.23 | 0.65 | 0.72 | 0.15 | 2.38 | 2.39 | 1.81 | 1.88 | 000
29435 |  | A | Apply short leg cast | 1.18 | 1.52 | 1.55 | 0.80 | 0.90 | 0.20 | 2.90 | 2.93 | 2.18 | 2.28 | 000
29440 |  | A | Addition of walker to cast | 0.57 | 0.61 | 0.67 | 0.25 | 0.27 | 0.08 | 1.26 | 1.32 | 0.90 | 0.92 | 000
29445 |  | A | Apply rigid leg cast | 1.78 | 1.60 | 1.76 | 0.91 | 0.95 | 0.27 | 3.65 | 3.81 | 2.96 | 3.00 | 000
29450 |  | A | Application of leg cast | 2.08 | 1.50 | 1.48 | 0.84 | 1.03 | 0.27 | 3.85 | 3.83 | 3.19 | 3.38 | 000
29505 |  | A | Application, long leg splint | 0.69 | 1.05 | 1.15 | 0.44 | 0.45 | 0.08 | 1.82 | 1.92 | 1.21 | 1.22 | 000
29515 |  | A | Application lower leg splint | 0.73 | 0.95 | 0.89 | 0.45 | 0.46 | 0.09 | 1.77 | 1.71 | 1.27 | 1.28 | 000
29520 |  | A | Strapping of hip | 0.54 | 0.67 | 0.81 | 0.38 | 0.45 | 0.03 | 1.24 | 1.38 | 0.95 | 1.02 | 000
29530 |  | A | Strapping of knee | 0.57 | 0.65 | 0.76 | 0.36 | 0.34 | 0.05 | 1.27 | 1.38 | 0.98 | 0.96 | 000
29540 |  | A | Strapping of ankle and/or ft | 0.51 | 0.54 | 0.45 | 0.31 | 0.31 | 0.06 | 1.11 | 1.02 | 0.88 | 0.88 | 000
29550 |  | A | Strapping of toes | 0.47 | 0.56 | 0.46 | 0.30 | 0.29 | 0.06 | 1.09 | 0.99 | 0.83 | 0.82 | 000
29580 |  | A | Application of paste boot | 0.57 | 0.72 | 0.67 | 0.34 | 0.35 | 0.07 | 1.36 | 1.31 | 0.98 | 0.99 | 000
29590 |  | A | Application of foot splint | 0.76 | 0.59 | 0.53 | 0.26 | 0.28 | 0.09 | 1.44 | 1.38 | 1.11 | 1.13 | 000
29700 |  | A | Removal/revision of cast | 0.57 | 0.96 | 0.91 | 0.26 | 0.28 | 0.08 | 1.61 | 1.56 | 0.91 | 0.93 | 000
29705 |  | A | Removal/revision of cast | 0.76 | 0.76 | 0.81 | 0.36 | 0.38 | 0.13 | 1.65 | 1.70 | 1.25 | 1.27 | 000
29710 |  | A | Removal/revision of cast | 1.34 | 1.43 | 1.51 | 0.62 | 0.68 | 0.20 | 2.97 | 3.05 | 2.16 | 2.22 | 000
29715 |  | A | Removal/revision of cast | 0.94 | 1.12 | 1.16 | 0.40 | 0.40 | 0.09 | 2.15 | 2.19 | 1.43 | 1.43 | 000
29720 |  | A | Repair of body cast | 0.68 | 1.14 | 1.16 | 0.34 | 0.38 | 0.12 | 1.94 | 1.96 | 1.14 | 1.18 | 000
29730 |  | A | Windowing of cast | 0.75 | 0.75 | 0.80 | 0.34 | 0.35 | 0.12 | 1.62 | 1.67 | 1.21 | 1.22 | 000
29740 |  | A | Wedging of cast | 1.12 | 1.04 | 1.12 | 0.48 | 0.49 | 0.18 | 2.34 | 2.42 | 1.78 | 1.79 | 000
29750 |  | A | Wedging of clubfoot cast | 1.26 | 0.90 | 1.02 | 0.43 | 0.54 | 0.21 | 2.37 | 2.49 | 1.90 | 2.01 | 000
29800 |  | A | Jaw arthroscopy/surgery | 6.67 | NA | NA | 5.64 | 6.65 | 0.99 | NA | NA | 13.30 | 14.31 | 090
29804 |  | A | Jaw arthroscopy/surgery | 8.63 | NA | NA | 7.33 | 7.56 | 1.38 | NA | NA | 17.34 | 17.57 | 090
29805 |  | A | Shoulder arthroscopy, dx | 5.88 | NA | NA | 4.66 | 5.43 | 1.02 | NA | NA | 11.56 | 12.33 | 090
29806 |  | A | Shoulder arthroscopy/surgery | 14.85 | NA | NA | 9.22 | 10.70 | 2.49 | NA | NA | 26.56 | 28.04 | 090
29807 |  | A | Shoulder arthroscopy/surgery | 14.38 | NA | NA | 9.10 | 10.54 | 2.41 | NA | NA | 25.89 | 27.33 | 090
29819 |  | A | Shoulder arthroscopy/surgery | 7.61 | NA | NA | 5.56 | 6.50 | 1.32 | NA | NA | 14.49 | 15.43 | 090
29820 |  | A | Shoulder arthroscopy/surgery | 7.06 | NA | NA | 5.12 | 5.96 | 1.22 | NA | NA | 13.40 | 14.24 | 090
29821 |  | A | Shoulder arthroscopy/surgery | 7.71 | NA | NA | 5.58 | 6.51 | 1.33 | NA | NA | 14.62 | 15.55 | 090
29822 |  | A | Shoulder arthroscopy/surgery | 7.42 | NA | NA | 5.51 | 6.41 | 1.28 | NA | NA | 14.21 | 15.11 | 090
29823 |  | A | Shoulder arthroscopy/surgery | 8.16 | NA | NA | 5.96 | 6.92 | 1.41 | NA | NA | 15.53 | 16.49 | 090
29824 |  | A | Shoulder arthroscopy/surgery | 8.74 | NA | NA | 6.45 | 7.28 | 1.42 | NA | NA | 16.61 | 17.44 | 090
29825 |  | A | Shoulder arthroscopy/surgery | 7.61 | NA | NA | 5.57 | 6.48 | 1.32 | NA | NA | 14.50 | 15.41 | 090
29826 |  | A | Shoulder arthroscopy/surgery | 8.98 | NA | NA | 6.11 | 7.19 | 1.55 | NA | NA | 16.64 | 17.72 | 090
29827 |  | A | Arthroscop rotator cuff repr | 15.34 | NA | NA | 9.19 | 10.97 | 2.66 | NA | NA | 27.19 | 28.97 | 090
29830 |  | A | Elbow arthroscopy | 5.75 | NA | NA | 4.44 | 5.13 | 0.99 | NA | NA | 11.18 | 11.87 | 090
29834 |  | A | Elbow arthroscopy/surgery | 6.27 | NA | NA | 4.79 | 5.59 | 1.08 | NA | NA | 12.14 | 12.94 | 090
29835 |  | A | Elbow arthroscopy/surgery | 6.47 | NA | NA | 4.90 | 5.65 | 1.13 | NA | NA | 12.50 | 13.25 | 090
29836 |  | A | Elbow arthroscopy/surgery | 7.54 | NA | NA | 5.48 | 6.48 | 1.22 | NA | NA | 14.24 | 15.24 | 090
29837 |  | A | Elbow arthroscopy/surgery | 6.86 | NA | NA | 5.06 | 5.88 | 1.19 | NA | NA | 13.11 | 13.93 | 090
29838 |  | A | Elbow arthroscopy/surgery | 7.70 | NA | NA | 5.59 | 6.58 | 1.30 | NA | NA | 14.59 | 15.58 | 090
29840 |  | A | Wrist arthroscopy | 5.53 | NA | NA | 4.54 | 5.14 | 0.84 | NA | NA | 10.91 | 11.51 | 090
29843 |  | A | Wrist arthroscopy/surgery | 6.00 | NA | NA | 4.83 | 5.44 | 0.92 | NA | NA | 11.75 | 12.36 | 090
29844 |  | A | Wrist arthroscopy/surgery | 6.36 | NA | NA | 4.87 | 5.60 | 1.04 | NA | NA | 12.27 | 13.00 | 090
29845 |  | A | Wrist arthroscopy/surgery | 7.51 | NA | NA | 5.41 | 6.22 | 0.99 | NA | NA | 13.91 | 14.72 | 090
29846 |  | A | Wrist arthroscopy/surgery | 6.74 | NA | NA | 5.01 | 5.81 | 1.07 | NA | NA | 12.82 | 13.62 | 090
29847 |  | A | Wrist arthroscopy/surgery | 7.07 | NA | NA | 5.08 | 5.93 | 1.08 | NA | NA | 13.23 | 14.08 | 090
29848 |  | A | Wrist endoscopy/surgery | 6.18 | NA | NA | 5.20 | 5.52 | 0.86 | NA | NA | 12.24 | 12.56 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
29850 |  | A | Knee arthroscopy/surgery | 8.18 | NA | NA | 5.13 | 5.07 | 1.25 | NA | NA | 14.56 | 14.50 | 090
29851 |  | A | Knee arthroscopy/surgery | 13.08 | NA | NA | 8.16 | 9.41 | 2.34 | NA | NA | 23.58 | 24.83 | 090
29855 |  | A | Tibial arthroscopy/surgery | 10.60 | NA | NA | 7.25 | 8.41 | 1.84 | NA | NA | 19.69 | 20.85 | 090
29856 |  | A | Tibial arthroscopy/surgery | 14.12 | NA | NA | 8.58 | 10.17 | 2.39 | NA | NA | 25.09 | 26.68 | 090
29860 |  | A | Hip arthroscopy, dx | 8.79 | NA | NA | 6.11 | 6.76 | 1.36 | NA | NA | 16.26 | 16.91 | 090
29861 |  | A | Hip arthroscopy/surgery | 9.89 | NA | NA | 6.51 | 7.15 | 1.59 | NA | NA | 17.99 | 18.63 | 090
29862 |  | A | Hip arthroscopy/surgery | 10.89 | NA | NA | 7.48 | 8.31 | 1.62 | NA | NA | 19.99 | 20.82 | 090
29863 |  | A | Hip arthroscopy/surgery | 10.89 | NA | NA | 7.40 | 8.25 | 1.42 | NA | NA | 19.71 | 20.56 | 090
29866 |  | A | Autgrft implnt, knee w/scope | 14.38 | NA | NA | 9.36 | 10.88 | 2.39 | NA | NA | 26.13 | 27.65 | 090
29867 |  | A | Allgrft implnt, knee w/scope | 18.08 | NA | NA | 11.02 | 12.70 | 2.78 | NA | NA | 31.88 | 33.56 | 090
29868 |  | A | Meniscal trnspl, knee w/scpe | 24.79 | NA | NA | 13.64 | 16.04 | 4.35 | NA | NA | 42.78 | 45.18 | 090
29870 |  | A | Knee arthroscopy, dx | 5.06 | NA | NA | 4.11 | 4.70 | 0.85 | NA | NA | 10.02 | 10.61 | 090
29871 |  | A | Knee arthroscopy/drainage | 6.54 | NA | NA | 4.94 | 5.65 | 1.14 | NA | NA | 12.62 | 13.33 | 090
29873 |  | A | Knee arthroscopy/surgery | 5.99 | NA | NA | 5.52 | 6.32 | 1.04 | NA | NA | 12.55 | 13.35 | 090
29874 |  | A | Knee arthroscopy/surgery | 7.04 | NA | NA | 5.08 | 5.84 | 1.11 | NA | NA | 13.23 | 13.99 | 090
29875 |  | A | Knee arthroscopy/surgery | 6.30 | NA | NA | 4.83 | 5.61 | 1.09 | NA | NA | 12.22 | 13.00 | 090
29876 |  | A | Knee arthroscopy/surgery | 8.66 | NA | NA | 6.12 | 6.81 | 1.37 | NA | NA | 16.15 | 16.84 | 090
29877 |  | A | Knee arthroscopy/surgery | 8.09 | NA | NA | 5.88 | 6.54 | 1.28 | NA | NA | 15.25 | 15.91 | 090
29879 |  | A | Knee arthroscopy/surgery | 8.78 | NA | NA | 6.16 | 6.90 | 1.39 | NA | NA | 16.33 | 17.07 | 090
29880 |  | A | Knee arthroscopy/surgery | 9.24 | NA | NA | 6.36 | 7.13 | 1.47 | NA | NA | 17.07 | 17.84 | 090
29881 |  | A | Knee arthroscopy/surgery | 8.50 | NA | NA | 6.07 | 6.75 | 1.34 | NA | NA | 15.91 | 16.59 | 090
29882 |  | A | Knee arthroscopy/surgery | 9.39 | NA | NA | 6.39 | 7.04 | 1.50 | NA | NA | 17.28 | 17.93 | 090
29883 |  | A | Knee arthroscopy/surgery | 11.53 | NA | NA | 7.50 | 8.69 | 1.92 | NA | NA | 20.95 | 22.14 | 090
29884 |  | A | Knee arthroscopy/surgery | 8.07 | NA | NA | 5.90 | 6.52 | 1.27 | NA | NA | 15.24 | 15.86 | 090
29885 |  | A | Knee arthroscopy/surgery | 9.95 | NA | NA | 6.92 | 7.72 | 1.58 | NA | NA | 18.45 | 19.25 | 090
29886 |  | A | Knee arthroscopy/surgery | 8.28 | NA | NA | 5.97 | 6.65 | 1.30 | NA | NA | 15.55 | 16.23 | 090
29887 |  | A | Knee arthroscopy/surgery | 9.90 | NA | NA | 6.91 | 7.69 | 1.57 | NA | NA | 18.38 | 19.16 | 090
29888 |  | A | Knee arthroscopy/surgery | 14.06 | NA | NA | 8.17 | 9.72 | 2.41 | NA | NA | 24.64 | 26.19 | 090
29889 |  | A | Knee arthroscopy/surgery | 17.05 | NA | NA | 10.53 | 11.99 | 2.78 | NA | NA | 30.36 | 31.82 | 090
29891 |  | A | Ankle arthroscopy/surgery | 9.39 | NA | NA | 6.57 | 7.29 | 1.39 | NA | NA | 17.35 | 18.07 | 090
29892 |  | A | Ankle arthroscopy/surgery | 9.99 | NA | NA | 6.45 | 7.43 | 1.41 | NA | NA | 17.85 | 18.83 | 090
29893 |  | A | Scope, plantar fasciotomy | 5.96 | 8.75 | 6.91 | 4.59 | 4.15 | 0.63 | 15.34 | 13.50 | 11.18 | 10.74 | 090
29894 |  | A | Ankle arthroscopy/surgery | 7.20 | NA | NA | 4.61 | 5.27 | 1.15 | NA | NA | 12.96 | 13.62 | 090
29895 |  | A | Ankle arthroscopy/surgery | 6.98 | NA | NA | 4.45 | 5.23 | 1.11 | NA | NA | 12.54 | 13.32 | 090
29897 |  | A | Ankle arthroscopy/surgery | 7.17 | NA | NA | 4.88 | 5.65 | 1.17 | NA | NA | 13.22 | 13.99 | 090
29898 |  | A | Ankle arthroscopy/surgery | 8.31 | NA | NA | 5.19 | 5.96 | 1.28 | NA | NA | 14.78 | 15.55 | 090
29899 |  | A | Ankle arthroscopy/surgery | 15.13 | NA | NA | 9.12 | 10.21 | 2.40 | NA | NA | 26.65 | 27.74 | 090
29900 |  | A | Mcp joint arthroscopy, dx | 5.66 | NA | NA | 4.65 | 5.57 | 0.94 | NA | NA | 11.25 | 12.17 | 090
29901 |  | A | Mcp joint arthroscopy, surg | 6.37 | NA | NA | 5.45 | 6.07 | 1.06 | NA | NA | 12.88 | 13.50 | 090
29902 |  | A | Mcp joint arthroscopy, surg | 6.94 | NA | NA | 3.61 | 5.82 | 1.12 | NA | NA | 11.67 | 13.88 | 090
30000 |  | A | Drainage of nose lesion | 1.43 | 3.70 | 3.99 | 1.21 | 1.35 | 0.12 | 5.25 | 5.54 | 2.76 | 2.90 | 010
30020 |  | A | Drainage of nose lesion | 1.43 | 3.82 | 3.42 | 1.24 | 1.41 | 0.12 | 5.37 | 4.97 | 2.79 | 2.96 | 010
30100 |  | A | Intranasal biopsy | 0.94 | 2.39 | 2.08 | 0.68 | 0.79 | 0.07 | 3.40 | 3.09 | 1.69 | 1.80 | 000
30110 |  | A | Removal of nose polyp(s) | 1.63 | 3.59 | 3.34 | 1.30 | 1.50 | 0.14 | 5.36 | 5.11 | 3.07 | 3.27 | 010
30115 |  | A | Removal of nose polyp(s) | 4.34 | NA | NA | 5.40 | 5.69 | 0.41 | NA | NA | 10.15 | 10.44 | 090
30117 |  | A | Removal of intranasal lesion | 3.16 | 16.76 | 14.08 | 4.46 | 4.60 | 0.26 | 20.18 | 17.50 | 7.88 | 8.02 | 090
30118 |  | A | Removal of intranasal lesion | 9.74 | NA | NA | 7.61 | 8.82 | 0.78 | NA | NA | 18.13 | 19.34 | 090
30120 |  | A | Revision of nose | 5.26 | 6.74 | 6.57 | 4.81 | 5.72 | 0.52 | 12.52 | 12.35 | 10.59 | 11.50 | 090
30124 |  | A | Removal of nose lesion | 3.10 | NA | NA | 3.59 | 3.61 | 0.25 | NA | NA | 6.94 | 6.96 | 090
30125 |  | A | Removal of nose lesion | 7.15 | NA | NA | 6.91 | 7.98 | 0.63 | NA | NA | 14.69 | 15.76 | 090
30130 |  | A | Excise inferior turbinate | 3.37 | NA | NA | 5.21 | 5.51 | 0.31 | NA | NA | 8.89 | 9.19 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
30140 |  | A | Resect inferior turbinate | 3.42 | NA | NA | 6.47 | 6.28 | 0.35 | NA | NA | 10.24 | 10.05 | 090
30150 |  | A | Partial removal of nose | 9.37 | NA | NA | 8.38 | 10.38 | 0.93 | NA | NA | 18.68 | 20.68 | 090
30160 |  | A | Removal of nose | 9.81 | NA | NA | 7.99 | 9.68 | 0.88 | NA | NA | 18.68 | 20.37 | 090
30200 |  | A | Injection treatment of nose | 0.78 | 1.86 | 1.68 | 0.60 | 0.71 | 0.06 | 2.70 | 2.52 | 1.44 | 1.55 | 000
30210 |  | A | Nasal sinus therapy | 1.08 | 2.29 | 2.16 | 1.14 | 1.27 | 0.09 | 3.46 | 3.33 | 2.31 | 2.44 | 010
30220 |  | A | Insert nasal septal button | 1.54 | 5.36 | 4.52 | 1.27 | 1.47 | 0.12 | 7.02 | 6.18 | 2.93 | 3.13 | 010
30300 |  | A | Remove nasal foreign body | 1.04 | 4.09 | 4.50 | 1.76 | 1.88 | 0.08 | 5.21 | 5.62 | 2.88 | 3.00 | 010
30310 |  | A | Remove nasal foreign body | 1.96 | NA | NA | 2.68 | 3.00 | 0.16 | NA | NA | 4.80 | 5.12 | 010
30320 |  | A | Remove nasal foreign body | 4.51 | NA | NA | 5.85 | 6.76 | 0.39 | NA | NA | 10.75 | 11.66 | 090
30400 |  | R | Reconstruction of nose | 10.46 | NA | NA | 13.49 | 15.02 | 1.04 | NA | NA | 24.99 | 26.52 | 090
30410 |  | R | Reconstruction of nose | 13.60 | NA | NA | 14.12 | 17.35 | 1.42 | NA | NA | 29.14 | 32.37 | 090
30420 |  | R | Reconstruction of nose | 16.50 | NA | NA | 14.47 | 17.09 | 1.46 | NA | NA | 32.43 | 35.05 | 090
30430 |  | R | Revision of nose | 7.84 | NA | NA | 12.60 | 15.20 | 0.77 | NA | NA | 21.21 | 23.81 | 090
30435 |  | R | Revision of nose | 12.33 | NA | NA | 14.29 | 18.13 | 1.22 | NA | NA | 27.84 | 31.68 | 090
30450 |  | R | Revision of nose | 19.26 | NA | NA | 15.82 | 20.42 | 1.96 | NA | NA | 37.04 | 41.64 | 090
30460 |  | A | Revision of nose | 10.20 | NA | NA | 7.05 | 9.24 | 1.03 | NA | NA | 18.28 | 20.47 | 090
30462 |  | A | Revision of nose | 20.04 | NA | NA | 14.04 | 18.74 | 2.53 | NA | NA | 36.61 | 41.31 | 090
30465 |  | A | Repair nasal stenosis | 12.12 | NA | NA | 10.08 | 11.52 | 1.06 | NA | NA | 23.26 | 24.70 | 090
30520 |  | A | Repair of nasal septum | 7.63 | NA | NA | 6.88 | 6.73 | 0.46 | NA | NA | 14.97 | 14.82 | 090
30540 |  | A | Repair nasal defect | 7.74 | NA | NA | 6.92 | 8.71 | 0.67 | NA | NA | 15.33 | 17.12 | 090
30545 |  | A | Repair nasal defect | 11.42 | NA | NA | 9.88 | 11.42 | 1.70 | NA | NA | 23.00 | 24.54 | 090
30560 |  | A | Release of nasal adhesions | 1.26 | 4.88 | 4.81 | 1.84 | 2.07 | 0.10 | 6.24 | 6.17 | 3.20 | 3.43 | 010
30580 |  | A | Repair upper jaw fistula | 6.68 | 8.13 | 7.88 | 4.66 | 5.52 | 0.89 | 15.70 | 15.45 | 12.23 | 13.09 | 090
30600 |  | A | Repair mouth/nose fistula | 6.01 | 7.43 | 7.51 | 4.00 | 4.77 | 0.70 | 14.14 | 14.22 | 10.71 | 11.48 | 090
30620 |  | A | Intranasal reconstruction | 5.96 | NA | NA | 7.98 | 8.64 | 0.57 | NA | NA | 14.51 | 15.17 | 090
30630 |  | A | Repair nasal septum defect | 7.11 | NA | NA | 6.96 | 7.72 | 0.61 | NA | NA | 14.68 | 15.44 | 090
30801 |  | A | Ablate inf turbinate, superf | 1.09 | 3.98 | 4.10 | 1.94 | 1.93 | 0.09 | 5.16 | 5.28 | 3.12 | 3.11 | 010
30802 |  | A | Cauterization, inner nose | 2.03 | 4.55 | 4.60 | 2.27 | 2.35 | 0.16 | 6.74 | 6.79 | 4.46 | 4.54 | 010
30901 |  | A | Control of nosebleed | 1.21 | 1.19 | 1.32 | 0.27 | 0.31 | 0.11 | 2.51 | 2.64 | 1.59 | 1.63 | 000
30903 |  | A | Control of nosebleed | 1.54 | 3.04 | 2.80 | 0.37 | 0.47 | 0.13 | 4.71 | 4.47 | 2.04 | 2.14 | 000
30905 |  | A | Control of nosebleed | 1.97 | 3.69 | 3.56 | 0.45 | 0.68 | 0.17 | 5.83 | 5.70 | 2.59 | 2.82 | 000
30906 |  | A | Repeat control of nosebleed | 2.45 | 3.92 | 3.91 | 0.64 | 1.06 | 0.20 | 6.57 | 6.56 | 3.29 | 3.71 | 000
30915 |  | A | Ligation, nasal sinus artery | 7.31 | NA | NA | 5.71 | 6.46 | 0.58 | NA | NA | 13.60 | 14.35 | 090
30920 |  | A | Ligation, upper jaw artery | 10.97 | NA | NA | 7.97 | 8.74 | 0.80 | NA | NA | 19.74 | 20.51 | 090
30930 |  | A | Ther fx, nasal inf turbinate | 1.26 | NA | NA | 1.50 | 1.59 | 0.12 | NA | NA | 2.88 | 2.97 | 010
31000 |  | A | Irrigation, maxillary sinus | 1.15 | 2.98 | 2.88 | 1.22 | 1.36 | 0.09 | 4.22 | 4.12 | 2.46 | 2.60 | 010
31002 |  | A | Irrigation, sphenoid sinus | 1.91 | NA | NA | 2.49 | 3.06 | 0.15 | NA | NA | 4.55 | 5.12 | 010
31020 |  | A | Exploration, maxillary sinus | 2.94 | 7.98 | 8.41 | 5.11 | 5.18 | 0.29 | 11.21 | 11.64 | 8.34 | 8.41 | 090
31030 |  | A | Exploration, maxillary sinus | 5.91 | 9.65 | 11.06 | 5.93 | 6.49 | 0.60 | 16.16 | 17.57 | 12.44 | 13.00 | 090
31032 |  | A | Explore sinus, remove polyps | 6.56 | NA | NA | 6.38 | 7.03 | 0.59 | NA | NA | 13.53 | 14.18 | 090
31040 |  | A | Exploration behind upper jaw | 9.59 | NA | NA | 7.13 | 9.17 | 0.87 | NA | NA | 17.59 | 19.63 | 090
31050 |  | A | Exploration, sphenoid sinus | 5.27 | NA | NA | 6.03 | 6.29 | 0.49 | NA | NA | 11.79 | 12.05 | 090
31051 |  | A | Sphenoid sinus surgery | 7.10 | NA | NA | 7.58 | 8.09 | 0.62 | NA | NA | 15.30 | 15.81 | 090
31070 |  | A | Exploration of frontal sinus | 4.27 | NA | NA | 5.61 | 5.87 | 0.38 | NA | NA | 10.26 | 10.52 | 090
31075 |  | A | Exploration of frontal sinus | 9.33 | NA | NA | 8.36 | 9.41 | 0.75 | NA | NA | 18.44 | 19.49 | 090
31080 |  | A | Removal of frontal sinus | 12.46 | NA | NA | 10.25 | 12.74 | 1.23 | NA | NA | 23.94 | 26.43 | 090
31081 |  | A | Removal of frontal sinus | 13.91 | NA | NA | 14.48 | 14.15 | 2.46 | NA | NA | 30.85 | 30.52 | 090
31084 |  | A | Removal of frontal sinus | 14.67 | NA | NA | 11.64 | 13.07 | 1.19 | NA | NA | 27.50 | 28.93 | 090
31085 |  | A | Removal of frontal sinus | 15.36 | NA | NA | 12.67 | 13.67 | 1.72 | NA | NA | 29.75 | 30.75 | 090
31086 |  | A | Removal of frontal sinus | 14.08 | NA | NA | 11.48 | 12.86 | 1.07 | NA | NA | 26.63 | 28.01 | 090
31087 |  | A | Removal of frontal sinus | 14.31 | NA | NA | 10.51 | 12.06 | 1.44 | NA | NA | 26.26 | 27.81 | 090
31090 |  | A | Exploration of sinuses | 10.78 | NA | NA | 12.11 | 12.47 | 0.94 | NA | NA | 23.83 | 24.19 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
31200 |  | A | Removal of ethmoid sinus | 4.96 | NA | NA | 7.32 | 8.76 | 0.29 | NA | NA | 12.57 | 14.01 | 090
31201 |  | A | Removal of ethmoid sinus | 8.42 | NA | NA | 8.11 | 8.93 | 0.82 | NA | NA | 17.35 | 18.17 | 090
31205 |  | A | Removal of ethmoid sinus | 10.40 | NA | NA | 9.33 | 11.27 | 0.67 | NA | NA | 20.40 | 22.34 | 090
31225 |  | A | Removal of upper jaw | 26.34 | NA | NA | 16.42 | 17.51 | 1.59 | NA | NA | 44.35 | 45.44 | 090
31230 |  | A | Removal of upper jaw | 30.46 | NA | NA | 17.08 | 18.84 | 1.77 | NA | NA | 49.31 | 51.07 | 090
31231 |  | A | Nasal endoscopy, dx | 1.10 | 3.30 | 3.37 | 0.68 | 0.83 | 0.09 | 4.49 | 4.56 | 1.87 | 2.02 | 000
31233 |  | A | Nasal/sinus endoscopy, dx | 2.18 | 3.89 | 4.21 | 0.97 | 1.35 | 0.20 | 6.27 | 6.59 | 3.35 | 3.73 | 000
31235 |  | A | Nasal/sinus endoscopy, dx | 2.64 | 4.24 | 4.75 | 1.10 | 1.57 | 0.26 | 7.14 | 7.65 | 4.00 | 4.47 | 000
31237 |  | A | Nasal/sinus endoscopy, surg | 2.98 | 4.46 | 5.02 | 1.20 | 1.72 | 0.28 | 7.72 | 8.28 | 4.46 | 4.98 | 000
31238 |  | A | Nasal/sinus endoscopy, surg | 3.26 | 4.38 | 5.03 | 1.27 | 1.89 | 0.27 | 7.91 | 8.56 | 4.80 | 5.42 | 000
31239 |  | A | Nasal/sinus endoscopy, surg | 9.19 | NA | NA | 6.14 | 7.55 | 0.62 | NA | NA | 15.95 | 17.36 | 010
31240 |  | A | Nasal/sinus endoscopy, surg | 2.61 | NA | NA | 1.10 | 1.58 | 0.24 | NA | NA | 3.95 | 4.43 | 000
31254 |  | A | Revision of ethmoid sinus | 4.64 | NA | NA | 1.66 | 2.56 | 0.45 | NA | NA | 6.75 | 7.65 | 000
31255 |  | A | Removal of ethmoid sinus | 6.95 | NA | NA | 2.29 | 3.66 | 0.73 | NA | NA | 9.97 | 11.34 | 000
31256 |  | A | Exploration maxillary sinus | 3.29 | NA | NA | 1.28 | 1.91 | 0.33 | NA | NA | 4.90 | 5.53 | 000
31267 |  | A | Endoscopy, maxillary sinus | 5.45 | NA | NA | 1.88 | 2.95 | 0.55 | NA | NA | 7.88 | 8.95 | 000
31276 |  | A | Sinus endoscopy, surgical | 8.84 | NA | NA | 2.80 | 4.55 | 0.92 | NA | NA | 12.56 | 14.31 | 000
31287 |  | A | Nasal/sinus endoscopy, surg | 3.91 | NA | NA | 1.45 | 2.21 | 0.39 | NA | NA | 5.75 | 6.51 | 000
31288 |  | A | Nasal/sinus endoscopy, surg | 4.57 | NA | NA | 1.63 | 2.52 | 0.46 | NA | NA | 6.66 | 7.55 | 000
31290 |  | A | Nasal/sinus endoscopy, surg | 18.46 | NA | NA | 7.82 | 11.02 | 1.40 | NA | NA | 27.68 | 30.88 | 010
31291 |  | A | Nasal/sinus endoscopy, surg | 19.41 | NA | NA | 8.42 | 11.49 | 1.68 | NA | NA | 29.51 | 32.58 | 010
31292 |  | A | Nasal/sinus endoscopy, surg | 15.75 | NA | NA | 7.06 | 9.75 | 1.21 | NA | NA | 24.02 | 26.71 | 010
31293 |  | A | Nasal/sinus endoscopy, surg | 17.32 | NA | NA | 7.66 | 10.47 | 1.28 | NA | NA | 26.26 | 29.07 | 010
31294 |  | A | Nasal/sinus endoscopy, surg | 20.16 | NA | NA | 8.52 | 11.81 | 1.53 | NA | NA | 30.21 | 33.50 | 010
31300 |  | A | Removal of larynx lesion | 15.63 | NA | NA | 13.25 | 14.58 | 1.17 | NA | NA | 30.05 | 31.38 | 090
31320 |  | A | Diagnostic incision, larynx | 5.55 | NA | NA | 9.07 | 10.02 | 0.46 | NA | NA | 15.08 | 16.03 | 090
31360 |  | A | Removal of larynx | 27.23 | NA | NA | 16.41 | 16.68 | 1.38 | NA | NA | 45.02 | 45.29 | 090
31365 |  | A | Removal of larynx | 34.85 | NA | NA | 18.52 | 19.95 | 1.97 | NA | NA | 55.34 | 56.77 | 090
31367 |  | A | Partial removal of larynx | 27.11 | NA | NA | 19.04 | 21.22 | 1.78 | NA | NA | 47.93 | 50.11 | 090
31368 |  | A | Partial removal of larynx | 33.73 | NA | NA | 22.36 | 24.76 | 2.20 | NA | NA | 58.29 | 60.69 | 090
31370 |  | A | Partial removal of larynx | 27.11 | NA | NA | 19.92 | 21.72 | 1.74 | NA | NA | 48.77 | 50.57 | 090
31375 |  | A | Partial removal of larynx | 25.61 | NA | NA | 18.36 | 19.92 | 1.63 | NA | NA | 45.60 | 47.16 | 090
31380 |  | A | Partial removal of larynx | 25.11 | NA | NA | 18.05 | 20.01 | 1.70 | NA | NA | 44.86 | 46.82 | 090
31382 |  | A | Partial removal of larynx | 28.11 | NA | NA | 20.22 | 21.31 | 1.67 | NA | NA | 50.00 | 51.09 | 090
31390 |  | A | Removal of larynx & pharynx | 38.72 | NA | NA | 22.23 | 23.90 | 2.23 | NA | NA | 63.18 | 64.85 | 090
31395 |  | A | Reconstruct larynx & pharynx | 43.34 | NA | NA | 26.33 | 27.87 | 2.48 | NA | NA | 72.15 | 73.69 | 090
31400 |  | A | Revision of larynx | 11.40 | NA | NA | 11.27 | 13.18 | 0.83 | NA | NA | 23.50 | 25.41 | 090
31420 |  | A | Removal of epiglottis | 11.25 | NA | NA | 7.70 | 9.10 | 0.83 | NA | NA | 19.78 | 21.18 | 090
31500 |  | A | Insert emergency airway | 2.33 | NA | NA | 0.42 | 0.52 | 0.17 | NA | NA | 2.92 | 3.02 | 000
31502 |  | A | Change of windpipe airway | 0.65 | 0.16 | 0.27 | 0.20 | 0.26 | 0.05 | 0.86 | 0.97 | 0.90 | 0.96 | 000
31505 |  | A | Diagnostic laryngoscopy | 0.61 | 1.32 | 1.42 | 0.54 | 0.59 | 0.05 | 1.98 | 2.08 | 1.20 | 1.25 | 000
31510 |  | A | Laryngoscopy with biopsy | 1.92 | 2.95 | 3.22 | 0.89 | 1.16 | 0.16 | 5.03 | 5.30 | 2.97 | 3.24 | 000
31511 |  | A | Remove foreign body, larynx | 2.16 | 2.72 | 3.03 | 0.91 | 1.02 | 0.19 | 5.07 | 5.38 | 3.26 | 3.37 | 000
31512 |  | A | Removal of larynx lesion | 2.07 | 2.69 | 3.08 | 0.93 | 1.25 | 0.18 | 4.94 | 5.33 | 3.18 | 3.50 | 000
31513 |  | A | Injection into vocal cord | 2.10 | NA | NA | 0.95 | 1.33 | 0.17 | NA | NA | 3.22 | 3.60 | 000
31515 |  | A | Laryngoscopy for aspiration | 1.80 | 3.04 | 3.42 | 0.82 | 1.00 | 0.14 | 4.98 | 5.36 | 2.76 | 2.94 | 000
31520 |  | A | Dx laryngoscopy, newborn | 2.56 | NA | NA | 1.07 | 1.44 | 0.20 | NA | NA | 3.83 | 4.20 | 000
31525 |  | A | Dx laryngoscopy excl nb | 2.63 | 3.18 | 3.53 | 1.08 | 1.52 | 0.21 | 6.02 | 6.37 | 3.92 | 4.36 | 000
31526 |  | A | Dx laryngoscopy w/oper scope | 2.57 | NA | NA | 1.08 | 1.56 | 0.21 | NA | NA | 3.86 | 4.34 | 000
31527 |  | A | Laryngoscopy for treatment | 3.27 | NA | NA | 1.26 | 1.73 | 0.26 | NA | NA | 4.79 | 5.26 | 000
31528 |  | A | Laryngoscopy and dilation | 2.37 | NA | NA | 0.95 | 1.33 | 0.19 | NA | NA | 3.51 | 3.89 | 000
31529 |  | A | Laryngoscopy and dilation | 2.68 | NA | NA | 1.07 | 1.55 | 0.22 | NA | NA | 3.97 | 4.45 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
31530 |  | A | Laryngoscopy w/fb removal | 3.38 | NA | NA | 1.26 | 1.79 | 0.29 | NA | NA | 4.93 | 5.46 | 000
31531 |  | A | Laryngoscopy w/fb & op scope | 3.58 | NA | NA | 1.36 | 2.05 | 0.29 | NA | NA | 5.23 | 5.92 | 000
31535 |  | A | Laryngoscopy w/biopsy | 3.16 | NA | NA | 1.24 | 1.81 | 0.26 | NA | NA | 4.66 | 5.23 | 000
31536 |  | A | Laryngoscopy w/bx & op scope | 3.55 | NA | NA | 1.35 | 2.03 | 0.29 | NA | NA | 5.19 | 5.87 | 000
31540 |  | A | Laryngoscopy w/exc of tumor | 4.12 | NA | NA | 1.51 | 2.29 | 0.33 | NA | NA | 5.96 | 6.74 | 000
31541 |  | A | Larynscop w/tumr exc + scope | 4.52 | NA | NA | 1.62 | 2.50 | 0.37 | NA | NA | 6.51 | 7.39 | 000
31545 |  | A | Remove vc lesion w/scope | 6.30 | NA | NA | 2.14 | 3.15 | 0.37 | NA | NA | 8.81 | 9.82 | 000
31546 |  | A | Remove vc lesion scope/graft | 9.73 | NA | NA | 3.62 | 4.64 | 0.78 | NA | NA | 14.13 | 15.15 | 000
31560 |  | A | Laryngoscop w/arytenoidectom | 5.45 | NA | NA | 1.83 | 2.83 | 0.43 | NA | NA | 7.71 | 8.71 | 000
31561 |  | A | Larynscop, remve cart + scop | 5.99 | NA | NA | 1.97 | 3.03 | 0.49 | NA | NA | 8.45 | 9.51 | 000
31570 |  | A | Laryngoscope w/vc inj | 3.86 | 3.88 | 5.24 | 1.43 | 2.15 | 0.31 | 8.05 | 9.41 | 5.60 | 6.32 | 000
31571 |  | A | Laryngoscop w/vc inj + scope | 4.26 | NA | NA | 1.55 | 2.35 | 0.35 | NA | NA | 6.16 | 6.96 | 000
31575 |  | A | Diagnostic laryngoscopy | 1.10 | 1.54 | 1.82 | 0.68 | 0.84 | 0.09 | 2.73 | 3.01 | 1.87 | 2.03 | 000
31576 |  | A | Laryngoscopy with biopsy | 1.97 | 3.24 | 3.56 | 0.92 | 1.20 | 0.14 | 5.35 | 5.67 | 3.03 | 3.31 | 000
31577 |  | A | Remove foreign body, larynx | 2.47 | 3.19 | 3.63 | 1.07 | 1.42 | 0.21 | 5.87 | 6.31 | 3.75 | 4.10 | 000
31578 |  | A | Removal of larynx lesion | 2.84 | 3.61 | 4.12 | 1.16 | 1.43 | 0.23 | 6.68 | 7.19 | 4.23 | 4.50 | 000
31579 |  | A | Diagnostic laryngoscopy | 2.26 | 2.59 | 3.49 | 1.00 | 1.36 | 0.18 | 5.03 | 5.93 | 3.44 | 3.80 | 000
31580 |  | A | Revision of larynx | 14.38 | NA | NA | 13.18 | 15.27 | 1.00 | NA | NA | 28.56 | 30.65 | 090
31582 |  | A | Revision of larynx | 22.73 | NA | NA | 19.99 | 24.40 | 1.75 | NA | NA | 44.47 | 48.88 | 090
31584 |  | A | Treat larynx fracture | 20.27 | NA | NA | 13.86 | 17.12 | 1.71 | NA | NA | 35.84 | 39.10 | 090
31587 |  | A | Revision of larynx | 15.06 | NA | NA | 7.74 | 8.90 | 0.97 | NA | NA | 23.77 | 24.93 | 090
31588 |  | A | Revision of larynx | 14.48 | NA | NA | 11.11 | 13.02 | 1.06 | NA | NA | 26.65 | 28.56 | 090
31590 |  | A | Reinnervate larynx | 7.53 | NA | NA | 11.97 | 14.68 | 0.84 | NA | NA | 20.34 | 23.05 | 090
31595 |  | A | Larynx nerve surgery | 8.69 | NA | NA | 8.77 | 10.13 | 0.68 | NA | NA | 18.14 | 19.50 | 090
31600 |  | A | Incision of windpipe | 7.17 | NA | NA | 2.16 | 2.94 | 0.80 | NA | NA | 10.13 | 10.91 | 000
31601 |  | A | Incision of windpipe | 4.44 | NA | NA | 1.58 | 2.20 | 0.40 | NA | NA | 6.42 | 7.04 | 000
31603 |  | A | Incision of windpipe | 4.14 | NA | NA | 1.09 | 1.56 | 0.44 | NA | NA | 5.67 | 6.14 | 000
31605 |  | A | Incision of windpipe | 3.57 | NA | NA | 0.81 | 1.10 | 0.40 | NA | NA | 4.78 | 5.07 | 000
31610 |  | A | Incision of windpipe | 9.23 | NA | NA | 7.02 | 7.97 | 0.79 | NA | NA | 17.04 | 17.99 | 090
31611 |  | A | Surgery/speech prosthesis | 5.87 | NA | NA | 6.36 | 6.90 | 0.46 | NA | NA | 12.69 | 13.23 | 090
31612 |  | A | Puncture/clear windpipe | 0.91 | 1.06 | 1.09 | 0.24 | 0.32 | 0.08 | 2.05 | 2.08 | 1.23 | 1.31 | 000
31613 |  | A | Repair windpipe opening | 4.58 | NA | NA | 5.73 | 5.94 | 0.42 | NA | NA | 10.73 | 10.94 | 090
31614 |  | A | Repair windpipe opening | 8.39 | NA | NA | 8.70 | 8.73 | 0.58 | NA | NA | 17.67 | 17.70 | 090
31615 |  | A | Visualization of windpipe | 2.09 | 2.18 | 2.50 | 0.93 | 1.13 | 0.16 | 4.43 | 4.75 | 3.18 | 3.38 | 000
31620 |  | A | Endobronchial us add-on | 1.40 | 5.98 | 5.74 | 0.33 | 0.50 | 0.11 | 7.49 | 7.25 | 1.84 | 2.01 | ZZZ
31622 |  | A | Dx bronchoscope/wash | 2.78 | 5.21 | 5.56 | 0.88 | 1.02 | 0.18 | 8.17 | 8.52 | 3.84 | 3.98 | 000
31623 |  | A | Dx bronchoscope/brush | 2.88 | 5.96 | 6.32 | 0.88 | 1.01 | 0.13 | 8.97 | 9.33 | 3.89 | 4.02 | 000
31624 |  | A | Dx bronchoscope/lavage | 2.88 | 5.32 | 5.67 | 0.88 | 1.01 | 0.13 | 8.33 | 8.68 | 3.89 | 4.02 | 000
31625 |  | A | Bronchoscopy w/biopsy(s) | 3.36 | 5.46 | 5.74 | 1.00 | 1.16 | 0.18 | 9.00 | 9.28 | 4.54 | 4.70 | 000
31628 |  | A | Bronchoscopy/lung bx, each | 3.80 | 6.93 | 7.01 | 1.08 | 1.25 | 0.18 | 10.91 | 10.99 | 5.06 | 5.23 | 000
31629 |  | A | Bronchoscopy/needle bx, each | 4.09 | 11.96 | 13.71 | 1.15 | 1.34 | 0.16 | 16.21 | 17.96 | 5.40 | 5.59 | 000
31630 |  | A | Bronchoscopy dilate/fx repr | 3.81 | NA | NA | 1.23 | 1.60 | 0.32 | NA | NA | 5.36 | 5.73 | 000
31631 |  | A | Bronchoscopy, dilate w/stent | 4.36 | NA | NA | 1.38 | 1.67 | 0.34 | NA | NA | 6.08 | 6.37 | 000
31632 |  | A | Bronchoscopy/lung bx, addIl | 1.03 | 0.85 | 0.82 | 0.23 | 0.29 | 0.18 | 2.06 | 2.03 | 1.44 | 1.50 | ZZZ
31633 |  | A | Bronchoscopy/needle bx addIl | 1.32 | 0.98 | 0.94 | 0.30 | 0.38 | 0.16 | 2.46 | 2.42 | 1.78 | 1.86 | ZZZ
31635 |  | A | Bronchoscopy w/fb removal | 3.67 | 5.16 | 5.89 | 1.11 | 1.35 | 0.24 | 9.07 | 9.80 | 5.02 | 5.26 | 000
31636 |  | A | Bronchoscopy, bronch stents | 4.30 | NA | NA | 1.35 | 1.67 | 0.31 | NA | NA | 5.96 | 6.28 | 000
31637 |  | A | Bronchoscopy, stent add-on | 1.58 | NA | NA | 0.41 | 0.52 | 0.13 | NA | NA | 2.12 | 2.23 | ZZZ
31638 |  | A | Bronchoscopy, revise stent | 4.88 | NA | NA | 1.53 | 1.87 | 0.22 | NA | NA | 6.63 | 6.97 | 000
31640 |  | A | Bronchoscopy w/tumor excise | 4.93 | NA | NA | 1.50 | 1.94 | 0.46 | NA | NA | 6.89 | 7.33 | 000
31641 |  | A | Bronchoscopy, treat blockage | 5.02 | NA | NA | 1.46 | 1.78 | 0.35 | NA | NA | 6.83 | 7.15 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
31643 |  | A | Diag bronchoscope/catheter | 3.49 | NA | NA | 1.03 | 1.18 | 0.20 | NA | NA | 4.72 | 4.87 | 000
31645 |  | A | Bronchoscopy, clear airways | 3.16 | 4.71 | 5.04 | 0.95 | 1.08 | 0.16 | 8.03 | 8.36 | 4.27 | 4.40 | 000
31646 |  | A | Bronchoscopy, reclear airway | 2.72 | 4.43 | 4.76 | 0.84 | 0.96 | 0.14 | 7.29 | 7.62 | 3.70 | 3.82 | 000
31656 |  | A | Bronchoscopy, inj for x-ray | 2.17 | 5.29 | 6.81 | 0.64 | 0.78 | 0.15 | 7.61 | 9.13 | 2.96 | 3.10 | 000
31700 |  | A | Insertion of airway catheter | 1.34 | 2.29 | 2.19 | 0.67 | 0.68 | 0.08 | 3.71 | 3.61 | 2.09 | 2.10 | 000
31708 |  | A | Instill airway contrast dye | 1.41 | 1.27 | 1.85 | 0.42 | 0.45 | 0.07 | 2.75 | 3.33 | 1.90 | 1.93 | 000
31710 |  | A | Insertion of airway catheter | 1.30 | NA | NA | 0.45 | 0.42 | 0.12 | NA | NA | 1.87 | 1.84 | 000
31715 |  | A | Injection for bronchus x-ray | 1.11 | NA | NA | 0.29 | 0.33 | 0.07 | NA | NA | 1.47 | 1.51 | 000
31717 |  | A | Bronchial brush biopsy | 2.12 | 5.81 | 7.66 | 0.74 | 0.78 | 0.14 | 8.07 | 9.92 | 3.00 | 3.04 | 000
31720 |  | A | Clearance of airways | 1.06 | 0.25 | 0.31 | 0.25 | 0.31 | 0.07 | 1.38 | 1.44 | 1.38 | 1.44 | 000
31725 |  | A | Clearance of airways | 1.96 | 0.44 | 0.60 | 0.44 | 0.55 | 0.14 | 2.54 | 2.70 | 2.54 | 2.65 | 000
31730 |  | A | Intro, windpipe wire/tube | 2.85 | 25.49 | 8.02 | 0.71 | 0.93 | 0.21 | 28.55 | 11.08 | 3.77 | 3.99 | 000
31750 |  | A | Repair of windpipe | 15.11 | NA | NA | 15.93 | 17.18 | 1.05 | NA | NA | 32.09 | 33.34 | 090
31755 |  | A | Repair of windpipe | 17.05 | NA | NA | 21.88 | 23.91 | 1.29 | NA | NA | 40.22 | 42.25 | 090
31760 |  | A | Repair of windpipe | 23.28 | NA | NA | 9.87 | 10.52 | 2.94 | NA | NA | 36.09 | 36.74 | 090
31766 |  | A | Reconstruction of windpipe | 31.52 | NA | NA | 11.44 | 13.13 | 4.52 | NA | NA | 47.48 | 49.17 | 090
31770 |  | A | Repair/graft of bronchus | 23.44 | NA | NA | 9.02 | 9.96 | 2.83 | NA | NA | 35.29 | 36.23 | 090
31775 |  | A | Reconstruct bronchus | 24.46 | NA | NA | 8.87 | 11.08 | 3.01 | NA | NA | 36.34 | 38.55 | 090
31780 |  | A | Reconstruct windpipe | 19.62 | NA | NA | 7.96 | 10.30 | 1.65 | NA | NA | 29.23 | 31.57 | 090
31781 |  | A | Reconstruct windpipe | 24.72 | NA | NA | 9.17 | 11.41 | 2.24 | NA | NA | 36.13 | 38.37 | 090
31785 |  | A | Remove windpipe lesion | 18.25 | NA | NA | 6.80 | 9.36 | 1.59 | NA | NA | 26.64 | 29.20 | 090
31786 |  | A | Remove windpipe lesion | 25.29 | NA | NA | 9.81 | 12.30 | 3.29 | NA | NA | 38.39 | 40.88 | 090
31800 |  | A | Repair of windpipe injury | 8.05 | NA | NA | 8.31 | 9.03 | 0.79 | NA | NA | 17.15 | 17.87 | 090
31805 |  | A | Repair of windpipe injury | 13.29 | NA | NA | 6.45 | 7.04 | 1.82 | NA | NA | 21.56 | 22.15 | 090
31820 |  | A | Closure of windpipe lesion | 4.54 | 5.37 | 5.60 | 2.94 | 3.48 | 0.38 | 10.29 | 10.52 | 7.86 | 8.40 | 090
31825 |  | A | Repair of windpipe defect | 6.92 | 6.69 | 7.43 | 3.93 | 5.03 | 0.53 | 14.14 | 14.88 | 11.38 | 12.48 | 090
31830 |  | A | Revise windpipe scar | 4.49 | 5.54 | 5.72 | 3.29 | 3.82 | 0.44 | 10.47 | 10.65 | 8.22 | 8.75 | 090
32000 |  | A | Drainage of chest | 1.54 | 2.46 | 2.91 | 0.46 | 0.48 | 0.08 | 4.08 | 4.53 | 2.08 | 2.10 | 000
32002 |  | A | Treatment of collapsed lung | 2.19 | 2.94 | 3.15 | 1.03 | 1.05 | 0.12 | 5.25 | 5.46 | 3.34 | 3.36 | 000
32005 |  | A | Treat lung lining chemically | 2.19 | 5.12 | 6.13 | 0.59 | 0.67 | 0.23 | 7.54 | 8.55 | 3.01 | 3.09 | 000
32019 |  | A | Insert pleural catheter | 4.17 | 15.73 | 18.95 | 1.47 | 1.61 | 0.42 | 20.32 | 23.54 | 6.06 | 6.20 | 000
32020 |  | A | Insertion of chest tube | 3.97 | NA | NA | 1.15 | 1.30 | 0.43 | NA | NA | 5.55 | 5.70 | 000
32035 |  | A | Exploration of chest | 11.13 | NA | NA | 5.99 | 5.90 | 1.26 | NA | NA | 18.38 | 18.29 | 090
32036 |  | A | Exploration of chest | 12.14 | NA | NA | 6.31 | 6.42 | 1.43 | NA | NA | 19.88 | 19.99 | 090
32095 |  | A | Biopsy through chest wall | 10.03 | NA | NA | 5.31 | 5.36 | 1.22 | NA | NA | 16.56 | 16.61 | 090
32100 |  | A | Exploration/biopsy of chest | 16.04 | NA | NA | 7.19 | 7.68 | 2.23 | NA | NA | 25.46 | 25.95 | 090
32110 |  | A | Explore/repair chest | 25.11 | NA | NA | 10.13 | 10.60 | 3.21 | NA | NA | 38.45 | 38.92 | 090
32120 |  | A | Re-exploration of chest | 14.23 | NA | NA | 7.02 | 7.07 | 1.63 | NA | NA | 22.88 | 22.93 | 090
32124 |  | A | Explore chest free adhesions | 15.29 | NA | NA | 7.20 | 7.22 | 1.89 | NA | NA | 24.38 | 24.40 | 090
32140 |  | A | Removal of lung lesion(s) | 16.50 | NA | NA | 7.58 | 7.67 | 1.96 | NA | NA | 26.04 | 26.13 | 090
32141 |  | A | Remove/treat lung lesions | 17.14 | NA | NA | 7.80 | 7.63 | 2.00 | NA | NA | 26.94 | 26.77 | 090
32150 |  | A | Removal of lung lesion(s) | 16.66 | NA | NA | 7.64 | 7.63 | 2.00 | NA | NA | 26.30 | 26.29 | 090
32151 |  | A | Remove lung foreign body | 16.78 | NA | NA | 9.04 | 8.28 | 2.03 | NA | NA | 27.85 | 27.09 | 090
32160 |  | A | Open chest heart massage | 13.00 | NA | NA | 5.96 | 5.45 | 1.31 | NA | NA | 20.27 | 19.76 | 090
32200 |  | A | Drain, open, lung lesion | 18.42 | NA | NA | 9.10 | 8.75 | 2.13 | NA | NA | 29.65 | 29.30 | 090
32201 |  | A | Drain, percut, lung lesion | 3.99 | 20.79 | 20.77 | 1.40 | 1.33 | 0.24 | 25.02 | 25.00 | 5.63 | 5.56 | 000
32215 |  | A | Treat chest lining | 12.90 | NA | NA | 6.48 | 6.81 | 1.68 | NA | NA | 21.06 | 21.39 | 090
32220 |  | A | Release of lung | 26.31 | NA | NA | 12.24 | 12.80 | 3.56 | NA | NA | 42.11 | 42.67 | 090
32225 |  | A | Partial release of lung | 16.59 | NA | NA | 7.61 | 7.66 | 2.06 | NA | NA | 26.26 | 26.31 | 090
32310 |  | A | Removal of chest lining | 15.13 | NA | NA | 7.05 | 7.32 | 1.99 | NA | NA | 24.17 | 24.44 | 090
32320 |  | A | Free/remove chest lining | 26.96 | NA | NA | 11.73 | 12.08 | 3.51 | NA | NA | 42.20 | 42.55 | 090
32400 |  | A | Needle biopsy chest lining | 1.76 | 2.21 | 2.15 | 0.55 | 0.55 | 0.10 | 4.07 | 4.01 | 2.41 | 2.41 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
32402 |  | A | Open biopsy chest lining | 8.85 | NA | NA | 4.84 | 5.05 | 1.07 | NA | NA | 14.76 | 14.97 | 090
32405 |  | A | Biopsy, lung or mediastinum | 1.93 | 0.68 | 0.67 | 0.68 | 0.64 | 0.11 | 2.72 | 2.71 | 2.72 | 2.68 | 000
32420 |  | A | Puncture/clear lung | 2.18 | NA | NA | 0.74 | 0.70 | 0.12 | NA | NA | 3.04 | 3.00 | 000
32440 |  | A | Removal of lung | 27.11 | NA | NA | 11.21 | 12.50 | 3.68 | NA | NA | 42.00 | 43.29 | 090
32442 |  | A | Sleeve pneumonectomy | 37.74 | NA | NA | 14.53 | 14.73 | 3.84 | NA | NA | 56.11 | 56.31 | 090
32445 |  | A | Removal of lung | 40.73 | NA | NA | 16.04 | 14.59 | 3.71 | NA | NA | 60.48 | 59.03 | 090
32480 |  | A | Partial removal of lung | 25.65 | NA | NA | 10.46 | 11.68 | 3.49 | NA | NA | 39.60 | 40.82 | 090
32482 |  | A | Bilobectomy | 27.22 | NA | NA | 11.30 | 12.54 | 3.66 | NA | NA | 42.18 | 43.42 | 090
32484 |  | A | Segmentectomy | 22.67 | NA | NA | 9.74 | 10.99 | 3.03 | NA | NA | 35.44 | 36.69 | 090
32486 |  | A | Sleeve lobectomy | 31.72 | NA | NA | 12.98 | 13.21 | 3.51 | NA | NA | 48.21 | 48.44 | 090
32488 |  | A | Completion pneumonectomy | 32.69 | NA | NA | 13.02 | 13.62 | 3.80 | NA | NA | 49.51 | 50.11 | 090
32491 |  | R | Lung volume reduction | 25.03 | NA | NA | 10.81 | 12.20 | 2.98 | NA | NA | 38.82 | 40.21 | 090
32500 |  | A | Partial removal of lung | 24.42 | NA | NA | 10.53 | 11.93 | 3.25 | NA | NA | 38.20 | 39.60 | 090
32501 |  | A | Repair bronchus add-on | 4.68 | NA | NA | 1.38 | 1.50 | 0.65 | NA | NA | 6.71 | 6.83 | ZZZ
32503 |  | A | Resect apical lung tumor | 31.55 | NA | NA | 12.41 | 14.44 | 4.37 | NA | NA | 48.33 | 50.36 | 090
32504 |  | A | Resect apical lung tum/chest | 36.35 | NA | NA | 13.85 | 16.00 | 5.07 | NA | NA | 55.27 | 57.42 | 090
32540 |  | A | Removal of lung lesion | 23.68 | NA | NA | 10.38 | 9.84 | 2.07 | NA | NA | 36.13 | 35.59 | 090
32601 |  | A | Thoracoscopy, diagnostic | 5.45 | NA | NA | 2.13 | 2.30 | 0.80 | NA | NA | 8.38 | 8.55 | 000
32602 |  | A | Thoracoscopy, diagnostic | 5.95 | NA | NA | 2.27 | 2.47 | 0.87 | NA | NA | 9.09 | 9.29 | 000
32603 |  | A | Thoracoscopy, diagnostic | 7.80 | NA | NA | 3.01 | 3.03 | 1.14 | NA | NA | 11.95 | 11.97 | 000
32604 |  | A | Thoracoscopy, diagnostic | 8.77 | NA | NA | 3.10 | 3.37 | 1.25 | NA | NA | 13.12 | 13.39 | 000
32605 |  | A | Thoracoscopy, diagnostic | 6.92 | NA | NA | 2.59 | 2.83 | 1.00 | NA | NA | 10.51 | 10.75 | 000
32606 |  | A | Thoracoscopy, diagnostic | 8.39 | NA | NA | 3.05 | 3.27 | 1.22 | NA | NA | 12.66 | 12.88 | 000
32650 |  | A | Thoracoscopy, surgical | 10.73 | NA | NA | 5.36 | 6.43 | 1.58 | NA | NA | 17.67 | 18.74 | 090
32651 |  | A | Thoracoscopy, surgical | 16.28 | NA | NA | 6.99 | 7.19 | 1.86 | NA | NA | 25.13 | 25.33 | 090
32652 |  | A | Thoracoscopy, surgical | 23.34 | NA | NA | 9.43 | 9.99 | 2.72 | NA | NA | 35.49 | 36.05 | 090
32653 |  | A | Thoracoscopy, surgical | 19.86 | NA | NA | 7.60 | 7.14 | 1.88 | NA | NA | 29.34 | 28.88 | 090
32654 |  | A | Thoracoscopy, surgical | 18.49 | NA | NA | 7.37 | 7.51 | 1.63 | NA | NA | 27.49 | 27.63 | 090
32655 |  | A | Thoracoscopy, surgical | 14.95 | NA | NA | 6.64 | 7.11 | 1.89 | NA | NA | 23.48 | 23.95 | 090
32656 |  | A | Thoracoscopy, surgical | 13.14 | NA | NA | 6.07 | 7.49 | 1.89 | NA | NA | 21.10 | 22.52 | 090
32657 |  | A | Thoracoscopy, surgical | 14.54 | NA | NA | 6.52 | 7.41 | 1.99 | NA | NA | 23.05 | 23.94 | 090
32658 |  | A | Thoracoscopy, surgical | 11.61 | NA | NA | 5.68 | 6.95 | 1.69 | NA | NA | 18.98 | 20.25 | 090
32659 |  | A | Thoracoscopy, surgical | 11.82 | NA | NA | 6.01 | 7.11 | 1.62 | NA | NA | 19.45 | 20.55 | 090
32660 |  | A | Thoracoscopy, surgical | 17.65 | NA | NA | 7.59 | 9.03 | 2.08 | NA | NA | 27.32 | 28.76 | 090
32661 |  | A | Thoracoscopy, surgical | 13.23 | NA | NA | 6.30 | 7.43 | 1.92 | NA | NA | 21.45 | 22.58 | 090
32662 |  | A | Thoracoscopy, surgical | 17.00 | NA | NA | 7.28 | 8.46 | 2.17 | NA | NA | 26.45 | 27.63 | 090
32663 |  | A | Thoracoscopy, surgical | 19.96 | NA | NA | 8.99 | 10.34 | 2.72 | NA | NA | 31.67 | 33.02 | 090
32664 |  | A | Thoracoscopy, surgical | 14.18 | NA | NA | 6.48 | 7.36 | 2.32 | NA | NA | 22.98 | 23.86 | 090
32665 |  | A | Thoracoscopy, surgical | 17.37 | NA | NA | 7.66 | 8.03 | 2.15 | NA | NA | 27.18 | 27.55 | 090
32800 |  | A | Repair lung hernia | 15.56 | NA | NA | 7.14 | 7.36 | 1.98 | NA | NA | 24.68 | 24.90 | 090
32810 |  | A | Close chest after drainage | 14.80 | NA | NA | 7.16 | 7.45 | 1.93 | NA | NA | 23.89 | 24.18 | 090
32815 |  | A | Close bronchial fistula | 37.94 | NA | NA | 14.13 | 11.78 | 3.27 | NA | NA | 55.34 | 52.99 | 090
32820 |  | A | Reconstruct injured chest | 22.27 | NA | NA | 11.58 | 12.05 | 2.52 | NA | NA | 36.37 | 36.84 | 090
32851 |  | A | Lung transplant, single | 40.72 | NA | NA | 21.07 | 26.07 | 5.56 | NA | NA | 67.35 | 72.35 | 090
32852 |  | A | Lung transplant with bypass | 44.37 | NA | NA | 24.10 | 30.97 | 6.00 | NA | NA | 74.47 | 81.34 | 090
32853 |  | A | Lung transplant, double | 49.89 | NA | NA | 23.44 | 29.74 | 7.05 | NA | NA | 80.38 | 86.68 | 090
32854 |  | A | Lung transplant with bypass | 53.60 | NA | NA | 26.89 | 32.85 | 7.20 | NA | NA | 87.69 | 93.65 | 090
32900 |  | A | Removal of rib(s) | 23.66 | NA | NA | 9.89 | 9.91 | 2.93 | NA | NA | 36.48 | 36.50 | 090
32905 |  | A | Revise & repair chest wall | 23.13 | NA | NA | 9.72 | 10.05 | 3.15 | NA | NA | 36.00 | 36.33 | 090
32906 |  | A | Revise & repair chest wall | 29.14 | NA | NA | 11.47 | 11.94 | 3.97 | NA | NA | 44.58 | 45.05 | 090
32940 |  | A | Revision of lung | 21.18 | NA | NA | 8.72 | 9.31 | 2.88 | NA | NA | 32.78 | 33.37 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
32960 |  | A | Therapeutic pneumothorax | 1.84 | 1.65 | 1.72 | 0.70 | 0.60 | 0.16 | 3.65 | 3.72 | 2.70 | 2.60 | 000
32997 |  | A | Total lung lavage | 5.99 | NA | NA | 1.50 | 1.82 | 0.55 | NA | NA | 8.04 | 8.36 | 000
33010 |  | A | Drainage of heart sac | 2.24 | NA | NA | 1.05 | 0.85 | 0.14 | NA | NA | 3.43 | 3.23 | 000
33011 |  | A | Repeat drainage of heart sac | 2.24 | NA | NA | 1.13 | 0.89 | 0.15 | NA | NA | 3.52 | 3.28 | 000
33015 |  | A | Incision of heart sac | 8.41 | NA | NA | 5.15 | 5.01 | 0.65 | NA | NA | 14.21 | 14.07 | 090
33020 |  | A | Incision of heart sac | 14.84 | NA | NA | 6.59 | 6.75 | 1.79 | NA | NA | 23.22 | 23.38 | 090
33025 |  | A | Incision of heart sac | 13.62 | NA | NA | 6.04 | 6.29 | 1.80 | NA | NA | 21.46 | 21.71 | 090
33030 |  | A | Partial removal of heart sac | 22.23 | NA | NA | 9.35 | 9.50 | 2.83 | NA | NA | 34.41 | 34.56 | 090
33031 |  | A | Partial removal of heart sac | 25.27 | NA | NA | 10.10 | 10.07 | 3.13 | NA | NA | 38.50 | 38.47 | 090
33050 |  | A | Removal of heart sac lesion | 16.81 | NA | NA | 7.70 | 7.82 | 2.14 | NA | NA | 26.65 | 26.77 | 090
33120 |  | A | Removal of heart lesion | 27.29 | NA | NA | 10.90 | 11.43 | 3.69 | NA | NA | 41.88 | 42.41 | 090
33130 |  | A | Removal of heart lesion | 24.01 | NA | NA | 9.50 | 9.98 | 3.00 | NA | NA | 36.51 | 36.99 | 090
33140 |  | A | Heart revascularize (tmr) | 22.72 | NA | NA | 10.19 | 10.73 | 2.85 | NA | NA | 35.76 | 36.30 | 090
33141 |  | A | Heart tmr w/other procedure | 4.83 | NA | NA | 1.53 | 1.57 | 0.69 | NA | NA | 7.05 | 7.09 | ZZZ
33200 |  | A | Insertion of heart pacemaker | 14.69 | NA | NA | 7.55 | 7.03 | 1.70 | NA | NA | 23.94 | 23.42 | 090
33201 |  | A | Insertion of heart pacemaker | 12.08 | NA | NA | 6.47 | 6.57 | 1.36 | NA | NA | 19.91 | 20.01 | 090
33206 |  | A | Insertion of heart pacemaker | 7.27 | NA | NA | 5.24 | 4.66 | 0.52 | NA | NA | 13.03 | 12.45 | 090
33207 |  | A | Insertion of heart pacemaker | 9.03 | NA | NA | 5.89 | 4.98 | 0.59 | NA | NA | 15.51 | 14.60 | 090
33208 |  | A | Insertion of heart pacemaker | 8.12 | NA | NA | 5.54 | 4.97 | 0.56 | NA | NA | 14.22 | 13.65 | 090
33210 |  | A | Insertion of heart electrode | 3.30 | NA | NA | 1.73 | 1.37 | 0.18 | NA | NA | 5.21 | 4.85 | 000
33211 |  | A | Insertion of heart electrode | 3.39 | NA | NA | 1.71 | 1.41 | 0.21 | NA | NA | 5.31 | 5.01 | 000
33212 |  | A | Insertion of pulse generator | 5.51 | NA | NA | 3.82 | 3.48 | 0.43 | NA | NA | 9.76 | 9.42 | 090
33213 |  | A | Insertion of pulse generator | 6.36 | NA | NA | 4.35 | 3.89 | 0.45 | NA | NA | 11.16 | 10.70 | 090
33214 |  | A | Upgrade of pacemaker system | 7.74 | NA | NA | 5.48 | 5.05 | 0.58 | NA | NA | 13.80 | 13.37 | 090
33215 |  | A | Reposition pacing-defib lead | 4.87 | NA | NA | 3.58 | 3.29 | 0.37 | NA | NA | 8.82 | 8.53 | 090
33216 |  | A | Insert lead pace-defib, one | 5.77 | NA | NA | 4.67 | 4.33 | 0.36 | NA | NA | 10.80 | 10.46 | 090
33217 |  | A | Insert lead pace-defib, dual | 5.74 | NA | NA | 4.58 | 4.33 | 0.39 | NA | NA | 10.71 | 10.46 | 090
33218 |  | A | Repair lead pace-defib, one | 5.93 | NA | NA | 4.92 | 4.46 | 0.37 | NA | NA | 11.22 | 10.76 | 090
33220 |  | A | Repair lead pace-defib, dual | 6.01 | NA | NA | 4.99 | 4.46 | 0.37 | NA | NA | 11.37 | 10.84 | 090
33222 |  | A | Revise pocket, pacemaker | 4.95 | NA | NA | 4.40 | 4.33 | 0.42 | NA | NA | 9.77 | 9.70 | 090
33223 |  | A | Revise pocket, pacing-defib | 6.45 | NA | NA | 5.07 | 4.72 | 0.45 | NA | NA | 11.97 | 11.62 | 090
33224 |  | A | Insert pacing lead & connect | 9.04 | NA | NA | 5.15 | 4.30 | 0.54 | NA | NA | 14.73 | 13.88 | 000
33225 |  | A | L ventric pacing lead add-on | 8.33 | NA | NA | 4.55 | 3.58 | 0.45 | NA | NA | 13.33 | 12.36 | ZZZ
33226 |  | A | Reposition l ventric lead | 8.68 | NA | NA | 4.97 | 4.12 | 0.59 | NA | NA | 14.24 | 13.39 | 000
33233 |  | A | Removal of pacemaker system | 3.29 | NA | NA | 3.35 | 3.30 | 0.22 | NA | NA | 6.86 | 6.81 | 090
33234 |  | A | Removal of pacemaker system | 7.81 | NA | NA | 5.63 | 5.10 | 0.56 | NA | NA | 14.00 | 13.47 | 090
33235 |  | A | Removal pacemaker electrode | 9.85 | NA | NA | 7.47 | 6.99 | 0.73 | NA | NA | 18.05 | 17.57 | 090
33236 |  | A | Remove electrode/thoracotomy | 12.58 | NA | NA | 6.76 | 7.28 | 1.68 | NA | NA | 21.02 | 21.54 | 090
33237 |  | A | Remove electrode/thoracotomy | 13.69 | NA | NA | 7.78 | 7.80 | 1.59 | NA | NA | 23.06 | 23.08 | 090
33238 |  | A | Remove electrode/thoracotomy | 15.20 | NA | NA | 8.40 | 8.27 | 2.02 | NA | NA | 25.62 | 25.49 | 090
33240 |  | A | Insert pulse generator | 7.59 | NA | NA | 5.46 | 4.81 | 0.41 | NA | NA | 13.46 | 12.81 | 090
33241 |  | A | Remove pulse generator | 3.24 | NA | NA | 3.10 | 3.00 | 0.18 | NA | NA | 6.52 | 6.42 | 090
33243 |  | A | Remove eltrd/thoracotomy | 23.36 | NA | NA | 10.96 | 11.36 | 2.09 | NA | NA | 36.41 | 36.81 | 090
33244 |  | A | Remove eltrd, transven | 13.74 | NA | NA | 9.73 | 9.12 | 0.99 | NA | NA | 24.46 | 23.85 | 090
33245 |  | A | Insert epic eltrd pace-defib | 16.81 | NA | NA | 8.05 | 7.95 | 2.01 | NA | NA | 26.87 | 26.77 | 090
33246 |  | A | Insert epic eltrd/generator | 23.11 | NA | NA | 10.89 | 10.46 | 2.63 | NA | NA | 36.63 | 36.20 | 090
33249 |  | A | Eltrd/insert pace-defib | 14.96 | NA | NA | 10.55 | 8.92 | 0.77 | NA | NA | 26.28 | 24.65 | 090
33250 |  | A | Ablate heart dysrhythm focus | 25.75 | NA | NA | 10.24 | 10.85 | 3.18 | NA | NA | 39.17 | 39.78 | 090
33251 |  | A | Ablate heart dysrhythm focus | 28.77 | NA | NA | 11.25 | 11.58 | 3.59 | NA | NA | 43.61 | 43.94 | 090
33253 |  | A | Reconstruct atria | 31.33 | NA | NA | 12.28 | 13.47 | 4.52 | NA | NA | 48.13 | 49.32 | 090
33261 |  | A | Ablate heart dysrhythm focus | 28.77 | NA | NA | 11.49 | 11.72 | 3.45 | NA | NA | 43.71 | 43.94 | 090
33282 |  | A | Implant pat-active ht record | 4.66 | NA | NA | 4.37 | 4.12 | 0.23 | NA | NA | 9.26 | 9.01 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
33284 |  | A | Remove pat-active ht record | 3.00 | NA | NA | 3.46 | 3.52 | 0.14 | NA | NA | 6.60 | 6.66 | 090
33300 |  | A | Repair of heart wound | 29.93 | NA | NA | 11.69 | 9.87 | 2.65 | NA | NA | 44.27 | 42.45 | 090
33305 |  | A | Repair of heart wound | 33.67 | NA | NA | 12.81 | 11.18 | 3.12 | NA | NA | 49.60 | 47.97 | 090
33310 |  | A | Exploratory heart surgery | 20.19 | NA | NA | 8.93 | 9.44 | 2.58 | NA | NA | 31.70 | 32.21 | 090
33315 |  | A | Exploratory heart surgery | 26.01 | NA | NA | 10.51 | 10.81 | 3.27 | NA | NA | 39.79 | 40.09 | 090
33320 |  | A | Repair major blood vessel(s) | 18.42 | NA | NA | 8.81 | 8.38 | 2.07 | NA | NA | 29.30 | 28.87 | 090
33321 |  | A | Repair major vessel | 20.67 | NA | NA | 10.44 | 9.97 | 2.90 | NA | NA | 34.01 | 33.54 | 090
33322 |  | A | Repair major blood vessel(s) | 24.26 | NA | NA | 9.95 | 10.28 | 2.85 | NA | NA | 37.06 | 37.39 | 090
33330 |  | A | Insert major vessel graft | 25.13 | NA | NA | 9.94 | 10.20 | 2.81 | NA | NA | 37.88 | 38.14 | 090
33332 |  | A | Insert major vessel graft | 24.42 | NA | NA | 9.72 | 10.34 | 3.02 | NA | NA | 37.16 | 37.78 | 090
33335 |  | A | Insert major vessel graft | 33.75 | NA | NA | 13.13 | 13.31 | 4.27 | NA | NA | 51.15 | 51.33 | 090
33400 |  | A | Repair of aortic valve | 39.23 | NA | NA | 15.49 | 15.66 | 4.10 | NA | NA | 58.82 | 58.99 | 090
33401 |  | A | Valvuloplasty, open | 24.33 | NA | NA | 10.03 | 12.66 | 3.56 | NA | NA | 37.92 | 40.55 | 090
33403 |  | A | Valvuloplasty, w/cp bypass | 25.31 | NA | NA | 10.70 | 13.43 | 3.54 | NA | NA | 39.55 | 42.28 | 090
33404 |  | A | Prepare heart-aorta conduit | 31.21 | NA | NA | 12.40 | 14.04 | 4.32 | NA | NA | 47.93 | 49.57 | 090
33405 |  | A | Replacement of aortic valve | 39.97 | NA | NA | 16.02 | 17.76 | 5.31 | NA | NA | 61.30 | 63.04 | 090
33406 |  | A | Replacement of aortic valve | 48.87 | NA | NA | 18.67 | 19.05 | 5.43 | NA | NA | 72.97 | 73.35 | 090
33410 |  | A | Replacement of aortic valve | 38.69 | NA | NA | 15.15 | 16.26 | 4.68 | NA | NA | 58.52 | 59.63 | 090
33411 |  | A | Replacement of aortic valve | 57.11 | NA | NA | 21.08 | 19.36 | 5.46 | NA | NA | 83.65 | 81.93 | 090
33412 |  | A | Replacement of aortic valve | 43.71 | NA | NA | 16.71 | 19.52 | 6.37 | NA | NA | 66.79 | 69.60 | 090
33413 |  | A | Replacement of aortic valve | 55.27 | NA | NA | 20.25 | 20.72 | 6.51 | NA | NA | 82.03 | 82.50 | 090
33414 |  | A | Repair of aortic valve | 39.27 | NA | NA | 16.30 | 14.70 | 4.56 | NA | NA | 60.13 | 58.53 | 090
33415 |  | A | Revision, subvalvular tissue | 29.70 | NA | NA | 11.18 | 11.83 | 4.13 | NA | NA | 45.01 | 45.66 | 090
33416 |  | A | Revise ventricle muscle | 36.39 | NA | NA | 13.60 | 13.56 | 4.56 | NA | NA | 54.55 | 54.51 | 090
33417 |  | A | Repair of aortic valve | 29.13 | NA | NA | 12.30 | 13.31 | 4.09 | NA | NA | 45.52 | 46.53 | 090
33420 |  | A | Revision of mitral valve | 25.64 | NA | NA | 8.74 | 9.38 | 1.81 | NA | NA | 36.19 | 36.83 | 090
33422 |  | A | Revision of mitral valve | 29.57 | NA | NA | 12.61 | 13.42 | 3.93 | NA | NA | 46.11 | 46.92 | 090
33425 |  | A | Repair of mitral valve | 38.37 | NA | NA | 14.13 | 13.35 | 4.06 | NA | NA | 56.56 | 55.78 | 090
33426 |  | A | Repair of mitral valve | 41.28 | NA | NA | 16.14 | 16.92 | 5.01 | NA | NA | 62.43 | 63.21 | 090
33427 |  | A | Repair of mitral valve | 42.78 | NA | NA | 16.52 | 18.70 | 6.07 | NA | NA | 65.37 | 67.55 | 090
33430 |  | A | Replacement of mitral valve | 49.81 | NA | NA | 18.82 | 17.71 | 5.08 | NA | NA | 73.71 | 72.60 | 090
33460 |  | A | Revision of tricuspid valve | 27.97 | NA | NA | 11.09 | 11.27 | 3.44 | NA | NA | 42.50 | 42.68 | 090
33463 |  | A | Valvuloplasty, tricuspid | 42.57 | NA | NA | 16.20 | 13.76 | 3.86 | NA | NA | 62.63 | 60.19 | 090
33464 |  | A | Valvuloplasty, tricuspid | 30.93 | NA | NA | 12.84 | 13.38 | 4.14 | NA | NA | 47.91 | 48.45 | 090
33465 |  | A | Replace tricuspid valve | 33.58 | NA | NA | 12.72 | 12.93 | 4.38 | NA | NA | 50.68 | 50.89 | 090
33468 |  | A | Revision of tricuspid valve | 32.78 | NA | NA | 15.74 | 14.20 | 4.06 | NA | NA | 52.58 | 51.04 | 090
33470 |  | A | Revision of pulmonary valve | 21.24 | NA | NA | 8.84 | 10.25 | 1.03 | NA | NA | 31.11 | 32.52 | 090
33471 |  | A | Valvotomy, pulmonary valve | 22.79 | NA | NA | 8.23 | 9.39 | 3.38 | NA | NA | 34.40 | 35.56 | 090
33472 |  | A | Revision of pulmonary valve | 22.86 | NA | NA | 7.07 | 10.69 | 3.54 | NA | NA | 33.47 | 37.09 | 090
33474 |  | A | Revision of pulmonary valve | 25.85 | NA | NA | 12.31 | 11.26 | 3.21 | NA | NA | 41.37 | 40.32 | 090
33475 |  | A | Replacement, pulmonary valve | 44.81 | NA | NA | 16.89 | 15.78 | 4.92 | NA | NA | 66.62 | 65.51 | 090
33476 |  | A | Revision of heart chamber | 26.37 | NA | NA | 11.49 | 11.87 | 2.41 | NA | NA | 40.27 | 40.65 | 090
33478 |  | A | Revision of heart chamber | 27.34 | NA | NA | 11.15 | 12.61 | 3.88 | NA | NA | 42.37 | 43.83 | 090
33496 |  | A | Repair, prosth valve clot | 29.67 | NA | NA | 11.64 | 12.50 | 4.12 | NA | NA | 45.43 | 46.29 | 090
33500 |  | A | Repair heart vessel fistula | 27.79 | NA | NA | 11.18 | 11.41 | 3.86 | NA | NA | 42.83 | 43.06 | 090
33501 |  | A | Repair heart vessel fistula | 19.39 | NA | NA | 8.28 | 8.30 | 1.90 | NA | NA | 29.57 | 29.59 | 090
33502 |  | A | Coronary artery correction | 21.65 | NA | NA | 9.42 | 10.68 | 2.99 | NA | NA | 34.06 | 35.32 | 090
33503 |  | A | Coronary artery graft | 22.21 | NA | NA | 10.80 | 10.02 | 1.77 | NA | NA | 34.78 | 34.00 | 090
33504 |  | A | Coronary artery graft | 25.26 | NA | NA | 10.37 | 11.47 | 3.35 | NA | NA | 38.98 | 40.08 | 090
33505 |  | A | Repair artery w/tunnel | 38.33 | NA | NA | 13.26 | 13.02 | 2.18 | NA | NA | 53.77 | 53.53 | 090
33506 |  | A | Repair artery, translocation | 37.78 | NA | NA | 16.92 | 15.18 | 4.65 | NA | NA | 59.35 | 57.61 | 090
33507 |  | A | Repair art, intramural | 31.33 | NA | NA | 11.93 | 13.24 | 4.05 | NA | NA | 47.31 | 48.62 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
33508 |  | A | Endoscopic vein harvest | 0.31 | NA | NA | 0.10 | 0.10 | 0.04 | NA | NA | 0.45 | 0.45 | ZZZ
33510 |  | A | CABG, vein, single | 33.45 | NA | NA | 14.10 | 15.81 | 4.40 | NA | NA | 51.95 | 53.66 | 090
33511 |  | A | CABG, vein, two | 34.59 | NA | NA | 14.66 | 16.51 | 4.55 | NA | NA | 53.80 | 55.65 | 090
33512 |  | A | CABG, vein, three | 38.73 | NA | NA | 15.96 | 17.23 | 4.66 | NA | NA | 59.35 | 60.62 | 090
33513 |  | A | CABG, vein, four | 39.69 | NA | NA | 16.45 | 17.49 | 4.87 | NA | NA | 61.01 | 62.05 | 090
33514 |  | A | CABG, vein, five | 40.50 | NA | NA | 16.68 | 17.75 | 4.76 | NA | NA | 61.94 | 63.01 | 090
33516 |  | A | Cabg, vein, six or more | 41.96 | NA | NA | 17.58 | 18.53 | 5.11 | NA | NA | 64.65 | 65.60 | 090
33517 |  | A | CABG, artery-vein, single | 2.57 | NA | NA | 0.80 | 0.83 | 0.39 | NA | NA | 3.76 | 3.79 | ZZZ
33518 |  | A | CABG, artery-vein, two | 4.84 | NA | NA | 1.50 | 1.56 | 0.73 | NA | NA | 7.07 | 7.13 | ZZZ
33519 |  | A | CABG, artery-vein, three | 7.11 | NA | NA | 2.20 | 2.30 | 1.04 | NA | NA | 10.35 | 10.45 | ZZZ
33521 |  | A | CABG, artery-vein, four | 9.39 | NA | NA | 2.93 | 3.04 | 1.37 | NA | NA | 13.69 | 13.80 | ZZZ
33522 |  | A | CABG, artery-vein, five | 11.65 | NA | NA | 3.60 | 3.77 | 1.77 | NA | NA | 17.02 | 17.19 | ZZZ
33523 |  | A | Cabg, art-vein, six or more | 13.93 | NA | NA | 4.35 | 4.49 | 2.12 | NA | NA | 20.40 | 20.54 | ZZZ
33530 |  | A | Coronary artery, bypass/reop | 5.85 | NA | NA | 1.81 | 1.89 | 0.88 | NA | NA | 8.54 | 8.62 | ZZZ
33533 |  | A | CABG, arterial, single | 37.38 | NA | NA | 15.18 | 16.18 | 4.55 | NA | NA | 57.11 | 58.11 | 090
33534 |  | A | CABG, arterial, two | 38.81 | NA | NA | 15.92 | 17.30 | 4.69 | NA | NA | 59.42 | 60.80 | 090
33535 |  | A | CABG, arterial, three | 41.48 | NA | NA | 16.88 | 17.86 | 5.01 | NA | NA | 63.37 | 64.35 | 090
33536 |  | A | Cabg, arterial, four or more | 40.79 | NA | NA | 16.50 | 17.88 | 5.42 | NA | NA | 62.71 | 64.09 | 090
33542 |  | A | Removal of heart lesion | 32.65 | NA | NA | 12.79 | 12.97 | 4.37 | NA | NA | 49.81 | 49.99 | 090
33545 |  | A | Repair of heart damage | 41.12 | NA | NA | 15.63 | 15.66 | 5.19 | NA | NA | 61.94 | 61.97 | 090
33548 |  | A | Restore/remodel, ventricle | 42.46 | NA | NA | 16.72 | 18.69 | 5.51 | NA | NA | 64.69 | 66.66 | 090
33572 |  | A | Open coronary endarterectomy | 4.44 | NA | NA | 1.36 | 1.43 | 0.65 | NA | NA | 6.45 | 6.52 | ZZZ
33600 |  | A | Closure of valve | 30.11 | NA | NA | 12.61 | 12.57 | 4.41 | NA | NA | 47.13 | 47.09 | 090
33602 |  | A | Closure of valve | 29.14 | NA | NA | 13.58 | 12.76 | 3.81 | NA | NA | 46.53 | 45.71 | 090
33606 |  | A | Anastomosis/artery-aorta | 31.33 | NA | NA | 12.36 | 13.37 | 4.40 | NA | NA | 48.09 | 49.10 | 090
33608 |  | A | Repair anomaly w/conduit | 31.68 | NA | NA | 13.61 | 14.01 | 4.73 | NA | NA | 50.02 | 50.42 | 090
33610 |  | A | Repair by enlargement | 31.20 | NA | NA | 11.17 | 13.02 | 4.55 | NA | NA | 46.92 | 48.77 | 090
33611 |  | A | Repair double ventricle | 35.47 | NA | NA | 12.05 | 13.64 | 4.36 | NA | NA | 51.88 | 53.47 | 090
33612 |  | A | Repair double ventricle | 36.47 | NA | NA | 13.15 | 14.68 | 5.28 | NA | NA | 54.90 | 56.43 | 090
33615 |  | A | Repair, modified fontan | 35.72 | NA | NA | 12.53 | 13.02 | 4.31 | NA | NA | 52.56 | 53.05 | 090
33617 |  | A | Repair single ventricle | 38.92 | NA | NA | 16.71 | 16.21 | 5.64 | NA | NA | 61.27 | 60.77 | 090
33619 |  | A | Repair single ventricle | 48.56 | NA | NA | 18.62 | 20.30 | 6.44 | NA | NA | 73.62 | 75.30 | 090
33641 |  | A | Repair heart septum defect | 28.47 | NA | NA | 10.55 | 9.84 | 3.22 | NA | NA | 42.24 | 41.53 | 090
33645 |  | A | Revision of heart veins | 27.94 | NA | NA | 11.08 | 11.62 | 3.78 | NA | NA | 42.80 | 43.34 | 090
33647 |  | A | Repair heart septum defects | 29.33 | NA | NA | 12.54 | 13.49 | 3.31 | NA | NA | 45.18 | 46.13 | 090
33660 |  | A | Repair of heart defects | 31.73 | NA | NA | 12.27 | 13.21 | 4.48 | NA | NA | 48.48 | 49.42 | 090
33665 |  | A | Repair of heart defects | 34.75 | NA | NA | 13.51 | 13.78 | 3.99 | NA | NA | 52.25 | 52.52 | 090
33670 |  | A | Repair of heart chambers | 36.56 | NA | NA | 13.08 | 13.18 | 4.64 | NA | NA | 54.28 | 54.38 | 090
33681 |  | A | Repair heart septum defect | 32.10 | NA | NA | 13.46 | 14.41 | 4.44 | NA | NA | 50.00 | 50.95 | 090
33684 |  | A | Repair heart septum defect | 34.27 | NA | NA | 20.80 | 15.45 | 3.38 | NA | NA | 58.45 | 53.10 | 090
33688 |  | A | Repair heart septum defect | 34.65 | NA | NA | 9.78 | 10.32 | 4.72 | NA | NA | 49.15 | 49.69 | 090
33690 |  | A | Reinforce pulmonary artery | 20.16 | NA | NA | 8.74 | 9.83 | 1.96 | NA | NA | 30.86 | 31.95 | 090
33692 |  | A | Repair of heart defects | 31.34 | NA | NA | 9.04 | 12.73 | 4.57 | NA | NA | 44.95 | 48.64 | 090
33694 |  | A | Repair of heart defects | 35.47 | NA | NA | 9.87 | 13.16 | 5.26 | NA | NA | 50.60 | 53.89 | 090
33697 |  | A | Repair of heart defects | 37.47 | NA | NA | 22.18 | 16.73 | 4.08 | NA | NA | 63.73 | 58.28 | 090
33702 |  | A | Repair of heart defects | 27.07 | NA | NA | 11.76 | 12.39 | 3.67 | NA | NA | 42.50 | 43.13 | 090
33710 |  | A | Repair of heart defects | 30.24 | NA | NA | 11.89 | 13.47 | 4.42 | NA | NA | 46.55 | 48.13 | 090
33720 |  | A | Repair of heart defect | 27.09 | NA | NA | 11.35 | 12.08 | 3.83 | NA | NA | 42.27 | 43.00 | 090
33722 |  | A | Repair of heart defect | 29.01 | NA | NA | 8.51 | 12.55 | 1.30 | NA | NA | 38.82 | 42.86 | 090
33730 |  | A | Repair heart-vein defect(s) | 35.97 | NA | NA | 13.47 | 13.99 | 5.01 | NA | NA | 54.45 | 54.97 | 090
33732 |  | A | Repair heart-vein defect | 28.76 | NA | NA | 14.99 | 13.81 | 3.67 | NA | NA | 47.42 | 46.24 | 090
33735 |  | A | Revision of heart chamber | 22.00 | NA | NA | 9.66 | 9.15 | 1.91 | NA | NA | 33.57 | 33.06 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
33736 |  | A | Revision of heart chamber | 24.12 | NA | NA | 10.93 | 11.64 | 3.08 | NA | NA | 38.13 | 38.84 | 090
33737 |  | A | Revision of heart chamber | 22.30 | NA | NA | 7.44 | 10.08 | 3.24 | NA | NA | 32.98 | 35.62 | 090
33750 |  | A | Major vessel shunt | 22.02 | NA | NA | 11.54 | 10.57 | 1.16 | NA | NA | 34.72 | 33.75 | 090
33755 |  | A | Major vessel shunt | 22.40 | NA | NA | 7.69 | 8.55 | 3.25 | NA | NA | 33.34 | 34.20 | 090
33762 |  | A | Major vessel shunt | 22.40 | NA | NA | 7.03 | 9.39 | 3.13 | NA | NA | 32.56 | 34.92 | 090
33764 |  | A | Major vessel shunt & graft | 22.40 | NA | NA | 9.26 | 10.00 | 3.00 | NA | NA | 34.66 | 35.40 | 090
33766 |  | A | Major vessel shunt | 23.37 | NA | NA | 8.48 | 10.90 | 3.69 | NA | NA | 35.54 | 37.96 | 090
33767 |  | A | Major vessel shunt | 25.10 | NA | NA | 9.53 | 11.20 | 3.81 | NA | NA | 38.44 | 40.11 | 090
33768 |  | A | Cavopulmonary shunting | 8.00 | NA | NA | 2.21 | 2.56 | 1.19 | NA | NA | 11.40 | 11.75 | ZZZ
33770 |  | A | Repair great vessels defect | 39.00 | NA | NA | 11.10 | 13.82 | 5.72 | NA | NA | 55.82 | 58.54 | 090
33771 |  | A | Repair great vessels defect | 40.56 | NA | NA | 11.05 | 12.08 | 5.66 | NA | NA | 57.27 | 58.30 | 090
33774 |  | A | Repair great vessels defect | 31.48 | NA | NA | 12.58 | 14.17 | 4.80 | NA | NA | 48.86 | 50.45 | 090
33775 |  | A | Repair great vessels defect | 32.79 | NA | NA | 9.94 | 13.76 | 4.98 | NA | NA | 47.71 | 51.53 | 090
33776 |  | A | Repair great vessels defect | 34.45 | NA | NA | 13.53 | 15.27 | 5.07 | NA | NA | 53.05 | 54.79 | 090
33777 |  | A | Repair great vessels defect | 33.87 | NA | NA | 9.74 | 14.18 | 5.47 | NA | NA | 49.08 | 53.52 | 090
33778 |  | A | Repair great vessels defect | 42.58 | NA | NA | 15.44 | 16.57 | 6.18 | NA | NA | 64.20 | 65.33 | 090
33779 |  | A | Repair great vessels defect | 43.13 | NA | NA | 11.88 | 14.53 | 2.91 | NA | NA | 57.92 | 60.57 | 090
33780 |  | A | Repair great vessels defect | 43.83 | NA | NA | 12.19 | 17.40 | 3.67 | NA | NA | 59.69 | 64.90 | 090
33781 |  | A | Repair great vessels defect | 43.14 | NA | NA | 15.46 | 13.89 | 5.95 | NA | NA | 64.55 | 62.98 | 090
33786 |  | A | Repair arterial trunk | 41.70 | NA | NA | 11.19 | 15.37 | 5.69 | NA | NA | 58.58 | 62.76 | 090
33788 |  | A | Revision of pulmonary artery | 27.22 | NA | NA | 9.71 | 11.41 | 4.02 | NA | NA | 40.95 | 42.65 | 090
33800 |  | A | Aortic suspension | 17.20 | NA | NA | 7.45 | 7.96 | 2.45 | NA | NA | 27.10 | 27.61 | 090
33802 |  | A | Repair vessel defect | 18.20 | NA | NA | 7.47 | 8.81 | 2.26 | NA | NA | 27.93 | 29.27 | 090
33803 |  | A | Repair vessel defect | 20.14 | NA | NA | 6.30 | 8.92 | 3.19 | NA | NA | 29.63 | 32.25 | 090
33813 |  | A | Repair septal defect | 21.19 | NA | NA | 9.15 | 10.49 | 3.12 | NA | NA | 33.46 | 34.80 | 090
33814 |  | A | Repair septal defect | 26.37 | NA | NA | 10.67 | 12.18 | 3.84 | NA | NA | 40.88 | 42.39 | 090
33820 |  | A | Revise major vessel | 16.59 | NA | NA | 8.53 | 8.42 | 2.34 | NA | NA | 27.46 | 27.35 | 090
33822 |  | A | Revise major vessel | 17.61 | NA | NA | 5.87 | 8.20 | 2.67 | NA | NA | 26.15 | 28.48 | 090
33824 |  | A | Revise major vessel | 20.06 | NA | NA | 8.70 | 9.68 | 2.88 | NA | NA | 31.64 | 32.62 | 090
33840 |  | A | Remove aorta constriction | 21.17 | NA | NA | 9.06 | 10.01 | 2.15 | NA | NA | 32.38 | 33.33 | 090
33845 |  | A | Remove aorta constriction | 22.73 | NA | NA | 9.76 | 10.98 | 3.21 | NA | NA | 35.70 | 36.92 | 090
33851 |  | A | Remove aorta constriction | 21.81 | NA | NA | 9.30 | 10.36 | 3.17 | NA | NA | 34.28 | 35.34 | 090
33852 |  | A | Repair septal defect | 24.24 | NA | NA | 10.04 | 11.05 | 2.15 | NA | NA | 36.43 | 37.44 | 090
33853 |  | A | Repair septal defect | 32.31 | NA | NA | 13.28 | 14.47 | 4.47 | NA | NA | 50.06 | 51.25 | 090
33860 |  | A | Ascending aortic graft | 43.13 | NA | NA | 16.08 | 16.40 | 5.74 | NA | NA | 64.95 | 65.27 | 090
33861 |  | A | Ascending aortic graft | 43.88 | NA | NA | 16.31 | 17.40 | 6.35 | NA | NA | 66.54 | 67.63 | 090
33863 |  | A | Ascending aortic graft | 48.52 | NA | NA | 17.87 | 18.52 | 6.57 | NA | NA | 72.96 | 73.61 | 090
33870 |  | A | Transverse aortic arch graft | 45.87 | NA | NA | 16.88 | 18.04 | 6.60 | NA | NA | 69.35 | 70.51 | 090
33875 |  | A | Thoracic aortic graft | 35.64 | NA | NA | 13.37 | 13.94 | 4.88 | NA | NA | 53.89 | 54.46 | 090
33877 |  | A | Thoracoabdominal graft | 57.75 | NA | NA | 18.74 | 16.96 | 5.92 | NA | NA | 82.41 | 80.63 | 090
33880 |  | A | Endovasc taa repr incl subcl | 34.44 | NA | NA | 11.00 | 12.88 | 2.74 | NA | NA | 48.18 | 50.06 | 090
33881 |  | A | Endovasc taa repr w/o subcl | 29.44 | NA | NA | 9.71 | 11.42 | 2.32 | NA | NA | 41.47 | 43.18 | 090
33883 |  | A | Insert endovasc prosth, taa | 20.95 | NA | NA | 7.31 | 8.74 | 2.10 | NA | NA | 30.36 | 31.79 | 090
33884 |  | A | Endovasc prosth, taa, add-on | 8.20 | NA | NA | 2.09 | 2.46 | 0.86 | NA | NA | 11.15 | 11.52 | ZZZ
33886 |  | A | Endovasc prosth, delayed | 17.95 | NA | NA | 6.51 | 7.82 | 1.79 | NA | NA | 26.25 | 27.56 | 090
33889 |  | A | Artery transpose/endovas taa | 15.92 | NA | NA | 4.32 | 4.97 | 2.17 | NA | NA | 22.41 | 23.06 | 000
33891 |  | A | Car-car bp grft/endovas taa | 20.00 | NA | NA | 6.73 | 6.92 | 2.72 | NA | NA | 29.45 | 29.64 | 000
33910 |  | A | Remove lung artery emboli | 29.56 | NA | NA | 11.45 | 11.46 | 3.69 | NA | NA | 44.70 | 44.71 | 090
33915 |  | A | Remove lung artery emboli | 24.80 | NA | NA | 10.57 | 9.89 | 1.44 | NA | NA | 36.81 | 36.13 | 090
33916 |  | A | Surgery of great vessel | 28.26 | NA | NA | 10.99 | 11.28 | 3.66 | NA | NA | 42.91 | 43.20 | 090
33917 |  | A | Repair pulmonary artery | 25.10 | NA | NA | 10.43 | 11.77 | 3.69 | NA | NA | 39.22 | 40.56 | 090
33920 |  | A | Repair pulmonary atresia | 32.54 | NA | NA | 11.37 | 13.24 | 4.37 | NA | NA | 48.28 | 50.15 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
33922 |  | A | Transect pulmonary artery | 24.05 | NA | NA | 11.61 | 11.10 | 3.09 | NA | NA | 38.75 | 38.24 | 090
33924 |  | A | Remove pulmonary shunt | 5.49 | NA | NA | 2.16 | 1.93 | 0.82 | NA | NA | 8.47 | 8.24 | ZZZ
33925 |  | A | Rpr pul art unifocal w/o cpb | 31.23 | NA | NA | 10.03 | 13.53 | 4.60 | NA | NA | 45.86 | 49.36 | 090
33926 |  | A | Repr pul art, unifocal w/cpb | 44.66 | NA | NA | 14.31 | 16.88 | 6.20 | NA | NA | 65.17 | 67.74 | 090
33935 |  | R | Transplantation, heart/lung | 61.56 | NA | NA | 28.07 | 28.66 | 9.03 | NA | NA | 98.66 | 99.25 | 090
33945 |  | R | Transplantation of heart | 50.14 | NA | NA | 19.19 | 20.89 | 6.24 | NA | NA | 75.57 | 77.27 | 090
33960 |  | A | External circulation assist | 19.33 | NA | NA | 5.63 | 5.10 | 2.66 | NA | NA | 27.62 | 27.09 | 000
33961 |  | A | External circulation assist | 10.91 | NA | NA | 2.85 | 3.43 | 0.88 | NA | NA | 14.64 | 15.22 | ZZZ
33967 |  | A | Insert ia percut device | 4.84 | NA | NA | 2.50 | 2.01 | 0.35 | NA | NA | 7.69 | 7.20 | 000
33968 |  | A | Remove aortic assist device | 0.64 | NA | NA | 0.27 | 0.24 | 0.07 | NA | NA | 0.98 | 0.95 | 000
33970 |  | A | Aortic circulation assist | 6.74 | NA | NA | 2.59 | 2.37 | 0.82 | NA | NA | 10.15 | 9.93 | 000
33971 |  | A | Aortic circulation assist | 11.89 | NA | NA | 6.17 | 6.06 | 1.25 | NA | NA | 19.31 | 19.20 | 090
33973 |  | A | Insert balloon device | 9.75 | NA | NA | 3.94 | 3.48 | 1.26 | NA | NA | 14.95 | 14.49 | 000
33974 |  | A | Remove intra-aortic balloon | 14.89 | NA | NA | 7.90 | 7.90 | 1.73 | NA | NA | 24.52 | 24.52 | 090
33975 |  | A | Implant ventricular device | 20.97 | NA | NA | 6.72 | 6.41 | 3.06 | NA | NA | 30.75 | 30.44 | XXX
33976 |  | A | Implant ventricular device | 22.97 | NA | NA | 7.98 | 7.67 | 3.25 | NA | NA | 34.20 | 33.89 | XXX
33977 |  | A | Remove ventricular device | 19.99 | NA | NA | 9.49 | 10.70 | 2.80 | NA | NA | 32.28 | 33.49 | 090
33978 |  | A | Remove ventricular device | 22.43 | NA | NA | 10.66 | 11.50 | 3.30 | NA | NA | 36.39 | 37.23 | 090
33979 |  | A | Insert intracorporeal device | 45.93 | NA | NA | 14.55 | 14.86 | 6.95 | NA | NA | 67.43 | 67.74 | XXX
33980 |  | A | Remove intracorporeal device | 64.76 | NA | NA | 25.28 | 25.30 | 8.56 | NA | NA | 98.60 | 98.62 | 090
34001 |  | A | Removal of artery clot | 17.74 | NA | NA | 7.02 | 6.80 | 1.84 | NA | NA | 26.60 | 26.38 | 090
34051 |  | A | Removal of artery clot | 16.85 | NA | NA | 7.07 | 7.62 | 2.20 | NA | NA | 26.12 | 26.67 | 090
34101 |  | A | Removal of artery clot | 10.81 | NA | NA | 4.59 | 5.18 | 1.41 | NA | NA | 16.81 | 17.40 | 090
34111 |  | A | Removal of arm artery clot | 10.81 | NA | NA | 4.66 | 5.19 | 1.40 | NA | NA | 16.87 | 17.40 | 090
34151 |  | A | Removal of artery clot | 26.35 | NA | NA | 9.02 | 10.08 | 3.55 | NA | NA | 38.92 | 39.98 | 090
34201 |  | A | Removal of artery clot | 18.40 | NA | NA | 6.72 | 5.75 | 1.45 | NA | NA | 26.57 | 25.60 | 090
34203 |  | A | Removal of leg artery clot | 17.67 | NA | NA | 6.85 | 7.77 | 2.35 | NA | NA | 26.87 | 27.79 | 090
34401 |  | A | Removal of vein clot | 26.35 | NA | NA | 9.79 | 10.47 | 3.09 | NA | NA | 39.23 | 39.91 | 090
34421 |  | A | Removal of vein clot | 13.25 | NA | NA | 5.62 | 6.14 | 1.55 | NA | NA | 20.42 | 20.94 | 090
34451 |  | A | Removal of vein clot | 28.35 | NA | NA | 10.09 | 11.13 | 3.83 | NA | NA | 42.27 | 43.31 | 090
34471 |  | A | Removal of vein clot | 20.94 | NA | NA | 7.58 | 5.89 | 1.18 | NA | NA | 29.70 | 28.01 | 090
34490 |  | A | Removal of vein clot | 10.79 | NA | NA | 4.63 | 5.24 | 1.41 | NA | NA | 16.83 | 17.44 | 090
34501 |  | A | Repair valve, femoral vein | 16.68 | NA | NA | 7.16 | 8.17 | 2.34 | NA | NA | 26.18 | 27.19 | 090
34502 |  | A | Reconstruct vena cava | 27.80 | NA | NA | 11.03 | 12.01 | 3.62 | NA | NA | 42.45 | 43.43 | 090
34510 |  | A | Transposition of vein valve | 19.74 | NA | NA | 7.19 | 8.88 | 2.32 | NA | NA | 29.25 | 30.94 | 090
34520 |  | A | Cross-over vein graft | 18.99 | NA | NA | 9.51 | 8.73 | 2.28 | NA | NA | 30.78 | 30.00 | 090
34530 |  | A | Leg vein fusion | 17.69 | NA | NA | 8.10 | 8.50 | 1.73 | NA | NA | 27.52 | 27.92 | 090
34800 |  | A | Endovas aaa repr w/sm tube | 21.42 | NA | NA | 7.73 | 8.83 | 2.45 | NA | NA | 31.60 | 32.70 | 090
34802 |  | A | Endovas aaa repr w/2-p part | 23.67 | NA | NA | 8.64 | 9.52 | 2.32 | NA | NA | 34.63 | 35.51 | 090
34803 |  | A | Endovas aaa repr w/3-p part | 24.70 | NA | NA | 8.62 | 9.84 | 2.00 | NA | NA | 35.32 | 36.54 | 090
34804 |  | A | Endovas aaa repr w/1-p part | 23.67 | NA | NA | 8.47 | 9.49 | 2.29 | NA | NA | 34.43 | 35.45 | 090
34805 |  | A | Endovas aaa repr w/long tube | 22.55 | NA | NA | 7.66 | 9.17 | 2.00 | NA | NA | 32.21 | 33.72 | 090
34808 |  | A | Endovas iliac a device addon | 4.12 | NA | NA | 1.16 | 1.32 | 0.59 | NA | NA | 5.87 | 6.03 | ZZZ
34812 |  | A | Xpose for endoprosth, femorl | 6.74 | NA | NA | 1.79 | 2.13 | 1.18 | NA | NA | 9.71 | 10.05 | 000
34813 |  | A | Femoral endovas graft add-on | 4.79 | NA | NA | 1.25 | 1.49 | 0.67 | NA | NA | 6.71 | 6.95 | ZZZ
34820 |  | A | Xpose for endoprosth, iliac | 9.74 | NA | NA | 2.56 | 3.07 | 1.50 | NA | NA | 13.80 | 14.31 | 000
34825 |  | A | Endovasc extend prosth, init | 12.68 | NA | NA | 5.43 | 5.98 | 1.28 | NA | NA | 19.39 | 19.94 | 090
34826 |  | A | Endovasc exten prosth, addIl | 4.12 | NA | NA | 1.21 | 1.33 | 0.44 | NA | NA | 5.77 | 5.89 | ZZZ
34830 |  | A | Open aortic tube prosth repr | 35.04 | NA | NA | 11.14 | 13.08 | 4.54 | NA | NA | 50.72 | 52.66 | 090
34831 |  | A | Open aortoiliac prosth repr | 37.79 | NA | NA | 12.55 | 11.96 | 4.88 | NA | NA | 55.22 | 54.63 | 090
34832 |  | A | Open aortofemor prosth repr | 37.79 | NA | NA | 12.04 | 14.01 | 4.84 | NA | NA | 54.67 | 56.64 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
34833 |  | A | Xpose for endoprosth, iliac | 11.98 | NA | NA | 3.47 | 4.20 | 1.69 | NA | NA | 17.14 | 17.87 | 000
34834 |  | A | Xpose, endoprosth, brachial | 5.34 | NA | NA | 1.70 | 2.08 | 0.76 | NA | NA | 7.80 | 8.18 | 000
34900 |  | A | Endovasc iliac repr w/graft | 16.73 | NA | NA | 6.61 | 7.35 | 1.99 | NA | NA | 25.33 | 26.07 | 090
35001 |  | A | Repair defect of artery | 20.63 | NA | NA | 7.84 | 9.15 | 2.80 | NA | NA | 31.27 | 32.58 | 090
35002 |  | A | Repair artery rupture, neck | 22.05 | NA | NA | 8.09 | 9.31 | 2.99 | NA | NA | 33.13 | 34.35 | 090
35005 |  | A | Repair defect of artery | 19.11 | NA | NA | 8.75 | 8.84 | 1.76 | NA | NA | 29.62 | 29.71 | 090
35011 |  | A | Repair defect of artery | 18.46 | NA | NA | 6.61 | 7.65 | 2.54 | NA | NA | 27.61 | 28.65 | 090
35013 |  | A | Repair artery rupture, arm | 23.04 | NA | NA | 8.23 | 9.33 | 3.09 | NA | NA | 34.36 | 35.46 | 090
35021 |  | A | Repair defect of artery | 22.03 | NA | NA | 8.89 | 9.30 | 2.86 | NA | NA | 33.78 | 34.19 | 090
35022 |  | A | Repair artery rupture, chest | 25.56 | NA | NA | 9.66 | 9.83 | 3.16 | NA | NA | 38.38 | 38.55 | 090
35045 |  | A | Repair defect of arm artery | 17.91 | NA | NA | 6.59 | 7.29 | 2.44 | NA | NA | 26.94 | 27.64 | 090
35081 |  | A | Repair defect of artery | 33.31 | NA | NA | 10.82 | 11.32 | 4.00 | NA | NA | 48.13 | 48.63 | 090
35082 |  | A | Repair artery rupture, aorta | 41.87 | NA | NA | 13.45 | 14.86 | 5.42 | NA | NA | 60.74 | 62.15 | 090
35091 |  | A | Repair defect of artery | 35.35 | NA | NA | 10.80 | 12.90 | 5.12 | NA | NA | 51.27 | 53.37 | 090
35092 |  | A | Repair artery rupture, aorta | 50.75 | NA | NA | 15.57 | 17.15 | 6.38 | NA | NA | 72.70 | 74.28 | 090
35102 |  | A | Repair defect of artery | 36.31 | NA | NA | 11.47 | 12.16 | 4.47 | NA | NA | 52.25 | 52.94 | 090
35103 |  | A | Repair artery rupture, groin | 43.43 | NA | NA | 13.58 | 15.31 | 5.74 | NA | NA | 62.75 | 64.48 | 090
35111 |  | A | Repair defect of artery | 26.11 | NA | NA | 8.80 | 10.07 | 3.46 | NA | NA | 38.37 | 39.64 | 090
35112 |  | A | Repair artery rupture,spleen | 32.38 | NA | NA | 10.60 | 11.64 | 4.07 | NA | NA | 47.05 | 48.09 | 090
35121 |  | A | Repair defect of artery | 31.35 | NA | NA | 10.75 | 11.99 | 4.29 | NA | NA | 46.39 | 47.63 | 090
35122 |  | A | Repair artery rupture, belly | 37.70 | NA | NA | 12.21 | 13.43 | 4.74 | NA | NA | 54.65 | 55.87 | 090
35131 |  | A | Repair defect of artery | 26.23 | NA | NA | 9.13 | 10.36 | 3.79 | NA | NA | 39.15 | 40.38 | 090
35132 |  | A | Repair artery rupture, groin | 32.38 | NA | NA | 10.56 | 11.95 | 4.29 | NA | NA | 47.23 | 48.62 | 090
35141 |  | A | Repair defect of artery | 20.79 | NA | NA | 7.41 | 8.56 | 2.89 | NA | NA | 31.09 | 32.24 | 090
35142 |  | A | Repair artery rupture, thigh | 24.97 | NA | NA | 8.77 | 9.99 | 3.35 | NA | NA | 37.09 | 38.31 | 090
35151 |  | A | Repair defect of artery | 23.55 | NA | NA | 8.27 | 9.58 | 3.23 | NA | NA | 35.05 | 36.36 | 090
35152 |  | A | Repair artery rupture, knee | 27.47 | NA | NA | 9.47 | 10.92 | 3.60 | NA | NA | 40.54 | 41.99 | 090
35180 |  | A | Repair blood vessel lesion | 14.95 | NA | NA | 6.66 | 6.89 | 1.00 | NA | NA | 22.61 | 22.84 | 090
35182 |  | A | Repair blood vessel lesion | 31.52 | NA | NA | 11.86 | 12.59 | 4.35 | NA | NA | 47.73 | 48.46 | 090
35184 |  | A | Repair blood vessel lesion | 18.67 | NA | NA | 7.18 | 8.03 | 2.52 | NA | NA | 28.37 | 29.22 | 090
35188 |  | A | Repair blood vessel lesion | 14.98 | NA | NA | 6.43 | 7.35 | 2.15 | NA | NA | 23.56 | 24.48 | 090
35189 |  | A | Repair blood vessel lesion | 29.79 | NA | NA | 10.22 | 11.54 | 4.00 | NA | NA | 44.01 | 45.33 | 090
35190 |  | A | Repair blood vessel lesion | 13.27 | NA | NA | 5.54 | 6.25 | 1.79 | NA | NA | 20.60 | 21.31 | 090
35201 |  | A | Repair blood vessel lesion | 16.78 | NA | NA | 6.59 | 7.66 | 2.33 | NA | NA | 25.70 | 26.77 | 090
35206 |  | A | Repair blood vessel lesion | 13.72 | NA | NA | 5.49 | 6.30 | 1.86 | NA | NA | 21.07 | 21.88 | 090
35207 |  | A | Repair blood vessel lesion | 10.79 | NA | NA | 6.44 | 7.14 | 1.48 | NA | NA | 18.71 | 19.41 | 090
35211 |  | A | Repair blood vessel lesion | 24.44 | NA | NA | 10.23 | 10.54 | 3.19 | NA | NA | 37.86 | 38.17 | 090
35216 |  | A | Repair blood vessel lesion | 36.43 | NA | NA | 13.50 | 10.13 | 2.64 | NA | NA | 52.57 | 49.20 | 090
35221 |  | A | Repair blood vessel lesion | 26.50 | NA | NA | 8.67 | 9.64 | 3.36 | NA | NA | 38.53 | 39.50 | 090
35226 |  | A | Repair blood vessel lesion | 15.18 | NA | NA | 6.07 | 7.11 | 2.01 | NA | NA | 23.26 | 24.30 | 090
35231 |  | A | Repair blood vessel lesion | 21.04 | NA | NA | 7.87 | 9.31 | 2.88 | NA | NA | 31.79 | 33.23 | 090
35236 |  | A | Repair blood vessel lesion | 17.90 | NA | NA | 6.64 | 7.59 | 2.42 | NA | NA | 26.96 | 27.91 | 090
35241 |  | A | Repair blood vessel lesion | 25.44 | NA | NA | 10.08 | 10.88 | 3.52 | NA | NA | 39.04 | 39.84 | 090
35246 |  | A | Repair blood vessel lesion | 28.11 | NA | NA | 12.33 | 11.67 | 3.85 | NA | NA | 44.29 | 43.63 | 090
35251 |  | A | Repair blood vessel lesion | 31.79 | NA | NA | 9.95 | 11.35 | 4.12 | NA | NA | 45.86 | 47.26 | 090
35256 |  | A | Repair blood vessel lesion | 18.94 | NA | NA | 6.83 | 7.99 | 2.62 | NA | NA | 28.39 | 29.55 | 090
35261 |  | A | Repair blood vessel lesion | 18.84 | NA | NA | 7.43 | 7.88 | 2.60 | NA | NA | 28.87 | 29.32 | 090
35266 |  | A | Repair blood vessel lesion | 15.71 | NA | NA | 5.87 | 6.73 | 2.09 | NA | NA | 23.67 | 24.53 | 090
35271 |  | A | Repair blood vessel lesion | 24.44 | NA | NA | 9.78 | 10.35 | 3.15 | NA | NA | 37.37 | 37.94 | 090
35276 |  | A | Repair blood vessel lesion | 25.66 | NA | NA | 9.72 | 10.85 | 3.48 | NA | NA | 38.86 | 39.99 | 090
35281 |  | A | Repair blood vessel lesion | 29.87 | NA | NA | 10.04 | 11.31 | 3.96 | NA | NA | 43.87 | 45.14 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
35286 |  | A | Repair blood vessel lesion | 17.00 | NA | NA | 6.66 | 7.72 | 2.34 | NA | NA | 26.00 | 27.06 | 090
35301 |  | A | Rechanneling of artery | 19.49 | NA | NA | 7.03 | 8.10 | 2.67 | NA | NA | 29.19 | 30.26 | 090
35311 |  | A | Rechanneling of artery | 28.48 | NA | NA | 9.84 | 11.29 | 3.41 | NA | NA | 41.73 | 43.18 | 090
35321 |  | A | Rechanneling of artery | 16.47 | NA | NA | 6.14 | 7.09 | 2.24 | NA | NA | 24.85 | 25.80 | 090
35331 |  | A | Rechanneling of artery | 27.55 | NA | NA | 9.29 | 10.77 | 3.82 | NA | NA | 40.66 | 42.14 | 090
35341 |  | A | Rechanneling of artery | 26.03 | NA | NA | 8.88 | 10.39 | 3.77 | NA | NA | 38.68 | 40.19 | 090
35351 |  | A | Rechanneling of artery | 24.49 | NA | NA | 8.14 | 9.25 | 3.34 | NA | NA | 35.97 | 37.08 | 090
35355 |  | A | Rechanneling of artery | 19.74 | NA | NA | 6.78 | 7.77 | 2.66 | NA | NA | 29.18 | 30.17 | 090
35361 |  | A | Rechanneling of artery | 30.05 | NA | NA | 10.02 | 11.30 | 4.14 | NA | NA | 44.21 | 45.49 | 090
35363 |  | A | Rechanneling of artery | 32.16 | NA | NA | 10.84 | 12.18 | 4.32 | NA | NA | 47.32 | 48.66 | 090
35371 |  | A | Rechanneling of artery | 15.19 | NA | NA | 5.75 | 6.67 | 2.13 | NA | NA | 23.07 | 23.99 | 090
35372 |  | A | Rechanneling of artery | 18.46 | NA | NA | 6.61 | 7.70 | 2.62 | NA | NA | 27.69 | 28.78 | 090
35381 |  | A | Rechanneling of artery | 16.63 | NA | NA | 6.57 | 7.52 | 2.25 | NA | NA | 25.45 | 26.40 | 090
35390 |  | A | Reoperation, carotid add-on | 3.19 | NA | NA | 0.88 | 1.02 | 0.46 | NA | NA | 4.53 | 4.67 | ZZZ
35400 |  | A | Angioscopy | 3.00 | NA | NA | 0.78 | 1.03 | 0.43 | NA | NA | 4.21 | 4.46 | ZZZ
35450 |  | A | Repair arterial blockage | 10.05 | NA | NA | 3.33 | 3.51 | 1.25 | NA | NA | 14.63 | 14.81 | 000
35452 |  | A | Repair arterial blockage | 6.90 | NA | NA | 2.18 | 2.50 | 0.94 | NA | NA | 10.02 | 10.34 | 000
35454 |  | A | Repair arterial blockage | 6.03 | NA | NA | 1.88 | 2.21 | 0.87 | NA | NA | 8.78 | 9.11 | 000
35456 |  | A | Repair arterial blockage | 7.34 | NA | NA | 2.36 | 2.67 | 1.04 | NA | NA | 10.74 | 11.05 | 000
35458 |  | A | Repair arterial blockage | 9.48 | NA | NA | 2.97 | 3.35 | 1.26 | NA | NA | 13.71 | 14.09 | 000
35459 |  | A | Repair arterial blockage | 8.62 | NA | NA | 2.59 | 3.03 | 1.21 | NA | NA | 12.42 | 12.86 | 000
35460 |  | A | Repair venous blockage | 6.03 | NA | NA | 1.81 | 2.16 | 0.83 | NA | NA | 8.67 | 9.02 | 000
35470 |  | A | Repair arterial blockage | 8.62 | 63.65 | 82.75 | 3.64 | 3.43 | 0.69 | 72.96 | 92.06 | 12.95 | 12.74 | 000
35471 |  | A | Repair arterial blockage | 10.05 | 68.40 | 92.51 | 4.87 | 4.19 | 0.67 | 79.12 | 103.2 | 15.59 | 14.91 | 000
35472 |  | A | Repair arterial blockage | 6.90 | 49.41 | 60.76 | 2.91 | 2.79 | 0.58 | 56.89 | 68.24 | 10.39 | 10.27 | 000
35473 |  | A | Repair arterial blockage | 6.03 | 48.33 | 57.09 | 2.62 | 2.48 | 0.51 | 54.87 | 63.63 | 9.16 | 9.02 | 000
35474 |  | A | Repair arterial blockage | 7.35 | 62.75 | 81.67 | 3.14 | 2.96 | 0.57 | 70.67 | 89.59 | 11.06 | 10.88 | 000
35475 |  | R | Repair arterial blockage | 9.48 | 50.48 | 54.82 | 3.56 | 3.57 | 0.62 | 60.58 | 64.92 | 13.66 | 13.67 | 000
35476 |  | A | Repair venous blockage | 6.03 | 38.73 | 43.33 | 2.28 | 2.34 | 0.34 | 45.10 | 49.70 | 8.65 | 8.71 | 000
35480 |  | A | Atherectomy, open | 11.06 | NA | NA | 4.03 | 4.05 | 1.28 | NA | NA | 16.37 | 16.39 | 000
35481 |  | A | Atherectomy, open | 7.60 | NA | NA | 2.54 | 2.80 | 1.13 | NA | NA | 11.27 | 11.53 | 000
35482 |  | A | Atherectomy, open | 6.64 | NA | NA | 2.17 | 2.47 | 0.89 | NA | NA | 9.70 | 10.00 | 000
35483 |  | A | Atherectomy, open | 8.09 | NA | NA | 2.84 | 2.98 | 1.15 | NA | NA | 12.08 | 12.22 | 000
35484 |  | A | Atherectomy, open | 10.42 | NA | NA | 3.10 | 3.61 | 1.27 | NA | NA | 14.79 | 15.30 | 000
35485 |  | A | Atherectomy, open | 9.48 | NA | NA | 3.08 | 3.43 | 1.35 | NA | NA | 13.91 | 14.26 | 000
35490 |  | A | Atherectomy, percutaneous | 11.06 | NA | NA | 6.42 | 5.14 | 0.71 | NA | NA | 18.19 | 16.91 | 000
35491 |  | A | Atherectomy, percutaneous | 7.60 | NA | NA | 3.98 | 3.47 | 0.74 | NA | NA | 12.32 | 11.81 | 000
35492 |  | A | Atherectomy, percutaneous | 6.64 | NA | NA | 3.73 | 3.33 | 0.43 | NA | NA | 10.80 | 10.40 | 000
35493 |  | A | Atherectomy, percutaneous | 8.09 | NA | NA | 4.29 | 3.93 | 0.56 | NA | NA | 12.94 | 12.58 | 000
35494 |  | A | Atherectomy, percutaneous | 10.42 | NA | NA | 5.43 | 4.71 | 0.59 | NA | NA | 16.44 | 15.72 | 000
35495 |  | A | Atherectomy, percutaneous | 9.48 | NA | NA | 4.79 | 4.50 | 0.69 | NA | NA | 14.96 | 14.67 | 000
35500 |  | A | Harvest vein for bypass | 6.44 | NA | NA | 1.74 | 1.96 | 0.93 | NA | NA | 9.11 | 9.33 | ZZZ
35501 |  | A | Artery bypass graft | 19.70 | NA | NA | 7.54 | 8.25 | 2.80 | NA | NA | 30.04 | 30.75 | 090
35506 |  | A | Artery bypass graft | 25.19 | NA | NA | 9.06 | 9.38 | 2.86 | NA | NA | 37.11 | 37.43 | 090
35507 |  | A | Artery bypass graft | 20.60 | NA | NA | 7.83 | 9.05 | 2.84 | NA | NA | 31.27 | 32.49 | 090
35508 |  | A | Artery bypass graft | 25.95 | NA | NA | 9.84 | 9.56 | 2.77 | NA | NA | 38.56 | 38.28 | 090
35509 |  | A | Artery bypass graft | 18.94 | NA | NA | 7.06 | 8.36 | 2.61 | NA | NA | 28.61 | 29.91 | 090
35510 |  | A | Artery bypass graft | 24.25 | NA | NA | 7.98 | 9.65 | 2.11 | NA | NA | 34.34 | 36.01 | 090
35511 |  | A | Artery bypass graft | 22.08 | NA | NA | 7.57 | 8.93 | 2.90 | NA | NA | 32.55 | 33.91 | 090
35512 |  | A | Artery bypass graft | 23.75 | NA | NA | 7.83 | 9.48 | 2.11 | NA | NA | 33.69 | 35.34 | 090
35515 |  | A | Artery bypass graft | 25.95 | NA | NA | 9.26 | 9.30 | 2.77 | NA | NA | 37.98 | 38.02 | 090
35516 |  | A | Artery bypass graft | 24.07 | NA | NA | 8.46 | 7.23 | 2.33 | NA | NA | 34.86 | 33.63 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
35518 |  | A | Artery bypass graft | 22.53 | NA | NA | 7.70 | 8.68 | 3.02 | NA | NA | 33.25 | 34.23 | 090
35521 |  | A | Artery bypass graft | 23.94 | NA | NA | 8.36 | 9.49 | 3.12 | NA | NA | 35.42 | 36.55 | 090
35522 |  | A | Artery bypass graft | 23.01 | NA | NA | 7.69 | 9.26 | 2.11 | NA | NA | 32.81 | 34.38 | 090
35525 |  | A | Artery bypass graft | 21.55 | NA | NA | 7.36 | 8.89 | 2.11 | NA | NA | 31.02 | 32.55 | 090
35526 |  | A | Artery bypass graft | 31.43 | NA | NA | 18.64 | 14.07 | 3.62 | NA | NA | 53.69 | 49.12 | 090
35531 |  | A | Artery bypass graft | 38.92 | NA | NA | 12.26 | 13.95 | 5.16 | NA | NA | 56.34 | 58.03 | 090
35533 |  | A | Artery bypass graft | 29.73 | NA | NA | 10.16 | 11.35 | 3.84 | NA | NA | 43.73 | 44.92 | 090
35536 |  | A | Artery bypass graft | 33.54 | NA | NA | 11.17 | 12.53 | 4.61 | NA | NA | 49.32 | 50.68 | 090
35541 |  | A | Artery bypass graft | 26.90 | NA | NA | 9.38 | 10.77 | 3.70 | NA | NA | 39.98 | 41.37 | 090
35546 |  | A | Artery bypass graft | 26.40 | NA | NA | 9.20 | 10.47 | 3.69 | NA | NA | 39.29 | 40.56 | 090
35548 |  | A | Artery bypass graft | 22.50 | NA | NA | 8.14 | 9.12 | 2.97 | NA | NA | 33.61 | 34.59 | 090
35549 |  | A | Artery bypass graft | 24.27 | NA | NA | 9.28 | 10.12 | 3.29 | NA | NA | 36.84 | 37.68 | 090
35551 |  | A | Artery bypass graft | 27.65 | NA | NA | 10.01 | 11.14 | 3.74 | NA | NA | 41.40 | 42.53 | 090
35556 |  | A | Artery bypass graft | 26.56 | NA | NA | 9.13 | 9.60 | 3.09 | NA | NA | 38.78 | 39.25 | 090
35558 |  | A | Artery bypass graft | 22.94 | NA | NA | 8.33 | 9.26 | 2.99 | NA | NA | 34.26 | 35.19 | 090
35560 |  | A | Artery bypass graft | 33.84 | NA | NA | 11.10 | 12.79 | 4.74 | NA | NA | 49.68 | 51.37 | 090
35563 |  | A | Artery bypass graft | 25.93 | NA | NA | 8.83 | 10.12 | 3.51 | NA | NA | 38.27 | 39.56 | 090
35565 |  | A | Artery bypass graft | 24.94 | NA | NA | 8.72 | 9.80 | 3.29 | NA | NA | 36.95 | 38.03 | 090
35566 |  | A | Artery bypass graft | 32.16 | NA | NA | 10.55 | 11.20 | 3.82 | NA | NA | 46.53 | 47.18 | 090
35571 |  | A | Artery bypass graft | 25.33 | NA | NA | 9.02 | 10.41 | 3.42 | NA | NA | 37.77 | 39.16 | 090
35572 |  | A | Harvest femoropopliteal vein | 6.81 | NA | NA | 1.90 | 2.16 | 0.99 | NA | NA | 9.70 | 9.96 | ZZZ
35583 |  | A | Vein bypass graft | 27.56 | NA | NA | 9.54 | 10.02 | 3.16 | NA | NA | 40.26 | 40.74 | 090
35585 |  | A | Vein bypass graft | 32.16 | NA | NA | 10.81 | 11.89 | 4.01 | NA | NA | 46.98 | 48.06 | 090
35587 |  | A | Vein bypass graft | 26.02 | NA | NA | 9.44 | 10.97 | 3.51 | NA | NA | 38.97 | 40.50 | 090
35600 |  | A | Harvest artery for cabg | 4.94 | NA | NA | 1.56 | 1.61 | 0.73 | NA | NA | 7.23 | 7.28 | ZZZ
35601 |  | A | Artery bypass graft | 18.31 | NA | NA | 6.91 | 8.21 | 2.49 | NA | NA | 27.71 | 29.01 | 090
35606 |  | A | Artery bypass graft | 22.32 | NA | NA | 8.25 | 8.84 | 2.69 | NA | NA | 33.26 | 33.85 | 090
35612 |  | A | Artery bypass graft | 16.64 | NA | NA | 6.63 | 7.58 | 2.08 | NA | NA | 25.35 | 26.30 | 090
35616 |  | A | Artery bypass graft | 21.70 | NA | NA | 7.75 | 8.03 | 2.19 | NA | NA | 31.64 | 31.92 | 090
35621 |  | A | Artery bypass graft | 20.91 | NA | NA | 7.22 | 8.33 | 2.91 | NA | NA | 31.04 | 32.15 | 090
35623 |  | A | Bypass graft, not vein | 25.73 | NA | NA | 8.87 | 10.11 | 3.45 | NA | NA | 38.05 | 39.29 | 090
35626 |  | A | Artery bypass graft | 29.02 | NA | NA | 10.55 | 11.64 | 4.07 | NA | NA | 43.64 | 44.73 | 090
35631 |  | A | Artery bypass graft | 35.84 | NA | NA | 11.44 | 13.26 | 4.95 | NA | NA | 52.23 | 54.05 | 090
35636 |  | A | Artery bypass graft | 31.56 | NA | NA | 10.19 | 11.80 | 4.09 | NA | NA | 45.84 | 47.45 | 090
35641 |  | A | Artery bypass graft | 26.24 | NA | NA | 9.44 | 10.68 | 3.53 | NA | NA | 39.21 | 40.45 | 090
35642 |  | A | Artery bypass graft | 18.79 | NA | NA | 7.91 | 8.51 | 2.27 | NA | NA | 28.97 | 29.57 | 090
35645 |  | A | Artery bypass graft | 18.28 | NA | NA | 7.66 | 8.13 | 2.49 | NA | NA | 28.43 | 28.90 | 090
35646 |  | A | Artery bypass graft | 32.78 | NA | NA | 11.10 | 12.63 | 4.43 | NA | NA | 48.31 | 49.84 | 090
35647 |  | A | Artery bypass graft | 29.56 | NA | NA | 10.01 | 11.35 | 3.98 | NA | NA | 43.55 | 44.89 | 090
35650 |  | A | Artery bypass graft | 20.04 | NA | NA | 7.05 | 8.05 | 2.71 | NA | NA | 29.80 | 30.80 | 090
35651 |  | A | Artery bypass graft | 25.90 | NA | NA | 8.90 | 10.29 | 3.35 | NA | NA | 38.15 | 39.54 | 090
35654 |  | A | Artery bypass graft | 26.11 | NA | NA | 8.83 | 10.22 | 3.52 | NA | NA | 38.46 | 39.85 | 090
35656 |  | A | Artery bypass graft | 20.35 | NA | NA | 7.28 | 8.29 | 2.79 | NA | NA | 30.42 | 31.43 | 090
35661 |  | A | Artery bypass graft | 20.16 | NA | NA | 7.56 | 8.60 | 2.71 | NA | NA | 30.43 | 31.47 | 090
35663 |  | A | Artery bypass graft | 23.74 | NA | NA | 8.36 | 9.59 | 3.10 | NA | NA | 35.20 | 36.43 | 090
35665 |  | A | Artery bypass graft | 22.16 | NA | NA | 7.87 | 9.07 | 3.00 | NA | NA | 33.03 | 34.23 | 090
35666 |  | A | Artery bypass graft | 23.47 | NA | NA | 8.92 | 10.23 | 3.15 | NA | NA | 35.54 | 36.85 | 090
35671 |  | A | Artery bypass graft | 20.58 | NA | NA | 8.05 | 9.06 | 2.77 | NA | NA | 31.40 | 32.41 | 090
35681 |  | A | Composite bypass graft | 1.60 | NA | NA | 0.43 | 0.51 | 0.23 | NA | NA | 2.26 | 2.34 | ZZZ
35682 |  | A | Composite bypass graft | 7.19 | NA | NA | 1.86 | 2.26 | 1.03 | NA | NA | 10.08 | 10.48 | ZZZ
35683 |  | A | Composite bypass graft | 8.49 | NA | NA | 2.21 | 2.68 | 1.20 | NA | NA | 11.90 | 12.37 | ZZZ
35685 |  | A | Bypass graft patency/patch | 4.04 | NA | NA | 1.05 | 1.28 | 0.58 | NA | NA | 5.67 | 5.90 | ZZZ
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
35686 |  | A | Bypass graft/av fist patency | 3.34 | NA | NA | 0.87 | 1.07 | 0.47 | NA | NA | 4.68 | 4.88 | ZZZ
35691 |  | A | Arterial transposition | 18.26 | NA | NA | 6.61 | 7.97 | 2.58 | NA | NA | 27.45 | 28.81 | 090
35693 |  | A | Arterial transposition | 15.58 | NA | NA | 6.45 | 7.42 | 2.21 | NA | NA | 24.24 | 25.21 | 090
35694 |  | A | Arterial transposition | 19.13 | NA | NA | 6.86 | 8.18 | 2.69 | NA | NA | 28.68 | 30.00 | 090
35695 |  | A | Arterial transposition | 19.91 | NA | NA | 6.96 | 8.17 | 2.73 | NA | NA | 29.60 | 30.81 | 090
35697 |  | A | Reimplant artery each | 3.00 | NA | NA | 0.80 | 0.97 | 0.41 | NA | NA | 4.21 | 4.38 | ZZZ
35700 |  | A | Reoperation, bypass graft | 3.08 | NA | NA | 0.82 | 0.97 | 0.44 | NA | NA | 4.34 | 4.49 | ZZZ
35701 |  | A | Exploration, carotid artery | 9.07 | NA | NA | 4.35 | 4.96 | 1.12 | NA | NA | 14.54 | 15.15 | 090
35721 |  | A | Exploration, femoral artery | 7.62 | NA | NA | 3.84 | 4.29 | 1.03 | NA | NA | 12.49 | 12.94 | 090
35741 |  | A | Exploration popliteal artery | 8.57 | NA | NA | 4.09 | 4.53 | 1.12 | NA | NA | 13.78 | 14.22 | 090
35761 |  | A | Exploration of artery/vein | 5.78 | NA | NA | 3.57 | 3.91 | 0.75 | NA | NA | 10.10 | 10.44 | 090
35800 |  | A | Explore neck vessels | 7.94 | NA | NA | 4.06 | 4.51 | 0.95 | NA | NA | 12.95 | 13.40 | 090
35820 |  | A | Explore chest vessels | 30.08 | NA | NA | 11.49 | 8.29 | 1.94 | NA | NA | 43.51 | 40.31 | 090
35840 |  | A | Explore abdominal vessels | 10.81 | NA | NA | 4.91 | 5.20 | 1.34 | NA | NA | 17.06 | 17.35 | 090
35860 |  | A | Explore limb vessels | 6.66 | NA | NA | 3.66 | 3.95 | 0.78 | NA | NA | 11.10 | 11.39 | 090
35870 |  | A | Repair vessel graft defect | 24.31 | NA | NA | 8.48 | 9.46 | 3.00 | NA | NA | 35.79 | 36.77 | 090
35875 |  | A | Removal of clot in graft | 10.60 | NA | NA | 4.55 | 5.04 | 1.41 | NA | NA | 16.56 | 17.05 | 090
35876 |  | A | Removal of clot in graft | 17.70 | NA | NA | 6.37 | 7.24 | 2.39 | NA | NA | 26.46 | 27.33 | 090
35879 |  | A | Revise graft w/vein | 17.24 | NA | NA | 6.34 | 7.37 | 2.27 | NA | NA | 25.85 | 26.88 | 090
35881 |  | A | Revise graft w/vein | 19.16 | NA | NA | 7.00 | 8.27 | 2.55 | NA | NA | 28.71 | 29.98 | 090
35901 |  | A | Excision, graft, neck | 8.18 | NA | NA | 4.41 | 5.09 | 1.15 | NA | NA | 13.74 | 14.42 | 090
35903 |  | A | Excision, graft, extremity | 9.38 | NA | NA | 5.27 | 5.95 | 1.30 | NA | NA | 15.95 | 16.63 | 090
35905 |  | A | Excision, graft, thorax | 33.33 | NA | NA | 11.04 | 12.68 | 4.43 | NA | NA | 48.80 | 50.44 | 090
35907 |  | A | Excision, graft, abdomen | 37.08 | NA | NA | 11.75 | 13.59 | 4.91 | NA | NA | 53.74 | 55.58 | 090
36000 |  | A | Place needle in vein | 0.18 | 0.47 | 0.55 | 0.06 | 0.05 | 0.01 | 0.66 | 0.74 | 0.25 | 0.24 | XXX
36002 |  | A | Pseudoaneurysm injection trt | 1.96 | 2.33 | 2.74 | 0.88 | 0.95 | 0.17 | 4.46 | 4.87 | 3.01 | 3.08 | 000
36005 |  | A | Injection ext venography | 0.95 | 8.80 | 7.95 | 0.39 | 0.33 | 0.05 | 9.80 | 8.95 | 1.39 | 1.33 | 000
36010 |  | A | Place catheter in vein | 2.43 | 11.57 | 17.41 | 0.79 | 0.79 | 0.20 | 14.20 | 20.04 | 3.42 | 3.42 | XXX
36011 |  | A | Place catheter in vein | 3.14 | 20.19 | 25.97 | 1.01 | 1.05 | 0.27 | 23.60 | 29.38 | 4.42 | 4.46 | XXX
36012 |  | A | Place catheter in vein | 3.51 | 21.19 | 19.55 | 1.29 | 1.22 | 0.23 | 24.93 | 23.29 | 5.03 | 4.96 | XXX
36013 |  | A | Place catheter in artery | 2.52 | 19.63 | 20.97 | 0.98 | 0.76 | 0.25 | 22.40 | 23.74 | 3.75 | 3.53 | XXX
36014 |  | A | Place catheter in artery | 3.02 | 19.93 | 20.12 | 1.12 | 1.05 | 0.19 | 23.14 | 23.33 | 4.33 | 4.26 | XXX
36015 |  | A | Place catheter in artery | 3.51 | 18.70 | 22.47 | 1.00 | 1.14 | 0.21 | 22.42 | 26.19 | 4.72 | 4.86 | XXX
36100 |  | A | Establish access to artery | 3.02 | 11.49 | 11.96 | 1.24 | 1.14 | 0.26 | 14.77 | 15.24 | 4.52 | 4.42 | XXX
36120 |  | A | Establish access to artery | 2.01 | 9.57 | 10.44 | 0.61 | 0.64 | 0.14 | 11.72 | 12.59 | 2.76 | 2.79 | XXX
36140 |  | A | Establish access to artery | 2.01 | 10.78 | 12.30 | 0.73 | 0.66 | 0.16 | 12.95 | 14.47 | 2.90 | 2.83 | XXX
36145 |  | A | Artery to vein shunt | 2.01 | 10.73 | 12.13 | 0.67 | 0.66 | 0.11 | 12.85 | 14.25 | 2.79 | 2.78 | XXX
36160 |  | A | Establish access to aorta | 2.52 | 12.09 | 13.16 | 0.78 | 0.83 | 0.26 | 14.87 | 15.94 | 3.56 | 3.61 | XXX
36200 |  | A | Place catheter in aorta | 3.02 | 14.20 | 15.97 | 1.06 | 1.02 | 0.24 | 17.46 | 19.23 | 4.32 | 4.28 | XXX
36215 |  | A | Place catheter in artery | 4.67 | 26.82 | 27.04 | 1.93 | 1.69 | 0.27 | 31.76 | 31.98 | 6.87 | 6.63 | XXX
36216 |  | A | Place catheter in artery | 5.27 | 29.00 | 29.12 | 2.12 | 1.88 | 0.31 | 34.58 | 34.70 | 7.70 | 7.46 | XXX
36217 |  | A | Place catheter in artery | 6.29 | 47.85 | 53.66 | 2.46 | 2.25 | 0.44 | 54.58 | 60.39 | 9.19 | 8.98 | XXX
36218 |  | A | Place catheter in artery | 1.01 | 3.91 | 4.80 | 0.39 | 0.35 | 0.07 | 4.99 | 5.88 | 1.47 | 1.43 | ZZZ
36245 |  | A | Place catheter in artery | 4.67 | 29.77 | 31.58 | 2.18 | 1.81 | 0.31 | 34.75 | 36.56 | 7.16 | 6.79 | XXX
36246 |  | A | Place catheter in artery | 5.27 | 28.57 | 29.68 | 2.07 | 1.89 | 0.38 | 34.22 | 35.33 | 7.72 | 7.54 | XXX
36247 |  | A | Place catheter in artery | 6.29 | 47.04 | 49.00 | 2.47 | 2.23 | 0.47 | 53.80 | 55.76 | 9.23 | 8.99 | XXX
36248 |  | A | Place catheter in artery | 1.01 | 3.31 | 3.87 | 0.39 | 0.35 | 0.07 | 4.39 | 4.95 | 1.47 | 1.43 | ZZZ
36260 |  | A | Insertion of infusion pump | 9.76 | NA | NA | 4.92 | 4.90 | 1.29 | NA | NA | 15.97 | 15.95 | 090
36261 |  | A | Revision of infusion pump | 5.50 | NA | NA | 3.36 | 3.59 | 0.70 | NA | NA | 9.56 | 9.79 | 090
36262 |  | A | Removal of infusion pump | 4.01 | NA | NA | 2.74 | 2.76 | 0.54 | NA | NA | 7.29 | 7.31 | 090
36400 |  | A | Bl draw < 3 yrs fem/jugular | 0.38 | 0.34 | 0.30 | 0.11 | 0.10 | 0.03 | 0.75 | 0.71 | 0.52 | 0.51 | XXX
36405 |  | A | Bl draw < 3 yrs scalp vein | 0.31 | 0.28 | 0.27 | 0.08 | 0.08 | 0.03 | 0.62 | 0.61 | 0.42 | 0.42 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
36406 |  | A | Bl draw < 3 yrs other vein | 0.18 | 0.30 | 0.29 | 0.08 | 0.06 | 0.01 | 0.49 | 0.48 | 0.27 | 0.25 | XXX
36410 |  | A | Non-routine bl draw > 3 yrs | 0.18 | 0.32 | 0.30 | 0.05 | 0.05 | 0.01 | 0.51 | 0.49 | 0.24 | 0.24 | XXX
36420 |  | A | Vein access cutdown < 1 yr | 1.01 | 0.20 | 0.31 | 0.20 | 0.25 | 0.07 | 1.28 | 1.39 | 1.28 | 1.33 | XXX
36425 |  | A | Vein access cutdown > 1 yr | 0.76 | NA | NA | 0.22 | 0.22 | 0.06 | NA | NA | 1.04 | 1.04 | XXX
36430 |  | A | Blood transfusion service | 0.00 | 0.94 | 0.99 | NA | NA | 0.06 | 1.00 | 1.05 | NA | NA | XXX
36440 |  | A | Bl push transfuse, 2 yr or < | 1.03 | NA | NA | 0.44 | 0.33 | 0.10 | NA | NA | 1.57 | 1.46 | XXX
36450 |  | A | Bl exchange/transfuse, nb | 2.23 | NA | NA | 0.79 | 0.73 | 0.21 | NA | NA | 3.23 | 3.17 | XXX
36455 |  | A | Bl exchange/transfuse non-nb | 2.43 | NA | NA | 0.74 | 0.94 | 0.15 | NA | NA | 3.32 | 3.52 | XXX
36460 |  | A | Transfusion service, fetal | 6.58 | NA | NA | 1.64 | 2.10 | 0.79 | NA | NA | 9.01 | 9.47 | XXX
36470 |  | A | Injection therapy of vein | 1.09 | 2.48 | 2.64 | 0.66 | 0.71 | 0.12 | 3.69 | 3.85 | 1.87 | 1.92 | 010
36471 |  | A | Injection therapy of veins | 1.57 | 2.62 | 2.97 | 0.81 | 0.92 | 0.19 | 4.38 | 4.73 | 2.57 | 2.68 | 010
36475 |  | A | Endovenous rf, 1st vein | 6.72 | 37.50 | 48.03 | 2.03 | 2.41 | 0.37 | 44.59 | 55.12 | 9.12 | 9.50 | 000
36476 |  | A | Endovenous rf, vein add-on | 3.38 | 6.18 | 7.47 | 0.92 | 1.09 | 0.18 | 9.74 | 11.03 | 4.48 | 4.65 | ZZZ
36478 |  | A | Endovenous laser, 1st vein | 6.72 | 34.37 | 43.78 | 2.14 | 2.44 | 0.37 | 41.46 | 50.87 | 9.23 | 9.53 | 000
36479 |  | A | Endovenous laser vein addon | 3.38 | 6.67 | 7.68 | 1.04 | 1.12 | 0.18 | 10.23 | 11.24 | 4.60 | 4.68 | ZZZ
36481 |  | A | Insertion of catheter, vein | 6.98 | 3.02 | 5.07 | 2.18 | 2.50 | 0.55 | 10.55 | 12.60 | 9.71 | 10.03 | 000
36500 |  | A | Insertion of catheter, vein | 3.51 | NA | NA | 1.33 | 1.36 | 0.20 | NA | NA | 5.04 | 5.07 | 000
36510 |  | A | Insertion of catheter, vein | 1.09 | 1.08 | 3.20 | 0.30 | 0.53 | 0.10 | 2.27 | 4.39 | 1.49 | 1.72 | 000
36511 |  | A | Apheresis wbc | 1.74 | NA | NA | 0.57 | 0.69 | 0.08 | NA | NA | 2.39 | 2.51 | 000
36512 |  | A | Apheresis rbc | 1.74 | NA | NA | 0.60 | 0.71 | 0.08 | NA | NA | 2.42 | 2.53 | 000
36513 |  | A | Apheresis platelets | 1.74 | NA | NA | 0.50 | 0.67 | 0.17 | NA | NA | 2.41 | 2.58 | 000
36514 |  | A | Apheresis plasma | 1.74 | 10.47 | 15.38 | 0.52 | 0.66 | 0.08 | 12.29 | 17.20 | 2.34 | 2.48 | 000
36515 |  | A | Apheresis, adsorp/reinfuse | 1.74 | 45.04 | 61.13 | 0.50 | 0.62 | 0.08 | 46.86 | 62.95 | 2.32 | 2.44 | 000
36516 |  | A | Apheresis, selective | 1.22 | 49.76 | 75.66 | 0.37 | 0.45 | 0.08 | 51.06 | 76.96 | 1.67 | 1.75 | 000
36522 |  | A | Photopheresis | 1.67 | 35.01 | 33.10 | 0.85 | 0.93 | 0.13 | 36.81 | 34.90 | 2.65 | 2.73 | 000
36550 |  | A | Office/outpatient visit, est | 0.17 | 0.33 | 0.38 | 0.06 | 0.31 | 0.01 | 0.51 | 0.56 | 0.24 | 0.49 | XXX
36555 |  | A | Insert non-tunnel cv cath | 2.68 | 4.17 | 5.37 | 0.61 | 0.75 | 0.11 | 6.96 | 8.16 | 3.40 | 3.54 | 000
36556 |  | A | Insert non-tunnel cv cath | 2.50 | 2.92 | 4.96 | 0.57 | 0.70 | 0.19 | 5.61 | 7.65 | 3.26 | 3.39 | 000
36557 |  | A | Insert tunneled cv cath | 5.09 | 15.41 | 19.75 | 2.48 | 2.62 | 0.57 | 21.07 | 25.41 | 8.14 | 8.28 | 010
36558 |  | A | Insert tunneled cv cath | 4.79 | 15.45 | 19.69 | 2.40 | 2.52 | 0.57 | 20.81 | 25.05 | 7.76 | 7.88 | 010
36560 |  | A | Insert tunneled cv cath | 6.24 | 21.33 | 27.65 | 2.55 | 2.92 | 0.57 | 28.14 | 34.46 | 9.36 | 9.73 | 010
36561 |  | A | Insert tunneled cv cath | 5.99 | 22.76 | 27.94 | 2.65 | 2.88 | 0.57 | 29.32 | 34.50 | 9.21 | 9.44 | 010
36563 |  | A | Insert tunneled cv cath | 6.19 | 23.31 | 25.94 | 2.61 | 2.90 | 0.84 | 30.34 | 32.97 | 9.64 | 9.93 | 010
36565 |  | A | Insert tunneled cv cath | 5.99 | 18.05 | 23.09 | 2.55 | 2.86 | 0.57 | 24.61 | 29.65 | 9.11 | 9.42 | 010
36566 |  | A | Insert tunneled cv cath | 6.49 | 115.6 | 48.08 | 2.69 | 3.01 | 0.57 | 122.7 | 55.14 | 9.75 | 10.07 | 010
36568 |  | A | Insert picc cath | 1.92 | 5.86 | 7.13 | 0.58 | 0.58 | 0.11 | 7.89 | 9.16 | 2.61 | 2.61 | 000
36569 |  | A | Insert picc cath | 1.82 | 4.68 | 6.69 | 0.67 | 0.60 | 0.19 | 6.69 | 8.70 | 2.68 | 2.61 | 000
36570 |  | A | Insert picvad cath | 5.31 | 23.71 | 30.88 | 2.42 | 2.65 | 0.57 | 29.59 | 36.76 | 8.30 | 8.53 | 010
36571 |  | A | Insert picvad cath | 5.29 | 25.38 | 31.35 | 2.46 | 2.66 | 0.57 | 31.24 | 37.21 | 8.32 | 8.52 | 010
36575 |  | A | Repair tunneled cv cath | 0.67 | 3.41 | 3.90 | 0.24 | 0.26 | 0.20 | 4.28 | 4.77 | 1.11 | 1.13 | 000
36576 |  | A | Repair tunneled cv cath | 3.19 | 5.98 | 6.72 | 1.57 | 1.78 | 0.19 | 9.36 | 10.10 | 4.95 | 5.16 | 010
36578 |  | A | Replace tunneled cv cath | 3.49 | 9.39 | 10.72 | 2.00 | 2.23 | 0.19 | 13.07 | 14.40 | 5.68 | 5.91 | 010
36580 |  | A | Replace cvad cath | 1.31 | 4.11 | 6.25 | 0.43 | 0.42 | 0.19 | 5.61 | 7.75 | 1.93 | 1.92 | 000
36581 |  | A | Replace tunneled cv cath | 3.43 | 16.22 | 18.72 | 1.77 | 1.89 | 0.19 | 19.84 | 22.34 | 5.39 | 5.51 | 010
36582 |  | A | Replace tunneled cv cath | 5.19 | 21.14 | 24.85 | 2.36 | 2.74 | 0.19 | 26.52 | 30.23 | 7.74 | 8.12 | 010
36583 |  | A | Replace tunneled cv cath | 5.24 | 21.73 | 25.02 | 2.55 | 2.81 | 0.19 | 27.16 | 30.45 | 7.98 | 8.24 | 010
36584 |  | A | Replace picc cath | 1.20 | 4.16 | 6.28 | 0.62 | 0.57 | 0.19 | 5.55 | 7.67 | 2.01 | 1.96 | 000
36585 |  | A | Replace picvad cath | 4.79 | 23.48 | 26.80 | 2.42 | 2.66 | 0.19 | 28.46 | 31.78 | 7.40 | 7.64 | 010
36589 |  | A | Removal tunneled cv cath | 2.27 | 1.92 | 2.17 | 1.26 | 1.36 | 0.24 | 4.43 | 4.68 | 3.77 | 3.87 | 010
36590 |  | A | Removal tunneled cv cath | 3.30 | 3.68 | 3.46 | 1.60 | 1.69 | 0.44 | 7.42 | 7.20 | 5.34 | 5.43 | 010
36595 |  | A | Mech remov tunneled cv cath | 3.59 | 11.33 | 15.81 | 1.43 | 1.45 | 0.21 | 15.13 | 19.61 | 5.23 | 5.25 | 000
36596 |  | A | Mech remov tunneled cv cath | 0.75 | 2.70 | 3.45 | 0.45 | 0.49 | 0.05 | 3.50 | 4.25 | 1.25 | 1.29 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
36597 |  | A | Reposition venous catheter | 1.21 | 2.12 | 2.34 | 0.45 | 0.44 | 0.07 | 3.40 | 3.62 | 1.73 | 1.72 | 000
36598 |  | T | Inj w/fluor, eval cv device | 0.74 | 2.33 | 2.57 | 0.28 | 2.06 | 0.05 | 3.12 | 3.36 | 1.07 | 2.85 | 000
36600 |  | A | Withdrawal of arterial blood | 0.32 | 0.49 | 0.49 | 0.07 | 0.09 | 0.02 | 0.83 | 0.83 | 0.41 | 0.43 | XXX
36620 |  | A | Insertion catheter, artery | 1.15 | NA | NA | 0.17 | 0.22 | 0.07 | NA | NA | 1.39 | 1.44 | 000
36625 |  | A | Insertion catheter, artery | 2.11 | NA | NA | 0.49 | 0.52 | 0.26 | NA | NA | 2.86 | 2.89 | 000
36640 |  | A | Insertion catheter, artery | 2.10 | NA | NA | 0.90 | 1.01 | 0.21 | NA | NA | 3.21 | 3.32 | 000
36660 |  | A | Insertion catheter, artery | 1.40 | NA | NA | 0.19 | 0.38 | 0.14 | NA | NA | 1.73 | 1.92 | 000
36680 |  | A | Insert needle, bone cavity | 1.20 | NA | NA | 0.32 | 0.45 | 0.11 | NA | NA | 1.63 | 1.76 | 000
36800 |  | A | Insertion of cannula | 2.43 | NA | NA | 1.55 | 1.75 | 0.25 | NA | NA | 4.23 | 4.43 | 000
36810 |  | A | Insertion of cannula | 3.96 | NA | NA | 1.37 | 1.60 | 0.45 | NA | NA | 5.78 | 6.01 | 000
36815 |  | A | Insertion of cannula | 2.62 | NA | NA | 1.03 | 1.14 | 0.35 | NA | NA | 4.00 | 4.11 | 000
36818 |  | A | Av fuse, uppr arm, cephalic | 11.77 | NA | NA | 4.97 | 5.78 | 1.89 | NA | NA | 18.63 | 19.44 | 090
36819 |  | A | Av fuse, uppr arm, basilic | 14.35 | NA | NA | 5.34 | 6.13 | 1.95 | NA | NA | 21.64 | 22.43 | 090
36820 |  | A | Av fusion/forearm vein | 14.35 | NA | NA | 5.40 | 6.15 | 1.94 | NA | NA | 21.69 | 22.44 | 090
36821 |  | A | Av fusion direct any site | 9.10 | NA | NA | 4.09 | 4.52 | 1.23 | NA | NA | 14.42 | 14.85 | 090
36822 |  | A | Insertion of cannula(s) | 5.47 | NA | NA | 3.85 | 4.26 | 0.79 | NA | NA | 10.11 | 10.52 | 090
36823 |  | A | Insertion of cannula(s) | 22.74 | NA | NA | 8.87 | 9.27 | 2.88 | NA | NA | 34.49 | 34.89 | 090
36825 |  | A | Artery-vein autograft | 9.95 | NA | NA | 4.37 | 4.89 | 1.35 | NA | NA | 15.67 | 16.19 | 090
36830 |  | A | Artery-vein nonautograft | 11.98 | NA | NA | 4.31 | 5.02 | 1.66 | NA | NA | 17.95 | 18.66 | 090
36831 |  | A | Open thrombect av fistula | 7.99 | NA | NA | 3.38 | 3.81 | 1.09 | NA | NA | 12.46 | 12.89 | 090
36832 |  | A | Av fistula revision, open | 10.48 | NA | NA | 3.91 | 4.53 | 1.44 | NA | NA | 15.83 | 16.45 | 090
36833 |  | A | Av fistula revision | 11.93 | NA | NA | 4.31 | 4.99 | 1.65 | NA | NA | 17.89 | 18.57 | 090
36834 |  | A | Repair A-V aneurysm | 11.07 | NA | NA | 4.40 | 4.70 | 1.37 | NA | NA | 16.84 | 17.14 | 090
36835 |  | A | Artery to vein shunt | 7.38 | NA | NA | 3.93 | 4.23 | 0.98 | NA | NA | 12.29 | 12.59 | 090
36838 |  | A | Dist revas ligation, hemo | 21.55 | NA | NA | 7.32 | 8.89 | 3.01 | NA | NA | 31.88 | 33.45 | 090
36860 |  | A | External cannula declotting | 2.01 | 3.36 | 2.18 | 0.61 | 0.66 | 0.11 | 5.48 | 4.30 | 2.73 | 2.78 | 000
36861 |  | A | Cannula declotting | 2.52 | NA | NA | 1.27 | 1.44 | 0.27 | NA | NA | 4.06 | 4.23 | 000
36870 |  | A | Percut thrombect av fistula | 5.15 | 42.53 | 50.52 | 2.83 | 3.08 | 0.29 | 47.97 | 55.96 | 8.27 | 8.52 | 090
37140 |  | A | Revision of circulation | 25.04 | NA | NA | 9.21 | 10.19 | 2.01 | NA | NA | 36.26 | 37.24 | 090
37145 |  | A | Revision of circulation | 26.05 | NA | NA | 8.94 | 10.40 | 3.25 | NA | NA | 38.24 | 39.70 | 090
37160 |  | A | Revision of circulation | 23.05 | NA | NA | 8.28 | 9.03 | 2.81 | NA | NA | 34.14 | 34.89 | 090
37180 |  | A | Revision of circulation | 26.05 | NA | NA | 8.97 | 9.98 | 3.34 | NA | NA | 38.36 | 39.37 | 090
37181 |  | A | Splice spleen/kidney veins | 28.18 | NA | NA | 9.33 | 10.61 | 3.40 | NA | NA | 40.91 | 42.19 | 090
37182 |  | A | Insert hepatic shunt (tips) | 16.97 | NA | NA | 6.32 | 6.14 | 1.00 | NA | NA | 24.29 | 24.11 | 000
37183 |  | A | Remove hepatic shunt (tips) | 7.99 | NA | NA | 3.09 | 3.04 | 0.47 | NA | NA | 11.55 | 11.50 | 000
37184 |  | A | Prim art mech thrombectomy | 8.66 | 51.62 | 66.83 | 3.22 | 3.33 | 0.55 | 60.83 | 76.04 | 12.43 | 12.54 | 000
37185 |  | A | Prim art m-thrombect add-on | 3.28 | 16.78 | 21.41 | 1.10 | 1.11 | 0.21 | 20.27 | 24.90 | 4.59 | 4.60 | ZZZ
37186 |  | A | Sec art m-thrombect add-on | 4.92 | 35.40 | 46.00 | 1.64 | 1.66 | 0.32 | 40.64 | 51.24 | 6.88 | 6.90 | ZZZ
37187 |  | A | Venous mech thrombectomy | 8.03 | 50.43 | 65.39 | 3.01 | 3.12 | 0.51 | 58.97 | 73.93 | 11.55 | 11.66 | 000
37188 |  | A | Venous m-thrombectomy add-on | 5.71 | 43.99 | 57.61 | 2.23 | 2.34 | 0.37 | 50.07 | 63.69 | 8.31 | 8.42 | 000
37200 |  | A | Transcatheter biopsy | 4.55 | NA | NA | 1.65 | 1.54 | 0.27 | NA | NA | 6.47 | 6.36 | 000
37201 |  | A | Transcatheter therapy infuse | 4.99 | NA | NA | 2.40 | 2.51 | 0.33 | NA | NA | 7.72 | 7.83 | 000
37202 |  | A | Transcatheter therapy infuse | 5.67 | NA | NA | 3.47 | 3.15 | 0.43 | NA | NA | 9.57 | 9.25 | 000
37203 |  | A | Transcatheter retrieval | 5.02 | 31.47 | 32.60 | 2.10 | 2.06 | 0.29 | 36.78 | 37.91 | 7.41 | 7.37 | 000
37204 |  | A | Transcatheter occlusion | 18.11 | NA | NA | 6.29 | 6.01 | 1.48 | NA | NA | 25.88 | 25.60 | 000
37205 |  | A | Transcath iv stent, percut | 8.27 | NA | NA | 4.08 | 3.84 | 0.60 | NA | NA | 12.95 | 12.71 | 000
37206 |  | A | Transcath iv stent/perc addl | 4.12 | NA | NA | 1.67 | 1.49 | 0.31 | NA | NA | 6.10 | 5.92 | ZZZ
37207 |  | A | Transcath iv stent, open | 8.27 | NA | NA | 2.52 | 3.01 | 1.17 | NA | NA | 11.96 | 12.45 | 000
37208 |  | A | Transcath iv stent/open addl | 4.12 | NA | NA | 1.10 | 1.31 | 0.59 | NA | NA | 5.81 | 6.02 | ZZZ
37209 |  | A | Change iv cath at thromb tx | 2.27 | NA | NA | 0.80 | 0.76 | 0.15 | NA | NA | 3.22 | 3.18 | 000
37215 |  | R | Transcath stent, cca w/eps | 19.54 | NA | NA | 10.47 | 9.46 | 1.09 | NA | NA | 31.10 | 30.09 | 090
37216 |  | N | Transcath stent, cca w/o eps | 18.81 | NA | NA | 9.14 | 8.92 | 1.04 | NA | NA | 28.99 | 28.77 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
37250 |  | A | Iv us first vessel add-on | 2.10 | NA | NA | 0.83 | 0.77 | 0.21 | NA | NA | 3.14 | 3.08 | ZZZ
37251 |  | A | Iv us each add vessel add-on | 1.60 | NA | NA | 0.54 | 0.55 | 0.19 | NA | NA | 2.33 | 2.34 | ZZZ
37500 |  | A | Endoscopy ligate perf veins | 11.48 | NA | NA | 5.54 | 6.54 | 1.54 | NA | NA | 18.56 | 19.56 | 090
37565 |  | A | Ligation of neck vein | 11.93 | NA | NA | 5.11 | 5.51 | 1.33 | NA | NA | 18.37 | 18.77 | 090
37600 |  | A | Ligation of neck artery | 12.30 | NA | NA | 4.94 | 6.22 | 1.41 | NA | NA | 18.65 | 19.93 | 090
37605 |  | A | Ligation of neck artery | 14.16 | NA | NA | 5.69 | 6.61 | 1.98 | NA | NA | 21.83 | 22.75 | 090
37606 |  | A | Ligation of neck artery | 8.65 | NA | NA | 5.03 | 4.69 | 1.23 | NA | NA | 14.91 | 14.57 | 090
37607 |  | A | Ligation of a-v fistula | 6.15 | NA | NA | 3.14 | 3.46 | 0.85 | NA | NA | 10.14 | 10.46 | 090
37609 |  | A | Temporal artery procedure | 3.00 | 4.22 | 4.44 | 1.82 | 1.93 | 0.36 | 7.58 | 7.80 | 5.18 | 5.29 | 010
37615 |  | A | Ligation of neck artery | 7.67 | NA | NA | 3.97 | 4.08 | 0.68 | NA | NA | 12.32 | 12.43 | 090
37616 |  | A | Ligation of chest artery | 18.84 | NA | NA | 8.00 | 8.08 | 2.32 | NA | NA | 29.16 | 29.24 | 090
37617 |  | A | Ligation of abdomen artery | 23.67 | NA | NA | 7.93 | 8.88 | 2.97 | NA | NA | 34.57 | 35.52 | 090
37618 |  | A | Ligation of extremity artery | 5.89 | NA | NA | 3.43 | 3.57 | 0.67 | NA | NA | 9.99 | 10.13 | 090
37620 |  | A | Revision of major vein | 11.44 | NA | NA | 5.57 | 5.69 | 0.91 | NA | NA | 17.92 | 18.04 | 090
37650 |  | A | Revision of major vein | 8.37 | NA | NA | 4.29 | 4.59 | 1.01 | NA | NA | 13.67 | 13.97 | 090
37660 |  | A | Revision of major vein | 22.16 | NA | NA | 8.33 | 8.89 | 2.48 | NA | NA | 32.97 | 33.53 | 090
37700 |  | A | Revise leg vein | 3.72 | NA | NA | 2.48 | 2.72 | 0.53 | NA | NA | 6.73 | 6.97 | 090
37718 |  | A | Ligate/strip short leg vein | 7.01 | NA | NA | 3.56 | 3.94 | 0.14 | NA | NA | 10.71 | 11.09 | 090
37722 |  | A | Ligate/strip long leg vein | 8.04 | NA | NA | 3.83 | 4.27 | 0.86 | NA | NA | 12.73 | 13.17 | 090
37735 |  | A | Removal of leg veins/lesion | 10.75 | NA | NA | 4.73 | 5.32 | 1.48 | NA | NA | 16.96 | 17.55 | 090
37760 |  | A | Ligation, leg veins, open | 10.63 | NA | NA | 4.60 | 5.17 | 1.44 | NA | NA | 16.67 | 17.24 | 090
37765 |  | A | Phleb veins - extrem - to 20 | 7.59 | NA | NA | 3.66 | 4.39 | 0.48 | NA | NA | 11.73 | 12.46 | 090
37766 |  | A | Phleb veins - extrem 20+ | 9.54 | NA | NA | 4.21 | 5.06 | 0.48 | NA | NA | 14.23 | 15.08 | 090
37780 |  | A | Revision of leg vein | 3.83 | NA | NA | 2.53 | 2.78 | 0.53 | NA | NA | 6.89 | 7.14 | 090
37785 |  | A | Ligate/divide/excise vein | 3.83 | 5.00 | 5.16 | 2.62 | 2.70 | 0.54 | 9.37 | 9.53 | 6.99 | 7.07 | 090
37788 |  | A | Revascularization, penis | 23.13 | NA | NA | 12.17 | 9.88 | 2.25 | NA | NA | 37.55 | 35.26 | 090
37790 |  | A | Penile venous occlusion | 8.33 | NA | NA | 5.20 | 4.59 | 0.59 | NA | NA | 14.12 | 13.51 | 090
38100 |  | A | Removal of spleen, total | 19.43 | NA | NA | 6.85 | 6.36 | 1.91 | NA | NA | 28.19 | 27.70 | 090
38101 |  | A | Removal of spleen, partial | 19.43 | NA | NA | 7.33 | 6.74 | 2.04 | NA | NA | 28.80 | 28.21 | 090
38102 |  | A | Removal of spleen, total | 4.79 | NA | NA | 1.25 | 1.54 | 0.63 | NA | NA | 6.67 | 6.96 | ZZZ
38115 |  | A | Repair of ruptured spleen | 21.76 | NA | NA | 7.50 | 6.87 | 2.08 | NA | NA | 31.34 | 30.71 | 090
38120 |  | A | Laparoscopy, splenectomy | 16.97 | NA | NA | 6.90 | 7.28 | 2.24 | NA | NA | 26.11 | 26.49 | 090
38200 |  | A | Injection for spleen x-ray | 2.64 | NA | NA | 1.03 | 0.93 | 0.14 | NA | NA | 3.81 | 3.71 | 000
38205 |  | R | Harvest allogenic stem cells | 1.50 | NA | NA | 0.54 | 0.64 | 0.07 | NA | NA | 2.11 | 2.21 | 000
38206 |  | R | Harvest auto stem cells | 1.50 | NA | NA | 0.53 | 0.64 | 0.07 | NA | NA | 2.10 | 2.21 | 000
38220 |  | A | Bone marrow aspiration | 1.08 | 2.69 | 3.47 | 0.44 | 0.50 | 0.05 | 3.82 | 4.60 | 1.57 | 1.63 | XXX
38221 |  | A | Bone marrow biopsy | 1.37 | 2.81 | 3.66 | 0.57 | 0.63 | 0.07 | 4.25 | 5.10 | 2.01 | 2.07 | XXX
38230 |  | R | Bone marrow collection | 4.78 | NA | NA | 2.73 | 3.11 | 0.48 | NA | NA | 7.99 | 8.37 | 010
38240 |  | R | Bone marrow/stem transplant | 2.24 | NA | NA | 0.94 | 1.01 | 0.11 | NA | NA | 3.29 | 3.36 | XXX
38241 |  | R | Bone marrow/stem transplant | 2.24 | NA | NA | 0.93 | 1.01 | 0.11 | NA | NA | 3.28 | 3.36 | XXX
38242 |  | A | Lymphocyte infuse transplant | 1.71 | NA | NA | 0.70 | 0.76 | 0.08 | NA | NA | 2.49 | 2.55 | 000
38300 |  | A | Drainage, lymph node lesion | 2.24 | 3.74 | 4.17 | 1.81 | 2.00 | 0.25 | 6.23 | 6.66 | 4.30 | 4.49 | 010
38305 |  | A | Drainage, lymph node lesion | 6.49 | NA | NA | 3.58 | 4.23 | 0.88 | NA | NA | 10.95 | 11.60 | 090
38308 |  | A | Incision of lymph channels | 6.69 | NA | NA | 3.56 | 3.70 | 0.85 | NA | NA | 11.10 | 11.24 | 090
38380 |  | A | Thoracic duct procedure | 8.26 | NA | NA | 4.63 | 5.43 | 0.74 | NA | NA | 13.63 | 14.43 | 090
38381 |  | A | Thoracic duct procedure | 13.28 | NA | NA | 6.16 | 6.72 | 1.84 | NA | NA | 21.28 | 21.84 | 090
38382 |  | A | Thoracic duct procedure | 10.42 | NA | NA | 5.50 | 5.70 | 1.37 | NA | NA | 17.29 | 17.49 | 090
38500 |  | A | Biopsy/removal, lymph nodes | 3.74 | 3.75 | 3.71 | 2.02 | 2.07 | 0.49 | 7.98 | 7.94 | 6.25 | 6.30 | 010
38505 |  | A | Needle biopsy, lymph nodes | 1.14 | 2.14 | 2.08 | 0.72 | 0.77 | 0.09 | 3.37 | 3.31 | 1.95 | 2.00 | 000
38510 |  | A | Biopsy/removal, lymph nodes | 6.67 | 5.16 | 5.46 | 2.92 | 3.35 | 0.72 | 12.55 | 12.85 | 10.31 | 10.74 | 010
38520 |  | A | Biopsy/removal, lymph nodes | 6.91 | NA | NA | 3.68 | 3.97 | 0.84 | NA | NA | 11.43 | 11.72 | 090
38525 |  | A | Biopsy/removal, lymph nodes | 6.31 | NA | NA | 3.46 | 3.34 | 0.80 | NA | NA | 10.57 | 10.45 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
38530 |  | A | Biopsy/removal, lymph nodes | 8.22 | NA | NA | 4.10 | 4.33 | 1.12 | NA | NA | 13.44 | 13.67 | 090
38542 |  | A | Explore deep node(s), neck | 6.02 | NA | NA | 3.69 | 4.29 | 0.60 | NA | NA | 10.31 | 10.91 | 090
38550 |  | A | Removal, neck/armpit lesion | 6.91 | NA | NA | 4.21 | 3.99 | 0.88 | NA | NA | 12.00 | 11.78 | 090
38555 |  | A | Removal, neck/armpit lesion | 15.30 | NA | NA | 7.18 | 8.21 | 1.75 | NA | NA | 24.23 | 25.26 | 090
38562 |  | A | Removal, pelvic lymph nodes | 10.83 | NA | NA | 5.74 | 5.78 | 1.20 | NA | NA | 17.77 | 17.81 | 090
38564 |  | A | Removal, abdomen lymph nodes | 11.23 | NA | NA | 5.21 | 5.25 | 1.32 | NA | NA | 17.76 | 17.80 | 090
38570 |  | A | Laparoscopy, lymph node biop | 9.24 | NA | NA | 3.99 | 3.98 | 1.13 | NA | NA | 14.36 | 14.35 | 010
38571 |  | A | Laparoscopy, lymphadenectomy | 14.66 | NA | NA | 7.03 | 6.00 | 1.15 | NA | NA | 22.84 | 21.81 | 010
38572 |  | A | Laparoscopy, lymphadenectomy | 16.82 | NA | NA | 6.08 | 6.84 | 1.90 | NA | NA | 24.80 | 25.56 | 010
38700 |  | A | Removal of lymph nodes, neck | 12.62 | NA | NA | 5.93 | 6.17 | 0.72 | NA | NA | 19.27 | 19.51 | 090
38720 |  | A | Removal of lymph nodes, neck | 21.64 | NA | NA | 8.82 | 9.24 | 1.20 | NA | NA | 31.66 | 32.08 | 090
38724 |  | A | Removal of lymph nodes, neck | 23.64 | NA | NA | 9.38 | 9.74 | 1.28 | NA | NA | 34.30 | 34.66 | 090
38740 |  | A | Remove armpit lymph nodes | 10.51 | NA | NA | 4.96 | 4.95 | 1.32 | NA | NA | 16.79 | 16.78 | 090
38745 |  | A | Remove armpit lymph nodes | 13.65 | NA | NA | 5.99 | 6.07 | 1.73 | NA | NA | 21.37 | 21.45 | 090
38746 |  | A | Remove thoracic lymph nodes | 4.88 | NA | NA | 1.46 | 1.57 | 0.72 | NA | NA | 7.06 | 7.17 | ZZZ
38747 |  | A | Remove abdominal lymph nodes | 4.88 | NA | NA | 1.26 | 1.57 | 0.64 | NA | NA | 6.78 | 7.09 | ZZZ
38760 |  | A | Remove groin lymph nodes | 13.43 | NA | NA | 5.89 | 6.08 | 1.71 | NA | NA | 21.03 | 21.22 | 090
38765 |  | A | Remove groin lymph nodes | 21.72 | NA | NA | 8.71 | 8.80 | 2.47 | NA | NA | 32.90 | 32.99 | 090
38770 |  | A | Remove pelvis lymph nodes | 13.93 | NA | NA | 6.96 | 6.06 | 1.40 | NA | NA | 22.29 | 21.39 | 090
38780 |  | A | Remove abdomen lymph nodes | 17.47 | NA | NA | 7.92 | 8.15 | 1.88 | NA | NA | 27.27 | 27.50 | 090
38790 |  | A | Inject for lymphatic x-ray | 1.29 | 5.25 | 6.84 | 0.75 | 0.76 | 0.13 | 6.67 | 8.26 | 2.17 | 2.18 | 000
38792 |  | A | Identify sentinel node | 0.52 | NA | NA | 0.49 | 0.45 | 0.06 | NA | NA | 1.07 | 1.03 | 000
38794 |  | A | Access thoracic lymph duct | 4.44 | NA | NA | 3.24 | 3.41 | 0.32 | NA | NA | 8.00 | 8.17 | 090
39000 |  | A | Exploration of chest | 7.45 | NA | NA | 4.40 | 4.60 | 0.89 | NA | NA | 12.74 | 12.94 | 090
39010 |  | A | Exploration of chest | 13.07 | NA | NA | 6.23 | 7.23 | 1.75 | NA | NA | 21.05 | 22.05 | 090
39200 |  | A | Removal chest lesion | 15.02 | NA | NA | 6.30 | 7.24 | 2.02 | NA | NA | 23.34 | 24.28 | 090
39220 |  | A | Removal chest lesion | 18.42 | NA | NA | 7.69 | 8.97 | 2.45 | NA | NA | 28.56 | 29.84 | 090
39400 |  | A | Visualization of chest | 5.97 | NA | NA | 3.65 | 4.56 | 0.82 | NA | NA | 10.44 | 11.35 | 010
39501 |  | A | Repair diaphragm laceration | 13.83 | NA | 5.87 | 6.32 | 1.77 | NA | NA | 21.47 | 21.92 | 090
39502 |  | A | Repair paraesophageal hernia | 17.03 | NA | NA | 6.55 | 7.01 | 2.16 | NA | NA | 25.74 | 26.20 | 090
39503 |  | A | Repair of diaphragm hernia | 108.57 | NA | NA | 31.89 | 33.08 | 10.95 | NA | NA | 151.4 | 152.6 | 090
39520 |  | A | Repair of diaphragm hernia | 16.56 | NA | NA | 6.87 | 7.76 | 2.23 | NA | NA | 25.66 | 26.55 | 090
39530 |  | A | Repair of diaphragm hernia | 16.17 | NA | NA | 6.35 | 6.95 | 2.10 | NA | NA | 24.62 | 25.22 | 090
39531 |  | A | Repair of diaphragm hernia | 17.18 | NA | NA | 6.56 | 7.19 | 2.21 | NA | NA | 25.95 | 26.58 | 090
39540 |  | A | Repair of diaphragm hernia | 14.47 | NA | NA | 5.56 | 6.07 | 1.79 | NA | NA | 21.82 | 22.33 | 090
39541 |  | A | Repair of diaphragm hernia | 15.62 | NA | NA | 6.13 | 6.48 | 1.92 | NA | NA | 23.67 | 24.02 | 090
39545 |  | A | Revision of diaphragm | 14.52 | NA | NA | 7.28 | 7.49 | 1.83 | NA | NA | 23.63 | 23.84 | 090
39560 |  | A | Resect diaphragm, simple | 12.91 | NA | NA | 5.55 | 6.11 | 1.59 | NA | NA | 20.05 | 20.61 | 090
39561 |  | A | Resect diaphragm, complex | 19.69 | NA | NA | 9.43 | 9.38 | 2.44 | NA | NA | 31.56 | 31.51 | 090
40490 |  | A | Biopsy of lip | 1.22 | 2.04 | 1.73 | 0.56 | 0.60 | 0.05 | 3.31 | 3.00 | 1.83 | 1.87 | 000
40500 |  | A | Partial excision of lip | 4.27 | 7.63 | 7.09 | 4.16 | 4.30 | 0.38 | 12.28 | 11.74 | 8.81 | 8.95 | 090
40510 |  | A | Partial excision of lip | 4.69 | 6.48 | 6.59 | 3.44 | 3.88 | 0.49 | 11.66 | 11.77 | 8.62 | 9.06 | 090
40520 |  | A | Partial excision of lip | 4.66 | 6.74 | 7.36 | 3.64 | 4.00 | 0.52 | 11.92 | 12.54 | 8.82 | 9.18 | 090
40525 |  | A | Reconstruct lip with flap | 7.54 | NA | NA | 5.14 | 6.03 | 0.85 | NA | NA | 13.53 | 14.42 | 090
40527 |  | A | Reconstruct lip with flap | 9.12 | NA | NA | 5.75 | 6.97 | 0.97 | NA | NA | 15.84 | 17.06 | 090
40530 |  | A | Partial removal of lip | 5.39 | 7.19 | 7.67 | 4.01 | 4.45 | 0.55 | 13.13 | 13.61 | 9.95 | 10.39 | 090
40650 |  | A | Repair lip | 3.63 | 5.86 | 6.57 | 3.09 | 3.25 | 0.38 | 9.87 | 10.58 | 7.10 | 7.26 | 090
40652 |  | A | Repair lip | 4.25 | 6.94 | 7.56 | 3.92 | 4.18 | 0.52 | 11.71 | 12.33 | 8.69 | 8.95 | 090
40654 |  | A | Repair lip | 5.30 | 7.92 | 8.45 | 4.55 | 4.84 | 0.60 | 13.82 | 14.35 | 10.45 | 10.74 | 090
40700 |  | A | Repair cleft lip/nasal | 13.89 | NA | NA | 9.24 | 9.14 | 0.95 | NA | NA | 24.08 | 23.98 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
40701 |  | A | Repair cleft lip/nasal | 16.95 | NA | NA | 10.87 | 11.24 | 1.65 | NA | NA | 29.47 | 29.84 | 090
40702 |  | A | Repair cleft lip/nasal | 14.01 | NA | NA | 7.06 | 7.97 | 1.23 | NA | NA | 22.30 | 23.21 | 090
40720 |  | A | Repair cleft lip/nasal | 14.46 | NA | NA | 8.73 | 9.62 | 1.79 | NA | NA | 24.98 | 25.87 | 090
40761 |  | A | Repair cleft lip/nasal | 15.63 | NA | NA | 8.62 | 9.88 | 1.93 | NA | NA | 26.18 | 27.44 | 090
40800 |  | A | Drainage of mouth lesion | 1.17 | 3.84 | 3.19 | 1.87 | 1.80 | 0.13 | 5.14 | 4.49 | 3.17 | 3.10 | 010
40801 |  | A | Drainage of mouth lesion | 2.53 | 4.84 | 4.23 | 2.54 | 2.70 | 0.31 | 7.68 | 7.07 | 5.38 | 5.54 | 010
40804 |  | A | Removal, foreign body, mouth | 1.24 | 3.62 | 3.46 | 1.75 | 1.83 | 0.11 | 4.97 | 4.81 | 3.10 | 3.18 | 010
40805 |  | A | Removal, foreign body, mouth | 2.69 | 5.04 | 4.63 | 2.55 | 2.75 | 0.32 | 8.05 | 7.64 | 5.56 | 5.76 | 010
40806 |  | A | Incision of lip fold | 0.31 | 2.38 | 1.98 | 0.50 | 0.50 | 0.04 | 2.73 | 2.33 | 0.85 | 0.85 | 000
40808 |  | A | Biopsy of mouth lesion | 0.96 | 3.51 | 2.87 | 1.57 | 1.50 | 0.10 | 4.57 | 3.93 | 2.63 | 2.56 | 010
40810 |  | A | Excision of mouth lesion | 1.31 | 3.55 | 3.06 | 1.65 | 1.66 | 0.13 | 4.99 | 4.50 | 3.09 | 3.10 | 010
40812 |  | A | Excise/repair mouth lesion | 2.31 | 4.50 | 3.92 | 2.25 | 2.37 | 0.28 | 7.09 | 6.51 | 4.84 | 4.96 | 010
40814 |  | A | Excise/repair mouth lesion | 3.41 | 5.61 | 5.12 | 3.63 | 3.83 | 0.41 | 9.43 | 8.94 | 7.45 | 7.65 | 090
40816 |  | A | Excision of mouth lesion | 3.66 | 5.77 | 5.33 | 3.67 | 3.93 | 0.40 | 9.83 | 9.39 | 7.73 | 7.99 | 090
40818 |  | A | Excise oral mucosa for graft | 2.66 | 5.73 | 5.32 | 3.67 | 3.90 | 0.21 | 8.60 | 8.19 | 6.54 | 6.77 | 090
40819 |  | A | Excise lip or cheek fold | 2.41 | 4.87 | 4.29 | 3.06 | 3.09 | 0.29 | 7.57 | 6.99 | 5.76 | 5.79 | 090
40820 |  | A | Treatment of mouth lesion | 1.28 | 5.11 | 4.23 | 2.82 | 2.54 | 0.11 | 6.50 | 5.62 | 4.21 | 3.93 | 010
40830 |  | A | Repair mouth laceration | 1.76 | 4.07 | 3.82 | 1.99 | 2.07 | 0.19 | 6.02 | 5.77 | 3.94 | 4.02 | 010
40831 |  | A | Repair mouth laceration | 2.46 | 5.30 | 4.83 | 2.71 | 2.97 | 0.30 | 8.06 | 7.59 | 5.47 | 5.73 | 010
40840 |  | R | Reconstruction of mouth | 8.97 | 9.90 | 9.83 | 5.46 | 6.61 | 1.08 | 19.95 | 19.88 | 15.51 | 16.66 | 090
40842 |  | R | Reconstruction of mouth | 8.97 | 9.68 | 9.99 | 5.29 | 6.42 | 1.08 | 19.73 | 20.04 | 15.34 | 16.47 | 090
40843 |  | R | Reconstruction of mouth | 12.56 | 11.83 | 11.94 | 6.07 | 7.39 | 1.39 | 25.78 | 25.89 | 20.02 | 21.34 | 090
40844 |  | R | Reconstruction of mouth | 16.47 | 14.78 | 15.55 | 8.74 | 10.88 | 1.99 | 33.24 | 34.01 | 27.20 | 29.34 | 090
40845 |  | R | Reconstruction of mouth | 19.03 | 14.86 | 16.55 | 9.31 | 12.27 | 2.00 | 35.89 | 37.58 | 30.34 | 33.30 | 090
41000 |  | A | Drainage of mouth lesion | 1.30 | 2.48 | 2.36 | 1.28 | 1.38 | 0.12 | 3.90 | 3.78 | 2.70 | 2.80 | 010
41005 |  | A | Drainage of mouth lesion | 1.26 | 4.22 | 3.56 | 1.71 | 1.72 | 0.12 | 5.60 | 4.94 | 3.09 | 3.10 | 010
41006 |  | A | Drainage of mouth lesion | 3.24 | 5.27 | 4.92 | 2.71 | 3.06 | 0.35 | 8.86 | 8.51 | 6.30 | 6.65 | 090
41007 |  | A | Drainage of mouth lesion | 3.10 | 5.31 | 5.19 | 2.69 | 2.95 | 0.31 | 8.72 | 8.60 | 6.10 | 6.36 | 090
41008 |  | A | Drainage of mouth lesion | 3.36 | 5.39 | 4.87 | 2.77 | 3.10 | 0.42 | 9.17 | 8.65 | 6.55 | 6.88 | 090
41009 |  | A | Drainage of mouth lesion | 3.58 | 5.78 | 5.18 | 3.10 | 3.46 | 0.47 | 9.83 | 9.23 | 7.15 | 7.51 | 090
41010 |  | A | Incision of tongue fold | 1.06 | 3.49 | 3.45 | 1.40 | 1.55 | 0.07 | 4.62 | 4.58 | 2.53 | 2.68 | 010
41015 |  | A | Drainage of mouth lesion | 3.95 | 6.19 | 5.61 | 3.91 | 4.09 | 0.46 | 10.60 | 10.02 | 8.32 | 8.50 | 090
41016 |  | A | Drainage of mouth lesion | 4.06 | 6.12 | 5.75 | 3.99 | 4.17 | 0.53 | 10.71 | 10.34 | 8.58 | 8.76 | 090
41017 |  | A | Drainage of mouth lesion | 4.06 | 6.29 | 5.81 | 4.06 | 4.25 | 0.53 | 10.88 | 10.40 | 8.65 | 8.84 | 090
41018 |  | A | Drainage of mouth lesion | 5.09 | 6.51 | 6.24 | 4.29 | 4.51 | 0.68 | 12.28 | 12.01 | 10.06 | 10.28 | 090
41100 |  | A | Biopsy of tongue | 1.37 | 2.58 | 2.47 | 1.12 | 1.35 | 0.15 | 4.10 | 3.99 | 2.64 | 2.87 | 010
41105 |  | A | Biopsy of tongue | 1.42 | 2.54 | 2.37 | 1.12 | 1.27 | 0.13 | 4.09 | 3.92 | 2.67 | 2.82 | 010
41108 |  | A | Biopsy of floor of mouth | 1.05 | 2.38 | 2.16 | 1.01 | 1.10 | 0.10 | 3.53 | 3.31 | 2.16 | 2.25 | 010
41110 |  | A | Excision of tongue lesion | 1.51 | 3.43 | 3.10 | 1.52 | 1.61 | 0.13 | 5.07 | 4.74 | 3.16 | 3.25 | 010
41112 |  | A | Excision of tongue lesion | 2.73 | 5.07 | 4.63 | 3.11 | 3.20 | 0.28 | 8.08 | 7.64 | 6.12 | 6.21 | 090
41113 |  | A | Excision of tongue lesion | 3.19 | 5.36 | 4.90 | 3.28 | 3.43 | 0.34 | 8.89 | 8.43 | 6.81 | 6.96 | 090
41114 |  | A | Excision of tongue lesion | 8.64 | NA | NA | 5.88 | 6.88 | 0.83 | NA | NA | 15.35 | 16.35 | 090
41115 |  | A | Excision of tongue fold | 1.74 | 4.26 | 3.54 | 1.74 | 1.83 | 0.18 | 6.18 | 5.46 | 3.66 | 3.75 | 010
41116 |  | A | Excision of mouth lesion | 2.44 | 5.28 | 4.59 | 2.63 | 2.77 | 0.23 | 7.95 | 7.26 | 5.30 | 5.44 | 090
41120 |  | A | Partial removal of tongue | 10.83 | NA | NA | 13.77 | 14.96 | 0.79 | NA | NA | 25.39 | 26.58 | 090
41130 |  | A | Partial removal of tongue | 15.43 | NA | NA | 15.08 | 15.95 | 0.93 | NA | NA | 31.44 | 32.31 | 090
41135 |  | A | Tongue and neck surgery | 29.71 | NA | NA | 19.78 | 22.41 | 1.88 | NA | NA | 51.37 | 54.00 | 090
41140 |  | A | Removal of tongue | 28.69 | NA | NA | 21.51 | 25.44 | 2.26 | NA | NA | 52.46 | 56.39 | 090
41145 |  | A | Tongue removal, neck surgery | 37.47 | NA | NA | 26.58 | 29.62 | 2.54 | NA | NA | 66.59 | 69.63 | 090
41150 |  | A | Tongue, mouth, jaw surgery | 29.40 | NA | NA | 21.26 | 23.90 | 1.94 | NA | NA | 52.60 | 55.24 | 090
41153 |  | A | Tongue, mouth, neck surgery | 33.16 | NA | NA | 22.28 | 24.39 | 2.00 | NA | NA | 57.44 | 59.55 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
41155 |  | A | Tongue, jaw, & neck surgery | 39.84 | NA | NA | 23.96 | 26.15 | 2.33 | NA | NA | 66.13 | 68.32 | 090
41250 |  | A | Repair tongue laceration | 1.91 | 3.76 | 3.00 | 1.57 | 1.28 | 0.18 | 5.85 | 5.09 | 3.66 | 3.37 | 010
41251 |  | A | Repair tongue laceration | 2.27 | 3.12 | 3.24 | 1.62 | 1.57 | 0.22 | 5.61 | 5.73 | 4.11 | 4.06 | 010
41252 |  | A | Repair tongue laceration | 2.97 | 4.31 | 4.00 | 1.94 | 2.18 | 0.29 | 7.57 | 7.26 | 5.20 | 5.44 | 010
41500 |  | A | Fixation of tongue | 3.70 | NA | NA | 6.46 | 7.22 | 0.30 | NA | NA | 10.46 | 11.22 | 090
41510 |  | A | Tongue to lip surgery | 3.41 | NA | NA | 6.94 | 7.70 | 0.20 | NA | NA | 10.55 | 11.31 | 090
41520 |  | A | Reconstruction, tongue fold | 2.73 | 5.71 | 4.90 | 3.19 | 3.52 | 0.27 | 8.71 | 7.90 | 6.19 | 6.52 | 090
41800 |  | A | Drainage of gum lesion | 1.17 | 4.75 | 3.14 | 2.09 | 1.48 | 0.12 | 6.04 | 4.43 | 3.38 | 2.77 | 010
41805 |  | A | Removal foreign body, gum | 1.24 | 4.73 | 3.19 | 2.75 | 2.35 | 0.13 | 6.10 | 4.56 | 4.12 | 3.72 | 010
41806 |  | A | Removal foreign body,jawbone | 2.69 | 5.89 | 4.17 | 3.37 | 3.12 | 0.37 | 8.95 | 7.23 | 6.43 | 6.18 | 010
41822 |  | R | Excision of gum lesion | 2.31 | 4.67 | 4.09 | 1.78 | 1.86 | 0.31 | 7.29 | 6.71 | 4.40 | 4.48 | 010
41823 |  | R | Excision of gum lesion | 3.55 | 6.52 | 5.82 | 3.76 | 3.96 | 0.47 | 10.54 | 9.84 | 7.78 | 7.98 | 090
41825 |  | A | Excision of gum lesion | 1.31 | 3.61 | 3.21 | 1.42 | 2.04 | 0.15 | 5.07 | 4.67 | 2.88 | 3.50 | 010
41826 |  | A | Excision of gum lesion | 2.31 | 5.12 | 3.11 | 2.58 | 2.23 | 0.30 | 7.73 | 5.72 | 5.19 | 4.84 | 010
41827 |  | A | Excision of gum lesion | 3.66 | 6.61 | 5.80 | 3.35 | 3.59 | 0.35 | 10.62 | 9.81 | 7.36 | 7.60 | 090
41828 |  | R | Excision of gum lesion | 3.09 | 4.13 | 3.89 | 1.65 | 2.64 | 0.44 | 7.66 | 7.42 | 5.18 | 6.17 | 010
41830 |  | R | Removal of gum tissue | 3.34 | 6.05 | 5.24 | 3.14 | 3.51 | 0.44 | 9.83 | 9.02 | 6.92 | 7.29 | 010
41872 |  | R | Repair gum | 2.84 | 5.80 | 5.22 | 3.19 | 3.40 | 0.30 | 8.94 | 8.36 | 6.33 | 6.54 | 090
41874 |  | R | Repair tooth socket | 3.09 | 5.76 | 5.08 | 2.76 | 3.08 | 0.45 | 9.30 | 8.62 | 6.30 | 6.62 | 090
42000 |  | A | Drainage mouth roof lesion | 1.23 | 2.31 | 2.51 | 1.12 | 1.22 | 0.12 | 3.66 | 3.86 | 2.47 | 2.57 | 010
42100 |  | A | Biopsy roof of mouth | 1.31 | 2.16 | 2.11 | 1.19 | 1.32 | 0.13 | 3.60 | 3.55 | 2.63 | 2.76 | 010
42104 |  | A | Excision lesion, mouth roof | 1.64 | 3.41 | 2.77 | 1.57 | 1.56 | 0.16 | 5.21 | 4.57 | 3.37 | 3.36 | 010
42106 |  | A | Excision lesion, mouth roof | 2.10 | 4.40 | 3.52 | 2.03 | 2.35 | 0.25 | 6.75 | 5.87 | 4.38 | 4.70 | 010
42107 |  | A | Excision lesion, mouth roof | 4.43 | 6.27 | 5.87 | 3.51 | 3.85 | 0.44 | 11.14 | 10.74 | 8.38 | 8.72 | 090
42120 |  | A | Remove palate/lesion | 11.62 | NA | NA | 12.17 | 11.89 | 0.52 | NA | NA | 24.31 | 24.03 | 090
42140 |  | A | Excision of uvula | 1.62 | 4.18 | 3.84 | 1.90 | 2.05 | 0.13 | 5.93 | 5.59 | 3.65 | 3.80 | 090
42145 |  | A | Repair palate, pharynx/uvula | 9.57 | NA | NA | 6.64 | 7.29 | 0.65 | NA | NA | 16.86 | 17.51 | 090
42160 |  | A | Treatment mouth roof lesion | 1.80 | 3.59 | 4.09 | 1.58 | 2.12 | 0.17 | 5.56 | 6.06 | 3.55 | 4.09 | 010
42180 |  | A | Repair palate | 2.50 | 3.19 | 3.11 | 1.75 | 2.02 | 0.21 | 5.90 | 5.82 | 4.46 | 4.73 | 010
42182 |  | A | Repair palate | 3.82 | 3.95 | 3.90 | 2.32 | 2.86 | 0.40 | 8.17 | 8.12 | 6.54 | 7.08 | 010
42200 |  | A | Reconstruct cleft palate | 12.35 | NA | NA | 7.99 | 9.68 | 1.27 | NA | NA | 21.61 | 23.30 | 090
42205 |  | A | Reconstruct cleft palate | 13.51 | NA | NA | 7.37 | 9.42 | 1.58 | NA | NA | 22.46 | 24.51 | 090
42210 |  | A | Reconstruct cleft palate | 14.85 | NA | NA | 9.59 | 11.02 | 2.16 | NA | NA | 26.60 | 28.03 | 090
42215 |  | A | Reconstruct cleft palate | 8.81 | NA | NA | 7.08 | 8.60 | 1.31 | NA | NA | 17.20 | 18.72 | 090
42220 |  | A | Reconstruct cleft palate | 7.01 | NA | NA | 6.72 | 6.78 | 0.73 | NA | NA | 14.46 | 14.52 | 090
42225 |  | A | Reconstruct cleft palate | 9.59 | NA | NA | 11.81 | 15.79 | 0.86 | NA | NA | 22.26 | 26.24 | 090
42226 |  | A | Lengthening of palate | 10.17 | NA | NA | 11.17 | 13.85 | 1.01 | NA | NA | 22.35 | 25.03 | 090
42227 |  | A | Lengthening of palate | 9.75 | NA | NA | 9.54 | 14.08 | 0.98 | NA | NA | 20.27 | 24.81 | 090
42235 |  | A | Repair palate | 7.86 | NA | NA | 10.32 | 11.50 | 0.72 | NA | NA | 18.90 | 20.08 | 090
42260 |  | A | Repair nose to lip fistula | 10.04 | 9.41 | 10.02 | 5.71 | 6.74 | 1.26 | 20.71 | 21.32 | 17.01 | 18.04 | 090
42280 |  | A | Preparation, palate mold | 1.54 | 2.26 | 2.04 | 0.84 | 1.07 | 0.19 | 3.99 | 3.77 | 2.57 | 2.80 | 010
42281 |  | A | Insertion, palate prosthesis | 1.93 | 2.79 | 2.68 | 1.53 | 1.79 | 0.17 | 4.89 | 4.78 | 3.63 | 3.89 | 010
42300 |  | A | Drainage of salivary gland | 1.93 | 2.89 | 2.85 | 1.58 | 1.76 | 0.16 | 4.98 | 4.94 | 3.67 | 3.85 | 010
42305 |  | A | Drainage of salivary gland | 6.18 | NA | NA | 3.59 | 4.45 | 0.51 | NA | NA | 10.28 | 11.14 | 090
42310 |  | A | Drainage of salivary gland | 1.56 | 2.16 | 2.24 | 1.30 | 1.48 | 0.13 | 3.85 | 3.93 | 2.99 | 3.17 | 010
42320 |  | A | Drainage of salivary gland | 2.35 | 3.51 | 3.34 | 1.74 | 2.01 | 0.21 | 6.07 | 5.90 | 4.30 | 4.57 | 010
42330 |  | A | Removal of salivary stone | 2.21 | 3.15 | 3.15 | 1.57 | 1.78 | 0.19 | 5.55 | 5.55 | 3.97 | 4.18 | 010
42335 |  | A | Removal of salivary stone | 3.31 | 5.38 | 5.03 | 2.62 | 3.02 | 0.29 | 8.98 | 8.63 | 6.22 | 6.62 | 090
42340 |  | A | Removal of salivary stone | 4.59 | 6.22 | 6.10 | 3.17 | 3.75 | 0.42 | 11.23 | 11.11 | 8.18 | 8.76 | 090
42400 |  | A | Biopsy of salivary gland | 0.78 | 1.91 | 1.72 | 0.60 | 0.69 | 0.06 | 2.75 | 2.56 | 1.44 | 1.53 | 000
42405 |  | A | Biopsy of salivary gland | 3.29 | 3.66 | 3.92 | 1.95 | 2.33 | 0.28 | 7.23 | 7.49 | 5.52 | 5.90 | 010
42408 |  | A | Excision of salivary cyst | 4.53 | 6.03 | 5.96 | 3.02 | 3.47 | 0.45 | 11.01 | 10.94 | 8.00 | 8.45 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
42409 |  | A | Drainage of salivary cyst | 2.81 | 5.02 | 4.65 | 2.35 | 2.67 | 0.27 | 8.10 | 7.73 | 5.43 | 5.75 | 090
42410 |  | A | Excise parotid gland/lesion | 9.39 | NA | NA | 4.81 | 5.88 | 0.91 | NA | NA | 15.11 | 16.18 | 090
42415 |  | A | Excise parotid gland/lesion | 17.91 | NA | NA | 7.53 | 10.05 | 1.43 | NA | NA | 26.87 | 29.39 | 090
42420 |  | A | Excise parotid gland/lesion | 20.79 | NA | NA | 8.32 | 11.39 | 1.65 | NA | NA | 30.76 | 33.83 | 090
42425 |  | A | Excise parotid gland/lesion | 13.24 | NA | NA | 5.92 | 7.95 | 1.05 | NA | NA | 20.21 | 22.24 | 090
42426 |  | A | Excise parotid gland/lesion | 22.46 | NA | NA | 8.59 | 11.94 | 1.80 | NA | NA | 32.85 | 36.20 | 090
42440 |  | A | Excise submaxillary gland | 7.02 | NA | NA | 3.40 | 4.45 | 0.59 | NA | NA | 11.01 | 12.06 | 090
42450 |  | A | Excise sublingual gland | 4.61 | 5.81 | 5.89 | 3.61 | 4.10 | 0.42 | 10.84 | 10.92 | 8.64 | 9.13 | 090
42500 |  | A | Repair salivary duct | 4.29 | 5.73 | 5.71 | 3.57 | 4.04 | 0.41 | 10.43 | 10.41 | 8.27 | 8.74 | 090
42505 |  | A | Repair salivary duct | 6.17 | 6.66 | 7.02 | 4.26 | 5.10 | 0.55 | 13.38 | 13.74 | 10.98 | 11.82 | 090
42507 |  | A | Parotid duct diversion | 6.10 | NA | NA | 5.82 | 6.37 | 0.49 | NA | NA | 12.41 | 12.96 | 090
42508 |  | A | Parotid duct diversion | 9.15 | NA | NA | 7.45 | 8.13 | 1.04 | NA | NA | 17.64 | 18.32 | 090
42509 |  | A | Parotid duct diversion | 11.58 | NA | NA | 8.61 | 9.82 | 0.93 | NA | NA | 21.12 | 22.33 | 090
42510 |  | A | Parotid duct diversion | 8.20 | NA | NA | 6.24 | 7.42 | 0.66 | NA | NA | 15.10 | 16.28 | 090
42550 |  | A | Injection for salivary x-ray | 1.25 | 2.36 | 3.01 | 0.44 | 0.42 | 0.07 | 3.68 | 4.33 | 1.76 | 1.74 | 000
42600 |  | A | Closure of salivary fistula | 4.81 | 6.40 | 6.55 | 3.27 | 3.92 | 0.43 | 11.64 | 11.79 | 8.51 | 9.16 | 090
42650 |  | A | Dilation of salivary duct | 0.77 | 1.18 | 1.12 | 0.60 | 0.68 | 0.07 | 2.02 | 1.96 | 1.44 | 1.52 | 000
42660 |  | A | Dilation of salivary duct | 1.13 | 1.43 | 1.37 | 0.73 | 0.82 | 0.09 | 2.65 | 2.59 | 1.95 | 2.04 | 000
42665 |  | A | Ligation of salivary duct | 2.53 | 4.66 | 4.30 | 2.17 | 2.49 | 0.23 | 7.42 | 7.06 | 4.93 | 5.25 | 090
42700 |  | A | Drainage of tonsil abscess | 1.62 | 2.71 | 2.67 | 1.49 | 1.65 | 0.13 | 4.46 | 4.42 | 3.24 | 3.40 | 010
42720 |  | A | Drainage of throat abscess | 6.31 | 4.22 | 4.69 | 2.79 | 3.55 | 0.44 | 10.97 | 11.44 | 9.54 | 10.30 | 010
42725 |  | A | Drainage of throat abscess | 12.22 | NA | NA | 6.46 | 7.80 | 0.91 | NA | NA | 19.59 | 20.93 | 090
42800 |  | A | Biopsy of throat | 1.39 | 2.24 | 2.20 | 1.16 | 1.34 | 0.11 | 3.74 | 3.70 | 2.66 | 2.84 | 010
42802 |  | A | Biopsy of throat | 1.54 | 3.79 | 4.53 | 1.50 | 1.93 | 0.12 | 5.45 | 6.19 | 3.16 | 3.59 | 010
42804 |  | A | Biopsy of upper nose/throat | 1.24 | 3.29 | 3.64 | 1.35 | 1.64 | 0.10 | 4.63 | 4.98 | 2.69 | 2.98 | 010
42806 |  | A | Biopsy of upper nose/throat | 1.58 | 3.51 | 3.94 | 1.45 | 1.82 | 0.13 | 5.22 | 5.65 | 3.16 | 3.53 | 010
42808 |  | A | Excise pharynx lesion | 2.30 | 2.93 | 3.06 | 1.42 | 1.81 | 0.19 | 5.42 | 5.55 | 3.91 | 4.30 | 010
42809 |  | A | Remove pharynx foreign body | 1.81 | 2.10 | 2.28 | 1.23 | 1.31 | 0.16 | 4.07 | 4.25 | 3.20 | 3.28 | 010
42810 |  | A | Excision of neck cyst | 3.25 | 5.67 | 5.72 | 3.36 | 3.50 | 0.29 | 9.21 | 9.26 | 6.90 | 7.04 | 090
42815 |  | A | Excision of neck cyst | 7.18 | NA | NA | 5.62 | 6.23 | 0.61 | NA | NA | 13.41 | 14.02 | 090
42820 |  | A | Remove tonsils and adenoids | 4.15 | NA | NA | 2.48 | 3.10 | 0.31 | NA | NA | 6.94 | 7.56 | 090
42821 |  | A | Remove tonsils and adenoids | 4.28 | NA | NA | 2.63 | 3.29 | 0.35 | NA | NA | 7.26 | 7.92 | 090
42825 |  | A | Removal of tonsils | 3.41 | NA | NA | 2.38 | 2.98 | 0.25 | NA | NA | 6.04 | 6.64 | 090
42826 |  | A | Removal of tonsils | 3.37 | NA | NA | 2.38 | 2.88 | 0.27 | NA | NA | 6.02 | 6.52 | 090
42830 |  | A | Removal of adenoids | 2.57 | NA | NA | 2.16 | 2.47 | 0.20 | NA | NA | 4.93 | 5.24 | 090
42831 |  | A | Removal of adenoids | 2.71 | NA | NA | 2.37 | 2.73 | 0.22 | NA | NA | 5.30 | 5.66 | 090
42835 |  | A | Removal of adenoids | 2.30 | NA | NA | 1.76 | 2.29 | 0.21 | NA | NA | 4.27 | 4.80 | 090
42836 |  | A | Removal of adenoids | 3.18 | NA | NA | 2.37 | 2.82 | 0.26 | NA | NA | 5.81 | 6.26 | 090
42842 |  | A | Extensive surgery of throat | 11.94 | NA | NA | 10.34 | 10.85 | 0.71 | NA | NA | 22.99 | 23.50 | 090
42844 |  | A | Extensive surgery of throat | 17.49 | NA | NA | 14.26 | 15.78 | 1.16 | NA | NA | 32.91 | 34.43 | 090
42845 |  | A | Extensive surgery of throat | 32.27 | NA | NA | 20.22 | 22.49 | 1.98 | NA | NA | 54.47 | 56.74 | 090
42860 |  | A | Excision of tonsil tags | 2.22 | NA | NA | 2.07 | 2.33 | 0.18 | NA | NA | 4.47 | 4.73 | 090
42870 |  | A | Excision of lingual tonsil | 5.39 | NA | NA | 7.88 | 8.41 | 0.44 | NA | NA | 13.71 | 14.24 | 090
42890 |  | A | Partial removal of pharynx | 18.84 | NA | NA | 13.48 | 14.01 | 1.05 | NA | NA | 33.37 | 33.90 | 090
42892 |  | A | Revision of pharyngeal walls | 25.67 | NA | NA | 16.85 | 17.13 | 1.28 | NA | NA | 43.80 | 44.08 | 090
42894 |  | A | Revision of pharyngeal walls | 33.49 | NA | NA | 20.21 | 21.61 | 1.86 | NA | NA | 55.56 | 56.96 | 090
42900 |  | A | Repair throat wound | 5.24 | NA | NA | 2.66 | 3.42 | 0.50 | NA | NA | 8.40 | 9.16 | 010
42950 |  | A | Reconstruction of throat | 8.09 | NA | NA | 10.08 | 11.45 | 0.72 | NA | NA | 18.89 | 20.26 | 090
42953 |  | A | Repair throat, esophagus | 9.25 | NA | NA | 12.70 | 16.21 | 0.88 | NA | NA | 22.83 | 26.34 | 090
42955 |  | A | Surgical opening of throat | 7.86 | NA | NA | 9.33 | 10.36 | 0.80 | NA | NA | 17.99 | 19.02 | 090
42960 |  | A | Control throat bleeding | 2.33 | NA | NA | 1.57 | 1.87 | 0.19 | NA | NA | 4.09 | 4.39 | 010
42961 |  | A | Control throat bleeding | 5.64 | NA | NA | 4.03 | 4.74 | 0.45 | NA | NA | 10.12 | 10.83 | 090
42962 |  | A | Control throat bleeding | 7.25 | NA | NA | 4.61 | 5.60 | 0.58 | NA | NA | 12.44 | 13.43 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
42970 |  | A | Control nose/throat bleeding | 5.72 | NA | NA | 3.44 | 4.00 | 0.39 | NA | NA | 9.55 | 10.11 | 090
42971 |  | A | Control nose/throat bleeding | 6.50 | NA | NA | 4.01 | 4.85 | 0.51 | NA | NA | 11.02 | 11.86 | 090
42972 |  | A | Control nose/throat bleeding | 7.49 | NA | NA | 4.35 | 5.38 | 0.62 | NA | NA | 12.46 | 13.49 | 090
43020 |  | A | Incision of esophagus | 8.08 | NA | NA | 4.29 | 5.15 | 0.87 | NA | NA | 13.24 | 14.10 | 090
43030 |  | A | Throat muscle surgery | 7.86 | NA | NA | 4.07 | 5.15 | 0.70 | NA | NA | 12.63 | 13.71 | 090
43045 |  | A | Incision of esophagus | 21.62 | NA | NA | 10.14 | 10.58 | 2.58 | NA | NA | 34.34 | 34.78 | 090
43100 |  | A | Excision of esophagus lesion | 9.48 | NA | NA | 4.97 | 5.92 | 0.93 | NA | NA | 15.38 | 16.33 | 090
43101 |  | A | Excision of esophagus lesion | 16.94 | NA | NA | 7.23 | 7.73 | 2.31 | NA | NA | 26.48 | 26.98 | 090
43107 |  | A | Removal of esophagus | 43.89 | NA | NA | 16.66 | 17.90 | 5.22 | NA | NA | 65.77 | 67.01 | 090
43108 |  | A | Removal of esophagus | 63.23 | NA | NA | 19.92 | 15.67 | 4.07 | NA | NA | 87.22 | 82.97 | 090
43112 |  | A | Removal of esophagus | 47.21 | NA | NA | 17.22 | 18.87 | 5.79 | NA | NA | 70.22 | 71.87 | 090
43113 |  | A | Removal of esophagus | 46.95 | NA | NA | 17.97 | 15.86 | 4.42 | NA | NA | 69.34 | 67.23 | 090
43116 |  | A | Partial removal of esophagus | 71.39 | NA | NA | 21.91 | 18.03 | 3.05 | NA | NA | 96.35 | 92.47 | 090
43117 |  | A | Partial removal of esophagus | 43.46 | NA | NA | 15.41 | 16.84 | 5.17 | NA | NA | 64.04 | 65.47 | 090
43118 |  | A | Partial removal of esophagus | 52.07 | NA | NA | 16.85 | 14.58 | 4.10 | NA | NA | 73.02 | 70.75 | 090
43121 |  | A | Partial removal of esophagus | 46.35 | NA | NA | 16.28 | 14.35 | 3.90 | NA | NA | 66.53 | 64.60 | 090
43122 |  | A | Partial removal of esophagus | 43.89 | NA | NA | 15.66 | 17.00 | 5.40 | NA | NA | 64.95 | 66.29 | 090
43123 |  | A | Partial removal of esophagus | 63.83 | NA | NA | 20.07 | 15.62 | 4.15 | NA | NA | 88.05 | 83.60 | 090
43124 |  | A | Removal of esophagus | 64.63 | NA | NA | 21.43 | 15.20 | 3.73 | NA | NA | 89.79 | 83.56 | 090
43130 |  | A | Removal of esophagus pouch | 12.33 | NA | NA | 5.82 | 7.14 | 1.16 | NA | NA | 19.31 | 20.63 | 090
43135 |  | A | Removal of esophagus pouch | 22.37 | NA | NA | 9.07 | 8.35 | 2.33 | NA | NA | 33.77 | 33.05 | 090
43200 |  | A | Esophagus endoscopy | 1.59 | 3.55 | 3.99 | 0.91 | 1.03 | 0.13 | 5.27 | 5.71 | 2.63 | 2.75 | 000
43201 |  | A | Esoph scope w/submucous inj | 2.09 | 5.69 | 4.90 | 1.21 | 1.13 | 0.15 | 7.93 | 7.14 | 3.45 | 3.37 | 000
43202 |  | A | Esophagus endoscopy, biopsy | 1.89 | 5.22 | 5.48 | 0.99 | 0.95 | 0.15 | 7.26 | 7.52 | 3.03 | 2.99 | 000
43204 |  | A | Esoph scope w/sclerosis inj | 3.76 | NA | NA | 2.01 | 1.64 | 0.30 | NA | NA | 6.07 | 5.70 | 000
43205 |  | A | Esophagus endoscopy/ligation | 3.78 | NA | NA | 2.12 | 1.67 | 0.28 | NA | NA | 6.18 | 5.73 | 000
43215 |  | A | Esophagus endoscopy | 2.60 | NA | NA | 1.29 | 1.22 | 0.22 | NA | NA | 4.11 | 4.04 | 000
43216 |  | A | Esophagus endoscopy/lesion | 2.40 | NA | NA | 1.24 | 1.11 | 0.20 | NA | NA | 3.84 | 3.71 | 000
43217 |  | A | Esophagus endoscopy | 2.90 | 6.72 | 6.91 | 1.43 | 1.25 | 0.26 | 9.88 | 10.07 | 4.59 | 4.41 | 000
43219 |  | A | Esophagus endoscopy | 2.80 | NA | NA | 1.58 | 1.41 | 0.24 | NA | NA | 4.62 | 4.45 | 000
43220 |  | A | Esoph endoscopy, dilation | 2.10 | NA | NA | 1.15 | 1.02 | 0.17 | NA | NA | 3.42 | 3.29 | 000
43226 |  | A | Esoph endoscopy, dilation | 2.34 | NA | NA | 1.32 | 1.10 | 0.19 | NA | NA | 3.85 | 3.63 | 000
43227 |  | A | Esoph endoscopy, repair | 3.59 | NA | NA | 1.88 | 1.56 | 0.28 | NA | NA | 5.75 | 5.43 | 000
43228 |  | A | Esoph endoscopy, ablation | 3.76 | NA | NA | 1.90 | 1.64 | 0.34 | NA | NA | 6.00 | 5.74 | 000
43231 |  | A | Esoph endoscopy w/us exam | 3.19 | NA | NA | 1.79 | 1.43 | 0.23 | NA | NA | 5.21 | 4.85 | 000
43232 |  | A | Esoph endoscopy w/us fn bx | 4.47 | NA | NA | 2.44 | 1.98 | 0.34 | NA | NA | 7.25 | 6.79 | 000
43234 |  | A | Upper GI endoscopy, exam | 2.01 | 5.07 | 5.27 | 1.03 | 0.91 | 0.17 | 7.25 | 7.45 | 3.21 | 3.09 | 000
43235 |  | A | Uppr gi endoscopy, diagnosis | 2.39 | 5.42 | 5.24 | 1.40 | 1.12 | 0.19 | 8.00 | 7.82 | 3.98 | 3.70 | 000
43236 |  | A | Uppr gi scope w/submuc inj | 2.92 | 6.90 | 6.54 | 1.71 | 1.34 | 0.21 | 10.03 | 9.67 | 4.84 | 4.47 | 000
43237 |  | A | Endoscopic us exam, esoph | 3.98 | NA | NA | 2.23 | 1.75 | 0.43 | NA | NA | 6.64 | 6.16 | 000
43238 |  | A | Uppr gi endoscopy w/us fn bx | 5.02 | NA | NA | 2.63 | 2.14 | 0.43 | NA | NA | 8.08 | 7.59 | 000
43239 |  | A | Upper GI endoscopy, biopsy | 2.87 | 6.20 | 5.85 | 1.61 | 1.30 | 0.22 | 9.29 | 8.94 | 4.70 | 4.39 | 000
43240 |  | A | Esoph endoscope w/drain cyst | 6.85 | NA | NA | 3.58 | 2.85 | 0.56 | NA | NA | 10.99 | 10.26 | 000
43241 |  | A | Upper GI endoscopy with tube | 2.59 | NA | NA | 1.46 | 1.19 | 0.21 | NA | NA | 4.26 | 3.99 | 000
43242 |  | A | Uppr gi endoscopy w/us fn bx | 7.30 | NA | NA | 3.81 | 3.01 | 0.53 | NA | NA | 11.64 | 10.84 | 000
43243 |  | A | Upper gi endoscopy & inject | 4.56 | NA | NA | 2.45 | 1.96 | 0.33 | NA | NA | 7.34 | 6.85 | 000
43244 |  | A | Upper GI endoscopy/ligation | 5.04 | NA | NA | 2.74 | 2.16 | 0.37 | NA | NA | 8.15 | 7.57 | 000
43245 |  | A | Uppr gi scope dilate strictr | 3.18 | NA | NA | 1.68 | 1.40 | 0.26 | NA | NA | 5.12 | 4.84 | 000
43246 |  | A | Place gastrostomy tube | 4.32 | NA | NA | 2.18 | 1.81 | 0.34 | NA | NA | 6.84 | 6.47 | 000
43247 |  | A | Operative upper GI endoscopy | 3.38 | NA | NA | 1.84 | 1.49 | 0.27 | NA | NA | 5.49 | 5.14 | 000
43248 |  | A | Uppr gi endoscopy/guide wire | 3.15 | NA | NA | 1.85 | 1.45 | 0.23 | NA | NA | 5.23 | 4.83 | 000
43249 |  | A | Esoph endoscopy, dilation | 2.90 | NA | NA | 1.68 | 1.33 | 0.22 | NA | NA | 4.80 | 4.45 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
43250 |  | A | Upper GI endoscopy/tumor | 3.20 | NA | NA | 1.68 | 1.40 | 0.26 | NA | NA | 5.14 | 4.86 | 000
43251 |  | A | Operative upper GI endoscopy | 3.69 | NA | NA | 1.99 | 1.61 | 0.29 | NA | NA | 5.97 | 5.59 | 000
43255 |  | A | Operative upper GI endoscopy | 4.81 | NA | NA | 2.62 | 2.07 | 0.35 | NA | NA | 7.78 | 7.23 | 000
43256 |  | A | Uppr gi endoscopy w/stent | 4.34 | NA | NA | 2.33 | 1.87 | 0.32 | NA | NA | 6.99 | 6.53 | 000
43257 |  | A | Uppr gi scope w/thrml txmnt | 5.50 | NA | NA | 2.07 | 2.18 | 0.36 | NA | NA | 7.93 | 8.04 | 000
43258 |  | A | Operative upper GI endoscopy | 4.54 | NA | NA | 2.47 | 1.96 | 0.33 | NA | NA | 7.34 | 6.83 | 000
43259 |  | A | Endoscopic ultrasound exam | 5.19 | NA | NA | 2.78 | 2.20 | 0.35 | NA | NA | 8.32 | 7.74 | 000
43260 |  | A | Endo cholangiopancreatograph | 5.95 | NA | NA | 3.18 | 2.51 | 0.43 | NA | NA | 9.56 | 8.89 | 000
43261 |  | A | Endo cholangiopancreatograph | 6.26 | NA | NA | 3.34 | 2.64 | 0.46 | NA | NA | 10.06 | 9.36 | 000
43262 |  | A | Endo cholangiopancreatograph | 7.38 | NA | NA | 3.87 | 3.06 | 0.54 | NA | NA | 11.79 | 10.98 | 000
43263 |  | A | Endo cholangiopancreatograph | 7.28 | NA | NA | 3.88 | 3.05 | 0.54 | NA | NA | 11.70 | 10.87 | 000
43264 |  | A | Endo cholangiopancreatograph | 8.89 | NA | NA | 4.62 | 3.65 | 0.65 | NA | NA | 14.16 | 13.19 | 000
43265 |  | A | Endo cholangiopancreatograph | 10.00 | NA | NA | 5.14 | 4.06 | 0.73 | NA | NA | 15.87 | 14.79 | 000
43267 |  | A | Endo cholangiopancreatograph | 7.38 | NA | NA | 3.77 | 3.04 | 0.54 | NA | NA | 11.69 | 10.96 | 000
43268 |  | A | Endo cholangiopancreatograph | 7.38 | NA | NA | 4.04 | 3.18 | 0.54 | NA | NA | 11.96 | 11.10 | 000
43269 |  | A | Endo cholangiopancreatograph | 8.20 | NA | NA | 4.27 | 3.38 | 0.60 | NA | NA | 13.07 | 12.18 | 000
43271 |  | A | Endo cholangiopancreatograph | 7.38 | NA | NA | 3.88 | 3.06 | 0.54 | NA | NA | 11.80 | 10.98 | 000
43272 |  | A | Endo cholangiopancreatograph | 7.38 | NA | NA | 3.96 | 3.08 | 0.54 | NA | NA | 11.88 | 11.00 | 000
43280 |  | A | Laparoscopy, fundoplasty | 17.96 | NA | NA | 6.64 | 7.13 | 2.27 | NA | NA | 26.87 | 27.36 | 090
43300 |  | A | Repair of esophagus | 9.13 | NA | NA | 5.13 | 6.08 | 1.12 | NA | NA | 15.38 | 16.33 | 090
43305 |  | A | Repair esophagus and fistula | 17.90 | NA | NA | 7.32 | 9.87 | 1.54 | NA | NA | 26.76 | 29.31 | 090
43310 |  | A | Repair of esophagus | 26.13 | NA | NA | 10.16 | 10.86 | 3.60 | NA | NA | 39.89 | 40.59 | 090
43312 |  | A | Repair esophagus and fistula | 29.22 | NA | NA | 10.01 | 11.44 | 4.00 | NA | NA | 43.23 | 44.66 | 090
43313 |  | A | Esophagoplasty congenital | 48.07 | NA | NA | 17.09 | 18.42 | 5.45 | NA | NA | 70.61 | 71.94 | 090
43314 |  | A | Tracheo-esophagoplasty cong | 53.05 | NA | NA | 18.47 | 19.05 | 6.63 | NA | NA | 78.15 | 78.73 | 090
43320 |  | A | Fuse esophagus & stomach | 23.12 | NA | NA | 8.80 | 9.12 | 2.73 | NA | NA | 34.65 | 34.97 | 090
43324 |  | A | Revise esophagus & stomach | 22.80 | NA | NA | 8.30 | 8.67 | 2.75 | NA | NA | 33.85 | 34.22 | 090
43325 |  | A | Revise esophagus & stomach | 22.41 | NA | NA | 8.35 | 8.70 | 2.59 | NA | NA | 33.35 | 33.70 | 090
43326 |  | A | Revise esophagus & stomach | 22.09 | NA | NA | 9.37 | 9.33 | 2.84 | NA | NA | 34.30 | 34.26 | 090
43330 |  | A | Repair of esophagus | 22.00 | NA | NA | 8.13 | 8.45 | 2.62 | NA | NA | 32.75 | 33.07 | 090
43331 |  | A | Repair of esophagus | 22.87 | NA | NA | 9.61 | 9.76 | 2.93 | NA | NA | 35.41 | 35.56 | 090
43340 |  | A | Fuse esophagus & intestine | 22.80 | NA | NA | 9.05 | 9.01 | 2.45 | NA | NA | 34.30 | 34.26 | 090
43341 |  | A | Fuse esophagus & intestine | 24.04 | NA | NA | 10.24 | 10.09 | 2.91 | NA | NA | 37.19 | 37.04 | 090
43350 |  | A | Surgical opening, esophagus | 19.23 | NA | NA | 7.98 | 8.34 | 1.42 | NA | NA | 28.63 | 28.99 | 090
43351 |  | A | Surgical opening, esophagus | 21.79 | NA | NA | 9.61 | 9.77 | 2.46 | NA | NA | 33.86 | 34.02 | 090
43352 |  | A | Surgical opening, esophagus | 17.62 | NA | NA | 8.17 | 8.34 | 2.05 | NA | NA | 27.84 | 28.01 | 090
43360 |  | A | Gastrointestinal repair | 39.82 | NA | NA | 15.84 | 15.29 | 4.96 | NA | NA | 60.62 | 60.07 | 090
43361 |  | A | Gastrointestinal repair | 45.42 | NA | NA | 16.90 | 16.92 | 4.49 | NA | NA | 66.81 | 66.83 | 090
43400 |  | A | Ligate esophagus veins | 25.41 | NA | NA | 13.84 | 10.56 | 1.95 | NA | NA | 41.20 | 37.92 | 090
43401 |  | A | Esophagus surgery for veins | 26.30 | NA | NA | 9.37 | 9.48 | 3.04 | NA | NA | 38.71 | 38.82 | 090
43405 |  | A | Ligate/staple esophagus | 24.47 | NA | NA | 10.39 | 9.81 | 2.83 | NA | NA | 37.69 | 37.11 | 090
43410 |  | A | Repair esophagus wound | 16.22 | NA | NA | 7.48 | 7.61 | 1.71 | NA | NA | 25.41 | 25.54 | 090
43415 |  | A | Repair esophagus wound | 28.62 | NA | NA | 11.95 | 11.82 | 3.52 | NA | NA | 44.09 | 43.96 | 090
43420 |  | A | Repair esophagus opening | 16.59 | NA | NA | 6.72 | 7.25 | 1.43 | NA | NA | 24.74 | 25.27 | 090
43425 |  | A | Repair esophagus opening | 24.85 | NA | NA | 10.23 | 10.06 | 3.02 | NA | NA | 38.10 | 37.93 | 090
43450 |  | A | Dilate esophagus | 1.38 | 2.75 | 2.67 | 0.96 | 0.76 | 0.11 | 4.24 | 4.16 | 2.45 | 2.25 | 000
43453 |  | A | Dilate esophagus | 1.51 | 6.50 | 6.19 | 1.05 | 0.81 | 0.11 | 8.12 | 7.81 | 2.67 | 2.43 | 000
43456 |  | A | Dilate esophagus | 2.57 | 13.40 | 13.69 | 1.51 | 1.20 | 0.20 | 16.17 | 16.46 | 4.28 | 3.97 | 000
43458 |  | A | Dilate esophagus | 3.06 | 7.13 | 6.79 | 1.67 | 1.38 | 0.24 | 10.43 | 10.09 | 4.97 | 4.68 | 000
43460 |  | A | Pressure treatment esophagus | 3.79 | NA | NA | 1.77 | 1.56 | 0.31 | NA | NA | 5.87 | 5.66 | 000
43500 |  | A | Surgical opening of stomach | 12.67 | NA | NA | 5.22 | 5.04 | 1.45 | NA | NA | 19.34 | 19.16 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
43501 |  | A | Surgical repair of stomach | 22.41 | NA | NA | 8.06 | 8.26 | 2.64 | NA | NA | 33.11 | 33.31 | 090
43502 |  | A | Surgical repair of stomach | 25.50 | NA | NA | 8.95 | 9.35 | 3.09 | NA | NA | 37.54 | 37.94 | 090
43510 |  | A | Surgical opening of stomach | 14.95 | NA | NA | 6.81 | 6.65 | 1.48 | NA | NA | 23.24 | 23.08 | 090
43520 |  | A | Incision of pyloric muscle | 11.17 | NA | NA | 4.88 | 5.17 | 1.36 | NA | NA | 17.41 | 17.70 | 090
43600 |  | A | Biopsy of stomach | 1.91 | NA | NA | 0.83 | 0.70 | 0.14 | NA | NA | 2.88 | 2.75 | 000
43605 |  | A | Biopsy of stomach | 13.60 | NA | NA | 5.39 | 5.32 | 1.58 | NA | NA | 20.57 | 20.50 | 090
43610 |  | A | Excision of stomach lesion | 16.22 | NA | NA | 6.02 | 6.13 | 1.93 | NA | NA | 24.17 | 24.28 | 090
43611 |  | A | Excision of stomach lesion | 20.19 | NA | NA | 7.49 | 7.56 | 2.35 | NA | NA | 30.03 | 30.10 | 090
43620 |  | A | Removal of stomach | 33.85 | NA | NA | 11.02 | 11.62 | 3.95 | NA | NA | 48.82 | 49.42 | 090
43621 |  | A | Removal of stomach | 39.34 | NA | NA | 12.36 | 12.09 | 4.03 | NA | NA | 55.73 | 55.46 | 090
43622 |  | A | Removal of stomach | 39.84 | NA | NA | 12.48 | 12.59 | 4.29 | NA | NA | 56.61 | 56.72 | 090
43631 |  | A | Removal of stomach, partial | 24.32 | NA | NA | 8.55 | 9.02 | 2.98 | NA | NA | 35.85 | 36.32 | 090
43632 |  | A | Removal of stomach, partial | 34.95 | NA | NA | 11.24 | 9.70 | 2.98 | NA | NA | 49.17 | 47.63 | 090
43633 |  | A | Removal of stomach, partial | 32.95 | NA | NA | 10.74 | 9.70 | 3.05 | NA | NA | 46.74 | 45.70 | 090
43634 |  | A | Removal of stomach, partial | 36.45 | NA | NA | 11.69 | 10.51 | 3.32 | NA | NA | 51.46 | 50.28 | 090
43635 |  | A | Removal of stomach, partial | 2.06 | NA | NA | 0.52 | 0.66 | 0.27 | NA | NA | 2.85 | 2.99 | ZZZ
43640 |  | A | Vagotomy & pylorus repair | 19.37 | NA | NA | 7.27 | 7.27 | 2.25 | NA | NA | 28.89 | 28.89 | 090
43641 |  | A | Vagotomy & pylorus repair | 19.62 | NA | NA | 7.30 | 7.36 | 2.24 | NA | NA | 29.16 | 29.22 | 090
43644 |  | A | Lap gastric bypass/roux-en-y | 29.18 | NA | NA | 10.13 | 10.96 | 3.15 | NA | NA | 42.46 | 43.29 | 090
43645 |  | A | Lap gastr bypass incl smll i | 31.31 | NA | NA | 11.28 | 11.85 | 3.53 | NA | NA | 46.12 | 46.69 | 090
43651 |  | A | Laparoscopy, vagus nerve | 10.13 | NA | NA | 4.59 | 4.73 | 1.33 | NA | NA | 16.05 | 16.19 | 090
43652 |  | A | Laparoscopy, vagus nerve | 12.13 | NA | NA | 5.10 | 5.60 | 1.55 | NA | NA | 18.78 | 19.28 | 090
43653 |  | A | Laparoscopy, gastrostomy | 8.34 | NA | NA | 4.34 | 4.23 | 1.01 | NA | NA | 13.69 | 13.58 | 090
43750 |  | A | Place gastrostomy tube | 4.60 | NA | NA | 1.77 | 2.09 | 0.43 | NA | NA | 6.80 | 7.12 | 010
43752 |  | A | Nasal/orogastric w/stent | 0.81 | 0.26 | 0.28 | 0.26 | 0.26 | 0.02 | 1.09 | 1.11 | 1.09 | 1.09 | 000
43760 |  | A | Change gastrostomy tube | 1.10 | 13.41 | 4.92 | 0.40 | 0.44 | 0.09 | 14.60 | 6.11 | 1.59 | 1.63 | 000
43761 |  | A | Reposition gastrostomy tube | 2.01 | 1.05 | 1.14 | 0.69 | 0.67 | 0.13 | 3.19 | 3.28 | 2.83 | 2.81 | 000
43770 |  | A | Lap, place gastr adjust band | 17.79 | NA | NA | 7.53 | 7.68 | 2.18 | NA | NA | 27.50 | 27.65 | 090
43771 |  | A | Lap, revise adjust gast band | 20.58 | NA | NA | 8.10 | 8.48 | 2.54 | NA | NA | 31.22 | 31.60 | 090
43772 |  | A | Lap, remove adjust gast band | 15.58 | NA | NA | 5.94 | 6.32 | 1.92 | NA | NA | 23.44 | 23.82 | 090
43773 |  | A | Lap, change adjust gast band | 20.58 | NA | NA | 8.10 | 8.48 | 2.55 | NA | NA | 31.23 | 31.61 | 090
43774 |  | A | Lap remov adj gast band/port | 15.62 | NA | NA | 6.19 | 6.48 | 1.84 | NA | NA | 23.65 | 23.94 | 090
43800 |  | A | Reconstruction of pylorus | 15.31 | NA | NA | 5.79 | 5.88 | 1.81 | NA | NA | 22.91 | 23.00 | 090
43810 |  | A | Fusion of stomach and bowel | 16.76 | NA | NA | 6.13 | 6.18 | 1.93 | NA | NA | 24.82 | 24.87 | 090
43820 |  | A | Fusion of stomach and bowel | 22.34 | NA | NA | 7.54 | 6.70 | 2.03 | NA | NA | 31.91 | 31.07 | 090
43825 |  | A | Fusion of stomach and bowel | 21.57 | NA | NA | 7.82 | 7.98 | 2.53 | NA | NA | 31.92 | 32.08 | 090
43830 |  | A | Place gastrostomy tube | 10.71 | NA | NA | 5.13 | 4.92 | 1.25 | NA | NA | 17.09 | 16.88 | 090
43831 |  | A | Place gastrostomy tube | 8.31 | NA | NA | 5.11 | 4.67 | 1.03 | NA | NA | 14.45 | 14.01 | 090
43832 |  | A | Place gastrostomy tube | 17.22 | NA | NA | 7.09 | 6.92 | 1.97 | NA | NA | 26.28 | 26.11 | 090
43840 |  | A | Repair of stomach lesion | 22.64 | NA | NA | 8.10 | 7.11 | 2.05 | NA | NA | 32.79 | 31.80 | 090
43842 |  | N | V-band gastroplasty | 20.84 | NA | NA | 7.63 | 7.77 | 2.44 | NA | NA | 30.91 | 31.05 | 090
43843 |  | A | Gastroplasty w/o v-band | 21.02 | NA | NA | 7.76 | 7.78 | 2.45 | NA | NA | 31.23 | 31.25 | 090
43845 |  | A | Gastroplasty duodenal switch | 33.04 | 9.83 | 10.56 | 12.86 | 11.32 | 4.05 | 46.92 | 47.65 | 49.95 | 48.41 | 090
43846 |  | A | Gastric bypass for obesity | 27.15 | NA | NA | 9.90 | 10.01 | 3.18 | NA | NA | 40.23 | 40.34 | 090
43847 |  | A | Gastric bypass incl small i | 30.02 | NA | NA | 10.55 | 10.83 | 3.55 | NA | NA | 44.12 | 44.40 | 090
43848 |  | A | Revision gastroplasty | 32.49 | NA | NA | 11.17 | 11.67 | 3.87 | NA | NA | 47.53 | 48.03 | 090
43850 |  | A | Revise stomach-bowel fusion | 27.39 | NA | NA | 9.28 | 9.70 | 3.27 | NA | NA | 39.94 | 40.36 | 090
43855 |  | A | Revise stomach-bowel fusion | 28.50 | NA | NA | 9.61 | 10.17 | 3.46 | NA | NA | 41.57 | 42.13 | 090
43860 |  | A | Revise stomach-bowel fusion | 27.70 | NA | NA | 9.38 | 9.84 | 3.30 | NA | NA | 40.38 | 40.84 | 090
43865 |  | A | Revise stomach-bowel fusion | 28.86 | NA | NA | 9.93 | 10.38 | 3.50 | NA | NA | 42.29 | 42.74 | 090
43870 |  | A | Repair stomach opening | 11.32 | NA | NA | 4.97 | 4.63 | 1.27 | NA | NA | 17.56 | 17.22 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
43880 |  | A | Repair stomach-bowel fistula | 26.99 | NA | NA | 9.22 | 9.75 | 3.26 | NA | NA | 39.47 | 40.00 | 090
43886 |  | A | Revise gastric port, open | 4.50 | NA | NA | 3.47 | 3.22 | 0.25 | NA | NA | 8.22 | 7.97 | 090
43887 |  | A | Remove gastric port, open | 4.20 | NA | NA | 3.02 | 2.84 | 0.51 | NA | NA | 7.73 | 7.55 | 090
43888 |  | A | Change gastric port, open | 6.30 | NA | NA | 3.96 | 3.82 | 0.70 | NA | NA | 10.96 | 10.82 | 090
44005 |  | A | Freeing of bowel adhesion | 18.34 | NA | NA | 6.53 | 6.68 | 2.14 | NA | NA | 27.01 | 27.16 | 090
44010 |  | A | Incision of small bowel | 14.14 | NA | NA | 5.47 | 5.46 | 1.64 | NA | NA | 21.25 | 21.24 | 090
44015 |  | A | Insert needle cath bowel | 2.62 | NA | NA | 0.68 | 0.83 | 0.35 | NA | NA | 3.65 | 3.80 | ZZZ
44020 |  | A | Explore small intestine | 16.10 | NA | NA | 5.93 | 5.95 | 1.85 | NA | NA | 23.88 | 23.90 | 090
44021 |  | A | Decompress small bowel | 16.19 | NA | NA | 6.23 | 6.04 | 1.86 | NA | NA | 24.28 | 24.09 | 090
44025 |  | A | Incision of large bowel | 16.39 | NA | NA | 6.06 | 6.05 | 1.89 | NA | NA | 24.34 | 24.33 | 090
44050 |  | A | Reduce bowel obstruction | 15.40 | NA | NA | 5.76 | 5.92 | 1.85 | NA | NA | 23.01 | 23.17 | 090
44055 |  | A | Correct malrotation of bowel | 25.49 | NA | NA | 8.43 | 8.67 | 2.90 | NA | NA | 36.82 | 37.06 | 090
44100 |  | A | Biopsy of bowel | 2.01 | NA | NA | 0.92 | 0.76 | 0.17 | NA | NA | 3.10 | 2.94 | 000
44110 |  | A | Excise intestine lesion(s) | 13.92 | NA | NA | 5.47 | 5.30 | 1.55 | NA | NA | 20.94 | 20.77 | 090
44111 |  | A | Excision of bowel lesion(s) | 16.40 | NA | NA | 6.07 | 6.11 | 1.86 | NA | NA | 24.33 | 24.37 | 090
44120 |  | A | Removal of small intestine | 20.70 | NA | NA | 7.25 | 7.13 | 2.24 | NA | NA | 30.19 | 30.07 | 090
44121 |  | A | Removal of small intestine | 4.44 | NA | NA | 1.12 | 1.42 | 0.58 | NA | NA | 6.14 | 6.44 | ZZZ
44125 |  | A | Removal of small intestine | 19.89 | NA | NA | 7.00 | 7.20 | 2.26 | NA | NA | 29.15 | 29.35 | 090
44126 |  | A | Enterectomy w/o taper, cong | 41.94 | NA | NA | 13.72 | 14.04 | 4.68 | NA | NA | 60.34 | 60.66 | 090
44127 |  | A | Enterectomy w/taper, cong | 49.01 | NA | NA | 14.56 | 15.46 | 5.75 | NA | NA | 69.32 | 70.22 | 090
44128 |  | A | Enterectomy cong, add-on | 4.44 | NA | NA | 1.04 | 1.41 | 0.61 | NA | NA | 6.09 | 6.46 | ZZZ
44130 |  | A | Bowel to bowel fusion | 21.92 | NA | NA | 7.56 | 6.56 | 1.87 | NA | NA | 31.35 | 30.35 | 090
44139 |  | A | Mobilization of colon | 2.23 | NA | NA | 0.55 | 0.71 | 0.28 | NA | NA | 3.06 | 3.22 | ZZZ
44140 |  | A | Partial removal of colon | 22.40 | NA | NA | 8.06 | 8.52 | 2.70 | NA | NA | 33.16 | 33.62 | 090
44141 |  | A | Partial removal of colon | 29.69 | NA | NA | 12.06 | 10.57 | 2.52 | NA | NA | 44.27 | 42.78 | 090
44143 |  | A | Partial removal of colon | 27.57 | NA | NA | 10.85 | 10.75 | 3.04 | NA | NA | 41.46 | 41.36 | 090
44144 |  | A | Partial removal of colon | 29.69 | NA | NA | 10.91 | 9.96 | 2.85 | NA | NA | 43.45 | 42.50 | 090
44145 |  | A | Partial removal of colon | 28.39 | NA | NA | 10.06 | 10.64 | 3.28 | NA | NA | 41.73 | 42.31 | 090
44146 |  | A | Partial removal of colon | 35.08 | NA | NA | 13.52 | 13.05 | 3.40 | NA | NA | 52.00 | 51.53 | 090
44147 |  | A | Partial removal of colon | 33.50 | NA | NA | 11.29 | 9.36 | 2.55 | NA | NA | 47.34 | 45.41 | 090
44150 |  | A | Removal of colon | 29.91 | NA | NA | 12.96 | 12.28 | 3.03 | NA | NA | 45.90 | 45.22 | 090
44151 |  | A | Removal of colon/ileostomy | 34.65 | NA | NA | 14.61 | 13.73 | 3.48 | NA | NA | 52.74 | 51.86 | 090
44152 |  | A | Removal of colon/ileostomy | 29.91 | NA | NA | 10.38 | 11.31 | 3.51 | NA | NA | 43.80 | 44.73 | 090
44153 |  | A | Removal of colon/ileostomy | 33.17 | NA | NA | 14.25 | 14.37 | 3.54 | NA | NA | 50.96 | 51.08 | 090
44155 |  | A | Removal of colon/ileostomy | 34.15 | NA | NA | 14.02 | 13.51 | 3.27 | NA | NA | 51.44 | 50.93 | 090
44156 |  | A | Removal of colon/ileostomy | 37.15 | NA | NA | 15.47 | 15.17 | 3.94 | NA | NA | 56.56 | 56.26 | 090
44160 |  | A | Removal of colon | 20.72 | NA | NA | 7.49 | 7.69 | 2.36 | NA | NA | 30.57 | 30.77 | 090
44180 |  | A | Lap, enterolysis | 15.15 | NA | NA | 5.79 | 6.14 | 1.85 | NA | NA | 22.79 | 23.14 | 090
44186 |  | A | Lap, jejunostomy | 10.26 | NA | NA | 4.58 | 4.75 | 1.27 | NA | NA | 16.11 | 16.28 | 090
44187 |  | A | Lap, ileo/jejuno-stomy | 17.21 | NA | NA | 8.15 | 8.26 | 1.95 | NA | NA | 27.31 | 27.42 | 090
44188 |  | A | Lap, colostomy | 19.14 | NA | NA | 8.72 | 8.83 | 2.23 | NA | NA | 30.09 | 30.20 | 090
44202 |  | A | Lap, enterectomy | 23.20 | NA | NA | 8.28 | 8.78 | 2.84 | NA | NA | 34.32 | 34.82 | 090
44203 |  | A | Lap resect s/intestine, addl | 4.44 | NA | NA | 1.12 | 1.41 | 0.57 | NA | NA | 6.13 | 6.42 | ZZZ
44204 |  | A | Laparo partial colectomy | 26.23 | NA | NA | 8.86 | 9.70 | 3.10 | NA | NA | 38.19 | 39.03 | 090
44205 |  | A | Lap colectomy part w/ileum | 22.80 | NA | NA | 7.77 | 8.60 | 2.74 | NA | NA | 33.31 | 34.14 | 090
44206 |  | A | Lap part colectomy w/stoma | 29.57 | NA | NA | 10.45 | 11.07 | 3.45 | NA | NA | 43.47 | 44.09 | 090
44207 |  | A | L colectomy/coloproctostomy | 31.73 | NA | NA | 10.06 | 11.15 | 3.66 | NA | NA | 45.45 | 46.54 | 090
44208 |  | A | L colectomy/coloproctostomy | 33.80 | NA | NA | 11.98 | 12.87 | 3.87 | NA | NA | 49.65 | 50.54 | 090
44210 |  | A | Laparo total proctocolectomy | 29.80 | NA | NA | 11.12 | 11.71 | 3.41 | NA | NA | 44.33 | 44.92 | 090
44211 |  | A | Laparo total proctocolectomy | 36.79 | NA | NA | 13.67 | 14.45 | 4.16 | NA | NA | 54.62 | 55.40 | 090
44212 |  | A | Laparo total proctocolectomy | 34.29 | NA | NA | 13.17 | 13.58 | 3.77 | NA | NA | 51.23 | 51.64 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
44213 |  | A | Lap, mobil splenic fl add-on | 3.50 | NA | NA | 0.87 | 1.13 | 0.44 | NA | NA | 4.81 | 5.07 | ZZZ
44227 |  | A | Lap, close enterostomy | 28.43 | NA | NA | 9.45 | 10.35 | 3.37 | NA | NA | 41.25 | 42.15 | 090
44300 |  | A | Open bowel to skin | 13.61 | NA | NA | 5.58 | 5.52 | 1.60 | NA | NA | 20.79 | 20.73 | 090
44310 |  | A | Ileostomy/jejunostomy | 17.45 | NA | NA | 6.37 | 6.63 | 1.98 | NA | NA | 25.80 | 26.06 | 090
44312 |  | A | Revision of ileostomy | 9.29 | NA | NA | 4.64 | 4.16 | 0.92 | NA | NA | 14.85 | 14.37 | 090
44314 |  | A | Revision of ileostomy | 16.55 | NA | NA | 6.84 | 6.64 | 1.74 | NA | NA | 25.13 | 24.93 | 090
44316 |  | A | Devise bowel pouch | 23.40 | NA | NA | 9.33 | 8.75 | 2.37 | NA | NA | 35.10 | 34.52 | 090
44320 |  | A | Colostomy | 19.69 | NA | NA | 7.58 | 7.65 | 2.25 | NA | NA | 29.52 | 29.59 | 090
44322 |  | A | Colostomy with biopsies | 13.04 | NA | NA | 9.43 | 8.80 | 1.54 | NA | NA | 24.01 | 23.38 | 090
44340 |  | A | Revision of colostomy | 9.06 | NA | NA | 4.94 | 4.44 | 0.99 | NA | NA | 14.99 | 14.49 | 090
44345 |  | A | Revision of colostomy | 17.00 | NA | NA | 6.89 | 6.90 | 1.96 | NA | NA | 25.85 | 25.86 | 090
44346 |  | A | Revision of colostomy | 19.41 | NA | NA | 7.51 | 7.43 | 2.12 | NA | NA | 29.04 | 28.96 | 090
44360 |  | A | Small bowel endoscopy | 2.59 | NA | NA | 1.56 | 1.22 | 0.19 | NA | NA | 4.34 | 4.00 | 000
44361 |  | A | Small bowel endoscopy/biopsy | 2.87 | NA | NA | 1.71 | 1.33 | 0.21 | NA | NA | 4.79 | 4.41 | 000
44363 |  | A | Small bowel endoscopy | 3.49 | NA | NA | 2.02 | 1.54 | 0.27 | NA | NA | 5.78 | 5.30 | 000
44364 |  | A | Small bowel endoscopy | 3.73 | NA | NA | 2.10 | 1.64 | 0.27 | NA | NA | 6.10 | 5.64 | 000
44365 |  | A | Small bowel endoscopy | 3.31 | NA | NA | 1.85 | 1.48 | 0.24 | NA | NA | 5.40 | 5.03 | 000
44366 |  | A | Small bowel endoscopy | 4.40 | NA | NA | 2.48 | 1.93 | 0.32 | NA | NA | 7.20 | 6.65 | 000
44369 |  | A | Small bowel endoscopy | 4.51 | NA | NA | 2.51 | 1.93 | 0.33 | NA | NA | 7.35 | 6.77 | 000
44370 |  | A | Small bowel endoscopy/stent | 4.79 | NA | NA | 2.66 | 2.15 | 0.37 | NA | NA | 7.82 | 7.31 | 000
44372 |  | A | Small bowel endoscopy | 4.40 | NA | NA | 2.20 | 1.86 | 0.35 | NA | NA | 6.95 | 6.61 | 000
44373 |  | A | Small bowel endoscopy | 3.49 | NA | NA | 1.82 | 1.52 | 0.27 | NA | NA | 5.58 | 5.28 | 000
44376 |  | A | Small bowel endoscopy | 5.25 | NA | NA | 2.53 | 2.16 | 0.42 | NA | NA | 8.20 | 7.83 | 000
44377 |  | A | Small bowel endoscopy/biopsy | 5.52 | NA | NA | 2.90 | 2.33 | 0.40 | NA | NA | 8.82 | 8.25 | 000
44378 |  | A | Small bowel endoscopy | 7.12 | NA | NA | 3.69 | 2.95 | 0.52 | NA | NA | 11.33 | 10.59 | 000
44379 |  | A | S bowel endoscope w/stent | 7.46 | NA | NA | 3.38 | 3.04 | 0.62 | NA | NA | 11.46 | 11.12 | 000
44380 |  | A | Small bowel endoscopy | 1.05 | NA | NA | 0.77 | 0.61 | 0.08 | NA | NA | 1.90 | 1.74 | 000
44382 |  | A | Small bowel endoscopy | 1.27 | NA | NA | 0.81 | 0.68 | 0.12 | NA | NA | 2.20 | 2.07 | 000
44383 |  | A | Ileoscopy w/stent | 2.94 | NA | NA | 1.68 | 1.37 | 0.21 | NA | NA | 4.83 | 4.52 | 000
44385 |  | A | Endoscopy of bowel pouch | 1.82 | 4.99 | 3.77 | 0.90 | 0.79 | 0.15 | 6.96 | 5.74 | 2.87 | 2.76 | 000
44386 |  | A | Endoscopy, bowel pouch/biop | 2.12 | 6.90 | 6.72 | 1.07 | 0.93 | 0.20 | 9.22 | 9.04 | 3.39 | 3.25 | 000
44388 |  | A | Colonoscopy | 2.82 | 6.25 | 5.38 | 1.38 | 1.21 | 0.26 | 9.33 | 8.46 | 4.46 | 4.29 | 000
44389 |  | A | Colonoscopy with biopsy | 3.13 | 7.27 | 6.80 | 1.62 | 1.36 | 0.27 | 10.67 | 10.20 | 5.02 | 4.76 | 000
44390 |  | A | Colonoscopy for foreign body | 3.82 | 8.17 | 7.39 | 1.84 | 1.58 | 0.32 | 12.31 | 11.53 | 5.98 | 5.72 | 000
44391 |  | A | Colonoscopy for bleeding | 4.31 | 9.24 | 8.87 | 2.29 | 1.84 | 0.34 | 13.89 | 13.52 | 6.94 | 6.49 | 000
44392 |  | A | Colonoscopy & polypectomy | 3.81 | 7.52 | 6.83 | 1.74 | 1.55 | 0.34 | 11.67 | 10.98 | 5.89 | 5.70 | 000
44393 |  | A | Colonoscopy, lesion removal | 4.83 | 8.05 | 7.20 | 2.09 | 1.93 | 0.42 | 13.30 | 12.45 | 7.34 | 7.18 | 000
44394 |  | A | Colonoscopy w/snare | 4.42 | 8.70 | 8.05 | 2.12 | 1.82 | 0.38 | 13.50 | 12.85 | 6.92 | 6.62 | 000
44397 |  | A | Colonoscopy w/stent | 4.70 | NA | NA | 2.37 | 1.94 | 0.39 | NA | NA | 7.46 | 7.03 | 000
44500 |  | A | Intro, gastrointestinal tube | 0.49 | NA | NA | 0.17 | 0.16 | 0.03 | NA | NA | 0.69 | 0.68 | 000
44602 |  | A | Suture, small intestine | 24.60 | NA | NA | 7.61 | 6.71 | 2.11 | NA | NA | 34.32 | 33.42 | 090
44603 |  | A | Suture, small intestine | 27.97 | NA | NA | 8.46 | 7.58 | 2.41 | NA | NA | 38.84 | 37.96 | 090
44604 |  | A | Suture, large intestine | 18.02 | NA | NA | 6.05 | 6.37 | 2.11 | NA | NA | 26.18 | 26.50 | 090
44605 |  | A | Repair of bowel lesion | 21.96 | NA | NA | 7.86 | 8.27 | 2.51 | NA | NA | 32.33 | 32.74 | 090
44615 |  | A | Intestinal stricturoplasty | 18.04 | NA | NA | 6.54 | 6.65 | 2.06 | NA | NA | 26.64 | 26.75 | 090
44620 |  | A | Repair bowel opening | 14.31 | NA | NA | 5.48 | 5.38 | 1.51 | NA | NA | 21.30 | 21.20 | 090
44625 |  | A | Repair bowel opening | 17.16 | NA | NA | 6.14 | 6.28 | 1.85 | NA | NA | 25.15 | 25.29 | 090
44626 |  | A | Repair bowel opening | 27.78 | NA | NA | 8.89 | 9.60 | 3.26 | NA | NA | 39.93 | 40.64 | 090
44640 |  | A | Repair bowel-skin fistula | 24.08 | NA | NA | 8.03 | 8.45 | 2.77 | NA | NA | 34.88 | 35.30 | 090
44650 |  | A | Repair bowel fistula | 25.00 | NA | NA | 8.27 | 8.75 | 2.92 | NA | NA | 36.19 | 36.67 | 090
44660 |  | A | Repair bowel-bladder fistula | 23.79 | NA | NA | 9.84 | 8.73 | 2.13 | NA | NA | 35.76 | 34.65 | 090
44661 |  | A | Repair bowel-bladder fistula | 27.23 | NA | NA | 9.42 | 9.54 | 2.80 | NA | NA | 39.45 | 39.57 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
44680 |  | A | Surgical revision, intestine | 17.84 | NA | NA | 6.56 | 6.49 | 1.99 | NA | NA | 26.39 | 26.32 | 090
44700 |  | A | Suspend bowel w/prosthesis | 17.36 | NA | NA | 6.18 | 6.56 | 1.83 | NA | NA | 25.37 | 25.75 | 090
44701 |  | A | Intraop colon lavage add-on | 3.10 | NA | NA | 0.76 | 0.99 | 0.37 | NA | NA | 4.23 | 4.46 | ZZZ
44720 |  | A | Prep donor intestine/venous | 5.00 | NA | NA | 1.22 | 1.59 | 0.37 | NA | NA | 6.59 | 6.96 | XXX
44721 |  | A | Prep donor intestine/artery | 7.00 | NA | NA | 1.77 | 2.24 | 0.97 | NA | NA | 9.74 | 10.21 | XXX
44800 |  | A | Excision of bowel pouch | 11.87 | NA | NA | 5.51 | 5.43 | 1.47 | NA | NA | 18.85 | 18.77 | 090
44820 |  | A | Excision of mesentery lesion | 13.59 | NA | NA | 5.59 | 5.52 | 1.59 | NA | NA | 20.77 | 20.70 | 090
44850 |  | A | Repair of mesentery | 11.99 | NA | NA | 4.99 | 5.01 | 1.39 | NA | NA | 18.37 | 18.39 | 090
44900 |  | A | Drain app abscess, open | 12.38 | NA | NA | 5.02 | 4.78 | 1.33 | NA | NA | 18.73 | 18.49 | 090
44901 |  | A | Drain app abscess, percut | 3.37 | 20.70 | 26.15 | 1.16 | 1.12 | 0.22 | 24.29 | 29.74 | 4.75 | 4.71 | 000
44950 |  | A | Appendectomy | 10.48 | NA | NA | 4.04 | 4.25 | 1.31 | NA | NA | 15.83 | 16.04 | 090
44955 |  | A | Appendectomy add-on | 1.53 | NA | NA | 0.40 | 0.51 | 0.20 | NA | NA | 2.13 | 2.24 | ZZZ
44960 |  | A | Appendectomy | 14.33 | NA | NA | 5.39 | 5.36 | 1.63 | NA | NA | 21.35 | 21.32 | 090
44970 |  | A | Laparoscopy, appendectomy | 9.31 | NA | NA | 4.19 | 4.12 | 1.14 | NA | NA | 14.64 | 14.57 | 090
45000 |  | A | Drainage of pelvic abscess | 6.16 | NA | NA | 3.59 | 3.13 | 0.52 | NA | NA | 10.27 | 9.81 | 090
45005 |  | A | Drainage of rectal abscess | 1.99 | 3.99 | 4.04 | 1.59 | 1.58 | 0.25 | 6.23 | 6.28 | 3.83 | 3.82 | 010
45020 |  | A | Drainage of rectal abscess | 8.37 | NA | NA | 4.58 | 3.61 | 0.55 | NA | NA | 13.50 | 12.53 | 090
45100 |  | A | Biopsy of rectum | 3.92 | NA | NA | 2.83 | 2.49 | 0.44 | NA | NA | 7.19 | 6.85 | 090
45108 |  | A | Removal of anorectal lesion | 5.00 | NA | NA | 3.06 | 2.85 | 0.59 | NA | NA | 8.65 | 8.44 | 090
45110 |  | A | Removal of rectum | 30.49 | NA | NA | 11.83 | 12.28 | 3.35 | NA | NA | 45.67 | 46.12 | 090
45111 |  | A | Partial removal of rectum | 17.81 | NA | NA | 6.98 | 7.13 | 2.06 | NA | NA | 26.85 | 27.00 | 090
45112 |  | A | Removal of rectum | 32.99 | NA | NA | 10.24 | 11.40 | 3.42 | NA | NA | 46.65 | 47.81 | 090
45113 |  | A | Partial proctectomy | 33.03 | NA | NA | 11.44 | 12.33 | 3.48 | NA | NA | 47.95 | 48.84 | 090
45114 |  | A | Partial removal of rectum | 30.57 | NA | NA | 10.29 | 10.75 | 3.35 | NA | NA | 44.21 | 44.67 | 090
45116 |  | A | Partial removal of rectum | 27.50 | NA | NA | 9.35 | 9.88 | 2.87 | NA | NA | 39.72 | 40.25 | 090
45119 |  | A | Remove rectum w/reservoir | 33.29 | NA | NA | 11.56 | 12.26 | 3.35 | NA | NA | 48.20 | 48.90 | 090
45120 |  | A | Removal of rectum | 26.15 | NA | NA | 9.31 | 9.94 | 2.89 | NA | NA | 38.35 | 38.98 | 090
45121 |  | A | Removal of rectum and colon | 28.83 | NA | NA | 10.19 | 10.90 | 3.24 | NA | NA | 42.26 | 42.97 | 090
45123 |  | A | Partial proctectomy | 18.64 | NA | NA | 6.99 | 6.90 | 1.85 | NA | NA | 27.48 | 27.39 | 090
45126 |  | A | Pelvic exenteration | 48.81 | NA | NA | 17.12 | 18.73 | 4.32 | NA | NA | 70.25 | 71.86 | 090
45130 |  | A | Excision of rectal prolapse | 18.31 | NA | NA | 6.65 | 6.75 | 1.79 | NA | NA | 26.75 | 26.85 | 090
45135 |  | A | Excision of rectal prolapse | 22.07 | NA | NA | 9.27 | 8.64 | 2.35 | NA | NA | 33.69 | 33.06 | 090
45136 |  | A | Excise ileoanal reservior | 30.55 | NA | NA | 11.74 | 12.35 | 2.81 | NA | NA | 45.10 | 45.71 | 090
45150 |  | A | Excision of rectal stricture | 5.72 | NA | NA | 3.39 | 3.08 | 0.61 | NA | NA | 9.72 | 9.41 | 090
45160 |  | A | Excision of rectal lesion | 16.11 | NA | NA | 6.53 | 6.63 | 1.67 | NA | NA | 24.31 | 24.41 | 090
45170 |  | A | Excision of rectal lesion | 12.42 | NA | NA | 5.35 | 5.28 | 1.35 | NA | NA | 19.12 | 19.05 | 090
45190 |  | A | Destruction, rectal tumor | 10.23 | NA | NA | 4.94 | 4.71 | 1.13 | NA | NA | 16.30 | 16.07 | 090
45300 |  | A | Proctosigmoidoscopy dx | 0.38 | 2.00 | 1.65 | 0.35 | 0.30 | 0.04 | 2.42 | 2.07 | 0.77 | 0.72 | 000
45303 |  | A | Proctosigmoidoscopy dilate | 0.44 | 19.69 | 18.97 | 0.38 | 0.34 | 0.05 | 20.18 | 19.46 | 0.87 | 0.83 | 000
45305 |  | A | Proctosigmoidoscopy w/bx | 1.01 | 3.31 | 2.81 | 0.53 | 0.51 | 0.11 | 4.43 | 3.93 | 1.65 | 1.63 | 000
45307 |  | A | Proctosigmoidoscopy fb | 0.94 | 3.50 | 3.16 | 0.50 | 0.49 | 0.11 | 4.55 | 4.21 | 1.55 | 1.54 | 000
45308 |  | A | Proctosigmoidoscopy removal | 0.83 | 3.31 | 2.33 | 0.49 | 0.45 | 0.09 | 4.23 | 3.25 | 1.41 | 1.37 | 000
45309 |  | A | Proctosigmoidoscopy removal | 2.01 | 3.74 | 3.05 | 0.83 | 0.84 | 0.22 | 5.97 | 5.28 | 3.06 | 3.07 | 000
45315 |  | A | Proctosigmoidoscopy removal | 1.40 | 3.75 | 3.09 | 0.65 | 0.64 | 0.15 | 5.30 | 4.64 | 2.20 | 2.19 | 000
45317 |  | A | Proctosigmoidoscopy bleed | 1.50 | 3.85 | 2.79 | 0.66 | 0.66 | 0.15 | 5.50 | 4.44 | 2.31 | 2.31 | 000
45320 |  | A | Proctosigmoidoscopy ablate | 1.58 | 4.53 | 3.32 | 0.76 | 0.72 | 0.16 | 6.27 | 5.06 | 2.50 | 2.46 | 000
45321 |  | A | Proctosigmoidoscopy volvul | 1.17 | NA | NA | 0.66 | 0.59 | 0.13 | NA | NA | 1.96 | 1.89 | 000
45327 |  | A | Proctosigmoidoscopy w/stent | 1.65 | NA | NA | 0.86 | 0.73 | 0.16 | NA | NA | 2.67 | 2.54 | 000
45330 |  | A | Diagnostic sigmoidoscopy | 0.96 | 2.54 | 2.35 | 0.63 | 0.53 | 0.08 | 3.58 | 3.39 | 1.67 | 1.57 | 000
45331 |  | A | Sigmoidoscopy and biopsy | 1.15 | 3.34 | 3.15 | 0.81 | 0.65 | 0.09 | 4.58 | 4.39 | 2.05 | 1.89 | 000
45332 |  | A | Sigmoidoscopy w/fb removal | 1.79 | 5.77 | 5.20 | 1.06 | 0.87 | 0.16 | 7.72 | 7.15 | 3.01 | 2.82 | 000
45333 |  | A | Sigmoidoscopy & polypectomy | 1.79 | 5.76 | 5.10 | 1.01 | 0.85 | 0.15 | 7.70 | 7.04 | 2.95 | 2.79 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
45334 |  | A | Sigmoidoscopy for bleeding | 2.73 | NA | NA | 1.58 | 1.25 | 0.20 | NA | NA | 4.51 | 4.18 | 000
45335 |  | A | Sigmoidoscopy w/submuc inj | 1.46 | 5.47 | 3.78 | 0.93 | 0.75 | 0.11 | 7.04 | 5.35 | 2.50 | 2.32 | 000
45337 |  | A | Sigmoidoscopy & decompress | 2.36 | NA | NA | 1.27 | 1.07 | 0.21 | NA | NA | 3.84 | 3.64 | 000
45338 |  | A | Sigmoidoscopy w/tumr remove | 2.34 | 6.02 | 5.43 | 1.31 | 1.08 | 0.19 | 8.55 | 7.96 | 3.84 | 3.61 | 000
45339 |  | A | Sigmoidoscopy w/ablate tumr | 3.14 | 5.92 | 4.08 | 1.73 | 1.39 | 0.26 | 9.32 | 7.48 | 5.13 | 4.79 | 000
45340 |  | A | Sig w/balloon dilation | 1.89 | 10.51 | 7.27 | 1.07 | 0.89 | 0.15 | 12.55 | 9.31 | 3.11 | 2.93 | 000
45341 |  | A | Sigmoidoscopy w/ultrasound | 2.60 | NA | NA | 1.51 | 1.18 | 0.19 | NA | NA | 4.30 | 3.97 | 000
45342 |  | A | Sigmoidoscopy w/us guide bx | 4.05 | NA | NA | 2.25 | 1.72 | 0.30 | NA | NA | 6.60 | 6.07 | 000
45345 |  | A | Sigmoidoscopy w/stent | 2.92 | NA | NA | 1.60 | 1.27 | 0.23 | NA | NA | 4.75 | 4.42 | 000
45355 |  | A | Surgical colonoscopy | 3.51 | NA | NA | 1.59 | 1.43 | 0.36 | NA | NA | 5.46 | 5.30 | 000
45378 |  | A | Diagnostic colonoscopy | 3.69 | 6.55 | 6.26 | 1.88 | 1.57 | 0.30 | 10.54 | 10.25 | 5.87 | 5.56 | 000
45378 | 53 | A | Diagnostic sigmoidoscopy | 0.96 | 2.54 | 2.35 | 0.63 | 0.53 | 0.08 | 3.58 | 3.39 | 1.67 | 1.57 | 000
45379 |  | A | Colonoscopy w/fb removal | 4.68 | 8.37 | 7.85 | 2.28 | 1.94 | 0.39 | 13.44 | 12.92 | 7.35 | 7.01 | 000
45380 |  | A | Colonoscopy and biopsy | 4.43 | 7.96 | 7.40 | 2.31 | 1.88 | 0.35 | 12.74 | 12.18 | 7.09 | 6.66 | 000
45381 |  | A | Colonoscopy, submucous inj | 4.19 | 7.94 | 7.33 | 2.24 | 1.80 | 0.30 | 12.43 | 11.82 | 6.73 | 6.29 | 000
45382 |  | A | Colonoscopy/control bleeding | 5.68 | 10.67 | 10.15 | 3.00 | 2.39 | 0.41 | 16.76 | 16.24 | 9.09 | 8.48 | 000
45383 |  | A | Lesion removal colonoscopy | 5.86 | 8.78 | 8.15 | 2.73 | 2.36 | 0.48 | 15.12 | 14.49 | 9.07 | 8.70 | 000
45384 |  | A | Lesion remove colonoscopy | 4.69 | 7.40 | 6.97 | 2.27 | 1.94 | 0.38 | 12.47 | 12.04 | 7.34 | 7.01 | 000
45385 |  | A | Lesion removal colonoscopy | 5.30 | 8.59 | 8.01 | 2.67 | 2.20 | 0.42 | 14.31 | 13.73 | 8.39 | 7.92 | 000
45386 |  | A | Colonoscopy dilate stricture | 4.57 | 12.65 | 12.49 | 2.25 | 1.91 | 0.39 | 17.61 | 17.45 | 7.21 | 6.87 | 000
45387 |  | A | Colonoscopy w/stent | 5.90 | NA | NA | 3.01 | 2.51 | 0.48 | NA | NA | 9.39 | 8.89 | 000
45391 |  | A | Colonoscopy w/endoscope us | 5.09 | NA | NA | 2.66 | 2.15 | 0.42 | NA | NA | 8.17 | 7.66 | 000
45392 |  | A | Colonoscopy w/endoscopic fnb | 6.54 | NA | NA | 3.23 | 2.68 | 0.42 | NA | NA | 10.19 | 9.64 | 000
45395 |  | A | Lap, removal of rectum | 32.71 | NA | NA | 12.90 | 13.51 | 3.62 | NA | NA | 49.23 | 49.84 | 090
45397 |  | A | Lap, remove rectum w/pouch | 36.21 | NA | NA | 13.43 | 14.08 | 3.66 | NA | NA | 53.30 | 53.95 | 090
45400 |  | A | Laparoscopic proctopexy | 19.25 | NA | NA | 7.09 | 7.66 | 2.02 | NA | NA | 28.36 | 28.93 | 090
45402 |  | A | Lap proctopexy w/sig resect | 26.32 | NA | NA | 8.74 | 9.69 | 2.81 | NA | NA | 37.87 | 38.82 | 090
45500 |  | A | Repair of rectum | 7.58 | NA | NA | 3.79 | 3.60 | 0.75 | NA | NA | 12.12 | 11.93 | 090
45505 |  | A | Repair of rectum | 8.14 | NA | NA | 4.52 | 4.03 | 0.86 | NA | NA | 13.52 | 13.03 | 090
45520 |  | A | Treatment of rectal prolapse | 0.55 | 3.08 | 2.00 | 0.41 | 0.38 | 0.05 | 3.68 | 2.60 | 1.01 | 0.98 | 000
45540 |  | A | Correct rectal prolapse | 17.98 | NA | NA | 5.73 | 6.54 | 1.84 | NA | NA | 25.55 | 26.36 | 090
45541 |  | A | Correct rectal prolapse | 14.66 | NA | NA | 5.96 | 5.96 | 1.55 | NA | NA | 22.17 | 22.17 | 090
45550 |  | A | Repair rectum/remove sigmoid | 24.61 | NA | NA | 8.34 | 9.02 | 2.61 | NA | NA | 35.56 | 36.24 | 090
45560 |  | A | Repair of rectocele | 11.38 | NA | NA | 4.95 | 5.03 | 1.13 | NA | NA | 17.46 | 17.54 | 090
45562 |  | A | Exploration/repair of rectum | 17.74 | NA | NA | 7.58 | 7.15 | 1.83 | NA | NA | 27.15 | 26.72 | 090
45563 |  | A | Exploration/repair of rectum | 26.14 | NA | NA | 10.28 | 10.48 | 3.10 | NA | NA | 39.52 | 39.72 | 090
45800 |  | A | Repair rect/bladder fistula | 20.12 | NA | NA | 8.67 | 7.75 | 1.85 | NA | NA | 30.64 | 29.72 | 090
45805 |  | A | Repair fistula w/colostomy | 23.13 | NA | NA | 8.51 | 9.28 | 2.02 | NA | NA | 33.66 | 34.43 | 090
45820 |  | A | Repair rectourethral fistula | 20.18 | NA | NA | 8.82 | 7.94 | 1.58 | NA | NA | 30.58 | 29.70 | 090
45825 |  | A | Repair fistula w/colostomy | 23.93 | NA | NA | 10.39 | 9.98 | 2.31 | NA | NA | 36.63 | 36.22 | 090
45900 |  | A | Reduction of rectal prolapse | 2.94 | NA | NA | 1.68 | 1.55 | 0.30 | NA | NA | 4.92 | 4.79 | 010
45905 |  | A | Dilation of anal sphincter | 2.30 | NA | NA | 1.65 | 1.49 | 0.27 | NA | NA | 4.22 | 4.06 | 010
45910 |  | A | Dilation of rectal narrowing | 2.80 | NA | NA | 1.81 | 1.70 | 0.30 | NA | NA | 4.91 | 4.80 | 010
45915 |  | A | Remove rectal obstruction | 3.14 | 4.26 | 4.31 | 2.04 | 2.09 | 0.30 | 7.70 | 7.75 | 5.48 | 5.53 | 010
45990 |  | A | Surg dx exam, anorectal | 1.80 | NA | NA | 0.78 | 0.79 | 0.17 | NA | NA | 2.75 | 2.76 | 000
46020 |  | A | Placement of seton | 2.90 | 3.27 | 2.57 | 2.35 | 1.98 | 0.31 | 6.48 | 5.78 | 5.56 | 5.19 | 010
46030 |  | A | Removal of rectal marker | 1.23 | 1.89 | 1.49 | 0.81 | 0.74 | 0.14 | 3.26 | 2.86 | 2.18 | 2.11 | 010
46040 |  | A | Incision of rectal abscess | 5.20 | 6.71 | 5.81 | 4.14 | 3.73 | 0.62 | 12.53 | 11.63 | 9.96 | 9.55 | 090
46045 |  | A | Incision of rectal abscess | 5.75 | NA | NA | 3.83 | 3.13 | 0.54 | NA | NA | 10.12 | 9.42 | 090
46050 |  | A | Incision of anal abscess | 1.19 | 3.19 | 2.71 | 0.97 | 0.87 | 0.14 | 4.52 | 4.04 | 2.30 | 2.20 | 010
46060 |  | A | Incision of rectal abscess | 6.18 | NA | NA | 3.82 | 3.39 | 0.67 | NA | NA | 10.67 | 10.24 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
46070 |  | A | Incision of anal septum | 2.71 | NA | NA | 1.86 | 1.85 | 0.36 | NA | NA | 4.93 | 4.92 | 090
46080 |  | A | Incision of anal sphincter | 2.49 | 3.07 | 2.55 | 1.12 | 1.13 | 0.30 | 5.86 | 5.34 | 3.91 | 3.92 | 010
46083 |  | A | Incise external hemorrhoid | 1.40 | 2.34 | 2.48 | 0.94 | 0.93 | 0.15 | 3.89 | 4.03 | 2.49 | 2.48 | 010
46200 |  | A | Removal of anal fissure | 3.41 | 6.30 | 4.47 | 3.72 | 3.08 | 0.39 | 10.10 | 8.27 | 7.52 | 6.88 | 090
46210 |  | A | Removal of anal crypt | 2.67 | 5.96 | 5.33 | 3.36 | 2.81 | 0.31 | 8.94 | 8.31 | 6.34 | 5.79 | 090
46211 |  | A | Removal of anal crypts | 4.24 | 7.18 | 5.86 | 4.12 | 3.66 | 0.48 | 11.90 | 10.58 | 8.84 | 8.38 | 090
46220 |  | A | Removal of anal tag | 1.56 | 3.00 | 2.48 | 1.09 | 0.99 | 0.17 | 4.73 | 4.21 | 2.82 | 2.72 | 010
46221 |  | A | Ligation of hemorrhoid(s) | 2.29 | 3.74 | 2.92 | 2.00 | 1.81 | 0.23 | 6.26 | 5.44 | 4.52 | 4.33 | 010
46230 |  | A | Removal of anal tags | 2.57 | 3.50 | 3.19 | 1.32 | 1.30 | 0.30 | 6.37 | 6.06 | 4.19 | 4.17 | 010
46250 |  | A | Hemorrhoidectomy | 4.13 | 5.99 | 5.49 | 2.84 | 2.68 | 0.48 | 10.60 | 10.10 | 7.45 | 7.29 | 090
46255 |  | A | Hemorrhoidectomy | 4.84 | 6.41 | 5.99 | 3.10 | 2.91 | 0.58 | 11.83 | 11.41 | 8.52 | 8.33 | 090
46257 |  | A | Remove hemorrhoids & fissure | 5.64 | NA | NA | 3.22 | 2.97 | 0.64 | NA | NA | 9.50 | 9.25 | 090
46258 |  | A | Remove hemorrhoids & fistula | 6.22 | NA | NA | 3.85 | 3.42 | 0.68 | NA | NA | 10.75 | 10.32 | 090
46260 |  | A | Hemorrhoidectomy | 6.61 | NA | NA | 3.46 | 3.26 | 0.76 | NA | NA | 10.83 | 10.63 | 090
46261 |  | A | Remove hemorrhoids & fissure | 7.57 | NA | NA | 4.17 | 3.75 | 0.79 | NA | NA | 12.53 | 12.11 | 090
46262 |  | A | Remove hemorrhoids & fistula | 7.74 | NA | NA | 4.09 | 3.83 | 0.83 | NA | NA | 12.66 | 12.40 | 090
46270 |  | A | Removal of anal fistula | 4.75 | 5.94 | 5.24 | 3.53 | 3.01 | 0.46 | 11.15 | 10.45 | 8.74 | 8.22 | 090
46275 |  | A | Removal of anal fistula | 5.25 | 6.28 | 5.05 | 3.63 | 3.14 | 0.52 | 12.05 | 10.82 | 9.40 | 8.91 | 090
46280 |  | A | Removal of anal fistula | 6.22 | NA | NA | 3.79 | 3.39 | 0.66 | NA | NA | 10.67 | 10.27 | 090
46285 |  | A | Removal of anal fistula | 5.25 | 6.07 | 4.35 | 3.46 | 2.93 | 0.44 | 11.76 | 10.04 | 9.15 | 8.62 | 090
46288 |  | A | Repair anal fistula | 7.62 | NA | NA | 4.09 | 3.78 | 0.79 | NA | NA | 12.50 | 12.19 | 090
46320 |  | A | Removal of hemorrhoid clot | 1.61 | 2.41 | 2.20 | 0.88 | 0.86 | 0.18 | 4.20 | 3.99 | 2.67 | 2.65 | 010
46500 |  | A | Injection into hemorrhoid(s) | 1.61 | 3.61 | 2.49 | 1.24 | 1.17 | 0.16 | 5.38 | 4.26 | 3.01 | 2.94 | 010
46505 |  | A | Chemodenervation anal musc | 3.11 | 3.28 | 3.11 | 2.29 | 2.05 | 0.14 | 6.53 | 6.36 | 5.54 | 5.30 | 010
46600 |  | A | Diagnostic anoscopy | 0.50 | 1.48 | 1.54 | 0.37 | 0.35 | 0.05 | 2.03 | 2.09 | 0.92 | 0.90 | 000
46604 |  | A | Anoscopy and dilation | 1.31 | 12.66 | 10.03 | 0.58 | 0.61 | 0.12 | 14.09 | 11.46 | 2.01 | 2.04 | 000
46606 |  | A | Anoscopy and biopsy | 0.81 | 4.01 | 3.85 | 0.47 | 0.44 | 0.09 | 4.91 | 4.75 | 1.37 | 1.34 | 000
46608 |  | A | Anoscopy, remove for body | 1.51 | 4.04 | 4.32 | 0.61 | 0.64 | 0.16 | 5.71 | 5.99 | 2.28 | 2.31 | 000
46610 |  | A | Anoscopy, remove lesion | 1.32 | 4.32 | 4.11 | 0.67 | 0.63 | 0.15 | 5.79 | 5.58 | 2.14 | 2.10 | 000
46611 |  | A | Anoscopy | 1.81 | 2.88 | 3.23 | 0.72 | 0.77 | 0.19 | 4.88 | 5.23 | 2.72 | 2.77 | 000
46612 |  | A | Anoscopy, remove lesions | 2.34 | 5.54 | 5.29 | 0.95 | 0.97 | 0.28 | 8.16 | 7.91 | 3.57 | 3.59 | 000
46614 |  | A | Anoscopy, control bleeding | 2.01 | 2.79 | 2.45 | 0.83 | 0.84 | 0.20 | 5.00 | 4.66 | 3.04 | 3.05 | 000
46615 |  | A | Anoscopy | 2.68 | 2.42 | 2.47 | 0.96 | 1.04 | 0.33 | 5.43 | 5.48 | 3.97 | 4.05 | 000
46700 |  | A | Repair of anal stricture | 9.62 | NA | NA | 4.55 | 4.30 | 0.94 | NA | NA | 15.11 | 14.86 | 090
46705 |  | A | Repair of anal stricture | 7.25 | NA | NA | 3.55 | 3.66 | 0.91 | NA | NA | 11.71 | 11.82 | 090
46706 |  | A | Repr of anal fistula w/glue | 2.39 | NA | NA | 1.44 | 1.30 | 0.28 | NA | NA | 4.11 | 3.97 | 010
46710 |  | A | Repr per/vag pouch sngl proc | 16.95 | NA | NA | 7.70 | 7.75 | 1.38 | NA | NA | 26.03 | 26.08 | 090
46712 |  | A | Repr per/vag pouch dbl proc | 36.26 | NA | NA | 13.98 | 14.81 | 3.66 | NA | NA | 53.90 | 54.73 | 090
46715 |  | A | Rep perf anoper fistu | 7.49 | NA | NA | 3.24 | 3.50 | 0.92 | NA | NA | 11.65 | 11.91 | 090
46716 |  | A | Rep perf anoper/vestib fistu | 17.04 | NA | NA | 8.96 | 8.23 | 1.58 | NA | NA | 27.58 | 26.85 | 090
46730 |  | A | Construction of absent anus | 30.05 | NA | NA | 10.92 | 11.77 | 2.46 | NA | NA | 43.43 | 44.28 | 090
46735 |  | A | Construction of absent anus | 35.54 | NA | NA | 12.73 | 13.37 | 3.20 | NA | NA | 51.47 | 52.11 | 090
46740 |  | A | Construction of absent anus | 33.30 | NA | NA | 13.86 | 13.41 | 2.41 | NA | NA | 49.57 | 49.12 | 090
46742 |  | A | Repair of imperforated anus | 39.54 | NA | NA | 15.36 | 16.91 | 3.19 | NA | NA | 58.09 | 59.64 | 090
46744 |  | A | Repair of cloacal anomaly | 58.34 | NA | NA | 20.47 | 21.00 | 6.38 | NA | NA | 85.19 | 85.72 | 090
46746 |  | A | Repair of cloacal anomaly | 64.79 | NA | NA | 18.82 | 23.61 | 7.68 | NA | NA | 91.29 | 96.08 | 090
46748 |  | A | Repair of cloacal anomaly | 70.77 | NA | NA | 20.16 | 22.82 | 3.36 | NA | NA | 94.29 | 96.95 | 090
46750 |  | A | Repair of anal sphincter | 11.96 | NA | NA | 5.19 | 5.09 | 1.10 | NA | NA | 18.25 | 18.15 | 090
46751 |  | A | Repair of anal sphincter | 9.12 | NA | NA | 3.91 | 5.05 | 0.94 | NA | NA | 13.97 | 15.11 | 090
46753 |  | A | Reconstruction of anus | 8.77 | NA | NA | 4.01 | 3.89 | 0.94 | NA | NA | 13.72 | 13.60 | 090
46754 |  | A | Removal of suture from anus | 2.82 | 3.70 | 3.63 | 2.25 | 1.82 | 0.19 | 6.71 | 6.64 | 5.26 | 4.83 | 010
46760 |  | A | Repair of anal sphincter | 17.11 | NA | NA | 7.67 | 7.24 | 1.59 | NA | NA | 26.37 | 25.94 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
46761 |  | A | Repair of anal sphincter | 15.10 | NA | NA | 5.83 | 5.97 | 1.43 | NA | NA | 22.36 | 22.50 | 090
46762 |  | A | Implant artificial sphincter | 14.58 | NA | NA | 6.23 | 5.71 | 1.24 | NA | NA | 22.05 | 21.53 | 090
46900 |  | A | Destruction, anal lesion(s) | 1.91 | 3.62 | 2.85 | 1.29 | 1.28 | 0.17 | 5.70 | 4.93 | 3.37 | 3.36 | 010
46910 |  | A | Destruction, anal lesion(s) | 1.86 | 3.88 | 3.15 | 1.19 | 1.09 | 0.19 | 5.93 | 5.20 | 3.24 | 3.14 | 010
46916 |  | A | Cryosurgery, anal lesion(s) | 1.86 | 3.73 | 3.30 | 1.55 | 1.43 | 0.11 | 5.70 | 5.27 | 3.52 | 3.40 | 010
46917 |  | A | Laser surgery, anal lesions | 1.86 | 8.71 | 9.04 | 1.20 | 1.14 | 0.21 | 10.78 | 11.11 | 3.27 | 3.21 | 010
46922 |  | A | Excision of anal lesion(s) | 1.86 | 4.13 | 3.49 | 1.19 | 1.10 | 0.22 | 6.21 | 5.57 | 3.27 | 3.18 | 010
46924 |  | A | Destruction, anal lesion(s) | 2.76 | 9.62 | 8.94 | 1.52 | 1.39 | 0.26 | 12.64 | 11.96 | 4.54 | 4.41 | 010
46934 |  | A | Destruction of hemorrhoids | 3.75 | 5.42 | 5.17 | 2.80 | 2.92 | 0.32 | 9.49 | 9.24 | 6.87 | 6.99 | 090
46935 |  | A | Destruction of hemorrhoids | 2.43 | 3.68 | 3.52 | 1.07 | 1.18 | 0.23 | 6.34 | 6.18 | 3.73 | 3.84 | 010
46936 |  | A | Destruction of hemorrhoids | 3.68 | 6.25 | 5.22 | 2.64 | 2.54 | 0.34 | 10.27 | 9.24 | 6.66 | 6.56 | 090
46937 |  | A | Cryotherapy of rectal lesion | 2.69 | 4.06 | 3.10 | 1.82 | 1.37 | 0.14 | 6.89 | 5.93 | 4.65 | 4.20 | 010
46938 |  | A | Cryotherapy of rectal lesion | 4.65 | 5.81 | 4.45 | 3.63 | 3.20 | 0.58 | 11.04 | 9.68 | 8.86 | 8.43 | 090
46940 |  | A | Treatment of anal fissure | 2.32 | 2.84 | 2.21 | 1.03 | 1.08 | 0.23 | 5.39 | 4.76 | 3.58 | 3.63 | 010
46942 |  | A | Treatment of anal fissure | 2.04 | 2.81 | 2.08 | 0.95 | 1.00 | 0.19 | 5.04 | 4.31 | 3.18 | 3.23 | 010
46945 |  | A | Ligation of hemorrhoids | 2.09 | 4.86 | 3.67 | 3.01 | 2.61 | 0.19 | 7.14 | 5.95 | 5.29 | 4.89 | 090
46946 |  | A | Ligation of hemorrhoids | 2.58 | 4.70 | 3.97 | 2.69 | 2.47 | 0.27 | 7.55 | 6.82 | 5.54 | 5.32 | 090
46947 |  | A | Hemorrhoidopexy by stapling | 5.45 | NA | NA | 3.09 | 2.81 | 0.75 | NA | NA | 9.29 | 9.01 | 090
47000 |  | A | Needle biopsy of liver | 1.90 | 8.03 | 4.32 | 0.69 | 0.65 | 0.12 | 10.05 | 6.34 | 2.71 | 2.67 | 000
47001 |  | A | Needle biopsy, liver add-on | 1.90 | NA | NA | 0.48 | 0.61 | 0.25 | NA | NA | 2.63 | 2.76 | ZZZ
47010 |  | A | Open drainage, liver lesion | 19.21 | NA | NA | 8.30 | 8.38 | 1.80 | NA | NA | 29.31 | 29.39 | 090
47011 |  | A | Percut drain, liver lesion | 3.69 | NA | NA | 1.30 | 1.23 | 0.22 | NA | NA | 5.21 | 5.14 | 000
47015 |  | A | Inject/aspirate liver cyst | 18.31 | NA | NA | 7.77 | 7.57 | 1.83 | NA | NA | 27.91 | 27.71 | 090
47100 |  | A | Wedge biopsy of liver | 12.72 | NA | NA | 6.19 | 6.09 | 1.53 | NA | NA | 20.44 | 20.34 | 090
47120 |  | A | Partial removal of liver | 38.74 | NA | NA | 13.87 | 14.85 | 4.65 | NA | NA | 57.26 | 58.24 | 090
47122 |  | A | Extensive removal of liver | 59.29 | NA | NA | 18.54 | 20.76 | 7.19 | NA | NA | 85.02 | 87.24 | 090
47125 |  | A | Partial removal of liver | 52.85 | NA | NA | 16.83 | 18.88 | 6.45 | NA | NA | 76.13 | 78.18 | 090
47130 |  | A | Partial removal of liver | 57.00 | NA | NA | 17.83 | 20.22 | 6.94 | NA | NA | 81.77 | 84.16 | 090
47135 |  | R | Transplantation of liver | 83.15 | NA | NA | 27.52 | 30.57 | 9.93 | NA | NA | 120.6 | 123.7 | 090
47136 |  | R | Transplantation of liver | 70.25 | NA | NA | 23.37 | 26.16 | 8.41 | NA | NA | 102.0 | 104.8 | 090
47140 |  | A | Partial removal, donor liver | 59.14 | NA | NA | 21.53 | 22.13 | 5.17 | NA | NA | 85.84 | 86.44 | 090
47141 |  | A | Partial removal, donor liver | 71.17 | NA | NA | 25.24 | 26.55 | 5.17 | NA | NA | 101.6 | 102.9 | 090
47142 |  | A | Partial removal, donor liver | 79.11 | NA | NA | 27.24 | 28.97 | 5.17 | NA | NA | 111.5 | 113.3 | 090
47146 |  | A | Prep donor liver/venous | 6.00 | NA | NA | 1.51 | 1.92 | 0.83 | NA | NA | 8.34 | 8.75 | XXX
47147 |  | A | Prep donor liver/arterial | 7.00 | NA | NA | 1.76 | 2.24 | 0.97 | NA | NA | 9.73 | 10.21 | XXX
47300 |  | A | Surgery for liver lesion | 17.95 | NA | NA | 7.50 | 7.31 | 1.98 | NA | NA | 27.43 | 27.24 | 090
47350 |  | A | Repair liver wound | 22.30 | NA | NA | 8.72 | 8.85 | 2.58 | NA | NA | 33.60 | 33.73 | 090
47360 |  | A | Repair liver wound | 31.12 | NA | NA | 11.32 | 11.53 | 3.37 | NA | NA | 45.81 | 46.02 | 090
47361 |  | A | Repair liver wound | 52.41 | NA | NA | 16.60 | 18.07 | 5.85 | NA | NA | 74.86 | 76.33 | 090
47362 |  | A | Repair liver wound | 23.35 | NA | NA | 9.10 | 8.83 | 2.50 | NA | NA | 34.95 | 34.68 | 090
47370 |  | A | Laparo ablate liver tumor rf | 20.61 | NA | NA | 7.64 | 8.02 | 2.55 | NA | NA | 30.80 | 31.18 | 090
47371 |  | A | Laparo ablate liver cryosurg | 20.61 | NA | NA | 8.10 | 8.15 | 2.60 | NA | NA | 31.31 | 31.36 | 090
47380 |  | A | Open ablate liver tumor rf | 24.37 | NA | NA | 8.60 | 9.19 | 2.86 | NA | NA | 35.83 | 36.42 | 090
47381 |  | A | Open ablate liver tumor cryo | 24.64 | NA | NA | 9.12 | 9.49 | 2.84 | NA | NA | 36.60 | 36.97 | 090
47382 |  | A | Percut ablate liver rf | 15.17 | NA | NA | 6.21 | 6.12 | 0.96 | NA | NA | 22.34 | 22.25 | 010
47400 |  | A | Incision of liver duct | 36.17 | NA | NA | 13.15 | 13.39 | 3.07 | NA | NA | 52.39 | 52.63 | 090
47420 |  | A | Incision of bile duct | 21.86 | NA | NA | 8.44 | 8.70 | 2.62 | NA | NA | 32.92 | 33.18 | 090
47425 |  | A | Incision of bile duct | 22.14 | NA | NA | 8.48 | 8.74 | 2.61 | NA | NA | 33.23 | 33.49 | 090
47460 |  | A | Incise bile duct sphincter | 20.35 | NA | NA | 9.00 | 8.54 | 2.20 | NA | NA | 31.55 | 31.09 | 090
47480 |  | A | Incision of gallbladder | 13.06 | NA | NA | 6.55 | 6.08 | 1.42 | NA | NA | 21.03 | 20.56 | 090
47490 |  | A | Incision of gallbladder | 8.00 | NA | NA | 5.29 | 5.51 | 0.43 | NA | NA | 13.72 | 13.94 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
47500 |  | A | Injection for liver x-rays | 1.96 | NA | NA | 0.70 | 0.66 | 0.12 | NA | NA | 2.78 | 2.74 | 000
47505 |  | A | Injection for liver x-rays | 0.76 | NA | NA | 0.27 | 0.26 | 0.04 | NA | NA | 1.07 | 1.06 | 000
47510 |  | A | Insert catheter, bile duct | 7.88 | NA | NA | 4.69 | 4.94 | 0.46 | NA | NA | 13.03 | 13.28 | 090
47511 |  | A | Insert bile duct drain | 10.72 | NA | NA | 5.09 | 5.09 | 0.62 | NA | NA | 16.43 | 16.43 | 090
47525 |  | A | Change bile duct catheter | 5.54 | 15.68 | 15.27 | 2.74 | 2.79 | 0.33 | 21.55 | 21.14 | 8.61 | 8.66 | 010
47530 |  | A | Revise/reinsert bile tube | 5.90 | 32.21 | 33.46 | 3.52 | 3.67 | 0.37 | 38.48 | 39.73 | 9.79 | 9.94 | 090
47550 |  | A | Bile duct endoscopy add-on | 3.02 | NA | NA | 0.77 | 0.96 | 0.40 | NA | NA | 4.19 | 4.38 | ZZZ
47552 |  | A | Biliary endoscopy thru skin | 6.03 | NA | NA | 2.52 | 2.42 | 0.42 | NA | NA | 8.97 | 8.87 | 000
47553 |  | A | Biliary endoscopy thru skin | 6.34 | NA | NA | 2.25 | 2.12 | 0.37 | NA | NA | 8.96 | 8.83 | 000
47554 |  | A | Biliary endoscopy thru skin | 9.05 | NA | NA | 3.27 | 3.34 | 0.96 | NA | NA | 13.28 | 13.35 | 000
47555 |  | A | Biliary endoscopy thru skin | 7.55 | NA | NA | 2.76 | 2.54 | 0.45 | NA | NA | 10.76 | 10.54 | 000
47556 |  | A | Biliary endoscopy thru skin | 8.55 | NA | NA | 3.07 | 2.86 | 0.50 | NA | NA | 12.12 | 11.91 | 000
47560 |  | A | Laparoscopy w/cholangio | 4.88 | NA | NA | 1.24 | 1.56 | 0.65 | NA | NA | 6.77 | 7.09 | 000
47561 |  | A | Laparo w/cholangio/biopsy | 5.17 | NA | NA | 1.55 | 1.83 | 0.66 | NA | NA | 7.38 | 7.66 | 000
47562 |  | A | Laparoscopic cholecystectomy | 11.57 | NA | NA | 4.87 | 4.96 | 1.46 | NA | NA | 17.90 | 17.99 | 090
47563 |  | A | Laparo cholecystectomy/graph | 11.98 | NA | NA | 5.06 | 5.25 | 1.58 | NA | NA | 18.62 | 18.81 | 090
47564 |  | A | Laparo cholecystectomy/explr | 14.21 | NA | NA | 5.42 | 5.83 | 1.88 | NA | NA | 21.51 | 21.92 | 090
47570 |  | A | Laparo cholecystoenterostomy | 12.56 | NA | NA | 5.04 | 5.30 | 1.65 | NA | NA | 19.25 | 19.51 | 090
47600 |  | A | Removal of gallbladder | 15.44 | NA | NA | 6.12 | 6.14 | 1.79 | NA | NA | 23.35 | 23.37 | 090
47605 |  | A | Removal of gallbladder | 15.86 | NA | NA | 6.24 | 6.44 | 1.94 | NA | NA | 24.04 | 24.24 | 090
47610 |  | A | Removal of gallbladder | 20.80 | NA | NA | 7.54 | 7.84 | 2.48 | NA | NA | 30.82 | 31.12 | 090
47612 |  | A | Removal of gallbladder | 21.09 | NA | NA | 7.55 | 7.81 | 2.47 | NA | NA | 31.11 | 31.37 | 090
47620 |  | A | Removal of gallbladder | 22.95 | NA | NA | 8.05 | 8.41 | 2.73 | NA | NA | 33.73 | 34.09 | 090
47630 |  | A | Remove bile duct stone | 9.52 | NA | NA | 4.86 | 4.88 | 0.65 | NA | NA | 15.03 | 15.05 | 090
47700 |  | A | Exploration of bile ducts | 16.32 | NA | NA | 7.11 | 7.34 | 2.06 | NA | NA | 25.49 | 25.72 | 090
47701 |  | A | Bile duct revision | 28.55 | NA | NA | 9.85 | 11.09 | 3.67 | NA | NA | 42.07 | 43.31 | 090
47711 |  | A | Excision of bile duct tumor | 25.71 | NA | NA | 9.40 | 9.81 | 3.04 | NA | NA | 38.15 | 38.56 | 090
47712 |  | A | Excision of bile duct tumor | 33.53 | NA | NA | 11.36 | 12.17 | 3.92 | NA | NA | 48.81 | 49.62 | 090
47715 |  | A | Excision of bile duct cyst | 21.36 | NA | NA | 8.40 | 8.43 | 2.48 | NA | NA | 32.24 | 32.27 | 090
47716 |  | A | Fusion of bile duct cyst | 19.01 | NA | NA | 7.73 | 7.81 | 2.14 | NA | NA | 28.88 | 28.96 | 090
47720 |  | A | Fuse gallbladder & bowel | 18.15 | NA | NA | 7.57 | 7.50 | 2.10 | NA | NA | 27.82 | 27.75 | 090
47721 |  | A | Fuse upper gi structures | 21.80 | NA | NA | 8.44 | 8.54 | 2.52 | NA | NA | 32.76 | 32.86 | 090
47740 |  | A | Fuse gallbladder & bowel | 21.04 | NA | NA | 8.33 | 8.37 | 2.41 | NA | NA | 31.78 | 31.82 | 090
47741 |  | A | Fuse gallbladder & bowel | 24.02 | NA | NA | 9.08 | 9.25 | 2.82 | NA | NA | 35.92 | 36.09 | 090
47760 |  | A | Fuse bile ducts and bowel | 38.08 | NA | NA | 12.57 | 11.29 | 3.41 | NA | NA | 54.06 | 52.78 | 090
47765 |  | A | Fuse liver ducts & bowel | 51.95 | NA | NA | 16.38 | 12.20 | 3.29 | NA | NA | 71.62 | 67.44 | 090
47780 |  | A | Fuse bile ducts and bowel | 42.08 | NA | NA | 13.80 | 11.87 | 3.49 | NA | NA | 59.37 | 57.44 | 090
47785 |  | A | Fuse bile ducts and bowel | 55.95 | NA | NA | 17.31 | 14.03 | 4.09 | NA | NA | 77.35 | 74.07 | 090
47800 |  | A | Reconstruction of bile ducts | 25.98 | NA | NA | 9.56 | 9.94 | 3.07 | NA | NA | 38.61 | 38.99 | 090
47801 |  | A | Placement, bile duct support | 17.41 | NA | NA | 8.57 | 8.26 | 1.16 | NA | NA | 27.14 | 26.83 | 090
47802 |  | A | Fuse liver duct & intestine | 24.74 | NA | NA | 9.35 | 9.60 | 2.85 | NA | NA | 36.94 | 37.19 | 090
47900 |  | A | Suture bile duct injury | 22.25 | NA | NA | 8.56 | 8.80 | 2.64 | NA | NA | 33.45 | 33.69 | 090
48000 |  | A | Drainage of abdomen | 31.76 | NA | NA | 10.94 | 11.38 | 3.47 | NA | NA | 46.17 | 46.61 | 090
48001 |  | A | Placement of drain, pancreas | 39.50 | NA | NA | 12.54 | 13.56 | 4.68 | NA | NA | 56.72 | 57.74 | 090
48005 |  | A | Resect/debride pancreas | 48.97 | NA | NA | 15.75 | 16.38 | 5.54 | NA | NA | 70.26 | 70.89 | 090
48020 |  | A | Removal of pancreatic stone | 18.90 | NA | NA | 7.43 | 7.34 | 2.12 | NA | NA | 28.45 | 28.36 | 090
48100 |  | A | Biopsy of pancreas, open | 14.34 | NA | NA | 5.79 | 5.65 | 1.62 | NA | NA | 21.75 | 21.61 | 090
48102 |  | A | Needle biopsy, pancreas | 4.67 | 10.07 | 8.50 | 1.91 | 1.94 | 0.28 | 15.02 | 13.45 | 6.86 | 6.89 | 010
48120 |  | A | Removal of pancreas lesion | 18.29 | NA | NA | 6.76 | 6.84 | 2.09 | NA | NA | 27.14 | 27.22 | 090
48140 |  | A | Partial removal of pancreas | 26.13 | NA | NA | 9.21 | 9.47 | 3.02 | NA | NA | 38.36 | 38.62 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
48145 |  | A | Partial removal of pancreas | 27.20 | NA | NA | 9.56 | 9.77 | 3.17 | NA | NA | 39.93 | 40.14 | 090
48146 |  | A | Pancreatectomy | 30.34 | NA | NA | 11.72 | 11.93 | 3.49 | NA | NA | 45.55 | 45.76 | 090
48148 |  | A | Removal of pancreatic duct | 20.20 | NA | NA | 7.93 | 7.69 | 2.29 | NA | NA | 30.42 | 30.18 | 090
48150 |  | A | Partial removal of pancreas | 52.55 | NA | NA | 17.87 | 19.12 | 6.30 | NA | NA | 76.72 | 77.97 | 090
48152 |  | A | Pancreatectomy | 48.39 | NA | NA | 16.44 | 17.78 | 5.78 | NA | NA | 70.61 | 71.95 | 090
48153 |  | A | Pancreatectomy | 52.53 | NA | NA | 17.71 | 19.11 | 6.29 | NA | NA | 76.53 | 77.93 | 090
48154 |  | A | Pancreatectomy | 48.62 | NA | NA | 16.73 | 17.88 | 5.82 | NA | NA | 71.17 | 72.32 | 090
48155 |  | A | Removal of pancreas | 29.19 | NA | NA | 11.82 | 11.72 | 3.26 | NA | NA | 44.27 | 44.17 | 090
48180 |  | A | Fuse pancreas and bowel | 27.90 | NA | NA | 9.76 | 10.07 | 3.27 | NA | NA | 40.93 | 41.24 | 090
48400 |  | A | Injection, intraop add-on | 1.95 | NA | NA | 0.88 | 0.70 | 0.15 | NA | NA | 2.98 | 2.80 | ZZZ
48500 |  | A | Surgery of pancreatic cyst | 17.97 | NA | NA | 7.95 | 7.49 | 2.02 | NA | NA | 27.94 | 27.48 | 090
48510 |  | A | Drain pancreatic pseudocyst | 17.00 | NA | NA | 7.48 | 7.46 | 1.82 | NA | NA | 26.30 | 26.28 | 090
48511 |  | A | Drain pancreatic pseudocyst | 3.99 | 21.19 | 21.01 | 1.41 | 1.34 | 0.24 | 25.42 | 25.24 | 5.64 | 5.57 | 000
48520 |  | A | Fuse pancreas cyst and bowel | 18.03 | NA | NA | 6.63 | 6.69 | 2.05 | NA | NA | 26.71 | 26.77 | 090
48540 |  | A | Fuse pancreas cyst and bowel | 21.82 | NA | NA | 7.59 | 7.99 | 2.60 | NA | NA | 32.01 | 32.41 | 090
48545 |  | A | Pancreatorrhaphy | 22.04 | NA | NA | 7.98 | 7.99 | 2.37 | NA | NA | 32.39 | 32.40 | 090
48547 |  | A | Duodenal exclusion | 30.19 | NA | NA | 10.16 | 10.42 | 3.41 | NA | NA | 43.76 | 44.02 | 090
48552 |  | A | Prep donor pancreas/venous | 4.30 | NA | NA | 1.13 | 1.38 | 0.31 | NA | NA | 5.74 | 5.99 | XXX
48554 |  | R | Transpl allograft pancreas | 36.77 | NA | NA | 20.52 | 18.86 | 4.18 | NA | NA | 61.47 | 59.81 | 090
48556 |  | A | Removal, allograft pancreas | 19.16 | NA | NA | 9.41 | 8.41 | 2.07 | NA | NA | 30.64 | 29.64 | 090
49000 |  | A | Exploration of abdomen | 12.40 | NA | NA | 5.20 | 5.34 | 1.52 | NA | NA | 19.12 | 19.26 | 090
49002 |  | A | Reopening of abdomen | 17.51 | NA | NA | 6.65 | 5.43 | 1.37 | NA | NA | 25.53 | 24.31 | 090
49010 |  | A | Exploration behind abdomen | 15.94 | NA | NA | 6.63 | 6.09 | 1.51 | NA | NA | 24.08 | 23.54 | 090
49020 |  | A | Drain abdominal abscess | 26.38 | NA | NA | 9.92 | 10.14 | 2.84 | NA | NA | 39.14 | 39.36 | 090
49021 |  | A | Drain abdominal abscess | 3.37 | 20.65 | 21.00 | 1.19 | 1.13 | 0.20 | 24.22 | 24.57 | 4.76 | 4.70 | 000
49040 |  | A | Drain, open, abdom abscess | 16.35 | NA | NA | 6.53 | 6.46 | 1.69 | NA | NA | 24.57 | 24.50 | 090
49041 |  | A | Drain, percut, abdom abscess | 3.99 | 20.90 | 19.90 | 1.41 | 1.34 | 0.24 | 25.13 | 24.13 | 5.64 | 5.57 | 000
49060 |  | A | Drain, open, retrop abscess | 18.36 | NA | NA | 7.38 | 7.43 | 1.74 | NA | NA | 27.48 | 27.53 | 090
49061 |  | A | Drain, percut, retroper absc | 3.69 | 20.77 | 19.95 | 1.31 | 1.24 | 0.22 | 24.68 | 23.86 | 5.22 | 5.15 | 000
49062 |  | A | Drain to peritoneal cavity | 12.08 | NA | NA | 5.27 | 5.40 | 1.39 | NA | NA | 18.74 | 18.87 | 090
49080 |  | A | Puncture, peritoneal cavity | 1.35 | 2.84 | 3.70 | 0.48 | 0.47 | 0.08 | 4.27 | 5.13 | 1.91 | 1.90 | 000
49081 |  | A | Removal of abdominal fluid | 1.26 | 3.04 | 2.70 | 0.47 | 0.44 | 0.09 | 4.39 | 4.05 | 1.82 | 1.79 | 000
49085 |  | A | Remove abdomen foreign body | 13.97 | NA | NA | 5.56 | 5.52 | 1.62 | NA | NA | 21.15 | 21.11 | 090
49180 |  | A | Biopsy, abdominal mass | 1.73 | 2.57 | 2.98 | 0.61 | 0.58 | 0.10 | 4.40 | 4.81 | 2.44 | 2.41 | 000
49200 |  | A | Removal of abdominal lesion | 10.89 | NA | NA | 4.88 | 4.99 | 1.24 | NA | NA | 17.01 | 17.12 | 090
49201 |  | A | Remove abdom lesion, complex | 15.60 | NA | NA | 6.39 | 6.88 | 1.87 | NA | NA | 23.86 | 24.35 | 090
49215 |  | A | Excise sacral spine tumor | 37.60 | NA | NA | 12.46 | 13.68 | 4.37 | NA | NA | 54.43 | 55.65 | 090
49220 |  | A | Multiple surgery, abdomen | 15.64 | NA | NA | 6.23 | 6.54 | 1.88 | NA | NA | 23.75 | 24.06 | 090
49250 |  | A | Excision of umbilicus | 8.88 | NA | NA | 4.27 | 4.27 | 1.08 | NA | NA | 14.23 | 14.23 | 090
49255 |  | A | Removal of omentum | 12.35 | NA | NA | 5.61 | 5.62 | 1.43 | NA | NA | 19.39 | 19.40 | 090
49320 |  | A | Diag laparo separate proc | 5.34 | NA | NA | 2.50 | 2.61 | 0.65 | NA | NA | 8.49 | 8.60 | 010
49321 |  | A | Laparoscopy, biopsy | 5.39 | NA | NA | 2.55 | 2.63 | 0.70 | NA | NA | 8.64 | 8.72 | 010
49322 |  | A | Laparoscopy, aspiration | 5.94 | NA | NA | 2.62 | 2.91 | 0.71 | NA | NA | 9.27 | 9.56 | 010
49323 |  | A | Laparo drain lymphocele | 10.09 | NA | NA | 4.70 | 4.55 | 1.20 | NA | NA | 15.99 | 15.84 | 090
49400 |  | A | Air injection into abdomen | 1.88 | 2.55 | 2.95 | 0.62 | 0.62 | 0.15 | 4.58 | 4.98 | 2.65 | 2.65 | 000
49419 |  | A | Insrt abdom cath for chemotx | 7.01 | NA | NA | 3.54 | 3.56 | 0.81 | NA | NA | 11.36 | 11.38 | 090
49420 |  | A | Insert abdom drain, temp | 2.22 | NA | NA | 1.21 | 1.12 | 0.21 | NA | NA | 3.64 | 3.55 | 000
49421 |  | A | Insert abdom drain, perm | 5.83 | NA | NA | 3.17 | 3.16 | 0.74 | NA | NA | 9.74 | 9.73 | 090
49422 |  | A | Remove perm cannula/catheter | 6.24 | NA | NA | 2.64 | 2.84 | 0.83 | NA | NA | 9.71 | 9.91 | 010
49423 |  | A | Exchange drainage catheter | 1.46 | 13.85 | 14.05 | 0.56 | 0.53 | 0.09 | 15.40 | 15.60 | 2.11 | 2.08 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
49424 |  | A | Assess cyst, contrast inject | 0.76 | 3.24 | 3.60 | 0.30 | 0.29 | 0.04 | 4.04 | 4.40 | 1.10 | 1.09 | 000
49425 |  | A | Insert abdomen-venous drain | 12.07 | NA | NA | 5.31 | 5.54 | 1.54 | NA | NA | 18.92 | 19.15 | 090
49426 |  | A | Revise abdomen-venous shunt | 10.28 | NA | NA | 4.55 | 4.72 | 1.28 | NA | NA | 16.11 | 16.28 | 090
49427 |  | A | Injection, abdominal shunt | 0.89 | NA | NA | 0.31 | 0.30 | 0.07 | NA | NA | 1.27 | 1.26 | 000
49428 |  | A | Ligation of shunt | 6.75 | NA | NA | 3.04 | 3.71 | 0.80 | NA | NA | 10.59 | 11.26 | 010
49429 |  | A | Removal of shunt | 7.39 | NA | NA | 3.01 | 3.33 | 1.02 | NA | NA | 11.42 | 11.74 | 010
49491 |  | A | Rpr hern preemie reduc | 12.36 | NA | NA | 5.39 | 5.14 | 1.40 | NA | NA | 19.15 | 18.90 | 090
49492 |  | A | Rpr ing hern premie, blocked | 15.26 | NA | NA | 5.76 | 6.03 | 1.80 | NA | NA | 22.82 | 23.09 | 090
49495 |  | A | Rpr ing hernia baby, reduc | 6.13 | NA | NA | 2.97 | 2.96 | 0.74 | NA | NA | 9.84 | 9.83 | 090
49496 |  | A | Rpr ing hernia baby, blocked | 9.28 | NA | NA | 4.36 | 4.30 | 1.07 | NA | NA | 14.71 | 14.65 | 090
49500 |  | A | Rpr ing hernia, init, reduce | 5.72 | NA | NA | 3.57 | 3.23 | 0.71 | NA | NA | 10.00 | 9.66 | 090
49501 |  | A | Rpr ing hernia, init blocked | 9.24 | NA | NA | 4.24 | 4.22 | 1.12 | NA | NA | 14.60 | 14.58 | 090
49505 |  | A | Prp i/hern init reduc >5 yr | 7.84 | NA | NA | 3.88 | 3.78 | 1.03 | NA | NA | 12.75 | 12.65 | 090
49507 |  | A | Prp i/hern init block >5 yr | 9.93 | NA | NA | 4.45 | 4.46 | 1.27 | NA | NA | 15.65 | 15.66 | 090
49520 |  | A | Rerepair ing hernia, reduce | 9.87 | NA | NA | 4.37 | 4.42 | 1.28 | NA | NA | 15.52 | 15.57 | 090
49521 |  | A | Rerepair ing hernia, blocked | 12.32 | NA | NA | 4.98 | 5.18 | 1.59 | NA | NA | 18.89 | 19.09 | 090
49525 |  | A | Repair ing hernia, sliding | 8.81 | NA | NA | 4.13 | 4.09 | 1.13 | NA | NA | 14.07 | 14.03 | 090
49540 |  | A | Repair lumbar hernia | 10.62 | NA | NA | 4.63 | 4.72 | 1.37 | NA | NA | 16.62 | 16.71 | 090
49550 |  | A | Rpr rem hernia, init, reduce | 8.87 | NA | NA | 4.10 | 4.12 | 1.14 | NA | NA | 14.11 | 14.13 | 090
49553 |  | A | Rpr fem hernia, init blocked | 9.80 | NA | NA | 4.40 | 4.42 | 1.24 | NA | NA | 15.44 | 15.46 | 090
49555 |  | A | Rerepair fem hernia, reduce | 9.27 | NA | NA | 4.21 | 4.26 | 1.20 | NA | NA | 14.68 | 14.73 | 090
49557 |  | A | Rerepair fem hernia, blocked | 11.50 | NA | NA | 4.84 | 4.95 | 1.47 | NA | NA | 17.81 | 17.92 | 090
49560 |  | A | Rpr ventral hern init, reduc | 11.80 | NA | NA | 4.86 | 5.08 | 1.52 | NA | NA | 18.18 | 18.40 | 090
49561 |  | A | Rpr ventral hern init, block | 15.26 | NA | NA | 5.79 | 6.00 | 1.88 | NA | NA | 22.93 | 23.14 | 090
49565 |  | A | Rerepair ventrl hern, reduce | 12.25 | NA | NA | 5.10 | 5.20 | 1.52 | NA | NA | 18.87 | 18.97 | 090
49566 |  | A | Rerepair ventrl hern, block | 15.41 | NA | NA | 5.84 | 6.07 | 1.90 | NA | NA | 23.15 | 23.38 | 090
49568 |  | A | Hernia repair w/mesh | 4.88 | NA | NA | 1.24 | 1.56 | 0.64 | NA | NA | 6.76 | 7.08 | ZZZ
49570 |  | A | Rpr epigastric hern, reduce | 5.93 | NA | NA | 3.33 | 3.21 | 0.75 | NA | NA | 10.01 | 9.89 | 090
49572 |  | A | Rpr epigastric hern, blocked | 7.75 | NA | NA | 3.82 | 3.56 | 0.88 | NA | NA | 12.45 | 12.19 | 090
49580 |  | A | Rpr umbil hern, reduc < 5 yr | 4.35 | NA | NA | 3.00 | 2.70 | 0.54 | NA | NA | 7.89 | 7.59 | 090
49582 |  | A | Rpr umbil hern, block < 5 yr | 7.01 | NA | NA | 3.60 | 3.50 | 0.88 | NA | NA | 11.49 | 11.39 | 090
49585 |  | A | Rpr umbil hern, reduc > 5 yr | 6.47 | NA | NA | 3.51 | 3.35 | 0.82 | NA | NA | 10.80 | 10.64 | 090
49587 |  | A | Rpr umbil hern, block > 5 yr | 7.92 | NA | NA | 3.86 | 3.77 | 0.99 | NA | NA | 12.77 | 12.68 | 090
49590 |  | A | Repair spigelian hernia | 8.78 | NA | NA | 4.09 | 4.09 | 1.13 | NA | NA | 14.00 | 14.00 | 090
49600 |  | A | Repair umbilical lesion | 11.42 | NA | NA | 5.18 | 5.30 | 1.32 | NA | NA | 17.92 | 18.04 | 090
49605 |  | A | Repair umbilical lesion | 86.79 | NA | NA | 26.31 | 28.01 | 9.36 | NA | NA | 122.5 | 124.2 | 090
49606 |  | A | Repair umbilical lesion | 18.87 | NA | NA | 6.57 | 7.42 | 2.45 | NA | NA | 27.89 | 28.74 | 090
49610 |  | A | Repair umbilical lesion | 10.78 | NA | NA | 4.75 | 5.10 | 1.07 | NA | NA | 16.60 | 16.95 | 090
49611 |  | A | Repair umbilical lesion | 9.21 | NA | NA | 3.87 | 6.21 | 0.78 | NA | NA | 13.86 | 16.20 | 090
49650 |  | A | Laparo hernia repair initial | 6.26 | NA | NA | 3.34 | 3.24 | 0.93 | NA | NA | 10.53 | 10.43 | 090
49651 |  | A | Laparo hernia repair recur | 8.23 | NA | NA | 4.16 | 4.08 | 1.14 | NA | NA | 13.53 | 13.45 | 090
49900 |  | A | Repair of abdominal wall | 12.26 | NA | NA | 6.26 | 6.25 | 1.62 | NA | NA | 20.14 | 20.13 | 090
49904 |  | A | Omental flap, extra-abdom | 22.06 | NA | NA | 11.99 | 14.44 | 2.69 | NA | NA | 36.74 | 39.19 | 090
49905 |  | A | Omental flap, intra-abdom | 6.54 | NA | NA | 1.72 | 2.16 | 0.75 | NA | NA | 9.01 | 9.45 | ZZZ
50010 |  | A | Exploration of kidney | 12.07 | NA | NA | 7.02 | 5.68 | 0.93 | NA | NA | 20.02 | 18.68 | 090
50020 |  | A | Renal abscess, open drain | 17.80 | NA | NA | 8.80 | 8.02 | 1.34 | NA | NA | 27.94 | 27.16 | 090
50021 |  | A | Renal abscess, percut drain | 3.37 | 22.24 | 21.84 | 1.21 | 1.13 | 0.20 | 25.81 | 25.41 | 4.78 | 4.70 | 000
50040 |  | A | Drainage of kidney | 16.40 | NA | NA | 9.23 | 7.42 | 1.03 | NA | NA | 26.66 | 24.85 | 090
50045 |  | A | Exploration of kidney | 16.61 | NA | NA | 8.73 | 7.14 | 1.24 | NA | NA | 26.58 | 24.99 | 090
50060 |  | A | Removal of kidney stone | 20.74 | NA | NA | 11.44 | 8.74 | 1.36 | NA | NA | 33.54 | 30.84 | 090
50065 |  | A | Incision of kidney | 22.11 | NA | NA | 12.04 | 7.58 | 1.59 | NA | NA | 35.74 | 31.28 | 090
50070 |  | A | Incision of kidney | 21.64 | NA | NA | 11.85 | 9.14 | 1.44 | NA | NA | 34.93 | 32.22 | 090
50075 |  | A | Removal of kidney stone | 26.83 | NA | NA | 14.21 | 10.99 | 1.80 | NA | NA | 42.84 | 39.62 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
50080 |  | A | Removal of kidney stone | 15.55 | NA | NA | 8.91 | 6.95 | 1.04 | NA | NA | 25.50 | 23.54 | 090
50081 |  | A | Removal of kidney stone | 23.24 | NA | NA | 12.70 | 9.76 | 1.54 | NA | NA | 37.48 | 34.54 | 090
50100 |  | A | Revise kidney blood vessels | 17.24 | NA | NA | 7.21 | 7.65 | 2.06 | NA | NA | 26.51 | 26.95 | 090
50120 |  | A | Exploration of kidney | 17.00 | NA | NA | 9.16 | 7.38 | 1.21 | NA | NA | 27.37 | 25.59 | 090
50125 |  | A | Explore and drain kidney | 17.61 | NA | NA | 10.15 | 7.77 | 1.43 | NA | NA | 29.19 | 26.81 | 090
50130 |  | A | Removal of kidney stone | 18.61 | NA | NA | 10.41 | 7.99 | 1.22 | NA | NA | 30.24 | 27.82 | 090
50135 |  | A | Exploration of kidney | 20.38 | NA | NA | 11.11 | 8.62 | 1.33 | NA | NA | 32.82 | 30.33 | 090
50200 |  | A | Biopsy of kidney | 2.63 | NA | NA | 1.19 | 1.27 | 0.16 | NA | NA | 3.98 | 4.06 | 000
50205 |  | A | Biopsy of kidney | 12.15 | NA | NA | 5.62 | 5.17 | 1.30 | NA | NA | 19.07 | 18.62 | 090
50220 |  | A | Remove kidney, open | 18.47 | NA | NA | 9.89 | 7.91 | 1.35 | NA | NA | 29.71 | 27.73 | 090
50225 |  | A | Removal kidney open, complex | 21.67 | NA | NA | 11.46 | 8.99 | 1.50 | NA | NA | 34.63 | 32.16 | 090
50230 |  | A | Removal kidney open, radical | 23.62 | NA | NA | 12.16 | 9.48 | 1.55 | NA | NA | 37.33 | 34.65 | 090
50234 |  | A | Removal of kidney & ureter | 23.84 | NA | NA | 12.56 | 9.78 | 1.59 | NA | NA | 37.99 | 35.21 | 090
50236 |  | A | Removal of kidney & ureter | 26.66 | NA | NA | 14.52 | 11.33 | 1.76 | NA | NA | 42.94 | 39.75 | 090
50240 |  | A | Partial removal of kidney | 23.93 | NA | NA | 13.15 | 10.06 | 1.55 | NA | NA | 38.63 | 35.54 | 090
50250 |  | A | Cryoablate renal mass open | 21.98 | NA | NA | 11.56 | 9.78 | 1.39 | NA | NA | 34.93 | 33.15 | 090
50280 |  | A | Removal of kidney lesion | 16.88 | NA | NA | 9.60 | 7.43 | 1.19 | NA | NA | 27.67 | 25.50 | 090
50290 |  | A | Removal of kidney lesion | 15.94 | NA | NA | 8.37 | 6.95 | 1.41 | NA | NA | 25.72 | 24.30 | 090
50320 |  | A | Remove kidney, living donor | 22.18 | NA | NA | 12.63 | 11.17 | 2.35 | NA | NA | 37.16 | 35.70 | 090
50327 |  | A | Prep renal graft/venous | 4.00 | NA | NA | 1.09 | 1.29 | 0.29 | NA | NA | 5.38 | 5.58 | XXX
50328 |  | A | Prep renal graft/arterial | 3.50 | NA | NA | 0.97 | 1.13 | 0.26 | NA | NA | 4.73 | 4.89 | XXX
50329 |  | A | Prep renal graft/ureteral | 3.34 | NA | NA | 0.99 | 1.10 | 0.25 | NA | NA | 4.58 | 4.69 | XXX
50340 |  | A | Removal of kidney | 13.78 | NA | NA | 7.64 | 6.79 | 1.65 | NA | NA | 23.07 | 22.22 | 090
50360 |  | A | Transplantation of kidney | 40.27 | NA | NA | 18.85 | 16.35 | 3.81 | NA | NA | 62.93 | 60.43 | 090
50365 |  | A | Transplantation of kidney | 45.49 | NA | NA | 19.38 | 18.53 | 4.42 | NA | NA | 69.29 | 68.44 | 090
50370 |  | A | Remove transplanted kidney | 18.60 | NA | NA | 9.32 | 7.70 | 1.67 | NA | NA | 29.59 | 27.97 | 090
50380 |  | A | Reimplantation of kidney | 29.47 | NA | NA | 16.48 | 13.16 | 2.50 | NA | NA | 48.45 | 45.13 | 090
50382 |  | A | Change ureter stent, percut | 5.50 | 27.61 | 34.07 | 2.04 | 1.91 | 0.34 | 33.45 | 39.91 | 7.88 | 7.75 | 000
50384 |  | A | Remove ureter stent, percut | 5.00 | 26.44 | 33.10 | 1.86 | 1.75 | 0.31 | 31.75 | 38.41 | 7.17 | 7.06 | 000
50387 |  | A | Change ext/int ureter stent | 2.00 | 13.31 | 17.02 | 0.73 | 0.69 | 0.12 | 15.43 | 19.14 | 2.85 | 2.81 | 000
50389 |  | A | Remove renal tube w/fluoro | 1.10 | 7.05 | 11.35 | 0.40 | 0.38 | 0.07 | 8.22 | 12.52 | 1.57 | 1.55 | 000
50390 |  | A | Drainage of kidney lesion | 1.96 | NA | NA | 0.70 | 0.66 | 0.12 | NA | NA | 2.78 | 2.74 | 000
50391 |  | A | Instll rx agnt into rnal tub | 1.96 | 1.55 | 1.57 | 0.82 | 0.68 | 0.14 | 3.65 | 3.67 | 2.92 | 2.78 | 000
50392 |  | A | Insert kidney drain | 3.37 | NA | NA | 1.53 | 1.52 | 0.20 | NA | NA | 5.10 | 5.09 | 000
50393 |  | A | Insert ureteral tube | 4.15 | NA | NA | 1.81 | 1.80 | 0.25 | NA | NA | 6.21 | 6.20 | 000
50394 |  | A | Injection for kidney x-ray | 0.76 | 1.97 | 2.51 | 0.60 | 0.65 | 0.05 | 2.78 | 3.32 | 1.41 | 1.46 | 000
50395 |  | A | Create passage to kidney | 3.37 | NA | NA | 1.59 | 1.52 | 0.21 | NA | NA | 5.17 | 5.10 | 000
50396 |  | A | Measure kidney pressure | 2.09 | NA | NA | 1.10 | 1.09 | 0.13 | NA | NA | 3.32 | 3.31 | 000
50398 |  | A | Change kidney tube | 1.46 | 12.52 | 15.40 | 0.57 | 0.53 | 0.09 | 14.07 | 16.95 | 2.12 | 2.08 | 000
50400 |  | A | Revision of kidney/ureter | 21.06 | NA | NA | 11.45 | 8.78 | 1.38 | NA | NA | 33.89 | 31.22 | 090
50405 |  | A | Revision of kidney/ureter | 25.60 | NA | NA | 13.53 | 10.17 | 1.78 | NA | NA | 40.91 | 37.55 | 090
50500 |  | A | Repair of kidney wound | 21.01 | NA | NA | 9.37 | 8.64 | 2.01 | NA | NA | 32.39 | 31.66 | 090
50520 |  | A | Close kidney-skin fistula | 18.67 | NA | NA | 9.59 | 7.98 | 1.49 | NA | NA | 29.75 | 28.14 | 090
50525 |  | A | Repair renal-abdomen fistula | 24.13 | NA | NA | 11.13 | 9.55 | 1.83 | NA | NA | 37.09 | 35.51 | 090
50526 |  | A | Repair renal-abdomen fistula | 26.05 | NA | NA | 7.99 | 9.41 | 1.96 | NA | NA | 36.00 | 37.42 | 090
50540 |  | A | Revision of horseshoe kidney | 20.89 | NA | NA | 11.09 | 9.03 | 1.36 | NA | NA | 33.34 | 31.28 | 090
50541 |  | A | Laparo ablate renal cyst | 16.72 | NA | NA | 9.08 | 7.15 | 1.13 | NA | NA | 26.93 | 25.00 | 090
50542 |  | A | Laparo ablate renal mass | 21.12 | NA | NA | 11.61 | 9.02 | 1.39 | NA | NA | 34.12 | 31.53 | 090
50543 |  | A | Laparo partial nephrectomy | 27.10 | NA | NA | 14.62 | 11.32 | 1.80 | NA | NA | 43.52 | 40.22 | 090
50544 |  | A | Laparoscopy, pyeloplasty | 23.23 | NA | NA | 11.87 | 9.37 | 1.58 | NA | NA | 36.68 | 34.18 | 090
50545 |  | A | Laparo radical nephrectomy | 24.89 | NA | NA | 12.72 | 10.09 | 1.70 | NA | NA | 39.31 | 36.68 | 090
50546 |  | A | Laparoscopic nephrectomy | 21.63 | NA | NA | 11.70 | 9.21 | 1.57 | NA | NA | 34.90 | 32.41 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
50547 |  | A | Laparo removal donor kidney | 26.20 | NA | NA | 12.68 | 11.52 | 2.76 | NA | NA | 41.64 | 40.48 | 090
50548 |  | A | Laparo remove w/ureter | 25.22 | NA | NA | 12.65 | 10.06 | 1.72 | NA | NA | 39.59 | 37.00 | 090
50551 |  | A | Kidney endoscopy | 5.59 | 4.73 | 4.30 | 2.74 | 2.17 | 0.40 | 10.72 | 10.29 | 8.73 | 8.16 | 000
50553 |  | A | Kidney endoscopy | 5.98 | 4.65 | 4.44 | 2.70 | 2.31 | 0.39 | 11.02 | 10.81 | 9.07 | 8.68 | 000
50555 |  | A | Kidney endoscopy & biopsy | 6.52 | 5.27 | 4.93 | 3.13 | 2.54 | 0.45 | 12.24 | 11.90 | 10.10 | 9.51 | 000
50557 |  | A | Kidney endoscopy & treatment | 6.61 | 5.42 | 4.80 | 3.16 | 2.52 | 0.47 | 12.50 | 11.88 | 10.24 | 9.60 | 000
50561 |  | A | Kidney endoscopy & treatment | 7.58 | 5.99 | 5.32 | 3.56 | 2.88 | 0.54 | 14.11 | 13.44 | 11.68 | 11.00 | 000
50562 |  | A | Renal scope w/tumor resect | 10.90 | NA | NA | 5.59 | 4.64 | 0.73 | NA | NA | 17.22 | 16.27 | 090
50570 |  | A | Kidney endoscopy | 9.53 | NA | NA | 4.41 | 3.52 | 0.68 | NA | NA | 14.62 | 13.73 | 000
50572 |  | A | Kidney endoscopy | 10.33 | NA | NA | 4.75 | 3.82 | 0.85 | NA | NA | 15.93 | 15.00 | 000
50574 |  | A | Kidney endoscopy & biopsy | 11.00 | NA | NA | 5.03 | 4.07 | 0.77 | NA | NA | 16.80 | 15.84 | 000
50575 |  | A | Kidney endoscopy | 13.96 | NA | NA | 6.25 | 5.04 | 0.99 | NA | NA | 21.20 | 19.99 | 000
50576 |  | A | Kidney endoscopy & treatment | 10.97 | NA | NA | 5.02 | 4.01 | 0.78 | NA | NA | 16.77 | 15.76 | 000
50580 |  | A | Kidney endoscopy & treatment | 11.84 | NA | NA | 5.34 | 4.31 | 0.83 | NA | NA | 18.01 | 16.98 | 000
50590 |  | A | Fragmenting of kidney stone | 9.58 | 17.79 | 13.77 | 6.49 | 4.71 | 0.65 | 28.02 | 24.00 | 16.72 | 14.94 | 090
50592 |  | A | Perc rf ablate renal tumor | 6.75 | 79.58 | 132.0 | 2.99 | 2.99 | 0.43 | 86.76 | 139.2 | 10.17 | 10.17 | 010
50600 |  | A | Exploration of ureter | 16.98 | NA | NA | 8.78 | 7.21 | 1.13 | NA | NA | 26.89 | 25.32 | 090
50605 |  | A | Insert ureteral support | 16.60 | NA | NA | 8.15 | 7.10 | 1.45 | NA | NA | 26.20 | 25.15 | 090
50610 |  | A | Removal of ureter stone | 17.06 | NA | NA | 9.30 | 7.56 | 1.43 | NA | NA | 27.79 | 26.05 | 090
50620 |  | A | Removal of ureter stone | 16.24 | NA | NA | 9.22 | 7.07 | 1.07 | NA | NA | 26.53 | 24.38 | 090
50630 |  | A | Removal of ureter stone | 16.02 | NA | NA | 8.49 | 6.84 | 1.09 | NA | NA | 25.60 | 23.95 | 090
50650 |  | A | Removal of ureter | 18.61 | NA | NA | 10.44 | 8.04 | 1.23 | NA | NA | 30.28 | 27.88 | 090
50660 |  | A | Removal of ureter | 20.81 | NA | NA | 11.16 | 8.77 | 1.38 | NA | NA | 33.35 | 30.96 | 090
50684 |  | A | Injection for ureter x-ray | 0.76 | 4.25 | 4.80 | 0.66 | 0.52 | 0.05 | 5.06 | 5.61 | 1.47 | 1.33 | 000
50686 |  | A | Measure ureter pressure | 1.51 | 2.04 | 3.10 | 0.70 | 0.79 | 0.11 | 3.66 | 4.72 | 2.32 | 2.41 | 000
50688 |  | A | Change of ureter tube/stent | 1.17 | NA | NA | 0.98 | 1.04 | 0.07 | NA | NA | 2.22 | 2.28 | 010
50690 |  | A | Injection for ureter x-ray | 1.16 | 1.50 | 1.75 | 0.76 | 0.73 | 0.07 | 2.73 | 2.98 | 1.99 | 1.96 | 000
50700 |  | A | Revision of ureter | 16.48 | NA | NA | 8.79 | 7.55 | 1.27 | NA | NA | 26.54 | 25.30 | 090
50715 |  | A | Release of ureter | 20.43 | NA | NA | 8.61 | 8.72 | 2.13 | NA | NA | 31.17 | 31.28 | 090
50722 |  | A | Release of ureter | 17.74 | NA | NA | 8.01 | 7.87 | 1.90 | NA | NA | 27.65 | 27.51 | 090
50725 |  | A | Release/revise ureter | 19.99 | NA | NA | 9.87 | 8.51 | 1.52 | NA | NA | 31.38 | 30.02 | 090
50727 |  | A | Revise ureter | 8.17 | NA | NA | 5.91 | 4.69 | 0.61 | NA | NA | 14.69 | 13.47 | 090
50728 |  | A | Revise ureter | 12.00 | NA | NA | 7.35 | 6.02 | 1.00 | NA | NA | 20.35 | 19.02 | 090
50740 |  | A | Fusion of ureter & kidney | 19.86 | NA | NA | 9.13 | 8.10 | 1.96 | NA | NA | 30.95 | 29.92 | 090
50750 |  | A | Fusion of ureter & kidney | 21.01 | NA | NA | 9.98 | 8.50 | 1.38 | NA | NA | 32.37 | 30.89 | 090
50760 |  | A | Fusion of ureters | 19.86 | NA | NA | 10.02 | 8.27 | 1.55 | NA | NA | 31.43 | 29.68 | 090
50770 |  | A | Splicing of ureters | 21.01 | NA | NA | 10.99 | 8.74 | 1.45 | NA | NA | 33.45 | 31.20 | 090
50780 |  | A | Reimplant ureter in bladder | 19.74 | NA | NA | 10.38 | 8.30 | 1.51 | NA | NA | 31.63 | 29.55 | 090
50782 |  | A | Reimplant ureter in bladder | 19.51 | NA | NA | 8.49 | 8.72 | 1.61 | NA | NA | 29.61 | 29.84 | 090
50783 |  | A | Reimplant ureter in bladder | 20.52 | NA | NA | 10.24 | 8.73 | 1.98 | NA | NA | 32.74 | 31.23 | 090
50785 |  | A | Reimplant ureter in bladder | 22.02 | NA | NA | 11.48 | 9.10 | 1.45 | NA | NA | 34.95 | 32.57 | 090
50800 |  | A | Implant ureter in bowel | 16.15 | NA | NA | 9.59 | 7.26 | 1.19 | NA | NA | 26.93 | 24.60 | 090
50810 |  | A | Fusion of ureter & bowel | 22.28 | NA | NA | 9.60 | 9.23 | 2.31 | NA | NA | 34.19 | 33.82 | 090
50815 |  | A | Urine shunt to intestine | 21.98 | NA | NA | 11.93 | 9.33 | 1.54 | NA | NA | 35.45 | 32.85 | 090
50820 |  | A | Construct bowel bladder | 23.81 | NA | NA | 12.30 | 9.57 | 1.89 | NA | NA | 38.00 | 35.27 | 090
50825 |  | A | Construct bowel bladder | 30.40 | NA | NA | 15.50 | 12.24 | 2.07 | NA | NA | 47.97 | 44.71 | 090
50830 |  | A | Revise urine flow | 33.49 | NA | NA | 16.37 | 13.24 | 2.37 | NA | NA | 52.23 | 49.10 | 090
50840 |  | A | Replace ureter by bowel | 22.11 | NA | NA | 12.26 | 9.40 | 1.47 | NA | NA | 35.84 | 32.98 | 090
50845 |  | A | Appendico-vesicostomy | 22.11 | NA | NA | 12.76 | 9.88 | 1.57 | NA | NA | 36.44 | 33.56 | 090
50860 |  | A | Transplant ureter to skin | 16.87 | NA | NA | 9.41 | 7.33 | 1.29 | NA | NA | 27.57 | 25.49 | 090
50900 |  | A | Repair of ureter | 14.83 | NA | NA | 8.28 | 6.68 | 1.14 | NA | NA | 24.25 | 22.65 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
50920 |  | A | Closure ureter/skin fistula | 15.60 | NA | NA | 8.79 | 7.13 | 1.01 | NA | NA | 25.40 | 23.74 | 090
50930 |  | A | Closure ureter/bowel fistula | 19.98 | NA | NA | 10.54 | 8.62 | 1.28 | NA | NA | 31.80 | 29.88 | 090
50940 |  | A | Release of ureter | 15.72 | NA | NA | 8.41 | 6.91 | 1.26 | NA | NA | 25.39 | 23.89 | 090
50945 |  | A | Laparoscopy ureterolithotomy | 17.83 | NA | NA | 9.01 | 7.54 | 1.36 | NA | NA | 28.20 | 26.73 | 090
50947 |  | A | Laparo new ureter/bladder | 25.57 | NA | NA | 12.82 | 10.49 | 2.16 | NA | NA | 40.55 | 38.22 | 090
50948 |  | A | Laparo new ureter/bladder | 23.65 | NA | NA | 12.39 | 9.63 | 1.70 | NA | NA | 37.74 | 34.98 | 090
50951 |  | A | Endoscopy of ureter | 5.83 | 4.99 | 4.47 | 2.87 | 2.26 | 0.41 | 11.23 | 10.71 | 9.11 | 8.50 | 000
50953 |  | A | Endoscopy of ureter | 6.23 | 5.19 | 4.61 | 3.41 | 2.63 | 0.43 | 11.85 | 11.27 | 10.07 | 9.29 | 000
50955 |  | A | Ureter endoscopy & biopsy | 6.74 | 5.45 | 6.19 | 3.65 | 2.93 | 0.48 | 12.67 | 13.41 | 10.87 | 10.15 | 000
50957 |  | A | Ureter endoscopy & treatment | 6.78 | 5.53 | 4.81 | 3.26 | 2.60 | 0.48 | 12.79 | 12.07 | 10.52 | 9.86 | 000
50961 |  | A | Ureter endoscopy & treatment | 6.04 | 5.00 | 4.53 | 2.93 | 2.38 | 0.41 | 11.45 | 10.98 | 9.38 | 8.83 | 000
50970 |  | A | Ureter endoscopy | 7.13 | NA | NA | 3.40 | 2.70 | 0.52 | NA | NA | 11.05 | 10.35 | 000
50972 |  | A | Ureter endoscopy & catheter | 6.88 | NA | NA | 3.28 | 2.67 | 0.49 | NA | NA | 10.65 | 10.04 | 000
50974 |  | A | Ureter endoscopy & biopsy | 9.16 | NA | NA | 4.14 | 3.37 | 0.64 | NA | NA | 13.94 | 13.17 | 000
50976 |  | A | Ureter endoscopy & treatment | 9.03 | NA | NA | 3.95 | 3.29 | 0.66 | NA | NA | 13.64 | 12.98 | 000
50980 |  | A | Ureter endoscopy & treatment | 6.84 | NA | NA | 3.25 | 2.60 | 0.48 | NA | NA | 10.57 | 9.92 | 000
51000 |  | A | Drainage of bladder | 0.78 | 0.96 | 1.70 | 0.28 | 0.25 | 0.05 | 1.79 | 2.53 | 1.11 | 1.08 | 000
51005 |  | A | Drainage of bladder | 1.02 | 2.44 | 4.14 | 0.30 | 0.33 | 0.10 | 3.56 | 5.26 | 1.42 | 1.45 | 000
51010 |  | A | Drainage of bladder | 4.25 | 4.90 | 5.44 | 2.44 | 2.02 | 0.28 | 9.43 | 9.97 | 6.97 | 6.55 | 010
51020 |  | A | Incise & treat bladder | 7.50 | NA | NA | 5.45 | 4.26 | 0.47 | NA | NA | 13.42 | 12.23 | 090
51030 |  | A | Incise & treat bladder | 7.62 | NA | NA | 4.70 | 4.16 | 0.58 | NA | NA | 12.90 | 12.36 | 090
51040 |  | A | Incise & drain bladder | 4.39 | NA | NA | 3.82 | 3.03 | 0.31 | NA | NA | 8.52 | 7.73 | 090
51045 |  | A | Incise bladder/drain ureter | 7.62 | NA | NA | 5.40 | 4.30 | 0.52 | NA | NA | 13.54 | 12.44 | 090
51050 |  | A | Removal of bladder stone | 7.83 | NA | NA | 5.53 | 4.12 | 0.49 | NA | NA | 13.85 | 12.44 | 090
51060 |  | A | Removal of ureter stone | 9.76 | NA | NA | 6.60 | 5.03 | 0.62 | NA | NA | 16.98 | 15.41 | 090
51065 |  | A | Remove ureter calculus | 9.76 | NA | NA | 6.53 | 4.90 | 0.63 | NA | NA | 16.92 | 15.29 | 090
51080 |  | A | Drainage of bladder abscess | 6.57 | NA | NA | 4.49 | 3.79 | 0.43 | NA | NA | 11.49 | 10.79 | 090
51500 |  | A | Removal of bladder cyst | 10.86 | NA | NA | 5.84 | 5.22 | 1.03 | NA | NA | 17.73 | 17.11 | 090
51520 |  | A | Removal of bladder lesion | 10.02 | NA | NA | 6.68 | 5.18 | 0.69 | NA | NA | 17.39 | 15.89 | 090
51525 |  | A | Removal of bladder lesion | 15.23 | NA | NA | 8.91 | 6.83 | 0.99 | NA | NA | 25.13 | 23.05 | 090
51530 |  | A | Removal of bladder lesion | 13.52 | NA | NA | 7.47 | 6.19 | 1.05 | NA | NA | 22.04 | 20.76 | 090
51535 |  | A | Repair of ureter lesion | 13.71 | NA | NA | 7.68 | 6.51 | 1.23 | NA | NA | 22.62 | 21.45 | 090
51550 |  | A | Partial removal of bladder | 17.04 | NA | NA | 9.12 | 7.34 | 1.31 | NA | NA | 27.47 | 25.69 | 090
51555 |  | A | Partial removal of bladder | 22.97 | NA | NA | 11.82 | 9.47 | 1.69 | NA | NA | 36.48 | 34.13 | 090
51565 |  | A | Revise bladder & ureter(s) | 23.42 | NA | NA | 12.37 | 9.83 | 1.63 | NA | NA | 37.42 | 34.88 | 090
51570 |  | A | Removal of bladder | 27.24 | NA | NA | 13.72 | 10.75 | 1.71 | NA | NA | 42.67 | 39.70 | 090
51575 |  | A | Removal of bladder & nodes | 33.93 | NA | NA | 17.31 | 13.37 | 2.16 | NA | NA | 53.40 | 49.46 | 090
51580 |  | A | Remove bladder/revise tract | 35.05 | NA | NA | 18.16 | 13.93 | 2.24 | NA | NA | 55.45 | 51.22 | 090
51585 |  | A | Removal of bladder & nodes | 39.32 | NA | NA | 20.24 | 15.36 | 2.48 | NA | NA | 62.04 | 57.16 | 090
51590 |  | A | Remove bladder/revise tract | 36.08 | NA | NA | 18.00 | 13.98 | 2.27 | NA | NA | 56.35 | 52.33 | 090
51595 |  | A | Remove bladder/revise tract | 41.03 | NA | NA | 20.38 | 15.72 | 2.59 | NA | NA | 64.00 | 59.34 | 090
51596 |  | A | Remove bladder/create pouch | 43.90 | NA | NA | 22.03 | 16.95 | 2.77 | NA | NA | 68.70 | 63.62 | 090
51597 |  | A | Removal of pelvic structures | 42.51 | NA | NA | 20.66 | 16.31 | 2.81 | NA | NA | 65.98 | 61.63 | 090
51600 |  | A | Injection for bladder x-ray | 0.88 | 4.41 | 4.90 | 0.33 | 0.30 | 0.06 | 5.35 | 5.84 | 1.27 | 1.24 | 000
51605 |  | A | Preparation for bladder xray | 0.64 | 3.04 | 5.31 | 0.44 | 0.37 | 0.04 | 3.72 | 5.99 | 1.12 | 1.05 | 000
51610 |  | A | Injection for bladder x-ray | 1.05 | 1.99 | 2.22 | 0.73 | 0.63 | 0.07 | 3.11 | 3.34 | 1.85 | 1.75 | 000
51700 |  | A | Irrigation of bladder | 0.88 | 1.55 | 1.59 | 0.35 | 0.30 | 0.06 | 2.49 | 2.53 | 1.29 | 1.24 | 000
51701 |  | A | Insert bladder catheter | 0.50 | 1.06 | 1.45 | 0.25 | 0.21 | 0.04 | 1.60 | 1.99 | 0.79 | 0.75 | 000
51702 |  | A | Insert temp bladder cath | 0.50 | 1.56 | 1.96 | 0.35 | 0.27 | 0.04 | 2.10 | 2.50 | 0.89 | 0.81 | 000
51703 |  | A | Insert bladder cath, complex | 1.47 | 2.34 | 2.64 | 0.84 | 0.63 | 0.10 | 3.91 | 4.21 | 2.41 | 2.20 | 000
51705 |  | A | Change of bladder tube | 1.02 | 2.08 | 2.23 | 0.87 | 0.68 | 0.07 | 3.17 | 3.32 | 1.96 | 1.77 | 010
51710 |  | A | Change of bladder tube | 1.49 | 2.82 | 3.21 | 1.22 | 0.88 | 0.11 | 4.42 | 4.81 | 2.82 | 2.48 | 010
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
51715 |  | A | Endoscopic injection/implant | 3.73 | 2.84 | 3.64 | 1.80 | 1.46 | 0.29 | 6.86 | 7.66 | 5.82 | 5.48 | 000
51720 |  | A | Treatment of bladder lesion | 1.50 | 1.68 | 1.73 | 0.78 | 0.71 | 0.14 | 3.32 | 3.37 | 2.42 | 2.35 | 000
51725 |  | A | Simple cystometrogram | 1.51 | 4.39 | 5.30 | NA | NA | 0.16 | 6.06 | 6.97 | NA | NA | 000
51725 | 26 | A | Simple cystometrogram | 1.51 | 0.58 | 0.51 | 0.58 | 0.51 | 0.12 | 2.21 | 2.14 | 2.21 | 2.14 | 000
51725 | TC | A | Simple cystometrogram | 0.00 | 3.81 | 4.79 | NA | NA | 0.04 | 3.85 | 4.83 | NA | NA | 000
51726 |  | A | Complex cystometrogram | 1.71 | 7.29 | 7.46 | NA | NA | 0.18 | 9.18 | 9.35 | NA | NA | 000
51726 | 26 | A | Complex cystometrogram | 1.71 | 0.66 | 0.59 | 0.66 | 0.59 | 0.13 | 2.50 | 2.43 | 2.50 | 2.43 | 000
51726 | TC | A | Complex cystometrogram | 0.00 | 6.63 | 6.88 | NA | NA | 0.05 | 6.68 | 6.93 | NA | NA | 000
51736 |  | A | Urine flow measurement | 0.61 | 0.92 | 0.67 | NA | NA | 0.06 | 1.59 | 1.34 | NA | NA | 000
51736 | 26 | A | Urine flow measurement | 0.61 | 0.23 | 0.21 | 0.23 | 0.21 | 0.05 | 0.89 | 0.87 | 0.89 | 0.87 | 000
51736 | TC | A | Urine flow measurement | 0.00 | 0.69 | 0.46 | NA | NA | 0.01 | 0.70 | 0.47 | NA | NA | 000
51741 |  | A | Electro-uroflowmetry, first | 1.14 | 1.30 | 0.92 | NA | NA | 0.11 | 2.55 | 2.17 | NA | NA | 000
51741 | 26 | A | Electro-uroflowmetry, first | 1.14 | 0.46 | 0.39 | 0.46 | 0.39 | 0.09 | 1.69 | 1.62 | 1.69 | 1.62 | 000
51741 | TC | A | Electro-uroflowmetry, first | 0.00 | 0.84 | 0.53 | NA | NA | 0.02 | 0.86 | 0.55 | NA | NA | 000
51772 |  | A | Urethra pressure profile | 1.61 | 5.12 | 5.47 | NA | NA | 0.20 | 6.93 | 7.28 | NA | NA | 000
51772 | 26 | A | Urethra pressure profile | 1.61 | 0.56 | 0.55 | 0.56 | 0.55 | 0.15 | 2.32 | 2.31 | 2.32 | 2.31 | 000
51772 | TC | A | Urethra pressure profile | 0.00 | 4.57 | 4.92 | NA | NA | 0.05 | 4.62 | 4.97 | NA | NA | 000
51784 |  | A | Anal/urinary muscle study | 1.53 | 3.89 | 3.97 | NA | NA | 0.16 | 5.58 | 5.66 | NA | NA | 000
51784 | 26 | A | Anal/urinary muscle study | 1.53 | 0.52 | 0.51 | 0.52 | 0.51 | 0.12 | 2.17 | 2.16 | 2.17 | 2.16 | 000
51784 | TC | A | Anal/urinary muscle study | 0.00 | 3.36 | 3.46 | NA | NA | 0.04 | 3.40 | 3.50 | NA | NA | 000
51785 |  | A | Anal/urinary muscle study | 1.53 | 4.59 | 4.49 | NA | NA | 0.15 | 6.27 | 6.17 | NA | NA | 000
51785 | 26 | A | Anal/urinary muscle study | 1.53 | 0.57 | 0.52 | 0.57 | 0.52 | 0.11 | 2.21 | 2.16 | 2.21 | 2.16 | 000
51785 | TC | A | Anal/urinary muscle study | 0.00 | 4.02 | 3.97 | NA | NA | 0.04 | 4.06 | 4.01 | NA | NA | 000
51792 |  | A | Urinary reflex study | 1.10 | 5.07 | 5.78 | NA | NA | 0.20 | 6.37 | 7.08 | NA | NA | 000
51792 | 26 | A | Urinary reflex study | 1.10 | 0.40 | 0.41 | 0.40 | 0.41 | 0.07 | 1.57 | 1.58 | 1.57 | 1.58 | 000
51792 | TC | A | Urinary reflex study | 0.00 | 4.67 | 5.37 | NA | NA | 0.13 | 4.80 | 5.50 | NA | NA | 000
51795 |  | A | Urine voiding pressure study | 1.53 | 6.89 | 7.21 | NA | NA | 0.22 | 8.64 | 8.96 | NA | NA | 000
51795 | 26 | A | Urine voiding pressure study | 1.53 | 0.59 | 0.52 | 0.59 | 0.52 | 0.12 | 2.24 | 2.17 | 2.24 | 2.17 | 000
51795 | TC | A | Urine voiding pressure study | 0.00 | 6.30 | 6.68 | NA | NA | 0.10 | 6.40 | 6.78 | NA | NA | 000
51797 |  | A | Intraabdominal pressure test | 1.60 | 4.96 | 5.59 | NA | NA | 0.17 | 6.73 | 7.36 | NA | NA | 000
51797 | 26 | A | Intraabdominal pressure test | 1.60 | 0.62 | 0.55 | 0.62 | 0.55 | 0.12 | 2.34 | 2.27 | 2.34 | 2.27 | 000
51797 | TC | A | Intraabdominal pressure test | 0.00 | 4.34 | 5.04 | NA | NA | 0.05 | 4.39 | 5.09 | NA | NA | 000
51798 |  | A | Us urine capacity measure | 0.00 | 0.61 | 0.41 | NA | NA | 0.08 | 0.69 | 0.49 | NA | NA | XXX
51800 |  | A | Revision of bladder/urethra | 18.68 | NA | NA | 10.38 | 8.28 | 1.32 | NA | NA | 30.38 | 28.28 | 090
51820 |  | A | Revision of urinary tract | 19.33 | NA | NA | 10.81 | 8.93 | 1.74 | NA | NA | 31.88 | 30.00 | 090
51840 |  | A | Attach bladder/urethra | 11.23 | NA | NA | 5.82 | 5.64 | 1.06 | NA | NA | 18.11 | 17.93 | 090
51841 |  | A | Attach bladder/urethra | 13.55 | NA | NA | 6.91 | 6.52 | 1.24 | NA | NA | 21.70 | 21.31 | 090
51845 |  | A | Repair bladder neck | 10.02 | NA | NA | 5.98 | 5.06 | 0.79 | NA | NA | 16.79 | 15.87 | 090
51860 |  | A | Repair of bladder wound | 12.42 | NA | NA | 6.93 | 6.06 | 1.16 | NA | NA | 20.51 | 19.64 | 090
51865 |  | A | Repair of bladder wound | 15.62 | NA | NA | 8.67 | 7.19 | 1.23 | NA | NA | 25.52 | 24.04 | 090
51880 |  | A | Repair of bladder opening | 7.77 | NA | NA | 4.79 | 4.17 | 0.72 | NA | NA | 13.28 | 12.66 | 090
51900 |  | A | Repair bladder/vagina lesion | 14.42 | NA | NA | 8.19 | 6.61 | 1.21 | NA | NA | 23.82 | 22.24 | 090
51920 |  | A | Close bladder-uterus fistula | 13.20 | NA | NA | 7.97 | 6.23 | 1.18 | NA | NA | 22.35 | 20.61 | 090
51925 |  | A | Hysterectomy/bladder repair | 17.27 | NA | NA | 10.57 | 9.12 | 2.03 | NA | NA | 29.87 | 28.42 | 090
51940 |  | A | Correction of bladder defect | 30.40 | NA | NA | 11.32 | 11.91 | 2.14 | NA | NA | 43.86 | 44.45 | 090
51960 |  | A | Revision of bladder & bowel | 25.12 | NA | NA | 13.51 | 10.62 | 1.63 | NA | NA | 40.26 | 37.37 | 090
51980 |  | A | Construct bladder opening | 12.38 | NA | NA | 7.48 | 5.91 | 0.86 | NA | NA | 20.72 | 19.15 | 090
51990 |  | A | Laparo urethral suspension | 13.22 | NA | NA | 5.96 | 6.11 | 1.39 | NA | NA | 20.57 | 20.72 | 090
51992 |  | A | Laparo sling operation | 14.73 | NA | NA | 6.65 | 6.33 | 1.41 | NA | NA | 22.79 | 22.47 | 090
52000 |  | A | Cystoscopy | 2.23 | 3.15 | 3.27 | 1.20 | 0.87 | 0.14 | 5.52 | 5.64 | 3.57 | 3.24 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
52001 |  | A | Cystoscopy, removal of clots | 5.44 | 4.84 | 5.02 | 2.57 | 2.05 | 0.39 | 10.67 | 10.85 | 8.40 | 7.88 | 000
52005 |  | A | Cystoscopy & ureter catheter | 2.37 | 5.54 | 5.57 | 1.32 | 1.00 | 0.17 | 8.08 | 8.11 | 3.86 | 3.54 | 000
52007 |  | A | Cystoscopy and biopsy | 3.02 | 11.07 | 15.14 | 1.69 | 1.29 | 0.22 | 14.31 | 18.38 | 4.93 | 4.53 | 000
52010 |  | A | Cystoscopy & duct catheter | 3.02 | 8.38 | 10.18 | 1.69 | 1.29 | 0.21 | 11.61 | 13.41 | 4.92 | 4.52 | 000
52204 |  | A | Cystoscopy | 2.59 | 8.58 | 13.06 | 1.44 | 1.04 | 0.17 | 11.34 | 15.82 | 4.20 | 3.80 | 000
52214 |  | A | Cystoscopy and treatment | 3.70 | 20.50 | 33.78 | 1.91 | 1.48 | 0.26 | 24.46 | 37.74 | 5.87 | 5.44 | 000
52224 |  | A | Cystoscopy and treatment | 3.14 | 19.66 | 32.34 | 1.68 | 1.28 | 0.22 | 23.02 | 35.70 | 5.04 | 4.64 | 000
52234 |  | A | Cystoscopy and treatment | 4.62 | NA | NA | 2.38 | 1.84 | 0.33 | NA | NA | 7.33 | 6.79 | 000
52235 |  | A | Cystoscopy and treatment | 5.44 | NA | NA | 2.76 | 2.15 | 0.39 | NA | NA | 8.59 | 7.98 | 000
52240 |  | A | Cystoscopy and treatment | 9.71 | NA | NA | 4.56 | 3.62 | 0.69 | NA | NA | 14.96 | 14.02 | 000
52250 |  | A | Cystoscopy and radiotracer | 4.49 | NA | NA | 2.42 | 1.84 | 0.32 | NA | NA | 7.23 | 6.65 | 000
52260 |  | A | Cystoscopy and treatment | 3.91 | NA | NA | 2.03 | 1.57 | 0.28 | NA | NA | 6.22 | 5.76 | 000
52265 |  | A | Cystoscopy and treatment | 2.94 | 7.89 | 12.01 | 1.57 | 1.23 | 0.22 | 11.05 | 15.17 | 4.73 | 4.39 | 000
52270 |  | A | Cystoscopy & revise urethra | 3.36 | 7.24 | 10.11 | 1.82 | 1.39 | 0.24 | 10.84 | 13.71 | 5.42 | 4.99 | 000
52275 |  | A | Cystoscopy & revise urethra | 4.69 | 9.61 | 14.10 | 2.38 | 1.84 | 0.33 | 14.63 | 19.12 | 7.40 | 6.86 | 000
52276 |  | A | Cystoscopy and treatment | 4.99 | NA | NA | 2.56 | 1.98 | 0.35 | NA | NA | 7.90 | 7.32 | 000
52277 |  | A | Cystoscopy and treatment | 6.16 | NA | NA | 2.97 | 2.42 | 0.44 | NA | NA | 9.57 | 9.02 | 000
52281 |  | A | Cystoscopy and treatment | 2.80 | 5.28 | 6.65 | 1.62 | 1.22 | 0.20 | 8.28 | 9.65 | 4.62 | 4.22 | 000
52282 |  | A | Cystoscopy, implant stent | 6.39 | NA | NA | 3.10 | 2.46 | 0.45 | NA | NA | 9.94 | 9.30 | 000
52283 |  | A | Cystoscopy and treatment | 3.73 | 3.97 | 3.96 | 1.97 | 1.53 | 0.26 | 7.96 | 7.95 | 5.96 | 5.52 | 000
52285 |  | A | Cystoscopy and treatment | 3.60 | 4.19 | 4.06 | 1.94 | 1.48 | 0.26 | 8.05 | 7.92 | 5.80 | 5.34 | 000
52290 |  | A | Cystoscopy and treatment | 4.58 | NA | NA | 2.37 | 1.83 | 0.32 | NA | NA | 7.27 | 6.73 | 000
52300 |  | A | Cystoscopy and treatment | 5.30 | NA | NA | 2.72 | 2.11 | 0.38 | NA | NA | 8.40 | 7.79 | 000
52301 |  | A | Cystoscopy and treatment | 5.50 | NA | NA | 2.15 | 2.03 | 0.46 | NA | NA | 8.11 | 7.99 | 000
52305 |  | A | Cystoscopy and treatment | 5.30 | NA | NA | 2.61 | 2.05 | 0.38 | NA | NA | 8.29 | 7.73 | 000
52310 |  | A | Cystoscopy and treatment | 2.81 | 4.15 | 4.56 | 1.49 | 1.15 | 0.20 | 7.16 | 7.57 | 4.50 | 4.16 | 000
52315 |  | A | Cystoscopy and treatment | 5.20 | 6.87 | 8.24 | 2.59 | 2.03 | 0.37 | 12.44 | 13.81 | 8.16 | 7.60 | 000
52317 |  | A | Remove bladder stone | 6.71 | 17.64 | 26.18 | 3.14 | 2.50 | 0.48 | 24.83 | 33.37 | 10.33 | 9.69 | 000
52318 |  | A | Remove bladder stone | 9.18 | NA | NA | 4.24 | 3.39 | 0.65 | NA | NA | 14.07 | 13.22 | 000
52320 |  | A | Cystoscopy and treatment | 4.69 | NA | NA | 2.31 | 1.80 | 0.33 | NA | NA | 7.33 | 6.82 | 000
52325 |  | A | Cystoscopy, stone removal | 6.15 | NA | NA | 2.95 | 2.33 | 0.44 | NA | NA | 9.54 | 8.92 | 000
52327 |  | A | Cystoscopy, inject material | 5.18 | 18.36 | 28.52 | 2.43 | 1.97 | 0.37 | 23.91 | 34.07 | 7.98 | 7.52 | 000
52330 |  | A | Cystoscopy and treatment | 5.03 | 21.07 | 34.47 | 2.46 | 1.94 | 0.36 | 26.46 | 39.86 | 7.85 | 7.33 | 000
52332 |  | A | Cystoscopy and treatment | 2.83 | 4.44 | 5.43 | 1.55 | 1.18 | 0.21 | 7.48 | 8.47 | 4.59 | 4.22 | 000
52334 |  | A | Create passage to kidney | 4.82 | NA | NA | 2.42 | 1.91 | 0.35 | NA | NA | 7.59 | 7.08 | 000
52341 |  | A | Cysto w/ureter stricture tx | 5.99 | NA | NA | 3.14 | 2.45 | 0.43 | NA | NA | 9.56 | 8.87 | 000
52342 |  | A | Cysto w/up stricture tx | 6.49 | NA | NA | 3.36 | 2.60 | 0.46 | NA | NA | 10.31 | 9.55 | 000
52343 |  | A | Cysto w/renal stricture tx | 7.19 | NA | NA | 3.65 | 2.86 | 0.51 | NA | NA | 11.35 | 10.56 | 000
52344 |  | A | Cysto/uretero, stricture tx | 7.69 | NA | NA | 4.03 | 3.11 | 0.55 | NA | NA | 12.27 | 11.35 | 000
52345 |  | A | Cysto/uretero w/up stricture | 8.19 | NA | NA | 4.25 | 3.28 | 0.58 | NA | NA | 13.02 | 12.05 | 000
52346 |  | A | Cystouretero w/renal strict | 9.22 | NA | NA | 4.66 | 3.63 | 0.65 | NA | NA | 14.53 | 13.50 | 000
52351 |  | A | Cystouretero & or pyeloscope | 5.85 | NA | NA | 3.09 | 2.39 | 0.41 | NA | NA | 9.35 | 8.65 | 000
52352 |  | A | Cystouretero w/stone remove | 6.87 | NA | NA | 3.63 | 2.79 | 0.49 | NA | NA | 10.99 | 10.15 | 000
52353 |  | A | Cystouretero w/lithotripsy | 7.96 | NA | NA | 4.09 | 3.17 | 0.57 | NA | NA | 12.62 | 11.70 | 000
52354 |  | A | Cystouretero w/biopsy | 7.33 | NA | NA | 3.82 | 2.97 | 0.52 | NA | NA | 11.67 | 10.82 | 000
52355 |  | A | Cystouretero w/excise tumor | 8.81 | NA | NA | 4.43 | 3.47 | 0.63 | NA | NA | 13.87 | 12.91 | 000
52400 |  | A | Cystouretero w/congen repr | 10.04 | NA | NA | 5.64 | 4.22 | 0.68 | NA | NA | 16.36 | 14.94 | 090
52402 |  | A | Cystourethro cut ejacul duct | 5.27 | NA | NA | 2.27 | 1.84 | 0.40 | NA | NA | 7.94 | 7.51 | 000
52450 |  | A | Incision of prostate | 7.63 | NA | NA | 5.71 | 4.19 | 0.54 | NA | NA | 13.88 | 12.36 | 090
52500 |  | A | Revision of bladder neck | 9.33 | NA | NA | 6.42 | 4.55 | 0.60 | NA | NA | 16.35 | 14.48 | 090
52510 |  | A | Dilation prostatic urethra | 7.45 | NA | NA | 5.09 | 3.61 | 0.48 | NA | NA | 13.02 | 11.54 | 090
52601 |  | A | Prostatectomy (TURP) | 15.07 | NA | NA | 8.66 | 6.00 | 0.87 | NA | NA | 24.60 | 21.94 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
52606 |  | A | Control postop bleeding | 8.80 | NA | NA | 5.73 | 4.10 | 0.57 | NA | NA | 15.10 | 13.47 | 090
52612 |  | A | Prostatectomy, first stage | 9.01 | NA | NA | 6.11 | 4.33 | 0.56 | NA | NA | 15.68 | 13.90 | 090
52614 |  | A | Prostatectomy, second stage | 7.75 | NA | NA | 5.60 | 3.91 | 0.48 | NA | NA | 13.83 | 12.14 | 090
52620 |  | A | Remove residual prostate | 7.15 | NA | NA | 4.77 | 3.44 | 0.47 | NA | NA | 12.39 | 11.06 | 090
52630 |  | A | Remove prostate regrowth | 7.61 | NA | NA | 4.99 | 3.65 | 0.51 | NA | NA | 13.11 | 11.77 | 090
52640 |  | A | Relieve bladder contracture | 6.85 | NA | NA | 4.58 | 3.37 | 0.47 | NA | NA | 11.90 | 10.69 | 090
52647 |  | A | Laser surgery of prostate | 11.09 | 41.57 | 66.01 | 7.17 | 5.20 | 0.73 | 53.39 | 77.83 | 18.99 | 17.02 | 090
52648 |  | A | Laser surgery of prostate | 11.94 | 41.88 | 66.08 | 7.51 | 5.48 | 0.79 | 54.61 | 78.81 | 20.24 | 18.21 | 090
52700 |  | A | Drainage of prostate abscess | 7.35 | NA | NA | 5.14 | 3.68 | 0.48 | NA | NA | 12.97 | 11.51 | 090
53000 |  | A | Incision of urethra | 2.28 | NA | NA | 1.86 | 1.62 | 0.16 | NA | NA | 4.30 | 4.06 | 010
53010 |  | A | Incision of urethra | 4.31 | NA | NA | 3.90 | 3.17 | 0.24 | NA | NA | 8.45 | 7.72 | 090
53020 |  | A | Incision of urethra | 1.77 | 1.95 | 2.75 | 0.99 | 0.75 | 0.13 | 3.85 | 4.65 | 2.89 | 2.65 | 000
53025 |  | A | Incision of urethra | 1.13 | 1.74 | 3.24 | 0.69 | 0.56 | 0.08 | 2.95 | 4.45 | 1.90 | 1.77 | 000
53040 |  | A | Drainage of urethra abscess | 6.45 | NA | NA | 4.58 | 3.73 | 0.45 | NA | NA | 11.48 | 10.63 | 090
53060 |  | A | Drainage of urethra abscess | 2.63 | 1.99 | 2.07 | 1.46 | 1.39 | 0.28 | 4.90 | 4.98 | 4.37 | 4.30 | 010
53080 |  | A | Drainage of urinary leakage | 6.78 | NA | NA | 5.05 | 5.74 | 0.52 | NA | NA | 12.35 | 13.04 | 090
53085 |  | A | Drainage of urinary leakage | 10.99 | NA | NA | 4.50 | 6.69 | 0.92 | NA | NA | 16.41 | 18.60 | 090
53200 |  | A | Biopsy of urethra | 2.59 | 1.75 | 1.43 | 1.34 | 1.07 | 0.20 | 4.54 | 4.22 | 4.13 | 3.86 | 000
53210 |  | A | Removal of urethra | 13.53 | NA | NA | 8.00 | 6.39 | 0.89 | NA | NA | 22.42 | 20.81 | 090
53215 |  | A | Removal of urethra | 16.66 | NA | NA | 9.49 | 7.35 | 1.10 | NA | NA | 27.25 | 25.11 | 090
53220 |  | A | Treatment of urethra lesion | 7.49 | NA | NA | 5.16 | 4.08 | 0.49 | NA | NA | 13.14 | 12.06 | 090
53230 |  | A | Removal of urethra lesion | 10.25 | NA | NA | 6.67 | 5.21 | 0.73 | NA | NA | 17.65 | 16.19 | 090
53235 |  | A | Removal of urethra lesion | 10.80 | NA | NA | 7.17 | 5.48 | 0.72 | NA | NA | 18.69 | 17.00 | 090
53240 |  | A | Surgery for urethra pouch | 6.94 | NA | NA | 4.90 | 3.87 | 0.52 | NA | NA | 12.36 | 11.33 | 090
53250 |  | A | Removal of urethra gland | 6.38 | NA | NA | 4.85 | 3.69 | 0.49 | NA | NA | 11.72 | 10.56 | 090
53260 |  | A | Treatment of urethra lesion | 2.98 | 2.52 | 2.32 | 1.89 | 1.54 | 0.25 | 5.75 | 5.55 | 5.12 | 4.77 | 010
53265 |  | A | Treatment of urethra lesion | 3.12 | 3.05 | 2.80 | 2.07 | 1.58 | 0.24 | 6.41 | 6.16 | 5.43 | 4.94 | 010
53270 |  | A | Removal of urethra gland | 3.09 | 2.31 | 2.24 | 1.72 | 1.59 | 0.30 | 5.70 | 5.63 | 5.11 | 4.98 | 010
53275 |  | A | Repair of urethra defect | 4.52 | NA | NA | 2.86 | 2.41 | 0.32 | NA | NA | 7.70 | 7.25 | 010
53400 |  | A | Revise urethra, stage 1 | 13.92 | NA | NA | 8.45 | 6.64 | 0.98 | NA | NA | 23.35 | 21.54 | 090
53405 |  | A | Revise urethra, stage 2 | 15.45 | NA | NA | 9.23 | 7.06 | 1.10 | NA | NA | 25.78 | 23.61 | 090
53410 |  | A | Reconstruction of urethra | 17.47 | NA | NA | 10.13 | 7.84 | 1.16 | NA | NA | 28.76 | 26.47 | 090
53415 |  | A | Reconstruction of urethra | 20.49 | NA | NA | 11.33 | 8.35 | 1.37 | NA | NA | 33.19 | 30.21 | 090
53420 |  | A | Reconstruct urethra, stage 1 | 14.98 | NA | NA | 6.53 | 6.36 | 0.96 | NA | NA | 22.47 | 22.30 | 090
53425 |  | A | Reconstruct urethra, stage 2 | 16.88 | NA | NA | 9.59 | 7.57 | 1.13 | NA | NA | 27.60 | 25.58 | 090
53430 |  | A | Reconstruction of urethra | 17.24 | NA | NA | 8.90 | 7.48 | 1.15 | NA | NA | 27.29 | 25.87 | 090
53431 |  | A | Reconstruct urethra/bladder | 20.97 | NA | NA | 11.37 | 8.90 | 1.41 | NA | NA | 33.75 | 31.28 | 090
53440 |  | A | Male sling procedure | 15.33 | NA | NA | 9.58 | 6.89 | 0.96 | NA | NA | 25.87 | 23.18 | 090
53442 |  | A | Remove/revise male sling | 13.28 | NA | NA | 8.73 | 6.27 | 0.82 | NA | NA | 22.83 | 20.37 | 090
53444 |  | A | Insert tandem cuff | 14.00 | NA | NA | 8.32 | 6.50 | 0.94 | NA | NA | 23.26 | 21.44 | 090
53445 |  | A | Insert uro/ves nck sphincter | 15.15 | NA | NA | 9.53 | 7.71 | 0.99 | NA | NA | 25.67 | 23.85 | 090
53446 |  | A | Remove uro sphincter | 10.83 | NA | NA | 7.30 | 5.75 | 0.72 | NA | NA | 18.85 | 17.30 | 090
53447 |  | A | Remove/replace ur sphincter | 14.09 | NA | NA | 8.73 | 7.01 | 0.95 | NA | NA | 23.77 | 22.05 | 090
53448 |  | A | Remov/replc ur sphinctr comp | 23.20 | NA | NA | 12.90 | 10.03 | 1.50 | NA | NA | 37.60 | 34.73 | 090
53449 |  | A | Repair uro sphincter | 10.37 | NA | NA | 6.90 | 5.27 | 0.68 | NA | NA | 17.95 | 16.32 | 090
53450 |  | A | Revision of urethra | 6.63 | NA | NA | 4.91 | 3.70 | 0.43 | NA | NA | 11.97 | 10.76 | 090
53460 |  | A | Revision of urethra | 7.61 | NA | NA | 5.31 | 4.10 | 0.50 | NA | NA | 13.42 | 12.21 | 090
53500 |  | A | Urethrlys, transvag w/ scope | 12.81 | NA | NA | 7.64 | 6.58 | 0.90 | NA | NA | 21.35 | 20.29 | 090
53502 |  | A | Repair of urethra injury | 8.12 | NA | NA | 5.16 | 4.28 | 0.62 | NA | NA | 13.90 | 13.02 | 090
53505 |  | A | Repair of urethra injury | 8.12 | NA | NA | 5.59 | 4.30 | 0.54 | NA | NA | 14.25 | 12.96 | 090
53510 |  | A | Repair of urethra injury | 10.77 | NA | NA | 6.97 | 5.62 | 0.74 | NA | NA | 18.48 | 17.13 | 090
53515 |  | A | Repair of urethra injury | 14.03 | NA | NA | 8.09 | 6.48 | 1.05 | NA | NA | 23.17 | 21.56 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
53520 |  | A | Repair of urethra defect | 9.29 | NA | NA | 6.34 | 4.95 | 0.61 | NA | NA | 16.24 | 14.85 | 090
53600 |  | A | Dilate urethra stricture | 1.21 | 1.19 | 1.15 | 0.59 | 0.47 | 0.09 | 2.49 | 2.45 | 1.89 | 1.77 | 000
53601 |  | A | Dilate urethra stricture | 0.98 | 1.41 | 1.31 | 0.54 | 0.41 | 0.07 | 2.46 | 2.36 | 1.59 | 1.46 | 000
53605 |  | A | Dilate urethra stricture | 1.28 | NA | NA | 0.53 | 0.44 | 0.09 | NA | NA | 1.90 | 1.81 | 000
53620 |  | A | Dilate urethra stricture | 1.62 | 1.76 | 1.94 | 0.87 | 0.66 | 0.11 | 3.49 | 3.67 | 2.60 | 2.39 | 000
53621 |  | A | Dilate urethra stricture | 1.35 | 1.87 | 2.03 | 0.70 | 0.54 | 0.10 | 3.32 | 3.48 | 2.15 | 1.99 | 000
53660 |  | A | Dilation of urethra | 0.71 | 1.35 | 1.32 | 0.47 | 0.35 | 0.05 | 2.11 | 2.08 | 1.23 | 1.11 | 000
53661 |  | A | Dilation of urethra | 0.72 | 1.34 | 1.31 | 0.43 | 0.33 | 0.05 | 2.11 | 2.08 | 1.20 | 1.10 | 000
53665 |  | A | Dilation of urethra | 0.76 | NA | NA | 0.27 | 0.26 | 0.06 | NA | NA | 1.09 | 1.08 | 000
53850 |  | A | Prostatic microwave thermotx | 9.94 | 50.76 | 83.44 | 6.12 | 4.49 | 0.67 | 61.37 | 94.05 | 16.73 | 15.10 | 090
53852 |  | A | Prostatic rf thermotx | 10.62 | 47.85 | 78.74 | 6.94 | 5.02 | 0.70 | 59.17 | 90.06 | 18.26 | 16.34 | 090
53853 |  | A | Prostatic water thermother | 5.48 | 30.02 | 49.13 | 4.52 | 3.28 | 0.37 | 35.87 | 54.98 | 10.37 | 9.13 | 090
54000 |  | A | Slitting of prepuce | 1.54 | 2.79 | 2.89 | 1.53 | 1.08 | 0.11 | 4.44 | 4.54 | 3.18 | 2.73 | 010
54001 |  | A | Slitting of prepuce | 2.19 | 3.14 | 3.18 | 1.72 | 1.26 | 0.15 | 5.48 | 5.52 | 4.06 | 3.60 | 010
54015 |  | A | Drain penis lesion | 5.31 | NA | NA | 3.30 | 2.75 | 0.38 | NA | NA | 8.99 | 8.44 | 010
54050 |  | A | Destruction, penis lesion(s) | 1.24 | 2.07 | 1.76 | 1.38 | 1.12 | 0.08 | 3.39 | 3.08 | 2.70 | 2.44 | 010
54055 |  | A | Destruction, penis lesion(s) | 1.22 | 2.01 | 1.68 | 1.26 | 0.92 | 0.08 | 3.31 | 2.98 | 2.56 | 2.22 | 010
54056 |  | A | Cryosurgery, penis lesion(s) | 1.24 | 2.33 | 1.85 | 1.50 | 1.22 | 0.06 | 3.63 | 3.15 | 2.80 | 2.52 | 010
54057 |  | A | Laser surg, penis lesion(s) | 1.24 | 2.67 | 2.33 | 1.39 | 0.97 | 0.09 | 4.00 | 3.66 | 2.72 | 2.30 | 010
54060 |  | A | Excision of penis lesion(s) | 1.93 | 3.17 | 3.13 | 1.68 | 1.22 | 0.13 | 5.23 | 5.19 | 3.74 | 3.28 | 010
54065 |  | A | Destruction, penis lesion(s) | 2.42 | 3.28 | 2.80 | 1.98 | 1.42 | 0.13 | 5.83 | 5.35 | 4.53 | 3.97 | 010
54100 |  | A | Biopsy of penis | 1.90 | 3.36 | 2.95 | 1.37 | 0.96 | 0.10 | 5.36 | 4.95 | 3.37 | 2.96 | 000
54105 |  | A | Biopsy of penis | 3.49 | 4.13 | 4.25 | 2.54 | 2.09 | 0.25 | 7.87 | 7.99 | 6.28 | 5.83 | 010
54110 |  | A | Treatment of penis lesion | 10.73 | NA | NA | 6.77 | 5.26 | 0.72 | NA | NA | 18.22 | 16.71 | 090
54111 |  | A | Treat penis lesion, graft | 14.23 | NA | NA | 8.37 | 6.43 | 0.96 | NA | NA | 23.56 | 21.62 | 090
54112 |  | A | Treat penis lesion, graft | 16.77 | NA | NA | 9.70 | 7.53 | 1.11 | NA | NA | 27.58 | 25.41 | 090
54115 |  | A | Treatment of penis lesion | 6.76 | 6.01 | 4.79 | 5.16 | 3.89 | 0.43 | 13.20 | 11.98 | 12.35 | 11.08 | 090
54120 |  | A | Partial removal of penis | 10.82 | NA | NA | 7.01 | 5.26 | 0.68 | NA | NA | 18.51 | 16.76 | 090
54125 |  | A | Removal of penis | 14.37 | NA | NA | 8.48 | 6.50 | 0.95 | NA | NA | 23.80 | 21.82 | 090
54130 |  | A | Remove penis & nodes | 21.58 | NA | NA | 11.74 | 9.08 | 1.52 | NA | NA | 34.84 | 32.18 | 090
54135 |  | A | Remove penis & nodes | 27.91 | NA | NA | 14.75 | 11.33 | 1.87 | NA | NA | 44.53 | 41.11 | 090
54150 |  | A | Circumcision | 1.81 | 2.61 | 3.92 | 0.58 | 0.67 | 0.16 | 4.58 | 5.89 | 2.55 | 2.64 | 000
54152 |  | A | Circumcision | 2.31 | NA | NA | 1.76 | 1.34 | 0.19 | NA | NA | 4.26 | 3.84 | 010
54160 |  | A | Circumcision | 2.48 | 3.77 | 4.06 | 1.49 | 1.19 | 0.19 | 6.44 | 6.73 | 4.16 | 3.86 | 010
54161 |  | A | Circumcision | 3.27 | NA | NA | 2.28 | 1.74 | 0.23 | NA | NA | 5.78 | 5.24 | 010
54162 |  | A | Lysis penil circumic lesion | 3.25 | 4.12 | 4.53 | 2.32 | 1.66 | 0.21 | 7.58 | 7.99 | 5.78 | 5.12 | 010
54163 |  | A | Repair of circumcision | 3.25 | NA | NA | 2.97 | 2.25 | 0.21 | NA | NA | 6.43 | 5.71 | 010
54164 |  | A | Frenulotomy of penis | 2.75 | NA | NA | 2.72 | 2.06 | 0.18 | NA | NA | 5.65 | 4.99 | 010
54200 |  | A | Treatment of penis lesion | 1.06 | 2.07 | 1.87 | 1.34 | 1.06 | 0.08 | 3.21 | 3.01 | 2.48 | 2.20 | 010
54205 |  | A | Treatment of penis lesion | 8.78 | NA | NA | 6.47 | 5.14 | 0.56 | NA | NA | 15.81 | 14.48 | 090
54220 |  | A | Treatment of penis lesion | 2.42 | 3.42 | 3.74 | 1.41 | 1.07 | 0.17 | 6.01 | 6.33 | 4.00 | 3.66 | 000
54230 |  | A | Prepare penis study | 1.34 | 1.45 | 1.17 | 0.94 | 0.71 | 0.09 | 2.88 | 2.60 | 2.37 | 2.14 | 000
54231 |  | A | Dynamic cavernosometry | 2.04 | 1.91 | 1.51 | 1.21 | 0.96 | 0.16 | 4.11 | 3.71 | 3.41 | 3.16 | 000
54235 |  | A | Penile injection | 1.19 | 1.44 | 1.08 | 0.92 | 0.67 | 0.08 | 2.71 | 2.35 | 2.19 | 1.94 | 000
54240 |  | A | Penis study | 1.31 | 1.57 | 1.17 | NA | NA | 0.17 | 3.05 | 2.65 | NA | NA | 000
54240 | 26 | A | Penis study | 1.31 | 0.51 | 0.45 | 0.51 | 0.45 | 0.11 | 1.93 | 1.87 | 1.93 | 1.87 | 000
54240 | TC | A | Penis study | 0.00 | 1.06 | 0.72 | NA | NA | 0.06 | 1.12 | 0.78 | NA | NA | 000
54250 |  | A | Penis study | 2.22 | 1.28 | 1.00 | NA | NA | 0.18 | 3.68 | 3.40 | NA | NA | 000
54250 | 26 | A | Penis study | 2.22 | 0.90 | 0.76 | 0.90 | 0.76 | 0.16 | 3.28 | 3.14 | 3.28 | 3.14 | 000
54250 | TC | A | Penis study | 0.00 | 0.38 | 0.25 | NA | NA | 0.02 | 0.40 | 0.27 | NA | NA | 000
54300 |  | A | Revision of penis | 11.01 | NA | NA | 7.29 | 6.01 | 0.76 | NA | NA | 19.06 | 17.78 | 090
54304 |  | A | Revision of penis | 13.09 | NA | NA | 8.30 | 6.83 | 0.88 | NA | NA | 22.27 | 20.80 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
54308 |  | A | Reconstruction of urethra | 12.43 | NA | NA | 8.11 | 6.51 | 0.84 | NA | NA | 21.38 | 19.78 | 090
54312 |  | A | Reconstruction of urethra | 14.30 | NA | NA | 9.14 | 7.54 | 1.24 | NA | NA | 24.68 | 23.08 | 090
54316 |  | A | Reconstruction of urethra | 17.84 | NA | NA | 10.55 | 8.61 | 1.21 | NA | NA | 29.60 | 27.66 | 090
54318 |  | A | Reconstruction of urethra | 12.22 | NA | NA | 6.56 | 5.99 | 1.39 | NA | NA | 20.17 | 19.60 | 090
54322 |  | A | Reconstruction of urethra | 13.79 | NA | NA | 8.41 | 6.96 | 0.92 | NA | NA | 23.12 | 21.67 | 090
54324 |  | A | Reconstruction of urethra | 17.34 | NA | NA | 10.37 | 8.57 | 1.14 | NA | NA | 28.85 | 27.05 | 090
54326 |  | A | Reconstruction of urethra | 16.81 | NA | NA | 10.11 | 8.37 | 1.11 | NA | NA | 28.03 | 26.29 | 090
54328 |  | A | Revise penis/urethra | 16.68 | NA | NA | 10.11 | 7.97 | 0.98 | NA | NA | 27.77 | 25.63 | 090
54332 |  | A | Revise penis/urethra | 18.16 | NA | NA | 10.69 | 8.48 | 1.21 | NA | NA | 30.06 | 27.85 | 090
54336 |  | A | Revise penis/urethra | 21.36 | NA | NA | 12.42 | 10.84 | 2.20 | NA | NA | 35.98 | 34.40 | 090
54340 |  | A | Secondary urethral surgery | 9.52 | NA | NA | 6.79 | 5.48 | 0.63 | NA | NA | 16.94 | 15.63 | 090
54344 |  | A | Secondary urethral surgery | 16.85 | NA | NA | 10.18 | 8.37 | 1.54 | NA | NA | 28.57 | 26.76 | 090
54348 |  | A | Secondary urethral surgery | 18.11 | NA | NA | 6.36 | 7.86 | 1.23 | NA | NA | 25.70 | 27.20 | 090
54352 |  | A | Reconstruct urethra/penis | 25.87 | NA | NA | 14.32 | 11.98 | 2.24 | NA | NA | 42.43 | 40.09 | 090
54360 |  | A | Penis plastic surgery | 12.59 | NA | NA | 8.07 | 6.55 | 0.84 | NA | NA | 21.50 | 19.98 | 090
54380 |  | A | Repair penis | 13.97 | NA | NA | 5.70 | 6.39 | 0.93 | NA | NA | 20.60 | 21.29 | 090
54385 |  | A | Repair penis | 16.30 | NA | NA | 8.77 | 8.40 | 0.86 | NA | NA | 25.93 | 25.56 | 090
54390 |  | A | Repair penis and bladder | 22.51 | NA | NA | 7.50 | 8.95 | 1.54 | NA | NA | 31.55 | 33.00 | 090
54400 |  | A | Insert semi-rigid prosthesis | 9.04 | NA | NA | 5.97 | 4.76 | 0.64 | NA | NA | 15.65 | 14.44 | 090
54401 |  | A | Insert self-contd prosthesis | 10.26 | NA | NA | 8.50 | 6.43 | 0.73 | NA | NA | 19.49 | 17.42 | 090
54405 |  | A | Insert multi-comp penis pros | 14.33 | NA | NA | 8.48 | 6.57 | 0.95 | NA | NA | 23.76 | 21.85 | 090
54406 |  | A | Remove muti-comp penis pros | 12.70 | NA | NA | 7.92 | 6.05 | 0.86 | NA | NA | 21.48 | 19.61 | 090
54408 |  | A | Repair multi-comp penis pros | 13.67 | NA | NA | 8.55 | 6.44 | 0.90 | NA | NA | 23.12 | 21.01 | 090
54410 |  | A | Remove/replace penis prosth | 16.42 | NA | NA | 9.73 | 7.41 | 1.10 | NA | NA | 27.25 | 24.93 | 090
54411 |  | A | Remov/replc penis pros, comp | 18.06 | NA | NA | 10.80 | 7.99 | 1.13 | NA | NA | 29.99 | 27.18 | 090
54415 |  | A | Remove self-contd penis pros | 8.69 | NA | NA | 6.23 | 4.71 | 0.58 | NA | NA | 15.50 | 13.98 | 090
54416 |  | A | Remv/repl penis contain pros | 11.79 | NA | NA | 8.18 | 6.08 | 0.77 | NA | NA | 20.74 | 18.64 | 090
54417 |  | A | Remv/replc penis pros, compl | 15.88 | NA | NA | 9.26 | 6.95 | 1.00 | NA | NA | 26.14 | 23.83 | 090
54420 |  | A | Revision of penis | 12.20 | NA | NA | 7.78 | 6.13 | 0.81 | NA | NA | 20.79 | 19.14 | 090
54430 |  | A | Revision of penis | 10.87 | NA | NA | 7.18 | 5.63 | 0.72 | NA | NA | 18.77 | 17.22 | 090
54435 |  | A | Revision of penis | 6.67 | NA | NA | 5.11 | 3.99 | 0.43 | NA | NA | 12.21 | 11.09 | 090
54450 |  | A | Preputial stretching | 1.12 | 0.88 | 0.93 | 0.50 | 0.46 | 0.08 | 2.08 | 2.13 | 1.70 | 1.66 | 000
54500 |  | A | Biopsy of testis | 1.31 | 0.64 | 0.62 | 0.82 | 0.63 | 0.10 | 2.05 | 2.03 | 2.23 | 2.04 | 000
54505 |  | A | Biopsy of testis | 3.45 | NA | NA | 2.47 | 2.06 | 0.27 | NA | NA | 6.19 | 5.78 | 010
54512 |  | A | Excise lesion testis | 9.19 | NA | NA | 5.87 | 4.57 | 0.67 | NA | NA | 15.73 | 14.43 | 090
54520 |  | A | Removal of testis | 5.22 | NA | NA | 3.81 | 3.05 | 0.50 | NA | NA | 9.53 | 8.77 | 090
54522 |  | A | Orchiectomy, partial | 10.11 | NA | NA | 5.89 | 5.13 | 0.89 | NA | NA | 16.89 | 16.13 | 090
54530 |  | A | Removal of testis | 9.25 | NA | NA | 6.26 | 4.75 | 0.66 | NA | NA | 16.17 | 14.66 | 090
54535 |  | A | Extensive testis surgery | 13.00 | NA | NA | 7.77 | 6.11 | 0.95 | NA | NA | 21.72 | 20.06 | 090
54550 |  | A | Exploration for testis | 8.27 | NA | NA | 5.47 | 4.23 | 0.59 | NA | NA | 14.33 | 13.09 | 090
54560 |  | A | Exploration for testis | 11.91 | NA | NA | 6.56 | 5.51 | 0.90 | NA | NA | 19.37 | 18.32 | 090
54600 |  | A | Reduce testis torsion | 7.50 | NA | NA | 5.29 | 3.99 | 0.51 | NA | NA | 13.30 | 12.00 | 090
54620 |  | A | Suspension of testis | 5.14 | NA | NA | 3.37 | 2.67 | 0.37 | NA | NA | 8.88 | 8.18 | 010
54640 |  | A | Suspension of testis | 7.53 | NA | NA | 5.59 | 4.20 | 0.62 | NA | NA | 13.74 | 12.35 | 090
54650 |  | A | Orchiopexy (Fowler-Stephens) | 12.18 | NA | NA | 7.95 | 6.05 | 1.16 | NA | NA | 21.29 | 19.39 | 090
54660 |  | A | Revision of testis | 5.60 | NA | NA | 4.52 | 3.38 | 0.44 | NA | NA | 10.56 | 9.42 | 090
54670 |  | A | Repair testis injury | 6.52 | NA | NA | 4.91 | 3.88 | 0.47 | NA | NA | 11.90 | 10.87 | 090
54680 |  | A | Relocation of testis(es) | 13.85 | NA | NA | 7.87 | 6.59 | 1.16 | NA | NA | 22.88 | 21.60 | 090
54690 |  | A | Laparoscopy, orchiectomy | 11.56 | NA | NA | 6.31 | 5.28 | 1.02 | NA | NA | 18.89 | 17.86 | 090
54692 |  | A | Laparoscopy, orchiopexy | 13.60 | NA | NA | 7.89 | 6.05 | 1.30 | NA | NA | 22.79 | 20.95 | 090
54700 |  | A | Drainage of scrotum | 3.42 | NA | NA | 2.46 | 2.07 | 0.28 | NA | NA | 6.16 | 5.77 | 010
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
54800 |  | A | Biopsy of epididymis | 2.33 | 0.87 | 0.92 | 1.01 | 0.93 | 0.23 | 3.43 | 3.48 | 3.57 | 3.49 | 000
54820 |  | A | Exploration of epididymis | 5.63 | NA | NA | 4.38 | 3.30 | 0.40 | NA | NA | 10.41 | 9.33 | 090
54830 |  | A | Remove epididymis lesion | 5.87 | NA | NA | 4.56 | 3.41 | 0.41 | NA | NA | 10.84 | 9.69 | 090
54840 |  | A | Remove epididymis lesion | 5.19 | NA | NA | 3.90 | 3.06 | 0.37 | NA | NA | 9.46 | 8.62 | 090
54860 |  | A | Removal of epididymis | 6.81 | NA | NA | 5.02 | 3.74 | 0.45 | NA | NA | 12.28 | 11.00 | 090
54861 |  | A | Removal of epididymis | 9.51 | NA | NA | 6.46 | 4.85 | 0.63 | NA | NA | 16.60 | 14.99 | 090
54900 |  | A | Fusion of spermatic ducts | 13.99 | NA | NA | 5.12 | 5.63 | 0.93 | NA | NA | 20.04 | 20.55 | 090
54901 |  | A | Fusion of spermatic ducts | 18.84 | NA | NA | 6.43 | 7.26 | 1.82 | NA | NA | 27.09 | 27.92 | 090
55000 |  | A | Drainage of hydrocele | 1.43 | 1.90 | 2.03 | 0.94 | 0.72 | 0.11 | 3.44 | 3.57 | 2.48 | 2.26 | 000
55040 |  | A | Removal of hydrocele | 5.35 | NA | NA | 4.04 | 3.19 | 0.43 | NA | NA | 9.82 | 8.97 | 090
55041 |  | A | Removal of hydroceles | 8.35 | NA | NA | 5.85 | 4.44 | 0.60 | NA | NA | 14.80 | 13.39 | 090
55060 |  | A | Repair of hydrocele | 6.01 | NA | NA | 4.54 | 3.45 | 0.46 | NA | NA | 11.01 | 9.92 | 090
55100 |  | A | Drainage of scrotum abscess | 2.38 | 3.58 | 3.66 | 2.16 | 1.71 | 0.17 | 6.13 | 6.21 | 4.71 | 4.26 | 010
55110 |  | A | Explore scrotum | 6.19 | NA | NA | 4.63 | 3.51 | 0.43 | NA | NA | 11.25 | 10.13 | 090
55120 |  | A | Removal of scrotum lesion | 5.58 | NA | NA | 4.41 | 3.32 | 0.39 | NA | NA | 10.38 | 9.29 | 090
55150 |  | A | Removal of scrotum | 7.95 | NA | NA | 5.62 | 4.29 | 0.56 | NA | NA | 14.13 | 12.80 | 090
55175 |  | A | Revision of scrotum | 5.73 | NA | NA | 4.49 | 3.38 | 0.37 | NA | NA | 10.59 | 9.48 | 090
55180 |  | A | Revision of scrotum | 11.57 | NA | NA | 7.47 | 5.90 | 0.90 | NA | NA | 19.94 | 18.37 | 090
55200 |  | A | Incision of sperm duct | 4.48 | 8.46 | 11.38 | 3.47 | 2.65 | 0.33 | 13.27 | 16.19 | 8.28 | 7.46 | 090
55250 |  | A | Removal of sperm duct(s) | 3.29 | 7.88 | 10.60 | 3.06 | 2.43 | 0.25 | 11.42 | 14.14 | 6.60 | 5.97 | 090
55300 |  | A | Prepare, sperm duct x-ray | 3.50 | NA | NA | 1.83 | 1.44 | 0.25 | NA | NA | 5.58 | 5.19 | 000
55400 |  | A | Repair of sperm duct | 8.48 | NA | NA | 5.66 | 4.46 | 0.64 | NA | NA | 14.78 | 13.58 | 090
55450 |  | A | Ligation of sperm duct | 4.36 | 6.15 | 6.80 | 2.94 | 2.14 | 0.29 | 10.80 | 11.45 | 7.59 | 6.79 | 010
55500 |  | A | Removal of hydrocele | 6.08 | NA | NA | 4.29 | 3.39 | 0.55 | NA | NA | 10.92 | 10.02 | 090
55520 |  | A | Removal of sperm cord lesion | 6.52 | NA | NA | 3.80 | 3.39 | 0.75 | NA | NA | 11.07 | 10.66 | 090
55530 |  | A | Revise spermatic cord veins | 5.65 | NA | NA | 4.23 | 3.32 | 0.45 | NA | NA | 10.33 | 9.42 | 090
55535 |  | A | Revise spermatic cord veins | 7.05 | NA | NA | 4.96 | 3.79 | 0.47 | NA | NA | 12.48 | 11.31 | 090
55540 |  | A | Revise hernia & sperm veins | 8.16 | NA | NA | 4.25 | 3.91 | 0.94 | NA | NA | 13.35 | 13.01 | 090
55550 |  | A | Laparo ligate spermatic vein | 7.06 | NA | NA | 4.66 | 3.64 | 0.57 | NA | NA | 12.29 | 11.27 | 090
55600 |  | A | Incise sperm duct pouch | 6.87 | NA | NA | 5.05 | 3.76 | 0.62 | NA | NA | 12.54 | 11.25 | 090
55605 |  | A | Incise sperm duct pouch | 8.57 | NA | NA | 4.95 | 4.46 | 0.64 | NA | NA | 14.16 | 13.67 | 090
55650 |  | A | Remove sperm duct pouch | 12.46 | NA | NA | 7.46 | 5.83 | 0.92 | NA | NA | 20.84 | 19.21 | 090
55680 |  | A | Remove sperm pouch lesion | 5.55 | NA | NA | 3.93 | 3.21 | 0.47 | NA | NA | 9.95 | 9.23 | 090
55700 |  | A | Biopsy of prostate | 2.58 | 3.84 | 4.11 | 1.39 | 0.83 | 0.11 | 6.53 | 6.80 | 4.08 | 3.52 | 000
55705 |  | A | Biopsy of prostate | 4.56 | NA | NA | 2.97 | 2.47 | 0.32 | NA | NA | 7.85 | 7.35 | 010
55720 |  | A | Drainage of prostate abscess | 7.63 | NA | NA | 4.98 | 4.11 | 0.95 | NA | NA | 13.56 | 12.69 | 090
55725 |  | A | Drainage of prostate abscess | 9.84 | NA | NA | 6.67 | 5.04 | 0.70 | NA | NA | 17.21 | 15.58 | 090
55801 |  | A | Removal of prostate | 19.54 | NA | NA | 10.98 | 8.46 | 1.34 | NA | NA | 31.86 | 29.34 | 090
55810 |  | A | Extensive prostate surgery | 24.08 | NA | NA | 12.91 | 9.94 | 1.60 | NA | NA | 38.59 | 35.62 | 090
55812 |  | A | Extensive prostate surgery | 29.61 | NA | NA | 15.54 | 12.13 | 2.04 | NA | NA | 47.19 | 43.78 | 090
55815 |  | A | Extensive prostate surgery | 32.67 | NA | NA | 17.02 | 13.18 | 2.16 | NA | NA | 51.85 | 48.01 | 090
55821 |  | A | Removal of prostate | 15.57 | NA | NA | 9.06 | 6.92 | 1.01 | NA | NA | 25.64 | 23.50 | 090
55831 |  | A | Removal of prostate | 17.00 | NA | NA | 9.67 | 7.41 | 1.10 | NA | NA | 27.77 | 25.51 | 090
55840 |  | A | Extensive prostate surgery | 24.37 | NA | NA | 13.24 | 10.28 | 1.61 | NA | NA | 39.22 | 36.26 | 090
55842 |  | A | Extensive prostate surgery | 26.23 | NA | NA | 14.08 | 10.91 | 1.72 | NA | NA | 42.03 | 38.86 | 090
55845 |  | A | Extensive prostate surgery | 30.46 | NA | NA | 15.54 | 12.09 | 2.02 | NA | NA | 48.02 | 44.57 | 090
55859 |  | A | Percut/needle insert, pros | 13.25 | NA | NA | 8.12 | 6.42 | 0.89 | NA | NA | 22.26 | 20.56 | 090
55860 |  | A | Surgical exposure, prostate | 15.65 | NA | NA | 9.01 | 7.06 | 1.02 | NA | NA | 25.68 | 23.73 | 090
55862 |  | A | Extensive prostate surgery | 19.83 | NA | NA | 11.17 | 8.68 | 1.49 | NA | NA | 32.49 | 30.00 | 090
55865 |  | A | Extensive prostate surgery | 24.31 | NA | NA | 13.36 | 10.29 | 1.63 | NA | NA | 39.30 | 36.23 | 090
55866 |  | A | Laparo radical prostatectomy | 32.17 | NA | NA | 16.64 | 12.96 | 2.16 | NA | NA | 50.97 | 47.29 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
55870 |  | A | Electroejaculation | 2.58 | 2.53 | 1.78 | 1.49 | 1.18 | 0.16 | 5.27 | 4.52 | 4.23 | 3.92 | 000
55873 |  | A | Cryoablate prostate | 20.19 | NA | NA | 11.73 | 9.65 | 1.38 | NA | NA | 33.30 | 31.22 | 090
56405 |  | A | I & D of vulva/perineum | 1.44 | 1.16 | 1.29 | 1.14 | 1.14 | 0.17 | 2.77 | 2.90 | 2.75 | 2.75 | 010
56420 |  | A | Drainage of gland abscess | 1.39 | 1.50 | 2.09 | 0.76 | 0.97 | 0.16 | 3.05 | 3.64 | 2.31 | 2.52 | 010
56440 |  | A | Surgery for vulva lesion | 2.84 | NA | NA | 1.51 | 1.66 | 0.34 | NA | NA | 4.69 | 4.84 | 010
56441 |  | A | Lysis of labial lesion(s) | 1.97 | 1.72 | 1.80 | 1.56 | 1.45 | 0.20 | 3.89 | 3.97 | 3.73 | 3.62 | 010
56501 |  | A | Destroy, vulva lesions, sim | 1.53 | 1.62 | 1.75 | 1.21 | 1.23 | 0.18 | 3.33 | 3.46 | 2.92 | 2.94 | 010
56515 |  | A | Destroy vulva lesion/s compl | 3.01 | 2.34 | 2.50 | 1.70 | 1.79 | 0.33 | 5.68 | 5.84 | 5.04 | 5.13 | 010
56605 |  | A | Biopsy of vulva/perineum | 1.10 | 0.89 | 1.03 | 0.34 | 0.43 | 0.13 | 2.12 | 2.26 | 1.57 | 1.66 | 000
56606 |  | A | Biopsy of vulva/perineum | 0.55 | 0.36 | 0.46 | 0.15 | 0.20 | 0.07 | 0.98 | 1.08 | 0.77 | 0.82 | ZZZ
56620 |  | A | Partial removal of vulva | 8.38 | NA | NA | 4.28 | 4.67 | 0.90 | NA | NA | 13.56 | 13.95 | 090
56625 |  | A | Complete removal of vulva | 9.49 | NA | NA | 4.68 | 5.17 | 1.02 | NA | NA | 15.19 | 15.68 | 090
56630 |  | A | Extensive vulva surgery | 14.61 | NA | NA | 6.07 | 6.66 | 1.49 | NA | NA | 22.17 | 22.76 | 090
56631 |  | A | Extensive vulva surgery | 18.75 | NA | NA | 7.60 | 8.52 | 1.95 | NA | NA | 28.30 | 29.22 | 090
56632 |  | A | Extensive vulva surgery | 21.51 | NA | NA | 9.02 | 9.41 | 2.38 | NA | NA | 32.91 | 33.30 | 090
56633 |  | A | Extensive vulva surgery | 19.41 | NA | NA | 7.54 | 8.34 | 1.97 | NA | NA | 28.92 | 29.72 | 090
56634 |  | A | Extensive vulva surgery | 20.42 | NA | NA | 8.03 | 9.10 | 2.16 | NA | NA | 30.61 | 31.68 | 090
56637 |  | A | Extensive vulva surgery | 24.51 | NA | NA | 9.15 | 10.61 | 2.60 | NA | NA | 36.26 | 37.72 | 090
56640 |  | A | Extensive vulva surgery | 24.59 | NA | NA | 9.02 | 10.24 | 2.88 | NA | NA | 36.49 | 37.71 | 090
56700 |  | A | Partial removal of hymen | 2.77 | NA | NA | 1.75 | 1.82 | 0.30 | NA | NA | 4.82 | 4.89 | 010
56720 |  | A | Incision of hymen | 0.68 | NA | NA | 0.51 | 0.51 | 0.08 | NA | NA | 1.27 | 1.27 | 000
56740 |  | A | Remove vagina gland lesion | 4.81 | NA | NA | 2.28 | 2.50 | 0.56 | NA | NA | 7.65 | 7.87 | 010
56800 |  | A | Repair of vagina | 3.88 | NA | NA | 1.97 | 2.14 | 0.44 | NA | NA | 6.29 | 6.46 | 010
56805 |  | A | Repair clitoris | 19.69 | NA | NA | 11.06 | 9.85 | 2.14 | NA | NA | 32.89 | 31.68 | 090
56810 |  | A | Repair of perineum | 4.24 | NA | NA | 2.03 | 2.23 | 0.49 | NA | NA | 6.76 | 6.96 | 010
56820 |  | A | Exam of vulva w/scope | 1.50 | 1.18 | 1.28 | 0.52 | 0.62 | 0.18 | 2.86 | 2.96 | 2.20 | 2.30 | 000
56821 |  | A | Exam/biopsy of vulva w/scope | 2.05 | 1.52 | 1.70 | 0.67 | 0.85 | 0.25 | 3.82 | 4.00 | 2.97 | 3.15 | 000
57000 |  | A | Exploration of vagina | 2.97 | NA | NA | 1.70 | 1.72 | 0.31 | NA | NA | 4.98 | 5.00 | 010
57010 |  | A | Drainage of pelvic abscess | 6.70 | NA | NA | 3.80 | 3.81 | 0.71 | NA | NA | 11.21 | 11.22 | 090
57020 |  | A | Drainage of pelvic fluid | 1.50 | 0.75 | 0.89 | 0.43 | 0.55 | 0.18 | 2.43 | 2.57 | 2.11 | 2.23 | 000
57022 |  | A | I & d vaginal hematoma, pp | 2.68 | NA | NA | 1.42 | 1.47 | 0.26 | NA | NA | 4.36 | 4.41 | 010
57023 |  | A | I & d vag hematoma, non-ob | 5.11 | NA | NA | 2.36 | 2.53 | 0.58 | NA | NA | 8.05 | 8.22 | 010
57061 |  | A | Destroy vag lesions, simple | 1.25 | 1.50 | 1.61 | 1.10 | 1.12 | 0.15 | 2.90 | 3.01 | 2.50 | 2.52 | 010
57065 |  | A | Destroy vag lesions, complex | 2.61 | 1.99 | 2.22 | 1.47 | 1.62 | 0.31 | 4.91 | 5.14 | 4.39 | 4.54 | 010
57100 |  | A | Biopsy of vagina | 1.20 | 0.92 | 1.04 | 0.36 | 0.45 | 0.14 | 2.26 | 2.38 | 1.70 | 1.79 | 000
57105 |  | A | Biopsy of vagina | 1.69 | 1.57 | 1.74 | 1.32 | 1.40 | 0.20 | 3.46 | 3.63 | 3.21 | 3.29 | 010
57106 |  | A | Remove vagina wall, partial | 7.29 | NA | NA | 4.15 | 4.18 | 0.73 | NA | NA | 12.17 | 12.20 | 090
57107 |  | A | Remove vagina tissue, part | 24.37 | NA | NA | 8.88 | 10.09 | 2.71 | NA | NA | 35.96 | 37.17 | 090
57109 |  | A | Vaginectomy partial w/nodes | 28.19 | NA | NA | 10.14 | 10.99 | 3.21 | NA | NA | 41.54 | 42.39 | 090
57110 |  | A | Remove vagina wall, complete | 15.34 | NA | NA | 6.11 | 7.00 | 1.73 | NA | NA | 23.18 | 24.07 | 090
57111 |  | A | Remove vagina tissue, compl | 28.19 | NA | NA | 9.99 | 11.99 | 3.17 | NA | NA | 41.35 | 43.35 | 090
57112 |  | A | Vaginectomy w/nodes, compl | 30.31 | NA | NA | 11.45 | 11.96 | 3.07 | NA | NA | 44.83 | 45.34 | 090
57120 |  | A | Closure of vagina | 8.14 | NA | NA | 4.12 | 4.49 | 0.89 | NA | NA | 13.15 | 13.52 | 090
57130 |  | A | Remove vagina lesion | 2.43 | 1.96 | 2.11 | 1.47 | 1.52 | 0.29 | 4.68 | 4.83 | 4.19 | 4.24 | 010
57135 |  | A | Remove vagina lesion | 2.67 | 2.01 | 2.21 | 1.51 | 1.62 | 0.31 | 4.99 | 5.19 | 4.49 | 4.60 | 010
57150 |  | A | Treat vagina infection | 0.55 | 0.57 | 0.97 | 0.15 | 0.20 | 0.07 | 1.19 | 1.59 | 0.77 | 0.82 | 000
57155 |  | A | Insert uteri tandems/ovoids | 6.75 | NA | NA | 3.14 | 4.21 | 0.43 | NA | NA | 10.32 | 11.39 | 090
57160 |  | A | Insert pessary/other device | 0.89 | 1.04 | 1.02 | 0.25 | 0.32 | 0.10 | 2.03 | 2.01 | 1.24 | 1.31 | 000
57170 |  | A | Fitting of diaphragm/cap | 0.91 | 2.68 | 1.78 | 0.25 | 0.31 | 0.11 | 3.70 | 2.80 | 1.27 | 1.33 | 000
57180 |  | A | Treat vaginal bleeding | 1.58 | 1.83 | 2.09 | 0.91 | 1.17 | 0.19 | 3.60 | 3.86 | 2.68 | 2.94 | 010
57200 |  | A | Repair of vagina | 4.30 | NA | NA | 2.90 | 2.90 | 0.46 | NA | NA | 7.66 | 7.66 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
57210 |  | A | Repair vagina/perineum | 5.59 | NA | NA | 3.20 | 3.38 | 0.62 | NA | NA | 9.41 | 9.59 | 090
57220 |  | A | Revision of urethra | 4.73 | NA | NA | 2.95 | 3.07 | 0.51 | NA | NA | 8.19 | 8.31 | 090
57230 |  | A | Repair of urethral lesion | 6.18 | NA | NA | 3.76 | 3.50 | 0.54 | NA | NA | 10.48 | 10.22 | 090
57240 |  | A | Repair bladder & vagina | 11.38 | NA | NA | 5.55 | 4.25 | 0.62 | NA | NA | 17.55 | 16.25 | 090
57250 |  | A | Repair rectum & vagina | 11.38 | NA | NA | 4.82 | 3.89 | 0.65 | NA | NA | 16.85 | 15.92 | 090
57260 |  | A | Repair of vagina | 14.32 | NA | NA | 5.82 | 5.09 | 0.97 | NA | NA | 21.11 | 20.38 | 090
57265 |  | A | Extensive repair of vagina | 15.82 | NA | NA | 6.29 | 6.11 | 1.32 | NA | NA | 23.43 | 23.25 | 090
57267 |  | A | Insert mesh/pelvic flr addon | 4.88 | NA | NA | 1.50 | 1.86 | 0.64 | NA | NA | 7.02 | 7.38 | ZZZ
57268 |  | A | Repair of bowel bulge | 7.43 | NA | NA | 3.95 | 4.14 | 0.79 | NA | NA | 12.17 | 12.36 | 090
57270 |  | A | Repair of bowel pouch | 13.53 | NA | NA | 5.60 | 6.10 | 1.42 | NA | NA | 20.55 | 21.05 | 090
57280 |  | A | Suspension of vagina | 16.58 | NA | NA | 6.94 | 7.27 | 1.67 | NA | NA | 25.19 | 25.52 | 090
57282 |  | A | Colpopexy, extraperitoneal | 7.78 | NA | NA | 4.35 | 4.47 | 1.02 | NA | NA | 13.15 | 13.27 | 090
57283 |  | A | Colpopexy, intraperitoneal | 11.54 | NA | NA | 5.15 | 5.74 | 1.02 | NA | NA | 17.71 | 18.30 | 090
57284 |  | A | Repair paravaginal defect | 13.43 | NA | NA | 6.69 | 7.04 | 1.41 | NA | NA | 21.53 | 21.88 | 090
57287 |  | A | Revise/remove sling repair | 11.43 | NA | NA | 6.54 | 5.75 | 0.90 | NA | NA | 18.87 | 18.08 | 090
57288 |  | A | Repair bladder defect | 13.95 | NA | NA | 7.12 | 6.22 | 1.12 | NA | NA | 22.19 | 21.29 | 090
57289 |  | A | Repair bladder & vagina | 12.63 | NA | NA | 6.19 | 6.09 | 1.21 | NA | NA | 20.03 | 19.93 | 090
57291 |  | A | Construction of vagina | 8.50 | NA | NA | 4.23 | 4.76 | 0.93 | NA | NA | 13.66 | 14.19 | 090
57292 |  | A | Construct vagina with graft | 13.87 | NA | NA | 5.90 | 6.69 | 1.58 | NA | NA | 21.35 | 22.14 | 090
57295 |  | A | Change vaginal graft | 7.70 | NA | NA | 3.65 | 4.24 | 0.91 | NA | NA | 12.26 | 12.85 | 090
57300 |  | A | Repair rectum-vagina fistula | 8.52 | NA | NA | 4.40 | 4.32 | 0.87 | NA | NA | 13.79 | 13.71 | 090
57305 |  | A | Repair rectum-vagina fistula | 15.18 | NA | NA | 6.11 | 6.24 | 1.72 | NA | NA | 23.01 | 23.14 | 090
57307 |  | A | Fistula repair & colostomy | 16.96 | NA | NA | 6.77 | 6.95 | 2.01 | NA | NA | 25.74 | 25.92 | 090
57308 |  | A | Fistula repair, transperine | 10.42 | NA | NA | 4.76 | 5.02 | 1.14 | NA | NA | 16.32 | 16.58 | 090
57310 |  | A | Repair urethrovaginal lesion | 7.51 | NA | NA | 5.16 | 4.17 | 0.54 | NA | NA | 13.21 | 12.22 | 090
57311 |  | A | Repair urethrovaginal lesion | 8.77 | NA | NA | 5.22 | 4.40 | 0.65 | NA | NA | 14.64 | 13.82 | 090
57320 |  | A | Repair bladder-vagina lesion | 8.74 | NA | NA | 5.40 | 4.63 | 0.69 | NA | NA | 14.83 | 14.06 | 090
57330 |  | A | Repair bladder-vagina lesion | 13.07 | NA | NA | 7.29 | 6.11 | 1.06 | NA | NA | 21.42 | 20.24 | 090
57335 |  | A | Repair vagina | 19.81 | NA | NA | 8.95 | 9.03 | 1.91 | NA | NA | 30.67 | 30.75 | 090
57400 |  | A | Dilation of vagina | 2.27 | NA | NA | 0.97 | 1.08 | 0.26 | NA | NA | 3.50 | 3.61 | 000
57410 |  | A | Pelvic examination | 1.75 | 1.39 | 1.86 | 0.92 | 0.90 | 0.18 | 3.32 | 3.79 | 2.85 | 2.83 | 000
57415 |  | A | Remove vaginal foreign body | 2.42 | NA | NA | 1.50 | 1.44 | 0.24 | NA | NA | 4.16 | 4.10 | 010
57420 |  | A | Exam of vagina w/scope | 1.60 | 1.22 | 1.32 | 0.55 | 0.64 | 0.19 | 3.01 | 3.11 | 2.34 | 2.43 | 000
57421 |  | A | Exam/biopsy of vag w/scope | 2.20 | 1.58 | 1.78 | 0.71 | 0.90 | 0.27 | 4.05 | 4.25 | 3.18 | 3.37 | 000
57425 |  | A | Laparoscopy, surg, colpopexy | 16.89 | NA | NA | 6.77 | 6.68 | 1.75 | NA | NA | 25.41 | 25.32 | 090
57452 |  | A | Exam of cervix w/scope | 1.50 | 1.17 | 1.25 | 0.73 | 0.75 | 0.18 | 2.85 | 2.93 | 2.41 | 2.43 | 000
57454 |  | A | Bx/curett of cervix w/scope | 2.33 | 1.38 | 1.58 | 0.94 | 1.10 | 0.28 | 3.99 | 4.19 | 3.55 | 3.71 | 000
57455 |  | A | Biopsy of cervix w/scope | 1.99 | 1.48 | 1.66 | 0.65 | 0.82 | 0.24 | 3.71 | 3.89 | 2.88 | 3.05 | 000
57456 |  | A | Endocerv curettage w/scope | 1.85 | 1.44 | 1.60 | 0.62 | 0.77 | 0.22 | 3.51 | 3.67 | 2.69 | 2.84 | 000
57460 |  | A | Bx of cervix w/scope, leep | 2.83 | 4.27 | 5.46 | 1.08 | 1.31 | 0.34 | 7.44 | 8.63 | 4.25 | 4.48 | 000
57461 |  | A | Conz of cervix w/scope, leep | 3.43 | 4.57 | 5.73 | 1.05 | 1.37 | 0.41 | 8.41 | 9.57 | 4.89 | 5.21 | 000
57500 |  | A | Biopsy of cervix | 1.20 | 2.00 | 2.41 | 0.64 | 0.63 | 0.12 | 3.32 | 3.73 | 1.96 | 1.95 | 000
57505 |  | A | Endocervical curettage | 1.14 | 1.30 | 1.42 | 1.05 | 1.09 | 0.14 | 2.58 | 2.70 | 2.33 | 2.37 | 010
57510 |  | A | Cauterization of cervix | 1.90 | 1.29 | 1.49 | 0.89 | 1.00 | 0.23 | 3.42 | 3.62 | 3.02 | 3.13 | 010
57511 |  | A | Cryocautery of cervix | 1.90 | 1.58 | 1.77 | 1.25 | 1.34 | 0.23 | 3.71 | 3.90 | 3.38 | 3.47 | 010
57513 |  | A | Laser surgery of cervix | 1.90 | 1.55 | 1.68 | 1.26 | 1.37 | 0.23 | 3.68 | 3.81 | 3.39 | 3.50 | 010
57520 |  | A | Conization of cervix | 4.03 | 3.33 | 3.79 | 2.47 | 2.78 | 0.49 | 7.85 | 8.31 | 6.99 | 7.30 | 090
57522 |  | A | Conization of cervix | 3.60 | 2.74 | 3.06 | 2.23 | 2.40 | 0.41 | 6.75 | 7.07 | 6.24 | 6.41 | 090
57530 |  | A | Removal of cervix | 5.15 | NA | NA | 3.06 | 3.31 | 0.58 | NA | NA | 8.79 | 9.04 | 090
57531 |  | A | Removal of cervix, radical | 29.71 | NA | NA | 10.39 | 12.50 | 3.34 | NA | NA | 43.44 | 45.55 | 090
57540 |  | A | Removal of residual cervix | 13.15 | NA | NA | 5.49 | 6.06 | 1.49 | NA | NA | 20.13 | 20.70 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
57545 |  | A | Remove cervix/repair pelvis | 13.96 | NA | NA | 6.16 | 6.56 | 1.52 | NA | NA | 21.64 | 22.04 | 090
57550 |  | A | Removal of residual cervix | 6.20 | NA | NA | 3.58 | 3.77 | 0.67 | NA | NA | 10.45 | 10.64 | 090
57555 |  | A | Remove cervix/repair vagina | 9.80 | NA | NA | 4.71 | 5.00 | 1.09 | NA | NA | 15.60 | 15.89 | 090
57556 |  | A | Remove cervix, repair bowel | 9.22 | NA | NA | 4.65 | 4.81 | 0.92 | NA | NA | 14.79 | 14.95 | 090
57700 |  | A | Revision of cervix | 4.16 | NA | NA | 3.16 | 3.12 | 0.41 | NA | NA | 7.73 | 7.69 | 090
57720 |  | A | Revision of cervix | 4.49 | NA | NA | 2.86 | 3.05 | 0.49 | NA | NA | 7.84 | 8.03 | 090
57800 |  | A | Dilation of cervical canal | 0.77 | 0.70 | 0.75 | 0.41 | 0.46 | 0.09 | 1.56 | 1.61 | 1.27 | 1.32 | 000
57820 |  | A | D & c of residual cervix | 1.67 | 1.33 | 1.44 | 1.03 | 1.11 | 0.20 | 3.20 | 3.31 | 2.90 | 2.98 | 010
58100 |  | A | Biopsy of uterus lining | 1.53 | 1.12 | 1.27 | 0.57 | 0.68 | 0.18 | 2.83 | 2.98 | 2.28 | 2.39 | 000
58110 |  | A | Bx done w/colposcopy add-on | 0.77 | 0.39 | 0.51 | 0.21 | 0.29 | 0.09 | 1.25 | 1.37 | 1.07 | 1.15 | ZZZ
58120 |  | A | Dilation and curettage | 3.52 | 2.07 | 2.25 | 1.63 | 1.82 | 0.39 | 5.98 | 6.16 | 5.54 | 5.73 | 010
58140 |  | A | Myomectomy abdom method | 15.65 | NA | NA | 6.11 | 6.87 | 1.81 | NA | NA | 23.57 | 24.33 | 090
58145 |  | A | Myomectomy vag method | 8.77 | NA | NA | 4.18 | 4.65 | 0.97 | NA | NA | 13.92 | 14.39 | 090
58146 |  | A | Myomectomy abdom complex | 20.20 | NA | NA | 7.16 | 8.56 | 2.32 | NA | NA | 29.68 | 31.08 | 090
58150 |  | A | Total hysterectomy | 17.17 | NA | NA | 6.42 | 7.23 | 1.84 | NA | NA | 25.43 | 26.24 | 090
58152 |  | A | Total hysterectomy | 21.67 | NA | NA | 7.99 | 9.41 | 2.47 | NA | NA | 32.13 | 33.55 | 090
58180 |  | A | Partial hysterectomy | 16.46 | NA | NA | 6.22 | 7.16 | 1.64 | NA | NA | 24.32 | 25.26 | 090
58200 |  | A | Extensive hysterectomy | 22.96 | NA | NA | 7.94 | 9.50 | 2.54 | NA | NA | 33.44 | 35.00 | 090
58210 |  | A | Extensive hysterectomy | 30.70 | NA | NA | 10.43 | 12.53 | 3.37 | NA | NA | 44.50 | 46.60 | 090
58240 |  | A | Removal of pelvis contents | 43.13 | NA | NA | 15.63 | 17.15 | 4.22 | NA | NA | 62.98 | 64.50 | 090
58260 |  | A | Vaginal hysterectomy | 13.98 | NA | NA | 5.69 | 6.46 | 1.57 | NA | NA | 21.24 | 22.01 | 090
58262 |  | A | Vag hyst including t/o | 15.77 | NA | NA | 6.15 | 7.09 | 1.79 | NA | NA | 23.71 | 24.65 | 090
58263 |  | A | Vag hyst w/t/o & vag repair | 17.06 | NA | NA | 6.50 | 7.55 | 1.94 | NA | NA | 25.50 | 26.55 | 090
58267 |  | A | Vag hyst w/urinary repair | 18.17 | NA | NA | 6.88 | 8.01 | 2.06 | NA | NA | 27.11 | 28.24 | 090
58270 |  | A | Vag hyst w/enterocele repair | 15.16 | NA | NA | 5.84 | 6.77 | 1.73 | NA | NA | 22.73 | 23.66 | 090
58275 |  | A | Hysterectomy/revise vagina | 16.84 | NA | NA | 6.54 | 7.48 | 1.91 | NA | NA | 25.29 | 26.23 | 090
58280 |  | A | Hysterectomy/revise vagina | 18.14 | NA | NA | 6.90 | 7.93 | 2.06 | NA | NA | 27.10 | 28.13 | 090
58285 |  | A | Extensive hysterectomy | 23.26 | NA | NA | 7.73 | 9.41 | 2.70 | NA | NA | 33.69 | 35.37 | 090
58290 |  | A | Vag hyst complex | 20.13 | NA | NA | 7.24 | 8.67 | 2.29 | NA | NA | 29.66 | 31.09 | 090
58291 |  | A | Vag hyst incl t/o, complex | 21.92 | NA | NA | 7.66 | 9.34 | 2.52 | NA | NA | 32.10 | 33.78 | 090
58292 |  | A | Vag hyst t/o & repair, compl | 23.21 | NA | NA | 8.13 | 9.83 | 2.67 | NA | NA | 34.01 | 35.71 | 090
58293 |  | A | Vag hyst w/uro repair, compl | 24.19 | NA | NA | 8.32 | 10.09 | 2.78 | NA | NA | 35.29 | 37.06 | 090
58294 |  | A | Vag hyst w/enterocele, compl | 21.41 | NA | NA | 7.04 | 8.95 | 2.39 | NA | NA | 30.84 | 32.75 | 090
58300 |  | N | Insert intrauterine device | 1.01 | 0.62 | 1.22 | 0.23 | 0.34 | 0.12 | 1.75 | 2.35 | 1.36 | 1.47 | XXX
58301 |  | A | Remove intrauterine device | 1.27 | 1.04 | 1.25 | 0.34 | 0.45 | 0.15 | 2.46 | 2.67 | 1.76 | 1.87 | 000
58321 |  | A | Artificial insemination | 0.92 | 0.96 | 1.10 | 0.24 | 0.34 | 0.10 | 1.98 | 2.12 | 1.26 | 1.36 | 000
58322 |  | A | Artificial insemination | 1.10 | 1.03 | 1.16 | 0.30 | 0.39 | 0.13 | 2.26 | 2.39 | 1.53 | 1.62 | 000
58323 |  | A | Sperm washing | 0.23 | 0.15 | 0.44 | 0.07 | 0.09 | 0.03 | 0.41 | 0.70 | 0.33 | 0.35 | 000
58340 |  | A | Catheter for hysterography | 0.88 | 2.17 | 2.92 | 0.57 | 0.63 | 0.09 | 3.14 | 3.89 | 1.54 | 1.60 | 000
58345 |  | A | Reopen fallopian tube | 4.65 | NA | NA | 2.06 | 2.35 | 0.41 | NA | NA | 7.12 | 7.41 | 010
58346 |  | A | Insert heyman uteri capsule | 7.44 | NA | NA | 3.38 | 3.79 | 0.56 | NA | NA | 11.38 | 11.79 | 090
58350 |  | A | Reopen fallopian tube | 1.01 | 1.32 | 1.45 | 0.86 | 0.91 | 0.12 | 2.45 | 2.58 | 1.99 | 2.04 | 010
58353 |  | A | Endometr ablate, thermal | 3.55 | 22.89 | 32.54 | 1.68 | 1.97 | 0.43 | 26.87 | 36.52 | 5.66 | 5.95 | 010
58356 |  | A | Endometrial cryoablation | 6.36 | 43.33 | 57.04 | 1.80 | 2.48 | 0.82 | 50.51 | 64.22 | 8.98 | 9.66 | 010
58400 |  | A | Suspension of uterus | 7.02 | NA | NA | 3.80 | 3.91 | 0.75 | NA | NA | 11.57 | 11.68 | 090
58410 |  | A | Suspension of uterus | 13.66 | NA | NA | 5.79 | 6.29 | 1.45 | NA | NA | 20.90 | 21.40 | 090
58520 |  | A | Repair of ruptured uterus | 13.34 | NA | NA | 5.35 | 5.88 | 1.47 | NA | NA | 20.16 | 20.69 | 090
58540 |  | A | Revision of uterus | 15.57 | NA | NA | 6.09 | 6.75 | 1.78 | NA | NA | 23.44 | 24.10 | 090
58545 |  | A | Laparoscopic myomectomy | 15.65 | NA | NA | 5.88 | 6.87 | 1.77 | NA | NA | 23.30 | 24.29 | 090
58546 |  | A | Laparo-myomectomy, complex | 20.20 | NA | NA | 7.06 | 8.47 | 2.30 | NA | NA | 29.56 | 30.97 | 090
58550 |  | A | Laparo-asst vag hysterectomy | 14.91 | NA | NA | 6.05 | 7.00 | 1.72 | NA | NA | 22.68 | 23.63 | 090
58552 |  | A | Laparo-vag hyst incl t/o | 16.23 | NA | NA | 6.33 | 7.61 | 1.72 | NA | NA | 24.28 | 25.56 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
58553 |  | A | Laparo-vag hyst, complex | 20.13 | NA | NA | 7.04 | 8.47 | 2.30 | NA | NA | 29.47 | 30.90 | 090
58554 |  | A | Laparo-vag hyst w/t/o, compl | 23.13 | NA | NA | 8.18 | 9.86 | 2.27 | NA | NA | 33.58 | 35.26 | 090
58555 |  | A | Hysteroscopy, dx, sep proc | 3.33 | 1.88 | 2.12 | 1.22 | 1.47 | 0.40 | 5.61 | 5.85 | 4.95 | 5.20 | 000
58558 |  | A | Hysteroscopy, biopsy | 4.74 | NA | NA | 1.63 | 2.04 | 0.57 | NA | NA | 6.94 | 7.35 | 000
58559 |  | A | Hysteroscopy, lysis | 6.16 | NA | NA | 2.01 | 2.56 | 0.74 | NA | NA | 8.91 | 9.46 | 000
58560 |  | A | Hysteroscopy, resect septum | 6.99 | NA | NA | 2.24 | 2.88 | 0.84 | NA | NA | 10.07 | 10.71 | 000
58561 |  | A | Hysteroscopy, remove myoma | 9.99 | NA | NA | 3.07 | 3.99 | 1.21 | NA | NA | 14.27 | 15.19 | 000
58562 |  | A | Hysteroscopy, remove fb | 5.20 | NA | NA | 1.73 | 2.20 | 0.63 | NA | NA | 7.56 | 8.03 | 000
58563 |  | A | Hysteroscopy, ablation | 6.16 | 37.31 | 51.59 | 2.02 | 2.58 | 0.74 | 44.21 | 58.49 | 8.92 | 9.48 | 000
58565 |  | A | Hysteroscopy, sterilization | 7.02 | 34.36 | 45.87 | 3.31 | 3.76 | 1.19 | 42.57 | 54.08 | 11.52 | 11.97 | 090
58600 |  | A | Division of fallopian tube | 5.84 | NA | NA | 2.85 | 3.22 | 0.66 | NA | NA | 9.35 | 9.72 | 090
58605 |  | A | Division of fallopian tube | 5.23 | NA | NA | 2.62 | 3.00 | 0.59 | NA | NA | 8.44 | 8.82 | 090
58611 |  | A | Ligate oviduct(s) add-on | 1.45 | NA | NA | 0.39 | 0.53 | 0.18 | NA | NA | 2.02 | 2.16 | ZZZ
58615 |  | A | Occlude fallopian tube(s) | 3.89 | NA | NA | 1.95 | 2.52 | 0.47 | NA | NA | 6.31 | 6.88 | 010
58660 |  | A | Laparoscopy, lysis | 11.52 | NA | NA | 4.34 | 5.04 | 1.40 | NA | NA | 17.26 | 17.96 | 090
58661 |  | A | Laparoscopy, remove adnexa | 11.28 | NA | NA | 3.93 | 4.83 | 1.34 | NA | NA | 16.55 | 17.45 | 010
58662 |  | A | Laparoscopy, excise lesions | 12.05 | NA | NA | 4.61 | 5.50 | 1.43 | NA | NA | 18.09 | 18.98 | 090
58670 |  | A | Laparoscopy, tubal cautery | 5.84 | NA | NA | 2.79 | 3.16 | 0.67 | NA | NA | 9.30 | 9.67 | 090
58671 |  | A | Laparoscopy, tubal block | 5.84 | NA | NA | 2.80 | 3.16 | 0.68 | NA | NA | 9.32 | 9.68 | 090
58672 |  | A | Laparoscopy, fimbrioplasty | 12.86 | NA | NA | 4.69 | 5.82 | 1.60 | NA | NA | 19.15 | 20.28 | 090
58673 |  | A | Laparoscopy, salpingostomy | 13.97 | NA | NA | 5.12 | 6.22 | 1.69 | NA | NA | 20.78 | 21.88 | 090
58700 |  | A | Removal of fallopian tube | 12.80 | NA | NA | 5.45 | 5.86 | 1.51 | NA | NA | 19.76 | 20.17 | 090
58720 |  | A | Removal of ovary/tube(s) | 12.04 | NA | NA | 5.01 | 5.60 | 1.39 | NA | NA | 18.44 | 19.03 | 090
58740 |  | A | Revise fallopian tube(s) | 14.75 | NA | NA | 5.97 | 6.86 | 1.71 | NA | NA | 22.43 | 23.32 | 090
58750 |  | A | Repair oviduct | 15.52 | NA | NA | 5.97 | 7.03 | 1.84 | NA | NA | 23.33 | 24.39 | 090
58752 |  | A | Revise ovarian tube(s) | 15.52 | NA | NA | 5.93 | 6.70 | 1.80 | NA | NA | 23.25 | 24.02 | 090
58760 |  | A | Remove tubal obstruction | 13.81 | NA | NA | 5.51 | 6.43 | 1.79 | NA | NA | 21.11 | 22.03 | 090
58770 |  | A | Create new tubal opening | 14.65 | NA | NA | 5.66 | 6.61 | 1.73 | NA | NA | 22.04 | 22.99 | 090
58800 |  | A | Drainage of ovarian cyst(s) | 4.50 | 3.24 | 3.55 | 2.71 | 2.86 | 0.43 | 8.17 | 8.48 | 7.64 | 7.79 | 090
58805 |  | A | Drainage of ovarian cyst(s) | 6.30 | NA | NA | 3.50 | 3.51 | 0.69 | NA | NA | 10.49 | 10.50 | 090
58820 |  | A | Drain ovary abscess, open | 4.58 | NA | NA | 2.82 | 3.18 | 0.52 | NA | NA | 7.92 | 8.28 | 090
58822 |  | A | Drain ovary abscess, percut | 11.67 | NA | NA | 5.20 | 5.22 | 1.16 | NA | NA | 18.03 | 18.05 | 090
58823 |  | A | Drain pelvic abscess, percut | 3.37 | 20.91 | 21.26 | 1.14 | 1.13 | 0.24 | 24.52 | 24.87 | 4.75 | 4.74 | 000
58825 |  | A | Transposition, ovary(s) | 11.66 | NA | NA | 4.85 | 5.57 | 1.32 | NA | NA | 17.83 | 18.55 | 090
58900 |  | A | Biopsy of ovary(s) | 6.47 | NA | NA | 3.48 | 3.56 | 0.69 | NA | NA | 10.64 | 10.72 | 090
58920 |  | A | Partial removal of ovary(s) | 11.83 | NA | NA | 5.15 | 5.48 | 1.43 | NA | NA | 18.41 | 18.74 | 090
58925 |  | A | Removal of ovarian cyst(s) | 12.29 | NA | NA | 5.20 | 5.58 | 1.41 | NA | NA | 18.90 | 19.28 | 090
58940 |  | A | Removal of ovary(s) | 8.08 | NA | NA | 4.11 | 4.11 | 0.91 | NA | NA | 13.10 | 13.10 | 090
58943 |  | A | Removal of ovary(s) | 19.38 | NA | NA | 7.12 | 8.28 | 2.22 | NA | NA | 28.72 | 29.88 | 090
58950 |  | A | Resect ovarian malignancy | 18.18 | NA | NA | 7.13 | 8.10 | 2.04 | NA | NA | 27.35 | 28.32 | 090
58951 |  | A | Resect ovarian malignancy | 24.11 | NA | NA | 8.42 | 9.96 | 2.63 | NA | NA | 35.16 | 36.70 | 090
58952 |  | A | Resect ovarian malignancy | 27.09 | NA | NA | 9.57 | 11.23 | 3.02 | NA | NA | 39.68 | 41.34 | 090
58953 |  | A | Tah, rad dissect for debulk | 33.91 | NA | NA | 11.33 | 13.77 | 3.83 | NA | NA | 49.07 | 51.51 | 090
58954 |  | A | Tah rad debulk/lymph remove | 36.91 | NA | NA | 12.15 | 14.85 | 4.17 | NA | NA | 53.23 | 55.93 | 090
58956 |  | A | Bso, omentectomy w/tah | 22.59 | NA | NA | 8.38 | 9.85 | 4.00 | NA | NA | 34.97 | 36.44 | 090
58960 |  | A | Exploration of abdomen | 15.64 | NA | NA | 6.19 | 7.08 | 1.79 | NA | NA | 23.62 | 24.51 | 090
58970 |  | A | Retrieval of oocyte | 3.52 | 1.79 | 2.19 | 1.23 | 1.43 | 0.43 | 5.74 | 6.14 | 5.18 | 5.38 | 000
58976 |  | A | Transfer of embryo | 3.82 | 1.92 | 2.50 | 1.18 | 1.67 | 0.47 | 6.21 | 6.79 | 5.47 | 5.96 | 000
59000 |  | A | Amniocentesis, diagnostic | 1.30 | 1.73 | 1.99 | 0.54 | 0.64 | 0.31 | 3.34 | 3.60 | 2.15 | 2.25 | 000
59001 |  | A | Amniocentesis, therapeutic | 3.00 | NA | NA | 1.06 | 1.32 | 0.71 | NA | NA | 4.77 | 5.03 | 000
59012 |  | A | Fetal cord puncture,prenatal | 3.44 | NA | NA | 1.13 | 1.44 | 0.82 | NA | NA | 5.39 | 5.70 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
59015 |  | A | Chorion biopsy | 2.20 | 1.41 | 1.52 | 0.79 | 0.98 | 0.52 | 4.13 | 4.24 | 3.51 | 3.70 | 000
59020 |  | A | Fetal contract stress test | 0.66 | 1.07 | 0.85 | NA | NA | 0.26 | 1.99 | 1.77 | NA | NA | 000
59020 | 26 | A | Fetal contract stress test | 0.66 | 0.18 | 0.24 | 0.18 | 0.24 | 0.16 | 1.00 | 1.06 | 1.00 | 1.06 | 000
59020 | TC | A | Fetal contract stress test | 0.00 | 0.89 | 0.61 | NA | NA | 0.10 | 0.99 | 0.71 | NA | NA | 000
59025 |  | A | Fetal non-stress test | 0.53 | 0.62 | 0.49 | NA | NA | 0.15 | 1.30 | 1.17 | NA | NA | 000
59025 | 26 | A | Fetal non-stress test | 0.53 | 0.14 | 0.19 | 0.14 | 0.19 | 0.13 | 0.80 | 0.85 | 0.80 | 0.85 | 000
59025 | TC | A | Fetal non-stress test | 0.00 | 0.48 | 0.29 | NA | NA | 0.02 | 0.50 | 0.31 | NA | NA | 000
59030 |  | A | Fetal scalp blood sample | 1.99 | NA | NA | 0.54 | 0.71 | 0.47 | NA | NA | 3.00 | 3.17 | 000
59050 |  | A | Fetal monitor w/report | 0.89 | NA | NA | 0.26 | 0.33 | 0.21 | NA | NA | 1.36 | 1.43 | XXX
59051 |  | A | Fetal monitor/interpret only | 0.74 | NA | NA | 0.20 | 0.27 | 0.17 | NA | NA | 1.11 | 1.18 | XXX
59070 |  | A | Transabdom amnioinfus w/us | 5.24 | 4.40 | 4.97 | 1.77 | 2.18 | 0.28 | 9.92 | 10.49 | 7.29 | 7.70 | 000
59072 |  | A | Umbilical cord occlud w/us | 8.99 | NA | NA | 2.80 | 3.05 | 0.16 | NA | NA | 11.95 | 12.20 | 000
59074 |  | A | Fetal fluid drainage w/us | 5.24 | 3.84 | 4.40 | 1.66 | 2.16 | 0.28 | 9.36 | 9.92 | 7.18 | 7.68 | 000
59076 |  | A | Fetal shunt placement, w/us | 8.99 | NA | NA | 2.34 | 2.93 | 0.16 | NA | NA | 11.49 | 12.08 | 000
59100 |  | A | Remove uterus lesion | 13.22 | NA | NA | 5.68 | 6.27 | 2.94 | NA | NA | 21.84 | 22.43 | 090
59120 |  | A | Treat ectopic pregnancy | 12.52 | NA | NA | 5.34 | 6.03 | 2.72 | NA | NA | 20.58 | 21.27 | 090
59121 |  | A | Treat ectopic pregnancy | 12.60 | NA | NA | 5.28 | 6.08 | 2.78 | NA | NA | 20.66 | 21.46 | 090
59130 |  | A | Treat ectopic pregnancy | 14.94 | NA | NA | 5.99 | 5.10 | 3.38 | NA | NA | 24.31 | 23.42 | 090
59135 |  | A | Treat ectopic pregnancy | 14.78 | NA | NA | 4.98 | 6.68 | 3.30 | NA | NA | 23.06 | 24.76 | 090
59136 |  | A | Treat ectopic pregnancy | 14.11 | NA | NA | 5.62 | 6.37 | 3.13 | NA | NA | 22.86 | 23.61 | 090
59140 |  | A | Treat ectopic pregnancy | 5.82 | 1.31 | 1.99 | 2.85 | 2.38 | 1.29 | 8.42 | 9.10 | 9.96 | 9.49 | 090
59150 |  | A | Treat ectopic pregnancy | 12.15 | NA | NA | 5.00 | 5.76 | 2.78 | NA | NA | 19.93 | 20.69 | 090
59151 |  | A | Treat ectopic pregnancy | 11.97 | NA | NA | 4.89 | 5.78 | 2.73 | NA | NA | 19.59 | 20.48 | 090
59160 |  | A | D & c after delivery | 2.71 | 1.97 | 2.97 | 1.16 | 1.90 | 0.64 | 5.32 | 6.32 | 4.51 | 5.25 | 010
59200 |  | A | Insert cervical dilator | 0.79 | 0.93 | 1.13 | 0.22 | 0.28 | 0.19 | 1.91 | 2.11 | 1.20 | 1.26 | 000
59300 |  | A | Episiotomy or vaginal repair | 2.41 | 2.19 | 2.18 | 1.01 | 0.97 | 0.57 | 5.17 | 5.16 | 3.99 | 3.95 | 000
59320 |  | A | Revision of cervix | 2.48 | NA | NA | 0.99 | 1.18 | 0.59 | NA | NA | 4.06 | 4.25 | 000
59325 |  | A | Revision of cervix | 4.06 | NA | NA | 1.20 | 1.73 | 0.88 | NA | NA | 6.14 | 6.67 | 000
59350 |  | A | Repair of uterus | 4.94 | NA | NA | 1.36 | 1.75 | 1.17 | NA | NA | 7.47 | 7.86 | 000
59400 |  | A | Obstetrical care | 26.52 | NA | NA | 14.06 | 15.04 | 5.48 | NA | NA | 46.06 | 47.04 | MMM
59409 |  | A | Obstetrical care | 13.48 | NA | NA | 3.64 | 4.90 | 3.21 | NA | NA | 20.33 | 21.59 | MMM
59410 |  | A | Obstetrical care | 15.25 | NA | NA | 4.83 | 5.95 | 3.51 | NA | NA | 23.59 | 24.71 | MMM
59412 |  | A | Antepartum manipulation | 1.71 | NA | NA | 0.63 | 0.77 | 0.40 | NA | NA | 2.74 | 2.88 | MMM
59414 |  | A | Deliver placenta | 1.61 | NA | NA | 0.43 | 0.59 | 0.38 | NA | NA | 2.42 | 2.58 | MMM
59425 |  | A | Antepartum care only | 6.12 | 4.18 | 4.20 | 1.62 | 1.80 | 1.14 | 11.44 | 11.46 | 8.88 | 9.06 | MMM
59426 |  | A | Antepartum care only | 10.84 | 7.68 | 7.59 | 2.88 | 3.14 | 1.97 | 20.49 | 20.40 | 15.69 | 15.95 | MMM
59430 |  | A | Care after delivery | 2.13 | 1.02 | 1.18 | 0.64 | 0.87 | 0.50 | 3.65 | 3.81 | 3.27 | 3.50 | MMM
59510 |  | A | Cesarean delivery | 30.04 | NA | NA | 15.69 | 16.91 | 6.23 | NA | NA | 51.96 | 53.18 | MMM
59514 |  | A | Cesarean delivery only | 15.95 | NA | NA | 4.36 | 5.76 | 3.79 | NA | NA | 24.10 | 25.50 | MMM
59515 |  | A | Cesarean delivery | 18.20 | NA | NA | 6.07 | 7.41 | 4.12 | NA | NA | 28.39 | 29.73 | MMM
59525 |  | A | Remove uterus after cesarean | 8.53 | NA | NA | 2.32 | 3.06 | 1.94 | NA | NA | 12.79 | 13.53 | ZZZ
59610 |  | A | Vbac delivery | 27.95 | NA | NA | 14.30 | 15.51 | 5.85 | NA | NA | 48.10 | 49.31 | MMM
59612 |  | A | Vbac delivery only | 15.04 | NA | NA | 4.14 | 5.59 | 3.58 | NA | NA | 22.76 | 24.21 | MMM
59614 |  | A | Vbac care after delivery | 16.57 | NA | NA | 5.03 | 6.47 | 3.88 | NA | NA | 25.48 | 26.92 | MMM
59618 |  | A | Attempted vbac delivery | 31.48 | NA | NA | 16.02 | 17.72 | 6.59 | NA | NA | 54.09 | 55.79 | MMM
59620 |  | A | Attempted vbac delivery only | 17.50 | NA | NA | 4.65 | 6.25 | 4.16 | NA | NA | 26.31 | 27.91 | MMM
59622 |  | A | Attempted vbac after care | 19.64 | NA | NA | 6.50 | 8.12 | 4.49 | NA | NA | 30.63 | 32.25 | MMM
59812 |  | A | Treatment of miscarriage | 4.37 | NA | NA | 2.32 | 2.49 | 0.95 | NA | NA | 7.64 | 7.81 | 090
59820 |  | A | Care of miscarriage | 4.64 | 4.03 | 4.33 | 3.43 | 3.54 | 0.95 | 9.62 | 9.92 | 9.02 | 9.13 | 090
59821 |  | A | Treatment of miscarriage | 4.94 | 3.78 | 4.16 | 3.12 | 3.34 | 1.06 | 9.78 | 10.16 | 9.12 | 9.34 | 090
59830 |  | A | Treat uterus infection | 6.47 | NA | NA | 3.40 | 3.84 | 1.44 | NA | NA | 11.31 | 11.75 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
59840 |  | R | Abortion | 3.01 | NA | NA | 1.77 | 2.04 | 0.71 | NA | NA | 5.49 | 5.76 | 010
59841 |  | R | Abortion | 5.55 | 3.12 | 3.41 | 2.55 | 2.87 | 1.24 | 9.91 | 10.20 | 9.34 | 9.66 | 010
59850 |  | R | Abortion | 5.90 | NA | NA | 2.61 | 3.10 | 1.28 | NA | NA | 9.79 | 10.28 | 090
59851 |  | R | Abortion | 5.92 | NA | NA | 3.26 | 3.63 | 1.28 | NA | NA | 10.46 | 10.83 | 090
59852 |  | R | Abortion | 8.23 | NA | NA | 3.68 | 4.71 | 1.80 | NA | NA | 13.71 | 14.74 | 090
59855 |  | R | Abortion | 6.36 | NA | NA | 2.89 | 3.39 | 1.45 | NA | NA | 10.70 | 11.20 | 090
59856 |  | R | Abortion | 7.72 | NA | NA | 4.04 | 4.06 | 1.78 | NA | NA | 13.54 | 13.56 | 090
59857 |  | R | Abortion | 9.28 | NA | NA | 3.11 | 4.32 | 2.01 | NA | NA | 14.40 | 15.61 | 090
59866 |  | R | Abortion (mpr) | 3.99 | NA | NA | 1.22 | 1.73 | 0.87 | NA | NA | 6.08 | 6.59 | 000
59870 |  | A | Evacuate mole of uterus | 6.32 | NA | NA | 4.08 | 4.39 | 1.42 | NA | NA | 11.82 | 12.13 | 090
59871 |  | A | Remove cerclage suture | 2.13 | 1.12 | 1.59 | 0.92 | 1.08 | 0.50 | 3.75 | 4.22 | 3.55 | 3.71 | 000
60000 |  | A | Drain thyroid/tongue cyst | 1.76 | 2.05 | 1.96 | 1.66 | 1.70 | 0.15 | 3.96 | 3.87 | 3.57 | 3.61 | 010
60001 |  | A | Aspirate/inject thyriod cyst | 0.97 | 1.98 | 1.55 | 0.29 | 0.32 | 0.07 | 3.02 | 2.59 | 1.33 | 1.36 | 000
60100 |  | A | Biopsy of thyroid | 1.56 | 1.33 | 1.38 | 0.50 | 0.52 | 0.10 | 2.99 | 3.04 | 2.16 | 2.18 | 000
60200 |  | A | Remove thyroid lesion | 9.84 | NA | NA | 5.13 | 5.78 | 1.01 | NA | NA | 15.98 | 16.63 | 090
60210 |  | A | Partial thyroid excision | 11.11 | NA | NA | 4.96 | 5.48 | 1.23 | NA | NA | 17.30 | 17.82 | 090
60212 |  | A | Partial thyroid excision | 16.26 | NA | NA | 6.45 | 7.38 | 1.94 | NA | NA | 24.65 | 25.58 | 090
60220 |  | A | Partial removal of thyroid | 12.25 | NA | NA | 5.28 | 5.94 | 1.32 | NA | NA | 18.85 | 19.51 | 090
60225 |  | A | Partial removal of thyroid | 14.59 | NA | NA | 6.55 | 7.20 | 1.64 | NA | NA | 22.78 | 23.43 | 090
60240 |  | A | Removal of thyroid | 16.16 | NA | NA | 6.04 | 7.21 | 1.85 | NA | NA | 24.05 | 25.22 | 090
60252 |  | A | Removal of thyroid | 21.82 | NA | NA | 8.23 | 9.65 | 2.29 | NA | NA | 32.34 | 33.76 | 090
60254 |  | A | Extensive thyroid surgery | 28.23 | NA | NA | 10.07 | 13.15 | 2.60 | NA | NA | 40.90 | 43.98 | 090
60260 |  | A | Repeat thyroid surgery | 18.14 | NA | NA | 6.84 | 8.21 | 1.93 | NA | NA | 26.91 | 28.28 | 090
60270 |  | A | Removal of thyroid | 23.01 | NA | NA | 8.81 | 10.06 | 2.32 | NA | NA | 34.14 | 35.39 | 090
60271 |  | A | Removal of thyroid | 17.50 | NA | NA | 6.65 | 8.11 | 1.74 | NA | NA | 25.89 | 27.35 | 090
60280 |  | A | Remove thyroid duct lesion | 5.98 | NA | NA | 4.01 | 4.51 | 0.54 | NA | NA | 10.53 | 11.03 | 090
60281 |  | A | Remove thyroid duct lesion | 8.64 | NA | NA | 4.65 | 5.55 | 0.73 | NA | NA | 14.02 | 14.92 | 090
60500 |  | A | Explore parathyroid glands | 16.63 | NA | NA | 6.64 | 7.23 | 2.00 | NA | NA | 25.27 | 25.86 | 090
60502 |  | A | Re-explore parathyroids | 20.92 | NA | NA | 8.34 | 9.12 | 2.53 | NA | NA | 31.79 | 32.57 | 090
60505 |  | A | Explore parathyroid glands | 22.81 | NA | NA | 9.13 | 10.50 | 2.64 | NA | NA | 34.58 | 35.95 | 090
60512 |  | A | Autotransplant parathyroid | 4.44 | NA | NA | 1.15 | 1.50 | 0.53 | NA | NA | 6.12 | 6.47 | ZZZ
60520 |  | A | Removal of thymus gland | 17.03 | NA | NA | 6.90 | 7.96 | 2.19 | NA | NA | 26.12 | 27.18 | 090
60521 |  | A | Removal of thymus gland | 19.09 | NA | NA | 8.37 | 9.27 | 2.81 | NA | NA | 30.27 | 31.17 | 090
60522 |  | A | Removal of thymus gland | 23.31 | NA | NA | 9.87 | 10.94 | 3.26 | NA | NA | 36.44 | 37.51 | 090
60540 |  | A | Explore adrenal gland | 17.84 | NA | NA | 8.20 | 7.75 | 1.74 | NA | NA | 27.78 | 27.33 | 090
60545 |  | A | Explore adrenal gland | 20.75 | NA | NA | 8.93 | 8.65 | 2.07 | NA | NA | 31.75 | 31.47 | 090
60600 |  | A | Remove carotid body lesion | 24.95 | NA | NA | 9.76 | 10.68 | 2.19 | NA | NA | 36.90 | 37.82 | 090
60605 |  | A | Remove carotid body lesion | 31.82 | NA | NA | 13.01 | 12.47 | 2.49 | NA | NA | 47.32 | 46.78 | 090
60650 |  | A | Laparoscopy adrenalectomy | 20.59 | NA | NA | 8.15 | 8.04 | 2.28 | NA | NA | 31.02 | 30.91 | 090
61000 |  | A | Remove cranial cavity fluid | 1.58 | NA | NA | 1.22 | 1.02 | 0.13 | NA | NA | 2.93 | 2.73 | 000
61001 |  | A | Remove cranial cavity fluid | 1.49 | NA | NA | 1.20 | 1.10 | 0.16 | NA | NA | 2.85 | 2.75 | 000
61020 |  | A | Remove brain cavity fluid | 1.51 | NA | NA | 1.54 | 1.39 | 0.34 | NA | NA | 3.39 | 3.24 | 000
61026 |  | A | Injection into brain canal | 1.69 | NA | NA | 1.48 | 1.41 | 0.33 | NA | NA | 3.50 | 3.43 | 000
61050 |  | A | Remove brain canal fluid | 1.51 | NA | NA | 1.16 | 1.24 | 0.11 | NA | NA | 2.78 | 2.86 | 000
61055 |  | A | Injection into brain canal | 2.10 | NA | NA | 1.34 | 1.40 | 0.17 | NA | NA | 3.61 | 3.67 | 000
61070 |  | A | Brain canal shunt procedure | 0.89 | NA | NA | 1.17 | 1.05 | 0.17 | NA | NA | 2.23 | 2.11 | 000
61105 |  | A | Twist drill hole | 5.38 | NA | NA | 4.77 | 4.15 | 1.32 | NA | NA | 11.47 | 10.85 | 090
61107 |  | A | Drill skull for implantation | 4.99 | NA | NA | 1.79 | 2.35 | 1.29 | NA | NA | 8.07 | 8.63 | 000
61108 |  | A | Drill skull for drainage | 11.45 | NA | NA | 8.21 | 7.42 | 2.63 | NA | NA | 22.29 | 21.50 | 090
61120 |  | A | Burr hole for puncture | 9.48 | NA | NA | 6.51 | 6.14 | 2.09 | NA | NA | 18.08 | 17.71 | 090
61140 |  | A | Pierce skull for biopsy | 17.04 | NA | NA | 10.11 | 9.96 | 4.11 | NA | NA | 31.26 | 31.11 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
61150 |  | A | Pierce skull for drainage | 18.76 | NA | NA | 10.49 | 10.42 | 4.31 | NA | NA | 33.56 | 33.49 | 090
61151 |  | A | Pierce skull for drainage | 13.37 | NA | NA | 8.25 | 7.94 | 3.00 | NA | NA | 24.62 | 24.31 | 090
61154 |  | A | Pierce skull & remove clot | 16.86 | NA | NA | 10.07 | 9.65 | 4.20 | NA | NA | 31.13 | 30.71 | 090
61156 |  | A | Pierce skull for drainage | 17.33 | NA | NA | 9.62 | 9.80 | 4.22 | NA | NA | 31.17 | 31.35 | 090
61210 |  | A | Pierce skull, implant device | 5.83 | NA | NA | 2.11 | 2.72 | 1.50 | NA | NA | 9.44 | 10.05 | 000
61215 |  | A | Insert brain-fluid device | 5.73 | NA | NA | 5.30 | 4.33 | 1.26 | NA | NA | 12.29 | 11.32 | 090
61250 |  | A | Pierce skull & explore | 11.37 | NA | NA | 7.33 | 6.99 | 2.76 | NA | NA | 21.46 | 21.12 | 090
61253 |  | A | Pierce skull & explore | 13.37 | NA | NA | 7.59 | 7.70 | 2.61 | NA | NA | 23.57 | 23.68 | 090
61304 |  | A | Open skull for exploration | 23.27 | NA | NA | 12.24 | 12.71 | 5.61 | NA | NA | 41.12 | 41.59 | 090
61305 |  | A | Open skull for exploration | 28.45 | NA | NA | 14.62 | 15.17 | 6.07 | NA | NA | 49.14 | 49.69 | 090
61312 |  | A | Open skull for drainage | 30.03 | NA | NA | 16.63 | 15.47 | 6.34 | NA | NA | 53.00 | 51.84 | 090
61313 |  | A | Open skull for drainage | 27.88 | NA | NA | 15.03 | 14.89 | 6.43 | NA | NA | 49.34 | 49.20 | 090
61314 |  | A | Open skull for drainage | 25.71 | NA | NA | 13.81 | 13.26 | 6.26 | NA | NA | 45.78 | 45.23 | 090
61315 |  | A | Open skull for drainage | 29.46 | NA | NA | 15.10 | 15.82 | 7.14 | NA | NA | 51.70 | 52.42 | 090
61316 |  | A | Implt cran bone flap to abdo | 1.39 | NA | NA | 0.51 | 0.58 | 0.35 | NA | NA | 2.25 | 2.32 | ZZZ
61320 |  | A | Open skull for drainage | 27.28 | NA | NA | 13.87 | 14.56 | 6.60 | NA | NA | 47.75 | 48.44 | 090
61321 |  | A | Open skull for drainage | 30.34 | NA | NA | 13.87 | 15.60 | 7.12 | NA | NA | 51.33 | 53.06 | 090
61322 |  | A | Decompressive craniotomy | 34.00 | NA | NA | 17.25 | 16.10 | 7.61 | NA | NA | 58.86 | 57.71 | 090
61323 |  | A | Decompressive lobectomy | 34.87 | NA | NA | 16.53 | 16.23 | 8.01 | NA | NA | 59.41 | 59.11 | 090
61330 |  | A | Decompress eye socket | 25.11 | NA | NA | 11.52 | 13.20 | 2.31 | NA | NA | 38.94 | 40.62 | 090
61332 |  | A | Explore/biopsy eye socket | 28.46 | NA | NA | 13.05 | 14.99 | 4.82 | NA | NA | 46.33 | 48.27 | 090
61333 |  | A | Explore orbit/remove lesion | 29.13 | NA | NA | 12.91 | 14.94 | 3.91 | NA | NA | 45.95 | 47.98 | 090
61334 |  | A | Explore orbit/remove object | 19.46 | NA | NA | 8.87 | 10.21 | 1.74 | NA | NA | 30.07 | 31.41 | 090
61340 |  | A | Subtemporal decompression | 19.97 | NA | NA | 11.06 | 11.13 | 4.83 | NA | NA | 35.86 | 35.93 | 090
61343 |  | A | Incise skull (press relief) | 31.67 | NA | NA | 15.47 | 16.51 | 7.62 | NA | NA | 54.76 | 55.80 | 090
61345 |  | A | Relieve cranial pressure | 29.04 | NA | NA | 14.59 | 15.22 | 7.02 | NA | NA | 50.65 | 51.28 | 090
61440 |  | A | Incise skull for surgery | 28.47 | NA | NA | 13.33 | 14.01 | 6.88 | NA | NA | 48.68 | 49.36 | 090
61450 |  | A | Incise skull for surgery | 27.55 | NA | NA | 12.17 | 13.78 | 5.77 | NA | NA | 45.49 | 47.10 | 090
61458 |  | A | Incise skull for brain wound | 28.65 | NA | NA | 14.37 | 15.26 | 7.01 | NA | NA | 50.03 | 50.92 | 090
61460 |  | A | Incise skull for surgery | 30.05 | NA | NA | 14.50 | 15.97 | 6.02 | NA | NA | 50.57 | 52.04 | 090
61470 |  | A | Incise skull for surgery | 27.48 | NA | NA | 12.55 | 13.56 | 5.88 | NA | NA | 45.91 | 46.92 | 090
61480 |  | A | Incise skull for surgery | 27.91 | NA | NA | 7.88 | 13.45 | 6.71 | NA | NA | 42.50 | 48.07 | 090
61490 |  | A | Incise skull for surgery | 27.08 | NA | NA | 13.14 | 14.06 | 6.90 | NA | NA | 47.12 | 48.04 | 090
61500 |  | A | Removal of skull lesion | 18.99 | NA | NA | 10.15 | 10.66 | 4.10 | NA | NA | 33.24 | 33.75 | 090
61501 |  | A | Remove infected skull bone | 16.16 | NA | NA | 9.12 | 9.20 | 3.21 | NA | NA | 28.49 | 28.57 | 090
61510 |  | A | Removal of brain lesion | 30.55 | NA | NA | 16.38 | 16.65 | 7.33 | NA | NA | 54.26 | 54.53 | 090
61512 |  | A | Remove brain lining lesion | 36.93 | NA | NA | 17.81 | 19.25 | 9.05 | NA | NA | 63.79 | 65.23 | 090
61514 |  | A | Removal of brain abscess | 27.04 | NA | NA | 13.90 | 14.33 | 6.52 | NA | NA | 47.46 | 47.89 | 090
61516 |  | A | Removal of brain lesion | 26.39 | NA | NA | 13.67 | 14.14 | 6.33 | NA | NA | 46.39 | 46.86 | 090
61517 |  | A | Implt brain chemotx add-on | 1.38 | NA | NA | 0.50 | 0.61 | 0.35 | NA | NA | 2.23 | 2.34 | ZZZ
61518 |  | A | Removal of brain lesion | 39.61 | NA | NA | 19.64 | 20.77 | 9.62 | NA | NA | 68.87 | 70.00 | 090
61519 |  | A | Remove brain lining lesion | 43.22 | NA | NA | 19.98 | 22.03 | 10.60 | NA | NA | 73.80 | 75.85 | 090
61520 |  | A | Removal of brain lesion | 56.81 | NA | NA | 24.67 | 28.98 | 11.18 | NA | NA | 92.66 | 96.97 | 090
61521 |  | A | Removal of brain lesion | 46.78 | NA | NA | 21.28 | 23.53 | 11.36 | NA | NA | 79.42 | 81.67 | 090
61522 |  | A | Removal of brain abscess | 31.35 | NA | NA | 14.89 | 16.07 | 7.60 | NA | NA | 53.84 | 55.02 | 090
61524 |  | A | Removal of brain lesion | 29.70 | NA | NA | 15.09 | 15.56 | 7.14 | NA | NA | 51.93 | 52.40 | 090
61526 |  | A | Removal of brain lesion | 53.84 | NA | NA | 20.86 | 27.39 | 7.05 | NA | NA | 81.75 | 88.28 | 090
61530 |  | A | Removal of brain lesion | 45.37 | NA | NA | 17.57 | 23.23 | 6.13 | NA | NA | 69.07 | 74.73 | 090
61531 |  | A | Implant brain electrodes | 16.24 | NA | NA | 9.79 | 9.31 | 3.78 | NA | NA | 29.81 | 29.33 | 090
61533 |  | A | Implant brain electrodes | 21.32 | NA | NA | 11.23 | 11.48 | 5.10 | NA | NA | 37.65 | 37.90 | 090
61534 |  | A | Removal of brain lesion | 22.82 | NA | NA | 12.62 | 12.25 | 5.42 | NA | NA | 40.86 | 40.49 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
61535 |  | A | Remove brain electrodes | 13.01 | NA | NA | 8.47 | 7.70 | 3.01 | NA | NA | 24.49 | 23.72 | 090
61536 |  | A | Removal of brain lesion | 37.53 | NA | NA | 17.70 | 19.31 | 9.18 | NA | NA | 64.41 | 66.02 | 090
61537 |  | A | Removal of brain tissue | 36.31 | NA | NA | 17.68 | 15.51 | 6.92 | NA | NA | 60.91 | 58.74 | 090
61538 |  | A | Removal of brain tissue | 39.31 | NA | NA | 18.75 | 16.20 | 6.92 | NA | NA | 64.98 | 62.43 | 090
61539 |  | A | Removal of brain tissue | 34.09 | NA | NA | 14.79 | 17.06 | 8.30 | NA | NA | 57.18 | 59.45 | 090
61540 |  | A | Removal of brain tissue | 31.24 | NA | NA | 15.44 | 16.83 | 8.30 | NA | NA | 54.98 | 56.37 | 090
61541 |  | A | Incision of brain tissue | 30.75 | NA | NA | 15.41 | 16.04 | 6.58 | NA | NA | 52.74 | 53.37 | 090
61542 |  | A | Removal of brain tissue | 32.97 | NA | NA | 16.18 | 17.45 | 8.01 | NA | NA | 57.16 | 58.43 | 090
61543 |  | A | Removal of brain tissue | 31.12 | NA | NA | 15.64 | 16.23 | 7.54 | NA | NA | 54.30 | 54.89 | 090
61544 |  | A | Remove & treat brain lesion | 27.22 | NA | NA | 13.75 | 13.83 | 5.95 | NA | NA | 46.92 | 47.00 | 090
61545 |  | A | Excision of brain tumor | 46.15 | NA | NA | 21.88 | 23.68 | 10.60 | NA | NA | 78.63 | 80.43 | 090
61546 |  | A | Removal of pituitary gland | 33.25 | NA | NA | 15.92 | 17.14 | 7.65 | NA | NA | 56.82 | 58.04 | 090
61548 |  | A | Removal of pituitary gland | 23.23 | NA | NA | 10.87 | 12.33 | 3.42 | NA | NA | 37.52 | 38.98 | 090
61550 |  | A | Release of skull seams | 15.38 | NA | NA | 3.61 | 6.12 | 0.98 | NA | NA | 19.97 | 22.48 | 090
61552 |  | A | Release of skull seams | 20.21 | NA | NA | 6.42 | 8.46 | 1.06 | NA | NA | 27.69 | 29.73 | 090
61556 |  | A | Incise skull/sutures | 23.96 | NA | NA | 12.20 | 11.59 | 4.64 | NA | NA | 40.80 | 40.19 | 090
61557 |  | A | Incise skull/sutures | 23.10 | NA | NA | 13.12 | 13.53 | 5.78 | NA | NA | 42.00 | 42.41 | 090
61558 |  | A | Excision of skull/sutures | 26.29 | NA | NA | 7.91 | 12.65 | 1.36 | NA | NA | 35.56 | 40.30 | 090
61559 |  | A | Excision of skull/sutures | 33.74 | NA | NA | 18.22 | 19.08 | 8.48 | NA | NA | 60.44 | 61.30 | 090
61563 |  | A | Excision of skull tumor | 28.31 | NA | NA | 13.71 | 14.89 | 5.15 | NA | NA | 47.17 | 48.35 | 090
61564 |  | A | Excision of skull tumor | 34.53 | NA | NA | 15.61 | 17.65 | 8.75 | NA | NA | 58.89 | 60.93 | 090
61566 |  | A | Removal of brain tissue | 32.26 | NA | NA | 16.15 | 17.40 | 6.92 | NA | NA | 55.33 | 56.58 | 090
61567 |  | A | Incision of brain tissue | 36.76 | NA | NA | 15.60 | 19.45 | 6.52 | NA | NA | 58.88 | 62.73 | 090
61570 |  | A | Remove foreign body, brain | 26.32 | NA | NA | 13.55 | 13.85 | 5.86 | NA | NA | 45.73 | 46.03 | 090
61571 |  | A | Incise skull for brain wound | 28.23 | NA | NA | 14.54 | 15.02 | 6.77 | NA | NA | 49.54 | 50.02 | 090
61575 |  | A | Skull base/brainstem surgery | 36.37 | NA | NA | 14.97 | 18.51 | 5.32 | NA | NA | 56.66 | 60.20 | 090
61576 |  | A | Skull base/brainstem surgery | 55.03 | NA | NA | 25.34 | 32.46 | 5.56 | NA | NA | 85.93 | 93.05 | 090
61580 |  | A | Craniofacial approach, skull | 34.26 | NA | NA | 20.27 | 24.31 | 3.36 | NA | NA | 57.89 | 61.93 | 090
61581 |  | A | Craniofacial approach, skull | 38.78 | NA | NA | 24.44 | 23.74 | 3.91 | NA | NA | 67.13 | 66.43 | 090
61582 |  | A | Craniofacial approach, skull | 34.83 | NA | NA | 30.11 | 28.06 | 7.19 | NA | NA | 72.13 | 70.08 | 090
61583 |  | A | Craniofacial approach, skull | 38.37 | NA | NA | 25.25 | 25.20 | 9.18 | NA | NA | 72.80 | 72.75 | 090
61584 |  | A | Orbitocranial approach/skull | 37.57 | NA | NA | 24.96 | 24.68 | 8.16 | NA | NA | 70.69 | 70.41 | 090
61585 |  | A | Orbitocranial approach/skull | 42.40 | NA | NA | 24.18 | 25.97 | 7.01 | NA | NA | 73.59 | 75.38 | 090
61586 |  | A | Resect nasopharynx, skull | 27.20 | NA | NA | 23.74 | 22.92 | 4.36 | NA | NA | 55.30 | 54.48 | 090
61590 |  | A | Infratemporal approach/skull | 46.79 | NA | NA | 22.77 | 27.22 | 5.29 | NA | NA | 74.85 | 79.30 | 090
61591 |  | A | Infratemporal approach/skull | 46.81 | NA | NA | 23.24 | 28.02 | 5.64 | NA | NA | 75.69 | 80.47 | 090
61592 |  | A | Orbitocranial approach/skull | 42.94 | NA | NA | 26.82 | 26.64 | 10.04 | NA | NA | 79.80 | 79.62 | 090
61595 |  | A | Transtemporal approach/skull | 33.49 | NA | NA | 18.82 | 21.51 | 3.97 | NA | NA | 56.28 | 58.97 | 090
61596 |  | A | Transcochlear approach/skull | 39.25 | NA | NA | 18.02 | 22.89 | 3.39 | NA | NA | 60.66 | 65.53 | 090
61597 |  | A | Transcondylar approach/skull | 40.67 | NA | NA | 22.37 | 22.89 | 8.81 | NA | NA | 71.85 | 72.37 | 090
61598 |  | A | Transpetrosal approach/skull | 36.35 | NA | NA | 20.60 | 22.63 | 5.68 | NA | NA | 62.63 | 64.66 | 090
61600 |  | A | Resect/excise cranial lesion | 29.76 | NA | NA | 17.83 | 19.33 | 3.78 | NA | NA | 51.37 | 52.87 | 090
61601 |  | A | Resect/excise cranial lesion | 31.00 | NA | NA | 21.93 | 20.90 | 6.61 | NA | NA | 59.54 | 58.51 | 090
61605 |  | A | Resect/excise cranial lesion | 32.32 | NA | NA | 17.26 | 20.83 | 2.85 | NA | NA | 52.43 | 56.00 | 090
61606 |  | A | Resect/excise cranial lesion | 41.88 | NA | NA | 23.64 | 24.83 | 8.94 | NA | NA | 74.46 | 75.65 | 090
61607 |  | A | Resect/excise cranial lesion | 40.76 | NA | NA | 20.04 | 22.90 | 6.88 | NA | NA | 67.68 | 70.54 | 090
61608 |  | A | Resect/excise cranial lesion | 45.39 | NA | NA | 25.77 | 26.44 | 10.72 | NA | NA | 81.88 | 82.55 | 090
61609 |  | A | Transect artery, sinus | 9.88 | NA | NA | 3.60 | 4.55 | 2.55 | NA | NA | 16.03 | 16.98 | ZZZ
61610 |  | A | Transect artery, sinus | 29.63 | NA | NA | 10.81 | 12.59 | 7.66 | NA | NA | 48.10 | 49.88 | ZZZ
61611 |  | A | Transect artery, sinus | 7.41 | NA | NA | 2.70 | 3.55 | 1.88 | NA | NA | 11.99 | 12.84 | ZZZ
61612 |  | A | Transect artery, sinus | 27.84 | NA | NA | 7.90 | 11.99 | 4.30 | NA | NA | 40.04 | 44.13 | ZZZ
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
61613 |  | A | Remove aneurysm, sinus | 44.88 | NA | NA | 26.76 | 26.45 | 8.42 | NA | NA | 80.06 | 79.75 | 090
61615 |  | A | Resect/excise lesion, skull | 35.57 | NA | NA | 18.86 | 21.81 | 4.72 | NA | NA | 59.15 | 62.10 | 090
61616 |  | A | Resect/excise lesion, skull | 46.54 | NA | NA | 25.81 | 28.00 | 8.24 | NA | NA | 80.59 | 82.78 | 090
61618 |  | A | Repair dura | 18.52 | NA | NA | 9.63 | 10.26 | 3.71 | NA | NA | 31.86 | 32.49 | 090
61619 |  | A | Repair dura | 21.95 | NA | NA | 10.50 | 11.84 | 3.94 | NA | NA | 36.39 | 37.73 | 090
61623 |  | A | Endovasc tempory vessel occl | 9.95 | NA | NA | 3.63 | 3.98 | 1.05 | NA | NA | 14.63 | 14.98 | 000
61624 |  | A | Transcath occlusion, cns | 20.12 | NA | NA | 7.25 | 7.00 | 1.95 | NA | NA | 29.32 | 29.07 | 000
61626 |  | A | Transcath occlusion, non-cns | 16.60 | NA | NA | 5.93 | 5.63 | 1.24 | NA | NA | 23.77 | 23.47 | 000
61630 |  | N | Intracranial angioplasty | 22.03 | NA | NA | 6.30 | 10.97 | 2.01 | NA | NA | 30.34 | 35.01 | 090
61635 |  | N | Intracran angioplsty w/stent | 24.24 | NA | NA | 6.80 | 11.89 | 2.20 | NA | NA | 33.24 | 38.33 | 090
61680 |  | A | Intracranial vessel surgery | 32.34 | NA | NA | 16.16 | 17.15 | 7.93 | NA | NA | 56.43 | 57.42 | 090
61682 |  | A | Intracranial vessel surgery | 63.27 | NA | NA | 26.23 | 30.78 | 15.85 | NA | NA | 105.4 | 109.9 | 090
61684 |  | A | Intracranial vessel surgery | 41.43 | NA | NA | 19.63 | 21.45 | 10.28 | NA | NA | 71.34 | 73.16 | 090
61686 |  | A | Intracranial vessel surgery | 67.26 | NA | NA | 29.13 | 33.40 | 16.66 | NA | NA | 113.1 | 117.3 | 090
61690 |  | A | Intracranial vessel surgery | 31.14 | NA | NA | 15.24 | 16.39 | 6.92 | NA | NA | 53.30 | 54.45 | 090
61692 |  | A | Intracranial vessel surgery | 54.39 | NA | NA | 23.81 | 26.62 | 13.39 | NA | NA | 91.59 | 94.40 | 090
61697 |  | A | Brain aneurysm repr, complx | 63.16 | NA | NA | 28.59 | 28.22 | 12.81 | NA | NA | 104.6 | 104.2 | 090
61698 |  | A | Brain aneurysm repr, complx | 69.39 | NA | NA | 30.54 | 27.71 | 12.50 | NA | NA | 112.4 | 109.6 | 090
61700 |  | A | Brain aneurysm repr, simple | 50.44 | NA | NA | 23.58 | 26.81 | 12.98 | NA | NA | 87.00 | 90.23 | 090
61702 |  | A | Inner skull vessel surgery | 59.80 | NA | NA | 25.60 | 25.98 | 10.76 | NA | NA | 96.16 | 96.54 | 090
61703 |  | A | Clamp neck artery | 18.66 | NA | NA | 10.41 | 10.47 | 4.05 | NA | NA | 33.12 | 33.18 | 090
61705 |  | A | Revise circulation to head | 37.91 | NA | NA | 17.47 | 18.85 | 8.84 | NA | NA | 64.22 | 65.60 | 090
61708 |  | A | Revise circulation to head | 37.01 | NA | NA | 14.20 | 14.94 | 2.50 | NA | NA | 53.71 | 54.45 | 090
61710 |  | A | Revise circulation to head | 31.15 | NA | NA | 13.64 | 13.67 | 4.51 | NA | NA | 49.30 | 49.33 | 090
61711 |  | A | Fusion of skull arteries | 38.04 | NA | NA | 17.80 | 19.35 | 9.39 | NA | NA | 65.23 | 66.78 | 090
61720 |  | A | Incise skull/brain surgery | 17.48 | NA | NA | 7.79 | 9.45 | 2.78 | NA | NA | 28.05 | 29.71 | 090
61735 |  | A | Incise skull/brain surgery | 22.16 | NA | NA | 11.16 | 11.94 | 2.72 | NA | NA | 36.04 | 36.82 | 090
61750 |  | A | Incise skull/brain biopsy | 19.69 | NA | NA | 10.45 | 10.59 | 4.71 | NA | NA | 34.85 | 34.99 | 090
61751 |  | A | Brain biopsy w/ct/mr guide | 18.58 | NA | NA | 10.91 | 10.87 | 4.55 | NA | NA | 34.04 | 34.00 | 090
61760 |  | A | Implant brain electrodes | 22.24 | NA | NA | 11.38 | 9.40 | 5.40 | NA | NA | 39.02 | 37.04 | 090
61770 |  | A | Incise skull for treatment | 23.05 | NA | NA | 9.50 | 11.59 | 3.54 | NA | NA | 36.09 | 38.18 | 090
61790 |  | A | Treat trigeminal nerve | 11.46 | NA | NA | 7.37 | 6.29 | 2.81 | NA | NA | 21.64 | 20.56 | 090
61791 |  | A | Treat trigeminal tract | 15.27 | NA | NA | 7.23 | 8.51 | 3.39 | NA | NA | 25.89 | 27.17 | 090
61793 |  | A | Focus radiation beam | 17.71 | NA | NA | 9.34 | 9.95 | 4.45 | NA | NA | 31.50 | 32.11 | 090
61795 |  | A | Brain surgery using computer | 4.03 | NA | NA | 1.32 | 1.86 | 0.79 | NA | NA | 6.14 | 6.68 | ZZZ
61850 |  | A | Implant neuroelectrodes | 13.22 | NA | NA | 5.29 | 7.09 | 3.21 | NA | NA | 21.72 | 23.52 | 090
61860 |  | A | Implant neuroelectrodes | 22.12 | NA | NA | 10.67 | 11.74 | 4.94 | NA | NA | 37.73 | 38.80 | 090
61863 |  | A | Implant neuroelectrode | 20.50 | NA | NA | 12.13 | 11.88 | 5.41 | NA | NA | 38.04 | 37.79 | 090
61864 |  | A | Implant neuroelectrde, addl | 4.49 | NA | NA | 1.64 | 2.13 | 5.41 | NA | NA | 11.54 | 12.03 | ZZZ
61867 |  | A | Implant neuroelectrode | 32.82 | NA | NA | 16.19 | 17.60 | 5.41 | NA | NA | 54.42 | 55.83 | 090
61868 |  | A | Implant neuroelectrde, addIl | 7.91 | NA | NA | 2.86 | 3.73 | 5.41 | NA | NA | 16.18 | 17.05 | ZZZ
61870 |  | A | Implant neuroelectrodes | 16.20 | NA | NA | 8.23 | 9.36 | 3.86 | NA | NA | 28.29 | 29.42 | 090
61875 |  | A | Implant neuroelectrodes | 16.32 | NA | NA | 5.14 | 7.73 | 2.94 | NA | NA | 24.40 | 26.99 | 090
61880 |  | A | Revise/remove neuroelectrode | 6.83 | NA | NA | 5.14 | 4.72 | 1.66 | NA | NA | 13.63 | 13.21 | 090
61885 |  | A | Insrt/redo neurostim 1 array | 7.29 | NA | NA | 7.07 | 5.76 | 1.59 | NA | NA | 15.95 | 14.64 | 090
61886 |  | A | Implant neurostim arrays | 9.65 | NA | NA | 8.33 | 6.86 | 1.96 | NA | NA | 19.94 | 18.47 | 090
61888 |  | A | Revise/remove neuroreceiver | 5.18 | NA | NA | 3.50 | 3.64 | 1.33 | NA | NA | 10.01 | 10.15 | 010
62000 |  | A | Treat skull fracture | 13.79 | NA | NA | 7.25 | 5.96 | 1.06 | NA | NA | 22.10 | 20.81 | 090
62005 |  | A | Treat skull fracture | 17.49 | NA | NA | 9.03 | 8.87 | 3.86 | NA | NA | 30.38 | 30.22 | 090
62010 |  | A | Treatment of head injury | 21.24 | NA | NA | 11.37 | 11.65 | 5.12 | NA | NA | 37.73 | 38.01 | 090
62100 |  | A | Repair brain fluid leakage | 23.34 | NA | NA | 11.34 | 12.45 | 4.83 | NA | NA | 39.51 | 40.62 | 090
62115 |  | A | Reduction of skull defect | 22.63 | NA | NA | 13.36 | 12.09 | 5.49 | NA | NA | 41.48 | 40.21 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
62116 |  | A | Reduction of skull defect | 24.82 | NA | NA | 12.71 | 13.23 | 6.09 | NA | NA | 43.62 | 44.14 | 090
62117 |  | A | Reduction of skull defect | 28.20 | NA | NA | 14.04 | 15.07 | 4.52 | NA | NA | 46.76 | 47.79 | 090
62120 |  | A | Repair skull cavity lesion | 24.31 | NA | NA | 15.50 | 17.77 | 2.99 | NA | NA | 42.80 | 45.07 | 090
62121 |  | A | Incise skull repair | 22.89 | NA | NA | 13.70 | 15.04 | 4.16 | NA | NA | 40.75 | 42.09 | 090
62140 |  | A | Repair of skull defect | 14.41 | NA | NA | 8.17 | 8.30 | 3.46 | NA | NA | 26.04 | 26.17 | 090
62141 |  | A | Repair of skull defect | 15.93 | NA | NA | 8.85 | 9.02 | 3.75 | NA | NA | 28.53 | 28.70 | 090
62142 |  | A | Remove skull plate/flap | 11.69 | NA | NA | 7.34 | 7.09 | 2.72 | NA | NA | 21.75 | 21.50 | 090
62143 |  | A | Replace skull plate/flap | 14.01 | NA | NA | 8.34 | 8.13 | 3.36 | NA | NA | 25.71 | 25.50 | 090
62145 |  | A | Repair of skull & brain | 19.95 | NA | NA | 9.81 | 10.64 | 4.49 | NA | NA | 34.25 | 35.08 | 090
62146 |  | A | Repair of skull with graft | 17.14 | NA | NA | 8.64 | 9.41 | 3.61 | NA | NA | 29.39 | 30.16 | 090
62147 |  | A | Repair of skull with graft | 20.53 | NA | NA | 10.11 | 11.03 | 4.31 | NA | NA | 34.95 | 35.87 | 090
62148 |  | A | Retr bone flap to fix skull | 2.00 | NA | NA | 0.73 | 0.83 | 0.48 | NA | NA | 3.21 | 3.31 | ZZZ
62160 |  | A | Neuroendoscopy add-on | 3.00 | NA | NA | 1.08 | 1.42 | 0.77 | NA | NA | 4.85 | 5.19 | ZZZ
62161 |  | A | Dissect brain w/scope | 21.04 | NA | NA | 11.77 | 12.04 | 5.17 | NA | NA | 37.98 | 38.25 | 090
62162 |  | A | Remove colloid cyst w/scope | 26.61 | NA | NA | 13.45 | 14.53 | 5.89 | NA | NA | 45.95 | 47.03 | 090
62163 |  | A | Neuroendoscopy w/fb removal | 16.34 | NA | NA | 10.23 | 10.02 | 4.00 | NA | NA | 30.57 | 30.36 | 090
62164 |  | A | Remove brain tumor w/scope | 29.19 | NA | NA | 14.54 | 14.88 | 5.36 | NA | NA | 49.09 | 49.43 | 090
62165 |  | A | Remove pituit tumor w/scope | 23.04 | NA | NA | 11.12 | 12.85 | 3.00 | NA | NA | 37.16 | 38.89 | 090
62180 |  | A | Establish brain cavity shunt | 22.41 | NA | NA | 11.45 | 12.10 | 4.97 | NA | NA | 38.83 | 39.48 | 090
62190 |  | A | Establish brain cavity shunt | 12.03 | NA | NA | 7.28 | 7.15 | 2.79 | NA | NA | 22.10 | 21.97 | 090
62192 |  | A | Establish brain cavity shunt | 13.21 | NA | NA | 7.96 | 7.72 | 3.01 | NA | NA | 24.18 | 23.94 | 090
62194 |  | A | Replace/irrigate catheter | 5.64 | NA | NA | 3.72 | 2.76 | 0.92 | NA | NA | 10.28 | 9.32 | 010
62200 |  | A | Establish brain cavity shunt | 19.15 | NA | NA | 10.18 | 10.70 | 4.64 | NA | NA | 33.97 | 34.49 | 090
62201 |  | A | Brain cavity shunt w/scope | 15.83 | NA | NA | 10.02 | 9.61 | 3.67 | NA | NA | 29.52 | 29.11 | 090
62220 |  | A | Establish brain cavity shunt | 13.96 | NA | NA | 7.99 | 8.00 | 3.34 | NA | NA | 25.29 | 25.30 | 090
62223 |  | A | Establish brain cavity shunt | 13.84 | NA | NA | 8.98 | 8.44 | 3.13 | NA | NA | 25.95 | 25.41 | 090
62225 |  | A | Replace/irrigate catheter | 6.07 | NA | NA | 5.15 | 4.36 | 1.39 | NA | NA | 12.61 | 11.82 | 090
62230 |  | A | Replace/revise brain shunt | 11.31 | NA | NA | 6.89 | 6.60 | 2.70 | NA | NA | 20.90 | 20.61 | 090
62252 |  | A | Csf shunt reprogram | 0.74 | 1.74 | 1.54 | NA | NA | 0.21 | 2.69 | 2.49 | NA | NA | XXX
62252 | 26 | A | Csf shunt reprogram | 0.74 | 0.26 | 0.34 | 0.26 | 0.34 | 0.19 | 1.19 | 1.27 | 1.19 | 1.27 | XXX
62252 | TC | A | Csf shunt reprogram | 0.00 | 1.48 | 1.20 | NA | NA | 0.02 | 1.50 | 1.22 | NA | NA | XXX
62256 |  | A | Remove brain cavity shunt | 7.26 | NA | NA | 5.53 | 4.91 | 1.71 | NA | NA | 14.50 | 13.88 | 090
62258 |  | A | Replace brain cavity shunt | 15.50 | NA | NA | 8.81 | 8.76 | 3.73 | NA | NA | 28.04 | 27.99 | 090
62263 |  | A | Epidural lysis mult sessions | 6.37 | 9.12 | 11.83 | 2.84 | 3.11 | 0.41 | 15.90 | 18.61 | 9.62 | 9.89 | 010
62264 |  | A | Epidural lysis on single day | 4.42 | 5.74 | 7.25 | 1.28 | 1.39 | 0.27 | 10.43 | 11.94 | 5.97 | 6.08 | 010
62268 |  | A | Drain spinal cord cyst | 4.73 | 6.99 | 10.42 | 1.84 | 2.07 | 0.43 | 12.15 | 15.58 | 7.00 | 7.23 | 000
62269 |  | A | Needle biopsy, spinal cord | 5.01 | 7.00 | 12.79 | 1.73 | 1.92 | 0.37 | 12.38 | 18.17 | 7.11 | 7.30 | 000
62270 |  | A | Spinal fluid tap, diagnostic | 1.37 | 2.44 | 2.86 | 0.57 | 0.56 | 0.08 | 3.89 | 4.31 | 2.02 | 2.01 | 000
62272 |  | A | Drain cerebro spinal fluid | 1.35 | 3.19 | 3.51 | 0.62 | 0.69 | 0.18 | 4.72 | 5.04 | 2.15 | 2.22 | 000
62273 |  | A | Inject epidural patch | 2.15 | 1.70 | 2.47 | 0.58 | 0.68 | 0.13 | 3.98 | 4.75 | 2.86 | 2.96 | 000
62280 |  | A | Treat spinal cord lesion | 2.63 | 4.23 | 6.27 | 1.05 | 1.02 | 0.30 | 7.16 | 9.20 | 3.98 | 3.95 | 010
62281 |  | A | Treat spinal cord lesion | 2.66 | 3.77 | 5.20 | 0.90 | 0.89 | 0.19 | 6.62 | 8.05 | 3.75 | 3.74 | 010
62282 |  | A | Treat spinal canal lesion | 2.33 | 3.95 | 7.27 | 1.06 | 0.96 | 0.17 | 6.45 | 9.77 | 3.56 | 3.46 | 010
62284 |  | A | Injection for myelogram | 1.54 | 3.95 | 4.72 | 0.71 | 0.69 | 0.13 | 5.62 | 6.39 | 2.38 | 2.36 | 000
62287 |  | A | Percutaneous diskectomy | 8.82 | NA | NA | 4.22 | 5.23 | 0.58 | NA | NA | 13.62 | 14.63 | 090
62290 |  | A | Inject for spine disk x-ray | 3.00 | 4.49 | 6.49 | 1.14 | 1.32 | 0.23 | 7.72 | 9.72 | 4.37 | 4.55 | 000
62291 |  | A | Inject for spine disk x-ray | 2.91 | 4.29 | 5.54 | 1.08 | 1.19 | 0.26 | 7.46 | 8.71 | 4.25 | 4.36 | 000
62292 |  | A | Injection into disk lesion | 9.10 | NA | NA | 3.16 | 4.15 | 0.82 | NA | NA | 13.08 | 14.07 | 090
62294 |  | A | Injection into spinal artery | 12.73 | NA | NA | 5.58 | 5.60 | 1.24 | NA | NA | 19.55 | 19.57 | 090
62310 |  | A | Inject spine c/t | 1.91 | 3.05 | 4.38 | 0.57 | 0.63 | 0.12 | 5.08 | 6.41 | 2.60 | 2.66 | 000
62311 |  | A | Inject spine l/s (cd) | 1.54 | 2.70 | 4.37 | 0.53 | 0.58 | 0.09 | 4.33 | 6.00 | 2.16 | 2.21 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
62318 |  | A | Inject spine w/cath, c/t | 2.04 | 3.24 | 5.12 | 0.47 | 0.61 | 0.12 | 5.40 | 7.28 | 2.63 | 2.77 | 000
62319 |  | A | Inject spine w/cath l/s (cd) | 1.87 | 2.89 | 4.47 | 0.47 | 0.58 | 0.11 | 4.87 | 6.45 | 2.45 | 2.56 | 000
62350 |  | A | Implant spinal canal cath | 7.96 | NA | NA | 4.02 | 3.97 | 1.02 | NA | NA | 13.00 | 12.95 | 090
62351 |  | A | Implant spinal canal cath | 11.46 | NA | NA | 7.39 | 7.20 | 2.24 | NA | NA | 21.09 | 20.90 | 090
62355 |  | A | Remove spinal canal catheter | 6.54 | NA | NA | 3.44 | 3.24 | 0.71 | NA | NA | 10.69 | 10.49 | 090
62360 |  | A | Insert spine infusion device | 3.60 | NA | NA | 3.31 | 2.85 | 0.34 | NA | NA | 7.25 | 6.79 | 090
62361 |  | A | Implant spine infusion pump | 6.51 | NA | NA | 3.87 | 3.92 | 0.80 | NA | NA | 11.18 | 11.23 | 090
62362 |  | A | Implant spine infusion pump | 8.50 | NA | NA | 4.61 | 4.43 | 1.18 | NA | NA | 14.29 | 14.11 | 090
62365 |  | A | Remove spine infusion device | 6.51 | NA | NA | 3.78 | 3.64 | 0.86 | NA | NA | 11.15 | 11.01 | 090
62367 |  | A | Analyze spine infusion pump | 0.48 | 0.41 | 0.56 | 0.11 | 0.10 | 0.03 | 0.92 | 1.07 | 0.62 | 0.61 | XXX
62368 |  | A | Analyze spine infusion pump | 0.75 | 0.60 | 0.67 | 0.18 | 0.17 | 0.06 | 1.41 | 1.48 | 0.99 | 0.98 | XXX
63001 |  | A | Removal of spinal lamina | 17.47 | NA | NA | 9.62 | 9.56 | 3.76 | NA | NA | 30.85 | 30.79 | 090
63003 |  | A | Removal of spinal lamina | 17.60 | NA | NA | 9.54 | 9.80 | 3.72 | NA | NA | 30.86 | 31.12 | 090
63005 |  | A | Removal of spinal lamina | 16.22 | NA | NA | 9.53 | 9.88 | 3.34 | NA | NA | 29.09 | 29.44 | 090
63011 |  | A | Removal of spinal lamina | 15.72 | NA | NA | 9.00 | 8.47 | 3.37 | NA | NA | 28.09 | 27.56 | 090
63012 |  | A | Removal of spinal lamina | 16.66 | NA | NA | 9.59 | 10.01 | 3.48 | NA | NA | 29.73 | 30.15 | 090
63015 |  | A | Removal of spinal lamina | 20.64 | NA | NA | 11.68 | 11.85 | 4.75 | NA | NA | 37.07 | 37.24 | 090
63016 |  | A | Removal of spinal lamina | 21.85 | NA | NA | 11.63 | 11.77 | 4.58 | NA | NA | 38.06 | 38.20 | 090
63017 |  | A | Removal of spinal lamina | 17.12 | NA | NA | 10.16 | 10.36 | 3.63 | NA | NA | 30.91 | 31.11 | 090
63020 |  | A | Neck spine disk surgery | 15.99 | NA | NA | 9.73 | 9.71 | 3.71 | NA | NA | 29.43 | 29.41 | 090
63030 |  | A | Low back disk surgery | 12.97 | NA | NA | 8.46 | 8.45 | 3.00 | NA | NA | 24.43 | 24.42 | 090
63035 |  | A | Spinal disk surgery add-on | 3.15 | NA | NA | 1.17 | 1.49 | 0.79 | NA | NA | 5.11 | 5.43 | ZZZ
63040 |  | A | Laminotomy, single cervical | 20.12 | NA | NA | 10.80 | 11.35 | 4.67 | NA | NA | 35.59 | 36.14 | 090
63042 |  | A | Laminotomy, single lumbar | 18.55 | NA | NA | 10.41 | 11.13 | 4.25 | NA | NA | 33.21 | 33.93 | 090
63045 |  | A | Removal of spinal lamina | 17.76 | NA | NA | 10.13 | 10.32 | 3.98 | NA | NA | 31.87 | 32.06 | 090
63046 |  | A | Removal of spinal lamina | 17.06 | NA | NA | 9.63 | 10.07 | 3.55 | NA | NA | 30.24 | 30.68 | 090
63047 |  | A | Removal of spinal lamina | 15.16 | NA | NA | 9.18 | 9.74 | 3.23 | NA | NA | 27.57 | 28.13 | 090
63048 |  | A | Remove spinal lamina add-on | 3.26 | NA | NA | 1.21 | 1.55 | 0.72 | NA | NA | 5.19 | 5.53 | ZZZ
63050 |  | A | Cervical laminoplasty | 21.82 | NA | NA | 8.68 | 11.07 | 4.66 | NA | NA | 35.16 | 37.55 | 090
63051 |  | A | C-laminoplasty w/graft/plate | 25.32 | NA | NA | 11.43 | 12.99 | 4.66 | NA | NA | 41.41 | 42.97 | 090
63055 |  | A | Decompress spinal cord | 23.36 | NA | NA | 12.07 | 12.90 | 5.27 | NA | NA | 40.70 | 41.53 | 090
63056 |  | A | Decompress spinal cord | 21.67 | NA | NA | 11.11 | 12.23 | 4.75 | NA | NA | 37.53 | 38.65 | 090
63057 |  | A | Decompress spine cord add-on | 5.25 | NA | NA | 1.91 | 2.46 | 1.22 | NA | NA | 8.38 | 8.93 | ZZZ
63064 |  | A | Decompress spinal cord | 26.03 | NA | NA | 13.04 | 14.11 | 5.69 | NA | NA | 44.76 | 45.83 | 090
63066 |  | A | Decompress spine cord add-on | 3.26 | NA | NA | 1.20 | 1.55 | 0.69 | NA | NA | 5.15 | 5.50 | ZZZ
63075 |  | A | Neck spine disk surgery | 19.41 | NA | NA | 10.99 | 11.84 | 4.62 | NA | NA | 35.02 | 35.87 | 090
63076 |  | A | Neck spine disk surgery | 4.04 | NA | NA | 1.49 | 1.92 | 0.96 | NA | NA | 6.49 | 6.92 | ZZZ
63077 |  | A | Spine disk surgery, thorax | 22.69 | NA | NA | 10.94 | 12.36 | 3.98 | NA | NA | 37.61 | 39.03 | 090
63078 |  | A | Spine disk surgery, thorax | 3.28 | NA | NA | 1.17 | 1.52 | 0.66 | NA | NA | 5.11 | 5.46 | ZZZ
63081 |  | A | Removal of vertebral body | 25.92 | NA | NA | 13.25 | 14.08 | 5.54 | NA | NA | 44.71 | 45.54 | 090
63082 |  | A | Remove vertebral body add-on | 4.36 | NA | NA | 1.61 | 2.08 | 1.02 | NA | NA | 6.99 | 7.46 | ZZZ
63085 |  | A | Removal of vertebral body | 29.29 | NA | NA | 13.49 | 15.01 | 4.48 | NA | NA | 47.26 | 48.78 | 090
63086 |  | A | Remove vertebral body add-on | 3.19 | NA | NA | 1.14 | 1.48 | 0.59 | NA | NA | 4.92 | 5.26 | ZZZ
63087 |  | A | Removal of vertebral body | 37.32 | NA | NA | 16.46 | 18.75 | 6.20 | NA | NA | 59.98 | 62.27 | 090
63088 |  | A | Remove vertebral body add-on | 4.32 | NA | NA | 1.59 | 2.03 | 0.82 | NA | NA | 6.73 | 7.17 | ZZZ
63090 |  | A | Removal of vertebral body | 30.71 | NA | NA | 13.90 | 15.54 | 4.21 | NA | NA | 48.82 | 50.46 | 090
63091 |  | A | Remove vertebral body add-on | 3.03 | NA | NA | 1.10 | 1.37 | 0.48 | NA | NA | 4.61 | 4.88 | ZZZ
63101 |  | A | Removal of vertebral body | 33.84 | NA | NA | 16.71 | 18.68 | 5.69 | NA | NA | 56.24 | 58.21 | 090
63102 |  | A | Removal of vertebral body | 33.84 | NA | NA | 16.45 | 18.61 | 5.69 | NA | NA | 55.98 | 58.14 | 090
63103 |  | A | Remove vertebral body add-on | 4.82 | NA | NA | 1.72 | 2.31 | 0.69 | NA | NA | 7.23 | 7.82 | ZZZ
63170 |  | A | Incise spinal cord tract(s) | 22.03 | NA | NA | 12.28 | 11.99 | 4.86 | NA | NA | 39.17 | 38.88 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
63172 |  | A | Drainage of spinal cyst | 19.61 | NA | NA | 10.97 | 10.75 | 4.48 | NA | NA | 35.06 | 34.84 | 090
63173 |  | A | Drainage of spinal cyst | 24.13 | NA | NA | 13.00 | 12.88 | 5.68 | NA | NA | 42.81 | 42.69 | 090
63180 |  | A | Revise spinal cord ligaments | 20.35 | NA | NA | 10.70 | 10.93 | 3.95 | NA | NA | 35.00 | 35.23 | 090
63182 |  | A | Revise spinal cord ligaments | 22.64 | NA | NA | 7.04 | 10.00 | 5.30 | NA | NA | 34.98 | 37.94 | 090
63185 |  | A | Incise spinal column/nerves | 16.30 | NA | NA | 9.87 | 8.55 | 2.79 | NA | NA | 28.96 | 27.64 | 090
63190 |  | A | Incise spinal column/nerves | 18.70 | NA | NA | 9.93 | 10.10 | 3.24 | NA | NA | 31.87 | 32.04 | 090
63191 |  | A | Incise spinal column/nerves | 18.73 | NA | NA | 10.50 | 10.50 | 6.34 | NA | NA | 35.57 | 35.57 | 090
63194 |  | A | Incise spinal column & cord | 21.91 | NA | NA | 7.01 | 10.56 | 3.26 | NA | NA | 32.18 | 35.73 | 090
63195 |  | A | Incise spinal column & cord | 21.50 | NA | NA | 11.83 | 11.26 | 4.87 | NA | NA | 38.20 | 37.63 | 090
63196 |  | A | Incise spinal column & cord | 25.08 | NA | NA | 13.47 | 13.43 | 5.76 | NA | NA | 44.31 | 44.27 | 090
63197 |  | A | Incise spinal column & cord | 23.89 | NA | NA | 13.04 | 12.44 | 5.36 | NA | NA | 42.29 | 41.69 | 090
63198 |  | A | Incise spinal column & cord | 29.69 | NA | NA | 8.74 | 8.52 | 6.43 | NA | NA | 44.86 | 44.64 | 090
63199 |  | A | Incise spinal column & cord | 31.26 | NA | NA | 9.10 | 13.58 | 1.40 | NA | NA | 41.76 | 46.24 | 090
63200 |  | A | Release of spinal cord | 21.26 | NA | NA | 11.23 | 11.30 | 4.96 | NA | NA | 37.45 | 37.52 | 090
63250 |  | A | Revise spinal cord vessels | 43.68 | NA | NA | 20.22 | 20.04 | 9.01 | NA | NA | 72.91 | 72.73 | 090
63251 |  | A | Revise spinal cord vessels | 44.42 | NA | NA | 20.50 | 22.11 | 10.41 | NA | NA | 75.33 | 76.94 | 090
63252 |  | A | Revise spinal cord vessels | 44.41 | NA | NA | 20.68 | 21.89 | 10.64 | NA | NA | 75.73 | 76.94 | 090
63265 |  | A | Excise intraspinal lesion | 23.64 | NA | NA | 12.53 | 12.73 | 5.43 | NA | NA | 41.60 | 41.80 | 090
63266 |  | A | Excise intraspinal lesion | 24.50 | NA | NA | 12.72 | 13.09 | 5.54 | NA | NA | 42.76 | 43.13 | 090
63267 |  | A | Excise intraspinal lesion | 19.26 | NA | NA | 10.74 | 11.01 | 4.37 | NA | NA | 34.37 | 34.64 | 090
63268 |  | A | Excise intraspinal lesion | 19.83 | NA | NA | 10.30 | 10.37 | 3.69 | NA | NA | 33.82 | 33.89 | 090
63270 |  | A | Excise intraspinal lesion | 29.62 | NA | NA | 15.05 | 15.39 | 6.82 | NA | NA | 51.49 | 51.83 | 090
63271 |  | A | Excise intraspinal lesion | 29.74 | NA | NA | 14.72 | 15.39 | 6.90 | NA | NA | 51.36 | 52.03 | 090
63272 |  | A | Excise intraspinal lesion | 27.31 | NA | NA | 13.73 | 14.47 | 6.18 | NA | NA | 47.22 | 47.96 | 090
63273 |  | A | Excise intraspinal lesion | 26.28 | NA | NA | 13.25 | 14.09 | 5.74 | NA | NA | 45.27 | 46.11 | 090
63275 |  | A | Biopsy/excise spinal tumor | 25.67 | NA | NA | 12.95 | 13.59 | 5.80 | NA | NA | 44.42 | 45.06 | 090
63276 |  | A | Biopsy/excise spinal tumor | 25.50 | NA | NA | 13.17 | 13.58 | 5.83 | NA | NA | 44.50 | 44.91 | 090
63277 |  | A | Biopsy/excise spinal tumor | 22.20 | NA | NA | 11.66 | 12.33 | 5.01 | NA | NA | 38.87 | 39.54 | 090
63278 |  | A | Biopsy/excise spinal tumor | 21.93 | NA | NA | 11.58 | 12.21 | 4.55 | NA | NA | 38.06 | 38.69 | 090
63280 |  | A | Biopsy/excise spinal tumor | 30.08 | NA | NA | 15.35 | 16.10 | 7.27 | NA | NA | 52.70 | 53.45 | 090
63281 |  | A | Biopsy/excise spinal tumor | 29.78 | NA | NA | 15.16 | 15.95 | 7.17 | NA | NA | 52.11 | 52.90 | 090
63282 |  | A | Biopsy/excise spinal tumor | 27.94 | NA | NA | 14.49 | 15.14 | 6.76 | NA | NA | 49.19 | 49.84 | 090
63283 |  | A | Biopsy/excise spinal tumor | 26.55 | NA | NA | 13.62 | 14.42 | 6.26 | NA | NA | 46.43 | 47.23 | 090
63285 |  | A | Biopsy/excise spinal tumor | 37.84 | NA | NA | 18.27 | 19.56 | 9.18 | NA | NA | 65.29 | 66.58 | 090
63286 |  | A | Biopsy/excise spinal tumor | 37.41 | NA | NA | 18.03 | 19.47 | 9.21 | NA | NA | 64.65 | 66.09 | 090
63287 |  | A | Biopsy/excise spinal tumor | 39.86 | NA | NA | 18.69 | 20.03 | 9.39 | NA | NA | 67.94 | 69.28 | 090
63290 |  | A | Biopsy/excise spinal tumor | 40.60 | NA | NA | 19.25 | 20.29 | 9.02 | NA | NA | 68.87 | 69.91 | 090
63295 |  | A | Repair of laminectomy defect | 5.25 | NA | NA | 1.29 | 1.94 | 1.03 | NA | NA | 7.57 | 8.22 | ZZZ
63300 |  | A | Removal of vertebral body | 26.62 | NA | NA | 13.00 | 14.00 | 5.97 | NA | NA | 45.59 | 46.59 | 090
63301 |  | A | Removal of vertebral body | 31.35 | NA | NA | 14.54 | 15.33 | 5.39 | NA | NA | 51.28 | 52.07 | 090
63302 |  | A | Removal of vertebral body | 30.93 | NA | NA | 14.36 | 15.51 | 5.53 | NA | NA | 50.82 | 51.97 | 090
63303 |  | A | Removal of vertebral body | 33.37 | NA | NA | 14.23 | 16.27 | 4.68 | NA | NA | 52.28 | 54.32 | 090
63304 |  | A | Removal of vertebral body | 33.64 | NA | NA | 16.35 | 17.07 | 6.41 | NA | NA | 56.40 | 57.12 | 090
63305 |  | A | Removal of vertebral body | 36.03 | NA | NA | 16.98 | 17.81 | 5.71 | NA | NA | 58.72 | 59.55 | 090
63306 |  | A | Removal of vertebral body | 35.33 | NA | NA | 15.42 | 17.24 | 8.33 | NA | NA | 59.08 | 60.90 | 090
63307 |  | A | Removal of vertebral body | 34.74 | NA | NA | 16.93 | 16.87 | 4.46 | NA | NA | 56.13 | 56.07 | 090
63308 |  | A | Remove vertebral body add-on | 5.24 | NA | NA | 1.88 | 2.43 | 1.29 | NA | NA | 8.41 | 8.96 | ZZZ
63600 |  | A | Remove spinal cord lesion | 14.98 | NA | NA | 4.52 | 5.19 | 1.52 | NA | NA | 21.02 | 21.69 | 090
63610 |  | A | Stimulation of spinal cord | 8.72 | 13.99 | 48.39 | 1.50 | 2.07 | 0.86 | 23.57 | 57.97 | 11.08 | 11.65 | 000
63615 |  | A | Remove lesion of spinal cord | 17.18 | NA | NA | 5.83 | 8.43 | 2.84 | NA | NA | 25.85 | 28.45 | 090
63650 |  | A | Implant neuroelectrodes | 7.53 | NA | NA | 2.85 | 3.10 | 0.53 | NA | NA | 10.91 | 11.16 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
63655 |  | A | Implant neuroelectrodes | 11.37 | NA | NA | 7.47 | 7.05 | 2.43 | NA | NA | 21.27 | 20.85 | 090
63660 |  | A | Revise/remove neuroelectrode | 6.83 | NA | NA | 3.21 | 3.52 | 0.78 | NA | NA | 10.82 | 11.13 | 090
63685 |  | A | Insrt/redo spine n generator | 7.83 | NA | NA | 3.59 | 4.01 | 1.05 | NA | NA | 12.47 | 12.89 | 090
63688 |  | A | Revise/remove neuroreceiver | 6.06 | NA | NA | 3.44 | 3.53 | 0.89 | NA | NA | 10.39 | 10.48 | 090
63700 |  | A | Repair of spinal herniation | 17.26 | NA | NA | 9.40 | 10.10 | 3.52 | NA | NA | 30.18 | 30.88 | 090
63702 |  | A | Repair of spinal herniation | 19.20 | NA | NA | 10.51 | 10.92 | 4.12 | NA | NA | 33.83 | 34.24 | 090
63704 |  | A | Repair of spinal herniation | 22.15 | NA | NA | 12.16 | 12.75 | 4.57 | NA | NA | 38.88 | 39.47 | 090
63706 |  | A | Repair of spinal herniation | 25.07 | NA | NA | 14.44 | 13.82 | 6.23 | NA | NA | 45.74 | 45.12 | 090
63707 |  | A | Repair spinal fluid leakage | 12.46 | NA | NA | 7.56 | 7.68 | 2.51 | NA | NA | 22.53 | 22.65 | 090
63709 |  | A | Repair spinal fluid leakage | 15.46 | NA | NA | 8.69 | 9.24 | 3.09 | NA | NA | 27.24 | 27.79 | 090
63710 |  | A | Graft repair of spine defect | 15.21 | NA | NA | 8.85 | 9.01 | 3.40 | NA | NA | 27.46 | 27.62 | 090
63740 |  | A | Install spinal shunt | 12.44 | NA | NA | 7.87 | 7.49 | 2.93 | NA | NA | 23.24 | 22.86 | 090
63741 |  | A | Install spinal shunt | 8.98 | NA | NA | 4.66 | 4.74 | 1.66 | NA | NA | 15.30 | 15.38 | 090
63744 |  | A | Revision of spinal shunt | 8.82 | NA | NA | 5.76 | 5.39 | 1.89 | NA | NA | 16.47 | 16.10 | 090
63746 |  | A | Removal of spinal shunt | 7.21 | NA | NA | 4.48 | 3.96 | 1.53 | NA | NA | 13.22 | 12.70 | 090
64400 |  | A | N block inj, trigeminal | 1.11 | 1.40 | 1.78 | 0.44 | 0.43 | 0.07 | 2.58 | 2.96 | 1.62 | 1.61 | 000
64402 |  | A | N block inj, facial | 1.25 | 1.44 | 1.57 | 0.52 | 0.58 | 0.09 | 2.78 | 2.91 | 1.86 | 1.92 | 000
64405 |  | A | N block inj, occipital | 1.32 | 1.16 | 1.39 | 0.49 | 0.47 | 0.08 | 2.56 | 2.79 | 1.89 | 1.87 | 000
64408 |  | A | N block inj, vagus | 1.41 | 1.44 | 1.55 | 0.69 | 0.81 | 0.10 | 2.95 | 3.06 | 2.20 | 2.32 | 000
64410 |  | A | N block inj, phrenic | 1.43 | 1.82 | 2.34 | 0.52 | 0.48 | 0.09 | 3.34 | 3.86 | 2.04 | 2.00 | 000
64412 |  | A | N block inj, spinal accessor | 1.18 | 2.03 | 2.50 | 0.54 | 0.46 | 0.08 | 3.29 | 3.76 | 1.80 | 1.72 | 000
64413 |  | A | N block inj, cervical plexus | 1.40 | 1.29 | 1.71 | 0.47 | 0.49 | 0.08 | 2.77 | 3.19 | 1.95 | 1.97 | 000
64415 |  | A | N block inj, brachial plexus | 1.48 | 1.49 | 2.48 | 0.34 | 0.43 | 0.09 | 3.06 | 4.05 | 1.91 | 2.00 | 000
64416 |  | A | N block cont infuse, b plex | 3.85 | NA | NA | 0.56 | 0.73 | 0.31 | NA | NA | 4.72 | 4.89 | 010
64417 |  | A | N block inj, axillary | 1.44 | 1.50 | 2.66 | 0.35 | 0.46 | 0.11 | 3.05 | 4.21 | 1.90 | 2.01 | 000
64418 |  | A | N block inj, suprascapular | 1.32 | 1.88 | 2.44 | 0.51 | 0.46 | 0.07 | 3.27 | 3.83 | 1.90 | 1.85 | 000
64420 |  | A | N block inj, intercost, sng | 1.18 | 2.38 | 3.51 | 0.44 | 0.43 | 0.08 | 3.64 | 4.77 | 1.70 | 1.69 | 000
64421 |  | A | N block inj, intercost, mlt | 1.68 | 3.52 | 5.46 | 0.52 | 0.52 | 0.11 | 5.31 | 7.25 | 2.31 | 2.31 | 000
64425 |  | A | N block inj, ilio-ing/hypogi | 1.75 | 1.33 | 1.57 | 0.55 | 0.54 | 0.13 | 3.21 | 3.45 | 2.43 | 2.42 | 000
64430 |  | A | N block inj, pudendal | 1.46 | 2.47 | 2.51 | 0.81 | 0.62 | 0.10 | 4.03 | 4.07 | 2.37 | 2.18 | 000
64435 |  | A | N block inj, paracervical | 1.45 | 1.97 | 2.39 | 0.54 | 0.65 | 0.16 | 3.58 | 4.00 | 2.15 | 2.26 | 000
64445 |  | A | N block inj, sciatic, sng | 1.48 | 1.65 | 2.42 | 0.51 | 0.50 | 0.10 | 3.23 | 4.00 | 2.09 | 2.08 | 000
64446 |  | A | N blk inj, sciatic, cont inf | 3.61 | NA | NA | 0.57 | 0.89 | 0.20 | NA | NA | 4.38 | 4.70 | 010
64447 |  | A | N block inj fem, single | 1.50 | NA | NA | 0.20 | 0.37 | 0.09 | NA | NA | 1.79 | 1.96 | 000
64448 |  | A | N block inj fem, cont inf | 3.36 | NA | NA | 0.46 | 0.72 | 0.18 | NA | NA | 4.00 | 4.26 | 010
64449 |  | A | N block inj, lumbar plexus | 3.24 | NA | NA | 0.48 | 0.84 | 0.15 | NA | NA | 3.87 | 4.23 | 010
64450 |  | A | N block, other peripheral | 1.27 | 1.28 | 1.25 | 0.49 | 0.48 | 0.13 | 2.68 | 2.65 | 1.89 | 1.88 | 000
64470 |  | A | Inj paravertebral c/t | 1.85 | 3.84 | 6.40 | 0.70 | 0.71 | 0.11 | 5.80 | 8.36 | 2.66 | 2.67 | 000
64472 |  | A | Inj paravertebral c/t add-on | 1.29 | 1.22 | 2.06 | 0.33 | 0.34 | 0.08 | 2.59 | 3.43 | 1.70 | 1.71 | ZZZ
64475 |  | A | Inj paravertebral l/s | 1.41 | 3.70 | 6.10 | 0.59 | 0.62 | 0.10 | 5.21 | 7.61 | 2.10 | 2.13 | 000
64476 |  | A | Inj paravertebral l/s add-on | 0.98 | 1.11 | 1.88 | 0.23 | 0.24 | 0.07 | 2.16 | 2.93 | 1.28 | 1.29 | ZZZ
64479 |  | A | Inj foramen epidural c/t | 2.20 | 3.78 | 6.58 | 0.81 | 0.87 | 0.12 | 6.10 | 8.90 | 3.13 | 3.19 | 000
64480 |  | A | Inj foramen epidural add-on | 1.54 | 1.48 | 2.51 | 0.37 | 0.45 | 0.10 | 3.12 | 4.15 | 2.01 | 2.09 | ZZZ
64483 |  | A | Inj foramen epidural l/s | 1.90 | 3.83 | 6.89 | 0.75 | 0.81 | 0.11 | 5.84 | 8.90 | 2.76 | 2.82 | 000
64484 |  | A | Inj foramen epidural add-on | 1.33 | 1.61 | 2.87 | 0.32 | 0.36 | 0.08 | 3.02 | 4.28 | 1.73 | 1.77 | ZZZ
64505 |  | A | N block, spenopalatine gangl | 1.36 | 1.10 | 1.21 | 0.71 | 0.67 | 0.10 | 2.56 | 2.67 | 2.17 | 2.13 | 000
64508 |  | A | N block, carotid sinus s/p | 1.12 | 1.88 | 2.97 | 0.48 | 0.68 | 0.07 | 3.07 | 4.16 | 1.67 | 1.87 | 000
64510 |  | A | N block, stellate ganglion | 1.22 | 1.91 | 3.07 | 0.43 | 0.49 | 0.07 | 3.20 | 4.36 | 1.72 | 1.78 | 000
64517 |  | A | N block inj, hypogas plxs | 2.20 | 1.69 | 2.47 | 0.66 | 0.82 | 0.11 | 4.00 | 4.78 | 2.97 | 3.13 | 000
64520 |  | A | N block, lumbar/thoracic | 1.35 | 2.62 | 4.52 | 0.52 | 0.54 | 0.08 | 4.05 | 5.95 | 1.95 | 1.97 | 000
64530 |  | A | N block inj, celiac pelus | 1.58 | 2.66 | 4.01 | 0.60 | 0.64 | 0.10 | 4.34 | 5.69 | 2.28 | 2.32 | 000
64550 |  | A | Apply neurostimulator | 0.18 | 0.20 | 0.26 | 0.06 | 0.05 | 0.01 | 0.39 | 0.45 | 0.25 | 0.24 | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
64553 |  | A | Implant neuroelectrodes | 2.31 | 2.47 | 2.75 | 1.33 | 1.73 | 0.18 | 4.96 | 5.24 | 3.82 | 4.22 | 010
64555 |  | A | Implant neuroelectrodes | 2.27 | 2.56 | 2.97 | 1.35 | 1.23 | 0.19 | 5.02 | 5.43 | 3.81 | 3.69 | 010
64560 |  | A | Implant neuroelectrodes | 2.36 | 2.51 | 2.61 | 1.34 | 1.30 | 0.22 | 5.09 | 5.19 | 3.92 | 3.88 | 010
64561 |  | A | Implant neuroelectrodes | 7.05 | 20.42 | 27.71 | 3.96 | 3.08 | 0.51 | 27.98 | 35.27 | 11.52 | 10.64 | 010
64565 |  | A | Implant neuroelectrodes | 1.76 | 2.42 | 3.07 | 1.25 | 1.26 | 0.13 | 4.31 | 4.96 | 3.14 | 3.15 | 010
64573 |  | A | Implant neuroelectrodes | 8.11 | NA | NA | 5.17 | 5.24 | 1.60 | NA | NA | 14.88 | 14.95 | 090
64575 |  | A | Implant neuroelectrodes | 4.34 | NA | NA | 1.89 | 2.48 | 0.61 | NA | NA | 6.84 | 7.43 | 090
64577 |  | A | Implant neuroelectrodes | 4.61 | NA | NA | 2.74 | 3.15 | 1.04 | NA | NA | 8.39 | 8.80 | 090
64580 |  | A | Implant neuroelectrodes | 4.11 | NA | NA | 2.56 | 3.31 | 0.36 | NA | NA | 7.03 | 7.78 | 090
64581 |  | A | Implant neuroelectrodes | 14.13 | NA | NA | 6.89 | 5.77 | 1.05 | NA | NA | 22.07 | 20.95 | 090
64585 |  | A | Revise/remove neuroelectrode | 2.06 | 5.88 | 9.95 | 2.27 | 2.17 | 0.20 | 8.14 | 12.21 | 4.53 | 4.43 | 010
64590 |  | A | Insrt/redo perph n generator | 2.40 | 6.54 | 7.01 | 2.51 | 2.35 | 0.19 | 9.13 | 9.60 | 5.10 | 4.94 | 010
64595 |  | A | Revise/remove neuroreceiver | 1.73 | 6.62 | 9.47 | 2.24 | 2.01 | 0.19 | 8.54 | 11.39 | 4.16 | 3.93 | 010
64600 |  | A | Injection treatment of nerve | 3.44 | 5.25 | 8.35 | 1.56 | 1.63 | 0.34 | 9.03 | 12.13 | 5.34 | 5.41 | 010
64605 |  | A | Injection treatment of nerve | 5.60 | 7.56 | 9.08 | 2.34 | 2.23 | 0.79 | 13.95 | 15.47 | 8.73 | 8.62 | 010
64610 |  | A | Injection treatment of nerve | 7.15 | 9.23 | 8.98 | 3.43 | 3.65 | 1.58 | 17.96 | 17.71 | 12.16 | 12.38 | 010
64612 |  | A | Destroy nerve, face muscle | 1.96 | 1.49 | 2.24 | 1.31 | 1.32 | 0.11 | 3.56 | 4.31 | 3.38 | 3.39 | 010
64613 |  | A | Destroy nerve, neck muscle | 1.96 | 1.33 | 2.54 | 1.10 | 1.19 | 0.11 | 3.40 | 4.61 | 3.17 | 3.26 | 010
64614 |  | A | Destroy nerve, extrem musc | 2.20 | 1.59 | 2.82 | 1.28 | 1.30 | 0.10 | 3.89 | 5.12 | 3.58 | 3.60 | 010
64620 |  | A | Injection treatment of nerve | 2.84 | 3.44 | 4.66 | 1.16 | 1.29 | 0.20 | 6.48 | 7.70 | 4.20 | 4.33 | 010
64622 |  | A | Destr paravertebrl nerve l/s | 3.00 | 4.07 | 6.85 | 1.25 | 1.34 | 0.18 | 7.25 | 10.03 | 4.43 | 4.52 | 010
64623 |  | A | Destr paravertebral n add-on | 0.99 | 1.64 | 2.64 | 0.21 | 0.22 | 0.06 | 2.69 | 3.69 | 1.26 | 1.27 | ZZZ
64626 |  | A | Destr paravertebrl nerve c/t | 3.78 | 4.70 | 7.03 | 1.84 | 1.94 | 0.20 | 8.68 | 11.01 | 5.82 | 5.92 | 010
64627 |  | A | Destr paravertebral n add-on | 1.16 | 2.37 | 4.00 | 0.24 | 0.26 | 0.07 | 3.60 | 5.23 | 1.47 | 1.49 | ZZZ
64630 |  | A | Injection treatment of nerve | 3.00 | 2.82 | 2.76 | 1.89 | 1.53 | 0.22 | 6.04 | 5.98 | 5.11 | 4.75 | 010
64640 |  | A | Injection treatment of nerve | 2.76 | 2.41 | 3.75 | 1.41 | 1.74 | 0.29 | 5.46 | 6.80 | 4.46 | 4.79 | 010
64650 |  | A | Chemodenerv eccrine glands | 0.70 | 0.77 | 0.85 | 0.17 | 0.27 | 0.06 | 1.53 | 1.61 | 0.93 | 1.03 | 000
64653 |  | A | Chemodenerv eccrine glands | 0.88 | 0.81 | 0.89 | 0.21 | 0.34 | 0.08 | 1.77 | 1.85 | 1.17 | 1.30 | 000
64680 |  | A | Injection treatment of nerve | 2.62 | 4.03 | 6.06 | 1.10 | 1.35 | 0.18 | 6.83 | 8.86 | 3.90 | 4.15 | 010
64681 |  | A | Injection treatment of nerve | 3.78 | 4.90 | 8.22 | 1.30 | 1.88 | 0.28 | 8.96 | 12.28 | 5.36 | 5.94 | 010
64702 |  | A | Revise finger/toe nerve | 6.02 | NA | NA | 4.02 | 3.91 | 0.61 | NA | NA | 10.65 | 10.54 | 090
64704 |  | A | Revise hand/foot nerve | 4.56 | NA | NA | 3.02 | 3.25 | 0.61 | NA | NA | 8.19 | 8.42 | 090
64708 |  | A | Revise arm/leg nerve | 6.17 | NA | NA | 4.08 | 4.67 | 0.96 | NA | NA | 11.21 | 11.80 | 090
64712 |  | A | Revision of sciatic nerve | 7.92 | NA | NA | 4.30 | 4.80 | 0.95 | NA | NA | 13.17 | 13.67 | 090
64713 |  | A | Revision of arm nerve(s) | 11.22 | NA | NA | 6.29 | 5.99 | 1.82 | NA | NA | 19.33 | 19.03 | 090
64714 |  | A | Revise low back nerve(s) | 10.37 | NA | NA | 4.69 | 4.33 | 1.19 | NA | NA | 16.25 | 15.89 | 090
64716 |  | A | Revision of cranial nerve | 6.80 | NA | NA | 5.04 | 5.75 | 0.63 | NA | NA | 12.47 | 13.18 | 090
64718 |  | A | Revise ulnar nerve at elbow | 6.98 | NA | NA | 5.98 | 6.00 | 1.05 | NA | NA | 14.01 | 14.03 | 090
64719 |  | A | Revise ulnar nerve at wrist | 4.84 | NA | NA | 3.96 | 4.39 | 0.77 | NA | NA | 9.57 | 10.00 | 090
64721 |  | A | Carpal tunnel surgery | 4.78 | NA | NA | 4.64 | 5.20 | 0.73 | NA | NA | 10.15 | 10.71 | 090
64722 |  | A | Relieve pressure on nerve(s) | 4.69 | NA | NA | 2.70 | 2.96 | 0.48 | NA | NA | 7.87 | 8.13 | 090
64726 |  | A | Release foot/toe nerve | 4.17 | NA | NA | 2.57 | 2.74 | 0.54 | NA | NA | 7.28 | 7.45 | 090
64727 |  | A | Internal nerve revision | 3.10 | NA | NA | 1.19 | 1.42 | 0.48 | NA | NA | 4.77 | 5.00 | ZZZ
64732 |  | A | Incision of brow nerve | 4.77 | NA | NA | 4.02 | 3.64 | 0.98 | NA | NA | 9.77 | 9.39 | 090
64734 |  | A | Incision of cheek nerve | 5.41 | NA | NA | 4.38 | 4.14 | 0.89 | NA | NA | 10.68 | 10.44 | 090
64736 |  | A | Incision of chin nerve | 5.09 | NA | NA | 3.70 | 3.95 | 0.52 | NA | NA | 9.31 | 9.56 | 090
64738 |  | A | Incision of jaw nerve | 6.22 | NA | NA | 4.04 | 4.48 | 1.08 | NA | NA | 11.34 | 11.78 | 090
64740 |  | A | Incision of tongue nerve | 6.08 | NA | NA | 4.37 | 4.94 | 0.69 | NA | NA | 11.14 | 11.71 | 090
64742 |  | A | Incision of facial nerve | 6.71 | NA | NA | 4.14 | 4.57 | 0.73 | NA | NA | 11.58 | 12.01 | 090
64744 |  | A | Incise nerve, back of head | 5.60 | NA | NA | 4.33 | 3.92 | 1.16 | NA | NA | 11.09 | 10.68 | 090
64746 |  | A | Incise diaphragm nerve | 6.42 | NA | NA | 3.77 | 4.33 | 0.82 | NA | NA | 11.01 | 11.57 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
64752 |  | A | Incision of vagus nerve | 7.55 | NA | NA | 3.91 | 4.20 | 0.93 | NA | NA | 12.39 | 12.68 | 090
64755 |  | A | Incision of stomach nerves | 14.93 | NA | NA | 5.63 | 5.65 | 1.83 | NA | NA | 22.39 | 22.41 | 090
64760 |  | A | Incision of vagus nerve | 7.45 | NA | NA | 3.70 | 3.52 | 0.81 | NA | NA | 11.96 | 11.78 | 090
64761 |  | A | Incision of pelvis nerve | 6.90 | NA | NA | 3.87 | 3.62 | 0.53 | NA | NA | 11.30 | 11.05 | 090
64763 |  | A | Incise hip/thigh nerve | 7.42 | NA | NA | 4.83 | 5.12 | 0.94 | NA | NA | 13.19 | 13.48 | 090
64766 |  | A | Incise hip/thigh nerve | 9.28 | NA | NA | 5.07 | 5.21 | 1.06 | NA | NA | 15.41 | 15.55 | 090
64771 |  | A | Sever cranial nerve | 7.96 | NA | NA | 5.05 | 5.44 | 1.23 | NA | NA | 14.24 | 14.63 | 090
64772 |  | A | Incision of spinal nerve | 7.70 | NA | NA | 5.06 | 4.96 | 1.40 | NA | NA | 14.16 | 14.06 | 090
64774 |  | A | Remove skin nerve lesion | 5.66 | NA | NA | 3.79 | 3.83 | 0.74 | NA | NA | 10.19 | 10.23 | 090
64776 |  | A | Remove digit nerve lesion | 5.48 | NA | NA | 3.56 | 3.66 | 0.76 | NA | NA | 9.80 | 9.90 | 090
64778 |  | A | Digit nerve surgery add-on | 3.11 | NA | NA | 1.16 | 1.42 | 0.46 | NA | NA | 4.73 | 4.99 | ZZZ
64782 |  | A | Remove limb nerve lesion | 6.72 | NA | NA | 3.91 | 3.81 | 0.86 | NA | NA | 11.49 | 11.39 | 090
64783 |  | A | Limb nerve surgery add-on | 3.71 | NA | NA | 1.37 | 1.72 | 0.51 | NA | NA | 5.59 | 5.94 | ZZZ
64784 |  | A | Remove nerve lesion | 10.43 | NA | NA | 5.95 | 6.45 | 1.38 | NA | NA | 17.76 | 18.26 | 090
64786 |  | A | Remove sciatic nerve lesion | 16.06 | NA | NA | 8.63 | 9.55 | 2.60 | NA | NA | 27.29 | 28.21 | 090
64787 |  | A | Implant nerve end | 4.29 | NA | NA | 1.55 | 1.99 | 0.58 | NA | NA | 6.42 | 6.86 | ZZZ
64788 |  | A | Remove skin nerve lesion | 5.10 | NA | NA | 3.68 | 3.52 | 0.73 | NA | NA | 9.51 | 9.35 | 090
64790 |  | A | Removal of nerve lesion | 11.91 | NA | NA | 6.60 | 7.07 | 2.10 | NA | NA | 20.61 | 21.08 | 090
64792 |  | A | Removal of nerve lesion | 15.65 | NA | NA | 8.11 | 8.67 | 2.48 | NA | NA | 26.24 | 26.80 | 090
64795 |  | A | Biopsy of nerve | 3.01 | NA | NA | 1.42 | 1.53 | 0.52 | NA | NA | 4.95 | 5.06 | 000
64802 |  | A | Remove sympathetic nerves | 10.18 | NA | NA | 4.08 | 4.88 | 1.29 | NA | NA | 15.55 | 16.35 | 090
64804 |  | A | Remove sympathetic nerves | 15.72 | NA | NA | 6.10 | 6.91 | 2.14 | NA | NA | 23.96 | 24.77 | 090
64809 |  | A | Remove sympathetic nerves | 14.57 | NA | NA | 6.58 | 5.98 | 1.50 | NA | NA | 22.65 | 22.05 | 090
64818 |  | A | Remove sympathetic nerves | 11.20 | NA | NA | 4.32 | 5.06 | 1.33 | NA | NA | 16.85 | 17.59 | 090
64820 |  | A | Remove sympathetic nerves | 10.60 | NA | NA | 6.76 | 7.05 | 1.49 | NA | NA | 18.85 | 19.14 | 090
64821 |  | A | Remove sympathetic nerves | 9.11 | NA | NA | 6.51 | 7.15 | 1.24 | NA | NA | 16.86 | 17.50 | 090
64822 |  | A | Remove sympathetic nerves | 9.11 | NA | NA | 6.32 | 7.02 | 1.30 | NA | NA | 16.73 | 17.43 | 090
64823 |  | A | Remove sympathetic nerves | 10.72 | NA | NA | 7.08 | 7.88 | 1.57 | NA | NA | 19.37 | 20.17 | 090
64831 |  | A | Repair of digit nerve | 10.17 | NA | NA | 6.41 | 6.92 | 1.41 | NA | NA | 17.99 | 18.50 | 090
64832 |  | A | Repair nerve add-on | 5.65 | NA | NA | 2.28 | 2.78 | 0.85 | NA | NA | 8.78 | 9.28 | ZZZ
64834 |  | A | Repair of hand or foot nerve | 10.67 | NA | NA | 6.32 | 6.91 | 1.54 | NA | NA | 18.53 | 19.12 | 090
64835 |  | A | Repair of hand or foot nerve | 11.54 | NA | NA | 7.03 | 7.54 | 1.73 | NA | NA | 20.30 | 20.81 | 090
64836 |  | A | Repair of hand or foot nerve | 11.54 | NA | NA | 6.78 | 7.46 | 1.67 | NA | NA | 19.99 | 20.67 | 090
64837 |  | A | Repair nerve add-on | 6.25 | NA | NA | 2.62 | 3.09 | 0.97 | NA | NA | 9.84 | 10.31 | ZZZ
64840 |  | A | Repair of leg nerve | 13.81 | NA | NA | 4.86 | 7.42 | 1.37 | NA | NA | 20.04 | 22.60 | 090
64856 |  | A | Repair/transpose nerve | 14.88 | NA | NA | 8.36 | 9.00 | 2.12 | NA | NA | 25.36 | 26.00 | 090
64857 |  | A | Repair arm/leg nerve | 15.63 | NA | NA | 8.61 | 9.40 | 2.21 | NA | NA | 26.45 | 27.24 | 090
64858 |  | A | Repair sciatic nerve | 17.63 | NA | NA | 9.80 | 10.55 | 3.33 | NA | NA | 30.76 | 31.51 | 090
64859 |  | A | Nerve surgery | 4.25 | NA | NA | 1.83 | 2.11 | 0.67 | NA | NA | 6.75 | 7.03 | ZZZ
64861 |  | A | Repair of arm nerves | 20.68 | NA | NA | 9.71 | 11.28 | 4.08 | NA | NA | 34.47 | 36.04 | 090
64862 |  | A | Repair of low back nerves | 20.88 | NA | NA | 6.55 | 10.61 | 4.31 | NA | NA | 31.74 | 35.80 | 090
64864 |  | A | Repair of facial nerve | 13.27 | NA | NA | 6.90 | 8.32 | 1.26 | NA | NA | 21.43 | 22.85 | 090
64865 |  | A | Repair of facial nerve | 15.90 | NA | NA | 9.72 | 12.60 | 1.50 | NA | NA | 27.12 | 30.00 | 090
64866 |  | A | Fusion of facial/other nerve | 16.64 | NA | NA | 12.02 | 12.91 | 2.04 | NA | NA | 30.70 | 31.59 | 090
64868 |  | A | Fusion of facial/other nerve | 14.76 | NA | NA | 8.96 | 10.84 | 1.43 | NA | NA | 25.15 | 27.03 | 090
64870 |  | A | Fusion of facial/other nerve | 16.89 | NA | NA | 8.06 | 8.58 | 1.30 | NA | NA | 26.25 | 26.77 | 090
64872 |  | A | Subsequent repair of nerve | 1.99 | NA | NA | 0.79 | 1.01 | 0.29 | NA | NA | 3.07 | 3.29 | ZZZ
64874 |  | A | Repair & revise nerve add-on | 2.98 | NA | NA | 1.17 | 1.44 | 0.42 | NA | NA | 4.57 | 4.84 | ZZZ
64876 |  | A | Repair nerve/shorten bone | 3.37 | NA | NA | 0.76 | 1.50 | 0.47 | NA | NA | 4.60 | 5.34 | ZZZ
64885 |  | A | Nerve graft, head or neck | 17.50 | NA | NA | 8.66 | 10.89 | 1.63 | NA | NA | 27.79 | 30.02 | 090
64886 |  | A | Nerve graft, head or neck | 20.72 | NA | NA | 9.55 | 12.57 | 2.08 | NA | NA | 32.35 | 35.37 | 090
64890 |  | A | Nerve graft, hand or foot | 16.05 | NA | NA | 8.75 | 9.70 | 2.29 | NA | NA | 27.09 | 28.04 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
64891 |  | A | Nerve graft, hand or foot | 17.16 | NA | NA | 9.52 | 8.08 | 1.63 | NA | NA | 28.31 | 26.87 | 090
64892 |  | A | Nerve graft, arm or leg | 15.55 | NA | NA | 8.62 | 8.82 | 2.47 | NA | NA | 26.64 | 26.84 | 090
64893 |  | A | Nerve graft, arm or leg | 16.68 | NA | NA | 9.32 | 9.75 | 2.61 | NA | NA | 28.61 | 29.04 | 090
64895 |  | A | Nerve graft, hand or foot | 20.20 | NA | NA | 9.73 | 9.69 | 2.57 | NA | NA | 32.50 | 32.46 | 090
64896 |  | A | Nerve graft, hand or foot | 21.75 | NA | NA | 11.49 | 11.13 | 3.16 | NA | NA | 36.40 | 36.04 | 090
64897 |  | A | Nerve graft, arm or leg | 19.19 | NA | NA | 10.05 | 10.55 | 2.54 | NA | NA | 31.78 | 32.28 | 090
64898 |  | A | Nerve graft, arm or leg | 20.76 | NA | NA | 10.88 | 11.59 | 2.77 | NA | NA | 34.41 | 35.12 | 090
64901 |  | A | Nerve graft add-on | 10.20 | NA | NA | 3.71 | 4.89 | 1.37 | NA | NA | 15.28 | 16.46 | ZZZ
64902 |  | A | Nerve graft add-on | 11.81 | NA | NA | 4.14 | 5.52 | 1.55 | NA | NA | 17.50 | 18.88 | ZZZ
64905 |  | A | Nerve pedicle transfer | 14.92 | NA | NA | 6.59 | 8.03 | 2.00 | NA | NA | 23.51 | 24.95 | 090
64907 |  | A | Nerve pedicle transfer | 19.84 | NA | NA | 6.14 | 10.96 | 3.16 | NA | NA | 29.14 | 33.96 | 090
65091 |  | A | Revise eye | 7.07 | NA | NA | 6.66 | 7.94 | 0.32 | NA | NA | 14.05 | 15.33 | 090
65093 |  | A | Revise eye with implant | 6.86 | NA | NA | 6.76 | 8.25 | 0.34 | NA | NA | 13.96 | 15.45 | 090
65101 |  | A | Removal of eye | 8.02 | NA | NA | 7.86 | 9.13 | 0.35 | NA | NA | 16.23 | 17.50 | 090
65103 |  | A | Remove eye/insert implant | 8.56 | NA | NA | 8.09 | 9.34 | 0.37 | NA | NA | 17.02 | 18.27 | 090
65105 |  | A | Remove eye/attach implant | 9.60 | NA | NA | 8.74 | 10.05 | 0.42 | NA | NA | 18.76 | 20.07 | 090
65110 |  | A | Removal of eye | 15.30 | NA | NA | 11.16 | 13.07 | 0.81 | NA | NA | 27.27 | 29.18 | 090
65112 |  | A | Remove eye/revise socket | 18.04 | NA | NA | 12.57 | 15.28 | 1.30 | NA | NA | 31.91 | 34.62 | 090
65114 |  | A | Remove eye/revise socket | 19.18 | NA | NA | 13.21 | 15.60 | 1.02 | NA | NA | 33.41 | 35.80 | 090
65125 |  | A | Revise ocular implant | 3.12 | 6.73 | 8.31 | 3.13 | 3.49 | 0.19 | 10.04 | 11.62 | 6.44 | 6.80 | 090
65130 |  | A | Insert ocular implant | 8.14 | NA | NA | 7.69 | 8.82 | 0.35 | NA | NA | 16.18 | 17.31 | 090
65135 |  | A | Insert ocular implant | 8.32 | NA | NA | 7.68 | 8.93 | 0.36 | NA | NA | 16.36 | 17.61 | 090
65140 |  | A | Attach ocular implant | 9.13 | NA | NA | 8.27 | 9.49 | 0.40 | NA | NA | 17.80 | 19.02 | 090
65150 |  | A | Revise ocular implant | 6.25 | NA | NA | 6.24 | 7.55 | 0.31 | NA | NA | 12.80 | 14.11 | 090
65155 |  | A | Reinsert ocular implant | 9.77 | NA | NA | 8.52 | 10.01 | 0.50 | NA | NA | 18.79 | 20.28 | 090
65175 |  | A | Removal of ocular implant | 7.14 | NA | NA | 7.03 | 8.13 | 0.31 | NA | NA | 14.48 | 15.58 | 090
65205 |  | A | Remove foreign body from eye | 0.71 | 0.57 | 0.62 | 0.32 | 0.30 | 0.03 | 1.31 | 1.36 | 1.06 | 1.04 | 000
65210 |  | A | Remove foreign body from eye | 0.84 | 0.72 | 0.79 | 0.39 | 0.38 | 0.04 | 1.60 | 1.67 | 1.27 | 1.26 | 000
65220 |  | A | Remove foreign body from eye | 0.71 | 0.59 | 0.63 | 0.28 | 0.28 | 0.05 | 1.35 | 1.39 | 1.04 | 1.04 | 000
65222 |  | A | Remove foreign body from eye | 0.93 | 0.79 | 0.87 | 0.42 | 0.39 | 0.04 | 1.76 | 1.84 | 1.39 | 1.36 | 000
65235 |  | A | Remove foreign body from eye | 8.68 | NA | NA | 6.44 | 6.68 | 0.37 | NA | NA | 15.49 | 15.73 | 090
65260 |  | A | Remove foreign body from eye | 12.19 | NA | NA | 8.59 | 9.41 | 0.57 | NA | NA | 21.35 | 22.17 | 090
65265 |  | A | Remove foreign body from eye | 13.94 | NA | NA | 9.40 | 10.34 | 0.62 | NA | NA | 23.96 | 24.90 | 090
65270 |  | A | Repair of eye wound | 1.90 | 3.76 | 4.87 | 1.16 | 1.33 | 0.09 | 5.75 | 6.86 | 3.15 | 3.32 | 010
65272 |  | A | Repair of eye wound | 4.43 | 6.23 | 7.36 | 3.10 | 3.25 | 0.19 | 10.85 | 11.98 | 7.72 | 7.87 | 090
65273 |  | A | Repair of eye wound | 4.97 | NA | NA | 3.30 | 3.52 | 0.22 | NA | NA | 8.49 | 8.71 | 090
65275 |  | A | Repair of eye wound | 6.08 | 6.21 | 6.30 | 3.82 | 3.92 | 0.26 | 12.55 | 12.64 | 10.16 | 0.26 | 090
65280 |  | A | Repair of eye wound | 8.77 | NA | NA | 5.65 | 6.10 | 0.38 | NA | NA | 14.80 | 15.25 | 090
65285 |  | A | Repair of eye wound | 14.31 | NA | NA | 8.19 | 8.98 | 0.64 | NA | NA | 23.14 | 23.93 | 090
65286 |  | A | Repair of eye wound | 6.37 | 8.69 | 10.55 | 4.34 | 4.56 | 0.27 | 15.33 | 17.19 | 10.98 | 11.20 | 090
65290 |  | A | Repair of eye socket wound | 6.27 | NA | NA | 4.36 | 4.65 | 0.31 | NA | NA | 10.94 | 11.23 | 090
65400 |  | A | Removal of eye lesion | 7.17 | 7.51 | 8.14 | 5.89 | 6.08 | 0.30 | 14.98 | 15.61 | 13.36 | 13.55 | 090
65410 |  | A | Biopsy of cornea | 1.47 | 1.69 | 2.01 | 0.87 | 0.95 | 0.07 | 3.23 | 3.55 | 2.41 | 2.49 | 000
65420 |  | A | Removal of eye lesion | 4.16 | 6.91 | 8.39 | 3.98 | 4.33 | 0.21 | 11.28 | 12.76 | 8.35 | 8.70 | 090
65426 |  | A | Removal of eye lesion | 5.85 | 8.26 | 9.72 | 4.60 | 4.85 | 0.25 | 14.36 | 15.82 | 10.70 | 10.95 | 090
65430 |  | A | Corneal smear | 1.47 | 1.10 | 1.24 | 0.87 | 0.95 | 0.07 | 2.64 | 2.78 | 2.41 | 2.49 | 000
65435 |  | A | Curette/treat cornea | 0.92 | 0.87 | 0.97 | 0.66 | 0.70 | 0.04 | 1.83 | 1.93 | 1.62 | 1.66 | 000
65436 |  | A | Curette/treat cornea | 4.68 | 3.79 | 4.02 | 3.46 | 3.63 | 0.21 | 8.68 | 8.91 | 8.35 | 8.52 | 090
65450 |  | A | Treatment of corneal lesion | 3.27 | 3.68 | 3.98 | 3.61 | 3.87 | 0.16 | 7.11 | 7.41 | 7.04 | 7.30 | 090
65600 |  | A | Revision of cornea | 4.01 | 4.43 | 4.87 | 3.43 | 3.38 | 0.17 | 8.61 | 9.05 | 7.61 | 7.56 | 090
65710 |  | A | Corneal transplant | 13.97 | NA | NA | 10.39 | 11.02 | 0.61 | NA | NA | 24.97 | 25.60 | 090
65730 |  | A | Corneal transplant | 15.87 | NA | NA | 10.90 | 11.76 | 0.70 | NA | NA | 27.47 | 28.33 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
65750 |  | A | Corneal transplant | 16.48 | NA | NA | 10.72 | 11.68 | 0.74 | NA | NA | 27.94 | 28.90 | 090
65755 |  | A | Corneal transplant | 16.37 | NA | NA | 10.69 | 11.61 | 0.73 | NA | NA | 27.79 | 28.71 | 090
65770 |  | A | Revise cornea with implant | 19.27 | NA | NA | 11.83 | 12.89 | 0.87 | NA | NA | 31.97 | 33.03 | 090
65772 |  | A | Correction of astigmatism | 4.90 | 4.89 | 5.39 | 3.95 | 4.09 | 0.21 | 10.00 | 10.50 | 9.06 | 9.20 | 090
65775 |  | A | Correction of astigmatism | 6.65 | NA | NA | 5.51 | 5.86 | 0.28 | NA | NA | 12.44 | 12.79 | 090
65780 |  | A | Ocular reconst, transplant | 10.23 | NA | NA | 8.98 | 9.99 | 0.44 | NA | NA | 19.65 | 20.66 | 090
65781 |  | A | Ocular reconst, transplant | 17.64 | NA | NA | 11.64 | 13.19 | 0.44 | NA | NA | 29.72 | 31.27 | 090
65782 |  | A | Ocular reconst, transplant | 14.98 | NA | NA | 10.27 | 11.58 | 0.44 | NA | NA | 25.69 | 27.00 | 090
65800 |  | A | Drainage of eye | 1.91 | 1.42 | 1.71 | 1.04 | 1.15 | 0.09 | 3.42 | 3.71 | 3.04 | 3.15 | 000
65805 |  | A | Drainage of eye | 1.91 | 1.72 | 2.07 | 1.04 | 1.15 | 0.09 | 3.72 | 4.07 | 3.04 | 3.15 | 000
65810 |  | A | Drainage of eye | 5.61 | NA | NA | 4.49 | 4.66 | 0.24 | NA | NA | 10.34 | 10.51 | 090
65815 |  | A | Drainage of eye | 5.79 | 7.92 | 9.50 | 4.56 | 4.76 | 0.25 | 13.96 | 15.54 | 10.60 | 10.80 | 090
65820 |  | A | Relieve inner eye pressure | 8.62 | NA | NA | 7.60 | 8.71 | 0.40 | NA | NA | 16.62 | 17.73 | 090
65850 |  | A | Incision of eye | 11.14 | NA | NA | 7.27 | 8.16 | 0.52 | NA | NA | 18.93 | 19.82 | 090
65855 |  | A | Laser surgery of eye | 3.84 | 3.52 | 4.12 | 2.64 | 2.99 | 0.19 | 7.55 | 8.15 | 6.67 | 7.02 | 010
65860 |  | A | Incise inner eye adhesions | 3.54 | 3.29 | 3.86 | 2.10 | 2.41 | 0.18 | 7.01 | 7.58 | 5.82 | 6.13 | 090
65865 |  | A | Incise inner eye adhesions | 5.59 | NA | NA | 4.77 | 5.42 | 0.28 | NA | NA | 10.64 | 11.29 | 090
65870 |  | A | Incise inner eye adhesions | 7.13 | NA | NA | 5.79 | 6.27 | 0.31 | NA | NA | 13.23 | 13.71 | 090
65875 |  | A | Incise inner eye adhesions | 7.53 | NA | NA | 6.20 | 6.66 | 0.32 | NA | NA | 14.05 | 14.51 | 090
65880 |  | A | Incise inner eye adhesions | 8.08 | NA | NA | 6.41 | 6.89 | 0.35 | NA | NA | 14.84 | 15.32 | 090
65900 |  | A | Remove eye lesion | 12.16 | NA | NA | 9.00 | 9.96 | 0.54 | NA | NA | 21.70 | 22.66 | 090
65920 |  | A | Remove implant of eye | 9.64 | NA | NA | 7.50 | 8.02 | 0.41 | NA | NA | 17.55 | 18.07 | 090
65930 |  | A | Remove blood clot from eye | 8.18 | NA | NA | 6.02 | 6.64 | 0.37 | NA | NA | 14.57 | 15.19 | 090
66020 |  | A | Injection treatment of eye | 1.59 | 2.44 | 2.96 | 1.28 | 1.40 | 0.08 | 4.11 | 4.63 | 2.95 | 3.07 | 010
66030 |  | A | Injection treatment of eye | 1.25 | 2.32 | 2.81 | 1.16 | 1.25 | 0.06 | 3.63 | 4.12 | 2.47 | 2.56 | 010
66130 |  | A | Remove eye lesion | 7.68 | 7.41 | 9.09 | 4.79 | 5.42 | 0.38 | 15.47 | 17.15 | 12.85 | 13.48 | 090
66150 |  | A | Glaucoma surgery | 10.04 | NA | NA | 8.78 | 9.27 | 0.46 | NA | NA | 19.28 | 19.77 | 090
66155 |  | A | Glaucoma surgery | 10.03 | NA | NA | 8.77 | 9.23 | 0.41 | NA | NA | 19.21 | 19.67 | 090
66160 |  | A | Glaucoma surgery | 11.90 | NA | NA | 9.50 | 10.04 | 0.50 | NA | NA | 21.90 | 22.44 | 090
66165 |  | A | Glaucoma surgery | 9.75 | NA | NA | 8.72 | 9.13 | 0.40 | NA | NA | 18.87 | 19.28 | 090
66170 |  | A | Glaucoma surgery | 14.39 | NA | NA | 11.45 | 12.06 | 0.60 | NA | NA | 26.44 | 27.05 | 090
66172 |  | A | Incision of eye | 18.02 | NA | NA | 14.39 | 15.03 | 0.74 | NA | NA | 33.15 | 33.79 | 090
66180 |  | A | Implant eye shunt | 15.90 | NA | NA | 9.74 | 10.53 | 0.71 | NA | NA | 26.35 | 27.14 | 090
66185 |  | A | Revise eye shunt | 9.25 | NA | NA | 7.20 | 7.35 | 0.40 | NA | NA | 16.85 | 17.00 | 090
66220 |  | A | Repair eye lesion | 8.88 | NA | NA | 6.86 | 7.06 | 0.40 | NA | NA | 16.14 | 16.34 | 090
66225 |  | A | Repair/graft eye lesion | 12.28 | NA | NA | 8.22 | 8.63 | 0.55 | NA | NA | 21.05 | 21.46 | 090
66250 |  | A | Follow-up surgery of eye | 6.84 | 9.23 | 11.10 | 5.21 | 5.43 | 0.30 | 16.37 | 18.24 | 12.35 | 12.57 | 090
66500 |  | A | Incision of iris | 3.70 | NA | NA | 3.87 | 4.46 | 0.18 | NA | NA | 7.75 | 8.34 | 090
66505 |  | A | Incision of iris | 4.07 | NA | NA | 4.20 | 4.80 | 0.20 | NA | NA | 8.47 | 9.07 | 090
66600 |  | A | Remove iris and lesion | 9.79 | NA | NA | 8.16 | 8.22 | 0.43 | NA | NA | 18.38 | 18.44 | 090
66505 |  | A | Removal of iris | 13.89 | NA | NA | 9.29 | 9.86 | 0.77 | NA | NA | 23.95 | 24.52 | 090
66625 |  | A | Removal of iris | 12 | NA | NA | 4.15 | 4.59 | 0.26 | NA | NA | 9.53 | 9.97 | 090
66630 |  | A | Removal of iris | 7.02 | NA | NA | 5.30 | 5.62 | 0.31 | NA | NA | 12.63 | 12.95 | 090
66635 |  | A | Removal of iris | 7.11 | NA | NA | 5.33 | 5.65 | 0.31 | NA | NA | 12.75 | 13.07 | 090
66680 |  | A | Repair iris & ciliary body | 6.18 | NA | NA | 5.18 | 5.26 | 0.27 | NA | NA | 11.63 | 11.71 | 090
66682 |  | A | Repair iris & ciliary body | 7.07 | NA | NA | 6.64 | 6.63 | 0.31 | NA | NA | 14.02 | 14.01 | 090
66700 |  | A | Destruction, ciliary body | 5.02 | 4.78 | 5.14 | 3.60 | 3.86 | 0.24 | 10.04 | 10.40 | 8.86 | 9.12 | 090
66710 |  | A | Ciliary transsleral therapy | 5.02 | 4.47 | 5.00 | 3.51 | 3.77 | 0.23 | 9.72 | 10.25 | 8.76 | 9.02 | 090
66711 |  | A | Ciliary endoscopic ablation | 7.60 | NA | NA | 6.22 | 6.42 | 0.30 | NA | NA | 14.12 | 14.32 | 090
66720 |  | A | Destruction, ciliary body | 4.77 | 5.21 | 5.66 | 4.20 | 4.60 | 0.26 | 10.24 | 10.69 | 9.23 | 9.63 | 090
66740 |  | A | Destruction, ciliary body | 5.02 | 4.49 | 4.95 | 3.61 | 3.89 | 0.23 | 9.74 | 10.20 | 8.86 | 9.14 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
66761 |  | A | Revision of iris | 4.81 | 4.99 | 5.46 | 4.19 | 4.29 | 0.20 | 10.00 | 10.47 | 9.20 | 9.30 | 090
66762 |  | A | Revision of iris | 5.19 | 5.07 | 5.52 | 4.07 | 4.24 | 0.23 | 10.49 | 10.94 | 9.49 | 9.66 | 090
66770 |  | A | Removal of inner eye lesion | 5.92 | 5.51 | 5.95 | 4.60 | 4.76 | 0.26 | 11.69 | 12.13 | 10.78 | 10.94 | 090
66820 |  | A | Incision, secondary cataract | 3.88 | NA | NA | 4.59 | 5.52 | 0.19 | NA | NA | 8.66 | 9.59 | 090
66821 |  | A | After cataract laser surgery | 3.28 | 3.89 | 4.05 | 3.46 | 3.59 | 0.11 | 7.28 | 7.44 | 6.85 | 6.98 | 090
66825 |  | A | Reposition intraocular lens | 8.72 | NA | NA | 7.61 | 8.72 | 0.40 | NA | NA | 16.73 | 17.84 | 090
66830 |  | A | Removal of lens lesion | 9.19 | NA | NA | 6.42 | 6.83 | 0.36 | NA | NA | 15.97 | 16.38 | 090
66840 |  | A | Removal of lens material | 8.90 | NA | NA | 6.37 | 6.75 | 0.39 | NA | NA | 15.66 | 16.04 | 090
66850 |  | A | Removal of lens material | 10.22 | NA | NA | 7.12 | 7.53 | 0.45 | NA | NA | 17.79 | 18.20 | 090
66852 |  | A | Removal of lens material | 11.08 | NA | NA | 7.44 | 7.95 | 0.49 | NA | NA | 19.01 | 19.52 | 090
66920 |  | A | Extraction of lens | 9.85 | NA | NA | 6.71 | 7.17 | 0.44 | NA | NA | 17.00 | 17.46 | 090
66930 |  | A | Extraction of lens | 11.28 | NA | NA | 7.52 | 8.00 | 0.49 | NA | NA | 19.29 | 19.77 | 090
66940 |  | A | Extraction of lens | 10.04 | NA | NA | 7.06 | 7.48 | 0.43 | NA | NA | 17.53 | 17.95 | 090
66982 |  | A | Cataract surgery, complex | 14.73 | NA | NA | 9.07 | 9.69 | 0.63 | NA | NA | 24.43 | 25.05 | 090
66983 |  | A | Cataract surg w/iol, 1 stage | 10.10 | NA | NA | 6.14 | 6.13 | 0.14 | NA | NA | 16.38 | 16.37 | 090
66984 |  | A | Cataract surg w/iol, 1 stage | 10.28 | NA | NA | 6.46 | 7.20 | 0.39 | NA | NA | 17.13 | 17.87 | 090
66985 |  | A | Insert lens prosthesis | 9.63 | NA | NA | 7.11 | 7.38 | 0.36 | NA | NA | 17.10 | 17.37 | 090
66986 |  | A | Exchange lens prosthesis | 12.26 | NA | NA | 8.00 | 8.90 | 0.60 | NA | NA | 20.86 | 21.76 | 090
66990 |  | A | Ophthalmic endoscope add-on | 1.51 | NA | NA | 0.55 | 0.66 | 0.07 | NA | NA | 2.13 | 2.24 | ZZZ
67005 |  | A | Partial removal of eye fluid | 5.69 | NA | NA | 4.37 | 4.75 | 0.28 | NA | NA | 10.34 | 10.72 | 090
67010 |  | A | Partial removal of eye fluid | 6.86 | NA | NA | 4.79 | 5.27 | 0.34 | NA | NA | 11.99 | 12.47 | 090
67015 |  | A | Release of eye fluid | 6.91 | NA | NA | 5.54 | 6.24 | 0.34 | NA | NA | 12.79 | 13.49 | 090
67025 |  | A | Replace eye fluid | 7.83 | 7.81 | 8.89 | 5.87 | 6.15 | 0.34 | 15.98 | 17.06 | 14.04 | 14.32 | 090
67027 |  | A | Implant eye drug system | 11.33 | NA | NA | 7.30 | 7.84 | 0.54 | NA | NA | 19.17 | 19.71 | 090
67028 |  | A | Injection eye drug | 2.52 | 2.16 | 2.57 | 1.26 | 1.41 | 0.12 | 4.80 | 5.21 | 3.90 | 4.05 | 000
67030 |  | A | Incise inner eye strands | 5.83 | NA | NA | 5.48 | 5.77 | 0.24 | NA | NA | 11.55 | 11.84 | 090
67031 |  | A | Laser surgery, eye strands | 4.28 | 4.03 | 4.47 | 3.42 | 3.59 | 0.18 | 8.49 | 8.93 | 7.88 | 8.05 | 090
67036 |  | A | Removal of inner eye fluid | 12.99 | NA | NA | 8.24 | 8.92 | 0.58 | NA | NA | 21.81 | 22.49 | 090
67038 |  | A | Strip retinal membrane | 23.14 | NA | NA | 13.80 | 15.10 | 1.04 | NA | NA | 37.98 | 39.28 | 090
67039 |  | A | Laser treatment of retina | 16.25 | NA | NA | 11.05 | 11.93 | 0.71 | NA | NA | 28.01 | 28.89 | 090
67040 |  | A | Laser treatment of retina | 19.07 | NA | NA | 12.34 | 13.38 | 0.85 | NA | NA | 32.26 | 33.30 | 090
67101 |  | A | Repair detached retina | 8.52 | 8.45 | 8.98 | 6.13 | 6.45 | 0.37 | 17.34 | 17.87 | 15.02 | 15.34 | 090
67105 |  | A | Repair detached retina | 8.27 | 7.37 | 7.92 | 5.76 | 6.07 | 0.37 | 16.01 | 16.56 | 14.40 | 14.71 | 090
67107 |  | A | Repair detached retina | 16.26 | NA | NA | 10.36 | 11.09 | 0.73 | NA | NA | 27.35 | 28.08 | 090
67108 |  | A | Repair detached retina | 22.39 | NA | NA | 12.97 | 14.09 | 1.02 | NA | NA | 36.38 | 37.50 | 090
67110 |  | A | Repair detached retina | 9.92 | 8.88 | 9.92 | 6.92 | 7.29 | 0.44 | 19.24 | 20.28 | 17.28 | 17.65 | 090
67112 |  | A | Rerepair detached retina | 18.33 | NA | NA | 10.82 | 11.59 | 0.83 | NA | NA | 29.98 | 30.75 | 090
67115 |  | A | Release encircling material | 5.85 | NA | NA | 4.87 | 5.04 | 0.25 | NA | NA | 10.97 | 11.14 | 090
67120 |  | A | Remove eye implant material | 6.84 | 7.31 | 8.28 | 5.24 | 5.47 | 0.29 | 14.44 | 15.41 | 12.37 | 12.60 | 090
67121 |  | A | Remove eye implant material | 11.90 | NA | NA | 7.92 | 8.39 | 0.53 | NA | NA | 20.35 | 20.82 | 090
67141 |  | A | Treatment of retina | 5.94 | 5.37 | 5.75 | 4.63 | 4.81 | 0.26 | 11.57 | 11.95 | 10.83 | 11.01 | 090
67145 |  | A | Treatment of retina | 6.11 | 5.29 | 5.63 | 4.68 | 4.88 | 0.27 | 11.67 | 12.01 | 11.06 | 11.26 | 090
67208 |  | A | Treatment of retinal lesion | 7.44 | 5.60 | 6.01 | 5.18 | 5.44 | 0.33 | 13.37 | 13.78 | 12.95 | 13.21 | 090
67210 |  | A | Treatment of retinal lesion | 9.31 | 5.73 | 6.38 | 5.27 | 5.74 | 0.44 | 15.48 | 16.13 | 15.02 | 15.49 | 090
67218 |  | A | Treatment of retinal lesion | 20.14 | NA | NA | 10.59 | 11.79 | 0.92 | NA | NA | 31.65 | 32.85 | 090
67220 |  | A | Treatment of choroid lesion | 14.11 | 9.19 | 10.14 | 8.15 | 8.82 | 0.65 | 23.95 | 24.90 | 22.91 | 23.58 | 090
67221 |  | R | Ocular photodynamic ther | 3.45 | 2.96 | 4.00 | 1.40 | 1.71 | 0.20 | 6.61 | 7.65 | 5.05 | 5.36 | 000
67225 |  | A | Eye photodynamic ther add-on | 0.47 | 0.23 | 0.25 | 0.17 | 0.20 | 0.02 | 0.72 | 0.74 | 0.66 | 0.69 | ZZZ
67227 |  | A | Treatment of retinal lesion | 7.32 | 5.96 | 6.44 | 5.13 | 5.44 | 0.33 | 13.61 | 14.09 | 12.78 | 13.09 | 090
67228 |  | A | Treatment of retinal lesion | 13.59 | 9.99 | 11.13 | 7.68 | 8.34 | 0.63 | 24.21 | 25.35 | 21.90 | 22.56 | 090
67250 |  | A | Reinforce eye wall | 9.40 | NA | NA | 7.57 | 8.79 | 0.47 | NA | NA | 17.44 | 18.66 | 090
67255 |  | A | Reinforce/graft eye wall | 9.89 | NA | NA | 8.31 | 9.52 | 0.44 | NA | NA | 18.64 | 19.85 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
67311 |  | A | Revise eye muscle | 7.51 | NA | NA | 5.58 | 5.93 | 0.37 | NA | NA | 13.46 | 13.81 | 090
67312 |  | A | Revise two eye muscles | 9.40 | NA | NA | 6.20 | 6.63 | 0.43 | NA | NA | 16.03 | 16.46 | 090
67314 |  | A | Revise eye muscle | 8.51 | NA | NA | 6.15 | 6.47 | 0.39 | NA | NA | 15.05 | 15.37 | 090
67316 |  | A | Revise two eye muscles | 10.65 | NA | NA | 6.93 | 7.37 | 0.49 | NA | NA | 18.07 | 18.51 | 090
67318 |  | A | Revise eye muscle(s) | 8.84 | NA | NA | 6.53 | 6.85 | 0.41 | NA | NA | 15.78 | 16.10 | 090
67320 |  | A | Revise eye muscle(s) add-on | 4.32 | NA | NA | 1.56 | 1.86 | 0.22 | NA | NA | 6.10 | 6.40 | ZZZ
67331 |  | A | Eye surgery follow-up add-on | 4.05 | NA | NA | 1.46 | 1.75 | 0.21 | NA | NA | 5.72 | 6.01 | ZZZ
67332 |  | A | Rerevise eye muscles add-on | 4.48 | NA | NA | 1.62 | 1.93 | 0.23 | NA | NA | 6.33 | 6.64 | ZZZ
67334 |  | A | Revise eye muscle w/suture | 3.97 | NA | NA | 1.42 | 1.71 | 0.20 | NA | NA | 5.59 | 5.88 | ZZZ
67335 |  | A | Eye suture during surgery | 2.49 | NA | NA | 0.90 | 1.07 | 0.13 | NA | NA | 3.52 | 3.69 | ZZZ
67340 |  | A | Revise eye muscle add-on | 4.92 | NA | NA | 1.77 | 2.10 | 0.25 | NA | NA | 6.94 | 7.27 | ZZZ
67343 |  | A | Release eye tissue | 8.21 | NA | NA | 6.05 | 6.41 | 0.37 | NA | NA | 14.63 | 14.99 | 090
67345 |  | A | Destroy nerve of eye muscle | 2.96 | 2.23 | 2.50 | 1.73 | 1.95 | 0.17 | 5.36 | 5.63 | 4.86 | 5.08 | 010
67350 |  | A | Biopsy eye muscle | 2.87 | NA | NA | 1.64 | 1.82 | 0.15 | NA | NA | 4.66 | 4.84 | 000
67400 |  | A | Explore/biopsy eye socket | 10.87 | NA | NA | 9.25 | 10.78 | 0.56 | NA | NA | 20.68 | 22.21 | 090
67405 |  | A | Explore/drain eye socket | 8.92 | NA | NA | 8.09 | 9.37 | 0.44 | NA | NA | 17.45 | 18.73 | 090
67412 |  | A | Explore/treat eye socket | 10.11 | NA | NA | 8.50 | 10.35 | 0.48 | NA | NA | 19.09 | 20.94 | 090
67413 |  | A | Explore/treat eye socket | 9.99 | NA | NA | 8.48 | 10.22 | 0.50 | NA | NA | 18.97 | 20.71 | 090
67414 |  | A | Explr/decompress eye socket | 17.72 | NA | NA | 11.56 | 11.94 | 0.65 | NA | NA | 29.93 | 30.31 | 090
67415 |  | A | Aspiration, orbital contents | 1.76 | NA | NA | 0.61 | 0.72 | 0.09 | NA | NA | 2.46 | 2.57 | 000
67420 |  | A | Explore/treat eye socket | 21.52 | NA | NA | 13.96 | 16.57 | 1.15 | NA | NA | 36.63 | 39.24 | 090
67430 |  | A | Explore/treat eye socket | 14.87 | NA | NA | 12.07 | 14.22 | 0.86 | NA | NA | 27.80 | 29.95 | 090
67440 |  | A | Explore/drain eye socket | 14.44 | NA | NA | 11.56 | 13.62 | 0.70 | NA | NA | 26.70 | 28.76 | 090
67445 |  | A | Explr/decompress eye socket | 18.90 | NA | NA | 12.47 | 13.58 | 0.90 | NA | NA | 32.27 | 33.38 | 090
67450 |  | A | Explore/biopsy eye socket | 14.99 | NA | NA | 12.01 | 14.05 | 0.68 | NA | NA | 27.68 | 29.72 | 090
67500 |  | A | Inject/treat eye socket | 1.44 | 0.60 | 0.65 | 0.46 | 0.33 | 0.05 | 2.09 | 2.14 | 1.95 | 1.82 | 000
67505 |  | A | Inject/treat eye socket | 1.27 | 0.52 | 0.65 | 0.39 | 0.33 | 0.05 | 1.84 | 1.97 | 1.71 | 1.65 | 000
67515 |  | A | Inject/treat eye socket | 1.40 | 0.78 | 0.64 | 0.62 | 0.44 | 0.03 | 2.21 | 2.07 | 2.05 | 1.87 | 000
67550 |  | A | Insert eye socket implant | 11.42 | NA | NA | 9.53 | 10.88 | 0.72 | NA | NA | 21.67 | 23.02 | 090
67560 |  | A | Revise eye socket implant | 11.83 | NA | NA | 9.57 | 10.94 | 0.60 | NA | NA | 22.00 | 23.37 | 090
67570 |  | A | Decompress optic nerve | 14.13 | NA | NA | 10.87 | 12.93 | 0.68 | NA | NA | 25.68 | 27.74 | 090
67700 |  | A | Drainage of eyelid abscess | 1.35 | 4.36 | 5.62 | 1.19 | 1.25 | 0.07 | 5.78 | 7.04 | 2.61 | 2.67 | 010
67710 |  | A | Incision of eyelid | 1.02 | 3.74 | 4.98 | 1.08 | 1.18 | 0.05 | 4.81 | 6.05 | 2.15 | 2.25 | 010
67715 |  | A | Incision of eyelid fold | 1.22 | 3.85 | 5.01 | 1.16 | 1.26 | 0.06 | 5.13 | 6.29 | 2.44 | 2.54 | 010
67800 |  | A | Remove eyelid lesion | 1.38 | 1.41 | 1.57 | 0.91 | 1.01 | 0.07 | 2.86 | 3.02 | 2.36 | 2.46 | 010
67801 |  | A | Remove eyelid lesions | 1.88 | 1.69 | 1.90 | 1.09 | 1.22 | 0.09 | 3.66 | 3.87 | 3.06 | 3.19 | 010
67805 |  | A | Remove eyelid lesions | 2.22 | 2.21 | 2.45 | 1.42 | 1.59 | 0.11 | 4.54 | 4.78 | 3.75 | 3.92 | 010
67808 |  | A | Remove eyelid lesion(s) | 4.41 | NA | NA | 3.62 | 3.74 | 0.19 | NA | NA | 8.22 | 8.34 | 090
67810 |  | A | Biopsy of eyelid | 1.48 | 3.86 | 3.47 | 0.66 | 0.68 | 0.06 | 5.40 | 5.01 | 2.20 | 2.22 | 000
67820 |  | A | Revise eyelashes | 0.71 | 0.44 | 0.56 | 0.51 | 0.55 | 0.04 | 1.19 | 1.31 | 1.26 | 1.30 | 000
67825 |  | A | Revise eyelashes | 1.38 | 1.41 | 1.66 | 1.27 | 1.38 | 0.07 | 2.86 | 3.11 | 2.72 | 2.83 | 010
67830 |  | A | Revise eyelashes | 1.70 | 4.04 | 5.17 | 1.33 | 1.46 | 0.08 | 5.82 | 6.95 | 3.11 | 3.24 | 010
67835 |  | A | Revise eyelashes | 5.55 | NA | NA | 4.04 | 4.48 | 0.28 | NA | NA | 9.87 | 10.31 | 090
67840 |  | A | Remove eyelid lesion | 2.04 | 3.94 | 5.10 | 1.46 | 1.60 | 0.10 | 6.08 | 7.24 | 3.60 | 3.74 | 010
67850 |  | A | Treat eyelid lesion | 1.69 | 3.24 | 3.35 | 1.42 | 1.46 | 0.07 | 5.00 | 5.11 | 3.18 | 3.22 | 010
67875 |  | A | Closure of eyelid by suture | 1.35 | 2.40 | 3.08 | 0.84 | 0.92 | 0.07 | 3.82 | 4.50 | 2.26 | 2.34 | 000
67880 |  | A | Revision of eyelid | 4.41 | 5.47 | 6.34 | 3.59 | 3.76 | 0.19 | 10.07 | 10.94 | 8.19 | 8.36 | 090
67882 |  | A | Revision of eyelid | 5.81 | 6.43 | 7.35 | 4.51 | 4.74 | 0.25 | 12.49 | 13.41 | 10.57 | 10.80 | 090
67900 |  | A | Repair brow defect | 6.63 | 7.38 | 8.66 | 4.60 | 5.10 | 0.38 | 14.39 | 15.67 | 11.61 | 12.11 | 090
67901 |  | A | Repair eyelid defect | 7.39 | NA | NA | 5.18 | 5.36 | 0.54 | NA | NA | 13.11 | 13.29 | 090
67902 |  | A | Repair eyelid defect | 9.60 | NA | NA | 6.31 | 5.69 | 0.60 | NA | NA | 16.51 | 15.89 | 090
67903 |  | A | Repair eyelid defect | 6.36 | 6.68 | 8.86 | 4.36 | 5.24 | 0.47 | 13.51 | 15.69 | 11.19 | 12.07 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
67904 |  | A | Repair eyelid defect | 7.75 | 7.99 | 9.24 | 5.11 | 5.22 | 0.41 | 16.15 | 17.40 | 13.27 | 13.38 | 090
67906 |  | A | Repair eyelid defect | 6.78 | 3.91 | 5.02 | 4.52 | 4.91 | 0.46 | 11.15 | 12.26 | 11.76 | 12.15 | 090
67908 |  | A | Repair eyelid defect | 5.12 | 5.47 | 6.36 | 4.08 | 5.04 | 0.28 | 10.87 | 11.76 | 9.48 | 10.44 | 090
67909 |  | A | Revise eyelid defect | 5.39 | 6.26 | 7.60 | 4.22 | 4.78 | 0.31 | 11.96 | 13.30 | 9.92 | 10.48 | 090
67911 |  | A | Revise eyelid defect | 7.30 | NA | NA | 4.89 | 4.82 | 0.31 | NA | NA | 12.50 | 12.43 | 090
67912 |  | A | Correction eyelid w/implant | 6.17 | 12.98 | 17.48 | 4.64 | 5.32 | 0.28 | 19.43 | 23.93 | 11.09 | 11.77 | 090
67914 |  | A | Repair eyelid defect | 3.67 | 4.79 | 5.97 | 2.70 | 2.97 | 0.19 | 8.65 | 9.83 | 6.56 | 6.83 | 090
67915 |  | A | Repair eyelid defect | 3.18 | 4.46 | 5.62 | 2.51 | 2.74 | 0.16 | 7.80 | 8.96 | 5.85 | 6.08 | 090
67916 |  | A | Repair eyelid defect | 5.30 | 6.40 | 7.65 | 4.16 | 4.62 | 0.28 | 11.98 | 13.23 | 9.74 | 10.20 | 090
67917 |  | A | Repair eyelid defect | 6.01 | 6.78 | 8.06 | 4.43 | 4.92 | 0.36 | 13.15 | 14.43 | 10.80 | 11.29 | 090
67921 |  | A | Repair eyelid defect | 3.39 | 4.67 | 5.83 | 2.58 | 2.82 | 0.17 | 8.23 | 9.39 | 6.14 | 6.38 | 090
67922 |  | A | Repair eyelid defect | 3.06 | 4.36 | 5.54 | 2.45 | 2.68 | 0.15 | 7.57 | 8.75 | 5.66 | 5.89 | 090
67923 |  | A | Repair eyelid defect | 5.87 | 6.50 | 7.73 | 4.36 | 4.83 | 0.30 | 12.67 | 13.90 | 10.53 | 11.00 | 090
67924 |  | A | Repair eyelid defect | 5.78 | 6.98 | 8.46 | 4.09 | 4.54 | 0.30 | 13.06 | 14.54 | 10.17 | 10.62 | 090
67930 |  | A | Repair eyelid wound | 3.60 | 4.41 | 5.40 | 1.79 | 2.08 | 0.19 | 8.20 | 9.19 | 5.58 | 5.87 | 010
67935 |  | A | Repair eyelid wound | 6.21 | 6.82 | 8.11 | 3.61 | 4.22 | 0.39 | 13.42 | 14.71 | 10.21 | 10.82 | 090
67938 |  | A | Remove eyelid foreign body | 1.33 | 3.90 | 5.03 | 1.24 | 1.26 | 0.06 | 5.29 | 6.42 | 2.63 | 2.65 | 010
67950 |  | A | Revision of eyelid | 5.81 | 6.67 | 8.16 | 4.37 | 5.02 | 0.36 | 12.84 | 14.33 | 10.54 | 11.19 | 090
67961 |  | A | Revision of eyelid | 5.68 | 6.87 | 8.25 | 4.33 | 4.86 | 0.33 | 12.88 | 14.26 | 10.34 | 10.87 | 090
67966 |  | A | Revision of eyelid | 8.75 | 8.02 | 8.88 | 5.43 | 5.54 | 0.37 | 17.14 | 18.00 | 14.55 | 14.66 | 090
67971 |  | A | Reconstruction of eyelid | 9.78 | NA | NA | 6.23 | 7.03 | 0.53 | NA | NA | 16.54 | 17.34 | 090
67973 |  | A | Reconstruction of eyelid | 12.85 | NA | NA | 7.81 | 8.96 | 0.75 | NA | NA | 21.41 | 22.56 | 090
67974 |  | A | Reconstruction of eyelid | 12.82 | NA | NA | 7.83 | 8.90 | 0.75 | NA | NA | 21.40 | 22.47 | 090
67975 |  | A | Reconstruction of eyelid | 9.12 | NA | NA | 6.01 | 6.73 | 0.50 | NA | NA | 15.63 | 16.35 | 090
68020 |  | A | Incise/drain eyelid lining | 1.37 | 1.25 | 1.37 | 1.06 | 1.17 | 0.06 | 2.68 | 2.80 | 2.49 | 2.60 | 010
68040 |  | A | Treatment of eyelid lesions | 0.85 | 0.61 | 0.69 | 0.35 | 0.41 | 0.04 | 1.50 | 1.58 | 1.24 | 1.30 | 000
68100 |  | A | Biopsy of eyelid lining | 1.35 | 2.37 | 3.04 | 0.86 | 0.93 | 0.07 | 3.79 | 4.46 | 2.28 | 2.35 | 000
68110 |  | A | Remove eyelid lining lesion | 1.77 | 3.10 | 3.86 | 1.49 | 1.61 | 0.09 | 4.96 | 5.72 | 3.35 | 3.47 | 010
68115 |  | A | Remove eyelid lining lesion | 2.36 | 4.37 | 5.58 | 1.70 | 1.87 | 0.12 | 6.85 | 8.06 | 4.18 | 4.35 | 010
68130 |  | A | Remove eyelid lining lesion | 4.92 | 6.74 | 8.24 | 4.09 | 4.48 | 0.24 | 11.90 | 13.40 | 9.25 | 9.64 | 090
68135 |  | A | Remove eyelid lining lesion | 1.84 | 1.60 | 1.77 | 1.48 | 1.61 | 0.09 | 3.53 | 3.70 | 3.41 | 3.54 | 010
68200 |  | A | Treat eyelid by injection | 0.49 | 0.45 | 0.52 | 0.29 | 0.32 | 0.02 | 0.96 | 1.03 | 0.80 | 0.83 | 000
68320 |  | A | Revise/graft eyelid lining | 6.36 | 9.25 | 10.80 | 5.35 | 5.49 | 0.27 | 15.88 | 17.43 | 11.98 | 12.12 | 090
68325 |  | A | Revise/graft eyelid lining | 8.35 | NA | NA | 6.02 | 6.43 | 0.44 | NA | NA | 14.81 | 15.22 | 090
68326 |  | A | Revise/graft eyelid lining | 8.14 | NA | NA | 5.97 | 6.32 | 0.35 | NA | NA | 14.46 | 14.81 | 090
68328 |  | A | Revise/graft eyelid lining | 9.17 | NA | NA | 6.50 | 7.11 | 0.54 | NA | NA | 16.21 | 16.82 | 090
68330 |  | A | Revise eyelid lining | 5.57 | 7.50 | 8.96 | 4.49 | 4.67 | 0.24 | 13.31 | 14.77 | 10.30 | 10.48 | 090
68335 |  | A | Revise/graft eyelid lining | 8.18 | NA | NA | 5.98 | 6.30 | 0.36 | NA | NA | 14.52 | 14.84 | 090
68340 |  | A | Separate eyelid adhesions | 4.78 | 6.94 | 8.41 | 3.90 | 4.06 | 0.21 | 11.93 | 13.40 | 8.89 | 9.05 | 090
68360 |  | A | Revise eyelid lining | 4.98 | 6.48 | 7.67 | 3.98 | 4.14 | 0.22 | 11.68 | 12.87 | 9.18 | 9.34 | 090
68362 |  | A | Revise eyelid lining | 8.33 | NA | NA | 6.03 | 6.32 | 0.36 | NA | NA | 14.72 | 15.01 | 090
68371 |  | A | Harvest eye tissue, alograft | 4.89 | NA | NA | 4.09 | 4.58 | 0.44 | NA | NA | 9.42 | 9.91 | 010
68400 |  | A | Incise/drain tear gland | 1.69 | 4.30 | 5.52 | 1.16 | 1.66 | 0.08 | 6.07 | 7.29 | 2.93 | 3.43 | 010
68420 |  | A | Incise/drain tear sac | 2.30 | 4.55 | 5.80 | 1.39 | 1.93 | 0.11 | 6.96 | 8.21 | 3.80 | 4.34 | 010
68440 |  | A | Incise tear duct opening | 0.94 | 1.18 | 1.86 | 1.15 | 1.24 | 0.05 | 2.17 | 2.85 | 2.14 | 2.23 | 010
68500 |  | A | Removal of tear gland | 12.37 | NA | NA | 8.65 | 9.48 | 0.55 | NA | NA | 21.57 | 22.40 | 090
68505 |  | A | Partial removal, tear gland | 12.29 | NA | NA | 8.78 | 10.21 | 0.55 | NA | NA | 21.62 | 23.05 | 090
68510 |  | A | Biopsy of tear gland | 4.60 | 5.23 | 6.82 | 2.04 | 2.09 | 0.23 | 10.06 | 11.65 | 6.87 | 6.92 | 000
68520 |  | A | Removal of tear sac | 8.50 | NA | NA | 6.56 | 7.22 | 0.37 | NA | NA | 15.43 | 16.09 | 090
68525 |  | A | Biopsy of tear sac | 4.42 | NA | NA | 1.58 | 1.92 | 0.22 | NA | NA | 6.22 | 6.56 | 000
68530 |  | A | Clearance of tear duct | 3.65 | 5.57 | 7.54 | 2.05 | 2.50 | 0.18 | 9.40 | 11.37 | 5.88 | 6.33 | 010
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
68540 |  | A | Remove tear gland lesion | 11.83 | NA | NA | 8.28 | 9.14 | 0.52 | NA | NA | 20.63 | 21.49 | 090
68550 |  | A | Remove tear gland lesion | 14.74 | NA | NA | 9.99 | 11.03 | 0.80 | NA | NA | 25.53 | 26.57 | 090
68700 |  | A | Repair tear ducts | 7.59 | NA | NA | 5.60 | 5.90 | 0.32 | NA | NA | 13.51 | 13.81 | 090
68705 |  | A | Revise tear duct opening | 2.06 | 3.06 | 3.90 | 1.60 | 1.75 | 0.10 | 5.22 | 6.06 | 3.76 | 3.91 | 010
68720 |  | A | Create tear sac drain | 9.70 | NA | NA | 6.86 | 7.63 | 0.44 | NA | NA | 17.00 | 17.77 | 090
68745 |  | A | Create tear duct drain | 9.62 | NA | NA | 7.21 | 7.71 | 0.52 | NA | NA | 17.35 | 17.85 | 090
68750 |  | A | Create tear duct drain | 9.77 | NA | NA | 7.38 | 8.06 | 0.43 | NA | NA | 17.58 | 18.26 | 090
68760 |  | A | Close tear duct opening | 1.73 | 2.62 | 3.32 | 1.47 | 1.59 | 0.09 | 4.44 | 5.14 | 3.29 | 3.41 | 010
68761 |  | A | Close tear duct opening | 1.36 | 1.85 | 2.17 | 1.26 | 1.31 | 0.06 | 3.27 | 3.59 | 2.68 | 2.73 | 010
68770 |  | A | Close tear system fistula | 8.01 | 2.90 | 3.12 | 5.74 | 3.83 | 0.35 | 11.26 | 11.48 | 14.10 | 12.19 | 090
68801 |  | A | Dilate tear duct opening | 0.94 | 1.79 | 1.91 | 1.43 | 1.47 | 0.05 | 2.78 | 2.90 | 2.42 | 2.46 | 010
68810 |  | A | Probe nasolacrimal duct | 2.59 | 3.42 | 3.61 | 2.70 | 2.69 | 0.10 | 6.11 | 6.30 | 5.39 | 5.38 | 010
68811 |  | A | Probe nasolacrimal duct | 2.35 | NA | NA | 2.13 | 2.35 | 0.13 | NA | NA | 4.61 | 4.83 | 010
68815 |  | A | Probe nasolacrimal duct | 3.20 | 6.46 | 7.81 | 2.44 | 2.73 | 0.17 | 9.83 | 11.18 | 5.81 | 6.10 | 010
68840 |  | A | Explore/irrigate tear ducts | 1.25 | 1.32 | 1.53 | 1.09 | 1.11 | 0.06 | 2.63 | 2.84 | 2.40 | 2.42 | 010
68850 |  | A | Injection for tear sac x-ray | 0.80 | 0.74 | 0.85 | 0.61 | 0.66 | 0.04 | 1.58 | 1.69 | 1.45 | 1.50 | 000
69000 |  | A | Drain external ear lesion | 1.45 | 2.67 | 2.84 | 1.23 | 1.33 | 0.12 | 4.24 | 4.41 | 2.80 | 2.90 | 010
69005 |  | A | Drain external ear lesion | 2.11 | 2.71 | 2.88 | 1.43 | 1.74 | 0.17 | 4.99 | 5.16 | 3.71 | 4.02 | 010
69020 |  | A | Drain outer ear canal lesion | 1.48 | 3.80 | 3.95 | 1.74 | 1.99 | 0.12 | 5.40 | 5.55 | 3.34 | 3.59 | 010
69100 |  | A | Biopsy of external ear | 0.81 | 1.82 | 1.74 | 0.38 | 0.39 | 0.03 | 2.66 | 2.58 | 1.22 | 1.23 | 000
69105 |  | A | Biopsy of external ear canal | 0.85 | 2.46 | 2.38 | 0.64 | 0.74 | 0.07 | 3.38 | 3.30 | 1.56 | 1.66 | 000
69110 |  | A | Remove external ear, partial | 3.43 | 7.49 | 6.94 | 4.22 | 4.42 | 0.30 | 11.22 | 10.67 | 7.95 | 8.15 | 090
69120 |  | A | Removal of external ear | 4.04 | NA | NA | 5.01 | 5.90 | 0.38 | NA | NA | 9.43 | 10.32 | 090
69140 |  | A | Remove ear canal lesion(s) | 7.96 | NA | NA | 12.17 | 13.03 | 0.65 | NA | NA | 20.78 | 21.64 | 090
69145 |  | A | Remove ear canal lesion(s) | 2.62 | 6.47 | 5.97 | 3.06 | 3.25 | 0.21 | 9.30 | 8.80 | 5.89 | 6.08 | 090
69150 |  | A | Extensive ear canal surgery | 13.41 | NA | NA | 10.38 | 12.68 | 1.22 | NA | NA | 25.01 | 27.31 | 090
69155 |  | A | Extensive ear/neck surgery | 22.96 | NA | NA | 14.75 | 18.39 | 1.92 | NA | NA | 39.63 | 43.27 | 090
69200 |  | A | Clear outer ear canal | 0.77 | 2.02 | 2.30 | 0.56 | 0.55 | 0.06 | 2.85 | 3.13 | 1.39 | 1.38 | 000
69205 |  | A | Clear outer ear canal | 1.20 | NA | NA | 1.12 | 1.30 | 0.10 | NA | NA | 2.42 | 2.60 | 010
69210 |  | A | Remove impacted ear wax | 0.61 | 0.55 | 0.61 | 0.15 | 0.21 | 0.05 | 1.21 | 1.27 | 0.81 | 0.87 | 000
69220 |  | A | Clean out mastoid cavity | 0.83 | 2.35 | 2.37 | 0.60 | 0.70 | 0.07 | 3.25 | 3.27 | 1.50 | 1.60 | 000
69222 |  | A | Clean out mastoid cavity | 1.40 | 3.63 | 3.80 | 1.71 | 1.98 | 0.12 | 5.15 | 5.32 | 3.23 | 3.50 | 010
69300 |  | R | Revise external ear | 6.35 | NA | NA | 4.44 | 4.28 | 0.72 | NA | NA | 11.51 | 11.35 | YYY
69310 |  | A | Rebuild outer ear canal | 10.77 | NA | NA | 14.02 | 15.75 | 0.85 | NA | NA | 25.64 | 27.37 | 090
69320 |  | A | Rebuild outer ear canal | 16.93 | NA | NA | 17.92 | 20.91 | 1.37 | NA | NA | 36.22 | 39.21 | 090
69400 |  | A | Inflate middle ear canal | 0.83 | 2.58 | 2.27 | 0.61 | 0.66 | 0.07 | 3.48 | 3.17 | 1.51 | 1.56 | 000
69401 |  | A | Inflate middle ear canal | 0.63 | 1.45 | 1.29 | 0.55 | 0.63 | 0.05 | 2.13 | 1.97 | 1.23 | 1.31 | 000
69405 |  | A | Catheterize middle ear canal | 2.63 | 3.34 | 3.47 | 1.75 | 2.18 | 0.21 | 6.18 | 6.31 | 4.59 | 5.02 | 010
69420 |  | A | Incision of eardrum | 1.33 | 3.02 | 3.13 | 1.39 | 1.54 | 0.11 | 4.46 | 4.57 | 2.83 | 2.98 | 010
69421 |  | A | Incision of eardrum | 1.73 | NA | NA | 1.66 | 2.04 | 0.15 | NA | NA | 3.54 | 3.92 | 010
69424 |  | A | Remove ventilating tube | 0.85 | 2.15 | 2.18 | 0.61 | 0.66 | 0.07 | 3.07 | 3.10 | 1.53 | 1.58 | 000
69433 |  | A | Create eardrum opening | 1.52 | 3.02 | 3.08 | 1.42 | 1.59 | 0.13 | 4.67 | 4.73 | 3.07 | 3.24 | 010
69436 |  | A | Create eardrum opening | 1.96 | NA | NA | 1.70 | 2.15 | 0.19 | NA | NA | 3.85 | 4.30 | 010
69440 |  | A | Exploration of middle ear | 7.56 | NA | NA | 8.20 | 8.65 | 0.61 | NA | NA | 16.37 | 16.82 | 090
69450 |  | A | Eardrum revision | 5.56 | NA | NA | 6.88 | 7.01 | 0.45 | NA | NA | 12.89 | 13.02 | 090
69501 |  | A | Mastoidectomy | 9.06 | NA | NA | 7.69 | 8.70 | 0.73 | NA | NA | 17.48 | 18.49 | 090
69502 |  | A | Mastoidectomy | 12.36 | NA | NA | 9.87 | 11.18 | 1.00 | NA | NA | 23.23 | 24.54 | 090
69505 |  | A | Remove mastoid structures | 12.97 | NA | NA | 14.57 | 16.57 | 1.05 | NA | NA | 28.59 | 30.59 | 090
69511 |  | A | Extensive mastoid surgery | 13.50 | NA | NA | 14.69 | 16.81 | 1.09 | NA | NA | 29.28 | 31.40 | 090
69530 |  | A | Extensive mastoid surgery | 20.15 | NA | NA | 17.72 | 20.70 | 1.54 | NA | NA | 39.41 | 42.39 | 090
69535 |  | A | Remove part of temporal bone | 37.17 | NA | NA | 23.79 | 29.99 | 2.92 | NA | NA | 63.88 | 70.08 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
69540 |  | A | Remove ear lesion | 1.20 | 3.58 | 3.71 | 1.68 | 1.91 | 0.10 | 4.88 | 5.01 | 2.98 | 3.21 | 010
69550 |  | A | Remove ear lesion | 10.97 | NA | NA | 12.90 | 14.40 | 0.89 | NA | NA | 24.76 | 26.26 | 090
69552 |  | A | Remove ear lesion | 19.61 | NA | NA | 16.31 | 19.63 | 1.59 | NA | NA | 37.51 | 40.83 | 090
69554 |  | A | Remove ear lesion | 35.63 | NA | NA | 22.05 | 28.33 | 2.91 | NA | NA | 60.59 | 66.87 | 090
69601 |  | A | Mastoid surgery revision | 13.22 | NA | NA | 10.68 | 12.20 | 1.07 | NA | NA | 24.97 | 26.49 | 090
69602 |  | A | Mastoid surgery revision | 13.56 | NA | NA | 11.39 | 12.80 | 1.10 | NA | NA | 26.05 | 27.46 | 090
69603 |  | A | Mastoid surgery revision | 14.00 | NA | NA | 14.84 | 17.52 | 1.14 | NA | NA | 29.98 | 32.66 | 090
69604 |  | A | Mastoid surgery revision | 14.00 | NA | NA | 11.50 | 13.17 | 1.14 | NA | NA | 26.64 | 28.31 | 090
69605 |  | A | Mastoid surgery revision | 18.46 | NA | NA | 17.26 | 20.07 | 1.50 | NA | NA | 37.22 | 40.03 | 090
69610 |  | A | Repair of eardrum | 4.42 | 4.41 | 5.28 | 2.26 | 3.03 | 0.36 | 9.19 | 10.06 | 7.04 | 7.81 | 010
69620 |  | A | Repair of eardrum | 5.88 | 9.93 | 10.85 | 5.21 | 6.04 | 0.48 | 16.29 | 17.21 | 11.57 | 12.40 | 090
69631 |  | A | Repair eardrum structures | 9.85 | NA | NA | 10.36 | 11.01 | 0.80 | NA | NA | 21.01 | 21.66 | 090
69632 |  | A | Rebuild eardrum structures | 12.73 | NA | NA | 11.92 | 13.11 | 1.03 | NA | NA | 25.68 | 26.87 | 090
69633 |  | A | Rebuild eardrum structures | 12.08 | NA | NA | 11.75 | 12.76 | 0.98 | NA | NA | 24.81 | 25.82 | 090
69635 |  | A | Repair eardrum structures | 13.31 | NA | NA | 14.64 | 16.25 | 1.08 | NA | NA | 29.03 | 30.64 | 090
69636 |  | A | Rebuild eardrum structures | 15.20 | NA | NA | 16.39 | 18.62 | 1.23 | NA | NA | 32.82 | 35.05 | 090
69637 |  | A | Rebuild eardrum structures | 15.09 | NA | NA | 16.37 | 18.55 | 1.22 | NA | NA | 32.68 | 34.86 | 090
69641 |  | A | Revise middle ear & mastoid | 12.69 | NA | NA | 11.15 | 12.40 | 1.03 | NA | NA | 24.87 | 26.12 | 090
69642 |  | A | Revise middle ear & mastoid | 16.81 | NA | NA | 13.84 | 15.71 | 1.36 | NA | NA | 32.01 | 33.88 | 090
69643 |  | A | Revise middle ear & mastoid | 15.36 | NA | NA | 12.63 | 14.30 | 1.24 | NA | NA | 29.23 | 30.90 | 090
69644 |  | A | Revise middle ear & mastoid | 17.00 | NA | NA | 16.86 | 19.56 | 1.37 | NA | NA | 35.23 | 37.93 | 090
69645 |  | A | Revise middle ear & mastoid | 16.48 | NA | NA | 16.78 | 19.26 | 1.33 | NA | NA | 34.59 | 37.07 | 090
69646 |  | A | Revise middle ear & mastoid | 18.14 | NA | NA | 17.19 | 19.91 | 1.46 | NA | NA | 36.79 | 39.51 | 090
69650 |  | A | Release middle ear bone | 9.65 | NA | NA | 8.53 | 9.59 | 0.78 | NA | NA | 18.96 | 20.02 | 090
69660 |  | A | Revise middle ear bone | 11.88 | NA | NA | 9.37 | 10.75 | 0.96 | NA | NA | 22.21 | 23.59 | 090
69661 |  | A | Revise middle ear bone | 15.72 | NA | NA | 11.98 | 14.05 | 1.27 | NA | NA | 28.97 | 31.04 | 090
69662 |  | A | Revise middle ear bone | 15.42 | NA | NA | 11.11 | 13.12 | 1.25 | NA | NA | 27.78 | 29.79 | 090
69666 |  | A | Repair middle ear structures | 9.74 | NA | NA | 8.79 | 9.70 | 0.79 | NA | NA | 19.32 | 20.23 | 090
69667 |  | A | Repair middle ear structures | 9.75 | NA | NA | 8.70 | 9.68 | 0.79 | NA | NA | 19.24 | 20.22 | 090
69670 |  | A | Remove mastoid air cells | 11.55 | NA | NA | 10.01 | 11.31 | 0.93 | NA | NA | 22.49 | 23.79 | 090
69676 |  | A | Remove middle ear nerve | 9.51 | NA | NA | 9.50 | 10.46 | 0.81 | NA | NA | 19.82 | 20.78 | 090
69700 |  | A | Close mastoid fistula | 8.22 | NA | NA | 7.54 | 8.84 | 0.67 | NA | NA | 16.43 | 17.73 | 090
69711 |  | A | Remove/repair hearing aid | 10.42 | NA | NA | 9.29 | 10.44 | 0.83 | NA | NA | 20.54 | 21.69 | 090
69714 |  | A | Implant temple bone w/stimul | 14.23 | NA | NA | 10.38 | 12.12 | 1.13 | NA | NA | 25.74 | 27.48 | 090
69715 |  | A | Temple bne implnt w/stimulat | 18.72 | NA | NA | 11.74 | 14.24 | 1.48 | NA | NA | 31.94 | 34.44 | 090
69717 |  | A | Temple bone implant revision | 15.21 | NA | NA | 11.34 | 13.72 | 0.90 | NA | NA | 27.45 | 29.83 | 090
69718 |  | A | Revise temple bone implant | 18.97 | NA | NA | 19.76 | 16.45 | 3.21 | NA | NA | 41.94 | 38.63 | 090
69720 |  | A | Release facial nerve | 14.48 | NA | NA | 12.56 | 14.06 | 1.16 | NA | NA | 28.20 | 29.70 | 090
69725 |  | A | Release facial nerve | 27.36 | NA | NA | 16.01 | 19.15 | 2.44 | NA | NA | 45.81 | 48.95 | 090
69740 |  | A | Repair facial nerve | 16.12 | NA | NA | 10.97 | 12.83 | 1.27 | NA | NA | 28.36 | 30.22 | 090
69745 |  | A | Repair facial nerve | 16.84 | NA | NA | 11.69 | 14.18 | 1.14 | NA | NA | 29.67 | 32.16 | 090
69801 |  | A | Incise inner ear | 8.55 | NA | NA | 8.63 | 9.28 | 0.69 | NA | NA | 17.87 | 18.52 | 090
69802 |  | A | Incise inner ear | 13.32 | NA | NA | 10.38 | 11.87 | 1.06 | NA | NA | 24.76 | 26.25 | 090
69805 |  | A | Explore inner ear | 14.49 | NA | NA | 9.64 | 11.34 | 1.12 | NA | NA | 25.25 | 26.95 | 090
69806 |  | A | Explore inner ear | 12.45 | NA | NA | 9.22 | 10.61 | 1.00 | NA | NA | 22.67 | 24.06 | 090
69820 |  | A | Establish inner ear window | 10.32 | NA | NA | 9.66 | 10.85 | 0.90 | NA | NA | 20.88 | 22.07 | 090
69840 |  | A | Revise inner ear window | 10.24 | NA | NA | 11.47 | 12.78 | 0.79 | NA | NA | 22.50 | 23.81 | 090
69905 |  | A | Remove inner ear | 11.08 | NA | NA | 9.94 | 11.02 | 0.90 | NA | NA | 21.92 | 23.00 | 090
69910 |  | A | Remove inner ear & mastoid | 13.73 | NA | NA | 9.64 | 11.37 | 1.07 | NA | NA | 24.44 | 26.17 | 090
69915 |  | A | Incise inner ear nerve | 22.56 | NA | NA | 13.10 | 15.66 | 1.69 | NA | NA | 37.35 | 39.91 | 090
69930 |  | A | Implant cochlear device | 17.54 | NA | NA | 11.62 | 14.00 | 1.36 | NA | NA | 30.52 | 32.90 | 090
69950 |  | A | Incise inner ear nerve | 27.38 | NA | NA | 14.99 | 17.96 | 2.28 | NA | NA | 44.65 | 47.62 | 090
69955 |  | A | Release facial nerve | 29.14 | NA | NA | 16.71 | 20.26 | 2.48 | NA | NA | 48.33 | 51.88 | 090
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
69960 |  | A | Release inner ear canal | 29.14 | NA | NA | 15.12 | 18.86 | 2.17 | NA | NA | 46.43 | 50.17 | 090
69970 |  | A | Remove inner ear lesion | 32.13 | NA | NA | 17.46 | 21.87 | 2.41 | NA | NA | 52.00 | 56.41 | 090
69990 |  | R | Microsurgery add-on | 3.46 | NA | NA | 1.24 | 1.66 | 0.89 | NA | NA | 5.59 | 6.01 | ZZZ
70010 |  | A | Contrast x-ray of brain | 1.19 | 2.91 | 4.28 | NA | NA | 0.27 | 4.37 | 5.74 | NA | NA | XXX
70010 | 26 | A | Contrast x-ray of brain | 1.19 | 0.41 | 0.40 | 0.41 | 0.40 | 0.05 | 1.65 | 1.64 | 1.65 | 1.64 | XXX
70010 | TC | A | Contrast x-ray of brain | 0.00 | 2.50 | 3.88 | NA | NA | 0.22 | 2.72 | 4.10 | NA | NA | XXX
70015 |  | A | Contrast x-ray of brain | 1.19 | 2.99 | 2.05 | NA | NA | 0.16 | 4.34 | 3.40 | NA | NA | XXX
70015 | 26 | A | Contrast x-ray of brain | 1.19 | 0.42 | 0.40 | 0.42 | 0.40 | 0.08 | 1.69 | 1.67 | 1.69 | 1.67 | XXX
70015 | TC | A | Contrast x-ray of brain | 0.00 | 2.57 | 1.66 | NA | NA | 0.08 | 2.65 | 1.74 | NA | NA | XXX
70030 |  | A | X-ray eye for foreign body | 0.17 | 0.63 | 0.52 | NA | NA | 0.03 | 0.83 | 0.72 | NA | NA | XXX
70030 | 26 | A | X-ray eye for foreign body | 0.17 | 0.06 | 0.06 | 0.06 | 0.06 | 0.01 | 0.24 | 0.24 | 0.24 | 0.24 | XXX
70030 | TC | A | X-ray eye for foreign body | 0.00 | 0.57 | 0.46 | NA | NA | 0.02 | 0.59 | 0.48 | NA | NA | XXX
70100 |  | A | X-ray exam of jaw | 0.18 | 0.65 | 0.60 | NA | NA | 0.03 | 0.86 | 0.81 | NA | NA | XXX
70100 | 26 | A | X-ray exam of jaw | 0.18 | 0.05 | 0.06 | 0.05 | 0.06 | 0.01 | 0.24 | 0.25 | 0.24 | 0.25 | XXX
70100 | TC | A | X-ray exam of jaw | 0.00 | 0.60 | 0.54 | NA | NA | 0.02 | 0.62 | 0.56 | NA | NA | XXX
70110 |  | A | X-ray exam of jaw | 0.25 | 0.83 | 0.73 | NA | NA | 0.05 | 1.13 | 1.03 | NA | NA | XXX
70110 | 26 | A | X-ray exam of jaw | 0.25 | 0.08 | 0.08 | 0.08 | 0.08 | 0.01 | 0.34 | 0.34 | 0.34 | 0.34 | XXX
70110 | TC | A | X-ray exam of jaw | 0.00 | 0.75 | 0.65 | NA | NA | 0.04 | 0.79 | 0.69 | NA | NA | XXX
70120 |  | A | X-ray exam of mastoids | 0.18 | 0.71 | 0.69 | NA | NA | 0.05 | 0.94 | 0.92 | NA | NA | XXX
70120 | 26 | A | X-ray exam of mastoids | 0.18 | 0.05 | 0.06 | 0.05 | 0.06 | 0.01 | 0.24 | 0.25 | 0.24 | 0.25 | XXX
70120 | TC | A | X-ray exam of mastoids | 0.00 | 0.65 | 0.63 | NA | NA | 0.04 | 0.69 | 0.67 | NA | NA | XXX
70130 |  | A | X-ray exam of mastoids | 0.34 | 1.19 | 0.97 | NA | NA | 0.07 | 1.60 | 1.38 | NA | NA | XXX
70130 | 26 | A | X-ray exam of mastoids | 0.34 | 0.11 | 0.11 | 0.11 | 0.11 | 0.02 | 0.47 | 0.47 | 0.47 | 0.47 | XXX
70130 | TC | A | X-ray exam of mastoids | 0.00 | 1.08 | 0.86 | NA | NA | 0.05 | 1.13 | 0.91 | NA | NA | XXX
70134 |  | A | X-ray exam of middle ear | 0.34 | 0.96 | 0.87 | NA | NA | 0.07 | 1.37 | 1.28 | NA | NA | XXX
70134 | 26 | A | X-ray exam of middle ear | 0.34 | 0.11 | 0.11 | 0.11 | 0.11 | 0.02 | 0.47 | 0.47 | 0.47 | 0.47 | XXX
70134 | TC | A | X-ray exam of middle ear | 0.00 | 0.84 | 0.76 | NA | NA | 0.05 | 0.89 | 0.81 | NA | NA | XXX
70140 |  | A | X-ray exam of facial bones | 0.19 | 0.56 | 0.65 | NA | NA | 0.05 | 0.80 | 0.89 | NA | NA | XXX
70140 | 26 | A | X-ray exam of facial bones | 0.19 | 0.05 | 0.06 | 0.05 | 0.06 | 0.01 | 0.25 | 0.26 | 0.25 | 0.26 | XXX
70140 | TC | A | X-ray exam of facial bones | 0.00 | 0.51 | 0.59 | NA | NA | 0.04 | 0.55 | 0.63 | NA | NA | XXX
70150 |  | A | X-ray exam of facial bones | 0.26 | 0.88 | 0.87 | NA | NA | 0.06 | 1.20 | 1.19 | NA | NA | XXX
70150 | 26 | A | X-ray exam of facial bones | 0.26 | 0.08 | 0.08 | 0.08 | 0.08 | 0.01 | 0.35 | 0.35 | 0.35 | 0.35 | XXX
70150 | TC | A | X-ray exam of facial bones | 0.00 | 0.80 | 0.79 | NA | NA | 0.05 | 0.85 | 0.84 | NA | NA | XXX
70160 |  | A | X-ray exam of nasal bones | 0.17 | 0.73 | 0.62 | NA | NA | 0.03 | 0.93 | 0.82 | NA | NA | XXX
70160 | 26 | A | X-ray exam of nasal bones | 0.17 | 0.05 | 0.06 | 0.05 | 0.06 | 0.01 | 0.23 | 0.24 | 0.23 | 0.24 | XXX
70160 | TC | A | X-ray exam of nasal bones | 0.00 | 0.67 | 0.56 | NA | NA | 0.02 | 0.69 | 0.58 | NA | NA | XXX
70170 |  | A | X-ray exam of tear duct | 0.30 | 0.10 | 0.81 | NA | NA | 0.07 | 0.47 | 1.18 | NA | NA | XXX
70170 | 26 | A | X-ray exam of tear duct | 0.30 | 0.10 | 0.10 | 0.10 | 0.10 | 0.01 | 0.41 | 0.41 | 0.41 | 0.41 | XXX
70170 | TC | A | X-ray exam of tear duct | 0.00 | 0.00 | 0.71 | NA | NA | 0.06 | 0.06 | 0.77 | NA | NA | XXX
70190 |  | A | X-ray exam of eye sockets | 0.21 | 0.75 | 0.71 | NA | NA | 0.05 | 1.01 | 0.97 | NA | NA | XXX
70190 | 26 | A | X-ray exam of eye sockets | 0.21 | 0.07 | 0.07 | 0.07 | 0.07 | 0.01 | 0.29 | 0.29 | 0.29 | 0.29 | XXX
70190 | TC | A | X-ray exam of eye sockets | 0.00 | 0.68 | 0.64 | NA | NA | 0.04 | 0.72 | 0.68 | NA | NA | XXX
70200 |  | A | X-ray exam of eye sockets | 0.28 | 0.91 | 0.88 | NA | NA | 0.06 | 1.25 | 1.22 | NA | NA | XXX
70200 | 26 | A | X-ray exam of eye sockets | 0.28 | 0.09 | 0.09 | 0.09 | 0.09 | 0.01 | 0.38 | 0.38 | 0.38 | 0.38 | XXX
70200 | TC | A | X-ray exam of eye sockets | 0.00 | 0.82 | 0.79 | NA | NA | 0.05 | 0.87 | 0.84 | NA | NA | XXX
70210 |  | A | X-ray exam of sinuses | 0.17 | 0.57 | 0.65 | NA | NA | 0.05 | 0.79 | 0.87 | NA | NA | XXX
70210 | 26 | A | X-ray exam of sinuses | 0.17 | 0.05 | 0.06 | 0.05 | 0.06 | 0.01 | 0.23 | 0.24 | 0.23 | 0.24 | XXX
70210 | TC | A | X-ray exam of sinuses | 0.00 | 0.53 | 0.60 | NA | NA | 0.04 | 0.57 | 0.64 | NA | NA | XXX
70220 |  | A | X-ray exam of sinuses | 0.25 | 0.74 | 0.83 | NA | NA | 0.06 | 1.05 | 1.14 | NA | NA | XXX
70220 | 26 | A | X-ray exam of sinuses | 0.25 | 0.07 | 0.08 | 0.07 | 0.08 | 0.01 | 0.33 | 0.34 | 0.33 | 0.34 | XXX
70220 | TC | A | X-ray exam of sinuses | 0.00 | 0.67 | 0.75 | NA | NA | 0.05 | 0.72 | 0.80 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
70240 |  | A | X-ray exam, pituitary saddle | 0.19 | 0.62 | 0.52 | NA | NA | 0.03 | 0.84 | 0.74 | NA | NA | XXX
70240 | 26 | A | X-ray exam, pituitary saddle | 0.19 | 0.06 | 0.06 | 0.06 | 0.06 | 0.01 | 0.26 | 0.26 | 0.26 | 0.26 | XXX
70240 | TC | A | X-ray exam, pituitary saddle | 0.00 | 0.56 | 0.46 | NA | NA | 0.02 | 0.58 | 0.48 | NA | NA | XXX
70250 |  | A | X-ray exam of skull | 0.24 | 0.72 | 0.71 | NA | NA | 0.05 | 1.01 | 1.00 | NA | NA | XXX
70250 | 26 | A | X-ray exam of skull | 0.24 | 0.07 | 0.08 | 0.07 | 0.08 | 0.01 | 0.32 | 0.33 | 0.32 | 0.33 | XXX
70250 | TC | A | X-ray exam of skull | 0.00 | 0.65 | 0.63 | NA | NA | 0.04 | 0.69 | 0.67 | NA | NA | XXX
70260 |  | A | X-ray exam of skull | 0.34 | 0.91 | 0.98 | NA | NA | 0.08 | 1.33 | 1.40 | NA | NA | XXX
70260 | 26 | A | X-ray exam of skull | 0.34 | 0.10 | 0.11 | 0.10 | 0.11 | 0.02 | 0.46 | 0.47 | 0.46 | 0.47 | XXX
70260 | TC | A | X-ray exam of skull | 0.00 | 0.81 | 0.87 | NA | NA | 0.06 | 0.87 | 0.93 | NA | NA | XXX
70300 |  | A | X-ray exam of teeth | 0.10 | 0.24 | 0.29 | NA | NA | 0.03 | 0.37 | 0.42 | NA | NA | XXX
70300 | 26 | A | X-ray exam of teeth | 0.10 | 0.03 | 0.05 | 0.03 | 0.05 | 0.01 | 0.14 | 0.16 | 0.14 | 0.16 | XXX
70300 | TC | A | X-ray exam of teeth | 0.00 | 0.21 | 0.25 | NA | NA | 0.02 | 0.23 | 0.27 | NA | NA | XXX
70310 |  | A | X-ray exam of teeth | 0.16 | 0.83 | 0.58 | NA | NA | 0.03 | 1.02 | 0.77 | NA | NA | XXX
70310 | 26 | A | X-ray exam of teeth | 0.16 | 0.05 | 0.07 | 0.05 | 0.07 | 0.01 | 0.22 | 0.24 | 0.22 | 0.24 | XXX
70310 | TC | A | X-ray exam of teeth | 0.00 | 0.78 | 0.51 | NA | NA | 0.02 | 0.80 | 0.53 | NA | NA | XXX
70320 |  | A | Full mouth x-ray of teeth | 0.22 | 0.98 | 0.89 | NA | NA | 0.06 | 1.26 | 1.17 | NA | NA | XXX
70320 | 26 | A | Full mouth x-ray of teeth | 0.22 | 0.06 | 0.08 | 0.06 | 0.08 | 0.01 | 0.29 | 0.31 | 0.29 | 0.31 | XXX
70320 | TC | A | Full mouth x-ray of teeth | 0.00 | 0.92 | 0.82 | NA | NA | 0.05 | 0.97 | 0.87 | NA | NA | XXX
70328 |  | A | X-ray exam of jaw joint | 0.18 | 0.64 | 0.57 | NA | NA | 0.03 | 0.85 | 0.78 | NA | NA | XXX
70328 | 26 | A | X-ray exam of jaw joint | 0.18 | 0.06 | 0.06 | 0.06 | 0.06 | 0.01 | 0.25 | 0.25 | 0.25 | 0.25 | XXX
70328 | TC | A | X-ray exam of jaw joint | 0.00 | 0.58 | 0.51 | NA | NA | 0.02 | 0.60 | 0.53 | NA | NA | XXX
70330 |  | A | X-ray exam of jaw joints | 0.24 | 1.04 | 0.95 | NA | NA | 0.06 | 1.34 | 1.25 | NA | NA | XXX
70330 | 26 | A | X-ray exam of jaw joints | 0.24 | 0.08 | 0.08 | 0.08 | 0.08 | 0.01 | 0.33 | 0.33 | 0.33 | 0.33 | XXX
70330 | TC | A | X-ray exam of jaw joints | 0.00 | 0.96 | 0.87 | NA | NA | 0.05 | 1.01 | 0.92 | NA | NA | XXX
70332 |  | A | X-ray exam of jaw joint | 0.54 | 1.49 | 2.11 | NA | NA | 0.14 | 2.17 | 2.79 | NA | NA | XXX
70332 | 26 | A | X-ray exam of jaw joint | 0.54 | 0.17 | 0.19 | 0.17 | 0.19 | 0.02 | 0.73 | 0.75 | 0.73 | 0.75 | XXX
70332 | TC | A | X-ray exam of jaw joint | 0.00 | 1.32 | 1.91 | NA | NA | 0.12 | 1.44 | 2.03 | NA | NA | XXX
70336 |  | A | Magnetic image, jaw joint | 1.48 | 12.94 | 12.03 | NA | NA | 0.66 | 15.08 | 14.17 | NA | NA | XXX
70336 | 26 | A | Magnetic image, jaw joint | 1.48 | 0.53 | 0.50 | 0.53 | 0.50 | 0.07 | 2.08 | 2.05 | 2.08 | 2.05 | XXX
70336 | TC | A | Magnetic image, jaw joint | 0.00 | 12.41 | 11.53 | NA | NA | 0.59 | 13.00 | 12.12 | NA | NA | XXX
70350 |  | A | X-ray head for orthodontia | 0.17 | 0.33 | 0.42 | NA | NA | 0.03 | 0.53 | 0.62 | NA | NA | XXX
70350 | 26 | A | X-ray head for orthodontia | 0.17 | 0.05 | 0.07 | 0.05 | 0.07 | 0.01 | 0.23 | 0.25 | 0.23 | 0.25 | XXX
70350 | TC | A | X-ray head for orthodontia | 0.00 | 0.28 | 0.36 | NA | NA | 0.02 | 0.30 | 0.38 | NA | NA | XXX
70355 |  | A | Panoramic x-ray of jaws | 0.20 | 0.31 | 0.56 | NA | NA | 0.05 | 0.56 | 0.81 | NA | NA | XXX
70355 | 26 | A | Panoramic x-ray of jaws | 0.20 | 0.07 | 0.07 | 0.07 | 0.07 | 0.01 | 0.28 | 0.28 | 0.28 | 0.28 | XXX
70355 | TC | A | Panoramic x-ray of jaws | 0.00 | 0.24 | 0.49 | NA | NA | 0.04 | 0.28 | 0.53 | NA | NA | XXX
70360 |  | A | X-ray exam of neck | 0.17 | 0.59 | 0.51 | NA | NA | 0.03 | 0.79 | 0.71 | NA | NA | XXX
70360 | 26 | A | X-ray exam of neck | 0.17 | 0.06 | 0.06 | 0.06 | 0.06 | 0.01 | 0.24 | 0.24 | 0.24 | 0.24 | XXX
70360 | TC | A | X-ray exam of neck | 0.00 | 0.54 | 0.45 | NA | NA | 0.02 | 0.56 | 0.47 | NA | NA | XXX
70370 |  | A | Throat x-ray & fluoroscopy | 0.32 | 1.70 | 1.48 | NA | NA | 0.08 | 2.10 | 1.88 | NA | NA | XXX
70370 | 26 | A | Throat x-ray & fluoroscopy | 0.32 | 0.10 | 0.10 | 0.10 | 0.10 | 0.01 | 0.43 | 0.43 | 0.43 | 0.43 | XXX
70370 | TC | A | Throat x-ray & fluoroscopy | 0.00 | 1.60 | 1.38 | NA | NA | 0.07 | 1.67 | 1.45 | NA | NA | XXX
70371 |  | A | Speech evaluation, complex | 0.84 | 1.54 | 2.18 | NA | NA | 0.16 | 2.54 | 3.18 | NA | NA | XXX
70371 | 26 | A | Speech evaluation, complex | 0.84 | 0.27 | 0.28 | 0.27 | 0.28 | 0.04 | 1.15 | 1.16 | 1.15 | 1.16 | XXX
70371 | TC | A | Speech evaluation, complex | 0.00 | 1.27 | 1.90 | NA | NA | 0.12 | 1.39 | 2.02 | NA | NA | XXX
70373 |  | A | Contrast x-ray of larynx | 0.44 | 1.70 | 1.87 | NA | NA | 0.13 | 2.27 | 2.44 | NA | NA | XXX
70373 | 26 | A | Contrast x-ray of larynx | 0.44 | 0.13 | 0.14 | 0.13 | 0.14 | 0.02 | 0.59 | 0.60 | 0.59 | 0.60 | XXX
70373 | TC | A | Contrast x-ray of larynx | 0.00 | 1.57 | 1.74 | NA | NA | 0.11 | 1.68 | 1.85 | NA | NA | XXX
70380 |  | A | X-ray exam of salivary gland | 0.17 | 0.82 | 0.75 | NA | NA | 0.05 | 1.04 | 0.97 | NA | NA | XXX
70380 | 26 | A | X-ray exam of salivary gland | 0.17 | 0.05 | 0.06 | 0.05 | 0.06 | 0.01 | 0.23 | 0.24 | 0.23 | 0.24 | XXX
70380 | TC | A | X-ray exam of salivary gland | 0.00 | 0.77 | 0.70 | NA | NA | 0.04 | 0.81 | 0.74 | NA | NA | XXX
70390 |  | A | X-ray exam of salivary duct | 0.38 | 2.44 | 2.04 | NA | NA | 0.13 | 2.95 | 2.55 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
70390 | 26 | A | X-ray exam of salivary duct | 0.38 | 0.13 | 0.12 | 0.13 | 0.12 | 0.02 | 0.53 | 0.52 | 0.53 | 0.52 | XXX
70390 | TC | A | X-ray exam of salivary duct | 0.00 | 2.31 | 1.92 | NA | NA | 0.11 | 2.42 | 2.03 | NA | NA | XXX
70450 |  | A | Ct head/brain w/o dye | 0.85 | 5.13 | 5.04 | NA | NA | 0.29 | 6.27 | 6.18 | NA | NA | XXX
70450 | 26 | A | Ct head/brain w/o dye | 0.85 | 0.29 | 0.28 | 0.29 | 0.28 | 0.04 | 1.18 | 1.17 | 1.18 | 1.17 | XXX
70450 | TC | A | Ct head/brain w/o dye | 0.00 | 4.84 | 4.76 | NA | NA | 0.25 | 5.09 | 5.01 | NA | NA | XXX
70460 |  | A | Ct head/brain w/dye | 1.13 | 6.81 | 6.24 | NA | NA | 0.35 | 8.29 | 7.72 | NA | NA | XXX
70460 | 26 | A | Ct head/brain w/dye | 1.13 | 0.39 | 0.38 | 0.39 | 0.38 | 0.05 | 1.57 | 1.56 | 1.57 | 1.56 | XXX
70460 | TC | A | Ct head/brain w/dye | 0.00 | 6.41 | 5.86 | NA | NA | 0.30 | 6.71 | 6.16 | NA | NA | XXX
70470 |  | A | Ct head/brain w/o & w/dye | 1.27 | 8.29 | 7.71 | NA | NA | 0.43 | 9.99 | 9.41 | NA | NA | XXX
70470 | 26 | A | Ct head/brain w/o & w/dye | 1.27 | 0.44 | 0.43 | 0.44 | 0.43 | 0.06 | 1.77 | 1.76 | 1.77 | 1.76 | XXX
70470 | TC | A | Ct head/brain w/o & w/dye | 0.00 | 7.85 | 7.28 | NA | NA | 0.37 | 8.22 | 7.65 | NA | NA | XXX
70480 |  | A | Ct orbit/ear/fossa w/o dye | 1.28 | 8.85 | 6.08 | NA | NA | 0.31 | 10.44 | 7.67 | NA | NA | XXX
70480 | 26 | A | Ct orbit/ear/fossa w/o dye | 1.28 | 0.44 | 0.43 | 0.44 | 0.43 | 0.06 | 1.78 | 1.77 | 1.78 | 1.77 | XXX
70480 | TC | A | Ct orbit/ear/fossa w/o dye | 0.00 | 8.41 | 5.65 | NA | NA | 0.25 | 8.66 | 5.90 | NA | NA | XXX
70481 |  | A | Ct orbit/ear/fossa w/dye | 1.38 | 10.46 | 7.21 | NA | NA | 0.36 | 12.20 | 8.95 | NA | NA | XXX
70481 | 26 | A | Ct orbit/ear/fossa w/dye | 1.38 | 0.48 | 0.46 | 0.48 | 0.46 | 0.06 | 1.92 | 1.90 | 1.92 | 1.90 | XXX
70481 | TC | A | Ct orbit/ear/fossa w/dye | 0.00 | 9.98 | 6.76 | NA | NA | 0.30 | 10.28 | 7.06 | NA | NA | XXX
70482 |  | A | Ct orbit/ear/fossa w/o&w/dye | 1.45 | 11.99 | 8.68 | NA | NA | 0.43 | 13.87 | 10.56 | NA | NA | XXX
70482 | 26 | A | Ct orbit/ear/fossa w/o&w/dye | 1.45 | 0.51 | 0.49 | 0.51 | 0.49 | 0.06 | 2.02 | 2.00 | 2.02 | 2.00 | XXX
70482 | TC | A | Ct orbit/ear/fossa w/o&w/dye | 0.00 | 11.48 | 8.19 | NA | NA | 0.37 | 11.85 | 8.56 | NA | NA | XXX
70486 |  | A | Ct maxillofacial w/o dye | 1.14 | 7.07 | 5.59 | NA | NA | 0.30 | 8.51 | 7.03 | NA | NA | XXX
70486 | 26 | A | Ct maxillofacial w/o dye | 1.14 | 0.39 | 0.38 | 0.39 | 0.38 | 0.05 | 1.58 | 1.57 | 1.58 | 1.57 | XXX
70486 | TC | A | Ct maxillofacial w/o dye | 0.00 | 6.67 | 5.22 | NA | NA | 0.25 | 6.92 | 5.47 | NA | NA | XXX
70487 |  | A | Ct maxillofacial w/dye | 1.30 | 8.75 | 6.77 | NA | NA | 0.36 | 10.41 | 8.43 | NA | NA | XXX
70487 | 26 | A | Ct maxillofacial w/dye | 1.30 | 0.46 | 0.44 | 0.46 | 0.44 | 0.06 | 1.82 | 1.80 | 1.82 | 1.80 | XXX
70487 | TC | A | Ct maxillofacial w/dye | 0.00 | 8.29 | 6.33 | NA | NA | 0.30 | 8.59 | 6.63 | NA | NA | XXX
70488 |  | A | Ct maxillofacial w/o & w/dye | 1.42 | 10.86 | 8.38 | NA | NA | 0.43 | 12.71 | 10.23 | NA | NA | XXX
70488 | 26 | A | Ct maxillofacial w/o & w/dye | 1.42 | 0.49 | 0.47 | 0.49 | 0.47 | 0.06 | 1.97 | 1.95 | 1.97 | 1.95 | XXX
70488 | TC | A | Ct maxillofacial w/o & w/dye | 0.00 | 10.37 | 7.91 | NA | NA | 0.37 | 10.74 | 8.28 | NA | NA | XXX
70490 |  | A | Ct soft tissue neck w/o dye | 1.28 | 6.78 | 5.56 | NA | NA | 0.31 | 8.37 | 7.15 | NA | NA | XXX
70490 | 26 | A | Ct soft tissue neck w/o dye | 1.28 | 0.45 | 0.43 | 0.45 | 0.43 | 0.06 | 1.79 | 1.77 | 1.79 | 1.77 | XXX
70490 | TC | A | Ct soft tissue neck w/o dye | 0.00 | 6.33 | 5.13 | NA | NA | 0.25 | 6.58 | 5.38 | NA | NA | XXX
70491 |  | A | Ct soft tissue neck w/dye | 1.38 | 8.39 | 6.70 | NA | NA | 0.36 | 10.13 | 8.44 | NA | NA | XXX
70491 | 26 | A | Ct soft tissue neck w/dye | 1.38 | 0.48 | 0.46 | 0.48 | 0.46 | 0.06 | 1.92 | 1.90 | 1.92 | 1.90 | XXX
70491 | TC | A | Ct soft tissue neck w/dye | 0.00 | 7.91 | 6.24 | NA | NA | 0.30 | 8.21 | 6.54 | NA | NA | XXX
70492 |  | A | Ct sft tsue nck w/o & w/dye | 1.45 | 10.53 | 8.30 | NA | NA | 0.43 | 12.41 | 10.18 | NA | NA | XXX
70492 | 26 | A | Ct sft tsue nck w/o & w/dye | 1.45 | 0.51 | 0.48 | 0.51 | 0.48 | 0.06 | 2.02 | 1.99 | 2.02 | 1.99 | XXX
70492 | TC | A | Ct sft tsue nck w/o & w/dye | 0.00 | 10.02 | 7.82 | NA | NA | 0.37 | 10.39 | 8.19 | NA | NA | XXX
70496 |  | A | Ct angiography, head | 1.75 | 17.86 | 12.87 | NA | NA | 0.66 | 20.27 | 15.28 | NA | NA | XXX
70496 | 26 | A | Ct angiography, head | 1.75 | 0.62 | 0.58 | 0.62 | 0.58 | 0.08 | 2.45 | 2.41 | 2.45 | 2.41 | XXX
70496 | TC | A | Ct angiography, head | 0.00 | 17.24 | 12.28 | NA | NA | 0.58 | 17.82 | 12.86 | NA | NA | XXX
70498 |  | A | Ct angiography, neck | 1.75 | 17.92 | 12.88 | NA | NA | 0.66 | 20.33 | 15.29 | NA | NA | XXX
70498 | 26 | A | Ct angiography, neck | 1.75 | 0.63 | 0.59 | 0.63 | 0.59 | 0.08 | 2.46 | 2.42 | 2.46 | 2.42 | XXX
70498 | TC | A | Ct angiography, neck | 0.00 | 17.29 | 12.30 | NA | NA | 0.58 | 17.87 | 12.88 | NA | NA | XXX
70540 |  | A | Mri orbit/face/neck w/o dye | 1.35 | 14.98 | 12.50 | NA | NA | 0.45 | 16.78 | 14.30 | NA | NA | XXX
70540 | 26 | A | Mri orbit/face/neck w/o dye | 1.35 | 0.48 | 0.45 | 0.48 | 0.45 | 0.06 | 1.89 | 1.86 | 1.89 | 1.86 | XXX
70540 | TC | A | Mri orbit/face/neck w/o dye | 0.00 | 14.50 | 12.05 | NA | NA | 0.39 | 14.89 | 12.44 | NA | NA | XXX
70542 |  | A | Mri orbit/face/neck w/dye | 1.62 | 16.03 | 14.52 | NA | NA | 0.54 | 18.19 | 16.68 | NA | NA | XXX
70542 | 26 | A | Mri orbit/face/neck w/dye | 1.62 | 0.57 | 0.54 | 0.57 | 0.54 | 0.07 | 2.26 | 2.23 | 2.26 | 2.23 | XXX
70542 | TC | A | Mri orbit/face/neck w/dye | 0.00 | 15.46 | 13.98 | NA | NA | 0.47 | 15.93 | 14.45 | NA | NA | XXX
70543 |  | A | Mri orbt/fac/nck w/o & w/dye | 2.15 | 19.81 | 24.20 | NA | NA | 0.94 | 22.90 | 27.29 | NA | NA | XXX
70543 | 26 | A | Mri orbt/fac/nck w/o & w/dye | 2.15 | 0.76 | 0.72 | 0.76 | 0.72 | 0.10 | 3.01 | 2.97 | 3.01 | 2.97 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
70543 | TC | A | Mri orbt/fac/nck w/o & w/dye | 0.00 | 19.05 | 23.48 | NA | NA | 0.84 | 19.89 | 24.32 | NA | NA | XXX
70544 |  | A | Mr angiography head w/o dye | 1.20 | 16.61 | 12.88 | NA | NA | 0.64 | 18.45 | 14.72 | NA | NA | XXX
70544 | 26 | A | Mr angiography head w/o dye | 1.20 | 0.42 | 0.41 | 0.42 | 0.41 | 0.05 | 1.67 | 1.66 | 1.67 | 1.66 | XXX
70544 | TC | A | Mr angiography head w/o dye | 0.00 | 16.20 | 12.47 | NA | NA | 0.59 | 16.79 | 13.06 | NA | NA | XXX
70545 |  | A | Mr angiography head w/dye | 1.20 | 16.54 | 12.85 | NA | NA | 0.64 | 18.38 | 14.69 | NA | NA | XXX
70545 | 26 | A | Mr angiography head w/dye | 1.20 | 0.42 | 0.40 | 0.42 | 0.40 | 0.05 | 1.67 | 1.65 | 1.67 | 1.65 | XXX
70545 | TC | A | Mr angiography head w/dye | 0.00 | 16.13 | 12.46 | NA | NA | 0.59 | 16.72 | 13.05 | NA | NA | XXX
70546 |  | A | Mr angiograph head w/o&w/dye | 1.80 | 25.29 | 23.62 | NA | NA | 0.67 | 27.76 | 26.09 | NA | NA | XXX
70546 | 26 | A | Mr angiograph head w/o&w/dye | 1.80 | 0.63 | 0.60 | 0.63 | 0.60 | 0.08 | 2.51 | 2.48 | 2.51 | 2.48 | XXX
70546 | TC | A | Mr angiograph head w/o&w/dye | 0.00 | 24.66 | 23.02 | NA | NA | 0.59 | 25.25 | 23.61 | NA | NA | XXX
70547 |  | A | Mr angiography neck w/o dye | 1.20 | 16.58 | 12.86 | NA | NA | 0.64 | 18.42 | 14.70 | NA | NA | XXX
70547 | 26 | A | Mr angiography neck w/o dye | 1.20 | 0.42 | 0.40 | 0.42 | 0.40 | 0.05 | 1.67 | 1.65 | 1.67 | 1.65 | XXX
70547 | TC | A | Mr angiography neck w/o dye | 0.00 | 16.16 | 12.46 | NA | NA | 0.59 | 16.75 | 13.05 | NA | NA | XXX
70548 |  | A | Mr angiography neck w/dye | 1.20 | 17.44 | 13.08 | NA | NA | 0.64 | 19.28 | 14.92 | NA | NA | XXX
70548 | 26 | A | Mr angiography neck w/dye | 1.20 | 0.42 | 0.40 | 0.42 | 0.40 | 0.05 | 1.67 | 1.65 | 1.67 | 1.65 | XXX
70548 | TC | A | Mr angiography neck w/dye | 0.00 | 17.02 | 12.68 | NA | NA | 0.59 | 17.61 | 13.27 | NA | NA | XXX
70549 |  | A | Mr angiograph neck w/o&w/dye | 1.80 | 25.26 | 23.61 | NA | NA | 0.67 | 27.73 | 26.08 | NA | NA | XXX
70549 | 26 | A | Mr angiograph neck w/o&w/dye | 1.80 | 0.63 | 0.60 | 0.63 | 0.60 | 0.08 | 2.51 | 2.48 | 2.51 | 2.48 | XXX
70549 | TC | A | Mr angiograph neck w/o&w/dye | 0.00 | 24.63 | 23.01 | NA | NA | 0.59 | 25.22 | 23.60 | NA | NA | XXX
70551 |  | A | Mri brain w/o dye | 1.48 | 15.20 | 12.59 | NA | NA | 0.66 | 17.34 | 14.73 | NA | NA | XXX
70551 | 26 | A | Mri brain w/o dye | 1.48 | 0.52 | 0.50 | 0.52 | 0.50 | 0.07 | 2.07 | 2.05 | 2.07 | 2.05 | XXX
70551 | TC | A | Mri brain w/o dye | 0.00 | 14.68 | 12.09 | NA | NA | 0.59 | 15.27 | 12.68 | NA | NA | XXX
70552 |  | A | Mri brain w/dye | 1.78 | 16.31 | 14.63 | NA | NA | 0.78 | 18.87 | 17.19 | NA | NA | XXX
70552 | 26 | A | Mri brain w/dye | 1.78 | 0.62 | 0.60 | 0.62 | 0.60 | 0.08 | 2.48 | 2.46 | 2.48 | 2.46 | XXX
70552 | TC | A | Mri brain w/dye | 0.00 | 15.70 | 14.04 | NA | NA | 0.70 | 16.40 | 14.74 | NA | NA | XXX
70553 |  | A | Mri brain w/o & w/dye | 2.36 | 19.01 | 24.05 | NA | NA | 1.41 | 22.78 | 27.82 | NA | NA | XXX
70553 | 26 | A | Mri brain w/o & w/dye | 2.36 | 0.82 | 0.79 | 0.82 | 0.79 | 0.10 | 3.28 | 3.25 | 3.28 | 3.25 | XXX
70553 | TC | A | Mri brain w/o & w/dye | 0.00 | 18.19 | 23.26 | NA | NA | 1.31 | 19.50 | 24.57 | NA | NA | XXX
70557 | 26 | A | Mri brain w/o dye | 2.90 | 1.00 | 1.10 | 1.00 | 1.10 | 0.08 | 3.98 | 4.08 | 3.98 | 4.08 | XXX
70558 | 26 | A | Mri brain w/dye | 3.20 | 1.13 | 1.21 | 1.13 | 1.21 | 0.10 | 4.43 | 4.51 | 4.43 | 4.51 | XXX
70559 | 26 | A | Mri brain w/o & w/dye | 3.20 | 1.11 | 1.21 | 1.11 | 1.21 | 0.12 | 4.43 | 4.53 | 4.43 | 4.53 | XXX
71010 |  | A | Chest x-ray | 0.18 | 0.45 | 0.51 | NA | NA | 0.03 | 0.66 | 0.72 | NA | NA | XXX
71010 | 26 | A | Chest x-ray | 0.18 | 0.06 | 0.06 | 0.06 | 0.06 | 0.01 | 0.25 | 0.25 | 0.25 | 0.25 | XXX
71010 | TC | A | Chest x-ray | 0.00 | 0.39 | 0.45 | NA | NA | 0.02 | 0.41 | 0.47 | NA | NA | XXX
71015 |  | A | Chest x-ray | 0.21 | 0.59 | 0.59 | NA | NA | 0.03 | 0.83 | 0.83 | NA | NA | XXX
71015 | 26 | A | Chest x-ray | 0.21 | 0.07 | 0.07 | 0.07 | 0.07 | 0.01 | 0.29 | 0.29 | 0.29 | 0.29 | XXX
71015 | TC | A | Chest x-ray | 0.00 | 0.52 | 0.52 | NA | NA | 0.02 | 0.54 | 0.54 | NA | NA | XXX
71020 |  | A | Chest x-ray | 0.22 | 0.59 | 0.67 | NA | NA | 0.05 | 0.86 | 0.94 | NA | NA | XXX
71020 | 26 | A | Chest x-ray | 0.22 | 0.07 | 0.07 | 0.07 | 0.07 | 0.01 | 0.30 | 0.30 | 0.30 | 0.30 | XXX
71020 | TC | A | Chest x-ray | 0.00 | 0.52 | 0.60 | NA | NA | 0.04 | 0.56 | 0.64 | NA | NA | XXX
71021 |  | A | Chest x-ray | 0.27 | 0.73 | 0.80 | NA | NA | 0.06 | 1.06 | 1.13 | NA | NA | XXX
71021 | 26 | A | Chest x-ray | 0.27 | 0.09 | 0.09 | 0.09 | 0.09 | 0.01 | 0.37 | 0.37 | 0.37 | 0.37 | XXX
71021 | TC | A | Chest x-ray | 0.00 | 0.65 | 0.71 | NA | NA | 0.05 | 0.70 | 0.76 | NA | NA | XXX
71022 |  | A | Chest x-ray | 0.31 | 0.92 | 0.85 | NA | NA | 0.06 | 1.29 | 1.22 | NA | NA | XXX
71022 | 26 | A | Chest x-ray | 0.31 | 0.10 | 0.10 | 0.10 | 0.10 | 0.01 | 0.42 | 0.42 | 0.42 | 0.42 | XXX
71022 | TC | A | Chest x-ray | 0.00 | 0.82 | 0.75 | NA | NA | 0.05 | 0.87 | 0.80 | NA | NA | XXX
71023 |  | A | Chest x-ray and fluoroscopy | 0.38 | 1.60 | 1.08 | NA | NA | 0.06 | 2.04 | 1.52 | NA | NA | XXX
71023 | 26 | A | Chest x-ray and fluoroscopy | 0.38 | 0.15 | 0.14 | 0.15 | 0.14 | 0.01 | 0.54 | 0.53 | 0.54 | 0.53 | XXX
71023 | TC | A | Chest x-ray and fluoroscopy | 0.00 | 1.45 | 0.95 | NA | NA | 0.05 | 1.50 | 1.00 | NA | NA | XXX
71030 |  | A | Chest x-ray | 0.31 | 0.95 | 0.90 | NA | NA | 0.06 | 1.32 | 1.27 | NA | NA | XXX
71030 | 26 | A | Chest x-ray | 0.31 | 0.10 | 0.10 | 0.10 | 0.10 | 0.01 | 0.42 | 0.42 | 0.42 | 0.42 | XXX
71030 | TC | A | Chest x-ray | 0.00 | 0.85 | 0.80 | NA | NA | 0.05 | 0.90 | 0.85 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
71034 |  | A | Chest x-ray and fluoroscopy | 0.46 | 2.13 | 1.73 | NA | NA | 0.10 | 2.69 | 2.29 | NA | NA | XXX
71034 | 26 | A | Chest x-ray and fluoroscopy | 0.46 | 0.19 | 0.17 | 0.19 | 0.17 | 0.02 | 0.67 | 0.65 | 0.67 | 0.65 | XXX
71034 | TC | A | Chest x-ray and fluoroscopy | 0.00 | 1.94 | 1.57 | NA | NA | 0.08 | 2.02 | 1.65 | NA | NA | XXX
71035 |  | A | Chest x-ray | 0.18 | 0.81 | 0.64 | NA | NA | 0.03 | 1.02 | 0.85 | NA | NA | XXX
71035 | 26 | A | Chest x-ray | 0.18 | 0.06 | 0.06 | 0.06 | 0.06 | 0.01 | 0.25 | 0.25 | 0.25 | 0.25 | XXX
71035 | TC | A | Chest x-ray | 0.00 | 0.75 | 0.58 | NA | NA | 0.02 | 0.77 | 0.60 | NA | NA | XXX
71040 |  | A | Contrast x-ray of bronchi | 0.58 | 2.13 | 1.77 | NA | NA | 0.11 | 2.82 | 2.46 | NA | NA | XXX
71040 | 26 | A | Contrast x-ray of bronchi | 0.58 | 0.17 | 0.19 | 0.17 | 0.19 | 0.03 | 0.78 | 0.80 | 0.78 | 0.80 | XXX
71040 | TC | A | Contrast x-ray of bronchi | 0.00 | 1.96 | 1.59 | NA | NA | 0.08 | 2.04 | 1.67 | NA | NA | XXX
71060 |  | A | Contrast x-ray of bronchi | 0.74 | 3.19 | 2.64 | NA | NA | 0.16 | 4.09 | 3.54 | NA | NA | XXX
71060 | 26 | A | Contrast x-ray of bronchi | 0.74 | 0.25 | 0.24 | 0.25 | 0.24 | 0.03 | 1.02 | 1.01 | 1.02 | 1.01 | XXX
71060 | TC | A | Contrast x-ray of bronchi | 0.00 | 2.95 | 2.40 | NA | NA | 0.13 | 3.08 | 2.53 | NA | NA | XXX
71090 |  | A | X-ray & pacemaker insertion | 0.54 | 0.29 | 1.49 | NA | NA | 0.13 | 0.96 | 2.16 | NA | NA | XXX
71090 | 26 | A | X-ray & pacemaker insertion | 0.54 | 0.29 | 0.23 | 0.29 | 0.23 | 0.02 | 0.85 | 0.79 | 0.85 | 0.79 | XXX
71090 | TC | A | X-ray & pacemaker insertion | 0.00 | 0.00 | 1.26 | NA | NA | 0.11 | 0.11 | 1.37 | NA | NA | XXX
71100 |  | A | X-ray exam of ribs | 0.22 | 0.64 | 0.64 | NA | NA | 0.05 | 0.91 | 0.91 | NA | NA | XXX
71100 | 26 | A | X-ray exam of ribs | 0.22 | 0.07 | 0.07 | 0.07 | 0.07 | 0.01 | 0.30 | 0.30 | 0.30 | 0.30 | XXX
71100 | TC | A | X-ray exam of ribs | 0.00 | 0.57 | 0.57 | NA | NA | 0.04 | 0.61 | 0.61 | NA | NA | XXX
71101 |  | A | X-ray exam of ribs/chest | 0.27 | 0.79 | 0.77 | NA | NA | 0.05 | 1.11 | 1.09 | NA | NA | XXX
71101 | 26 | A | X-ray exam of ribs/chest | 0.27 | 0.09 | 0.09 | 0.09 | 0.09 | 0.01 | 0.37 | 0.37 | 0.37 | 0.37 | XXX
71101 | TC | A | X-ray exam of ribs/chest | 0.00 | 0.70 | 0.68 | NA | NA | 0.04 | 0.74 | 0.72 | NA | NA | XXX
71110 |  | A | X-ray exam of ribs | 0.27 | 0.80 | 0.85 | NA | NA | 0.06 | 1.13 | 1.18 | NA | NA | XXX
71110 | 26 | A | X-ray exam of ribs | 0.27 | 0.08 | 0.09 | 0.08 | 0.09 | 0.01 | 0.36 | 0.37 | 0.36 | 0.37 | XXX
71110 | TC | A | X-ray exam of ribs | 0.00 | 0.72 | 0.77 | NA | NA | 0.05 | 0.77 | 0.82 | NA | NA | XXX
71111 |  | A | X-ray exam of ribs/chest | 0.32 | 1.10 | 1.02 | NA | NA | 0.07 | 1.49 | 1.41 | NA | NA | XXX
71111 | 26 | A | X-ray exam of ribs/chest | 0.32 | 0.10 | 0.10 | 0.10 | 0.10 | 0.01 | 0.43 | 0.43 | 0.43 | 0.43 | XXX
71111 | TC | A | X-ray exam of ribs/chest | 0.00 | 1.00 | 0.92 | NA | NA | 0.06 | 1.06 | 0.98 | NA | NA | XXX
71120 |  | A | X-ray exam of breastbone | 0.20 | 0.65 | 0.70 | NA | NA | 0.05 | 0.90 | 0.95 | NA | NA | XXX
71120 | 26 | A | X-ray exam of breastbone | 0.20 | 0.07 | 0.07 | 0.07 | 0.07 | 0.01 | 0.28 | 0.28 | 0.28 | 0.28 | XXX
71120 | TC | A | X-ray exam of breastbone | 0.00 | 0.58 | 0.63 | NA | NA | 0.04 | 0.62 | 0.67 | NA | NA | XXX
71130 |  | A | X-ray exam of breastbone | 0.22 | 0.78 | 0.78 | NA | NA | 0.05 | 1.05 | 1.05 | NA | NA | XXX
71130 | 26 | A | X-ray exam of breastbone | 0.22 | 0.08 | 0.07 | 0.08 | 0.07 | 0.01 | 0.31 | 0.30 | 0.31 | 0.30 | XXX
71130 | TC | A | X-ray exam of breastbone | 0.00 | 0.70 | 0.71 | NA | NA | 0.04 | 0.74 | 0.75 | NA | NA | XXX
71250 |  | A | Ct thorax w/o dye | 1.16 | 6.74 | 6.42 | NA | NA | 0.36 | 8.26 | 7.94 | NA | NA | XXX
71250 | 26 | A | Ct thorax w/o dye | 1.16 | 0.40 | 0.39 | 0.40 | 0.39 | 0.05 | 1.61 | 1.60 | 1.61 | 1.60 | XXX
71250 | TC | A | Ct thorax w/o dye | 0.00 | 6.34 | 6.03 | NA | NA | 0.31 | 6.65 | 6.34 | NA | NA | XXX
71260 |  | A | Ct thorax w/dye | 1.24 | 8.35 | 7.71 | NA | NA | 0.42 | 10.01 | 9.37 | NA | NA | XXX
71260 | 26 | A | Ct thorax w/dye | 1.24 | 0.43 | 0.42 | 0.43 | 0.42 | 0.05 | 1.72 | 1.71 | 1.72 | 1.71 | XXX
71260 | TC | A | Ct thorax w/dye | 0.00 | 7.92 | 7.30 | NA | NA | 0.37 | 8.29 | 7.67 | NA | NA | XXX
71270 |  | A | Ct thorax w/o & w/dye | 1.38 | 10.54 | 9.63 | NA | NA | 0.52 | 12.44 | 11.53 | NA | NA | XXX
71270 | 26 | A | Ct thorax w/o & w/dye | 1.38 | 0.48 | 0.46 | 0.48 | 0.46 | 0.06 | 1.92 | 1.90 | 1.92 | 1.90 | XXX
71270 | TC | A | Ct thorax w/o & w/dye | 0.00 | 10.06 | 9.18 | NA | NA | 0.46 | 10.52 | 9.64 | NA | NA | XXX
71275 |  | A | Ct angiography, chest | 1.92 | 12.29 | 12.86 | NA | NA | 0.48 | 14.69 | 15.26 | NA | NA | XXX
71275 | 26 | A | Ct angiography, chest | 1.92 | 0.68 | 0.64 | 0.68 | 0.64 | 0.09 | 2.69 | 2.65 | 2.69 | 2.65 | XXX
71275 | TC | A | Ct angiography, chest | 0.00 | 11.61 | 12.22 | NA | NA | 0.39 | 12.00 | 12.61 | NA | NA | XXX
71550 |  | A | Mri chest w/o dye | 1.46 | 17.27 | 13.10 | NA | NA | 0.51 | 19.24 | 15.07 | NA | NA | XXX
71550 | 26 | A | Mri chest w/o dye | 1.46 | 0.52 | 0.49 | 0.52 | 0.49 | 0.06 | 2.04 | 2.01 | 2.04 | 2.01 | XXX
71550 | TC | A | Mri chest w/o dye | 0.00 | 16.76 | 12.61 | NA | NA | 0.45 | 17.21 | 13.06 | NA | NA | XXX
71551 |  | A | Mri chest w/dye | 1.73 | 18.81 | 15.24 | NA | NA | 0.60 | 21.14 | 17.57 | NA | NA | XXX
71551 | 26 | A | Mri chest w/dye | 1.73 | 0.61 | 0.58 | 0.61 | 0.58 | 0.08 | 2.42 | 2.39 | 2.42 | 2.39 | XXX
71551 | TC | A | Mri chest w/dye | 0.00 | 18.20 | 14.66 | NA | NA | 0.52 | 18.72 | 15.18 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
71552 |  | A | Mri chest w/o & w/dye | 2.26 | 23.67 | 25.19 | NA | NA | 0.78 | 26.71 | 28.23 | NA | NA | XXX
71552 | 26 | A | Mri chest w/o & w/dye | 2.26 | 0.81 | 0.76 | 0.81 | 0.76 | 0.10 | 3.17 | 3.12 | 3.17 | 3.12 | XXX
71552 | TC | A | Mri chest w/o & w/dye | 0.00 | 22.86 | 24.43 | NA | NA | 0.68 | 23.54 | 25.11 | NA | NA | XXX
71555 |  | R | Mri angio chest w or w/o dye | 1.81 | 16.14 | 12.91 | NA | NA | 0.67 | 18.62 | 15.39 | NA | NA | XXX
71555 | 26 | R | Mri angio chest w or w/o dye | 1.81 | 0.67 | 0.62 | 0.67 | 0.62 | 0.08 | 2.56 | 2.51 | 2.56 | 2.51 | XXX
71555 | TC | R | Mri angio chest w or w/o dye | 0.00 | 15.47 | 12.29 | NA | NA | 0.59 | 16.06 | 12.88 | NA | NA | XXX
72010 |  | A | X-ray exam of spine | 0.45 | 1.45 | 1.24 | NA | NA | 0.08 | 1.98 | 1.77 | NA | NA | XXX
72010 | 26 | A | X-ray exam of spine | 0.45 | 0.13 | 0.15 | 0.13 | 0.15 | 0.02 | 0.60 | 0.62 | 0.60 | 0.62 | XXX
72010 | TC | A | X-ray exam of spine | 0.00 | 1.32 | 1.10 | NA | NA | 0.06 | 1.38 | 1.16 | NA | NA | XXX
72020 |  | A | X-ray exam of spine | 0.15 | 0.48 | 0.47 | NA | NA | 0.03 | 0.66 | 0.65 | NA | NA | XXX
72020 | 26 | A | X-ray exam of spine | 0.15 | 0.05 | 0.05 | 0.05 | 0.05 | 0.01 | 0.21 | 0.21 | 0.21 | 0.21 | XXX
72020 | TC | A | X-ray exam of spine | 0.00 | 0.43 | 0.42 | NA | NA | 0.02 | 0.45 | 0.44 | NA | NA | XXX
72040 |  | A | X-ray exam of neck spine | 0.22 | 0.79 | 0.70 | NA | NA | 0.05 | 1.06 | 0.97 | NA | NA | XXX
72040 | 26 | A | X-ray exam of neck spine | 0.22 | 0.07 | 0.07 | 0.07 | 0.07 | 0.01 | 0.30 | 0.30 | 0.30 | 0.30 | XXX
72040 | TC | A | X-ray exam of neck spine | 0.00 | 0.72 | 0.63 | NA | NA | 0.04 | 0.76 | 0.67 | NA | NA | XXX
72050 |  | A | X-ray exam of neck spine | 0.31 | 1.11 | 1.02 | NA | NA | 0.07 | 1.49 | 1.40 | NA | NA | XXX
72050 | 26 | A | X-ray exam of neck spine | 0.31 | 0.10 | 0.10 | 0.10 | 0.10 | 0.01 | 0.42 | 0.42 | 0.42 | 0.42 | XXX
72050 | TC | A | X-ray exam of neck spine | 0.00 | 1.00 | 0.92 | NA | NA | 0.06 | 1.06 | 0.98 | NA | NA | XXX
72052 |  | A | X-ray exam of neck spine | 0.36 | 1.43 | 1.30 | NA | NA | 0.08 | 1.87 | 1.74 | NA | NA | XXX
72052 | 26 | A | X-ray exam of neck spine | 0.36 | 0.12 | 0.12 | 0.12 | 0.12 | 0.02 | 0.50 | 0.50 | 0.50 | 0.50 | XXX
72052 | TC | A | X-ray exam of neck spine | 0.00 | 1.31 | 1.18 | NA | NA | 0.06 | 1.37 | 1.24 | NA | NA | XXX
72069 |  | A | X-ray exam of trunk spine | 0.22 | 0.78 | 0.62 | NA | NA | 0.03 | 1.03 | 0.87 | NA | NA | XXX
72069 | 26 | A | X-ray exam of trunk spine | 0.22 | 0.08 | 0.08 | 0.08 | 0.08 | 0.01 | 0.31 | 0.31 | 0.31 | 0.31 | XXX
72069 | TC | A | X-ray exam of trunk spine | 0.00 | 0.70 | 0.54 | NA | NA | 0.02 | 0.72 | 0.56 | NA | NA | XXX
72070 |  | A | X-ray exam of thoracic spine | 0.22 | 0.66 | 0.71 | NA | NA | 0.05 | 0.93 | 0.98 | NA | NA | XXX
72070 | 26 | A | X-ray exam of thoracic spine | 0.22 | 0.07 | 0.07 | 0.07 | 0.07 | 0.01 | 0.30 | 0.30 | 0.30 | 0.30 | XXX
72070 | TC | A | X-ray exam of thoracic spine | 0.00 | 0.59 | 0.64 | NA | NA | 0.04 | 0.63 | 0.68 | NA | NA | XXX
72072 |  | A | X-ray exam of thoracic spine | 0.22 | 0.80 | 0.80 | NA | NA | 0.06 | 1.08 | 1.08 | NA | NA | XXX
72072 | 26 | A | X-ray exam of thoracic spine | 0.22 | 0.07 | 0.07 | 0.07 | 0.07 | 0.01 | 0.30 | 0.30 | 0.30 | 0.30 | XXX
72072 | TC | A | X-ray exam of thoracic spine | 0.00 | 0.73 | 0.73 | NA | NA | 0.05 | 0.78 | 0.78 | NA | NA | XXX
72074 |  | A | X-ray exam of thoracic spine | 0.22 | 0.98 | 0.98 | NA | NA | 0.07 | 1.27 | 1.27 | NA | NA | XXX
72074 | 26 | A | X-ray exam of thoracic spine | 0.22 | 0.07 | 0.07 | 0.07 | 0.07 | 0.01 | 0.30 | 0.30 | 0.30 | 0.30 | XXX
72074 | TC | A | X-ray exam of thoracic spine | 0.00 | 0.91 | 0.91 | NA | NA | 0.06 | 0.97 | 0.97 | NA | NA | XXX
72080 |  | A | X-ray exam of trunk spine | 0.22 | 0.71 | 0.73 | NA | NA | 0.05 | 0.98 | 1.00 | NA | NA | XXX
72080 | 26 | A | X-ray exam of trunk spine | 0.22 | 0.08 | 0.07 | 0.08 | 0.07 | 0.01 | 0.31 | 0.30 | 0.31 | 0.30 | XXX
72080 | TC | A | X-ray exam of trunk spine | 0.00 | 0.63 | 0.66 | NA | NA | 0.04 | 0.67 | 0.70 | NA | NA | XXX
72090 |  | A | X-ray exam of trunk spine | 0.28 | 1.04 | 0.83 | NA | NA | 0.05 | 1.37 | 1.16 | NA | NA | XXX
72090 | 26 | A | X-ray exam of trunk spine | 0.28 | 0.10 | 0.09 | 0.10 | 0.09 | 0.01 | 0.39 | 0.38 | 0.39 | 0.38 | XXX
72090 | TC | A | X-ray exam of trunk spine | 0.00 | 0.93 | 0.74 | NA | NA | 0.04 | 0.97 | 0.78 | NA | NA | XXX
72100 |  | A | X-ray exam of lower spine | 0.22 | 0.83 | 0.76 | NA | NA | 0.05 | 1.10 | 1.03 | NA | NA | XXX
72100 | 26 | A | X-ray exam of lower spine | 0.22 | 0.07 | 0.07 | 0.07 | 0.07 | 0.01 | 0.30 | 0.30 | 0.30 | 0.30 | XXX
72100 | TC | A | X-ray exam of lower spine | 0.00 | 0.76 | 0.69 | NA | NA | 0.04 | 0.80 | 0.73 | NA | NA | XXX
72110 |  | A | X-ray exam of lower spine | 0.31 | 1.18 | 1.05 | NA | NA | 0.07 | 1.56 | 1.43 | NA | NA | XXX
72110 | 26 | A | X-ray exam of lower spine | 0.31 | 0.11 | 0.10 | 0.11 | 0.10 | 0.01 | 0.43 | 0.42 | 0.43 | 0.42 | XXX
72110 | TC | A | X-ray exam of lower spine | 0.00 | 1.07 | 0.95 | NA | NA | 0.06 | 1.13 | 1.01 | NA | NA | XXX
72114 |  | A | X-ray exam of lower spine | 0.36 | 1.61 | 1.39 | NA | NA | 0.08 | 2.05 | 1.83 | NA | NA | XXX
72114 | 26 | A | X-ray exam of lower spine | 0.36 | 0.13 | 0.12 | 0.13 | 0.12 | 0.02 | 0.51 | 0.50 | 0.51 | 0.50 | XXX
72114 | TC | A | X-ray exam of lower spine | 0.00 | 1.48 | 1.26 | NA | NA | 0.06 | 1.54 | 1.32 | NA | NA | XXX
72120 |  | A | X-ray exam of lower spine | 0.22 | 1.09 | 0.99 | NA | NA | 0.07 | 1.38 | 1.28 | NA | NA | XXX
72120 | 26 | A | X-ray exam of lower spine | 0.22 | 0.08 | 0.07 | 0.08 | 0.07 | 0.01 | 0.31 | 0.30 | 0.31 | 0.30 | XXX
72120 | TC | A | X-ray exam of lower spine | 0.00 | 1.01 | 0.92 | NA | NA | 0.06 | 1.07 | 0.98 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
72125 |  | A | Ct neck spine w/o dye | 1.16 | 6.75 | 6.42 | NA | NA | 0.36 | 8.27 | 7.94 | NA | NA | XXX
72125 | 26 | A | Ct neck spine w/o dye | 1.16 | 0.40 | 0.39 | 0.40 | 0.39 | 0.05 | 1.61 | 1.60 | 1.61 | 1.60 | XXX
72125 | TC | A | Ct neck spine w/o dye | 0.00 | 6.34 | 6.03 | NA | NA | 0.31 | 6.65 | 6.34 | NA | NA | XXX
72126 |  | A | Ct neck spine w/dye | 1.22 | 8.37 | 7.71 | NA | NA | 0.42 | 10.01 | 9.35 | NA | NA | XXX
72126 | 26 | A | Ct neck spine w/dye | 1.22 | 0.43 | 0.41 | 0.43 | 0.41 | 0.05 | 1.70 | 1.68 | 1.70 | 1.68 | XXX
72126 | TC | A | Ct neck spine w/dye | 0.00 | 7.95 | 7.31 | NA | NA | 0.37 | 8.32 | 7.68 | NA | NA | XXX
72127 |  | A | Ct neck spine w/o & w/dye | 1.27 | 10.41 | 9.58 | NA | NA | 0.52 | 12.20 | 11.37 | NA | NA | XXX
72127 | 26 | A | Ct neck spine w/o & w/dye | 1.27 | 0.46 | 0.43 | 0.46 | 0.43 | 0.06 | 1.79 | 1.76 | 1.79 | 1.76 | XXX
72127 | TC | A | Ct neck spine w/o & w/dye | 0.00 | 9.95 | 9.15 | NA | NA | 0.46 | 10.41 | 9.61 | NA | NA | XXX
72128 |  | A | Ct chest spine w/o dye | 1.16 | 6.74 | 6.42 | NA | NA | 0.36 | 8.26 | 7.94 | NA | NA | XXX
72128 | 26 | A | Ct chest spine w/o dye | 1.16 | 0.40 | 0.39 | 0.40 | 0.39 | 0.05 | 1.61 | 1.60 | 1.61 | 1.60 | XXX
72128 | TC | A | Ct chest spine w/o dye | 0.00 | 6.34 | 6.03 | NA | NA | 0.31 | 6.65 | 6.34 | NA | NA | XXX
72129 |  | A | Ct chest spine w/dye | 1.22 | 8.38 | 7.71 | NA | NA | 0.42 | 10.02 | 9.35 | NA | NA | XXX
72129 | 26 | A | Ct chest spine w/dye | 1.22 | 0.43 | 0.41 | 0.43 | 0.41 | 0.05 | 1.70 | 1.68 | 1.70 | 1.68 | XXX
72129 | TC | A | Ct chest spine w/dye | 0.00 | 7.95 | 7.31 | NA | NA | 0.37 | 8.32 | 7.68 | NA | NA | XXX
72130 |  | A | Ct chest spine w/o & w/dye | 1.27 | 10.37 | 9.57 | NA | NA | 0.52 | 12.16 | 11.36 | NA | NA | XXX
72130 | 26 | A | Ct chest spine w/o & w/dye | 1.27 | 0.46 | 0.43 | 0.46 | 0.43 | 0.06 | 1.79 | 1.76 | 1.79 | 1.76 | XXX
72130 | TC | A | Ct chest spine w/o & w/dye | 0.00 | 9.91 | 9.14 | NA | NA | 0.46 | 10.37 | 9.60 | NA | NA | XXX
72131 |  | A | Ct lumbar spine w/o dye | 1.16 | 6.73 | 6.42 | NA | NA | 0.36 | 8.25 | 7.94 | NA | NA | XXX
72131 | 26 | A | Ct lumbar spine w/o dye | 1.16 | 0.40 | 0.39 | 0.40 | 0.39 | 0.05 | 1.61 | 1.60 | 1.61 | 1.60 | XXX
72131 | TC | A | Ct lumbar spine w/o dye | 0.00 | 6.32 | 6.03 | NA | NA | 0.31 | 6.63 | 6.34 | NA | NA | XXX
72132 |  | A | Ct lumbar spine w/dye | 1.22 | 8.37 | 7.71 | NA | NA | 0.42 | 10.01 | 9.35 | NA | NA | XXX
72132 | 26 | A | Ct lumbar spine w/dye | 1.22 | 0.43 | 0.41 | 0.43 | 0.41 | 0.05 | 1.70 | 1.68 | 1.70 | 1.68 | XXX
72132 | TC | A | Ct lumbar spine w/dye | 0.00 | 7.94 | 7.30 | NA | NA | 0.37 | 8.31 | 7.67 | NA | NA | XXX
72133 |  | A | Ct lumbar spine w/o & w/dye | 1.27 | 10.53 | 9.61 | NA | NA | 0.52 | 12.32 | 11.40 | NA | NA | XXX
72133 | 26 | A | Ct lumbar spine w/o & w/dye | 1.27 | 0.44 | 0.43 | 0.44 | 0.43 | 0.06 | 1.77 | 1.76 | 1.77 | 1.76 | XXX
72133 | TC | A | Ct lumbar spine w/o & w/dye | 0.00 | 10.09 | 9.18 | NA | NA | 0.46 | 10.55 | 9.64 | NA | NA | XXX
72141 |  | A | Mri neck spine w/o dye | 1.60 | 13.15 | 12.11 | NA | NA | 0.66 | 15.41 | 14.37 | NA | NA | XXX
72141 | 26 | A | Mri neck spine w/o dye | 1.60 | 0.57 | 0.54 | 0.57 | 0.54 | 0.07 | 2.24 | 2.21 | 2.24 | 2.21 | XXX
72141 | TC | A | Mri neck spine w/o dye | 0.00 | 12.58 | 11.57 | NA | NA | 0.59 | 13.17 | 12.16 | NA | NA | XXX
72142 |  | A | Mri neck spine w/dye | 1.92 | 16.37 | 14.68 | NA | NA | 0.79 | 19.08 | 17.39 | NA | NA | XXX
72142 | 26 | A | Mri neck spine w/dye | 1.92 | 0.67 | 0.65 | 0.67 | 0.65 | 0.09 | 2.68 | 2.66 | 2.68 | 2.66 | XXX
72142 | TC | A | Mri neck spine w/dye | 0.00 | 15.70 | 14.04 | NA | NA | 0.70 | 16.40 | 14.74 | NA | NA | XXX
72146 |  | A | Mri chest spine w/o dye | 1.60 | 13.16 | 13.05 | NA | NA | 0.71 | 15.47 | 15.36 | NA | NA | XXX
72146 | 26 | A | Mri chest spine w/o dye | 1.60 | 0.56 | 0.54 | 0.56 | 0.54 | 0.07 | 2.23 | 2.21 | 2.23 | 2.21 | XXX
72146 | TC | A | Mri chest spine w/o dye | 0.00 | 12.59 | 12.51 | NA | NA | 0.64 | 13.23 | 13.15 | NA | NA | XXX
72147 |  | A | Mri chest spine w/dye | 1.92 | 14.19 | 14.13 | NA | NA | 0.79 | 16.90 | 16.84 | NA | NA | XXX
72147 | 26 | A | Mri chest spine w/dye | 1.92 | 0.67 | 0.64 | 0.67 | 0.64 | 0.09 | 2.68 | 2.65 | 2.68 | 2.65 | XXX
72147 | TC | A | Mri chest spine w/dye | 0.00 | 13.52 | 13.49 | NA | NA | 0.70 | 14.22 | 14.19 | NA | NA | XXX
72148 |  | A | Mri lumbar spine w/o dye | 1.48 | 13.11 | 13.01 | NA | NA | 0.71 | 15.30 | 15.20 | NA | NA | XXX
72148 | 26 | A | Mri lumbar spine w/o dye | 1.48 | 0.52 | 0.50 | 0.52 | 0.50 | 0.07 | 2.07 | 2.05 | 2.07 | 2.05 | XXX
72148 | TC | A | Mri lumbar spine w/o dye | 0.00 | 12.59 | 12.51 | NA | NA | 0.64 | 13.23 | 13.15 | NA | NA | XXX
72149 |  | A | Mri lumbar spine w/dye | 1.78 | 16.32 | 14.64 | NA | NA | 0.78 | 18.88 | 17.20 | NA | NA | XXX
72149 | 26 | A | Mri lumbar spine w/dye | 1.78 | 0.63 | 0.61 | 0.63 | 0.61 | 0.08 | 2.49 | 2.47 | 2.49 | 2.47 | XXX
72149 | TC | A | Mri lumbar spine w/dye | 0.00 | 15.70 | 14.04 | NA | NA | 0.70 | 16.40 | 14.74 | NA | NA | XXX
72156 |  | A | Mri neck spine w/o & w/dye | 2.57 | 18.72 | 24.03 | NA | NA | 1.42 | 22.71 | 28.02 | NA | NA | XXX
72156 | 26 | A | Mri neck spine w/o & w/dye | 2.57 | 0.90 | 0.86 | 0.90 | 0.86 | 0.11 | 3.58 | 3.54 | 3.58 | 3.54 | XXX
72156 | TC | A | Mri neck spine w/o & w/dye | 0.00 | 17.82 | 23.17 | NA | NA | 1.31 | 19.13 | 24.48 | NA | NA | XXX
72157 |  | A | Mri chest spine w/o & w/dye | 2.57 | 17.03 | 23.60 | NA | NA | 1.42 | 21.02 | 27.59 | NA | NA | XXX
72157 | 26 | A | Mri chest spine w/o & w/dye | 2.57 | 0.90 | 0.86 | 0.90 | 0.86 | 0.11 | 3.58 | 3.54 | 3.58 | 3.54 | XXX
72157 | TC | A | Mri chest spine w/o & w/dye | 0.00 | 16.13 | 22.75 | NA | NA | 1.31 | 17.44 | 24.06 | NA | NA | XXX
72158 |  | A | Mri lumbar spine w/o & w/dye | 2.36 | 18.65 | 23.96 | NA | NA | 1.41 | 22.42 | 27.73 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
72158 | 26 | A | Mri lumbar spine w/o & w/dye | 2.36 | 0.83 | 0.79 | 0.83 | 0.79 | 0.10 | 3.29 | 3.25 | 3.29 | 3.25 | XXX
72158 | TC | A | Mri lumbar spine w/o & w/dye | 0.00 | 17.81 | 23.17 | NA | NA | 1.31 | 19.12 | 24.48 | NA | NA | XXX
72159 |  | N | Mr angio spine w/o&w/dye | 1.80 | 14.64 | 13.38 | 14.64 | 13.38 | 0.74 | 17.18 | 15.92 | 17.18 | 15.92 | XXX
72159 | 26 | N | Mr angio spine w/o&w/dye | 1.80 | 0.40 | 0.62 | 0.40 | 0.62 | 0.10 | 2.30 | 2.52 | 2.30 | 2.52 | XXX
72159 | TC | N | Mr angio spine w/o&w/dye | 0.00 | 14.24 | 12.76 | 14.24 | 12.76 | 0.64 | 14.88 | 13.40 | 14.88 | 13.40 | XXX
72170 |  | A | X-ray exam of pelvis | 0.17 | 0.51 | 0.56 | NA | NA | 0.03 | 0.71 | 0.76 | NA | NA | XXX
72170 | 26 | A | X-ray exam of pelvis | 0.17 | 0.06 | 0.06 | 0.06 | 0.06 | 0.01 | 0.24 | 0.24 | 0.24 | 0.24 | XXX
72170 | TC | A | X-ray exam of pelvis | 0.00 | 0.45 | 0.50 | NA | NA | 0.02 | 0.47 | 0.52 | NA | NA | XXX
72190 |  | A | X-ray exam of pelvis | 0.21 | 0.87 | 0.77 | NA | NA | 0.05 | 1.13 | 1.03 | NA | NA | XXX
72190 | 26 | A | X-ray exam of pelvis | 0.21 | 0.07 | 0.07 | 0.07 | 0.07 | 0.01 | 0.29 | 0.29 | 0.29 | 0.29 | XXX
72190 | TC | A | X-ray exam of pelvis | 0.00 | 0.80 | 0.70 | NA | NA | 0.04 | 0.84 | 0.74 | NA | NA | XXX
72191 |  | A | Ct angiograph pelv w/o&w/dye | 1.81 | 11.92 | 12.48 | NA | NA | 0.47 | 14.20 | 14.76 | NA | NA | XXX
72191 | 26 | A | Ct angiograph pelv w/o&w/dye | 1.81 | 0.65 | 0.61 | 0.65 | 0.61 | 0.08 | 2.54 | 2.50 | 2.54 | 2.50 | XXX
72191 | TC | A | Ct angiograph pelv w/o&w/dye | 0.00 | 11.26 | 11.86 | NA | NA | 0.39 | 11.65 | 12.25 | NA | NA | XXX
72192 |  | A | Ct pelvis w/o dye | 1.09 | 6.29 | 6.29 | NA | NA | 0.36 | 7.74 | 7.74 | NA | NA | XXX
72192 | 26 | A | Ct pelvis w/o dye | 1.09 | 0.38 | 0.37 | 0.38 | 0.37 | 0.05 | 1.52 | 1.51 | 1.52 | 1.51 | XXX
72192 | TC | A | Ct pelvis w/o dye | 0.00 | 5.91 | 5.93 | NA | NA | 0.31 | 6.22 | 6.24 | NA | NA | XXX
72193 |  | A | Ct pelvis w/dye | 1.16 | 7.88 | 7.40 | NA | NA | 0.41 | 9.45 | 8.97 | NA | NA | XXX
72193 | 26 | A | Ct pelvis w/dye | 1.16 | 0.40 | 0.39 | 0.40 | 0.39 | 0.05 | 1.61 | 1.60 | 1.61 | 1.60 | XXX
72193 | TC | A | Ct pelvis w/dye | 0.00 | 7.48 | 7.02 | NA | NA | 0.36 | 7.84 | 7.38 | NA | NA | XXX
72194 |  | A | Ct pelvis w/o & w/dye | 1.22 | 10.57 | 9.33 | NA | NA | 0.48 | 12.27 | 11.03 | NA | NA | XXX
72194 | 26 | A | Ct pelvis w/o & w/dye | 1.22 | 0.43 | 0.41 | 0.43 | 0.41 | 0.05 | 1.70 | 1.68 | 1.70 | 1.68 | XXX
72194 | TC | A | Ct pelvis w/o & w/dye | 0.00 | 10.14 | 8.92 | NA | NA | 0.43 | 10.57 | 9.35 | NA | NA | XXX
72195 |  | A | Mri pelvis w/o dye | 1.46 | 15.17 | 12.58 | NA | NA | 0.51 | 17.14 | 14.55 | NA | NA | XXX
72195 | 26 | A | Mri pelvis w/o dye | 1.46 | 0.52 | 0.49 | 0.52 | 0.49 | 0.06 | 2.04 | 2.01 | 2.04 | 2.01 | XXX
72195 | TC | A | Mri pelvis w/o dye | 0.00 | 14.65 | 12.09 | NA | NA | 0.45 | 15.10 | 12.54 | NA | NA | XXX
72196 |  | A | Mri pelvis w/dye | 1.73 | 16.25 | 14.60 | NA | NA | 0.60 | 18.58 | 16.93 | NA | NA | XXX
72196 | 26 | A | Mri pelvis w/dye | 1.73 | 0.61 | 0.58 | 0.61 | 0.58 | 0.08 | 2.42 | 2.39 | 2.42 | 2.39 | XXX
72196 | TC | A | Mri pelvis w/dye | 0.00 | 15.64 | 14.02 | NA | NA | 0.52 | 16.16 | 14.54 | NA | NA | XXX
72197 |  | A | Mri pelvis w/o & w/dye | 2.26 | 19.94 | 24.25 | NA | NA | 1.02 | 23.22 | 27.53 | NA | NA | XXX
72197 | 26 | A | Mri pelvis w/o & w/dye | 2.26 | 0.80 | 0.76 | 0.80 | 0.76 | 0.10 | 3.16 | 3.12 | 3.16 | 3.12 | XXX
72197 | TC | A | Mri pelvis w/o & w/dye | 0.00 | 19.14 | 23.50 | NA | NA | 0.92 | 20.06 | 24.42 | NA | NA | XXX
72198 |  | A | Mr angio pelvis w/o & w/dye | 1.80 | 15.89 | 12.84 | NA | NA | 0.67 | 18.36 | 15.31 | NA | NA | XXX
72198 | 26 | A | Mr angio pelvis w/o & w/dye | 1.80 | 0.65 | 0.61 | 0.65 | 0.61 | 0.08 | 2.53 | 2.49 | 2.53 | 2.49 | XXX
72198 | TC | A | Mr angio pelvis w/o & w/dye | 0.00 | 15.25 | 12.24 | NA | NA | 0.59 | 15.84 | 12.83 | NA | NA | XXX
72200 |  | A | X-ray exam sacroiliac joints | 0.17 | 0.62 | 0.59 | NA | NA | 0.03 | 0.82 | 0.79 | NA | NA | XXX
72200 | 26 | A | X-ray exam sacroiliac joints | 0.17 | 0.06 | 0.06 | 0.06 | 0.06 | 0.01 | 0.24 | 0.24 | 0.24 | 0.24 | XXX
72200 | TC | A | X-ray exam sacroiliac joints | 0.00 | 0.56 | 0.53 | NA | NA | 0.02 | 0.58 | 0.55 | NA | NA | XXX
72202 |  | A | X-ray exam sacroiliac joints | 0.19 | 0.76 | 0.70 | NA | NA | 0.05 | 1.00 | 0.94 | NA | NA | XXX
72202 | 26 | A | X-ray exam sacroiliac joints | 0.19 | 0.06 | 0.06 | 0.06 | 0.06 | 0.01 | 0.26 | 0.26 | 0.26 | 0.26 | XXX
72202 | TC | A | X-ray exam sacroiliac joints | 0.00 | 0.70 | 0.64 | NA | NA | 0.04 | 0.74 | 0.68 | NA | NA | XXX
72220 |  | A | X-ray exam of tailbone | 0.17 | 0.60 | 0.62 | NA | NA | 0.05 | 0.82 | 0.84 | NA | NA | XXX
72220 | 26 | A | X-ray exam of tailbone | 0.17 | 0.05 | 0.06 | 0.05 | 0.06 | 0.01 | 0.23 | 0.24 | 0.23 | 0.24 | XXX
72220 | TC | A | X-ray exam of tailbone | 0.00 | 0.54 | 0.56 | NA | NA | 0.04 | 0.58 | 0.60 | NA | NA | XXX
72240 |  | A | Contrast x-ray of neck spine | 0.91 | 2.64 | 4.45 | NA | NA | 0.29 | 3.84 | 5.65 | NA | NA | XXX
72240 | 26 | A | Contrast x-ray of neck spine | 0.91 | 0.31 | 0.30 | 0.31 | 0.30 | 0.04 | 1.26 | 1.25 | 1.26 | 1.25 | XXX
72240 | TC | A | Contrast x-ray of neck spine | 0.00 | 2.33 | 4.15 | NA | NA | 0.25 | 2.58 | 4.40 | NA | NA | XXX
72255 |  | A | Contrast x-ray, thorax spine | 0.91 | 2.35 | 4.05 | NA | NA | 0.26 | 3.52 | 5.22 | NA | NA | XXX
72255 | 26 | A | Contrast x-ray, thorax spine | 0.91 | 0.29 | 0.28 | 0.29 | 0.28 | 0.04 | 1.24 | 1.23 | 1.24 | 1.23 | XXX
72255 | TC | A | Contrast x-ray, thorax spine | 0.00 | 2.06 | 3.77 | NA | NA | 0.22 | 2.28 | 3.99 | NA | NA | XXX
72265 |  | A | Contrast x-ray, lower spine | 0.83 | 2.61 | 3.90 | NA | NA | 0.26 | 3.70 | 4.99 | NA | NA | XXX
72265 | 26 | A | Contrast x-ray, lower spine | 0.83 | 0.28 | 0.26 | 0.28 | 0.26 | 0.04 | 1.15 | 1.13 | 1.15 | 1.13 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
72265 | TC | A | Contrast x-ray, lower spine | 0.00 | 2.33 | 3.64 | NA | NA | 0.22 | 2.55 | 3.86 | NA | NA | XXX
72270 |  | A | Contrast x-ray, spine | 1.33 | 4.13 | 5.94 | NA | NA | 0.39 | 5.85 | 7.66 | NA | NA | XXX
72270 | 26 | A | Contrast x-ray, spine | 1.33 | 0.47 | 0.43 | 0.47 | 0.43 | 0.06 | 1.86 | 1.82 | 1.86 | 1.82 | XXX
72270 | TC | A | Contrast x-ray, spine | 0.00 | 3.66 | 5.51 | NA | NA | 0.33 | 3.99 | 5.84 | NA | NA | XXX
72275 |  | A | Epidurography | 0.76 | 1.72 | 2.16 | NA | NA | 0.26 | 2.74 | 3.18 | NA | NA | XXX
72275 | 26 | A | Epidurography | 0.76 | 0.19 | 0.20 | 0.19 | 0.20 | 0.04 | 0.99 | 1.00 | 0.99 | 1.00 | XXX
72275 | TC | A | Epidurography | 0.00 | 1.53 | 1.97 | NA | NA | 0.22 | 1.75 | 2.19 | NA | NA | XXX
72285 |  | A | X-ray c/t spine disk | 1.16 | 1.45 | 6.93 | NA | NA | 0.50 | 3.11 | 8.59 | NA | NA | XXX
72285 | 26 | A | X-ray c/t spine disk | 1.16 | 0.30 | 0.35 | 0.30 | 0.35 | 0.07 | 1.53 | 1.58 | 1.53 | 1.58 | XXX
72285 | TC | A | X-ray c/t spine disk | 0.00 | 1.15 | 6.59 | NA | NA | 0.43 | 1.58 | 7.02 | NA | NA | XXX
72295 |  | A | X-ray of lower spine disk | 0.83 | 1.43 | 6.47 | NA | NA | 0.46 | 2.72 | 7.76 | NA | NA | XXX
72295 | 26 | A | X-ray of lower spine disk | 0.83 | 0.23 | 0.26 | 0.23 | 0.26 | 0.06 | 1.12 | 1.15 | 1.12 | 1.15 | XXX
72295 | TC | A | X-ray of lower spine disk | 0.00 | 1.20 | 6.21 | NA | NA | 0.40 | 1.60 | 6.61 | NA | NA | XXX
73000 |  | A | X-ray exam of collar bone | 0.16 | 0.57 | 0.57 | NA | NA | 0.03 | 0.76 | 0.76 | NA | NA | XXX
73000 | 26 | A | X-ray exam of collar bone | 0.16 | 0.05 | 0.05 | 0.05 | 0.05 | 0.01 | 0.22 | 0.22 | 0.22 | 0.22 | XXX
73000 | TC | A | X-ray exam of collar bone | 0.00 | 0.51 | 0.52 | NA | NA | 0.02 | 0.53 | 0.54 | NA | NA | XXX
73010 |  | A | X-ray exam of shoulder blade | 0.17 | 0.59 | 0.58 | NA | NA | 0.03 | 0.79 | 0.78 | NA | NA | XXX
73010 | 26 | A | X-ray exam of shoulder blade | 0.17 | 0.06 | 0.06 | 0.06 | 0.06 | 0.01 | 0.24 | 0.24 | 0.24 | 0.24 | XXX
73010 | TC | A | X-ray exam of shoulder blade | 0.00 | 0.53 | 0.52 | NA | NA | 0.02 | 0.55 | 0.54 | NA | NA | XXX
73020 |  | A | X-ray exam of shoulder | 0.15 | 0.46 | 0.51 | NA | NA | 0.03 | 0.64 | 0.69 | NA | NA | XXX
73020 | 26 | A | X-ray exam of shoulder | 0.15 | 0.05 | 0.05 | 0.05 | 0.05 | 0.01 | 0.21 | 0.21 | 0.21 | 0.21 | XXX
73020 | TC | A | X-ray exam of shoulder | 0.00 | 0.40 | 0.45 | NA | NA | 0.02 | 0.42 | 0.47 | NA | NA | XXX
73030 |  | A | X-ray exam of shoulder | 0.18 | 0.58 | 0.62 | NA | NA | 0.05 | 0.81 | 0.85 | NA | NA | XXX
73030 | 26 | A | X-ray exam of shoulder | 0.18 | 0.06 | 0.06 | 0.06 | 0.06 | 0.01 | 0.25 | 0.25 | 0.25 | 0.25 | XXX
73030 | TC | A | X-ray exam of shoulder | 0.00 | 0.52 | 0.56 | NA | NA | 0.04 | 0.56 | 0.60 | NA | NA | XXX
73040 |  | A | Contrast x-ray of shoulder | 0.54 | 2.31 | 2.30 | NA | NA | 0.14 | 2.99 | 2.98 | NA | NA | XXX
73040 | 26 | A | Contrast x-ray of shoulder | 0.54 | 0.19 | 0.18 | 0.19 | 0.18 | 0.02 | 0.75 | 0.74 | 0.75 | 0.74 | XXX
73040 | TC | A | Contrast x-ray of shoulder | 0.00 | 2.13 | 2.12 | NA | NA | 0.12 | 2.25 | 2.24 | NA | NA | XXX
73050 |  | A | X-ray exam of shoulders | 0.20 | 0.74 | 0.74 | NA | NA | 0.05 | 0.99 | 0.99 | NA | NA | XXX
73050 | 26 | A | X-ray exam of shoulders | 0.20 | 0.07 | 0.07 | 0.07 | 0.07 | 0.01 | 0.28 | 0.28 | 0.28 | 0.28 | XXX
73050 | TC | A | X-ray exam of shoulders | 0.00 | 0.67 | 0.67 | NA | NA | 0.04 | 0.71 | 0.71 | NA | NA | XXX
73060 |  | A | X-ray exam of humerus | 0.17 | 0.59 | 0.62 | NA | NA | 0.05 | 0.81 | 0.84 | NA | NA | XXX
73060 | 26 | A | X-ray exam of humerus | 0.17 | 0.06 | 0.06 | 0.06 | 0.06 | 0.01 | 0.24 | 0.24 | 0.24 | 0.24 | XXX
73060 | TC | A | X-ray exam of humerus | 0.00 | 0.53 | 0.56 | NA | NA | 0.04 | 0.57 | 0.60 | NA | NA | XXX
73070 |  | A | X-ray exam of elbow | 0.15 | 0.57 | 0.57 | NA | NA | 0.03 | 0.75 | 0.75 | NA | NA | XXX
73070 | 26 | A | X-ray exam of elbow | 0.15 | 0.05 | 0.05 | 0.05 | 0.05 | 0.01 | 0.21 | 0.21 | 0.21 | 0.21 | XXX
73070 | TC | A | X-ray exam of elbow | 0.00 | 0.52 | 0.52 | NA | NA | 0.02 | 0.54 | 0.54 | NA | NA | XXX
73080 |  | A | X-ray exam of elbow | 0.17 | 0.78 | 0.67 | NA | NA | 0.05 | 1.00 | 0.89 | NA | NA | XXX
73080 | 26 | A | X-ray exam of elbow | 0.17 | 0.06 | 0.06 | 0.06 | 0.06 | 0.01 | 0.24 | 0.24 | 0.24 | 0.24 | XXX
73080 | TC | A | X-ray exam of elbow | 0.00 | 0.72 | 0.61 | NA | NA | 0.04 | 0.76 | 0.65 | NA | NA | XXX
73085 |  | A | Contrast x-ray of elbow | 0.54 | 1.86 | 2.19 | NA | NA | 0.14 | 2.54 | 2.87 | NA | NA | XXX
73085 | 26 | A | Contrast x-ray of elbow | 0.54 | 0.17 | 0.19 | 0.17 | 0.19 | 0.02 | 0.73 | 0.75 | 0.73 | 0.75 | XXX
73085 | TC | A | Contrast x-ray of elbow | 0.00 | 1.69 | 2.01 | NA | NA | 0.12 | 1.81 | 2.13 | NA | NA | XXX
73090 |  | A | X-ray exam of forearm | 0.16 | 0.57 | 0.57 | NA | NA | 0.03 | 0.76 | 0.76 | NA | NA | XXX
73090 | 26 | A | X-ray exam of forearm | 0.16 | 0.05 | 0.05 | 0.05 | 0.05 | 0.01 | 0.22 | 0.22 | 0.22 | 0.22 | XXX
73090 | TC | A | X-ray exam of forearm | 0.00 | 0.52 | 0.52 | NA | NA | 0.02 | 0.54 | 0.54 | NA | NA | XXX
73092 |  | A | X-ray exam of arm, infant | 0.16 | 0.60 | 0.56 | NA | NA | 0.03 | 0.79 | 0.75 | NA | NA | XXX
73092 | 26 | A | X-ray exam of arm, infant | 0.16 | 0.05 | 0.05 | 0.05 | 0.05 | 0.01 | 0.22 | 0.22 | 0.22 | 0.22 | XXX
73092 | TC | A | X-ray exam of arm, infant | 0.00 | 0.55 | 0.51 | NA | NA | 0.02 | 0.57 | 0.53 | NA | NA | XXX
73100 |  | A | X-ray exam of wrist | 0.16 | 0.61 | 0.56 | NA | NA | 0.03 | 0.80 | 0.75 | NA | NA | XXX
73100 | 26 | A | X-ray exam of wrist | 0.16 | 0.06 | 0.05 | 0.06 | 0.05 | 0.01 | 0.23 | 0.22 | 0.23 | 0.22 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
73100 | TC | A | X-ray exam of wrist | 0.00 | 0.56 | 0.51 | NA | NA | 0.02 | 0.58 | 0.53 | NA | NA | XXX
73110 |  | A | X-ray exam of wrist | 0.17 | 0.79 | 0.64 | NA | NA | 0.03 | 0.99 | 0.84 | NA | NA | XXX
73110 | 26 | A | X-ray exam of wrist | 0.17 | 0.06 | 0.06 | 0.06 | 0.06 | 0.01 | 0.24 | 0.24 | 0.24 | 0.24 | XXX
73110 | TC | A | X-ray exam of wrist | 0.00 | 0.74 | 0.58 | NA | NA | 0.02 | 0.76 | 0.60 | NA | NA | XXX
73115 |  | A | Contrast x-ray of wrist | 0.54 | 2.41 | 1.92 | NA | NA | 0.12 | 3.07 | 2.58 | NA | NA | XXX
73115 | 26 | A | Contrast x-ray of wrist | 0.54 | 0.19 | 0.18 | 0.19 | 0.18 | 0.02 | 0.75 | 0.74 | 0.75 | 0.74 | XXX
73115 | TC | A | Contrast x-ray of wrist | 0.00 | 2.23 | 1.74 | NA | NA | 0.10 | 2.33 | 1.84 | NA | NA | XXX
73120 |  | A | X-ray exam of hand | 0.16 | 0.57 | 0.55 | NA | NA | 0.03 | 0.76 | 0.74 | NA | NA | XXX
73120 | 26 | A | X-ray exam of hand | 0.16 | 0.05 | 0.05 | 0.05 | 0.05 | 0.01 | 0.22 | 0.22 | 0.22 | 0.22 | XXX
73120 | TC | A | X-ray exam of hand | 0.00 | 0.52 | 0.50 | NA | NA | 0.02 | 0.54 | 0.52 | NA | NA | XXX
73130 |  | A | X-ray exam of hand | 0.17 | 0.68 | 0.61 | NA | NA | 0.03 | 0.88 | 0.81 | NA | NA | XXX
73130 | 26 | A | X-ray exam of hand | 0.17 | 0.06 | 0.06 | 0.06 | 0.06 | 0.01 | 0.24 | 0.24 | 0.24 | 0.24 | XXX
73130 | TC | A | X-ray exam of hand | 0.00 | 0.62 | 0.55 | NA | NA | 0.02 | 0.64 | 0.57 | NA | NA | XXX
73140 |  | A | X-ray exam of finger(s) | 0.13 | 0.69 | 0.52 | NA | NA | 0.03 | 0.85 | 0.68 | NA | NA | XXX
73140 | 26 | A | X-ray exam of finger(s) | 0.13 | 0.05 | 0.04 | 0.05 | 0.04 | 0.01 | 0.19 | 0.18 | 0.19 | 0.18 | XXX
73140 | TC | A | X-ray exam of finger(s) | 0.00 | 0.65 | 0.48 | NA | NA | 0.02 | 0.67 | 0.50 | NA | NA | XXX
73200 |  | A | Ct upper extremity w/o dye | 1.09 | 6.69 | 5.67 | NA | NA | 0.30 | 8.08 | 7.06 | NA | NA | XXX
73200 | 26 | A | Ct upper extremity w/o dye | 1.09 | 0.38 | 0.37 | 0.38 | 0.37 | 0.05 | 1.52 | 1.51 | 1.52 | 1.51 | XXX
73200 | TC | A | Ct upper extremity w/o dye | 0.00 | 6.31 | 5.31 | NA | NA | 0.25 | 6.56 | 5.56 | NA | NA | XXX
73201 |  | A | Ct upper extremity w/dye | 1.16 | 8.28 | 6.80 | NA | NA | 0.36 | 9.80 | 8.32 | NA | NA | XXX
73201 | 26 | A | Ct upper extremity w/dye | 1.16 | 0.41 | 0.39 | 0.41 | 0.39 | 0.05 | 1.62 | 1.60 | 1.62 | 1.60 | XXX
73201 | TC | A | Ct upper extremity w/dye | 0.00 | 7.87 | 6.42 | NA | NA | 0.31 | 8.18 | 6.73 | NA | NA | XXX
73202 |  | A | Ct uppr extremity w/o&w/dye | 1.22 | 11.14 | 8.67 | NA | NA | 0.44 | 12.80 | 10.33 | NA | NA | XXX
73202 | 26 | A | Ct uppr extremity w/o&w/dye | 1.22 | 0.43 | 0.41 | 0.43 | 0.41 | 0.05 | 1.70 | 1.68 | 1.70 | 1.68 | XXX
73202 | TC | A | Ct uppr extremity w/o&w/dye | 0.00 | 10.72 | 8.26 | NA | NA | 0.39 | 11.11 | 8.65 | NA | NA | XXX
73206 |  | A | Ct angio upr extrm w/o&w/dye | 1.81 | 11.30 | 11.51 | NA | NA | 0.47 | 13.58 | 13.79 | NA | NA | XXX
73206 | 26 | A | Ct angio upr extrm w/o&w/dye | 1.81 | 0.65 | 0.61 | 0.65 | 0.61 | 0.08 | 2.54 | 2.50 | 2.54 | 2.50 | XXX
73206 | TC | A | Ct angio upr extrm w/o&w/dye | 0.00 | 10.65 | 10.91 | NA | NA | 0.39 | 11.04 | 11.30 | NA | NA | XXX
73218 |  | A | Mri upper extremity w/o dye | 1.35 | 15.36 | 12.59 | NA | NA | 0.45 | 17.16 | 14.39 | NA | NA | XXX
73218 | 26 | A | Mri upper extremity w/o dye | 1.35 | 0.47 | 0.45 | 0.47 | 0.45 | 0.06 | 1.88 | 1.86 | 1.88 | 1.86 | XXX
73218 | TC | A | Mri upper extremity w/o dye | 0.00 | 14.89 | 12.15 | NA | NA | 0.39 | 15.28 | 12.54 | NA | NA | XXX
73219 |  | A | Mri upper extremity w/dye | 1.62 | 16.17 | 14.56 | NA | NA | 0.54 | 18.33 | 16.72 | NA | NA | XXX
73219 | 26 | A | Mri upper extremity w/dye | 1.62 | 0.57 | 0.55 | 0.57 | 0.55 | 0.07 | 2.26 | 2.24 | 2.26 | 2.24 | XXX
73219 | TC | A | Mri upper extremity w/dye | 0.00 | 15.60 | 14.01 | NA | NA | 0.47 | 16.07 | 14.48 | NA | NA | XXX
73220 |  | A | Mri uppr extremity w/o&w/dye | 2.15 | 20.02 | 24.25 | NA | NA | 0.94 | 23.11 | 27.34 | NA | NA | XXX
73220 | 26 | A | Mri uppr extremity w/o&w/dye | 2.15 | 0.75 | 0.72 | 0.75 | 0.72 | 0.10 | 3.00 | 2.97 | 3.00 | 2.97 | XXX
73220 | TC | A | Mri uppr extremity w/o&w/dye | 0.00 | 19.27 | 23.53 | NA | NA | 0.84 | 20.11 | 24.37 | NA | NA | XXX
73221 |  | A | Mri joint upr extrem w/o dye | 1.35 | 14.27 | 12.32 | NA | NA | 0.45 | 16.07 | 14.12 | NA | NA | XXX
73221 | 26 | A | Mri joint upr extrem w/o dye | 1.35 | 0.48 | 0.45 | 0.48 | 0.45 | 0.06 | 1.89 | 1.86 | 1.89 | 1.86 | XXX
73221 | TC | A | Mri joint upr extrem w/o dye | 0.00 | 13.79 | 11.87 | NA | NA | 0.39 | 14.18 | 12.26 | NA | NA | XXX
73222 |  | A | Mri joint upr extrem w/dye | 1.62 | 15.10 | 14.28 | NA | NA | 0.54 | 17.26 | 16.44 | NA | NA | XXX
73222 | 26 | A | Mri joint upr extrem w/dye | 1.62 | 0.58 | 0.54 | 0.58 | 0.54 | 0.07 | 2.27 | 2.23 | 2.27 | 2.23 | XXX
73222 | TC | A | Mri joint upr extrem w/dye | 0.00 | 14.52 | 13.74 | NA | NA | 0.47 | 14.99 | 14.21 | NA | NA | XXX
73223 |  | A | Mri joint upr extr w/o&w/dye | 2.15 | 18.54 | 23.88 | NA | NA | 0.94 | 21.63 | 26.97 | NA | NA | XXX
73223 | 26 | A | Mri joint upr extr w/o&w/dye | 2.15 | 0.75 | 0.72 | 0.75 | 0.72 | 0.10 | 3.00 | 2.97 | 3.00 | 2.97 | XXX
73223 | TC | A | Mri joint upr extr w/o&w/dye | 0.00 | 17.79 | 23.16 | NA | NA | 0.84 | 18.63 | 24.00 | NA | NA | XXX
73225 |  | N | Mr angio upr extr w/o&w/dye | 1.73 | 14.63 | 12.44 | 14.63 | 12.44 | 0.69 | 17.05 | 14.86 | 17.05 | 14.86 | XXX
73225 | 26 | N | Mr angio upr extr w/o&w/dye | 1.73 | 0.39 | 0.60 | 0.39 | 0.60 | 0.10 | 2.22 | 2.43 | 2.22 | 2.43 | XXX
73225 | TC | N | Mr angio upr extr w/o&w/dye | 0.00 | 14.24 | 11.84 | 14.24 | 11.84 | 0.59 | 14.83 | 12.43 | 14.83 | 12.43 | XXX
73500 |  | A | X-ray exam of hip | 0.17 | 0.50 | 0.52 | NA | NA | 0.03 | 0.70 | 0.72 | NA | NA | XXX
73500 | 26 | A | X-ray exam of hip | 0.17 | 0.06 | 0.06 | 0.06 | 0.06 | 0.01 | 0.24 | 0.24 | 0.24 | 0.24 | XXX
73500 | TC | A | X-ray exam of hip | 0.00 | 0.44 | 0.46 | NA | NA | 0.02 | 0.46 | 0.48 | NA | NA | XXX
73510 |  | A | X-ray exam of hip | 0.21 | 0.80 | 0.68 | NA | NA | 0.05 | 1.06 | 0.94 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
73510 | 26 | A | X-ray exam of hip | 0.21 | 0.07 | 0.07 | 0.07 | 0.07 | 0.01 | 0.29 | 0.29 | 0.29 | 0.29 | XXX
73510 | TC | A | X-ray exam of hip | 0.00 | 0.73 | 0.61 | NA | NA | 0.04 | 0.77 | 0.65 | NA | NA | XXX
73520 |  | A | X-ray exam of hips | 0.26 | 0.81 | 0.77 | NA | NA | 0.05 | 1.12 | 1.08 | NA | NA | XXX
73520 | 26 | A | X-ray exam of hips | 0.26 | 0.09 | 0.09 | 0.09 | 0.09 | 0.01 | 0.36 | 0.36 | 0.36 | 0.36 | XXX
73520 | TC | A | X-ray exam of hips | 0.00 | 0.72 | 0.68 | NA | NA | 0.04 | 0.76 | 0.72 | NA | NA | XXX
73525 |  | A | Contrast x-ray of hip | 0.54 | 1.83 | 2.18 | NA | NA | 0.15 | 2.52 | 2.87 | NA | NA | XXX
73525 | 26 | A | Contrast x-ray of hip | 0.54 | 0.18 | 0.18 | 0.18 | 0.18 | 0.03 | 0.75 | 0.75 | 0.75 | 0.75 | XXX
73525 | TC | A | Contrast x-ray of hip | 0.00 | 1.66 | 2.00 | NA | NA | 0.12 | 1.78 | 2.12 | NA | NA | XXX
73530 |  | A | X-ray exam of hip | 0.29 | 0.10 | 0.49 | NA | NA | 0.03 | 0.42 | 0.81 | NA | NA | XXX
73530 | 26 | A | X-ray exam of hip | 0.29 | 0.10 | 0.10 | 0.10 | 0.10 | 0.01 | 0.40 | 0.40 | 0.40 | 0.40 | XXX
73530 | TC | A | X-ray exam of hip | 0.00 | 0.00 | 0.39 | NA | NA | 0.02 | 0.02 | 0.41 | NA | NA | XXX
73540 |  | A | X-ray exam of pelvis & hips | 0.20 | 0.80 | 0.68 | NA | NA | 0.05 | 1.05 | 0.93 | NA | NA | XXX
73540 | 26 | A | X-ray exam of pelvis & hips | 0.20 | 0.07 | 0.07 | 0.07 | 0.07 | 0.01 | 0.28 | 0.28 | 0.28 | 0.28 | XXX
73540 | TC | A | X-ray exam of pelvis & hips | 0.00 | 0.74 | 0.61 | NA | NA | 0.04 | 0.78 | 0.65 | NA | NA | XXX
73542 |  | A | X-ray exam, sacroiliac joint | 0.59 | 1.11 | 1.98 | NA | NA | 0.15 | 1.85 | 2.72 | NA | NA | XXX
73542 | 26 | A | X-ray exam, sacroiliac joint | 0.59 | 0.14 | 0.16 | 0.14 | 0.16 | 0.03 | 0.76 | 0.78 | 0.76 | 0.78 | XXX
73542 | TC | A | X-ray exam, sacroiliac joint | 0.00 | 0.98 | 1.83 | NA | NA | 0.12 | 1.10 | 1.95 | NA | NA | XXX
73550 |  | A | X-ray exam of thigh | 0.17 | 0.56 | 0.61 | NA | NA | 0.05 | 0.78 | 0.83 | NA | NA | XXX
73550 | 26 | A | X-ray exam of thigh | 0.17 | 0.06 | 0.06 | 0.06 | 0.06 | 0.01 | 0.24 | 0.24 | 0.24 | 0.24 | XXX
73550 | TC | A | X-ray exam of thigh | 0.00 | 0.50 | 0.55 | NA | NA | 0.04 | 0.54 | 0.59 | NA | NA | XXX
73560 |  | A | X-ray exam of knee, 1 or 2 | 0.17 | 0.60 | 0.59 | NA | NA | 0.03 | 0.80 | 0.79 | NA | NA | XXX
73560 | 26 | A | X-ray exam of knee, 1 or 2 | 0.17 | 0.06 | 0.06 | 0.06 | 0.06 | 0.01 | 0.24 | 0.24 | 0.24 | 0.24 | XXX
73560 | TC | A | X-ray exam of knee, 1 or 2 | 0.00 | 0.54 | 0.53 | NA | NA | 0.02 | 0.56 | 0.55 | NA | NA | XXX
73562 |  | A | X-ray exam of knee, 3 | 0.18 | 0.74 | 0.66 | NA | NA | 0.05 | 0.97 | 0.89 | NA | NA | XXX
73562 | 26 | A | X-ray exam of knee, 3 | 0.18 | 0.06 | 0.06 | 0.06 | 0.06 | 0.01 | 0.25 | 0.25 | 0.25 | 0.25 | XXX
73562 | TC | A | X-ray exam of knee, 3 | 0.00 | 0.68 | 0.60 | NA | NA | 0.04 | 0.72 | 0.64 | NA | NA | XXX
73564 |  | A | X-ray exam, knee, 4 or more | 0.22 | 0.88 | 0.74 | NA | NA | 0.05 | 1.15 | 1.01 | NA | NA | XXX
73564 | 26 | A | X-ray exam, knee, 4 or more | 0.22 | 0.08 | 0.07 | 0.08 | 0.07 | 0.01 | 0.31 | 0.30 | 0.31 | 0.30 | XXX
73564 | TC | A | X-ray exam, knee, 4 or more | 0.00 | 0.80 | 0.67 | NA | NA | 0.04 | 0.84 | 0.71 | NA | NA | XXX
73565 |  | A | X-ray exam of knees | 0.17 | 0.65 | 0.58 | NA | NA | 0.03 | 0.85 | 0.78 | NA | NA | XXX
73565 | 26 | A | X-ray exam of knees | 0.17 | 0.06 | 0.06 | 0.06 | 0.06 | 0.01 | 0.24 | 0.24 | 0.24 | 0.24 | XXX
73565 | TC | A | X-ray exam of knees | 0.00 | 0.59 | 0.52 | NA | NA | 0.02 | 0.61 | 0.54 | NA | NA | XXX
73580 |  | A | Contrast x-ray of knee joint | 0.54 | 2.41 | 2.70 | NA | NA | 0.17 | 3.12 | 3.41 | NA | NA | XXX
73580 | 26 | A | Contrast x-ray of knee joint | 0.54 | 0.18 | 0.17 | 0.18 | 0.17 | 0.03 | 0.75 | 0.74 | 0.75 | 0.74 | XXX
73580 | TC | A | Contrast x-ray of knee joint | 0.00 | 2.23 | 2.53 | NA | NA | 0.14 | 2.37 | 2.67 | NA | NA | XXX
73590 |  | A | X-ray exam of lower leg | 0.17 | 0.55 | 0.57 | NA | NA | 0.03 | 0.75 | 0.77 | NA | NA | XXX
73590 | 26 | A | X-ray exam of lower leg | 0.17 | 0.06 | 0.06 | 0.06 | 0.06 | 0.01 | 0.24 | 0.24 | 0.24 | 0.24 | XXX
73590 | TC | A | X-ray exam of lower leg | 0.00 | 0.50 | 0.52 | NA | NA | 0.02 | 0.52 | 0.54 | NA | NA | XXX
73592 |  | A | X-ray exam of leg, infant | 0.16 | 0.61 | 0.56 | NA | NA | 0.03 | 0.80 | 0.75 | NA | NA | XXX
73592 | 26 | A | X-ray exam of leg, infant | 0.16 | 0.05 | 0.05 | 0.05 | 0.05 | 0.01 | 0.22 | 0.22 | 0.22 | 0.22 | XXX
73592 | TC | A | X-ray exam of leg, infant | 0.00 | 0.56 | 0.51 | NA | NA | 0.02 | 0.58 | 0.53 | NA | NA | XXX
73600 |  | A | X-ray exam of ankle | 0.16 | 0.57 | 0.55 | NA | NA | 0.03 | 0.76 | 0.74 | NA | NA | XXX
73600 | 26 | A | X-ray exam of ankle | 0.16 | 0.05 | 0.05 | 0.05 | 0.05 | 0.01 | 0.22 | 0.22 | 0.22 | 0.22 | XXX
73600 | TC | A | X-ray exam of ankle | 0.00 | 0.52 | 0.50 | NA | NA | 0.02 | 0.54 | 0.52 | NA | NA | XXX
73610 |  | A | X-ray exam of ankle | 0.17 | 0.69 | 0.62 | NA | NA | 0.03 | 0.89 | 0.82 | NA | NA | XXX
73610 | 26 | A | X-ray exam of ankle | 0.17 | 0.06 | 0.06 | 0.06 | 0.06 | 0.01 | 0.24 | 0.24 | 0.24 | 0.24 | XXX
73610 | TC | A | X-ray exam of ankle | 0.00 | 0.63 | 0.56 | NA | NA | 0.02 | 0.65 | 0.58 | NA | NA | XXX
73615 |  | A | Contrast x-ray of ankle | 0.54 | 1.92 | 2.20 | NA | NA | 0.15 | 2.61 | 2.89 | NA | NA | XXX
73615 | 26 | A | Contrast x-ray of ankle | 0.54 | 0.17 | 0.18 | 0.17 | 0.18 | 0.03 | 0.74 | 0.75 | 0.74 | 0.75 | XXX
73615 | TC | A | Contrast x-ray of ankle | 0.00 | 1.75 | 2.02 | NA | NA | 0.12 | 1.87 | 2.14 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
73620 |  | A | X-ray exam of foot | 0.16 | 0.53 | 0.54 | NA | NA | 0.03 | 0.72 | 0.73 | NA | NA | XXX
73620 | 26 | A | X-ray exam of foot | 0.16 | 0.04 | 0.05 | 0.04 | 0.05 | 0.01 | 0.21 | 0.22 | 0.21 | 0.22 | XXX
73620 | TC | A | X-ray exam of foot | 0.00 | 0.49 | 0.49 | NA | NA | 0.02 | 0.51 | 0.51 | NA | NA | XXX
73630 |  | A | X-ray exam of foot | 0.17 | 0.67 | 0.61 | NA | NA | 0.03 | 0.87 | 0.81 | NA | NA | XXX
73630 | 26 | A | X-ray exam of foot | 0.17 | 0.05 | 0.06 | 0.05 | 0.06 | 0.01 | 0.23 | 0.24 | 0.23 | 0.24 | XXX
73630 | TC | A | X-ray exam of foot | 0.00 | 0.61 | 0.55 | NA | NA | 0.02 | 0.63 | 0.57 | NA | NA | XXX
73650 |  | A | X-ray exam of heel | 0.16 | 0.56 | 0.53 | NA | NA | 0.03 | 0.75 | 0.72 | NA | NA | XXX
73650 | 26 | A | X-ray exam of heel | 0.16 | 0.05 | 0.05 | 0.05 | 0.05 | 0.01 | 0.22 | 0.22 | 0.22 | 0.22 | XXX
73650 | TC | A | X-ray exam of heel | 0.00 | 0.51 | 0.48 | NA | NA | 0.02 | 0.53 | 0.50 | NA | NA | XXX
73660 |  | A | X-ray exam of toe(s) | 0.13 | 0.65 | 0.51 | NA | NA | 0.03 | 0.81 | 0.67 | NA | NA | XXX
73660 | 26 | A | X-ray exam of toe(s) | 0.13 | 0.04 | 0.04 | 0.04 | 0.04 | 0.01 | 0.18 | 0.18 | 0.18 | 0.18 | XXX
73660 | TC | A | X-ray exam of toe(s) | 0.00 | 0.61 | 0.47 | NA | NA | 0.02 | 0.63 | 0.49 | NA | NA | XXX
73700 |  | A | Ct lower extremity w/o dye | 1.09 | 6.70 | 5.67 | NA | NA | 0.30 | 8.09 | 7.06 | NA | NA | XXX
73700 | 26 | A | Ct lower extremity w/o dye | 1.09 | 0.38 | 0.37 | 0.38 | 0.37 | 0.05 | 1.52 | 1.51 | 1.52 | 1.51 | XXX
73700 | TC | A | Ct lower extremity w/o dye | 0.00 | 6.32 | 5.31 | NA | NA | 0.25 | 6.57 | 5.56 | NA | NA | XXX
73701 |  | A | Ct lower extremity w/dye | 1.16 | 8.32 | 6.81 | NA | NA | 0.36 | 9.84 | 8.33 | NA | NA | XXX
73701 | 26 | A | Ct lower extremity w/dye | 1.16 | 0.40 | 0.39 | 0.40 | 0.39 | 0.05 | 1.61 | 1.60 | 1.61 | 1.60 | XXX
73701 | TC | A | Ct lower extremity w/dye | 0.00 | 7.91 | 6.43 | NA | NA | 0.31 | 8.22 | 6.74 | NA | NA | XXX
73702 |  | A | Ct lwr extremity w/o&w/dye | 1.22 | 11.20 | 8.68 | NA | NA | 0.44 | 12.86 | 10.34 | NA | NA | XXX
73702 | 26 | A | Ct lwr extremity w/o&w/dye | 1.22 | 0.44 | 0.41 | 0.44 | 0.41 | 0.05 | 1.71 | 1.68 | 1.71 | 1.68 | XXX
73702 | TC | A | Ct lwr extremity w/o&w/dye | 0.00 | 10.76 | 8.27 | NA | NA | 0.39 | 11.15 | 8.66 | NA | NA | XXX
73706 |  | A | Ct angio lwr extr w/o&w/dye | 1.90 | 12.85 | 11.92 | NA | NA | 0.47 | 15.22 | 14.29 | NA | NA | XXX
73706 | 26 | A | Ct angio lwr extr w/o&w/dye | 1.90 | 0.71 | 0.64 | 0.71 | 0.64 | 0.08 | 2.69 | 2.62 | 2.69 | 2.62 | XXX
73706 | TC | A | Ct angio lwr extr w/o&w/dye | 0.00 | 12.14 | 11.28 | NA | NA | 0.39 | 12.53 | 11.67 | NA | NA | XXX
73718 |  | A | Mri lower extremity w/o dye | 1.35 | 15.09 | 12.53 | NA | NA | 0.45 | 16.89 | 14.33 | NA | NA | XXX
73718 | 26 | A | Mri lower extremity w/o dye | 1.35 | 0.48 | 0.45 | 0.48 | 0.45 | 0.06 | 1.89 | 1.86 | 1.89 | 1.86 | XXX
73718 | TC | A | Mri lower extremity w/o dye | 0.00 | 14.61 | 12.08 | NA | NA | 0.39 | 15.00 | 12.47 | NA | NA | XXX
73719 |  | A | Mri lower extremity w/dye | 1.62 | 16.15 | 14.55 | NA | NA | 0.54 | 18.31 | 16.71 | NA | NA | XXX
73719 | 26 | A | Mri lower extremity w/dye | 1.62 | 0.57 | 0.54 | 0.57 | 0.54 | 0.07 | 2.26 | 2.23 | 2.26 | 2.23 | XXX
73719 | TC | A | Mri lower extremity w/dye | 0.00 | 15.58 | 14.01 | NA | NA | 0.47 | 16.05 | 14.48 | NA | NA | XXX
73720 |  | A | Mri lwr extremity w/o&w/dye | 2.15 | 19.99 | 24.24 | NA | NA | 0.94 | 23.08 | 27.33 | NA | NA | XXX
73720 | 26 | A | Mri lwr extremity w/o&w/dye | 2.15 | 0.75 | 0.71 | 0.75 | 0.71 | 0.10 | 3.00 | 2.96 | 3.00 | 2.96 | XXX
73720 | TC | A | Mri lwr extremity w/o&w/dye | 0.00 | 19.24 | 23.52 | NA | NA | 0.84 | 20.08 | 24.36 | NA | NA | XXX
73721 |  | A | Mri jnt of lwr extre w/o dye | 1.35 | 14.61 | 12.41 | NA | NA | 0.45 | 16.41 | 14.21 | NA | NA | XXX
73721 | 26 | A | Mri jnt of lwr extre w/o dye | 1.35 | 0.48 | 0.45 | 0.48 | 0.45 | 0.06 | 1.89 | 1.86 | 1.89 | 1.86 | XXX
73721 | TC | A | Mri jnt of lwr extre w/o dye | 0.00 | 14.13 | 11.96 | NA | NA | 0.39 | 14.52 | 12.35 | NA | NA | XXX
73722 |  | A | Mri joint of lwr extr w/dye | 1.62 | 15.29 | 14.33 | NA | NA | 0.54 | 17.45 | 16.49 | NA | NA | XXX
73722 | 26 | A | Mri joint of lwr extr w/dye | 1.62 | 0.58 | 0.54 | 0.58 | 0.54 | 0.07 | 2.27 | 2.23 | 2.27 | 2.23 | XXX
73722 | TC | A | Mri joint of lwr extr w/dye | 0.00 | 14.71 | 13.79 | NA | NA | 0.47 | 15.18 | 14.26 | NA | NA | XXX
73723 |  | A | Mri joint lwr extr w/o&w/dye | 2.15 | 18.48 | 23.87 | NA | NA | 0.94 | 21.57 | 26.96 | NA | NA | XXX
73723 | 26 | A | Mri joint lwr extr w/o&w/dye | 2.15 | 0.75 | 0.72 | 0.75 | 0.72 | 0.10 | 3.00 | 2.97 | 3.00 | 2.97 | XXX
73723 | TC | A | Mri joint lwr extr w/o&w/dye | 0.00 | 17.73 | 23.15 | NA | NA | 0.84 | 18.57 | 23.99 | NA | NA | XXX
73725 |  | R | Mr ang lwr ext w or w/o dye | 1.82 | 15.93 | 12.86 | NA | NA | 0.67 | 18.42 | 15.35 | NA | NA | XXX
73725 | 26 | R | Mr ang lwr ext w or w/o dye | 1.82 | 0.65 | 0.61 | 0.65 | 0.61 | 0.08 | 2.55 | 2.51 | 2.55 | 2.51 | XXX
73725 | TC | R | Mr ang lwr ext w or w/o dye | 0.00 | 15.28 | 12.24 | NA | NA | 0.59 | 15.87 | 12.83 | NA | NA | XXX
74000 |  | A | X-ray exam of abdomen | 0.18 | 0.48 | 0.56 | NA | NA | 0.03 | 0.69 | 0.77 | NA | NA | XXX
74000 | 26 | A | X-ray exam of abdomen | 0.18 | 0.06 | 0.06 | 0.06 | 0.06 | 0.01 | 0.25 | 0.25 | 0.25 | 0.25 | XXX
74000 | TC | A | X-ray exam of abdomen | 0.00 | 0.42 | 0.50 | NA | NA | 0.02 | 0.44 | 0.52 | NA | NA | XXX
74010 |  | A | X-ray exam of abdomen | 0.23 | 0.82 | 0.69 | NA | NA | 0.05 | 1.10 | 0.97 | NA | NA | XXX
74010 | 26 | A | X-ray exam of abdomen | 0.23 | 0.08 | 0.08 | 0.08 | 0.08 | 0.01 | 0.32 | 0.32 | 0.32 | 0.32 | XXX
74010 | TC | A | X-ray exam of abdomen | 0.00 | 0.74 | 0.61 | NA | NA | 0.04 | 0.78 | 0.65 | NA | NA | XXX
74020 |  | A | X-ray exam of abdomen | 0.27 | 0.84 | 0.74 | NA | NA | 0.05 | 1.16 | 1.06 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
74020 | 26 | A | X-ray exam of abdomen | 0.27 | 0.09 | 0.09 | 0.09 | 0.09 | 0.01 | 0.37 | 0.37 | 0.37 | 0.37 | XXX
74020 | TC | A | X-ray exam of abdomen | 0.00 | 0.75 | 0.65 | NA | NA | 0.04 | 0.79 | 0.69 | NA | NA | XXX
74022 |  | A | X-ray exam series, abdomen | 0.32 | 1.02 | 0.88 | NA | NA | 0.06 | 1.40 | 1.26 | NA | NA | XXX
74022 | 26 | A | X-ray exam series, abdomen | 0.32 | 0.11 | 0.10 | 0.11 | 0.10 | 0.01 | 0.44 | 0.43 | 0.44 | 0.43 | XXX
74022 | TC | A | X-ray exam series, abdomen | 0.00 | 0.91 | 0.78 | NA | NA | 0.05 | 0.96 | 0.83 | NA | NA | XXX
74150 |  | A | Ct abdomen w/o dye | 1.19 | 6.33 | 6.14 | NA | NA | 0.35 | 7.87 | 7.68 | NA | NA | XXX
74150 | 26 | A | Ct abdomen w/o dye | 1.19 | 0.41 | 0.40 | 0.41 | 0.40 | 0.05 | 1.65 | 1.64 | 1.65 | 1.64 | XXX
74150 | TC | A | Ct abdomen w/o dye | 0.00 | 5.91 | 5.74 | NA | NA | 0.30 | 6.21 | 6.04 | NA | NA | XXX
74160 |  | A | Ct abdomen w/dye | 1.27 | 9.21 | 7.76 | NA | NA | 0.42 | 10.90 | 9.45 | NA | NA | XXX
74160 | 26 | A | Ct abdomen w/dye | 1.27 | 0.44 | 0.43 | 0.44 | 0.43 | 0.06 | 1.77 | 1.76 | 1.77 | 1.76 | XXX
74160 | TC | A | Ct abdomen w/dye | 0.00 | 8.77 | 7.34 | NA | NA | 0.36 | 9.13 | 7.70 | NA | NA | XXX
74170 |  | A | Ct abdomen w/o & w/dye | 1.40 | 12.75 | 9.92 | NA | NA | 0.49 | 14.64 | 11.81 | NA | NA | XXX
74170 | 26 | A | Ct abdomen w/o & w/dye | 1.40 | 0.49 | 0.47 | 0.49 | 0.47 | 0.06 | 1.95 | 1.93 | 1.95 | 1.93 | XXX
74170 | TC | A | Ct abdomen w/o & w/dye | 0.00 | 12.26 | 9.45 | NA | NA | 0.43 | 12.69 | 9.88 | NA | NA | XXX
74175 |  | A | Ct angio abdom w/o & w/dye | 1.90 | 12.86 | 12.73 | NA | NA | 0.47 | 15.23 | 15.10 | NA | NA | XXX
74175 | 26 | A | Ct angio abdom w/o & w/dye | 1.90 | 0.69 | 0.64 | 0.69 | 0.64 | 0.08 | 2.67 | 2.62 | 2.67 | 2.62 | XXX
74175 | TC | A | Ct angio abdom w/o & w/dye | 0.00 | 12.18 | 12.09 | NA | NA | 0.39 | 12.57 | 12.48 | NA | NA | XXX
74181 |  | A | Mri abdomen w/o dye | 1.46 | 13.09 | 12.06 | NA | NA | 0.51 | 15.06 | 14.03 | NA | NA | XXX
74181 | 26 | A | Mri abdomen w/o dye | 1.46 | 0.51 | 0.49 | 0.51 | 0.49 | 0.06 | 2.03 | 2.01 | 2.03 | 2.01 | XXX
74181 | TC | A | Mri abdomen w/o dye | 0.00 | 12.58 | 11.57 | NA | NA | 0.45 | 13.03 | 12.02 | NA | NA | XXX
74182 |  | A | Mri abdomen w/dye | 1.73 | 18.28 | 15.11 | NA | NA | 0.60 | 20.61 | 17.44 | NA | NA | XXX
74182 | 26 | A | Mri abdomen w/dye | 1.73 | 0.60 | 0.58 | 0.60 | 0.58 | 0.08 | 2.41 | 2.39 | 2.41 | 2.39 | XXX
74182 | TC | A | Mri abdomen w/dye | 0.00 | 17.68 | 14.53 | NA | NA | 0.52 | 18.20 | 15.05 | NA | NA | XXX
74183 |  | A | Mri abdomen w/o & w/dye | 2.26 | 19.98 | 24.26 | NA | NA | 1.02 | 23.26 | 27.54 | NA | NA | XXX
74183 | 26 | A | Mri abdomen w/o & w/dye | 2.26 | 0.79 | 0.75 | 0.79 | 0.75 | 0.10 | 3.15 | 3.11 | 3.15 | 3.11 | XXX
74183 | TC | A | Mri abdomen w/o & w/dye | 0.00 | 19.18 | 23.51 | NA | NA | 0.92 | 20.10 | 24.43 | NA | NA | XXX
74185 |  | R | Mri angio, abdom w orw/o dye | 1.80 | 15.88 | 12.84 | NA | NA | 0.67 | 18.35 | 15.31 | NA | NA | XXX
74185 | 26 | R | Mri angio, abdom w orw/o dye | 1.80 | 0.64 | 0.60 | 0.64 | 0.60 | 0.08 | 2.52 | 2.48 | 2.52 | 2.48 | XXX
74185 | TC | R | Mri angio, abdom w orw/o dye | 0.00 | 15.24 | 12.23 | NA | NA | 0.59 | 15.83 | 12.82 | NA | NA | XXX
74190 |  | A | X-ray exam of peritoneum | 0.48 | 0.17 | 1.15 | NA | NA | 0.09 | 0.74 | 1.72 | NA | NA | XXX
74190 | 26 | A | X-ray exam of peritoneum | 0.48 | 0.17 | 0.16 | 0.17 | 0.16 | 0.02 | 0.67 | 0.66 | 0.67 | 0.66 | XXX
74190 | TC | A | X-ray exam of peritoneum | 0.00 | 0.00 | 0.98 | NA | NA | 0.07 | 0.07 | 1.05 | NA | NA | XXX
74210 |  | A | Contrst x-ray exam of throat | 0.36 | 1.85 | 1.45 | NA | NA | 0.08 | 2.29 | 1.89 | NA | NA | XXX
74210 | 26 | A | Contrst x-ray exam of throat | 0.36 | 0.12 | 0.12 | 0.12 | 0.12 | 0.02 | 0.50 | 0.50 | 0.50 | 0.50 | XXX
74210 | TC | A | Contrst x-ray exam of throat | 0.00 | 1.72 | 1.32 | NA | NA | 0.06 | 1.78 | 1.38 | NA | NA | XXX
74220 |  | A | Contrast x-ray, esophagus | 0.46 | 2.10 | 1.53 | NA | NA | 0.08 | 2.64 | 2.07 | NA | NA | XXX
74220 | 26 | A | Contrast x-ray, esophagus | 0.46 | 0.16 | 0.15 | 0.16 | 0.15 | 0.02 | 0.64 | 0.63 | 0.64 | 0.63 | XXX
74220 | TC | A | Contrast x-ray, esophagus | 0.00 | 1.94 | 1.38 | NA | NA | 0.06 | 2.00 | 1.44 | NA | NA | XXX
74230 |  | A | Cine/vid x-ray, throat/esoph | 0.53 | 2.03 | 1.62 | NA | NA | 0.09 | 2.65 | 2.24 | NA | NA | XXX
74230 | 26 | A | Cine/vid x-ray, throat/esoph | 0.53 | 0.18 | 0.17 | 0.18 | 0.17 | 0.02 | 0.73 | 0.72 | 0.73 | 0.72 | XXX
74230 | TC | A | Cine/vid x-ray, throat/esoph | 0.00 | 1.84 | 1.44 | NA | NA | 0.07 | 1.91 | 1.51 | NA | NA | XXX
74235 | 26 | A | Remove esophagus obstruction | 1.19 | 0.43 | 0.40 | 0.43 | 0.40 | 0.05 | 1.67 | 1.64 | 1.67 | 1.64 | XXX
74240 |  | A | X-ray exam, upper gi tract | 0.69 | 2.40 | 1.87 | NA | NA | 0.11 | 3.20 | 2.67 | NA | NA | XXX
74240 | 26 | A | X-ray exam, upper gi tract | 0.69 | 0.24 | 0.23 | 0.24 | 0.23 | 0.03 | 0.96 | 0.95 | 0.96 | 0.95 | XXX
74240 | TC | A | X-ray exam, upper gi tract | 0.00 | 2.16 | 1.64 | NA | NA | 0.08 | 2.24 | 1.72 | NA | NA | XXX
74241 |  | A | X-ray exam, upper gi tract | 0.69 | 2.67 | 1.96 | NA | NA | 0.11 | 3.47 | 2.76 | NA | NA | XXX
74241 | 26 | A | X-ray exam, upper gi tract | 0.69 | 0.23 | 0.23 | 0.23 | 0.23 | 0.03 | 0.95 | 0.95 | 0.95 | 0.95 | XXX
74241 | TC | A | X-ray exam, upper gi tract | 0.00 | 2.43 | 1.73 | NA | NA | 0.08 | 2.51 | 1.81 | NA | NA | XXX
74245 |  | A | X-ray exam, upper gi tract | 0.91 | 4.13 | 3.05 | NA | NA | 0.17 | 5.21 | 4.13 | NA | NA | XXX
74245 | 26 | A | X-ray exam, upper gi tract | 0.91 | 0.32 | 0.31 | 0.32 | 0.31 | 0.04 | 1.27 | 1.26 | 1.27 | 1.26 | XXX
74245 | TC | A | X-ray exam, upper gi tract | 0.00 | 3.81 | 2.75 | NA | NA | 0.13 | 3.94 | 2.88 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
74246 |  | A | Contrst x-ray uppr gi tract | 0.69 | 2.91 | 2.13 | NA | NA | 0.13 | 3.73 | 2.95 | NA | NA | XXX
74246 | 26 | A | Contrst x-ray uppr gi tract | 0.69 | 0.24 | 0.23 | 0.24 | 0.23 | 0.03 | 0.96 | 0.95 | 0.96 | 0.95 | XXX
74246 | TC | A | Contrst x-ray uppr gi tract | 0.00 | 2.67 | 1.90 | NA | NA | 0.10 | 2.77 | 2.00 | NA | NA | XXX
74247 |  | A | Contrst x-ray uppr gi tract | 0.69 | 3.36 | 2.27 | NA | NA | 0.14 | 4.19 | 3.10 | NA | NA | XXX
74247 | 26 | A | Contrst x-ray uppr gi tract | 0.69 | 0.24 | 0.23 | 0.24 | 0.23 | 0.03 | 0.96 | 0.95 | 0.96 | 0.95 | XXX
74247 | TC | A | Contrst x-ray uppr gi tract | 0.00 | 3.12 | 2.04 | NA | NA | 0.11 | 3.23 | 2.15 | NA | NA | XXX
74249 |  | A | Contrst x-ray uppr gi tract | 0.91 | 4.53 | 3.29 | NA | NA | 0.18 | 5.62 | 4.38 | NA | NA | XXX
74249 | 26 | A | Contrst x-ray uppr gi tract | 0.91 | 0.32 | 0.31 | 0.32 | 0.31 | 0.04 | 1.27 | 1.26 | 1.27 | 1.26 | XXX
74249 | TC | A | Contrst x-ray uppr gi tract | 0.00 | 4.22 | 2.99 | NA | NA | 0.14 | 4.36 | 3.13 | NA | NA | XXX
74250 |  | A | X-ray exam of small bowel | 0.47 | 2.59 | 1.74 | NA | NA | 0.09 | 3.15 | 2.30 | NA | NA | XXX
74250 | 26 | A | X-ray exam of small bowel | 0.47 | 0.16 | 0.15 | 0.16 | 0.15 | 0.02 | 0.65 | 0.64 | 0.65 | 0.64 | XXX
74250 | TC | A | X-ray exam of small bowel | 0.00 | 2.43 | 1.59 | NA | NA | 0.07 | 2.50 | 1.66 | NA | NA | XXX
74251 |  | A | X-ray exam of small bowel | 0.69 | 10.48 | 3.78 | NA | NA | 0.10 | 11.27 | 4.57 | NA | NA | XXX
74251 | 26 | A | X-ray exam of small bowel | 0.69 | 0.24 | 0.23 | 0.24 | 0.23 | 0.03 | 0.96 | 0.95 | 0.96 | 0.95 | XXX
74251 | TC | A | X-ray exam of small bowel | 0.00 | 10.24 | 3.54 | NA | NA | 0.07 | 10.31 | 3.61 | NA | NA | XXX
74260 |  | A | X-ray exam of small bowel | 0.50 | 8.69 | 3.41 | NA | NA | 0.10 | 9.29 | 4.01 | NA | NA | XXX
74260 | 26 | A | X-ray exam of small bowel | 0.50 | 0.17 | 0.16 | 0.17 | 0.16 | 0.02 | 0.69 | 0.68 | 0.69 | 0.68 | XXX
74260 | TC | A | X-ray exam of small bowel | 0.00 | 8.52 | 3.25 | NA | NA | 0.08 | 8.60 | 3.33 | NA | NA | XXX
74270 |  | A | Contrast x-ray exam of colon | 0.69 | 3.73 | 2.38 | NA | NA | 0.14 | 4.56 | 3.21 | NA | NA | XXX
74270 | 26 | A | Contrast x-ray exam of colon | 0.69 | 0.24 | 0.23 | 0.24 | 0.23 | 0.03 | 0.96 | 0.95 | 0.96 | 0.95 | XXX
74270 | TC | A | Contrast x-ray exam of colon | 0.00 | 3.49 | 2.15 | NA | NA | 0.11 | 3.60 | 2.26 | NA | NA | XXX
74280 |  | A | Contrast x-ray exam of colon | 0.99 | 5.17 | 3.21 | NA | NA | 0.17 | 6.33 | 4.37 | NA | NA | XXX
74280 | 26 | A | Contrast x-ray exam of colon | 0.99 | 0.34 | 0.33 | 0.34 | 0.33 | 0.04 | 1.37 | 1.36 | 1.37 | 1.36 | XXX
74280 | TC | A | Contrast x-ray exam of colon | 0.00 | 4.83 | 2.89 | NA | NA | 0.13 | 4.96 | 3.02 | NA | NA | XXX
74283 |  | A | Contrast x-ray exam of colon | 2.02 | 3.60 | 3.32 | NA | NA | 0.23 | 5.85 | 5.57 | NA | NA | XXX
74283 | 26 | A | Contrast x-ray exam of colon | 2.02 | 0.68 | 0.67 | 0.68 | 0.67 | 0.09 | 2.79 | 2.78 | 2.79 | 2.78 | XXX
74283 | TC | A | Contrast x-ray exam of colon | 0.00 | 2.92 | 2.66 | NA | NA | 0.14 | 3.06 | 2.80 | NA | NA | XXX
74290 |  | A | Contrast x-ray, gallbladder | 0.32 | 1.62 | 1.03 | NA | NA | 0.06 | 2.00 | 1.41 | NA | NA | XXX
74290 | 26 | A | Contrast x-ray, gallbladder | 0.32 | 0.11 | 0.10 | 0.11 | 0.10 | 0.01 | 0.44 | 0.43 | 0.44 | 0.43 | XXX
74290 | TC | A | Contrast x-ray, gallbladder | 0.00 | 1.52 | 0.93 | NA | NA | 0.05 | 1.57 | 0.98 | NA | NA | XXX
74291 |  | A | Contrast x-rays, gallbladder | 0.20 | 1.65 | 0.78 | NA | NA | 0.03 | 1.88 | 1.01 | NA | NA | XXX
74291 | 26 | A | Contrast x-rays, gallbladder | 0.20 | 0.07 | 0.07 | 0.07 | 0.07 | 0.01 | 0.28 | 0.28 | 0.28 | 0.28 | XXX
74291 | TC | A | Contrast x-rays, gallbladder | 0.00 | 1.59 | 0.71 | NA | NA | 0.02 | 1.61 | 0.73 | NA | NA | XXX
74300 | 26 | A | X-ray bile ducts/pancreas | 0.36 | 0.12 | 0.12 | 0.12 | 0.12 | 0.02 | 0.50 | 0.50 | 0.50 | 0.50 | XXX
74301 | 26 | A | X-rays at surgery add-on | 0.21 | 0.07 | 0.07 | 0.07 | 0.07 | 0.01 | 0.29 | 0.29 | 0.29 | 0.29 | ZZZ
74305 |  | A | X-ray bile ducts/pancreas | 0.42 | 0.15 | 0.73 | NA | NA | 0.07 | 0.64 | 1.22 | NA | NA | XXX
74305 | 26 | A | X-ray bile ducts/pancreas | 0.42 | 0.15 | 0.14 | 0.15 | 0.14 | 0.02 | 0.59 | 0.58 | 0.59 | 0.58 | XXX
74305 | TC | A | X-ray bile ducts/pancreas | 0.00 | 0.00 | 0.59 | NA | NA | 0.05 | 0.05 | 0.64 | NA | NA | XXX
74320 |  | A | Contrast x-ray of bile ducts | 0.54 | 2.23 | 3.06 | NA | NA | 0.19 | 2.96 | 3.79 | NA | NA | XXX
74320 | 26 | A | Contrast x-ray of bile ducts | 0.54 | 0.19 | 0.18 | 0.19 | 0.18 | 0.02 | 0.75 | 0.74 | 0.75 | 0.74 | XXX
74320 | TC | A | Contrast x-ray of bile ducts | 0.00 | 2.04 | 2.88 | NA | NA | 0.17 | 2.21 | 3.05 | NA | NA | XXX
74327 |  | A | X-ray bile stone removal | 0.70 | 3.14 | 2.29 | NA | NA | 0.14 | 3.98 | 3.13 | NA | NA | XXX
74327 | 26 | A | X-ray bile stone removal | 0.70 | 0.25 | 0.24 | 0.25 | 0.24 | 0.03 | 0.98 | 0.97 | 0.98 | 0.97 | XXX
74327 | TC | A | X-ray bile stone removal | 0.00 | 2.89 | 2.05 | NA | NA | 0.11 | 3.00 | 2.16 | NA | NA | XXX
74328 |  | A | X-ray bile duct endoscopy | 0.70 | 0.26 | 2.61 | NA | NA | 0.20 | 1.16 | 3.51 | NA | NA | XXX
74328 | 26 | A | X-ray bile duct endoscopy | 0.70 | 0.26 | 0.24 | 0.26 | 0.24 | 0.03 | 0.99 | 0.97 | 0.99 | 0.97 | XXX
74328 | TC | A | X-ray bile duct endoscopy | 0.00 | 0.00 | 2.37 | NA | NA | 0.17 | 0.17 | 2.54 | NA | NA | XXX
74329 | 6 | A | X-ray for pancreas endoscopy | 0.70 | 0.26 | 0.24 | 0.26 | 0.24 | 0.03 | 0.99 | 0.97 | 0.99 | 0.97 | XXX
74330 |  | A | X-ray bile/panc endoscopy | 0.90 | 0.33 | 2.67 | NA | NA | 0.21 | 1.44 | 3.78 | NA | NA | XXX
74330 | 26 | A | X-ray bile/panc endoscopy | 0.90 | 0.33 | 0.30 | 0.33 | 0.30 | 0.04 | 1.27 | 1.24 | 1.27 | 1.24 | XXX
74330 | TC | A | X-ray bile/panc endoscopy | 0.00 | 0.00 | 2.37 | NA | NA | 0.17 | 0.17 | 2.54 | NA | NA | XXX
74340 |  | A | X-ray guide for GI tube | 0.54 | 0.19 | 2.16 | NA | NA | 0.16 | 0.89 | 2.86 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
74340 | 26 | A | X-ray guide for GI tube | 0.54 | 0.19 | 0.18 | 0.19 | 0.18 | 0.02 | 0.75 | 0.74 | 0.75 | 0.74 | XXX
74340 | TC | A | X-ray guide for GI tube | 0.00 | 0.00 | 1.97 | NA | NA | 0.14 | 0.14 | 2.11 | NA | NA | XXX
74350 |  | A | X-ray guide, stomach tube | 0.76 | 2.33 | 3.14 | NA | NA | 0.20 | 3.29 | 4.10 | NA | NA | XXX
74350 | 26 | A | X-ray guide, stomach tube | 0.76 | 0.28 | 0.26 | 0.28 | 0.26 | 0.03 | 1.07 | 1.05 | 1.07 | 1.05 | XXX
74350 | TC | A | X-ray guide, stomach tube | 0.00 | 2.06 | 2.89 | NA | NA | 0.17 | 2.23 | 3.06 | NA | NA | XXX
74355 |  | A | X-ray guide, intestinal tube | 0.76 | 0.27 | 2.23 | NA | NA | 0.17 | 1.20 | 3.16 | NA | NA | XXX
74355 | 26 | A | X-ray guide, intestinal tube | 0.76 | 0.27 | 0.26 | 0.27 | 0.26 | 0.03 | 1.06 | 1.05 | 1.06 | 1.05 | XXX
74355 | TC | A | X-ray guide, intestinal tube | 0.00 | 0.00 | 1.97 | NA | NA | 0.14 | 0.14 | 2.11 | NA | NA | XXX
74360 |  | A | X-ray guide, GI dilation | 0.54 | 0.25 | 2.58 | NA | NA | 0.19 | 0.98 | 3.31 | NA | NA | XXX
74360 | 26 | A | X-ray guide, GI dilation | 0.54 | 0.25 | 0.21 | 0.25 | 0.21 | 0.02 | 0.81 | 0.77 | 0.81 | 0.77 | XXX
74360 | TC | A | X-ray guide, GI dilation | 0.00 | 0.00 | 2.37 | NA | NA | 0.17 | 0.17 | 2.54 | NA | NA | XXX
74363 | 26 | A | X-ray, bile duct dilation | 0.88 | 0.32 | 0.30 | 0.32 | 0.30 | 0.04 | 1.24 | 1.22 | 1.24 | 1.22 | XXX
74400 |  | A | Contrst x-ray, urinary tract | 0.49 | 2.72 | 2.06 | NA | NA | 0.13 | 3.34 | 2.68 | NA | NA | XXX
74400 | 26 | A | Contrst x-ray, urinary tract | 0.49 | 0.17 | 0.16 | 0.17 | 0.16 | 0.02 | 0.68 | 0.67 | 0.68 | 0.67 | XXX
74400 | TC | A | Contrst x-ray, urinary tract | 0.00 | 2.55 | 1.90 | NA | NA | 0.11 | 2.66 | 2.01 | NA | NA | XXX
74410 |  | A | Contrst x-ray, urinary tract | 0.49 | 2.83 | 2.30 | NA | NA | 0.13 | 3.45 | 2.92 | NA | NA | XXX
74410 | 26 | A | Contrst x-ray, urinary tract | 0.49 | 0.18 | 0.17 | 0.18 | 0.17 | 0.02 | 0.69 | 0.68 | 0.69 | 0.68 | XXX
74410 | TC | A | Contrst x-ray, urinary tract | 0.00 | 2.65 | 2.13 | NA | NA | 0.11 | 2.76 | 2.24 | NA | NA | XXX
74415 |  | A | Contrst x-ray, urinary tract | 0.49 | 3.43 | 2.58 | NA | NA | 0.14 | 4.06 | 3.21 | NA | NA | XXX
74415 | 26 | A | Contrst x-ray, urinary tract | 0.49 | 0.17 | 0.16 | 0.17 | 0.16 | 0.02 | 0.68 | 0.67 | 0.68 | 0.67 | XXX
74415 | TC | A | Contrst x-ray, urinary tract | 0.00 | 3.25 | 2.41 | NA | NA | 0.12 | 3.37 | 2.53 | NA | NA | XXX
74420 |  | A | Contrst x-ray, urinary tract | 0.36 | 0.13 | 2.10 | NA | NA | 0.16 | 0.65 | 2.62 | NA | NA | XXX
74420 | 26 | A | Contrst x-ray, urinary tract | 0.36 | 0.13 | 0.12 | 0.13 | 0.12 | 0.02 | 0.51 | 0.50 | 0.51 | 0.50 | XXX
74420 | TC | A | Contrst x-ray, urinary tract | 0.00 | 0.00 | 1.97 | NA | NA | 0.14 | 0.14 | 2.11 | NA | NA | XXX
74425 |  | A | Contrst x-ray, urinary tract | 0.36 | 0.13 | 1.11 | NA | NA | 0.09 | 0.58 | 1.56 | NA | NA | XXX
74425 | 26 | A | Contrst x-ray, urinary tract | 0.36 | 0.13 | 0.12 | 0.13 | 0.12 | 0.02 | 0.51 | 0.50 | 0.51 | 0.50 | XXX
74425 | TC | A | Contrst x-ray, urinary tract | 0.00 | 0.00 | 0.98 | NA | NA | 0.07 | 0.07 | 1.05 | NA | NA | XXX
74430 |  | A | Contrast x-ray, bladder | 0.32 | 2.04 | 1.37 | NA | NA | 0.08 | 2.44 | 1.77 | NA | NA | XXX
74430 | 26 | A | Contrast x-ray, bladder | 0.32 | 0.12 | 0.11 | 0.12 | 0.11 | 0.02 | 0.46 | 0.45 | 0.46 | 0.45 | XXX
74430 | TC | A | Contrast x-ray, bladder | 0.00 | 1.93 | 1.27 | NA | NA | 0.06 | 1.99 | 1.33 | NA | NA | XXX
74440 |  | A | X-ray, male genital tract | 0.38 | 2.26 | 1.50 | NA | NA | 0.08 | 2.72 | 1.96 | NA | NA | XXX
74440 | 26 | A | X-ray, male genital tract | 0.38 | 0.15 | 0.13 | 0.15 | 0.13 | 0.02 | 0.55 | 0.53 | 0.55 | 0.53 | XXX
74440 | TC | A | X-ray, male genital tract | 0.00 | 2.11 | 1.38 | NA | NA | 0.06 | 2.17 | 1.44 | NA | NA | XXX
74445 |  | A | X-ray exam of penis | 1.14 | 0.46 | 1.24 | NA | NA | 0.13 | 1.73 | 2.51 | NA | NA | XXX
74445 | 26 | A | X-ray exam of penis | 1.14 | 0.46 | 0.39 | 0.46 | 0.39 | 0.07 | 1.67 | 1.60 | 1.67 | 1.60 | XXX
74445 | TC | A | X-ray exam of penis | 0.00 | 0.00 | 0.85 | NA | NA | 0.06 | 0.06 | 0.91 | NA | NA | XXX
74450 |  | A | X-ray, urethra/bladder | 0.33 | 0.12 | 1.21 | NA | NA | 0.10 | 0.55 | 1.64 | NA | NA | XXX
74450 | 26 | A | X-ray, urethra/bladder | 0.33 | 0.12 | 0.11 | 0.12 | 0.11 | 0.02 | 0.47 | 0.46 | 0.47 | 0.46 | XXX
74450 | TC | A | X-ray, urethra/bladder | 0.00 | 0.00 | 1.10 | NA | NA | 0.08 | 0.08 | 1.18 | NA | NA | XXX
74455 |  | A | X-ray, urethra/bladder | 0.33 | 2.26 | 1.83 | NA | NA | 0.12 | 2.71 | 2.28 | NA | NA | XXX
74455 | 26 | A | X-ray, urethra/bladder | 0.33 | 0.13 | 0.12 | 0.13 | 0.12 | 0.02 | 0.48 | 0.47 | 0.48 | 0.47 | XXX
74455 | TC | A | X-ray, urethra/bladder | 0.00 | 2.13 | 1.72 | NA | NA | 0.10 | 2.23 | 1.82 | NA | NA | XXX
74470 |  | A | X-ray exam of kidney lesion | 0.54 | 0.17 | 1.12 | NA | NA | 0.09 | 0.80 | 1.75 | NA | NA | XXX
74470 | 26 | A | X-ray exam of kidney lesion | 0.54 | 0.17 | 0.18 | 0.17 | 0.18 | 0.02 | 0.73 | 0.74 | 0.73 | 0.74 | XXX
74470 | TC | A | X-ray exam of kidney lesion | 0.00 | 0.00 | 0.94 | NA | NA | 0.07 | 0.07 | 1.01 | NA | NA | XXX
74475 |  | A | X-ray control, cath insert | 0.54 | 2.22 | 3.75 | NA | NA | 0.24 | 3.00 | 4.53 | NA | NA | XXX
74475 | 26 | A | X-ray control, cath insert | 0.54 | 0.19 | 0.18 | 0.19 | 0.18 | 0.02 | 0.75 | 0.74 | 0.75 | 0.74 | XXX
74475 | TC | A | X-ray control, cath insert | 0.00 | 2.03 | 3.57 | NA | NA | 0.22 | 2.25 | 3.79 | NA | NA | XXX
74480 |  | A | X-ray control, cath insert | 0.54 | 2.23 | 3.75 | NA | NA | 0.24 | 3.01 | 4.53 | NA | NA | XXX
74480 | 26 | A | X-ray control, cath insert | 0.54 | 0.20 | 0.19 | 0.20 | 19 | 0.02 | 0.76 | 0.75 | 0.76 | 0.75 | XXX
74480 | TC | A | X-ray control, cath insert | 0.00 | 2.04 | 3.57 | NA | NA | 0.22 | 2.26 | 3.79 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
74485 |  | A | X-ray guide, GU dilation | 0.54 | 2.38 | 3.09 | NA | NA | 0.20 | 3.12 | 3.83 | NA | NA | XXX
74485 | 26 | A | X-ray guide, GU dilation | 0.54 | 0.21 | 0.18 | 0.21 | 0.18 | 0.03 | 0.78 | 0.75 | 0.78 | 0.75 | XXX
74485 | TC | A | X-ray guide, GU dilation | 0.00 | 2.18 | 2.92 | NA | NA | 0.17 | 2.35 | 3.09 | NA | NA | XXX
74710 |  | A | X-ray measurement of pelvis | 0.34 | 0.67 | 1.04 | NA | NA | 0.08 | 1.09 | 1.46 | NA | NA | XXX
74710 | 26 | A | X-ray measurement of pelvis | 0.34 | 0.12 | 0.11 | 0.12 | 0.11 | 0.02 | 0.48 | 0.47 | 0.48 | 0.47 | XXX
74710 | TC | A | X-ray measurement of pelvis | 0.00 | 0.56 | 0.93 | NA | NA | 0.06 | 0.62 | 0.99 | NA | NA | XXX
74740 |  | A | X-ray, female genital tract | 0.38 | 1.83 | 1.54 | NA | NA | 0.09 | 2.30 | 2.01 | NA | NA | XXX
74740 | 26 | A | X-ray, female genital tract | 0.38 | 0.13 | 0.13 | 0.13 | 0.13 | 0.02 | 0.53 | 0.53 | 0.53 | 0.53 | XXX
74740 | TC | A | X-ray, female genital tract | 0.00 | 1.70 | 1.41 | NA | NA | 0.07 | 1.77 | 1.48 | NA | NA | XXX
74742 | 26 | A | X-ray, fallopian tube | 0.61 | 0.19 | 0.20 | 0.19 | 0.20 | 0.03 | 0.83 | 0.84 | 0.83 | 0.84 | XXX
74775 |  | A | X-ray exam of perineum | 0.62 | 0.21 | 1.31 | NA | NA | 0.11 | 0.94 | 2.04 | NA | NA | XXX
74775 | 26 | A | X-ray exam of perineum | 0.62 | 0.21 | 0.21 | 0.21 | 0.21 | 0.03 | 0.86 | 0.86 | 0.86 | 0.86 | XXX
74775 | TC | A | X-ray exam of perineum | 0.00 | 0.00 | 1.10 | NA | NA | 0.08 | 0.08 | 1.18 | NA | NA | XXX
75552 |  | A | Heart mri for morph w/o dye | 1.60 | 19.96 | 13.81 | NA | NA | 0.66 | 22.22 | 16.07 | NA | NA | XXX
75552 | 26 | A | Heart mri for morph w/o dye | 1.60 | 0.61 | 0.55 | 0.61 | 0.55 | 0.07 | 2.28 | 2.22 | 2.28 | 2.22 | XXX
75552 | TC | A | Heart mri for morph w/o dye | 0.00 | 19.35 | 13.26 | NA | NA | 0.59 | 19.94 | 13.85 | NA | NA | XXX
75553 |  | A | Heart mri for morph w/dye | 2.00 | 24.80 | 15.11 | NA | NA | 0.66 | 27.46 | 17.77 | NA | NA | XXX
75553 | 26 | A | Heart mri for morph w/dye | 2.00 | 0.98 | 0.73 | 0.98 | 0.73 | 0.07 | 3.05 | 2.80 | 3.05 | 2.80 | XXX
75553 | TC | A | Heart mri for morph w/dye | 0.00 | 23.82 | 14.38 | NA | NA | 0.59 | 24.41 | 14.97 | NA | NA | XXX
75554 |  | A | Cardiac MRI/function | 1.83 | 27.96 | 15.89 | NA | NA | 0.66 | 30.45 | 18.38 | NA | NA | XXX
75554 | 26 | A | Cardiac MRI/function | 1.83 | 0.84 | 0.69 | 0.84 | 0.69 | 0.07 | 2.74 | 2.59 | 2.74 | 2.59 | XXX
75554 | TC | A | Cardiac MRI/function | 0.00 | 27.12 | 15.20 | NA | NA | 0.59 | 27.71 | 15.79 | NA | NA | XXX
75555 |  | A | Cardiac MRI/limited study | 1.74 | 28.19 | 15.95 | NA | NA | 0.66 | 30.59 | 18.35 | NA | NA | XXX
75555 | 26 | A | Cardiac MRI/limited study | 1.74 | 0.87 | 0.70 | 0.87 | 0.70 | 0.07 | 2.68 | 2.51 | 2.68 | 2.51 | XXX
75555 | TC | A | Cardiac MRI/limited study | 0.00 | 27.32 | 15.25 | NA | NA | 0.59 | 27.91 | 15.84 | NA | NA | XXX
75600 |  | A | Contrast x-ray exam of aorta | 0.49 | 6.59 | 11.27 | NA | NA | 0.67 | 7.75 | 12.43 | NA | NA | XXX
75600 | 26 | A | Contrast x-ray exam of aorta | 0.49 | 0.26 | 0.21 | 0.26 | 0.21 | 0.02 | 0.77 | 0.72 | 0.77 | 0.72 | XXX
75600 | TC | A | Contrast x-ray exam of aorta | 0.00 | 6.33 | 11.06 | NA | NA | 0.65 | 6.98 | 11.71 | NA | NA | XXX
75605 |  | A | Contrast x-ray exam of aorta | 1.14 | 3.70 | 10.71 | NA | NA | 0.70 | 5.54 | 12.55 | NA | NA | XXX
75605 | 26 | A | Contrast x-ray exam of aorta | 1.14 | 0.52 | 0.43 | 0.52 | 0.43 | 0.05 | 1.71 | 1.62 | 1.71 | 1.62 | XXX
75605 | TC | A | Contrast x-ray exam of aorta | 0.00 | 3.18 | 10.28 | NA | NA | 0.65 | 3.83 | 10.93 | NA | NA | XXX
75625 |  | A | Contrast x-ray exam of aorta | 1.14 | 3.49 | 10.64 | NA | NA | 0.71 | 5.34 | 12.49 | NA | NA | XXX
75625 | 26 | A | Contrast x-ray exam of aorta | 1.14 | 0.44 | 0.40 | 0.44 | 0.40 | 0.06 | 1.64 | 1.60 | 1.64 | 1.60 | XXX
75625 | TC | A | Contrast x-ray exam of aorta | 0.00 | 3.05 | 10.24 | NA | NA | 0.65 | 3.70 | 10.89 | NA | NA | XXX
75630 |  | A | X-ray aorta, leg arteries | 1.79 | 3.89 | 11.31 | NA | NA | 0.80 | 6.48 | 13.90 | NA | NA | XXX
75630 | 26 | A | X-ray aorta, leg arteries | 1.79 | 0.74 | 0.64 | 0.74 | 0.64 | 0.11 | 2.64 | 2.54 | 2.64 | 2.54 | XXX
75630 | TC | A | X-ray aorta, leg arteries | 0.00 | 3.14 | 10.66 | NA | NA | 0.69 | 3.83 | 11.35 | NA | NA | XXX
75635 |  | A | Ct angio abdominal arteries | 2.40 | 13.37 | 15.91 | NA | NA | 0.50 | 16.27 | 18.81 | NA | NA | XXX
75635 | 26 | A | Ct angio abdominal arteries | 2.40 | 0.90 | 0.82 | 0.90 | 0.82 | 0.11 | 3.41 | 3.33 | 3.41 | 3.33 | XXX
75635 | TC | A | Ct angio abdominal arteries | 0.00 | 12.47 | 15.09 | NA | NA | 0.39 | 12.86 | 15.48 | NA | NA | XXX
75650 |  | A | Artery x-rays, head & neck | 1.49 | 3.65 | 10.76 | NA | NA | 0.72 | 5.86 | 12.97 | NA | NA | XXX
75650 | 26 | A | Artery x-rays, head & neck | 1.49 | 0.59 | 0.52 | 0.59 | 0.52 | 0.07 | 2.15 | 2.08 | 2.15 | 2.08 | XXX
75650 | TC | A | Artery x-rays, head & neck | 0.00 | 3.06 | 10.25 | NA | NA | 0.65 | 3.71 | 10.90 | NA | NA | XXX
75658 |  | A | Artery x-rays, arm | 1.31 | 3.98 | 10.83 | NA | NA | 0.72 | 6.01 | 12.86 | NA | NA | XXX
75658 | 26 | A | Artery x-rays, arm | 1.31 | 0.51 | 0.48 | 0.51 | 0.48 | 0.07 | 1.89 | 1.86 | 1.89 | 1.86 | XXX
75658 | TC | A | Artery x-rays, arm | 0.00 | 3.47 | 10.35 | NA | NA | 0.65 | 4.12 | 11.00 | NA | NA | XXX
75660 |  | A | Artery x-rays, head & neck | 1.31 | 4.07 | 10.83 | NA | NA | 0.71 | 6.09 | 12.85 | NA | NA | XXX
75660 | 26 | A | Artery x-rays, head & neck | 1.31 | 0.52 | 0.46 | 0.52 | 0.46 | 0.06 | 1.89 | 1.83 | 1.89 | 1.83 | XXX
75660 | TC | A | Artery x-rays, head & neck | 0.00 | 3.55 | 10.37 | NA | NA | 0.65 | 4.20 | 11.02 | NA | NA | XXX
75662 |  | A | Artery x-rays, head & neck | 1.66 | 5.24 | 11.23 | NA | NA | 0.71 | 7.61 | 13.60 | NA | NA | XXX
75662 | 26 | A | Artery x-rays, head & neck | 1.66 | 0.75 | 0.63 | 0.75 | 0.63 | 0.06 | 2.47 | 2.35 | 2.47 | 2.35 | XXX
75662 | TC | A | Artery x-rays, head & neck | 0.00 | 4.49 | 10.60 | NA | NA | 0.65 | 5.14 | 11.25 | NA | NA | XXX
75665 |  | A | Artery x-rays, head & neck | 1.31 | 4.25 | 10.87 | NA | NA | 0.74 | 6.30 | 12.92 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
75665 | 26 | A | Artery x-rays, head & neck | 1.31 | 0.49 | 0.45 | 0.49 | 0.45 | 0.09 | 1.89 | 1.85 | 1.89 | 1.85 | XXX
75665 | TC | A | Artery x-rays, head & neck | 0.00 | 3.76 | 10.42 | NA | NA | 0.65 | 4.41 | 11.07 | NA | NA | XXX
75671 |  | A | Artery x-rays, head & neck | 1.66 | 5.28 | 11.21 | NA | NA | 0.72 | 7.66 | 13.59 | NA | NA | XXX
75671 | 26 | A | Artery x-rays, head & neck | 1.66 | 0.65 | 0.58 | 0.65 | 0.58 | 0.07 | 2.38 | 2.31 | 2.38 | 2.31 | XXX
75671 | TC | A | Artery x-rays, head & neck | 0.00 | 4.63 | 10.64 | NA | NA | 0.65 | 5.28 | 11.29 | NA | NA | XXX
75676 |  | A | Artery x-rays, neck | 1.31 | 4.00 | 10.81 | NA | NA | 0.72 | 6.03 | 12.84 | NA | NA | XXX
75676 | 26 | A | Artery x-rays, neck | 1.31 | 0.49 | 0.45 | 0.49 | 0.45 | 0.07 | 1.87 | 1.83 | 1.87 | 1.83 | XXX
75676 | TC | A | Artery x-rays, neck | 0.00 | 3.50 | 10.36 | NA | NA | 0.65 | 4.15 | 11.01 | NA | NA | XXX
75680 |  | A | Artery x-rays, neck | 1.66 | 4.77 | 11.09 | NA | NA | 0.72 | 7.15 | 13.47 | NA | NA | XXX
75680 | 26 | A | Artery x-rays, neck | 1.66 | 0.67 | 0.58 | 0.67 | 0.58 | 0.07 | 2.40 | 2.31 | 2.40 | 2.31 | XXX
75680 | TC | A | Artery x-rays, neck | 0.00 | 4.09 | 10.50 | NA | NA | 0.65 | 4.74 | 11.15 | NA | NA | XXX
75685 |  | A | Artery x-rays, spine | 1.31 | 4.04 | 10.81 | NA | NA | 0.71 | 6.06 | 12.83 | NA | NA | XXX
75685 | 26 | A | Artery x-rays, spine | 1.31 | 0.52 | 0.45 | 0.52 | 0.45 | 0.06 | 1.89 | 1.82 | 1.89 | 1.82 | XXX
75685 | TC | A | Artery x-rays, spine | 0.00 | 3.52 | 10.36 | NA | NA | 0.65 | 4.17 | 11.01 | NA | NA | XXX
75705 |  | A | Artery x-rays, spine | 2.18 | 4.27 | 11.10 | NA | NA | 0.78 | 7.23 | 14.06 | NA | NA | XXX
75705 | 26 | A | Artery x-rays, spine | 2.18 | 0.79 | 0.75 | 0.79 | 0.75 | 0.13 | 3.10 | 3.06 | 3.10 | 3.06 | XXX
75705 | TC | A | Artery x-rays, spine | 0.00 | 3.49 | 10.35 | NA | NA | 0.65 | 4.14 | 11.00 | NA | NA | XXX
75710 |  | A | Artery x-rays, arm/leg | 1.14 | 4.10 | 10.80 | NA | NA | 0.72 | 5.96 | 12.66 | NA | NA | XXX
75710 | 26 | A | Artery x-rays, arm/leg | 1.14 | 0.44 | 0.40 | 0.44 | 0.40 | 0.07 | 1.65 | 1.61 | 1.65 | 1.61 | XXX
75710 | TC | A | Artery x-rays, arm/leg | 0.00 | 3.66 | 10.40 | NA | NA | 0.65 | 4.31 | 11.05 | NA | NA | XXX
75716 |  | A | Artery x-rays, arms/legs | 1.31 | 5.10 | 11.08 | NA | NA | 0.72 | 7.13 | 13.11 | NA | NA | XXX
75716 | 26 | A | Artery x-rays, arms/legs | 1.31 | 0.52 | 0.45 | 0.52 | 0.45 | 0.07 | 1.90 | 1.83 | 1.90 | 1.83 | XXX
75716 | TC | A | Artery x-rays, arms/legs | 0.00 | 4.58 | 10.63 | NA | NA | 0.65 | 5.23 | 11.28 | NA | NA | XXX
75722 |  | A | Artery x-rays, kidney | 1.14 | 4.00 | 10.78 | NA | NA | 0.70 | 5.84 | 12.62 | NA | NA | XXX
75722 | 26 | A | Artery x-rays, kidney | 1.14 | 0.49 | 0.42 | 0.49 | 0.42 | 0.05 | 1.68 | 1.61 | 1.68 | 1.61 | XXX
75722 | TC | A | Artery x-rays, kidney | 0.00 | 3.51 | 10.36 | NA | NA | 0.65 | 4.16 | 11.01 | NA | NA | XXX
75724 |  | A | Artery x-rays, kidneys | 1.49 | 5.30 | 11.23 | NA | NA | 0.70 | 7.49 | 13.42 | NA | NA | XXX
75724 | 26 | A | Artery x-rays, kidneys | 1.49 | 0.77 | 0.61 | 0.77 | 0.61 | 0.05 | 2.31 | 2.15 | 2.31 | 2.15 | XXX
75724 | TC | A | Artery x-rays, kidneys | 0.00 | 4.52 | 10.61 | NA | NA | 0.65 | 5.17 | 11.26 | NA | NA | XXX
75726 |  | A | Artery x-rays, abdomen | 1.14 | 3.92 | 10.74 | NA | NA | 0.70 | 5.76 | 12.58 | NA | NA | XXX
75726 | 26 | A | Artery x-rays, abdomen | 1.14 | 0.42 | 0.38 | 0.42 | 0.38 | 0.05 | 1.61 | 1.57 | 1.61 | 1.57 | XXX
75726 | TC | A | Artery x-rays, abdomen | 0.00 | 3.50 | 10.36 | NA | NA | 0.65 | 4.15 | 11.01 | NA | NA | XXX
75731 |  | A | Artery x-rays, adrenal gland | 1.14 | 4.05 | 10.77 | NA | NA | 0.71 | 5.90 | 12.62 | NA | NA | XXX
75731 | 26 | A | Artery x-rays, adrenal gland | 1.14 | 0.45 | 0.39 | 0.45 | 0.39 | 0.06 | 1.65 | 1.59 | 1.65 | 1.59 | XXX
75731 | TC | A | Artery x-rays, adrenal gland | 0.00 | 3.60 | 10.38 | NA | NA | 0.65 | 4.25 | 11.03 | NA | NA | XXX
75733 |  | A | Artery x-rays, adrenals | 1.31 | 5.42 | 11.17 | NA | NA | 0.71 | 7.44 | 13.19 | NA | NA | XXX
75733 | 26 | A | Artery x-rays, adrenals | 1.31 | 0.62 | 0.49 | 0.62 | 0.49 | 0.06 | 1.99 | 1.86 | 1.99 | 1.86 | XXX
75733 | TC | A | Artery x-rays, adrenals | 0.00 | 4.80 | 10.68 | NA | NA | 0.65 | 5.45 | 11.33 | NA | NA | XXX
75736 |  | A | Artery x-rays, pelvis | 1.14 | 4.02 | 10.77 | NA | NA | 0.71 | 5.87 | 12.62 | NA | NA | XXX
75736 | 26 | A | Artery x-rays, pelvis | 1.14 | 0.44 | 0.40 | 0.44 | 0.40 | 0.06 | 1.64 | 1.60 | 1.64 | 1.60 | XXX
75736 | TC | A | Artery x-rays, pelvis | 0.00 | 3.58 | 10.38 | NA | NA | 0.65 | 4.23 | 11.03 | NA | NA | XXX
75741 |  | A | Artery x-rays, lung | 1.31 | 3.29 | 10.63 | NA | NA | 0.71 | 5.31 | 12.65 | NA | NA | XXX
75741 | 26 | A | Artery x-rays, lung | 1.31 | 0.49 | 0.45 | 0.49 | 0.45 | 0.06 | 1.86 | 1.82 | 1.86 | 1.82 | XXX
75741 | TC | A | Artery x-rays, lung | 0.00 | 2.81 | 10.18 | NA | NA | 0.65 | 3.46 | 10.83 | NA | NA | XXX
75743 |  | A | Artery x-rays, lungs | 1.66 | 3.70 | 10.81 | NA | NA | 0.72 | 6.08 | 13.19 | NA | NA | XXX
75743 | 26 | A | Artery x-rays, lungs | 1.66 | 0.62 | 0.56 | 0.62 | 0.56 | 0.07 | 2.35 | 2.29 | 2.35 | 2.29 | XXX
75743 | TC | A | Artery x-rays, lungs | 0.00 | 3.08 | 10.25 | NA | NA | 0.65 | 3.73 | 10.90 | NA | NA | XXX
75746 |  | A | Artery x-rays, lung | 1.14 | 3.60 | 10.67 | NA | NA | 0.70 | 5.44 | 12.51 | NA | NA | XXX
75746 | 26 | A | Artery x-rays, lung | 1.14 | 0.39 | 0.38 | 0.39 | 0.38 | 0.05 | 1.58 | 1.57 | 1.58 | 1.57 | XXX
75746 | TC | A | Artery x-rays, lung | 0.00 | 3.21 | 10.28 | NA | NA | 0.65 | 3.86 | 10.93 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
75756 |  | A | Artery x-rays, chest | 1.14 | 4.51 | 10.95 | NA | NA | 0.69 | 6.34 | 12.78 | NA | NA | XXX
75756 | 26 | A | Artery x-rays, chest | 1.14 | 0.62 | 0.49 | 0.62 | 0.49 | 0.04 | 1.80 | 1.67 | 1.80 | 1.67 | XXX
75756 | TC | A | Artery x-rays, chest | 0.00 | 3.90 | 10.46 | NA | NA | 0.65 | 4.55 | 11.11 | NA | NA | XXX
75774 |  | A | Artery x-ray, each vessel | 0.36 | 2.61 | 10.22 | NA | NA | 0.67 | 3.64 | 11.25 | NA | NA | ZZZ
75774 | 26 | A | Artery x-ray, each vessel | 0.36 | 0.14 | 0.13 | 0.14 | 0.13 | 0.02 | 0.52 | 0.51 | 0.52 | 0.51 | ZZZ
75774 | TC | A | Artery x-ray, each vessel | 0.00 | 2.47 | 10.10 | NA | NA | 0.65 | 3.12 | 10.75 | NA | NA | ZZZ
75790 |  | A | Visualize A-V shunt | 1.84 | 3.24 | 2.27 | NA | NA | 0.17 | 5.25 | 4.28 | NA | NA | XXX
75790 | 26 | A | Visualize A-V shunt | 1.84 | 0.61 | 0.60 | 0.61 | 0.60 | 0.09 | 2.54 | 2.53 | 2.54 | 2.53 | XXX
75790 | TC | A | Visualize A-V shunt | 0.00 | 2.63 | 1.67 | NA | NA | 0.08 | 2.71 | 1.75 | NA | NA | XXX
75801 |  | A | Lymph vessel x-ray, arm/leg | 0.81 | 0.22 | 4.33 | NA | NA | 0.37 | 1.40 | 5.51 | NA | NA | XXX
75801 | 26 | A | Lymph vessel x-ray, arm/leg | 0.81 | 0.22 | 0.26 | 0.22 | 0.26 | 0.08 | 1.11 | 1.15 | 1.11 | 1.15 | XXX
75801 | TC | A | Lymph vessel x-ray, arm/leg | 0.00 | 0.00 | 4.07 | NA | NA | 0.29 | 0.29 | 4.36 | NA | NA | XXX
75803 |  | A | Lymph vessel x-ray,arms/legs | 1.17 | 0.38 | 4.45 | NA | NA | 0.34 | 1.89 | 5.96 | NA | NA | XXX
75803 | 26 | A | Lymph vessel x-ray,arms/legs | 1.17 | 0.38 | 0.38 | 0.38 | 0.38 | 0.05 | 1.60 | 1.60 | 1.60 | 1.60 | XXX
75803 | TC | A | Lymph vessel x-ray,arms/legs | 0.00 | 0.00 | 4.07 | NA | NA | 0.29 | 0.29 | 4.36 | NA | NA | XXX
75805 |  | A | Lymph vessel x-ray, trunk | 0.81 | 0.23 | 4.85 | NA | NA | 0.38 | 1.42 | 6.04 | NA | NA | XXX
75805 | 26 | A | Lymph vessel x-ray, trunk | 0.81 | 0.23 | 0.26 | 0.23 | 0.26 | 0.05 | 1.09 | 1.12 | 1.09 | 1.12 | XXX
75805 | TC | A | Lymph vessel x-ray, trunk | 0.00 | 0.00 | 4.59 | NA | NA | 0.33 | 0.33 | 4.92 | NA | NA | XXX
75807 | 26 | A | Lymph vessel x-ray, trunk | 1.17 | 0.41 | 0.39 | 0.41 | 0.39 | 0.05 | 1.63 | 1.61 | 1.63 | 1.61 | XXX
75809 |  | A | Nonvascular shunt, x-ray | 0.47 | 2.28 | 1.27 | NA | NA | 0.07 | 2.82 | 1.81 | NA | NA | XXX
75809 | 26 | A | Nonvascular shunt, x-ray | 0.47 | 0.16 | 0.15 | 0.16 | 0.15 | 0.02 | 0.65 | 0.64 | 0.65 | 0.64 | XXX
75809 | TC | A | Nonvascular shunt, x-ray | 0.00 | 2.12 | 1.12 | NA | NA | 0.05 | 2.17 | 1.17 | NA | NA | XXX
75810 |  | A | Vein x-ray, spleen/liver | 1.14 | 0.43 | 9.87 | NA | NA | 0.70 | 2.27 | 11.71 | NA | NA | XXX
75810 | 26 | A | Vein x-ray, spleen/liver | 1.14 | 0.43 | 0.39 | 0.43 | 0.39 | 0.05 | 1.62 | 1.58 | 1.62 | 1.58 | XXX
75810 | TC | A | Vein x-ray, spleen/liver | 0.00 | 0.00 | 9.48 | NA | NA | 0.65 | 0.65 | 10.13 | NA | NA | XXX
75820 |  | A | Vein x-ray, arm/leg | 0.70 | 3.11 | 1.66 | NA | NA | 0.09 | 3.90 | 2.45 | NA | NA | XXX
75820 | 26 | A | Vein x-ray, arm/leg | 0.70 | 0.29 | 0.25 | 0.29 | 0.25 | 0.03 | 1.02 | 0.98 | 1.02 | 0.98 | XXX
75820 | TC | A | Vein x-ray, arm/leg | 0.00 | 2.82 | 1.42 | NA | NA | 0.06 | 2.88 | 1.48 | NA | NA | XXX
75822 |  | A | Vein x-ray, arms/legs | 1.06 | 3.32 | 2.20 | NA | NA | 0.13 | 4.51 | 3.39 | NA | NA | XXX
75822 | 26 | A | Vein x-ray, arms/legs | 1.06 | 0.38 | 0.36 | 0.38 | 0.36 | 0.05 | 1.49 | 1.47 | 1.49 | 1.47 | XXX
75822 | TC | A | Vein x-ray, arms/legs | 0.00 | 2.95 | 1.85 | NA | NA | 0.08 | 3.03 | 1.93 | NA | NA | XXX
75825 |  | A | Vein x-ray, trunk | 1.14 | 3.07 | 10.53 | NA | NA | 0.72 | 4.93 | 12.39 | NA | NA | XXX
75825 | 26 | A | Vein x-ray, trunk | 1.14 | 0.39 | 0.38 | 0.39 | 0.38 | 0.07 | 1.60 | 1.59 | 1.60 | 1.59 | XXX
75825 | TC | A | Vein x-ray, trunk | 0.00 | 2.67 | 10.15 | NA | NA | 0.65 | 3.32 | 10.80 | NA | NA | XXX
75827 |  | A | Vein x-ray, chest | 1.14 | 3.10 | 10.53 | NA | NA | 0.70 | 4.94 | 12.37 | NA | NA | XXX
75827 | 26 | A | Vein x-ray, chest | 1.14 | 0.39 | 0.38 | 0.39 | 0.38 | 0.05 | 1.58 | 1.57 | 1.58 | 1.57 | XXX
75827 | TC | A | Vein x-ray, chest | 0.00 | 2.71 | 10.16 | NA | NA | 0.65 | 3.36 | 10.81 | NA | NA | XXX
75831 |  | A | Vein x-ray, kidney | 1.14 | 3.19 | 10.56 | NA | NA | 0.71 | 5.04 | 12.41 | NA | NA | XXX
75831 | 26 | A | Vein x-ray, kidney | 1.14 | 0.39 | 0.38 | 0.39 | 0.38 | 0.06 | 1.59 | 1.58 | 1.59 | 1.58 | XXX
75831 | TC | A | Vein x-ray, kidney | 0.00 | 2.79 | 10.18 | NA | NA | 0.65 | 3.44 | 10.83 | NA | NA | XXX
75833 |  | A | Vein x-ray, kidneys | 1.49 | 3.86 | 10.81 | NA | NA | 0.74 | 6.09 | 13.04 | NA | NA | XXX
75833 | 26 | A | Vein x-ray, kidneys | 1.49 | 0.51 | 0.50 | 0.51 | 0.50 | 0.09 | 2.09 | 2.08 | 2.09 | 2.08 | XXX
75833 | TC | A | Vein x-ray, kidneys | 0.00 | 3.35 | 10.32 | NA | NA | 0.65 | 4.00 | 10.97 | NA | NA | XXX
75840 |  | A | Vein x-ray, adrenal gland | 1.14 | 3.41 | 10.62 | NA | NA | 0.72 | 5.27 | 12.48 | NA | NA | XXX
75840 | 26 | A | Vein x-ray, adrenal gland | 1.14 | 0.48 | 0.41 | 0.48 | 0.41 | 0.07 | 1.69 | 1.62 | 1.69 | 1.62 | XXX
75840 | TC | A | Vein x-ray, adrenal gland | 0.00 | 2.93 | 10.21 | NA | NA | 0.65 | 3.58 | 10.86 | NA | NA | XXX
75842 |  | A | Vein x-ray, adrenal glands | 1.49 | 3.87 | 10.81 | NA | NA | 0.72 | 6.08 | 13.02 | NA | NA | XXX
75842 | 26 | A | Vein x-ray, adrenal glands | 1.49 | 0.54 | 0.50 | 0.54 | 0.50 | 0.07 | 2.10 | 2.06 | 2.10 | 2.06 | XXX
75842 | TC | A | Vein x-ray, adrenal glands | 0.00 | 3.33 | 10.31 | NA | NA | 0.65 | 3.98 | 10.96 | NA | NA | XXX
75860 |  | A | Vein x-ray, neck | 1.14 | 3.55 | 10.66 | NA | NA | 0.69 | 5.38 | 12.49 | NA | NA | XXX
75860 | 26 | A | Vein x-ray, neck | 1.14 | 0.52 | 0.42 | 0.52 | 0.42 | 0.04 | 1.70 | 1.60 | 1.70 | 1.60 | XXX
75860 | TC | A | Vein x-ray, neck | 0.00 | 3.03 | 10.24 | NA | NA | 0.65 | 3.68 | 10.89 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
75870 |  | A | Vein x-ray, skull | 1.14 | 3.35 | 10.61 | NA | NA | 0.70 | 5.19 | 12.45 | NA | NA | XXX
75870 | 26 | A | Vein x-ray, skull | 1.14 | 0.42 | 0.40 | 0.42 | 0.40 | 0.05 | 1.61 | 1.59 | 1.61 | 1.59 | XXX
75870 | TC | A | Vein x-ray, skull | 0.00 | 2.93 | 10.21 | NA | NA | 0.65 | 3.58 | 10.86 | NA | NA | XXX
75872 |  | A | Vein x-ray, skull | 1.14 | 3.89 | 10.73 | NA | NA | 0.79 | 5.82 | 12.66 | NA | NA | XXX
75872 | 26 | A | Vein x-ray, skull | 1.14 | 0.42 | 0.38 | 0.42 | 0.38 | 0.14 | 1.70 | 1.66 | 1.70 | 1.66 | XXX
75872 | TC | A | Vein x-ray, skull | 0.00 | 3.47 | 10.35 | NA | NA | 0.65 | 4.12 | 11.00 | NA | NA | XXX
75880 |  | A | Vein x-ray, eye socket | 0.70 | 3.07 | 1.65 | NA | NA | 0.09 | 3.86 | 2.44 | NA | NA | XXX
75880 | 26 | A | Vein x-ray, eye socket | 0.70 | 0.24 | 0.23 | 0.24 | 0.23 | 0.03 | 0.97 | 0.96 | 0.97 | 0.96 | XXX
75880 | TC | A | Vein x-ray, eye socket | 0.00 | 2.83 | 1.42 | NA | NA | 0.06 | 2.89 | 1.48 | NA | NA | XXX
75885 |  | A | Vein x-ray, liver | 1.44 | 3.34 | 10.67 | NA | NA | 0.71 | 5.49 | 12.82 | NA | NA | XXX
75885 | 26 | A | Vein x-ray, liver | 1.44 | 0.52 | 0.48 | 0.52 | 0.48 | 0.06 | 2.02 | 1.98 | 2.02 | 1.98 | XXX
75885 | TC | A | Vein x-ray, liver | 0.00 | 2.82 | 10.19 | NA | NA | 0.65 | 3.47 | 10.84 | NA | NA | XXX
75887 |  | A | Vein x-ray, liver | 1.44 | 3.48 | 10.70 | NA | NA | 0.71 | 5.63 | 12.85 | NA | NA | XXX
75887 | 26 | A | Vein x-ray, liver | 1.44 | 0.55 | 0.49 | 0.55 | 0.49 | 0.06 | 2.05 | 1.99 | 2.05 | 1.99 | XXX
75887 | TC | A | Vein x-ray, liver | 0.00 | 2.94 | 10.22 | NA | NA | 0.65 | 3.59 | 10.87 | NA | NA | XXX
75889 |  | A | Vein x-ray, liver | 1.14 | 3.24 | 10.57 | NA | NA | 0.70 | 5.08 | 12.41 | NA | NA | XXX
75889 | 26 | A | Vein x-ray, liver | 1.14 | 0.42 | 0.38 | 0.42 | 0.38 | 0.05 | 1.61 | 1.57 | 1.61 | 1.57 | XXX
75889 | TC | A | Vein x-ray, liver | 0.00 | 2.82 | 10.19 | NA | NA | 0.65 | 3.47 | 10.84 | NA | NA | XXX
75891 |  | A | Vein x-ray, liver | 1.14 | 3.21 | 10.56 | NA | NA | 0.70 | 5.05 | 12.40 | NA | NA | XXX
75891 | 26 | A | Vein x-ray, liver | 1.14 | 0.41 | 0.38 | 0.41 | 0.38 | 0.05 | 1.60 | 1.57 | 1.60 | 1.57 | XXX
75891 | TC | A | Vein x-ray, liver | 0.00 | 2.80 | 10.18 | NA | NA | 0.65 | 3.45 | 10.83 | NA | NA | XXX
75893 |  | A | Venous sampling by catheter | 0.54 | 2.99 | 10.36 | NA | NA | 0.67 | 4.20 | 11.57 | NA | NA | XXX
75893 | 26 | A | Venous sampling by catheter | 0.54 | 0.19 | 0.18 | 0.19 | 0.18 | 0.02 | 0.75 | 0.74 | 0.75 | 0.74 | XXX
75893 | TC | A | Venous sampling by catheter | 0.00 | 2.80 | 10.18 | NA | NA | 0.65 | 3.45 | 10.83 | NA | NA | XXX
75894 |  | A | X-rays, transcath therapy | 1.31 | 0.46 | 18.59 | NA | NA | 1.35 | 3.12 | 21.25 | NA | NA | XXX
75894 | 26 | A | X-rays, transcath therapy | 1.31 | 0.46 | 0.44 | 0.46 | 0.44 | 0.08 | 1.85 | 1.83 | 1.85 | 1.83 | XXX
75894 | TC | A | X-rays, transcath therapy | 0.00 | 0.00 | 18.15 | NA | NA | 1.27 | 1.27 | 19.42 | NA | NA | XXX
75896 |  | A | X-rays, transcath therapy | 1.31 | 0.54 | 16.26 | NA | NA | 1.15 | 3.00 | 18.72 | NA | NA | XXX
75896 | 26 | A | X-rays, transcath therapy | 1.31 | 0.54 | 0.47 | 0.54 | 0.47 | 0.05 | 1.90 | 1.83 | 1.90 | 1.83 | XXX
75896 | TC | A | X-rays, transcath therapy | 0.00 | 0.00 | 15.79 | NA | NA | 1.10 | 1.10 | 16.89 | NA | NA | XXX
75898 |  | A | Follow-up angiography | 1.65 | 0.65 | 1.36 | NA | NA | 0.13 | 2.43 | 3.14 | NA | NA | XXX
75898 | 26 | A | Follow-up angiography | 1.65 | 0.65 | 0.58 | 0.65 | 0.58 | 0.07 | 2.37 | 2.30 | 2.37 | 2.30 | XXX
75898 | TC | A | Follow-up angiography | 0.00 | 0.00 | 0.79 | NA | NA | 0.06 | 0.06 | 0.85 | NA | NA | XXX
75900 | 26 | A | Intravascular cath exchange | 0.49 | 0.17 | 0.16 | 0.17 | 0.16 | 0.03 | 0.69 | 0.68 | 0.69 | 0.68 | XXX
75901 |  | A | Remove cva device obstruct | 0.49 | 4.39 | 2.20 | NA | NA | 0.85 | 5.73 | 3.54 | NA | NA | XXX
75901 | 26 | A | Remove cva device obstruct | 0.49 | 0.17 | 0.16 | 0.17 | 0.16 | 0.02 | 0.68 | 0.67 | 0.68 | 0.67 | XXX
75901 | TC | A | Remove cva device obstruct | 0.00 | 4.22 | 2.04 | NA | NA | 0.83 | 5.05 | 2.87 | NA | NA | XXX
75902 |  | A | Remove cva lumen obstruct | 0.39 | 1.72 | 1.51 | NA | NA | 0.85 | 2.96 | 2.75 | NA | NA | XXX
75902 | 26 | A | Remove cva lumen obstruct | 0.39 | 0.14 | 0.13 | 0.14 | 0.13 | 0.02 | 0.55 | 0.54 | 0.55 | 0.54 | XXX
75902 | TC | A | Remove cva lumen obstruct | 0.00 | 1.58 | 1.38 | NA | NA | 0.83 | 2.41 | 2.21 | NA | NA | XXX
75940 |  | A | X-ray placement, vein filter | 0.54 | 0.18 | 9.66 | NA | NA | 0.69 | 1.41 | 10.89 | NA | NA | XXX
75940 | 26 | A | X-ray placement, vein filter | 0.54 | 0.18 | 0.18 | 0.18 | 0.18 | 0.04 | 0.76 | 0.76 | 0.76 | 0.76 | XXX
75940 | TC | A | X-ray placement, vein filter | 0.00 | 0.00 | 9.48 | NA | NA | 0.65 | 0.65 | 10.13 | NA | NA | XXX
75945 |  | A | Intravascular us | 0.40 | 0.16 | 3.57 | NA | NA | 0.28 | 0.84 | 4.25 | NA | NA | XXX
75945 | 26 | A | Intravascular us | 0.40 | 0.16 | 0.15 | 0.16 | 0.15 | 0.04 | 0.60 | 0.59 | 0.60 | 0.59 | XXX
75945 | TC | A | Intravascular us | 0.00 | 0.00 | 3.43 | NA | NA | 0.24 | 0.24 | 3.67 | NA | NA | XXX
75946 | 26 | A | Intravascular us add-on | 0.40 | 0.13 | 0.14 | 0.13 | 0.14 | 0.05 | 0.58 | 0.59 | 0.58 | 0.59 | ZZZ
75952 | 26 | A | Endovasc repair abdom aorta | 4.49 | 1.38 | 1.46 | 1.38 | 1.46 | 0.43 | 6.30 | 6.38 | 6.30 | 6.38 | XXX
75953 | 26 | A | Abdom aneurysm endovas rpr | 1.36 | 0.42 | 0.44 | 0.42 | 0.44 | 0.13 | 1.91 | 1.93 | 1.91 | 1.93 | XXX
75954 | 26 | A | Iliac aneurysm endovas rpr | 2.25 | 0.69 | 0.76 | 0.69 | 0.76 | 0.15 | 3.09 | 3.16 | 3.09 | 3.16 | XXX
75956 | 26 | A | Xray, endovasc thor ao repr | 7.00 | 1.57 | 2.43 | 1.57 | 2.43 | 0.69 | 9.26 | 10.12 | 9.26 | 10.12 | XXX
75957 | 26 | A | Xray, endovasc thor ao repr | 6.00 | 1.35 | 2.08 | 1.35 | 2.08 | 0.59 | 7.94 | 8.67 | 7.94 | 8.67 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
75958 | 26 | A | Xray, place prox ext thor ao | 4.00 | 0.90 | 1.39 | 0.90 | 1.39 | 0.39 | 5.29 | 5.78 | 5.29 | 5.78 | XXX
75959 | 26 | A | Xray, place dist ext thor ao | 3.50 | 0.79 | 1.22 | 0.79 | 1.22 | 0.34 | 4.63 | 5.06 | 4.63 | 5.06 | XXX
75960 |  | A | Transcath iv stent rs&i | 0.82 | 0.33 | 11.50 | NA | NA | 0.82 | 1.97 | 13.14 | NA | NA | XXX
75960 | 26 | A | Transcath iv stent rs&i | 0.82 | 0.33 | 0.29 | 0.33 | 0.29 | 0.05 | 1.20 | 1.16 | 1.20 | 1.16 | XXX
75960 | TC | A | Transcath iv stent rs&i | 0.00 | 0.00 | 11.21 | NA | NA | 0.77 | 0.77 | 11.98 | NA | NA | XXX
75961 |  | A | Retrieval, broken catheter | 4.24 | 4.82 | 10.15 | NA | NA | 0.73 | 9.79 | 15.12 | NA | NA | XXX
75961 | 26 | A | Retrieval, broken catheter | 4.24 | 1.50 | 1.42 | 1.50 | 1.42 | 0.18 | 5.92 | 5.84 | 5.92 | 5.84 | XXX
75961 | TC | A | Retrieval, broken catheter | 0.00 | 3.32 | 8.73 | NA | NA | 0.55 | 3.87 | 9.28 | NA | NA | XXX
75962 |  | A | Repair arterial blockage | 0.54 | 3.63 | 12.89 | NA | NA | 0.86 | 5.03 | 14.29 | NA | NA | XXX
75962 | 26 | A | Repair arterial blockage | 0.54 | 0.21 | 0.19 | 0.21 | 0.19 | 0.03 | 0.78 | 0.76 | 0.78 | 0.76 | XXX
75962 | TC | A | Repair arterial blockage | 0.00 | 3.43 | 12.70 | NA | NA | 0.83 | 4.26 | 13.53 | NA | NA | XXX
75964 |  | A | Repair artery blockage, each | 0.36 | 2.45 | 7.01 | NA | NA | 0.46 | 3.27 | 7.83 | NA | NA | ZZZ
75964 | 26 | A | Repair artery blockage, each | 0.36 | 0.13 | 0.12 | 0.13 | 0.12 | 0.03 | 0.52 | 0.51 | 0.52 | 0.51 | ZZZ
75964 | TC | A | Repair artery blockage, each | 0.00 | 2.31 | 6.89 | NA | NA | 0.43 | 2.74 | 7.32 | NA | NA | ZZZ
75966 |  | A | Repair arterial blockage | 1.31 | 4.31 | 13.27 | NA | NA | 0.89 | 6.51 | 15.47 | NA | NA | XXX
75966 | 26 | A | Repair arterial blockage | 1.31 | 0.59 | 0.49 | 0.59 | 0.49 | 0.06 | 1.96 | 1.86 | 1.96 | 1.86 | XXX
75966 | TC | A | Repair arterial blockage | 0.00 | 3.72 | 12.77 | NA | NA | 0.83 | 4.55 | 13.60 | NA | NA | XXX
75968 |  | A | Repair artery blockage, each | 0.36 | 2.50 | 7.03 | NA | NA | 0.45 | 3.31 | 7.84 | NA | NA | ZZZ
75968 | 26 | A | Repair artery blockage, each | 0.36 | 0.16 | 0.14 | 0.16 | 0.14 | 0.02 | 0.54 | 0.52 | 0.54 | 0.52 | ZZZ
75968 | TC | A | Repair artery blockage, each | 0.00 | 2.34 | 6.89 | NA | NA | 0.43 | 2.77 | 7.32 | NA | NA | ZZZ
75970 |  | A | Vascular biopsy | 0.83 | 0.31 | 8.97 | NA | NA | 0.64 | 1.78 | 10.44 | NA | NA | XXX
75970 | 26 | A | Vascular biopsy | 0.83 | 0.31 | 0.29 | 0.31 | 0.29 | 0.04 | 1.18 | 1.16 | 1.18 | 1.16 | XXX
75970 | TC | A | Vascular biopsy | 0.00 | 0.00 | 8.68 | NA | NA | 0.60 | 0.60 | 9.28 | NA | NA | XXX
75978 |  | A | Repair venous blockage | 0.54 | 3.39 | 12.83 | NA | NA | 0.85 | 4.78 | 14.22 | NA | NA | XXX
75978 | 26 | A | Repair venous blockage | 0.54 | 0.18 | 0.18 | 0.18 | 0.18 | 0.02 | 0.74 | 0.74 | 0.74 | 0.74 | XXX
75978 | TC | A | Repair venous blockage | 0.00 | 3.21 | 12.65 | NA | NA | 0.83 | 4.04 | 13.48 | NA | NA | XXX
75980 |  | A | Contrast xray exam bile duct | 1.44 | 0.52 | 4.56 | NA | NA | 0.35 | 2.31 | 6.35 | NA | NA | XXX
75980 | 26 | A | Contrast xray exam bile duct | 1.44 | 0.52 | 0.48 | 0.52 | 0.48 | 0.06 | 2.02 | 1.98 | 2.02 | 1.98 | XXX
75980 | TC | A | Contrast xray exam bile duct | 0.00 | 0.00 | 4.07 | NA | NA | 0.29 | 0.29 | 4.36 | NA | NA | XXX
75982 | 26 | A | Contrast xray exam bile duct | 1.44 | 0.52 | 0.48 | 0.52 | 0.48 | 0.06 | 2.02 | 1.98 | 2.02 | 1.98 | XXX
75984 |  | A | Xray control catheter change | 0.72 | 2.43 | 2.25 | NA | NA | 0.14 | 3.29 | 3.11 | NA | NA | XXX
75984 | 26 | A | Xray control catheter change | 0.72 | 0.26 | 0.24 | 0.26 | 0.24 | 0.03 | 1.01 | 0.99 | 1.01 | 0.99 | XXX
75984 | TC | A | Xray control catheter change | 0.00 | 2.17 | 2.01 | NA | NA | 0.11 | 2.28 | 2.12 | NA | NA | XXX
75989 |  | A | Abscess drainage under x-ray | 1.19 | 2.33 | 3.25 | NA | NA | 0.22 | 3.74 | 4.66 | NA | NA | XXX
75989 | 26 | A | Abscess drainage under x-ray | 1.19 | 0.42 | 0.40 | 0.42 | 0.40 | 0.05 | 1.66 | 1.64 | 1.66 | 1.64 | XXX
75989 | TC | A | Abscess drainage under x-ray | 0.00 | 1.91 | 2.85 | NA | NA | 0.17 | 2.08 | 3.02 | NA | NA | XXX
75992 |  | A | Atherectomy, x-ray exam | 0.54 | 0.24 | 12.05 | NA | NA | 0.86 | 1.64 | 13.45 | NA | NA | XXX
75992 | 26 | A | Atherectomy, x-ray exam | 0.54 | 0.24 | 0.20 | 0.24 | 0.20 | 0.03 | 0.81 | 0.77 | 0.81 | 0.77 | XXX
75992 | TC | A | Atherectomy, x-ray exam | 0.00 | 0.00 | 11.84 | NA | NA | 0.83 | 0.83 | 12.67 | NA | NA | XXX
75993 | 26 | A | Atherectomy, x-ray exam | 0.36 | 0.15 | 0.14 | 0.15 | 0.14 | 0.02 | 0.53 | 0.52 | 0.53 | 0.52 | ZZZ
75994 | 26 | A | Atherectomy, x-ray exam | 1.31 | 0.63 | 0.50 | 0.63 | 0.50 | 0.07 | 2.01 | 1.88 | 2.01 | 1.88 | XXX
75995 | 26 | A | Atherectomy, x-ray exam | 1.31 | 0.52 | 0.48 | 0.52 | 0.48 | 0.05 | 1.88 | 1.84 | 1.88 | 1.84 | XXX
75996 | 26 | A | Atherectomy, x-ray exam | 0.36 | 0.15 | 0.13 | 0.15 | 0.13 | 0.02 | 0.53 | 0.51 | 0.53 | 0.51 | ZZZ
75998 |  | A | Fluoroguide for vein device | 0.38 | 2.85 | 1.79 | NA | NA | 0.11 | 3.34 | 2.28 | NA | NA | ZZZ
75998 | 26 | A | Fluoroguide for vein device | 0.38 | 0.13 | 0.13 | 0.13 | 0.13 | 0.01 | 0.52 | 0.52 | 0.52 | 0.52 | ZZZ
75998 | TC | A | Fluoroguide for vein device | 0.00 | 2.72 | 1.66 | NA | NA | 0.10 | 2.82 | 1.76 | NA | NA | ZZZ
76000 |  | A | Fluoroscope examination | 0.17 | 2.82 | 1.73 | NA | NA | 0.08 | 3.07 | 1.98 | NA | NA | XXX
76000 | 26 | A | Fluoroscope examination | 0.17 | 0.06 | 0.05 | 0.06 | 0.05 | 0.01 | 0.24 | 0.23 | 0.24 | 0.23 | XXX
76000 | TC | A | Fluoroscope examination | 0.00 | 2.76 | 1.67 | NA | NA | 0.07 | 2.83 | 1.74 | NA | NA | XXX
76001 |  | A | Fluoroscope exam, extensive | 0.67 | 0.23 | 2.20 | NA | NA | 0.19 | 1.09 | 3.06 | NA | NA | XXX
76001 | 26 | A | Fluoroscope exam, extensive | 0.67 | 0.23 | 0.22 | 0.23 | 0.22 | 0.05 | 0.95 | 0.94 | 0.95 | 0.94 | XXX
76001 | TC | A | Fluoroscope exam, extensive | 0.00 | 0.00 | 1.97 | NA | NA | 0.14 | 0.14 | 2.11 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
76003 |  | A | Needle localization by x-ray | 0.54 | 1.23 | 1.42 | NA | NA | 0.09 | 1.86 | 2.05 | NA | NA | XXX
76003 | 26 | A | Needle localization by x-ray | 0.54 | 0.15 | 0.17 | 0.15 | 0.17 | 0.02 | 0.71 | 0.73 | 0.71 | 0.73 | XXX
76003 | TC | A | Needle localization by x-ray | 0.00 | 1.08 | 1.25 | NA | NA | 0.07 | 1.15 | 1.32 | NA | NA | XXX
76005 |  | A | Fluoroguide for spine inject | 0.60 | 0.76 | 1.29 | NA | NA | 0.10 | 1.46 | 1.99 | NA | NA | XXX
76005 | 26 | A | Fluoroguide for spine inject | 0.60 | 0.14 | 0.15 | 0.14 | 0.15 | 0.03 | 0.77 | 0.78 | 0.77 | 0.78 | XXX
76005 | TC | A | Fluoroguide for spine inject | 0.00 | 0.62 | 1.14 | NA | NA | 0.07 | 0.69 | 1.21 | NA | NA | XXX
76006 |  | A | X-ray stress view | 0.41 | 0.76 | 0.33 | 0.76 | 0.33 | 0.06 | 1.23 | 0.80 | 1.23 | 0.80 | XXX
76010 |  | A | X-ray, nose to rectum | 0.18 | 0.57 | 0.58 | NA | NA | 0.03 | 0.78 | 0.79 | NA | NA | XXX
76010 | 26 | A | X-ray, nose to rectum | 0.18 | 0.06 | 0.06 | 0.06 | 0.06 | 0.01 | 0.25 | 0.25 | 0.25 | 0.25 | XXX
76010 | TC | A | X-ray, nose to rectum | 0.00 | 0.51 | 0.52 | NA | NA | 0.02 | 0.53 | 0.54 | NA | NA | XXX
76012 | 26 | A | Percut vertebroplasty fluor | 1.31 | 0.47 | 0.47 | 0.47 | 0.47 | 0.10 | 1.88 | 1.88 | 1.88 | 1.88 | XXX
76013 | 26 | A | Percut vertebroplasty, ct | 1.38 | 0.49 | 0.48 | 0.49 | 0.48 | 0.07 | 1.94 | 1.93 | 1.94 | 1.93 | XXX
76020 |  | A | X-rays for bone age | 0.19 | 0.44 | 0.55 | NA | NA | 0.03 | 0.66 | 0.77 | NA | NA | XXX
76020 | 26 | A | X-rays for bone age | 0.19 | 0.06 | 0.06 | 0.06 | 0.06 | 0.01 | 0.26 | 0.26 | 0.26 | 0.26 | XXX
76020 | TC | A | X-rays for bone age | 0.00 | 0.37 | 0.48 | NA | NA | 0.02 | 0.39 | 0.50 | NA | NA | XXX
76040 |  | A | X-rays, bone evaluation | 0.27 | 0.68 | 0.82 | NA | NA | 0.06 | 1.01 | 1.15 | NA | NA | XXX
76040 | 26 | A | X-rays, bone evaluation | 0.27 | 0.10 | 0.09 | 0.10 | 0.09 | 0.01 | 0.38 | 0.37 | 0.38 | 0.37 | XXX
76040 | TC | A | X-rays, bone evaluation | 0.00 | 0.58 | 0.73 | NA | NA | 0.05 | 0.63 | 0.78 | NA | NA | XXX
76061 |  | A | X-rays, bone survey | 0.45 | 1.49 | 1.24 | NA | NA | 0.08 | 2.02 | 1.77 | NA | NA | XXX
76061 | 26 | A | X-rays, bone survey | 0.45 | 0.16 | 0.15 | 0.16 | 0.15 | 0.02 | 0.63 | 0.62 | 0.63 | 0.62 | XXX
76061 | TC | A | X-rays, bone survey | 0.00 | 1.34 | 1.09 | NA | NA | 0.06 | 1.40 | 1.15 | NA | NA | XXX
76062 |  | A | X-rays, bone survey | 0.54 | 2.38 | 1.81 | NA | NA | 0.10 | 3.02 | 2.45 | NA | NA | XXX
76062 | 26 | A | X-rays, bone survey | 0.54 | 0.19 | 0.18 | 0.19 | 0.18 | 0.02 | 0.75 | 0.74 | 0.75 | 0.74 | XXX
76062 | TC | A | X-rays, bone survey | 0.00 | 2.19 | 1.63 | NA | NA | 0.08 | 2.27 | 1.71 | NA | NA | XXX
76065 |  | A | X-rays, bone evaluation | 0.70 | 2.08 | 1.24 | NA | NA | 0.08 | 2.86 | 2.02 | NA | NA | XXX
76065 | 26 | A | X-rays, bone evaluation | 0.70 | 0.21 | 0.23 | 0.21 | 0.23 | 0.03 | 0.94 | 0.96 | 0.94 | 0.96 | XXX
76065 | TC | A | X-rays, bone evaluation | 0.00 | 1.87 | 1.02 | NA | NA | 0.05 | 1.92 | 1.07 | NA | NA | XXX
76066 |  | A | Joint survey, single view | 0.31 | 0.66 | 1.07 | NA | NA | 0.08 | 1.05 | 1.46 | NA | NA | XXX
76066 | 26 | A | Joint survey, single view | 0.31 | 0.11 | 0.10 | 0.11 | 0.10 | 0.02 | 0.44 | 0.43 | 0.44 | 0.43 | XXX
76066 | TC | A | Joint survey, single view | 0.00 | 0.55 | 0.97 | NA | NA | 0.06 | 0.61 | 1.03 | NA | NA | XXX
76070 |  | A | Ct bone density, axial | 0.25 | 4.94 | 3.52 | NA | NA | 0.17 | 5.36 | 3.94 | NA | NA | XXX
76070 | 26 | A | Ct bone density, axial | 0.25 | 0.08 | 0.08 | 0.08 | 0.08 | 0.01 | 0.34 | 0.34 | 0.34 | 0.34 | XXX
76070 | TC | A | Ct bone density, axial | 0.00 | 4.85 | 3.43 | NA | NA | 0.16 | 5.01 | 3.59 | NA | NA | XXX
76071 |  | A | Ct bone density, peripheral | 0.22 | 0.78 | 2.47 | NA | NA | 0.06 | 1.06 | 2.75 | NA | NA | XXX
76071 | 26 | A | Ct bone density, peripheral | 0.22 | 0.07 | 0.07 | 0.07 | 0.07 | 0.01 | 0.30 | 0.30 | 0.30 | 0.30 | XXX
76071 | TC | A | Ct bone density, peripheral | 0.00 | 0.71 | 2.40 | NA | NA | 0.05 | 0.76 | 2.45 | NA | NA | XXX
76075 |  | A | Dxa bone density, axial | 0.20 | 0.67 | 2.57 | NA | NA | 0.18 | 1.05 | 2.95 | NA | NA | XXX
76075 | 26 | A | Dxa bone density, axial | 0.20 | 0.06 | 0.09 | 0.06 | 0.09 | 0.01 | 0.27 | 0.30 | 0.27 | 0.30 | XXX
76075 | TC | A | Dxa bone density, axial | 0.00 | 0.61 | 2.48 | NA | NA | 0.17 | 0.78 | 2.65 | NA | NA | XXX
76076 |  | A | Dxa bone density/peripheral | 0.22 | 0.57 | 0.77 | NA | NA | 0.06 | 0.85 | 1.05 | NA | NA | XXX
76076 | 26 | A | Dxa bone density/peripheral | 0.22 | 0.06 | 0.08 | 0.06 | 0.08 | 0.01 | 0.29 | 0.31 | 0.29 | 0.31 | XXX
76076 | TC | A | Dxa bone density/peripheral | 0.00 | 0.51 | 0.69 | NA | NA | 0.05 | 0.56 | 0.74 | NA | NA | XXX
76077 |  | A | Dxa bone density/v-fracture | 0.17 | 0.42 | 0.71 | NA | NA | 0.06 | 0.65 | 0.94 | NA | NA | XXX
76077 | 26 | A | Dxa bone density/v-fracture | 0.17 | 0.05 | 0.06 | 0.05 | 0.06 | 0.01 | 0.23 | 0.24 | 0.23 | 0.24 | XXX
76077 | TC | A | Dxa bone density/v-fracture | 0.00 | 0.37 | 0.66 | NA | NA | 0.05 | 0.42 | 0.71 | NA | NA | XXX
76078 |  | A | Radiographic absorptiometry | 0.20 | 0.38 | 0.71 | NA | NA | 0.06 | 0.64 | 0.97 | NA | NA | XXX
76078 | 26 | A | Radiographic absorptiometry | 0.20 | 0.05 | 0.07 | 0.05 | 0.07 | 0.01 | 0.26 | 0.28 | 0.26 | 0.28 | XXX
76078 | TC | A | Radiographic absorptiometry | 0.00 | 0.33 | 0.65 | NA | NA | 0.05 | 0.38 | 0.70 | NA | NA | XXX
76080 |  | A | X-ray exam of fistula | 0.54 | 1.14 | 1.21 | NA | NA | 0.08 | 1.76 | 1.83 | NA | NA | XXX
76080 | 26 | A | X-ray exam of fistula | 0.54 | 0.19 | 0.18 | 0.19 | 0.18 | 0.02 | 0.75 | 0.74 | 0.75 | 0.74 | XXX
76080 | TC | A | X-ray exam of fistula | 0.00 | 0.94 | 1.02 | NA | NA | 0.06 | 1.00 | 1.08 | NA | NA | XXX
76082 |  | A | Computer mammogram add-on | 0.06 | 0.21 | 0.38 | NA | NA | 0.02 | 0.29 | 0.46 | NA | NA | ZZZ
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
76082 | 26 | A | Computer mammogram add-on | 0.06 | 0.02 | 0.02 | 0.02 | 0.02 | 0.01 | 0.09 | 0.09 | 0.09 | 0.09 | ZZZ
76082 | TC | A | Computer mammogram add-on | 0.00 | 0.19 | 0.36 | NA | NA | 0.01 | 0.20 | 0.37 | NA | NA | ZZZ
76083 |  | A | Computer mammogram add-on | 0.06 | 0.21 | 0.38 | NA | NA | 0.02 | 0.29 | 0.46 | NA | NA | ZZZ
76083 | 26 | A | Computer mammogram add-on | 0.06 | 0.02 | 0.02 | 0.02 | 0.02 | 0.01 | 0.09 | 0.09 | 0.09 | 0.09 | ZZZ
76083 | TC | A | Computer mammogram add-on | 0.00 | 0.19 | 0.36 | NA | NA | 0.01 | 0.20 | 0.37 | NA | NA | ZZZ
76086 |  | A | X-ray of mammary duct | 0.36 | 1.28 | 2.38 | NA | NA | 0.16 | 1.80 | 2.90 | NA | NA | XXX
76086 | 26 | A | X-ray of mammary duct | 0.36 | 0.12 | 0.12 | 0.12 | 0.12 | 0.02 | 0.50 | 0.50 | 0.50 | 0.50 | XXX
76086 | TC | A | X-ray of mammary duct | 0.00 | 1.16 | 2.26 | NA | NA | 0.14 | 1.30 | 2.40 | NA | NA | XXX
76088 |  | A | X-ray of mammary ducts | 0.45 | 1.75 | 3.30 | NA | NA | 0.21 | 2.41 | 3.96 | NA | NA | XXX
76088 | 26 | A | X-ray of mammary ducts | 0.45 | 0.16 | 0.15 | 0.16 | 0.15 | 0.02 | 0.63 | 0.62 | 0.63 | 0.62 | XXX
76088 | TC | A | X-ray of mammary ducts | 0.00 | 1.59 | 3.15 | NA | NA | 0.19 | 1.78 | 3.34 | NA | NA | XXX
76090 |  | A | Mammogram, one breast | 0.70 | 1.70 | 1.39 | NA | NA | 0.09 | 2.49 | 2.18 | NA | NA | XXX
76090 | 26 | A | Mammogram, one breast | 0.70 | 0.24 | 0.23 | 0.24 | 0.23 | 0.03 | 0.97 | 0.96 | 0.97 | 0.96 | XXX
76090 | TC | A | Mammogram, one breast | 0.00 | 1.46 | 1.15 | NA | NA | 0.06 | 1.52 | 1.21 | NA | NA | XXX
76091 |  | A | Mammogram, both breasts | 0.87 | 2.21 | 1.75 | NA | NA | 0.11 | 3.19 | 2.73 | NA | NA | XXX
76091 | 26 | A | Mammogram, both breasts | 0.87 | 0.30 | 0.29 | 0.30 | 0.29 | 0.04 | 1.21 | 1.20 | 1.21 | 1.20 | XXX
76091 | TC | A | Mammogram, both breasts | 0.00 | 1.92 | 1.46 | NA | NA | 0.07 | 1.99 | 1.53 | NA | NA | XXX
76092 |  | A | Mammogram, screening | 0.70 | 1.49 | 1.47 | NA | NA | 0.10 | 2.29 | 2.27 | NA | NA | XXX
76092 | 26 | A | Mammogram, screening | 0.70 | 0.24 | 0.23 | 0.24 | 0.23 | 0.03 | 0.97 | 0.96 | 0.97 | 0.96 | XXX
76092 | TC | A | Mammogram, screening | 0.00 | 1.25 | 1.24 | NA | NA | 0.07 | 1.32 | 1.31 | NA | NA | XXX
76093 |  | A | Magnetic image, breast | 1.63 | 22.81 | 19.35 | NA | NA | 0.99 | 25.43 | 21.97 | NA | NA | XXX
76093 | 26 | A | Magnetic image, breast | 1.63 | 0.57 | 0.54 | 0.57 | 0.54 | 0.07 | 2.27 | 2.24 | 2.27 | 2.24 | XXX
76093 | TC | A | Magnetic image, breast | 0.00 | 22.24 | 18.81 | NA | NA | 0.92 | 23.16 | 19.73 | NA | NA | XXX
76094 |  | A | Magnetic image, both breasts | 1.63 | 22.75 | 24.07 | NA | NA | 1.31 | 25.69 | 27.01 | NA | NA | XXX
76094 | 26 | A | Magnetic image, both breasts | 1.63 | 0.57 | 0.54 | 0.57 | 0.54 | 0.07 | 2.27 | 2.24 | 2.27 | 2.24 | XXX
76094 | TC | A | Magnetic image, both breasts | 0.00 | 22.17 | 23.53 | NA | NA | 1.24 | 23.41 | 24.77 | NA | NA | XXX
76095 |  | A | Stereotactic breast biopsy | 1.59 | 1.91 | 6.25 | NA | NA | 0.46 | 3.96 | 8.30 | NA | NA | XXX
76095 | 26 | A | Stereotactic breast biopsy | 1.59 | 0.52 | 0.52 | 0.52 | 0.52 | 0.09 | 2.20 | 2.20 | 2.20 | 2.20 | XXX
76095 | TC | A | Stereotactic breast biopsy | 0.00 | 1.39 | 5.73 | NA | NA | 0.37 | 1.76 | 6.10 | NA | NA | XXX
76096 |  | A | X-ray of needle wire, breast | 0.56 | 0.86 | 1.33 | NA | NA | 0.09 | 1.51 | 1.98 | NA | NA | XXX
76096 | 26 | A | X-ray of needle wire, breast | 0.56 | 0.19 | 0.18 | 0.19 | 0.18 | 0.02 | 0.77 | 0.76 | 0.77 | 0.76 | XXX
76096 | TC | A | X-ray of needle wire, breast | 0.00 | 0.67 | 1.15 | NA | NA | 0.07 | 0.74 | 1.22 | NA | NA | XXX
76098 |  | A | X-ray exam, breast specimen | 0.16 | 0.33 | 0.44 | NA | NA | 0.03 | 0.52 | 0.63 | NA | NA | XXX
76098 | 26 | A | X-ray exam, breast specimen | 0.16 | 0.05 | 0.05 | 0.05 | 0.05 | 0.01 | 0.22 | 0.22 | 0.22 | 0.22 | XXX
76098 | TC | A | X-ray exam, breast specimen | 0.00 | 0.28 | 0.39 | NA | NA | 0.02 | 0.30 | 0.41 | NA | NA | XXX
76100 |  | A | X-ray exam of body section | 0.58 | 3.62 | 1.99 | NA | NA | 0.10 | 4.30 | 2.67 | NA | NA | XXX
76100 | 26 | A | X-ray exam of body section | 0.58 | 0.21 | 0.20 | 0.21 | 0.20 | 0.03 | 0.82 | 0.81 | 0.82 | 0.81 | XXX
76100 | TC | A | X-ray exam of body section | 0.00 | 3.42 | 1.79 | NA | NA | 0.07 | 3.49 | 1.86 | NA | NA | XXX
76101 |  | A | Complex body section x-ray | 0.58 | 5.37 | 2.55 | NA | NA | 0.11 | 6.06 | 3.24 | NA | NA | XXX
76101 | 26 | A | Complex body section x-ray | 0.58 | 0.19 | 0.19 | 0.19 | 0.19 | 0.03 | 0.80 | 0.80 | 0.80 | 0.80 | XXX
76101 | TC | A | Complex body section x-ray | 0.00 | 5.18 | 2.36 | NA | NA | 0.08 | 5.26 | 2.44 | NA | NA | XXX
76102 |  | A | Complex body section x-rays | 0.58 | 7.85 | 3.41 | NA | NA | 0.14 | 8.57 | 4.13 | NA | NA | XXX
76102 | 26 | A | Complex body section x-rays | 0.58 | 0.19 | 0.19 | 0.19 | 0.19 | 0.03 | 0.80 | 0.80 | 0.80 | 0.80 | XXX
76102 | TC | A | Complex body section x-rays | 0.00 | 7.66 | 3.22 | NA | NA | 0.11 | 7.77 | 3.33 | NA | NA | XXX
76120 |  | A | Cine/video x-rays | 0.38 | 1.98 | 1.38 | NA | NA | 0.08 | 2.44 | 1.84 | NA | NA | XXX
76120 | 26 | A | Cine/video x-rays | 0.38 | 0.15 | 0.14 | 0.15 | 0.14 | 0.02 | 0.55 | 0.54 | 0.55 | 0.54 | XXX
76120 | TC | A | Cine/video x-rays | 0.00 | 1.83 | 1.25 | NA | NA | 0.06 | 1.89 | 1.31 | NA | NA | XXX
76125 |  | A | Cine/video x-rays add-on | 0.27 | 0.11 | 0.68 | NA | NA | 0.06 | 0.44 | 1.01 | NA | NA | ZZZ
76125 | 26 | A | Cine/video x-rays add-on | 0.27 | 0.11 | 0.10 | 0.11 | 0.10 | 0.01 | 0.39 | 0.38 | 0.39 | 0.38 | ZZZ
76125 | TC | A | Cine/video x-rays add-on | 0.00 | 0.00 | 0.59 | NA | NA | 0.05 | 0.05 | 0.64 | NA | NA | ZZZ
76150 |  | A | X-ray exam, dry process | 0.00 | 0.68 | 0.49 | NA | NA | 0.02 | 0.70 | 0.51 | NA | NA | XXX
76355 |  | A | Ct scan for localization | 1.21 | 20.93 | 11.74 | NA | NA | 0.47 | 22.61 | 13.42 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
76355 | 26 | A | Ct scan for localization | 1.21 | 0.39 | 0.40 | 0.39 | 0.40 | 0.05 | 1.65 | 1.66 | 1.65 | 1.66 | XXX
76355 | TC | A | Ct scan for localization | 0.00 | 20.55 | 11.35 | NA | NA | 0.42 | 20.97 | 11.77 | NA | NA | XXX
76360 |  | A | Ct scan for needle biopsy | 1.16 | 2.42 | 7.10 | NA | NA | 0.47 | 4.05 | 8.73 | NA | NA | XXX
76360 | 26 | A | Ct scan for needle biopsy | 1.16 | 0.41 | 0.39 | 0.41 | 0.39 | 0.05 | 1.62 | 1.60 | 1.62 | 1.60 | XXX
76360 | TC | A | Ct scan for needle biopsy | 0.00 | 2.01 | 6.71 | NA | NA | 0.42 | 2.43 | 7.13 | NA | NA | XXX
76362 |  | A | Ct guide for tissue ablation | 3.99 | 1.37 | 7.53 | NA | NA | 1.64 | 7.00 | 13.16 | NA | NA | XXX
76362 | 26 | A | Ct guide for tissue ablation | 3.99 | 1.37 | 1.32 | 1.37 | 1.32 | 0.18 | 5.54 | 5.49 | 5.54 | 5.49 | XXX
76362 | TC | A | Ct guide for tissue ablation | 0.00 | 0.00 | 6.21 | NA | NA | 1.46 | 1.46 | 7.67 | NA | NA | XXX
76370 |  | A | Ct scan for therapy guide | 0.85 | 4.51 | 3.56 | NA | NA | 0.20 | 5.56 | 4.61 | NA | NA | XXX
76370 | 26 | A | Ct scan for therapy guide | 0.85 | 0.25 | 0.27 | 0.25 | 0.27 | 0.04 | 1.14 | 1.16 | 1.14 | 1.16 | XXX
76370 | TC | A | Ct scan for therapy guide | 0.00 | 4.26 | 3.29 | NA | NA | 0.16 | 4.42 | 3.45 | NA | NA | XXX
76376 |  | A | 3d render w/o postprocess | 0.20 | 1.46 | 2.99 | NA | NA | 0.10 | 1.76 | 3.29 | NA | NA | XXX
76376 | 26 | A | 3d render w/o postprocess | 0.20 | 0.07 | 0.07 | 0.07 | 0.07 | 0.02 | 0.29 | 0.29 | 0.29 | 0.29 | XXX
76376 | TC | A | 3d render w/o postprocess | 0.00 | 1.39 | 2.92 | NA | NA | 0.08 | 1.47 | 3.00 | NA | NA | XXX
76377 |  | A | 3d rendering w/postprocess | 0.79 | 1.45 | 3.14 | NA | NA | 0.39 | 2.63 | 4.32 | NA | NA | XXX
76377 | 26 | A | 3d rendering w/postprocess | 0.79 | 0.28 | 0.27 | 0.28 | 0.27 | 0.08 | 1.15 | 1.14 | 1.15 | 1.14 | XXX
76377 | TC | A | 3d rendering w/postprocess | 0.00 | 1.17 | 2.87 | NA | NA | 0.31 | 1.48 | 3.18 | NA | NA | XXX
76380 |  | A | CAT scan follow-up study | 0.98 | 4.91 | 4.10 | NA | NA | 0.22 | 6.11 | 5.30 | NA | NA | XXX
76380 | 26 | A | CAT scan follow-up study | 0.98 | 0.34 | 0.33 | 0.34 | 0.33 | 0.04 | 1.36 | 1.35 | 1.36 | 1.35 | XXX
76380 | TC | A | CAT scan follow-up study | 0.00 | 4.57 | 3.78 | NA | NA | 0.18 | 4.75 | 3.96 | NA | NA | XXX
76390 |  | N | Mr spectroscopy | 1.40 | 9.42 | 10.99 | 9.42 | 10.99 | 0.66 | 11.48 | 13.05 | 11.48 | 13.05 | XXX
76390 | 26 | N | Mr spectroscopy | 1.40 | 0.31 | 0.43 | 0.31 | 0.43 | 0.07 | 1.78 | 1.90 | 1.78 | 1.90 | XXX
76390 | TC | N | Mr spectroscopy | 0.00 | 9.11 | 10.56 | 9.11 | 10.56 | 0.59 | 9.70 | 11.15 | 9.70 | 11.15 | XXX
76393 |  | A | Mr guidance for needle place | 1.50 | 10.17 | 11.34 | NA | NA | 0.64 | 12.31 | 13.48 | NA | NA | XXX
76393 | 26 | A | Mr guidance for needle place | 1.50 | 0.53 | 0.51 | 0.53 | 0.51 | 0.09 | 2.12 | 2.10 | 2.12 | 2.10 | XXX
76393 | TC | A | Mr guidance for needle place | 0.00 | 9.64 | 10.83 | NA | NA | 0.55 | 10.19 | 11.38 | NA | NA | XXX
76394 |  | A | Mri for tissue ablation | 4.24 | 1.46 | 9.82 | NA | NA | 1.81 | 7.51 | 15.87 | NA | NA | XXX
76394 | 26 | A | Mri for tissue ablation | 4.24 | 1.46 | 1.40 | 1.46 | 1.40 | 0.24 | 5.94 | 5.88 | 5.94 | 5.88 | XXX
76394 | TC | A | Mri for tissue ablation | 0.00 | 0.00 | 8.42 | NA | NA | 1.57 | 1.57 | 9.99 | NA | NA | XXX
76400 |  | A | Magnetic image, bone marrow | 1.60 | 15.25 | 12.63 | NA | NA | 0.66 | 17.51 | 14.89 | NA | NA | XXX
76400 | 26 | A | Magnetic image, bone marrow | 1.60 | 0.59 | 0.54 | 0.59 | 0.54 | 0.07 | 2.26 | 2.21 | 2.26 | 2.21 | XXX
76400 | TC | A | Magnetic image, bone marrow | 0.00 | 14.66 | 12.09 | NA | NA | 0.59 | 15.25 | 12.68 | NA | NA | XXX
76506 |  | A | Echo exam of head | 0.63 | 2.90 | 1.97 | NA | NA | 0.14 | 3.67 | 2.74 | NA | NA | XXX
76506 | 26 | A | Echo exam of head | 0.63 | 0.21 | 0.23 | 0.21 | 0.23 | 0.06 | 0.90 | 0.92 | 0.90 | 0.92 | XXX
76506 | TC | A | Echo exam of head | 0.00 | 2.69 | 1.74 | NA | NA | 0.08 | 2.77 | 1.82 | NA | NA | XXX
76510 |  | A | Ophth us, b & quant a | 1.55 | 2.27 | 2.72 | NA | NA | 0.10 | 3.92 | 4.37 | NA | NA | XXX
76510 | 26 | A | Ophth us, b & quant a | 1.55 | 0.56 | 0.65 | 0.56 | 0.65 | 0.03 | 2.14 | 2.23 | 2.14 | 2.23 | XXX
76510 | TC | A | Ophth us, b & quant a | 0.00 | 1.71 | 2.07 | NA | NA | 0.07 | 1.78 | 2.14 | NA | NA | XXX
76511 |  | A | Ophth us, quant a only | 0.94 | 1.37 | 2.17 | NA | NA | 0.10 | 2.41 | 3.21 | NA | NA | XXX
76511 | 26 | A | Ophth us, quant a only | 0.94 | 0.34 | 0.39 | 0.34 | 0.39 | 0.03 | 1.31 | 1.36 | 1.31 | 1.36 | XXX
76511 | TC | A | Ophth us, quant a only | 0.00 | 1.04 | 1.79 | NA | NA | 0.07 | 1.11 | 1.86 | NA | NA | XXX
76512 |  | A | Ophth us, b w/non-quant a | 0.94 | 1.17 | 1.97 | NA | NA | 0.12 | 2.23 | 3.03 | NA | NA | XXX
76512 | 26 | A | Ophth us, b w/non-quant a | 0.94 | 0.33 | 0.40 | 0.33 | 0.40 | 0.02 | 1.29 | 1.36 | 1.29 | 1.36 | XXX
76512 | TC | A | Ophth us, b w/non-quant a | 0.00 | 0.84 | 1.58 | NA | NA | 0.10 | 0.94 | 1.68 | NA | NA | XXX
76513 |  | A | Echo exam of eye, water bath | 0.66 | 1.55 | 1.75 | NA | NA | 0.12 | 2.33 | 2.53 | NA | NA | XXX
76513 | 26 | A | Echo exam of eye, water bath | 0.66 | 0.24 | 0.28 | 0.24 | 0.28 | 0.02 | 0.92 | 0.96 | 0.92 | 0.96 | XXX
76513 | TC | A | Echo exam of eye, water bath | 0.00 | 1.31 | 1.47 | NA | NA | 0.10 | 1.41 | 1.57 | NA | NA | XXX
76514 |  | A | Echo exam of eye, thickness | 0.17 | 0.13 | 0.13 | NA | NA | 0.02 | 0.32 | 0.32 | NA | NA | XXX
76514 | 26 | A | Echo exam of eye, thickness | 0.17 | 0.06 | 0.08 | 0.06 | 0.08 | 0.01 | 0.24 | 0.26 | 0.24 | 0.26 | XXX
76514 | TC | A | Echo exam of eye, thickness | 0.00 | 0.07 | 0.06 | NA | NA | 0.01 | 0.08 | 0.07 | NA | NA | XXX
76516 |  | A | Echo exam of eye | 0.54 | 1.17 | 1.39 | NA | NA | 0.08 | 1.79 | 2.01 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
76516 | 26 | A | Echo exam of eye | 0.54 | 0.19 | 0.23 | 0.19 | 0.23 | 0.01 | 0.74 | 0.78 | 0.74 | 0.78 | XXX
76516 | TC | A | Echo exam of eye | 0.00 | 0.99 | 1.16 | NA | NA | 0.07 | 1.06 | 1.23 | NA | NA | XXX
76519 |  | A | Echo exam of eye | 0.54 | 1.30 | 1.49 | NA | NA | 0.08 | 1.92 | 2.11 | NA | NA | XXX
76519 | 26 | A | Echo exam of eye | 0.54 | 0.19 | 0.23 | 0.19 | 0.23 | 0.01 | 0.74 | 0.78 | 0.74 | 0.78 | XXX
76519 | TC | A | Echo exam of eye | 0.00 | 1.11 | 1.26 | NA | NA | 0.07 | 1.18 | 1.33 | NA | NA | XXX
76529 |  | A | Echo exam of eye | 0.57 | 1.17 | 1.32 | NA | NA | 0.10 | 1.84 | 1.99 | NA | NA | XXX
76529 | 26 | A | Echo exam of eye | 0.57 | 0.21 | 0.23 | 0.21 | 0.23 | 0.02 | 0.80 | 0.82 | 0.80 | 0.82 | XXX
76529 | TC | A | Echo exam of eye | 0.00 | 0.97 | 1.09 | NA | NA | 0.08 | 1.05 | 1.17 | NA | NA | XXX
76536 |  | A | Us exam of head and neck | 0.56 | 2.77 | 1.89 | NA | NA | 0.10 | 3.43 | 2.55 | NA | NA | XXX
76536 | 26 | A | Us exam of head and neck | 0.56 | 0.18 | 0.18 | 0.18 | 0.18 | 0.02 | 0.76 | 0.76 | 0.76 | 0.76 | XXX
76536 | TC | A | Us exam of head and neck | 0.00 | 2.59 | 1.71 | NA | NA | 0.08 | 2.67 | 1.79 | NA | NA | XXX
76604 |  | A | Us exam, chest, b-scan | 0.55 | 1.90 | 1.59 | NA | NA | 0.09 | 2.54 | 2.23 | NA | NA | XXX
76604 | 26 | A | Us exam, chest, b-scan | 0.55 | 0.19 | 0.18 | 0.19 | 0.18 | 0.02 | 0.76 | 0.75 | 0.76 | 0.75 | XXX
76604 | TC | A | Us exam, chest, b-scan | 0.00 | 1.71 | 1.41 | NA | NA | 0.07 | 1.78 | 1.48 | NA | NA | XXX
76645 |  | A | Us exam, breast(s) | 0.54 | 2.20 | 1.47 | NA | NA | 0.08 | 2.82 | 2.09 | NA | NA | XXX
76645 | 26 | A | Us exam, breast(s) | 0.54 | 0.18 | 0.18 | 0.18 | 0.18 | 0.02 | 0.74 | 0.74 | 0.74 | 0.74 | XXX
76645 | TC | A | Us exam, breast(s) | 0.00 | 2.01 | 1.29 | NA | NA | 0.06 | 2.07 | 1.35 | NA | NA | XXX
76700 |  | A | Us exam, abdom, complete | 0.81 | 3.13 | 2.47 | NA | NA | 0.15 | 4.09 | 3.43 | NA | NA | XXX
76700 | 26 | A | Us exam, abdom, complete | 0.81 | 0.28 | 0.27 | 0.28 | 0.27 | 0.04 | 1.13 | 1.12 | 1.13 | 1.12 | XXX
76700 | TC | A | Us exam, abdom, complete | 0.00 | 2.86 | 2.20 | NA | NA | 0.11 | 2.97 | 2.31 | NA | NA | XXX
76705 |  | A | Echo exam of abdomen | 0.59 | 2.45 | 1.82 | NA | NA | 0.11 | 3.15 | 2.52 | NA | NA | XXX
76705 | 26 | A | Echo exam of abdomen | 0.59 | 0.20 | 0.19 | 0.20 | 0.19 | 0.03 | 0.82 | 0.81 | 0.82 | 0.81 | XXX
76705 | TC | A | Echo exam of abdomen | 0.00 | 2.25 | 1.63 | NA | NA | 0.08 | 2.33 | 1.71 | NA | NA | XXX
76770 |  | A | Us exam abdo back wall, comp | 0.74 | 3.04 | 2.43 | NA | NA | 0.14 | 3.92 | 3.31 | NA | NA | XXX
76770 | 26 | A | Us exam abdo back wall, comp | 0.74 | 0.26 | 0.25 | 0.26 | 0.25 | 0.03 | 1.03 | 1.02 | 1.03 | 1.02 | XXX
76770 | TC | A | Us exam abdo back wall, comp | 0.00 | 2.78 | 2.18 | NA | NA | 0.11 | 2.89 | 2.29 | NA | NA | XXX
76775 |  | A | Us exam abdo back wall, lim | 0.58 | 2.52 | 1.84 | NA | NA | 0.11 | 3.21 | 2.53 | NA | NA | XXX
76775 | 26 | A | Us exam abdo back wall, lim | 0.58 | 0.21 | 0.20 | 0.21 | 0.20 | 0.03 | 0.82 | 0.81 | 0.82 | 0.81 | XXX
76775 | TC | A | Us exam abdo back wall, lim | 0.00 | 2.31 | 1.64 | NA | NA | 0.08 | 2.39 | 1.72 | NA | NA | XXX
76778 |  | A | Us exam kidney transplant | 0.74 | 3.37 | 2.51 | NA | NA | 0.14 | 4.25 | 3.39 | NA | NA | XXX
76778 | 26 | A | Us exam kidney transplant | 0.74 | 0.25 | 0.24 | 0.25 | 0.24 | 0.03 | 1.02 | 1.01 | 1.02 | 1.01 | XXX
76778 | TC | A | Us exam kidney transplant | 0.00 | 3.11 | 2.26 | NA | NA | 0.11 | 3.22 | 2.37 | NA | NA | XXX
76800 |  | A | Us exam, spinal canal | 1.13 | 2.31 | 1.90 | NA | NA | 0.13 | 3.57 | 3.16 | NA | NA | XXX
76800 | 26 | A | Us exam, spinal canal | 1.13 | 0.29 | 0.33 | 0.29 | 0.33 | 0.05 | 1.47 | 1.51 | 1.47 | 1.51 | XXX
76800 | TC | A | Us exam, spinal canal | 0.00 | 2.02 | 1.57 | NA | NA | 0.08 | 2.10 | 1.65 | NA | NA | XXX
76801 |  | A | Ob us < 14 wks, single fetus | 0.99 | 2.53 | 2.47 | NA | NA | 0.16 | 3.68 | 3.62 | NA | NA | XXX
76801 | 26 | A | Ob us < 14 wks, single fetus | 0.99 | 0.32 | 0.34 | 0.32 | 0.34 | 0.04 | 1.35 | 1.37 | 1.35 | 1.37 | XXX
76801 | TC | A | Ob us < 14 wks, single fetus | 0.00 | 2.22 | 2.14 | NA | NA | 0.12 | 2.34 | 2.26 | NA | NA | XXX
76802 |  | A | Ob us < 14 wks, addIl fetus | 0.83 | 0.99 | 1.25 | NA | NA | 0.16 | 1.98 | 2.24 | NA | NA | ZZZ
76802 | 26 | A | Ob us < 14 wks, addIl fetus | 0.83 | 0.26 | 0.28 | 0.26 | 0.28 | 0.04 | 1.13 | 1.15 | 1.13 | 1.15 | ZZZ
76802 | TC | A | Ob us < 14 wks, addIl fetus | 0.00 | 0.73 | 0.97 | NA | NA | 0.12 | 0.85 | 1.09 | NA | NA | ZZZ
76805 |  | A | Ob us >/= 14 wks, sngl fetus | 0.99 | 3.10 | 2.61 | NA | NA | 0.16 | 4.25 | 3.76 | NA | NA | XXX
76805 | 26 | A | Ob us >/= 14 wks, sngl fetus | 0.99 | 0.30 | 0.33 | 0.30 | 0.33 | 0.04 | 1.33 | 1.36 | 1.33 | 1.36 | XXX
76805 | TC | A | Ob us >/= 14 wks, sngl fetus | 0.00 | 2.80 | 2.28 | NA | NA | 0.12 | 2.92 | 2.40 | NA | NA | XXX
76810 |  | A | Ob us >/= 14 wks, addl fetus | 0.98 | 1.68 | 1.46 | NA | NA | 0.26 | 2.92 | 2.70 | NA | NA | ZZZ
76810 | 26 | A | Ob us >/= 14 wks, addl fetus | 0.98 | 0.30 | 0.33 | 0.30 | 0.33 | 0.04 | 1.32 | 1.35 | 1.32 | 1.35 | ZZZ
76810 | TC | A | Ob us >/= 14 wks, addl fetus | 0.00 | 1.39 | 1.14 | NA | NA | 0.22 | 1.61 | 1.36 | NA | NA | ZZZ
76811 |  | A | Ob us, detailed, sngl fetus | 1.90 | 3.06 | 3.95 | NA | NA | 0.52 | 5.48 | 6.37 | NA | NA | XXX
76811 | 26 | A | Ob us, detailed, sngl fetus | 1.90 | 0.54 | 0.67 | 0.54 | 0.67 | 0.09 | 2.53 | 2.66 | 2.53 | 2.66 | XXX
76811 | TC | A | Ob us, detailed, sngl fetus | 0.00 | 2.52 | 3.29 | NA | NA | 0.43 | 2.95 | 3.72 | NA | NA | XXX
76812 |  | A | Ob us, detailed, addl fetus | 1.78 | 3.97 | 2.28 | NA | NA | 0.49 | 6.24 | 4.55 | NA | NA | ZZZ
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
76812 | 26 | A | Ob us, detailed, addl fetus | 1.78 | 0.51 | 0.62 | 0.51 | 0.62 | 0.08 | 2.37 | 2.48 | 2.37 | 2.48 | ZZZ
76812 | TC | A | Ob us, detailed, addl fetus | 0.00 | 3.46 | 1.65 | NA | NA | 0.41 | 3.87 | 2.06 | NA | NA | ZZZ
76815 |  | A | Ob us, limited, fetus(s) | 0.65 | 1.83 | 1.70 | NA | NA | 0.11 | 2.59 | 2.46 | NA | NA | XXX
76815 | 26 | A | Ob us, limited, fetus(s) | 0.65 | 0.19 | 0.22 | 0.19 | 0.22 | 0.03 | 0.87 | 0.90 | 0.87 | 0.90 | XXX
76815 | TC | A | Ob us, limited, fetus(s) | 0.00 | 1.63 | 1.47 | NA | NA | 0.08 | 1.71 | 1.55 | NA | NA | XXX
76816 |  | A | Ob us, follow-up, per fetus | 0.85 | 2.39 | 1.67 | NA | NA | 0.10 | 3.34 | 2.62 | NA | NA | XXX
76816 | 26 | A | Ob us, follow-up, per fetus | 0.85 | 0.24 | 0.30 | 0.24 | 0.30 | 0.04 | 1.13 | 1.19 | 1.13 | 1.19 | XXX
76816 | TC | A | Ob us, follow-up, per fetus | 0.00 | 2.15 | 1.37 | NA | NA | 0.06 | 2.21 | 1.43 | NA | NA | XXX
76817 |  | A | Transvaginal us, obstetric | 0.75 | 2.06 | 1.85 | NA | NA | 0.09 | 2.90 | 2.69 | NA | NA | XXX
76817 | 26 | A | Transvaginal us, obstetric | 0.75 | 0.23 | 0.25 | 0.23 | 0.25 | 0.03 | 1.01 | 1.03 | 1.01 | 1.03 | XXX
76817 | TC | A | Transvaginal us, obstetric | 0.00 | 1.83 | 1.60 | NA | NA | 0.06 | 1.89 | 1.66 | NA | NA | XXX
76818 |  | A | Fetal biophys profile w/nst | 1.05 | 2.23 | 2.06 | NA | NA | 0.15 | 3.43 | 3.26 | NA | NA | XXX
76818 | 26 | A | Fetal biophys profile w/nst | 1.05 | 0.30 | 0.37 | 0.30 | 0.37 | 0.05 | 1.40 | 1.47 | 1.40 | 1.47 | XXX
76818 | TC | A | Fetal biophys profile w/nst | 0.00 | 1.92 | 1.69 | NA | NA | 0.10 | 2.02 | 1.79 | NA | NA | XXX
76819 |  | A | Fetal biophys profil w/o nst | 0.77 | 1.65 | 1.83 | NA | NA | 0.13 | 2.55 | 2.73 | NA | NA | XXX
76819 | 26 | A | Fetal biophys profil w/o nst | 0.77 | 0.23 | 0.27 | 0.23 | 0.27 | 0.03 | 1.03 | 1.07 | 1.03 | 1.07 | XXX
76819 | TC | A | Fetal biophys profil w/o nst | 0.00 | 1.42 | 1.56 | NA | NA | 0.10 | 1.52 | 1.66 | NA | NA | XXX
76820 |  | A | Umbilical artery echo | 0.50 | 0.57 | 1.49 | NA | NA | 0.15 | 1.22 | 2.14 | NA | NA | XXX
76820 | 26 | A | Umbilical artery echo | 0.50 | 0.14 | 0.18 | 0.14 | 0.18 | 0.03 | 0.67 | 0.71 | 0.67 | 0.71 | XXX
76820 | TC | A | Umbilical artery echo | 0.00 | 0.43 | 1.32 | NA | NA | 0.12 | 0.55 | 1.44 | NA | NA | XXX
76821 |  | A | Middle cerebral artery echo | 0.70 | 1.88 | 1.88 | NA | NA | 0.15 | 2.73 | 2.73 | NA | NA | XXX
76821 | 26 | A | Middle cerebral artery echo | 0.70 | 0.20 | 0.25 | 0.20 | 0.25 | 0.03 | 0.93 | 0.98 | 0.93 | 0.98 | XXX
76821 | TC | A | Middle cerebral artery echo | 0.00 | 1.68 | 1.63 | NA | NA | 0.12 | 1.80 | 1.75 | NA | NA | XXX
76825 |  | A | Echo exam of fetal heart | 1.67 | 4.34 | 3.02 | NA | NA | 0.18 | 6.19 | 4.87 | NA | NA | XXX
76825 | 26 | A | Echo exam of fetal heart | 1.67 | 0.48 | 0.57 | 0.48 | 0.57 | 0.07 | 2.22 | 2.31 | 2.22 | 2.31 | XXX
76825 | TC | A | Echo exam of fetal heart | 0.00 | 3.86 | 2.45 | NA | NA | 0.11 | 3.97 | 2.56 | NA | NA | XXX
76826 |  | A | Echo exam of fetal heart | 0.83 | 2.73 | 1.43 | NA | NA | 0.08 | 3.64 | 2.34 | NA | NA | XXX
76826 | 26 | A | Echo exam of fetal heart | 0.83 | 0.23 | 0.28 | 0.23 | 0.28 | 0.03 | 1.09 | 1.14 | 1.09 | 1.14 | XXX
76826 | TC | A | Echo exam of fetal heart | 0.00 | 2.50 | 1.16 | NA | NA | 0.05 | 2.55 | 1.21 | NA | NA | XXX
76827 |  | A | Echo exam of fetal heart | 0.58 | 1.07 | 1.72 | NA | NA | 0.14 | 1.79 | 2.44 | NA | NA | XXX
76827 | 26 | A | Echo exam of fetal heart | 0.58 | 0.17 | 0.20 | 0.17 | 0.20 | 0.02 | 0.77 | 0.80 | 0.77 | 0.80 | XXX
76827 | TC | A | Echo exam of fetal heart | 0.00 | 0.90 | 1.52 | NA | NA | 0.12 | 1.02 | 1.64 | NA | NA | XXX
76828 |  | A | Echo exam of fetal heart | 0.56 | 0.63 | 1.16 | NA | NA | 0.11 | 1.30 | 1.83 | NA | NA | XXX
76828 | 26 | A | Echo exam of fetal heart | 0.56 | 0.15 | 0.20 | 0.15 | 0.20 | 0.03 | 0.74 | 0.79 | 0.74 | 0.79 | XXX
76828 | TC | A | Echo exam of fetal heart | 0.00 | 0.48 | 0.95 | NA | NA | 0.08 | 0.56 | 1.03 | NA | NA | XXX
76830 |  | A | Transvaginal us, non-ob | 0.69 | 2.85 | 2.03 | NA | NA | 0.13 | 3.67 | 2.85 | NA | NA | XXX
76830 | 26 | A | Transvaginal us, non-ob | 0.69 | 0.22 | 0.23 | 0.22 | 0.23 | 0.03 | 0.94 | 0.95 | 0.94 | 0.95 | XXX
76830 | TC | A | Transvaginal us, non-ob | 0.00 | 2.62 | 1.80 | NA | NA | 0.10 | 2.72 | 1.90 | NA | NA | XXX
76831 |  | A | Echo exam, uterus | 0.72 | 2.76 | 2.02 | NA | NA | 0.13 | 3.61 | 2.87 | NA | NA | XXX
76831 | 26 | A | Echo exam, uterus | 0.72 | 0.21 | 0.24 | 0.21 | 0.24 | 0.03 | 0.96 | 0.99 | 0.96 | 0.99 | XXX
76831 | TC | A | Echo exam, uterus | 0.00 | 2.55 | 1.78 | NA | NA | 0.10 | 2.65 | 1.88 | NA | NA | XXX
76856 |  | A | Us exam, pelvic, complete | 0.69 | 2.90 | 2.04 | NA | NA | 0.13 | 3.72 | 2.86 | NA | NA | XXX
76856 | 26 | A | Us exam, pelvic, complete | 0.69 | 0.24 | 0.23 | 0.24 | 0.23 | 0.03 | 0.96 | 0.95 | 0.96 | 0.95 | XXX
76856 | TC | A | Us exam, pelvic, complete | 0.00 | 2.67 | 1.81 | NA | NA | 0.10 | 2.77 | 1.91 | NA | NA | XXX
76857 |  | A | Us exam, pelvic, limited | 0.38 | 2.59 | 2.02 | NA | NA | 0.08 | 3.05 | 2.48 | NA | NA | XXX
76857 | 26 | A | Us exam, pelvic, limited | 0.38 | 0.15 | 0.13 | 0.15 | 0.13 | 0.02 | 0.55 | 0.53 | 0.55 | 0.53 | XXX
76857 | TC | A | Us exam, pelvic, limited | 0.00 | 2.44 | 1.89 | NA | NA | 0.06 | 2.50 | 1.95 | NA | NA | XXX
76870 |  | A | Us exam, scrotum | 0.64 | 2.94 | 2.03 | NA | NA | 0.13 | 3.71 | 2.80 | NA | NA | XXX
76870 | 26 | A | Us exam, scrotum | 0.64 | 0.23 | 0.22 | 0.23 | 0.22 | 0.03 | 0.90 | 0.89 | 0.90 | 0.89 | XXX
76870 | TC | A | Us exam, scrotum | 0.00 | 2.72 | 1.82 | NA | NA | 0.10 | 2.82 | 1.92 | NA | NA | XXX
76872 |  | A | Us, transrectal | 0.69 | 3.50 | 2.56 | NA | NA | 0.14 | 4.33 | 3.39 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
76872 | 26 | A | Us, transrectal | 0.69 | 0.28 | 0.24 | 0.28 | 0.24 | 0.04 | 1.01 | 0.97 | 1.01 | 0.97 | XXX
76872 | TC | A | Us, transrectal | 0.00 | 3.22 | 2.33 | NA | NA | 0.10 | 3.32 | 2.43 | NA | NA | XXX
76873 |  | A | Echograp trans r, pros study | 1.55 | 3.45 | 2.82 | NA | NA | 0.25 | 5.25 | 4.62 | NA | NA | XXX
76873 | 26 | A | Echograp trans r, pros study | 1.55 | 0.53 | 0.51 | 0.53 | 0.51 | 0.09 | 2.17 | 2.15 | 2.17 | 2.15 | XXX
76873 | TC | A | Echograp trans r, pros study | 0.00 | 2.92 | 2.31 | NA | NA | 0.16 | 3.08 | 2.47 | NA | NA | XXX
76880 |  | A | Us exam, extremity | 0.59 | 3.25 | 2.02 | NA | NA | 0.11 | 3.95 | 2.72 | NA | NA | XXX
76880 | 26 | A | Us exam, extremity | 0.59 | 0.18 | 0.19 | 0.18 | 0.19 | 0.03 | 0.80 | 0.81 | 0.80 | 0.81 | XXX
76880 | TC | A | Us exam, extremity | 0.00 | 3.07 | 1.83 | NA | NA | 0.08 | 3.15 | 1.91 | NA | NA | XXX
76885 |  | A | Us exam infant hips, dynamic | 0.74 | 3.36 | 2.16 | NA | NA | 0.13 | 4.23 | 3.03 | NA | NA | XXX
76885 | 26 | A | Us exam infant hips, dynamic | 0.74 | 0.24 | 0.24 | 0.24 | 0.24 | 0.03 | 1.01 | 1.01 | 1.01 | 1.01 | XXX
76885 | TC | A | Us exam infant hips, dynamic | 0.00 | 3.11 | 1.92 | NA | NA | 0.10 | 3.21 | 2.02 | NA | NA | XXX
76886 |  | A | Us exam infant hips, static | 0.62 | 2.36 | 1.81 | NA | NA | 0.11 | 3.09 | 2.54 | NA | NA | XXX
76886 | 26 | A | Us exam infant hips, static | 0.62 | 0.19 | 0.20 | 0.19 | 0.20 | 0.03 | 0.84 | 0.85 | 0.84 | 0.85 | XXX
76886 | TC | A | Us exam infant hips, static | 0.00 | 2.18 | 1.61 | NA | NA | 0.08 | 2.26 | 1.69 | NA | NA | XXX
76930 |  | A | Echo guide, cardiocentesis | 0.67 | 2.15 | 1.87 | NA | NA | 0.12 | 2.94 | 2.66 | NA | NA | XXX
76930 | 26 | A | Echo guide, cardiocentesis | 0.67 | 0.35 | 0.28 | 0.35 | 0.28 | 0.02 | 1.04 | 0.97 | 1.04 | 0.97 | XXX
76930 | TC | A | Echo guide, cardiocentesis | 0.00 | 1.80 | 1.59 | NA | NA | 0.10 | 1.90 | 1.69 | NA | NA | XXX
76932 |  | A | Echo guide for heart biopsy | 0.67 | 0.36 | 1.42 | NA | NA | 0.12 | 1.15 | 2.21 | NA | NA | XXX
76932 | 26 | A | Echo guide for heart biopsy | 0.67 | 0.36 | 0.28 | 0.36 | 0.28 | 0.02 | 1.05 | 0.97 | 1.05 | 0.97 | XXX
76932 | TC | A | Echo guide for heart biopsy | 0.00 | 0.00 | 1.14 | NA | NA | 0.10 | 0.10 | 1.24 | NA | NA | XXX
76936 |  | A | Echo guide for artery repair | 1.99 | 6.28 | 6.80 | NA | NA | 0.47 | 8.74 | 9.26 | NA | NA | XXX
76936 | 26 | A | Echo guide for artery repair | 1.99 | 0.72 | 0.68 | 0.72 | 0.68 | 0.13 | 2.84 | 2.80 | 2.84 | 2.80 | XXX
76936 | TC | A | Echo guide for artery repair | 0.00 | 5.56 | 6.12 | NA | NA | 0.34 | 5.90 | 6.46 | NA | NA | XXX
76937 |  | A | Us guide, vascular access | 0.30 | 0.65 | 0.52 | NA | NA | 0.13 | 1.08 | 0.95 | NA | NA | ZZZ
76937 | 26 | A | Us guide, vascular access | 0.30 | 0.10 | 0.10 | 0.10 | 0.10 | 0.03 | 0.43 | 0.43 | 0.43 | 0.43 | ZZZ
76937 | DTC | A | Us guide, vascular access | 0.00 | 0.54 | 0.42 | NA | NA | 0.10 | 0.64 | 0.52 | NA | NA | ZZZ
76940 |  | A | Us guide, tissue ablation | 2.00 | 0.63 | 1.79 | NA | NA | 0.60 | 3.23 | 4.39 | NA | NA | XXX
76940 | 26 | A | Us guide, tissue ablation | 2.00 | 0.63 | 0.65 | 0.63 | 0.65 | 0.31 | 2.94 | 2.96 | 2.94 | 2.96 | XXX
76940 | TC | A | Us guide, tissue ablation | 0.00 | 0.00 | 1.14 | NA | NA | 0.29 | 0.29 | 1.43 | NA | NA | XXX
76941 |  | A | Echo guide for transfusion | 1.34 | 0.43 | 1.61 | NA | NA | 0.15 | 1.92 | 3.10 | NA | NA | XXX
76941 | 26 | A | Echo guide for transfusion | 1.34 | 0.43 | 0.46 | 0.43 | 0.46 | 0.07 | 1.84 | 1.87 | 1.84 | 1.87 | XXX
76941 | TC | A | Echo guide for transfusion | 0.00 | 0.00 | 1.15 | NA | NA | 0.08 | 0.08 | 1.23 | NA | NA | XXX
76942 |  | A | Echo guide for biopsy | 0.67 | 4.98 | 3.53 | NA | NA | 0.13 | 5.78 | 4.33 | NA | NA | XXX
76942 | 26 | A | Echo guide for biopsy | 0.67 | 0.24 | 0.23 | 0.24 | 0.23 | 0.03 | 0.94 | 0.93 | 0.94 | 0.93 | XXX
76942 | TC | A | Echo guide for biopsy | 0.00 | 4.73 | 3.30 | NA | NA | 0.10 | 4.83 | 3.40 | NA | NA | XXX
76945 |  | A | Echo guide, villus sampling | 0.67 | 0.21 | 1.37 | NA | NA | 0.11 | 0.99 | 2.15 | NA | NA | XXX
76945 | 26 | A | Echo guide, villus sampling | 0.67 | 0.21 | 0.22 | 0.21 | 0.22 | 0.03 | 0.91 | 0.92 | 0.91 | 0.92 | XXX
76945 | TC | A | Echo guide, villus sampling | 0.00 | 0.00 | 1.15 | NA | NA | 0.08 | 0.08 | 1.23 | NA | NA | XXX
76946 |  | A | Echo guide for amniocentesis | 0.38 | 0.45 | 1.36 | NA | NA | 0.12 | 0.95 | 1.86 | NA | NA | XXX
76946 | 26 | A | Echo guide for amniocentesis | 0.38 | 0.11 | 0.13 | 0.11 | 0.13 | 0.02 | 0.51 | 0.53 | 0.51 | 0.53 | XXX
76946 | TC | A | Echo guide for amniocentesis | 0.00 | 0.34 | 1.23 | NA | NA | 0.10 | 0.44 | 1.33 | NA | NA | XXX
76948 |  | A | Echo guide, ova aspiration | 0.38 | 0.44 | 1.35 | NA | NA | 0.12 | 0.94 | 1.85 | NA | NA | XXX
76948 | 26 | A | Echo guide, ova aspiration | 0.38 | 0.10 | 0.12 | 0.10 | 0.12 | 0.02 | 0.50 | 0.52 | 0.50 | 0.52 | XXX
76948 | TC | A | Echo guide, ova aspiration | 0.00 | 0.34 | 1.23 | NA | NA | 0.10 | 0.44 | 1.33 | NA | NA | XXX
76950 |  | A | Echo guidance radiotherapy | 0.58 | 1.17 | 1.42 | NA | NA | 0.10 | 1.85 | 2.10 | NA | NA | XXX
76950 | 26 | A | Echo guidance radiotherapy | 0.58 | 0.16 | 0.18 | 0.16 | 0.18 | 0.03 | 0.77 | 0.79 | 0.77 | 0.79 | XXX
76950 | TC | A | Echo guidance radiotherapy | 0.00 | 1.01 | 1.24 | NA | NA | 0.07 | 1.08 | 1.31 | NA | NA | XXX
76965 |  | A | Echo guidance radiotherapy | 1.34 | 1.20 | 4.82 | NA | NA | 0.37 | 2.91 | 6.53 | NA | NA | XXX
76965 | 26 | A | Echo guidance radiotherapy | 1.34 | 0.49 | 0.45 | 0.49 | 0.45 | 0.08 | 1.91 | 1.87 | 1.91 | 1.87 | XXX
76965 | TC | A | Echo guidance radiotherapy | 0.00 | 0.71 | 4.37 | NA | NA | 0.29 | 1.00 | 4.66 | NA | NA | XXX
76970 |  | A | Ultrasound exam follow-up | 0.40 | 2.15 | 1.42 | NA | NA | 0.08 | 2.63 | 1.90 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
76970 | 26 | A | Ultrasound exam follow-up | 0.40 | 0.11 | 0.13 | 0.11 | 0.13 | 0.02 | 0.53 | 0.55 | 0.53 | 0.55 | XXX
76970 | TC | A | Ultrasound exam follow-up | 0.00 | 2.04 | 1.30 | NA | NA | 0.06 | 2.10 | 1.36 | NA | NA | XXX
76975 |  | A | GI endoscopic ultrasound | 0.81 | 0.31 | 1.43 | NA | NA | 0.14 | 1.26 | 2.38 | NA | NA | XXX
76975 | 26 | A | GI endoscopic ultrasound | 0.81 | 0.31 | 0.29 | 0.31 | 0.29 | 0.04 | 1.16 | 1.14 | 1.16 | 1.14 | XXX
76975 | TC | A | GI endoscopic ultrasound | 0.00 | 0.00 | 1.14 | NA | NA | 0.10 | 0.10 | 1.24 | NA | NA | XXX
76977 |  | A | Us bone density measure | 0.05 | 0.11 | 0.66 | NA | NA | 0.06 | 0.22 | 0.77 | NA | NA | XXX
76977 | 26 | A | Us bone density measure | 0.05 | 0.01 | 0.02 | 0.01 | 0.02 | 0.01 | 0.07 | 0.08 | 0.07 | 0.08 | XXX
76977 | TC | A | Us bone density measure | 0.00 | 0.09 | 0.64 | NA | NA | 0.05 | 0.14 | 0.69 | NA | NA | XXX
76986 |  | A | Ultrasound guide intraoper | 1.20 | 0.35 | 2.36 | NA | NA | 0.27 | 1.82 | 3.83 | NA | NA | XXX
76986 | 26 | A | Ultrasound guide intraoper | 1.20 | 0.35 | 0.39 | 0.35 | 0.39 | 0.13 | 1.68 | 1.72 | 1.68 | 1.72 | XXX
76986 | TC | A | Ultrasound guide intraoper | 0.00 | 0.00 | 1.97 | NA | NA | 0.14 | 0.14 | 2.11 | NA | NA | XXX
77261 |  | A | Radiation therapy planning | 1.39 | 0.42 | 0.49 | 0.42 | 0.49 | 0.07 | 1.88 | 1.95 | 1.88 | 1.95 | XXX
77262 |  | A | Radiation therapy planning | 2.11 | 0.59 | 0.71 | 0.59 | 0.71 | 0.11 | 2.81 | 2.93 | 2.81 | 2.93 | XXX
77263 |  | A | Radiation therapy planning | 3.14 | 0.88 | 1.05 | 0.88 | 1.05 | 0.16 | 4.18 | 4.35 | 4.18 | 4.35 | XXX
77280 |  | A | Set radiation therapy field | 0.70 | 4.39 | 3.87 | NA | NA | 0.22 | 5.31 | 4.79 | NA | NA | XXX
77280 | 26 | A | Set radiation therapy field | 0.70 | 0.20 | 0.22 | 0.20 | 0.22 | 0.04 | 0.94 | 0.96 | 0.94 | 0.96 | XXX
77280 | TC | A | Set radiation therapy field | 0.00 | 4.20 | 3.66 | NA | NA | 0.18 | 4.38 | 3.84 | NA | NA | XXX
77285 |  | A | Set radiation therapy field | 1.05 | 8.00 | 6.45 | NA | NA | 0.35 | 9.40 | 7.85 | NA | NA | XXX
77285 | 26 | A | Set radiation therapy field | 1.05 | 0.29 | 0.33 | 0.29 | 0.33 | 0.05 | 1.39 | 1.43 | 1.39 | 1.43 | XXX
77285 | TC | A | Set radiation therapy field | 0.00 | 7.70 | 6.12 | NA | NA | 0.30 | 8.00 | 6.42 | NA | NA | XXX
77290 |  | A | Set radiation therapy field | 1.56 | 13.37 | 8.62 | NA | NA | 0.43 | 15.36 | 10.61 | NA | NA | XXX
77290 | 26 | A | Set radiation therapy field | 1.56 | 0.44 | 0.49 | 0.44 | 0.49 | 0.08 | 2.08 | 2.13 | 2.08 | 2.13 | XXX
77290 | TC | A | Set radiation therapy field | 0.00 | 12.93 | 8.13 | NA | NA | 0.35 | 13.28 | 8.48 | NA | NA | XXX
77295 |  | A | Set radiation therapy field | 4.56 | 7.00 | 23.85 | NA | NA | 1.71 | 13.27 | 30.12 | NA | NA | XXX
77295 | 26 | A | Set radiation therapy field | 4.56 | 1.28 | 1.42 | 1.28 | 1.42 | 0.23 | 6.07 | 6.21 | 6.07 | 6.21 | XXX
77295 | TC | A | Set radiation therapy field | 0.00 | 5.72 | 22.44 | NA | NA | 1.48 | 7.20 | 23.92 | NA | NA | XXX
77300 |  | A | Radiation therapy dose plan | 0.62 | 1.10 | 1.43 | NA | NA | 0.10 | 1.82 | 2.15 | NA | NA | XXX
77300 | 26 | A | Radiation therapy dose plan | 0.62 | 0.17 | 0.19 | 0.17 | 0.19 | 0.03 | 0.82 | 0.84 | 0.82 | 0.84 | XXX
77300 | TC | A | Radiation therapy dose plan | 0.00 | 0.92 | 1.24 | NA | NA | 0.07 | 0.99 | 1.31 | NA | NA | XXX
77301 |  | A | Radiotherapy dose plan, imrt | 7.99 | 54.08 | 36.46 | NA | NA | 1.88 | 63.95 | 46.33 | NA | NA | XXX
77301 | 26 | A | Radiotherapy dose plan, imrt | 7.99 | 2.24 | 2.49 | 2.24 | 2.49 | 0.40 | 10.63 | 10.88 | 10.63 | 10.88 | XXX
77301 | TC | A | Radiotherapy dose plan, imrt | 0.00 | 51.84 | 33.97 | NA | NA | 1.48 | 53.32 | 35.45 | NA | NA | XXX
77305 |  | A | Teletx isodose plan simple | 0.70 | 0.86 | 1.79 | NA | NA | 0.15 | 1.71 | 2.64 | NA | NA | XXX
77305 | 26 | A | Teletx isodose plan simple | 0.70 | 0.20 | 0.22 | 0.20 | 0.22 | 0.04 | 0.94 | 0.96 | 0.94 | 0.96 | XXX
77305 | TC | A | Teletx isodose plan simple | 0.00 | 0.66 | 1.57 | NA | NA | 0.11 | 0.77 | 1.68 | NA | NA | XXX
77310 |  | A | Teletx isodose plan intermed | 1.05 | 1.19 | 2.31 | NA | NA | 0.18 | 2.42 | 3.54 | NA | NA | XXX
77310 | 26 | A | Teletx isodose plan intermed | 1.05 | 0.29 | 0.33 | 0.29 | 0.33 | 0.05 | 1.39 | 1.43 | 1.39 | 1.43 | XXX
77310 | TC | A | Teletx isodose plan intermed | 0.00 | 0.90 | 1.98 | NA | NA | 0.13 | 1.03 | 2.11 | NA | NA | XXX
77315 |  | A | Teletx isodose plan complex | 1.56 | 1.99 | 2.88 | NA | NA | 0.22 | 3.77 | 4.66 | NA | NA | XXX
77315 | 26 | A | Teletx isodose plan complex | 1.56 | 0.44 | 0.49 | 0.44 | 0.49 | 0.08 | 2.08 | 2.13 | 2.08 | 2.13 | XXX
77315 | TC | A | Teletx isodose plan complex | 0.00 | 1.56 | 2.39 | NA | NA | 0.14 | 1.70 | 2.53 | NA | NA | XXX
77321 |  | A | Special teletx port plan | 0.95 | 1.40 | 3.61 | NA | NA | 0.26 | 2.61 | 4.82 | NA | NA | XXX
77321 | 26 | A | Special teletx port plan | 0.95 | 0.27 | 0.29 | 0.27 | 0.29 | 0.05 | 1.27 | 1.29 | 1.27 | 1.29 | XXX
77321 | TC | A | Special teletx port plan | 0.00 | 1.13 | 3.32 | NA | NA | 0.21 | 1.34 | 3.53 | NA | NA | XXX
77326 |  | A | Brachytx isodose calc simp | 0.93 | 2.81 | 2.71 | NA | NA | 0.18 | 3.92 | 3.82 | NA | NA | XXX
77326 | 26 | A | Brachytx isodose calc simp | 0.93 | 0.26 | 0.29 | 0.26 | 0.29 | 0.05 | 1.24 | 1.27 | 1.24 | 1.27 | XXX
77326 | TC | A | Brachytx isodose calc simp | 0.00 | 2.56 | 2.42 | NA | NA | 0.13 | 2.69 | 2.55 | NA | NA | XXX
77327 |  | A | Brachytx isodose calc interm | 1.39 | 3.89 | 3.91 | NA | NA | 0.25 | 5.53 | 5.55 | NA | NA | XXX
77327 | 26 | A | Brachytx isodose calc interm | 1.39 | 0.39 | 0.43 | 0.39 | 0.43 | 0.07 | 1.85 | 1.89 | 1.85 | 1.89 | XXX
77327 | TC | A | Brachytx isodose calc interm | 0.00 | 3.50 | 3.49 | NA | NA | 0.18 | 3.68 | 3.67 | NA | NA | XXX
77328 |  | A | Brachytx isodose plan compl | 2.09 | 5.00 | 5.48 | NA | NA | 0.36 | 7.45 | 7.93 | NA | NA | XXX
77328 | 26 | A | Brachytx isodose plan compl | 2.09 | 0.59 | 0.65 | 0.59 | 0.65 | 0.11 | 2.79 | 2.85 | 2.79 | 2.85 | XXX
77328 | TC | A | Brachytx isodose plan compl | 0.00 | 4.41 | 4.83 | NA | NA | 0.25 | 4.66 | 5.08 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
77331 |  | A | Special radiation dosimetry | 0.87 | 0.73 | 0.77 | NA | NA | 0.06 | 1.66 | 1.70 | NA | NA | XXX
77331 | 26 | A | Special radiation dosimetry | 0.87 | 0.24 | 0.27 | 0.24 | 0.27 | 0.04 | 1.15 | 1.18 | 1.15 | 1.18 | XXX
77331 | TC | A | Special radiation dosimetry | 0.00 | 0.49 | 0.50 | NA | NA | 0.02 | 0.51 | 0.52 | NA | NA | XXX
77332 |  | A | Radiation treatment aid(s) | 0.54 | 1.54 | 1.52 | NA | NA | 0.10 | 2.18 | 2.16 | NA | NA | XXX
77332 | 26 | A | Radiation treatment aid(s) | 0.54 | 0.15 | 0.17 | 0.15 | 0.17 | 0.03 | 0.72 | 0.74 | 0.72 | 0.74 | XXX
77332 | TC | A | Radiation treatment aid(s) | 0.00 | 1.38 | 1.35 | NA | NA | 0.07 | 1.45 | 1.42 | NA | NA | XXX
77333 |  | A | Radiation treatment aid(s) | 0.84 | 0.47 | 1.75 | NA | NA | 0.15 | 1.46 | 2.74 | NA | NA | XXX
77333 | 26 | A | Radiation treatment aid(s) | 0.84 | 0.24 | 0.26 | 0.24 | 0.26 | 0.04 | 1.12 | 1.14 | 1.12 | 1.14 | XXX
77333 | TC | A | Radiation treatment aid(s) | 0.00 | 0.23 | 1.48 | NA | NA | 0.11 | 0.34 | 1.59 | NA | NA | XXX
77334 |  | A | Radiation treatment aid(s) | 1.24 | 2.64 | 3.41 | NA | NA | 0.23 | 4.11 | 4.88 | NA | NA | XXX
77334 | 26 | A | Radiation treatment aid(s) | 1.24 | 0.35 | 0.39 | 0.35 | 0.39 | 0.06 | 1.65 | 1.69 | 1.65 | 1.69 | XXX
77334 | TC | A | Radiation treatment aid(s) | 0.00 | 2.30 | 3.02 | NA | NA | 0.17 | 2.47 | 3.19 | NA | NA | XXX
77336 |  | A | Radiation physics consult | 0.00 | 0.93 | 2.48 | NA | NA | 0.16 | 1.09 | 2.64 | NA | NA | XXX
77370 |  | A | Radiation physics consult | 0.00 | 2.36 | 3.22 | NA | NA | 0.18 | 2.54 | 3.40 | NA | NA | XXX
77401 |  | A | Radiation treatment delivery | 0.00 | 0.50 | 1.46 | NA | NA | 0.11 | 0.61 | 1.57 | NA | NA | XXX
77402 |  | A | Radiation treatment delivery | 0.00 | 4.20 | 2.39 | NA | NA | 0.11 | 4.31 | 2.50 | NA | NA | XXX
77403 |  | A | Radiation treatment delivery | 0.00 | 3.77 | 2.28 | NA | NA | 0.11 | 3.88 | 2.39 | NA | NA | XXX
77404 |  | A | Radiation treatment delivery | 0.00 | 4.22 | 2.39 | NA | NA | 0.11 | 4.33 | 2.50 | NA | NA | XXX
77406 |  | A | Radiation treatment delivery | 0.00 | 4.23 | 2.39 | NA | NA | 0.11 | 4.34 | 2.50 | NA | NA | XXX
77407 |  | A | Radiation treatment delivery | 0.00 | 5.44 | 2.94 | NA | NA | 0.12 | 5.56 | 3.06 | NA | NA | XXX
77408 |  | A | Radiation treatment delivery | 0.00 | 5.24 | 2.89 | NA | NA | 0.12 | 5.36 | 3.01 | NA | NA | XXX
77409 |  | A | Radiation treatment delivery | 0.00 | 5.84 | 3.04 | NA | NA | 0.12 | 5.96 | 3.16 | NA | NA | XXX
77411 |  | A | Radiation treatment delivery | 0.00 | 5.73 | 3.01 | NA | NA | 0.12 | 5.85 | 3.13 | NA | NA | XXX
77412 |  | A | Radiation treatment delivery | 0.00 | 6.85 | 3.47 | NA | NA | 0.13 | 6.98 | 3.60 | NA | NA | XXX
77413 |  | A | Radiation treatment delivery | 0.00 | 6.86 | 3.47 | NA | NA | 0.13 | 6.99 | 3.60 | NA | NA | XXX
77414 |  | A | Radiation treatment delivery | 0.00 | 7.74 | 3.69 | NA | NA | 0.13 | 7.87 | 3.82 | NA | NA | XXX
77416 |  | A | Radiation treatment delivery | 0.00 | 7.73 | 3.69 | NA | NA | 0.13 | 7.86 | 3.82 | NA | NA | XXX
77417 |  | A | Radiology port film(s) | 0.00 | 0.36 | 0.53 | NA | NA | 0.04 | 0.40 | 0.57 | NA | NA | XXX
77418 |  | A | Radiation tx delivery, imrt | 0.00 | 13.15 | 16.84 | NA | NA | 0.13 | 13.28 | 16.97 | NA | NA | XXX
77421 |  | A | Stereoscopic x-ray guidance | 0.39 | 1.97 | 3.11 | NA | NA | 0.12 | 2.48 | 3.62 | NA | NA | XXX
77421 | 26 | A | Stereoscopic x-ray guidance | 0.39 | 0.11 | 0.13 | 0.11 | 0.13 | 0.02 | 0.52 | 0.54 | 0.52 | 0.54 | XXX
77421 | TC | A | Stereoscopic x-ray guidance | 0.00 | 1.86 | 2.99 | NA | NA | 0.10 | 1.96 | 3.09 | NA | NA | XXX
77422 |  | A | Neutron beam tx, simple | 0.00 | 7.59 | 3.18 | NA | NA | 0.13 | 7.72 | 3.31 | NA | NA | XXX
77423 |  | A | Neutron beam tx, complex | 0.00 | 12.53 | 4.83 | NA | NA | 0.13 | 12.66 | 4.96 | NA | NA | XXX
77427 |  | A | Radiation tx management, x5 | 3.31 | 1.10 | 1.07 | 1.10 | 1.07 | 0.17 | 4.58 | 4.55 | 4.58 | 4.55 | XXX
77431 |  | A | Radiation therapy management | 1.81 | 0.69 | 0.68 | 0.69 | 0.68 | 0.09 | 2.59 | 2.58 | 2.59 | 2.58 | XXX
77432 |  | A | Stereotactic radiation trmt | 7.92 | 2.21 | 2.74 | 2.21 | 2.74 | 0.41 | 10.54 | 11.07 | 10.54 | 11.07 | XXX
77470 |  | A | Special radiation treatment | 2.09 | 1.79 | 9.34 | NA | NA | 0.70 | 4.58 | 12.13 | NA | NA | XXX
77470 | 26 | A | Special radiation treatment | 2.09 | 0.58 | 0.65 | 0.58 | 0.65 | 0.11 | 2.78 | 2.85 | 2.78 | 2.85 | XXX
77470 | TC | A | Special radiation treatment | 0.00 | 1.20 | 8.69 | NA | NA | 0.59 | 1.79 | 9.28 | NA | NA | XXX
77600 |  | R | Hyperthermia treatment | 1.56 | 9.38 | 5.02 | NA | NA | 0.24 | 11.18 | 6.82 | NA | NA | XXX
77600 | 26 | R | Hyperthermia treatment | 1.56 | 0.36 | 0.47 | 0.36 | 0.47 | 0.08 | 2.00 | 2.11 | 2.00 | 2.11 | XXX
77600 | TC | R | Hyperthermia treatment | 0.00 | 9.02 | 4.55 | NA | NA | 0.16 | 9.18 | 4.71 | NA | NA | XXX
77605 |  | R | Hyperthermia treatment | 2.09 | 16.95 | 7.79 | NA | NA | 0.38 | 19.42 | 10.26 | NA | NA | XXX
77605 | 26 | R | Hyperthermia treatment | 2.09 | 0.53 | 0.63 | 0.53 | 0.63 | 0.16 | 2.78 | 2.88 | 2.78 | 2.88 | XXX
77605 | TC | R | Hyperthermia treatment | 0.00 | 16.42 | 7.16 | NA | NA | 0.22 | 16.64 | 7.38 | NA | NA | XXX
77610 |  | R | Hyperthermia treatment | 1.56 | 16.63 | 6.84 | NA | NA | 0.24 | 18.43 | 8.64 | NA | NA | XXX
77610 | 26 | R | Hyperthermia treatment | 1.56 | 0.43 | 0.49 | 0.43 | 0.49 | 0.08 | 2.07 | 2.13 | 2.07 | 2.13 | XXX
77610 | TC | R | Hyperthermia treatment | 0.00 | 16.20 | 6.35 | NA | NA | 0.16 | 16.36 | 6.51 | NA | NA | XXX
77615 |  | R | Hyperthermia treatment | 2.09 | 24.67 | 9.72 | NA | NA | 0.33 | 27.09 | 12.14 | NA | NA | XXX
77615 | 26 | R | Hyperthermia treatment | 2.09 | 0.56 | 0.64 | 0.56 | 0.64 | 0.11 | 2.76 | 2.84 | 2.76 | 2.84 | XXX
77615 | TC | R | Hyperthermia treatment | 0.00 | 24.11 | 9.08 | NA | NA | 0.22 | 24.33 | 9.30 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
77620 |  | R | Hyperthermia treatment | 1.56 | 9.51 | 5.06 | NA | NA | 0.36 | 11.43 | 6.98 | NA | NA | XXX
77620 | 26 | R | Hyperthermia treatment | 1.56 | 0.40 | 0.49 | 0.40 | 0.49 | 0.20 | 2.16 | 2.25 | 2.16 | 2.25 | XXX
77620 | TC | R | Hyperthermia treatment | 0.00 | 9.11 | 4.57 | NA | NA | 0.16 | 9.27 | 4.73 | NA | NA | XXX
77750 |  | A | Infuse radioactive materials | 4.90 | 4.26 | 3.25 | NA | NA | 0.32 | 9.48 | 8.47 | NA | NA | 090
77750 | 26 | A | Infuse radioactive materials | 4.90 | 1.38 | 1.53 | 1.38 | 1.53 | 0.25 | 6.53 | 6.68 | 6.53 | 6.68 | 090
77750 | TC | A | Infuse radioactive materials | 0.00 | 2.88 | 1.72 | NA | NA | 0.07 | 2.95 | 1.79 | NA | NA | 090
77761 |  | A | Apply intrcav radiat simple | 3.80 | 5.68 | 4.12 | NA | NA | 0.33 | 9.81 | 8.25 | NA | NA | 090
77761 | 26 | A | Apply intrcav radiat simple | 3.80 | 1.08 | 1.09 | 1.08 | 1.09 | 0.19 | 5.07 | 5.08 | 5.07 | 5.08 | 090
77761 | TC | A | Apply intrcav radiat simple | 0.00 | 4.60 | 3.03 | NA | NA | 0.14 | 4.74 | 3.17 | NA | NA | 090
77762 |  | A | Apply intrcav radiat interm | 5.71 | 6.67 | 5.76 | NA | NA | 0.48 | 12.86 | 11.95 | NA | NA | 090
77762 | 26 | A | Apply intrcav radiat interm | 5.71 | 1.59 | 1.78 | 1.59 | 1.78 | 0.29 | 7.59 | 7.78 | 7.59 | 7.78 | 090
77762 | TC | A | Apply intrcav radiat interm | 0.00 | 5.08 | 3.99 | NA | NA | 0.19 | 5.27 | 4.18 | NA | NA | 090
77763 |  | A | Apply intrcav radiat compl | 8.56 | 8.99 | 7.69 | NA | NA | 0.66 | 18.21 | 16.91 | NA | NA | 090
77763 | 26 | A | Apply intrcav radiat compl | 8.56 | 2.38 | 2.66 | 2.38 | 2.66 | 0.43 | 11.37 | 11.65 | 11.37 | 11.65 | 090
77763 | TC | A | Apply intrcav radiat compl | 0.00 | 6.61 | 5.03 | NA | NA | 0.23 | 6.84 | 5.26 | NA | NA | 090
77776 |  | A | Apply interstit radiat simpl | 4.65 | 6.77 | 4.05 | NA | NA | 0.57 | 11.99 | 9.27 | NA | NA | 090
77776 | 26 | A | Apply interstit radiat simpl | 4.65 | 1.58 | 1.11 | 1.58 | 1.11 | 0.44 | 6.67 | 6.20 | 6.67 | 6.20 | 090
77776 | TC | A | Apply interstit radiat simpl | 0.00 | 5.19 | 2.94 | NA | NA | 0.13 | 5.32 | 3.07 | NA | NA | 090
77777 |  | A | Apply interstit radiat inter | 7.47 | 7.07 | 6.73 | NA | NA | 0.61 | 15.15 | 14.81 | NA | NA | 090
77777 | 26 | A | Apply interstit radiat inter | 7.47 | 2.25 | 2.35 | 2.25 | 2.35 | 0.39 | 10.11 | 10.21 | 10.11 | 10.21 | 090
77778 |  | A | Apply interstit radiat compl | 11.17 | 9.77 | 8.98 | NA | NA | 0.84 | 21.78 | 20.99 | NA | NA | 090
77778 | 26 | A | Apply interstit radiat compl | 11.17 | 3.15 | 3.47 | 3.15 | 3.47 | 0.57 | 14.89 | 15.21 | 14.89 | 15.21 | 090
77778 | TC | A | Apply interstit radiat compl | 0.00 | 6.62 | 5.51 | NA | NA | 0.27 | 6.89 | 5.78 | NA | NA | 090
77781 |  | A | High intensity brachytherapy | 1.66 | 4.80 | 16.87 | NA | NA | 1.14 | 7.60 | 19.67 | NA | NA | 090
77781 | 26 | A | High intensity brachytherapy | 1.66 | 0.46 | 0.51 | 0.46 | 0.51 | 0.08 | 2.20 | 2.25 | 2.20 | 2.25 | 090
77781 | TC | A | High intensity brachytherapy | 0.00 | 4.34 | 16.36 | NA | NA | 1.06 | 5.40 | 17.42 | NA | NA | 090
77782 |  | A | High intensity brachytherapy | 2.49 | 12.68 | 19.04 | NA | NA | 1.19 | 16.36 | 22.72 | NA | NA | 090
77782 | 26 | A | High intensity brachytherapy | 2.49 | 0.69 | 0.77 | 0.69 | 0.77 | 0.13 | 3.31 | 3.39 | 3.31 | 3.39 | 090
77782 | TC | A | High intensity brachytherapy | 0.00 | 11.99 | 18.27 | NA | NA | 1.06 | 13.05 | 19.33 | NA | NA | 090
77783 |  | A | High intensity brachytherapy | 3.72 | 24.45 | 22.28 | NA | NA | 1.25 | 29.42 | 27.25 | NA | NA | 090
77783 | 26 | A | High intensity brachytherapy | 3.72 | 1.03 | 1.15 | 1.03 | 1.15 | 0.19 | 4.94 | 5.06 | 4.94 | 5.06 | 090
77783 | TC | A | High intensity brachytherapy | 0.00 | 23.42 | 21.13 | NA | NA | 1.06 | 24.48 | 22.19 | NA | NA | 090
77784 |  | A | High intensity brachytherapy | 5.60 | 45.62 | 28.03 | NA | NA | 1.35 | 52.57 | 34.98 | NA | NA | 090
77784 | 26 | A | High intensity brachytherapy | 5.60 | 1.55 | 1.74 | 1.55 | 1.74 | 0.29 | 7.44 | 7.63 | 7.44 | 7.63 | 090
77784 | TC | A | High intensity brachytherapy | 0.00 | 44.07 | 26.29 | NA | NA | 1.06 | 45.13 | 27.35 | NA | NA | 090
77789 |  | A | Apply surface radiation | 1.12 | 1.95 | 1.10 | NA | NA | 0.08 | 3.15 | 2.30 | NA | NA | 000
77789 | 26 | A | Apply surface radiation | 1.12 | 0.35 | 0.37 | 0.35 | 0.37 | 0.06 | 1.53 | 1.55 | 1.53 | 1.55 | 000
77789 | TC | A | Apply surface radiation | 0.00 | 1.60 | 0.74 | NA | NA | 0.02 | 1.62 | 0.76 | NA | NA | 000
77790 |  | A | Radiation handling | 1.05 | 1.18 | 0.93 | NA | NA | 0.07 | 2.30 | 2.05 | NA | NA | XXX
77790 | 26 | A | Radiation handling | 1.05 | 0.30 | 0.33 | 0.30 | 0.33 | 0.05 | 1.40 | 1.43 | 1.40 | 1.43 | XXX
77790 | TC | A | Radiation handling | 0.00 | 0.89 | 0.60 | NA | NA | 0.02 | 0.91 | 0.62 | NA | NA | XXX
78000 |  | A | Thyroid, single uptake | 0.19 | 1.92 | 1.25 | NA | NA | 0.07 | 2.18 | 1.51 | NA | NA | XXX
78000 | 26 | A | Thyroid, single uptake | 0.19 | 0.06 | 0.06 | 0.06 | 0.06 | 0.01 | 0.26 | 0.26 | 0.26 | 0.26 | XXX
78000 | TC | A | Thyroid, single uptake | 0.00 | 1.86 | 1.19 | NA | NA | 0.06 | 1.92 | 1.25 | NA | NA | XXX
78001 |  | A | Thyroid, multiple uptakes | 0.26 | 2.37 | 1.64 | NA | NA | 0.08 | 2.71 | 1.98 | NA | NA | XXX
78001 | 26 | A | Thyroid, multiple uptakes | 0.26 | 0.09 | 0.09 | 0.09 | 0.09 | 0.01 | 0.36 | 0.36 | 0.36 | 0.36 | XXX
78001 | TC | A | Thyroid, multiple uptakes | 0.00 | 2.28 | 1.55 | NA | NA | 0.07 | 2.35 | 1.62 | NA | NA | XXX
78003 |  | A | Thyroid suppress/stimul | 0.33 | 1.99 | 1.31 | NA | NA | 0.07 | 2.39 | 1.71 | NA | NA | XXX
78003 | 26 | A | Thyroid suppress/stimul | 0.33 | 0.11 | 0.11 | 0.11 | 0.11 | 0.01 | 0.45 | 0.45 | 0.45 | 0.45 | XXX
78003 | TC | A | Thyroid suppress/stimul | 0.00 | 1.88 | 1.20 | NA | NA | 0.06 | 1.94 | 1.26 | NA | NA | XXX
78006 |  | A | Thyroid imaging with uptake | 0.49 | 6.49 | 3.54 | NA | NA | 0.15 | 7.13 | 4.18 | NA | NA | XXX
78006 | 26 | A | Thyroid imaging with uptake | 0.49 | 0.17 | 0.16 | 0.17 | 0.16 | 0.02 | 0.68 | 0.67 | 0.68 | 0.67 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
78006 | TC | A | Thyroid imaging with uptake | 0.00 | 6.32 | 3.37 | NA | NA | 0.13 | 6.45 | 3.50 | NA | NA | XXX
78007 |  | A | Thyroid image, mult uptakes | 0.50 | 3.17 | 2.86 | NA | NA | 0.16 | 3.83 | 3.52 | NA | NA | XXX
78007 | 26 | A | Thyroid image, mult uptakes | 0.50 | 0.17 | 0.17 | 0.17 | 0.17 | 0.02 | 0.69 | 0.69 | 0.69 | 0.69 | XXX
78007 | TC | A | Thyroid image, mult uptakes | 0.00 | 2.99 | 2.68 | NA | NA | 0.14 | 3.13 | 2.82 | NA | NA | XXX
78010 |  | A | Thyroid imaging | 0.39 | 4.36 | 2.56 | NA | NA | 0.13 | 4.88 | 3.08 | NA | NA | XXX
78010 | 26 | A | Thyroid imaging | 0.39 | 0.13 | 0.13 | 0.13 | 0.13 | 0.02 | 0.54 | 0.54 | 0.54 | 0.54 | XXX
78010 | TC | A | Thyroid imaging | 0.00 | 4.23 | 2.43 | NA | NA | 0.11 | 4.34 | 2.54 | NA | NA | XXX
78011 |  | A | Thyroid imaging with flow | 0.45 | 4.69 | 3.10 | NA | NA | 0.15 | 5.29 | 3.70 | NA | NA | XXX
78011 | 26 | A | Thyroid imaging with flow | 0.45 | 0.15 | 0.15 | 0.15 | 0.15 | 0.02 | 0.62 | 0.62 | 0.62 | 0.62 | XXX
78011 | TC | A | Thyroid imaging with flow | 0.00 | 4.54 | 2.95 | NA | NA | 0.13 | 4.67 | 3.08 | NA | NA | XXX
78015 |  | A | Thyroid met imaging | 0.67 | 5.61 | 3.51 | NA | NA | 0.17 | 6.45 | 4.35 | NA | NA | XXX
78015 | 26 | A | Thyroid met imaging | 0.67 | 0.22 | 0.23 | 0.22 | 0.23 | 0.03 | 0.92 | 0.93 | 0.92 | 0.93 | XXX
78015 | TC | A | Thyroid met imaging | 0.00 | 5.39 | 3.28 | NA | NA | 0.14 | 5.53 | 3.42 | NA | NA | XXX
78016 |  | A | Thyroid met imaging/studies | 0.82 | 8.96 | 5.07 | NA | NA | 0.21 | 9.99 | 6.10 | NA | NA | XXX
78016 | 26 | A | Thyroid met imaging/studies | 0.82 | 0.28 | 0.28 | 0.28 | 0.28 | 0.03 | 1.13 | 1.13 | 1.13 | 1.13 | XXX
78016 | TC | A | Thyroid met imaging/studies | 0.00 | 8.68 | 4.79 | NA | NA | 0.18 | 8.86 | 4.97 | NA | NA | XXX
78018 |  | A | Thyroid met imaging, body | 0.86 | 8.25 | 6.37 | NA | NA | 0.33 | 9.44 | 7.56 | NA | NA | XXX
78018 | 26 | A | Thyroid met imaging, body | 0.86 | 0.29 | 0.30 | 0.29 | 0.30 | 0.04 | 1.19 | 1.20 | 1.19 | 1.20 | XXX
78018 | TC | A | Thyroid met imaging, body | 0.00 | 7.96 | 6.07 | NA | NA | 0.29 | 8.25 | 6.36 | NA | NA | XXX
78020 |  | A | Thyroid met uptake | 0.60 | 1.85 | 1.60 | NA | NA | 0.16 | 2.61 | 2.36 | NA | NA | ZZZ
78020 | 26 | A | Thyroid met uptake | 0.60 | 0.20 | 0.21 | 0.20 | 0.21 | 0.02 | 0.82 | 0.83 | 0.82 | 0.83 | ZZZ
78020 | TC | A | Thyroid met uptake | 0.00 | 1.65 | 1.40 | NA | NA | 0.14 | 1.79 | 1.54 | NA | NA | ZZZ
78070 |  | A | Parathyroid nuclear imaging | 0.82 | 3.59 | 4.32 | NA | NA | 0.15 | 4.56 | 5.29 | NA | NA | XXX
78070 | 26 | A | Parathyroid nuclear imaging | 0.82 | 0.28 | 0.28 | 0.28 | 0.28 | 0.04 | 1.14 | 1.14 | 1.14 | 1.14 | XXX
78070 | TC | A | Parathyroid nuclear imaging | 0.00 | 3.31 | 4.04 | NA | NA | 0.11 | 3.42 | 4.15 | NA | NA | XXX
78075 |  | A | Adrenal nuclear imaging | 0.74 | 11.98 | 7.27 | NA | NA | 0.32 | 13.04 | 8.33 | NA | NA | XXX
78075 | 26 | A | Adrenal nuclear imaging | 0.74 | 0.25 | 0.26 | 0.25 | 0.26 | 0.03 | 1.02 | 1.03 | 1.02 | 1.03 | XXX
78075 | TC | A | Adrenal nuclear imaging | 0.00 | 11.74 | 7.02 | NA | NA | 0.29 | 12.03 | 7.31 | NA | NA | XXX
78102 |  | A | Bone marrow imaging, ltd | 0.55 | 4.33 | 2.76 | NA | NA | 0.14 | 5.02 | 3.45 | NA | NA | XXX
78102 | 26 | A | Bone marrow imaging, ltd | 0.55 | 0.18 | 0.19 | 0.18 | 0.19 | 0.02 | 0.75 | 0.76 | 0.75 | 0.76 | XXX
78102 | TC | A | Bone marrow imaging, ltd | 0.00 | 4.14 | 2.57 | NA | NA | 0.12 | 4.26 | 2.69 | NA | NA | XXX
78103 |  | A | Bone marrow imaging, mult | 0.75 | 5.63 | 3.99 | NA | NA | 0.20 | 6.58 | 4.94 | NA | NA | XXX
78103 | 26 | A | Bone marrow imaging, mult | 0.75 | 0.25 | 0.26 | 0.25 | 0.26 | 0.03 | 1.03 | 1.04 | 1.03 | 1.04 | XXX
78103 | TC | A | Bone marrow imaging, mult | 0.00 | 5.38 | 3.73 | NA | NA | 0.17 | 5.55 | 3.90 | NA | NA | XXX
78104 |  | A | Bone marrow imaging, body | 0.80 | 6.52 | 4.89 | NA | NA | 0.25 | 7.57 | 5.94 | NA | NA | XXX
78104 | 26 | A | Bone marrow imaging, body | 0.80 | 0.29 | 0.28 | 0.29 | 0.28 | 0.03 | 1.12 | 1.11 | 1.12 | 1.11 | XXX
78104 | TC | A | Bone marrow imaging, body | 0.00 | 6.22 | 4.62 | NA | NA | 0.22 | 6.44 | 4.84 | NA | NA | XXX
78110 |  | A | Plasma volume, single | 0.19 | 2.19 | 1.31 | NA | NA | 0.07 | 2.45 | 1.57 | NA | NA | XXX
78110 | 26 | A | Plasma volume, single | 0.19 | 0.06 | 0.07 | 0.06 | 0.07 | 0.01 | 0.26 | 0.27 | 0.26 | 0.27 | XXX
78110 | TC | A | Plasma volume, single | 0.00 | 2.13 | 1.25 | NA | NA | 0.06 | 2.19 | 1.31 | NA | NA | XXX
78111 |  | A | Plasma volume, multiple | 0.22 | 2.23 | 2.55 | NA | NA | 0.15 | 2.60 | 2.92 | NA | NA | XXX
78111 | 26 | A | Plasma volume, multiple | 0.22 | 0.07 | 0.08 | 0.07 | 0.08 | 0.01 | 0.30 | 0.31 | 0.30 | 0.31 | XXX
78111 | TC | A | Plasma volume, multiple | 0.00 | 2.16 | 2.48 | NA | NA | 0.14 | 2.30 | 2.62 | NA | NA | XXX
78120 |  | A | Red cell mass, single | 0.23 | 2.16 | 1.91 | NA | NA | 0.12 | 2.51 | 2.26 | NA | NA | XXX
78120 | 26 | A | Red cell mass, single | 0.23 | 0.08 | 0.08 | 0.08 | 0.08 | 0.01 | 0.32 | 0.32 | 0.32 | 0.32 | XXX
78120 | TC | A | Red cell mass, single | 0.00 | 2.09 | 1.83 | NA | NA | 0.11 | 2.20 | 1.94 | NA | NA | XXX
78121 |  | A | Red cell mass, multiple | 0.32 | 2.26 | 2.84 | NA | NA | 0.15 | 2.73 | 3.31 | NA | NA | XXX
78121 | 26 | A | Red cell mass, multiple | 0.32 | 0.10 | 0.11 | 0.10 | 0.11 | 0.01 | 0.43 | 0.44 | 0.43 | 0.44 | XXX
78121 | TC | A | Red cell mass, multiple | 0.00 | 2.16 | 2.73 | NA | NA | 0.14 | 2.30 | 2.87 | NA | NA | XXX
78122 |  | A | Blood volume | 0.45 | 2.32 | 4.16 | NA | NA | 0.26 | 3.03 | 4.87 | NA | NA | XXX
78122 | 26 | A | Blood volume | 0.45 | 0.15 | 0.16 | 0.15 | 0.16 | 0.02 | 0.62 | 0.63 | 0.62 | 0.63 | XXX
78122 | TC | A | Blood volume | 0.00 | 2.17 | 4.00 | NA | NA | 0.24 | 2.41 | 4.24 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
78130 |  | A | Red cell survival study | 0.61 | 3.73 | 3.24 | NA | NA | 0.17 | 4.51 | 4.02 | NA | NA | XXX
78130 | 26 | A | Red cell survival study | 0.61 | 0.22 | 0.21 | 0.22 | 0.21 | 0.03 | 0.86 | 0.85 | 0.86 | 0.85 | XXX
78130 | TC | A | Red cell survival study | 0.00 | 3.52 | 3.03 | NA | NA | 0.14 | 3.66 | 3.17 | NA | NA | XXX
78135 |  | A | Red cell survival kinetics | 0.64 | 8.87 | 6.04 | NA | NA | 0.28 | 9.79 | 6.96 | NA | NA | XXX
78135 | 26 | A | Red cell survival kinetics | 0.64 | 0.21 | 0.22 | 0.21 | 0.22 | 0.03 | 0.88 | 0.89 | 0.88 | 0.89 | XXX
78135 | TC | A | Red cell survival kinetics | 0.00 | 8.66 | 5.83 | NA | NA | 0.25 | 8.91 | 6.08 | NA | NA | XXX
78140 |  | A | Red cell sequestration | 0.61 | 3.02 | 3.86 | NA | NA | 0.24 | 3.87 | 4.71 | NA | NA | XXX
78140 | 26 | A | Red cell sequestration | 0.61 | 0.21 | 0.20 | 0.21 | 0.20 | 0.03 | 0.85 | 0.84 | 0.85 | 0.84 | XXX
78140 | TC | A | Red cell sequestration | 0.00 | 2.81 | 3.66 | NA | NA | 0.21 | 3.02 | 3.87 | NA | NA | XXX
78185 |  | A | Spleen imaging | 0.40 | 5.42 | 3.24 | NA | NA | 0.15 | 5.97 | 3.79 | NA | NA | XXX
78185 | 26 | A | Spleen imaging | 0.40 | 0.14 | 0.14 | 0.14 | 0.14 | 0.02 | 0.56 | 0.56 | 0.56 | 0.56 | XXX
78185 | TC | A | Spleen imaging | 0.00 | 5.29 | 3.10 | NA | NA | 0.13 | 5.42 | 3.23 | NA | NA | XXX
78190 |  | A | Platelet survival, kinetics | 1.09 | 9.21 | 6.89 | NA | NA | 0.38 | 10.68 | 8.36 | NA | NA | XXX
78190 | 26 | A | Platelet survival, kinetics | 1.09 | 0.35 | 0.38 | 0.35 | 0.38 | 0.08 | 1.52 | 1.55 | 1.52 | 1.55 | XXX
78190 | TC | A | Platelet survival, kinetics | 0.00 | 8.85 | 6.51 | NA | NA | 0.30 | 9.15 | 6.81 | NA | NA | XXX
78191 |  | A | Platelet survival | 0.61 | 3.62 | 6.58 | NA | NA | 0.40 | 4.63 | 7.59 | NA | NA | XXX
78191 | 26 | A | Platelet survival | 0.61 | 0.21 | 0.20 | 0.21 | 0.20 | 0.03 | 0.85 | 0.84 | 0.85 | 0.84 | XXX
78191 | TC | A | Platelet survival | 0.00 | 3.41 | 6.37 | NA | NA | 0.37 | 3.78 | 6.74 | NA | NA | XXX
78195 |  | A | Lymph system imaging | 1.20 | 9.02 | 5.62 | NA | NA | 0.28 | 10.50 | 7.10 | NA | NA | XXX
78195 | 26 | A | Lymph system imaging | 1.20 | 0.40 | 0.41 | 0.40 | 0.41 | 0.06 | 1.66 | 1.67 | 1.66 | 1.67 | XXX
78195 | TC | A | Lymph system imaging | 0.00 | 8.62 | 5.22 | NA | NA | 0.22 | 8.84 | 5.44 | NA | NA | XXX
78201 |  | A | Liver imaging | 0.44 | 4.94 | 3.13 | NA | NA | 0.15 | 5.53 | 3.72 | NA | NA | XXX
78201 | 26 | A | Liver imaging | 0.44 | 0.15 | 0.15 | 0.15 | 0.15 | 0.02 | 0.61 | 0.61 | 0.61 | 0.61 | XXX
78201 | TC | A | Liver imaging | 0.00 | 4.80 | 2.98 | NA | NA | 0.13 | 4.93 | 3.11 | NA | NA | XXX
78202 |  | A | Liver imaging with flow | 0.51 | 5.50 | 3.67 | NA | NA | 0.16 | 6.17 | 4.34 | NA | NA | XXX
78202 | 26 | A | Liver imaging with flow | 0.51 | 0.17 | 0.17 | 0.17 | 0.17 | 0.02 | 0.70 | 0.70 | 0.70 | 0.70 | XXX
78202 | TC | A | Liver imaging with flow | 0.00 | 5.33 | 3.50 | NA | NA | 0.14 | 5.47 | 3.64 | NA | NA | XXX
78205 |  | A | Liver imaging (3D) | 0.71 | 5.48 | 6.00 | NA | NA | 0.34 | 6.53 | 7.05 | NA | NA | XXX
78205 | 26 | A | Liver imaging (3D) | 0.71 | 0.24 | 0.24 | 0.24 | 0.24 | 0.03 | 0.98 | 0.98 | 0.98 | 0.98 | XXX
78205 | TC | A | Liver imaging (3D) | 0.00 | 5.23 | 5.76 | NA | NA | 0.31 | 5.54 | 6.07 | NA | NA | XXX
78206 |  | A | Liver image (3d) with flow | 0.96 | 15.15 | 8.48 | NA | NA | 0.15 | 16.26 | 9.59 | NA | NA | XXX
78206 | 26 | A | Liver image (3d) with flow | 0.96 | 0.33 | 0.33 | 0.33 | 0.33 | 0.04 | 1.33 | 1.33 | 1.33 | 1.33 | XXX
78206 | TC | A | Liver image (3d) with flow | 0.00 | 14.82 | 8.15 | NA | NA | 0.11 | 14.93 | 8.26 | NA | NA | XXX
78215 |  | A | Liver and spleen imaging | 0.49 | 5.02 | 3.59 | NA | NA | 0.16 | 5.67 | 4.24 | NA | NA | XXX
78215 | 26 | A | Liver and spleen imaging | 0.49 | 0.17 | 0.16 | 0.17 | 0.16 | 0.02 | 0.68 | 0.67 | 0.68 | 0.67 | XXX
78215 | TC | A | Liver and spleen imaging | 0.00 | 4.85 | 3.43 | NA | NA | 0.14 | 4.99 | 3.57 | NA | NA | XXX
78216 |  | A | Liver & spleen image/flow | 0.57 | 2.94 | 3.50 | NA | NA | 0.20 | 3.71 | 4.27 | NA | NA | XXX
78216 | 26 | A | Liver & spleen image/flow | 0.57 | 0.19 | 0.19 | 0.19 | 0.19 | 0.02 | 0.78 | 0.78 | 0.78 | 0.78 | XXX
78216 | TC | A | Liver & spleen image/flow | 0.00 | 2.75 | 3.31 | NA | NA | 0.18 | 2.93 | 3.49 | NA | NA | XXX
78220 |  | A | Liver function study | 0.49 | 3.19 | 3.72 | NA | NA | 0.21 | 3.89 | 4.42 | NA | NA | XXX
78220 | 26 | A | Liver function study | 0.49 | 0.17 | 0.16 | 0.17 | 0.16 | 0.02 | 0.68 | 0.67 | 0.68 | 0.67 | XXX
78220 | TC | A | Liver function study | 0.00 | 3.02 | 3.55 | NA | NA | 0.19 | 3.21 | 3.74 | NA | NA | XXX
78223 |  | A | Hepatobiliary imaging | 0.84 | 8.87 | 5.18 | NA | NA | 0.23 | 9.94 | 6.25 | NA | NA | XXX
78223 | 26 | A | Hepatobiliary imaging | 0.84 | 0.29 | 0.28 | 0.29 | 0.28 | 0.04 | 1.17 | 1.16 | 1.17 | 1.16 | XXX
78223 | TC | A | Hepatobiliary imaging | 0.00 | 8.58 | 4.90 | NA | NA | 0.19 | 8.77 | 5.09 | NA | NA | XXX
78230 |  | A | Salivary gland imaging | 0.45 | 4.31 | 2.83 | NA | NA | 0.15 | 4.91 | 3.43 | NA | NA | XXX
78230 | 26 | A | Salivary gland imaging | 0.45 | 0.15 | 0.15 | 0.15 | 0.15 | 0.02 | 0.62 | 0.62 | 0.62 | 0.62 | XXX
78230 | TC | A | Salivary gland imaging | 0.00 | 4.16 | 2.68 | NA | NA | 0.13 | 4.29 | 2.81 | NA | NA | XXX
78231 |  | A | Serial salivary imaging | 0.52 | 2.89 | 3.24 | NA | NA | 0.19 | 3.60 | 3.95 | NA | NA | XXX
78231 | 26 | A | Serial salivary imaging | 0.52 | 0.17 | 0.18 | 0.17 | 0.18 | 0.02 | 0.71 | 0.72 | 0.71 | 0.72 | XXX
78231 | TC | A | Serial salivary imaging | 0.00 | 2.72 | 3.07 | NA | NA | 0.17 | 2.89 | 3.24 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
78232 |  | A | Salivary gland function exam | 0.47 | 2.86 | 3.50 | NA | NA | 0.20 | 3.53 | 4.17 | NA | NA | XXX
78232 | 26 | A | Salivary gland function exam | 0.47 | 0.15 | 0.16 | 0.15 | 0.16 | 0.02 | 0.64 | 0.65 | 0.64 | 0.65 | XXX
78232 | TC | A | Salivary gland function exam | 0.00 | 2.71 | 3.34 | NA | NA | 0.18 | 2.89 | 3.52 | NA | NA | XXX
78258 |  | A | Esophageal motility study | 0.74 | 6.03 | 3.86 | NA | NA | 0.17 | 6.94 | 4.77 | NA | NA | XXX
78258 | 26 | A | Esophageal motility study | 0.74 | 0.28 | 0.26 | 0.28 | 0.26 | 0.03 | 1.05 | 1.03 | 1.05 | 1.03 | XXX
78258 | TC | A | Esophageal motility study | 0.00 | 5.74 | 3.60 | NA | NA | 0.14 | 5.88 | 3.74 | NA | NA | XXX
78261 |  | A | Gastric mucosa imaging | 0.69 | 6.33 | 4.85 | NA | NA | 0.25 | 7.27 | 5.79 | NA | NA | XXX
78261 | 26 | A | Gastric mucosa imaging | 0.69 | 0.24 | 0.24 | 0.24 | 0.24 | 0.03 | 0.96 | 0.96 | 0.96 | 0.96 | XXX
78261 | TC | A | Gastric mucosa imaging | 0.00 | 6.09 | 4.61 | NA | NA | 0.22 | 6.31 | 4.83 | NA | NA | XXX
78262 |  | A | Gastroesophageal reflux exam | 0.68 | 6.11 | 4.90 | NA | NA | 0.25 | 7.04 | 5.83 | NA | NA | XXX
78262 | 26 | A | Gastroesophageal reflux exam | 0.68 | 0.21 | 0.23 | 0.21 | 0.23 | 0.03 | 0.92 | 0.94 | 0.92 | 0.94 | XXX
78262 | TC | A | Gastroesophageal reflux exam | 0.00 | 5.89 | 4.67 | NA | NA | 0.22 | 6.11 | 4.89 | NA | NA | XXX
78264 |  | A | Gastric emptying study | 0.78 | 7.47 | 5.17 | NA | NA | 0.25 | 8.50 | 6.20 | NA | NA | XXX
78264 | 26 | A | Gastric emptying study | 0.78 | 0.27 | 0.26 | 0.27 | 0.26 | 0.03 | 1.08 | 1.07 | 1.08 | 1.07 | XXX
78264 | TC | A | Gastric emptying study | 0.00 | 7.20 | 4.91 | NA | NA | 0.22 | 7.42 | 5.13 | NA | NA | XXX
78270 |  | A | Vit B-12 absorption exam | 0.20 | 2.00 | 1.72 | NA | NA | 0.11 | 2.31 | 2.03 | NA | NA | XXX
78270 | 26 | A | Vit B-12 absorption exam | 0.20 | 0.06 | 0.07 | 0.06 | 0.07 | 0.01 | 0.27 | 0.28 | 0.27 | 0.28 | XXX
78270 | TC | A | Vit B-12 absorption exam | 0.00 | 1.94 | 1.65 | NA | NA | 0.10 | 2.04 | 1.75 | NA | NA | XXX
78271 |  | A | Vit b-12 absrp exam, int fac | 0.20 | 1.94 | 1.77 | NA | NA | 0.11 | 2.25 | 2.08 | NA | NA | XXX
78271 | 26 | A | Vit b-12 absrp exam, int fac | 0.20 | 0.05 | 0.07 | 0.05 | 0.07 | 0.01 | 0.26 | 0.28 | 0.26 | 0.28 | XXX
78271 | TC | A | Vit b-12 absrp exam, int fac | 0.00 | 1.88 | 1.70 | NA | NA | 0.10 | 1.98 | 1.80 | NA | NA | XXX
78272 |  | A | Vit B-12 absorp, combined | 0.27 | 2.04 | 2.33 | NA | NA | 0.14 | 2.45 | 2.74 | NA | NA | XXX
78272 | 26 | A | Vit B-12 absorp, combined | 0.27 | 0.07 | 0.09 | 0.07 | 0.09 | 0.01 | 0.35 | 0.37 | 0.35 | 0.37 | XXX
78272 | TC | A | Vit B-12 absorp, combined | 0.00 | 1.97 | 2.24 | NA | NA | 0.13 | 2.10 | 2.37 | NA | NA | XXX
78278 |  | A | Acute GI blood loss imaging | 0.99 | 8.96 | 6.15 | NA | NA | 0.29 | 10.24 | 7.43 | NA | NA | XXX
78278 | 26 | A | Acute GI blood loss imaging | 0.99 | 0.34 | 0.33 | 0.34 | 0.33 | 0.04 | 1.37 | 1.36 | 1.37 | 1.36 | XXX
78278 | TC | A | Acute GI blood loss imaging | 0.00 | 8.62 | 5.82 | NA | NA | 0.25 | 8.87 | 6.07 | NA | NA | XXX
78282 | 26 | A | GI protein loss exam | 0.38 | 0.13 | 0.13 | 0.13 | 0.13 | 0.02 | 0.53 | 0.53 | 0.53 | 0.53 | XXX
78290 |  | A | MeckelIs divert exam | 0.68 | 8.85 | 4.68 | NA | NA | 0.19 | 9.72 | 5.55 | NA | NA | XXX
78290 | 26 | A | MeckelIs divert exam | 0.68 | 0.23 | 0.23 | 0.23 | 0.23 | 0.03 | 0.94 | 0.94 | 0.94 | 0.94 | XXX
78290 | TC | A | MeckelIs divert exam | 0.00 | 8.62 | 4.45 | NA | NA | 0.16 | 8.78 | 4.61 | NA | NA | XXX
78291 |  | A | Leveen/shunt patency exam | 0.88 | 6.41 | 4.13 | NA | NA | 0.20 | 7.49 | 5.21 | NA | NA | XXX
78291 | 26 | A | Leveen/shunt patency exam | 0.88 | 0.30 | 0.30 | 0.30 | 0.30 | 0.04 | 1.22 | 1.22 | 1.22 | 1.22 | XXX
78291 | TC | A | Leveen/shunt patency exam | 0.00 | 6.12 | 3.83 | NA | NA | 0.16 | 6.28 | 3.99 | NA | NA | XXX
78300 |  | A | Bone imaging, limited area | 0.62 | 4.39 | 3.12 | NA | NA | 0.17 | 5.18 | 3.91 | NA | NA | XXX
78300 | 26 | A | Bone imaging, limited area | 0.62 | 0.21 | 0.21 | 0.21 | 0.21 | 0.03 | 0.86 | 0.86 | 0.86 | 0.86 | XXX
78300 | TC | A | Bone imaging, limited area | 0.00 | 4.18 | 2.91 | NA | NA | 0.14 | 4.32 | 3.05 | NA | NA | XXX
78305 |  | A | Bone imaging, multiple areas | 0.83 | 5.66 | 4.38 | NA | NA | 0.23 | 6.72 | 5.44 | NA | NA | XXX
78305 | 26 | A | Bone imaging, multiple areas | 0.83 | 0.28 | 0.28 | 0.28 | 0.28 | 0.04 | 1.15 | 1.15 | 1.15 | 1.15 | XXX
78305 | TC | A | Bone imaging, multiple areas | 0.00 | 5.39 | 4.10 | NA | NA | 0.19 | 5.58 | 4.29 | NA | NA | XXX
78306 |  | A | Bone imaging, whole body | 0.86 | 6.32 | 5.01 | NA | NA | 0.26 | 7.44 | 6.13 | NA | NA | XXX
78306 | 26 | A | Bone imaging, whole body | 0.86 | 0.30 | 0.29 | 0.30 | 0.29 | 0.04 | 1.20 | 1.19 | 1.20 | 1.19 | XXX
78306 | TC | A | Bone imaging, whole body | 0.00 | 6.03 | 4.72 | NA | NA | 0.22 | 6.25 | 4.94 | NA | NA | XXX
78315 |  | A | Bone imaging, 3 phase | 1.02 | 8.95 | 6.09 | NA | NA | 0.29 | 10.26 | 7.40 | NA | NA | XXX
78315 | 26 | A | Bone imaging, 3 phase | 1.02 | 0.35 | 0.34 | 0.35 | 0.34 | 0.04 | 1.41 | 1.40 | 1.41 | 1.40 | XXX
78315 | TC | A | Bone imaging, 3 phase | 0.00 | 8.60 | 5.74 | NA | NA | 0.25 | 8.85 | 5.99 | NA | NA | XXX
78320 |  | A | Bone imaging (3D) | 1.04 | 5.57 | 6.11 | NA | NA | 0.35 | 6.96 | 7.50 | NA | NA | XXX
78320 | 26 | A | Bone imaging (3D) | 1.04 | 0.35 | 0.36 | 0.35 | 0.36 | 0.04 | 1.43 | 1.44 | 1.43 | 1.44 | XXX
78320 | TC | A | Bone imaging (3D) | 0.00 | 5.21 | 5.75 | NA | NA | 0.31 | 5.52 | 6.06 | NA | NA | XXX
78350 |  | A | Bone mineral, single photon | 0.22 | 1.91 | 1.09 | NA | NA | 0.06 | 2.19 | 1.37 | NA | NA | XXX
78350 | 26 | A | Bone mineral, single photon | 0.22 | 0.07 | 0.07 | 0.07 | 0.07 | 0.01 | 0.30 | 0.30 | 0.30 | 0.30 | XXX
78350 | TC | A | Bone mineral, single photon | 0.00 | 1.84 | 1.02 | NA | NA | 0.05 | 1.89 | 1.07 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
78351 |  | N | Bone mineral, dual photon | 0.30 | 2.77 | 1.98 | 0.07 | 0.11 | 0.01 | 3.08 | 2.29 | 0.38 | 0.42 | XXX
78414 | 26 | A | Non-imaging heart function | 0.45 | 0.14 | 0.16 | 0.14 | 0.16 | 0.02 | 0.61 | 0.63 | 0.61 | 0.63 | XXX
78428 |  | A | Cardiac shunt imaging | 0.78 | 5.47 | 3.28 | NA | NA | 0.16 | 6.41 | 4.22 | NA | NA | XXX
78428 | 26 | A | Cardiac shunt imaging | 0.78 | 0.39 | 0.32 | 0.39 | 0.32 | 0.03 | 1.20 | 1.13 | 1.20 | 1.13 | XXX
78428 | TC | A | Cardiac shunt imaging | 0.00 | 5.08 | 2.97 | NA | NA | 0.13 | 5.21 | 3.10 | NA | NA | XXX
78445 |  | A | Vascular flow imaging | 0.49 | 4.73 | 2.71 | NA | NA | 0.13 | 5.35 | 3.33 | NA | NA | XXX
78445 | 26 | A | Vascular flow imaging | 0.49 | 0.19 | 0.18 | 0.19 | 0.18 | 0.02 | 0.70 | 0.69 | 0.70 | 0.69 | XXX
78445 | TC | A | Vascular flow imaging | 0.00 | 4.55 | 2.54 | NA | NA | 0.11 | 4.66 | 2.65 | NA | NA | XXX
78456 |  | A | Acute venous thrombus image | 1.00 | 10.25 | 5.81 | NA | NA | 0.33 | 11.58 | 7.14 | NA | NA | XXX
78456 | 26 | A | Acute venous thrombus image | 1.00 | 0.52 | 0.39 | 0.52 | 0.39 | 0.04 | 1.56 | 1.43 | 1.56 | 1.43 | XXX
78456 | TC | A | Acute venous thrombus image | 0.00 | 9.74 | 5.43 | NA | NA | 0.29 | 10.03 | 5.72 | NA | NA | XXX
78457 |  | A | Venous thrombosis imaging | 0.77 | 4.86 | 3.41 | NA | NA | 0.17 | 5.80 | 4.35 | NA | NA | XXX
78457 | 26 | A | Venous thrombosis imaging | 0.77 | 0.25 | 0.26 | 0.25 | 0.26 | 0.03 | 1.05 | 1.06 | 1.05 | 1.06 | XXX
78458 |  | A | Ven thrombosis images, bilat | 0.90 | 4.71 | 4.44 | NA | NA | 0.25 | 5.86 | 5.59 | NA | NA | XXX
78458 | 26 | A | Ven thrombosis images, bilat | 0.90 | 0.29 | 0.31 | 0.29 | 0.31 | 0.04 | 1.23 | 1.25 | 1.23 | 1.25 | XXX
78458 | TC | A | Ven thrombosis images, bilat | 0.00 | 4.42 | 4.13 | NA | NA | 0.21 | 4.63 | 4.34 | NA | NA | XXX
78459 | 26 | A | Heart muscle imaging (PET) | 1.50 | 0.58 | 0.57 | 0.58 | 0.57 | 0.05 | 2.13 | 2.12 | 2.13 | 2.12 | XXX
78460 |  | A | Heart muscle blood, single | 0.86 | 4.86 | 3.21 | NA | NA | 0.17 | 5.89 | 4.24 | NA | NA | XXX
78460 | 26 | A | Heart muscle blood, single | 0.86 | 0.31 | 0.30 | 0.31 | 0.30 | 0.04 | 1.21 | 1.20 | 1.21 | 1.20 | XXX
78460 | TC | A | Heart muscle blood, single | 0.00 | 4.54 | 2.91 | NA | NA | 0.13 | 4.67 | 3.04 | NA | NA | XXX
78461 |  | A | Heart muscle blood, multiple | 1.23 | 4.20 | 4.92 | NA | NA | 0.30 | 5.73 | 6.45 | NA | NA | XXX
78461 | 26 | A | Heart muscle blood, multiple | 1.23 | 0.45 | 0.44 | 0.45 | 0.44 | 0.05 | 1.73 | 1.72 | 1.73 | 1.72 | XXX
78461 | TC | A | Heart muscle blood, multiple | 0.00 | 3.75 | 4.49 | NA | NA | 0.25 | 4.00 | 4.74 | NA | NA | XXX
78464 |  | A | Heart image (3d), single | 1.09 | 6.05 | 7.12 | NA | NA | 0.41 | 7.55 | 8.62 | NA | NA | XXX
78464 | 26 | A | Heart image (3d), single | 1.09 | 0.51 | 0.41 | 0.51 | 0.41 | 0.04 | 1.64 | 1.54 | 1.64 | 1.54 | XXX
78464 | TC | A | Heart image (3d), single | 0.00 | 5.54 | 6.70 | NA | NA | 0.37 | 5.91 | 7.07 | NA | NA | XXX
78465 |  | A | Heart image (3d), multiple | 1.46 | 11.81 | 12.21 | NA | NA | 0.67 | 13.94 | 14.34 | NA | NA | XXX
78465 | 26 | A | Heart image (3d), multiple | 1.46 | 0.73 | 0.57 | 0.73 | 0.57 | 0.05 | 2.24 | 2.08 | 2.24 | 2.08 | XXX
78465 | TC | A | Heart image (3d), multiple | 0.00 | 11.08 | 11.64 | NA | NA | 0.62 | 11.70 | 12.26 | NA | NA | XXX
78466 |  | A | Heart infarct image | 0.69 | 4.66 | 3.32 | NA | NA | 0.17 | 5.52 | 4.18 | NA | NA | XXX
78466 | 26 | A | Heart infarct image | 0.69 | 0.27 | 0.25 | 0.27 | 0.25 | 0.03 | 0.99 | 0.97 | 0.99 | 0.97 | XXX
78466 | TC | A | Heart infarct image | 0.00 | 4.39 | 3.07 | NA | NA | 0.14 | 4.53 | 3.21 | NA | NA | XXX
78468 |  | A | Heart infarct image (ef) | 0.80 | 6.19 | 4.50 | NA | NA | 0.22 | 7.21 | 5.52 | NA | NA | XXX
78468 | 26 | A | Heart infarct image (ef) | 0.80 | 0.43 | 0.31 | 0.43 | 0.31 | 0.03 | 1.26 | 1.14 | 1.26 | 1.14 | XXX
78468 | TC | A | Heart infarct image (ef) | 0.00 | 5.76 | 4.19 | NA | NA | 0.19 | 5.95 | 4.38 | NA | NA | XXX
78469 |  | A | Heart infarct image (3D) | 0.92 | 6.39 | 5.76 | NA | NA | 0.31 | 7.62 | 6.99 | NA | NA | XXX
78469 | 26 | A | Heart infarct image (3D) | 0.92 | 0.44 | 0.34 | 0.44 | 0.34 | 0.03 | 1.39 | 1.29 | 1.39 | 1.29 | XXX
78469 | TC | A | Heart infarct image (3D) | 0.00 | 5.95 | 5.42 | NA | NA | 0.28 | 6.23 | 5.70 | NA | NA | XXX
78472 |  | A | Gated heart, planar, single | 0.98 | 5.20 | 5.70 | NA | NA | 0.34 | 6.52 | 7.02 | NA | NA | XXX
78472 | 26 | A | Gated heart, planar, single | 0.98 | 0.42 | 0.36 | 0.42 | 0.36 | 0.04 | 1.44 | 1.38 | 1.44 | 1.38 | XXX
78472 | TC | A | Gated heart, planar, single | 0.00 | 4.77 | 5.34 | NA | NA | 0.30 | 5.07 | 5.64 | NA | NA | XXX
78473 |  | A | Gated heart, multiple | 1.47 | 9.63 | 9.00 | NA | NA | 0.48 | 11.58 | 10.95 | NA | NA | XXX
78473 | 26 | A | Gated heart, multiple | 1.47 | 0.65 | 0.55 | 0.65 | 0.55 | 0.06 | 2.18 | 2.08 | 2.18 | 2.08 | XXX
78473 | TC | A | Gated heart, multiple | 0.00 | 8.99 | 8.46 | NA | NA | 0.42 | 9.41 | 8.88 | NA | NA | XXX
78478 |  | A | Heart wall motion add-on | 0.50 | 0.83 | 1.55 | NA | NA | 0.12 | 1.45 | 2.17 | NA | NA | XXX
78478 | 26 | A | Heart wall motion add-on | 0.50 | 0.25 | 0.24 | 0.25 | 0.24 | 0.02 | 0.77 | 0.76 | 0.77 | 0.76 | XXX
78478 | TC | A | Heart wall motion add-on | 0.00 | 0.58 | 1.32 | NA | NA | 0.10 | 0.68 | 1.42 | NA | NA | XXX
78480 |  | A | Heart function add-on | 0.30 | 0.73 | 1.52 | NA | NA | 0.12 | 1.15 | 1.94 | NA | NA | XXX
78480 | 26 | A | Heart function add-on | 0.30 | 0.15 | 0.20 | 0.15 | 0.20 | 0.02 | 0.47 | 0.52 | 0.47 | 0.52 | XXX
78480 | TC | A | Heart function add-on | 0.00 | 0.58 | 1.32 | NA | NA | 0.10 | 0.68 | 1.42 | NA | NA | XXX
78481 |  | A | Heart first pass, single | 0.98 | 1.30 | 4.53 | NA | NA | 0.31 | 2.59 | 5.82 | NA | NA | XXX
78481 | 26 | A | Heart first pass, single | 0.98 | 0.51 | 0.40 | 0.51 | 0.40 | 0.03 | 1.52 | 1.41 | 1.52 | 1.41 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
78481 | TC | A | Heart first pass, single | 0.00 | 0.79 | 4.13 | NA | NA | 0.28 | 1.07 | 4.41 | NA | NA | XXX
78483 |  | A | Heart first pass, multiple | 1.47 | 7.41 | 8.18 | NA | NA | 0.46 | 9.34 | 10.11 | NA | NA | XXX
78483 | 26 | A | Heart first pass, multiple | 1.47 | 0.81 | 0.61 | 0.81 | 0.61 | 0.05 | 2.33 | 2.13 | 2.33 | 2.13 | XXX
78483 | TC | A | Heart first pass, multiple | 0.00 | 6.61 | 7.57 | NA | NA | 0.41 | 7.02 | 7.98 | NA | NA | XXX
78491 | 26 | A | Heart image (pet), single | 1.50 | 0.65 | 0.61 | 0.65 | 0.61 | 0.06 | 2.21 | 2.17 | 2.21 | 2.17 | XXX
78492 | 26 | A | Heart image (pet), multiple | 1.87 | 0.93 | 0.79 | 0.93 | 0.79 | 0.07 | 2.87 | 2.73 | 2.87 | 2.73 | XXX
78494 |  | A | Heart image, spect | 1.19 | 6.42 | 7.24 | NA | NA | 0.35 | 7.96 | 8.78 | NA | NA | XXX
78494 | 26 | A | Heart image, spect | 1.19 | 0.56 | 0.46 | 0.56 | 0.46 | 0.05 | 1.80 | 1.70 | 1.80 | 1.70 | XXX
78494 | TC | A | Heart image, spect | 0.00 | 5.86 | 6.78 | NA | NA | 0.30 | 6.16 | 7.08 | NA | NA | XXX
78496 |  | A | Heart first pass add-on | 0.50 | 0.95 | 5.69 | NA | NA | 0.32 | 1.77 | 6.51 | NA | NA | ZZZ
78496 | 26 | A | Heart first pass add-on | 0.50 | 0.25 | 0.20 | 0.25 | 0.20 | 0.02 | 0.77 | 0.72 | 0.77 | 0.72 | ZZZ
78496 | TC | A | Heart first pass add-on | 0.00 | 0.69 | 5.49 | NA | NA | 0.30 | 0.99 | 5.79 | NA | NA | ZZZ
78580 |  | A | Lung perfusion imaging | 0.74 | 5.33 | 4.10 | NA | NA | 0.21 | 6.28 | 5.05 | NA | NA | XXX
78580 | 26 | A | Lung perfusion imaging | 0.74 | 0.26 | 0.25 | 0.26 | 0.25 | 0.03 | 1.03 | 1.02 | 1.03 | 1.02 | XXX
78580 | TC | A | Lung perfusion imaging | 0.00 | 5.07 | 3.85 | NA | NA | 0.18 | 5.25 | 4.03 | NA | NA | XXX
78584 |  | A | Lung V/Q image single breath | 0.99 | 3.10 | 3.43 | NA | NA | 0.21 | 4.30 | 4.63 | NA | NA | XXX
78584 | 26 | A | Lung V/Q image single breath | 0.99 | 0.34 | 0.33 | 0.34 | 0.33 | 0.04 | 1.37 | 1.36 | 1.37 | 1.36 | XXX
78584 | TC | A | Lung V/Q image single breath | 0.00 | 2.76 | 3.10 | NA | NA | 0.17 | 2.93 | 3.27 | NA | NA | XXX
78585 |  | A | Lung V/Q imaging | 1.09 | 8.99 | 6.76 | NA | NA | 0.35 | 10.43 | 8.20 | NA | NA | XXX
78585 | 26 | A | Lung V/Q imaging | 1.09 | 0.37 | 0.36 | 0.37 | 0.36 | 0.05 | 1.51 | 1.50 | 1.51 | 1.50 | XXX
78585 | TC | A | Lung V/Q imaging | 0.00 | 8.61 | 6.40 | NA | NA | 0.30 | 8.91 | 6.70 | NA | NA | XXX
78586 |  | A | Aerosol lung image, single | 0.40 | 4.33 | 3.13 | NA | NA | 0.16 | 4.89 | 3.69 | NA | NA | XXX
78586 | 26 | A | Aerosol lung image, single | 0.40 | 0.14 | 0.13 | 0.14 | 0.13 | 0.02 | 0.56 | 0.55 | 0.56 | 0.55 | XXX
78586 | TC | A | Aerosol lung image, single | 0.00 | 4.19 | 3.00 | NA | NA | 0.14 | 4.33 | 3.14 | NA | NA | XXX
78587 |  | A | Aerosol lung image, multiple | 0.49 | 5.64 | 3.65 | NA | NA | 0.16 | 6.29 | 4.30 | NA | NA | XXX
78587 | 26 | A | Aerosol lung image, multiple | 0.49 | 0.17 | 0.17 | 0.17 | 0.17 | 0.02 | 0.68 | 0.68 | 0.68 | 0.68 | XXX
78587 | TC | A | Aerosol lung image, multiple | 0.00 | 5.47 | 3.48 | NA | NA | 0.14 | 5.61 | 3.62 | NA | NA | XXX
78588 |  | A | Perfusion lung image | 1.09 | 9.02 | 4.93 | NA | NA | 0.23 | 10.34 | 6.25 | NA | NA | XXX
78588 | 26 | A | Perfusion lung image | 1.09 | 0.37 | 0.36 | 0.37 | 0.36 | 0.05 | 1.51 | 1.50 | 1.51 | 1.50 | XXX
78588 | TC | A | Perfusion lung image | 0.00 | 8.64 | 4.57 | NA | NA | 0.18 | 8.82 | 4.75 | NA | NA | XXX
78591 |  | A | Vent image, 1 breath, 1 proj | 0.40 | 4.33 | 3.33 | NA | NA | 0.16 | 4.89 | 3.89 | NA | NA | XXX
78591 | 26 | A | Vent image, 1 breath, 1 proj | 0.40 | 0.14 | 0.13 | 0.14 | 0.13 | 0.02 | 0.56 | 0.55 | 0.56 | 0.55 | XXX
78591 | TC | A | Vent image, 1 breath, 1 proj | 0.00 | 4.19 | 3.19 | NA | NA | 0.14 | 4.33 | 3.33 | NA | NA | XXX
78593 |  | A | Vent image, 1 proj, gas | 0.49 | 5.01 | 3.97 | NA | NA | 0.20 | 5.70 | 4.66 | NA | NA | XXX
78593 | 26 | A | Vent image, 1 proj, gas | 0.49 | 0.17 | 0.16 | 0.17 | 0.16 | 0.02 | 0.68 | 0.67 | 0.68 | 0.67 | XXX
78593 | TC | A | Vent image, 1 proj, gas | 0.00 | 4.84 | 3.81 | NA | NA | 0.18 | 5.02 | 3.99 | NA | NA | XXX
78594 |  | A | Vent image, mult proj, gas | 0.53 | 5.48 | 5.25 | NA | NA | 0.27 | 6.28 | 6.05 | NA | NA | XXX
78594 | 26 | A | Vent image, mult proj, gas | 0.53 | 0.17 | 0.18 | 0.17 | 0.18 | 0.02 | 0.72 | 0.73 | 0.72 | 0.73 | XXX
78594 | TC | A | Vent image, mult proj, gas | 0.00 | 5.31 | 5.07 | NA | NA | 0.25 | 5.56 | 5.32 | NA | NA | XXX
78596 |  | A | Lung differential function | 1.27 | 8.98 | 7.88 | NA | NA | 0.42 | 10.67 | 9.57 | NA | NA | XXX
78596 | 26 | A | Lung differential function | 1.27 | 0.39 | 0.41 | 0.39 | 0.41 | 0.05 | 1.71 | 1.73 | 1.71 | 1.73 | XXX
78596 | TC | A | Lung differential function | 0.00 | 8.59 | 7.47 | NA | NA | 0.37 | 8.96 | 7.84 | NA | NA | XXX
78600 |  | A | Brain imaging, ltd static | 0.44 | 7.54 | 4.17 | NA | NA | 0.16 | 8.14 | 4.77 | NA | NA | XXX
78600 | 26 | A | Brain imaging, ltd static | 0.44 | 0.15 | 0.15 | 0.15 | 0.15 | 0.02 | 0.61 | 0.61 | 0.61 | 0.61 | XXX
78600 | TC | A | Brain imaging, ltd static | 0.00 | 7.39 | 4.02 | NA | NA | 0.14 | 7.53 | 4.16 | NA | NA | XXX
78601 |  | A | Brain imaging, ltd w/flow | 0.51 | 5.58 | 4.08 | NA | NA | 0.20 | 6.29 | 4.79 | NA | NA | XXX
78601 | 26 | A | Brain imaging, ltd w/flow | 0.51 | 0.17 | 0.17 | 0.17 | 0.17 | 0.02 | 0.70 | 0.70 | 0.70 | 0.70 | XXX
78601 | TC | A | Brain imaging, ltd w/flow | 0.00 | 5.40 | 3.91 | NA | NA | 0.18 | 5.58 | 4.09 | NA | NA | XXX
78605 |  | A | Brain imaging, complete | 0.53 | 4.96 | 3.93 | NA | NA | 0.20 | 5.69 | 4.66 | NA | NA | XXX
78605 | 26 | A | Brain imaging, complete | 0.53 | 0.18 | 0.18 | 0.18 | 0.18 | 0.02 | 0.73 | 0.73 | 0.73 | 0.73 | XXX
78605 | TC | A | Brain imaging, complete | 0.00 | 4.78 | 3.75 | NA | NA | 0.18 | 4.96 | 3.93 | NA | NA | XXX
78606 |  | A | Brain imaging, compl w/flow | 0.64 | 8.89 | 5.29 | NA | NA | 0.24 | 9.77 | 6.17 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
78606 | 26 | A | Brain imaging, compl w/flow | 0.64 | 0.22 | 0.21 | 0.22 | 0.21 | 0.03 | 0.89 | 0.88 | 0.89 | 0.88 | XXX
78606 | TC | A | Brain imaging, compl w/flow | 0.00 | 8.67 | 5.08 | NA | NA | 0.21 | 8.88 | 5.29 | NA | NA | XXX
78607 |  | A | Brain imaging (3D) | 1.23 | 15.67 | 9.17 | NA | NA | 0.40 | 17.30 | 10.80 | NA | NA | XXX
78607 | 26 | A | Brain imaging (3D) | 1.23 | 0.41 | 0.43 | 0.41 | 0.43 | 0.05 | 1.69 | 1.71 | 1.69 | 1.71 | XXX
78607 | TC | A | Brain imaging (3D) | 0.00 | 15.26 | 8.74 | NA | NA | 0.35 | 15.61 | 9.09 | NA | NA | XXX
78608 | 26 | A | Brain imaging (PET) | 1.50 | 0.50 | 0.51 | 0.50 | 0.51 | 0.06 | 2.06 | 2.07 | 2.06 | 2.07 | XXX
78609 | 26 | A | Brain imaging (PET) | 1.50 | 0.52 | 0.51 | 0.52 | 0.51 | 0.06 | 2.08 | 2.07 | 2.08 | 2.07 | XXX
78610 |  | A | Brain flow imaging only | 0.30 | 4.62 | 2.42 | NA | NA | 0.11 | 5.03 | 2.83 | NA | NA | XXX
78610 | 26 | A | Brain flow imaging only | 0.30 | 0.10 | 0.11 | 0.10 | 0.11 | 0.01 | 0.41 | 0.42 | 0.41 | 0.42 | XXX
78610 | TC | A | Brain flow imaging only | 0.00 | 4.52 | 2.32 | NA | NA | 0.10 | 4.62 | 2.42 | NA | NA | XXX
78615 |  | A | Cerebral vascular flow image | 0.42 | 5.53 | 4.39 | NA | NA | 0.23 | 6.18 | 5.04 | NA | NA | XXX
78615 | 26 | A | Cerebral vascular flow image | 0.42 | 0.14 | 0.15 | 0.14 | 0.15 | 0.02 | 0.58 | 0.59 | 0.58 | 0.59 | XXX
78615 | TC | A | Cerebral vascular flow image | 0.00 | 5.39 | 4.24 | NA | NA | 0.21 | 5.60 | 4.45 | NA | NA | XXX
78630 |  | A | Cerebrospinal fluid scan | 0.68 | 8.99 | 6.21 | NA | NA | 0.30 | 9.97 | 7.19 | NA | NA | XXX
78630 | 26 | A | Cerebrospinal fluid scan | 0.68 | 0.23 | 0.23 | 0.23 | 0.23 | 0.03 | 0.94 | 0.94 | 0.94 | 0.94 | XXX
78630 | TC | A | Cerebrospinal fluid scan | 0.00 | 8.76 | 5.98 | NA | NA | 0.27 | 9.03 | 6.25 | NA | NA | XXX
78635 |  | A | CSF ventriculography | 0.61 | 8.91 | 4.31 | NA | NA | 0.16 | 9.68 | 5.08 | NA | NA | XXX
78635 | 26 | A | CSF ventriculography | 0.61 | 0.21 | 0.23 | 0.21 | 0.23 | 0.02 | 0.84 | 0.86 | 0.84 | 0.86 | XXX
78635 | TC | A | CSF ventriculography | 0.00 | 8.70 | 4.09 | NA | NA | 0.14 | 8.84 | 4.23 | NA | NA | XXX
78645 |  | A | CSF shunt evaluation | 0.57 | 8.80 | 4.92 | NA | NA | 0.20 | 9.57 | 5.69 | NA | NA | XXX
78645 | 26 | A | CSF shunt evaluation | 0.57 | 0.19 | 0.19 | 0.19 | 0.19 | 0.02 | 0.78 | 0.78 | 0.78 | 0.78 | XXX
78645 | TC | A | CSF shunt evaluation | 0.00 | 8.61 | 4.73 | NA | NA | 0.18 | 8.79 | 4.91 | NA | NA | XXX
78647 |  | A | Cerebrospinal fluid scan | 0.90 | 14.68 | 8.35 | NA | NA | 0.35 | 15.93 | 9.60 | NA | NA | XXX
78647 | 26 | A | Cerebrospinal fluid scan | 0.90 | 0.28 | 0.30 | 0.28 | 0.30 | 0.04 | 1.22 | 1.24 | 1.22 | 1.24 | XXX
78647 | TC | A | Cerebrospinal fluid scan | 0.00 | 14.40 | 8.05 | NA | NA | 0.31 | 14.71 | 8.36 | NA | NA | XXX
78650 |  | A | CSF leakage imaging | 0.61 | 8.97 | 5.89 | NA | NA | 0.27 | 9.85 | 6.77 | NA | NA | XXX
78650 | 26 | A | CSF leakage imaging | 0.61 | 0.21 | 0.21 | 0.21 | 0.21 | 0.03 | 0.85 | 0.85 | 0.85 | 0.85 | XXX
78650 | TC | A | CSF leakage imaging | 0.00 | 8.76 | 5.68 | NA | NA | 0.24 | 9.00 | 5.92 | NA | NA | XXX
78660 |  | A | Nuclear exam of tear flow | 0.53 | 4.40 | 2.83 | NA | NA | 0.14 | 5.07 | 3.50 | NA | NA | XXX
78660 | 26 | A | Nuclear exam of tear flow | 0.53 | 0.18 | 0.18 | 0.18 | 0.18 | 0.02 | 0.73 | 0.73 | 0.73 | 0.73 | XXX
78660 | TC | A | Nuclear exam of tear flow | 0.00 | 4.22 | 2.65 | NA | NA | 0.12 | 4.34 | 2.77 | NA | NA | XXX
78700 |  | A | Kidney imaging, static | 0.45 | 4.63 | 3.57 | NA | NA | 0.18 | 5.26 | 4.20 | NA | NA | XXX
78700 | 26 | A | Kidney imaging, static | 0.45 | 0.16 | 0.15 | 0.16 | 0.15 | 0.02 | 0.63 | 0.62 | 0.63 | 0.62 | XXX
78700 | TC | A | Kidney imaging, static | 0.00 | 4.47 | 3.41 | NA | NA | 0.16 | 4.63 | 3.57 | NA | NA | XXX
78701 |  | A | Kidney imaging with flow | 0.49 | 5.60 | 4.20 | NA | NA | 0.20 | 6.29 | 4.89 | NA | NA | XXX
78701 | 26 | A | Kidney imaging with flow | 0.49 | 0.17 | 0.16 | 0.17 | 0.16 | 0.02 | 0.68 | 0.67 | 0.68 | 0.67 | XXX
78701 | TC | A | Kidney imaging with flow | 0.00 | 5.43 | 4.04 | NA | NA | 0.18 | 5.61 | 4.22 | NA | NA | XXX
78704 |  | A | Imaging renogram | 0.74 | 5.67 | 4.58 | NA | NA | 0.24 | 6.65 | 5.56 | NA | NA | XXX
78704 | 26 | A | Imaging renogram | 0.74 | 0.25 | 0.25 | 0.25 | 0.25 | 0.03 | 1.02 | 1.02 | 1.02 | 1.02 | XXX
78704 | TC | A | Imaging renogram | 0.00 | 5.41 | 4.32 | NA | NA | 0.21 | 5.62 | 4.53 | NA | NA | XXX
78707 |  | A | Kidney flow/function image | 0.96 | 5.71 | 5.03 | NA | NA | 0.27 | 6.94 | 6.26 | NA | NA | XXX
78707 | 26 | A | Kidney flow/function image | 0.96 | 0.33 | 0.32 | 0.33 | 0.32 | 0.04 | 1.33 | 1.32 | 1.33 | 1.32 | XXX
78707 | TC | A | Kidney flow/function image | 0.00 | 5.38 | 4.71 | NA | NA | 0.23 | 5.61 | 4.94 | NA | NA | XXX
78708 |  | A | Kidney flow/function image | 1.21 | 3.59 | 4.57 | NA | NA | 0.28 | 5.08 | 6.06 | NA | NA | XXX
78708 | 26 | A | Kidney flow/function image | 1.21 | 0.42 | 0.41 | 0.42 | 0.41 | 0.05 | 1.68 | 1.67 | 1.68 | 1.67 | XXX
78708 | TC | A | Kidney flow/function image | 0.00 | 3.17 | 4.15 | NA | NA | 0.23 | 3.40 | 4.38 | NA | NA | XXX
78709 |  | A | Kidney flow/function image | 1.41 | 9.25 | 6.03 | NA | NA | 0.29 | 10.95 | 7.73 | NA | NA | XXX
78709 | 26 | A | Kidney flow/function image | 1.41 | 0.48 | 0.47 | 0.48 | 0.47 | 0.06 | 1.95 | 1.94 | 1.95 | 1.94 | XXX
78709 | TC | A | Kidney flow/function image | 0.00 | 8.76 | 5.55 | NA | NA | 0.23 | 8.99 | 5.78 | NA | NA | XXX
78710 |  | A | Kidney imaging (3D) | 0.66 | 5.48 | 5.98 | NA | NA | 0.34 | 6.48 | 6.98 | NA | NA | XXX
78710 | 26 | A | Kidney imaging (3D) | 0.66 | 0.22 | 0.22 | 0.22 | 0.22 | 0.03 | 0.91 | 0.91 | 0.91 | 0.91 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
78710 | TC | A | Kidney imaging (3D) | 0.00 | 5.26 | 5.76 | NA | NA | 0.31 | 5.57 | 6.07 | NA | NA | XXX
78715 |  | A | Renal vascular flow exam | 0.30 | 97 | 2.51 | NA | NA | 0.11 | 5.38 | 2.92 | NA | NA | XXX
78715 | 26 | A | Renal vascular flow exam | 0.30 | 0.13 | 0.12 | 0.13 | 0.12 | 0.01 | 0.44 | 0.43 | 0.44 | 0.43 | XXX
78715 | TC | A | Renal vascular flow exam | 0.00 | 4.84 | 2.40 | NA | NA | 0.10 | 4.94 | 2.50 | NA | NA | XXX
78725 |  | A | Kidney function study | 0.38 | 2.44 | 2.05 | NA | NA | 0.13 | 2.95 | 2.56 | NA | NA | XXX
78725 | 26 | A | Kidney function study | 0.38 | 0.12 | 0.13 | 0.12 | 0.13 | 0.02 | 0.52 | 0.53 | 0.52 | 0.53 | XXX
78725 | TC | A | Kidney function study | 0.00 | 2.32 | 1.92 | NA | NA | 0.11 | 2.43 | 2.03 | NA | NA | XXX
78730 |  | A | Urinary bladder retention | 0.36 | 5.70 | 2.61 | NA | NA | 0.10 | 6.16 | 3.07 | NA | NA | XXX
78730 | 26 | A | Urinary bladder retention | 0.36 | 0.15 | 0.13 | 0.15 | 0.13 | 0.02 | 0.53 | 0.51 | 0.53 | 0.51 | XXX
78730 | TC | A | Urinary bladder retention | 0.00 | 5.55 | 2.48 | NA | NA | 0.08 | 5.63 | 2.56 | NA | NA | XXX
78740 |  | A | Ureteral reflux study | 0.57 | 5.64 | 3.15 | NA | NA | 0.15 | 6.36 | 3.87 | NA | NA | XXX
78740 | 26 | A | Ureteral reflux study | 0.57 | 0.19 | 0.19 | 0.19 | 0.19 | 0.03 | 0.79 | 0.79 | 0.79 | 0.79 | XXX
78740 | TC | A | Ureteral reflux study | 0.00 | 5.45 | 2.96 | NA | NA | 0.12 | 5.57 | 3.08 | NA | NA | XXX
78760 |  | A | Testicular imaging | 0.66 | 4.68 | 3.35 | NA | NA | 0.17 | 5.51 | 4.18 | NA | NA | XXX
78760 | 26 | A | Testicular imaging | 0.66 | 0.23 | 0.22 | 0.23 | 0.22 | 0.03 | 0.92 | 0.91 | 0.92 | 0.91 | XXX
78760 | TC | A | Testicular imaging | 0.00 | 4.44 | 3.13 | NA | NA | 0.14 | 4.58 | 3.27 | NA | NA | XXX
78761 |  | A | Testicular imaging/flow | 0.71 | 5.10 | 3.86 | NA | NA | 0.20 | 6.01 | 4.77 | NA | NA | XXX
78761 | 26 | A | Testicular imaging/flow | 0.71 | 0.25 | 0.24 | 0.25 | 0.24 | 0.03 | 0.99 | 0.98 | 0.99 | 0.98 | XXX
78761 | TC | A | Testicular imaging/flow | 0.00 | 4.85 | 3.62 | NA | NA | 0.17 | 5.02 | 3.79 | NA | NA | XXX
78800 |  | A | Tumor imaging, limited area | 0.66 | 4.44 | 3.83 | NA | NA | 0.22 | 5.32 | 4.71 | NA | NA | XXX
78800 | 26 | A | Tumor imaging, limited area | 0.66 | 0.21 | 0.22 | 0.21 | 0.22 | 0.04 | 0.91 | 0.92 | 0.91 | 0.92 | XXX
78800 | TC | A | Tumor imaging, limited area | 0.00 | 4.23 | 3.62 | NA | NA | 0.18 | 4.41 | 3.80 | NA | NA | XXX
78801 |  | A | Tumor imaging, mult areas | 0.79 | 6.33 | 4.96 | NA | NA | 0.27 | 7.39 | 6.02 | NA | NA | XXX
78801 | 26 | A | Tumor imaging, mult areas | 0.79 | 0.26 | 0.27 | 0.26 | 0.27 | 0.05 | 1.10 | 1.11 | 1.10 | 1.11 | XXX
78801 | TC | A | Tumor imaging, mult areas | 0.00 | 6.07 | 4.69 | NA | NA | 0.22 | 6.29 | 4.91 | NA | NA | XXX
78802 |  | A | Tumor imaging, whole body | 0.86 | 8.48 | 6.50 | NA | NA | 0.34 | 9.68 | 7.70 | NA | NA | XXX
78802 | 26 | A | Tumor imaging, whole body | 0.86 | 0.29 | 0.29 | 0.29 | 0.29 | 0.04 | 1.19 | 1.19 | 1.19 | 1.19 | XXX
78802 | TC | A | Tumor imaging, whole body | 0.00 | 8.19 | 6.21 | NA | NA | 0.30 | 8.49 | 6.51 | NA | NA | XXX
78803 |  | A | Tumor imaging (3D) | 1.09 | 15.50 | 9.09 | NA | NA | 0.40 | 16.99 | 10.58 | NA | NA | XXX
78803 | 26 | A | Tumor imaging (3D) | 1.09 | 0.37 | 0.38 | 0.37 | 0.38 | 0.05 | 1.51 | 1.52 | 1.51 | 1.52 | XXX
78803 | TC | A | Tumor imaging (3D) | 0.00 | 15.14 | 8.71 | NA | NA | 0.35 | 15.49 | 9.06 | NA | NA | XXX
78804 |  | A | Tumor imaging, whole body | 1.07 | 15.48 | 12.47 | NA | NA | 0.34 | 16.89 | 13.88 | NA | NA | XXX
78804 | 26 | A | Tumor imaging, whole body | 1.07 | 0.36 | 0.37 | 0.36 | 0.37 | 0.04 | 1.47 | 1.48 | 1.47 | 1.48 | XXX
78804 | TC | A | Tumor imaging, whole body | 0.00 | 15.12 | 12.10 | NA | NA | 0.30 | 15.42 | 12.40 | NA | NA | XXX
78805 |  | A | Abscess imaging, ltd area | 0.73 | 4.38 | 3.84 | NA | NA | 0.21 | 5.32 | 4.78 | NA | NA | XXX
78805 | 26 | A | Abscess imaging, ltd area | 0.73 | 0.25 | 0.25 | 0.25 | 0.25 | 0.03 | 1.01 | 1.01 | 1.01 | 1.01 | XXX
78805 | TC | A | Abscess imaging, ltd area | 0.00 | 4.14 | 3.59 | NA | NA | 0.18 | 4.32 | 3.77 | NA | NA | XXX
78806 |  | A | Abscess imaging, whole body | 0.86 | 8.70 | 7.23 | NA | NA | 0.39 | 9.95 | 8.48 | NA | NA | XXX
78806 | 26 | A | Abscess imaging, whole body | 0.86 | 0.29 | 0.29 | 0.29 | 0.29 | 0.04 | 1.19 | 1.19 | 1.19 | 1.19 | XXX
78806 | TC | A | Abscess imaging, whole body | 0.00 | 8.41 | 6.94 | NA | NA | 0.35 | 8.76 | 7.29 | NA | NA | XXX
78807 |  | A | Nuclear localization/abscess | 1.09 | 14.72 | 8.90 | NA | NA | 0.39 | 16.20 | 10.38 | NA | NA | XXX
78807 | 26 | A | Nuclear localization/abscess | 1.09 | 0.36 | 0.38 | 0.36 | 0.38 | 0.04 | 1.49 | 1.51 | 1.49 | 1.51 | XXX
78807 | TC | A | Nuclear localization/abscess | 0.00 | 14.36 | 8.52 | NA | NA | 0.35 | 14.71 | 8.87 | NA | NA | XXX
78811 | 26 | A | Tumor imaging (pet), limited | 1.54 | 0.53 | 0.53 | 0.53 | 0.53 | 0.11 | 2.18 | 2.18 | 2.18 | 2.18 | XXX
78812 | 26 | A | Tumor image (pet)/skul-thigh | 1.93 | 0.66 | 0.66 | 0.66 | 0.66 | 0.11 | 2.70 | 2.70 | 2.70 | 2.70 | XXX
78813 | 26 | A | Tumor image (pet) full body | 2.00 | 0.69 | 0.69 | 0.69 | 0.69 | 0.11 | 2.80 | 2.80 | 2.80 | 2.80 | XXX
78814 | 26 | A | Tumor image pet/ct, limited | 2.20 | 0.74 | 0.76 | 0.74 | 0.76 | 0.11 | 3.05 | 3.07 | 3.05 | 3.07 | XXX
78815 | 26 | A | Tumorimage pet/ct skul-thigh | 2.44 | 0.83 | 0.84 | 0.83 | 0.84 | 0.11 | 3.38 | 3.39 | 3.38 | 3.39 | XXX
78816 | 26 | A | Tumor image pet/ct full body | 2.50 | 0.85 | 0.86 | 0.85 | 0.86 | 0.11 | 3.46 | 3.47 | 3.46 | 3.47 | XXX
78890 |  | B | Nuclear medicine data proc | 0.05 | 0.39 | 1.10 | NA | NA | 0.07 | 0.51 | 1.22 | NA | NA | XXX
78890 | 26 | B | Nuclear medicine data proc | 0.05 | 0.01 | 0.02 | 0.01 | 0.02 | 0.01 | 0.07 | 0.08 | 0.07 | 0.08 | XXX
78890 | TC | B | Nuclear medicine data proc | 0.00 | 0.38 | 1.08 | NA | NA | 0.06 | 0.44 | 1.14 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
78891 |  | B | Nuclear med data proc | 0.10 | 0.88 | 2.22 | NA | NA | 0.14 | 1.12 | 2.46 | NA | NA | XXX
78891 | 26 | B | Nuclear med data proc | 0.10 | 0.02 | 0.04 | 0.02 | 0.04 | 0.01 | 0.13 | 0.15 | 0.13 | 0.15 | XXX
78891 | TC | B | Nuclear med data proc | 0.00 | 0.85 | 2.19 | NA | NA | 0.13 | 0.98 | 2.32 | NA | NA | XXX
79005 |  | A | Nuclear rx, oral admin | 1.80 | 1.85 | 2.89 | NA | NA | 0.22 | 3.87 | 4.91 | NA | NA | XXX
79005 | 26 | A | Nuclear rx, oral admin | 1.80 | 0.56 | 0.59 | 0.56 | 0.59 | 0.08 | 2.44 | 2.47 | 2.44 | 2.47 | XXX
79005 | TC | A | Nuclear rx, oral admin | 0.00 | 1.29 | 2.30 | NA | NA | 0.14 | 1.43 | 2.44 | NA | NA | XXX
79101 |  | A | Nuclear rx, iv admin | 1.96 | 2.14 | 3.01 | NA | NA | 0.22 | 4.32 | 5.19 | NA | NA | XXX
79101 | 26 | A | Nuclear rx, iv admin | 1.96 | 0.70 | 0.68 | 0.70 | 0.68 | 0.08 | 2.74 | 2.72 | 2.74 | 2.72 | XXX
79101 | TC | A | Nuclear rx, iv admin | 0.00 | 1.44 | 2.33 | NA | NA | 0.14 | 1.58 | 2.47 | NA | NA | XXX
79200 |  | A | Nuclear rx, intracav admin | 1.99 | 2.25 | 3.05 | NA | NA | 0.23 | 4.47 | 5.27 | NA | NA | XXX
79200 | 26 | A | Nuclear rx, intracav admin | 1.99 | 0.61 | 0.67 | 0.61 | 0.67 | 0.09 | 2.69 | 2.75 | 2.69 | 2.75 | XXX
79200 | TC | A | Nuclear rx, intracav admin | 0.00 | 1.64 | 2.38 | NA | NA | 0.14 | 1.78 | 2.52 | NA | NA | XXX
79300 | 26 | A | Nuclr rx, interstit colloid | 1.60 | 0.50 | 0.55 | 0.50 | 0.55 | 0.13 | 2.23 | 2.28 | 2.23 | 2.28 | XXX
79403 |  | A | Hematopoietic nuclear tx | 2.25 | 2.92 | 4.61 | NA | NA | 0.24 | 5.41 | 7.10 | NA | NA | XXX
79403 | 26 | A | Hematopoietic nuclear tx | 2.25 | 0.71 | 0.85 | 0.71 | 0.85 | 0.10 | 3.06 | 3.20 | 3.06 | 3.20 | XXX
79403 | TC | A | Hematopoietic nuclear tx | 0.00 | 2.21 | 3.76 | NA | NA | 0.14 | 2.35 | 3.90 | NA | NA | XXX
79440 |  | A | Nuclear rx, intra-articular | 1.99 | 1.90 | 2.99 | NA | NA | 0.22 | 4.11 | 5.20 | NA | NA | XXX
79440 | 26 | A | Nuclear rx, intra-articular | 1.99 | 0.68 | 0.71 | 0.68 | 0.71 | 0.08 | 2.75 | 2.78 | 2.75 | 2.78 | XXX
79440 | TC | A | Nuclear rx, intra-articular | 0.00 | 1.22 | 2.28 | NA | NA | 0.14 | 1.36 | 2.42 | NA | NA | XXX
79445 | 26 | A | Nuclear rx, intra-arterial | 2.40 | 0.83 | 0.82 | 0.83 | 0.82 | 0.12 | 3.35 | 3.34 | 3.35 | 3.34 | XXX
80500 |  | A | Lab pathology consultation | 0.37 | 0.19 | 0.21 | 0.11 | 0.15 | 0.01 | 0.57 | 0.59 | 0.49 | 0.53 | XXX
80502 |  | A | Lab pathology consultation | 1.33 | 0.29 | 0.48 | 0.24 | 0.47 | 0.04 | 1.66 | 1.85 | 1.61 | 1.84 | XXX
83020 | 26 | A | Hemoglobin electrophoresis | 0.37 | 0.11 | 0.14 | 0.11 | 0.14 | 0.01 | 0.49 | 0.52 | 0.49 | 0.52 | XXX
83912 | 26 | A | Genetic examination | 0.37 | 0.11 | 0.12 | 0.11 | 0.12 | 0.01 | 0.49 | 0.50 | 0.49 | 0.50 | XXX
84165 | 26 | A | Protein e-phoresis, serum | 0.37 | 0.11 | 0.13 | 0.11 | 0.13 | 0.01 | 0.49 | 0.51 | 0.49 | 0.51 | XXX
84166 | 26 | A | Protein e-phoresis/urine/csf | 0.37 | 0.11 | 0.13 | 0.11 | 0.13 | 0.01 | 0.49 | 0.51 | 0.49 | 0.51 | XXX
84181 | 26 | A | Western blot test | 0.37 | 0.11 | 0.13 | 0.11 | 0.13 | 0.01 | 0.49 | 0.51 | 0.49 | 0.51 | XXX
84182 | 26 | A | Protein, western blot test | 0.37 | 0.11 | 0.15 | 0.11 | 0.15 | 0.02 | 0.50 | 0.54 | 0.50 | 0.54 | XXX
85060 |  | A | Blood smear interpretation | 0.45 | 0.14 | 0.17 | 0.14 | 0.17 | 0.02 | 0.61 | 0.64 | 0.61 | 0.64 | XXX
85097 |  | A | Bone marrow interpretation | 0.94 | 1.29 | 1.76 | 0.27 | 0.38 | 0.04 | 2.27 | 2.74 | 1.25 | 1.36 | XXX
85390 | 26 | A | Fibrinolysins screen | 0.37 | 0.12 | 0.13 | 0.12 | 0.13 | 0.01 | 0.50 | 0.51 | 0.50 | 0.51 | XXX
85396 |  | A | Clotting assay, whole blood | 0.37 | NA | NA | 0.04 | 0.13 | 0.04 | NA | NA | 0.45 | 0.54 | XXX
85576 | 26 | A | Blood platelet aggregation | 0.37 | 0.12 | 0.15 | 0.12 | 0.15 | 0.01 | 0.50 | 0.53 | 0.50 | 0.53 | XXX
86077 |  | A | Physician blood bank service | 0.94 | 0.37 | 0.39 | 0.29 | 0.37 | 0.03 | 1.34 | 1.36 | 1.26 | 1.34 | XXX
86078 |  | A | Physician blood bank service | 0.94 | 0.37 | 0.44 | 0.29 | 0.37 | 0.03 | 1.34 | 1.41 | 1.26 | 1.34 | XXX
86079 |  | A | Physician blood bank service | 0.94 | 0.37 | 0.43 | 0.29 | 0.38 | 0.03 | 1.34 | 1.40 | 1.26 | 1.35 | XXX
86255 | 26 | A | Fluorescent antibody, screen | 0.37 | 0.11 | 0.14 | 0.11 | 0.14 | 0.01 | 0.49 | 0.52 | 0.49 | 0.52 | XXX
86256 | 26 | A | Fluorescent antibody, titer | 0.37 | 0.11 | 0.14 | 0.11 | 0.14 | 0.01 | 0.49 | 0.52 | 0.49 | 0.52 | XXX
86320 | 26 | A | Serum immunoelectrophoresis | 0.37 | 0.11 | 0.14 | 0.11 | 0.14 | 0.01 | 0.49 | 0.52 | 0.49 | 0.52 | XXX
86325 | 26 | A | Other immunoelectrophoresis | 0.37 | 0.11 | 0.13 | 0.11 | 0.13 | 0.01 | 0.49 | 0.51 | 0.49 | 0.51 | XXX
86327 | 26 | A | Immunoelectrophoresis assay | 0.42 | 0.13 | 0.17 | 0.13 | 0.17 | 0.02 | 0.57 | 0.61 | 0.57 | 0.61 | XXX
86334 | 26 | A | Immunofix e-phoresis, serum | 0.37 | 0.11 | 0.14 | 0.11 | 0.14 | 0.01 | 0.49 | 0.52 | 0.49 | 0.52 | XXX
86335 | 26 | A | Immunfix e-phorsis/urine/csf | 0.37 | 0.11 | 0.13 | 0.11 | 0.13 | 0.01 | 0.49 | 0.51 | 0.49 | 0.51 | XXX
86490 |  | A | Coccidioidomycosis skin test | 0.00 | 0.12 | 0.25 | NA | NA | 0.02 | 0.14 | 0.27 | NA | NA | XXX
86510 |  | A | Histoplasmosis skin test | 0.00 | 0.14 | 0.28 | NA | NA | 0.02 | 0.16 | 0.30 | NA | NA | XXX
86580 |  | A | TB intradermal test | 0.00 | 0.16 | 0.23 | NA | NA | 0.02 | 0.18 | 0.25 | NA | NA | XXX
87164 | 26 | A | Dark field examination | 0.37 | 0.12 | 0.12 | 0.12 | 0.12 | 0.01 | 0.50 | 0.50 | 0.50 | 0.50 | XXX
87207 | 26 | A | Smear, special stain | 0.37 | 0.10 | 0.15 | 0.10 | 0.15 | 0.01 | 0.48 | 0.53 | 0.48 | 0.53 | XXX
88104 |  | A | Cytopathology, fluids | 0.56 | 1.15 | 0.93 | NA | NA | 0.04 | 1.75 | 1.53 | NA | NA | XXX
88104 | 26 | A | Cytopathology, fluids | 0.56 | 0.15 | 0.22 | 0.15 | 0.22 | 0.02 | 0.73 | 0.80 | 0.73 | 0.80 | XXX
88104 | TC | A | Cytopathology, fluids | 0.00 | 1.00 | 0.71 | NA | NA | 0.02 | 1.02 | 0.73 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
88106 |  | A | Cytopathology, fluids | 0.56 | 1.50 | 1.39 | NA | NA | 0.04 | 2.10 | 1.99 | NA | NA | XXX
88106 | 26 | A | Cytopathology, fluids | 0.56 | 0.15 | 0.22 | 0.15 | 0.22 | 0.02 | 0.73 | 0.80 | 0.73 | 0.80 | XXX
88106 | TC | A | Cytopathology, fluids | 0.00 | 1.35 | 1.17 | NA | NA | 0.02 | 1.37 | 1.19 | NA | NA | XXX
88107 |  | A | Cytopathology, fluids | 0.76 | 1.99 | 1.65 | NA | NA | 0.05 | 2.80 | 2.46 | NA | NA | XXX
88107 | 26 | A | Cytopathology, fluids | 0.76 | 0.22 | 0.30 | 0.22 | 0.30 | 0.03 | 1.01 | 1.09 | 1.01 | 1.09 | XXX
88107 | TC | A | Cytopathology, fluids | 0.00 | 1.76 | 1.35 | NA | NA | 0.02 | 1.78 | 1.37 | NA | NA | XXX
88108 |  | A | Cytopath, concentrate tech | 0.56 | 1.47 | 1.28 | NA | NA | 0.04 | 2.07 | 1.88 | NA | NA | XXX
88108 | 26 | A | Cytopath, concentrate tech | 0.56 | 0.15 | 0.22 | 0.15 | 0.22 | 0.02 | 0.73 | 0.80 | 0.73 | 0.80 | XXX
88108 | TC | A | Cytopath, concentrate tech | 0.00 | 1.32 | 1.06 | NA | NA | 0.02 | 1.34 | 1.08 | NA | NA | XXX
88112 |  | A | Cytopath, cell enhance tech | 1.18 | 1.50 | 1.85 | NA | NA | 0.04 | 2.72 | 3.07 | NA | NA | XXX
88112 | 26 | A | Cytopath, cell enhance tech | 1.18 | 0.29 | 0.46 | 0.29 | 0.46 | 0.02 | 1.49 | 1.66 | 1.49 | 1.66 | XXX
88112 | TC | A | Cytopath, cell enhance tech | 0.00 | 1.21 | 1.40 | NA | NA | 0.02 | 1.23 | 1.42 | NA | NA | XXX
88125 |  | A | Forensic cytopathology | 0.26 | 0.25 | 0.27 | NA | NA | 0.02 | 0.53 | 0.55 | NA | NA | XXX
88125 | 26 | A | Forensic cytopathology | 0.26 | 0.06 | 0.10 | 0.06 | 0.10 | 0.01 | 0.33 | 0.37 | 0.33 | 0.37 | XXX
88125 | TC | A | Forensic cytopathology | 0.00 | 0.19 | 0.17 | NA | NA | 0.01 | 0.20 | 0.18 | NA | NA | XXX
88141 |  | A | Cytopath, c/v, interpret | 0.42 | 0.38 | 0.21 | 0.38 | 0.21 | 0.02 | 0.82 | 0.65 | 0.82 | 0.65 | XXX
88160 |  | A | Cytopath smear, other source | 0.50 | 0.90 | 0.85 | NA | NA | 0.04 | 1.44 | 1.39 | NA | NA | XXX
88160 | 26 | A | Cytopath smear, other source | 0.50 | 0.13 | 0.19 | 0.13 | 0.19 | 0.02 | 0.65 | 0.71 | 0.65 | 0.71 | XXX
88160 | TC | A | Cytopath smear, other source | 0.00 | 0.77 | 0.66 | NA | NA | 0.02 | 0.79 | 0.68 | NA | NA | XXX
88161 |  | A | Cytopath smear, other source | 0.50 | 1.12 | 0.99 | NA | NA | 0.04 | 1.66 | 1.53 | NA | NA | XXX
88161 | 26 | A | Cytopath smear, other source | 0.50 | 0.15 | 0.20 | 0.15 | 0.20 | 0.02 | 0.67 | 0.72 | 0.67 | 0.72 | XXX
88161 | TC | A | Cytopath smear, other source | 0.00 | 0.97 | 0.79 | NA | NA | 0.02 | 0.99 | 0.81 | NA | NA | XXX
88162 |  | A | Cytopath smear, other source | 0.76 | 1.16 | 1.06 | NA | NA | 0.05 | 1.97 | 1.87 | NA | NA | XXX
88162 | 26 | A | Cytopath smear, other source | 0.76 | 0.16 | 0.29 | 0.16 | 0.29 | 0.03 | 0.95 | 1.08 | 0.95 | 1.08 | XXX
88162 | TC | A | Cytopath smear, other source | 0.00 | 1.00 | 0.77 | NA | NA | 0.02 | 1.02 | 0.79 | NA | NA | XXX
88172 |  | A | Cytopathology eval of fna | 0.60 | 0.85 | 0.76 | NA | NA | 0.04 | 1.49 | 1.40 | NA | NA | XXX
88172 | 26 | A | Cytopathology eval of fna | 0.60 | 0.18 | 0.24 | 0.18 | 0.24 | 0.02 | 0.80 | 0.86 | 0.80 | 0.86 | XXX
88172 | TC | A | Cytopathology eval of fna | 0.00 | 0.67 | 0.52 | NA | NA | 0.02 | 0.69 | 0.54 | NA | NA | XXX
88173 |  | A | Cytopath eval, fna, report | 1.39 | 2.30 | 2.18 | NA | NA | 0.07 | 3.76 | 3.64 | NA | NA | XXX
88173 | 26 | A | Cytopath eval, fna, report | 1.39 | 0.39 | 0.54 | 0.39 | 0.54 | 0.05 | 1.83 | 1.98 | 1.83 | 1.98 | XXX
88173 | TC | A | Cytopath eval, fna, report | 0.00 | 1.91 | 1.64 | NA | NA | 0.02 | 1.93 | 1.66 | NA | NA | XXX
88182 |  | A | Cell marker study | 0.77 | 1.95 | 1.97 | NA | NA | 0.07 | 2.79 | 2.81 | NA | NA | XXX
88182 | 26 | A | Cell marker study | 0.77 | 0.12 | 0.28 | 0.12 | 0.28 | 0.03 | 0.92 | 1.08 | 0.92 | 1.08 | XXX
88182 | TC | A | Cell marker study | 0.00 | 1.83 | 1.70 | NA | NA | 0.04 | 1.87 | 1.74 | NA | NA | XXX
88184 |  | A | Flowcytometry/ tc, 1 marker | 0.00 | 2.50 | 1.62 | NA | NA | 0.02 | 2.52 | 1.64 | NA | NA | XXX
88185 |  | A | Flowcytometry/tc, add-on | 0.00 | 1.52 | 0.86 | NA | NA | 0.02 | 1.54 | 0.88 | NA | NA | ZZZ
88187 |  | A | Flowcytometry/read, 2-8 | 1.36 | 0.38 | 0.43 | 0.38 | 0.43 | 0.01 | 1.75 | 1.80 | 1.75 | 1.80 | XXX
88188 |  | A | Flowcytometry/read, 9-15 | 1.69 | 0.43 | 0.54 | 0.43 | 0.54 | 0.01 | 2.13 | 2.24 | 2.13 | 2.24 | XXX
88189 |  | A | Flowcytometry/read, 16 & > | 2.23 | 0.47 | 0.68 | 0.47 | 0.68 | 0.01 | 2.71 | 2.92 | 2.71 | 2.92 | XXX
88291 |  | A | Cyto/molecular report | 0.52 | 0.27 | 0.20 | 0.27 | 0.20 | 0.02 | 0.81 | 0.74 | 0.81 | 0.74 | XXX
88300 |  | A | Surgical path, gross | 0.08 | 0.59 | 0.49 | NA | NA | 0.02 | 0.69 | 0.59 | NA | NA | XXX
88300 | 26 | A | Surgical path, gross | 0.08 | 0.02 | 0.03 | 0.02 | 0.03 | 0.01 | 0.11 | 0.12 | 0.11 | 0.12 | XXX
88300 | TC | A | Surgical path, gross | 0.00 | 0.56 | 0.46 | NA | NA | 0.01 | 0.57 | 0.47 | NA | NA | XXX
88302 |  | A | Tissue exam by pathologist | 0.13 | 1.29 | 1.10 | NA | NA | 0.03 | 1.45 | 1.26 | NA | NA | XXX
88302 | 26 | A | Tissue exam by pathologist | 0.13 | 0.04 | 0.06 | 0.04 | 0.06 | 0.01 | 0.18 | 0.20 | 0.18 | 0.20 | XXX
88302 | TC | A | Tissue exam by pathologist | 0.00 | 1.25 | 1.04 | NA | NA | 0.02 | 1.27 | 1.06 | NA | NA | XXX
88304 |  | A | Tissue exam by pathologist | 0.22 | 1.53 | 1.37 | NA | NA | 0.03 | 1.78 | 1.62 | NA | NA | XXX
88304 | 26 | A | Tissue exam by pathologist | 0.22 | 0.06 | 0.08 | 0.06 | 0.08 | 0.01 | 0.29 | 0.31 | 0.29 | 0.31 | XXX
88304 | TC | A | Tissue exam by pathologist | 0.00 | 1.47 | 1.29 | NA | NA | 0.02 | 1.49 | 1.31 | NA | NA | XXX
88305 |  | A | Tissue exam by pathologist | 0.75 | 2.18 | 1.98 | NA | NA | 0.07 | 3.00 | 2.80 | NA | NA | XXX
88305 | 26 | A | Tissue exam by pathologist | 0.75 | 0.21 | 0.30 | 0.21 | 0.30 | 0.03 | 0.99 | 1.08 | 0.99 | 1.08 | XXX
88305 | TC | A | Tissue exam by pathologist | 0.00 | 1.98 | 1.68 | NA | NA | 0.04 | 2.02 | 1.72 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
88307 |  | A | Tissue exam by pathologist | 1.59 | 4.48 | 3.49 | NA | NA | 0.12 | 6.19 | 5.20 | NA | NA | XXX
88307 | 26 | A | Tissue exam by pathologist | 1.59 | 0.47 | 0.63 | 0.47 | 0.63 | 0.06 | 2.12 | 2.28 | 2.12 | 2.28 | XXX
88307 | TC | A | Tissue exam by pathologist | 0.00 | 4.02 | 2.87 | NA | NA | 0.06 | 4.08 | 2.93 | NA | NA | XXX
88309 |  | A | Tissue exam by pathologist | 2.80 | 6.28 | 4.87 | NA | NA | 0.14 | 9.22 | 7.81 | NA | NA | XXX
88309 | 26 | A | Tissue exam by pathologist | 2.80 | 0.82 | 0.93 | 0.82 | 0.93 | 0.08 | 3.70 | 3.81 | 3.70 | 3.81 | XXX
88309 | TC | A | Tissue exam by pathologist | 0.00 | 5.46 | 3.94 | NA | NA | 0.06 | 5.52 | 4.00 | NA | NA | XXX
88311 |  | A | Decalcify tissue | 0.24 | 0.25 | 0.24 | NA | NA | 0.02 | 0.51 | 0.50 | NA | NA | XXX
88311 | 26 | A | Decalcify tissue | 0.24 | 0.07 | 0.09 | 0.07 | 0.09 | 0.01 | 0.32 | 0.34 | 0.32 | 0.34 | XXX
88311 | TC | A | Decalcify tissue | 0.00 | 0.18 | 0.14 | NA | NA | 0.01 | 0.19 | 0.15 | NA | NA | XXX
88312 |  | A | Special stains | 0.54 | 2.49 | 1.76 | NA | NA | 0.03 | 3.06 | 2.33 | NA | NA | XXX
88312 | 26 | A | Special stains | 0.54 | 0.14 | 0.21 | 0.14 | 0.21 | 0.02 | 0.70 | 0.77 | 0.70 | 0.77 | XXX
88312 | TC | A | Special stains | 0.00 | 2.34 | 1.55 | NA | NA | 0.01 | 2.35 | 1.56 | NA | NA | XXX
88313 |  | A | Special stains | 0.24 | 1.94 | 1.42 | NA | NA | 0.02 | 2.20 | 1.68 | NA | NA | XXX
88313 | 26 | A | Special stains | 0.24 | 0.06 | 0.09 | 0.06 | 0.09 | 0.01 | 0.31 | 0.34 | 0.31 | 0.34 | XXX
88313 | TC | A | Special stains | 0.00 | 1.88 | 1.33 | NA | NA | 0.01 | 1.89 | 1.34 | NA | NA | XXX
88314 |  | A | Histochemical stain | 0.45 | 1.98 | 2.05 | NA | NA | 0.04 | 2.47 | 2.54 | NA | NA | XXX
88314 | 26 | A | Histochemical stain | 0.45 | 0.14 | 0.18 | 0.14 | 0.18 | 0.02 | 0.61 | 0.65 | 0.61 | 0.65 | XXX
88314 | TC | A | Histochemical stain | 0.00 | 1.84 | 1.87 | NA | NA | 0.02 | 1.86 | 1.89 | NA | NA | XXX
88318 |  | A | Chemical histochemistry | 0.42 | 2.98 | 1.98 | NA | NA | 0.03 | 3.43 | 2.43 | NA | NA | XXX
88318 | 26 | A | Chemical histochemistry | 0.42 | 0.12 | 0.17 | 0.12 | 0.17 | 0.02 | 0.56 | 0.61 | 0.56 | 0.61 | XXX
88318 | TC | A | Chemical histochemistry | 0.00 | 2.85 | 1.82 | NA | NA | 0.01 | 2.86 | 1.83 | NA | NA | XXX
88319 |  | A | Enzyme histochemistry | 0.53 | 3.25 | 3.38 | NA | NA | 0.04 | 3.82 | 3.95 | NA | NA | XXX
88319 | 26 | A | Enzyme histochemistry | 0.53 | 0.15 | 0.20 | 0.15 | 0.20 | 0.02 | 0.70 | 0.75 | 0.70 | 0.75 | XXX
88319 | TC | A | Enzyme histochemistry | 0.00 | 3.10 | 3.18 | NA | NA | 0.02 | 3.12 | 3.20 | NA | NA | XXX
88321 |  | A | Microslide consultation | 1.63 | 0.73 | 0.78 | 0.47 | 0.54 | 0.05 | 2.41 | 2.46 | 2.15 | 2.22 | XXX
88323 |  | A | Microslide consultation | 1.83 | 2.21 | 1.89 | NA | NA | 0.07 | 4.11 | 3.79 | NA | NA | XXX
88323 | 26 | A | Microslide consultation | 1.83 | 0.45 | 0.54 | 0.45 | 0.54 | 0.05 | 2.33 | 2.42 | 2.33 | 2.42 | XXX
88323 | TC | A | Microslide consultation | 0.00 | 1.76 | 1.35 | NA | NA | 0.02 | 1.78 | 1.37 | NA | NA | XXX
88325 |  | A | Comprehensive review of data | 2.50 | 2.24 | 2.77 | 0.61 | 0.87 | 0.07 | 4.81 | 5.34 | 3.18 | 3.44 | XXX
88329 |  | A | Path consult introp | 0.67 | 0.68 | 0.66 | 0.20 | 0.27 | 0.02 | 1.37 | 1.35 | 0.89 | 0.96 | XXX
88331 |  | A | Path consult intraop, 1 bloc | 1.19 | 1.24 | 1.14 | NA | NA | 0.08 | 2.51 | 2.41 | NA | NA | XXX
88331 | 26 | A | Path consult intraop, 1 bloc | 1.19 | 0.36 | 0.47 | 0.36 | 0.47 | 0.04 | 1.59 | 1.70 | 1.59 | 1.70 | XXX
88331 | TC | A | Path consult intraop, 1 bloc | 0.00 | 0.87 | 0.66 | NA | NA | 0.04 | 0.91 | 0.70 | NA | NA | XXX
88332 |  | A | Path consult intraop, addIl | 0.59 | 0.47 | 0.46 | NA | NA | 0.04 | 1.10 | 1.09 | NA | NA | XXX
88332 | 26 | A | Path consult intraop, addIl | 0.59 | 0.17 | 0.23 | 0.17 | 0.23 | 0.02 | 0.78 | 0.84 | 0.78 | 0.84 | XXX
88332 | TC | A | Path consult intraop, addIl | 0.00 | 0.29 | 0.23 | NA | NA | 0.02 | 0.31 | 0.25 | NA | NA | XXX
88333 |  | A | Intraop cyto path consult, 1 | 1.20 | 1.34 | 1.15 | NA | NA | 0.08 | 2.62 | 2.43 | NA | NA | XXX
88333 | 26 | A | Intraop cyto path consult, 1 | 1.20 | 0.37 | 0.49 | 0.37 | 0.49 | 0.04 | 1.61 | 1.73 | 1.61 | 1.73 | XXX
88333 | TC | A | Intraop cyto path consult, 1 | 0.00 | 0.97 | 0.66 | NA | NA | 0.04 | 1.01 | 0.70 | NA | NA | XXX
88334 |  | A | Intraop cyto path consult, 2 | 0.59 | 0.74 | 0.64 | NA | NA | 0.04 | 1.37 | 1.27 | NA | NA | XXX
88334 | 26 | A | Intraop cyto path consult, 2 | 0.59 | 0.17 | 0.24 | 0.17 | 0.24 | 0.02 | 0.78 | 0.85 | 0.78 | 0.85 | XXX
88334 | TC | A | Intraop cyto path consult, 2 | 0.00 | 0.57 | 0.40 | NA | NA | 0.02 | 0.59 | 0.42 | NA | NA | XXX
88342 |  | A | Immunohistochemistry | 0.85 | 2.03 | 1.60 | NA | NA | 0.05 | 2.93 | 2.50 | NA | NA | XXX
88342 | 26 | A | Immunohistochemistry | 0.85 | 0.22 | 0.33 | 0.22 | 0.33 | 0.03 | 1.10 | 1.21 | 1.10 | 1.21 | XXX
88342 | TC | A | Immunohistochemistry | 0.00 | 1.81 | 1.28 | NA | NA | 0.02 | 1.83 | 1.30 | NA | NA | XXX
88346 |  | A | Immunofluorescent study | 0.86 | 1.96 | 1.67 | NA | NA | 0.05 | 2.87 | 2.58 | NA | NA | XXX
88346 | 26 | A | Immunofluorescent study | 0.86 | 0.23 | 0.33 | 0.23 | 0.33 | 0.03 | 1.12 | 1.22 | 1.12 | 1.22 | XXX
88346 | TC | A | Immunofluorescent study | 0.00 | 1.74 | 1.34 | NA | NA | 0.02 | 1.76 | 1.36 | NA | NA | XXX
88347 |  | A | Immunofluorescent study | 0.86 | 1.34 | 1.28 | NA | NA | 0.05 | 2.25 | 2.19 | NA | NA | XXX
88347 | 26 | A | Immunofluorescent study | 0.86 | 0.19 | 0.31 | 0.19 | 0.31 | 0.03 | 1.08 | 1.20 | 1.08 | 1.20 | XXX
88347 | TC | A | Immunofluorescent study | 0.00 | 1.16 | 0.97 | NA | NA | 0.02 | 1.18 | 0.99 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
88348 |  | A | Electron microscopy | 1.51 | 18.07 | 11.55 | NA | NA | 0.13 | 19.71 | 13.19 | NA | NA | XXX
88348 | 26 | A | Electron microscopy | 1.51 | 0.40 | 0.58 | 0.40 | 0.58 | 0.06 | 1.97 | 2.15 | 1.97 | 2.15 | XXX
88348 | TC | A | Electron microscopy | 0.00 | 17.67 | 10.97 | NA | NA | 0.07 | 17.74 | 11.04 | NA | NA | XXX
88349 |  | A | Scanning electron microscopy | 0.76 | 8.90 | 4.90 | NA | NA | 0.09 | 9.75 | 5.75 | NA | NA | XXX
88349 | 26 | A | Scanning electron microscopy | 0.76 | 0.22 | 0.30 | 0.22 | 0.30 | 0.03 | 1.01 | 1.09 | 1.01 | 1.09 | XXX
88349 | TC | A | Scanning electron microscopy | 0.00 | 8.69 | 4.60 | NA | NA | 0.06 | 8.75 | 4.66 | NA | NA | XXX
88355 |  | A | Analysis, skeletal muscle | 1.85 | 3.37 | 7.44 | NA | NA | 0.13 | 5.35 | 9.42 | NA | NA | XXX
88355 | 26 | A | Analysis, skeletal muscle | 1.85 | 0.39 | 0.69 | 0.39 | 0.69 | 0.07 | 2.31 | 2.61 | 2.31 | 2.61 | XXX
88355 | TC | A | Analysis, skeletal muscle | 0.00 | 2.98 | 6.75 | NA | NA | 0.06 | 3.04 | 6.81 | NA | NA | XXX
88356 |  | A | Analysis, nerve | 3.02 | 6.64 | 4.80 | NA | NA | 0.19 | 9.85 | 8.01 | NA | NA | XXX
88356 | 26 | A | Analysis, nerve | 3.02 | 0.76 | 1.14 | 0.76 | 1.14 | 0.12 | 3.90 | 4.28 | 3.90 | 4.28 | XXX
88356 | TC | A | Analysis, nerve | 0.00 | 5.88 | 3.67 | NA | NA | 0.07 | 5.95 | 3.74 | NA | NA | XXX
88358 |  | A | Analysis, tumor | 0.95 | 1.12 | 0.91 | NA | NA | 0.17 | 2.24 | 2.03 | NA | NA | XXX
88358 | 26 | A | Analysis, tumor | 0.95 | 0.16 | 0.34 | 0.16 | 0.34 | 0.10 | 1.21 | 1.39 | 1.21 | 1.39 | XXX
88358 | TC | A | Analysis, tumor | 0.00 | 0.96 | 0.57 | NA | NA | 0.07 | 1.03 | 0.64 | NA | NA | XXX
88360 |  | A | Tumor immunohistochem/manual | 1.10 | 2.31 | 1.88 | NA | NA | 0.08 | 3.49 | 3.06 | NA | NA | XXX
88360 | 26 | A | Tumor immunohistochem/manual | 1.10 | 0.27 | 0.42 | 0.27 | 0.42 | 0.06 | 1.43 | 1.58 | 1.43 | 1.58 | XXX
88360 | TC | A | Tumor immunohistochem/manual | 0.00 | 2.03 | 1.45 | NA | NA | 0.02 | 2.05 | 1.47 | NA | NA | XXX
88361 |  | A | Tumor immunohistochem/comput | 1.18 | 2.76 | 2.96 | NA | NA | 0.17 | 4.11 | 4.31 | NA | NA | XXX
88361 | 26 | A | Tumor immunohistochem/comput | 1.18 | 0.25 | 0.43 | 0.25 | 0.43 | 0.10 | 1.53 | 1.71 | 1.53 | 1.71 | XXX
88361 | TC | A | Tumor immunohistochem/comput | 0.00 | 2.51 | 2.53 | NA | NA | 0.07 | 2.58 | 2.60 | NA | NA | XXX
88362 |  | A | Nerve teasing preparations | 2.17 | 5.23 | 4.83 | NA | NA | 0.15 | 7.55 | 7.15 | NA | NA | XXX
88362 | 26 | A | Nerve teasing preparations | 2.17 | 0.58 | 0.84 | 0.58 | 0.84 | 0.09 | 2.84 | 3.10 | 2.84 | 3.10 | XXX
88362 | TC | A | Nerve teasing preparations | 0.00 | 4.64 | 4.00 | NA | NA | 0.06 | 4.70 | 4.06 | NA | NA | XXX
88365 |  | A | Insitu hybridization (fish) | 1.20 | 2.95 | 2.34 | NA | NA | 0.05 | 4.20 | 3.59 | NA | NA | XXX
88365 | 26 | A | Insitu hybridization (fish) | 1.20 | 0.24 | 0.44 | 0.24 | 0.44 | 0.03 | 1.47 | 1.67 | 1.47 | 1.67 | XXX
88365 | TC | A | Insitu hybridization (fish) | 0.00 | 2.71 | 1.89 | NA | NA | 0.02 | 2.73 | 1.91 | NA | NA | XXX
88367 |  | A | Insitu hybridization, auto | 1.30 | 5.27 | 4.35 | NA | NA | 0.12 | 6.69 | 5.77 | NA | NA | XXX
88367 | 26 | A | Insitu hybridization, auto | 1.30 | 0.22 | 0.46 | 0.22 | 0.46 | 0.06 | 1.58 | 1.82 | 1.58 | 1.82 | XXX
88367 | TC | A | Insitu hybridization, auto | 0.00 | 5.05 | 3.89 | NA | NA | 0.06 | 5.11 | 3.95 | NA | NA | XXX
88368 |  | A | Insitu hybridization, manual | 1.40 | 4.79 | 3.00 | NA | NA | 0.12 | 6.31 | 4.52 | NA | NA | XXX
88368 | 26 | A | Insitu hybridization, manual | 1.40 | 0.21 | 0.50 | 0.21 | 0.50 | 0.06 | 1.67 | 1.96 | 1.67 | 1.96 | XXX
88368 | TC | A | Insitu hybridization, manual | 0.00 | 4.58 | 2.50 | NA | NA | 0.06 | 4.64 | 2.56 | NA | NA | XXX
88371 | 26 | A | Protein, western blot tissue | 0.37 | 0.10 | 0.12 | 0.10 | 0.12 | 0.01 | 0.48 | 0.50 | 0.48 | 0.50 | XXX
88372 | 26 | A | Protein analysis w/probe | 0.37 | 0.11 | 0.15 | 0.11 | 0.15 | 0.01 | 0.49 | 0.53 | 0.49 | 0.53 | XXX
88385 |  | A | Eval molecul probes, 51-250 | 1.50 | 14.66 | 8.99 | NA | NA | 0.12 | 16.28 | 10.61 | NA | NA | XXX
88385 | 26 | A | Eval molecul probes, 51-250 | 1.50 | 0.22 | 0.54 | 0.22 | 0.54 | 0.06 | 1.78 | 2.10 | 1.78 | 2.10 | XXX
88385 | TC | A | Eval molecul probes, 51-250 | 0.00 | 14.44 | 8.45 | NA | NA | 0.06 | 14.50 | 8.51 | NA | NA | XXX
88386 |  | A | Eval molecul probes, 251-500 | 1.88 | 14.56 | 8.93 | NA | NA | 0.16 | 16.60 | 10.97 | NA | NA | XXX
88386 | 26 | A | Eval molecul probes, 251-500 | 1.88 | 0.28 | 0.69 | 0.28 | 0.69 | 0.08 | 2.24 | 2.65 | 2.24 | 2.65 | XXX
88386 | TC | A | Eval molecul probes, 251-500 | 0.00 | 14.28 | 8.24 | NA | NA | 0.08 | 14.36 | 8.32 | NA | NA | XXX
89049 |  | A | Chct for mal hyperthermia | 1.40 | 3.59 | 3.57 | 0.18 | 0.25 | 0.06 | 5.05 | 5.03 | 1.64 | 1.71 | XXX
89060 | 26 | A | Exam,synovial fluid crystals | 0.37 | 0.11 | 0.15 | 0.11 | 0.15 | 0.01 | 0.49 | 0.53 | 0.49 | 0.53 | XXX
89100 |  | A | Sample intestinal contents | 0.60 | 9.16 | 3.67 | 0.62 | 0.31 | 0.03 | 9.79 | 4.30 | 1.25 | 0.94 | XXX
89105 |  | A | Sample intestinal contents | 0.50 | 7.70 | 3.60 | 0.45 | 0.24 | 0.02 | 8.22 | 4.12 | 0.97 | 0.76 | XXX
89130 |  | A | Sample stomach contents | 0.45 | 6.96 | 3.05 | 0.40 | 0.20 | 0.02 | 7.43 | 3.52 | 0.87 | 0.67 | XXX
89132 |  | A | Sample stomach contents | 0.19 | 6.56 | 2.80 | 0.30 | 0.12 | 0.01 | 6.76 | 3.00 | 0.50 | 0.32 | XXX
89135 |  | A | Sample stomach contents | 0.79 | 9.15 | 3.71 | 0.70 | 0.36 | 0.04 | 9.98 | 4.54 | 1.53 | 1.19 | XXX
89136 |  | A | Sample stomach contents | 0.21 | 7.05 | 3.07 | 0.32 | 0.15 | 0.01 | 7.27 | 3.29 | 0.54 | 0.37 | XXX
89140 |  | A | Sample stomach contents | 0.94 | 6.81 | 3.27 | 0.49 | 0.33 | 0.04 | 7.79 | 4.25 | 1.47 | 1.31 | XXX
89141 |  | A | Sample stomach contents | 0.85 | 5.59 | 3.50 | 0.41 | 0.35 | 0.03 | 6.47 | 4.38 | 1.29 | 1.23 | XXX
89220 |  | A | Sputum specimen collection | 0.00 | 0.36 | 0.41 | NA | NA | 0.02 | 0.38 | 0.43 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
89230 |  | A | Collect sweat for test | 0.00 | 0.08 | 0.10 | NA | NA | 0.02 | 0.10 | 0.12 | NA | NA | XXX
90465 |  | A | Ther/proph/diag inj, sc/im | 0.17 | 0.45 | 0.35 | NA | NA | 0.01 | 0.63 | 0.53 | NA | NA | XXX
90466 |  | A | Immune admin addl inj, < 8 y | 0.15 | 0.12 | 0.13 | NA | NA | 0.01 | 0.28 | 0.29 | NA | NA | ZZZ
90467 |  | R | Immune admin o or n, < 8 yrs | 0.17 | 0.17 | 0.17 | 0.07 | 0.09 | 0.01 | 0.35 | 0.35 | 0.25 | 0.27 | XXX
90468 |  | R | Immune admin o/n, addl < 8 y | 0.15 | 0.10 | 0.11 | 0.03 | 0.05 | 0.01 | 0.26 | 0.27 | 0.19 | 0.21 | ZZZ
90471 |  | A | Ther/proph/diag inj, sc/im | 0.17 | 0.45 | 0.35 | NA | NA | 0.01 | 0.63 | 0.53 | NA | NA | XXX
90472 |  | A | Immunization admin, each add | 0.15 | 0.12 | 0.13 | NA | NA | 0.01 | 0.28 | 0.29 | NA | NA | ZZZ
90473 |  | R | Immune admin oral/nasal | 0.17 | 0.16 | 0.18 | 0.04 | 0.06 | 0.01 | 0.34 | 0.36 | 0.22 | 0.24 | XXX
90474 |  | R | Immune admin oral/nasal addl | 0.15 | 0.07 | 0.09 | 0.03 | 0.05 | 0.01 | 0.23 | 0.25 | 0.19 | 0.21 | ZZZ
90760 |  | A | Hydration iv infusion, init | 0.17 | 1.32 | 1.40 | NA | NA | 0.07 | 1.56 | 1.64 | NA | NA | XXX
90761 |  | A | Hydrate iv infusion, add-on | 0.09 | 0.32 | 0.38 | NA | NA | 0.04 | 0.45 | 0.51 | NA | NA | ZZZ
90765 |  | A | Ther/proph/diag iv inf, init | 0.21 | 1.63 | 1.73 | NA | NA | 0.07 | 1.91 | 2.01 | NA | NA | XXX
90766 |  | A | Ther/proph/dg iv inf, add-on | 0.18 | 0.38 | 0.44 | NA | NA | 0.04 | 0.60 | 0.66 | NA | NA | ZZZ
90767 |  | A | Tx/proph/dg addl seq iv inf | 0.19 | 0.69 | 0.84 | NA | NA | 0.04 | 0.92 | 1.07 | NA | NA | ZZZ
90768 |  | A | Ther/diag concurrent inf | 0.17 | 0.33 | 0.41 | NA | NA | 0.04 | 0.54 | 0.62 | NA | NA | ZZZ
90772 |  | A | Ther/proph/diag inj, sc/im | 0.17 | 0.45 | 0.35 | NA | NA | 0.01 | 0.63 | 0.53 | NA | NA | XXX
90773 |  | A | Ther/proph/diag inj, ia | 0.17 | 0.30 | 0.31 | NA | NA | 0.02 | 0.49 | 0.50 | NA | NA | XXX
90774 |  | A | Ther/proph/diag inj, iv push | 0.18 | 1.35 | 1.31 | NA | NA | 0.04 | 1.57 | 1.53 | NA | NA | XXX
90775 |  | A | Ther/proph/diag inj add-on | 0.10 | 0.51 | 0.56 | NA | NA | 0.04 | 0.65 | 0.70 | NA | NA | ZZZ
90801 |  | A | Psy dx interview | 2.80 | 1.43 | 1.24 | 0.57 | 0.84 | 0.06 | 4.29 | 4.10 | 3.43 | 3.70 | XXX
90802 |  | A | Intac psy dx interview | 3.01 | 1.48 | 1.27 | 0.63 | 0.89 | 0.07 | 4.56 | 4.35 | 3.71 | 3.97 | XXX
90804 |  | A | Psytx, office, 20-30 min | 1.21 | 0.53 | 0.50 | 0.20 | 0.34 | 0.03 | 1.77 | 1.74 | 1.44 | 1.58 | XXX
90805 |  | A | Psytx, off, 20-30 min w/e&m | 1.37 | 0.58 | 0.52 | 0.23 | 0.37 | 0.03 | 1.98 | 1.92 | 1.63 | 1.77 | XXX
90806 |  | A | Psytx, off, 45-50 min | 1.86 | 0.50 | 0.65 | 0.31 | 0.53 | 0.04 | 2.40 | 2.55 | 2.21 | 2.43 | XXX
90807 |  | A | Psytx, off, 45-50 min w/e&m | 2.02 | 0.68 | 0.70 | 0.34 | 0.56 | 0.05 | 2.75 | 2.77 | 2.41 | 2.63 | XXX
90808 |  | A | Psytx, office, 75-80 min | 2.79 | 0.65 | 0.94 | 0.47 | 0.79 | 0.06 | 3.50 | 3.79 | 3.32 | 3.64 | XXX
90809 |  | A | Psytx, off, 75-80, w/e&m | 2.95 | 0.83 | 0.96 | 0.50 | 0.82 | 0.07 | 3.85 | 3.98 | 3.52 | 3.84 | XXX
90810 |  | A | Intac psytx, off, 20-30 min | 1.32 | 0.50 | 0.51 | 0.23 | 0.37 | 0.04 | 1.86 | 1.87 | 1.59 | 1.73 | XXX
90811 |  | A | Intac psytx, 20-30, w/e&m | 1.48 | 0.70 | 0.60 | 0.25 | 0.41 | 0.04 | 2.22 | 2.12 | 1.77 | 1.93 | XXX
90812 |  | A | Intac psytx, off, 45-50 min | 1.97 | 0.62 | 0.75 | 0.33 | 0.56 | 0.04 | 2.63 | 2.76 | 2.34 | 2.57 | XXX
90813 |  | A | Intac psytx, 45-50 min w/e&m | 2.13 | 0.80 | 0.78 | 0.36 | 0.59 | 0.05 | 2.98 | 2.96 | 2.54 | 2.77 | XXX
90814 |  | A | Intac psytx, off, 75-80 min | 2.90 | 0.76 | 1.02 | 0.49 | 0.86 | 0.06 | 3.72 | 3.98 | 3.45 | 3.82 | XXX
90815 |  | A | Intac psytx, 75-80 w/e&m | 3.06 | 0.96 | 1.03 | 0.51 | 0.84 | 0.07 | 4.09 | 4.16 | 3.64 | 3.97 | XXX
90816 |  | A | Psytx, hosp, 20-30 min | 1.25 | NA | NA | 0.31 | 0.42 | 0.03 | NA | NA | 1.59 | 1.70 | XXX
90817 |  | A | Psytx, hosp, 20-30 min w/e&m | 1.41 | NA | NA | 0.34 | 0.43 | 0.03 | NA | NA | 1.78 | 1.87 | XXX
90818 |  | A | Psytx, hosp, 45-50 min | 1.89 | NA | NA | 0.41 | 0.62 | 0.04 | NA | NA | 2.34 | 2.55 | XXX
90819 |  | A | Psytx, hosp, 45-50 min w/e&m | 2.05 | NA | NA | 0.45 | 0.60 | 0.05 | NA | NA | 2.55 | 2.70 | XXX
90821 |  | A | Psytx, hosp, 75-80 min | 2.83 | NA | NA | 0.57 | 0.90 | 0.06 | NA | NA | 3.46 | 3.79 | XXX
90822 |  | A | Psytx, hosp, 75-80 min w/e&m | 2.99 | NA | NA | 0.61 | 0.87 | 0.08 | NA | NA | 3.68 | 3.94 | XXX
90823 |  | A | Intac psytx, hosp, 20-30 min | 1.36 | NA | NA | 0.33 | 0.44 | 0.03 | NA | NA | 1.72 | 1.83 | XXX
90824 |  | A | Intac psytx, hsp 20-30 w/e&m | 1.52 | NA | NA | 0.36 | 0.46 | 0.04 | NA | NA | 1.92 | 2.02 | XXX
90826 |  | A | Intac psytx, hosp, 45-50 min | 2.01 | NA | NA | 0.43 | 0.65 | 0.05 | NA | NA | 2.49 | 2.71 | XXX
90827 |  | A | Intac psytx, hsp 45-50 w/e&m | 2.16 | NA | NA | 0.46 | 0.63 | 0.05 | NA | NA | 2.67 | 2.84 | XXX
90828 |  | A | Intac psytx, hosp, 75-80 min | 2.94 | NA | NA | 0.59 | 0.94 | 0.06 | NA | NA | 3.59 | 3.94 | XXX
90829 |  | A | Intac psytx, hsp 75-80 w/e&m | 3.10 | NA | NA | 0.62 | 0.89 | 0.07 | NA | NA | 3.79 | 4.06 | XXX
90845 |  | A | Psychoanalysis | 1.79 | 0.37 | 0.53 | 0.30 | 0.49 | 0.04 | 2.20 | 2.36 | 2.13 | 2.32 | XXX
90846 |  | R | Family psytx w/o patient | 1.83 | 0.49 | 0.61 | 0.41 | 0.59 | 0.04 | 2.36 | 2.48 | 2.28 | 2.46 | XXX
90847 |  | R | Family psytx w/patient | 2.21 | 0.71 | 0.79 | 0.47 | 0.69 | 0.05 | 2.97 | 3.05 | 2.73 | 2.95 | XXX
90849 |  | R | Multiple family group psytx | 0.59 | 0.30 | 0.28 | 0.19 | 0.23 | 0.02 | 0.91 | 0.89 | 0.80 | 0.84 | XXX
90853 |  | A | Group psychotherapy | 0.59 | 0.26 | 0.25 | 0.19 | 0.22 | 0.01 | 0.86 | 0.85 | 0.79 | 0.82 | XXX
90857 |  | A | Intac group psytx | 0.63 | 0.35 | 0.31 | 0.20 | 0.24 | 0.01 | 0.99 | 0.95 | 0.84 | 0.88 | XXX
90862 |  | A | Medication management | 0.95 | 0.60 | 0.45 | 0.26 | 0.31 | 0.02 | 1.57 | 1.42 | 1.23 | 1.28 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
90865 |  | A | Narcosynthesis | 2.84 | 1.16 | 1.31 | 0.62 | 0.84 | 0.12 | 4.12 | 4.27 | 3.58 | 3.80 | XXX
90870 |  | A | Electroconvulsive therapy | 1.88 | 1.84 | 1.92 | 0.37 | 0.54 | 0.04 | 3.76 | 3.84 | 2.29 | 2.46 | 000
90875 |  | N | Psychophysiological therapy | 1.20 | 0.52 | 0.81 | 0.27 | 0.41 | 0.04 | 1.76 | 2.05 | 1.51 | 1.65 | XXX
90876 |  | N | Psychophysiological therapy | 1.90 | 0.66 | 1.04 | 0.43 | 0.66 | 0.05 | 2.61 | 2.99 | 2.38 | 2.61 | XXX
90880 |  | A | Hypnotherapy | 2.19 | 0.55 | 0.92 | 0.36 | 0.61 | 0.05 | 2.79 | 3.16 | 2.60 | 2.85 | XXX
90885 |  | B | Psy evaluation of records | 0.97 | 0.22 | 0.33 | 0.22 | 0.33 | 0.02 | 1.21 | 1.32 | 1.21 | 1.32 | XXX
90887 |  | B | Consultation with family | 1.48 | 0.60 | 0.77 | 0.33 | 0.50 | 0.04 | 2.12 | 2.29 | 1.85 | 2.02 | XXX
90901 |  | A | Biofeedback train, any meth | 0.41 | 0.48 | 0.61 | 0.11 | 0.13 | 0.02 | 0.91 | 1.04 | 0.54 | 0.56 | 000
90911 |  | A | Biofeedback peri/uro/rectal | 0.89 | 1.40 | 1.52 | 0.31 | 0.31 | 0.06 | 2.35 | 2.47 | 1.26 | 1.26 | 000
90918 |  | I | ESRD related services, month | 11.16 | 4.64 | 5.76 | 3.68 | 5.52 | 0.36 | 16.16 | 17.28 | 15.20 | 17.04 | XXX
90919 |  | I | ESRD related services, month | 8.53 | 2.98 | 3.75 | 2.50 | 3.63 | 0.29 | 11.80 | 12.57 | 11.32 | 12.45 | XXX
90920 |  | I | ESRD related services, month | 7.26 | 2.70 | 3.50 | 2.23 | 3.38 | 0.23 | 10.19 | 10.99 | 9.72 | 10.87 | XXX
90921 |  | I | ESRD related services, month | 4.46 | 1.68 | 2.26 | 1.59 | 2.24 | 0.14 | 6.28 | 6.86 | 6.19 | 6.84 | XXX
90922 |  | I | ESRD related services, day | 0.37 | 0.16 | 0.20 | 0.12 | 0.19 | 0.01 | 0.54 | 0.58 | 0.50 | 0.57 | XXX
90923 |  | I | Esrd related services, day | 0.28 | 0.09 | 0.12 | 0.08 | 0.12 | 0.01 | 0.38 | 0.41 | 0.37 | 0.41 | XXX
90924 |  | I | Esrd related services, day | 0.24 | 0.09 | 0.11 | 0.07 | 0.11 | 0.01 | 0.34 | 0.36 | 0.32 | 0.36 | XXX
90925 |  | I | Esrd related services, day | 0.15 | 0.05 | 0.07 | 0.05 | 0.07 | 0.01 | 0.21 | 0.23 | 0.21 | 0.23 | XXX
90935 |  | A | Hemodialysis, one evaluation | 1.22 | NA | NA | 0.53 | 0.64 | 0.04 | NA | NA | 1.79 | 1.90 | 000
90937 |  | A | Hemodialysis, repeated eval | 2.11 | NA | NA | 0.76 | 0.92 | 0.07 | NA | NA | 2.94 | 3.10 | 000
90945 |  | A | Dialysis, one evaluation | 1.28 | NA | NA | 0.55 | 0.66 | 0.04 | NA | NA | 1.87 | 1.98 | 000
90947 |  | A | Dialysis, repeated eval | 2.16 | NA | NA | 0.78 | 0.94 | 0.07 | NA | NA | 3.01 | 3.17 | 000
90997 |  | A | Hemoperfusion | 1.84 | NA | NA | 0.49 | 0.62 | 0.06 | NA | NA | 2.39 | 2.52 | 000
91000 |  | A | Esophageal intubation | 0.73 | 2.22 | 0.80 | NA | NA | 0.04 | 2.99 | 1.57 | NA | NA | 000
91000 | 26 | A | Esophageal intubation | 0.73 | 0.24 | 0.25 | 0.24 | 0.25 | 0.03 | 1.00 | 1.01 | 1.00 | 1.01 | 000
91000 | TC | A | Esophageal intubation | 0.00 | 1.98 | 0.56 | NA | NA | 0.01 | 1.99 | 0.57 | NA | NA | 000
91010 |  | A | Esophagus motility study | 1.25 | 4.79 | 4.51 | NA | NA | 0.12 | 6.16 | 5.88 | NA | NA | 000
91010 | 26 | A | Esophagus motility study | 1.25 | 0.57 | 0.47 | 0.57 | 0.47 | 0.06 | 1.88 | 1.78 | 1.88 | 1.78 | 000
91010 | TC | A | Esophagus motility study | 0.00 | 4.22 | 4.04 | NA | NA | 0.06 | 4.28 | 4.10 | NA | NA | 000
91011 |  | A | Esophagus motility study | 1.50 | 5.59 | 5.33 | NA | NA | 0.13 | 7.22 | 6.96 | NA | NA | 000
91011 | 26 | A | Esophagus motility study | 1.50 | 0.74 | 0.58 | 0.74 | 0.58 | 0.07 | 2.31 | 2.15 | 2.31 | 2.15 | 000
91011 | TC | A | Esophagus motility study | 0.00 | 4.85 | 4.75 | NA | NA | 0.06 | 4.91 | 4.81 | NA | NA | 000
91012 |  | A | Esophagus motility study | 1.46 | 5.78 | 5.77 | NA | NA | 0.13 | 7.37 | 7.36 | NA | NA | 000
91012 | 26 | A | Esophagus motility study | 1.46 | 0.72 | 0.56 | 0.72 | 0.56 | 0.06 | 2.24 | 2.08 | 2.24 | 2.08 | 000
91012 | TC | A | Esophagus motility study | 0.00 | 5.06 | 5.21 | NA | NA | 0.07 | 5.13 | 5.28 | NA | NA | 000
91020 |  | A | Gastric motility studies | 1.44 | 5.03 | 4.66 | NA | NA | 0.13 | 6.60 | 6.23 | NA | NA | 000
91020 | 26 | A | Gastric motility studies | 1.44 | 0.63 | 0.53 | 0.63 | 0.53 | 0.07 | 2.14 | 2.04 | 2.14 | 2.04 | 000
91020 | TC | A | Gastric motility studies | 0.00 | 4.40 | 4.13 | NA | NA | 0.06 | 4.46 | 4.19 | NA | NA | 000
91022 |  | A | Duodenal motility study | 1.44 | 3.19 | 4.11 | NA | NA | 0.13 | 4.76 | 5.68 | NA | NA | 000
91022 | 26 | A | Duodenal motility study | 1.44 | 0.63 | 0.54 | 0.63 | 0.54 | 0.07 | 2.14 | 2.05 | 2.14 | 2.05 | 000
91022 | TC | A | Duodenal motility study | 0.00 | 2.56 | 3.57 | NA | NA | 0.06 | 2.62 | 3.63 | NA | NA | 000
91030 |  | A | Acid perfusion of esophagus | 0.91 | 3.03 | 2.59 | NA | NA | 0.06 | 4.00 | 3.56 | NA | NA | 000
91030 | 26 | A | Acid perfusion of esophagus | 0.91 | 0.45 | 0.35 | 0.45 | 0.35 | 0.04 | 1.40 | 1.30 | 1.40 | 1.30 | 000
91030 | TC | A | Acid perfusion of esophagus | 0.00 | 2.58 | 2.24 | NA | NA | 0.02 | 2.60 | 2.26 | NA | NA | 000
91034 |  | A | Gastroesophageal reflux test | 0.97 | 5.81 | 5.39 | NA | NA | 0.12 | 6.90 | 6.48 | NA | NA | 000
91034 | 26 | A | Gastroesophageal reflux test | 0.97 | 0.43 | 0.36 | 0.43 | 0.36 | 0.06 | 1.46 | 1.39 | 1.46 | 1.39 | 000
91034 | TC | A | Gastroesophageal reflux test | 0.00 | 5.38 | 5.03 | NA | NA | 0.06 | 5.44 | 5.09 | NA | NA | 000
91035 |  | A | G-esoph reflx tst w/electrod | 1.59 | 11.66 | 11.04 | NA | NA | 0.12 | 13.37 | 12.75 | NA | NA | 000
91035 | 26 | A | G-esoph reflx tst w/electrod | 1.59 | 0.73 | 0.60 | 0.73 | 0.60 | 0.06 | 2.38 | 2.25 | 2.38 | 2.25 | 000
91035 | TC | A | G-esoph reflx tst w/electrod | 0.00 | 10.93 | 10.44 | NA | NA | 0.06 | 10.99 | 10.50 | NA | NA | 000
91037 |  | A | Esoph imped function test | 0.97 | 3.50 | 3.08 | NA | NA | 0.12 | 4.59 | 4.17 | NA | NA | 000
91037 | 26 | A | Esoph imped function test | 0.97 | 0.44 | 0.37 | 0.44 | 0.37 | 0.06 | 1.47 | 1.40 | 1.47 | 1.40 | 000
91037 | TC | A | Esoph imped function test | 0.00 | 3.06 | 2.72 | NA | NA | 0.06 | 3.12 | 2.78 | NA | NA | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
91038 |  | A | Esoph imped funct test > 1h | 1.10 | 2.85 | 2.39 | NA | NA | 0.12 | 4.07 | 3.61 | NA | NA | 000
91038 | 26 | A | Esoph imped funct test > 1h | 1.10 | 0.52 | 0.42 | 0.52 | 0.42 | 0.06 | 1.68 | 1.58 | 1.68 | 1.58 | 000
91038 | TC | A | Esoph imped funct test > 1h | 0.00 | 2.32 | 1.96 | NA | NA | 0.06 | 2.38 | 2.02 | NA | NA | 000
91040 |  | A | Esoph balloon distension tst | 0.97 | 9.54 | 10.76 | NA | NA | 0.12 | 10.63 | 11.85 | NA | NA | 000
91040 | 26 | A | Esoph balloon distension tst | 0.97 | 0.39 | 0.35 | 0.39 | 0.35 | 0.06 | 1.42 | 1.38 | 1.42 | 1.38 | 000
91040 | TC | A | Esoph balloon distension tst | 0.00 | 9.15 | 10.40 | NA | NA | 0.06 | 9.21 | 10.46 | NA | NA | 000
91052 |  | A | Gastric analysis test | 0.79 | 3.10 | 2.62 | NA | NA | 0.05 | 3.94 | 3.46 | NA | NA | 000
91052 | 26 | A | Gastric analysis test | 0.79 | 0.39 | 0.31 | 0.39 | 0.31 | 0.03 | 1.21 | 1.13 | 1.21 | 1.13 | 000
91052 | TC | A | Gastric analysis test | 0.00 | 2.71 | 2.31 | NA | NA | 0.02 | 2.73 | 2.33 | NA | NA | 000
91055 |  | A | Gastric intubation for smear | 0.94 | 2.42 | 2.82 | NA | NA | 0.07 | 3.43 | 3.83 | NA | NA | 000
91055 | 26 | A | Gastric intubation for smear | 0.94 | 0.27 | 0.27 | 0.27 | 0.27 | 0.05 | 1.26 | 1.26 | 1.26 | 1.26 | 000
91055 | TC | A | Gastric intubation for smear | 0.00 | 2.15 | 2.55 | NA | NA | 0.02 | 2.17 | 2.57 | NA | NA | 000
91060 |  | A | Gastric saline load test | 0.45 | 1.64 | 1.89 | NA | NA | 0.05 | 2.14 | 2.39 | NA | NA | 000
91060 | 26 | A | Gastric saline load test | 0.45 | 0.11 | 0.13 | 0.11 | 0.13 | 0.03 | 0.59 | 0.61 | 0.59 | 0.61 | 000
91060 | TC | A | Gastric saline load test | 0.00 | 1.53 | 1.76 | NA | NA | 0.02 | 1.55 | 1.78 | NA | NA | 000
91065 |  | A | Breath hydrogen test | 0.20 | 1.39 | 1.44 | NA | NA | 0.03 | 1.62 | 1.67 | NA | NA | 000
91065 | 26 | A | Breath hydrogen test | 0.20 | 0.07 | 0.07 | 0.07 | 0.07 | 0.01 | 0.28 | 0.28 | 0.28 | 0.28 | 000
91065 | TC | A | Breath hydrogen test | 0.00 | 1.32 | 1.37 | NA | NA | 0.02 | 1.34 | 1.39 | NA | NA | 000
91100 |  | A | Pass intestine bleeding tube | 1.08 | 2.15 | 2.64 | 0.37 | 0.30 | 0.07 | 3.30 | 3.79 | 1.52 | 1.45 | 000
91105 |  | A | Gastric intubation treatment | 0.37 | 1.75 | 2.02 | 0.07 | 0.09 | 0.03 | 2.15 | 2.42 | 0.47 | 0.49 | 000
91110 |  | A | Gi tract capsule endoscopy | 3.64 | 21.22 | 21.99 | NA | NA | 0.16 | 25.02 | 25.79 | NA | NA | XXX
91110 | 26 | A | Gi tract capsule endoscopy | 3.64 | 1.74 | 1.40 | 1.74 | 1.40 | 0.09 | 5.47 | 5.13 | 5.47 | 5.13 | XXX
91110 | TC | A | Gi tract capsule endoscopy | 0.00 | 19.48 | 20.59 | NA | NA | 0.07 | 19.55 | 20.66 | NA | NA | XXX
91120 |  | A | Rectal sensation test | 0.97 | 9.15 | 10.55 | NA | NA | 0.11 | 10.23 | 11.63 | NA | NA | XXX
91120 | 26 | A | Rectal sensation test | 0.97 | 0.30 | 0.33 | 0.30 | 0.33 | 0.07 | 1.34 | 1.37 | 1.34 | 1.37 | XXX
91120 | TC | A | Rectal sensation test | 0.00 | 8.85 | 10.22 | NA | NA | 0.04 | 8.89 | 10.26 | NA | NA | XXX
91122 |  | A | Anal pressure record | 1.77 | 3.83 | 4.79 | NA | NA | 0.21 | 5.81 | 6.77 | NA | NA | 000
91122 | 26 | A | Anal pressure record | 1.77 | 0.52 | 0.58 | 0.52 | 0.58 | 0.13 | 2.42 | 2.48 | 2.42 | 2.48 | 000
91122 | TC | A | Anal pressure record | 0.00 | 3.32 | 4.21 | NA | NA | 0.08 | 3.40 | 4.29 | NA | NA | 000
91132 | 26 | A | Electrogastrography | 0.52 | 0.27 | 0.20 | 0.27 | 0.20 | 0.02 | 0.81 | 0.74 | 0.81 | 0.74 | XXX
91133 | 26 | A | Electrogastrography w/test | 0.66 | 0.31 | 0.25 | 0.31 | 0.25 | 0.03 | 1.00 | 0.94 | 1.00 | 0.94 | XXX
92002 |  | A | Eye exam, new patient | 0.88 | 0.96 | 0.97 | 0.26 | 0.32 | 0.02 | 1.86 | 1.87 | 1.16 | 1.22 | XXX
92004 |  | A | Eye exam, new patient | 1.67 | 1.57 | 1.67 | 0.52 | 0.64 | 0.04 | 3.28 | 3.38 | 2.23 | 2.35 | XXX
92012 |  | A | Eye exam established pat | 0.67 | 0.93 | 1.01 | 0.23 | 0.28 | 0.02 | 1.62 | 1.70 | 0.92 | 0.97 | XXX
92014 |  | A | Eye exam & treatment | 1.10 | 1.30 | 1.38 | 0.36 | 0.44 | 0.03 | 2.43 | 2.51 | 1.49 | 1.57 | XXX
92015 |  | N | Refraction | 0.38 | 0.10 | 1.14 | 0.09 | 0.14 | 0.01 | 0.49 | 1.53 | 0.48 | 0.53 | XXX
92018 |  | A | New eye exam & treatment | 2.50 | NA | NA | 0.88 | 1.02 | 0.07 | NA | NA | 3.45 | 3.59 | XXX
92019 |  | A | Eye exam & treatment | 1.31 | NA | NA | 0.42 | 0.53 | 0.03 | NA | NA | 1.76 | 1.87 | XXX
92020 |  | A | Special eye evaluation | 0.37 | 0.25 | 0.32 | 0.13 | 0.15 | 0.01 | 0.63 | 0.70 | 0.51 | 0.53 | XXX
92060 |  | A | Special eye evaluation | 0.69 | 0.77 | 0.74 | NA | NA | 0.03 | 1.49 | 1.46 | NA | NA | XXX
92060 | 26 | A | Special eye evaluation | 0.69 | 0.23 | 0.28 | 0.23 | 0.28 | 0.02 | 0.94 | 0.99 | 0.94 | 0.99 | XXX
92060 | TC | A | Special eye evaluation | 0.00 | 0.55 | 0.47 | NA | NA | 0.01 | 0.56 | 0.48 | NA | NA | XXX
92065 |  | A | Orthoptic/pleoptic training | 0.37 | 0.87 | 0.62 | NA | NA | 0.02 | 1.26 | 1.01 | NA | NA | XXX
92065 | 26 | A | Orthoptic/pleoptic training | 0.37 | 0.09 | 0.14 | 0.09 | 0.14 | 0.01 | 0.47 | 0.52 | 0.47 | 0.52 | XXX
92065 | TC | A | Orthoptic/pleoptic training | 0.00 | 0.78 | 0.48 | NA | NA | 0.01 | 0.79 | 0.49 | NA | NA | XXX
92070 |  | A | Fitting of contact lens | 0.70 | 0.92 | 1.03 | 0.23 | 0.30 | 0.02 | 1.64 | 1.75 | 0.95 | 1.02 | XXX
92081 |  | A | Visual field examination(s) | 0.36 | 0.96 | 0.95 | NA | NA | 0.02 | 1.34 | 1.33 | NA | NA | XXX
92081 | 26 | A | Visual field examination(s) | 0.36 | 0.11 | 0.14 | 0.11 | 0.14 | 0.01 | 0.48 | 0.51 | 0.48 | 0.51 | XXX
92081 | TC | A | Visual field examination(s) | 0.00 | 0.85 | 0.81 | NA | NA | 0.01 | 0.86 | 0.82 | NA | NA | XXX
92082 |  | A | Visual field examination(s) | 0.44 | 1.34 | 1.26 | NA | NA | 0.02 | 1.80 | 1.72 | NA | NA | XXX
92082 | 26 | A | Visual field examination(s) | 0.44 | 0.14 | 0.18 | 0.14 | 0.18 | 0.01 | 0.59 | 0.63 | 0.59 | 0.63 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
92082 | TC | A | Visual field examination(s) | 0.00 | 1.20 | 1.08 | NA | NA | 0.01 | 1.21 | 1.09 | NA | NA | XXX
92083 |  | A | Visual field examination(s) | 0.50 | 1.54 | 1.46 | NA | NA | 0.02 | 2.06 | 1.98 | NA | NA | XXX
92083 | 26 | A | Visual field examination(s) | 0.50 | 0.17 | 0.21 | 0.17 | 0.21 | 0.01 | 0.68 | 0.72 | 0.68 | 0.72 | XXX
92083 | TC | A | Visual field examination(s) | 0.00 | 1.37 | 1.25 | NA | NA | 0.01 | 1.38 | 1.26 | NA | NA | XXX
92100 |  | A | Serial tonometry exam(s) | 0.92 | 1.26 | 1.33 | 0.28 | 0.34 | 0.02 | 2.20 | 2.27 | 1.22 | 1.28 | XXX
92120 |  | A | Tonography & eye evaluation | 0.81 | 0.99 | 1.05 | 0.25 | 0.30 | 0.02 | 1.82 | 1.88 | 1.08 | 1.13 | XXX
92130 |  | A | Water provocation tonography | 0.81 | 1.19 | 1.26 | 0.27 | 0.35 | 0.02 | 2.02 | 2.09 | 1.10 | 1.18 | XXX
92135 |  | A | Opthalmic dx imaging | 0.35 | 0.80 | 0.79 | NA | NA | 0.02 | 1.17 | 1.16 | NA | NA | XXX
92135 | 26 | A | Opthalmic dx imaging | 0.35 | 0.12 | 0.14 | 0.12 | 0.14 | 0.01 | 0.48 | 0.50 | 0.48 | 0.50 | XXX
92135 | TC | A | Opthalmic dx imaging | 0.00 | 0.68 | 0.65 | NA | NA | 0.01 | 0.69 | 0.66 | NA | NA | XXX
92136 |  | A | Ophthalmic biometry | 0.54 | 1.41 | 1.59 | NA | NA | 0.08 | 2.03 | 2.21 | NA | NA | XXX
92136 | 26 | A | Ophthalmic biometry | 0.54 | 0.19 | 0.23 | 0.19 | 0.23 | 0.01 | 0.74 | 0.78 | 0.74 | 0.78 | XXX
92136 | TC | A | Ophthalmic biometry | 0.00 | 1.22 | 1.36 | NA | NA | 0.07 | 1.29 | 1.43 | NA | NA | XXX
92140 |  | A | Glaucoma provocative tests | 0.50 | 0.91 | 0.97 | 0.15 | 0.20 | 0.01 | 1.42 | 1.48 | 0.66 | 0.71 | XXX
92225 |  | A | Special eye exam, initial | 0.38 | 0.18 | 0.21 | 0.12 | 0.15 | 0.01 | 0.57 | 0.60 | 0.51 | 0.54 | XXX
92226 |  | A | Special eye exam, subsequent | 0.33 | 0.18 | 0.20 | 0.12 | 0.14 | 0.01 | 0.52 | 0.54 | 0.46 | 0.48 | XXX
92230 |  | A | Eye exam with photos | 0.60 | 0.69 | 1.32 | 0.20 | 0.20 | 0.02 | 1.31 | 1.94 | 0.82 | 0.82 | XXX
92235 |  | A | Eye exam with photos | 0.81 | 2.27 | 2.53 | NA | NA | 0.08 | 3.16 | 3.42 | NA | NA | XXX
92235 | 26 | A | Eye exam with photos | 0.81 | 0.29 | 0.35 | 0.29 | 0.35 | 0.02 | 1.12 | 1.18 | 1.12 | 1.18 | XXX
92235 | TC | A | Eye exam with photos | 0.00 | 1.98 | 2.18 | NA | NA | 0.06 | 2.04 | 2.24 | NA | NA | XXX
92240 |  | A | Icg angiography | 1.10 | 4.43 | 5.70 | NA | NA | 0.09 | 5.62 | 6.89 | NA | NA | XXX
92240 | 26 | A | Icg angiography | 1.10 | 0.40 | 0.48 | 0.40 | 0.48 | 0.03 | 1.53 | 1.61 | 1.53 | 1.61 | XXX
92240 | TC | A | Icg angiography | 0.00 | 4.03 | 5.22 | NA | NA | 0.06 | 4.09 | 5.28 | NA | NA | XXX
92250 |  | A | Eye exam with photos | 0.44 | 1.31 | 1.48 | NA | NA | 0.02 | 1.77 | 1.94 | NA | NA | XXX
92250 | 26 | A | Eye exam with photos | 0.44 | 0.14 | 0.18 | 0.14 | 0.18 | 0.01 | 0.59 | 0.63 | 0.59 | 0.63 | XXX
92250 | TC | A | Eye exam with photos | 0.00 | 1.16 | 1.30 | NA | NA | 0.01 | 1.17 | 1.31 | NA | NA | XXX
92260 |  | A | Ophthalmoscopy/dynamometry | 0.20 | 0.19 | 0.24 | 0.07 | 0.09 | 0.01 | 0.40 | 0.45 | 0.28 | 0.30 | XXX
92265 |  | A | Eye muscle evaluation | 0.81 | 0.99 | 1.37 | NA | NA | 0.06 | 1.86 | 2.24 | NA | NA | XXX
92265 | 26 | A | Eye muscle evaluation | 0.81 | 0.23 | 0.27 | 0.23 | 0.27 | 0.04 | 1.08 | 1.12 | 1.08 | 1.12 | XXX
92265 | TC | A | Eye muscle evaluation | 0.00 | 0.76 | 1.10 | NA | NA | 0.02 | 0.78 | 1.12 | NA | NA | XXX
92270 |  | A | Electro-oculography | 0.81 | 1.41 | 1.50 | NA | NA | 0.05 | 2.27 | 2.36 | NA | NA | XXX
92270 | 26 | A | Electro-oculography | 0.81 | 0.24 | 0.31 | 0.24 | 0.31 | 0.03 | 1.08 | 1.15 | 1.08 | 1.15 | XXX
92270 | TC | A | Electro-oculography | 0.00 | 1.18 | 1.20 | NA | NA | 0.02 | 1.20 | 1.22 | NA | NA | XXX
92275 |  | A | Electroretinography | 1.01 | 2.45 | 2.07 | NA | NA | 0.05 | 3.51 | 3.13 | NA | NA | XXX
92275 | 26 | A | Electroretinography | 1.01 | 0.35 | 0.41 | 0.35 | 0.41 | 0.03 | 1.39 | 1.45 | 1.39 | 1.45 | XXX
92275 | TC | A | Electroretinography | 0.00 | 2.10 | 1.66 | NA | NA | 0.02 | 2.12 | 1.68 | NA | NA | XXX
92283 |  | A | Color vision examination | 0.17 | 1.00 | 0.88 | NA | NA | 0.02 | 1.19 | 1.07 | NA | NA | XXX
92283 | 26 | A | Color vision examination | 0.17 | 0.05 | 0.07 | 0.05 | 0.07 | 0.01 | 0.23 | 0.25 | 0.23 | 0.25 | XXX
92283 | TC | A | Color vision examination | 0.00 | 0.95 | 0.82 | NA | NA | 0.01 | 0.96 | 0.83 | NA | NA | XXX
92284 |  | A | Dark adaptation eye exam | 0.24 | 1.23 | 1.73 | NA | NA | 0.02 | 1.49 | 1.99 | NA | NA | XXX
92284 | 26 | A | Dark adaptation eye exam | 0.24 | 0.08 | 0.08 | 0.08 | 0.08 | 0.01 | 0.33 | 0.33 | 0.33 | 0.33 | XXX
92284 | TC | A | Dark adaptation eye exam | 0.00 | 1.14 | 1.64 | NA | NA | 0.01 | 1.15 | 1.65 | NA | NA | XXX
92285 |  | A | Eye photography | 0.20 | 0.81 | 0.95 | NA | NA | 0.02 | 1.03 | 1.17 | NA | NA | XXX
92285 | 26 | A | Eye photography | 0.20 | 0.07 | 0.09 | 0.07 | 0.09 | 0.01 | 0.28 | 0.30 | 0.28 | 0.30 | XXX
92285 | TC | A | Eye photography | 0.00 | 0.74 | 0.86 | NA | NA | 0.01 | 0.75 | 0.87 | NA | NA | XXX
92286 |  | A | Internal eye photography | 0.66 | 2.14 | 2.83 | NA | NA | 0.04 | 2.84 | 3.53 | NA | NA | XXX
92286 | 26 | A | Internal eye photography | 0.66 | 0.23 | 0.28 | 0.23 | 0.28 | 0.02 | 0.91 | 0.96 | 0.91 | 0.96 | XXX
92286 | TC | A | Internal eye photography | 0.00 | 1.92 | 2.56 | NA | NA | 0.02 | 1.94 | 2.58 | NA | NA | XXX
92287 |  | A | Internal eye photography | 0.81 | 1.95 | 2.28 | 0.29 | 0.31 | 0.02 | 2.78 | 3.11 | 1.12 | 1.14 | XXX
92310 |  | N | Contact lens fitting | 1.17 | 1.05 | 1.10 | 0.26 | 0.40 | 0.04 | 2.26 | 2.31 | 1.47 | 1.61 | XXX
92311 |  | A | Contact lens fitting | 1.08 | 1.28 | 1.14 | 0.31 | 0.34 | 0.03 | 2.39 | 2.25 | 1.42 | 1.45 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
92312 |  | A | Contact lens fitting | 1.26 | 1.48 | 1.18 | 0.34 | 0.46 | 0.03 | 2.77 | 2.47 | 1.63 | 1.75 | XXX
92313 |  | A | Contact lens fitting | 0.92 | 1.46 | 1.16 | 0.32 | 0.30 | 0.02 | 2.40 | 2.10 | 1.26 | 1.24 | XXX
92314 |  | N | Prescription of contact lens | 0.69 | 1.13 | 0.99 | 0.15 | 0.24 | 0.01 | 1.83 | 1.69 | 0.85 | 0.94 | XXX
92315 |  | A | Prescription of contact lens | 0.45 | 1.33 | 0.97 | 0.13 | 0.15 | 0.01 | 1.79 | 1.43 | 0.59 | 0.61 | XXX
92316 |  | A | Prescription of contact lens | 0.68 | 1.66 | 1.10 | 0.23 | 0.28 | 0.02 | 2.36 | 1.80 | 0.93 | 0.98 | XXX
92317 |  | A | Prescription of contact lens | 0.45 | 1.43 | 1.06 | 0.13 | 0.15 | 0.01 | 1.89 | 1.52 | 0.59 | 0.61 | XXX
92325 |  | A | Modification of contact lens | 0.00 | 0.84 | 0.51 | NA | NA | 0.01 | 0.85 | 0.52 | NA | NA | XXX
92326 |  | A | Replacement of contact lens | 0.00 | 0.75 | 1.41 | NA | NA | 0.06 | 0.81 | 1.47 | NA | NA | XXX
92340 |  | N | Fitting of spectacles | 0.37 | 0.44 | 0.64 | 0.08 | 0.13 | 0.01 | 0.82 | 1.02 | 0.46 | 0.51 | XXX
92341 |  | N | Fitting of spectacles | 0.47 | 0.46 | 0.67 | 0.11 | 0.16 | 0.01 | 0.94 | 1.15 | 0.59 | 0.64 | XXX
92342 |  | N | Fitting of spectacles | 0.53 | 0.48 | 0.69 | 0.12 | 0.19 | 0.01 | 1.02 | 1.23 | 0.66 | 0.73 | XXX
92352 |  | B | Special spectacles fitting | 0.37 | 0.56 | 0.65 | 0.08 | 0.13 | 0.01 | 0.94 | 1.03 | 0.46 | 0.51 | XXX
92353 |  | B | Special spectacles fitting | 0.50 | 0.59 | 0.70 | 0.11 | 0.17 | 0.02 | 1.11 | 1.22 | 0.63 | 0.69 | XXX
92354 |  | B | Special spectacles fitting | 0.00 | 0.28 | 6.74 | NA | NA | 0.10 | 0.38 | 6.84 | NA | NA | XXX
92355 |  | B | Special spectacles fitting | 0.00 | 0.44 | 3.37 | NA | NA | 0.01 | 0.45 | 3.38 | NA | NA | XXX
92358 |  | B | Eye prosthesis service | 0.00 | 0.23 | 0.79 | NA | NA | 0.05 | 0.28 | 0.84 | NA | NA | XXX
92370 |  | N | Repair & adjust spectacles | 0.32 | 0.39 | 0.51 | 0.07 | 0.12 | 0.02 | 0.73 | 0.85 | 0.41 | 0.46 | XXX
92371 |  | B | Repair & adjust spectacles | 0.00 | 0.24 | 0.53 | NA | NA | 0.02 | 0.26 | 0.55 | NA | NA | XXX
92502 |  | A | Ear and throat examination | 1.51 | NA | NA | 0.76 | 1.02 | 0.05 | NA | NA | 2.32 | 2.58 | 000
92504 |  | A | Ear microscopy examination | 0.18 | 0.55 | 0.51 | 0.05 | 0.08 | 0.01 | 0.74 | 0.70 | 0.24 | 0.27 | XXX
92506 |  | A | Speech/hearing evaluation | 0.86 | 3.25 | 2.76 | 0.24 | 0.36 | 0.03 | 4.14 | 3.65 | 1.13 | 1.25 | XXX
92507 |  | A | Speech/hearing therapy | 0.52 | 1.18 | 1.13 | 0.14 | 0.21 | 0.02 | 1.72 | 1.67 | 0.68 | 0.75 | XXX
92508 |  | A | Speech/hearing therapy | 0.26 | 0.52 | 0.51 | 0.08 | 0.11 | 0.01 | 0.79 | 0.78 | 0.35 | 0.38 | XXX
92511 |  | A | Nasopharyngoscopy | 0.84 | 2.89 | 3.21 | 0.60 | 0.74 | 0.03 | 3.76 | 4.08 | 1.47 | 1.61 | 000
92512 |  | A | Nasal function studies | 0.55 | 0.93 | 1.09 | 0.15 | 0.17 | 0.02 | 1.50 | 1.66 | 0.72 | 0.74 | XXX
92516 |  | A | Facial nerve function test | 0.43 | 1.14 | 1.19 | 0.12 | 0.20 | 0.01 | 1.58 | 1.63 | 0.56 | 0.64 | XXX
92520 |  | A | Laryngeal function studies | 0.75 | 0.93 | 0.62 | 0.24 | 0.35 | 0.03 | 1.71 | 1.40 | 1.02 | 1.13 | XXX
92526 |  | A | Oral function therapy | 0.55 | 1.68 | 1.65 | 0.16 | 0.19 | 0.02 | 2.25 | 2.22 | 0.73 | 0.76 | XXX
92541 |  | A | Spontaneous nystagmus test | 0.40 | 1.14 | 1.06 | NA | NA | 0.04 | 1.58 | 1.50 | NA | NA | XXX
92541 | 26 | A | Spontaneous nystagmus test | 0.40 | 0.11 | 0.17 | 0.11 | 0.17 | 0.02 | 0.53 | 0.59 | 0.53 | 0.59 | XXX
92541 | TC | A | Spontaneous nystagmus test | 0.00 | 1.02 | 0.89 | NA | NA | 0.02 | 1.04 | 0.91 | NA | NA | XXX
92542 |  | A | Positional nystagmus test | 0.33 | 1.28 | 1.18 | NA | NA | 0.03 | 1.64 | 1.54 | NA | NA | XXX
92542 | 26 | A | Positional nystagmus test | 0.33 | 0.09 | 0.14 | 0.09 | 0.14 | 0.01 | 0.43 | 0.48 | 0.43 | 0.48 | XXX
92542 | TC | A | Positional nystagmus test | 0.00 | 1.18 | 1.03 | NA | NA | 0.02 | 1.20 | 1.05 | NA | NA | XXX
92543 |  | A | Caloric vestibular test | 0.10 | 0.65 | 0.59 | NA | NA | 0.02 | 0.77 | 0.71 | NA | NA | XXX
92543 | 26 | A | Caloric vestibular test | 0.10 | 0.03 | 0.05 | 0.03 | 0.05 | 0.01 | 0.14 | 0.16 | 0.14 | 0.16 | XXX
92543 | TC | A | Caloric vestibular test | 0.00 | 0.62 | 0.55 | NA | NA | 0.01 | 0.63 | 0.56 | NA | NA | XXX
92544 |  | A | Optokinetic nystagmus test | 0.26 | 1.04 | 0.94 | NA | NA | 0.03 | 1.33 | 1.23 | NA | NA | XXX
92544 | 26 | A | Optokinetic nystagmus test | 0.26 | 0.07 | 0.11 | 0.07 | 0.11 | 0.01 | 0.34 | 0.38 | 0.34 | 0.38 | XXX
92544 | TC | A | Optokinetic nystagmus test | 0.00 | 0.96 | 0.83 | NA | NA | 0.02 | 0.98 | 0.85 | NA | NA | XXX
92545 |  | A | Oscillating tracking test | 0.23 | 1.01 | 0.85 | NA | NA | 0.03 | 1.27 | 1.11 | NA | NA | XXX
92545 | 26 | A | Oscillating tracking test | 0.23 | 0.06 | 0.10 | 0.06 | 0.10 | 0.01 | 0.30 | 0.34 | 0.30 | 0.34 | XXX
92545 | TC | A | Oscillating tracking test | 0.00 | 0.95 | 0.76 | NA | NA | 0.02 | 0.97 | 0.78 | NA | NA | XXX
92546 |  | A | Sinusoidal rotational test | 0.29 | 1.87 | 1.96 | NA | NA | 0.03 | 2.19 | 2.28 | NA | NA | XXX
92546 | 26 | A | Sinusoidal rotational test | 0.29 | 0.08 | 0.12 | 0.08 | 0.12 | 0.01 | 0.38 | 0.42 | 0.38 | 0.42 | XXX
92546 | TC | A | Sinusoidal rotational test | 0.00 | 1.78 | 1.84 | NA | NA | 0.02 | 1.80 | 1.86 | NA | NA | XXX
92547 |  | A | Supplemental electrical test | 0.00 | 0.11 | 0.09 | NA | NA | 0.06 | 0.17 | 0.15 | NA | NA | ZZZ
92548 |  | A | Posturography | 0.50 | 1.68 | 2.12 | NA | NA | 0.15 | 2.33 | 2.77 | NA | NA | XXX
92548 | 26 | A | Posturography | 0.50 | 0.14 | 0.23 | 0.14 | 0.23 | 0.02 | 0.66 | 0.75 | 0.66 | 0.75 | XXX
92548 | TC | A | Posturography | 0.00 | 1.54 | 1.89 | NA | NA | 0.13 | 1.67 | 2.02 | NA | NA | XXX
92552 |  | A | Pure tone audiometry, air | 0.00 | 0.56 | 0.47 | NA | NA | 0.04 | 0.60 | 0.51 | NA | NA | XXX
92553 |  | A | Audiometry, air & bone | 0.00 | 0.70 | 0.67 | NA | NA | 0.06 | 0.76 | 0.73 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
92555 |  | A | Speech threshold audiometry | 0.00 | 0.38 | 0.38 | NA | NA | 0.04 | 0.42 | 0.42 | NA | NA | XXX
92556 |  | A | Speech audiometry, complete | 0.00 | 0.51 | 0.56 | NA | NA | 0.06 | 0.57 | 0.62 | NA | NA | XXX
92557 |  | A | Comprehensive hearing test | 0.00 | 1.25 | 1.21 | NA | NA | 0.12 | 1.37 | 1.33 | NA | NA | XXX
92561 |  | A | Bekesy audiometry, diagnosis | 0.00 | 0.76 | 0.73 | NA | NA | 0.06 | 0.82 | 0.79 | NA | NA | XXX
92562 |  | A | Loudness balance test | 0.00 | 0.67 | 0.48 | NA | NA | 0.04 | 0.71 | 0.52 | NA | NA | XXX
92563 |  | A | Tone decay hearing test | 0.00 | 0.51 | 0.41 | NA | NA | 0.04 | 0.55 | 0.45 | NA | NA | XXX
92564 |  | A | Sisi hearing test | 0.00 | 0.49 | 0.48 | NA | NA | 0.05 | 0.54 | 0.53 | NA | NA | XXX
92565 |  | A | Stenger test, pure tone | 0.00 | 0.26 | 0.37 | NA | NA | 0.04 | 0.30 | 0.41 | NA | NA | XXX
92567 |  | A | Tympanometry | 0.00 | 0.49 | 0.51 | NA | NA | 0.06 | 0.55 | 0.57 | NA | NA | XXX
92568 |  | A | Acoustic refl threshold tst | 0.00 | 0.15 | 0.32 | NA | NA | 0.04 | 0.19 | 0.36 | NA | NA | XXX
92569 |  | A | Acoustic reflex decay test | 0.00 | 0.15 | 0.35 | NA | NA | 0.04 | 0.19 | 0.39 | NA | NA | XXX
92571 |  | A | Filtered speech hearing test | 0.00 | 0.40 | 0.39 | NA | NA | 0.04 | 0.44 | 0.43 | NA | NA | XXX
92572 |  | A | Staggered spondaic word test | 0.00 | 0.60 | 0.22 | NA | NA | 0.01 | 0.61 | 0.23 | NA | NA | XXX
92573 |  | A | Lombard test | 0.00 | 0.49 | 0.39 | NA | NA | 0.04 | 0.53 | 0.43 | NA | NA | XXX
92575 |  | A | Sensorineural acuity test | 0.00 | 1.09 | 0.50 | NA | NA | 0.02 | 1.11 | 0.52 | NA | NA | XXX
92576 |  | A | Synthetic sentence test | 0.00 | 0.53 | 0.46 | NA | NA | 0.05 | 0.58 | 0.51 | NA | NA | XXX
92577 |  | A | Stenger test, speech | 0.00 | 0.27 | 0.61 | NA | NA | 0.07 | 0.34 | 0.68 | NA | NA | XXX
92579 |  | A | Visual audiometry (vra) | 0.00 | 0.83 | 0.76 | NA | NA | 0.06 | 0.89 | 0.82 | NA | NA | XXX
92582 |  | A | Conditioning play audiometry | 0.00 | 1.07 | 0.82 | NA | NA | 0.06 | 1.13 | 0.88 | NA | NA | XXX
92583 |  | A | Select picture audiometry | 0.00 | 0.69 | 0.84 | NA | NA | 0.08 | 0.77 | 0.92 | NA | NA | XXX
92584 |  | A | Electrocochleography | 0.00 | 1.25 | 2.17 | NA | NA | 0.21 | 1.46 | 2.38 | NA | NA | XXX
92585 |  | A | Auditor evoke potent, compre | 0.50 | 1.97 | 2.05 | NA | NA | 0.17 | 2.64 | 2.72 | NA | NA | XXX
92585 | 26 | A | Auditor evoke potent, compre | 0.50 | 0.15 | 0.20 | 0.15 | 0.20 | 0.03 | 0.68 | 0.73 | 0.68 | 0.73 | XXX
92585 | TC | A | Auditor evoke potent, compre | 0.00 | 1.82 | 1.85 | NA | NA | 0.14 | 1.96 | 1.99 | NA | NA | XXX
92586 |  | A | Auditor evoke potent, limit | 0.00 | 1.39 | 1.74 | NA | NA | 0.14 | 1.53 | 1.88 | NA | NA | XXX
92587 |  | A | Evoked auditory test | 0.13 | 0.61 | 1.18 | NA | NA | 0.12 | 0.86 | 1.43 | NA | NA | XXX
92587 | 26 | A | Evoked auditory test | 0.13 | 0.03 | 0.05 | 0.03 | 0.05 | 0.01 | 0.17 | 0.19 | 0.17 | 0.19 | XXX
92587 | TC | A | Evoked auditory test | 0.00 | 0.57 | 1.13 | NA | NA | 0.11 | 0.68 | 1.24 | NA | NA | XXX
92588 |  | A | Evoked auditory test | 0.36 | 1.03 | 1.48 | NA | NA | 0.14 | 1.53 | 1.98 | NA | NA | XXX
92588 | 26 | A | Evoked auditory test | 0.36 | 0.10 | 0.15 | 0.10 | 0.15 | 0.01 | 0.47 | 0.52 | 0.47 | 0.52 | XXX
92588 | TC | A | Evoked auditory test | 0.00 | 0.93 | 1.34 | NA | NA | 0.13 | 1.06 | 1.47 | NA | NA | XXX
92596 |  | A | Ear protector evaluation | 0.00 | 0.93 | 0.68 | NA | NA | 0.06 | 0.99 | 0.74 | NA | NA | XXX
92597 |  | A | Oral speech device eval | 0.86 | 1.67 | 1.69 | 0.24 | 0.40 | 0.03 | 2.56 | 2.58 | 1.13 | 1.29 | XXX
92601 |  | A | Cochlear implt f/up exam < 7 | 0.00 | 4.82 | 3.84 | NA | NA | 0.07 | 4.89 | 3.91 | NA | NA | XXX
92602 |  | A | Reprogram cochlear implt < 7 | 0.00 | 3.31 | 2.62 | NA | NA | 0.07 | 3.38 | 2.69 | NA | NA | XXX
92603 |  | A | Cochlear implt f/up exam 7 > | 0.00 | 3.13 | 2.40 | NA | NA | 0.07 | 3.20 | 2.47 | NA | NA | XXX
92604 |  | A | Reprogram cochlear implt 7 > | 0.00 | 2.07 | 1.53 | NA | NA | 0.07 | 2.14 | 1.60 | NA | NA | XXX
92607 |  | A | Ex for speech device rx, 1hr | 0.00 | 4.20 | 3.37 | NA | NA | 0.05 | 4.25 | 3.42 | NA | NA | XXX
92608 |  | A | Ex for speech device rx addl | 0.00 | 0.83 | 0.62 | NA | NA | 0.05 | 0.88 | 0.67 | NA | NA | XXX
92609 |  | A | Use of speech device service | 0.00 | 2.27 | 1.76 | NA | NA | 0.04 | 2.31 | 1.80 | NA | NA | XXX
92610 |  | A | Evaluate swallowing function | 0.00 | 1.61 | 2.98 | NA | NA | 0.08 | 1.69 | 3.06 | NA | NA | XXX
92611 |  | A | Motion fluoroscopy/swallow | 0.00 | 1.93 | 3.06 | NA | NA | 0.08 | 2.01 | 3.14 | NA | NA | XXX
92612 |  | A | Endoscopy swallow tst (fees) | 1.27 | 2.71 | 2.74 | 0.35 | 0.58 | 0.04 | 4.02 | 4.05 | 1.66 | 1.89 | XXX
92613 |  | A | Endoscopy swallow tst (fees) | 0.71 | 0.22 | 0.36 | 0.22 | 0.35 | 0.05 | 0.98 | 1.12 | 0.98 | 1.11 | XXX
92614 |  | A | Laryngoscopic sensory test | 1.27 | 2.21 | 2.44 | 0.35 | 0.58 | 0.04 | 3.52 | 3.75 | 1.66 | 1.89 | XXX
92615 |  | A | Eval laryngoscopy sense tst | 0.63 | 0.17 | 0.31 | 0.17 | 0.31 | 0.05 | 0.85 | 0.99 | 0.85 | 0.99 | XXX
92616 |  | A | Fees w/laryngeal sense test | 1.88 | 2.88 | 3.27 | 0.51 | 0.87 | 0.06 | 4.82 | 5.21 | 2.45 | 2.81 | XXX
92617 |  | A | Interprt fees/laryngeal test | 0.79 | 0.22 | 0.39 | 0.22 | 0.39 | 0.05 | 1.06 | 1.23 | 1.06 | 1.23 | XXX
92620 |  | A | Auditory function, 60 min | 0.00 | 1.85 | 1.32 | NA | NA | 0.06 | 1.91 | 1.38 | NA | NA | XXX
92621 |  | A | Auditory function, + 15 min | 0.00 | 0.40 | 0.29 | NA | NA | 0.06 | 0.46 | 0.35 | NA | NA | ZZZ
92625 |  | A | Tinnitus assessment | 0.00 | 1.80 | 1.29 | NA | NA | 0.06 | 1.86 | 1.35 | NA | NA | XXX
92626 |  | A | Eval aud rehab status | 0.00 | 1.83 | 2.11 | NA | NA | 0.06 | 1.89 | 2.17 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
92627 |  | A | Eval aud status rehab add-on | 0.00 | 0.42 | 0.52 | NA | NA | 0.02 | 0.44 | 0.54 | NA | NA | ZZZ
92950 |  | A | Heart/lung resuscitation cpr | 3.79 | 3.22 | 3.96 | 0.75 | 0.92 | 0.28 | 7.29 | 8.03 | 4.82 | 4.99 | 000
92953 |  | A | Temporary external pacing | 0.23 | NA | NA | 0.07 | 0.07 | 0.02 | NA | NA | 0.32 | 0.32 | 000
92960 |  | A | Cardioversion electric, ext | 2.25 | 4.49 | 5.87 | 1.50 | 1.25 | 0.07 | 6.81 | 8.19 | 3.82 | 3.57 | 000
92961 |  | A | Cardioversion, electric, int | 4.59 | NA | NA | 2.55 | 2.21 | 0.29 | NA | NA | 7.43 | 7.09 | 000
92970 |  | A | Cardioassist, internal | 3.51 | NA | NA | 1.65 | 1.21 | 0.16 | NA | NA | 5.32 | 4.88 | 000
92971 |  | A | Cardioassist, external | 1.77 | NA | NA | 1.10 | 0.91 | 0.06 | NA | NA | 2.93 | 2.74 | 000
92973 |  | A | Percut coronary thrombectomy | 3.28 | NA | NA | 1.83 | 1.43 | 0.23 | NA | NA | 5.34 | 4.94 | ZZZ
92974 |  | A | Cath place, cardio brachytx | 3.00 | NA | NA | 1.71 | 1.31 | 0.21 | NA | NA | 4.92 | 4.52 | ZZZ
92975 |  | A | Dissolve clot, heart vessel | 7.24 | NA | NA | 3.96 | 3.11 | 0.50 | NA | NA | 11.70 | 10.85 | 000
92977 |  | A | Dissolve clot, heart vessel | 0.00 | 1.75 | 6.49 | NA | NA | 0.46 | 2.21 | 6.95 | NA | NA | XXX
92978 |  | A | Intravasc us, heart add-on | 1.80 | 1.00 | 4.21 | NA | NA | 0.30 | 3.10 | 6.31 | NA | NA | ZZZ
92978 | 26 | A | Intravasc us, heart add-on | 1.80 | 1.00 | 0.78 | 1.00 | 0.78 | 0.06 | 2.86 | 2.64 | 2.86 | 2.64 | ZZZ
92978 | TC | A | Intravasc us, heart add-on | 0.00 | 0.00 | 3.43 | NA | NA | 0.24 | 0.24 | 3.67 | NA | NA | ZZZ
92979 |  | A | Intravasc us, heart add-on | 1.44 | 0.80 | 2.35 | NA | NA | 0.19 | 2.43 | 3.98 | NA | NA | ZZZ
92979 | 26 | A | Intravasc us, heart add-on | 1.44 | 0.80 | 0.62 | 0.80 | 0.62 | 0.06 | 2.30 | 2.12 | 2.30 | 2.12 | ZZZ
92979 | TC | A | Intravasc us, heart add-on | 0.00 | 0.00 | 1.73 | NA | NA | 0.13 | 0.13 | 1.86 | NA | NA | ZZZ
92980 |  | A | Insert intracoronary stent | 14.82 | NA | NA | 8.49 | 6.68 | 1.03 | NA | NA | 24.34 | 22.53 | 000
92981 |  | A | Insert intracoronary stent | 4.16 | NA | NA | 2.33 | 1.81 | 0.29 | NA | NA | 6.78 | 6.26 | ZZZ
92982 |  | A | Coronary artery dilation | 10.96 | NA | NA | 6.34 | 4.99 | 0.76 | NA | NA | 18.06 | 16.71 | 000
92984 |  | A | Coronary artery dilation | 2.97 | NA | NA | 1.65 | 1.28 | 0.21 | NA | NA | 4.83 | 4.46 | ZZZ
92986 |  | A | Revision of aortic valve | 22.64 | NA | NA | 16.03 | 12.90 | 1.51 | NA | NA | 40.18 | 37.05 | 090
92987 |  | A | Revision of mitral valve | 23.42 | NA | NA | 16.45 | 13.30 | 1.59 | NA | NA | 41.46 | 38.31 | 090
92990 |  | A | Revision of pulmonary valve | 18.06 | NA | NA | 11.35 | 10.20 | 1.20 | NA | NA | 30.61 | 29.46 | 090
92995 |  | A | Coronary atherectomy | 12.07 | NA | NA | 6.96 | 5.47 | 0.84 | NA | NA | 19.87 | 18.38 | 000
92996 |  | A | Coronary atherectomy add-on | 3.26 | NA | NA | 1.83 | 1.41 | 0.10 | NA | NA | 5.19 | 4.77 | ZZZ
92997 |  | A | Pul art balloon repr, percut | 11.98 | NA | NA | 5.25 | 4.94 | 0.40 | NA | NA | 17.63 | 17.32 | 000
92998 |  | A | Pul art balloon repr, percut | 5.99 | NA | NA | 2.78 | 2.35 | 0.28 | NA | NA | 9.05 | 8.62 | ZZZ
93000 |  | A | Electrocardiogram, complete | 0.17 | 0.35 | 0.47 | NA | NA | 0.03 | 0.55 | 0.67 | NA | NA | XXX
93005 |  | A | Electrocardiogram, tracing | 0.00 | 0.28 | 0.41 | NA | NA | 0.02 | 0.30 | 0.43 | NA | NA | XXX
93010 |  | A | Electrocardiogram report | 0.17 | 0.07 | 0.06 | 0.07 | 0.06 | 0.01 | 0.25 | 0.24 | 0.25 | 0.24 | XXX
93012 |  | A | Transmission of ecg | 0.00 | 1.60 | 4.92 | NA | NA | 0.18 | 1.78 | 5.10 | NA | NA | XXX
93014 |  | A | Report on transmitted ecg | 0.52 | 0.21 | 0.20 | 0.21 | 0.20 | 0.02 | 0.75 | 0.74 | 0.75 | 0.74 | XXX
93015 |  | A | Cardiovascular stress test | 0.75 | 1.96 | 1.96 | NA | NA | 0.14 | 2.85 | 2.85 | NA | NA | XXX
93016 |  | A | Cardiovascular stress test | 0.45 | 0.23 | 0.19 | 0.23 | 0.19 | 0.02 | 0.70 | 0.66 | 0.70 | 0.66 | XXX
93017 |  | A | Cardiovascular stress test | 0.00 | 1.58 | 1.66 | NA | NA | 0.11 | 1.69 | 1.77 | NA | NA | XXX
93018 |  | A | Cardiovascular stress test | 0.30 | 0.15 | 0.12 | 0.15 | 0.12 | 0.01 | 0.46 | 0.43 | 0.46 | 0.43 | XXX
93024 |  | A | Cardiac drug stress test | 1.17 | 2.46 | 1.79 | NA | NA | 0.12 | 3.75 | 3.08 | NA | NA | XXX
93024 | 26 | A | Cardiac drug stress test | 1.17 | 0.60 | 0.49 | 0.60 | 0.49 | 0.04 | 1.81 | 1.70 | 1.81 | 1.70 | XXX
93024 | TC | A | Cardiac drug stress test | 0.00 | 1.87 | 1.31 | NA | NA | 0.08 | 1.95 | 1.39 | NA | NA | XXX
93025 |  | A | Microvolt t-wave assess | 0.75 | 4.00 | 6.71 | NA | NA | 0.14 | 4.89 | 7.60 | NA | NA | XXX
93025 | 26 | A | Microvolt t-wave assess | 0.75 | 0.39 | 0.32 | 0.39 | 0.32 | 0.03 | 1.17 | 1.10 | 1.17 | 1.10 | XXX
93025 | TC | A | Microvolt t-wave assess | 0.00 | 3.61 | 6.39 | NA | NA | 0.11 | 3.72 | 6.50 | NA | NA | XXX
93040 |  | A | Rhythm ECG with report | 0.16 | 0.19 | 0.20 | NA | NA | 0.02 | 0.37 | 0.38 | NA | NA | XXX
93041 |  | A | Rhythm ECG, tracing | 0.00 | 0.15 | 0.15 | NA | NA | 0.01 | 0.16 | 0.16 | NA | NA | XXX
93042 |  | A | Rhythm ECG, report | 0.16 | 0.05 | 0.05 | 0.05 | 0.05 | 0.01 | 0.22 | 0.22 | 0.22 | 0.22 | XXX
93224 |  | A | ECG monitor/report, 24 hrs | 0.52 | 2.01 | 3.22 | NA | NA | 0.24 | 2.77 | 3.98 | NA | NA | XXX
93225 |  | A | ECG monitor/record, 24 hrs | 0.00 | 1.09 | 1.20 | NA | NA | 0.08 | 1.17 | 1.28 | NA | NA | XXX
93226 |  | A | ECG monitor/report, 24 hrs | 0.00 | 0.63 | 1.80 | NA | NA | 0.14 | 0.77 | 1.94 | NA | NA | XXX
93227 |  | A | ECG monitor/review, 24 hrs | 0.52 | 0.28 | 0.21 | 0.28 | 0.21 | 0.02 | 0.82 | 0.75 | 0.82 | 0.75 | XXX
93230 |  | A | ECG monitor/report, 24 hrs | 0.52 | 1.81 | 3.38 | NA | NA | 0.26 | 2.59 | 4.16 | NA | NA | XXX
93231 |  | A | Ecg monitor/record, 24 hrs | 0.00 | 0.95 | 1.38 | NA | NA | 0.11 | 1.06 | 1.49 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
93232 |  | A | ECG monitor/report, 24 hrs | 0.00 | 0.62 | 1.80 | NA | NA | 0.13 | 0.75 | 1.93 | NA | NA | XXX
93233 |  | A | ECG monitor/review, 24 hrs | 0.52 | 0.24 | 0.20 | 0.24 | 0.20 | 0.02 | 0.78 | 0.74 | 0.78 | 0.74 | XXX
93235 |  | A | ECG monitor/report, 24 hrs | 0.45 | 0.22 | 2.15 | NA | NA | 0.16 | 0.83 | 2.76 | NA | NA | XXX
93236 |  | A | ECG monitor/report, 24 hrs | 0.00 | 0.00 | 1.97 | NA | NA | 0.14 | 0.14 | 2.11 | NA | NA | XXX
93237 |  | A | ECG monitor/review, 24 hrs | 0.45 | 0.22 | 0.18 | 0.22 | 0.18 | 0.02 | 0.69 | 0.65 | 0.69 | 0.65 | XXX
93268 |  | A | ECG record/review | 0.52 | 0.83 | 5.80 | NA | NA | 0.28 | 1.63 | 6.60 | NA | NA | XXX
93270 |  | A | ECG recording | 0.00 | 0.31 | 1.01 | NA | NA | 0.08 | 0.39 | 1.09 | NA | NA | XXX
93271 |  | A | Ecg/monitoring and analysis | 0.00 | 1.98 | 5.02 | NA | NA | 0.18 | 2.16 | 5.20 | NA | NA | XXX
93272 |  | A | Ecg/review, interpret only | 0.52 | 0.24 | 0.20 | 0.24 | 0.20 | 0.02 | 0.78 | 0.74 | 0.78 | 0.74 | XXX
93278 |  | A | ECG/signal-averaged | 0.25 | 0.59 | 1.09 | NA | NA | 0.12 | 0.96 | 1.46 | NA | NA | XXX
93278 | 26 | A | ECG/signal-averaged | 0.25 | 0.10 | 0.10 | 0.10 | 0.10 | 0.01 | 0.36 | 0.36 | 0.36 | 0.36 | XXX
93278 | TC | A | ECG/signal-averaged | 0.00 | 0.49 | 0.99 | NA | NA | 0.11 | 0.60 | 1.10 | NA | NA | XXX
93303 |  | A | Echo transthoracic | 1.30 | 4.70 | 4.44 | NA | NA | 0.27 | 6.27 | 6.01 | NA | NA | XXX
93303 | 26 | A | Echo transthoracic | 1.30 | 0.58 | 0.51 | 0.58 | 0.51 | 0.04 | 1.92 | 1.85 | 1.92 | 1.85 | XXX
93303 | TC | A | Echo transthoracic | 0.00 | 4.12 | 3.93 | NA | NA | 0.23 | 4.35 | 4.16 | NA | NA | XXX
93304 |  | A | Echo transthoracic | 0.75 | 3.22 | 2.48 | NA | NA | 0.15 | 4.12 | 3.38 | NA | NA | XXX
93304 | 26 | A | Echo transthoracic | 0.75 | 0.32 | 0.29 | 0.32 | 0.29 | 0.02 | 1.09 | 1.06 | 1.09 | 1.06 | XXX
93304 | TC | A | Echo transthoracic | 0.00 | 2.90 | 2.19 | NA | NA | 0.13 | 3.03 | 2.32 | NA | NA | XXX
93307 |  | A | Echo exam of heart | 0.92 | 3.84 | 4.13 | NA | NA | 0.26 | 5.02 | 5.31 | NA | NA | XXX
93307 | 26 | A | Echo exam of heart | 0.92 | 0.47 | 0.38 | 0.47 | 0.38 | 0.03 | 1.42 | 1.33 | 1.42 | 1.33 | XXX
93307 | TC | A | Echo exam of heart | 0.00 | 3.36 | 3.74 | NA | NA | 0.23 | 3.59 | 3.97 | NA | NA | XXX
93308 |  | A | Echo exam of heart | 0.53 | 2.70 | 2.29 | NA | NA | 0.15 | 3.38 | 2.97 | NA | NA | XXX
93308 | 26 | A | Echo exam of heart | 0.53 | 0.28 | 0.22 | 0.28 | 0.22 | 0.02 | 0.83 | 0.77 | 0.83 | 0.77 | XXX
93308 | TC | A | Echo exam of heart | 0.00 | 2.41 | 2.07 | NA | NA | 0.13 | 2.54 | 2.20 | NA | NA | XXX
93312 |  | A | Echo transesophageal | 2.20 | 7.67 | 5.35 | NA | NA | 0.37 | 10.24 | 7.92 | NA | NA | XXX
93312 | 26 | A | Echo transesophageal | 2.20 | 1.03 | 0.85 | 1.03 | 0.85 | 0.08 | 3.31 | 3.13 | 3.31 | 3.13 | XXX
93312 | TC | A | Echo transesophageal | 0.00 | 6.64 | 4.50 | NA | NA | 0.29 | 6.93 | 4.79 | NA | NA | XXX
93313 |  | A | Echo transesophageal | 0.95 | NA | NA | 0.14 | 0.19 | 0.06 | NA | NA | 1.15 | 1.20 | XXX
93314 |  | A | Echo transesophageal | 1.25 | 7.37 | 5.04 | NA | NA | 0.33 | 8.95 | 6.62 | NA | NA | XXX
93314 | 26 | A | Echo transesophageal | 1.25 | 0.58 | 0.50 | 0.58 | 0.50 | 0.04 | 1.87 | 1.79 | 1.87 | 1.79 | XXX
93314 | TC | A | Echo transesophageal | 0.00 | 6.79 | 4.54 | NA | NA | 0.29 | 7.08 | 4.83 | NA | NA | XXX
93315 | 26 | A | Echo transesophageal | 2.78 | 1.35 | 1.10 | 1.35 | 1.10 | 0.09 | 4.22 | 3.97 | 4.22 | 3.97 | XXX
93316 |  | A | Echo transesophageal | 0.95 | NA | NA | 0.26 | 0.25 | 0.05 | NA | NA | 1.26 | 1.25 | XXX
93317 | 26 | A | Echo transesophageal | 1.83 | 0.79 | 0.70 | 0.79 | 0.70 | 0.08 | 2.70 | 2.61 | 2.70 | 2.61 | XXX
93318 | 26 | A | Echo transesophageal intraop | 2.20 | 0.90 | 0.59 | 0.90 | 0.59 | 0.14 | 3.24 | 2.93 | 3.24 | 2.93 | XXX
93320 |  | A | Doppler echo exam, heart | 0.38 | 1.72 | 1.83 | NA | NA | 0.13 | 2.23 | 2.34 | NA | NA | ZZZ
93320 | 26 | A | Doppler echo exam, heart | 0.38 | 0.20 | 0.16 | 0.20 | 0.16 | 0.01 | 0.59 | 0.55 | 0.59 | 0.55 | ZZZ
93320 | TC | A | Doppler echo exam, heart | 0.00 | 1.53 | 1.67 | NA | NA | 0.12 | 1.65 | 1.79 | NA | NA | ZZZ
93321 |  | A | Doppler echo exam, heart | 0.15 | 0.63 | 1.04 | NA | NA | 0.09 | 0.87 | 1.28 | NA | NA | ZZZ
93321 | 26 | A | Doppler echo exam, heart | 0.15 | 0.08 | 0.07 | 0.08 | 0.07 | 0.01 | 0.24 | 0.23 | 0.24 | 0.23 | ZZZ
93321 | TC | A | Doppler echo exam, heart | 0.00 | 0.55 | 0.97 | NA | NA | 0.08 | 0.63 | 1.05 | NA | NA | ZZZ
93325 |  | A | Doppler color flow add-on | 0.07 | 0.68 | 2.38 | NA | NA | 0.22 | 0.97 | 2.67 | NA | NA | ZZZ
93325 | 26 | A | Doppler color flow add-on | 0.07 | 0.04 | 0.03 | 0.04 | 0.03 | 0.01 | 0.12 | 0.11 | 0.12 | 0.11 | ZZZ
93325 | TC | A | Doppler color flow add-on | 0.00 | 0.65 | 2.35 | NA | NA | 0.21 | 0.86 | 2.56 | NA | NA | ZZZ
93350 |  | A | Echo transthoracic | 1.48 | 5.24 | 3.07 | NA | NA | 0.18 | 6.90 | 4.73 | NA | NA | XXX
93350 | 26 | A | Echo transthoracic | 1.48 | 0.79 | 0.63 | 0.79 | 0.63 | 0.05 | 2.32 | 2.16 | 2.32 | 2.16 | XXX
93350 | TC | A | Echo transthoracic | 0.00 | 4.45 | 2.44 | NA | NA | 0.13 | 4.58 | 2.57 | NA | NA | XXX
93501 |  | A | Right heart catheterization | 3.02 | 23.45 | 19.44 | NA | NA | 1.26 | 27.73 | 23.72 | NA | NA | 000
93501 | 26 | A | Right heart catheterization | 3.02 | 1.65 | 1.28 | 1.65 | 1.28 | 0.21 | 4.88 | 4.51 | 4.88 | 4.51 | 000
93501 | TC | A | Right heart catheterization | 0.00 | 21.80 | 18.16 | NA | NA | 1.05 | 22.85 | 19.21 | NA | NA | 000
93503 |  | A | Insert/place heart catheter | 2.91 | NA | NA | 0.48 | 0.63 | 0.20 | NA | NA | 3.59 | 3.74 | 000
93505 |  | A | Biopsy of heart lining | 4.37 | 25.50 | 9.13 | NA | NA | 0.46 | 30.33 | 13.96 | NA | NA | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
93505 | 26 | A | Biopsy of heart lining | 4.37 | 2.39 | 1.86 | 2.39 | 1.86 | 0.30 | 7.06 | 6.53 | 7.06 | 6.53 | 000
93505 | TC | A | Biopsy of heart lining | 0.00 | 23.11 | 7.27 | NA | NA | 0.16 | 23.27 | 7.43 | NA | NA | 000
93508 |  | A | Cath placement, angiography | 4.09 | 18.76 | 15.74 | NA | NA | 0.93 | 23.78 | 20.76 | NA | NA | 000
93508 | 26 | A | Cath placement, angiography | 4.09 | 2.28 | 2.14 | 2.28 | 2.14 | 0.28 | 6.65 | 6.51 | 6.65 | 6.51 | 000
93508 | TC | A | Cath placement, angiography | 0.00 | 16.47 | 13.60 | NA | NA | 0.65 | 17.12 | 14.25 | NA | NA | 000
93510 |  | A | Left heart catheterization | 4.32 | 18.95 | 34.17 | NA | NA | 2.61 | 25.88 | 41.10 | NA | NA | 000
93510 | 26 | A | Left heart catheterization | 4.32 | 2.40 | 2.24 | 2.40 | 2.24 | 0.30 | 7.02 | 6.86 | 7.02 | 6.86 | 000
93510 | TC | A | Left heart catheterization | 0.00 | 16.55 | 31.93 | NA | NA | 2.31 | 18.86 | 34.24 | NA | NA | 000
93511 |  | A | Left heart catheterization | 5.02 | 3.30 | 29.72 | NA | NA | 2.59 | 10.91 | 37.33 | NA | NA | 000
93511 | 26 | A | Left heart catheterization | 5.02 | 2.71 | 2.52 | 2.71 | 2.52 | 0.35 | 8.08 | 7.89 | 8.08 | 7.89 | 000
93511 | TC | A | Left heart catheterization | 0.00 | 0.59 | 27.20 | NA | NA | 2.24 | 2.83 | 29.44 | NA | NA | 000
93514 | 26 | A | Left heart catheterization | 7.04 | 3.29 | 3.17 | 3.29 | 3.17 | 0.49 | 10.82 | 10.70 | 10.82 | 10.70 | 000
93524 |  | A | Left heart catheterization | 6.94 | 4.40 | 38.84 | NA | NA | 3.43 | 14.77 | 49.21 | NA | NA | 000
93524 | 26 | A | Left heart catheterization | 6.94 | 3.80 | 3.34 | 3.80 | 3.34 | 0.48 | 11.22 | 10.76 | 11.22 | 10.76 | 000
93524 | TC | A | Left heart catheterization | 0.00 | 0.60 | 35.51 | NA | NA | 2.95 | 3.55 | 38.46 | NA | NA | 000
93526 |  | A | Rt & Lt heart catheters | 5.98 | 34.54 | 47.07 | NA | NA | 3.46 | 43.98 | 56.51 | NA | NA | 000
93526 | 26 | A | Rt & Lt heart catheters | 5.98 | 3.32 | 2.95 | 3.32 | 2.95 | 0.42 | 9.72 | 9.35 | 9.72 | 9.35 | 000
93526 | TC | A | Rt & Lt heart catheters | 0.00 | 31.22 | 44.13 | NA | NA | 3.04 | 34.26 | 47.17 | NA | NA | 000
93527 |  | A | Rt & Lt heart catheters | 7.27 | 4.66 | 39.01 | NA | NA | 3.46 | 15.39 | 49.74 | NA | NA | 000
93527 | 26 | A | Rt & Lt heart catheters | 7.27 | 4.06 | 3.51 | 4.06 | 3.51 | 0.51 | 11.84 | 11.29 | 11.84 | 11.29 | 000
93527 | TC | A | Rt & Lt heart catheters | 0.00 | 0.60 | 35.51 | NA | NA | 2.95 | 3.55 | 38.46 | NA | NA | 000
93528 |  | A | Rt & Lt heart catheters | 8.99 | 5.37 | 39.73 | NA | NA | 3.57 | 17.93 | 52.29 | NA | NA | 000
93528 | 26 | A | Rt & Lt heart catheters | 8.99 | 4.78 | 4.23 | 4.78 | 4.23 | 0.62 | 14.39 | 13.84 | 14.39 | 13.84 | 000
93528 | TC | A | Rt & Lt heart catheters | 0.00 | 0.59 | 35.50 | NA | NA | 2.95 | 3.54 | 38.45 | NA | NA | 000
93529 |  | A | Rt, lt heart catheterization | 4.79 | 3.28 | 37.89 | NA | NA | 3.28 | 11.35 | 45.96 | NA | NA | 000
93529 | 26 | A | Rt, lt heart catheterization | 4.79 | 2.68 | 2.38 | 2.68 | 2.38 | 0.33 | 7.80 | 7.50 | 7.80 | 7.50 | 000
93529 | TC | A | Rt, lt heart catheterization | 0.00 | 0.60 | 35.51 | NA | NA | 2.95 | 3.55 | 38.46 | NA | NA | 000
93530 |  | A | Rt heart cath, congenital | 4.22 | 2.42 | 14.77 | NA | NA | 1.34 | 7.98 | 20.33 | NA | NA | 000
93530 | 26 | A | Rt heart cath, congenital | 4.22 | 1.88 | 1.93 | 1.88 | 1.93 | 0.29 | 6.39 | 6.44 | 6.39 | 6.44 | 000
93530 | TC | A | Rt heart cath, congenital | 0.00 | 0.54 | 12.85 | NA | NA | 1.05 | 1.59 | 13.90 | NA | NA | 000
93531 |  | A | R & l heart cath, congenital | 8.34 | 4.34 | 40.10 | NA | NA | 3.62 | 16.30 | 52.06 | NA | NA | 000
93531 | 26 | A | R & l heart cath, congenital | 8.34 | 3.80 | 3.64 | 3.80 | 3.64 | 0.58 | 12.72 | 12.56 | 12.72 | 12.56 | 000
93531 | TC | A | R & l heart cath, congenital | 0.00 | 0.55 | 36.46 | NA | NA | 3.04 | 3.59 | 39.50 | NA | NA | 000
93532 | 26 | A | R & l heart cath, congenital | 9.99 | 4.26 | 4.26 | 4.26 | 4.26 | 0.69 | 14.94 | 14.94 | 14.94 | 14.94 | 000
93533 | 26 | A | R & l heart cath, congenital | 6.69 | 3.09 | 2.87 | 3.09 | 2.87 | 0.47 | 10.25 | 10.03 | 10.25 | 10.03 | 000
93539 |  | A | Injection, cardiac cath | 0.40 | NA | NA | 0.22 | 0.18 | 0.01 | NA | NA | 0.63 | 0.59 | 000
93540 |  | A | Injection, cardiac cath | 0.43 | NA | NA | 0.24 | 0.19 | 0.01 | NA | NA | 0.68 | 0.63 | 000
93541 |  | A | Injection for lung angiogram | 0.29 | NA | NA | 0.16 | 0.12 | 0.01 | NA | NA | 0.46 | 0.42 | 000
93542 |  | A | Injection for heart x-rays | 0.29 | NA | NA | 0.16 | 0.12 | 0.01 | NA | NA | 0.46 | 0.42 | 000
93543 |  | A | Injection for heart x-rays | 0.29 | NA | NA | 0.16 | 0.12 | 0.01 | NA | NA | 0.46 | 0.42 | 000
93544 |  | A | Injection for aortography | 0.25 | NA | NA | 0.14 | 0.11 | 0.01 | NA | NA | 0.40 | 0.37 | 000
93545 |  | A | Inject for coronary x-rays | 0.40 | NA | NA | 0.22 | 0.18 | 0.01 | NA | NA | 0.63 | 0.59 | 000
93555 |  | A | Imaging, cardiac cath | 0.81 | 0.66 | 5.12 | NA | NA | 0.37 | 1.84 | 6.30 | NA | NA | XXX
93555 | 26 | A | Imaging, cardiac cath | 0.81 | 0.45 | 0.35 | 0.45 | 0.35 | 0.03 | 1.29 | 1.19 | 1.29 | 1.19 | XXX
93555 | TC | A | Imaging, cardiac cath | 0.00 | 0.21 | 4.77 | NA | NA | 0.34 | 0.55 | 5.11 | NA | NA | XXX
93556 |  | A | Imaging, cardiac cath | 0.83 | 0.95 | 7.92 | NA | NA | 0.54 | 2.32 | 9.29 | NA | NA | XXX
93556 | 26 | A | Imaging, cardiac cath | 0.83 | 0.46 | 0.36 | 0.46 | 0.36 | 0.03 | 1.32 | 1.22 | 1.32 | 1.22 | XXX
93556 | TC | A | Imaging, cardiac cath | 0.00 | 0.49 | 7.56 | NA | NA | 0.51 | 1.00 | 8.07 | NA | NA | XXX
93561 |  | A | Cardiac output measurement | 0.50 | 0.14 | 0.55 | NA | NA | 0.08 | 0.72 | 1.13 | NA | NA | 000
93561 | 26 | A | Cardiac output measurement | 0.50 | 0.14 | 0.16 | 0.14 | 0.16 | 0.02 | 0.66 | 0.68 | 0.66 | 0.68 | 000
93561 | TC | A | Cardiac output measurement | 0.00 | 0.00 | 0.39 | NA | NA | 0.06 | 0.06 | 0.45 | NA | NA | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
93562 |  | A | Cardiac output measurement | 0.16 | 0.03 | 0.29 | NA | NA | 0.05 | 0.24 | 0.50 | NA | NA | 000
93562 | 26 | A | Cardiac output measurement | 0.16 | 0.03 | 0.05 | 0.03 | 0.05 | 0.01 | 0.20 | 0.22 | 0.20 | 0.22 | 000
93562 | TC | A | Cardiac output measurement | 0.00 | 0.00 | 0.24 | NA | NA | 0.04 | 0.04 | 0.28 | NA | NA | 000
93571 |  | A | Heart flow reserve measure | 1.80 | 1.00 | 4.19 | NA | NA | 0.30 | 3.10 | 6.29 | NA | NA | ZZZ
93571 | 26 | A | Heart flow reserve measure | 1.80 | 1.00 | 0.76 | 1.00 | 0.76 | 0.06 | 2.86 | 2.62 | 2.86 | 2.62 | ZZZ
93571 | TC | A | Heart flow reserve measure | 0.00 | 0.00 | 3.43 | NA | NA | 0.24 | 0.24 | 3.67 | NA | NA | ZZZ
93572 | 26 | A | Heart flow reserve measure | 1.44 | 0.75 | 0.56 | 0.75 | 0.56 | 0.04 | 2.23 | 2.04 | 2.23 | 2.04 | ZZZ
93580 |  | A | Transcath closure of asd | 17.97 | NA | NA | 9.78 | 8.00 | 1.25 | NA | NA | 29.00 | 27.22 | 000
93581 |  | A | Transcath closure of vsd | 24.39 | NA | NA | 13.45 | 10.43 | 1.71 | NA | NA | 39.55 | 36.53 | 000
93600 |  | A | Bundle of His recording | 2.12 | 1.11 | 2.37 | NA | NA | 0.29 | 3.52 | 4.78 | NA | NA | 000
93600 | 26 | A | Bundle of His recording | 2.12 | 1.11 | 0.90 | 1.11 | 0.90 | 0.16 | 3.39 | 3.18 | 3.39 | 3.18 | 000
93600 | TC | A | Bundle of His recording | 0.00 | 0.00 | 1.47 | NA | NA | 0.13 | 0.13 | 1.60 | NA | NA | 000
93602 |  | A | Intra-atrial recording | 2.12 | 1.10 | 1.72 | NA | NA | 0.24 | 3.46 | 4.08 | NA | NA | 000
93602 | 26 | A | Intra-atrial recording | 2.12 | 1.10 | 0.89 | 1.10 | 0.89 | 0.17 | 3.39 | 3.18 | 3.39 | 3.18 | 000
93602 | TC | A | Intra-atrial recording | 0.00 | 0.00 | 0.83 | NA | NA | 0.07 | 0.07 | 0.90 | NA | NA | 000
93603 |  | A | Right ventricular recording | 2.12 | 1.09 | 2.14 | NA | NA | 0.29 | 3.50 | 4.55 | NA | NA | 000
93603 | 26 | A | Right ventricular recording | 2.12 | 1.09 | 0.88 | 1.09 | 0.88 | 0.18 | 3.39 | 3.18 | 3.39 | 3.18 | 000
93603 | TC | A | Right ventricular recording | 0.00 | 0.00 | 1.26 | NA | NA | 0.11 | 0.11 | 1.37 | NA | NA | 000
93609 |  | A | Map tachycardia, add-on | 4.99 | 2.74 | 4.20 | NA | NA | 0.52 | 8.25 | 9.71 | NA | NA | ZZZ
93609 | 26 | A | Map tachycardia, add-on | 4.99 | 2.74 | 2.16 | 2.74 | 2.16 | 0.35 | 8.08 | 7.50 | 8.08 | 7.50 | ZZZ
93609 | TC | A | Map tachycardia, add-on | 0.00 | 0.00 | 2.05 | NA | NA | 0.17 | 0.17 | 2.22 | NA | NA | ZZZ
93610 |  | A | Intra-atrial pacing | 3.02 | 1.54 | 2.27 | NA | NA | 0.34 | 4.90 | 5.63 | NA | NA | 000
93610 | 26 | A | Intra-atrial pacing | 3.02 | 1.54 | 1.26 | 1.54 | 1.26 | 0.24 | 4.80 | 4.52 | 4.80 | 4.52 | 000
93610 | TC | A | Intra-atrial pacing | 0.00 | 0.00 | 1.01 | NA | NA | 0.10 | 0.10 | 1.11 | NA | NA | 000
93612 |  | A | Intraventricular pacing | 3.02 | 1.49 | 2.45 | NA | NA | 0.36 | 4.87 | 5.83 | NA | NA | 000
93612 | 26 | A | Intraventricular pacing | 3.02 | 1.49 | 1.24 | 1.49 | 1.24 | 0.25 | 4.76 | 4.51 | 4.76 | 4.51 | 000
93612 | TC | A | Intraventricular pacing | 0.00 | 0.00 | 1.21 | NA | NA | 0.11 | 0.11 | 1.32 | NA | NA | 000
93613 |  | A | Electrophys map 3d, add-on | 6.99 | NA | NA | 3.85 | 3.04 | 0.49 | NA | NA | 11.33 | 10.52 | ZZZ
93615 |  | A | Esophageal recording | 0.99 | 0.50 | 0.57 | NA | NA | 0.05 | 1.54 | 1.61 | NA | NA | 000
93615 | 26 | A | Esophageal recording | 0.99 | 0.50 | 0.33 | 0.50 | 0.33 | 0.03 | 1.52 | 1.35 | 1.52 | 1.35 | 000
93615 | TC | A | Esophageal recording | 0.00 | 0.00 | 0.24 | NA | NA | 0.02 | 0.02 | 0.26 | NA | NA | 000
93616 | 26 | A | Esophageal recording | 1.49 | 0.37 | 0.42 | 0.37 | 0.42 | 0.09 | 1.95 | 2.00 | 1.95 | 2.00 | 000
93618 |  | A | Heart rhythm pacing | 4.25 | 2.37 | 4.82 | NA | NA | 0.54 | 7.16 | 9.61 | NA | NA | 000
93618 | 26 | A | Heart rhythm pacing | 4.25 | 2.37 | 1.85 | 2.37 | 1.85 | 0.30 | 6.92 | 6.40 | 6.92 | 6.40 | 000
93618 | TC | A | Heart rhythm pacing | 0.00 | 0.00 | 2.98 | NA | NA | 0.24 | 0.24 | 3.22 | NA | NA | 000
93619 |  | A | Electrophysiology evaluation | 7.31 | 4.37 | 9.28 | NA | NA | 0.98 | 12.66 | 17.57 | NA | NA | 000
93619 | 26 | A | Electrophysiology evaluation | 7.31 | 3.95 | 3.38 | 3.95 | 3.38 | 0.51 | 11.77 | 11.20 | 11.77 | 11.20 | 000
93619 | TC | A | Electrophysiology evaluation | 0.00 | 0.42 | 5.90 | NA | NA | 0.47 | 0.89 | 6.37 | NA | NA | 000
93620 | 26 | A | Electrophysiology evaluation | 11.57 | 6.37 | 5.23 | 6.37 | 5.23 | 0.80 | 18.74 | 17.60 | 18.74 | 17.60 | 000
93621 | 26 | A | Electrophysiology evaluation | 2.10 | 1.16 | 0.91 | 1.16 | 0.91 | 0.15 | 3.41 | 3.16 | 3.41 | 3.16 | ZZZ
93622 | 26 | A | Electrophysiology evaluation | 3.10 | 1.69 | 1.33 | 1.69 | 1.33 | 0.22 | 5.01 | 4.65 | 5.01 | 4.65 | ZZZ
93623 | 26 | A | Stimulation, pacing heart | 2.85 | 1.57 | 1.23 | 1.57 | 1.23 | 0.20 | 4.62 | 4.28 | 4.62 | 4.28 | ZZZ
93624 |  | A | Electrophysiologic study | 4.80 | 3.12 | 3.92 | NA | NA | 0.46 | 8.38 | 9.18 | NA | NA | 000
93624 | 26 | A | Electrophysiologic study | 4.80 | 2.69 | 2.32 | 2.69 | 2.32 | 0.33 | 7.82 | 7.45 | 7.82 | 7.45 | 000
93624 | TC | A | Electrophysiologic study | 0.00 | 0.43 | 1.60 | NA | NA | 0.13 | 0.56 | 1.73 | NA | NA | 000
93631 | 26 | A | Heart pacing, mapping | 7.59 | 2.81 | 2.79 | 2.81 | 2.79 | 0.97 | 11.37 | 11.35 | 11.37 | 11.35 | 000
93640 |  | A | Evaluation heart device | 3.51 | 1.93 | 6.90 | NA | NA | 0.66 | 6.10 | 11.07 | NA | NA | 000
93640 | 26 | A | Evaluation heart device | 3.51 | 1.93 | 1.50 | 1.93 | 1.50 | 0.24 | 5.68 | 5.25 | 5.68 | 5.25 | 000
93640 | TC | A | Evaluation heart device | 0.00 | 0.00 | 5.39 | NA | NA | 0.42 | 0.42 | 5.81 | NA | NA | 000
93641 |  | A | Electrophysiology evaluation | 5.92 | 3.26 | 7.95 | NA | NA | 0.83 | 10.01 | 14.70 | NA | NA | 000
93641 | 26 | A | Electrophysiology evaluation | 5.92 | 3.26 | 2.56 | 3.26 | 2.56 | 0.41 | 9.59 | 8.89 | 9.59 | 8.89 | 000
93641 | TC | A | Electrophysiology evaluation | 0.00 | 0.00 | 5.39 | NA | NA | 0.42 | 0.42 | 5.81 | NA | NA | 000
93642 |  | A | Electrophysiology evaluation | 4.88 | 7.59 | 8.96 | NA | NA | 0.57 | 13.04 | 14.41 | NA | NA | 000
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
93642 | 26 | A | Electrophysiology evaluation | 4.88 | 2.69 | 2.34 | 2.69 | 2.34 | 0.15 | 7.72 | 7.37 | 7.72 | 7.37 | 000
93642 | TC | A | Electrophysiology evaluation | 0.00 | 4.89 | 6.62 | NA | NA | 0.42 | 5.31 | 7.04 | NA | NA | 000
93650 |  | A | Ablate heart dysrhythm focus | 10.49 | NA | NA | 6.10 | 4.86 | 0.73 | NA | NA | 17.32 | 16.08 | 000
93651 |  | A | Ablate heart dysrhythm focus | 16.23 | NA | NA | 8.93 | 6.99 | 1.13 | NA | NA | 26.29 | 24.35 | 000
93652 |  | A | Ablate heart dysrhythm focus | 17.65 | NA | NA | 9.73 | 7.61 | 1.23 | NA | NA | 28.61 | 26.49 | 000
93660 |  | A | Tilt table evaluation | 1.89 | 3.11 | 2.59 | NA | NA | 0.08 | 5.08 | 4.56 | NA | NA | 000
93660 | 26 | A | Tilt table evaluation | 1.89 | 1.01 | 0.81 | 1.01 | 0.81 | 0.06 | 2.96 | 2.76 | 2.96 | 2.76 | 000
93660 | TC | A | Tilt table evaluation | 0.00 | 2.10 | 1.79 | NA | NA | 0.02 | 2.12 | 1.81 | NA | NA | 000
93662 | 26 | A | Intracardiac ecg (ice) | 2.80 | 1.54 | 1.22 | 1.54 | 1.22 | 0.09 | 4.43 | 4.11 | 4.43 | 4.11 | ZZZ
93701 |  | A | Bioimpedance, thoracic | 0.17 | 0.71 | 0.91 | NA | NA | 0.02 | 0.90 | 1.10 | NA | NA | XXX
93701 | 26 | A | Bioimpedance, thoracic | 0.17 | 0.06 | 0.07 | 0.06 | 0.07 | 0.01 | 0.24 | 0.25 | 0.24 | 0.25 | XXX
93701 | TC | A | Bioimpedance, thoracic | 0.00 | 0.65 | 0.85 | NA | NA | 0.01 | 0.66 | 0.86 | NA | NA | XXX
93720 |  | A | Total body plethysmography | 0.17 | 1.29 | 0.89 | NA | NA | 0.07 | 1.53 | 1.13 | NA | NA | XXX
93721 |  | A | Plethysmography tracing | 0.00 | 1.14 | 0.82 | NA | NA | 0.06 | 1.20 | 0.88 | NA | NA | XXX
93722 |  | A | Plethysmography report | 0.17 | 0.04 | 0.05 | 0.04 | 0.05 | 0.01 | 0.22 | 0.23 | 0.22 | 0.23 | XXX
93724 |  | A | Analyze pacemaker system | 4.88 | 3.56 | 5.31 | NA | NA | 0.39 | 8.83 | 10.58 | NA | NA | 000
93724 | 26 | A | Analyze pacemaker system | 4.88 | 2.63 | 2.10 | 2.63 | 2.10 | 0.15 | 7.66 | 7.13 | 7.66 | 7.13 | 000
93724 | TC | A | Analyze pacemaker system | 0.00 | 0.93 | 3.21 | NA | NA | 0.24 | 1.17 | 3.45 | NA | NA | 000
93727 |  | A | Analyze ilr system | 0.52 | 0.66 | 0.32 | 0.66 | 0.32 | 0.02 | 1.20 | 0.86 | 1.20 | 0.86 | XXX
93731 |  | A | Analyze pacemaker system | 0.45 | 0.81 | 0.70 | NA | NA | 0.05 | 1.31 | 1.20 | NA | NA | XXX
93731 | 26 | A | Analyze pacemaker system | 0.45 | 0.25 | 0.19 | 0.25 | 0.19 | 0.01 | 0.71 | 0.65 | 0.71 | 0.65 | XXX
93731 | TC | A | Analyze pacemaker system | 0.00 | 0.56 | 0.51 | NA | NA | 0.04 | 0.60 | 0.55 | NA | NA | XXX
93732 |  | A | Analyze pacemaker system | 0.92 | 1.19 | 0.94 | NA | NA | 0.07 | 2.18 | 1.93 | NA | NA | XXX
93732 | 26 | A | Analyze pacemaker system | 0.92 | 0.50 | 0.39 | 0.50 | 0.39 | 0.03 | 1.45 | 1.34 | 1.45 | 1.34 | XXX
93732 | TC | A | Analyze pacemaker system | 0.00 | 0.69 | 0.56 | NA | NA | 0.04 | 0.73 | 0.60 | NA | NA | XXX
93733 |  | A | Telephone analy, pacemaker | 0.17 | 0.32 | 0.68 | NA | NA | 0.07 | 0.56 | 0.92 | NA | NA | XXX
93733 | 26 | A | Telephone analy, pacemaker | 0.17 | 0.09 | 0.08 | 0.09 | 0.08 | 0.01 | 0.27 | 0.26 | 0.27 | 0.26 | XXX
93733 | TC | A | Telephone analy, pacemaker | 0.00 | 0.23 | 0.61 | NA | NA | 0.06 | 0.29 | 0.67 | NA | NA | XXX
93734 |  | A | Analyze pacemaker system | 0.38 | 0.72 | 0.56 | NA | NA | 0.03 | 1.13 | 0.97 | NA | NA | XXX
93734 | 26 | A | Analyze pacemaker system | 0.38 | 0.21 | 0.17 | 0.21 | 0.17 | 0.01 | 0.60 | 0.56 | 0.60 | 0.56 | XXX
93734 | TC | A | Analyze pacemaker system | 0.00 | 0.51 | 0.39 | NA | NA | 0.02 | 0.53 | 0.41 | NA | NA | XXX
93735 |  | A | Analyze pacemaker system | 0.74 | 0.99 | 0.79 | NA | NA | 0.06 | 1.79 | 1.59 | NA | NA | XXX
93735 | 26 | A | Analyze pacemaker system | 0.74 | 0.40 | 0.31 | 0.40 | 0.31 | 0.02 | 1.16 | 1.07 | 1.16 | 1.07 | XXX
93735 | TC | A | Analyze pacemaker system | 0.00 | 0.59 | 0.48 | NA | NA | 0.04 | 0.63 | 0.52 | NA | NA | XXX
93736 |  | A | Telephonic analy, pacemaker | 0.15 | 0.28 | 0.59 | NA | NA | 0.07 | 0.50 | 0.81 | NA | NA | XXX
93736 | 26 | A | Telephonic analy, pacemaker | 0.15 | 0.08 | 0.07 | 0.08 | 0.07 | 0.01 | 0.24 | 0.23 | 0.24 | 0.23 | XXX
93736 | TC | A | Telephonic analy, pacemaker | 0.00 | 0.21 | 0.53 | NA | NA | 0.06 | 0.27 | 0.59 | NA | NA | XXX
93740 |  | B | Temperature gradient studies | 0.16 | 0.04 | 0.15 | NA | NA | 0.02 | 0.22 | 0.33 | NA | NA | XXX
93740 | 26 | B | Temperature gradient studies | 0.16 | 0.04 | 0.04 | 0.04 | 0.04 | 0.01 | 0.21 | 0.21 | 0.21 | 0.21 | XXX
93740 | TC | B | Temperature gradient studies | 0.00 | 0.00 | 0.11 | NA | NA | 0.01 | 0.01 | 0.12 | NA | NA | XXX
93741 |  | A | Analyze ht pace device sngl | 0.80 | 1.06 | 1.00 | NA | NA | 0.07 | 1.93 | 1.87 | NA | NA | XXX
93741 | 26 | A | Analyze ht pace device sngl | 0.80 | 0.44 | 0.34 | 0.44 | 0.34 | 0.03 | 1.27 | 1.17 | 1.27 | 1.17 | XXX
93741 | TC | A | Analyze ht pace device sngl | 0.00 | 0.61 | 0.66 | NA | NA | 0.04 | 0.65 | 0.70 | NA | NA | XXX
93742 |  | A | Analyze ht pace device sngl | 0.91 | 1.20 | 1.07 | NA | NA | 0.07 | 2.18 | 2.05 | NA | NA | XXX
93742 | 26 | A | Analyze ht pace device sngl | 0.91 | 0.51 | 0.40 | 0.51 | 0.40 | 0.03 | 1.45 | 1.34 | 1.45 | 1.34 | XXX
93742 | TC | A | Analyze ht pace device sngl | 0.00 | 0.69 | 0.68 | NA | NA | 0.04 | 0.73 | 0.72 | NA | NA | XXX
93743 |  | A | Analyze ht pace device dual | 1.03 | 1.24 | 1.16 | NA | NA | 0.07 | 2.34 | 2.26 | NA | NA | XXX
93743 | 26 | A | Analyze ht pace device dual | 1.03 | 0.57 | 0.44 | 0.57 | 0.44 | 0.03 | 1.63 | 1.50 | 1.63 | 1.50 | XXX
93743 | TC | A | Analyze ht pace device dual | 0.00 | 0.66 | 0.71 | NA | NA | 0.04 | 0.70 | 0.75 | NA | NA | XXX
93744 |  | A | Analyze ht pace device dual | 1.18 | 1.39 | 1.20 | NA | NA | 0.08 | 2.65 | 2.46 | NA | NA | XXX
93744 | 26 | A | Analyze ht pace device dual | 1.18 | 0.65 | 0.51 | 0.65 | 0.51 | 0.04 | 1.87 | 1.73 | 1.87 | 1.73 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
93744 | TC | A | Analyze ht pace device dual | 0.00 | 0.74 | 0.69 | NA | NA | 0.04 | 0.78 | 0.73 | NA | NA | XXX
93770 |  | B | Measure venous pressure | 0.16 | 0.04 | 0.07 | NA | NA | 0.02 | 0.22 | 0.25 | NA | NA | XXX
93770 | 26 | B | Measure venous pressure | 0.16 | 0.04 | 0.05 | 0.04 | 0.05 | 0.01 | 0.21 | 0.22 | 0.21 | 0.22 | XXX
93770 | TC | B | Measure venous pressure | 0.00 | 0.00 | 0.02 | NA | NA | 0.01 | 0.01 | 0.03 | NA | NA | XXX
93784 |  | A | Ambulatory BP monitoring | 0.38 | 1.37 | 1.51 | NA | NA | 0.03 | 1.78 | 1.92 | NA | NA | XXX
93786 |  | A | Ambulatory BP recording | 0.00 | 1.10 | 0.96 | NA | NA | 0.01 | 1.11 | 0.97 | NA | NA | XXX
93788 |  | A | Ambulatory BP analysis | 0.00 | 0.73 | 0.57 | NA | NA | 0.01 | 0.74 | 0.58 | NA | NA | XXX
93790 |  | A | Review/report BP recording | 0.38 | 0.14 | 0.13 | 0.14 | 0.13 | 0.01 | 0.53 | 0.52 | 0.53 | 0.52 | XXX
93797 |  | A | Cardiac rehab | 0.18 | 0.33 | 0.31 | 0.09 | 0.08 | 0.01 | 0.52 | 0.50 | 0.28 | 0.27 | 000
93798 |  | A | Cardiac rehab/monitor | 0.28 | 0.45 | 0.46 | 0.13 | 0.12 | 0.01 | 0.74 | 0.75 | 0.42 | 0.41 | 000
93875 |  | A | Extracranial study | 0.22 | 2.64 | 2.42 | NA | NA | 0.12 | 2.98 | 2.76 | NA | NA | XXX
93875 | 26 | A | Extracranial study | 0.22 | 0.08 | 0.08 | 0.08 | 0.08 | 0.01 | 0.31 | 0.31 | 0.31 | 0.31 | XXX
93875 | TC | A | Extracranial study | 0.00 | 2.57 | 2.34 | NA | NA | 0.11 | 2.68 | 2.45 | NA | NA | XXX
93880 |  | A | Extracranial study | 0.60 | 6.36 | 5.77 | NA | NA | 0.39 | 7.35 | 6.76 | NA | NA | XXX
93880 | 26 | A | Extracranial study | 0.60 | 0.21 | 0.20 | 0.21 | 0.20 | 0.04 | 0.85 | 0.84 | 0.85 | 0.84 | XXX
93880 | TC | A | Extracranial study | 0.00 | 6.15 | 5.57 | NA | NA | 0.35 | 6.50 | 5.92 | NA | NA | XXX
93882 |  | A | Extracranial study | 0.40 | 4.23 | 3.69 | NA | NA | 0.26 | 4.89 | 4.35 | NA | NA | XXX
93882 | 26 | A | Extracranial study | 0.40 | 0.12 | 0.14 | 0.12 | 0.14 | 0.04 | 0.56 | 0.58 | 0.56 | 0.58 | XXX
93882 | TC | A | Extracranial study | 0.00 | 4.11 | 3.56 | NA | NA | 0.22 | 4.33 | 3.78 | NA | NA | XXX
93886 |  | A | Intracranial study | 0.94 | 7.21 | 6.87 | NA | NA | 0.45 | 8.60 | 8.26 | NA | NA | XXX
93886 | 26 | A | Intracranial study | 0.94 | 0.30 | 0.35 | 0.30 | 0.35 | 0.06 | 1.30 | 1.35 | 1.30 | 1.35 | XXX
93886 | TC | A | Intracranial study | 0.00 | 6.91 | 6.52 | NA | NA | 0.39 | 7.30 | 6.91 | NA | NA | XXX
93888 |  | A | Intracranial study | 0.62 | 4.94 | 4.42 | NA | NA | 0.32 | 5.88 | 5.36 | NA | NA | XXX
93888 | 26 | A | Intracranial study | 0.62 | 0.20 | 0.22 | 0.20 | 0.22 | 0.05 | 0.87 | 0.89 | 0.87 | 0.89 | XXX
93888 | TC | A | Intracranial study | 0.00 | 4.74 | 4.20 | NA | NA | 0.27 | 5.01 | 4.47 | NA | NA | XXX
93890 |  | A | Tcd, vasoreactivity study | 1.00 | 6.40 | 5.28 | NA | NA | 0.45 | 7.85 | 6.73 | NA | NA | XXX
93890 | 26 | A | Tcd, vasoreactivity study | 1.00 | 0.32 | 0.38 | 0.32 | 0.38 | 0.06 | 1.38 | 1.44 | 1.38 | 1.44 | XXX
93890 | TC | A | Tcd, vasoreactivity study | 0.00 | 6.08 | 4.90 | NA | NA | 0.39 | 6.47 | 5.29 | NA | NA | XXX
93892 |  | A | Tcd, emboli detect w/o inj | 1.15 | 6.93 | 5.61 | NA | NA | 0.45 | 8.53 | 7.21 | NA | NA | XXX
93892 | 26 | A | Tcd, emboli detect w/o inj | 1.15 | 0.37 | 0.44 | 0.37 | 0.44 | 0.06 | 1.58 | 1.65 | 1.58 | 1.65 | XXX
93892 | TC | A | Tcd, emboli detect w/o inj | 0.00 | 6.57 | 5.18 | NA | NA | 0.39 | 6.96 | 5.57 | NA | NA | XXX
93893 |  | A | Tcd, emboli detect w/inj | 1.15 | 6.61 | 5.43 | NA | NA | 0.45 | 8.21 | 7.03 | NA | NA | XXX
93893 | 26 | A | Tcd, emboli detect w/inj | 1.15 | 0.37 | 0.44 | 0.37 | 0.44 | 0.06 | 1.58 | 1.65 | 1.58 | 1.65 | XXX
93893 | TC | A | Tcd, emboli detect w/inj | 0.00 | 6.24 | 5.00 | NA | NA | 0.39 | 6.63 | 5.39 | NA | NA | XXX
93922 |  | A | Extremity study | 0.25 | 3.20 | 2.82 | NA | NA | 0.15 | 3.60 | 3.22 | NA | NA | XXX
93922 | 26 | A | Extremity study | 0.25 | 0.08 | 0.08 | 0.08 | 0.08 | 0.02 | 0.35 | 0.35 | 0.35 | 0.35 | XXX
93922 | TC | A | Extremity study | 0.00 | 3.12 | 2.74 | NA | NA | 0.13 | 3.25 | 2.87 | NA | NA | XXX
93923 |  | A | Extremity study | 0.45 | 4.86 | 4.25 | NA | NA | 0.26 | 5.57 | 4.96 | NA | NA | XXX
93923 | 26 | A | Extremity study | 0.45 | 0.15 | 0.15 | 0.15 | 0.15 | 0.04 | 0.64 | 0.64 | 0.64 | 0.64 | XXX
93923 | TC | A | Extremity study | 0.00 | 4.71 | 4.10 | NA | NA | 0.22 | 4.93 | 4.32 | NA | NA | XXX
93924 |  | A | Extremity study | 0.50 | 6.12 | 5.13 | NA | NA | 0.30 | 6.92 | 5.93 | NA | NA | XXX
93924 | 26 | A | Extremity study | 0.50 | 0.17 | 0.17 | 0.17 | 0.17 | 0.05 | 0.72 | 0.72 | 0.72 | 0.72 | XXX
93924 | TC | A | Extremity study | 0.00 | 5.95 | 4.96 | NA | NA | 0.25 | 6.20 | 5.21 | NA | NA | XXX
93925 |  | A | Lower extremity study | 0.58 | 8.31 | 7.18 | NA | NA | 0.39 | 9.28 | 8.15 | NA | NA | XXX
93925 | 26 | A | Lower extremity study | 0.58 | 0.20 | 0.20 | 0.20 | 0.20 | 0.04 | 0.82 | 0.82 | 0.82 | 0.82 | XXX
93925 | TC | A | Lower extremity study | 0.00 | 8.11 | 6.98 | NA | NA | 0.35 | 8.46 | 7.33 | NA | NA | XXX
93926 |  | A | Lower extremity study | 0.39 | 5.37 | 4.39 | NA | NA | 0.27 | 6.03 | 5.05 | NA | NA | XXX
93926 | 26 | A | Lower extremity study | 0.39 | 0.12 | 0.13 | 0.12 | 0.13 | 0.04 | 0.55 | 0.56 | 0.55 | 0.56 | XXX
93926 | TC | A | Lower extremity study | 0.00 | 5.25 | 4.26 | NA | NA | 0.23 | 5.48 | 4.49 | NA | NA | XXX
93930 |  | A | Upper extremity study | 0.46 | 6.45 | 5.64 | NA | NA | 0.41 | 7.32 | 6.51 | NA | NA | XXX
93930 | 26 | A | Upper extremity study | 0.46 | 0.15 | 0.16 | 0.15 | 0.16 | 0.04 | 0.65 | 0.66 | 0.65 | 0.66 | XXX
93930 | TC | A | Upper extremity study | 0.00 | 6.30 | 5.48 | NA | NA | 0.37 | 6.67 | 5.85 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
93931 |  | A | Upper extremity study | 0.31 | 4.40 | 3.72 | NA | NA | 0.27 | 4.98 | 4.30 | NA | NA | XXX
93931 | 26 | A | Upper extremity study | 0.31 | 0.10 | 0.10 | 0.10 | 0.10 | 0.03 | 0.44 | 0.44 | 0.44 | 0.44 | XXX
93931 | TC | A | Upper extremity study | 0.00 | 4.30 | 3.62 | NA | NA | 0.24 | 4.54 | 3.86 | NA | NA | XXX
93965 |  | A | Extremity study | 0.35 | 3.14 | 2.89 | NA | NA | 0.14 | 3.63 | 3.38 | NA | NA | XXX
93965 | 26 | A | Extremity study | 0.35 | 0.11 | 0.12 | 0.11 | 0.12 | 0.02 | 0.48 | 0.49 | 0.48 | 0.49 | XXX
93965 | TC | A | Extremity study | 0.00 | 3.02 | 2.77 | NA | NA | 0.12 | 3.14 | 2.89 | NA | NA | XXX
93970 |  | A | Extremity study | 0.68 | 6.47 | 5.56 | NA | NA | 0.46 | 7.61 | 6.70 | NA | NA | XXX
93970 | 26 | A | Extremity study | 0.68 | 0.22 | 0.23 | 0.22 | 0.23 | 0.06 | 0.96 | 0.97 | 0.96 | 0.97 | XXX
93970 | TC | A | Extremity study | 0.00 | 6.25 | 5.34 | NA | NA | 0.40 | 6.65 | 5.74 | NA | NA | XXX
93971 |  | A | Extremity study | 0.45 | 4.25 | 3.76 | NA | NA | 0.30 | 5.00 | 4.51 | NA | NA | XXX
93971 | 26 | A | Extremity study | 0.45 | 0.15 | 0.15 | 0.15 | 0.15 | 0.03 | 0.63 | 0.63 | 0.63 | 0.63 | XXX
93971 | TC | A | Extremity study | 0.00 | 4.10 | 3.61 | NA | NA | 0.27 | 4.37 | 3.88 | NA | NA | XXX
93975 |  | A | Vascular study | 1.80 | 8.79 | 7.94 | NA | NA | 0.56 | 11.15 | 10.30 | NA | NA | XXX
93975 | 26 | A | Vascular study | 1.80 | 0.65 | 0.61 | 0.65 | 0.61 | 0.13 | 2.58 | 2.54 | 2.58 | 2.54 | XXX
93975 | TC | A | Vascular study | 0.00 | 8.14 | 7.32 | NA | NA | 0.43 | 8.57 | 7.75 | NA | NA | XXX
93976 |  | A | Vascular study | 1.21 | 4.77 | 4.45 | NA | NA | 0.35 | 6.33 | 6.01 | NA | NA | XXX
93976 | 26 | A | Vascular study | 1.21 | 0.42 | 0.41 | 0.42 | 0.41 | 0.05 | 1.68 | 1.67 | 1.68 | 1.67 | XXX
93976 | TC | A | Vascular study | 0.00 | 4.34 | 4.04 | NA | NA | 0.30 | 4.64 | 4.34 | NA | NA | XXX
93978 |  | A | Vascular study | 0.65 | 6.18 | 4.94 | NA | NA | 0.43 | 7.26 | 6.02 | NA | NA | XXX
93978 | 26 | A | Vascular study | 0.65 | 0.23 | 0.22 | 0.23 | 0.22 | 0.06 | 0.94 | 0.93 | 0.94 | 0.93 | XXX
93978 | TC | A | Vascular study | 0.00 | 5.96 | 4.72 | NA | NA | 0.37 | 6.33 | 5.09 | NA | NA | XXX
93979 |  | A | Vascular study | 0.44 | 4.45 | 3.53 | NA | NA | 0.27 | 5.16 | 4.24 | NA | NA | XXX
93979 | 26 | A | Vascular study | 0.44 | 0.17 | 0.16 | 0.17 | 0.16 | 0.03 | 0.64 | 0.63 | 0.64 | 0.63 | XXX
93979 | TC | A | Vascular study | 0.00 | 4.28 | 3.37 | NA | NA | 0.24 | 4.52 | 3.61 | NA | NA | XXX
93980 |  | A | Penile vascular study | 1.25 | 3.55 | 3.03 | NA | NA | 0.42 | 5.22 | 4.70 | NA | NA | XXX
93980 | 26 | A | Penile vascular study | 1.25 | 0.45 | 0.42 | 0.45 | 0.42 | 0.08 | 1.78 | 1.75 | 1.78 | 1.75 | XXX
93980 | TC | A | Penile vascular study | 0.00 | 3.09 | 2.61 | NA | NA | 0.34 | 3.43 | 2.95 | NA | NA | XXX
93981 |  | A | Penile vascular study | 0.44 | 2.93 | 2.89 | NA | NA | 0.33 | 3.70 | 3.66 | NA | NA | XXX
93981 | 26 | A | Penile vascular study | 0.44 | 0.17 | 0.15 | 0.17 | 0.15 | 0.02 | 0.63 | 0.61 | 0.63 | 0.61 | XXX
93981 | TC | A | Penile vascular study | 0.00 | 2.76 | 2.75 | NA | NA | 0.31 | 3.07 | 3.06 | NA | NA | XXX
93990 |  | A | Doppler flow testing | 0.25 | 5.44 | 4.36 | NA | NA | 0.26 | 5.95 | 4.87 | NA | NA | XXX
93990 | 26 | A | Doppler flow testing | 0.25 | 0.07 | 0.09 | 0.07 | 0.09 | 0.03 | 0.35 | 0.37 | 0.35 | 0.37 | XXX
93990 | TC | A | Doppler flow testing | 0.00 | 5.37 | 4.28 | NA | NA | 0.23 | 5.60 | 4.51 | NA | NA | XXX
94010 |  | A | Breathing capacity test | 0.17 | 0.73 | 0.69 | NA | NA | 0.03 | 0.93 | 0.89 | NA | NA | XXX
94010 | 26 | A | Breathing capacity test | 0.17 | 0.04 | 0.05 | 0.04 | 0.05 | 0.01 | 0.22 | 0.23 | 0.22 | 0.23 | XXX
94010 | TC | A | Breathing capacity test | 0.00 | 0.69 | 0.64 | NA | NA | 0.02 | 0.71 | 0.66 | NA | NA | XXX
94014 |  | A | Patient recorded spirometry | 0.52 | 0.90 | 0.80 | NA | NA | 0.03 | 1.45 | 1.35 | NA | NA | XXX
94015 |  | A | Patient recorded spirometry | 0.00 | 0.74 | 0.63 | NA | NA | 0.01 | 0.75 | 0.64 | NA | NA | XXX
94016 |  | A | Review patient spirometry | 0.52 | 0.16 | 0.17 | 0.16 | 0.17 | 0.02 | 0.70 | 0.71 | 0.70 | 0.71 | XXX
94060 |  | A | Evaluation of wheezing | 0.31 | 1.31 | 1.13 | NA | NA | 0.07 | 1.69 | 1.51 | NA | NA | XXX
94060 | 26 | A | Evaluation of wheezing | 0.31 | 0.07 | 0.09 | 0.07 | 0.09 | 0.01 | 0.39 | 0.41 | 0.39 | 0.41 | XXX
94060 | TC | A | Evaluation of wheezing | 0.00 | 1.23 | 1.04 | NA | NA | 0.06 | 1.29 | 1.10 | NA | NA | XXX
94070 |  | A | Evaluation of wheezing | 0.60 | 0.99 | 0.86 | NA | NA | 0.13 | 1.72 | 1.59 | NA | NA | XXX
94070 | 26 | A | Evaluation of wheezing | 0.60 | 0.15 | 0.17 | 0.15 | 0.17 | 0.03 | 0.78 | 0.80 | 0.78 | 0.80 | XXX
94070 | TC | A | Evaluation of wheezing | 0.00 | 0.84 | 0.69 | NA | NA | 0.10 | 0.94 | 0.79 | NA | NA | XXX
94150 |  | B | Vital capacity test | 0.07 | 0.48 | 0.47 | NA | NA | 0.02 | 0.57 | 0.56 | NA | NA | XXX
94150 | 26 | B | Vital capacity test | 0.07 | 0.02 | 0.03 | 0.02 | 0.03 | 0.01 | 0.10 | 0.11 | 0.10 | 0.11 | XXX
94150 | TC | B | Vital capacity test | 0.00 | 0.46 | 0.45 | NA | NA | 0.01 | 0.47 | 0.46 | NA | NA | XXX
94200 |  | A | Lung function test (MBC/MVV) | 0.11 | 0.50 | 0.46 | NA | NA | 0.03 | 0.64 | 0.60 | NA | NA | XXX
94200 | 26 | A | Lung function test (MBC/MVV) | 0.11 | 0.03 | 0.03 | 0.03 | 0.03 | 0.01 | 0.15 | 0.15 | 0.15 | 0.15 | XXX
94200 | TC | A | Lung function test (MBC/MVV) | 0.00 | 0.48 | 0.43 | NA | NA | 0.02 | 0.50 | 0.45 | NA | NA | XXX
94240 |  | A | Residual lung capacity | 0.26 | 0.83 | 0.70 | NA | NA | 0.06 | 1.15 | 1.02 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
94240 | 26 | A | Residual lung capacity | 0.26 | 0.06 | 0.08 | 0.06 | 0.08 | 0.01 | 0.33 | 0.35 | 0.33 | 0.35 | XXX
94240 | TC | A | Residual lung capacity | 0.00 | 0.76 | 0.63 | NA | NA | 0.05 | 0.81 | 0.68 | NA | NA | XXX
94250 |  | A | Expired gas collection | 0.11 | 0.56 | 0.62 | NA | NA | 0.02 | 0.69 | 0.75 | NA | NA | XXX
94250 | 26 | A | Expired gas collection | 0.11 | 0.03 | 0.03 | 0.03 | 0.03 | 0.01 | 0.15 | 0.15 | 0.15 | 0.15 | XXX
94250 | TC | A | Expired gas collection | 0.00 | 0.52 | 0.59 | NA | NA | 0.01 | 0.53 | 0.60 | NA | NA | XXX
94260 |  | A | Thoracic gas volume | 0.13 | 0.76 | 0.63 | NA | NA | 0.05 | 0.94 | 0.81 | NA | NA | XXX
94260 | 26 | A | Thoracic gas volume | 0.13 | 0.03 | 0.04 | 0.03 | 0.04 | 0.01 | 0.17 | 0.18 | 0.17 | 0.18 | XXX
94260 | TC | A | Thoracic gas volume | 0.00 | 0.73 | 0.59 | NA | NA | 0.04 | 0.77 | 0.63 | NA | NA | XXX
94350 |  | A | Lung nitrogen washout curve | 0.26 | 0.65 | 0.73 | NA | NA | 0.05 | 0.96 | 1.04 | NA | NA | XXX
94350 | 26 | A | Lung nitrogen washout curve | 0.26 | 0.07 | 0.08 | 0.07 | 0.08 | 0.01 | 0.34 | 0.35 | 0.34 | 0.35 | XXX
94350 | TC | A | Lung nitrogen washout curve | 0.00 | 0.58 | 0.66 | NA | NA | 0.04 | 0.62 | 0.70 | NA | NA | XXX
94360 |  | A | Measure airflow resistance | 0.26 | 0.97 | 0.77 | NA | NA | 0.07 | 1.30 | 1.10 | NA | NA | XXX
94360 | 26 | A | Measure airflow resistance | 0.26 | 0.06 | 0.08 | 0.06 | 0.08 | 0.01 | 0.33 | 0.35 | 0.33 | 0.35 | XXX
94360 | TC | A | Measure airflow resistance | 0.00 | 0.91 | 0.69 | NA | NA | 0.06 | 0.97 | 0.75 | NA | NA | XXX
94370 |  | A | Breath airway closing volume | 0.26 | 0.65 | 0.70 | NA | NA | 0.03 | 0.94 | 0.99 | NA | NA | XXX
94370 | 26 | A | Breath airway closing volume | 0.26 | 0.08 | 0.08 | 0.08 | 0.08 | 0.01 | 0.35 | 0.35 | 0.35 | 0.35 | XXX
94370 | TC | A | Breath airway closing volume | 0.00 | 0.57 | 0.62 | NA | NA | 0.02 | 0.59 | 0.64 | NA | NA | XXX
94375 |  | A | Respiratory flow volume loop | 0.31 | 0.74 | 0.64 | NA | NA | 0.03 | 1.08 | 0.98 | NA | NA | XXX
94375 | 26 | A | Respiratory flow volume loop | 0.31 | 0.08 | 0.09 | 0.08 | 0.09 | 0.01 | 0.40 | 0.41 | 0.40 | 0.41 | XXX
94375 | TC | A | Respiratory flow volume loop | 0.00 | 0.66 | 0.55 | NA | NA | 0.02 | 0.68 | 0.57 | NA | NA | XXX
94400 |  | A | CO2 breathing response curve | 0.40 | 1.02 | 0.89 | NA | NA | 0.09 | 1.51 | 1.38 | NA | NA | XXX
94400 | 26 | A | CO2 breathing response curve | 0.40 | 0.10 | 0.12 | 0.10 | 0.12 | 0.03 | 0.53 | 0.55 | 0.53 | 0.55 | XXX
94400 | TC | A | CO2 breathing response curve | 0.00 | 0.92 | 0.77 | NA | NA | 0.06 | 0.98 | 0.83 | NA | NA | XXX
94450 |  | A | Hypoxia response curve | 0.40 | 1.02 | 0.89 | NA | NA | 0.04 | 1.46 | 1.33 | NA | NA | XXX
94450 | 26 | A | Hypoxia response curve | 0.40 | 0.08 | 0.11 | 0.08 | 0.11 | 0.02 | 0.50 | 0.53 | 0.50 | 0.53 | XXX
94450 | TC | A | Hypoxia response curve | 0.00 | 0.94 | 0.78 | NA | NA | 0.02 | 0.96 | 0.80 | NA | NA | XXX
94452 |  | A | Hast w/report | 0.31 | 1.18 | 1.06 | NA | NA | 0.04 | 1.53 | 1.41 | NA | NA | XXX
94452 | 26 | A | Hast w/report | 0.31 | 0.08 | 0.09 | 0.08 | 0.09 | 0.02 | 0.41 | 0.42 | 0.41 | 0.42 | XXX
94452 | TC | A | Hast w/report | 0.00 | 1.10 | 0.97 | NA | NA | 0.02 | 1.12 | 0.99 | NA | NA | XXX
94453 |  | A | Hast w/oxygen titrate | 0.40 | 1.66 | 1.55 | NA | NA | 0.04 | 2.10 | 1.99 | NA | NA | XXX
94453 | 26 | A | Hast w/oxygen titrate | 0.40 | 0.11 | 0.12 | 0.11 | 0.12 | 0.02 | 0.53 | 0.54 | 0.53 | 0.54 | XXX
94453 | TC | A | Hast w/oxygen titrate | 0.00 | 1.55 | 1.43 | NA | NA | 0.02 | 1.57 | 1.45 | NA | NA | XXX
94620 |  | A | Pulmonary stress test/simple | 0.64 | 0.86 | 2.09 | NA | NA | 0.13 | 1.63 | 2.86 | NA | NA | XXX
94620 | 26 | A | Pulmonary stress test/simple | 0.64 | 0.19 | 0.20 | 0.19 | 0.20 | 0.03 | 0.86 | 0.87 | 0.86 | 0.87 | XXX
94620 | TC | A | Pulmonary stress test/simple | 0.00 | 0.67 | 1.89 | NA | NA | 0.10 | 0.77 | 1.99 | NA | NA | XXX
94621 |  | A | Pulm stress test/complex | 1.42 | 3.17 | 2.45 | NA | NA | 0.16 | 4.75 | 4.03 | NA | NA | XXX
94621 | 26 | A | Pulm stress test/complex | 1.42 | 0.44 | 0.44 | 0.44 | 0.44 | 0.06 | 1.92 | 1.92 | 1.92 | 1.92 | XXX
94621 | TC | A | Pulm stress test/complex | 0.00 | 2.73 | 2.01 | NA | NA | 0.10 | 2.83 | 2.11 | NA | NA | XXX
94640 |  | A | Airway inhalation treatment | 0.00 | 0.36 | 0.32 | NA | NA | 0.02 | 0.38 | 0.34 | NA | NA | XXX
94656 |  | A | Initial ventilator mgmt | 1.22 | 1.11 | 1.15 | 0.23 | 0.30 | 0.06 | 2.39 | 2.43 | 1.51 | 1.58 | XXX
94657 |  | A | Continued ventilator mgmt | 0.83 | 1.13 | 1.02 | 0.19 | 0.24 | 0.04 | 2.00 | 1.89 | 1.06 | 1.11 | XXX
94660 |  | A | Pos airway pressure, CPAP | 0.76 | 0.81 | 0.69 | 0.19 | 0.22 | .04 | 1.61 | 1.49 | 0.99 | 1.02 | XXX
94662 |  | A | Neg press ventilation, cnp | 0.76 | NA | NA | 0.18 | 0.22 | 0.03 | NA | NA | 0.97 | 1.01 | XXX
94664 |  | A | Evaluate pt use of inhaler | 0.00 | 0.40 | 0.33 | NA | NA | 0.04 | 0.44 | 0.37 | NA | NA | XXX
94667 |  | A | Chest wall manipulation | 0.00 | 0.55 | 0.53 | NA | NA | 0.05 | 0.60 | 0.58 | NA | NA | XXX
94668 |  | A | Chest wall manipulation | 0.00 | 0.50 | 0.46 | NA | NA | 0.02 | 0.52 | 0.48 | NA | NA | XXX
94680 |  | A | Exhaled air analysis, o2 | 0.26 | 1.10 | 1.68 | NA | NA | 0.07 | 1.43 | 2.01 | NA | NA | XXX
94680 | 26 | A | Exhaled air analysis, o2 | 0.26 | 0.07 | 0.08 | 0.07 | 0.08 | 0.01 | 0.34 | 0.35 | 0.34 | 0.35 | XXX
94680 | TC | A | Exhaled air analysis, o2 | 0.00 | 1.03 | 1.60 | NA | NA | 0.06 | 1.09 | 1.66 | NA | NA | XXX
94681 |  | A | Exhaled air analysis, o2/co2 | 0.20 | 1.08 | 2.17 | NA | NA | 0.13 | 1.41 | 2.50 | NA | NA | XXX
94681 | 26 | A | Exhaled air analysis, o2/co2 | 0.20 | 0.05 | 0.06 | 0.05 | 0.06 | 0.01 | 0.26 | 0.27 | 0.26 | 0.27 | XXX
94681 | TC | A | Exhaled air analysis, o2/co2 | 0.00 | 1.03 | 2.11 | NA | NA | 0.12 | 1.15 | 2.23 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
94690 |  | A | Exhaled air analysis | 0.07 | 0.88 | 1.72 | NA | NA | 0.05 | 1.00 | 1.84 | NA | NA | XXX
94690 | 26 | A | Exhaled air analysis | 0.07 | 0.02 | 0.02 | 0.02 | 0.02 | 0.01 | 0.10 | 0.10 | 0.10 | 0.10 | XXX
94690 | TC | A | Exhaled air analysis | 0.00 | 0.86 | 1.70 | NA | NA | 0.04 | 0.90 | 1.74 | NA | NA | XXX
94720 |  | A | Monoxide diffusing capacity | 0.26 | 1.16 | 1.04 | NA | NA | 0.07 | 1.49 | 1.37 | NA | NA | XXX
94720 | 26 | A | Monoxide diffusing capacity | 0.26 | 0.06 | 0.08 | 0.06 | 0.08 | 0.01 | 0.33 | 0.35 | 0.33 | 0.35 | XXX
94720 | TC | A | Monoxide diffusing capacity | 0.00 | 1.10 | 0.97 | NA | NA | 0.06 | 1.16 | 1.03 | NA | NA | XXX
94725 |  | A | Membrane diffusion capacity | 0.26 | 1.07 | 2.46 | NA | NA | 0.13 | 1.46 | 2.85 | NA | NA | XXX
94725 | 26 | A | Membrane diffusion capacity | 0.26 | 0.09 | 0.08 | 0.09 | 0.08 | 0.01 | 0.36 | 0.35 | 0.36 | 0.35 | XXX
94725 | TC | A | Membrane diffusion capacity | 0.00 | 0.98 | 2.38 | NA | NA | 0.12 | 1.10 | 2.50 | NA | NA | XXX
94750 |  | A | Pulmonary compliance study | 0.23 | 1.85 | 1.47 | NA | NA | 0.05 | 2.13 | 1.75 | NA | NA | XXX
94750 | 26 | A | Pulmonary compliance study | 0.23 | 0.07 | 0.07 | 0.07 | 0.07 | 0.01 | 0.31 | 0.31 | 0.31 | 0.31 | XXX
94750 | TC | A | Pulmonary compliance study | 0.00 | 1.78 | 1.40 | NA | NA | 0.04 | 1.82 | 1.44 | NA | NA | XXX
94760 |  | T | Measure blood oxygen level | 0.00 | 0.06 | 0.05 | NA | NA | 0.02 | 0.08 | 0.07 | NA | NA | XXX
94761 |  | T | Measure blood oxygen level | 0.00 | 0.11 | 0.08 | NA | NA | 0.06 | 0.17 | 0.14 | NA | NA | XXX
94762 |  | A | Measure blood oxygen level | 0.00 | 0.93 | 0.59 | NA | NA | 0.10 | 1.03 | 0.69 | NA | NA | XXX
94770 |  | A | Exhaled carbon dioxide test | 0.15 | 0.83 | 0.77 | NA | NA | 0.08 | 1.06 | 1.00 | NA | NA | XXX
94770 | 26 | A | Exhaled carbon dioxide test | 0.15 | 0.04 | 0.04 | 0.04 | 0.04 | 0.01 | 0.20 | 0.20 | 0.20 | 0.20 | XXX
94770 | TC | A | Exhaled carbon dioxide test | 0.00 | 0.79 | 0.73 | NA | NA | 0.07 | 0.86 | 0.80 | NA | NA | XXX
95004 |  | A | Percut allergy skin tests | 0.00 | 0.16 | 0.12 | NA | NA | 0.01 | 0.17 | 0.13 | NA | NA | XXX
95010 |  | A | Percut allergy titrate test | 0.15 | 0.29 | 0.31 | 0.04 | 0.06 | 0.01 | 0.45 | 0.47 | 0.20 | 0.22 | XXX
95015 |  | A | Id allergy titrate-drug/bug | 0.15 | 0.20 | 0.16 | 0.04 | 0.06 | 0.01 | 0.36 | 0.32 | 0.20 | 0.22 | XXX
95024 |  | A | Id allergy test, drug/bug | 0.00 | 0.21 | 0.17 | NA | NA | 0.01 | 0.22 | 0.18 | NA | NA | XXX
95027 |  | A | Id allergy titrate-airborne | 0.00 | 0.24 | 0.17 | NA | NA | 0.01 | 0.25 | 0.18 | NA | NA | XXX
95028 |  | A | Id allergy test-delayed type | 0.00 | 0.29 | 0.25 | NA | NA | 0.01 | 0.30 | 0.26 | NA | NA | XXX
95044 |  | A | Allergy patch tests | 0.00 | 0.15 | 0.19 | NA | NA | 0.01 | 0.16 | 0.20 | NA | NA | XXX
95052 |  | A | Photo patch test | 0.00 | 0.15 | 0.23 | NA | NA | 0.01 | 0.16 | 0.24 | NA | NA | XXX
95056 |  | A | Photosensitivity tests | 0.00 | 1.19 | 0.43 | NA | NA | 0.01 | 1.20 | 0.44 | NA | NA | XXX
95060 |  | A | Eye allergy tests | 0.00 | 0.74 | 0.45 | NA | NA | 0.02 | 0.76 | 0.47 | NA | NA | XXX
95065 |  | A | Nose allergy test | 0.00 | 0.68 | 0.32 | NA | NA | 0.01 | 0.69 | 0.33 | NA | NA | XXX
95070 |  | A | Bronchial allergy tests | 0.00 | 0.79 | 1.92 | NA | NA | 0.02 | 0.81 | 1.94 | NA | NA | XXX
95071 |  | A | Bronchial allergy tests | 0.00 | 0.88 | 2.42 | NA | NA | 0.02 | 0.90 | 2.44 | NA | NA | XXX
95075 |  | A | Ingestion challenge test | 0.95 | 0.66 | 0.78 | 0.25 | 0.35 | 0.03 | 1.64 | 1.76 | 1.23 | 1.33 | XXX
95078 |  | A | Provocative testing | 0.00 | 0.34 | 0.27 | NA | NA | 0.02 | 0.36 | 0.29 | NA | NA | XXX
95115 |  | A | Immunotherapy, one injection | 0.00 | 0.22 | 0.35 | NA | NA | 0.02 | 0.24 | 0.37 | NA | NA | XXX
95117 |  | A | Immunotherapy injections | 0.00 | 0.27 | 0.44 | NA | NA | 0.02 | 0.29 | 0.46 | NA | NA | XXX
95144 |  | A | Antigen therapy services | 0.06 | 0.26 | 0.21 | 0.02 | 0.02 | 0.01 | 0.33 | 0.28 | 0.09 | 0.09 | XXX
95145 |  | A | Antigen therapy services | 0.06 | 0.35 | 0.33 | 0.02 | 0.02 | 0.01 | 0.42 | 0.40 | 0.09 | 0.09 | XXX
95146 |  | A | Antigen therapy services | 0.06 | 0.66 | 0.50 | 0.02 | 0.03 | 0.01 | 0.73 | 0.57 | 0.09 | 0.10 | XXX
95147 |  | A | Antigen therapy services | 0.06 | 0.64 | 0.48 | 0.02 | 0.02 | 0.01 | 0.71 | 0.55 | 0.09 | 0.09 | XXX
95148 |  | A | Antigen therapy services | 0.06 | 0.95 | 0.67 | 0.02 | 0.03 | 0.01 | 1.02 | 0.74 | 0.09 | 0.10 | XXX
95149 |  | A | Antigen therapy services | 0.06 | 1.27 | 0.92 | 0.02 | 0.03 | 0.01 | 1.34 | 0.99 | 0.09 | 0.10 | XXX
95165 |  | A | Antigen therapy services | 0.06 | 0.25 | 0.21 | 0.02 | 0.02 | 0.01 | 0.32 | 0.28 | 0.09 | 0.09 | XXX
95170 |  | A | Antigen therapy services | 0.06 | 0.20 | 0.15 | 0.02 | 0.03 | 0.01 | 0.27 | 0.22 | 0.09 | 0.10 | XXX
95180 |  | A | Rapid desensitization | 2.01 | 1.59 | 1.93 | 0.72 | 0.88 | 0.04 | 3.64 | 3.98 | 2.77 | 2.93 | XXX
95250 |  | A | Glucose monitoring, cont | 0.00 | 3.50 | 3.96 | NA | NA | 0.01 | 3.51 | 3.97 | NA | NA | XXX
95251 |  | A | Gluc monitor, cont, phys i&r | 0.52 | 0.16 | 0.18 | 0.16 | 0.18 | 0.02 | 0.70 | 0.72 | 0.70 | 0.72 | XXX
95805 |  | A | Multiple sleep latency test | 1.88 | 7.14 | 14.77 | NA | NA | 0.43 | 9.45 | 17.08 | NA | NA | XXX
95805 | 26 | A | Multiple sleep latency test | 1.88 | 0.49 | 0.62 | 0.49 | 0.62 | 0.09 | 2.46 | 2.59 | 2.46 | 2.59 | XXX
95805 | TC | A | Multiple sleep latency test | 0.00 | 6.65 | 14.15 | NA | NA | 0.34 | 6.99 | 14.49 | NA | NA | XXX
95806 |  | A | Sleep study, unattended | 1.66 | 3.97 | 3.50 | NA | NA | 0.39 | 6.02 | 5.55 | NA | NA | XXX
95806 | 26 | A | Sleep study, unattended | 1.66 | 0.48 | 0.53 | 0.48 | 0.53 | 0.08 | 2.22 | 2.27 | 2.22 | 2.27 | XXX
95806 | TC | A | Sleep study, unattended | 0.00 | 3.48 | 2.97 | NA | NA | 0.31 | 3.79 | 3.28 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
95807 |  | A | Sleep study, attended | 1.66 | 13.62 | 12.32 | NA | NA | 0.50 | 15.78 | 14.48 | NA | NA | XXX
95807 | 26 | A | Sleep study, attended | 1.66 | 0.48 | 0.52 | 0.48 | 0.52 | 0.08 | 2.22 | 2.26 | 2.22 | 2.26 | XXX
95807 | TC | A | Sleep study, attended | 0.00 | 13.14 | 11.80 | NA | NA | 0.42 | 13.56 | 12.22 | NA | NA | XXX
95808 |  | A | Polysomnography, 1-3 | 2.65 | 16.81 | 14.13 | NA | NA | 0.55 | 20.01 | 17.33 | NA | NA | XXX
95808 | 26 | A | Polysomnography, 1-3 | 2.65 | 0.66 | 0.86 | 0.66 | 0.86 | 0.13 | 3.44 | 3.64 | 3.44 | 3.64 | XXX
95808 | TC | A | Polysomnography, 1-3 | 0.00 | 16.15 | 13.27 | NA | NA | 0.42 | 16.57 | 13.69 | NA | NA | XXX
95810 |  | A | Polysomnography, 4 or more | 3.52 | 19.68 | 18.08 | NA | NA | 0.59 | 23.79 | 22.19 | NA | NA | XXX
95810 | 26 | A | Polysomnography, 4 or more | 3.52 | 0.94 | 1.12 | 0.94 | 1.12 | 0.17 | 4.63 | 4.81 | 4.63 | 4.81 | XXX
95810 | TC | A | Polysomnography, 4 or more | 0.00 | 18.74 | 16.96 | NA | NA | 0.42 | 19.16 | 17.38 | NA | NA | XXX
95811 |  | A | Polysomnography w/cpap | 3.79 | 21.86 | 19.90 | NA | NA | 0.61 | 26.26 | 24.30 | NA | NA | XXX
95811 | 26 | A | Polysomnography w/cpap | 3.79 | 1.00 | 1.20 | 1.00 | 1.20 | 0.18 | 4.97 | 5.17 | 4.97 | 5.17 | XXX
95811 | TC | A | Polysomnography w/cpap | 0.00 | 20.86 | 18.69 | NA | NA | 0.43 | 21.29 | 19.12 | NA | NA | XXX
95812 |  | A | Eeg, 41-60 minutes | 1.08 | 5.82 | 4.49 | NA | NA | 0.17 | 7.07 | 5.74 | NA | NA | XXX
95812 | 26 | A | Eeg, 41-60 minutes | 1.08 | 0.30 | 0.41 | 0.30 | 0.41 | 0.06 | 1.44 | 1.55 | 1.44 | 1.55 | XXX
95812 | TC | A | Eeg, 41-60 minutes | 0.00 | 5.53 | 4.08 | NA | NA | 0.11 | 5.64 | 4.19 | NA | NA | XXX
95813 |  | A | Eeg, over 1 hour | 1.73 | 6.55 | 5.41 | NA | NA | 0.20 | 8.48 | 7.34 | NA | NA | XXX
95813 | 26 | A | Eeg, over 1 hour | 1.73 | 0.48 | 0.65 | 0.48 | 0.65 | 0.09 | 2.30 | 2.47 | 2.30 | 2.47 | XXX
95813 | TC | A | Eeg, over 1 hour | 0.00 | 6.07 | 4.77 | NA | NA | 0.11 | 6.18 | 4.88 | NA | NA | XXX
95816 |  | A | Eeg, awake and drowsy | 1.08 | 5.22 | 4.10 | NA | NA | 0.16 | 6.46 | 5.34 | NA | NA | XXX
95816 | 26 | A | Eeg, awake and drowsy | 1.08 | 0.29 | 0.42 | 0.29 | 0.42 | 0.06 | 1.43 | 1.56 | 1.43 | 1.56 | XXX
95816 | TC | A | Eeg, awake and drowsy | 0.00 | 4.93 | 3.68 | NA | NA | 0.10 | 5.03 | 3.78 | NA | NA | XXX
95819 |  | A | Eeg, awake and asleep | 1.08 | 6.07 | 3.76 | NA | NA | 0.16 | 7.31 | 5.00 | NA | NA | XXX
95819 | 26 | A | Eeg, awake and asleep | 1.08 | 0.29 | 0.42 | 0.29 | 0.42 | 0.06 | 1.43 | 1.56 | 1.43 | 1.56 | XXX
95819 | TC | A | Eeg, awake and asleep | 0.00 | 5.77 | 3.34 | NA | NA | 0.10 | 87 | 3.44 | NA | NA | XXX
95822 |  | A | Eeg, coma or sleep only | 1.08 | 5.45 | 4.82 | NA | NA | 0.19 | 6.72 | 6.09 | NA | NA | XXX
95822 | 26 | A | Eeg, coma or sleep only | 1.08 | 0.29 | 0.42 | 0.29 | 0.42 | 0.06 | 1.43 | 1.56 | 1.43 | 1.56 | XXX
95822 | TC | A | Eeg, coma or sleep only | 0.00 | 5.16 | 4.40 | NA | NA | 0.13 | 5.29 | 4.53 | NA | NA | XXX
95824 | 26 | A | Eeg, cerebral death only | 0.74 | 0.20 | 0.28 | 0.20 | 0.28 | 0.04 | 0.98 | 1.06 | 0.98 | 1.06 | XXX
95827 |  | A | Eeg, all night recording | 1.08 | 11.40 | 4.88 | NA | NA | 0.19 | 12.67 | 6.15 | NA | NA | XXX
95827 | 26 | A | Eeg, all night recording | 1.08 | 0.28 | 0.38 | 0.28 | 0.38 | 0.05 | 1.41 | 1.51 | 1.41 | 1.51 | XXX
95827 | TC | A | Eeg, all night recording | 0.00 | 11.13 | 4.51 | NA | NA | 0.14 | 11.27 | 4.65 | NA | NA | XXX
95829 |  | A | Surgery electrocorticogram | 6.20 | 25.15 | 29.61 | NA | NA | 0.50 | 31.85 | 36.31 | NA | NA | XXX
95829 | 26 | A | Surgery electrocorticogram | 6.20 | 1.74 | 2.18 | 1.74 | 2.18 | 0.48 | 8.42 | 8.86 | 8.42 | 8.86 | XXX
95829 | TC | A | Surgery electrocorticogram | 0.00 | 23.41 | 27.43 | NA | NA | 0.02 | 23.43 | 27.45 | NA | NA | XXX
95830 |  | A | Insert electrodes for EEG | 1.70 | 2.94 | 3.21 | 0.40 | 0.65 | 0.11 | 4.75 | 5.02 | 2.21 | 2.46 | XXX
95831 |  | A | Limb muscle testing, manual | 0.28 | 0.38 | 0.44 | 0.09 | 0.12 | 0.01 | 0.67 | 0.73 | 0.38 | 0.41 | XXX
95832 |  | A | Hand muscle testing, manual | 0.29 | 0.36 | 0.34 | 0.09 | 0.11 | 0.02 | 0.67 | 0.65 | 0.40 | 0.42 | XXX
95833 |  | A | Body muscle testing, manual | 0.47 | 0.47 | 0.55 | 0.13 | 0.21 | 0.02 | 0.96 | 1.04 | 0.62 | 0.70 | XXX
95834 |  | A | Body muscle testing, manual | 0.60 | 0.55 | 0.61 | 0.17 | 0.25 | 0.03 | 1.18 | 1.24 | 0.80 | 0.88 | XXX
95851 |  | A | Range of motion measurements | 0.16 | 0.26 | 0.34 | 0.04 | 0.07 | 0.01 | 0.43 | 0.51 | 0.21 | 0.24 | XXX
95852 |  | A | Range of motion measurements | 0.11 | 0.21 | 0.25 | 0.03 | 0.05 | 0.01 | 0.33 | 0.37 | 0.15 | 0.17 | XXX
95857 |  | A | Tensilon test | 0.53 | 0.58 | 0.60 | 0.16 | 0.21 | 0.02 | 1.13 | 1.15 | 0.71 | 0.76 | XXX
95860 |  | A | Muscle test, one limb | 0.96 | 1.14 | 1.35 | NA | NA | 0.07 | 2.17 | 2.38 | NA | NA | XXX
95860 | 26 | A | Muscle test, one limb | 0.96 | 0.31 | 0.39 | 0.31 | 0.39 | 0.05 | 1.32 | 1.40 | 1.32 | 1.40 | XXX
95860 | TC | A | Muscle test, one limb | 0.00 | 0.83 | 0.96 | NA | NA | 0.02 | 0.85 | 0.98 | NA | NA | XXX
95861 |  | A | Muscle test, 2 limbs | 1.54 | 1.64 | 1.47 | NA | NA | 0.13 | 3.31 | 3.14 | NA | NA | XXX
95861 | 26 | A | Muscle test, 2 limbs | 1.54 | 0.49 | 0.63 | 0.49 | 0.63 | 0.07 | 2.10 | 2.24 | 2.10 | 2.24 | XXX
95861 | TC | A | Muscle test, 2 limbs | 0.00 | 1.15 | 0.84 | NA | NA | 0.06 | 1.21 | 0.90 | NA | NA | XXX
95863 |  | A | Muscle test, 3 limbs | 1.87 | 1.90 | 1.78 | NA | NA | 0.15 | 3.92 | 3.80 | NA | NA | XXX
95863 | 26 | A | Muscle test, 3 limbs | 1.87 | 0.56 | 0.74 | 0.56 | 0.74 | 0.09 | 2.52 | 2.70 | 2.52 | 2.70 | XXX
95863 | TC | A | Muscle test, 3 limbs | 0.00 | 1.34 | 1.04 | NA | NA | 0.06 | 1.40 | 1.10 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
95864 |  | A | Muscle test, 4 limbs | 1.99 | 2.16 | 2.54 | NA | NA | 0.21 | 4.36 | 4.74 | NA | NA | XXX
95864 | 26 | A | Muscle test, 4 limbs | 1.99 | 0.61 | 0.81 | 0.61 | 0.81 | 0.09 | 2.69 | 2.89 | 2.69 | 2.89 | XXX
95864 | TC | A | Muscle test, 4 limbs | 0.00 | 1.55 | 1.73 | NA | NA | 0.12 | 1.67 | 1.85 | NA | NA | XXX
95865 |  | A | Muscle test, larynx | 1.57 | 1.32 | 1.42 | NA | NA | 0.11 | 3.00 | 3.10 | NA | NA | XXX
95865 | 26 | A | Muscle test, larynx | 1.57 | 0.45 | 0.69 | 0.45 | 0.69 | 0.08 | 2.10 | 2.34 | 2.10 | 2.34 | XXX
95865 | TC | A | Muscle test, larynx | 0.00 | 0.87 | 0.73 | NA | NA | 0.03 | 0.90 | 0.76 | NA | NA | XXX
95866 |  | A | Muscle test, hemidiaphragm | 1.25 | 1.31 | 0.90 | NA | NA | 0.10 | 2.66 | 2.25 | NA | NA | XXX
95866 | 26 | A | Muscle test, hemidiaphragm | 1.25 | 0.39 | 0.52 | 0.39 | 0.52 | 0.07 | 1.71 | 1.84 | 1.71 | 1.84 | XXX
95866 | TC | A | Muscle test, hemidiaphragm | 0.00 | 0.92 | 0.38 | NA | NA | 0.03 | 0.95 | 0.41 | NA | NA | XXX
95867 |  | A | Muscle test cran nerv unilat | 0.79 | 1.10 | 0.97 | NA | NA | 0.07 | 1.96 | 1.83 | NA | NA | XXX
95867 | 26 | A | Muscle test cran nerv unilat | 0.79 | 0.22 | 0.32 | 0.22 | 0.32 | 0.03 | 1.04 | 1.14 | 1.04 | 1.14 | XXX
95867 | TC | A | Muscle test cran nerv unilat | 0.00 | 0.88 | 0.66 | NA | NA | 0.04 | 0.92 | 0.70 | NA | NA | XXX
95868 |  | A | Muscle test cran nerve bilat | 1.18 | 1.40 | 1.26 | NA | NA | 0.10 | 2.68 | 2.54 | NA | NA | XXX
95868 | 26 | A | Muscle test cran nerve bilat | 1.18 | 0.34 | 0.47 | 0.34 | 0.47 | 0.05 | 1.57 | 1.70 | 1.57 | 1.70 | XXX
95868 | TC | A | Muscle test cran nerve bilat | 0.00 | 1.07 | 0.79 | NA | NA | 0.05 | 1.12 | 0.84 | NA | NA | XXX
95869 |  | A | Muscle test, thor paraspinal | 0.37 | 1.02 | 0.53 | NA | NA | 0.04 | 1.43 | 0.94 | NA | NA | XXX
95869 | 26 | A | Muscle test, thor paraspinal | 0.37 | 0.11 | 0.15 | 0.11 | 0.15 | 0.02 | 0.50 | 0.54 | 0.50 | 0.54 | XXX
95869 | TC | A | Muscle test, thor paraspinal | 0.00 | 0.90 | 0.38 | NA | NA | 0.02 | 0.92 | 0.40 | NA | NA | XXX
95870 |  | A | Muscle test, nonparaspinal | 0.37 | 0.98 | 0.52 | NA | NA | 0.04 | 1.39 | 0.93 | NA | NA | XXX
95870 | 26 | A | Muscle test, nonparaspinal | 0.37 | 0.11 | 0.15 | 0.11 | 0.15 | 0.02 | 0.50 | 0.54 | 0.50 | 0.54 | XXX
95870 | TC | A | Muscle test, nonparaspinal | 0.00 | 0.87 | 0.38 | NA | NA | 0.02 | 0.89 | 0.40 | NA | NA | XXX
95872 |  | A | Muscle test, one fiber | 2.00 | 1.39 | 1.27 | NA | NA | 0.13 | 3.52 | 3.40 | NA | NA | XXX
95872 | 26 | A | Muscle test, one fiber | 2.00 | 0.62 | 0.63 | 0.62 | 0.63 | 0.08 | 2.70 | 2.71 | 2.70 | 2.71 | XXX
95872 | TC | A | Muscle test, one fiber | 0.00 | 0.77 | 0.64 | NA | NA | 0.05 | 0.82 | 0.69 | NA | NA | XXX
95873 |  | A | Guide nerv destr, elec stim | 0.37 | 0.94 | 0.51 | NA | NA | 0.04 | 1.35 | 0.92 | NA | NA | ZZZ
95873 | 26 | A | Guide nerv destr, elec stim | 0.37 | 0.11 | 0.15 | 0.11 | 0.15 | 0.02 | 0.50 | 0.54 | 0.50 | 0.54 | ZZZ
95873 | TC | A | Guide nerv destr, elec stim | 0.00 | 0.82 | 0.36 | NA | NA | 0.02 | 0.84 | 0.38 | NA | NA | ZZZ
95874 |  | A | Guide nerv destr, needle emg | 0.37 | 0.95 | 0.52 | NA | NA | 0.04 | 1.36 | 0.93 | NA | NA | ZZZ
95874 | 26 | A | Guide nerv destr, needle emg | 0.37 | 0.12 | 0.16 | 0.12 | 0.16 | 0.02 | 0.51 | 0.55 | 0.51 | 0.55 | ZZZ
95874 | TC | A | Guide nerv destr, needle emg | 0.00 | 0.83 | 0.36 | NA | NA | 0.02 | 0.85 | 0.38 | NA | NA | ZZZ
95875 |  | A | Limb exercise test | 1.10 | 1.29 | 1.41 | NA | NA | 0.11 | 2.50 | 2.62 | NA | NA | XXX
95875 | 26 | A | Limb exercise test | 1.10 | 0.31 | 0.43 | 0.31 | 0.43 | 0.05 | 1.46 | 1.58 | 1.46 | 1.58 | XXX
95875 | TC | A | Limb exercise test | 0.00 | 0.99 | 0.98 | NA | NA | 0.06 | 1.05 | 1.04 | NA | NA | XXX
95900 |  | A | Motor nerve conduction test | 0.42 | 0.93 | 1.18 | NA | NA | 0.04 | 1.39 | 1.64 | NA | NA | XXX
95900 | 26 | A | Motor nerve conduction test | 0.42 | 0.14 | 0.17 | 0.14 | 0.17 | 0.02 | 0.58 | 0.61 | 0.58 | 0.61 | XXX
95900 | TC | A | Motor nerve conduction test | 0.00 | 0.79 | 1.01 | NA | NA | 0.02 | 0.81 | 1.03 | NA | NA | XXX
95903 |  | A | Motor nerve conduction test | 0.60 | 1.02 | 1.15 | NA | NA | 0.05 | 1.67 | 1.80 | NA | NA | XXX
95903 | 26 | A | Motor nerve conduction test | 0.60 | 0.17 | 0.24 | 0.17 | 0.24 | 0.03 | 0.80 | 0.87 | 0.80 | 0.87 | XXX
95903 | TC | A | Motor nerve conduction test | 0.00 | 0.85 | 0.91 | NA | NA | 0.02 | 0.87 | 0.93 | NA | NA | XXX
95904 |  | A | Sense nerve conduction test | 0.34 | 0.86 | 1.03 | NA | NA | 0.04 | 1.24 | 1.41 | NA | NA | XXX
95904 | 26 | A | Sense nerve conduction test | 0.34 | 0.10 | 0.14 | 0.10 | 0.14 | 0.02 | 0.46 | 0.50 | 0.46 | 0.50 | XXX
95904 | TC | A | Sense nerve conduction test | 0.00 | 0.76 | 0.90 | NA | NA | 0.02 | 0.78 | 0.92 | NA | NA | XXX
95920 |  | A | Intraop nerve test add-on | 2.11 | 1.76 | 2.12 | NA | NA | 0.23 | 4.10 | 4.46 | NA | NA | ZZZ
95920 | 26 | A | Intraop nerve test add-on | 2.11 | 0.64 | 0.86 | 0.64 | 0.86 | 0.16 | 2.91 | 3.13 | 2.91 | 3.13 | ZZZ
95920 | TC | A | Intraop nerve test add-on | 0.00 | 1.12 | 1.26 | NA | NA | 0.07 | 1.19 | 1.33 | NA | NA | ZZZ
95921 |  | A | Autonomic nerv function test | 0.90 | 1.12 | 0.81 | NA | NA | 0.06 | 2.08 | 1.77 | NA | NA | XXX
95921 | 26 | A | Autonomic nerv function test | 0.90 | 0.24 | 0.31 | 0.24 | 0.31 | 0.04 | 1.18 | 1.25 | 1.18 | 1.25 | XXX
95921 | TC | A | Autonomic nerv function test | 0.00 | 0.89 | 0.51 | NA | NA | 0.02 | 0.91 | 0.53 | NA | NA | XXX
95922 |  | A | Autonomic nerv function test | 0.96 | 1.63 | 0.99 | NA | NA | 0.07 | 2.66 | 2.02 | NA | NA | XXX
95922 | 26 | A | Autonomic nerv function test | 0.96 | 0.27 | 0.37 | 0.27 | 0.37 | 0.05 | 1.28 | 1.38 | 1.28 | 1.38 | XXX
95922 | TC | A | Autonomic nerv function test | 0.00 | 1.37 | 0.63 | NA | NA | 0.02 | 1.39 | 0.65 | NA | NA | XXX
95923 |  | A | Autonomic nerv function test | 0.90 | 2.10 | 1.98 | NA | NA | 0.07 | 3.07 | 2.95 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
95923 | 26 | A | Autonomic nerv function test | 0.90 | 0.23 | 0.34 | 0.23 | 0.34 | 0.05 | 1.18 | 1.29 | 1.18 | 1.29 | XXX
95923 | TC | A | Autonomic nerv function test | 0.00 | 1.87 | 1.64 | NA | NA | 0.02 | 1.89 | 1.66 | NA | NA | XXX
95925 |  | A | Somatosensory testing | 0.54 | 3.15 | 1.64 | NA | NA | 0.10 | 3.79 | 2.28 | NA | NA | XXX
95925 | 26 | A | Somatosensory testing | 0.54 | 0.16 | 0.21 | 0.16 | 0.21 | 0.04 | 0.74 | 0.79 | 0.74 | 0.79 | XXX
95925 | TC | A | Somatosensory testing | 0.00 | 2.99 | 1.43 | NA | NA | 0.06 | 3.05 | 1.49 | NA | NA | XXX
95926 |  | A | Somatosensory testing | 0.54 | 3.00 | 1.61 | NA | NA | 0.09 | 3.63 | 2.24 | NA | NA | XXX
95926 | 26 | A | Somatosensory testing | 0.54 | 0.15 | 0.21 | 0.15 | 0.21 | 0.03 | 0.72 | 0.78 | 0.72 | 0.78 | XXX
95926 | TC | A | Somatosensory testing | 0.00 | 2.85 | 1.40 | NA | NA | 0.06 | 2.91 | 1.46 | NA | NA | XXX
95927 |  | A | Somatosensory testing | 0.54 | 3.04 | 1.63 | NA | NA | 0.10 | 3.68 | 2.27 | NA | NA | XXX
95927 | 26 | A | Somatosensory testing | 0.54 | 0.15 | 0.23 | 0.15 | 0.23 | 0.04 | 0.73 | 0.81 | 0.73 | 0.81 | XXX
95927 | TC | A | Somatosensory testing | 0.00 | 2.88 | 1.40 | NA | NA | 0.06 | 2.94 | 1.46 | NA | NA | XXX
95928 |  | A | C motor evoked, uppr limbs | 1.50 | 3.93 | 3.26 | NA | NA | 0.09 | 5.52 | 4.85 | NA | NA | XXX
95928 | 26 | A | C motor evoked, uppr limbs | 1.50 | 0.44 | 0.60 | 0.44 | 0.60 | 0.06 | 2.00 | 2.16 | 2.00 | 2.16 | XXX
95928 | TC | A | C motor evoked, uppr limbs | 0.00 | 3.48 | 2.66 | NA | NA | 0.03 | 3.51 | 2.69 | NA | NA | XXX
95929 |  | A | C motor evoked, lwr limbs | 1.50 | 4.24 | 3.48 | NA | NA | 0.09 | 5.83 | 5.07 | NA | NA | XXX
95929 | 26 | A | C motor evoked, lwr limbs | 1.50 | 0.44 | 0.60 | 0.44 | 0.60 | 0.06 | 2.00 | 2.16 | 2.00 | 2.16 | XXX
95930 |  | A | Visual evoked potential test | 0.35 | 2.60 | 2.34 | NA | NA | 0.03 | 2.98 | 2.72 | NA | NA | XXX
95930 | 26 | A | Visual evoked potential test | 0.35 | 0.10 | 0.14 | 0.10 | 0.14 | 0.02 | 0.47 | 0.51 | 0.47 | 0.51 | XXX
95930 | TC | A | Visual evoked potential test | 0.00 | 2.50 | 2.20 | NA | NA | 0.01 | 2.51 | 2.21 | NA | NA | XXX
95933 |  | A | Blink reflex test | 0.59 | 1.08 | 1.04 | NA | NA | 0.10 | 1.77 | 1.73 | NA | NA | XXX
95933 | 26 | A | Blink reflex test | 0.59 | 0.17 | 0.22 | 0.17 | 0.22 | 0.04 | 0.80 | 0.85 | 0.80 | 0.85 | XXX
95933 | TC | A | Blink reflex test | 0.00 | 0.92 | 0.82 | NA | NA | 0.06 | 0.98 | 0.88 | NA | NA | XXX
95934 |  | A | H-reflex test | 0.51 | 0.88 | 0.54 | NA | NA | 0.04 | 1.43 | 1.09 | NA | NA | XXX
95934 | 26 | A | H-reflex test | 0.51 | 0.16 | 0.21 | 0.16 | 0.21 | 0.02 | 0.69 | 0.74 | 0.69 | 0.74 | XXX
95934 | TC | A | H-reflex test | 0.00 | 0.72 | 0.34 | NA | NA | 0.02 | 0.74 | 0.36 | NA | NA | XXX
95936 |  | A | H-reflex test | 0.55 | 0.60 | 0.49 | NA | NA | 0.05 | 1.20 | 1.09 | NA | NA | XXX
95936 | 26 | A | H-reflex test | 0.55 | 0.17 | 0.22 | 0.17 | 0.22 | 0.03 | 0.75 | 0.80 | 0.75 | 0.80 | XXX
95936 | TC | A | H-reflex test | 0.00 | 0.44 | 0.27 | NA | NA | 0.02 | 0.46 | 0.29 | NA | NA | XXX
95937 |  | A | Neuromuscular junction test | 0.65 | 0.90 | 0.68 | NA | NA | 0.10 | 1.65 | 1.43 | NA | NA | XXX
95937 | 26 | A | Neuromuscular junction test | 0.65 | 0.19 | 0.25 | 0.19 | 0.25 | 0.08 | 0.92 | 0.98 | 0.92 | 0.98 | XXX
95937 | TC | A | Neuromuscular junction test | 0.00 | 0.71 | 0.43 | NA | NA | 0.02 | 0.73 | 0.45 | NA | NA | XXX
95950 |  | A | Ambulatory eeg monitoring | 1.51 | 4.87 | 4.17 | NA | NA | 0.51 | 6.89 | 6.19 | NA | NA | XXX
95950 | 26 | A | Ambulatory eeg monitoring | 1.51 | 0.40 | 0.58 | 0.40 | 0.58 | 0.08 | 1.99 | 2.17 | 1.99 | 2.17 | XXX
95950 | TC | A | Ambulatory eeg monitoring | 0.00 | 4.46 | 3.59 | NA | NA | 0.43 | 4.89 | 4.02 | NA | NA | XXX
95951 | 26 | A | EEG monitoring/videorecord | 5.99 | 1.63 | 2.33 | 1.63 | 2.33 | 0.32 | 7.94 | 8.64 | 7.94 | 8.64 | XXX
95953 |  | A | EEG monitoring/computer | 3.30 | 7.13 | 7.51 | NA | NA | 0.60 | 11.03 | 11.41 | NA | NA | XXX
95953 | 26 | A | EEG monitoring/computer | 3.30 | 0.90 | 1.19 | 0.90 | 1.19 | 0.17 | 4.37 | 4.66 | 4.37 | 4.66 | XXX
95953 | TC | A | EEG monitoring/computer | 0.00 | 6.23 | 6.32 | NA | NA | 0.43 | 6.66 | 6.75 | NA | NA | XXX
95954 |  | A | EEG monitoring/giving drugs | 2.45 | 4.85 | 4.39 | NA | NA | 0.19 | 7.49 | 7.03 | NA | NA | XXX
95954 | 26 | A | EEG monitoring/giving drugs | 2.45 | 0.50 | 0.91 | 0.50 | 0.91 | 0.13 | 3.08 | 3.49 | 3.08 | 3.49 | XXX
95954 | TC | A | EEG monitoring/giving drugs | 0.00 | 4.35 | 3.48 | NA | NA | 0.06 | 4.41 | 3.54 | NA | NA | XXX
95955 |  | A | EEG during surgery | 1.01 | 3.51 | 2.63 | NA | NA | 0.22 | 4.74 | 3.86 | NA | NA | XXX
95955 | 26 | A | EEG during surgery | 1.01 | 0.28 | 0.34 | 0.28 | 0.34 | 0.05 | 1.34 | 1.40 | 1.34 | 1.40 | XXX
95955 | TC | A | EEG during surgery | 0.00 | 3.23 | 2.29 | NA | NA | 0.17 | 3.40 | 2.46 | NA | NA | XXX
95956 |  | A | Eeg monitoring, cable/radio | 3.08 | 16.73 | 15.77 | NA | NA | 0.59 | 20.40 | 19.44 | NA | NA | XXX
95956 | 26 | A | Eeg monitoring, cable/radio | 3.08 | 0.97 | 1.22 | 0.97 | 1.22 | 0.16 | 4.21 | 4.46 | 4.21 | 4.46 | XXX
95956 | TC | A | Eeg monitoring, cable/radio | 0.00 | 15.76 | 14.55 | NA | NA | 0.43 | 16.19 | 14.98 | NA | NA | XXX
95957 |  | A | EEG digital analysis | 1.98 | 5.80 | 3.36 | NA | NA | 0.23 | 8.01 | 5.57 | NA | NA | XXX
95957 | 26 | A | EEG digital analysis | 1.98 | 0.54 | 0.77 | 0.54 | 0.77 | 0.11 | 2.63 | 2.86 | 2.63 | 2.86 | XXX
95957 | TC | A | EEG digital analysis | 0.00 | 5.26 | 2.59 | NA | NA | 0.12 | 5.38 | 2.71 | NA | NA | XXX
95958 |  | A | EEG monitoring/function test | 4.24 | 6.67 | 4.29 | NA | NA | 0.34 | 11.25 | 8.87 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
95958 | 26 | A | EEG monitoring/function test | 4.24 | 1.21 | 1.62 | 1.21 | 1.62 | 0.21 | 5.66 | 6.07 | 5.66 | 6.07 | XXX
95958 | TC | A | EEG monitoring/function test | 0.00 | 5.46 | 2.68 | NA | NA | 0.13 | 5.59 | 2.81 | NA | NA | XXX
95961 |  | A | Electrode stimulation, brain | 2.97 | 3.06 | 2.74 | NA | NA | 0.55 | 6.58 | 6.26 | NA | NA | XXX
95961 | 26 | A | Electrode stimulation, brain | 2.97 | 0.87 | 1.21 | 0.87 | 1.21 | 0.48 | 4.32 | 4.66 | 4.32 | 4.66 | XXX
95961 | TC | A | Electrode stimulation, brain | 0.00 | 2.19 | 1.53 | NA | NA | 0.07 | 2.26 | 1.60 | NA | NA | XXX
95962 |  | A | Electrode stim, brain add-on | 3.21 | 2.16 | 2.57 | NA | NA | 0.39 | 5.76 | 6.17 | NA | NA | ZZZ
95962 | 26 | A | Electrode stim, brain add-on | 3.21 | 0.88 | 1.26 | 0.88 | 1.26 | 0.32 | 4.41 | 4.79 | 4.41 | 4.79 | ZZZ
95962 | TC | A | Electrode stim, brain add-on | 0.00 | 1.28 | 1.30 | NA | NA | 0.07 | 1.35 | 1.37 | NA | NA | ZZZ
95965 | 26 | A | Meg, spontaneous | 7.99 | 2.23 | 3.13 | 2.23 | 3.13 | 0.46 | 10.68 | 11.58 | 10.68 | 11.58 | XXX
95966 | 26 | A | Meg, evoked, single | 3.99 | 1.26 | 1.60 | 1.26 | 1.60 | 0.19 | 5.44 | 5.78 | 5.44 | 5.78 | XXX
95967 | 26 | A | Meg, evoked, each addIl | 3.49 | 1.10 | 1.16 | 1.10 | 1.16 | 0.16 | 4.75 | 4.81 | 4.75 | 4.81 | ZZZ
95970 |  | A | Analyze neurostim, no prog | 0.45 | 0.88 | 0.86 | 0.12 | 0.14 | 0.03 | 1.36 | 1.34 | 0.60 | 0.62 | XXX
95971 |  | A | Analyze neurostim, simple | 0.78 | 0.62 | 0.67 | 0.20 | 0.22 | 0.07 | 1.47 | 1.52 | 1.05 | 1.07 | XXX
95972 |  | A | Analyze neurostim, complex | 1.50 | 1.20 | 1.21 | 0.46 | 0.48 | 0.14 | 2.84 | 2.85 | 2.10 | 2.12 | XXX
95973 |  | A | Analyze neurostim, complex | 0.92 | 0.55 | 0.60 | 0.24 | 0.32 | 0.07 | 1.54 | 1.59 | 1.23 | 1.31 | ZZZ
95974 |  | A | Cranial neurostim, complex | 3.00 | 1.45 | 1.64 | 0.82 | 1.18 | 0.16 | 4.61 | 4.80 | 3.98 | 4.34 | XXX
95975 |  | A | Cranial neurostim, complex | 1.70 | 0.72 | 0.85 | 0.46 | 0.66 | 0.12 | 2.54 | 2.67 | 2.28 | 2.48 | ZZZ
95978 |  | A | Analyze neurostim brain/1h | 3.50 | 1.81 | 1.91 | 1.02 | 1.23 | 0.18 | 5.49 | 5.59 | 4.70 | 4.91 | XXX
95979 |  | A | Analyz neurostim brain addon | 1.64 | 0.71 | 0.83 | 0.45 | 0.63 | 0.08 | 2.43 | 2.55 | 2.17 | 2.35 | ZZZ
95990 |  | A | Spin/brain pump refil & main | 0.00 | 1.65 | 1.54 | NA | NA | 0.06 | 1.71 | 1.60 | NA | NA | XXX
95991 |  | A | Spin/brain pump refil & main | 0.77 | 1.66 | 1.51 | 0.18 | 0.17 | 0.06 | 2.49 | 2.34 | 1.01 | 1.00 | XXX
96000 |  | A | Motion analysis, video/3d | 1.80 | NA | NA | 0.58 | 0.54 | 0.11 | NA | NA | 2.49 | 2.45 | XXX
96001 |  | A | Motion test w/ft press meas | 2.15 | NA | NA | 0.51 | 0.62 | 0.10 | NA | NA | 2.76 | 2.87 | XXX
96002 |  | A | Dynamic surface emg | 0.41 | NA | NA | 0.10 | 0.14 | 0.02 | NA | NA | 0.53 | 0.57 | XXX
96003 |  | A | Dynamic fine wire emg | 0.37 | NA | NA | 0.14 | 0.13 | 0.02 | NA | NA | 0.53 | 0.52 | XXX
96004 |  | A | Phys review of motion tests | 2.14 | 0.52 | 0.84 | 0.52 | 0.84 | 0.11 | 2.77 | 3.09 | 2.77 | 3.09 | XXX
96101 |  | A | Psycho testing by psych/phys | 1.86 | 0.34 | 0.57 | 0.32 | 0.55 | 0.05 | 2.25 | 2.48 | 2.23 | 2.46 | XXX
96102 |  | A | Psycho testing by technician | 0.50 | 1.17 | 0.79 | 0.09 | 0.15 | 0.01 | 1.68 | 1.30 | 0.60 | 0.66 | XXX
96103 |  | A | Psycho testing admin by comp | 0.51 | 0.12 | 0.19 | 0.09 | 0.15 | 0.02 | 0.65 | 0.72 | 0.62 | 0.68 | XXX
96105 |  | A | Assessment of aphasia | 0.00 | 2.04 | 1.84 | NA | NA | 0.18 | 2.22 | 2.02 | NA | NA | XXX
96110 |  | A | Developmental test, lim | 0.00 | 0.18 | 0.18 | NA | NA | 0.18 | 0.36 | 0.36 | NA | NA | XXX
96111 |  | A | Developmental test, extend | 2.60 | 0.64 | 0.95 | NA | NA | 0.18 | 3.42 | 3.73 | NA | NA | XXX
96116 |  | A | Neurobehavioral status exam | 1.86 | 0.52 | 0.75 | 0.41 | 0.58 | 0.18 | 2.56 | 2.79 | 2.45 | 2.62 | XXX
96118 |  | A | Neuropsych tst by psych/phys | 1.86 | 0.79 | 1.24 | 0.31 | 0.55 | 0.18 | 2.83 | 3.28 | 2.35 | 2.59 | XXX
96119 |  | A | Neuropsych testing by tech | 0.55 | 1.49 | 1.14 | 0.09 | 0.17 | 0.18 | 2.22 | 1.87 | 0.82 | 0.90 | XXX
96120 |  | A | Neuropsych tst admin w/comp | 0.51 | 0.77 | 0.75 | 0.09 | 0.15 | 0.02 | 1.30 | 1.28 | 0.62 | 0.68 | XXX
96150 |  | A | Assess hlth/behave, init | 0.50 | 0.10 | 0.16 | 0.09 | 0.16 | 0.01 | 0.61 | 0.67 | 0.60 | 0.67 | XXX
96151 |  | A | Assess hlth/behave, subseq | 0.48 | 0.09 | 0.16 | 0.08 | 0.15 | 0.01 | 0.58 | 0.65 | 0.57 | 0.64 | XXX
96152 |  | A | Intervene hlth/behave, indiv | 0.46 | 0.09 | 0.15 | 0.08 | 0.14 | 0.01 | 0.56 | 0.62 | 0.55 | 0.61 | XXX
96153 |  | A | Intervene hlth/behave, group | 0.10 | 0.02 | 0.04 | 0.02 | 0.03 | 0.01 | 0.13 | 0.15 | 0.13 | 0.14 | XXX
96154 |  | A | Interv hlth/behav, fam w/pt | 0.45 | 0.09 | 0.15 | 0.08 | 0.14 | 0.01 | 0.55 | 0.61 | 0.54 | 0.60 | XXX
96155 |  | N | Interv hlth/behav fam no pt | 0.44 | 0.10 | 0.16 | 0.10 | 0.15 | 0.02 | 0.56 | 0.62 | 0.56 | 0.61 | XXX
96401 |  | A | Chemo, anti-neopl, sq/im | 0.21 | 1.88 | 1.35 | NA | NA | 0.01 | 2.10 | 1.57 | NA | NA | XXX
96402 |  | A | Chemo hormon antineopl sq/im | 0.19 | 0.73 | 0.94 | NA | NA | 0.01 | 0.93 | 1.14 | NA | NA | XXX
96405 |  | A | Chemo intralesional, up to 7 | 0.52 | 3.53 | 2.71 | 0.22 | 0.24 | 0.03 | 4.08 | 3.26 | 0.77 | 0.79 | 000
96406 |  | A | Chemo intralesional over 7 | 0.80 | 3.27 | 3.08 | 0.27 | 0.29 | 0.03 | 4.10 | 3.91 | 1.10 | 1.12 | 000
96409 |  | A | Chemo, iv push, sngl drug | 0.24 | 2.81 | 2.90 | NA | NA | 0.06 | 3.11 | 3.20 | NA | NA | XXX
96411 |  | A | Chemo, iv push, addl drug | 0.20 | 1.51 | 1.59 | NA | NA | 0.06 | 1.77 | 1.85 | NA | NA | ZZZ
96413 |  | A | Chemo, iv infusion, 1 hr | 0.28 | 3.66 | 4.07 | NA | NA | 0.08 | 4.02 | 4.43 | NA | NA | XXX
96415 |  | A | Chemo, iv infusion, addl hr | 0.19 | 0.66 | 0.74 | NA | NA | 0.07 | 0.92 | 1.00 | NA | NA | ZZZ
96416 |  | A | Chemo prolong infuse w/pump | 0.21 | 4.12 | 4.49 | NA | NA | 0.08 | 4.41 | 4.78 | NA | NA | XXX
96417 |  | A | Chemo iv infus each addl seq | 0.21 | 1.74 | 1.90 | NA | NA | 0.07 | 2.02 | 2.18 | NA | NA | ZZZ
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
96420 |  | A | Chemo, ia, push tecnique | 0.17 | 2.74 | 2.69 | NA | NA | 0.08 | 2.99 | 2.94 | NA | NA | XXX
96422 |  | A | Chemo ia infusion up to 1 hr | 0.17 | 3.63 | 4.54 | NA | NA | 0.08 | 3.88 | 4.79 | NA | NA | XXX
96423 |  | A | Chemo ia infuse each addl hr | 0.17 | 1.88 | 1.89 | NA | NA | 0.02 | 2.07 | 2.08 | NA | NA | ZZZ
96425 |  | A | Chemotherapy,infusion method | 0.17 | 4.56 | 4.50 | NA | NA | 0.08 | 4.81 | 4.75 | NA | NA | XXX
96440 |  | A | Chemotherapy, intracavitary | 2.37 | 5.55 | 7.50 | 0.98 | 1.17 | 0.17 | 8.09 | 10.04 | 3.52 | 3.71 | 000
96445 |  | A | Chemotherapy, intracavitary | 2.20 | 5.44 | 7.40 | 0.93 | 1.12 | 0.14 | 7.78 | 9.74 | 3.27 | 3.46 | 000
96450 |  | A | Chemotherapy, into CNS | 1.53 | 5.11 | 6.51 | 0.85 | 1.18 | 0.09 | 6.73 | 8.13 | 2.47 | 2.80 | 000
96521 |  | A | Refill/maint, portable pump | 0.21 | 3.17 | 3.62 | NA | NA | 0.06 | 3.44 | 3.89 | NA | NA | XXX
96522 |  | A | Refill/maint pump/resvr syst | 0.21 | 2.76 | 2.68 | NA | NA | 0.06 | 3.03 | 2.95 | NA | NA | XXX
96523 |  | T | Irrig drug delivery device | 0.04 | 0.65 | 0.68 | NA | NA | 0.01 | 0.70 | 0.73 | NA | NA | XXX
96542 |  | A | Chemotherapy injection | 0.75 | 3.59 | 4.09 | 0.33 | 0.58 | 0.07 | 4.41 | 4.91 | 1.15 | 1.40 | XXX
96567 |  | A | Photodynamic tx, skin | 0.00 | 3.70 | 2.40 | NA | NA | 0.04 | 3.74 | 2.44 | NA | NA | XXX
96570 |  | A | Photodynamic tx, 30 min | 1.10 | NA | NA | 0.42 | 0.38 | 0.11 | NA | NA | 1.63 | 1.59 | ZZZ
96571 |  | A | Photodynamic tx, addl 15 min | 0.55 | NA | NA | 0.20 | 0.19 | 0.03 | NA | NA | 0.78 | 0.77 | ZZZ
96900 |  | A | Ultraviolet light therapy | 0.00 | 0.56 | 0.47 | NA | NA | 0.02 | 0.58 | 0.49 | NA | NA | XXX
96902 |  | B | Trichogram | 0.41 | 0.11 | 0.16 | 0.09 | 0.14 | 0.01 | 0.53 | 0.58 | 0.51 | 0.56 | XXX
96910 |  | A | Photochemotherapy with UV-B | 0.00 | 1.98 | 1.24 | NA | NA | 0.04 | 2.02 | 1.28 | NA | NA | XXX
96912 |  | A | Photochemotherapy with UV-A | 0.00 | 2.55 | 1.58 | NA | NA | 0.05 | 2.60 | 1.63 | NA | NA | XXX
96913 |  | A | Photochemotherapy, UV-A or B | 0.00 | 3.60 | 2.16 | NA | NA | 0.10 | 3.70 | 2.26 | NA | NA | XXX
96920 |  | A | Laser tx, skin < 250 sq cm | 1.15 | 3.54 | 2.79 | 0.55 | 0.56 | 0.02 | 4.71 | 3.96 | 1.72 | 1.73 | 000
96921 |  | A | Laser tx, skin 250-500 sq cm | 1.17 | 3.44 | 2.82 | 0.52 | 0.56 | 0.03 | 4.64 | 4.02 | 1.72 | 1.76 | 000
96922 |  | A | Laser tx, skin > 500 sq cm | 2.10 | 4.53 | 3.75 | 1.00 | 0.72 | 0.04 | 6.67 | 5.89 | 3.14 | 2.86 | 000
97001 |  | A | Pt evaluation | 1.20 | 0.69 | 0.74 | 0.30 | 0.41 | 0.05 | 1.94 | 1.99 | 1.55 | 1.66 | XXX
97002 |  | A | Pt re-evaluation | 0.60 | 0.43 | 0.44 | 0.14 | 0.21 | 0.02 | 1.05 | 1.06 | 0.76 | 0.83 | XXX
97003 |  | A | Ot evaluation | 1.20 | 0.78 | 0.86 | 0.36 | 0.39 | 0.06 | 2.04 | 2.12 | 1.62 | 1.65 | XXX
97004 |  | A | Ot re-evaluation | 0.60 | 0.55 | 0.64 | 0.18 | 0.19 | 0.02 | 1.17 | 1.26 | 0.80 | 0.81 | XXX
97010 |  | B | Hot or cold packs therapy | 0.06 | 0.07 | 0.06 | NA | NA | 0.01 | 0.14 | 0.13 | NA | NA | XXX
97012 |  | A | Mechanical traction therapy | 0.25 | 0.15 | 0.14 | NA | NA | 0.01 | 0.41 | 0.40 | NA | NA | XXX
97014 |  | I | Electric stimulation therapy | 0.18 | 0.19 | 0.19 | 0.04 | 0.15 | 0.01 | 0.38 | 0.38 | 0.23 | 0.34 | XXX
97016 |  | A | Vasopneumatic device therapy | 0.18 | 0.25 | 0.20 | NA | NA | 0.01 | 0.44 | 0.39 | NA | NA | XXX
97018 |  | A | Paraffin bath therapy | 0.06 | 0.17 | 0.12 | NA | NA | 0.01 | 0.24 | 0.19 | NA | NA | XXX
97022 |  | A | Whirlpool therapy | 0.17 | 0.34 | 0.24 | NA | NA | 0.01 | 0.52 | 0.42 | NA | NA | XXX
97024 |  | A | Diathermy e.g., microwave | 0.06 | 0.08 | 0.07 | NA | NA | 0.01 | 0.15 | 0.14 | NA | NA | XXX
97026 |  | A | Infrared therapy | 0.06 | 0.07 | 0.06 | NA | NA | 0.01 | 0.14 | 0.13 | NA | NA | XXX
97028 |  | A | Ultraviolet therapy | 0.08 | 0.09 | 0.08 | NA | NA | 0.01 | 0.18 | 0.17 | NA | NA | XXX
97032 |  | A | Electrical stimulation | 0.25 | 0.21 | 0.17 | NA | NA | 0.01 | 0.47 | 0.43 | NA | NA | XXX
97033 |  | A | Electric current therapy | 0.26 | 0.46 | 0.32 | NA | NA | 0.01 | 0.73 | 0.59 | NA | NA | XXX
97034 |  | A | Contrast bath therapy | 0.21 | 0.21 | 0.17 | NA | NA | 0.01 | 0.43 | 0.39 | NA | NA | XXX
97035 |  | A | Ultrasound therapy | 0.21 | 0.11 | 0.10 | NA | NA | 0.01 | 0.33 | 0.32 | NA | NA | XXX
97036 |  | A | Hydrotherapy | 0.28 | 0.46 | 0.36 | NA | NA | 0.01 | 0.75 | 0.65 | NA | NA | XXX
97110 |  | A | Therapeutic exercises | 0.45 | 0.33 | 0.29 | NA | NA | 0.02 | 0.80 | 0.76 | NA | NA | XXX
97112 |  | A | Neuromuscular reeducation | 0.45 | 0.36 | 0.32 | NA | NA | 0.01 | 0.82 | 0.78 | NA | NA | XXX
97113 |  | A | Aquatic therapy/exercises | 0.44 | 0.56 | 0.43 | NA | NA | 0.01 | 1.01 | 0.88 | NA | NA | XXX
97116 |  | A | Gait training therapy | 0.40 | 0.29 | 0.25 | NA | NA | 0.01 | 0.70 | 0.66 | NA | NA | XXX
97124 |  | A | Massage therapy | 0.35 | 0.28 | 0.24 | NA | NA | 0.01 | 0.64 | 0.60 | NA | NA | XXX
97140 |  | A | Manual therapy | 0.43 | 0.30 | 0.26 | NA | NA | 0.01 | 0.74 | 0.70 | NA | NA | XXX
97150 |  | A | Group therapeutic procedures | 0.27 | 0.23 | 0.19 | NA | NA | 0.01 | 0.51 | 0.47 | NA | NA | XXX
97530 |  | A | Therapeutic activities | 0.44 | 0.40 | 0.34 | NA | NA | 0.01 | 0.85 | 0.79 | NA | NA | XXX
97532 |  | A | Cognitive skills development | 0.44 | 0.23 | 0.21 | NA | NA | 0.01 | 0.68 | 0.66 | NA | NA | XXX
97533 |  | A | Sensory integration | 0.44 | 0.28 | 0.25 | NA | NA | 0.01 | 0.73 | 0.70 | NA | NA | XXX
97535 |  | A | Self care mngment training | 0.45 | 0.39 | 0.35 | NA | NA | 0.01 | 0.85 | 0.81 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
97537 |  | A | Community/work reintegration | 0.45 | 0.29 | 0.27 | NA | NA | 0.01 | 0.75 | 0.73 | NA | NA | XXX
97542 |  | A | Wheelchair mngment training | 0.45 | 0.30 | 0.29 | NA | NA | 0.01 | 0.76 | 0.75 | NA | NA | XXX
97597 |  | A | Active wound care/20 cm or < | 0.58 | 1.14 | 0.78 | NA | NA | 0.05 | 1.77 | 1.41 | NA | NA | XXX
97598 |  | A | Active wound care > 20 cm | 0.80 | 1.33 | 0.93 | NA | NA | 0.05 | 2.18 | 1.78 | NA | NA | XXX
97605 |  | A | Neg press wound tx, < 50 cm | 0.55 | 0.43 | 0.36 | 0.13 | 0.20 | 0.02 | 1.00 | 0.93 | 0.70 | 0.77 | XXX
97606 |  | A | Neg press wound tx, > 50 cm | 0.60 | 0.44 | 0.37 | 0.14 | 0.22 | 0.03 | 1.07 | 1.00 | 0.77 | 0.85 | XXX
97750 |  | A | Physical performance test | 0.45 | 0.35 | 0.33 | NA | NA | 0.02 | 0.82 | 0.80 | NA | NA | XXX
97755 |  | A | Assistive technology assess | 0.62 | 0.29 | 0.28 | NA | NA | 0.02 | 0.93 | 0.92 | NA | NA | XXX
97760 |  | A | Orthotic mgmt and training | 0.45 | 0.44 | 0.37 | 0.10 | 0.18 | 0.03 | 0.92 | 0.85 | 0.58 | 0.66 | XXX
97761 |  | A | Prosthetic training | 0.45 | 0.34 | 0.30 | 0.10 | 0.17 | 0.02 | 0.81 | 0.77 | 0.57 | 0.64 | XXX
97762 |  | A | C/o for orthotic/prosth use | 0.25 | 0.76 | 0.51 | 0.06 | 0.16 | 0.02 | 1.03 | 0.78 | 0.33 | 0.43 | XXX
97802 |  | A | Medical nutrition, indiv, in | 0.00 | 0.35 | 0.44 | NA | NA | 0.01 | 0.36 | 0.45 | NA | NA | XXX
97803 |  | A | Med nutrition, indiv, subseq | 0.00 | 0.31 | 0.43 | NA | NA | 0.01 | 0.32 | 0.44 | NA | NA | XXX
97804 |  | A | Medical nutrition, group | 0.00 | 0.13 | 0.17 | NA | NA | 0.01 | 0.14 | 0.18 | NA | NA | XXX
97810 |  | N | Acupunct w/o stimul 15 min | 0.60 | 0.25 | 0.35 | 0.13 | 0.21 | 0.03 | 0.88 | 0.98 | 0.76 | 0.84 | XXX
97811 |  | N | Acupunct w/o stimul addl 15m | 0.50 | 0.15 | 0.23 | 0.11 | 0.17 | 0.03 | 0.68 | 0.76 | 0.64 | 0.70 | ZZZ
97813 |  | N | Acupunct w/stimul 15 min | 0.65 | 0.27 | 0.37 | 0.15 | 0.23 | 0.03 | 0.95 | 1.05 | 0.83 | 0.91 | XXX
97814 |  | N | Acupunct w/stimul addl 15m | 0.55 | 0.19 | 0.27 | 0.12 | 0.19 | 0.03 | 0.77 | 0.85 | 0.70 | 0.77 | ZZZ
98925 |  | A | Osteopathic manipulation | 0.45 | 0.28 | 0.31 | 0.11 | 0.13 | 0.02 | 0.75 | 0.78 | 0.58 | 0.60 | 000
98926 |  | A | Osteopathic manipulation | 0.65 | 0.36 | 0.40 | 0.16 | 0.23 | 0.03 | 1.04 | 1.08 | 0.84 | 0.91 | 000
98927 |  | A | Osteopathic manipulation | 0.87 | 0.44 | 0.49 | 0.21 | 0.27 | 0.03 | 1.34 | 1.39 | 1.11 | 1.17 | 000
98928 |  | A | Osteopathic manipulation | 1.03 | 0.50 | 0.57 | 0.25 | 0.32 | 0.04 | 1.57 | 1.64 | 1.32 | 1.39 | 000
98929 |  | A | Osteopathic manipulation | 1.19 | 0.56 | 0.64 | 0.28 | 0.35 | 0.05 | 1.80 | 1.88 | 1.52 | 1.59 | 000
98940 |  | A | Chiropractic manipulation | 0.45 | 0.20 | 0.22 | 0.12 | 0.12 | 0.01 | 0.66 | 0.68 | 0.58 | 0.58 | 000
98941 |  | A | Chiropractic manipulation | 0.65 | 0.26 | 0.29 | 0.17 | 0.17 | 0.01 | 0.92 | 0.95 | 0.83 | 0.83 | 000
98942 |  | A | Chiropractic manipulation | 0.87 | 0.32 | 0.35 | 0.22 | 0.23 | 0.02 | 1.21 | 1.24 | 1.11 | 1.12 | 000
98943 |  | N | Chiropractic manipulation | 0.40 | 0.17 | 0.22 | 0.09 | 0.14 | 0.01 | 0.58 | 0.63 | 0.50 | 0.55 | XXX
99170 |  | A | Anogenital exam, child | 1.75 | 1.50 | 1.70 | 0.49 | 0.54 | 0.08 | 3.33 | 3.53 | 2.32 | 2.37 | 000
99175 |  | A | Induction of vomiting | 0.00 | 0.33 | 1.13 | NA | NA | 0.10 | 0.43 | 1.23 | NA | NA | XXX
99183 |  | A | Hyperbaric oxygen therapy | 2.34 | 2.59 | 3.09 | 0.56 | 0.68 | 0.16 | 5.09 | 5.59 | 3.06 | 3.18 | XXX
99185 |  | A | Regional hypothermia | 0.00 | 1.67 | 0.90 | NA | NA | 0.04 | 1.71 | 0.94 | NA | NA | XXX
99186 |  | A | Total body hypothermia | 0.00 | 1.41 | 1.70 | NA | NA | 0.45 | 1.86 | 2.15 | NA | NA | XXX
99195 |  | A | Phlebotomy | 0.00 | 2.62 | 0.99 | NA | NA | 0.02 | 2.64 | 1.01 | NA | NA | XXX
99201 |  | A | Office/outpatient visit, new | 0.45 | 0.54 | 0.50 | 0.15 | 0.15 | 0.03 | 1.02 | 0.98 | 0.63 | 0.63 | XXX
99202 |  | A | Office/outpatient visit, new | 0.88 | 0.83 | 0.80 | 0.29 | 0.31 | 0.05 | 1.76 | 1.73 | 1.22 | 1.24 | XXX
99203 |  | A | Office/outpatient visit, new | 1.34 | 1.09 | 1.12 | 0.41 | 0.46 | 0.09 | 2.52 | 2.55 | 1.84 | 1.89 | XXX
99204 |  | A | Office/outpatient visit, new | 2.30 | 1.48 | 1.50 | 0.70 | 0.71 | 0.12 | 3.90 | 3.92 | 3.12 | 3.13 | XXX
99205 |  | A | Office/outpatient visit, new | 3.00 | 1.77 | 1.78 | 0.89 | 0.94 | 0.15 | 4.92 | 4.93 | 4.04 | 4.09 | XXX
99211 |  | A | Office/outpatient visit, est | 0.17 | 0.33 | 0.38 | 0.06 | 0.06 | 0.01 | 0.51 | 0.56 | 0.24 | 0.24 | XXX
99212 |  | A | Office/outpatient visit, est | 0.45 | 0.55 | 0.54 | 0.15 | 0.16 | 0.03 | 1.03 | 1.02 | 0.63 | 0.64 | XXX
99213 |  | A | Office/outpatient visit, est | 0.92 | 0.76 | 0.71 | 0.28 | 0.25 | 0.03 | 1.71 | 1.66 | 1.23 | 1.20 | XXX
99214 |  | A | Office/outpatient visit, est | 1.42 | 1.10 | 1.05 | 0.43 | 0.42 | 0.05 | 2.57 | 2.52 | 1.90 | 1.89 | XXX
99215 |  | A | Office/outpatient visit, est | 2.00 | 1.38 | 1.34 | 0.60 | 0.64 | 0.08 | 3.46 | 3.42 | 2.68 | 2.72 | XXX
99217 |  | A | Observation care discharge | 1.28 | NA | NA | 0.50 | 0.52 | 0.06 | NA | NA | 1.84 | 1.86 | XXX
99218 |  | A | Observation care | 1.28 | NA | NA | 0.38 | 0.43 | 0.06 | NA | NA | 1.72 | 1.77 | XXX
99219 |  | A | Observation care | 2.14 | NA | NA | 0.59 | 0.69 | 0.10 | NA | NA | 2.83 | 2.93 | XXX
99220 |  | A | Observation care | 2.99 | NA | NA | 0.84 | 0.98 | 0.14 | NA | NA | 3.97 | 4.11 | XXX
99221 |  | A | Initial hospital care | 1.88 | NA | NA | 0.54 | 0.47 | 0.07 | NA | NA | 2.49 | 2.42 | XXX
99222 |  | A | Initial hospital care | 2.56 | NA | NA | 0.70 | 0.73 | 0.10 | NA | NA | 3.36 | 3.39 | XXX
99223 |  | A | Initial hospital care | 3.78 | NA | NA | 1.07 | 1.04 | 0.13 | NA | NA | 4.98 | 4.95 | XXX
99231 |  | A | Subsequent hospital care | 0.76 | NA | NA | 0.24 | 0.23 | 0.03 | NA | NA | 1.03 | 1.02 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
99232 |  | A | Subsequent hospital care | 1.39 | NA | NA | 0.42 | 0.38 | 0.04 | NA | NA | 1.85 | 1.81 | XXX
99233 |  | A | Subsequent hospital care | 2.00 | NA | NA | 0.59 | 0.54 | 0.06 | NA | NA | 2.65 | 2.60 | XXX
99234 |  | A | Observ/hosp same date | 2.56 | NA | NA | 0.78 | 0.86 | 0.13 | NA | NA | 3.47 | 3.55 | XXX
99235 |  | A | Observ/hosp same date | 3.41 | NA | NA | 0.98 | 1.11 | 0.16 | NA | NA | 4.55 | 4.68 | XXX
99236 |  | A | Observ/hosp same date | 4.26 | NA | NA | 1.23 | 1.39 | 0.19 | NA | NA | 5.68 | 5.84 | XXX
99238 |  | A | Hospital discharge day | 1.28 | NA | NA | 0.49 | 0.53 | 0.05 | NA | NA | 1.82 | 1.86 | XXX
99239 |  | A | Hospital discharge day | 1.90 | NA | NA | 0.66 | 0.71 | 0.07 | NA | NA | 2.63 | 2.68 | XXX
99241 |  | A | Office consultation | 0.64 | 0.66 | 0.65 | 0.22 | 0.22 | 0.05 | 1.35 | 1.34 | 0.91 | 0.91 | XXX
99242 |  | A | Office consultation | 1.34 | 1.08 | 1.05 | 0.47 | 0.46 | 0.10 | 2.52 | 2.49 | 1.91 | 1.90 | XXX
99243 |  | A | Office consultation | 1.88 | 1.45 | 1.41 | 0.66 | 0.64 | 0.13 | 3.46 | 3.42 | 2.67 | 2.65 | XXX
99244 |  | A | Office consultation | 3.02 | 1.95 | 1.86 | 1.09 | 0.96 | 0.16 | 5.13 | 5.04 | 4.27 | 4.14 | XXX
99245 |  | A | Office consultation | 3.77 | 2.27 | 2.28 | 1.31 | 1.26 | 0.21 | 6.25 | 6.26 | 5.29 | 5.24 | XXX
99251 |  | A | Initial inpatient consult | 1.00 | NA | NA | 0.31 | 0.26 | 0.05 | NA | NA | 1.36 | 1.31 | XXX
99252 |  | A | Initial inpatient consult | 1.50 | NA | NA | 0.50 | 0.50 | 0.09 | NA | NA | 2.09 | 2.09 | XXX
99253 |  | A | Initial inpatient consult | 2.27 | NA | NA | 0.81 | 0.71 | 0.11 | NA | NA | 3.19 | 3.09 | XXX
99254 |  | A | Initial inpatient consult | 3.29 | NA | NA | 1.20 | 1.04 | 0.13 | NA | NA | 4.62 | 4.46 | XXX
99255 |  | A | Initial inpatient consult | 4.00 | NA | NA | 1.40 | 1.36 | 0.18 | NA | NA | 5.58 | 5.54 | XXX
99281 |  | A | Emergency dept visit | 0.45 | NA | NA | 0.09 | 0.09 | 0.02 | NA | NA | 0.56 | 0.56 | XXX
99282 |  | A | Emergency dept visit | 0.88 | NA | NA | 0.17 | 0.15 | 0.04 | NA | NA | 1.09 | 1.07 | XXX
99283 |  | A | Emergency dept visit | 1.34 | NA | NA | 0.24 | 0.29 | 0.09 | NA | NA | 1.67 | 1.72 | XXX
99284 |  | A | Emergency dept visit | 2.56 | NA | NA | 0.45 | 0.47 | 0.14 | NA | NA | 3.15 | 3.17 | XXX
99285 |  | A | Emergency dept visit | 3.80 | NA | NA | 0.65 | 0.70 | 0.23 | NA | NA | 4.68 | 4.73 | XXX
99289 |  | A | Ped crit care transport | 4.79 | NA | NA | 1.08 | 1.36 | 0.24 | NA | NA | 6.11 | 6.39 | XXX
99290 |  | A | Ped crit care transport addl | 2.40 | NA | NA | 0.58 | 0.75 | 0.12 | NA | NA | 3.10 | 3.27 | ZZZ
99291 |  | A | Critical care, first hour | 4.50 | 2.25 | 2.50 | 1.10 | 1.24 | 0.21 | 6.96 | 7.21 | 5.81 | 5.95 | XXX
99292 |  | A | Critical care, addIl 30 min | 2.25 | 0.80 | 0.88 | 0.56 | 0.62 | 0.11 | 3.16 | 3.24 | 2.92 | 2.98 | ZZZ
99293 |  | A | Ped critical care, initial | 15.98 | NA | NA | 3.48 | 4.44 | 1.12 | NA | NA | 20.58 | 21.54 | XXX
99294 |  | A | Ped critical care, subseq | 7.99 | NA | NA | 1.67 | 2.23 | 0.45 | NA | NA | 10.11 | 10.67 | XXX
99295 |  | A | Neonate crit care, initial | 18.46 | NA | NA | 4.26 | 5.11 | 1.16 | NA | NA | 23.88 | 24.73 | XXX
99296 |  | A | Neonate critical care subseq | 7.99 | NA | NA | 1.71 | 2.34 | 0.32 | NA | NA | 10.02 | 10.65 | XXX
99298 |  | A | Ic for lbw infant < 1500 gm | 2.75 | NA | NA | 0.64 | 0.86 | 0.17 | NA | NA | 3.56 | 3.78 | XXX
99299 |  | A | Ic, lbw infant 1500-2500 gm | 2.50 | NA | NA | 0.78 | 0.84 | 0.16 | NA | NA | 3.44 | 3.50 | XXX
99300 |  | A | Ic, infant pbw 2501-5000 gm | 2.40 | NA | NA | 0.71 | 0.81 | 0.15 | NA | NA | 3.26 | 3.36 | XXX
99304 |  | A | Nursing facility care, init | 1.20 | 0.44 | 0.48 | 0.44 | 0.48 | 0.05 | 1.69 | 1.73 | 1.69 | 1.73 | XXX
99305 |  | A | Nursing facility care, init | 1.61 | 0.55 | 0.61 | 0.55 | 0.61 | 0.07 | 2.23 | 2.29 | 2.23 | 2.29 | XXX
99306 |  | A | Nursing facility care, init | 2.01 | 0.64 | 0.72 | 0.64 | 0.72 | 0.09 | 2.74 | 2.82 | 2.74 | 2.82 | XXX
99307 |  | A | Nursing fac care, subseq | 0.60 | 0.26 | 0.27 | 0.26 | 0.27 | 0.03 | 0.89 | 0.90 | 0.89 | 0.90 | XXX
99308 |  | A | Nursing fac care, subseq | 1.00 | 0.42 | 0.44 | 0.42 | 0.44 | 0.04 | 1.46 | 1.48 | 1.46 | 1.48 | XXX
99309 |  | A | Nursing fac care, subseq | 1.42 | 0.57 | 0.61 | 0.57 | 0.61 | 0.06 | 2.05 | 2.09 | 2.05 | 2.09 | XXX
99310 |  | A | Nursing fac care, subseq | 1.77 | 0.71 | 0.76 | 0.71 | 0.76 | 0.08 | 2.56 | 2.61 | 2.56 | 2.61 | XXX
99315 |  | A | Nursing fac discharge day | 1.13 | 0.40 | 0.44 | 0.40 | 0.44 | 0.05 | 1.58 | 1.62 | 1.58 | 1.62 | XXX
99316 |  | A | Nursing fac discharge day | 1.50 | 0.50 | 0.57 | 0.50 | 0.57 | 0.06 | 2.06 | 2.13 | 2.06 | 2.13 | XXX
99318 |  | A | Annual nursing fac assessmnt | 1.20 | 0.44 | 0.48 | 0.44 | 0.48 | 0.05 | 1.69 | 1.73 | 1.69 | 1.73 | XXX
99324 |  | A | Domicil/r-home visit new pat | 1.01 | 0.42 | 0.47 | NA | NA | 0.05 | 1.48 | 1.53 | NA | NA | XXX
99325 |  | A | Domicil/r-home visit new pat | 1.52 | 0.55 | 0.65 | NA | NA | 0.07 | 2.14 | 2.24 | NA | NA | XXX
99326 |  | A | Domicil/r-home visit new pat | 2.27 | 0.71 | 0.87 | NA | NA | 0.10 | 3.08 | 3.24 | NA | NA | XXX
99327 |  | A | Domicil/r-home visit new pat | 3.03 | 0.89 | 1.10 | NA | NA | 0.13 | 4.05 | 4.26 | NA | NA | XXX
99328 |  | A | Domicil/r-home visit new pat | 3.78 | 1.07 | 1.33 | NA | NA | 0.16 | 5.01 | 5.27 | NA | NA | XXX
99334 |  | A | Domicil/r-home visit est pat | 0.76 | 0.35 | 0.39 | NA | NA | 0.04 | 1.15 | 1.19 | NA | NA | XXX
99335 |  | A | Domicil/r-home visit est pat | 1.26 | 0.47 | 0.55 | NA | NA | 0.06 | 1.79 | 1.87 | NA | NA | XXX
99336 |  | A | Domicil/r-home visit est pat | 2.02 | 0.64 | 0.78 | NA | NA | 0.09 | 2.75 | 2.89 | NA | NA | XXX
99337 |  | A | Domicil/r-home visit est pat | 3.03 | 0.88 | 1.08 | NA | NA | 0.13 | 4.04 | 4.24 | NA | NA | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
99341 |  | A | Home visit, new patient | 1.01 | 0.25 | 0.42 | NA | NA | 0.05 | 1.31 | 1.48 | NA | NA | XXX
99342 |  | A | Home visit, new patient | 1.52 | 0.38 | 0.61 | NA | NA | 0.07 | 1.97 | 2.20 | NA | NA | XXX
99343 |  | A | Home visit, new patient | 2.27 | 0.57 | 0.85 | NA | NA | 0.10 | 2.94 | 3.22 | NA | NA | XXX
99344 |  | A | Home visit, new patient | 3.03 | 0.72 | 1.07 | NA | NA | 0.13 | 3.88 | 4.23 | NA | NA | XXX
99345 |  | A | Home visit, new patient | 3.78 | 0.88 | 1.29 | NA | NA | 0.16 | 4.82 | 5.23 | NA | NA | XXX
99347 |  | A | Home visit, est patient | 0.76 | 0.19 | 0.35 | NA | NA | 0.04 | 0.99 | 1.15 | NA | NA | XXX
99348 |  | A | Home visit, est patient | 1.26 | 0.31 | 0.51 | NA | NA | 0.06 | 1.63 | 1.83 | NA | NA | XXX
99349 |  | A | Home visit, est patient | 2.02 | 0.48 | 0.74 | NA | NA | 0.09 | 2.59 | 2.85 | NA | NA | XXX
99350 |  | A | Home visit, est patient | 3.03 | 0.72 | 1.07 | NA | NA | 0.13 | 3.88 | 4.23 | NA | NA | XXX
99354 |  | A | Prolonged service, office | 1.77 | 0.65 | 0.74 | 0.49 | 0.62 | 0.08 | 2.50 | 2.59 | 2.34 | 2.47 | ZZZ
99355 |  | A | Prolonged service, office | 1.77 | 0.67 | 0.73 | 0.52 | 0.60 | 0.07 | 2.51 | 2.57 | 2.36 | 2.44 | ZZZ
99356 |  | A | Prolonged service, inpatient | 1.71 | NA | NA | 0.50 | 0.59 | 0.07 | NA | NA | 2.28 | 2.37 | ZZZ
99357 |  | A | Prolonged service, inpatient | 1.71 | NA | NA | 0.49 | 0.60 | 0.08 | NA | NA | 2.28 | 2.39 | ZZZ
99374 |  | B | Home health care supervision | 1.10 | 0.54 | 0.66 | 0.25 | 0.38 | 0.05 | 1.69 | 1.81 | 1.40 | 1.53 | XXX
99375 |  | I | Home health care supervision | 1.73 | 0.74 | 1.35 | 0.39 | 1.26 | 0.07 | 2.54 | 3.15 | 2.19 | 3.06 | XXX
99377 |  | B | Hospice care supervision | 1.10 | 0.54 | 0.66 | 0.25 | 0.38 | 0.05 | 1.69 | 1.81 | 1.40 | 1.53 | XXX
99378 |  | I | Hospice care supervision | 1.73 | 0.74 | 1.65 | 0.39 | 1.56 | 0.07 | 2.54 | 3.45 | 2.19 | 3.36 | XXX
99379 |  | B | Nursing fac care supervision | 1.10 | 0.54 | 0.66 | 0.25 | 0.38 | 0.04 | 1.68 | 1.80 | 1.39 | 1.52 | XXX
99380 |  | B | Nursing fac care supervision | 1.73 | 0.74 | 0.93 | 0.39 | 0.59 | 0.06 | 2.53 | 2.72 | 2.18 | 2.38 | XXX
99381 |  | N | Prev visit, new, infant | 1.19 | 0.99 | 1.37 | 0.27 | 0.41 | 0.05 | 2.23 | 2.61 | 1.51 | 1.65 | XXX
99382 |  | N | Prev visit, new, age 1-4 | 1.36 | 1.03 | 1.41 | 0.31 | 0.47 | 0.05 | 2.44 | 2.82 | 1.72 | 1.88 | XXX
99383 |  | N | Prev visit, new, age 5-11 | 1.36 | 1.02 | 1.37 | 0.31 | 0.47 | 0.05 | 2.43 | 2.78 | 1.72 | 1.88 | XXX
99384 |  | N | Prev visit, new, age 12-17 | 1.53 | 1.06 | 1.43 | 0.34 | 0.53 | 0.06 | 2.65 | 3.02 | 1.93 | 2.12 | XXX
99385 |  | N | Prev visit, new, age 18-39 | 1.53 | 1.06 | 1.43 | 0.34 | 0.53 | 0.06 | 2.65 | 3.02 | 1.93 | 2.12 | XXX
99386 |  | N | Prev visit, new, age 40-64 | 1.88 | 1.14 | 1.60 | 0.42 | 0.65 | 0.07 | 3.09 | 3.55 | 2.37 | 2.60 | XXX
99387 |  | N | Prev visit, new, 65 & over | 2.06 | 1.27 | 1.73 | 0.46 | 0.71 | 0.07 | 3.40 | 3.86 | 2.59 | 2.84 | XXX
99391 |  | N | Prev visit, est, infant | 1.02 | 0.86 | 0.98 | 0.23 | 0.35 | 0.04 | 1.92 | 2.04 | 1.29 | 1.41 | XXX
99392 |  | N | Prev visit, est, age 1-4 | 1.19 | 0.89 | 1.04 | 0.27 | 0.41 | 0.05 | 2.13 | 2.28 | 1.51 | 1.65 | XXX
99393 |  | N | Prev visit, est, age 5-11 | 1.19 | 0.89 | 1.02 | 0.27 | 0.41 | 0.05 | 2.13 | 2.26 | 1.51 | 1.65 | XXX
99394 |  | N | Prev visit, est, age 12-17 | 1.36 | 0.93 | 1.08 | 0.31 | 0.47 | 0.05 | 2.34 | 2.49 | 1.72 | 1.88 | XXX
99395 |  | N | Prev visit, est, age 18-39 | 1.36 | 0.93 | 1.10 | 0.31 | 0.47 | 0.05 | 2.34 | 2.51 | 1.72 | 1.88 | XXX
99396 |  | N | Prev visit, est, age 40-64 | 1.53 | 0.97 | 1.18 | 0.34 | 0.53 | 0.06 | 2.56 | 2.77 | 1.93 | 2.12 | XXX
99397 |  | N | Prev visit, est, 65 & over | 1.71 | 1.11 | 1.30 | 0.38 | 0.59 | 0.06 | 2.88 | 3.07 | 2.15 | 2.36 | XXX
99401 |  | N | Preventive counseling, indiv | 0.48 | 0.36 | 0.56 | 0.11 | 0.17 | 0.01 | 0.85 | 1.05 | 0.60 | 0.66 | XXX
99402 |  | N | Preventive counseling, indiv | 0.98 | 0.47 | 0.77 | 0.22 | 0.33 | 0.02 | 1.47 | 1.77 | 1.22 | 1.33 | XXX
99403 |  | N | Preventive counseling, indiv | 1.46 | 0.58 | 0.96 | 0.33 | 0.50 | 0.04 | 2.08 | 2.46 | 1.83 | 2.00 | XXX
99404 |  | N | Preventive counseling, indiv | 1.95 | 0.69 | 1.16 | 0.44 | 0.67 | 0.05 | 2.69 | 3.16 | 2.44 | 2.67 | XXX
99411 |  | N | Preventive counseling, group | 0.15 | 0.22 | 0.19 | 0.03 | 0.05 | 0.01 | 0.38 | 0.35 | 0.19 | 0.21 | XXX
99412 |  | N | Preventive counseling, group | 0.25 | 0.24 | 0.25 | 0.06 | 0.09 | 0.01 | 0.50 | 0.51 | 0.32 | 0.35 | XXX
99431 |  | A | Initial care, normal newborn | 1.17 | NA | NA | 0.26 | 0.35 | 0.05 | NA | NA | 1.48 | 1.57 | XXX
99432 |  | A | Newborn care, not in hosp | 1.26 | 1.00 | 0.95 | 0.28 | 0.37 | 0.07 | 2.33 | 2.28 | 1.61 | 1.70 | XXX
99433 |  | A | Normal newborn care/hospital | 0.62 | NA | NA | 0.14 | 0.19 | 0.02 | NA | NA | 0.78 | 0.83 | XXX
99435 |  | A | Newborn discharge day hosp | 1.50 | NA | NA | 0.45 | 0.56 | 0.06 | NA | NA | 2.01 | 2.12 | XXX
99436 |  | A | Attendance, birth | 1.50 | NA | NA | 0.33 | 0.44 | 0.06 | NA | NA | 1.89 | 2.00 | XXX
99440 |  | A | Newborn resuscitation | 2.93 | NA | NA | 0.66 | 0.86 | 0.12 | NA | NA | 3.71 | 3.91 | XXX
G0101 |  | A | CA screen;pelvic/breast exam | 0.45 | 0.48 | 0.51 | 0.12 | 0.16 | 0.02 | 0.95 | 0.98 | 0.59 | 0.63 | XXX
G0102 |  | A | Office/outpatient visit, est | 0.17 | 0.33 | 0.38 | 0.06 | 0.06 | 0.01 | 0.51 | 0.56 | 0.24 | 0.24 | XXX
G0104 |  | A | Diagnostic sigmoidoscopy | 0.96 | 2.54 | 2.35 | 0.63 | 0.53 | 0.08 | 3.58 | 3.39 | 1.67 | 1.57 | 000
G0105 |  | A | Diagnostic colonoscopy | 3.69 | 6.55 | 6.26 | 1.88 | 1.57 | 0.30 | 10.54 | 10.25 | 5.87 | 5.56 | 000
G0105 | 53 | A | Diagnostic sigmoidoscopy | 0.96 | 2.54 | 2.35 | 0.63 | 0.53 | 0.08 | 3.58 | 3.39 | 1.67 | 1.57 | 000
G0106 |  | A | Contrast x-ray exam of colon | 0.99 | 5.17 | 3.21 | NA | NA | 0.17 | 6.33 | 4.37 | NA | NA | XXX
G0106 | 26 | A | Contrast x-ray exam of colon | 0.99 | 0.34 | 0.33 | 0.34 | 0.33 | 0.04 | 1.37 | 1.36 | 1.37 | 1.36 | XXX
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
G0106 | TC | A | Contrast x-ray exam of colon | 0.00 | 4.83 | 2.89 | NA | NA | 0.13 | 4.96 | 3.02 | NA | NA | XXX
G0108 |  | A | Diab manage trn per indiv | 0.00 | 0.59 | 0.77 | NA | NA | 0.01 | 0.60 | 0.78 | NA | NA | XXX
G0109 |  | A | Diab manage trn ind/group | 0.00 | 0.31 | 0.44 | NA | NA | 0.01 | 0.32 | 0.45 | NA | NA | XXX
G0117 |  | T | Glaucoma scrn hgh risk direc | 0.45 | 0.80 | 0.74 | 0.13 | 0.18 | 0.01 | 1.26 | 1.20 | 0.59 | 0.64 | XXX
G0118 |  | T | Glaucoma scrn hgh risk direc | 0.17 | 0.80 | 0.60 | 0.06 | 0.06 | 0.01 | 0.98 | 0.78 | 0.24 | 0.24 | XXX
G0120 |  | A | Contrast x-ray exam of colon | 0.99 | 5.17 | 3.21 | NA | NA | 0.17 | 6.33 | 4.37 | NA | NA | XXX
G0120 | 26 | A | Contrast x-ray exam of colon | 0.99 | 0.34 | 0.33 | 0.34 | 0.33 | 0.04 | 1.37 | 1.36 | 1.37 | 1.36 | XXX
G0120 | TC | A | Contrast x-ray exam of colon | 0.00 | 4.83 | 2.89 | NA | NA | 0.13 | 4.96 | 3.02 | NA | NA | XXX
G0121 |  | A | Diagnostic colonoscopy | 3.69 | 6.55 | 6.26 | 1.88 | 1.57 | 0.30 | 10.54 | 10.25 | 5.87 | 5.56 | 000
G0121 | 53 | A | Diagnostic sigmoidoscopy | 0.96 | 2.54 | 2.35 | 0.63 | 0.53 | 0.08 | 3.58 | 3.39 | 1.67 | 1.57 | 000
G0122 |  | N | Colon ca scrn; barium enema | 0.99 | 5.63 | 3.34 | 5.63 | 3.34 | 0.18 | 6.80 | 4.51 | 6.80 | 4.51 | XXX
G0122 | 26 | N | Colon ca scrn; barium enema | 0.99 | 0.22 | 0.34 | 0.22 | 0.34 | 0.05 | 1.26 | 1.38 | 1.26 | 1.38 | XXX
G0122 | TC | N | Colon ca scrn; barium enema | 0.00 | 5.41 | 3.00 | 5.41 | 3.00 | 0.13 | 5.54 | 3.13 | 5.54 | 3.13 | XXX
G0124 |  | A | Cytopath, c/v, interpret | 0.42 | 0.38 | 0.21 | 0.38 | 0.21 | 0.02 | 0.82 | 0.65 | 0.82 | 0.65 | XXX
G0127 |  | R | Trim nail(s) | 0.17 | 0.38 | 0.28 | 0.04 | 0.06 | 0.01 | 0.56 | 0.46 | 0.22 | 0.24 | 000
G0128 |  | R | CORF skilled nursing service | 0.08 | 0.02 | 0.03 | 0.02 | 0.03 | 0.01 | 0.11 | 0.12 | 0.11 | 0.12 | XXX
G0130 |  | A | Single energy x-ray study | 0.22 | 0.56 | 0.79 | NA | NA | 0.06 | 0.84 | 1.07 | NA | NA | XXX
G0130 | 26 | A | Single energy x-ray study | 0.22 | 0.06 | 0.07 | 0.06 | 0.07 | 0.01 | 0.29 | 0.30 | 0.29 | 0.30 | XXX
G0130 | TC | A | Single energy x-ray study | 0.00 | 0.50 | 0.73 | NA | NA | 0.05 | 0.55 | 0.78 | NA | NA | XXX
G0141 |  | A | Cytopath, c/v, interpret | 0.42 | 0.38 | 0.21 | 0.38 | 0.21 | 0.02 | 0.82 | 0.65 | 0.82 | 0.65 | XXX
G0166 |  | A | Extrnl counterpulse, per tx | 0.07 | 4.62 | 3.84 | 0.04 | 0.03 | 0.01 | 4.70 | 3.92 | 0.12 | 0.11 | XXX
G0168 |  | A | Wound closure by adhesive | 0.45 | 1.56 | 1.85 | 0.20 | 0.22 | 0.03 | 2.04 | 2.33 | 0.68 | 0.70 | 000
G0179 |  | A | MD recertification HHA PT | 0.45 | 0.47 | 0.89 | NA | NA | 0.02 | 0.94 | 1.36 | NA | NA | XXX
G0180 |  | A | MD certification HHA patient | 0.67 | 0.56 | 1.09 | NA | NA | 0.03 | 1.26 | 1.79 | NA | NA | XXX
G0181 |  | A | Home health care supervision | 1.73 | 0.80 | 1.31 | NA | NA | 0.07 | 2.60 | 3.11 | NA | NA | XXX
G0182 |  | A | Hospice care supervision | 1.73 | 0.82 | 1.45 | NA | NA | 0.07 | 2.62 | 3.25 | NA | NA | XXX
G0202 |  | A | Screeningmammographydigital | 0.70 | 2.82 | 2.79 | NA | NA | 0.10 | 3.62 | 3.59 | NA | NA | XXX
G0202 | 26 | A | Screeningmammographydigital | 0.70 | 0.24 | 0.23 | 0.24 | 0.23 | 0.03 | 0.97 | 0.96 | 0.97 | 0.96 | XXX
G0202 | TC | A | Screeningmammographydigital | 0.00 | 2.58 | 2.56 | NA | NA | 0.07 | 2.65 | 2.63 | NA | NA | XXX
G0204 |  | A | Diagnosticmammographydigital | 0.87 | 3.42 | 2.95 | NA | NA | 0.11 | 4.40 | 3.93 | NA | NA | XXX
G0204 | 26 | A | Diagnosticmammographydigital | 0.87 | 0.30 | 0.29 | 0.30 | 0.29 | 0.04 | 1.21 | 1.20 | 1.21 | 1.20 | XXX
G0204 | TC | A | Diagnosticmammographydigital | 0.00 | 3.12 | 2.66 | NA | NA | 0.07 | 3.19 | 2.73 | NA | NA | XXX
G0206 |  | A | Diagnosticmammographydigital | 0.70 | 2.68 | 2.37 | NA | NA | 0.09 | 3.47 | 3.16 | NA | NA | XXX
G0206 | 26 | A | Diagnosticmammographydigital | 0.70 | 0.24 | 0.23 | 0.24 | 0.23 | 0.03 | 0.97 | 0.96 | 0.97 | 0.96 | XXX
G0206 | TC | A | Diagnosticmammographydigital | 0.00 | 2.44 | 2.13 | NA | NA | 0.06 | 2.50 | 2.19 | NA | NA | XXX
G0237 |  | A | Therapeutic procd strg endur | 0.00 | 0.21 | 0.41 | NA | NA | 0.02 | 0.23 | 0.43 | NA | NA | XXX
G0238 |  | A | Oth resp proc, indiv | 0.00 | 0.23 | 0.43 | NA | NA | 0.02 | 0.25 | 0.45 | NA | NA | XXX
G0239 |  | A | Oth resp proc, group | 0.00 | 0.31 | 0.33 | NA | NA | 0.02 | 0.33 | 0.35 | NA | NA | XXX
G0245 |  | A | Office/outpatient visit, new | 0.88 | 0.83 | 0.80 | 0.29 | 0.31 | 0.05 | 1.76 | 1.73 | 1.22 | 1.24 | XXX
G0246 |  | A | Office/outpatient visit, est | 0.45 | 0.55 | 0.54 | 0.15 | 0.16 | 0.03 | 1.03 | 1.02 | 0.63 | 0.64 | XXX
G0247 |  | A | Debride skin, partial | 0.50 | 0.68 | 0.56 | 0.16 | 0.20 | 0.06 | 1.24 | 1.12 | 0.72 | 0.76 | ZZZ
G0248 |  | R | Demonstrate use home inr mon | 0.00 | 3.21 | 5.78 | NA | NA | 0.01 | 3.22 | 5.79 | NA | NA | XXX
G0249 |  | R | Provide test material,equipm | 0.00 | 2.31 | 3.56 | NA | NA | 0.01 | 2.32 | 3.57 | NA | NA | XXX
G0250 |  | R | MD review interpret of test | 0.18 | 0.08 | 0.07 | 0.08 | 0.07 | 0.01 | 0.27 | 0.26 | 0.27 | 0.26 | XXX
G0252 | 26 | N | PET imaging initial dx | 1.50 | 0.34 | 0.54 | 0.34 | 0.54 | 0.04 | 1.88 | 2.08 | 1.88 | 2.08 | XXX
G0268 |  | A | Removal of impacted wax md | 0.61 | 0.59 | 0.62 | 0.17 | 0.22 | 0.02 | 1.22 | 1.25 | 0.80 | 0.85 | 000
G0270 |  | A | Med nutrition, indiv, subseq | 0.00 | 0.31 | 0.43 | NA | NA | 0.01 | 0.32 | 0.44 | NA | NA | XXX
G0271 |  | A | Medical nutrition, group | 0.00 | 0.13 | 0.17 | NA | NA | 0.01 | 0.14 | 0.18 | NA | NA | XXX
G0275 |  | A | Renal angio, cardiac cath | 0.25 | NA | NA | 0.14 | 0.11 | 0.01 | NA | NA | 0.40 | 0.37 | ZZZ
¹ CPT codes and descriptors only are copyright 2005 American Medical Association. All rights reserved. Applicable FARS/DFARS apply.
² Copyright 2005 American Dental Association. All rights reserved.
³ Indicates RVUs are not used for Medicare payment.

Addendum B.—Relative Value Units (RVUs) and Related Information Used In Determining Medicare Payments for 2007—Continued
CPT ¹ HCPCS ² | Mod | Status | Description | Physician work RVUs ³ | Fully implemented non-facility PE RVUs | Year 2007 transitional non-facility PE RVUs | Fully implemented facility PE RVUs | Year 2007 transitional facility PE RVUs | Mal-practice RVUs | Fully implemented non-facility total | Year 2007 transitional non-facility total | Fully implemented facility total | Year 2007 transitional facility total | Global
G0278 |  | A | Iliac art angio,cardiac cath | 0.25 | NA | NA | 0.14 | 0.11 | 0.01 | NA | NA | 0.40 | 0.37 | ZZZ
G0281 |  | A | Elec stim unattend for press | 0.18 | 0.15 | 0.12 | NA | NA | 0.01 | 0.34 | 0.31 | NA | NA | XXX
G0283 |  | A | Elec stim other than wound | 0.18 | 0.15 | 0.12 | NA | NA | 0.01 | 0.34 | 0.31 | NA | NA | XXX
G0288 |  | A | Recon, CTA for surg plan | 0.00 | 1.03 | 8.24 | NA | NA | 0.18 | 1.21 | 8.42 | NA | NA | XXX
G0289 |  | A | Arthro, loose body + chondro | 1.48 | NA | NA | 0.58 | 0.75 | 0.26 | NA | NA | 2.32 | 2.49 | ZZZ
G0308 |  | A | ESRD related svc 4+mo < 2yrs | 12.74 | 5.43 | 7.78 | 5.43 | 7.78 | 0.42 | 18.59 | 20.94 | 18.59 | 20.94 | XXX
G0309 |  | A | ESRD related svc 2-3mo <2yrs | 10.61 | 4.77 | 6.53 | 4.77 | 6.53 | 0.36 | 15.74 | 17.50 | 15.74 | 17.50 | XXX
G0310 |  | A | ESRD related svc 1 vst <2yrs | 8.49 | 2.79 | 4.97 | 2.79 | 4.97 | 0.28 | 11.56 | 13.74 | 11.56 | 13.74 | XXX
G0311 |  | A | ESRD related svs 4+mo 2-11yr | 9.73 | 3.50 | 4.42 | 3.50 | 4.42 | 0.34 | 13.57 | 14.49 | 13.57 | 14.49 | XXX
G0312 |  | A | ESRD relate svs 2-3 mo 2-11y | 8.11 | 2.60 | 3.60 | 2.60 | 3.60 | 0.29 | 11.00 | 12.00 | 11.00 | 12.00 | XXX
G0313 |  | A | ESRD related svs 1 mon 2-11y | 6.49 | 1.80 | 2.81 | 1.80 | 2.81 | 0.22 | 8.51 | 9.52 | 8.51 | 9.52 | XXX
G0314 |  | A | ESRD related svs 4+ mo 12-19 | 8.28 | 3.36 | 4.16 | 3.36 | 4.16 | 0.27 | 11.91 | 12.71 | 11.91 | 12.71 | XXX
G0315 |  | A | ESRD related svs 2-3mo/12-19 | 6.90 | 2.55 | 3.40 | 2.55 | 3.40 | 0.23 | 9.68 | 10.53 | 9.68 | 10.53 | XXX
G0316 |  | A | ESRD related svs 1vis/12-19y | 5.52 | 1.65 | 2.63 | 1.65 | 2.63 | 0.17 | 7.34 | 8.32 | 7.34 | 8.32 | XXX
G0317 |  | A | ESRD related svs 4+mo 20+yrs | 5.09 | 2.23 | 2.71 | 2.23 | 2.71 | 0.17 | 7.49 | 7.97 | 7.49 | 7.97 | XXX
G0318 |  | A | ESRD related svs 2-3 mo 20+y | 4.24 | 1.67 | 2.21 | 1.67 | 2.21 | 0.14 | 6.05 | 6.59 | 6.05 | 6.59 | XXX
G0319 |  | A | ESRD related svs 1visit 20+y | 3.39 | 1.12 | 1.71 | 1.12 | 1.71 | 0.11 | 4.62 | 5.21 | 4.62 | 5.21 | XXX
G0320 |  | A | ESD related svs home undr 2 | 10.61 | 2.59 | 5.99 | 2.59 | 5.99 | 0.36 | 13.56 | 16.96 | 13.56 | 16.96 | XXX
G0321 |  | A | ESRDrelatedsvs home mo 2-11y | 8.11 | 1.92 | 3.43 | 1.92 | 3.43 | 0.29 | 10.32 | 11.83 | 10.32 | 11.83 | XXX
G0322 |  | A | ESRD related svs hom mo12-19 | 6.90 | 1.67 | 3.18 | 1.67 | 3.18 | 0.23 | 8.80 | 10.31 | 8.80 | 10.31 | XXX
G0323 |  | A | ESRD related svs home mo 20+ | 4.24 | 1.12 | 2.07 | 1.12 | 2.07 | 0.14 | 5.50 | 6.45 | 5.50 | 6.45 | XXX
G0324 |  | A | ESRD relate svs home/dy <2yr | 0.35 | 0.16 | 0.22 | 0.16 | 0.22 | 0.01 | 0.52 | 0.58 | 0.52 | 0.58 | XXX
G0325 |  | A | ESRD relate home/day/ 2-11yr | 0.23 | 0.09 | 0.11 | 0.09 | 0.11 | 0.01 | 0.33 | 0.35 | 0.33 | 0.35 | XXX
G0326 |  | A | ESRD relate home/dy 12-19yr | 0.27 | 0.10 | 0.12 | 0.10 | 0.12 | 0.01 | 0.38 | 0.40 | 0.38 | 0.40 | XXX
G0327 |  | A | ESRD relate home/dy 20+yrs | 0.14 | 0.06 | 0.08 | 0.06 | 0.08 | 0.01 | 0.21 | 0.23 | 0.21 | 0.23 | XXX
G0329 |  | A | Electromagntic tx for ulcers | 0.06 | 0.16 | 0.15 | 0.01 | 0.02 | 0.01 | 0.23 | 0.22 | 0.08 | 0.09 | XXX
G0337 |  | X | Hospice evaluation preelecti | 1.34 | 0.30 | 0.46 | 0.30 | 0.46 | 0.09 | 1.73 | 1.89 | 1.73 | 1.89 | XXX
G0341 |  | A | Insertion of catheter, vein | 6.98 | 3.02 | 5.07 | 2.18 | 2.50 | 0.55 | 10.55 | 12.60 | 9.71 | 10.03 | 000
G0342 |  | A | Laparo cholecystectomy/graph | 11.98 | NA | NA | 5.06 | 5.25 | 1.58 | NA | NA | 18.62 | 18.81 | 090
G0343 |  | A | Incision of bile duct | 21.86 | NA | NA | 8.44 | 8.70 | 2.62 | NA | NA | 32.92 | 33.18 | 090
G0344 |  | A | Office/outpatient visit, new | 1.34 | 1.09 | 1.12 | 0.41 | 0.46 | 0.09 | 2.52 | 2.55 | 1.84 | 1.89 | XXX
G0364 |  | A | Bone marrow aspirate &biopsy | 0.16 | 0.17 | 0.15 | 0.07 | 0.06 | 0.04 | 0.37 | 0.35 | 0.27 | 0.26 | ZZZ
G0365 |  | A | Doppler flow testing | 0.25 | 5.44 | 4.36 | NA | NA | 0.26 | 5.95 | 4.87 | NA | NA | XXX
G0365 | 26 | A | Doppler flow testing | 0.25 | 0.07 | 0.09 | 0.07 | 0.09 | 0.03 | 0.35 | 0.37 | 0.35 | 0.37 | XXX
G0365 | TC | A | Doppler flow testing | 0.00 | 5.37 | 4.28 | NA | NA | 0.23 | 5.60 | 4.51 | NA | NA | XXX
G0366 |  | A | Electrocardiogram, complete | 0.17 | 0.35 | 0.47 | NA | NA | 0.03 | 0.55 | 0.67 | NA | NA | XXX
G0367 |  | A | Electrocardiogram, tracing | 0.00 | 0.28 | 0.41 | NA | NA | 0.02 | 0.30 | 0.43 | NA | NA | XXX
G0368 |  | A | Electrocardiogram report | 0.17 | 0.07 | 0.06 | 0.07 | 0.06 | 0.01 | 0.25 | 0.24 | 0.25 | 0.24 | XXX
G0372 |  | A | MD service required for PMD | 0.17 | 0.04 | 0.30 | 0.04 | 0.06 | 0.01 | 0.22 | 0.48 | 0.22 | 0.24 | XXX
G0375 |  | A | Smoke/tobacco counselng 3-10 | 0.24 | 0.07 | 0.09 | 0.07 | 0.09 | 0.01 | 0.32 | 0.34 | 0.32 | 0.34 | XXX
G0376 |  | A | Smoke/tobacco counseling >10 | 0.48 | 0.13 | 0.17 | 0.13 | 0.16 | 0.01 | 0.62 | 0.66 | 0.62 | 0.65 | XXX
M0064 |  | A | Visit for drug monitoring | 0.37 | 0.87 | 0.47 | 0.06 | 0.11 | 0.01 | 1.25 | 0.85 | 0.44 | 0.49 | XXX
P3001 |  | A | Cytopath, c/v, interpret | 0.42 | 0.38 | 0.21 | 0.38 | 0.21 | 0.02 | 0.82 | 0.65 | 0.82 | 0.65 | XXX
Q0035 |  | A | Cardiokymography | 0.17 | 0.30 | 0.41 | NA | NA | 0.03 | 0.50 | 0.61 | NA | NA | XXX
Q0035 | 26 | A | Cardiokymography | 0.17 | 0.05 | 0.06 | 0.05 | 0.06 | 0.01 | 0.23 | 0.24 | 0.23 | 0.24 | XXX
Q0035 | TC | A | Cardiokymography | 0.00 | 0.25 | 0.36 | NA | NA | 0.02 | 0.27 | 0.38 | NA | NA | XXX
Q0091 |  | A | Obtaining screen pap smear | 0.37 | 0.75 | 0.69 | 0.10 | 0.13 | 0.02 | 1.14 | 1.08 | 0.49 | 0.52 | XXX
Q0092 |  | A | Set up port xray equipment | 0.00 | 0.46 | 0.36 | NA | NA | 0.01 | 0.47 | 0.37 | NA | NA | XXX
¹ CPT codes and descriptors only are copyright 2005 American Medical Association. All rights reserved. Applicable FARS/DFARS apply.
² Copyright 2005 American Dental Association. All rights reserved.
³ Indicates RVUs are not used for Medicare payment.

——————————

¹ CPT codes and descriptions only are copyright 2005 American Medical Association. All rights reserved. Applicable FARS/DFARS Apply.

Note: The proposed work RVUs for 10- and 90-day global period codes include the application of the RUC- recommended values for the E/M services that are included as part of the global period for the service.

Addendum C.—Codes With Work RVUs Subject to Comment
CPT Code ¹ | Mod | Descriptor | Proposed work RVU
00797 |  | Anesth, Surgery for Obesity | 11.00
10060 |  | Drainage of skin abscess | 1.17
11040 |  | Debride skin, partial | 0.50
11041 |  | Debride skin, full | 0.82
11042 |  | Debride skin/tissue | 1.12
11100 |  | Biopsy, skin lesion | 0.81
11400 |  | Exc tr-ext b9+marg 0.5<cm | 0.85
11401 |  | Exc tr-ext b9+marg 0.6-1cm | 1.23
11402 |  | Exc tr-ext b9+marg 1.1-2 cm | 1.40
11403 |  | Exc tr-ext b9+marg 2.1-3 cm | 1.79
11404 |  | Exc tr-ext b9+marg 3.1-4 cm | 2.06
11406 |  | Exc tr-ext b9+marg >4.0cm | 3.45
11420 |  | Exc h-f-nk-sp b9+marg 0.5< | 0.98
11421 |  | Exc h-f-nk-sp b9+marg 0.6-1 | 1.42
11422 |  | Exc h-f-nk-sp b9+marg 1.1-2 | 1.63
11423 |  | Exc h-f-nk-sp b9+marg 2.1-3 | 2.01
11424 |  | Exc h-f-nk-sp b9+marg 3.1-4 | 2.43
11426 |  | Exc h-f-nk-sp b9+marg >4.0 cm | 4.02
11440 |  | Exc face-mm b9+marg 0.5 < cm | 1.00
11441 |  | Exc face-mm b9+marg 0.6-1 cm | 1.48
11442 |  | Exc face-mm b9+marg 1.1-2 cm | 1.72
11443 |  | Exc face-mm b9+marg 2.1-3 cm | 2.29
11444 |  | Exc face-mm b9+marg 3.1-4 cm | 3.14
11446 |  | Exc face-mm b9+marg >4 cm | 4.73
11600 |  | Exc tr-ext mlg+marg 0.5<cm | 1.56
11601 |  | Exc tr-ext mlg+marg 0.6-1cm | 2.00
11602 |  | Exc tr-ext mlg+marg 1.1-2cm | 2.20
11603 |  | Exc tr-ext mlg+marg 2.1-3<cm | 2.75
11604 |  | Exc tr-ext mlg+marg 3.1-4cm | 3.10
11606 |  | Exc tr-ext mlg+marg >4cm | 4.95
11620 |  | Exc h-f-nk-sp mlg+marg 0.5< | 1.57
11621 |  | Exc h-f-nk-sp mlg+marg 0.6-1 | 2.01
11622 |  | Exc h-f-nk-sp mlg+marg 1.1-2 | 2.34
11623 |  | Exc h-f-nk-sp mlg+marg 2.1-3 | 3.04
11624 |  | Exc h-f-nk-sp mlg+marg 3.1-4 | 3.55
11626 |  | Exc h-f-nk-sp mlg+marg >4cm | 4.54
11640 |  | Exc face-mm malig+marg 0.5< | 1.60
11641 |  | Exc face-mm malig+marg 0.6-1 | 2.10
11642 |  | Exc face-mm malig+marg 1.1-2 | 2.55
11643 |  | Exc face-mm malig+marg 2.1-3 | 3.35
11644 |  | Exc face-mm malig+marg 3.1-4 | 4.27
11646 |  | Exc face-mm malig+marg>4 | 6.19
11730 |  | Removal of nail plate | 1.13
12052 |  | Layer closure of wound(s) | 2.77
13121 |  | Repair of wound or lesion | 4.32
14040 |  | Skin tissue rearrangement | 8.36
14060 |  | Skin tissue rearrangement | 8.99
15100 |  | Skin split graft | 9.66
15240 |  | Skin full graft | 10.03
15734 |  | Muscle-skin graft, trunk | 19.52
17003 |  | Destroy lesions, 2-14 | 0.07
17004 |  | Destroy lesions, 15 or more | 1.58
17262 |  | Destruction of skin lesions | 1.58
17281 |  | Destruction of skin lesions | 1.72
19180 |  | Removal of breast | 15.61
20600 |  | Drain/inject, joint/bursa | 0.66
20610 |  | Drain/inject, joint/bursa | 0.79
20680 |  | Removal of support implant | 5.86
21145 |  | Reconstruct midface, lefort | 23.52
21146 |  | Reconstruct midface, lefort | 24.41
21147 |  | Reconstruct midface, lefort | 26.01
21395 |  | Treat eye socket fracture | 14.58
22520 |  | Percut vertebroplasty thor | 9.15
22554 |  | Neck spine fusion | 17.48
22612 |  | Lumbar spine fusion | 22.50
22840 |  | Insert spine fixation device | 12.52
24363 |  | Replace elbow joint | 22.39
24430 |  | Repair of humerus | 14.99
25447 |  | Repair wrist joint(s) | 10.85
26055 |  | Incise finger tendon sheath | 2.94
26160 |  | Remove tendon sheath lesion | 3.40
26600 |  | Treat metacarpal fracture | 2.40
26951 |  | Amputation of finger/thumb | 5.75
27130 |  | Total hip arthroplasty | 17.40
27236 |  | Treat thigh fracture | 14.54
27447 |  | Total knee arthroplasty | 20.81
27465 |  | Shortening of thigh bone | 18.36
27470 |  | Repair of thigh | 16.87
27709 |  | Incision of tibia and fibula | 17.24
27880 |  | Amputation of lower leg | 15.18
28805 |  | Amputation thru metatarsal | 12.47
29075 |  | Application of forearm cast | 0.77
29580 |  | Application of paste boot | 0.57
30520 |  | Repair of nasal septum | 7.63
31225 |  | Removal of upper jaw | 26.34
31230 |  | Removal of upper jaw | 30.46
31360 |  | Removal of larynx | 27.23
31365 |  | Removal of larynx | 34.85
31367 |  | Partial removal of larynx | 27.11
31368 |  | Partial removal of larynx | 33.73
31370 |  | Partial removal of larynx | 27.11
31375 |  | Partial removal of larynx | 25.61
31380 |  | Partial removal of larynx | 25.11
31382 |  | Partial removal of larynx | 28.11
31390 |  | Removal of larynx & pharynx | 38.72
31395 |  | Reconstruct larynx & pharynx | 43.34
31575 |  | Diagnostic laryngoscopy | 1.10
31579 |  | Diagnostic laryngoscopy | 2.26
31622 |  | Dx bronchoscope/wash | 2.78
32141 |  | Remove treat lung lesions | 17.14
32442 |  | Sleeve pneumonectomy | 37.74
32445 |  | Removal of lung | 40.73
32484 |  | Segmentectomy | 22.67
32486 |  | Sleeve lobectomy | 31.72
32488 |  | Complection pneumonectomy | 32.69
32540 |  | Removal of lung lesion | 23.68
32651 |  | Thoracoscopy, surgical | 16.28
32652 |  | Thoracoscopy, surgical | 23.34
32653 |  | Thoracoscopy, surgical | 19.86
32654 |  | Thoracoscopy, surgical | 18.49
32655 |  | Thoracoscopy, surgical | 14.95
32657 |  | Thoracoscopy, surgical | 14.54
32662 |  | Thoracoscopy, surgical | 17.00
32663 |  | Thoracoscopy, surgical | 19.96
32665 |  | Thoracoscopy, surgical | 17.37
32815 |  | Close bronchial fistula | 37.94
33140 |  | Heart vevascularize (lmr) | 22.72
33141 |  | Heart lmr w/other procedure | 4.83
33208 |  | Insertion of heart pacemaker | 8.12
33300 |  | Repair of heart wound | 29.93
33305 |  | Repair of heart wound | 33.67
33400 |  | Repair of aortic valve | 39.23
33405 |  | Replacement of aortic valve | 39.97
33406 |  | Repacement of aortic valve | 48.87
33410 |  | Replacement of aortic valve | 38.69
33411 |  | Replacement of aortic valve | 57.11
33413 |  | Replacement of aortic valve | 55.27
33414 |  | Repair of aortic valve | 39.27
33415 |  | Revision, subvalvular tissue | 29.70
33416 |  | Revise ventricule muscle | 36.39
33425 |  | Repair of mitral valve | 38.37
33426 |  | Repair of mitral valve | 41.28
33427 |  | Repair of mitral valve | 42.78
33430 |  | Replacement of mitral valve | 49.81
33460 |  | Revision of tricuspid valve | 27.97
33463 |  | Valvuloplasty, tricuspid | 42.57
33464 |  | Valvuloplasty, tricuspid | 30.93
33465 |  | Replace tricuspid valve | 33.58
33474 |  | Revision of pulmonary valve | 25.85
33475 |  | Replacement, pulmonary valve | 44.81
33505 |  | Repair artery w/tunnel | 38.33
33510 |  | CABG, vein, single-vein single | 33.45
33511 |  | CABG, vein, two | 34.59
33512 |  | CABG, vein, three | 38.73
33513 |  | CABG, vein, four | 39.69
33514 |  | CABG, vein, five | 40.50
33516 |  | Cabg, vein, six or more | 41.96
33517 |  | CABG, artery | 2.57
33518 |  | CABG, artery-vein, two | 4.84
33519 |  | CABG, artery-vein, three | 7.11
33521 |  | CABG, artery-vein, four | 9.39
33522 |  | CABG, artery-vein, five | 11.65
33523 |  | Cabg, art-vein, six or more | 13.93
33530 |  | Coronary artery, bypass/reop | 5.85
33533 |  | CABG, arterial, single | 37.38
33534 |  | CABG, arterial, two | 38.81
33535 |  | CABG, arterial, three | 41.48
33536 |  | Cabg, arterial, four or more | 40.79
33542 |  | Removal of heart lesion | 32.65
33545 |  | Repair of heart demage | 41.12
33641 |  | Repair heart septum defect | 28.47
33665 |  | Repair of heart defects | 34.75
33684 |  | Repair heart septum defect | 34.27
33688 |  | Repair heart septum defect | 34.65
33771 |  | Repair great vessels defect | 40.56
33779 |  | Repair great vessels defect | 43.13
33781 |  | Repair great vessels defect | 43.14
33860 |  | Ascending aortic graft | 43.13
33863 |  | Ascending aortic graft | 48.52
33877 |  | Thoracoabdominal graft | 57.75
33945 |  | Transplantation of heart | 50.14
34001 |  | Removal of artery clot | 17.74
34201 |  | Removal of artery clot | 18.40
34471 |  | Removal of vein clot | 20.94
35081 |  | Repair defect of artery | 33.31
35102 |  | Repair defect of artery | 36.31
35216 |  | Repair blood vessel lesion | 36.43
35506 |  | Artery bypass graft | 25.19
35508 |  | Artery bypass graft | 25.95
35515 |  | Artery bypass graft | 25.95
35516 |  | Artery bypass graft | 24.07
35556 |  | Artery bypass graft | 26.56
35566 |  | Artery bypass graft | 32.16
35583 |  | Vein bypass graft | 27.56
35585 |  | Vein bypass graft | 32.16
35606 |  | Artery bypass graft | 22.32
35616 |  | Artery bypass graft | 21.70
35820 |  | Explore chest vessels | 30.08
38100 |  | Removal of spleen, total | 19.43
38101 |  | Removal of spleen, partial | 19.43
38115 |  | Repair of ruptured spleen | 21.76
38700 |  | Removal of lymph nodes, neck | 12.62
38720 |  | Removal of lymph nodes, neck | 21.64
38724 |  | Removal of lymph nodes, neck | 23.64
39220 |  | Removal chest lesion | 18.42
39400 |  | Visualization of chest | 5.97
41100 |  | Biopsy of tongue | 1.37
41120 |  | Partial removal of tongue | 10.83
41130 |  | Partial removal of tongue | 15.43
41135 |  | Tongue and neck surgery | 29.71
41140 |  | Removal of tongue | 28.69
41145 |  | Tongue removal, neck surgery | 37.47
41150 |  | Tongue, mouth, jaw surgery | 29.40
41153 |  | Tongue, mouth, neck surgery | 33.16
41155 |  | Tongue, jaw, & neck surgery | 39.84
42120 |  | Remove plate/lesion | 11.62
42842 |  | Extensive surgery of throat | 11.94
42844 |  | Extensive surgery of throat | 17.49
42845 |  | Extensive surgery of throat | 32.27
42890 |  | Partial removal of pharynx | 18.84
42892 |  | Revision of pharyngeal walls | 25.67
42894 |  | Revision of pharyngeal walls | 33.49
43108 |  | Removal of esophagus | 63.23
43113 |  | Removal of esophagus | 46.95
43116 |  | Partial removal of esophagus | 71.39
43118 |  | Partial removal of esophagus | 52.07
43121 |  | Partial removal of esophagus | 46.35
43123 |  | Partial removal of esophagus | 63.83
43124 |  | Removal of esophagus | 64.63
43135 |  | Removal of esophagus pouch | 22.37
43235 |  | Uppr gi endoscopy, diagnosis | 2.39
43246 |  | Place gastrostomy tube | 4.32
43620 |  | Removal of stomach | 33.85
43621 |  | Removal of stomach | 39.34
43622 |  | Removal of stomach | 39.84
43632 |  | Removal of stomach, partial | 34.95
43633 |  | Removal of stomach, partial | 32.95
43634 |  | Removal of stomach, partial | 36.45
43750 |  | Place gastrostomy tube | 4.60
43820 |  | Fusion of stomach and bowel | 22.34
43840 |  | Repair of stomach lesion | 22.64
44120 |  | Removal of small intenstive | 20.70
44130 |  | Bowel to bowel fusion | 21.92
44140 |  | Partial removal of colon | 22.40
44141 |  | Partial removal of colon | 29.69
44143 |  | Partial removal of colon | 29.69
44144 |  | Partial removal of colon | 27.57
44145 |  | Partial removal of colon | 28.39
44146 |  | Partial removal of colon | 35.08
44147 |  | Partial removal of colon | 33.50
44150 |  | Removal of colon | 29.91
44151 |  | Removal of colon/leostomy | 34.65
44155 |  | Removal of colon/leostomy | 34.15
44156 |  | Removal of colon/leostomy | 37.15
44602 |  | Suture, small intestine | 24.60
44603 |  | Suture, small intestine | 27.97
45020 |  | Drainage of rectal abscess | 8.37
45300 |  | Proctosigmoidoscopy w/bx | 0.38
45303 |  | Proctosigmoidoscoy dilate | 0.44
45305 |  | Procosigmoidoscopy w/bx | 1.01
45307 |  | Proctosigmoidoscopy fb | 0.94
45308 |  | Proctosigmoidoscopy removal | 0.83
45309 |  | Proctosigmoidoscopy removal | 2.01
45315 |  | Proctosigmoidoscopy removal | 1.40
45317 |  | Proctosigmoidoscopy bleed | 1.50
45320 |  | Proctosigmoidoscopy ablate | 1.58
45321 |  | Proctosigmoidoscopy volvul | 1.17
45327 |  | Proctosigmoidoscopy w/slent | 1.65
45330 |  | Diagnostic sigmoidoscopy | 0.96
45378 |  | Diagnostic colonoscopy | 3.69
46040 |  | Incision of rectal abscess | 5.20
46045 |  | Incision of rectal abscess | 5.75
46060 |  | Incision of rectal abscess | 6.18
46270 |  | Removal of anal fistula | 4.75
46275 |  | Removal of anal fistula | 5.25
46280 |  | Removal of anal fistula | 6.22
46285 |  | Removal of anal fistula | 5.25
46600 |  | Diagnostic anoscopy | 0.50
46604 |  | Anoscopy and dilation | 1.31
46606 |  | Anoscopy and biopsy | 0.81
46608 |  | Anoscopy, remove for body | 1.51
46610 |  | Anoscopy, remove lesion | 1.32
46611 |  | Anoscopy | 1.81
46612 |  | Anoscopy, remove lesions | 2.34
46614 |  | Anoscopy, control bleeding | 2.01
46615 |  | Anoscopy | 2.68
47562 |  | Laparoscopic cholecystectomy | 11.57
47600 |  | Removal of gallbladder | 15.44
47760 |  | Fuse bile ducts and bowel | 38.08
47765 |  | Fuse liver ducts and bowel | 51.95
47780 |  | Fuse bile ducts and bowel | 42.08
47785 |  | Fuse bile ducts and bowel | 55.95
49002 |  | Reopening of abdomen | 17.51
49010 |  | Exploration behind abdomen | 15.94
49505 |  | Prp i/hern init reduc >5 yr | 7.84
50590 |  | Fragmenting of kidney stone | 9.58
51720 |  | Treatment of bladder lesion | 1.50
51798 |  | Us urine capacity measure | 0.00
52000 |  | Cystoscopy | 2.23
52204 |  | Cystoscopy | 2.59
52601 |  | Prostatectomy (TURP) | 15.07
55700 |  | Biopsy of prostate | 2.58
57160 |  | Insert pessary/other device | 0.89
57240 |  | Repair bladder & vagina | 11.38
57250 |  | Repair rectum & vagina | 11.38
57260 |  | Repair vagina | 14.32
57265 |  | Extensive repair of vagina | 15.82
57288 |  | Repair bladder defect | 13.95
57500 |  | Biopsy of cervix | 1.20
58120 |  | Dilation and curettage | 3.52
58150 |  | Total hysterectomy | 17.17
58720 |  | Removal of ovary/tube(s) | 12.04
60600 |  | Remove carotid body lesion | 24.95
60605 |  | Remove carotid body lesion | 31.82
61154 |  | Pierce skull & remove clot | 16.86
61312 |  | Open skull for drainage | 30.03
61537 |  | Removal of brain tissue | 36.31
61538 |  | Removal of brain tissue | 39.31
61697 |  | Brain aneurysm repr, complx | 63.16
61698 |  | Brain aneurysm repr, complx | 69.39
61700 |  | Brain aneurysm repr, simple | 50.44
61702 |  | Inner skull vessel surgery | 59.80
62270 |  | Spinal fluid tap, diagnostic | 1.37
63047 |  | Removal of spinal lamina | 15.16
63048 |  | Remove spinal lamina add-on | 3.26
63075 |  | Neck spine disk surgery | 19.41
64702 |  | Revise finger/toe nerve | 6.02
64721 |  | Carpal tunnel surgery | 4.78
65426 |  | Removal of eye lesion | 5.85
65850 |  | Incision of eye | 11.14
66761 |  | Revision of iris | 4.81
66821 |  | After cataract laser surgery | 3.28
66984 |  | Cataract surg w/iol, 1 stage | 10.28
67221 |  | Ocular photodynamic ther | 3.45
67414 |  | Explr/decompress eye socket | 17.72
67445 |  | Explr/decompress eye socket | 18.90
67500 |  | Inject/treat eye socket | 1.44
67505 |  | Inject/treat eye socket | 1.27
67515 |  | Inject/treat eye socket | 1.40
67820 |  | Revise eyelashes | 0.71
67840 |  | Remove eyelid lesion | 2.04
67904 |  | Repair eyelid defect | 7.75
67911 |  | Revise eyelid defect | 7.30
67966 |  | Revision of eyelid | 8.75
68840 |  | Explore/irrigate tear ducts | 1.25
69210 |  | Remove impacted ear wax | 0.61
70355 |  | Panoramic x-ray of jaws | 0.20
71010 |  | Chest x-ray | 0.18
71020 |  | Chest x-ray | 0.22
71260 |  | Ct thorax w/dye | 1.24
72192 |  | Ct pelvis w/o dye | 1.09
72193 |  | Ct pelvis w/dye | 1.16
73100 |  | X-ray exam of wrist | 0.16
73110 |  | X-ray exam of wrist | 0.17
73120 |  | X-ray exam of hand | 0.16
73130 |  | X-ray exam of hand | 0.17
73140 |  | X-ray exam of finger(s) | 0.13
74000 |  | X-ray exam of abdomen | 0.18
74020 |  | X-ray exam of abdomen | 0.27
74022 |  | X-ray exam series, abdomen | 0.32
74150 |  | Ct abdomen w/o dye | 1.19
74160 |  | Ct abdomen w/dye | 1.27
76075 |  | Dxa bone density, axial | 0.20
76519 |  | Echo exam of eye | 0.54
76700 |  | Us exam, abdom, complete | 0.81
76830 |  | Transvaginal us, non-ob | 0.69
77263 |  | Radiation therapy planning | 3.14
77280 |  | Set radiation therapy field | 0.70
77290 |  | Set radiation therapy field | 1.56
77300 |  | Radiation therapy dose plan | 0.62
77315 |  | Teletx isodose plan complex | 1.56
77331 |  | Special radiation dosimetry | 0.87
77334 |  | Radiation treatment aid(s) | 1.24
77470 |  | Special radiation treatment | 2.09
78306 |  | Bone imaging, whole body | 0.86
78315 |  | Bone imaging, 3 phase | 1.02
78465 |  | Heart image (3d), multiple | 1.46
78478 |  | Heart wall motion add-on | 0.50
78480 |  | Heart function add-on | 0.30
88309 |  | Tissue exam by pathologist | 2.80
88321 |  | Microslide consultation | 1.63
88323 |  | Microslide consultation | 1.83
88325 |  | Comprehensive review of data | 2.50
92083 |  | Visual field examination(s) | 0.50
92226 |  | Special eye exam, subsequent | 0.33
92235 |  | Eye exam with photos | 0.81
92250 |  | Eye exam with photos | 0.44
93010 |  | Electrocardiogram report | 0.17
93015 |  | Cardiovascular stress test | 0.75
93018 |  | Cardiovascular stress test | 0.30
94010 |  | Breathing capacity test | 0.17
95144 |  | Antigen therapy services | 0.06
95165 |  | Antigen therapy services | 0.06
95816 |  | Eeg, awake and drowsy | 1.08
95819 |  | Eeg, awake and asleep | 1.08
95861 |  | Muscle test, 2 limbs | 1.54
95872 |  | Muscle test, one fiber | 2.00
95900 |  | Motor nerve conduction test | 0.42
95904 |  | Sense nerve conduction test | 0.34
95925 |  | Somatosensory testing | 0.54
95926 |  | Somatosensory testing | 0.54
95927 |  | Somatosensory testing | 0.54
95953 |  | EEG monitoring/computer | 3.30
99201 |  | Office/outpatient visit, new | 0.45
99202 |  | Office/outpatient visit, new | 0.88
99203 |  | Office/outpatient visit, new | 1.34
99204 |  | Office/outpatient visit, new | 2.30
99205 |  | Office/outpatient visit, new | 3.00
99211 |  | Office/outpatient visit, est | 0.17
99212 |  | Office/outpatient visit, est | 0.45
99213 |  | Office/outpatient visit, est | 0.92
99214 |  | Office/outpatient visit, est | 1.42
99215 |  | Office/outpatient visit, est | 2.00
99221 |  | Initial hospital care | 1.88
99222 |  | Initial hospital care | 2.56
99223 |  | Initial hospital care | 3.78
99231 |  | Subsequent hospital care | 0.76
99232 |  | Subsequent hospital care | 1.39
99233 |  | Subsequent hospital care | 2.00
99238 |  | Hospital discharge day | 1.28
99239 |  | Hospital discharge day | 1.90
99241 |  | Office consultation | 0.64
99242 |  | Office consultation | 1.34
99243 |  | Office consultation | 1.88
99244 |  | Office consultation | 3.02
99245 |  | Office consultation | 3.77
99251 |  | Initial inpatient consult | 1.00
99252 |  | Initial inpatient consult | 1.50
99253 |  | Initial inpatient consult | 2.27
99254 |  | Initial inpatient consult | 3.29
99255 |  | Initial inpatient consult | 4.00
99281 |  | Emergency dept visit | 0.45
99282 |  | Emergency dept visit | 0.88
99283 |  | Emergency dept visit | 1.34
99284 |  | Emergency dept visit | 2.56
99285 |  | Emergency dept visit | 3.80
99291 |  | Critical care, first hour | 4.50
99292 |  | Critical care, addl 30 min | 2.25
¹ CPT codes and descriptions only are copyright 2005 American Medical Association. All rights reserved. Applicable FARS/DFARS Apply.
Note: The proposed work RVUs for 10- and 90-day global period codes include the application of the RUC- recommended values for the E/M services that are included as part of the global period for the service.

[FR Doc. 06-5665 Filed 6-21-06; 8:45 am]

BILLING CODE 4120-01-P